DEPARTMENT OF ENERGY

Federal Energy Regulatory Commission

18 CFR Part 35

[Docket No. RM21-17-000; Order No. 1920]

Building for the Future Through Electric Regional Transmission Planning and Cost Allocation

AGENCY: Federal Energy Regulatory Commission, Department of Energy.

ACTION: Final order.

SUMMARY: The Federal Energy Regulatory Commission (Commission) revises the pro forma Open Access Transmission Tariff (OATT) to remedy deficiencies in the Commission's existing regional and local transmission planning and cost allocation requirements. In this final order, the Commission requires transmission providers to conduct Long-Term Regional Transmission Planning that will ensure the identification, evaluation, and selection, as well as the allocation of the costs, of more efficient or cost-effective regional transmission solutions to address Long-Term Transmission Needs. The Commission also directs other reforms to improve coordination of regional transmission planning and generator interconnection processes, require consideration of certain alternative transmission technologies in regional transmission planning processes, and improve transparency of local transmission planning processes and coordination between regional and local transmission planning processes. These reforms are intended to ensure that existing regional and local transmission planning and cost allocation requirements are just, reasonable, and not unduly discriminatory or preferential.

DATES: This final order is effective August 12, 2024.

FOR FURTHER INFORMATION CONTACT:

David Borden (Technical Information), Office of Energy Policy and Innovation, 888 First Street NE, Washington, DC 20426, (202) 502-8734, david.borden@ferc.gov.

Noah Lichtenstein (Technical Information), Office of Energy Market Regulation, 888 First Street NE, Washington, DC 20426, (202) 502-8696, noah.lichtenstein@ferc.gov.

Michael Kellermann (Legal Information), Office of the General Counsel, 888 First Street NE, Washington, DC 20426, (202) 502-8491, michael.kellermann@ferc.gov.

SUPPLEMENTARY INFORMATION:

Table of Contents

| Paragraph Nos.
I. Introduction and Background | 1
A. Historical Framework: Order Nos. 888, 890, and 1000 | 14
B. ANOPR and Technical Conference | 20
C. Joint Federal-State Task Force on Electric Transmission | 22
D. Notice of Proposed Rulemaking | 26
E. High-Level Overview of NOPR Comments | 36
F. Use of Terms | 37
II. The Overall Need for Reform | 47
A. NOPR Proposal | 47
B. Comments | 49
C. Commission Determination | 85
1. The Transmission Investment Landscape Today | 90
2. Unjust, Unreasonable, and Unduly Discriminatory or Preferential Commission-Jurisdictional Transmission Planning and Cost Allocation Processes | 112
3. Benefits of Long-Term Regional Transmission Planning and Cost Allocation To Identify and Plan for Long-Term Transmission Needs | 134
4. Conclusion | 139
III. Long-Term Regional Transmission Planning | 140
A. Requirement To Participate in Long-Term Regional Transmission Planning | 140
1. NOPR Proposal | 140
2. Comments | 145
a. General Comments | 145
b. Requests for Flexibility in Transmission Planning | 151
c. Comments Regarding More Comprehensive Transmission Planning | 163
d. Concerns Regarding Favoring Renewable Resources | 172
e. Concerns Regarding Uncertainty, Over-Building, and Costs | 176
f. Concerns Regarding Incentives for Resource Development | 187
g. Comments Regarding Definition of Long-Term Regional Transmission Facility | 189
h. Challenges to Commission Jurisdiction or Authority | 190
i. Other Issues | 215
j. Miscellaneous Concerns | 217
3. Commission Determination | 224
a. Participation in Long-Term Regional Transmission Planning | 224
b. Definition of Long-Term Regional Transmission Facility | 250
c. Legal Authority To Adopt Reforms for Long-Term Regional Transmission Planning | 253
B. Development of Long-Term Scenarios | 284
1. NOPR Proposal | 284
2. Comments | 286
a. General Comments | 286
b. Applying Scenario Planning to Reliability and Economic Planning | 296
3. Commission Determination | 298
C. Long-Term Scenarios Requirements | 307
1. Transmission Planning Horizon | 307
a. NOPR Proposal | 307
b. Comments | 309
c. Commission Determination | 344
2. Frequency of Long-Term Scenario Revisions | 352
a. NOPR Proposal | 352
b. Comments | 354
c. Commission Determination | 377
3. Categories of Factors | 387
a. Requirement To Incorporate Categories of Factors | 387
b. Specific Categories of Factors | 422
c. Treatment of Specific Categories of Factors | 495
d. Stakeholder Process and Transparency | 519
4. Number and Development of Long-Term Scenarios | 538
a. NOPR Proposal | 538
b. Comments | 541
c. Commission Determination | 559
5. Types of Long-Term Scenarios | 564
a. NOPR Proposal | 564
b. Comments | 566
c. Commission Determination | 575
6. Sensitivities for High-Impact, Low-Frequency Events | 578
a. NOPR Proposal | 578
b. Comments | 580
c. Commission Determination | 593
7. Specificity of Data Inputs | 602
a. NOPR Proposal | 602
b. Comments | 606
c. Commission Determination | 633
8. Identification of Geographic Zones | 645
a. NOPR Proposal | 645
b. Comments | 650
c. Commission Determination | 665
D. Evaluation of the Benefits of Regional Transmission Facilities | 667
1. Requirement for Transmission Providers To Use a Set of Seven Required Benefits | 669
a. NOPR Proposal | 669
b. Comments | 673
c. Commission Determination | 719
2. Required Benefits | 740
a. The Seven Required Benefits | 740
3. Identification, Measurement, and Evaluation of the Benefits of Long-Term Regional Transmission Facilities | 823
a. NOPR Proposal | 823
b. Comments | 824
c. Commission Determination | 837
4. Evaluation of Transmission Benefits Over a Longer Time Horizon | 843
a. NOPR Proposal | 843
b. Comments | 845
c. Commission Determination | 859
5. Evaluation of the Benefits of Portfolios of Transmission Facilities | 871
a. NOPR Proposal | 871
b. Comments | 872
c. Commission Determination | 889
6. Issues Related to Use of Benefits | 891
a. NOPR Proposal | 891
b. Comments | 892
c. Commission Determination | 902
E. Evaluation and Selection of Long-Term Regional Transmission Facilities | 904
1. Requirement To Adopt an Evaluation Process and Selection Criteria | 904
a. NOPR Proposal | 904
b. Comments | 906
c. Commission Determination | 911
2. Flexibility | 919
a. NOPR Proposal | 919
b. Comments | 920
c. Commission Determination | 924
3. Minimum Requirements | 927
a. NOPR Proposal | 927
b. Comments | 930
c. Commission Determination | 954
4. Role of Relevant State Entities | 972
a. NOPR Proposal | 972
b. Comments | 973
c. Commission Determination | 994
5. Voluntary Funding Opportunities | 1003
a. NOPR Proposal | 1003
b. Comments | 1004
c. Commission Determination | 1012
6. No Selection Requirement | 1019
a. NOPR Proposal | 1019
b. Comments | 1020
c. Commission Determination | 1026
7. Other Issues | 1029
a. Comments | 1029
b. Commission Determination | 1031
8. Reevaluation | 1033
a. NOPR Proposal | 1033
b. Comments | 1035
c. Commission Determination | 1048
F. Implementation of Long-Term Regional Transmission Planning | 1062
1. NOPR Proposal | 1062
2. Comments | 1064
a. Comments on the Initial Timing Sequence | 1064
b. Comments on Periodic Forums | 1067
3. Commission Determination | 1071
a. Initial Timing Sequence Implementation | 1071
b. Periodic Forums | 1075
IV. Coordination of Regional Transmission Planning and Generator Interconnection Processes | 1076
A. Need for Reform and Overall Reform | 1076
1. NOPR Proposal | 1076
2. Comments | 1079
a. On the Overall Reform | 1079
b. Requesting Additional Reform | 1081
c. Concerns With the Overall Reform | 1085
d. Cost Allocation | 1093
e. Interconnection Queue Gaming Considerations | 1095
f. Miscellaneous | 1098
3. Need for Reform | 1100
4. Commission Determination | 1106
B. Transmission Planning Process Evaluation | 1122
1. NOPR Proposal | 1122
2. Comments | 1123
3. Commission Determination | 1126
C. Qualifying Criteria | 1130
1. NOPR Proposal | 1130
2. Comments | 1134
3. Commission Determination | 1145
V. Consideration of Dynamic Line Ratings and Advanced Power Flow Control Devices | 1163
A. General Proposal | 1163
1. NOPR Proposal | 1163
2. Comments on General Proposal | 1167
3. Need for Reform | 1194
4. Commission Determination | 1198
B. Specific Alternative Transmission Technologies | 1217
1. NOPR Proposal | 1217
2. Comments on Specific Technologies | 1218
3. Commission Determination | 1239
VI. Regional Transmission Cost Allocation | 1248
A. Cost Allocation for Long-Term Regional Transmission Facilities | 1248
1. Cost Allocation Methods for Long-Term Regional Transmission Facilities | 1248
a. NOPR Proposal | 1248
b. Comments | 1252
c. Commission Determination | 1291
2. Requirement that Transmission Providers Seek the Agreement of Relevant State Entities Regarding the Cost Allocation Method or Methods for Long-Term Regional Transmission Facilities | 1308
a. NOPR Proposal | 1308
b. Comments | 1313
c. Commission Determination | 1354
3. Proposals Relating to the Design and Operation of State Agreement Processes | 1369
a. NOPR Proposal | 1369
b. Comments | 1371
c. Commission Determination | 1402
4. Filing Rights Under the FPA | 1422
a. Comments | 1422
b. Commission Determination | 1428
5. Time Period and Related Issues in the Long-Term Regional Transmission Planning Cost Allocation Processes for State-Negotiated Alternate Cost Allocation Method | 1432
a. NOPR Proposal | 1432
b. Comments | 1436
c. Commission Determination | 1456
B. Long-Term Regional Transmission Facility Cost Allocation Compliance With the Existing Six Order No. 1000 Regional Cost Allocation Principles | 1458
1. NOPR Proposal | 1458
2. Comments | 1459
a. General Proposal | 1459
b. Comments Specific to a State Agreement Process | 1467
3. Commission Determination | 1469
C. Identification of Benefits Considered in Cost Allocation for Long-Term Regional Transmission Facilities | 1480
1. NOPR Proposal | 1480
2. Comments | 1482
a. Agree With Proposal | 1482
b. Requests To Reflect the Full Breadth of Benefits in Cost Allocation Methods While Maintaining Flexibility | 1491
c. Disagree With Proposal, Mostly Require Benefits | 1492
d. Alignment of Benefits Between Transmission Planning and Cost Allocation | 1497
e. Additional Benefits or Suggestions for Refinement | 1502
3. Commission Determination | 1505
D. Miscellaneous Cost Allocation Comments and Proposals | 1516
1. Comments | 1516
2. Commission Determination | 1521
VII. Construction Work in Progress Incentive | 1524
A. NOPR Proposal | 1524
B. Comments | 1525
1. Interest in the NOPR Proposal | 1525
2. Concerns With the NOPR Proposal | 1532
3. Interaction of the CWIP Incentive With the Abandoned Plant Incentive | 1545
C. Commission Determination | 1547
VIII. Exercise of a Federal Right of First Refusal in Commission-Jurisdictional Tariffs and Agreements | 1548
A. NOPR Proposal | 1548
B. Comments | 1553
1. General Perspectives and Approach to Reform | 1553
2. Comments on the NOPR's Joint Ownership Proposal | 1560
C. Commission Determination | 1563
IX. Local Transmission Planning Inputs in the Regional Transmission Planning Process | 1565
A. Need for Reform | 1565
1. NOPR | 1565
2. Comments | 1567
3. Commission Determination | 1569
B. Enhanced Transparency of Local Transmission Planning Inputs in the Regional Transmission Planning Process | 1578
1. NOPR Proposal | 1578
2. Comments | 1581
a. Interest in Enhanced Transparency of Local Transmission Planning Inputs | 1581
b. Suggested Modifications to the NOPR Proposal | 1586
c. Concern With the NOPR Proposal | 1591
d. Specific Stakeholder Meeting Requirements | 1601
e. Additional Issues | 1613
3. Commission Determination | 1625
a. Specific Stakeholder Meeting Requirements | 1638
b. Additional Issues | 1647
C. Identifying Potential Opportunities to Right-Size Replacement Transmission Facilities | 1649
1. Eligibility | 1649
a. NOPR Proposal | 1649
b. Comments | 1652
c. Commission Determination | 1677
2. Right of First Refusal | 1693
a. NOPR Proposal | 1693
b. Comments | 1694
c. Commission Determination | 1702
3. Cost Allocation | 1710
a. NOPR Proposal | 1710
b. Comments | 1712
c. Commission Determination | 1716
4. Miscellaneous | 1723
a. Comments | 1723
b. Commission Determination | 1735
X. Interregional Transmission Coordination | 1740
A. NOPR Proposal | 1740
B. Comments | 1744
C. Commission Determination | 1751
XI. Compliance Procedures | 1759
A. NOPR Proposal | 1759
B. Comments | 1761
C. Commission Determination | 1768
XII. Information Collection Statement | 1775
XIII. Environmental Analysis | 1784
XIV. Regulatory Flexibility Act | 1785
XV. Document Availability | 1789
XVI. Effective Date and Congressional Notification | 1792

I. Introduction and Background

1. In this final order, the Commission acts under section 206 of the Federal Power Act (FPA) to adopt reforms to its electric transmission planning and cost allocation requirements.¹ The reforms herein will remedy deficiencies in the Commission's existing regional and local transmission planning and cost allocation requirements to ensure that the rates, terms, and conditions for transmission service provided by public utility transmission providers (transmission providers) ² remain just and reasonable and not unduly discriminatory or preferential. This final order builds upon Order No. 888, Order No. 890,³ and Order No. 1000,⁴ in which the Commission incrementally developed the requirements that govern regional transmission planning and cost allocation processes to ensure that Commission-jurisdictional rates remain just and reasonable and not unduly discriminatory or preferential. Specifically, in this final order, we find that there is substantial evidence to support the conclusion that the existing regional transmission planning and cost allocation processes are unjust, unreasonable, and unduly discriminatory or preferential because the Commission's existing transmission planning and cost allocation requirements do not require transmission providers to: (1) perform a sufficiently long-term assessment of transmission needs that identifies Long-Term Transmission Needs; ⁵ (2) adequately account on a forward-looking basis for known determinants of Long-Term Transmission Needs; and (3) consider the broader set of benefits of regional transmission facilities planned to meet those Long-Term Transmission Needs. Accordingly, we believe that it is necessary to revisit existing transmission planning and cost allocation requirements. We conclude that adopting the reforms of this final order, as previously contemplated in the notice of proposed rulemaking (NOPR),⁶ will remedy the identified deficiencies in existing regional and local transmission planning and cost allocation requirements, as discussed below, and will ensure the identification, evaluation, and selection, as well as the allocation of the costs, of more efficient or cost-effective regional transmission solutions to address Long-Term Transmission Needs.

¹ 16 U.S.C. 824e.

² Section 201(e) of the FPA, 16 U.S.C. 824(e), defines “public utility” to mean “any person who owns or operates facilities subject to the jurisdiction of the Commission under this subchapter.” As stated in the Order No. 888 pro forma Open Access Transmission Tariff (OATT), “transmission provider” is a “public utility (or its Designated Agent) that owns, controls, or operates facilities used for the transmission of electric energy in interstate commerce and provides transmission service under the Tariff.” Promoting Wholesale Competition Through Open Access Non-Discriminatory Transmission Servs. by Pub. Utils.; Recovery of Stranded Costs by Pub. Utils. & Transmitting Utils., Order No. 888, 61 FR 21540 (May 10, 1996), FERC Stats. & Regs. ¶ 31,036 (1996) (cross-referenced at 75 FERC ¶ 61,080), order on reh'g, Order No. 888-A, 62 FR 12274 (Mar. 14, 1997), FERC Stats. & Regs. ¶ 31,048 (cross-referenced at 78 FERC ¶ 61,220), order on reh'g, Order No. 888-B, 81 FERC ¶ 61,248 (1997), order on reh'g, Order No. 888-C, 82 FERC ¶ 61,046 (1998), aff'd in relevant part sub nom. Transmission Access Pol'y Study Grp. v. FERC, 225 F.3d 667 (D.C. Cir. 2000), aff'd sub nom. N.Y. v. FERC, 535 U.S. 1 (2002); Pro forma OATT section I.1 (Definitions). The term “transmission provider” includes a public utility transmission owner when the transmission owner is separate from the transmission provider, as is the case in regional transmission organizations (RTO) and independent system operators (ISO).

³ Preventing Undue Discrimination & Preference in Transmission Serv., Order No. 890, 72 FR 12266 (Mar. 15, 2007), FERC Stats. & Regs. ¶ 31,241, 118 FERC ¶ 61,119 (2007), order on reh'g, Order No. 890-A, 73 FR 2984 (Jan. 16, 2008), FERC Stats. & Regs. ¶ 31,261 (2007) (cross-referenced at 118 FERC ¶ 61,119), order on reh'g and clarification, Order No. 890-B, 73 FR 39092 (July 8, 2008), 123 FERC ¶ 61,299 (2008), order on reh'g, Order No. 890-C, 74 FR 12540 (Mar. 25, 2009), 126 FERC ¶ 61,228 (2009), order on clarification, Order No. 890-D, 74 FR 61511 (Nov. 25, 2009), 129 FERC ¶ 61,126 (2009).

⁴ Transmission Plan. & Cost Allocation by Transmission Owning & Operating Pub. Utils., Order No. 1000, 76 FR 49842 (Aug. 11, 2011), 136 FERC ¶ 61,051 (2011), Order No. 1000-A, 77 FR 32184 (May 31, 2012), 139 FERC ¶ 61,132 (2012), order on reh'g & clarification, Order No. 1000-B, 141 FERC ¶ 61,044 (2012), aff'd sub nom. S.C. Pub. Serv. Auth. v. FERC, 762 F.3d 41 (D.C. Cir. 2014).

⁵ All capitalized terms are defined below. Infra Use of Terms section.

⁶ Bldg. for the Future Through Elec. Reg'l Transmission Planning & Cost Allocation & Generator Interconnection, 87 FR 26504 (May 4, 2022), 179 FERC ¶ 61,028 (2022) (NOPR); see also Bldg. for the Future Through Elec. Reg'l Transmission Planning & Cost Allocation & Generator Interconnection, 86 FR 40266 (July 27, 2021), 176 FERC ¶ 61,024 (2021) (advanced notice of proposed rulemaking (ANOPR)).

2. Specifically, the reforms adopted in this final order require transmission providers in each transmission planning region to participate in a regional transmission planning process that includes Long-Term Regional Transmission Planning.⁷ This final order adopts specific requirements regarding how transmission providers must conduct Long-Term Regional Transmission Planning, including, among other things, the use of scenarios to identify Long-Term Transmission Needs and Long-Term Regional Transmission Facilities to meet those needs.

⁷ For purposes of this final order, and consistent with Order No. 1000, a transmission planning region is one in which transmission providers, in consultation with stakeholders and affected states, have agreed to participate for purposes of regional transmission planning and development of a single regional transmission plan. See Order No. 1000, 136 FERC ¶ 61,051 at P 160.

3. This final order also requires transmission providers to measure and use at least the seven specified benefits to evaluate Long-Term Regional Transmission Facilities as part of Long-Term Regional Transmission Planning. In addition, this final order requires transmission providers to calculate the benefits of Long-Term Regional Transmission Facilities over a time horizon that covers, at a minimum, 20 years starting from the estimated in-service date of the transmission facilities and requires that this minimum 20-year benefit horizon be used both for the evaluation and selection of Long-Term Regional Transmission Facilities in the regional transmission plan for purposes of cost allocation.⁸

⁸ We recognize that some transmission planning regions may include Long-Term Regional Transmission Facilities, or a portfolio of such Facilities, in a regional transmission plan, but may not necessarily include these Facilities for purposes of cost allocation. See Order No. 1000, 136 FERC ¶ 61,051 at P 63. For purposes of this final order, unless otherwise noted, when referencing Long-Term Regional Transmission Facilities (or a portfolio of such Facilities) that are selected, we intend “selected” to mean that those Facilities are selected in the regional transmission plan for purposes of cost allocation.

4. This final order requires transmission providers to include in their OATTs an evaluation process, including selection criteria, that they will use to identify and evaluate Long-Term Regional Transmission Facilities for potential selection to address Long-Term Transmission Needs.

5. Further, this final order requires transmission providers to file one or more ex ante Long-Term Regional Transmission Cost Allocation Methods to allocate the costs of Long-Term Regional Transmission Facilities (or a portfolio of such Facilities) that are selected. This final order further permits, but does not require, transmission providers to adopt a State Agreement Process, wherein Relevant State Entities agree to such a State Agreement Process that would provide up to six months after selection for its participants to determine, and transmission providers to file, a cost allocation method for specific Long-Term Regional Transmission Facilities. This final order establishes a six-month time period (Engagement Period), during which transmission providers must: (1) provide notice of the starting and end dates for the six-month time period; (2) post contact information that Relevant State Entities may use to communicate with transmission providers about any agreement among Relevant State Entities on a Long-Term Regional Transmission Cost Allocation Method(s) and/or a State Agreement Process, as well as a deadline for communicating such agreement; and (3) provide a forum for negotiation of a Long-Term Regional Transmission Cost Allocation Method(s) and/or a State Agreement Process that enables robust participation by Relevant State Entities.

6. This final order also requires transmission providers to include in their OATTs a process to provide Relevant State Entities and interconnection customers the opportunity to voluntarily fund the cost of, or a portion of the cost of, a Long-Term Regional Transmission Facility that otherwise would not meet the transmission providers' selection criteria. This final order requires transmission providers to include in their OATTs provisions that require transmission providers—in certain circumstances—to reevaluate Long-Term Regional Transmission Facilities that previously were selected.

7. In addition, this final order requires that transmission providers evaluate for potential selection in their existing Order No. 1000 regional transmission planning processes regional transmission facilities that will address certain identified interconnection-related transmission needs associated with certain interconnection-related network upgrades ⁹ originally identified through the generator interconnection process.

⁹ The Commission's pro forma Large Generator Interconnection Procedures (LGIP) and pro forma Large Generator Interconnection Agreement (LGIA) provide that, “Network Upgrades shall mean the additions, modifications, and upgrades to the Transmission Provider's Transmission System required at or beyond the point at which the Interconnection Facilities connect to the Transmission Provider's Transmission System to accommodate the interconnection of the Large Generating Facility to the Transmission Provider's Transmission System.” See Improvements to Generator Interconnection Procedures & Agreements, Order No. 2023, 88 FR 61014 (Sept. 6, 2023), 184 FERC ¶ 61,054, at P 13 n.23, order on reh'g, 185 FERC ¶ 61,063 (2023), order on reh'g, Order No. 2023-A, 89 FR 27006 (Apr. 16, 2024), 186 FERC ¶ 61,199 (2024). In this final order, we refer to network upgrades developed through the generator interconnection process as interconnection-related network upgrades.

8. This final order requires transmission providers in each transmission planning region to consider more fully the alternative transmission technologies of dynamic line ratings, advanced power flow control devices, advanced conductors, and transmission switching in Long-Term Regional Transmission Planning and existing Order No. 1000 regional transmission planning and cost allocation processes.

9. This final order does not finalize the NOPR proposal to not permit transmission providers to take advantage of the recovery of 100% of construction work in progress for Long-Term Regional Transmission Facilities, and the Commission will instead continue to consider transmission incentives issues in other proceedings. This final order similarly does not finalize the NOPR proposal with respect to permitting the exercise of Federal rights of first refusal for selected transmission facilities, conditioned on the incumbent transmission provider with the Federal right of first refusal establishing joint ownership of the transmission facilities, and the Commission will instead continue considering the NOPR proposal and potential Federal right of first refusal issues in other proceedings.

10. This final order adopts the NOPR proposal to require transmission providers to adopt enhanced transparency requirements for local transmission planning processes and improve coordination between regional and local transmission planning with the aim of identifying potential opportunities to “right-size” replacement transmission facilities.

11. This final order requires transmission providers to revise their interregional transmission coordination processes to reflect the Long-Term Regional Transmission Planning reforms adopted in this final order. This final order also requires that transmission providers meet additional information sharing and transparency requirements with respect to their interregional transmission coordination processes.

12. This final order requires that each transmission provider submit a compliance filing within ten months of the effective date of this final order revising its OATT and other document(s) subject to the Commission's jurisdiction to demonstrate that it meets the requirements of this final order, with the exception of those requirements adopted in the Interregional Transmission Coordination section in this final order. This final order requires that each transmission provider submit a compliance filing within 12 months of the effective date of this final order revising its OATT and other document(s) subject to the Commission's jurisdiction as necessary to demonstrate that it meets the interregional transmission coordination requirements adopted in this final order.

13. We recognize that transmission providers have ongoing efforts to address transmission planning and cost allocation. This final order is not intended to interfere with the potential progress represented by those efforts, and we encourage transmission providers to continue to innovate to improve their transmission planning and cost allocation processes.

A. Historical Framework: Order Nos. 888, 890, and 1000

14. Over the last several decades, the Commission has taken multiple significant actions on transmission planning and cost allocation, including issuing Order Nos. 888, 890, and 1000. In 1996, the Commission issued Order No. 888, which implemented open access to transmission facilities owned, operated, or controlled by a public utility and included certain minimum requirements for transmission planning. In 2007, the Commission issued Order No. 890 to address identified deficiencies in the pro forma OATT after more than 10 years of experience since Order No. 888. Among other OATT reforms, the Commission required all public utility transmission providers' local transmission planning processes to satisfy nine transmission planning principles: (1) coordination; (2) openness; (3) transparency; (4) information exchange; (5) comparability; (6) dispute resolution; (7) regional participation; (8) economic planning studies; and (9) cost allocation for new projects.¹⁰

¹⁰ Order No. 890, 118 FERC ¶ 61,119 at PP 418-601.

15. In 2011, the Commission recognized the need for further transmission planning reforms with its issuance of Order No. 1000. The Commission based the reforms it adopted in Order No. 1000 on changes in the energy industry, its experience implementing Order No. 890, and a robust record developed through technical conferences and comments from a diverse range of stakeholders.¹¹ The Commission stated in Order No. 1000 that “the electric industry is currently facing the possibility of substantial investment in future transmission facilities to meet the challenge of maintaining reliable service at a reasonable cost.” ¹² In establishing the requirements of Order No. 1000, the Commission found that the existing requirements of Order No. 890 were not adequate, noting that Order No. 1000 “expands upon the reforms begun in Order No. 890 by addressing new concerns that have become apparent in the Commission's ongoing monitoring of these matters.” ¹³ The Commission then enumerated multiple concerns that it had regarding existing transmission planning practices, including concerns about: (1) the lack of an affirmative obligation to develop a transmission plan evaluating if a regional transmission facility “may be more efficient or cost-effective than solutions identified in local transmission planning processes”; (2) the lack of a requirement to address Public Policy Requirements; ¹⁴ (3) the Federal right of first refusal for incumbent transmission developers to build upgrades to their existing transmission facilities; (4) the lack of procedures to identify and evaluate the benefits of interregional transmission facilities; and (5) cost allocation for regional and interregional transmission facilities.¹⁵

¹¹ For purposes of this final order, and consistent with Order No. 1000, a stakeholder includes any party interested in the transmission planning processes. See Order No. 1000, 136 FERC ¶ 61,051 at P 151 n.143.

¹² Id. P 2.

¹³ Id. P 21.

¹⁴ Public Policy Requirements are requirements established by local, state, or Federal laws or regulations (i.e., enacted statutes passed by the legislature and signed by the executive and regulations promulgated by a relevant jurisdiction, whether within a state or at the Federal level). Id. P 2. Order No. 1000-A clarified that Public Policy Requirements include local laws or regulations passed by a local governmental entity, such as a municipal or county government. Order No. 1000-A, 139 FERC ¶ 61,132 at P 319.

¹⁵ Order No. 1000, 136 FERC ¶ 61,051 at P 3.

16. Order No. 1000 included reforms intended to ensure that the transmission planning and cost allocation requirements embodied in the pro forma OATT could support the development of more efficient or cost-effective transmission facilities.¹⁶ The reforms in Order No. 1000 included: (1) regional transmission planning; (2) transmission needs driven by Public Policy Requirements; (3) nonincumbent transmission developer reforms; (4) regional and interregional cost allocation, including a set of principles for each category of cost allocation; and (5) interregional transmission coordination. The reforms focused on the process by which transmission providers engage in regional transmission planning and the associated cost allocation rather than on the outcomes of the process.¹⁷

¹⁶ Id. PP 11-12, 42-44; Order No. 1000-A, 139 FERC ¶ 61,132 at PP 3, 4-6.

¹⁷ Order No. 1000, 136 FERC ¶ 61,051 at P 12.

17. Among other regional transmission planning reforms in Order No. 1000, the Commission required that the following Order No. 890 transmission planning principles apply to regional transmission planning processes: (1) coordination; (2) openness; (3) transparency; (4) information exchange; (5) comparability; (6) dispute resolution; and (7) economic planning studies.¹⁸

¹⁸ The Commission did not include the regional participation or cost allocation transmission planning principles with respect to regional transmission planning processes because those issues were addressed by other reforms in Order No. 1000. Id. P 151.

18. In addition, with respect to the Order No. 1000 reforms, the Commission made a distinction between a transmission facility “included” in a regional transmission plan and a transmission facility “selected.” A transmission facility selected in a regional transmission plan for purposes of cost allocation is a transmission facility that has been selected pursuant to a transmission planning region's Commission-approved regional transmission planning process for inclusion in a regional transmission plan for purposes of cost allocation because it is a more efficient or cost-effective transmission facility needed to meet regional transmission needs. Both regional transmission facilities and interregional transmission facilities are eligible for potential “selection” in a regional transmission plan for purposes of cost allocation.¹⁹

¹⁹ Id. P 63. A regional transmission facility and an interregional transmission facility are defined below. Infra Use of Terms section.

19. Selected transmission facilities often will not comprise all of the transmission facilities that are included in a regional transmission plan.²⁰ Some transmission facilities are merely “rolled up” and listed in a regional transmission plan without going through an analysis at the regional level, and/or are merely considered for reliability implications upon a transmission system, and therefore, are not eligible for selection and regional cost allocation.²¹ For example, a local transmission facility is a transmission facility located solely within a transmission provider's retail distribution service territory or footprint that is not selected.²² Thus, a local transmission facility may be rolled up and “included” in a regional transmission plan for informational purposes, but it is not “selected.”

²⁰ Order No. 1000, 136 FERC ¶ 61,051 at P 63.

²¹ Id. PP 7, 226, 318.

²² Id. P 63. The Commission clarified in Order No. 1000-A that a local transmission facility is one that is located within the geographical boundaries of a public utility transmission provider's retail distribution service territory, if it has one; otherwise, the area is defined by the public utility transmission provider's footprint. In the case of an RTO/ISO whose footprint covers the entire region, a local transmission facility is defined by reference to the retail distribution service territories or footprints of its underlying transmission owing members. Order No. 1000-A, 139 FERC ¶ 61,132 at P 429.

B. ANOPR and Technical Conference

20. In July 2021, the Commission issued the ANOPR ²³ presenting potential reforms to improve the regional transmission planning and cost allocation and generator interconnection processes. In issuing the ANOPR, the Commission noted that, in part because more than a decade had passed since Order No. 1000, it was now an appropriate time to review its regulations governing regional transmission planning and cost allocation to determine whether reforms are needed to ensure Commission-jurisdictional rates remain just and reasonable and not unduly discriminatory or preferential.²⁴ The Commission noted that the electricity sector is transforming as the generation fleet shifts from resources located close to population centers toward resources that may often be located far from load centers. The Commission also highlighted the growth of new resources seeking to interconnect to the transmission system and that the differing characteristics of those resources are creating new demands on the transmission system. The Commission explained that ensuring just and reasonable Commission-jurisdictional rates during these changes, while maintaining grid reliability, remains the Commission's priority in adopting requirements for the regional transmission planning and cost allocation and generator interconnection processes. As a result, the Commission issued the ANOPR to consider whether there should be changes in the regional transmission planning and cost allocation and generator interconnection processes and, if so, which changes are necessary to ensure that Commission-jurisdictional rates remain just and reasonable and not unduly discriminatory or preferential and that reliability is maintained.

²³ ANOPR, 176 FERC ¶ 61,024.

²⁴ Id. P 3.

21. On November 15, 2021, the Commission convened a staff-led technical conference (November 2021 Technical Conference or Technical Conference) to examine in detail issues and potential reforms related to regional transmission planning as described in the ANOPR. Specifically, the Technical Conference included three panels covering issues to consider in long-term scenarios, consideration of long-term scenarios in regional transmission planning processes, and identifying geographic zones with high renewable resource potential for use in regional transmission planning processes.²⁵ Following the Technical Conference, the Commission invited all interested persons to file comments to address issues raised during the Technical Conference.

²⁵ Bldg. for the Future Through Elec. Reg'l Transmission Planning & Cost Allocation & Generator Interconnection, Further Supplemental Notice of Technical Conference, Docket No. RM21-17-000 (issued Nov. 12, 2021) (attaching agenda).

C. Joint Federal-State Task Force on Electric Transmission

22. On June 17, 2021, the Commission established a Joint Federal-State Task Force on Electric Transmission (Task Force) to formally explore broad categories of transmission-related topics.²⁶ The Commission explained that the development of new transmission infrastructure implicates a host of different issues, including how to plan and pay for these facilities. Given that Federal and state regulators each have authority over transmission-related issues and given the impact of transmission infrastructure development on numerous different priorities of Federal and state regulators, the Commission determined that the topic was ripe for greater Federal-state coordination and cooperation.²⁷ The Task Force was composed of all sitting FERC Commissioners as well as representatives from 10 state commissions nominated by the National Association of Regulatory Utility Commissioners (NARUC), with two originating from each NARUC region.²⁸

²⁶ Joint Fed.-State Task Force on Elec. Transmission, 175 FERC ¶ 61,224, at PP 1, 6 (2021).

²⁷ Id. P 2.

²⁸ An up-to-date list of Task Force members, as well as additional information on the Task Force, is available on the Commission's website at: https://www.ferc.gov/TFSOET. Public materials related to the Task Force, including transcripts from public meetings, are available in the Commission's eLibrary in Docket No. AD21-15-000.

23. The Task Force has convened multiple formal meetings with eight meetings held thus far to discuss regional transmission planning and cost allocation issues, convening on November 10, 2021, February 16, 2022, May 6, 2022, July 20, 2022, November 15, 2022, February 15, 2023, July 16, 2023, and February 28, 2024.

24. The discussion at the November 2021 meeting was focused on incorporating state perspectives into regional transmission planning.²⁹ The February 2022 meeting included discussion of specific categories and types of transmission benefits that transmission providers should consider for the purposes of transmission planning and cost allocation.³⁰ The May 2022 meeting focused on barriers to the efficient, expeditious, and reliable interconnection of new resources.³¹ The July 2022 meeting focused on interregional transmission planning and transmission project development and the NOPR.³² The November 2022 meeting focused on regulatory gaps and challenges in oversight of transmission development.³³ The February 2023 meeting focused on the physical security of the Nation's transmission system, and featured guest speakers from the North American Electric Reliability Corporation and US DOE.³⁴ The July 2023 meeting focused on grid enhancing technologies, featuring a guest speaker from the Electric Power Research Institute.³⁵ The February 2024 meeting focused on transmission siting, featuring guest speakers from US DOE.³⁶

²⁹ Joint Fed.-State Task Force on Elec. Transmission, Notice of Meeting, Docket No. AD21-15-000 (issued Oct. 27, 2021) (attaching agenda).

³⁰ Joint Fed.-State Task Force on Elec. Transmission, Notice of Meeting, Docket No. AD21-15-000 (issued Feb. 2, 2022) (attaching agenda).

³¹ Joint Fed.-State Task Force on Elec. Transmission, Notice of Meeting, Docket No. AD21-15-000 (issued Apr. 22, 2022) (attaching agenda).

³² Joint Fed.-State Task Force on Elec. Transmission, Notice of Meeting, Docket No. AD21-15-000 (issued June 30, 2022) (attaching agenda).

³³ Joint Fed.-State Task Force on Elec. Transmission, Notice of Meeting, Docket No. AD21-15-000 (issued Nov. 1, 2022) (attaching agenda).

³⁴ Joint Fed.-State Task Force on Elec. Transmission, Notice of Meeting, Docket No. AD21-15-000 (issued Feb. 1, 2023) (attaching agenda).

³⁵ Joint Fed.-State Task Force on Elec. Transmission, Notice of Meeting, Docket No. AD21-15-000 (issued June 30, 2023) (attaching agenda).

³⁶ Joint Fed.-State Task Force on Elec. Transmission, Notice of Meeting, Docket No. AD21-15-000 (issued Feb. 13, 2024) (attaching agenda).

25. In light of the Task Force expiring three years from its first public meeting, i.e., on November 10, 2024,³⁷ on March 21, 2024, the Commission established the Federal and State Current Issues Collaborative (Collaborative).³⁸ The Collaborative will be comprised of all Commissioners, as well as representative from 10 state commissions. The Collaborative will provide a venue for Federal and state regulators to share perspectives, increase understanding, and where appropriate, identify potential solutions regarding challenges and coordination on matters that impact specific state and Federal regulatory jurisdiction.³⁹

³⁷ Joint Fed.-State Task Force on Elec. Transmission, 175 FERC ¶ 61,224 at P 4.

³⁸ Joint Fed.-State Task Force on Elec. Transmission, 186 FERC ¶ 61,189 (2024).

³⁹ Id. PP 5-6.

D. Notice of Proposed Rulemaking

26. On April 21, 2022, the Commission issued the NOPR, proposing reforms focused on long-term regional transmission planning and cost allocation processes. In particular, the Commission proposed in the NOPR that transmission providers in each transmission planning region participate in a regional transmission planning process that includes Long-Term Regional Transmission Planning.⁴⁰ The Commission also proposed to require that transmission providers develop Long-Term Scenarios as part of Long-Term Regional Transmission Planning.⁴¹

⁴⁰ NOPR, 179 FERC ¶ 61,028 at PP 64, 68.

⁴¹ Id. P 84.

27. The Commission proposed that transmission providers consider, as part of their Long-Term Regional Transmission Planning, regional transmission facilities that address certain interconnection-related transmission needs that the transmission provider has identified multiple times in the generator interconnection process but that have never been constructed due to the withdrawal of the relevant interconnection request(s).⁴²

⁴² Id. P 166.

28. The Commission proposed 12 benefits that transmission providers may consider in Long-Term Regional Transmission Planning and cost allocation processes.⁴³ The Commission stated that the list of potential benefits was neither mandatory nor exhaustive, and that pursuant to the proposal, transmission providers would have flexibility to propose which benefits to use as part of their Long-Term Regional Transmission Planning.⁴⁴

⁴³ Id. P 185.

⁴⁴ Id. P 184.

29. The Commission proposed, with regard to the selection of Long-Term Regional Transmission Facilities in the regional transmission plan for purposes of cost allocation, to require that transmission providers, as part of their Long-Term Regional Transmission Planning, include in their OATTs: (1) transparent and not unduly discriminatory criteria, which seek to maximize benefits to consumers over time without over-building transmission facilities, to identify and evaluate transmission facilities for potential selection that address transmission needs driven by changes in the resource mix and demand; and (2) a process to coordinate with the Relevant State Entities in developing such criteria.⁴⁵

⁴⁵ Id. P 241.

30. The Commission proposed to require transmission providers to more fully consider the incorporation into transmission facilities of dynamic line ratings and advanced power flow control devices in regional transmission planning and cost allocation processes.⁴⁶

⁴⁶ Id. P 272.

31. The Commission proposed to require, with regard to allocating the costs of Long-Term Regional Transmission Facilities, transmission providers to revise their OATTs to include: (1) a Long-Term Regional Transmission Cost Allocation Method to allocate the costs of Long-Term Regional Transmission Facilities; (2) a State Agreement Process by which one or more Relevant State Entities may voluntarily agree to a cost allocation method; or (3) a combination thereof.⁴⁷ The Commission proposed to require transmission providers to seek the agreement of Relevant State Entities within the transmission planning region regarding the Long-Term Regional Transmission Cost Allocation Method, State Agreement Process, or combination thereof.⁴⁸ The Commission proposed to require transmission providers to identify on compliance the benefits they will use in ex ante Long-Term Regional Transmission Cost Allocation Methods associated with Long-Term Regional Transmission Planning, how they will calculate those benefits, and how the benefits will reasonably reflect the benefits of regional transmission facilities to meet identified transmission needs driven by changes in the resource mix and demand.⁴⁹

⁴⁷ Id. P 302.

⁴⁸ Id. P 303.

⁴⁹ Id. P 326.

32. The Commission further proposed to not permit transmission providers to take advantage of the allowance for inclusion of 100% of construction work in progress costs in rate base in certain circumstances for Long-Term Regional Transmission Facilities.⁵⁰

⁵⁰ Id. P 333.

33. Finally, the Commission proposed to permit the exercise of Federal rights of first refusal for selected transmission facilities, conditioned on the incumbent transmission provider with the Federal right of first refusal for such regional transmission facilities establishing joint ownership of the transmission facilities consistent with certain proposed requirements described in the NOPR.⁵¹

⁵¹ Id. P 351.

34. The Commission also proposed to require transmission providers to revise the regional transmission planning process in their OATTs with additional provisions to enhance transparency of: (1) the criteria, models, and assumptions that they use in their local transmission planning process; (2) the local transmission needs that they identify through that process; and (3) the potential local or regional transmission facilities that they will evaluate to address those local transmission needs.⁵² The Commission proposed to require transmission providers to evaluate whether transmission facilities operating at or above 230 kV that an individual transmission provider that owns the transmission facility anticipates replacing in-kind with a new transmission facility during the next 10 years can be “right-sized” to more efficiently or cost-effectively address regional transmission needs identified in Long-Term Regional Transmission Planning.⁵³

⁵² Id. P 400.

⁵³ Id. P 403.

35. The Commission further proposed to require transmission providers in neighboring transmission planning regions to revise their existing interregional transmission coordination procedures (and regional transmission planning processes as needed) to provide for: (1) the sharing of information regarding their respective transmission needs identified in Long-Term Regional Transmission Planning, as well as potential transmission facilities to meet those needs; and (2) the identification and joint evaluation of interregional transmission facilities that may be more efficient or cost-effective transmission facilities to address transmission needs identified through Long-Term Regional Transmission Planning.⁵⁴ Finally, the Commission proposed to require transmission providers in neighboring transmission planning regions to revise their interregional transmission coordination procedures (and regional transmission planning processes as needed) to allow an entity to propose an interregional transmission facility in the regional transmission planning process as a potential solution to transmission needs identified through Long-Term Regional Transmission Planning.⁵⁵

⁵⁴ Id. P 427.

⁵⁵ Id. P 428.

E. High-Level Overview of NOPR Comments

36. The Commission received a great many comments from a diverse set of parties in response to the NOPR.⁵⁶ One hundred and ninety-six parties, including Federal agencies, state regulatory commissions, state policy makers and other state representatives, ratepayer advocates, municipalities, RTOs/ISOs, RTO/ISO market monitors, transmission providers, transmission-dependent utilities, electric cooperatives, municipal power providers, independent power producers, transmission developers, generation trade associations, transmission trade associations, industry interest groups, consumer interest groups, energy policy and law interest groups, individual businesses, landowners, and individuals, filed initial comments that totaled over 15,000 pages with attachments. A similarly diverse set of 92 parties filed reply comments that totaled nearly 1,900 pages.

⁵⁶ See appendix A for a list of commenters and the abbreviated names of commenters that are used in this final order.

F. Use of Terms

37. Before turning to the detailed requirements of this final order, we note several of the key terms used herein. We further address the definitions of these terms, including any modifications to definitions proposed in the NOPR, in the relevant later sections of this final order.

38. For purposes of this final order, Long-Term Regional Transmission Planning means regional transmission planning on a sufficiently long-term, forward-looking, and comprehensive basis to identify Long-Term Transmission Needs, identify transmission facilities that meet such needs, measure the benefits of those transmission facilities, and evaluate those transmission facilities for potential selection in the regional transmission plan for purposes of cost allocation as the more efficient or cost-effective regional transmission facilities to meet Long-Term Transmission Needs.

39. For purposes of this final order, Long-Term Transmission Needs are transmission needs identified through Long-Term Regional Transmission Planning by, among other things and as discussed in this final order, running scenarios and considering the enumerated categories of factors.⁵⁷

⁵⁷ Further discussion on Long-Term Transmission Needs can be found below. Infra Development of Long-Term Scenarios subsection under the Long-Term Regional Transmission Planning section.

40. For purposes of this final order, Long-Term Scenarios are scenarios that incorporate various assumptions using best available data inputs about the future electric power system over a sufficiently long-term, forward-looking transmission planning horizon to identify Long-Term Transmission Needs and enable the identification and evaluation of transmission facilities to meet such transmission needs.

41. For purposes of this final order, a Long-Term Regional Transmission Facility is a regional transmission facility ⁵⁸ that is identified as part of Long-Term Regional Transmission Planning to address Long-Term Transmission Needs.

⁵⁸ For purposes of this final order, and consistent with Order No. 1000, a regional transmission facility is a transmission facility located entirely in one transmission planning region. An interregional transmission facility is a transmission facility that is located in two or more transmission planning regions. A local transmission facility is a transmission facility located solely within a transmission provider's retail distribution service territory or footprint that is not selected in the regional transmission plan for purposes of cost allocation. Order No. 1000, 136 FERC ¶ 61,051 at PP 63, 482 n.374.

42. For purposes of this final order, best available data inputs are data inputs that are timely, developed using best practices and diverse and expert perspectives, and adopted via a process that satisfies the transmission planning principles of Order Nos. 890 and 1000, and reflect the list of factors that transmission providers account for in their Long-Term Scenarios.

43. For purposes of this final order, a Long-Term Regional Transmission Cost Allocation Method is an ex ante regional cost allocation method for one or more selected Long-Term Regional Transmission Facilities (or a portfolio of such Facilities) that are selected in the regional transmission plan for purposes of cost allocation.

44. For purposes of this final order, a Relevant State Entity is any state entity responsible for electric utility regulation or siting electric transmission facilities within the state or portion of a state located in the transmission planning region, including any state entity as may be designated for that purpose by the law of such state.

45. For purposes of this final order, a State Agreement Process is a process by which one or more Relevant State Entities may voluntarily agree to a cost allocation method for Long-Term Regional Transmission Facilities (or a portfolio of such Facilities) before or no later than six months after they are selected.

46. For purposes of this final order, federally-recognized Tribes are those Tribes listed in the most recent notice provided by the Bureau of Indian Affairs and published in the Federal Register.⁵⁹

⁵⁹ See, e.g., Indian Entities Recognized by and Eligible to Receive Servs. from the U.S. Bureau of Indian Affairs, Federal Register, 89 FR 944 (Jan. 8, 2024).

II. The Overall Need for Reform

A. NOPR Proposal

47. The Commission issued the NOPR on April 21, 2022, proposing to reform the pro forma OATT and the pro forma LGIA to remedy deficiencies in the Commission's existing regional transmission planning and cost allocation requirements. The Commission stated that, over the last 25 years, it has undertaken a series of significant reforms to ensure that transmission planning and cost allocation processes result in Commission-jurisdictional rates that are just and reasonable and not unduly discriminatory or preferential.⁶⁰ The Commission noted that it has now been more than a decade since Order No. 1000—its last significant regional transmission planning and cost allocation rule—and that there is mounting evidence that its regional transmission planning and cost allocation requirements may be inadequate to ensure that Commission-jurisdictional rates remain just and reasonable and not unduly discriminatory or preferential.⁶¹

⁶⁰ NOPR, 179 FERC ¶ 61,028 at P 24.

⁶¹ Id.

48. The Commission found that, in particular, although transmission providers are required to participate in regional transmission planning and cost allocation processes under Order No. 1000, it was concerned that those processes may not be planning transmission on a sufficiently long-term, forward-looking basis to meet transmission needs driven by changes in the resource mix and demand. The Commission stated that, as a result, the regional transmission planning and cost allocation processes that transmission providers adopted to comply with Order No. 1000 may not be identifying the more efficient or cost-effective transmission facilities.⁶² The Commission stated that it was concerned that the absence of sufficiently long-term, forward-looking, comprehensive transmission planning processes appears to be resulting in piecemeal transmission expansion to address relatively near-term transmission needs, and that continuing with the status quo approach may cause transmission providers to undertake relatively inefficient investments in transmission infrastructure, the costs of which are ultimately recovered through Commission-jurisdictional rates. The Commission stated that this dynamic may result in transmission customers paying more than necessary to meet their transmission needs, customers forgoing benefits that outweigh their costs, or some combination thereof—either or both of which could potentially render Commission-jurisdictional rates unjust and unreasonable or unduly discriminatory or preferential. Based on the evidence, the Commission preliminarily concluded that revisions to its existing transmission planning and cost allocation requirements established in Order Nos. 890 and 1000 are necessary to ensure that Commission-jurisdictional services are provided at rates, terms, and conditions that are just and reasonable and not unduly discriminatory and preferential.⁶³

⁶² Id. PP 24-25.

⁶³ Id. PP 25, 27, 34-35.

B. Comments

49. A significant majority of commenters, including transmission providers, transmission developers, transmission customers, members of Congress, states, state commissions, consumer advocates, trade associations, and public interest organizations, among others, agree that existing regional transmission planning and cost allocation processes need to be reformed.⁶⁴ Advanced Energy Buyers note that the electric system is presently undergoing one of the most significant transformations in a century.⁶⁵ Other commenters agree that electric energy supply and demand is evolving quickly.⁶⁶ Clean Energy Buyers agree with the Commission that there is a need for reform to meet these drastic changes in the resource mix and load and to ensure continued reliability and cost-effective transmission service.⁶⁷

⁶⁴ See, e.g., Acadia Center and CLF Initial Comments at 1-2; ACEG Initial Comments at 11-12, 21-22; ACORE Initial Comments at 2-5; ACORE Supplemental Comments at 1; Advanced Energy Buyers Initial Comments at 2-3; AEE Initial Comments at 7-8; AEP Initial Comments at 1-3; Amazon Initial Comments at 1-2; Ameren Initial Comments at 1-2; American Municipal Power Initial Comments at 4; Anbaric Initial Comments at 1; Arizona Commission Initial Comments at 3-4; Avangrid Initial Comments at 5-6; BP Initial Comments at 3; Breakthrough Energy Initial Comments at 5-6; Breakthrough Energy Supplemental Comments at 1; Business Council for Sustainable Energy Initial Comments at 2-3; California Commission Initial Comments at 1-2; California Energy Commission Initial Comments at 1; CAISO Initial Comments at 1; City of New Orleans Council Initial Comments at 4, 7-9; Cross Sector Representatives Supplemental Comments at 1; DC and MD Offices of People's Counsel Initial Comments at 4-5; US Senators Supplemental Comments at 1; EEI Initial Comments at 4-5; ELCON Initial Comments at 4; Enel Initial Comments at 2, 7; ENGIE Initial Comments at 1-2; Entergy Initial Comments at 2-3; Environmental Legislators Caucus Supplemental Comments at 1; Evergreen Action Initial Comments at 1-3; Eversource Initial Comments at 1-2, 5-9; Exelon Initial Comments at 1-2; Grid United Initial Comments at 1-2; Handy Law Initial Comments at 1-7; Harvard ELI Initial Comments at 1; Illinois Commission Initial Comments at 3; Indicted PJM TOs Initial Comments at 1-2; Indicated US Senators and Representatives Initial Comments at 1; Interwest Initial Comments at 2-3; Invenergy Initial Comments at 2, 5; ISO-NE Initial Comments at 2, 8-9; ISO/RTO Council Initial Comments at 2; Kansas Commission Initial Comments at 10-11; Massachusetts Attorney General Initial Comments at 3-6; Michigan Commission Initial Comments at 2, 4; Michigan State Entities Initial Comments at 3-4; Minnesota State Entities Initial Comments at 2-3; National Grid Initial Comments at 1, 6; National and State Conservation Organizations Initial Comments at 1; NESCOE Initial Comments at 2, 7, 14-15; New Jersey Commission Initial Comments at 1-2; New York Commission and NYSERDA Initial Comments at 1-3; NextEra Reply Comments at 1; Non-RTO NASUCA Initial Comments at 4-5; NYISO Initial Comments at 2-3; Onward Energy Initial Comments at 1-2; Ørsted Initial Comments at 2-3; Pattern Energy Initial Comments at 1; PacifiCorp and NV Energy Initial Comments at 2, 7-8; Pacific Northwest State Agencies Initial Comments at 1, 8; PG&E Initial Comments at 1; PIOs Initial Comments at 6-7; Policy Integrity Initial Comments at 1-2; Renewable Northwest Initial Comments at 3-4; RMI Supplemental Comments at 1-2; SPP Market Monitor Initial Comments at 3-4; SEIA Initial Comments at 2; Shell Initial Comments at 1, 9; US Senator Barrasso Supplemental Comments at 2; Senator Whitehouse Supplemental Comments at 2; Southeast PIOs Initial Comments at 1; SREA Initial Comments at 1; State Officials Supplemental Comments at 1; TAPS Initial Comments at 1-2; US DOE Initial Comments at 1-4; US DOJ and FTC Initial Comments 1, 5; Vermont State Entities Initial Comments at 2; Western State Representatives Initial Comments at 3-4; WIRES Initial Comments at 2, 5.

⁶⁵ Advanced Energy Buyers Initial Comments at 2.

⁶⁶ See, e.g., AEE Initial Comments at 1; Cross Sector Representatives Supplemental Comments at 1; Eversource Initial Comments at 5-8 (citing ISO-NE, 2020 Regional Electricity Outlook, at 35 (2020)); Indicated PJM TOs Initial Comments at 1-2; Kansas Commission Initial Comments at 2; Pattern Energy Initial Comments at 1; PG&E Initial Comments at 1; Policy Integrity Initial Comments at 2; Renewable Northwest Initial Comments at 5; State Agencies Initial Comments at 12-13; WIRES Initial Comments at 3.

⁶⁷ Clean Energy Buyers Initial Comments at 7.

50. Many commenters argue that current regional transmission planning and cost allocation processes across the country are not ensuring efficient and cost-effective transmission development, are not satisfying the purposes of Order Nos. 890 and 1000, and are not meeting transmission needs at a reasonable cost. For example, several commenters assert that Order Nos. 890 and 1000 have not solved longstanding problems with regional transmission planning and cost allocation.⁶⁸ Northwest and Intermountain claim that Order No. 1000 has been inadequate to meet transmission needs, particularly in the non-RTO/ISO West.⁶⁹ Michigan State Entities assert that the current lack of long-term transmission planning has led to significantly higher costs for residential ratepayers, costs that will increase without reforms.⁷⁰ SREA argues that reform is needed to correct the unintended consequences of Order No. 1000 in the Southeast, where transmission planning “has grown into an enormously elaborate and extremely expensive black box,” without any meaningful review by state regulatory bodies.⁷¹

⁶⁸ See, e.g., Acadia Center and CLF Initial Comments at 1; ACEG Initial Comments at 17-18, 20 (citing Order No. 1000, 136 FERC ¶ 61,051 at P 3; NOPR, 179 FERC ¶ 61,028 at PP 24-25); AEE Initial Comments at 1-2; CARE Coalition Initial Comments at 3; NERC Initial Comments at 5; Massachusetts Attorney General Initial Comments at 5-6; Northwest and Intermountain Initial Comments at 6-7; Pine Gate Initial Comments at 8-10; PIOs Initial Comments at 2-3; Southeast PIOs Initial Comments at 7-9, 11, 16-17, 43-44; SPP Market Monitor Initial Comments at 3-4; SREA Reply Comments at 4; US DOE Initial Comments at 3-4, 7-8.

⁶⁹ Northwest and Intermountain Initial Comments at 6-7.

⁷⁰ Michigan State Entities Initial Comments at 1-2.

⁷¹ SREA Reply Comments at 4.

51. PIOs assert that transmission owners can evade Order No. 1000 requirements through investments in local transmission projects, which has led to billions of dollars in excessive costs.⁷² PIOs explain that financial incentives drive utilities to upgrade their own systems at the expense of building a more integrated and robust transmission system to meet the needs and demands of the future.⁷³ PIOs observe that, between 2013 and 2017, about one-half of the approximately $70 billion in aggregate transmission investments by Commission-jurisdictional transmission owners in RTO/ISO regions were approved outside of regional transmission planning processes or with limited stakeholder engagement.⁷⁴ Ohio Consumers add that since 2017, less than 25% of new transmission investments in Ohio have been associated with large regional transmission projects needed for reliability or economic efficiency.⁷⁵ Competition Coalition argues that incumbent transmission owners have used reliability designations to justify projects with higher costs.⁷⁶

⁷² PIOs Initial Comments at 8 (citing Johannes P. Pfeifenberger et al., The Brattle Group, Cost Savings Offered by Competition in Electric Transmission: Experience to Date and the Potential for Additional Customer Value, at 19-20, and Section I (Apr. 2019) (Brattle Apr. 2019 Competition Report), https://www.brattle.com/wp-content/uploads/2021/05/16726_cost_savings_offered_by_competition_in_electric_transmission.pdf).

⁷³ Id. at 6-7.

⁷⁴ Id. at 9 (citing Brattle Apr. 2019 Competition Report at 4).

⁷⁵ Ohio Consumers Initial Comments at 5.

⁷⁶ Competition Coalition Initial Comments at 15-16.

52. Citing to a report from Lawrence Berkeley National Laboratory, US DOE concludes that many existing regional transmission planning approaches are likely understating the economic value of new transmission. US DOE suggests that the need for increased transmission capacity to address persistent and worsening transmission congestion demonstrates that these processes may not fully anticipate present and future transmission needs.⁷⁷ In addition, US DOE notes the unfair burden on interconnection customers that must bear increasing costs, especially for interconnection-related network upgrades that provide system-wide benefits.⁷⁸ US DOJ and FTC agree that reforms are necessary to encourage needed regional and interregional transmission investment and that a larger, more integrated transmission system would improve resilience, promote competition, and lower costs for consumers.⁷⁹

⁷⁷ US DOE Initial Comments at 3-4.

⁷⁸ Id. at 7-8.

⁷⁹ US DOJ and FTC Initial Comments at 1, 5 (citing NOPR, 179 FERC ¶ 61,028 at P 6; P. R. Brown & A. Botterud, The Value of Inter-Regional Coordination and Transmission in Decarbonizing the US Electricity System, 5 Joule 115, 115-134 (2021); Eric Larson et al., Princeton Univ., Net-Zero America: Potential Pathways, Infrastructure, and Impacts, at 108 (Oct. 2021), https://netzeroamerica.princeton.edu/the-report).

53. Many commenters contend that inadequate regional transmission planning and cost allocation processes have resulted in, or are threatening to cause, unjust, unreasonable, and unduly discriminatory or preferential rates.⁸⁰ Michigan State Entities cite renewable energy curtailments, which limit the supply of energy that customers can access, and the lack of regional and interregional transmission lines, which limit the transfer of lower-priced power.⁸¹ New Jersey Commission asserts that better transmission planning can reduce overall system costs by billions of dollars.⁸² Certain TDUs add that Commission action is essential now to ensure that necessary transmission expansion occurs in a way that protects customers from excessive costs and that results in just and reasonable transmission rates.⁸³ CARE Coalition argues that the Commission's current failure to require transmission planners to internalize siting-related costs and risks results in unjust, unreasonable, and unduly discriminatory or preferential rates.⁸⁴ In a similar vein, Ørsted and Massachusetts Attorney General claim that failure to proactively plan for offshore wind generation buildout could lead to transmission rates that are unjust, unreasonable, and unduly discriminatory or preferential.⁸⁵

⁸⁰ See, e.g., ACORE Initial Comments at 3, AEE Initial Comments at 27 (citing NOPR, 179 FERC ¶ 61,028 at PP 47, 55, 78; S.C. Pub. Serv. Auth. v. FERC, 762 F.3d at 56); CARE Coalition Initial Comments at 17; Certain TDUs Initial Comments at 2; Clean Energy Associations Initial Comments at 3, 7; Clean Energy Buyers Initial Comments at 10; Harvard ELI Initial Comments at 1; Massachusetts Attorney General Initial Comments at 5-6; New Jersey Commission Initial Comments at 1-2; PIOs Initial Comments at 6; SEIA Initial Comments at 2-3; Southeast PIOs Reply Comments at 2; US DOE Initial Comments at 2, 6-7.

⁸¹ Michigan State Entities Initial Comments at 3.

⁸² New Jersey Commission Initial Comments at 3-9.

⁸³ Certain TDUs Initial Comments at 2.

⁸⁴ CARE Coalition Initial Comments at 17.

⁸⁵ Massachusetts Attorney General Initial Comments at 5; Ørsted Initial Comments at 3-5.

54. Several commenters agree with the Commission's concerns that the expansion of the high-voltage transmission system is increasingly occurring outside of the regional transmission planning process through other mechanisms such as the generator interconnection process, which results in piecemeal transmission development.⁸⁶ AEE agrees that limited development of regional transmission facilities, increased spending on local transmission projects, and backlogged interconnection queues all show that the existing regional transmission planning requirements are not sufficient to meet customers' transmission needs.⁸⁷ Likewise, Exelon argues that relying on interconnection studies as the primary transmission planning method results in piecemeal and inefficient transmission investment.⁸⁸ PIOs add that many generation developers have to bear the full costs of transmission upgrades, which leads to interconnection request withdrawals, inefficiencies, and higher system-wide costs.⁸⁹ In addition, Clean Energy States note that interconnection queues are extremely large and that the current one-plant-at-a-time approach to transmission upgrades drives up costs and misses opportunities for improvements to the system as a whole.⁹⁰

⁸⁶ See, e.g., Acadia Center and CLF Initial Comments at 3-4; Anbaric Initial Comments at 5; Clean Energy Associations Initial Comments at 4-7; Exelon Initial Comments at 1-2, 5; Joint Consumer Advocates Initial Comments at 5; Non-RTO NASUCA Initial Comments at 4; Ørsted Initial Comments at 4-5; Pine Gate Initial Comments at 8-10; SEIA Initial Comments at 2; see also AEP Initial Comments at 8.

⁸⁷ AEE Initial Comments at 1-2 (citing NOPR, 179 FERC ¶ 61,028 at PP 47-55).

⁸⁸ Exelon Initial Comments at 5.

⁸⁹ PIOs Initial Comments at 9-10.

⁹⁰ Clean Energy States Initial Comments at 2.

55. Non-RTO NASUCA agrees with the Commission that Long-Term Regional Transmission Planning is necessary to help alleviate generation interconnection issues.⁹¹ According to Harvard ELI, current transmission planning processes have failed to address backlogged interconnection queues and operational challenges that are best addressed at the regional level, as well as to include inexpensive technologies that can increase transmission capacity.⁹²

⁹¹ Non-RTO NASUCA Initial Comments at 4.

⁹² Harvard ELI Initial Comments at 1.

56. ACEG argues that there is no evidence that any regional reliability or economic transmission planning performed in non-RTO/ISO regions, like the Southeastern Regional Transmission Planning region (SERTP), is equal to or superior to the techniques or outcomes in the NOPR.⁹³ ACEG further contends that, instead, most new transmission facilities built since Order No. 1000 have been built for local transmission needs, thereby resulting in less efficient and cost-effective transmission development that does not address the larger needs of the transmission system for reliability and resilience.⁹⁴ Relatedly, SREA states that no state fully participates in SERTP, and that instead, each state in the Southeast uses its own state planning process, with no platform for states to collaborate. As a result, SREA argues that “transmission planning in the Southeast has many holes and is threadbare.” ⁹⁵ SREA catalogs deficiencies in many Southeastern states' planning processes, including a lack of transparency.⁹⁶

⁹³ ACEG Reply Comments at 9 (citing Alabama Commission Initial Comments at 2-3; Southern Initial Comments at 5-6, Ex. 2 at 2-3).

⁹⁴ Id. at 9-10 (citing PIOs Initial Comments at 7).

⁹⁵ SREA Reply Comments at 4.

⁹⁶ Id. at 5-18.

57. Western PIOs argue that, outside of CAISO, transmission planning in the West is ineffective.⁹⁷ Specifically, Western PIOs assert that Western transmission planning groups have not developed new transmission projects using their Order No. 1000 transmission planning processes, but have instead built transmission projects that their utility members have already proposed.⁹⁸ Relatedly, SEIA argues that “non-RTO areas do not engage in sufficient or transparent transmission planning,” and that transmission planning in non-RTO/ISO regions is exclusionary, based on inconsistent and inaccurate data, and disjointed.⁹⁹ More broadly, NRECA contends that incumbent investor-owned utilities control transmission planning, and that some incumbent investor-owned utilities develop transmission without transparency, leading to disparities in transmission rates in different RTO/ISO local zones.¹⁰⁰

⁹⁷ Western PIOs Initial Comments at 4-28.

⁹⁸ Id. at 28.

⁹⁹ SEIA Reply Comments at 5-6 (citing Southern Initial Comments at 13-14).

¹⁰⁰ NRECA Initial Comments at 15-16.

58. Several commenters specify other reasons that transmission planning reforms are needed.¹⁰¹ Americans for Fair Energy Prices agree with PIOs that there is a need for regional transmission planning instead of the balkanized process that currently exists.¹⁰² DC and MD Offices of People's Counsel assert that the NOPR provides a once-in-a-generation opportunity to meet the energy transition in a just, equitable, efficient, reliable, and resilient fashion by recognizing the benefits of long-term transmission planning and developing rules that incorporate those broad benefits. DC and MD Offices of People's Counsel state that current transmission planning processes do not fully consider all of the benefits of transmission development, including enhanced reliability and resilience that will serve as a necessary bulwark against disruptions caused by extreme weather.¹⁰³ ACEG argues that current transmission planning processes have not led to investment in interregional transmission capacity, and that more interregional transmission capacity could have avoided some of the $25 billion to $70 billion in yearly costs caused by severe weather events.¹⁰⁴ EEI states that robust transmission development will provide a host of benefits for customers, including greater resilience, enhanced system reliability, and cost-savings from greater access to low-cost resources.¹⁰⁵ Some commenters emphasize the importance of the Commission taking prudent action to remedy deficiencies in the Commission's existing regional transmission planning and cost allocation requirements,¹⁰⁶ and to strengthen electric reliability and resilience, while controlling costs.¹⁰⁷

¹⁰¹ See, e.g., Americans for Fair Energy Prices Reply Comments at 5; SREA Reply Comments at 4.

¹⁰² Americans for Fair Energy Prices Reply Comments at 5 (citing PIOs Initial Comments at 34).

¹⁰³ DC and MD Offices of People's Counsel Reply Comments at 1-2.

¹⁰⁴ ACEG Initial Comments at 21-22 (citing Grid Strategies, LLC, Transmission Makes the Power System Resilient to Extreme Weather, at 1-3, 12 (July 2021) (Grid Strategies July 2021 Extreme Weather Report)).

¹⁰⁵ EEI Supplemental Comments at 1.

¹⁰⁶ US Senators Supplemental Comments at 1; Senator Whitehouse Supplemental Comments at 2.

¹⁰⁷ US Senator Barrasso Supplemental Comments at 1-2.

59. Several commenters argue that the need to reform transmission planning includes addressing environmental justice and equity issues.¹⁰⁸ Center for Biological Diversity states that energy justice and environmental justice considerations are appropriately included in transmission planning.¹⁰⁹ Center for Biological Diversity further asserts that it is within the Commission's authority to consider these costs and benefits, as the benefits of decarbonization and related energy justice objectives will be far greater than the costs.¹¹⁰ Grand Rapids NAACP, CARE Coalition, and PIOs argue that to ensure just, reasonable, and nondiscriminatory rates, transmission planning must consider energy equity and environmental justice.¹¹¹ Grand Rapids NAACP further argues that high energy burdens can be unjust, unreasonable, and unduly discriminatory or preferential.¹¹² Grand Rapids NAACP argues that the Commission's duty under the FPA to promote the public interest requires it to ensure that energy justice and equity considerations are included in transmission planning processes.¹¹³ WE ACT relatedly argues that, due to under-investment, the transmission system is unreliable and vulnerable to extreme weather events, which is both a reliability and environmental justice issue because communities of color and low-income communities are more susceptible to power outages during extreme weather.¹¹⁴

¹⁰⁸ See, e.g., CARE Coalition Initial Comments at 2; Center for Biological Diversity Initial Comments at 20-24; Environmental Groups Supplemental Comments at 2; Environmental Legislators Caucus Supplemental Comments at 1; Grand Rapids NAACP Initial Comments at 20-21; Massachusetts Attorney General Initial Comments at 53-54 (citing Massachusetts Attorney General ANOPR Initial Comments at 32-34); Montclair Congregation Supplemental Comments at 1; NESCOE Reply Comments at 8-9; New England for Offshore Wind Initial Comments at 5; PIOs Reply Comments at 11-17; US DOE Initial Comments at 9; WE ACT Initial Comments at 1-2.

¹⁰⁹ Center for Biological Diversity Initial Comments at 20-24 (citing Pacific Northwest National Laboratory & Sandia National Laboratories, Advancing Energy Equity in Grid Planning (Apr. 2022), https://netl.doe.gov/sites/default/files/netl-file/Advancing%20Energy%20Equity%20in%20Grid%20Planning.pdf; Office of Energy Justice and Equity, US DOE, Justice40 Initiative, https://www.energy.gov/diversity/justice40-initiative).

¹¹⁰ Id. at 23 (citing Neb. Pub. Power Dist. v. FERC, 957 F.3d 932, 942 (8th Cir. 2020)).

¹¹¹ Grand Rapids NAACP Reply Comments at 4 (citing 16 U.S.C. 824(a); Re Nat'l Ass'n for the Advancement of Colored People, Inc., 95 P.U.R.3d 357 (F.P.C. 1972), vacated and remanded sub nom. NAACP v. FPC, 520 F.2d 432 (D.C. Cir. 1975), aff'd, 425 U.S. 662 (1976)); CARE Coalition Initial Comments at 2; PIOs Reply Comments at 14.

¹¹² Id. at 20-21.

¹¹³ Id. at 17-19.

¹¹⁴ WE ACT Initial Comments at 1-2.

60. Advanced Energy Buyers state that failure to prepare the grid for the energy transition would be problematic for three primary reasons: (1) insufficient transmission investment will leave customer cost savings on the table; (2) lack of available transmission capacity will constrain its members' ability to meet decarbonization and clean energy goals; and (3) failure to plan and build adequate transmission will hamper the transition to a cleaner and more reliable electric grid.¹¹⁵ New Jersey Commission contends that the lack of holistic multi-driver transmission planning is inflating consumers' electricity costs by billions of dollars every year.¹¹⁶ Northwest and Intermountain explain that due to insufficient transmission capacity from renewable rich zones, utilities must attempt to meet their renewable energy policy targets with new resources that are close to load but more expensive, less reliable, and less efficient than more distant alternatives, even considering the potential costs of transmission expansion.¹¹⁷ Clean Energy Associations add that the lack of transmission capacity imposes real and demonstrable costs today, as evidenced by geographic differences in real-time power prices, and that the lack of robust and proactive transmission planning rules renders current rates unjust, unreasonable, and unduly discriminatory or preferential.¹¹⁸

¹¹⁵ Advanced Energy Buyers Initial Comments at 3.

¹¹⁶ New Jersey Commission Initial Comments at 2-9.

¹¹⁷ Northwest and Intermountain Initial Comments at 6.

¹¹⁸ Clean Energy Associations Initial Comments at 5 (citing Dev Millstein et al., Lawrence Berkeley National Laboratory, Empirical Estimates of Transmission Value Using Locational Marginal Prices, at 3 (Aug. 2022), https://eta-publications.lbl.gov/sites/default/files/lbnlempirical_transmission_value_study-august_2022.pdf (LBNL Aug. 2022 Transmission Value Study)).

61. Southeast PIOs contend that the “snowballing” inefficiencies created by numerous small-scale transmission “band-aids” result in unjust, unreasonable, and unduly discriminatory or preferential rates, and that reforms are particularly needed in the Southeast, where there is minimal utility coordination and a balkanized transmission system.¹¹⁹ According to ACEG, short-term, piecemeal transmission planning is unlikely to identify the more efficient or cost-effective solutions to transmission needs and thus will result in unjust, unreasonable, and unduly discriminatory or preferential rates.¹²⁰

¹¹⁹ Southeast PIOs Reply Comments at 1-2.

¹²⁰ ACEG Initial Comments at 21.

62. Many commenters argue that reforms are necessary to meet state policy goals ¹²¹ and that greater state involvement or consideration of state policies is needed to avoid transmission planning inefficiencies.¹²² For example, ACORE cites a recent National Renewable Energy Laboratory (NREL) report highlighting the need for new transmission to aid in achieving zero carbon goals.¹²³ NextEra opines that the passage of the Inflation Reduction Act of 2022 will increase the demand for renewables and drive corresponding demands on the transmission system.¹²⁴ Pacific Northwest State Agencies argue that reforms are critical to successfully achieving their respective state clean energy laws and policies and to ensuring that there is sufficient clean, safe, reliable, and affordable energy.¹²⁵ Michigan State Entities note that some states may pursue aggressive renewable energy portfolio standards, and others may have no such requirements, but these policy choices will inevitably affect the price and reliability of energy for all customers across the states in question and that not planning for that reality imposes costs on unwilling customers.¹²⁶

¹²¹ See, e.g., Acadia Center and CLF Initial Comments at 1; ACORE Reply Comments at 1; Breakthrough Energy Initial Comments at 5-6; Business Council for Sustainable Energy Initial Comments 2-3; Illinois Commission Initial Comments at 3-4; ISO-NE Initial Comments at 2; Michigan State Entities Initial Comments at 2-3; National Grid Initial Comments at 6-7; NESCOE Initial Comments at 9-10, 15-16; NextEra Reply Comments at 5, 25; Northwest and Intermountain Initial Comments at 5-6; Ørsted Initial Comments at 1-3; Pacific Northwest State Agencies Initial Comments at 1; PacifiCorp and NV Energy Initial Comments at 10-11; State Agencies Initial Comments at 16-17; Vermont Electric and Vermont Transco Initial Comments at 2; Western State Representatives Initial Comments at 3.

¹²² See, e.g., AEE Reply Comments at 3-4; California Democratic Representatives Supplemental Comments at 1-2; US Senators Supplemental Comments at 1 (citing to National Academies of Sciences, Engineering, and Medicine, Accelerating Decarbonization in the United States: Technology, Policy, and Societal Dimensions (2023)); Maryland Energy Admin Initial Comments at 1; North Carolina Commission and Staff Initial Comments at 2, 4; PJM States Initial Comments at 1; SREA Reply Comments at 4.

¹²³ ACORE Reply Comments at 1 (citing Paul Denholm, et al., NREL, Examining Supply-Side Options to Achieve 100% Clean Electricity by 2035 (Sept. 2022), https://www.nrel.gov/docs/fy22osti/81644.pdf).

¹²⁴ NextEra Reply Comments at 5, 25.

¹²⁵ Pacific Northwest State Agencies at 1.

¹²⁶ Michigan State Entities Initial Comments at 2-3.

63. PacifiCorp and NV Energy similarly assert that the need for reform in the West is driven by the diverse policy priorities in its six-state transmission system, and they note that decisions are subject to state oversight and the participation of disparately situated transmission providers without inclination or authority to accept any cost allocation.¹²⁷ National Grid asserts that ISO New England's (ISO-NE) 2050 Transmission Study demonstrates a direct connection between state laws and requirements to meet clean energy goals and the need for new and expanded transmission facilities.¹²⁸ Indicated PJM TOs add that maintaining a reliable and resilient transmission system requires forward-looking assessments informed by evolving public policy, changing generation mix and demand patterns, and stakeholder input.¹²⁹

¹²⁷ PacifiCorp and NV Energy Initial Comments at 10-11.

¹²⁸ National Grid Initial Comments at 6-7 (citing the then-preliminary findings from the ISO-NE 2050 Transmission Study).

¹²⁹ Indicated PJM TOs Initial Comments at 1.

64. Maryland Energy Administration contends that Maryland has experienced unfair and costly consequences of inadequate consultation with state authorities in regional transmission planning processes.¹³⁰ AEE argues that if current transmission planning processes fail to incorporate factors such as state laws, corporate targets, and retail demand, then transmission needs will be unmet, risking unjust, unreasonable, and unduly discriminatory or preferential rates.¹³¹

¹³⁰ Maryland Energy Administration Initial Comments at 1 (citing Maryland Energy Administration ANOPR Initial Comments at 2).

¹³¹ AEE Reply Comments at 3-4.

65. Many commenters argue that, based on the record, the Commission has an obligation under the FPA to take action to ensure that transmission planning and cost allocation results in rates that are just and reasonable and not unduly discriminatory.¹³² ACEG states that the Commission's broad authority to remedy unduly discriminatory behavior pursuant to FPA section 206 applies to transmission planning and cost allocation, as the U.S. Court of Appeals for the District of Columbia Circuit held in South Carolina Public Service Authority v. FERC.¹³³ PIOs contend that the Commission is required by the FPA to use its authority to address market abuses and undue discrimination that have led to unjust, unreasonable, and unduly discriminatory or preferential rates for consumers, who bear the costs of inefficiencies in the current transmission planning process.¹³⁴

¹³² See, e.g., ACEG Initial Comments at 11; Clean Energy Associations Initial Comments at 7-10; Grand Rapids NAACP Initial Comments at 17; Massachusetts Attorney General Initial Comments at 3-4; Pine Gate Initial Comments at 10-14; PIOs Initial Comments at 8.

¹³³ 762 F.3d at 57. See also ACEG Initial Comments at 13-14; Harvard ELI Initial Comments at 1-2; SEIA Initial Comments at 3.

¹³⁴ PIOs Initial Comments at 8.

66. Southeast PIOs assert that the NOPR adequately demonstrated that existing regional transmission planning processes have intrinsic flaws, making the integrated resource planning and request for proposal processes ill-equipped to efficiently address changes in the resource mix and demand.¹³⁵ Specifically, Southeast PIOs cite the following preliminary findings from the NOPR: (1) existing transmission planning processes utilize a limited planning horizon; (2) many transmission planning processes provide an inaccurate portrayal of the comparative benefits of different transmission facilities; and (3) rapid changes to the generation fleet and demand are creating increasingly urgent transmission needs.¹³⁶

¹³⁵ Southeast PIOs Reply Comments at 4 (citing Duke Initial Comments at 6-9; SERTP Sponsors Initial Comments at 31-36; Southern Initial Comments at 36-40).

¹³⁶ Id. at 5-6 (citing NOPR, 179 FERC ¶ 61,028 at PP 45, 47, 49, 53).

67. Southeast PIOs cite the finding in South Carolina Public Service Authority v. FERC that the threshold of substantial evidence could be met without “empirical evidence” as long as the Commission provides evidence based on “reasonable economic propositions.” ¹³⁷ Southeast PIOs also note that South Carolina Public Service Authority v. FERC upheld the Commission's findings in Order No. 1000, which were based on (1) a threat to just and reasonable rates from existing regional transmission planning and cost allocation practices, (2) significant changes in the industry driven by increases in renewable energy resources, and (3) recent increases in transmission investment.¹³⁸ Moreover, Southeast PIOs note that findings need not be region-specific, as the “Commission may rely on generic or general findings of a systemic problem to support imposition of an industry-wide solution.” ¹³⁹

¹³⁷ Id. at 6-7 (citing S.C. Pub. Serv. Auth. v. FERC, 762 F.3d at 65).

¹³⁸ Id. at 6-7 (citing S.C. Pub. Serv. Auth. v. FERC, 762 F.3d at 65-66).

¹³⁹ Id. at 7 (citing S.C. Pub. Serv. Auth. v. FERC, 762 F.3d at 67).

68. ACEG similarly asserts that the Commission has shown the need for transmission planning reform based on findings that existing transmission planning requirements do not adequately identify transmission needs driven by changes in the resource mix and demand, and that failure to identify such needs causes customers to pay for less efficient or cost-effective transmission investments.¹⁴⁰ Relatedly, ACEG argues that pursuing region-specific solutions will lead to siloed and disjunctive transmission planning policies that will not solve the problems facing the Nation's electric transmission system.¹⁴¹

¹⁴⁰ ACEG Reply Comments at 7-8 (citing Alabama Commission Initial Comments at 2-3; Duke Initial Comments at 6-9; Idaho Power Initial Comments at 2-3; NRECA Initial Comments at 11; North Carolina Commission and Staff Initial Comments at 14; Pacific Northwest Utilities Initial Comments at 9-10; Utah Commission Initial Comments at 9-12).

¹⁴¹ Id. at 17.

69. Colorado Consumer Advocate and Joint Consumer Advocates aver that the Commission has a statutory duty under the FPA to reform current regional transmission planning processes because they lack transparency, coordination, and openness, and because they create opportunities for monopoly transmission developers to exert dominant influence and promote their own economic self-interest at customers' and other stakeholders' expense.¹⁴² According to New Jersey Commission, current transmission planning processes are inefficient and unnecessarily burden ratepayers with excessive costs without providing additional benefits. New Jersey Commission contends that those processes are therefore per se unjust and unreasonable, and that the Commission thus has FPA section 206 authority to require that transmission providers employ practices like long-term, holistic, multi-driver transmission planning.¹⁴³

¹⁴² Colorado Consumer Advocate Initial Comments at 21-23; Joint Consumer Advocates Initial Comments at 18-20.

¹⁴³ New Jersey Commission Initial Comments at 3-4.

70. Similarly, Harvard ELI states that deficient transmission planning threatens the justness and reasonableness of transmission rates, and therefore the Commission has legal authority and jurisdiction to order changes to transmission planning to remedy that deficiency.¹⁴⁴ Harvard ELI further asserts that the Commission must remedy undue discrimination due to incumbent transmission owners' unduly discriminatory influence in regional transmission planning.¹⁴⁵ Massachusetts Attorney General also argues that the Commission's proposed reforms are necessary to fulfill the Commission's statutory obligation to ensure that transmission rates are just and reasonable.¹⁴⁶

¹⁴⁴ Harvard ELI Initial Comments at 1-2 (citing S.C. Pub. Serv. Auth. v. FERC, 762 F.3d 41; Order No.1000-A, 139 FERC ¶ 61,132 at PP 56-75).

¹⁴⁵ Id. at 3.

¹⁴⁶ Massachusetts Attorney General Initial Comments at 3-6.

71. Some commenters argue that there is insufficient evidence for the Commission to find that existing jurisdictional rates are unjust, unreasonable, and unduly discriminatory or preferential.¹⁴⁷ For example, while Idaho Commission recognizes that there are deficiencies in existing transmission planning and cost allocation processes, Idaho Commission disagrees with the NOPR's claim that their failure to identify and plan for transmission needs driven by changes in the resource mix and demand is resulting in unjust, unreasonable, and unduly discriminatory or preferential Commission-jurisdictional rates.¹⁴⁸ Mississippi Commission also disagrees that the lack of long-term regional transmission planning will result in unjust, unreasonable, and unduly discriminatory or preferential rates.¹⁴⁹ ELCON questions a finding of unjust, unreasonable, and unduly discriminatory or preferential rates, and it states that the NOPR's focus on Long-Term Regional Transmission Planning solely to address changes in resource mix and demand, if adopted, could fail to produce better outcomes for customers and may exceed the Commission's authority under the FPA.¹⁵⁰

¹⁴⁷ See, e.g., ELCON Initial Comments at 7; Idaho Commission Initial Comments at 2; Mississippi Commission Initial Comments at 2, 9; NRECA Initial Comments at 14-16; Undersigned States Reply Comments at 6-7.

¹⁴⁸ Idaho Commission Initial Comments at 2 (citing NOPR, 179 FERC ¶ 61,028 at P 34).

¹⁴⁹ Mississippi Commission Initial Comments at 2.

¹⁵⁰ ELCON Initial Comments at 7.

72. Louisiana Commission states that the Commission's finding that, absent reforms, transmission rates universally are not just and reasonable and are discriminatory is not based on individual analysis of each RTO or region, is not supported, and should be retracted.¹⁵¹ Mississippi Commission also states that the Commission should, instead, initiate region-specific investigations pursuant to FPA section 206.¹⁵² Southern argues that the Commission has failed to satisfy the first prong of its FPA section 206 burden of proof, noting that the NOPR's preliminary conclusion, that existing regional transmission planning processes are not sufficient to address changes in the resource mix and demand, cannot reasonably be made of Southern or SERTP.¹⁵³

¹⁵¹ Louisiana Commission Reply Comments at 5-6.

¹⁵² Mississippi Commission Reply Comments at 7-9.

¹⁵³ Southern Initial Comments at 40; Southern Reply Comments at 1-3.

73. Similarly, Industrial Customers argue that the Commission has not satisfied the first prong of FPA section 206, which requires the Commission to find, and provide substantial evidence supporting its finding, that existing rates are unjust, unreasonable, and unduly discriminatory or preferential.¹⁵⁴ Industrial Customers claim that demand growth should be the primary factor in identifying transmission needs, and that demand is growing more slowly than in previous periods. Industrial Customers add that, in contrast, investment in transmission is rising relative to demand, which is the opposite of the circumstances that prevailed in 2007 when the Commission issued Order No. 890.¹⁵⁵ According to Industrial Customers, changes in demand are not significant enough in historical terms to warrant major changes in transmission planning. Moreover, Industrial Customers state that changes in demand are unpredictable because technological changes are inherently difficult to forecast and the risks to consumers of making mistakes are too high. Industrial Customers argue that, if anything, the rapid growth of renewables indicates that current processes are already facilitating changes in the resource mix.¹⁵⁶ Similarly, NRG argues that long-term forecasts of important factors are often wrong, which has real-world impacts on customers.¹⁵⁷

¹⁵⁴ Industrial Customers Initial Comments at 6-7.

¹⁵⁵ Id. at 8-10.

¹⁵⁶ Id. at 10-11.

¹⁵⁷ NRG Initial Comments at 10-12 (noting, for example, that “[p]redictions for the future price of natural gas and thus the economics of gas generation in long-term forecasts have been notoriously inaccurate.” (citing Lawrence Berkeley National Laboratory, Comparison of AEO 2008 Natural Gas Price Forecast to NYMEX Futures Prices (Jan. 2008)).

74. Further, Industrial Customers contend that the NOPR does not clearly define the term “changes in the resource mix and demand,” despite using such changes as the justification for the proposals. Industrial Customers argue that transmission should only be planned in order to maintain reliability and should not be based on the demand for certain fuel sources or the fuel type of the generation fleet.¹⁵⁸ Industrial Customers argue that current transmission planning is based on known and measurable factors, and that any attempt to plan for potential future changes in the resource mix without determining precisely what these changes will be would result in the overbuilding of the system for generation that may not be built. Industrial Customers argue that this outcome would be unjust and unreasonable and would force transmission customers to pay for generation that is non-existent.¹⁵⁹

¹⁵⁸ Industrial Customers Initial Comments at 7-8.

¹⁵⁹ Id. at 15.

75. Other commenters agree that the Commission lacks a specific record to support the need for reform.¹⁶⁰ For example, former Kansas Commission Chair Keen avers that there is no analytical or evidentiary basis in the NOPR for a complete and thorough overhaul or revision of transmission planning processes.¹⁶¹

¹⁶⁰ See, e.g., Alabama Commission Initial Comments at 4-5; Duke Initial Comments 6-9; Idaho Commission Initial Comments at 2; Industrial Customers Initial Comments at 1, 6-11, 15; Kansas Commission Chair Keen Initial Comments at 1-2; Nebraska Commission Initial Comments at 1-2; NRECA Initial Comments at 14-16; NRG Initial Comments at 3; Ohio Commission Federal Advocate Initial Comments at 5-6; Potomac Economics Initial Comments at 3-4; Southern Initial Comments at 40.

¹⁶¹ Kansas Commission Chair Keen Initial Comments at 2.

76. Duke asserts that the NOPR does not provide robust and specific support as to how and why current regional transmission planning processes are failing to plan for transmission needs driven by changes in the resource mix and demand, leading to inefficient investment.¹⁶² Duke asserts that the NOPR does not support the presumption that the absence of significant regional transmission investment is evidence of inefficient transmission planning.¹⁶³ Duke also asserts that, to ensure legal durability, the Commission should identify evidence that justifies a nationwide finding that current transmission planning processes are failing to plan for transmission needs driven by changes in the resource mix and demand, leading to inefficient investment and unjust, unreasonable, and unduly discriminatory or preferential rates.¹⁶⁴

¹⁶² Duke Initial Comments at 6-7.

¹⁶³ Id. at 7-8.

¹⁶⁴ Id. at 9 (citing Emera Me. v. FERC, 854 F.3d 9, 24 (D.C. Cir. 2017)).

77. Undersigned States argue that the Commission does not have evidence in the record that current rates are unjust, unreasonable, or unduly discriminatory or preferential, which FPA section 206 requires.¹⁶⁵ Undersigned States argue that, contrary to the preliminary findings in the NOPR, the Southeast has developed significant and sufficient transmission infrastructure and renewable energy from 2015-2020. Undersigned States further argue that the Commission is supposed to enhance reliability, and that, because renewables are intermittent and inherently less reliable, forcing ratepayers to subsidize their use through financing the construction of additional transmission infrastructure is not consistent with the Commission's mission. Undersigned States also argue that the Commission has not justified replacing existing transmission planning processes with a new approach, so the NOPR is arbitrary and capricious.¹⁶⁶ Further, Undersigned States argue that the Commission has not offered a detailed justification for countering prior precedent in Order No. 1000 that “the regional transmission planning process is not the vehicle by which integrated resource planning is conducted.” ¹⁶⁷

¹⁶⁵ Undersigned States Reply Comments at 6-7. The Undersigned States that submitted reply comments include the States of Texas, Utah, Alabama, Alaska, Arkansas, Florida, Georgia, Kansas, Kentucky, Louisiana, Mississippi, Montana, Nebraska, Ohio, Oklahoma, South Carolina, and West Virginia. Id. at 1. The Undersigned States that submitted initial comments include the States of Utah, Alaska, Georgia, Idaho, Indiana, Kansas, Kentucky, Louisiana, Mississippi, Montana, Nebraska, North Dakota, Ohio, Oklahoma, South Carolina, Texas, West Virginia, and Wyoming. Undersigned States Initial Comments at 5-6.

¹⁶⁶ Undersigned States Reply Comments at 6-8.

¹⁶⁷ Id. at 8 (citing Order No. 1000, 136 FERC ¶ 61,051 at P 154).

78. Some commenters assert that the intention of the NOPR is to improperly favor certain energy resources.¹⁶⁸ Consumer Organizations argue that solutions that allow for an equitable transition and make space for advancing technology and smaller energy systems are preferrable to a rushed plan that favors certain resources, such as wind, solar, and battery storage, that have already proven to be inadequate.¹⁶⁹ ELCON adds that Congress did not give the Commission express authority to balance the FPA's just and reasonable rates requirement with the policy goal of connecting renewable resources to the transmission system.¹⁷⁰ SERTP Sponsors argue that Congress has not clearly provided the Commission with jurisdiction to presuppose generation decisions and thereby effect particular, substantive transmission outcomes; rather, SERTP Sponsors continue, Congress has expressly and unequivocally reserved generation authority to the states.¹⁷¹ Louisiana Commission argues that the FPA does not confer on the Commission authority to engage in wide-scale public policymaking by enacting sweeping energy policy changes with far-reaching, nationwide effects.¹⁷²

¹⁶⁸ See, e.g., Consumers Organizations Initial Comments at 1-3; ELCON Initial Comments at 9-10.

¹⁶⁹ Consumers Organizations Initial Comments at 1-3.

¹⁷⁰ ELCON Initial Comments at 9-10 (citing 16 U.S.C. 824q(b)(4)).

¹⁷¹ SERTP Sponsors Initial Comments at 18.

¹⁷² Louisiana Commission Initial Comments at 6 (citing West Virginia v. EPA, 597 U.S. 697 (2022)).

79. Ohio Commission Federal Advocate states that the NOPR may be intended “to establish policies designed to encourage the massive transmission build-out that will doubtless be required to transition to an aspirational renewable future” and “to achieve narrow environmental policy objectives, not to address legitimate requirements under the Federal Power Act like ensuring just and reasonable rates or reliability.” ¹⁷³ Former Kansas Commission Chair Keen claims that the NOPR encourages an extensive and expensive transmission build-out without considering the impact on state-jurisdictional generation mixes. He also claims that some of the NOPR proposals impose an accelerated pace for the transition from dispatchable to renewable resources, which could hasten the premature retirement of dispatchable generation and compromise regional and state power reliability. He also expresses concern that the NOPR proposals would force ratepayers in some states to pay for neighboring states' transmission projects to advance public policy goals that they do not share.¹⁷⁴

¹⁷³ Ohio Commission Federal Advocate Initial Comments at 4-5 (citing NOPR, 179 FERC ¶ 61,028, Danly, Comm'r, dissenting, at PP 2-3).

¹⁷⁴ Kansas Commission Chair Keen Initial Comments at 3.

80. Some commenters challenge aspects of the need for reform. For example, Nebraska Commission believes that the established structures in RTO/ISO regions are generally working and that many aspects of the NOPR are thus unnecessary there.¹⁷⁵ Potomac Economics disagrees with some of the Commission's arguments for requiring Long-Term Regional Transmission Planning, contending that the Commission's proposals are based on anticipated future generation and other speculative factors and seem to be incorrectly premised on a presumption that congestion should not exist or may limit investment in economic generation. Potomac Economics states that investment should occur only to the extent that the savings of reducing congestion are larger than the investment costs. According to Potomac Economics, congestion that is caused by generators' siting decisions should be borne by the generation developers, as it will incent them to propose the lowest-cost projects taking transmission costs into account. Potomac Economics argues that, if transmission is expanded preemptively to facilitate generation investment in a particular location, such costs are equivalent to subsidies for the developer.¹⁷⁶

¹⁷⁵ Nebraska Commission Initial Comments at 1-2.

¹⁷⁶ Potomac Economics Initial Comments at 3-4.

81. Mississippi Commission disagrees that too much expansion of high-voltage transmission has occurred through the generator interconnection process instead of through regional transmission planning.¹⁷⁷ Similarly, North Carolina Commission and Staff disagree with the Commission's conclusion that the growth in interconnection-related network upgrades demonstrates a failure of regional transmission planning as it relates to North Carolina.¹⁷⁸ Southern adds that, contrary to statements in the NOPR, it is not significantly expanding its transmission system through the generator interconnection process.¹⁷⁹

¹⁷⁷ Mississippi Commission Initial Comments at 9.

¹⁷⁸ North Carolina Commission and Staff Initial Comments at 5.

¹⁷⁹ Southern Initial Comments at 38-40.

82. Alabama Commission asserts that Alabama has a resource planning process that accounts for needed transmission buildout to maintain reliable service, and thus, Alabama Power plans its transmission system proactively both to maintain deliveries from existing resources and to accommodate Alabama Commission-certified generation additions. Alabama Commission claims that the SERTP process builds on the integrated resource planning efforts of its sponsor states, ensuring that there are no regional transmission solutions that are more efficient or cost-effective than solutions identified through the underlying state-jurisdictional processes.¹⁸⁰

¹⁸⁰ Alabama Commission Initial Comments at 4.

83. Duke argues that, for certain transmission providers, the local transmission planning process may more effectively meet transmission needs, especially when combined with state-regulated integrated resource planning and a bottom-up regional transmission planning process. Duke contends that a regional transmission facility may not fully address local transmission needs such that a local transmission facility would still be needed, and thus, the regional transmission facility is not necessarily more efficient or cost-effective than the local transmission facility.¹⁸¹

¹⁸¹ Duke Initial Comments at 7-9.

84. NRECA states that certain of its members in RTOs/ISOs believe that regional transmission planning is working well to meet long-term needs (e.g., those in MISO) and that the NOPR proposals would burden transmission providers' limited resources. NRECA states that other NRECA members in RTOs/ISOs believe that existing RTO/ISO transmission planning processes contain discrete deficiencies that the NOPR proposals will not remedy. According to NRECA, these electric cooperatives believe that some incumbent investor-owned transmission owners develop local transmission projects without transparency concerning need or costs, leading to disparities in transmission rates across RTO/ISO transmission zones, and that incumbent transmission owners control the transmission planning process such that no regional transmission planning occurs. NRECA states that, in these cooperatives' view, the criteria to determine the eligibility of a regional transmission project is the barrier, and that requiring Long-Term Regional Transmission Planning, by itself, will not solve the problem.¹⁸²

¹⁸² NRECA Initial Comments at 14-16.

C. Commission Determination

85. Based on the record, we find that there is substantial evidence to support the conclusion that the Commission's existing regional transmission planning and cost allocation requirements are unjust, unreasonable, and unduly discriminatory or preferential. We therefore adopt the preliminary findings in the NOPR concerning the need for reform. Specifically, we find that the absence of sufficiently long-term, forward-looking, and comprehensive transmission planning requirements is causing transmission providers to fail to adequately anticipate and plan for future system conditions. It causes transmission providers to fail to appropriately evaluate the benefits of transmission infrastructure, and results in piecemeal transmission expansion to address relatively near-term transmission needs. We find that this status quo causes transmission providers to undertake relatively inefficient investments in transmission infrastructure, the costs of which are ultimately recovered through Commission-jurisdictional rates. This dynamic results in, among other things, transmission customers paying more than necessary or appropriate to meet their transmission needs and forgoing benefits that outweigh their costs, which results in less efficient or cost-effective transmission investments. As explained below, we find that these deficiencies render Commission-jurisdictional regional transmission planning and cost allocation processes unjust, unreasonable, and unduly discriminatory or preferential.

86. The Commission has authority under FPA section 206 to issue this final order. Specifically, FPA section 206 “instructs the Commission to remedy `any . . . practice' that `affect[s]' a rate for interstate electricity service `demanded' or `charged' by `any public utility' if such practice is `unjust, unreasonable, unduly discriminatory or preferential.'” ¹⁸³ As the D.C. Circuit has recognized, regional transmission planning and cost allocation processes are practices affecting rates subject to the Commission's exclusive jurisdiction.¹⁸⁴ As the Court explained in South Carolina Public Service Authority v. FERC, transmission providers use those processes to “determine which transmission facilities will more efficiently or cost-effectively meet” transmission needs, the development of which directly impacts the rates, terms, and conditions of Commission-jurisdictional service.¹⁸⁵ In particular, because these processes identify, evaluate, and select the regional transmission facilities whose costs will be recovered through transmission rates, we find that they directly affect those rates.¹⁸⁶ In addition, as discussed below, such transmission facilities contribute to the development of a more robust transmission system, supporting continuity of service in the face of growing reliability challenges and providing wholesale electric customers greater access to lower-cost generation supplied by a wider range of resources. Accordingly, regional transmission planning and cost allocation processes, as well as “the rules and practices that determine how those [processes] operate,”¹⁸⁷ have a direct effect on the rates that customers pay for both the transmission and sale of electric energy in interstate commerce.¹⁸⁸ The Commission may act pursuant to FPA section 206 if the Commission first establishes, through substantial evidence,¹⁸⁹ that the existing practices are unjust, unreasonable, or unduly discriminatory or preferential and, second, establishes that the replacement practices are just and reasonable.¹⁹⁰

¹⁸³ S.C. Pub. Serv. Auth. v. FERC, 762 F.3d at 55 (quoting 16 U.S.C. 824e(a)).

¹⁸⁴ Id. at 55-59, 84 (affirming the Commission's authority to regulate transmission planning and cost allocation as practices affecting rates); see also Order No. 1000-A, 139 FERC ¶ 61,132 at P 577 (holding that “requirements regarding transmission planning and cost allocation . . . are practices affecting rates.”).

¹⁸⁵ S.C. Pub. Serv. Auth. v. FERC, 762 F.3d at 56 (citing Order No. 1000, 136 FERC ¶ 61,051 at PP 112, 116); see also Emera Me. v. FERC, 854 F.3d at 674.

¹⁸⁶ That is true even if regional transmission planning and cost allocation processes do not result in the development, siting, and construction of every regional transmission facility that transmission providers select to more efficiently or cost-effectively meet transmission needs. See, e.g., Conn. Dep't of Pub. Util. Control v. FERC, 569 F.3d 477, 485 (D.C. Cir. 2009) (holding that “even if all [that] the I[nstalled] C[apacity] R[equirement] did was help to find the right [capacity] price,” rather than result in the construction or procurement of any new capacity, “it would still amount to a `practice . . . affecting' rates.” (citing 16 U.S.C. 824e(a) (omission in original))).

¹⁸⁷ FERC v. Elec. Power Supply Ass'n, 577 U.S. 260, 279 (2016) (EPSA).

¹⁸⁸ 16 U.S.C. 824e(a).

¹⁸⁹ S.C. Pub. Serv. Auth. v. FERC, 762 F.3d at 54 (“The Commission's factual findings are conclusive if supported by substantial evidence.”). Courts have held that substantial evidence in this context does not necessarily require the Commission to provide empirical evidence for every proposition. Rather, FPA section 206 empowers the Commission to address a mere threat of unjust and unreasonable rates. See S.C. Pub. Serv. Auth. v. FERC, 762 F.3d at 64-65, 85.

¹⁹⁰ 16 U.S.C. 824e(a); see also EPSA, 577 U.S. at 277 (affirming the Commission “has the authority—and indeed, the duty—to ensure that rules or practices `affecting' wholesale rates are just and reasonable”).

87. With regard to the first showing under FPA section 206, we find that, while Order No. 890 requires transmission providers to satisfy certain principles in their local transmission planning processes and Order No. 1000 requires transmission providers to participate in regional transmission planning and cost allocation processes that satisfy the requirements set forth therein, these existing transmission planning and cost allocation requirements do not result in regional transmission planning that is conducted on a sufficiently long-term, forward-looking, and comprehensive basis to plan for Long-Term Transmission Needs. As a result, we find that transmission providers are often not identifying, evaluating, or selecting more efficient or cost-effective regional transmission solutions to meet Long-Term Transmission Needs. This gap in existing regional transmission planning processes results in piecemeal, inefficient, and less cost-effective transmission planning that imposes real costs on customers, who pay Commission-jurisdictional transmission rates for less efficient or cost-effective transmission facilities and do not realize the benefits that would result from long-term, forward-looking, and more comprehensive regional transmission planning and cost allocation processes that identify, evaluate, and select more efficient or cost-effective transmission solutions to Long-Term Transmission Needs.

88. We find that these deficiencies in the Commission's existing transmission planning and cost allocation requirements render those requirements unjust, unreasonable, and unduly discriminatory or preferential in violation of FPA section 206.

89. We also find that the Commission's existing transmission planning and cost allocation requirements are insufficient to ensure just and reasonable and not unduly discriminatory or preferential rates. Given these findings, we are now requiring, pursuant to FPA section 206, that transmission providers engage in and conduct sufficiently long-term, forward-looking, and comprehensive transmission planning and cost allocation processes to identify and plan for Long-Term Transmission Needs. We find that these reforms will facilitate a process by which transmission providers can better identify, evaluate, and select more efficient or cost-effective transmission solutions to meet Long-Term Transmission Needs, which will ensure that Commission-jurisdictional rates are just and reasonable and not unduly discriminatory or preferential.

1. The Transmission Investment Landscape Today

90. As the Commission explained in the NOPR, a robust, well-planned transmission system is foundational to ensuring an affordable, reliable supply of electricity.¹⁹¹ Due to continuing changes in the industry, ongoing investment in transmission facilities is necessary to ensure the transmission system continues to serve load in a reliable,¹⁹² affordable, and economically efficient fashion. Such investments support enhanced reliability, as larger, more integrated transmission systems result in a diversity of supply and demand conditions and a certain degree of redundancy that allows the system to better withstand failures during extreme events.¹⁹³ Proactive, forward-looking transmission planning that considers both evolving reliability needs and other drivers of transmission needs more comprehensively can enable transmission providers to identify potential reliability problems and economic constraints, as well as to evaluate potential transmission solutions, well in advance of these issues affecting the transmission system,¹⁹⁴ which can facilitate the selection of more efficient or cost-effective transmission facilities to meet Long-Term Transmission Needs.

¹⁹¹ NOPR, 179 FERC ¶ 61,028 at P 28 (citing 16 U.S.C. 824, 824d, 824e); see also US DOE ANOPR Initial Comments at 2 (stating that “strengthening and expanding existing transmission infrastructure, particularly the development of regional and inter-regional transmission projects, is key to continued access to reliable, resilient, lower-cost, and clean electricity for all”).

¹⁹² See, e.g., MISO ANOPR Initial Comments at 40; Testimony of James B. Robb Before the U.S. Senate Energy and Natural Resources Committee, Reliability, Resiliency, and Affordability of Electric Service in the United States Amid the Changing Energy Mix and Extreme Weather Events, at 8-9 (Mar. 11, 2021), https://www.energy.senate.gov/services/files/D47C2B83-A0A7-4E0B-ABF2-9574D9990C11 (testifying that more transmission infrastructure is required to ensure the reliability and resilience of the bulk power system in light of changing conditions).

¹⁹³ ACORE ANOPR Initial Comments Ex. 4, Grid Strategies July 2021 Extreme Weather Report; Mark Chupka & Pearl Donohoo-Vallett, Recognizing the Role of Transmission in Electric System Resilience (May 2018), https://wiresgroup.com/wp-content/uploads/2020/06/2018-05-09-Brattle-Group-Recognizing-the-Role-of-Transmission-in-Electric-System-Resilience-.pdf; NERC ANOPR Initial Comments at 17-18; US DOE ANOPR Initial Comments at 18.

¹⁹⁴ MISO's Multi-Value Project (MVP) regional transmission planning process, for example, eliminated the need for approximately $300 million in reliability transmission facilities, resolving reliability violations and mitigating system instability conditions, through a forward-looking approach. Midcontinent Independent System Operator, MTEP17 MVP Triennial Review: A 2017 review of the public policy, economic, and qualitative benefits of the Multi-Value Project Portfolio, at 11, 33 (Sept. 2017) (MTEP2017 Review).

91. In addition, transmission infrastructure can unlock the forces of competition, changing who can sell to whom, eliminating barriers to entry, and mitigating market power.¹⁹⁵ Increased competition, in turn, can provide a host of benefits for customers, including cost-savings from greater access to low-cost power and a wider range of resources.¹⁹⁶ Transmission infrastructure can also serve as a form of insurance against future uncertainties because a more robust, integrated transmission system has the potential to provide consumers with the benefits of competition and enhanced reliability even if supply and demand fundamentals change over time.¹⁹⁷

¹⁹⁵ Policy Integrity ANOPR Initial Comments at 13 n.40 (“A new transmission project can enhance competition by both increasing the total supply that can be delivered to consumers and the number of suppliers that are available to serve load.” (citing Mohamed Awad et al., The California ISO Transmission Economic Assessment Methodology (TEAM): Principles and Applications to Path 26, at 3 (2006)); PIOs ANOPR Initial Comments Ex. A, Johannes Pfeifenberger et al., The Brattle Group and Grid Strategies, Transmission Planning for the 21st Century: Proven Practices that Increase Value and Reduce Costs, at 48-49 (Oct. 2021) (Brattle-Grid Strategies Oct. 2021 Report), https://www.brattle.com/wp-content/uploads/2021/10/2021-10-12-Brattle-GridStrategies-Transmission-Planning-Report_v2.pdf (“Expansion of the transmission network typically increases the number of independent wholesale electricity suppliers that are able to compete to supply electricity at locations in the transmission network served by the upgrade . . . .” (quoting F.A. Wolak, World Bank, Managing Unilateral Market Power in Electricity, Policy Research Working Paper No. 3691, at 8 (2005))).

¹⁹⁶ See, e.g., PJM Interconnection, L.L.C., PJM Value Proposition, at 1-2 (2019), https://www.pjm.com/about-pjm/~/media/about-pjm/pjm-value-proposition.ashx (PJM's planning of resource adequacy over a large region is estimated to result in savings of $1.2-1.8 billion.); Midcontinent Independent System Operator, MISO Value Proposition (2020), https://www.misoenergy.org/meet-miso/MISO_Strategy/miso-value-proposition/ (MISO estimated $517-572 million in savings from more efficient use of existing assets and $2.5-3.2 billion from reduced need for additional assets.); SPP Transmission Planning, Southwest Power Pool, SPP's Value of Transmission: 2021 Report and Update (Mar. 31, 2022) (SPP estimated $382.7 million in adjusted product costs savings in 2020 due to transmission investment.); see also ACEG Initial Comments at 3-4 (“The benefits generated by MISO's MVPs and SPP's Priority Projects exceeded the costs by 2.2 to 3.5 times and means that every dollar spent on transmission will enable access to generation that is $3 to $4 cheaper than would otherwise be available.”).

¹⁹⁷ US DOE, National Electric Transmission Congestion Study, at 11 (Sept. 2015), https://www.energy.gov/sites/prod/files/2015/09/f26/2015%20National%20Electric%20Transmission%20Congestion%20Study_0.pdf (stating transmission expansion can strengthen and increase the flexibility of the overall network and “create real options to use the transmission system in ways that were not originally envisioned”); Vikram S. Budhraja et al., Improving Electricity Resource Planning Processes by Considering the Strategic Benefits of Transmission, 22 ELEC. J. 54 (Mar. 2009) (high voltage transmission affords “mitigation of risks as a form of insurance against extreme events”).

92. With that overview, we again begin with the key facts on the ground.¹⁹⁸ Since the issuance of Order No. 1000, transmission spending has continued to increase nationwide. A study by US DOE found that “annual investment [in transmission] first exceeded $5 billion per year in 2006 . . . and has increased consistently since that time. Annual investment [] doubled to more than $10 billion per year by 2010 and then [] doubled again by 2016. Annual investment has been between $18 billion and $22 billion annually since 2014.” ¹⁹⁹ A separate study, noted by the Commission in the NOPR, estimated that transmission developers in the United States invested $20 to $25 billion annually in transmission facilities from 2013 to 2020.²⁰⁰ Unsurprisingly, in regions that saw a significant increase in transmission expenditures, transmission costs have also become an increasing share of customers' overall electricity bills, underscoring the importance of ensuring that transmission investments are efficient and cost-effective.²⁰¹

¹⁹⁸ NOPR, 179 FERC ¶ 61,028 at P 36.

¹⁹⁹ California Commission Reply Comments at 9 n.27 (quoting US DOE, National Electric Transmission Congestion Study, at 9-10 (Sept. 2020), https://www.energy.gov/sites/default/files/2020/10/f79/2020%20Congestion%20Study%20FINAL%2022Sept2020.pdf).

²⁰⁰ NOPR, 179 FERC ¶ 61,028 at P 39 (citing Brattle-Grid Strategies Oct. 2021 Report at 2); Brattle Apr. 2019 Competition Report at 2-3 & fig.1.

²⁰¹ Resale Iowa Initial Comments at 3 (“[T]ransmission costs have comprised an increasing percentage of [] total wholesale electric costs [for Resale Iowa's members]. Currently, transmission and ancillary services constitute approximately 43% of such costs, as compared to 18.1% in 2009.”); Industrial Customers Initial Comments at 5 (showing that transmission costs made up just 7% of the total PJM electricity bill in 2011 but 27% by 2020); Rob Gramlich and Jay Caspary, Americans for a Clean Energy Grid, Planning for the Future: FERC's Opportunity to Spur More Cost-Effective Transmission Infrastructure, at 26-28 (Jan. 2021), https://cleanenergygrid.org/wp-content/uploads/2021/01/ACEG_Planning-for-the-Future1.pdf (ACEG Jan. 2021 Planning Report) (stating that the current approach to transmission planning “results in higher total energy bills for customers than would result from more forward-looking, holistic transmission planning”); see also California Municipal Utilities Initial Comments at 10 (projecting that between 2022 and 2040, total high and low-voltage transmission access charges will nearly double and noting that “[g]one are the days when transmission was a de minimis portion of the overall bill and increases had little impact on the end consumer”); Public Systems Initial Comments at 5 (noting that “New England's Regional Network Service transmission rate has grown nine-fold, from $15.60 per kW-year (in 2003) to $140.98 per kW-year (in 2021)”).

93. Furthermore, the record demonstrates that transmission investment is likely to substantially increase in coming years. A number of studies project significant and sustained transmission spending through at least 2050. For example, one projection cited by the US DOJ and FTC states that “high voltage transmission capacity must expand by 60 percent by 2030 at a capital cost of $330 billion, and must triple by 2050 at a capital cost of $2.2 trillion.” ²⁰² TAPS cites a separate study projecting $750 billion of new transmission investment between 2023 and 2050.²⁰³ SoCal Edison “estimates that grid investments of up to $75 billion, including transmission upgrades, will be required from 2030 to 2045 in California alone to integrate bulk renewable generation and storage and serve load growth associated with electrification.” ²⁰⁴ And ISO-NE's recently-completed 2050 Transmission Study estimates that transmission investment in New England will range from $16 billion to $26 billion between 2024 and 2050, depending on the amount of load growth realized in the region.²⁰⁵

²⁰² US DOJ and FTC Initial Comments at 3 (citing Eric Larson et al., Net-Zero America: Potential Pathways, Infrastructure, and Impacts, Princeton Univ., 108 (Oct. 2021), https://netzeroamerica.princeton.edu/the-report).

²⁰³ TAPS Initial Comments at 46 & n.133 (citing Jürgen Weiss et al., The Brattle Group, The Coming Electrification of the North American Economy, at iii (2019), https://wiresgroup.com/wp-content/uploads/2020/05/2019-03-06-Brattle-Group-The-Coming-Electrification-of-the-NA-Economy.pdf)).

²⁰⁴ SoCal Edison Initial Comments at 2 (citing Southern California Edison, Pathway 2045: Update to the Clean Power and Electrification Pathway (2019), https://download.newsroom.edison.com/create_memory_file/?f_id=5dc0be0b2cfac24b300fe4ca&content_verified=True) (emphasis added)).

²⁰⁵ ISO-NE, 2050 Transmission Study, at 55-56 (Feb. 12, 2024), https://www.iso-ne.com/static-assets/documents/100008/2024_02_14_pac_2050_transmission_study_final.pdf.

94. The growing need for new transmission infrastructure, particularly over a longer time horizon, is being driven by a number of factors. First, longer-term reliability needs are changing. The NOPR explained that transmission system operators are increasing their reliance on regional transmission facilities to ensure operational stability, particularly because of the growing frequency of extreme weather events and increasing share of variable resources entering the resource mix.²⁰⁶ The comments submitted in response to the NOPR support that preliminary finding. The record shows that changing reliability needs are driving a significant shift in demands placed on the transmission system,²⁰⁷ and that because extreme weather events are occurring with greater frequency, transmission is increasingly critical to ensuring system reliability.²⁰⁸ For example, Winter Storm Uri demonstrated that transmission infrastructure can make critical contributions to system reliability during extreme weather events,²⁰⁹ as well as how transmission constraints can prevent operational generation resources from being able to serve load during tight supply conditions.²¹⁰ Consistent with experience from Winter Storm Uri, US DOE's Lawrence Berkeley National Laboratory provides further evidence of the significant value of transmission during unanticipated events, with research suggesting that 50% of the value created by alleviating transmission system congestion occurs during only 5% of the hours during which the transmission system is used.²¹¹ Thus, transmission investment is likely to be more critical, and produce more reliability benefits, for customers as extreme weather and other system contingencies become more frequent.²¹² For some communities who can be more susceptible to the impacts of extreme weather, like communities of color and low-income communities, transmission investment has the potential to be even more critical.²¹³ Conversely, failure to adequately plan the transmission system to meet such changing reliability needs will forgo many of those potential benefits, jeopardize system reliability, and force customers to pay for transmission facilities that may not efficiently or cost-effectively address urgent reliability needs.

²⁰⁶ NOPR, 179 FERC ¶ 61,028 at P 45.

²⁰⁷ ACEG Initial Comments at 5 (noting that weather-related power outages cost Americans $25-70 billion annually (citing Grid Strategies July 2021 Extreme Weather Report at 1)); id. at 52 (explaining that “[c]hanges to the transmission planning processes that would allow for certain transmission upgrades identified in the interconnection process to be addressed and ultimately constructed through the transmission planning process will only serve to increase the resiliency and reliability of the transmission system.”); ACEG Reply Comments at 5-6 (“[R]eliability requires long term transmission planning that incorporates known and knowable information about the future resource mix.”); NERC Initial Comments at 6 (“Transmission will be the key to support the resource transformation enabling delivery of energy from areas that have surplus energy to areas which are deficient. The frequency of such occurrences are increasing as extreme weather conditions resulting from climate change impact the fuel sources for variable energy resources. Regional transmission planning can ensure that sufficient amounts of transmission capacity will be needed to address these more frequent extreme weather conditions.”).

²⁰⁸ See DC and Maryland Offices of People's Counsel Reply Comments at 2 (noting that new transmission development has benefits including enhanced reliability and resilience that will serve as a necessary bulwark against disruptions caused by extreme weather); Indicated PJM TOs Initial Comments at 1 (explaining that maintaining a “reliable and resilient” transmission system requires holistic planning); NESCOE Initial Comments at 32-33 (“ISO-NE explains that energy-security risks in New England are well documented, highlighting the importance of conducting comprehensive energy security assessments covering a wide range of operating conditions, including low-probability, high-impact reliability risks (tail risks) related to extreme weather” (internal quotations omitted)); NYISO Initial Comments at 16 (expressing a desire to engage in actionable scenario planning to plan for future reliability challenges that may arise due to extreme weather, including the loss of all generation connected to a pipeline or other fuel sources, loss of an entire transmission line, and impacts from weather events like hurricanes or wildfires).

²⁰⁹ ACEG Initial Comments at 22 n.63 (During Winter Storm Uri, “[a]n additional 1 gigawatt (GW) of transmission ties between ERCOT and the Southeastern U.S. could have saved nearly $1 billion and kept power flowing to hundreds of thousands of Texans.” (citing Grid Strategies July 2021 Extreme Weather Report at 1-3, 12)); Grid Strategies July 2021 Extreme Weather Report at 7-8 (“The value of transmission for resilience can be seen in the drastically different outcomes of MISO and SPP relative to ERCOT during [Winter Storm Uri]. . . . In contrast to the 13,000 MW MISO was importing during the peak of [the] event, ERCOT was only able to import about 800 MW of power throughout the event.”); NARUC Initial Comments at 67 n.192 (During Winter Storm Uri, SPP's “ `relationships and interconnections with neighboring systems were critical. Usually a net exporter of energy, SPP relied significantly on imported energy to serve load during the winter event, with net amounts exceeding 6,000 megawatts (MW) at times. This emphasizes the value these relationships and robust transmission interconnections provide during emergency events and the opportunity to further strengthen them.' ” (quoting Southwest Power Pool, A Comprehensive Review of Southwest Power Pool's Response to the February 2021 Winter Storm: Analysis and Recommendations, at 9 (July 2021), https://spp.org/documents/65037/comprehensive%20review%20of%20spp%27s%20response%20to%20the%20feb.%202021%20winter%20storm%202021%2007%2019.pdf (brackets omitted))).

²¹⁰ See Advanced Energy Buyers Initial Comments at 3.

²¹¹ ACORE Initial Comments at 10-11 (citing LBNL Aug. 2022 Transmission Value Study at 33); US DOE Initial Comments at 5-6 & n.13.

²¹² ACORE Initial Comments at 11 (citing LBNL Aug. 2022 Transmission Value Study at 33; see also Clean Energy Associations Initial Comments at 5.

²¹³ See, e.g., WE ACT Initial Comments at 1-2 & n.3 (citing Jeff Turrentine, NRDC, A Roadmap for Frontline Communities (Dec. 2019)); see also Grand Rapids NAACP Initial Comments at 8 n.20 (“[P]ower outages uniquely burden low-income communities of color `given that they are unable to `bounce back' as quickly from events that damage food and medicine supplies' ” (citing Shalanda Baker et al., The Energy Justice Workbook 20 (2019), https://iejusa.org/wp-content/uploads/2019/12/The-Energy-Justice-Workbook-2019-web.pdf)).

95. Second, demand is changing. After many years of flat or minimal load growth in regions across the country, demand, on both a national and a regional basis, is projected to significantly increase in the coming decades, and it will require an increasingly robust transmission system to reliably serve this load growth. As stated in the NOPR, changes in electric demand and associated load profiles are occurring as load-serving entities work to meet increasing needs due to electrification trends, as well as new large loads associated with evolving industrial and commercial needs, such as growth in data centers.²¹⁴ The comments submitted in this record demonstrate that, in regions across the country, customers are electrifying everything from household appliances to vehicles.²¹⁵ Comments also substantiate the fact that, in many regions, large loads associated with new and emerging industrial needs, like data centers, are driving rapid load growth.²¹⁶ Estimates quantifying the magnitude of this shift show that it is significant, with nationwide demand for electricity projected to increase by 5% to 15% (200 to 600 TWh) by 2030.²¹⁷ That trend is projected not just to continue but to accelerate, with nationwide demand for electricity projected to increase by 25% to 85% (1,100 to 3,700 TWh) by 2050.²¹⁸ Industrial customers in many regions are driving much of this increase; industry executives have reported that electrification initiatives, through which many of the Nation's largest companies plan to electrify their manufacturing processes, transportation, and heating operations, are well underway or soon to begin.²¹⁹ Importantly, the record shows that these increases in aggregate demand for electricity will have significant consequences for the transmission system. To serve more load, the capacity of the already-oversubscribed transmission system will need to increase.²²⁰ Moreover, load growth driven primarily by electrification can create a load profile that has a higher load factor and that is thus more challenging to serve.²²¹

²¹⁴ NOPR, 179 FERC ¶ 61,028 at PP 45, 51. The continuation and, in some instances, acceleration of these trends identified in the ANOPR and NOPR counters certain commenters' concerns that changes in demand are inherently unpredictable or that existing regional transmission planning processes are adequately identifying and addressing transmission needs. Compare infra notes 21515-2188 and accompanying discussion, with Potomac Economics Initial Comments at 3-4 (arguing that Long-Term Regional Transmission Planning that requires speculating about future uncertainty is not advisable), and Industrial Customers Initial Comments at 10-11 (arguing that changes in demand are unpredictable).

²¹⁵ AEE Initial Comments at 1, 14 (noting that, as of 2022, “[n]ine states have also taken steps directly to promote electrification of transportation and buildings. Individuals and governments are also adopting electric vehicles; for example, light-duty electric vehicle sales have increased from 10,092 vehicles in 2011 to 459,426 vehicles in 2021, over a 4400% increase.”); Renewable Northwest Initial Comments at 20 (explaining that heat pumps installed as part of building electrification could add large new weather-dependent loads, estimated at 20,000 to 40,000 MW of incremental peak capacity by 2050 across the Pacific Northwest); see also AMP Initial Comments at 4; ISO-NE, Operational Impact of Extreme Weather Events: Final Report on the Probabilistic Energy Adequacy Tool (PEAT) Framework and 2027/2032 Study Results, at 190-94 (Nov. 2023) (providing sensitivity that included 15% and 10% increases in peak load and average hourly loads, respectively, driven by heating and vehicle electrification); U.S. Energy Info. Admin. (EIA), Incentives and Lower Costs Drive Electric Vehicle Adoption in Our Annual Energy Outlook, (May 15, 2023) (noting that, per 2023 Annual Energy Outlook Projections, electric vehicles will account for between 13% and 29% of new light-duty vehicle sales in the United States, and between 11% and 26% of then on-road light duty vehicle stocks, by 2050).

²¹⁶ See, e.g., Transmission Dependent Utilities Initial Comments at 4-5 (“For example, the PJM Interconnection, L.L.C. Transmission Expansion Advisory Committee recently posted that Dominion Energy Virginia will need over $603 million in transmission upgrades through 2025—just three years from now—to accommodate significant data center load growth in Northern Virginia.” (citing PJM Transmission Advisory Committee, Reliability Analysis Update, at 3, 5 (Aug. 9, 2022))). These trends are continuing and even accelerating. See PJM Interconnection, L.L.C., PJM Load Forecast Report, at 1 (Jan. 2024), https://www.pjm.com/-/media/library/reports-notices/load-forecast/2024-load-report.ashx (noting upward adjustments in 2024 load forecasts for certain zones to account for large, unanticipated load growth driven by data centers, a chip processing plant, and port electrification, among other factors); id. at 78 (projecting increase from 2,333 GWh in 2024 to 130,489 GWh in 2039 due to plug-in electric vehicles); id. at 30 (showing 1.0% higher load growth projection for 2024, 6% higher load growth projection for 2029, and 10.4% higher load growth projection for 2034, as compared to 2023 Load Forecast Report).

²¹⁷ National Grid Initial Comments at 8 (citing Jürgen Weiss et al., The Brattle Group, The Coming Electrification of the North American Economy (Mar. 2019), https://wiresgroup.com/wp-content/uploads/2020/05/2019-03-06-Brattle-Group-The-Coming-Electrification-of-the-NA-Economy.pdf).

²¹⁸ Id.; see also John D. Wilson and Zach Zimmerman, Grid Strategies, The Era of Flat Power Demand is Over, at 3 (Dec. 2023), https://gridstrategiesllc.com/wp-content/uploads/2023/12/National-Load-Growth-Report-2023.pdf (“Over [2023], grid planners nearly doubled the 5-year load growth forecast. The nationwide forecast of electricity demand shot up from 2.6% to 4.7% growth over the next five years, as reflected in 2023 FERC [Form 714] filings. Grid planners forecast peak demand growth of 38 gigawatts (GW) through 2028.”); N. Amer. Elec. Reliability Corp., 2023 Long-Term Reliability Assessment, at 33 (Dec. 2023), https://www.nerc.com/pa/RAPA/ra/Reliability%20Assessments%20DL/NERC_LTRA_2023.pdf (“Electricity peak demand and energy growth forecasts over the 10-year assessment period are higher than at any point in the past decade. The aggregated assessment area summer peak demand forecast is expected to rise by 79 GW, and aggregated winter peak demand forecasts are increasing by nearly 91 GW. Furthermore, the growth rates of forecasted peak demand and energy have risen sharply since the 2022 [Long-Term Reliability Assessment], reversing a decades-long trend of falling or flat growth rates.”).

²¹⁹ Renewable Northwest Initial Comments at 20 (“A recent study done by Deloitte showed that 70 percent of executives in industrial manufacturing industries have plans for the electrification of industrial processes, and 50 percent of the executives who responded have goals to electrify vehicle fleets and space and water heating within their companies by 2030.” (citing Stanley Porter et al., Deloitte, Electrification in Industrials (Aug. 2020), https://www2.deloitte.com/us/en/insights/industry/power-and-utilities/electrification-in-industrials.html)).

²²⁰ See, e.g., National Grid Initial Comments at 6 (discussing preliminary findings of the ISO-NE 2050 Transmission Study, which show “significant new transmission will be needed to reliably serve” increased future loads assumed in the study (citing ISO-NE, 2050 Transmission Study (2023), https://www.iso-ne.com/static-assets/documents/2023/08/2050_study_ma_cetwg_2023_aug_final.pdf)); Northwest and Intermountain Initial Comments at 5 n.12 (“For example, Bonneville Power Administration (`BPA') owns about 75 percent of the transmission lines in the Pacific Northwest. In BPA's 2022 Transmission Service Expansion Plan cluster study, customers submitted 153 separate transmission service requests totaling 11,831 MW of transmission capacity. BPA was able to offer service (without requiring detailed studies and transmission upgrades) to only 275 MWs of those service requests.” (citing BPA, TSR Study and Expansion Process, at 12 (Dec. 2021), https://www.bpa.gov/-/media/Aep/transmission/atc-methodology/2021-22tsep-overview.pdf.)).

²²¹ MISO Initial Comments at 54 (“In addition, a return to load growth driven primarily by the electrification of transportation, space heating and water heating is creating a load profile that has a higher load factor and is more challenging to serve.”). Load factor refers to “[t]he ratio of the average load to peak load during a specified time interval.” U.S. Energy Info. Admin. (EIA), Glossary (last visited Mar. 2024), https://www.eia.gov/tools/glossary/index.php?id=L.

96. Third, supply is changing. As the NOPR explained, Federal, state, and local policies are incentivizing various forms of generation resources and other technologies,²²² resulting in changes to the Nation's resource mix. The comments in this record show that these policies are widespread and now span many regions of the country. States and cities in the Northeast,²²³ Mid-Atlantic,²²⁴ Midwest,²²⁵ West,²²⁶ and Southeast ²²⁷ have adopted binding state laws requiring emissions reductions. Moreover, with the passage of the Inflation Reduction Act in 2022, Congress has enacted legislation that will further spur investment nationwide in renewable and non-emitting resources.²²⁸

²²² NOPR, 179 FERC ¶ 61,028 at P 45.

²²³ National Grid Initial Comments at 6-7 (explaining how all six states in New England have renewable energy standards and how ISO-NE's 2050 Transmission Study demonstrates the demands that meeting those standards will place on New England's transmission system); id. at 7 (explaining how the Climate Leadership and Community Protection Act enacted in New York State requires 70% renewable generation by 2030, zero-emissions by 2040, and 85% economy-wide emissions reductions by 2050, and that transmission infrastructure will be critical in meeting those goals); NESCOE Initial Comments at 15 (“Achieving a decarbonized system is required by laws and mandates in Connecticut, Maine, Massachusetts, Rhode Island, and Vermont.”).

²²⁴ DC and MD Offices of People's Counsel Initial Comments at 18 (noting that “both Maryland and the District have adopted ambitious jurisdiction-wide decarbonization policies applicable to the [electric distribution companies] regulated by their respective public service commissions.”).

²²⁵ Illinois Commission Initial Comments at 5 (explaining that “[i]n Illinois, the Climate and Equitable Jobs Act of 2021 . . . will affect the future resource mix and demand and lead to decarbonization and electrification. For example, [it] requires Illinois to completely transition to clean energy by 2050 and facilitates electrification through the promotion of electric vehicles.”).

²²⁶ Renewable Northwest Initial Comments at 6 (explaining that, “[c]urrently, 80 percent of NorthernGrid's load is subject to state clean energy laws, and by 2040 NorthernGrid will have 65 percent carbon-free energy.”); id. at 21 (explaining that Washington state's “SB 5974 sets a goal of all vehicles sold in 2030 and beyond to be [electric vehicles], with that goal becoming a mandate in 2035[.]”).

²²⁷ SREA Initial Comments at 25 (noting that North Carolina has adopted Renewable Energy and Energy Efficiency Portfolio Standards and enacted the North Carolina Carbon Plan).

²²⁸ ACORE Initial Comments at 1-2 & n.2 (projecting that “annual additions increasing from 15 GW of wind and 10 GW of utility-scale solar PV in 2020 to an average of 39 GW/year of wind additions in 2025-2026 (~2x the 2020 pace) and 49 GW/year of solar (~5x the 2020 pace), with solar growth rates increasing thereafter.” (citing REPEAT Project, Preliminary Report: The Climate and Energy Impacts of the Inflation Reduction Act of 2022, at 15 (2022), https://repeatproject.org/docs/REPEAT_IRA_Prelminary_Report_2022-08-12.pdf)); CARE Coalition Initial Comments at 17 (“Analysis suggests that the [Inflation Reduction Act] could more than triple clean energy production in the U.S. and lead to $600 billion in capital investment in clean energy infrastructure.” (citing American Clean Power Ass'n, It's a Big Deal for Job Growth and for a Clean Energy Future (2022), https://cleanpower.org/blog/its-a-big-deal-for-job-growth-and-for-a-clean-energy-future)); Evergreen Action Initial Comments at 3-4 (discussing model showing that clean energy could comprise up to 81% of all U.S. generation as a result of increased incentives in the Inflation Reduction Act (citing John Larsen et al., Rhodium Group, A Turning Point for US Climate Progress: Assessing the Climate and Clean Energy Provisions in the Inflation Reduction Act (2022), https://rhg.com/research/climate-clean-energy-inflation-reduction-act)); NextEra Reply Comments at 5 (“The signing of the Inflation Reduction Act of 2022 . . . will only increase the demand for renewables in the coming years and accelerate corresponding demands on the transmission system.”).

97. Customers are also driving changes in the resource mix. In addition to increasing their aggregate demand for electricity, the NOPR explained that customers, including major corporations, in many regions are increasingly demanding that load be served by renewable or non-emitting resources.²²⁹ Substantial evidence in the record supports the existence of this trend. Since 2014, for example, “commercial and industrial customers have contracted for more than 52 GW of clean energy[.]” ²³⁰ Furthermore, this trend is accelerating. In 2021 alone, energy customers voluntarily contracted for “11.06 GW of clean energy.” ²³¹ The record demonstrates that, going forward, this shift is projected to continue, as forecasts show that Fortune 1000 companies will have up to 85 GW of new demand for renewable energy to meet their public sustainability commitments for 2030.²³² As also noted in the NOPR, utilities in many regions have made commitments to procure most or all of their electricity from renewable or non-emitting resources. For example, Exelon,²³³ Dominion,²³⁴ AEP,²³⁵ and Southern ²³⁶ have all committed to achieve net-zero emissions by 2050, and each has set an interim goal to significantly reduce emissions by 2030. And, although utility commitments vary by utility and by region, the record shows that many utilities have announced some future emissions target.²³⁷

²²⁹ NOPR, 179 FERC ¶ 61,028 at P 45.

²³⁰ Advanced Energy Buyers Initial Comments at 5 (citing Clean Energy Buyers Alliance, State of the Market 2022, https://cebuyers.org/state-of-the-market/).

²³¹ Clean Energy Buyers Initial Comments at 7.

²³² Clean Energy Buyers Initial Comments at 7 n.13 (citing Clean Energy Buyers ANOPR Initial Comments at 21-22).

²³³ Exelon Initial Comments at 2 (“Exelon has established ambitious targets and aims to be a leader in clean energy by continuing to reduce its own greenhouse gas emissions, including reducing operations-driven emissions 50 percent by 2030, relative to a 2015 baseline, and achieving net-zero operations by 2050.” (citing Calvin Butler, Exelon Corporation, We're on the Path to Clean (Apr. 2021), https://www.exeloncorp.com/grid/were-on-the-path-to-clean)).

²³⁴ Dominion Initial Comments at 3-4 (“Dominion Energy has committed to achieve net zero greenhouse gas emissions by 2050 and is investing in clean energy resources such as solar and wind.”).

²³⁵ AEP Initial Comments at 4 n.12 (“AEP's goal is to reduce carbon emissions from directly owned generation by 80% by 2030 compared to 2000 levels and to achieve net-zero emissions by 2050.” (citing AEP, 2022 Corporate Sustainability Report, at 48 (2022), https://www.aep.com/news/releases/read/8520/AEP-Releases-2022-Corporate-Sustainability-Report)).

²³⁶ Southern Initial Comments at 14 (“By 2019, Southern Companies had already achieved a 44% reduction in greenhouse gas emissions in pursuit of its goals of a 50% reduction by 2030 and net zero by 2050.”).

²³⁷ See, e.g., SREA Initial Comments at 41-42 (“Major utilities in the South, including Entergy, Dominion Energy, Duke Energy, NextEra, Tennessee Valley Authority, and Southern Company have all announced some version of a net zero carbon emission plan or commitment.”).

98. Furthermore, as noted in the NOPR,²³⁸ the resource mix is also being affected by the changing economics of the resources that comprise the resource mix.²³⁹

²³⁸ NOPR, 179 FERC ¶ 61,028 at P 45 & n.72 (noting the average levelized cost of wind energy for commercial wind generation has decreased from $90 per MWh in 2009, to $35 per MWh in 2019 (citing Lawrence Berkeley National Laboratory, Wind Energy Technology Date Update: 2020 Edition, at 66 (Nov. 2020))); id. (noting that the average levelized power purchase agreement price for utility-scale solar generation has decreased from approximately $160 per MWh in 2009, to approximately $40 MWh in 2020 (citing Lawrence Berkeley National Laboratory, Utility-Scale Solar Data Update: 2020 Edition, at 32 (Nov. 2020))).

²³⁹ See ACORE ANOPR Initial Comments at app. 1, p. 22 (ACEG Jan. 2021 Planning Report) (“Wind and solar energy costs have fallen 70 and 89 percent, respectively, in the last ten years, from 2009 through 2019.”); Dominion Initial Comments at 19 (noting how, during the 2010s, the fracking revolution and advanced technology for natural gas combined cycle generation lead to a shift away from coal and nuclear as “baseload” fuels and how, today, renewable energy resources are likewise undergoing a similar expansion); Evergreen Action Initial Comments at 3 (“Rapid innovation has made wind and solar power the lowest-cost resource in many areas of the country[.]” (citing Univ. of Tex. at Austin Energy Inst., Levelized Cost of Electricity in the United States by County (2022), http://calculators.energy.utexas.edu/lcoe_map/#/county/tech); see also ACORE Reply Comments at 2 (“In all scenarios, building transmission that enables low-cost wind and other energy resources is often cheaper than the alternatives, such as use of higher-cost but local resources (and potentially additional storage).” (citing Paul Denholm, et al., National Renewable Energy Laboratory, Examining Supply-Side Options to Achieve 100% Clean Electricity by 2035, at 47-78 (Sept. 2022))).

99. Together, trends in economics, growing demand, and Federal, federally-recognized Tribal, state, and local policies are already resulting in significant changes in the resource mix. The record shows that as of 2021, nearly 70% of capacity additions across the country were from new, utility-scale wind and solar resources.²⁴⁰ Meanwhile, most of the capacity retirements are, and are projected to continue to be, coal resources.²⁴¹ Based on the record, those trends are projected to continue, with over 1,300 GW of wind, solar, and storage resources in interconnection queues across the country as of 2021.²⁴² With the passage of the Inflation Reduction Act in 2022, many analysts are predicting that the shift toward renewable resources will accelerate.²⁴³

²⁴⁰ SREA Initial Comments at 1-2 (citing US Energy Info. Admin., Today in Energy (2021), https://www.eia.gov/todayinenergy/detail.php?id=46416#); see also AEE Initial Comments at 13 (noting that between 2011 and 2021, “renewable generation nearly doubled, from 12.5% to more than 20%.”).

²⁴¹ AEE Initial Comments at 12-13 (“From 2011 to 2021, the proportion of U.S. electricity generated by coal plants dropped by almost half, from 42% to under 22%” (citing U.S. Energy Info. Admin., U.S. Electricity Generation by Major Energy Source, 1950-2021 (2022), https://www.eia.gov/energyexplained//electricity/charts/generation-major-source.csv)); California Commission Initial Comments at 65 (citing FERC, State of the Markets 2020 (Mar. 2021); Renewable Northwest Initial Comments at 36 (using IRP data to show that utilities in NorthernGrid plan to retire 6,573 MW of coal, 1,476 MW of natural gas, 10 MW of wind, and 18 MW of solar, by 2040). FERC's State of the Markets 2020 report stated that 9.6 GW of coal capacity retired in 2020, which had a noticeable effect on coal's operating capacity share in most RTOs/ISOs. FERC, State of the Markets 2020, at 10, 12 (Mar. 2021). FERC's State of the Markets 2023 indicates that this trend is continuing, with coal generation declining 18.8% in 2023. FERC, State of the Markets 2023, at 4 (Mar. 2024). See also US DOE Initial Comments at App. B, pp. 8-9 (Rand et al., Lawrence Berkeley National Laboratory, Queued Up: Characteristics of Power Plants Seeking Transmission Interconnection as of the End of 2021 (Apr. 2021)).

²⁴² See US DOE Initial Comments app. B, at p. 26 (Lawrence Berkeley National Laboratory, Queued Up: Characteristics of Power Plants Seeking Transmission Interconnection As of the End of 2021 (Apr. 2022)) (noting that 676 GW of solar, 246 GW of wind, 213 GW of standalone battery capacity, and ~208 GW of hybrid battery capacity wait in interconnection queues across the U.S.). On the other hand, the number of coal and, relatedly, natural gas resources waiting to interconnect is limited. See id.; Colorado Consumer Advocates Initial Comments attach. 7, at p. 21 (“No new coal plants have been built for domestic utility electricity production since 2014[.]”); NESCOE Initial Comments at 15-16 (noting that new natural gas generation represented nearly 48% of the queue in 2017, but just 3% by March of 2022). Moreover, the updated version of the report to which US DOE cites indicates that the capacity of wind, solar, and storage in interconnection queues is still increasing. Lawrence Berkeley National Laboratory, Queued Up: Characteristics of Power Plants Seeking Transmission Interconnection As of the End of 2022 (Apr. 2023) (noting that 947 GW of solar, 300 GW of wind, 325 GW of standalone battery capacity, and ~358 GW of hybrid storage capacity, totaling over 1900 GW, wait in interconnection queues across the country).

²⁴³ ACORE Initial Comments at 1-2 & n.2 (“[P]rojecting annual additions increasing from 15 GW of wind and 10 GW of utility-scale solar PV in 2020 to an average of 39 GW/year of wind additions in 2025-2026 (~2x the 2020 pace) and 49 GW/year of solar (~5x the 2020 pace), with solar growth rates increasing thereafter.” (quoting REPEAT Project, Preliminary Report: The Climate and Energy Impacts of the Inflation Reduction Act of 2022, at 15 (2022), https://repeatproject.org/docs/REPEAT_IRA_Prelminary_Report_2022-08-12.pdf)).

100. In light of these changing demands on the transmission system, the record also affirms what the Commission has long recognized: regional transmission planning that identifies more efficient or cost-effective transmission solutions to needs helps to ensure cost-effective transmission development for customers and can yield better returns for every dollar spent than localized or piecemeal transmission solutions.²⁴⁴ Conversely, inadequate or poorly designed transmission planning processes can lead to relatively inefficient or less cost-effective transmission investment, with customers footing the bill for piecemeal, inefficient, and less cost-effective transmission solutions designed to meet short-term or small-scale transmission needs. Given the magnitude of transmission investment needed to meet customers' changing needs, it is essential that regional transmission planning be of sufficient scope and duration to help to ensure customers' money is well-spent on transmission infrastructure that can efficiently and cost-effectively meet those needs. Unfortunately, we conclude that this is not the case today and that existing regional transmission planning processes are inadequate to address the emerging Long-Term Transmission Needs that are expected to increasingly drive transmission investment in the coming decades.

²⁴⁴ Order No. 1000, 136 FERC ¶ 61,051 at P 55 (“[T]he narrow focus of current planning requirements and shortcomings of current cost allocation practices create an environment that fails to promote the more efficient and cost-effective development of new transmission facilities.”); id. P 68 (concluding that reforms that require transmission providers to engage in regional transmission planning and evaluate proposed alternatives that “may resolve the region's needs more efficiently or cost-effectively than solutions identified in the local transmission plans . . . will provide assurance that rates for transmission services on these systems will reflect more efficient or cost-effective solutions for the region.”); Order No. 890, 118 FERC ¶ 61,119 at P 524 (“[C]oordination of planning on a regional basis will also increase efficiency through the coordination of transmission upgrades that have region-wide benefits, as opposed to pursuing transmission expansion on a piecemeal basis.”); see also ACORE Initial Comments at 6 (demonstrating that effective regional transmission planning could significantly reduce total electric system costs compared to electric system costs that result from intrastate planning (citing Brattle-Grid Strategies Oct. 2021 Report at 12)); R Street Initial Comments at 8 (“[H]olistic transmission planning could improve economic efficiencies and save billions of dollars . . . . For example, MISO's 2022 long-range transmission plan results include $10 billion in transmission projects that support interconnection of 53,000 megawatts of new renewable generation and reduces other costs by $37-$68 billion. PJM similarly identified $3 billion in transmission upgrades that would save billions compared to the current practice of incremental upgrades through the interconnection process.” (citing Johannes Pfeifenberger, Brattle Group, Planning for Generation Interconnection, at 5 (May 31, 2022), https://www.esig.energy/event/special-topic-webinar-interconnection-study-criteria (citation omitted))).

101. Experience with the implementation of Order No. 1000 over the last decade has highlighted a critical gap in the Commission's existing transmission planning and cost allocation requirements. Notwithstanding the broad recognition that additional transmission infrastructure is needed to address the drivers noted above, regional transmission planning processes across the country have yielded only limited investments in regional transmission projects. As the Commission observed in the NOPR, investment in regional transmission facilities in some regions has declined compared to prior to Order No. 1000.²⁴⁵ Moreover, across all the non-RTO/ISO regions, there has not yet been a single transmission facility selected since implementation of Order No. 1000.²⁴⁶ The record also demonstrates that within some RTO/ISO regional transmission planning processes, even where investments through the regional transmission planning process do occur, much of that investment has been in transmission projects that only address immediate reliability needs.²⁴⁷ We find that this evidence supports our conclusion that existing regional transmission planning processes are not of sufficient scope and duration to adequately or consistently identify transmission needs and associated opportunities to more comprehensively evaluate and select more efficient or cost-effective transmission solutions to those needs.

²⁴⁵ NOPR, 179 FERC ¶ 61,028 at P 39 (citing ACEG Jan. 2021 Planning Report at 25 & fig. 8); see also ACORE ANOPR Initial Comments at 4 (“Despite the potential benefits, regional transmission investment has not increased and in some regions even has declined over the past decade.”) (citing ACEG Jan. 2021 Planning Report at 25)); State Agencies Initial Comments at 23 (“Regionally planned projects have [ ] declined in RTOs/ISOs . . . .” (citing John C. Gravan and Rob Gramlich, NRRI Insights, A New State-Federal Cooperation Agenda for Regional and Interregional Transmission, at 2 (Sept. 2021), https://pubs.naruc.org/pub/FF5D0E68-1866-DAAC-99FB-A31B360DC685)).

²⁴⁶ NOPR, 179 FERC ¶ 61,028 at P 39 (citing LS Power ANOPR Initial Comments App. I at 18 & n.57); FERC, Staff Report, 2017 Transmission Metrics, at 19 (Oct. 6, 2017), https://www.ferc.gov/sites/default/files/2020-05/transmission-investment-metrics.pdf); see also Western PIOs Initial Comments at 28 (“The Western Regional Planning Groups, with the exception of the CAISO, have not developed new projects from their current Order 1000 transmission planning process.”).

²⁴⁷ Southwestern Power Group Initial Comments at 15; PIOs ANOPR Initial Comments at 93 & n.276; see also Ari Peskoe, Is the Utility Syndicate Forever?, 42 Energy L.J. 1, 56-57 (2021) (explaining, for example, that in ISO-NE, all but one of the transmission projects approved through the regional transmission planning process were immediate-need reliability projects).

102. Indeed, in the limited instances in which transmission providers have followed processes that share many of the elements of the long-term, forward-looking, and more comprehensive regional transmission planning this order requires, customers have seen clear and quantifiable benefits. For example, as the Commission observed in the NOPR,²⁴⁸ MISO's Multi-Value Project (MVP) transmission planning process proactively planned over a 20-year period for two key drivers of transmission needs: the impacts of changing state laws on the resource mix, and a large increase in the number of generator interconnection requests. To mitigate the uncertainties associated with such long-term projections of transmission needs, MISO relied on scenarios to consider a range of potential future conditions ²⁴⁹ and disclosed the assumptions and inputs underlying each scenario.²⁵⁰ The MVP process then identified a portfolio of transmission projects that were projected to provide multiple kinds of reliability and economic benefits under all the alternate future scenarios studied.²⁵¹ This process resulted in MISO identifying, evaluating, and selecting transmission facilities that are estimated to generate $2.20 to $3.40 of benefit per dollar invested.²⁵²

²⁴⁸ NOPR, 179 FERC ¶ 61,028 at PP 30-31 (citing Midcontinent Indep. Sys. Operator, RGOS: Regional Generation Outlet Study, at 2 (Nov. 2020)).

²⁴⁹ Id. P 31 (citing MTEP2017 Review at 26-29).

²⁵⁰ Id. (citing MTEP2017 Review at 16).

²⁵¹ Id. (citing MTEP2017 Review at 13).

²⁵² Id. P 30 (citing MTEP2017 Review at 4).

103. The benefits to transmission customers of long-term, forward-looking, and more comprehensive regional transmission planning, which we discuss further below, are thus well-documented but realized all too infrequently under existing regional transmission planning processes. Relatedly, the record demonstrates that a substantial amount of new transmission investment is occurring outside of regional transmission planning processes. Because these other processes—specifically, generator interconnection processes and local transmission planning processes—are generally designed to address discrete, shorter-term needs, and do not comprehensively assess either broader transmission needs or solutions to those needs, overreliance on those processes can result in relatively inefficient or less cost-effective transmission development for customers,²⁵³ which contributes to rates for transmission that are unjust and unreasonable.

²⁵³ ACORE Initial Comments at 4-5 (citing Brattle-Grid Strategies Oct. 2021 Report at 3); Clean Energy Associations Initial Comments at 5 (explaining that proactive, forward-looking transmission planning processes can reduces costs by nearly half as compared to incremental and reactive transmission planning processes); Ørsted Initial Comments at 5 (explaining that failure to proactively plan for offshore wind results in suboptimal transmission development, which can increase costs to ratepayers); Southeast PIOs Reply Comments at 2 (explaining that in the Southeast, “snowballing inefficiencies created by numerous small-scale transmission band-aids, unfit to address broader generation trends, translate into excessive, unjust, and unreasonable rates borne by an already overburdened populace.”).

104. The record demonstrates that significant expansion of the transmission system is occurring through one-off, piecemeal, interconnection-related network upgrades constructed in response to individual generator interconnection requests.²⁵⁴ As the Commission observed in the NOPR, the evidence shows a sharp growth in both the total cost of interconnection-related network upgrades and in the cost of such upgrades relative to generation project costs.²⁵⁵ The record indicates that the average cost of interconnection-related network upgrades is increasing over time as the transmission system is fully subscribed and demand for interconnection service outpaces transmission investment. As highlighted in the NOPR,²⁵⁶ in 2020, MISO identified the need for nearly $2.5 billion in interconnection-related network upgrades to interconnect just 9.2 GW of generation in MISO South, and MISO expects to need over $3 billion in interconnection-related network upgrades for interconnection in MISO West.²⁵⁷ Similarly, SPP identified the need for $4.6 billion in interconnection-related network upgrades to interconnect just 10.4 GW of new generation.²⁵⁸

²⁵⁴ Pine Gate Initial Comments at 6, 8-10; PIOs Initial Comments at 9 (noting how most transmission planning is done through the generator interconnection process or local transmission planning).

²⁵⁵ NOPR, 179 FERC ¶ 61,028 at P 37.

²⁵⁶ Id. PP 37-38.

²⁵⁷ ACORE ANOPR Initial Comments at 10 (citing ICF Sept. 2021 Interconnection Report at 2).

²⁵⁸ Id. (citing ICF Sept. 2021 Interconnection Report at 3-4).

105. Record evidence also shows that increases in interconnection costs are being driven, in many cases, by an expansion in the scope and complexity of interconnection-related network upgrades.²⁵⁹ The Commission noted in the NOPR, for example, that interconnection-related network upgrade costs in MISO West went from approximately $300/kW in 2016 to nearly $1,000/kW in 2017.²⁶⁰ The trend is evident in other parts of the country as well.²⁶¹ The costs of interconnection-related network upgrades are, in many cases, an ever-growing percentage of the total capital costs of new generation projects. According to one report, interconnection costs for new renewable resources were less than 10% of total generation project costs until a few years ago, but recently these costs have risen to as much as 50%-100% of the total generation project costs.²⁶² At the same time, interconnection-related network upgrades have frequently transitioned from primarily small transmission facilities that serve the needs of a limited number of interconnection customers to the size and scope of what have traditionally been considered high voltage transmission facilities. For example, interconnection-related network upgrades have recently included demolishing and rebuilding multiple 500 kV transmission lines ²⁶³ and constructing long, double-circuit, 765 kV transmission lines,²⁶⁴ all at significant cost to the interconnection customer initially—and ultimately to consumers.

²⁵⁹ See, e.g., US DOE Initial Comments at 8 & n.20 (citing Jay Caspary et al., ACEG, Disconnected: The Need for a New Generator Interconnection Policy, at 13-16 (2021), https://cleanenergygrid.org/wp-content/uploads/2021/01/Disconnected-The-Need-for-a-New-Generator-Interconnection-Policy-1.pdf) (ACEG 2021 Interconnection Report); Will Gorman et al., Improving estimates of transmission capital costs for utility-scale wind and solar projects to inform renewable energy policy, 135 Energy Policy 110994 (2019), https://www.sciencedirect.com/science/article/pii/S0301421519305816)); ACEG 2021 Interconnection Report at 13 (“[T]he costs for integrating new resources in MISO are rising substantially relative to previous years, indicating that the large-scale network has reached its capacity and needs to expand to connect more generation. In other words, much more than `driveway' type facilities are need; larger roads and highways are required to alleviate the traffic . . . . [H]istorically, interconnecting wind projects have incurred interconnection costs of $0.85 per megawatt hour (MWh) or $66 per kilowatt (kW). However, newly proposed wind projects now face interconnection costs that are nearly five times higher, at $4.05/MWh or $317/kW.”); id. at 14 (“New solar projects in MISO South have much higher upgrade costs. The most recent 2019 system impact study for solar projects in MISO South estimated upgrade costs to total $307/kW, with upgrade costs for individual interconnection requests as high as $677/kW.”); id. (“The same trend of rising network upgrade cost assignments is occurring in PJM. Historically, the levelized costs for constructed wind and solar projects were $0.25/MWh and $1.72/MWh, respectively, or $19.07 kW and $61.83/kW, respectively . . . costs for newly proposed wind and solar projects, however, have now risen to $0.69/MWh and $3.66/MWh, respectively or $0.54/kW and $131.90/kW, respectively—more than a 100 percent increase.”).

²⁶⁰ NOPR, 179 FERC ¶ 61,028 at P 38 (citing ACEG Jan. 2021 Interconnection Report at 14; NextEra ANOPR Initial Comments at 16 (citing Midcontinent Indep. Sys. Operator, MISO 2020 Queue Outlook, at 9 (2020), https://cdn.misoenergy.org/MISO2020InterconnectionQueueOutlook445829.pdf)).

²⁶¹ NOPR, 179 FERC ¶ 61,028 at P 38 (showing that, as of 2019, interconnection costs in PJM for constructed wind and solar projects were $19.07/kW and 61.83/kW, respectively, as compared to a greater than 100% increase to $54/kW and $131.90/kW, respectively, for projects newly proposed today) (citing e.g., ACEG Jan. 2021 Interconnection Report at 14 & tbl.2)); NextEra ANOPR Initial Comments at 16-17 (stating that interconnection-related network upgrade cost estimates have nearly tripled for newly proposed wind projects, and more than doubled for solar projects in PJM); see also ACEG Jan. 2021 Interconnection Report at 16 (illustrating an increase in average interconnection-related network upgrade costs in NYISO from $67/kW in 2013 to $124/kW in 2019). Compare ACEG Jan. 2021 Interconnection Report at 15 (identifying interconnection-related network upgrade costs in 2013 in SPP as $89/kW), with ICF Sept. 2021 Interconnection Report at 2 (citing interconnection-related network upgrade costs of $448/kW for interconnection customers studied in SPP's system impact study published in April 2021)).

²⁶² NOPR, 179 FERC ¶ 61,028 at P 38 (citing ACEG Jan. 2021 Interconnection Report at 6); id. (stating that the rising interconnection costs of wind projects in MISO recently reached approximately 23% of the capital cost of the project) (citing ACEG Jan. 2021 Interconnection Report at 13)); id. (identifying the increase in interconnection-related network upgrade costs in SPP between 2013 and 2017 as representing an increase from around 8% to over 43% of the capital cost of wind generation (citing ACEG Jan. 2021 Interconnection Report. at 15)); NextEra ANOPR Initial Comments at 17 (similar)).

²⁶³ NOPR, 179 FERC ¶ 61,028 at P 38 (describing interconnection-related network upgrades for a 120 MW solar plus storage project in southern Virginia to interconnect to PJM that cost as much as $12,086/kW (citing ACEG Jan. 2021 Interconnection Report at 15)).

²⁶⁴ NOPR, 179 FERC ¶ 61,028 at P 38 (describing one interconnection-related network upgrade in SPP identified in the system impact study published in April 2021) (citing ACEG Jan. 2021 Interconnection Report at 15)); ICF Sept. 2021 Interconnection Report at 3 (same); NextEra ANOPR Initial Comments at 17 (same). In 2017, for example, SPP included a 165-mile, $1.34 billion double circuit 765 kV line in its Definitive Interconnection System Impact Study. See ACORE ANOPR Initial Comments Ex. 5, ICF Sept. 2021 Interconnection Report at 4.

106. Unlike regional transmission planning processes, however, the generator interconnection process is not designed to consider how to address transmission needs more efficiently or cost-effectively beyond the discrete interconnection request (or requests) being studied. Therefore, the generator interconnection process does not look at time horizons beyond the specific interconnection request(s) being studied, comprehensively assess any transmission needs beyond those created by the specific interconnection request(s), or achieve the economies of scale in transmission investment that long-term, forward-looking, and more comprehensive regional transmission planning processes can provide.²⁶⁵

²⁶⁵ Anbaric Initial Comments at 5; Clean Energy Associations Initial Comments at 15 (noting the reactive nature of generator interconnection processes); Exelon Initial Comments at 5 (explaining that the “project-by-project approach of developing [interconnection-related] network upgrades” using the generator interconnection processes will likely not result in efficient or cost-effective outcomes given the ongoing changes in the resource mix and demand); Pine Gate Initial Comments at 9 (explaining how piecemeal approaches to transmission planning, like the generator interconnection process, result in inefficiently small upgrades (citing ACEG Jan. 2021 Interconnection Report at 7)); PIOs Initial Comments at 10; SEIA Initial Comments at 2; Southeast PIOs Initial Comments at 37 (“The lack of any regular, formal proceeding to consider Alabama Power's comprehensive facility investment plan is troubling and ensures that both generation and transmission are considered on a project-by-project basis. This piecemeal approach to addressing transmission needs for individual generation resource decisions will cause sticker-shock every time and an institutional aversion to broader transmission investment, especially when transmission benefits are expressly ignored.”).

107. We acknowledge that the Commission recently issued Order No. 2023, which requires transmission providers to reform their generator interconnection processes. But while Order No. 2023 aims to improve the efficient processing of interconnection queues, it does not attempt to remedy the discrete deficiency addressed in this final order: that existing regional transmission planning and cost allocation requirements do not require transmission providers to plan on a sufficiently long-term, forward-looking, and comprehensive basis. Instead, Order No. 2023 seeks to ameliorate the fact that existing generator interconnection procedures and agreements were “insufficient to ensure that interconnection customers are able to interconnect to the transmission system in a reliable, efficient, transparent, and timely manner[.]” ²⁶⁶ The interconnection queue backlogs and delays that were the Commission's focus in Order No. 2023 have arisen, in part, due to deficiencies in the existing transmission planning requirements. But the Commission found issues regarding the coordination between transmission planning and generator interconnection processes were beyond the scope of Order No. 2023 and, therefore, the Commission addressed only interconnection queue processes rather than also addressing transmission planning requirements.²⁶⁷ Consequently, this final order addresses a root cause of interconnection backlogs and delays that Order No. 2023 did not—the failure of transmission providers to plan on a sufficiently long-term, forward-looking, and comprehensive basis. Accordingly, the need to reform this deficiency persists despite the Commission's reforms required by Order No. 2023.

²⁶⁶ Order No. 2023, 184 FERC ¶ 61,054 at P 36.

²⁶⁷ Order No. 2023, 184 FERC ¶ 61,054 at PP 1741, 1743 (finding that, although “several commenters argue in favor of greater coordination between generator interconnection and transmission planning or identify interconnection as a matter requiring interregional planning,” those comments were beyond the scope of that rulemaking proceeding and noting that “the Commission proposed reforms related to coordination between regional transmission planning and cost allocation and generator interconnection in” the docket for this final order).

108. While some commenters argue that transmission providers do not rely too heavily on the generator interconnection process to build transmission facilities,²⁶⁸ we find that the record indicates otherwise. Specifically, as discussed above, the increase in both the total and average cost of interconnection demonstrates how much transmission investment is occurring on a one-off, incremental basis through generator interconnection processes.²⁶⁹ The Commission has consistently and repeatedly found that interconnection-related network upgrades provide systemwide benefits,²⁷⁰ a finding which courts have upheld.²⁷¹ In turn, we find that increasingly relying on interconnection customers' interconnection-related network upgrades to expand the capacity of the transmission system is inefficient and leads to less cost-effective transmission development than would result from long-term, forward-looking, and more comprehensive regional transmission planning, to the detriment of customers.

²⁶⁸ Mississippi Commission Initial Comments at 9; North Carolina Commission and Staff Initial Comments at 5; Southern Initial Comments at 38-40.

²⁶⁹ New Jersey Commission Initial Comments at 6-7 (noting that interconnecting 87.1 GW of capacity, which is needed to meet the PJM states' offshore wind and renewable portfolio standards goals, through the interconnection queue process alone is projected to cost $36 billion); US DOE Initial Comments at 8 (citing ACEG 2021 Interconnection Report at 13-16 (2021)).

²⁷⁰ See, e.g., Duke Energy Progress, LLC, 181 FERC ¶ 61,229, at P 17 (2022) (rejecting Duke's claim that “its customers reap no benefits from network upgrades that must be constructed on Duke's affected system” because “Duke's characterization disregards the existence of any benefits to its customers from the network upgrades”); ISO New England Inc., 150 FERC ¶ 61,209, at P 386 (2015) (noting that there “is a presumption that transmission system enhancements benefit all members of an integrated transmission system”); Pac. Gas & Elec. Co., 106 FERC ¶ 61,144, at P 22 (2004) (explaining that “the integrated grid is a single interconnected system serving and benefitting all transmission customers”); Pub. Serv. Co. of Colo., 62 FERC ¶ 61,013, at 61,061 (1993) (“The Commission has reasoned that, even if a customer can be said to have caused the addition of a grid facility, the addition represents a system expansion used by and benefitting all users due to the integrated nature of the grid.” (emphasis in original)).

²⁷¹ See, e.g., Nat'l. Ass'n of Regul. Util. Comm'rs v. FERC, 475 F.3d 1277, 1285 (D.C. Cir. 2007) (“We have endorsed the approach of `assign[ing] the costs of system-wide benefits to all customers on an integrated transmission grid.”); W. Mass. Elec. Co. v. FERC, 165 F.3d 922, 927 (D.C. Cir. 1999) (“When a system is integrated, any system enhancements are presumed to benefit the entire system.”); City of Holyoke Gas & Elec. Dep't v. FERC, 954 F.2d 740, 742-43 (D.C. Cir. 1992); Me. Pub. Serv. Co. v. FERC, 964 F.2d 5, 8-9 (D.C. Cir. 1992).

109. Separately, the record here also substantiates the NOPR's preliminary finding that the majority of investment in transmission facilities since the issuance of Order No. 1000 has been in local transmission facilities.²⁷² Commenters explain that, in RTO/ISO regions, one half of the nearly $70 billion in aggregate transmission investments by Commission-jurisdictional transmission providers between 2013 and 2017 was approved outside of regional transmission planning processes.²⁷³ This investment trend is continuing and accelerating. For example, in 2019, PJM approved 383 transmission-owner planned supplemental projects at a total cost of $3.75 billion, compared to only 80 regionally planned baseline projects at a total cost of $1.27 billion. Then, in 2020, PJM approved 236 supplemental projects at a total cost of $4.7 billion, compared to only 43 regionally planned baseline projects at a total cost of $413 million.²⁷⁴ In MISO, baseline reliability projects and other local transmission projects have grown dramatically since 2010 and constituted 100% of approved transmission between 2018 and 2020 and 80% since 2010.²⁷⁵ From 2019 to 2021, 63% of transmission investment by the three largest transmission owners in CAISO was in local transmission projects, and Pacific Gas and Electric forecasts that of the $13 billion it will spend on capital additions between 2022 and 2027, approximately 84% will be on local transmission projects.²⁷⁶ In ISO-NE, spending on in-kind transmission replacements, which are not part of the regional transmission planning process, has been significant. Between 2016 and 2022, over $2.5 billion has been spent on in-kind replacement projects that have entered service and, as of 2022, an additional $3.122 billion of in-kind replacement projects had been proposed, planned, or were under construction.²⁷⁷

²⁷² NOPR, 179 FERC ¶ 61,028 at PP 39-40.

²⁷³ PIOs Initial Comments at 9.

²⁷⁴ PIOs ANOPR Initial Comments at 31-44; see also Ohio Consumers Initial Comments at 5 (“Since 2017, in Ohio, less than 25% of the new investment in transmission has been associated with large regional transmission projects needed for reliability or economic efficiency.”).

²⁷⁵ See PIOs Initial Comments at 10 n.31 (citing PIOs ANOPR Initial Comments at 49 (citing Brattle-Grid Strategies Oct. 2021 Report at iii, 2)).

²⁷⁶ See California Commission Initial Comments at 109-110.

²⁷⁷ NESCOE Reply Comments at 6.

110. As with the growing reliance on the generator interconnection process to identify needed transmission system improvements, local transmission planning, with its focus on the needs of individual utility footprints, does not necessarily provide sufficient, comprehensive analysis of broader regional transmission needs. Similarly, local transmission planning processes and in-kind replacement processes do not generally assess transmission needs based on a forward-looking multi-scenario assessment that more comprehensively accounts for the benefits of transmission infrastructure.²⁷⁸ Therefore, transmission expansion in this incremental manner also misses the potential for transmission providers to identify, evaluate, and select more efficient or cost-effective transmission facilities to solve transmission needs, as well as to afford system-wide benefits that may not be achieved through piecemeal, one-off local transmission facilities. As stated above, the result is relatively inefficient or less cost-effective transmission development for customers, which contributes to rates for transmission that are unjust and unreasonable.

²⁷⁸ PIOs ANOPR Initial Comments at 33-34 (citing ACEG Jan. 2021 Planning Report); ACEG Jan. 2021 Planning Report at 98-99.

111. To be clear, our findings here are not intended to call into question the justness and reasonableness of either generator interconnection processes or local transmission planning processes, which each serve important roles in ensuring reliability and integrating new resources onto the transmission system.²⁷⁹ Rather, the trends regarding use of these processes, as well as in-kind replacement processes, provide additional evidence to support our finding that existing regional transmission planning and cost allocation requirements are inadequate without reform. As discussed further in the next section, we conclude that the record regarding the current and projected transmission landscape—including the investment trends and changing drivers of that investment detailed above—highlights critical deficiencies in the Commission's current regional transmission planning and cost allocation requirements. In this final order, we address those deficiencies to help to ensure that customers receive the benefits of long-term, forward-looking, and more comprehensive regional transmission planning.

²⁷⁹ As discussed below, we separately find that specific existing requirements governing transparency in local transmission planning processes and coordination between local and regional transmission planning processes are unjust, unreasonable, and unduly discriminatory or preferential. See infra Local Transmission Planning Inputs in the Regional Transmission Planning Process section.

2. Unjust, Unreasonable, and Unduly Discriminatory or Preferential Commission-Jurisdictional Transmission Planning and Cost Allocation Processes

112. Based on the record, including comments submitted in response to the NOPR, as discussed below, we find that there is substantial evidence to support the determination that sufficiently long-term, forward-looking, and comprehensive regional transmission planning and cost allocation to meet Long-Term Transmission Needs is not occurring on a consistent and sufficient basis. We find that the absence of sufficiently long-term, forward-looking, and comprehensive regional transmission planning processes is resulting in piecemeal transmission expansion to address relatively near-term transmission needs. We find that the status quo approach results in transmission providers undertaking investments in relatively inefficient or less cost-effective transmission infrastructure, the costs of which are ultimately recovered through Commission-jurisdictional rates. This dynamic results in, among other things, transmission customers paying more than is necessary or appropriate to meet their transmission needs, customers forgoing benefits that outweigh their costs, or some combination thereof, which results in less efficient or cost-effective transmission investments and, in turn, renders Commission-jurisdictional regional transmission planning and cost allocation processes unjust and unreasonable.

113. We therefore adopt, as modified by the discussion herein, the preliminary findings of the NOPR concerning the need for reform ²⁸⁰ and, pursuant to FPA section 206, conclude that revisions to the Commission's regional transmission planning and cost allocation requirements are necessary to ensure that Commission-jurisdictional rates, terms, and conditions are just, reasonable, and not unduly discriminatory or preferential. We find that, as stated in the NOPR,²⁸¹ absent the reforms instituted by this final order, regional transmission planning processes will continue to fail to identify, evaluate, and select regional transmission facilities that can more efficiently or cost-effectively meet Long-Term Transmission Needs, requiring customers to pay for relatively inefficient or less cost-effective transmission development.

²⁸⁰ NOPR, 179 FERC ¶ 61,028 at PP 28-55.

²⁸¹ NOPR, 179 FERC ¶ 61,028 at P 33.

114. Based on the record, including the comments submitted in response to the NOPR, we find that there is substantial evidence to support the conclusion that deficiencies in the Commission's existing regional transmission planning and cost allocation requirements are resulting in Commission-jurisdictional rates that are unjust, unreasonable, and unduly discriminatory or preferential. Specifically, we find that the Commission's regional transmission planning and cost allocation requirements fail to require transmission providers to: (1) perform a sufficiently long-term assessment of transmission needs that identifies Long-Term Transmission Needs; (2) adequately account on a forward-looking basis for known determinants of Long-Term Transmission Needs; and (3) consider the broader set of benefits of regional transmission facilities planned to meet those Long-Term Transmission Needs. We find that these deficiencies render Commission-jurisdictional regional transmission planning and cost allocation processes unjust and unreasonable because they result in transmission providers failing to identify Long-Term Transmission Needs, to evaluate and select more efficient or cost-effective transmission solutions to meet those transmission needs, and to allocate the costs of transmission facilities selected to meet those transmission needs in a manner that is at least roughly commensurate with benefits. Below, we address each deficiency in turn.

115. The first deficiency is that the Commission's regional transmission planning and cost allocation requirements fail to require transmission providers to perform a sufficiently long-term assessment of transmission needs. This deficiency is present in multiple aspects of existing regional transmission planning processes, from the degree to which planning studies that identify transmission needs are sufficiently forward looking, to whether forward-looking assessments actually inform the evaluation, selection, and eventual cost allocation of regional transmission facilities. The record demonstrates that, under existing regional transmission planning and cost allocation processes, transmission providers typically identify and plan for transmission needs using a relatively near-term transmission planning horizon. Specifically, commenters have noted that most transmission planning regions do not plan beyond a 10-year transmission planning horizon. For example, commenters point out that ISO-NE, SERTP, and NorthernGrid plan using a 10-year transmission planning horizon,²⁸² while PJM notes that it plans using two different transmission planning horizons: a 5-year transmission planning horizon for what it refers to as its short-term transmission planning process and a 6-to-15-year transmission planning horizon for what it refers to as its intermediate-term transmission planning process.²⁸³ While it is reasonable and necessary for regional transmission planning and cost allocation processes to include a near-term study of the transmission system, the absence of any consistent and sufficient longer-term assessment of transmission needs prevents transmission providers from identifying Long-Term Transmission Needs and considering regional transmission facilities that may be more efficient or cost-effective solutions to address those needs.²⁸⁴

²⁸² Massachusetts Attorney General Initial Comments at 25 (“For example, the Commission's proposal to increase the required long-term transmission planning horizon to at least 20 years with 3-year reassessments would double the current long-term planning horizon for ISO-NE.”); Renewable Northwest Initial Comments at 12 (citing Brattle-Grid Strategies Oct. 2021 Report at 15); Southeast PIOs Initial Comments at 12 (“The `independent reliability planning studies . . . start with the combined local transmission plans of participating utilities,' and the results comprise the ten-year regional transmission plan.” (citation omitted)); Western PIOs Initial Comments at 8-9 (“NorthernGrid conducts transmission reliability plans on a two-year cycle, with each plan covering a 10-year time horizon.”); see also ITC Initial Comments at 9 (referring to the “broad use of a 10-year planning horizon in the existing transmission planning processes of many major planning regions[.]”).

²⁸³ PJM Initial Comments at 2 n.4.

²⁸⁴ See, e.g., MISO ANOPR Reply Comments at 5 (“[G]iven long-term needs of an evolving system, additional transmission is necessary to reliably serve customers now and into the future. These challenges require immediate action and further delay only increases the risk that system enhancements may not be in place in the timeframe needed.”); PIOs Initial Comments at 13 (“[A] short-term outlook under-forecasts longer-term transmission needs, preventing the development of more cost-effective transmission facilities, and fails to consider how the needs of the transmission system are shifting[.]”); US DOE ANOPR Initial Comments at 10 (stating that failure to plan transmission far enough ahead results in “adverse implications for system reliability, resilience, consumers' electricity rates, and the achievement of clean energy goals.”).

116. This lack of a longer-term assessment of transmission needs is particularly problematic for a few reasons. First, shorter-term transmission planning fails to take advantage of the potential for efficiencies or economies of scale that regional transmission facilities can provide by allowing fewer or better designed transmission facilities to meet multiple transmission needs. For example, shorter-term transmission planning fails to provide the opportunity for transmission providers to identify, evaluate, and select regional transmission facilities that could address multiple transmission needs over various time horizons.²⁸⁵ Moreover, shorter-term transmission planning fails to create opportunities to “right size” the replacement of aging transmission facilities to address multiple transmission needs over the longer term.²⁸⁶ Second, constructing large (e.g., high voltage or long distance) transmission facilities comes with long lead times: planning, permitting, and building regional transmission facilities can often take more than ten years.²⁸⁷ As an example, the MVP initiative in the MISO region took a decade to move from approval by the MISO Board of Directors in 2011 to completion of most of the projects by 2021, and this period of 10 years does not even account for the significant transmission facility development efforts that occurred prior to the MISO Board of Directors' approval.²⁸⁸ Finally, the useful life of transmission assets generally far exceeds even 20 years, so a 10-year transmission planning horizon is much too short to capture all of the benefits that regional transmission facilities can provide.²⁸⁹

²⁸⁵ ACORE Initial Comments at 4 (“The narrowly focused current approaches [to transmission planning] do not identify opportunities to take advantage of the large economies of scale in transmission that come from `up-sizing' reliability projects to capture additional benefits, such as congestion relief, reduced transmission losses, and facilitating the more cost-effective interconnection of the renewable and storage resources needed to meet public policy goals.” (quoting Brattle-Grid Strategies Oct. 2021 Report at 3)); PIOs ANOPR Initial Comments at 10-11; SEIA ANOPR Initial Comments at 14.

²⁸⁶ ACORE Initial Comments at 4 (“[I]n-kind replacement of aging existing facilities misses opportunities to better utilize scarce rights-of-way for upsized projects that can meet multiple other needs and provide additional benefits, thus driving up costs and inefficiencies.” (quoting Brattle-Grid Strategies Oct. 2021 Report at 3)). PJM's long-term assessment of the transmission system ostensibly uses a 15-year transmission planning horizon, for example, but does not account for changes to the generation mix beyond a 5-year period. See Concerned Scientists ANOPR Initial Comments at 10 & n.11 (“Generation additions are unchanged in the 15-year study period, as the input assumption has no additional information that would expand the set of generators included in the forecast.”); PSEG ANOPR Initial Comments at 11 (stating that “in practice only new resources that are near the end of the interconnection queue process and have signed an Interconnection Service Agreement are considered in the RTEP base case.”).

²⁸⁷ AEP Initial Comments at 11; Nevada Commission Initial Comments at 7 n.24 (noting that it took over seven years between the request to include a transmission line in an Integrated Resource Plan (IRP) and the in-service date, which did not include the lead time for developing the underlying application) PIOs Initial Comments at 14 (“[A] 20-year planning horizon was necessary given the time needed to site, permit, and construct transmission facilities or because states have longer-term public policy goals.”); Renewable Northwest Initial Comments at 5; SEIA Initial Comments at 6.

²⁸⁸ AESL Consulting, A Transmission Success Story: The MISO MVP Transmission Portfolio, at 39 (2021).

²⁸⁹ SEIA Initial Comments at 6; US DOE Initial Comments at 33 (noting that transmission assets can have a useful life of at least 40 years).

117. Thus, relying solely on shorter-term transmission planning and studies fails to identify Long-Term Transmission Needs and, consequently, undervalues or entirely ignores the benefits of transmission investments to meet those needs. Moreover, the likelihood that near-term assessments will fail to identify Long-Term Transmission Needs and more efficient or cost-effective regional transmission facilities to meet those needs is higher during periods of rapid change, as the electric sector is now experiencing, during which the need for transmission infrastructure is expected to grow considerably.²⁹⁰ We find that continuing with the status quo approach is resulting in transmission providers undertaking investments in relatively inefficient or less cost-effective transmission infrastructure, the costs of which are ultimately recovered through Commission-jurisdictional rates.²⁹¹ As a result, among other things, customers are paying more than necessary or appropriate to meet their transmission needs, forgoing benefits that outweigh their costs, or some combination thereof, which results in less efficient or cost-effective transmission investments and, in turn, renders Commission-jurisdictional regional transmission planning and cost allocation processes unjust and unreasonable.

²⁹⁰ US DOE ANOPR Initial Comments at 10 (“Relying on successive small transmission expansion projects to meet foreseeable long-term needs may lead to the need for expensive retrofits (at customers' expense) at a later date. Economies of scale and network economies suggest that an initial larger-scale buildout will often represent a lower-cost solution.”); Midcontinent Independent System Operator, MTEP21 Report Addendum: Long Range Transmission Planning Tranche 1 Portfolio Report, at 6 (July 28, 2022), https://cdn.misoenergy.org/MTEP21%20Addendum-LRTP%20Tranche%201%20Report%20with%20Executive%20Summary625790.pdf (“While the Tranche 1 Portfolio is the result of MISO's long-range planning process being executed for only the second time, the rapid change within the industry will require that it become a more routine aspect of the MISO planning process going forward.”).

²⁹¹ See, e.g., S.C. Pub. Serv. Auth., 762 F.3d at 56-59 (explaining that transmission planning processes are practices affecting rates pursuant to Section 206 of the FPA).

118. The second deficiency is that the Commission's existing regional transmission planning and cost allocation requirements fail to require transmission providers to account adequately on a forward-looking basis for known determinants of Long-Term Transmission Needs. This deficiency is related to the first deficiency in the sense that both relate to the failure of the existing transmission planning requirements to require transmission providers to adequately plan for the foreseeable future. We find that, even following Order Nos. 890 and 1000, transmission providers have adopted widely divergent approaches to determining the factors that are relevant to identifying transmission needs within regional transmission planning.²⁹² Specifically, as commenters note, some existing regional transmission planning processes ignore trends in future generation and the impact of extreme weather.²⁹³ Other commenters note that certain regional transmission planning processes ignore state laws or utility goals.²⁹⁴ In addition to failing to adequately account for factors that shape the resource mix, commenters also assert that current regional transmission planning processes fail to account for factors that will shape future load, particularly new loads associated with electrification trends like, for example, electric vehicles ²⁹⁵ and data centers.²⁹⁶ Although transmission providers in some transmission planning regions account for a wider range of the factors that drive Long-Term Transmission Needs when performing regional transmission planning studies than do others,²⁹⁷ we find that transmission providers are not consistently or sufficiently accounting on a forward-looking basis for the known determinants of Long-Term Transmission Needs or accounting for such known determinants in a manner that ensures the identification and evaluation of more efficient or cost-effective regional transmission facilities to meet Long-Term Transmission Needs.

²⁹² ELCON Initial Comments at 3 (“While regional differences are important to consider, too much flexibility was provided to transmission providers in Order No. 1000 that . . . created a patchwork of planning processes further complicating planning and fostering additional balkanization of the grid[.]”); NOPR, 179 FERC ¶ 61,028 at P 50.

²⁹³ GridLab Initial Comments at 4-5 (noting that SPP does not consider extreme weather events in its transmission plan); Grid Strategies July 2021 Extreme Weather Report at 5 (“[T]ransmission's value for making the grid more resilient against severe weather and other unexpected threats is not typically accounted for in transmission planning and cost allocation analyses. Grid operator transmission planning processes typically assume normal electricity supply and demand patterns, and in most cases do not account for the value of transmission for increasing resilience.”); Renewable Northwest Initial Comments at 4, 8 (explaining that regional transmission planning in the Pacific Northwest does not model extreme weather events and generally does not reflect publicly available data such as utility IRPs or carbon reduction goals); see also Brattle-Grid Strategies Oct. 2021 Report at 36 (stating that production cost simulations that are typically used to estimate the economic benefit of regional transmission facilities assume no extreme weather events); SPP Market Monitor ANOPR Initial Comments at 3 & n.5 (describing that even SPP's more forward-looking scenario analysis of an emerging technology case in its Integrated Transmission Plan presently underestimates the actual growth of renewables so much that “[w]ind capacity in service today (29.8 GW) already exceeds wind levels projected in both 2019 ITP futures that go out to 2029”).

²⁹⁴ Acadia Center and CLF Initial Comments at 1 (“Order No. 1000 has failed to require public utility transmission providers to align their transmission planning and funding processes with state policies and objectives.” (citing Regulatory Assistance Project, FERC Transmission: The Highest-Yield Reforms, at 4 (July 2022), https://www.raponline.org/wp-content/uploads/2023/09/rap-littell-prause-weston-FERC-transmission-highest-yield-reforms-2022-july.pdf)); Renewable Northwest Initial Comments at 12 (citing Brattle-Grid Strategies Oct. 2021 Report at 15, which states that WestConnect, for example, does not include planning inputs that extend beyond generic, baseline projects nor “knowable information about enacted public policy mandates, publicly stated utility plans, and/or consumer procurement targets[.]”); SREA Initial Comments at 25 (stating that “SERTP relies entirely on member utilities to self-nominate transmission study requests regarding public policy, meaning if utilities do not provide recommendations or requests, no SERTP study is completed. For instance, in 2021, SERTP stated, `[t]he SERTP did not receive any input or proposals for possible transmission needs driven by Public Policy Requirements for the 2021 planning cycle. Therefore, no possible transmission needs driven by Public Policy Requirements have been identified for further evaluation of potential transmission solutions in the 2021 SERTP planning cycle.' ” (emphasis in original)).

²⁹⁵ See, e.g., Clean Energy Buyers Initial Comments at 7-8; National Grid Initial Comments at 8; see also AEE ANOPR Initial Comments at 18 (stating that MISO projects electrification effects on load in its long-term regional transmission planning, but how other transmission providers account for electrification trends is not consistent or transparent).

²⁹⁶ See supra note 2166; Rocky Mountain Institute Supplemental Comments at 1 (“Technology companies have begun requesting large interconnections for data centers that require increased electricity supply to power generative artificial intelligence.”); WIRES Supplemental Comments at attach. 1, p. 36 (Rob Gramlich, et al., Fostering Collaboration Would Help Build Needed Transmission (Feb. 2024)) (“Load growth is rising in much of the country, and it is happening in a way that is hard for any single entity to assess on their own. It varies by local area due to factors such as manufacturing plant and data center additions, plus expectations for end-use electrification and penetration of electric vehicles.”).

²⁹⁷ See, e.g., Renewable Northwest Initial Comments at 11, 14-15 (discussing how the MISO transmission planning process accounts for the future resource mix); Western PIOs Initial Comments at 23-24, 26-27 (explaining forward-looking aspects of the CAISO transmission planning process).

119. We recognize there is inherent uncertainty in forecasting,²⁹⁸ and we agree with Industrial Customers that current transmission planning is based on known and measurable factors.²⁹⁹ However, we find, based on this record, that the universe of known and measurable factors that drive regional transmission needs extends beyond those that transmission providers currently consider as part of their regional transmission planning processes. Specifically, the record demonstrates that a multitude of factors like reliability needs driven by the impact of extreme weather, trends in future generation additions and retirements, load growth, Federal, federally-recognized Tribal, state, and local laws, and utility goals increasingly shape Long-Term Transmission Needs, are known and identifiable, and have reasonably predictable effects, especially in the aggregate.

²⁹⁸ We acknowledge NRG's comment that forecasting is inherently uncertain. NRG Initial Comments at 10-12. Sufficiently long-term, forward-looking, and comprehensive regional transmission planning and cost allocation, however, is better than a lack of planning. The Commission may, by applying its expertise and experience to the record, determine what type and amount of transmission planning results in a just and reasonable rate. S.C. Pub. Serv. Auth. v. FERC, 762 F.3d at 55 (“[I]n rate-related matters, the court's review of the Commission's determination is particularly deferential because such matters are either fairly technical or `involve policy judgements that lie at the core of the regulatory mission.' ” (citing Alcoa Inc. v. FERC, 564 F.3d 1342, 1347 (D.C. Cir. 2009))). “The court owes the Commission `great deference' in this realm because `[t]he statutory requirement that rates be `just and reasonable' is obviously incapable of precise judicial definition' and `the Commission must have considerable latitude in developing a methodology responsive to its regulatory challenge[.]' ” Id. (citing Morgan Stanley Cap. Grp. v. Pub. Util. Dist. No. 1, 554 U.S. 527, 532 (2008); Am. Pub. Gas Ass'n v. FPC, 567 F.2d 1016, 1037 (D.C. Cir. 1977)).

²⁹⁹ Industrial Customers Initial Comments at 11.

120. As noted above, the record shows that the increasing frequency, duration, and intensity of extreme weather events are driving changes in Long-Term Transmission Needs to maintain system reliability.³⁰⁰ Additionally, demand growth is a major driver of Long-Term Transmission Needs, and contrary to commenter assertions,³⁰¹ the record shows that evolving trends in load growth due to data centers, electrification, and industrial growth are driving Long-Term Transmission Needs.³⁰² Similarly, state laws, utility integrated resource plans and resource procurements, and other regulatory actions necessarily affect Long-Term Transmission Needs for Commission-jurisdictional transmission services.³⁰³ Several commenters also support the broader consideration of anticipated generation retirements and interconnection requests in regional transmission planning processes because those factors shape the future resource mix and, therefore, Long-Term Transmission Needs.³⁰⁴ Relatedly, many commenters highlight the impact of utility goals on the resource mix because such goals will impact transmission needs.³⁰⁵ Yet, as described above, existing regional transmission planning processes frequently undervalue or entirely omit consideration of some or all of these factors. And while some existing regional transmission planning processes do a better job than others of incorporating different components of long-term, forward-looking, and more comprehensive regional transmission planning, the Commission's existing regional transmission planning requirements do not ensure that factors influencing future transmission will be sufficiently accounted for in that planning.

³⁰⁰ ACEG Initial Comments at 63 (“[T]he need to improve regional and interregional planning arises from the transformative changes occurring with respect to resource diversity, energy market efficiencies, technological changes, operational innovations and resiliency to withstand severe weather events. If transmission facilities are not constructed, these are all benefits that would otherwise be forfeited.”); NERC Initial Comments at 6; Evergreen Action Initial Comments at 2 (“[A]dditional transmission built under improved planning procedures would [ ] create large reliability benefits. With increasing extreme weather events due to climate change—including wildfires, winter storms, hurricanes, and more—additional transmission infrastructure and grid improvements are increasingly necessary for resilience purposes.”); WE ACT Initial Comments at 2 (“Requiring public utility transmission providers to consider extreme weather events in Long-Term Regional Transmission Planning is a positive step towards addressing grid reliability in the face of more frequent and intensifying weather events.”).

³⁰¹ See, e.g., Industrial Customers Initial Comments at 8-10 (arguing that demand is growing more slowly than in previous periods).

³⁰² See, e.g., Northwest and Intermountain Initial Comments at 5 n.12 (“For example, Bonneville Power Administration (`BPA') owns about 75 percent of the transmission lines in the Pacific Northwest. In BPA's 2022 Transmission Service Expansion Plan cluster study, customers submitted 153 separate transmission service requests totaling 11,831 MW of transmission capacity. BPA was able to offer service (without requiring detailed studies and transmission upgrades) to only 275 MWs of those service requests.” (citing BPA, TSR Study and Expansion Process, at 12 (Dec. 7, 2021), https://www.bpa.gov/-/media/Aep/transmission/atc-methodology/2021-22tsep-overview.pdf.)); John Wilson and Zach Zimmerman, The Era of Flat Demand is Over, Grid Strategies, at 3, 6 (Dec. 2023), https://gridstrategiesllc.com/wp-content/uploads/2023/12/National-Load-Growth-Report-2023.pdf (noting the 5-year load growth forecast has nearly doubled from 2.6% to 4.7% and “transmission investments need to increase just to keep up with demand”).

³⁰³ See, e.g., Acadia Center and CLF Initial Comments at 8 (“State laws are . . . essential considerations in planning transmission . . . as state laws drive substantial procurements of energy resources along with the concomitant need for additional transmission, as well as repurposed transmission and non-transmission grid solutions.”); AEE Initial Comments at 10 (noting that “[a]s of September 2020, 38 states and the District of Columbia had adopted renewable portfolio standards, and 21 states (plus the District of Columbia and Puerto Rico)—representing more than half of the U.S. population—include a target of 100% renewable energy by 2050 or sooner. Many of these requirements have been enacted in statute and are binding on utilities and retail energy providers.”).

³⁰⁴ See, e.g., Pattern Energy Initial Comments at 26 (“[T]he generation interconnection queues are indicative of the market and should also be a major source for generation assumptions in scenario planning (both near-term and long-term).”); SEIA Initial Comments at 9.

³⁰⁵ See, e.g., Renewable Northwest Initial Comments at 6; SREA Initial Comments at 41-46 (“The major utility announcements of achieving net zero or some approximation affects the marketplace, especially in the [S]outheast.”).

121. The failure to adequately consider such factors delays planning for the transmission system's changing operational needs until shortly before those transmission needs manifest. As a result, existing transmission planning processes are piecemeal and fail to take advantage of economies of scale in transmission investment or opportunities to address multiple transmission needs over multiple time horizons.³⁰⁶ We find that engaging in regional transmission planning without adequate consideration of such factors leads to transmission investment that is not more efficient or cost-effective and renders Commission-jurisdictional regional transmission planning and cost allocation processes unjust and unreasonable.³⁰⁷

³⁰⁶ PIOs Initial Comments at 10-11; Renewable Northwest Initial Comments at 8 (citing Brattle-Grid Strategies Oct. 2021 Report at iii, iv).

³⁰⁷ See, e.g., AEE Initial Comments at 10 (“Failing to take any of [the Commission-proposed factors] into consideration in developing long-term scenarios would risk under investment in needed regional transmission projects to meet transmission needs and potential[ly] result in unjust and unreasonable rates for transmission service.”); New Jersey Commission Initial Comments at 3-9 (arguing that “[e]nsuring just and reasonable rates requires mandating long-term, multi-value, and portfolio based transmission planning.”).

122. Third, the record demonstrates that the Commission's regional transmission planning and cost allocation requirements fail to require transmission providers to adequately consider the broader set of benefits of regional transmission facilities planned to meet Long-Term Transmission Needs.³⁰⁸ For example, commenters note that many regional transmission planning processes focus too narrowly only on some benefits.³⁰⁹ For instance, the Brattle-Grid Strategies Report concludes that “most of [the Nation's recent transmission] investment addresses individual local asset replacement needs, near-term reliability compliance, and generation-interconnection-related reliability needs without considering a comprehensive set of multiple regional needs and system-wide benefits.” ³¹⁰ As PIOs argue, the Commission's existing regional transmission planning and cost allocation requirements do not require that transmission providers assess “opportunities to benefit from economies of scale that come from `right-sizing' and strategic, comprehensive planning of transmission portfolios and projects to capture additional benefits . . . .” ³¹¹ Other regional transmission planning processes fail entirely to consider cost savings associated with certain transmission facilities.³¹²

³⁰⁸ See Order No. 1000, 136 FERC ¶ 61,051 at P 624 (declining to prescribe “a particular definition of `benefits' ”).

³⁰⁹ Massachusetts Attorney General ANOPR Initial Comments at 22 (“New England's siloed approach to transmission planning inhibits identification of multi-value solutions.” As part of ISO-NE's Boston 2028 Request for Proposals, “[i]n focusing on cost-effectively solving reliability needs alone, ISO-NE rejected all but one of thirty-six proposals. While ISO-NE rejected some of these proposals for technical reasons, it eliminated several due to cost considerations alone.”); PIOs Initial Comments at 10 (“[T]he vast majority of current transmission projects are focused solely either on network reliability or connecting the next generator in the interconnection queue and ignore any other potential benefits, possible economies of scale or other efficiencies that might occur by considering multiple future needs . . . . [M]ultiple quantifiable benefits to transmission . . . are being ignored in the transmission planning process.”).

³¹⁰ Brattle-Grid Strategies Oct. 2021 Report at 2.

³¹¹ PIOs Initial Comments at 10-11. The benefits cited by PIOs “include congestion relief, reduced transmission losses, resiliency to extreme weather events, increased flexibility to respond to changing market or system conditions, and facilitating larger regional or interregional solutions for cost effective interconnection of the renewable and storage resources needed to meet public policy goals.” Id. at 11.

³¹² SREA Initial Comments at 24 (“SERTP participants explained that SERTP is unable to conduct adjusted production cost savings, because none of the utilities involved in SERTP have the software capable of doing so. In effect, the `Economic Planning Studies' only evaluate the costs of potential upgrades to the system, but none of the benefits.”).

123. Based on the record, we find that, as with the universe of known and measurable factors driving transmission needs, the benefits that regional transmission facilities provide extend beyond those benefits that transmission providers currently consider as part of their regional transmission planning and cost allocation processes.³¹³ Failing to adequately identify and consider the benefits of such transmission facilities may lead to relatively inefficient or less cost-effective transmission development. In particular, the cost-benefit analyses that transmission providers often use as part of the evaluation process may fail to identify more efficient or cost-effective regional transmission facilities for selection because they provide an inaccurate portrayal of the comparative benefits of different transmission facilities. Thus, the failure to adequately consider the benefits of regional transmission facilities results in, among other things, transmission customers forgoing benefits that may significantly outweigh their costs, which results in less efficient or cost-effective transmission investments and, in turn, contributes to Commission-jurisdictional rates that are unjust and unreasonable.

³¹³ We disagree with Potomac Economics' arguments that the sole benefit of transmission is alleviating congestion and that congestion is primarily an economic issue, so investment in alleviating congestion should not exceed the benefit of doing so. See Potomac Economics Initial Comments at 3-4. As discussed infra in the Evaluation of the Benefits of Regional Transmission Facilities section alleviating congestion is just one of many potential benefits that transmission infrastructure provides, and transmission benefits beyond solving congestion are considered by transmission providers in regional transmission planning processes today.

124. Given our findings above concerning the deficiencies in existing transmission planning requirements, and our conclusion that long-term, forward-looking, and more comprehensive regional transmission planning is needed, we also conclude that existing cost allocation requirements are deficient and must be modified to properly account for Long-Term Regional Transmission Planning. The Commission has long recognized the “close relationship between transmission planning, which identifies needed transmission facilities, and the allocation of costs of the transmission facilities in the plan,” ³¹⁴ and that cost allocation issues will often determine whether transmission providers and customers support the construction of new facilities.³¹⁵ Furthermore, experience with Order No. 1000 has reinforced the critical role that states play in the development of new transmission infrastructure, particularly at the regional level, where transmission projects may physically span, and their costs may be allocated across, multiple states. As the Commission discussed in the NOPR and we continue to find in this final order, facilitating state regulatory involvement in the cost allocation process could minimize delays and additional costs associated with state and local siting proceedings.³¹⁶

³¹⁴ Order No. 1000, 136 FERC ¶ 61,051 at P 496.

³¹⁵ Order No. 890, 118 FERC ¶ 61,119 at P 557; see also Order No. 1000, 136 FERC ¶ 61,051 at P 496.

³¹⁶ NOPR, 179 FERC ¶ 61,028 at P 301; infra Regional Transmission Cost Allocation section.

125. Given the link between cost allocation and transmission planning, it is essential that cost allocation requirements for Long-Term Regional Transmission Facilities are appropriately tailored to the new Long-Term Regional Transmission Planning requirements of this order, particularly given the anticipated long-lead time for any regional transmission facilities developed and regionally cost allocated through this final order. Without proper alignment of the regional transmission planning and cost allocation requirements, it is less likely that transmission facilities selected in Long-Term Regional Transmission Planning will be developed, which would undermine the essential purpose of the regional transmission planning process, namely, the development of more efficient or cost-effective regional transmission facilities.

126. We find that the Commission's current cost allocation requirements, which were designed and established in the context of existing Order No. 1000 regional transmission planning processes, are insufficient to appropriately allocate costs associated with regional transmission facilities that are selected in accordance with the new Long-Term Regional Transmission Planning requirements that we establish in this final order. The Commission's existing Order No. 1000 cost allocation requirements contemplate the application of differing cost allocation methods to different types of transmission facilities. But we find that Long-Term Regional Transmission Planning, which accounts for multiple drivers of Long-Term Transmission Needs and results in Long-Term Regional Transmission Facilities that produce a broader set of benefits, warrants a different approach to cost allocation for such transmission facilities. Likewise, existing Order No. 1000 regional transmission planning processes do not mandate the consideration of specific benefits that we believe are appropriately considered as part of Long-Term Regional Transmission Planning. New information concerning these benefits uncovered through the transmission planning process may be relevant when allocating the costs of Long-Term Regional Transmission Facilities in a manner that is at least roughly commensurate with their benefits.³¹⁷ Importantly, existing cost allocation requirements do not provide a dedicated process through which states have an opportunity to participate in the development of regional cost allocation methods. We conclude such a role is particularly relevant to Long-Term Regional Transmission Planning, given: (1) the lengthy planning horizon over which transmission projects might be identified, selected, and ultimately constructed; (2) the resultant increased uncertainty for Long-Term Regional Transmission Facilities; and (3) accordingly, the increased importance for state engagement regarding cost allocation to increase the likelihood such facilities obtain needed siting approvals from the states and are thus timely and cost-effectively developed. We therefore believe that it is both necessary and appropriate to establish specific cost allocation requirements that are tailored to the Long-Term Regional Transmission Planning reforms in this final order.

³¹⁷ Ill. Commerce Comm'n v. FERC, 576 F.3d 470, 477 (7th Cir. 2009) (ICC v. FERC I); Order No. 1000, 136 FERC ¶ 61,051 at PP 622, 639 (requiring costs of regional transmission facilities to be allocated in a manner that is at least roughly commensurate with estimated benefits).

127. Based on the record, including comments submitted in response to the NOPR, we find that there is substantial evidence demonstrating that Long-Term Regional Transmission Planning and cost allocation to identify and plan for Long-Term Transmission Needs does not occur on a consistent and sufficient basis.³¹⁸ We find, in large part, that this is because of the deficiencies that we have identified above in the Commission's existing regional transmission planning and cost allocation requirements. In addition, we find that, in the absence of sufficiently long-term, forward-looking, and comprehensive regional transmission planning and cost allocation processes, transmission providers are meeting many transmission needs by identifying transmission solutions and developing transmission facilities through other processes, i.e., outside of the regional transmission planning and cost allocation processes,³¹⁹ or, as discussed above, in response to near-term reliability needs,³²⁰ which may not identify the more-efficient or cost-effective solution.

³¹⁸ See New Jersey Commission Initial Comments at 8 (explaining that, outside of limited circumstances, PJM, Florida, ISO-NE, Southeastern Regional, South Carolina Regional, WestConnect, NorthernGrid, NYISO, SPP, and CAISO do not conduct multi-driver or portfolio transmission planning, which has required ratepayers to pay for tens of billions of dollars in unnecessary transmission projects); NextEra ANOPR Initial Comments at 71 (“While there are examples of longer-term planning currently being utilized by some regions, such as MISO's annual 15-year Futures assessment or SPP's 20-year Integrated Transmission Plan run every five years, there is no standard as to what time horizon long-term planning must study, nor how often this planning should be done. Further, no standards or guidelines exist as to what should be included in such long-term planning to ensure that customers are charged just and reasonable rates for the most efficient and cost-effective investments given the most comprehensive and up-to-date information available.”); Western PIOs Initial Comments at 4-28 (arguing that in the Western United States transmission planning outside of CAISO is not developed and is ineffective); Brattle-Grid Strategies Oct. 2021 Report at 13-15 & tbl. 2 (documenting inconsistent “use of proactive, scenario-based, multi-value processes” across various planning authorities, including NYISO, CAISO, MISO, PJM, ISO-NE, Florida, Southeast Regional, and South Carolina”).

³¹⁹ See, e.g., LS Power Initial Comments at 46-50; PIOs Initial Comments at 9-10 (explaining that about half of the approximately $70 billion in aggregate transmission investment by Commission-jurisdictional transmission owners in RTO/ISO regions was approved outside of regional transmission planning processes).

³²⁰ Supra note 309.

128. To reiterate, the fact that transmission facilities are being identified and built outside of regional transmission planning processes and in response to near-term reliability needs is not inherently problematic. In many instances, as some commenters point out,³²¹ those processes may be well equipped to identify necessary and appropriate transmission solutions. Rather, the problem is that incremental and piecemeal expansion of the transmission system outside of regional transmission planning process misses the potential for transmission providers to identify, evaluate, and select more efficient or cost-effective transmission solutions to solve Long-Term Transmission Needs, as well as to afford system-wide benefits that may not be achieved through one-off transmission system upgrades.³²² To the extent that transmission providers may not be identifying and evaluating the more efficient or cost-effective transmission solutions needed to meet underlying transmission needs, including Long-Term Transmission Needs, over time, consumers will bear the costs of relatively inefficient or less cost-effective piecemeal transmission investment and expansion.³²³

³²¹ E.g., Duke Initial Comments at 7.

³²² See, e.g., ACORE Initial Comments at 8 ((“For example, two solutions to address a particular reliability need may offer vastly different total system-wide benefits. Thus, the higher-cost transmission solutions can actually result in significantly lower net cost from a system-wide perspective.”) (quoting Brattle-Grid Strategies Oct. 2021 Report at 30)); Clean Energy States Initial Comments at 2 (“[T]he one-plant-at-a-time approach to transmission upgrades results in a patchwork approach that drives up costs and misses opportunities for improvements to the system as a whole.”); Exelon Initial Comments at 5.

³²³ Michigan State Entities Initial Comments at 1-2 (explaining concerns that the lack of long-term transmission planning has led to significantly higher residential rates and how the problem will worsen if transmission investment does not reflect changes in the resource mix and demand); New Jersey Commission Initial Comments at 6-7 (noting PJM analysis showing transmission upgrades to interconnect 87.1 GW of a variety of resources, including offshore wind, would cost $3.2 billion if done through holistic transmission planning whereas connecting only 15.4 GW of offshore wind would cost $6.4 billion if done through the interconnection queue process, and estimating that the interconnection of 87.1 GW through the interconnection queue would increase the cost to consumers by over $30 billion compared to holistic transmission planning); PIOs Initial Comments at 8 (noting how deficiencies in the Commission's regional transmission planning processes have “led to billions of dollars in excessive costs for consumers.” (citing Brattle-Grid Strategies Oct. 2021 Report at 1-13 (Section 1)).

129. We find that the concerns arising from the absence of sufficiently long-term, forward-looking, and comprehensive regional transmission planning and cost allocation processes and the corresponding failure by transmission providers to identify and evaluate more efficient or cost-effective transmission solutions to Long-Term Transmission Needs are exacerbated by the fact that transmission needs in most transmission planning regions are drastically changing. Contrary to the claims of some commenters, we are not promulgating this order in an attempt to steer the resource mix and demand ³²⁴ based on a preference for certain resources over others.³²⁵ Instead, the Commission is reacting to well-documented factors, which the record demonstrates are driven by exogenous forces beyond the Commission's jurisdiction or control, including, but not limited to, the increasing frequency of extreme weather events, customer preferences, demand growth, economic and technological trends, and Federal, federally-recognized Tribal, state, and local policies.³²⁶

³²⁴ Consumer Organizations Initial Comments at 1-2; ELCON Initial Comments at 9; SERTP Sponsors Initial Comments at 16-20. But see SEIA Reply Comments at 2-3 (“The NOPR does make `repeated references' to the changing resource mix. But that is not because the NOPR will `promote a transition to a more renewables-heavy electric system.' The NOPR makes these references because the resource mix is, in fact, changing. The question before the Commission is not whether to promote or impede that change, but how to address the needs of the grid as a result of that inevitable change.” (internal quotations omitted)); New Jersey Commission Reply Comments at 2 (“The Commission is . . . trying to ensure the electricity system can reliably and efficiently achieve the generation mix that state policymakers and voluntary consumers—not the Commission—have chosen. Ensuring that these customers are served at the lowest possible cost while maintaining reliability is entirely consistent with and indeed required in order to meet the dictates of the FPA. In other words, the Commission is acting to ensure transmission planning processes account for current realities and meet evolving consumer needs at a total cost that is just and reasonable.” (internal citations omitted)).

³²⁵ See, e.g., Ohio Commission Federal Advocate Initial Comments at 4-6 (arguing that the Commission's purpose in issuing the NOPR was to promote an aspirational renewable future and achieve narrow environmental objectives); Undersigned States Reply Comments at 7 (arguing that the Commission is forcing ratepayers to subsidize forms of energy by socializing the cost of a transmission build out).

³²⁶ See New Jersey Commission Initial Comments at 3 (“The Commission is not proposing to unduly favor, mandate, or subsidize forms of generation but is rather seeking to ensure that the bulk electricity system maintains reliability and satisfies evolving consumer demand . . .”).

130. In response to commenters, we acknowledge that integrated resource planning processes, where they exist, shape the resource mix and can often include forms of proactive transmission planning. As stated in Order No. 1000, we reiterate that “the regional transmission planning process is not the vehicle by which integrated resource planning is conducted.” ³²⁷ Indeed, this final order does not aim to affect—either facilitate or hinder—any changes or decisions that occur outside of the Commission's jurisdiction. Instead, because practices directly affecting Commission-jurisdictional rates, terms, and conditions of service for interstate transmission and wholesale electricity are the exclusive jurisdiction of the Commission, we must ensure that Commission-jurisdictional processes associated with regional transmission planning and cost allocation result in rates that are just and reasonable and not unduly discriminatory or preferential. To this end, this final order is focused on ensuring that regional transmission planning processes are adequately accounting for the changes occurring outside of the Commission's jurisdiction, including the resource decisions that are the exclusive jurisdiction of states.³²⁸ Additionally, to the extent that integrated resource planning processes include forms of transmission planning, such planning can be complementary to Commission-jurisdictional regional transmission planning processes but cannot take the place of such processes. This is not to diminish the importance of integrated resource planning processes, which serve a critical role in shaping the generation mix and transmission infrastructure. In recognition of this role, this final order requires transmission providers to consider integrated resource planning as a factor when conducting Long-Term Regional Transmission Planning. But, as discussed below, we conclude that integrated resource planning is appropriately considered as one of several categories of factors used to develop Long-Term Scenarios and identify Long-Term Transmission Needs.

³²⁷ Order No. 1000, 136 FERC ¶ 61,051 at P 154.

³²⁸ See PJM Power Providers Grp. v. FERC, 88 F.4th 250, 275 (3d Cir. 2023) (holding that the Commission is “unambiguously authorize[d] . . . to take state policies into account to the extent that such policies affect [the Commission's] statutorily prescribed area of focus . . . .”); see also Elec. Power Supply Ass'n v. Star, 904 F.3d 518, 524 (7th Cir. 2018) (approving of the Commission's decision to take state zero-emissions credit systems like that in Illinois “as givens and set out to make the best of the situation [these systems] produce”).

131. In response to commenters that argue regional transmission facilities may not address local transmission needs such that a local transmission facility would still be needed,³²⁹ we acknowledge that regional transmission facilities are not necessarily always a more efficient or cost-effective solution to address local transmission needs, and nothing in this final order requires transmission providers to rely on regional transmission facilities to address exclusively local transmission needs. Instead, this final order identifies deficiencies in existing Commission-jurisdictional regional transmission planning processes that lead transmission providers to fail to identify Long-Term Transmission Needs and fail to identify, evaluate, or select more efficient or cost-effective transmission solutions to meet those transmission needs. As a result of these deficiencies, transmission providers may undertake relatively inefficient investments in transmission infrastructure by missing opportunities to identify regional transmission facilities that bring economies of scale or address multiple transmission needs over different time horizons, including local transmission needs.

³²⁹ See, e.g., Duke Initial Comments at 9 (arguing that there are instances in which larger regional transmission projects may not resolve localized transmission needs).

132. We disagree with arguments that the Commission cannot promulgate this final order because we rely on general findings, rather than individualized analyses of each, specific transmission planning region.³³⁰ Relevant precedent, including regarding the Commission's comparable action in Order No. 1000, is clear that the Commission has discretion as to the procedural means through which it will apply its substantive expertise, and we need not make findings that are region specific in every case; rather, we are empowered to “rely on `generic' or `general' findings of a systemic problem to support imposition of an industry-wide solution,” ³³¹ and we do so here. The fact that individual transmission planning regions may have different forms of transmission planning processes, and may experience varying levels of transmission investment, would be “as unastonishing as it is irrelevant.” ³³² Moreover, although transmission planning practices vary considerably between transmission planning regions and some regions may engage in transmission planning that shares many of the elements of the more long-term, forward-looking, comprehensive regional transmission planning required in this order, the record demonstrates that this final order identifies deficiencies that reach well beyond “isolated pockets[.]” ³³³ Rather, the record demonstrates that these deficiencies pervade large swaths of the country, which include RTO/ISO and non-RTO/ISO transmission planning regions.³³⁴ Accordingly, this final order's remedy does not present an “extreme `disproportion of remedy to ailment[.]' ” ³³⁵ The Commission may reasonably rely on a rulemaking procedure to address the industry-wide changes to the transmission landscape, notwithstanding regional variation among regional transmission planning processes. As the Commission stated in Order No. 1000, “[i]t is well established that the choice between rulemaking and case-by-case adjudication `lies primarily in the informed discretion of the administrative agency.' ” ³³⁶ The Commission also stated that “[i]t is within our discretion to conclude that a generic rulemaking, not case-by-case adjudications, is the most efficient approach to take to resolve the industry wide problems facing us.” ³³⁷ Moreover, we agree with ACEG that pursuing region-specific solutions will lead to “siloed and disjunctive transmission planning policies [that] will not solve the problems facing the nation's electric grid.” ³³⁸

³³⁰ See, e.g., Louisiana Commission Reply Comments at 5-6; NRECA Initial Comments at 14-16.

³³¹ S.C. Pub. Serv. Auth. v. FERC, 762 F.3d at 67 (quoting Interstate Nat. Gas v. FERC, 285 F.3d 18, 37 (D.C. Cir. 2002)).

³³² Id. (quoting Wis. Gas v. FERC, 770 F.2d 1144, 1157 (D.C. Cir. 1985)).

³³³ Id.

³³⁴ See, e.g., supra notes 283 and 284 (explaining that ISO-NE, SERTP, Northern Grid, and PJM undergo transmission planning using time horizons shorter than 20 years).

³³⁵ S.C. Pub. Serv. Auth. v. FERC, 762 F.3d at 67.

³³⁶ Order No. 1000, 136 FERC ¶ 61,051 at P 60.

³³⁷ Id.

³³⁸ ACEG Reply Comments at 17.

133. Furthermore, although not every transmission planning region is experiencing these changes in equal measure, the record shows that significant changes are well underway nationwide, and that failing to adequately account for Long-Term Transmission Needs poses a risk to just and reasonable rates throughout the country.³³⁹ In fact, the record raises a wide range of concerns, and the Commission need not, and should not, wait for systemic problems to undermine regional transmission planning in every region before it acts.³⁴⁰ The record in this proceeding confirms that significant investments in new transmission facilities are expected to occur, with substantial impacts on the Commission-jurisdictional rates that customers pay.³⁴¹ It is therefore critical, and it is the Commission's responsibility, to act now to address deficiencies in its regional transmission planning and cost allocation requirements to ensure that more efficient or cost-effective transmission investments are made as the industry addresses the changing landscape.³⁴²

³³⁹ AEE Reply Comments at 3-4.

³⁴⁰ See Order No. 1000, 136 FERC ¶ 61,051 at P 50.

³⁴¹ See supra P 93.

³⁴² See Order No. 1000, 136 FERC ¶ 61,051 at P 46.

3. Benefits of Long-Term Regional Transmission Planning and Cost Allocation To Identify and Plan for Long-Term Transmission Needs

134. Upon consideration of the record, we find that the requirements set forth in this final order will address deficiencies in the existing regional transmission planning and cost allocation requirements and will promote enhanced reliability and more efficient or cost-effective transmission solutions, which will help to ensure just and reasonable Commission-jurisdictional rates.

135. The record demonstrates that long-term, forward-looking, and more comprehensive regional transmission planning that identifies Long-Term Transmission Needs will help transmission providers to identify, evaluate, and select more efficient or cost-effective transmission solutions to those needs. For example, like the Commission in the NOPR,³⁴³ commenters cite to the success of MISO's Long-Range Transmission Plan in delivering more efficient or cost-effective transmission solutions. By addressing public policy, economic, and reliability transmission planning needs simultaneously through its MVP category, MISO “ `eliminate[d] the need for $300 million in future baseline reliability upgrades,' and provided production cost savings that exceeded the entire cost of the portfolio by $10 billion.” ³⁴⁴ Brattle Group and Grid Strategies also found that “building out piecemeal network upgrades through the interconnection queue process to integrate the same amount of generation would have cost over 80% more than the cost of the MVP portfolio.” ³⁴⁵ Similarly, the New Jersey Commission asserts that, by planning transmission facilities to address a specific set of known and identified transmission needs through a holistic portfolio, rather than piecemeal through the generator interconnection process, PJM could save customers more than $30 billion.³⁴⁶

³⁴³ See, e.g., NOPR, 179 FERC ¶ 61,028 at PP 31-32.

³⁴⁴ New Jersey Commission Initial Comments at 4 (citing MTEP2017 Review at 6, 8) (emphasis in original).

³⁴⁵ Id. at 4-5 (citing Brattle-Grid Strategies Oct. 2021 Report at 7 & nn.13-14); see id. at 5 n.9 (noting that the cost of the MVP portfolio divided by the amount of wind capacity it interconnected came to $412 per kilowatt, while interconnection-related network upgrades for new generation in MISO planned through the interconnection queue cost $756 per kilowatt).

³⁴⁶ Id. at 6-7 (citing Brattle-Grid Strategies Oct. 2021 Report at 7); id. (explaining that the onshore network upgrades required to interconnect 87.1 GW of resources meeting all of PJM states' current offshore wind goals and total renewable portfolio standards through “piecemeal interconnection queue projects would cost nearly $36 billion in total—more than eleven times the $3.2 billion cost of the integrated portfolio approach,” or “[p]ut another way, proactive, portfolio-based planning in PJM could ultimately save ratepayers over $30 billion compared to the status quo.”).

136. We note that the cost-saving results that MISO experienced were the direct product of more comprehensive, longer-term regional transmission planning. By expanding the transmission planning horizon and considering factors affecting Long-Term Transmission Needs, as well as considering a broader list of benefits, transmission providers will be able to identify, evaluate, and select more efficient or cost-effective transmission solutions to address Long-Term Transmission Needs.³⁴⁷ Such Long-Term Regional Transmission Planning will: (1) reduce reliance on transmission solutions that are relatively inefficient or less cost-effective because they address only short-term transmission needs; (2) unlock the benefits of economies of scale in transmission investment; ³⁴⁸ (3) enable opportunities to “right size” replacement transmission facilities; ³⁴⁹ (4) facilitate the selection of regional transmission facilities that could address multiple transmission needs over different time horizons; and (5) provide states, utilities, customers, and other stakeholders with greater insight and transparency into the costs and benefits of particular transmission solutions to address Long-Term Transmission Needs. We conclude that these regional transmission planning and cost allocation reforms will benefit customers by leading to more efficient or cost-effective transmission investment, thereby helping to ensure just and reasonable rates.³⁵⁰

³⁴⁷ PIOs Initial Comments at 35.

³⁴⁸ Id. at 10 (“[T]he vast majority of current transmission projects are focused solely either on network reliability or connecting the next generator in the interconnection queue and ignore any other potential benefits, possible economies of scale or other efficiencies that might occur by considering multiple future needs.”).

³⁴⁹ ACEG Initial Comments at 53-56; Clean Energy Associations Initial Comments at 25-27; SEIA Initial Comments at 25-26.

³⁵⁰ See, e.g., Exelon Initial Comments at 5 (“The project-by-project approach of developing [interconnection-related] network upgrades in response to generator interconnection requests does not take into account broader, longer-term planning needs and furthermore raises questions about whether it will lead to efficient and cost-effective outcomes as the resource mix rapidly evolves.”); PIOs Initial Comments at 8 (“[O]verwhelming evidence indicates that transmission owners are largely able to evade the requirements of Order No. 1000 and . . . have primarily invested in local projects. This has led to . . . billions of dollars in excessive costs for consumers.” (citing Brattle-Grid Strategies Oct. 2021 Report at Section 1)); Southeast PIOs Reply Comments at 2 (“All the while, snowballing inefficiencies created by numerous small-scale transmission band-aids, unfit to address broader generation trends, translate into excessive, unjust, and unreasonable rates borne by an already overburdened populace.”).

137. In addition to potentially enhancing the efficiency and cost-effectiveness of transmission investment, we find that sufficiently long-term, forward-looking, and comprehensive regional transmission planning and cost allocation processes will enhance reliability. In the NOPR, the Commission found that a robust, well-planned transmission system is foundational to ensuring an affordable, reliable supply of electricity. The record supports this conclusion. Many commenters agree that, especially in light of continuing changes in both supply and demand, ongoing investment in regional transmission facilities is necessary to ensure that the transmission system continues to serve load in a reliable manner at reasonable cost.³⁵¹ Commenters also agree that regional transmission investments support enhanced reliability because larger, more integrated transmission systems are better equipped to accommodate a diversity of supply and demand conditions and provide redundancy that allow the system to better withstand unpredictable and extreme weather events, which are occurring with increased frequency and severity.³⁵²

³⁵¹ ACORE ANOPR Initial Comments at 21-22 (explaining how additional transmission investments can alleviate billions of dollars in costs caused by extreme weather); EEI Initial Comments at 4 (“Transmission plays and will continue to play a vital role in enabling the energy transition and in ensuring a reliable and resilient energy grid. A robust transmission system will not only enable electric utilities to integrate more renewable energy resources and deliver more clean energy to customers but will also enhance the reliability and resiliency of the grid and enable the deployment of new technologies.” (citing EEI, Planning and Developing Electric Transmission Projects: The Path to the Grid of the Future (2022)); NERC Initial Comments at 6 (explaining that transmission will be key to managing a reliable transformation in the resource mix).

³⁵² NERC Initial Comments at 6 (explaining that regional transmission planning is necessary to ensure sufficient transmission capacity to move energy from areas with a surplus to areas that are deficient).

138. Moreover, commenters provide examples of how long-term, forward-looking, and more comprehensive regional transmission planning can better identify reliability needs and resolve these needs with more efficient or cost-effective transmission solutions.³⁵³ For example, as noted above, MISO's MVP Portfolio 4 eliminated the need for $300 million in future baseline reliability upgrades.³⁵⁴ By comparison, the Reliability Must-Run Agreement for Indian River Unit 4, a 410 MW coal-fired generation unit, highlights the costs of inadequate regional transmission planning. As NARUC explains, the Indian River Unit 4 was scheduled to retire, but PJM found that retirement would cause reliability issues and would necessitate upgrades to transmission facilities that, due to their age, were already due to be upgraded, and that the Reliability Must-Run Agreement was needed because those upgrades would take five years to complete.³⁵⁵ A long-term, forward-looking, and more comprehensive regional transmission planning process may have obviated the need for the Reliability Must-Run Agreement, the individual transmission facility upgrades, or both.

³⁵³ ITC Initial Comments at 44 (“While local transmission planning continues to serve a critically necessary, valuable function in maintaining the reliability and efficiency of transmission systems, it is nonetheless clear that holistic, long range transmission planning is far more capable of identifying optimal transmission solutions that serve the most needs and deliver the most benefits.”); MISO Initial Comments at 88 (explaining that in its Tranche 1 Long Range Transmission Plan, MISO recognizes Avoided Transmission Investment benefits provided by Long Range Transmission Plan facilities in addressing both avoided reliability projects and avoided age and condition replacement projects with the results being avoided costs in local transmission that would have otherwise been incurred to replace existing facilities).

³⁵⁴ New Jersey Commission Initial Comments at 4.

³⁵⁵ NARUC Initial Comments at 14-15.

4. Conclusion

139. In consideration of the record provided in this proceeding, as well as the related conclusions stated above, we find that the Commission's existing regional transmission planning and cost allocation requirements are unjust, unreasonable, and unduly discriminatory or preferential because they fail to require transmission providers to adequately plan on a sufficiently long-term, forward-looking, and comprehensive basis. Specifically, as discussed, we find that the Commission's regional transmission planning and cost allocation requirements fail to require transmission providers to: (1) perform a sufficiently long-term assessment of transmission needs that identifies Long-Term Transmission Needs; (2) adequately account on a forward-looking basis for known determinants of Long-Term Transmission Needs; and (3) consider the broader set of benefits of regional transmission facilities planned to meet those Long-Term Transmission Needs. We find that reforms to those requirements are thus necessary to ensure that Commission-jurisdictional rates are just, reasonable, and not unduly discriminatory or preferential. The failure to plan on a sufficiently long-term, forward-looking, and comprehensive basis results in the potential for relatively inefficient or less cost-effective transmission development for which customers must pay. The requirements set forth in this final order will help to ensure that transmission providers plan to address Long-Term Transmission Needs, in turn helping to ensure more efficient or cost-effective transmission development and thus just and reasonable Commission-jurisdictional rates.

III. Long-Term Regional Transmission Planning

A. Requirement To Participate in Long-Term Regional Transmission Planning

1. NOPR Proposal

140. In the NOPR, the Commission proposed to require each transmission provider to participate in a regional transmission planning process that includes Long-Term Regional Transmission Planning,³⁵⁶ meaning regional transmission planning on a sufficiently long-term, forward-looking, and comprehensive basis to identify transmission needs driven by changes in the resource mix and demand and to identify and evaluate transmission facilities for potential selection as the more efficient or cost-effective transmission facilities to meet such needs.³⁵⁷

³⁵⁶ The two features of Long-Term Regional Transmission Planning that the Commission included in the proposed reforms were the development of scenarios with a 20-year transmission planning horizon to be reassessed and revised every three years, with each such re-assessment providing the basis for identification and evaluation of transmission facilities for potential selection. NOPR, 179 FERC ¶ 61,028 at P 68 n.128.

³⁵⁷ See id. PP 54, 64, 68.

141. The Commission proposed that transmission providers may continue to rely on their existing regional transmission planning and cost allocation processes to comply with Order No. 1000's requirements related to transmission needs driven by reliability concerns or economic considerations.³⁵⁸

³⁵⁸ Id. P 72.

142. The Commission proposed that transmission providers that comply with the Long-Term Regional Transmission Planning requirements will comply with the requirement in Order No. 1000 that they participate in a regional transmission planning process that considers, and has associated cost allocation provisions related to, transmission needs driven by Public Policy Requirements.³⁵⁹ The Commission further proposed to allow transmission providers to propose to continue using some or all aspects of the existing regional transmission planning and cost allocation processes they use to consider transmission needs driven by Public Policy Requirements.³⁶⁰ The Commission stated, however, that such continued use of existing regional transmission planning and cost allocation processes would not supplant transmission providers' obligations to comply with the Long-Term Regional Transmission Planning requirements established in any final order in this proceeding. Moreover, the Commission proposed that transmission providers seeking to retain existing regional transmission planning and cost allocation processes to consider transmission needs driven by Public Policy Requirements would have to demonstrate that continued use of any such processes does not interfere or otherwise undermine the Long-Term Regional Transmission Planning proposed in the NOPR by demonstrating that continued use of such processes is consistent with or superior to any final order issued in this proceeding.³⁶¹

³⁵⁹ Id. P 73.

³⁶⁰ Id. P 74.

³⁶¹ Id.

143. The Commission preliminarily found that transmission providers could propose a regional transmission planning process that plans for reliability needs, economic needs, transmission needs driven by Public Policy Requirements, and transmission needs driven by changes in the resource mix and demand simultaneously through a combined approach. The Commission stated that transmission providers proposing to address all such transmission needs in a single regional transmission planning process would bear the burden of demonstrating continued compliance with Order No. 1000 in addition to compliance with the requirements of any final order in this proceeding.³⁶²

³⁶² Id. P 75.

144. Finally, the Commission proposed to require that Long-Term Regional Transmission Planning comply with the following existing Order Nos. 890 and 1000 transmission planning principles: (1) coordination; (2) openness; (3) transparency; (4) information exchange; (5) comparability; and (6) dispute resolution.³⁶³

³⁶³ Id. P 76.

2. Comments

a. General Comments

145. The majority of commenters support the Commission's proposal,³⁶⁴ with multiple commenters claiming that Long-Term Regional Transmission Planning is crucial to ensure that regional transmission planning appropriately identifies transmission needs to meet the changing resource mix and demand.³⁶⁵

³⁶⁴ Acadia Center and CLF Initial Comments at 2; ACEG Initial Comments at 6, 22-23; ACORE Initial Comments at 2, 17; Advanced Energy Buyers Initial Comments at 4; AEP Initial Comments at 5-7; Amazon Initial Comments at 2; BP Initial Comments at 4-7; Breakthrough Energy Initial Comments at 3; Breakthrough Energy Supplemental Comments at 1; Business Council for Sustainable Energy Initial Comments at 2-4; California Energy Commission Initial Comments at 1; City of New Orleans Council Initial Comments at 4; City of New York Initial Comments at 1, 3; Clean Energy Associations Initial Comments at 10; Conservative Energy Network Supplemental Comments at 1; Conservatives for Clean Energy—Florida Supplemental Comments at 1; Conservatives for Clean Energy—South Carolina; CTC Global Initial Comments at 1; US Senators Supplemental Comments at 1-2; EEI Initial Comments at 10; ELCON Initial Comments at 6-7; NERC Initial Comments at 6-7; ENGIE Initial Comments at 2; Entergy Initial Comments at 7; Environmental Groups Supplement Comments at 2; Evergreen Action Initial Comments at 3; Eversource Initial Comments at 2; Exelon Initial Comments at 4-7; Form Energy Initial Comments at 2-3; Governor of Kansas Laura Kelly Supplemental Comments at 1; Handy Law Initial Comments at 7-8; US House Republicans Supplemental Comments at 1; Indicated PJM TOs Initial Comments at 7-8; Indicated US Senators and Representatives Initial Comments at 1; Michigan Conservative Energy Forum Supplemental Comments at 1; ISO-NE Initial Comments at 2, 8; ITC Initial Comments at 5-9; Joint Consumer Advocates Initial Comments at 5-6; Minnesota State Entities Initial Comments at 4; NARUC Initial Comments at 4; National Grid Initial Comments at 9-11; NEMA Initial Comments at 1-2; NESCOE Initial Comments at 14-16; New England for Offshore Wind Initial Comments at 2; New York Commission and NYSERDA Initial Comments at 8; New York TOs Initial Comments at 1; New York Transco Initial Comments at 1; NextEra Initial Comments at 62; Northwest and Intermountain Initial Comments at 7; Ohio Conservative Energy Forum Supplemental Comments at 1; Pine Gate Initial Comments at 18-19; PIOs Initial Comments at 12-14; Policy Integrity Initial Comments at 5; RMI Supplemental Comments at 2; Senator Schumer Supplemental Comments at 1-2; Senator Whitehouse Supplemental Comments at 1-3; SDG&E Initial Comments at 2; Southeast PIOs Initial Comments at 42-49; State Officials Supplemental Comments at 1 (citing US Climate Alliance Initial Comments); US Climate Alliance Initial Comments at 1-2; Vermont Electric and Vermont Transco Initial Comments at 3; Virginia Commission Staff Initial Comments at 2-3; Western PIOs Initial Comments at 28-30, 36; Western Way Colorado Supplemental Comments at 1; Western Way Nevada Supplemental Comments at 1; Western Way Utah Supplemental Comments at 1; Wisconsin Conservative Energy Forum Supplemental Comments at 1.

³⁶⁵ Breakthrough Energy Initial Comments at 12; EEI Supplemental Comments at 1; Exelon Initial Comments at 5; US House Republicans Supplemental Comments at 1; ITC Initial Comments at 5.

146. AEP and Ørsted argue that the Commission's proposal will address deficiencies in the current transmission planning process.³⁶⁶ National Grid claims that existing long-term transmission planning processes are sufficient for addressing reliability and economic transmission needs in the near-term but are inadequate for addressing the changing resource mix and demand, as well as for addressing resilience challenges driven by climate change.³⁶⁷ ACEG claims that Long-Term Regional Transmission Planning will allow right-sizing of transmission facilities.³⁶⁸

³⁶⁶ AEP Initial Comments at 8; Ørsted Initial Comments at 4-5.

³⁶⁷ National Grid Initial Comments at 10.

³⁶⁸ ACEG Initial Comments at 6.

147. Some commenters observe that this proposal may result in cost-savings for consumers. For example, DC and MD Offices of People's Counsel claim that this proposal could result in significant cost savings to consumers by helping address severe weather events and reduce the relative cost of decarbonizing the country's resource fleet.³⁶⁹ AEP argues that the NOPR proposal will benefit consumers by establishing a process that will identify more efficient or cost-effective transmission facilities, capturing currently missed opportunities and achieving economies of scale.³⁷⁰ North Carolina Commission and Staff argue that Long-Term Regional Transmission Planning can provide state utility commissions and consumer advocates with useful information to promote a cost-effective and reliable transmission grid.³⁷¹

³⁶⁹ DC and MD Offices of People's Counsel Initial Comments at 8-10 (citing Patrick Brown & Audun Botterud, The Value of Inter-Regional Coordination and Transmission in Decarbonizing the US Electricity System, 5 Joule 115, 115-134 (2020), https://www.sciencedirect.com/science/article/pii/S2542435120305572?dgcid=author%20_blank); see also EEI Supplemental Comments at 1 (arguing that robust transmission development will provide cost savings from greater access to low-cost resources).

³⁷⁰ See AEP Initial Comments at 8-12.

³⁷¹ North Carolina Commission and Staff Initial Comments at 4.

148. NextEra states that Long-Term Regional Transmission Planning can minimize overall costs to consumers by enabling the lowest-cost generation.³⁷² Relatedly, Tabors Caramanis Rudkevich states that the NOPR proposal would establish a transmission planning process that coordinates across franchises, states, and regions, which will reduce the production cost of delivery of energy to consumers.³⁷³

³⁷² NextEra Initial Comments at 62.

³⁷³ Tabors Caramanis Rudkevich Initial Comments at 4-5.

149. PPL notes that Long-Term Regional Transmission Planning may improve some of the limitations of criteria-based transmission planning, which is currently employed in RTOs/ISOs.³⁷⁴ Ørsted supports the proposed requirements regarding Long-Term Regional Transmission Planning and argues that existing regional transmission plans fail to anticipate the size and scale of future offshore wind generation development, leading to inaccurate plans and insufficient investment in infrastructure needed to integrate known future offshore wind generation.³⁷⁵

³⁷⁴ PPL Initial Comments at 4. PPL claims that, while PJM may perform long-term transmission planning on a 15-year time frame on paper, its long-term transmission planning is effectively undertaken over only 7 to 10 years. Id.

³⁷⁵ Ørsted Initial Comments at 4-5.

150. State Agencies assert that the Commission's various proposed reforms in the NOPR collectively would enhance transparency, prevent unnecessary investment in local transmission projects, and improve the competitive landscape.³⁷⁶ US DOJ and FTC support reforms that address obstacles to transmission development and that are implemented consistent with principles for competition.³⁷⁷

³⁷⁶ State Agencies Reply Comments at 6.

³⁷⁷ US DOJ and FTC Initial Comments at 19.

b. Requests for Flexibility in Transmission Planning

151. A number of commenters support the Commission's proposal to require Long-Term Regional Transmission Planning, but also express reservations or objections regarding what they perceive as an overly prescriptive approach that may disrupt existing processes that are already working.³⁷⁸ For example, multiple commenters express concerns that the NOPR's allegedly prescriptive requirements for Long-Term Regional Transmission Planning will significantly limit needed discretion to conduct such planning, and that, without discretion to adjust the scenario modeling and assumptions to regional circumstances, the final order could lead to more delay and conflict.³⁷⁹ MISO TOs contend that the NOPR proposals vary sufficiently from MISO's current approach that MISO and its stakeholders will need to engage in complex and time-intensive revisions in order to comply.³⁸⁰ Similarly, City of New Orleans Council asks that the final order not hinder existing MISO processes.³⁸¹

³⁷⁸ See, e.g., Avangrid Initial Comments at 6, 9; CAISO Initial Comments at 1-2, 7-10, 13; California Commission Initial Comments at 6; Duke Initial Comments at 1-2; Indiana Commission Initial Comments at 1, 3; ISO-NE Initial Comments at 20; ISO/RTO Council Initial Comments at 4-5 (citing NOPR, 179 FERC ¶ 61,028 at PP 66, 104); Massachusetts Attorney General Initial Comments at 10-12; Michigan Commission Initial Comments at 4-5; MISO Initial Comments at 23; NEPOOL Initial Comments at 7; NYISO Initial Comments at 11; PG&E Initial Comments at 2; PJM Initial Comments at 54-55; US Chamber of Commerce at 4-5.

³⁷⁹ Ameren Initial Comments at 8; ISO-NE Initial Comments at 20; ISO/RTO Council Initial Comments at 8-9; MISO TOs Reply Comments at 10-12.

³⁸⁰ MISO TOs Reply Comments at 10-11.

³⁸¹ City of New Orleans Initial Comments at 5-6.

152. Multiple commenters recommend that the Commission's final order establish principles and objectives for long-term transmission planning that address the Commission's concerns and provide transmission providers with the flexibility to develop tailored long-term transmission planning approaches and implementation details accordingly.³⁸² MISO recommends that each transmission provider should give the Commission a report outlining the actions and processes that support the Commission's principles and guidance, and then the Commission could direct specific changes within each transmission planning region as it deems necessary.³⁸³

³⁸² ISO-NE Initial Comments at 20; ISO/RTO Council Initial Comments at 4-5, 8-9; MISO Initial Comments at 22-23.

³⁸³ MISO Initial Comments at 22.

153. Multiple commenters argue for flexibility to accommodate local and regional differences, including differences in public policy goals that affect transmission planning.³⁸⁴ NYISO asks that the final order give each transmission planning region discretion to determine, in coordination with state entities and stakeholders, how best to incorporate the Long-Term Regional Transmission Planning requirements within its transmission planning framework.³⁸⁵ California Municipal Utilities add that a significant amount of demand in the West is served by publicly-owned utilities and electric cooperatives, which fall outside of state commission regulation, highlighting the need for flexibility in planning.³⁸⁶

³⁸⁴ APPA Reply Comments at 9-10; California Commission Initial Comments at 5; California Municipal Utilities Reply Comments at 2-4; Industrial Customers Reply Comments at 4; Louisiana Commission Reply Comments at 4-5; Georgia Commission Initial Comments at 2; NARUC Initial Comments at 3; New York Transco Initial Comments at 5; North Dakota Commission Initial Comments at 3; New York Commission and NYSERDA Initial Comments at 3; OMS Initial Comments at 3; PJM States Initial Comments at 2.

³⁸⁵ NYISO Initial Comments at 13.

³⁸⁶ California Municipal Utilities Reply Comments at 2.

154. Dominion asserts that any reforms adopted in this proceeding should align with the purpose of the transmission system, which is to provide reliable, affordable electric service to customers rather than to benefit generators.³⁸⁷

³⁸⁷ Dominion Initial Comments at 5.

155. APPA agrees with concerns expressed by Commissioner Christie and former Commissioner Danly that overly prescriptive transmission planning requirements have the potential to interfere with existing regional transmission planning processes, and hence argues that adequate flexibility is needed.³⁸⁸ Mississippi Commission states that where an RTO/ISO or non-RTO/ISO transmission provider is already engaged in long-term regional transmission planning, the Commission should accept flexibility and regional variations on compliance to address region-specific issues, including the delineation of regional and local transmission facilities through, for example, a voltage threshold (e.g., 100 kV).³⁸⁹

³⁸⁸ APPA Initial Comments at 23.

³⁸⁹ Mississippi Commission Reply Comments at 7-8 (citing Entergy Initial Comments at 2-4; Louisiana Commission Initial Comments at 35-36; Michigan State Entities Initial Comments at 2; MISO Initial Comments at 2-3, 19; MISO TOs Initial Comments at 2, 4, 13-15).

156. CAISO maintains that the Commission should allow it to continue evaluating transmission needs driven by Public Policy Requirements in its transmission planning process, in addition to any Long-Term Regional Transmission Planning process, and give CAISO the flexibility to continue using resource portfolios and geographic zones identified by state agencies and local regulatory authorities.³⁹⁰ Although ACORE urges the Commission not to grant requests for less stringent transmission planning requirements in the final order, ACORE agrees that there may be cases where an individual RTO's/ISO's existing processes may be superior to the proposed reforms, such as in the case of CAISO's treatment of public policy projects within its annual transmission planning process.³⁹¹ California Municipal Utilities note that CAISO has already begun to implement some of the key reforms that the Commission proposed in the NOPR, specifically by adopting a 20-year outlook for transmission planning.³⁹²

³⁹⁰ CAISO Reply Comments at 17-18.

³⁹¹ ACORE Reply Comments at 4.

³⁹² California Municipal Utilities Initial Comments at 5.

157. MISO requests that a final order support, rather than detract from, its demonstrated success in long-term transmission planning.³⁹³ MISO TOs request that the Commission revise the NOPR's required parameters for Long-Term Regional Transmission Planning to accommodate the robust long-term regional transmission planning that some transmission planning regions, like MISO, have already developed.³⁹⁴ Similarly, Ameren contends that the Commission should find that MISO's approved Long Range Transmission Planning process substantially complies with the proposed reforms.³⁹⁵

³⁹³ MISO Reply Comments at 2-3.

³⁹⁴ MISO TOs Reply Comments at 11-12.

³⁹⁵ Ameren Initial Comments at 8.

158. New York TOs support allowing transmission planning regions with already successful transmission planning processes to retain those processes while making incremental enhancements and to demonstrate on compliance that they meet the NOPR's objectives.³⁹⁶ New York Transco asserts that the current NYISO public policy transmission planning processes already address, at least in part, the proposed reforms and believes that the Commission should permit regional flexibility.³⁹⁷

³⁹⁶ New York TOs Initial Comments at 8-9.

³⁹⁷ New York Transco Initial Comments at 5.

159. SPP states that its current transmission planning processes are sufficient to meet the intent of the Commission's proposed Long-Term Regional Transmission Planning reforms.³⁹⁸ Omaha Public Power states that SPP and other RTOs/ISOs have already developed long-term planning scenarios and suggests that transmission providers that already have long-term planning scenarios should be provided with the flexibility to continue using their previously established processes.³⁹⁹

³⁹⁸ SPP Initial Comments at 3 (citing NOPR, 179 FERC ¶ 61,028 at P 3).

³⁹⁹ Omaha Public Power Initial Comments at 4.

160. In contrast, some commenters argue that the final order should not provide too much flexibility to transmission providers because that flexibility will undermine Long-Term Regional Transmission Planning.⁴⁰⁰ Many commenters opposing greater flexibility argue that the Commission should establish minimum requirements for Long-Term Regional Transmission Planning.⁴⁰¹

⁴⁰⁰ See, e.g., ACORE Reply Comments at 2-4 (citing New Jersey Commission Initial Comments at 7); AEP Reply Comments at 2-5; Clean Energy Associations Reply Comments at 4-6; DC and MD Offices of People's Counsel Reply Comments at 2-3; Hannon Armstrong Reply Comments at 1; Interwest Reply Comments at 3-4; Invenergy Reply Comments at 8-10; PIOs Reply Comments at 5-6.

⁴⁰¹ See, e.g., AEE Reply Comments at 9-13, 16-18, 21-22; AEP Reply Comments at 2-5; Cypress Creek Reply Comments at 4-9; Interwest Reply Comments at 3-4; Invenergy Initial Comments at 2; Kentucky Commission Chair Chandler Reply Comments at 2; PIOs Reply Comments at 2-3; SEIA Reply Comments at 1-3; Southeast PIOs Reply Comments at 21-22; SREA Reply Comments at 26-27.

161. AEP argues that the Commission must resist requests for excessive regional flexibility that could threaten the development of long-term regional transmission and only permit it in limited instances that exceed minimum requirements.⁴⁰² Onward Energy states that, while flexibility is reasonable, the Commission must clearly identify who will drive regional transmission planning processes and how transmission planners will coordinate, study, and implement Long-Term Scenarios that represent realistic future resource portfolios.⁴⁰³ Clean Energy Associations state that without robust and proactive transmission planning rules, the Commission cannot determine that rates remain just and reasonable.⁴⁰⁴ DC and MD Offices of People's Counsel state that, while regional flexibility is critical, long-term transmission planning rules that provide carve-outs and opt-outs will result in balkanized transmission development.⁴⁰⁵

⁴⁰² AEP Reply Comments at 3.

⁴⁰³ Onward Energy Initial Comments at 4.

⁴⁰⁴ Clean Energy Associations Reply Comments at 4-5 (citing CAISO Initial Comments at 3; California Commission Initial Comments at 11; ISO-New England Initial Comments at 4; ISO/RTO Council Initial Comments at 8; NYISO Initial Comments at 3; PG&E Initial Comments at 4; PJM States Initial Comments at 4).

⁴⁰⁵ DC and MD Offices of People's Counsel Reply Comments at 2.

162. Hannon Armstrong states that by diluting the proposed requirements or granting flexibility as some commenters request, the Commission would allow existing deficiencies to persist, enabling the continued reliance on either the generator interconnection process or operational planning to resolve or mitigate constraints.⁴⁰⁶ Invenergy rebuts commenters' claims that the NOPR is too prescriptive or that some of the NOPR requirements should be optional, stating that optional processes and deference to regional flexibility will not ensure needed transmission is built and that a flexible approach has already been tried and has failed to produce sufficient results.⁴⁰⁷

⁴⁰⁶ Hannon Armstrong Reply Comments at 1.

⁴⁰⁷ Invenergy Reply Comments at 9-10.

c. Comments Regarding More Comprehensive Transmission Planning

163. Several commenters contend that Long-Term Regional Transmission Planning should not interfere with and should not supplant existing shorter-term transmission planning processes.⁴⁰⁸ PJM asks the Commission to confirm that it did not mean for the NOPR proposals on Long-Term Regional Transmission Planning to modify the existing reliability and market efficiency transmission planning processes.⁴⁰⁹ Transmission Dependent Utilities encourage the Commission to ensure that transmission providers do not focus on long-term objectives to satisfy state renewable energy portfolio requirements to the detriment of near-term reliability needs, such as end-of-life transmission planning.⁴¹⁰ Large Public Power and NEPOOL state that any final order should clearly state that the current near-term transmission planning rules and processes, especially cost allocation, are not changed by the final order's reforms, except where expressly indicated.⁴¹¹ Ameren argues that the Commission was clear that changes to existing reliability and economic transmission planning requirements are beyond the scope of the NOPR and that the comments filed supporting holistic planning have provided no compelling basis for the Commission to address them.⁴¹²

⁴⁰⁸ Ameren Reply Comments at 17; CAISO Initial Comments at 2-3, 17-20; Chemistry Council Initial Comments at 5; Dominion Initial Comments at 23; Exelon Initial Comments at 6-7; Indicated PJM TOs Initial Comments at 12; ITC Initial Comments at 8-9; Large Public Power Initial Comments at 14-16; NEPOOL Initial Comments at 8; NESCOE Initial Comments at 21-23; PJM Initial Comments at 55-57; PPL Initial Comments at 4-5; Transmission Dependent Utilities Initial Comments at 4-6; WIRES Initial Comments at 6-7; Xcel Initial Comments at 16.

⁴⁰⁹ PJM Initial Comments at 55-57.

⁴¹⁰ Transmission Dependent Utilities Initial Comments at 4-6.

⁴¹¹ Large Public Power Initial Comments at 16-18; NEPOOL Initial Comments at 7-8.

⁴¹² Ameren Reply Comments at 17.

164. Several commenters contend that Long-Term Regional Transmission Planning should not interfere with and must not supplant existing shorter-term transmission planning processes for transmission needs driven by Public Policy Requirements.⁴¹³ CAISO states that the NOPR provides no guidance or criteria regarding how a transmission provider can demonstrate that its existing process for addressing transmission needs driven by Public Policy Requirements does not interfere with or undermine Long-Term Regional Transmission Planning. CAISO contends that it should not have to re-justify its existing process or demonstrate that its existing process is consistent with or superior to Long-Term Regional Transmission Planning.⁴¹⁴

⁴¹³ Anbaric Initial Comments at 22-27; CAISO Initial Comments at 2-3, 9-20; Large Public Power Initial Comments at 14-16.

⁴¹⁴ CAISO Initial Comments at 19.

165. AEP asserts that transmission providers should look at nearer-term reliability and economic transmission planning processes to determine whether there are needs that can be incorporated into Long-Term Regional Transmission Planning and addressed by a Long-Term Regional Transmission Facility.⁴¹⁵ SEIA recommends that the Commission require transmission providers to engage in portfolio-based transmission planning that integrates all relevant factors, including near-term needs, into Long-Term Regional Transmission Planning.⁴¹⁶ Policy Integrity argues that inclusion of specific requirements for transmission modeling are needed to fulfill the mandate of ensuring wholesale electric rates are just and reasonable.⁴¹⁷ Xcel recommends that the Commission require that known or expected generation be included in short-term regional transmission planning assumptions.⁴¹⁸

⁴¹⁵ AEP Initial Comments at 10.

⁴¹⁶ SEIA Initial Comments at 20-21.

⁴¹⁷ Policy Integrity Supplemental Comments at 3.

⁴¹⁸ Xcel Initial Comments at 16.

166. PIOs state that, if the two processes continue to exist, the Commission should mandate that the base cases used in Order No. 1000 regional transmission planning processes and Long-Term Scenarios in Long-Term Regional Transmission Planning be defined in the same process. Otherwise, PIOs contend, inconsistent assumptions between the two processes could lead to redundant transmission projects and failure to identify more efficient solutions. In particular, PIOs argue, if an Order No. 1000 transmission planning process base case identifies transmission needs that are not anticipated in the Long-Term Scenarios, the opportunities for more efficient planning created by the long-term process will be lost. In addition, PIOs suggest that there may be opportunities for stakeholders to undermine Long-Term Regional Transmission Planning if they believe Order No. 1000 transmission planning would produce more favorable results for them. PIOs further argue that because uncertainty grows the further one looks into the future, there should not be significant differences in the short-term results of Long-Term Regional Transmission Planning and Order No. 1000 regional transmission planning processes.⁴¹⁹

⁴¹⁹ PIOs Initial Comments at 44-46.

167. Several commenters support forward-looking, Long-Term Regional Transmission Planning but argue for holistic planning using multiple drivers of transmission needs.⁴²⁰ They argue that a holistic approach is more efficient, better accounts for long-term benefits of new transmission, addresses the needs of more stakeholders, and is more likely to support development of regional transmission facilities, among other benefits. Competition Advocates support a final order that reflects the benefits of holistic modeling,⁴²¹ while New Jersey Commission contends that holistic transmission planning using a competitive process provides significant benefits, including reducing costs.⁴²²

⁴²⁰ See, e.g., Acadia Center and CLF Initial Comments at 4-7; ACEG Initial Comments at 6-7, 30-31; ACORE Initial Comments at 5-7; Anbaric Initial Comments at 5-10; AEE Reply Comments at 2; Business Council for Sustainable Energy Initial Comments at 2; City of New York Initial Comments at 4-6; Competition Coalition Initial Comments at 15-16; Cypress Creek Reply Comments at 4-5; Enel Initial Comments at 3; Pine Gate Initial Comments at 18-19; PIOs Reply Comments at 11; SEIA Reply Comments at 2, 7-8; see also Pattern Energy Initial Comments at 16.

⁴²¹ Competition Advocates Supplemental Comments at 1; see also Policy Integrity Supplemental Comments at 2-3 (citing Jennifer Danis et al., Inst. for Policy Integrity, Transmission Planning for the Energy Transition: Rethinking Modeling Approaches (Dec. 2023), https://policyintegrity.org/files/publications/Transmission_Report_2023.pdf).

⁴²² New Jersey Commission Motion to Lodge at 4-5 (citing In re Declaring Transmission to Support Offshore Wind a Pub. Policy of the State of N.J., Order on the State Agreement Approach SAA Proposals, N.J. BPU Docket No. QO20100630 (Oct. 26, 2022), https://publicaccess.bpu.state.nj.us/DocumentHandler.ashx?document_id=1279919; Johannes P. Pfeifenberger, et al., Brattle Grp., New Jersey State Agreement Approach for Offshore Wind Transmission: Evaluation Report, (Oct. 26, 2022), https://publicaccess.bpu.state.nj.us/DocumentHandler.ashx?document_id=1279916; PJM, Economic Analysis Report: 2021 SAA Proposal Window to Support NJ OSW (Nov. 4, 2022), https://www.pjm.com/-/media/committees-groups/committees/teac/2022/20221104-special/informationalonly---njosw-economic-analysis-report.ashx).

168. To ensure that reforms are not undermined by existing processes, Clean Energy Buyers recommend that the Commission extend to all existing regional transmission planning processes—not just transmission planning processes to address transmission needs driven by Public Policy Requirements, as proposed in the NOPR—the requirement that, on compliance with any final order, transmission providers who seek to retain existing regional transmission planning and cost allocation processes must demonstrate that continued use of those processes does not interfere with or undermine Long-Term Regional Transmission Planning.⁴²³

⁴²³ Clean Energy Buyers Initial Comments at 9-10.

169. However, other commenters support the Commission's proposal in the NOPR to not apply the proposed reforms to existing Order No. 1000 reliability and near-term economic regional transmission planning processes.⁴²⁴ Ohio Consumers support the NOPR's proposal to mostly retain the regional transmission planning processes outlined in Order No. 1000, explaining that PJM stakeholders have reached an effective settlement under that framework in which costs are allocated in a manner that is roughly commensurate with the benefits received.⁴²⁵

⁴²⁴ Ameren Reply Comments at 17; Exelon Initial Comments at 6-7; ITC Initial Comments at 8-9; WIRES Initial Comments at 6-7.

⁴²⁵ Ohio Consumers Initial Comments at 7 (citing NOPR, 179 FERC ¶ 61,028 at P 72).

170. Some commenters argue that the Commission should require that local transmission projects be evaluated and approved as part of a holistic planning approach.⁴²⁶ AEE asserts that, to ensure that transmission providers consider the full range of needs in developing long-term regional transmission plans, the final order should require them to consider local transmission plans and to determine whether a regional solution would be more efficient or cost-effective.⁴²⁷ OMS suggests that the Commission require that all local transmission projects be evaluated and approved as part of regional transmission planning processes with the opportunity for meaningful input from retail regulators, which it argues will enable participation by state regulators while respecting transmission owners' abilities to maintain their systems.⁴²⁸

⁴²⁶ AEE Initial Comments at 3, 38; OMS Initial Comments at 16-17; LS Power and NRG Supplemental Comments at 34-37.

⁴²⁷ AEE Initial Comments at 3, 38.

⁴²⁸ OMS Initial Comments at 16-17.

171. By contrast, WIRES argues that the Commission should maintain the distinction between regional transmission planning and local transmission planning. WIRES argues that, while the regional transmission planning process is directed toward addressing certain reliability concerns, economic criteria, and public policy initiatives, it is not geared toward addressing additional system needs related to resilience, asset management, customer needs, customer impact, and aging infrastructure replacement that is typically the focus of local transmission planning.⁴²⁹ Similarly, AEP states that if an RTO/ISO were to make all decisions regarding local transmission projects, they would also need to assume the accompanying responsibility—and the liability—for such decisions, which would entail physical inspection and condition assessment of assets, as well as a determination of when transmission facilities have reached their end of useful life.⁴³⁰ AEP points out that both CAISO and PJM have expressly stated that they do not wish to undertake these types of activities and assume such obligations.⁴³¹

⁴²⁹ WIRES Initial Comments at 9.

⁴³⁰ AEP Reply Comments at 7.

⁴³¹ Id. (citing S. Cal. Edison Co., 164 FERC ¶ 61,160, at P 18 (2018); PJM Interconnection, L.L.C., Comments of PJM, Docket No. ER20-2308-000, at attach. A (July 2, 2020) (citation omitted)).

d. Concerns Regarding Favoring Renewable Resources

172. ELCON argues that the Commission's proposal could require customers to pay higher costs to connect distant renewables when a lower-cost transmission project would provide the same reliability or economic benefits.⁴³² Utah Division of Public Utilities states that Long-Term Scenario requirements favoring renewable generation burden transmission providers while providing little to no benefit and that developers and generation utilities should determine which renewable generation should be developed at their respective zones or sites.⁴³³ Utah Commission further contends that nationwide mandates for transmission planning add costs, produce confusion, and create conflicts that could lead to higher utility prices for consumers.⁴³⁴ Kansas Ratepayer Advocates contend that Long-Term Regional Transmission Planning would presume material additions of renewable energy to serve consumers within a state, coupled with material additions of transmission to interconnect those renewables to the electric transmission grid, which do not reflect the unique circumstances of Kansas.⁴³⁵

⁴³² ELCON Initial Comments at 9-10.

⁴³³ Utah Division of Public Utilities Initial Comments at 7-8.

⁴³⁴ Utah Commission Initial Comments at 11, 13.

⁴³⁵ Kansas Ratepayers Advocates Reply Comments at 2.

173. Vistra asserts that the proposed reforms could devolve into the subsidization of resources chosen to achieve state policy goals, masking the true costs of those remotely located resources that require extensive transmission development to interconnect to the grid and leading to market distortions that undermine the objectives of these reforms.⁴³⁶

⁴³⁶ Vistra Initial Comments at 11.

174. Louisiana Commission states that the NOPR would result in subsidization of the costs of transmitting remote renewable energy, spreading the costs out broadly based on an expanded “nebulous concept of `benefits' and perceived `public policy,' ” thus ensuring that those transmission projects will pass any economic test.⁴³⁷ According to Louisiana Commission, this subsidization would interfere with price signals, thereby distorting the efficient functioning of the wholesale market.⁴³⁸ Louisiana Commission states that any Commission policy should be resource and technology neutral and should not impose costs on states that do not benefit from distant renewable power.⁴³⁹

⁴³⁷ Louisiana Commission Reply Comments at 12 (citing NOPR, 179 FERC ¶ 61,028 (Christie, Comm'r, concurring at P 2)).

⁴³⁸ Louisiana Commission Initial Comments at 19-21.

⁴³⁹ Id. at 21-24.

175. Finally, Louisiana Commission contends that the NOPR's long-term transmission planning requirements could threaten the reliability of the transmission grid because the intermittent renewable resources that the NOPR favors do not provide stable output and are not dispatchable.⁴⁴⁰ Similarly, former Kansas Commission Chair Keen argues that the NOPR fails to acknowledge the reliability concerns associated with a generation mix that is too heavily weighted to intermittent renewable generation resources.⁴⁴¹

⁴⁴⁰ Id. at 21-23. But see Cypress Creek Reply Comments at 2-4 (disagreeing with Louisiana Commission and claiming that regionally coordinated transmission planning should provide demonstrable system reliability benefits).

⁴⁴¹ Kansas Commission Chair Keen Initial Comments at 1.

e. Concerns Regarding Uncertainty, Over-Building, and Costs

176. A few commenters argue that long-term transmission planning introduces uncertainty or incentivizes speculative transmission development.⁴⁴² While EPSA acknowledges that long-term forecasts can provide valuable information about the potential scale of construction necessary to achieve decarbonization, it argues that using such forecasts to justify investment shifts the risks to consumers from developers and facility owners.⁴⁴³ California Municipal Utilities state that, as transmission planning horizons are extended, the changes in resource mix, technology types, the location of resources, and demand will likely change congestion patterns and therefore the need for transmission upgrades needed to address them.⁴⁴⁴

⁴⁴² EPSA Initial Comments at 7; New England Systems Initial Comments at 22; see also NRECA Initial Comments at 28-29.

⁴⁴³ EPSA Initial Comments at 7.

⁴⁴⁴ California Municipal Utilities Initial Comments at 7.

177. Louisiana Commission states that it opposes the NOPR proposal because it would lead to an inefficient and expensive build-out of the transmission system and could be used to justify shifting the costs of this build-out to load.⁴⁴⁵ ELCON states that it is concerned that the Commission's proposal to prioritize Long-Term Regional Transmission Planning to connect renewable generation over Long-Term Regional Transmission Planning for economically necessary transmission may exceed the Commission's authority if it increases transmission rates for the benefit of a few stakeholders.⁴⁴⁶ Southern states that transmission expansion predicated on hypothetical resources that might not materialize would not satisfy the fundamental legal requirements of being used and useful, prudent, and/or otherwise needed for the public use, could harm reliability, and would violate the Commission's duty under the FPA to facilitate transmission planning to meet load-serving entities' obligations.⁴⁴⁷

⁴⁴⁵ Louisiana Commission Initial Comments at 4-5.

⁴⁴⁶ ELCON Initial Comments at 9 (citing NOPR, 179 FERC ¶ 61,028 (Danly, Comm'r, dissenting, at P 2 n.3); NOPR, 179 FERC ¶ 61,028 at P 47).

⁴⁴⁷ Southern Initial Comments at 32, 34.

178. Industrial Customers argue that the NOPR does not provide evidence that extending the transmission planning horizon would exclude modeling of speculative projects, which would likely result in the over-building of transmission and unnecessary increases in rates.⁴⁴⁸ Industrial Customers cite the D.C. Circuit's finding in Old Dominion Electric Cooperative v. FERC that “[w]e are sensitive to the concern . . . that individual utilities should not have free rein to impose unjustified costs on an entire region by unilaterally adopting overly ambitious planning criteria,” and argue that the current NOPR proposal would result in the same issues.⁴⁴⁹

⁴⁴⁸ Industrial Customers Initial Comments at 6, 15-16, 19-21.

⁴⁴⁹ Id. at 16 (citing Old Dominion Elec. Coop. v. FERC, 898 F.3d 1254, 1263 (D.C. Cir. 2018)).

179. NRG urges caution on over-reliance on any 20-year planning study for making transmission investments due to the inherent uncertainty of a study with such a long planning horizon.⁴⁵⁰ NRG argues that the NOPR will increase delivery costs by reducing the value of private investments and replacing such investments with a centrally planned, cost-socialized approach that is founded on at least some incorrect assumptions.⁴⁵¹ NRG provides several examples of how forecast errors have caused adverse consequences, including forecasts of natural gas prices, load forecasts, and canceled planned transmission facilities.⁴⁵²

⁴⁵⁰ NRG Initial Comments at 8.

⁴⁵¹ Id. at 3.

⁴⁵² Id. at 10-11.

180. Likewise, Ohio Consumers urge the Commission to avoid adopting proposals based on long-term projections that justify massive charges to consumers based on hypothetical scenarios.⁴⁵³ Ohio Consumers state that Ohio customers have recently been saddled with rate increases in part due to transmission investments and that long-term transmission planning requirements would increase ratepayer burden, which is especially troublesome if projections turn out to be inaccurate.⁴⁵⁴

⁴⁵³ Ohio Consumers Initial Comments at 5.

⁴⁵⁴ Id.

181. As an alternative to Long-Term Regional Transmission Planning, Potomac Economics states that the Commission could require the transmission planning process to incorporate a broader array of near-term emerging trends that are less uncertain than the proposed longer-term factors.⁴⁵⁵ Louisiana Commission states that it shares Potomac Economics' concerns. Louisiana Commission urges the Commission to heed testimony submitted by Potomac Economics arguing that: (1) there is significant uncertainty about future technology and a significant risk of investing in transmission projects that will not ultimately provide value; (2) large transmission projects are often not the most economic, whereas smaller, targeted projects are more beneficial; and (3) there can and likely would be stranded transmission if transmission planning processes attempt to identify and meet transmission needs 20 to 30 years in the future.⁴⁵⁶

⁴⁵⁵ Potomac Economics Initial Comments at 4.

⁴⁵⁶ Louisiana Commission Reply Comments at 13-14.

182. US Chamber of Commerce argues that the Commission should ensure that any Long-Term Regional Transmission Planning reforms do not perpetuate an irrational transmission buildout that undermines competitive advantages of domestic electricity rates. US Chamber of Commerce asserts that the loss of competitive advantage would lead to lost jobs, lost economic growth, decreased electricity use, and fixed system costs assessed to fewer customers.⁴⁵⁷

⁴⁵⁷ US Chamber of Commerce Initial Comments at 8.

183. Vistra states that the proposed reforms lean toward accounting for regulatory and public policy initiatives that may shape changes in the generation mix without sufficiently incorporating the commercial and markets-related aspects of generation development.⁴⁵⁸ Vistra states that, without a process to assess commercial interest and financial commitment from generation developers, long-term regional transmission plans may under- or over-build transmission facilities or build them in the wrong locations.⁴⁵⁹ Relatedly, NRECA states that planning a regional transmission network for generation resources or changes in demand not identified by load-serving entities' forecasts, and instead through unsupported top-down assumptions, may produce uneconomic results from over-building and increase reliability risks.⁴⁶⁰

⁴⁵⁸ Vistra Initial Comments at 7.

⁴⁵⁹ Id.

⁴⁶⁰ NRECA Initial Comments at 18-19.

184. NRG states that, in light of the uncertainty of variables such as the amount of electrification and resulting load requirements, technology costs for new resources, and viability and repurposing of existing resources, it is not clear whether a “no regrets” option genuinely exists. NRG also asserts that the centralized planning envisioned in the NOPR sacrifices the ability of market participants to use available information to assess whether their investments will be viable in the future, which is a critical feature of competition. NRG asserts that the Commission has not contemplated that trade-off or quantified its costs, noting that past long-term transmission planning studies have done a questionable job at forecasting future needs.⁴⁶¹

⁴⁶¹ NRG Initial Comments at 8.

185. Other commenters, however, note that the NOPR proposal includes measures that mitigate the uncertainty inherent in longer-term regional transmission planning.⁴⁶² For example, New Jersey Commission states that the proposed requirements to develop multiple scenarios and perform reassessments mitigates the uncertainty inherently present in a 20-year transmission planning horizon.⁴⁶³ Additionally, several commenters rebut opposition to Long-Term Regional Transmission Planning based on concerns that it presents unreasonable levels of uncertainty.⁴⁶⁴ For example, SREA and Clean Energy Buyers assert that periodic updates of forecasts and scenarios will help to mitigate uncertainty.⁴⁶⁵

⁴⁶² New Jersey Commission Initial Comments at 10-11; PIOs Initial Comments at 15-16.

⁴⁶³ New Jersey Commission Initial Comments at 10-11.

⁴⁶⁴ Clean Energy Buyers Reply Comments at 8; Policy Integrity Reply Comments at 2; SREA Reply Comments at 21-24.

⁴⁶⁵ Clean Energy Buyers Reply Comments at 8; SREA Reply Comments at 23.

186. Policy Integrity further explains that future uncertainty is exactly why long-term scenario planning is necessary to ensure just and reasonable rates. Policy Integrity states that the current transmission planning process uses deterministic modeling that does not account for the changing world, which will not lead to the development of efficient or cost-effective transmission solutions. Policy Integrity asserts that, in contrast, long-term scenario planning will allow transmission planners to be prepared for changes.⁴⁶⁶ Policy Integrity argues that any forward-looking decision will have a degree of uncertainty, but that the risk posed by uncertainty can be mitigated and managed by using a portfolio evaluation of costs and benefits.⁴⁶⁷ Policy Integrity further argues that ignoring the uncertainty surrounding the energy transition runs its own risk of failing to build transmission that can be useful to meet needs in the short, medium, and long term.⁴⁶⁸

⁴⁶⁶ Policy Integrity Reply Comments at 2.

⁴⁶⁷ Id. at 3-4.

⁴⁶⁸ Id. at 4.

f. Concerns Regarding Incentives for Resource Development

187. Vistra asserts that it is critical for Commission policy to maintain interconnection cost signals to drive cost-effective generation siting choices.⁴⁶⁹ Vistra also argues that a policy that assigns all interconnection-related network upgrade costs, or even a disproportionately high share, to load undermines the incentive that generation developers currently have to site new projects in locations that minimize the related transmission upgrade costs.⁴⁷⁰

⁴⁶⁹ Vistra Initial Comments at 7.

⁴⁷⁰ Id. at 7-8.

188. In contrast, New Jersey Commission argues that requiring individual interconnecting generators to pay for piecemeal interconnection-related network upgrades does not necessarily encourage developers to make siting decisions that minimize the overall cost of integrating large amounts of new generation.⁴⁷¹ Likewise, Clean Energy Associations state that robust, proactive regional transmission planning will better incent efficient siting decisions, because generators will evaluate the likely costs of interconnection facilities that ensure deliverability to the grid, rather than more broadly beneficial transmission facilities.⁴⁷²

⁴⁷¹ New Jersey Commission Reply Comments at 7.

⁴⁷² Clean Energy Associations Reply Comments at 9 (citing ACEG 2021 Interconnection Report at 15).

g. Comments Regarding Definition of Long-Term Regional Transmission Facility

189. PJM states that the Commission should clarify certain details of the NOPR proposal, including the meaning of the word “identified” in the proposed definition of Long-Term Regional Transmission Facility.⁴⁷³ In addition, PJM requests that the Commission clarify that if a transmission project shows up in several Long-Term Scenarios but is not selected until it reaches one of the shorter-term reliability and market efficiency transmission planning processes, that project would not be considered a Long-Term Regional Transmission Facility for selection and cost allocation purposes.⁴⁷⁴ Otherwise, PJM contends, the rules for selection and cost allocation for transmission projects selected in the shorter-term and intermediate-term reliability and market efficiency transmission planning processes will be unclear, leading to re-litigation.⁴⁷⁵

⁴⁷³ PJM Initial Comments at 8, 98.

⁴⁷⁴ Id. at 99.

⁴⁷⁵ Id. at 99, 101.

h. Challenges to Commission Jurisdiction or Authority

i. FPA Section 201

190. Some commenters argue that the NOPR proposals exceed the Commission's jurisdiction or that the Commission otherwise lacks the authority to adopt a final order in this proceeding. Of these commenters, most contend that the NOPR proposal interferes with authority reserved to the states under FPA section 201.⁴⁷⁶

⁴⁷⁶ Alabama Commission Initial Comments at 3-4, 7-8; Kansas Ratepayer Advocates Reply Comments at 2-3; Louisiana Commission Initial Comments at 5, 8-9, 27-28; Louisiana Commission Reply Comments at 14-15; Mississippi Commission Initial Comments at 3, 5-6; Mississippi Commission Reply Comments at 2; Nevada Commission Initial Comments at 2-3, 6; SERTP Sponsors Initial Comments at 5, 15-19 & n.20; SERTP Sponsors Reply Comments at 12-13; Southern Initial Comments at 3-8, 12-13, 15-24; Southern Reply Comments at 3, 6-7; Utah Commission Initial Comments at 7-9; Undersigned States Reply Comments at 2, 4-5.

191. Some commenters argue that the NOPR proposal intrudes on the authority reserved to the states under FPA section 201 over integrated resource planning processes or resource mix decision making.⁴⁷⁷ For example, Alabama Commission states that the NOPR proposal for Long-Term Regional Transmission Planning would intrude on state integrated resource planning to the extent that it dictates the construction of facilities through a top-down regional process or seeks to influence or mandate a substantive change to the generation resource mix.⁴⁷⁸ Similarly, Nevada Commission argues that the NOPR may impact states' authority to determine their own mix of generating resources. Nevada Commission contends that the NOPR may cross the line from regulating interstate transmission to regulating intrastate processes—particularly because the Commission has not asserted jurisdiction over bundled retail transmission.⁴⁷⁹ Louisiana Commission argues that the Commission should not override state jurisdiction on resource planning, fuel type, and siting decisions, along with the regulation of retail rates.⁴⁸⁰

⁴⁷⁷ Alabama Commission Initial Comments at 3-4, 7-8; Kansas Ratepayer Advocates Reply Comments at 2; Louisiana Commission Initial Comments at 8-9, 27-28; Louisiana Commission Reply Comments at 14-15; Mississippi Commission Initial Comments at 3 (citing NOPR, 179 FERC ¶ 61,028 (Christie, Comm'r, concurring, at P 2)); Nevada Commission Initial Comments at 2-3; SERTP Sponsors Initial Comments at 5, 15-19 & n.20; SERTP Sponsors Reply Comments at 12-13; Southern Initial Comments at 3-8, 12-13, 15-24; Southern Reply Comments at 3, 6-7; Utah Commission Initial Comments at 7-9; Undersigned States Reply Comments at 2, 4-5.

⁴⁷⁸ Alabama Commission Initial Comments at 3-4, 7-8.

⁴⁷⁹ Nevada Commission Initial Comments at 2-3.

⁴⁸⁰ Louisiana Commission Initial Comments at 27-28; Louisiana Commission Reply Comments at 14-15.

192. Mississippi Commission requests that the Commission acknowledge that it cannot force regional planning entities to indirectly act as a national integrated resource planner.⁴⁸¹ SERTP Sponsors and Southern argue that the NOPR essentially constitutes a Commission-regulated integrated resource plan/request for proposal process and that, to be workable, Long-Term Regional Transmission Planning instead must be based on state commission-regulated integrated resource planning/request for proposal decisions.⁴⁸² SERTP Sponsors and Southern contend that the NOPR proposed to require transmission providers to make independent resource and load decisions because: (1) state integrated resource plans are just one of many factors to be considered in developing Long-Term Scenarios; and (2) state integrated resource planning or request for proposal processes generally use a 10-year planning horizon such that there are no state-approved resources for the second half of the NOPR's proposed 20-year transmission planning horizon.⁴⁸³ SERTP Sponsors and Southern further argue that, in upholding Order No. 1000, the D.C. Circuit emphasized that the Commission was regulating the transmission planning process and not mandating any particular outcome, and that, if the Commission prescribes a process that supplants state decision making, it will have crossed the line into prescribing substantive outcomes and thus exceeded its jurisdiction.⁴⁸⁴

⁴⁸¹ Mississippi Commission Initial Comments at 3 (citing NOPR, 179 FERC ¶ 61,028 (Christie, Comm'r, concurring, at P 2)).

⁴⁸² SERTP Sponsors Initial Comments at 15-16; SERTP Sponsors Reply Comments at 12-13; Southern Initial Comments at 4-5, 7, 15-16; Southern Reply Comments at 6-7.

⁴⁸³ SERTP Sponsors Initial Comments at 16; Southern Initial Comments at 12-13.

⁴⁸⁴ SERTP Sponsors Initial Comments at 19; Southern Initial Comments at 23-24 (citing Order No. 1000, 136 FERC ¶ 61,051 at P 154).

193. Ohio Commission Federal Advocate contends that the NOPR appears designed to target the achievement of narrow environmental policy objectives or the socialization of transmission costs, not to ensure reliability or foster just and reasonable rates.⁴⁸⁵ Southern and Utah Commission state that the Commission has consistently recognized that the FPA does not allow the Commission to pick winners and losers when it comes to generation and argue that the Commission has no authority to favor one generation mix over another.⁴⁸⁶ Similarly, Louisiana Commission, Kansas Ratepayer Advocates, and Undersigned States contend that the Commission lacks the statutory authority to dictate states' generation resource decisions. They argue instead that each state possesses such authority and is uniquely qualified to choose the generation resources that are needed to economically meet ratepayers' electric service needs within their states.⁴⁸⁷

⁴⁸⁵ Ohio Commission Federal Advocate Initial Comments at 4-6.

⁴⁸⁶ Southern Initial Comments at 23 (citing ISO New England Inc., 162 FERC ¶ 61,205, at P 26 (2018)); Utah Commission Initial Comments at 7-9.

⁴⁸⁷ Louisiana Commission Initial Comments at 8-10 (citing Monongahela Power Co., 40 FERC ¶ 61,256, at 61,861 (1987); Pac. Gas & Elec. Co. v. State Energy Res. Conservation & Dev. Comm'n, 461 U.S. 190, 212 (1983)); Kansas Ratepayer Advocates Reply Comments at 2; Undersigned States Reply Comments at 2, 4-5 (citing Pac. Gas & Elec. Co. v. State Energy Res. Conservation & Dev. Comm'n, 461 U.S. at 205).

194. SERTP Sponsors and Southern argue that, even if assumptions about the resource mix included in Long-Term Scenarios do not bind states, requiring transmission providers to develop Long-Term Scenarios that are predicated on particular resource assumptions effectively makes a substantive resource decision because it favors the assumed resource mix over others.⁴⁸⁸ SERTP Sponsors and Southern contend that this is akin to the Commission attempting to accomplish indirectly what it could not directly.⁴⁸⁹ SERTP Sponsors argue that the Commission should support the exercise of traditional state resource and infrastructure planning authority rather than supplant it.⁴⁹⁰ North Carolina Commission and Staff argue that the use of the production cost savings benefit in Long-Term Regional Transmission Planning “could conflict with state-jurisdictional resource decisions.” ⁴⁹¹

⁴⁸⁸ SERTP Sponsors Initial Comments at 17 n.20; Southern Initial Comments at 19.

⁴⁸⁹ SERTP Sponsors Initial Comments at 17 n.20; Southern Initial Comments at 18.

⁴⁹⁰ SERTP Sponsors Initial Comments at 17, 19; see also Undersigned States Reply Comments at 5, 8 (citing Am. Gas Ass'n v. FERC, 912 F.2d 1496, 1510 (D.C. Cir. 1990)).

⁴⁹¹ North Carolina Commission and Staff Initial Comments at 7.

195. Other commenters disagree with these contentions and argue that the NOPR proposal would not intrude on states' reserved authority over resource mix decision making or integrated resource plan processes.⁴⁹² Kentucky Commission Chair Chandler and SEIA argue that the NOPR's stated aim of reforming regional and interregional transmission planning processes does not foreclose states' decision making on generation.⁴⁹³ ACEG contends that the NOPR does not propose or purport to regulate the electric supply mix and that the Commission is acting squarely within its authority under the FPA's cooperative federalism structure.⁴⁹⁴ AEE notes that the Commission included integrated resource planning and utility load-serving planning as a factor driving transmission needs and argues that none of the requirements proposed by the Commission directly conflict with integrated resource planning processes, require that integrated resource planning be conducted on a different timeline, or override resource planning efforts.⁴⁹⁵ Likewise, Kentucky Commission Chair Chandler reiterates that Kentucky's integrated resource plans are not driving transmission planning processes in the state. He explains that integrated resource plans/requests for proposals are not the basis for generation investment decisions, but the state's requests for proposals seek generation proposals after the integrated resource planning process is complete and a need for generation is identified.⁴⁹⁶ In response to Alabama Commission's arguments that the NOPR's proposed rules have the potential to encroach on state-jurisdictional integrated resource planning and resource procurement processes overseen by Alabama Commission, SREA contends that Alabama Commission in fact does not have a formal integrated resource planning process upon which the Commission could encroach.⁴⁹⁷

⁴⁹² ACEG Reply Comments at 15; AEE Reply Comments at 23; New Jersey Commission Reply Comments at 2; Kentucky Commission Chair Chandler Reply Comments at 3; SEIA Reply Comments at 2-3.

⁴⁹³ Kentucky Commission Chair Chandler Reply Comments at 3; SEIA Reply Comments at 2-3.

⁴⁹⁴ ACEG Reply Comments at 15.

⁴⁹⁵ AEE Reply Comments at 23.

⁴⁹⁶ Kentucky Commission Chair Chandler Reply Comments at 6.

⁴⁹⁷ SREA Reply Comments at 2-3.

196. New Jersey Commission disagrees with commenters who argue that the Commission intends to impose a preferred resource mix on the Nation by overriding state choices and contends that such arguments are “profoundly misconstruing” the nature of the NOPR proposal and what the Commission aims to achieve.⁴⁹⁸ Instead, New Jersey Commission argues that Long-Term Regional Transmission Planning would address transmission needs that are being driven by state policies, market decisions, and technological changes, all of which reflect consumer-driven demand for cleaner electricity.⁴⁹⁹ New Jersey Commission contends that the NOPR proposal would ensure that transmission needs are reliably met at a total cost that is just and reasonable, which New Jersey Commission argues is required—not precluded—by the FPA.⁵⁰⁰

⁴⁹⁸ New Jersey Commission Reply Comments at 1-2.

⁴⁹⁹ Id. at 2.

⁵⁰⁰ Id.

197. Some commenters argue that the NOPR proposal would intrude on authority over siting and construction of transmission facilities that is reserved to the states under FPA section 201.⁵⁰¹ For example, Southern argues that the FPA reserves transmission siting authority to the states and that the final order should not directly or indirectly interfere with this authority.⁵⁰² Alabama Commission argues that Long-Term Regional Transmission Planning would interfere with state authority to the extent it dictates the construction of facilities through a top-down regional process.⁵⁰³ Kansas Ratepayer Advocates state that the Commission would exceed its authority and violate states' constitutional rights by ordering states to construct interregional transmission facilities with construction costs paid by retail ratepayers in Kansas.⁵⁰⁴

⁵⁰¹ Alabama Commission Initial Comments at 7; Kansas Ratepayer Advocates Reply Comments at 3; NARUC Initial Comments at 29; Nevada Commission Initial Comments at 2-3; Southern Initial Comments at 21-22.

⁵⁰² Southern Initial Comments at 21-22.

⁵⁰³ Alabama Commission Initial Comments at 7.

⁵⁰⁴ Kansas Ratepayer Advocates Reply Comments at 3.

198. Nevada Commission explains that Nevada law governs the issuance of permits to construct transmission facilities, and that such facilities—even where their costs are not intended to be recovered through retail rates—must go through and may not bypass that process in favor of regional transmission planning processes.⁵⁰⁵ NARUC contends that state participation in cost allocation for a portfolio of Long-Term Regional Transmission Facilities does not require a state, in its role as a transmission siting authority, to approve any projects within the portfolio.⁵⁰⁶

⁵⁰⁵ Nevada Commission Initial Comments at 2-3.

⁵⁰⁶ NARUC Initial Comments at 29.

199. A few commenters argue that the NOPR proposal would intrude on the authority over certain transmission planning allegedly reserved to the states under FPA section 201. For example, Mississippi Commission states that the final order must respect state jurisdictional authority over planning and approval of transmission facilities used to serve state load.⁵⁰⁷ Nevada Commission states that Nevada will continue to plan for transmission through its integrated resource planning process and that the Commission should allow “bottom up” transmission planning, particularly in non-RTO/ISO transmission planning regions.⁵⁰⁸

⁵⁰⁷ Mississippi Commission Initial Comments at 5 (citing Mississippi Commission ANOPR Comments at 2, 17; NOPR, 179 FERC ¶ 61,028 (Christie, Comm'r, concurring at PP 2, 11-14)).

⁵⁰⁸ Nevada Commission Initial Comments at 6.

200. In contrast, other commenters express support for the Commission's role in transmission planning. Ohio Consumers argue that the Commission has authority over transmission planning, even in states like Ohio that allow for retail consumer choice.⁵⁰⁹ SREA explains that states and other jurisdictional regulators will continue to have ultimate control over generation resource planning and transmission planning, regardless of what a regional transmission body proposes. SREA states that, even within RTO/ISO regions, “transmission or generation resource plans are subject to review, update or even cancellation, and those decisions are always determined by the relevant regulatory bodies.” ⁵¹⁰ Vistra states that any final order should recognize the legal and practical boundaries on the Commission's role in transmission development and in shaping the generation sector. According to Vistra, the Commission has successfully relied on its general authority under FPA sections 205 and 206 to oversee rates, terms, and conditions of jurisdictional service as the basis for its policies on transmission planning.⁵¹¹

⁵⁰⁹ Ohio Consumers Initial Comments at 26 (citing New York v. FERC, 535 U.S. at 23-24, 26-28).

⁵¹⁰ SREA Reply Comments at 1-2.

⁵¹¹ Vistra Initial Comments at 4 & n.6.

201. Finally, Mississippi Commission argues that the NOPR proposal may infringe upon states' reserved authority under FPA section 201 to make resource adequacy decisions. Mississippi Commission explains that, when an RTO/ISO approves construction to deliver generation output to remote utilities that have failed to agree to purchase the energy, that RTO/ISO infringes on the state's resource adequacy jurisdiction.⁵¹² Mississippi Commission contends that requiring State A to pay for transmission upgrades to rely on energy generated in State B, despite State A having constructed its own generation facilities, would usurp State A's resource adequacy jurisdiction.⁵¹³

⁵¹² Mississippi Commission Initial Comments at 5-6.

⁵¹³ Id. at 13.

ii. “Major Questions Doctrine”

202. Some commenters argue that the NOPR proposal would not withstand judicial review under the major questions doctrine.⁵¹⁴

⁵¹⁴ Louisiana Commission Initial Comments at 6, 12-13; Ohio Consumers Reply Comments at 14; SERTP Sponsors Initial Comments at 17-18; Southern Initial Comments at 20-21; Utah Commission Initial Comments at 8-9; Undersigned States Reply Comments at 3-4.

203. Louisiana Commission claims that the NOPR proposal violates principles of “agency law” and the separation of powers doctrine because Congress has not clearly delegated to the Commission the authority to enact far-reaching, nationwide policy changes favoring one form of generation over another.⁵¹⁵ Louisiana Commission contends that the NOPR proposals exceed the limits of the FPA, which does not provide clear delegated authority for the Commission to decide types of generating resources. Louisiana Commission argues that the Commission therefore lacks the authority to determine whether the country should undergo a clean energy transition. Drawing parallels between the NOPR proposal and the U.S. Supreme Court's decision in West Virginia v. EPA, Louisiana Commission avers that the determination of what type of generating resources should be transmitted from where in the United States qualifies as a “major question” of public policy that Congress should order.⁵¹⁶

⁵¹⁵ Louisiana Commission Initial Comments at 6.

⁵¹⁶ Id. at 12 (citing 597 U.S. 697, 729-30, 735).

204. SERTP Sponsors argue that West Virginia v. EPA reinforces the need for the Commission to exercise restraint in expanding its jurisdiction without a clear Congressional delegation of authority.⁵¹⁷ According to SERTP Sponsors, West Virginia v. EPA makes clear that the Nation's energy policy and generation mix is a “major question” for which the Commission must have direct authorization from Congress to assert jurisdiction.⁵¹⁸ SERTP Sponsors contend that Congress has not clearly provided the Commission with jurisdiction to presuppose generation decisions and thereby effect particular substantive transmission outcomes.⁵¹⁹ Rather, SERTP Sponsors argue that Congress instead expressly and unequivocally reserved generation authority to the states.⁵²⁰

⁵¹⁷ SERTP Sponsors Initial Comments at 17 (citing West Virginia v. EPA, 597 U.S. at 723); see also EEI Initial Comments at 8 (urging the Commission to consider the overlap of the Commission's and state commissions' respective jurisdictions).

⁵¹⁸ SERTP Sponsors Initial Comments at 17-18.

⁵¹⁹ Id. at 18.

⁵²⁰ Id.

205. Southern similarly argues that West Virginia v. EPA makes clear that the Nation's energy policy and generation mix is a “major question” that requires more than a “merely plausible textual basis” for a Federal agency to assert jurisdiction.⁵²¹ Southern contends that, as applied to the NOPR proposal's “contemplated foray into [integrated resource planning] and generation/resource matters,” the Commission does not rely upon a specific and clear grant of congressional authorization but instead relies upon its “general, gap-filling authorization in FPA Section 206 to regulate a `practice' affecting a rate or charge for transmission.” ⁵²² Southern contends that rather than provide clear congressional authorization, Congress instead reserved authority over integrated resource plans and generation to the states.⁵²³

⁵²¹ Southern Initial Comments at 20-21 (citing West Virginia v. EPA, 597 U.S. at 723).

⁵²² Id.

⁵²³ Id. at 21.

206. Utah Commission argues that the Commission has no authority to enact any rule for the purpose of influencing the resource generation mix or expanding development of any type of generation. Utah Commission states that the increased development and integration of renewable generation is a “highly charged political question and a matter of significant political interest about which state legislatures have made very different policy choices.” As such, Utah Commission argues that, although courts have given the Commission “some latitude under FPA Section 206,” the U.S. Supreme Court will not uphold a final order premised upon the Commission's “claimed authority to prescribe a single, onerous national regime for transmission planning specifically intended to pressure transmission providers to select costly expansions into remote areas for the purpose of realizing [the Commission's] preferred generation mix, a matter specifically reserved to the states.” ⁵²⁴ Utah Commission explains that the Supreme Court's reasoning in West Virginia v. EPA is applicable to the Commission. Utah Commission argues that “imposing a single set of federally mandated, highly prescriptive transmission planning and cost allocation requirements for the purpose of privileging the selection of costly transmission projects to serve remote and speculative renewable generation is not a lawful exercise of [the Commission's] authority under FPA Section 206.” ⁵²⁵

⁵²⁴ Utah Commission Initial Comments at 8.

⁵²⁵ Id. at 8-9 (citing West Virginia v. EPA, 597 U.S. at 729-30).

207. Undersigned States argue that “[n]ational-scale energy grid regulation” is a “major question” because of the “massive economic consequences” involved and the implication of a “unique and complex jurisdictional divide between [s]tate and federal regulatory authority.” ⁵²⁶ According to Undersigned States, the Commission “has no statutory authority at all—much less `clear congressional authorization'—to revamp the energy grid's mix of generation resources writ large.” ⁵²⁷

⁵²⁶ Undersigned States Reply Comments at 3 (citing West Virginia v. EPA, 597 U.S. 697; Ala. Ass'n of Realtors v. HHS, 594 U.S. 758, 764 (2021)).

⁵²⁷ Id. at 4 (quoting West Virginia v. EPA, 597 U.S. at 723).

208. Harvard ELI and Policy Integrity disagree with Undersigned States. They argue that Undersigned States “mischaracterize the NOPR” because the NOPR would not revamp the energy grid's mix of generation resources. Rather, according to Harvard ELI and Policy Integrity, the NOPR would require utilities to amend their existing regional transmission planning processes in response to changes in the resource mix and demand that are occurring because of factors unrelated to the NOPR.⁵²⁸

⁵²⁸ Harvard ELI and Policy Integrity Supplemental Comments at 2.

209. Harvard ELI and Policy Integrity also contend that Undersigned States overlook the major questions doctrine's key requirements. They assert that application of the major questions doctrine does not turn on whether a regulation will have significant economic effects or intrudes on areas traditionally regulated by states. Instead, Harvard ELI and Policy Integrity assert that the major questions doctrine is triggered only when an agency's action is both unheralded and transformative.⁵²⁹

⁵²⁹ Id. at 2-3.

210. Harvard ELI and Policy Integrity argue that the NOPR is not unheralded. They explain that Order No. 1000 similarly regulated transmission planning and cost allocation in response to concerns about the generation mix, and that the D.C. Circuit upheld Order No. 1000 while rejecting arguments similar to those that Undersigned States make here.⁵³⁰ Moreover, Harvard ELI and Policy Integrity identify provisions in existing tariffs that are similar to those that the NOPR proposes and point to other antecedents for Commission regulation of regional transmission planning.⁵³¹

⁵³⁰ Id. at 4 (citing S.C. Pub. Serv. Auth. v. FERC, 762 F.3d at 48-49; Order No. 1000, 136 FERC ¶ 61,051 at PP 45, 47).

⁵³¹ Id. at 4-5; id. app. A.

211. Likewise, Harvard ELI and Policy Integrity argue that the NOPR does not represent a transformative expansion in the Commission's authority nor a “fundamental change to the statutory scheme.” ⁵³² Instead, they assert that the NOPR merely builds on existing regional transmission planning processes to ensure that Commission-jurisdictional rates remain just and reasonable, as the FPA requires.⁵³³

⁵³² Id. at 6-7 (quoting West Virginia v. EPA, 597 U.S. at 723 (internal quotations omitted)).

⁵³³ Id.

iii. “Equal Sovereignty Doctrine”/Cross-Subsidization

212. Some commenters argue that the NOPR's cost allocation proposal impermissibly requires states to subsidize other states' public policies.⁵³⁴ Undersigned States argue that the NOPR would exceed the Commission's jurisdiction because it violates the Constitution's equal sovereignty doctrine, which provides constitutional equality among the states.⁵³⁵ According to Undersigned States, the NOPR “sets up a scheme where one [s]tate can effectively require other [s]tates to subsidize their own vision of what resources should be used in electricity generation—a core, sovereign [s]tate function,” which risks “undue discrimination” among states.⁵³⁶ Mississippi Commission argues that unanimous agreement, rather than majority agreement, would be required for any ex ante default cost allocation method, as each state has sole jurisdiction within its boundaries.⁵³⁷

⁵³⁴ Alabama Commission Initial Comments at 9; Louisiana Commission Initial Comments at 29; Mississippi Commission Reply Comments at 3; Ohio Commission Federal Advocate Initial Comments at 4-5; Ohio Consumers Reply Comments at 14.

⁵³⁵ Undersigned States Reply Comments at 5-6 (citing Coyle v. Smith, 221 U.S. 559, 567 (1911)).

⁵³⁶ Id. at 6 (citing NOPR, 179 FERC ¶ 61,018, Danly, Comm'r, dissenting, at PP 4-5).

⁵³⁷ Mississippi Commission Reply Comments at 2-3.

213. Louisiana Commission asserts that “group state oversight” is not equivalent to “state oversight,” and that the Commission should not adopt a rule that subjects one state's will to majority override. Louisiana Commission further argues that the Commission should not enact rules that would “impose costs for projects selected under the proposed long-term planning criteria on unwilling states that do not benefit from those projects, even if those states are in the minority.” Louisiana Commission contends that the Commission should not attempt to override state jurisdiction simply because a majority of states in a region may support imposing costs on unwilling states that do not benefit from transmission projects favored by the majority.⁵³⁸ Louisiana Commission argues that states should not be required to cede their jurisdiction by engaging in any “consulting” committee structure required with respect to Long-Term Regional Transmission Planning,⁵³⁹ because granting each state one vote in a multi-state body cannot replace the meaningful exercise of state jurisdiction within a state's borders.⁵⁴⁰

⁵³⁸ Louisiana Commission Initial Comments at 27-28; Louisiana Commission Reply Comments at 14-16.

⁵³⁹ Louisiana Commission Initial Comments at 28-29.

⁵⁴⁰ Louisiana Commission Reply Comments at 16.

214. Conversely, ACEG disputes these claims, which ACEG states are “incorrect and misconstrue the NOPR.” ⁵⁴¹ ACEG highlights the fact that the NOPR does not include resource preferences in its proposed planning criteria, factors, or benefits, nor does the NOPR exclude consideration of non-renewable resources from transmission planning.⁵⁴² ACEG further notes that the NOPR proposes to direct transmission planners to plan the system to “meet transmission needs driven by changes in the resource mix and demand,” requiring transmission planners to consider the resource mix as a whole, which necessarily requires considering all types of resources.⁵⁴³ New Jersey Commission agrees, stating that the Commission did not propose in the NOPR “to unduly favor, mandate, or subsidize forms of generation,” but rather “to ensure that the bulk electricity system maintains reliability and satisfies evolving consumer demands, whether driven by public policy requirements or voluntary goals, at the lowest reasonable cost.” ⁵⁴⁴ Moreover, New Jersey Commission argues, allocating the cost of Long-Term Regional Transmission Facilities only to those states with relevant public policy goals “would allow the remaining states to free ride, and effectively force the states with public policy goals to subsidize the provision of normal electricity service in other states in order to pursue their own policies.” ⁵⁴⁵

⁵⁴¹ ACEG Reply Comments at 18.

⁵⁴² Id. at 18-19.

⁵⁴³ Id. at 19.

⁵⁴⁴ New Jersey Commission Initial Comments at 3.

⁵⁴⁵ Id. at 20.

i. Other Issues

215. NRECA requests that the Commission clarify that the final order, consistent with the Commission's obligation under FPA section 217(b)(4), “is intended to facilitate and support `bottom-up' transmission planning to meet the transmission needs of [load-serving entities] to provide reliable and economical service to consumers.” ⁵⁴⁶

⁵⁴⁶ NRECA Initial Comments at 17-21.

216. Some commenters argue that the final order will not withstand judicial scrutiny if it does not permit regional flexibility.⁵⁴⁷ For example, US Chamber of Commerce explains that the interstate power grid includes investor-owned utilities, publicly-owned utilities, and electric cooperatives, which can be members of RTOs/ISOs, power pooling arrangements, joint-ownership agreements, or subject to traditional vertically-integrated structures.⁵⁴⁸ According to US Chamber of Commerce, imposing a new regional transmission planning regime on all these various entities would ignore the compromises and benefits that led to the status quo.⁵⁴⁹ Relatedly, Southern and SERTP Sponsors argue that the legal viability of the final order will be threatened if the Commission fails to respect the FPA's fundamental jurisdictional roles by not providing states and transmission providers with the opportunity and flexibility to adapt their planning processes.⁵⁵⁰

⁵⁴⁷ SERTP Sponsors Initial Comments at 1; SERTP Sponsors Reply Comments at 1-2; Southern Initial Comments at 1; Southern Reply Comments at 3; US Chamber of Commerce Initial Comments at 4.

⁵⁴⁸ US Chamber of Commerce Initial Comments at 4.

⁵⁴⁹ Id.

⁵⁵⁰ Southern Initial Comments at 1; Southern Reply Comments at 3; SERTP Sponsors Initial Comments at 1; SERTP Sponsors Reply Comments at 1-2.

j. Miscellaneous Concerns

217. MISO seeks clarification from the Commission that the term “transmission planning region” has the same meaning as in Order No. 1000, where MISO may comprise a single transmission planning region despite including multiple transmission zones or local balancing authorities.⁵⁵¹

⁵⁵¹ MISO Initial Comments at 24.

218. California Municipal Utilities state that transmission planning should not be a vehicle to centralize resource choices, but instead should reflect the choices made by state and local authorities.⁵⁵² Similarly, Mississippi Commission argues that Long-Term Regional Transmission Planning should be driven by state-specific concerns and needs and that regional priorities should be subordinated to state priorities.⁵⁵³ Mississippi Commission asks that the Commission not issue a final order but instead establish proceedings to address specific concerns with certain regional transmission planning processes on a more limited basis.⁵⁵⁴ Southern argues that Long-Term Regional Transmission Facilities in non-RTO/ISO transmission planning regions must have the support of affected states, as these facilities stem from resource and load assumptions that are not the result of those states' planning and procurement processes.⁵⁵⁵ Southern urges the Commission to maintain the appropriate transmission planning and state-driven supply- and demand-side relationships, which Order No. 1000 preserved.⁵⁵⁶ SERTP Sponsors argue that the Commission should avoid mandates that could largely result in transmission expansion or infrastructure decisions that lead to investments borne, largely, by retail electricity consumers that lack the consent and support of the state authorities vested with the responsibility to protect those consumers.⁵⁵⁷

⁵⁵² California Municipal Utilities Reply Comments at 2.

⁵⁵³ Mississippi Commission Initial Comments at 3.

⁵⁵⁴ Id. at 9.

⁵⁵⁵ Southern Initial Comments at 8.

⁵⁵⁶ Id. at 12.

⁵⁵⁷ SERTP Sponsors Initial Comments at 6-7.

219. Several commenters agree with the Commission that any final order should apply to transmission providers in both RTO/ISO and non-RTO/ISO transmission planning regions.⁵⁵⁸ However, several commenters disagree and argue that the final order, or certain specified requirements in the final order, should apply only to RTO/ISO transmission planning regions.⁵⁵⁹ Nevada Commission argues that the RTOs/ISOs “may be better suited” than other regions for the transmission planning that the NOPR proposes.⁵⁶⁰ Utah Division of Public Utilities stresses the need for regional flexibility, noting that transmission providers located outside of RTOs/ISOs already coordinate on transmission planning with many non-Commission-jurisdictional entities.⁵⁶¹

⁵⁵⁸ See, e.g., AEE Reply Comments at 11; MISO Reply Comments at 3; PIOs Reply Comments at 2-3; SEIA Reply Comments at 5; SREA Initial Comments at 47; TAPS Initial Comments at 70.

⁵⁵⁹ See, e.g., Mississippi Commission Initial Comments at 16; Utah Division of Public Utilities Reply Comments at 1-2.

⁵⁶⁰ Nevada Commission Initial Comments at 2-4.

⁵⁶¹ Utah Division of Public Utilities Reply Comments at 1-2.

220. SEIA rebuts the claims of Southern and Louisiana, Utah, Mississippi, and Alabama Commissions that state planning processes already interact well with transmission planning and support customers' transmission needs.⁵⁶² SEIA and SREA assert that non-RTO/ISO transmission planning regions do not engage in sufficient or transparent transmission planning.⁵⁶³ Specifically, SEIA states, the transmission planning processes in non-RTO/ISO regions are rife with issues, including the use of inconsistent and inaccurate data and an exclusionary and insufficiently transparent process.⁵⁶⁴ Further, SEIA states that the end result of an integrated resource planning process may be based on inconsistent and inaccurate data,⁵⁶⁵ the process is “sometimes disjointed,” ⁵⁶⁶ and the process is a voluntary process in which the planning authority must accept, and not verify, the information provided.⁵⁶⁷

⁵⁶² SEIA Reply Comments at 5.

⁵⁶³ Id.; SREA Reply Comments at 15-17.

⁵⁶⁴ SEIA Reply Comments at 5-6.

⁵⁶⁵ Id. at 5 (citing Western PIOs Initial Comments at 10).

⁵⁶⁶ Id. (citing PacifiCorp and NV Energy Initial Comments at 10).

⁵⁶⁷ Id. (citing PacifiCorp and NV Energy Initial Comments at 13; Western PIOs Initial Comments at 11).

221. SREA rebuts Southern's contention that Southern's transmission planning processes are adequate, noting that Southern itself has presented testimony to the Georgia Commission conceding that it is unable to perform more robust transmission planning due to limitations in its software and models.⁵⁶⁸ SREA argues that throughout the Southeast, transmission planning is not a priority and that integrated resource planning is not a substitute for robust transmission planning.⁵⁶⁹ SREA explains that the NOPR borrows many of the qualities of integrated resource planning and applies them to transmission planning, including scenario-based evaluation and use of 20-year planning horizons, and that many states have integrated resource planning rules and guidelines that recognize the value of long-term planning.⁵⁷⁰

⁵⁶⁸ SREA Reply Comments at 7 (citing SREA Initial Comments, attach. B (Testimony of Georgia Power Witness Robinson) at 282-283).

⁵⁶⁹ Id. at 5.

⁵⁷⁰ Id.

222. EPSA states that the Commission should focus not on socializing transmission costs but on reducing transaction costs, accelerating lagging processes, and adopting market-based solutions like open seasons.⁵⁷¹

⁵⁷¹ EPSA Initial Comments at 7-8.

223. GridLab states that there is evidence to suggest that changes in resource mix, demand, and weather will lead to significant changes in the value of regional transmission facilities in the 2030s, though GridLab asserts that these changes may increase or decrease the value of regional transmission facilities. Accordingly, GridLab recommends that the Commission and stakeholders resist evaluating the success of this rulemaking based on arbitrary metrics related to each transmission provider's expansion of regional transmission facilities.⁵⁷²

⁵⁷² GridLab Initial Comments at 9-10.

3. Commission Determination

a. Participation in Long-Term Regional Transmission Planning

224. We adopt the NOPR proposal to require transmission providers in each transmission planning region to participate in a regional transmission planning process that includes Long-Term Regional Transmission Planning, meaning regional transmission planning on a sufficiently long-term, forward-looking, and comprehensive basis to identify Long-Term Transmission Needs, identify transmission facilities that meet such needs, measure the benefits of those transmission facilities, and evaluate those transmission facilities for potential selection in the regional transmission plan for purposes of cost allocation as the more efficient or cost-effective transmission facilities to meet Long-Term Transmission Needs.⁵⁷³ We also adopt the NOPR proposal to require that Long-Term Regional Transmission Planning comply with the following existing Order Nos. 890 and 1000 transmission planning principles: (1) coordination; (2) openness; (3) transparency; (4) information exchange; (5) comparability; and (6) dispute resolution.⁵⁷⁴ In developing their compliance filings, transmission providers and stakeholders should review the requirements set forth in Order No. 890 and Order No. 1000, and the Commission's orders on compliance filings submitted by transmission providers, for guidance as to what each of these transmission planning principles requires. For example, as a starting point, a transmission provider should review the orders addressing its own Order Nos. 890 and 1000 compliance filings and the compliance filings for transmission providers in its transmission planning region.

⁵⁷³ We note that, while we have modified this definition of Long-Term Regional Transmission Planning from the NOPR proposal, the modified definition does not substantively change the steps involved in Long-Term Regional Transmission Planning from those proposed in the NOPR. Rather, the revised definition merely clariies the steps that transmission providers must take in conducting Long-Term Regional Transmission Planning.

⁵⁷⁴ Order No. 1000, 136 FERC ¶ 61,051 at PP 146, 151. We do not address these principles in detail here.

225. We also adopt specific requirements regarding how transmission providers must conduct Long-Term Regional Transmission Planning. Specifically, and as discussed further below, we require transmission providers in each transmission planning region ⁵⁷⁵ to: (1) identify Long-Term Transmission Needs and Long-Term Regional Transmission Facilities to meet those needs through the development of Long-Term Scenarios ⁵⁷⁶ that satisfy the requirements set forth in this final order; (2) use and measure, at a minimum, a set of seven required benefits ⁵⁷⁷ to evaluate Long-Term Regional Transmission Facilities over a time horizon that covers, at a minimum, 20 years starting from the estimated in-service date of each transmission facility; and (3) evaluate Long-Term Regional Transmission Facilities to determine whether they are more efficient or cost-effective transmission solutions to meet Long-Term Transmission Needs and use selection criteria (in collaboration with states and other stakeholders) that provide the opportunity for transmission providers to select such Long-Term Regional Transmission Facilities.

⁵⁷⁵ In response to MISO's request, MISO Initial Comments at 24, we clarify that this final order does not alter the meaning of “transmission planning region” as used in Order No. 1000. A transmission planning region is one in which transmission providers, in consultation with stakeholders and affected states, have agreed to participate for purposes of regional transmission planning and development of a single regional transmission plan. Order No. 1000-A, 139 FERC ¶ 61,132 at P 272; Order No. 1000, 136 FERC ¶ 61,051 at P 160.

⁵⁷⁶ The requirements related to Long-Term Scenarios are discussed below.

⁵⁷⁷ As discussed further below in the Evaluation of the Benefits of Regional Transmission Facilities section, these seven benefits are: (1) Benefit 1, Avoided or Deferred Reliability Transmission Facilities and Aging Transmission Infrastructure Replacement; (2) Benefit 2(a), Reduced Loss of Load Probability, or Benefit 2(b), Reduced Planning Reserve Margin; (3) Benefit 3, Production Cost Savings; (4) Benefit 4, Reduced Transmission Energy Losses; (5) Benefit 5, Reduced Congestion Due to Transmission Outages; (6) Mitigation of Extreme Weather Events and Unexpected System Conditions; and (7) Capacity Cost Benefits from Reduced Peak Energy Losses.

226. These requirements together establish a long-term, forward-looking, and more comprehensive approach to regional transmission planning, which will ensure that transmission providers identify, evaluate, and select more efficient or cost-effective transmission solutions to address Long-Term Transmission Needs. Long-Term Regional Transmission Planning, as set forth in this final order, requires regional transmission planning based on a multitude of drivers of Long-Term Transmission Needs and provides the opportunity for transmission providers to meet those needs by selecting more efficient or cost-effective Long-Term Regional Transmission Facilities.

227. In considering the comments received on this proposal, we strike a careful balance. On the one hand, we believe that there is an inherent risk in transmission providers waiting for the near-term certainty that some commenters appear to believe is necessary ⁵⁷⁸ before planning to address transmission needs. As explained in the Overall Need for Reform section above, doing so may result in transmission providers relying on relatively inefficient and less cost-effective piecemeal transmission solutions to address these needs shortly before they manifest, to the detriment of customers. On the other hand, we acknowledge the inherent uncertainty involved in planning to meet Long-Term Transmission Needs and that this uncertainty means that forward-looking regional transmission planning entails certain risks, including the risk that transmission needs may change over time. In this final order, we balance these risks, requiring planning to meet Long-Term Transmission Needs, while imposing requirements on how Long-Term Regional Transmission Planning is conducted, as discussed further herein, to mitigate uncertainty. To adequately prepare for the future, transmission providers need to make decisions in the present that are grounded in a thorough, informed analysis of the factors that drive Long-Term Transmission Needs.

⁵⁷⁸ See, e.g., NRG Initial Comments at 8 (arguing that there are unliekly to be any “no regrets” options).

228. As discussed in the Overall Need for Reform section, these factors are together driving rapid changes in the Long-Term Transmission Needs that transmission providers must plan to meet to continue to provide an affordable, reliable supply of electricity to customers, but neither transmission infrastructure nor regional transmission planning processes are keeping pace. Consequently, the Commission's existing regional transmission planning requirements are no longer just and reasonable, as they increasingly result in transmission investment decisions occurring outside of regional transmission planning processes and instead through generator interconnection processes and local transmission planning processes that typically plan to meet discrete, nearer-term transmission needs. In addition, the record demonstrates that transmission providers have made substantial investments in in-kind replacement transmission facilities, which generally are not identified through more long-term, forward-looking, or comprehensive transmission planning. This final order aims to ensure that transmission providers, through their regional transmission planning processes, identify, evaluate, and select Long-Term Regional Transmission Facilities that more efficiently or cost-effectively address Long-Term Transmission Needs, helping to ensure just and reasonable rates.

229. We disagree with arguments that the Commission should not require Long-Term Regional Transmission Planning because, certain commenters claim, doing so will introduce excessive uncertainty into regional transmission planning, transmission providers will make forecasting errors, or the final order will result in regional transmission planning that is speculative.⁵⁷⁹ To the contrary, we believe that the reforms adopted in this final order account for and seek to reduce the inherent uncertainty in forward-looking regional transmission planning, while ensuring that transmission providers, through their regional transmission planning processes, identify, evaluate, and select Long-Term Regional Transmission Facilities that more efficiently or cost-effectively address Long-Term Transmission Needs, thus helping to ensure just and reasonable rates.⁵⁸⁰ In fact, by requiring transmission providers to use Long-Term Scenarios in Long-Term Regional Transmission Planning, this final order provides transmission providers with a critical tool for managing uncertainty, facilitating regional transmission planning that accounts for a range of potential futures, as well as an assessment of the likelihood of each scenario manifesting, when identifying, evaluating, and selecting Long-Term Regional Transmission Facilities. Further, as discussed in the Evaluation and Selection of Long-Term Regional Transmission Facilities section below, we require transmission providers to reevaluate Long-Term Regional Transmission Facilities in certain circumstances, which will provide transmission providers with yet another such tool.

⁵⁷⁹ Louisiana Commission Initial Comments at 4-5; NRG Initial Comments at 3-4; Ohio Consumers Initial Comments at 5.

⁵⁸⁰ See Policy Integrity Initial Comments at 6 (arguing that future uncertainty requires scenario planning).

230. Moreover, notwithstanding allegations to the contrary, we believe that Long-Term Regional Transmission Planning is a logical and reasonable extension of current regional transmission planning processes, which also manage uncertainty and plan for future regional transmission needs. The key difference, which we address through this final order, is that these existing regional transmission planning processes are conducted in a manner that is not sufficiently long-term, forward-looking, or comprehensive such that transmission providers are not identifying Long-Term Transmission Needs. As a result, transmission providers are failing to identify or evaluate regional transmission facilities that would more efficiently or cost-effectively address those Long-Term Transmission Needs, and consequently, are missing the opportunity to select such regional transmission facilities. Our reforms in this final order remedy these deficiencies.

231. Further, we believe that Long-Term Regional Transmission Planning as set forth in this final order provides adequate safeguards against excessive transmission development in response to speculative transmission needs. For example, this final order requires transmission providers to develop multiple plausible and diverse Long-Term Scenarios based upon best available data, which will allow transmission providers to better understand how certain categories of factors will give rise to Long-Term Transmission Needs, and requires transmission providers to update their assumptions periodically, as discussed further below.⁵⁸¹ In developing these Long-Term Scenarios, transmission providers are required to treat more certain drivers of Long-Term Transmission Needs differently than less certain drivers, and must provide opportunities for stakeholder engagement. Further, the final order grants substantial flexibility to transmission providers to develop an evaluation process and selection criteria that will provide them with the opportunity to select Long-Term Regional Transmission Facilities in a way that maximizes benefits accounting for costs over time without over-building transmission facilities. Consistent with the existing Order No. 1000 regional transmission planning processes, the final order does not require transmission providers to select any regional transmission facilities as part of Long-Term Regional Transmission Planning. Finally, we require transmission providers to reevaluate previously selected Long-Term Regional Transmission Facilities in certain circumstances, as discussed further below in the Reevaluation section.

⁵⁸¹ See New Jersey Commission Initial Comments at 10-11.

232. The regional transmission planning and cost allocation requirements in this final order, like those of Order Nos. 890 and 1000, are focused on the transmission planning process, and do not require any substantive outcomes from this process.⁵⁸² We disagree with certain commenters' assertions that this final order favors, promotes, or subsidizes particular types of generation resources over others, or otherwise engages in generation planning.⁵⁸³ Instead, this final order requires transmission providers to participate in Long-Term Regional Transmission Planning through their regional transmission planning process that identifies Long-Term Transmission Needs, evaluates the benefits of Long-Term Regional Transmission Facilities to meet those needs, and provides the opportunity for transmission providers to select Long-Term Regional Transmission Facilities that are more efficient or cost-effective transmission solutions to those needs. We reiterate that, as discussed below in the Evaluation and Selection of Long-Term Regional Transmission Facilities section, any selected Long-Term Regional Transmission Facilities must satisfy transmission provider-developed selection criteria that maximize benefits accounting for costs over time without over-building transmission facilities, which ensures that the costs of such transmission facilities are outweighed by the benefits they deliver to customers.

⁵⁸² See, e.g., Order No. 1000, 136 FERC ¶ 61,051 at P 12.

⁵⁸³ Alabama Commission Initial Comments at 7-8; Louisiana Commission Initial Comments at 12, 19-21; Potomac Economics Initial Comments at 3-4; Utah Division of Public Utilities Initial Comments at 2; Vistra Initial Comments at 11.

233. We disagree with commenters that argue that the factors giving rise to Long-Term Transmission Needs, such as state laws dictating specific generation resource mixes, are irreconcilable with effective transmission planning.⁵⁸⁴ These changes are occurring independent of any action that we take in this final order, and they are being driven by a wide variety of factors. This final order provides transmission providers with the tools that they need to respond to these factors, requiring that they conduct Long-Term Regional Transmission Planning to identify, evaluate, and select Long-Term Regional Transmission Facilities that are more efficient or cost-effective regional transmission solutions to the Long-Term Transmission Needs that these factors drive.

⁵⁸⁴ See ELCON Initial Comments at 9 (“ELCON has always believed that planning for disparate state energy priorities is at odds with market-driven, efficient, and cost-effective transmission planning.”).

234. We disagree with Louisiana Commission and former Kansas Commission Chairman Keen's claims that Long-Term Regional Transmission Planning will threaten the reliability of the transmission system. We acknowledge that reliability needs are evolving; for example, the increasing frequency and severity of high-impact extreme weather events threatens grid reliability. We believe that Long-Term Regional Transmission Planning—in addition to existing Order No. 1000 regional transmission planning and cost allocation requirements—is needed to support the reliable operation of transmission systems, given these changes. As the Commission and the North American Electric Reliability Corporation have noted, the transmission system may not be adequately prepared for extreme weather events and the increasing frequency of these events must be planned for to ensure system reliability.⁵⁸⁵ We thus view our action in this final order as complementary to other steps that the Commission has taken in recent years to bolster system reliability.⁵⁸⁶

⁵⁸⁵ FERC, North American Electric Reliability Corporation, Winter Storm Elliot Report: Inquiry into Bulk-Power System Operations During December 2022 (Nov. 2023), https://www.ferc.gov/media/winter-storm-elliott-report-inquiry-bulk-power-system-operations-during-december-2022; FERC, North American Electric Reliability Corporation, The February 2021 Cold Weather Outages in Texas and the South Central United States (Nov. 2021), https://www.ferc.gov/media/february-2021-cold-weather-outages-texas-and-south-central-united-states-ferc-nerc-and.

⁵⁸⁶ See, e.g., Transmission Sys. Planning Performance Requirements for Extreme Weather, Order No. 896, 88 FR 41262 (June 23, 2023), 183 FERC ¶ 61,191 (2023); One-Time Info. Reports on Extreme Weather Vulnerability Assessments, Order No. 897, 88 FR 41447 (June 27, 2023), 183 FERC ¶ 61,192 (2023).

235. Further, we disagree with the contention of Louisiana Commission and Vistra that Long-Term Regional Transmission Planning will distort the efficient functioning of Commission-jurisdictional wholesale markets by subsidizing uneconomic generation or by distorting price signals. As discussed further below, we require transmission providers, as part of Long-Term Regional Transmission Planning, to assess the costs and measure the benefits of regional transmission facilities that address Long-Term Transmission Needs and to develop evaluation processes and selection criteria that provide the opportunity to select those transmission facilities as more efficient or cost-effective regional transmission solutions to those Needs. While the addition of any new transmission facility necessarily affects Commission-jurisdictional wholesale markets, the requirements set forth in this final order ensure that transmission providers will have the opportunity to select more efficient or cost-effective Long-Term Regional Transmission Facilities that provide value to transmission customers and support the efficient functioning of wholesale markets by addressing Long-Term Transmission Needs.

236. We also disagree with Vistra's contention that Long-Term Regional Transmission Planning somehow will assign all, or a disproportionately high share, of interconnection-related network upgrade costs to load or undermine the incentives for generation developers to site new generation resources in ways that minimize transmission system upgrade costs. Rather, because transmission providers will now engage in Long-Term Regional Transmission Planning to identify, evaluate, and select more efficient or cost-effective regional transmission facilities to address Long-Term Transmission Needs, Long-Term Regional Transmission Facilities will be planned in a more efficient and cost-effective manner than if transmission facilities meeting a narrower set of transmission needs were left to be identified through the generator interconnection process. Indeed, numerous commenters explain that the piecemeal expansion of the transmission system is highly inefficient and results in higher costs for transmission customers,⁵⁸⁷ in part because the costs of interconnection-related network upgrades ultimately are passed on to consumers.

⁵⁸⁷ See, e.g., NYISO Initial Comments at 30; PIOs Initial Comments at 9-10.

237. We strike another careful balance in this final order. On the one hand, we recognize transmission providers' need for sufficient flexibility to implement Long-Term Regional Transmission Planning in their transmission planning regions to reflect regional differences, such as different market structures.⁵⁸⁸ On the other hand, we must ensure that transmission providers' regional transmission planning processes result in just and reasonable rates, which, as discussed above in the Overall Need for Reform section, necessitates that they plan on a sufficiently long-term, forward-looking, and comprehensive basis such that transmission providers are identifying, evaluating, and selecting more efficient or cost-effective regional transmission facilities to address Long-Term Transmission Needs. We believe that the balance struck in the final order will ensure that Commission-jurisdictional rates are just and reasonable and not unduly discriminatory or preferential and, thus, we reject requests for flexibility that exceeds that provided in this final order.

⁵⁸⁸ The Commission also recognized the need for sufficient flexibility in regional transmission planning to reflect regional differences in Order No. 1000. See Order No. 1000, 136 FERC ¶ 61,051 at P 61.

238. In particular, we reject requests that, instead of requiring transmission providers to implement Long-Term Regional Transmission Planning in accordance with the requirements adopted in this final order, we set forth principles and objectives articulating our concerns with existing regional transmission planning processes and give transmission providers the flexibility to propose revisions to their processes to address those concerns.⁵⁸⁹ Having found existing regional transmission planning and cost allocation requirements to be unjust and unreasonable, we have an obligation under FPA section 206 to adopt reforms that remedy the deficiencies identified in this final order. We also believe that such an approach would fail to adequately address the deficiencies described above in the Overall Need for Reform section, namely that transmission providers are not currently required to: (1) perform a sufficiently long-term assessment of transmission needs that identifies Long-Term Transmission Needs; (2) adequately account on a forward-looking basis for known determinants of Long-Term Transmission Needs; and (3) consider the broader set of benefits of regional transmission facilities planned to meet those Long-Term Transmission Needs. We further believe that establishing requirements rather than principles will ensure a sufficiently robust process for Long-Term Regional Transmission Planning while providing sufficient clarity about that process to avert conflict among stakeholders, as noted by AEP.⁵⁹⁰

⁵⁸⁹ ISO-NE Initial Comments at 20; ISO RTO Council Initial Comments at 4-5, 8-9; MISO Initial Comments at 22-23.

⁵⁹⁰ AEP Reply Comments at 2-4.

239. We also disagree with commenters that argue that this final order should apply to only RTO/ISO transmission planning regions. The Commission's existing regional transmission planning requirements, which, as described above in the Overall Need for Reform section, we find to be deficient, apply in RTO/ISO and non-RTO/ISO transmission planning regions alike; without the Long-Term Regional Transmission Planning Requirements adopted herein, transmission providers in both RTO/ISO and non-RTO/ISO transmission planning regions will continue to be at risk of undertaking investments in relatively inefficient or less cost-effective transmission infrastructure, the costs of which are ultimately recovered through Commission-jurisdictional rates. Accordingly, while we acknowledge differences between RTO/ISO and non-RTO/ISO transmission planning regions, we find that transmission providers in all transmission planning regions must implement Long-Term Regional Transmission Planning as required in this final order to ensure that Commission-jurisdictional rates are just and reasonable and not unduly discriminatory or preferential. Additionally, we note that many of the requirements established in this final order provide for regional flexibility, including, but not limited to, the requirements to develop Long-Term Scenarios, determine which factors in each required category of factors do not affect Long-Term Transmission Needs and need not be considered, develop methods to measure the benefits of Long-Term Regional Transmission Facilities, design an evaluation process and selection criteria, and establish a Long-Term Regional Transmission Cost Allocation Method.

240. We acknowledge that certain transmission planning regions already conduct some regional transmission planning on a relatively forward-looking, proactive basis. We do not intend to undermine progress made in these transmission planning regions, and our goal is to set a floor, not a ceiling. We decline to prejudge whether any existing regional transmission planning process meets the requirements set forth in this final order and accordingly reject requests that we do so.⁵⁹¹ We note that, if a transmission provider believes that it participates in a regional transmission planning process that fulfills the requirements adopted in this final order, it may describe in its compliance filing how its process meets these requirements.

⁵⁹¹ See, e.g., Ameren Initial Comments at 8.

241. We expect Long-Term Regional Transmission Planning to enhance the existing regional transmission planning and cost allocation processes required by Order No. 1000. Except as set forth in this final order, we do not require that any transmission provider replace or otherwise make changes to its existing Order No. 1000-compliant regional transmission planning processes that plan for reliability or economic transmission needs, or the associated Order No. 1000-compliant regional cost allocation method(s). Transmission providers may continue to rely on their existing regional transmission planning and cost allocation processes to comply with Order No. 1000's requirements related to transmission needs driven by reliability concerns or economic considerations.

242. We also do not alter the existing Order No. 1000 requirement to consider transmission needs driven by Public Policy Requirements in the regional transmission planning process. Instead, we clarify that we will deem transmission providers to be in compliance with this existing requirement by conducting Long-Term Regional Transmission Planning in accordance with the requirements set forth in this final order. As discussed below, we require transmission providers to incorporate a variety of factors into the development of Long-Term Scenarios, which include, among others, certain Federal, state, and local laws and regulations. Therefore, we find that transmission providers that implement Long-Term Regional Transmission Planning and satisfy the requirements set forth in this final order will comply with the requirement in Order No. 1000 to participate in a regional transmission planning process that considers, and has associated cost allocation provisions related to, transmission needs driven by Public Policy Requirements.

243. We understand—and acknowledge comments submitted in this proceeding explaining—that transmission providers in some transmission planning regions have developed processes to consider transmission needs driven by Public Policy Requirements through their regional transmission planning processes that they wish to retain.⁵⁹² In their filings made to comply with this final order, transmission providers may propose to continue using some or all aspects of the existing regional transmission planning and cost allocation processes that they use to consider transmission needs driven by Public Policy Requirements. Transmission providers must nevertheless comply with the Long-Term Regional Transmission Planning requirements set forth in this final order, such that continued use of existing regional transmission planning and cost allocation processes related to transmission needs driven by Public Policy Requirements will not supplant transmission providers' obligation to comply with this final order. In their filing to comply with this final order, transmission providers that wish to continue to use some or all of their existing regional transmission planning and cost allocation processes to consider transmission needs driven by Public Policy Requirements must demonstrate that continued use of any such processes does not interfere with or otherwise undermine Long-Term Regional Transmission Planning as set forth in this final order.

⁵⁹² CAISO Reply Comments at 17-18; New York Transco Initial Comments at 5.

244. Similarly, we allow transmission providers to propose a regional transmission planning process that simultaneously plans for shorter-term reliability and economic transmission needs, as well as Long-Term Transmission Needs, as outlined in this final order, through a combined process. Transmission providers proposing to address all of these transmission needs in a single regional transmission planning process must demonstrate that the unified regional transmission planning process continues to comply with Order No. 1000, as well as with the Long-Term Regional Transmission Planning requirements set forth in this final order, by demonstrating that such a combined process is consistent with or superior to the requirements of both Order No. 1000 and this final order. However, in the case that the requirements of Order No. 1000 and this final order conflict, the requirements of this final order prevail, and transmission providers must demonstrate that their proposed regional transmission planning process is consistent with or superior to the applicable requirements in this final order.

245. We reject requests to require transmission providers to simultaneously plan for all such transmission needs through a single regional transmission planning process, however.⁵⁹³ We recognize that such a combined process has potential benefits and do not prohibit such an approach, but at this time we believe that the benefits of requiring such a combined process on a generic basis may be outweighed by the difficulty of transitioning to such a process from existing regional transmission planning processes. Therefore, we do not require in this final order that transmission providers plan for all reliability and economic transmission needs and Long-Term Transmission Needs through a single regional transmission planning process. Further, we believe that Long-Term Regional Transmission Planning, as set forth in this final order, meets many of the same objectives as would such a combined regional transmission planning process because, by identifying Long-Term Transmission Needs and considering a broad set of benefits when evaluating Long-Term Regional Transmission Facilities, the existing regional transmission planning processes for economic and reliability needs may ultimately come to address only residual needs not already addressed through Long-Term Regional Transmission Planning.

⁵⁹³ See, e.g., ACEG Initial Comments at 30-31.

246. With respect to the request by PIOs to mandate that the base cases used in Order No. 1000 regional transmission planning processes and Long-Term Scenarios in Long-Term Regional Transmission Planning be defined in the same process,⁵⁹⁴ we decline to adopt this proposal. The record is inadequate to assess the impact that such a requirement would have on existing Order No. 1000 regional transmission planning processes, and whether this proposal would work across the differing transmission planning processes in each transmission planning region. With respect to the proposals by Clean Energy Buyers, Cypress Creek, and Policy Integrity,⁵⁹⁵ these proposals were not among the proposals included in the NOPR and are beyond the scope of this proceeding, and therefore we decline to adopt them.

⁵⁹⁴ PIOs Initial Comments at 44-46.

⁵⁹⁵ Clean Energy Buyers Initial Comments at 9-10; Cypress Creek Reply Comments at 10-12; Policy Integrity Supplemental Comments at 3.

247. We also reject requests to incorporate local transmission planning into Long-Term Regional Transmission Planning specifically or regional transmission planning more generally,⁵⁹⁶ as well as requests to require transmission providers to evaluate and approve local transmission facilities in regional transmission planning.⁵⁹⁷ This final order sets forth requirements that will enhance the transparency of local transmission planning and examine opportunities for right-sizing in-kind replacements of existing transmission facilities, including local transmission facilities, but the Commission in the NOPR did not propose other changes to local transmission planning processes and therefore these requests are beyond the scope of this final order.

⁵⁹⁶ AEE Initial Comments at 3, 38.

⁵⁹⁷ OMS Initial Comments at 16-17.

248. As discussed in detail below, we require transmission providers to satisfy specific requirements in implementing Long-Term Regional Transmission Planning, including requirements to: (1) use a transmission planning horizon of no less than 20 years into the future in developing Long-Term Scenarios; (2) reassess and revise those scenarios at least once every five years; (3) incorporate into the Long-Term Scenarios a set of Commission-identified categories of factors that give rise to Long-Term Transmission Needs; (4) develop a plausible and diverse set of at least three Long-Term Scenarios; (5) perform sensitivity analyses of uncertain operational outcomes during multiple concurrent and sustained generation and/or transmission outages due to an extreme weather event across a wide area; and (6) use “best available data” in developing Long-Term Scenarios.

249. Before turning to these topics, however, we address two preliminary matters: the definition of Long-Term Regional Transmission Facility; and our jurisdiction to adopt these reforms.

b. Definition of Long-Term Regional Transmission Facility

250. We modify the NOPR proposal and define Long-Term Regional Transmission Facility for purposes of this final order as a regional transmission facility, as defined in Order No. 1000, that is identified as part of Long-Term Regional Transmission Planning to address Long-Term Transmission Needs.⁵⁹⁸ In so doing, we clarify that some Long-Term Regional Transmission Facilities may be selected in a regional transmission plan for purposes of cost allocation, while others may be considered for selection but not be selected.

⁵⁹⁸ In the NOPR, the Commission proposed to define a Long-Term Regional Transmission Facility as a transmission facility identified as part of Long-Term Regional Transmission Planning and selected in the regional transmission plan for purposes of cost allocation to address transmission needs driven by changes in the resource mix and demand. NOPR, 179 FERC ¶ 61,028 at P 252 n.398.

251. This modification also clarifies that Long-Term Regional Transmission Facilities are a subset of regional transmission facilities as defined in Order No. 1000. Further, consistent with Order No. 1000,⁵⁹⁹ a selected Long-Term Regional Transmission Facility is a regional transmission facility that has been selected pursuant to a Commission-approved Long-Term Regional Transmission Planning process in a regional transmission plan for purposes of cost allocation because it is a more efficient or cost-effective solution to Long-Term Transmission Needs.

⁵⁹⁹ Order No. 1000, 136 FERC ¶ 61,051 at P 63.

252. We disagree with PJM that Order No. 1000's requirements related to regional transmission planning processes addressing transmission needs driven by reliability concerns or economic considerations will be unclear given the definition of Long-Term Regional Transmission Facility, and we find unpersuasive PJM's contention that Long-Term Regional Transmission Planning will inadvertently cause the re-litigation of aspects of those existing processes. If a regional transmission facility is selected in an existing Order No. 1000 regional transmission planning process, the rules of, as well as the regional cost allocation method for, that existing process apply to the selected regional transmission facility. If a Long-Term Regional Transmission Facility is selected in Long-Term Regional Transmission Planning, then the rules of, and the Long-Term Regional Cost Allocation Method for, Long-Term Regional Transmission Planning apply to that Long-Term Regional Transmission Facility.

c. Legal Authority To Adopt Reforms for Long-Term Regional Transmission Planning

253. We reaffirm our conclusion in the NOPR that we are acting within the Commission's legal authority under FPA section 206 by requiring transmission providers to participate in a regional transmission planning process that includes Long-Term Regional Transmission Planning. The FPA grants the Commission authority over the transmission of electric energy in interstate commerce, which includes transmission on the interconnected national grids.⁶⁰⁰ FPA section 205 requires that the rates charged by any public utility in connection with such transmission—as well as the rules and regulations affecting such rates—be just and reasonable, and further requires that public utilities file with the Commission the practices affecting such rates.⁶⁰¹ Under FPA section 206, when the Commission determines that any rate or any practice affecting such rate is unjust, unreasonable, or unduly discriminatory or preferential—as we find above with respect to transmission planning practices—the Commission must determine the just and reasonable rate or practice to be followed.⁶⁰² Transmission planning and cost allocation processes are practices affecting the rates charged by public utilities in connection with the Commission-jurisdictional transmission of electric energy in interstate commerce.⁶⁰³ No commenter has claimed otherwise.

⁶⁰⁰ New York v. FERC, 535 U.S. at 16-17 (citing 16 U.S.C. 824(b)).

⁶⁰¹ 16 U.S.C. 824d.

⁶⁰² 16 U.S.C. 824e.

⁶⁰³ See S.C. Pub. Serv. Auth. v. FERC, 762 F.3d at 55-59; accord Emera Me. v. FERC, 854 F.3d at 673-74.

254. Despite this, a number of commenters claim that the specific transmission planning requirements we adopt in this final order infringe on the authority reserved to the states by FPA section 201 or are otherwise barred by certain prudential or constitutional principles. As a threshold matter, we believe that commenters' concerns with respect to our jurisdiction or authority to adopt this final order mainly arise from factual misunderstandings or mischaracterizations about what Long-Term Regional Transmission Planning will and will not require transmission providers to do. As explained above, this final order requires transmission providers in each transmission planning region to participate in a regional transmission planning process that includes Long-Term Regional Transmission Planning and to conduct Long-Term Regional Transmission Planning in accordance with the requirements set forth in this final order. Transmission providers are required to identify Long-Term Transmission Needs, identify Long-Term Regional Transmission Facilities that meet such needs, measure the benefits of these Long-Term Regional Transmission Facilities, and evaluate these Long-Term Regional Transmission Facilities for potential selection. As such, this final order does not regulate, aim at, or otherwise attempt to influence integrated resource planning, the generation mix, decisions related to the siting and construction of transmission facilities or generation resources, or any other matters reserved to states under FPA section 201.

255. As discussed in the Introduction and Background section above, the requirements of this final order build upon more than a quarter century of significant actions taken by the Commission on transmission planning and cost allocation, beginning with the Commission's initial open access reforms in Order No. 888. In 2007, the Commission issued Order No. 890 to address identified deficiencies in the pro forma OATT based on more than 10 years of experience since the issuance of Order No. 888. Most recently, in 2011, the Commission issued Order No. 1000, which required transmission providers to develop a regional transmission plan after evaluating whether regional transmission facilities may be more efficient or cost-effective than transmission facilities identified in local transmission planning processes and to consider transmission needs driven by Public Policy Requirements. These practices serve as the foundation for regional transmission planning, and this final order leaves them in place.

256. As described above, however, we have identified specific gaps in the Order No. 1000 framework—namely, that regional transmission planning practices do not perform a sufficiently long-term assessment of transmission needs, adequately account on a forward-looking basis for known determinants of Long-Term Transmission Needs, or consider the broader set of benefits of regional transmission facilities. In this final order, we direct reforms to close these gaps without otherwise disturbing the regional transmission planning structure required by Order No. 1000, which was fully affirmed on appeal in the face of similar objections to those raised here.⁶⁰⁴

⁶⁰⁴ See S.C. Pub. Serv. Auth. v. FERC, 762 F.3d at 55-64 (rejecting arguments that the requirement to engage in regional transmission planning, as prescribed in Order No. 1000, exceeded the Commission's jurisdiction under FPA section 206, interfered with traditional state authority reserved under FPA section 201, or improperly interpreted and applied FPA section 202(a)).

257. Critically, as in Order No. 1000, our focus continues to be on ensuring that Commission-jurisdictional regional transmission planning processes are just and reasonable and that, as a result of improvements to the regional transmission planning and cost allocation processes, Commission-jurisdictional rates remain just and reasonable.⁶⁰⁵ And, as in Order No. 1000, while the improvements to the regional transmission planning and cost allocation processes will ensure that potentially more efficient or cost-effective regional transmission facilities are evaluated for potential selection and have a cost allocation method available if they are selected, this order does not mandate development of any particular transmission facility.

⁶⁰⁵ See id. at 63-64 (affirming that the Commission was acting within its jurisdiction because its planning mandate “relates wholly to electricity transmission, as opposed to electricity sales” and “is directed at ensuring the proper functioning of the interconnected grid spanning state lines”).

258. Consistent with the regional transmission planning and cost allocation reforms adopted in Order No. 1000, and in response to commenters arguing otherwise,⁶⁰⁶ we affirm that this final order does not authorize or require any entity to adopt a particular siting plan for Long-Term Regional Transmission Facilities that transmission providers select; or to forego state-jurisdictional siting proceedings where they are necessary; or to begin construction on such Long-Term Regional Transmission Facilities. Even where transmission providers select a Long-Term Regional Transmission Facility, the relevant transmission developer typically must secure a variety of other permits and authorizations before beginning to construct the facility, including those that are subject to state jurisdiction. Nothing in this final order changes otherwise applicable siting laws or requirements.

⁶⁰⁶ Alabama Commission Initial Comments at 7; Kansas Ratepayer Advocates Reply Comments at 3; NARUC Initial Comments at 29; Nevada Commission Initial Comments at 2-3; Southern Initial Comments at 3-4, 7, 15-17; Southern Reply Comments at 6-7.

259. Similarly, this final order does not change existing mechanisms for cost-recovery through retail rates; authorize or require states or state commissions to change the laws or regulations that govern the conduct of integrated resource planning or request for proposal processes; authorize or require transmission providers or transmission developers to bypass any applicable state-regulated integrated resource planning or request for proposal processes; or authorize or require states or public utilities to adopt a different mix of generation resources than would otherwise be the case. Comments suggesting otherwise do not accurately represent the Commission's proposed requirements in the NOPR or the requirements adopted in this final order,⁶⁰⁷ which seeks to ensure that transmission providers plan for Long-Term Transmission Needs, however those needs arise.⁶⁰⁸

⁶⁰⁷ Alabama Commission Initial Comments at 3-4, 7-9; Kansas Ratepayer Advocates Reply Comments at 2; Louisiana Commission Initial Comments at 8-10, 27-28; Louisiana Commission Reply Comments at 14-15; Mississippi Commission Initial Comments at 3 (citing NOPR, 179 FERC ¶ 61,028 (Christie, Comm'r, concurring, at P 2); Nevada Commission Initial Comments at 2-3; SERTP Sponsors Initial Comments at 5, 16, 17 n.20, 19-20; SERTP Sponsors Reply Comments at 12-13; Southern Initial Comments at 3-4, 7-8, 12-13, 15-17, 23-24; Southern Reply Comments at 3, 6-7; Undersigned States Reply Comments at 2, 4-5, 8; Utah Commission Initial Comments at 7-9.

⁶⁰⁸ New Jersey Commission Reply Comments at 1-2.

260. We disagree with Southern and SERTP Sponsors' characterization of Long-Term Regional Transmission Planning as a Commission-regulated integrated resource planning/request for proposal process.⁶⁰⁹ Similarly, comments that suggest that this final order intends to “revamp the energy grid's mix of generation resources writ large” ⁶¹⁰ are incorrect. We understand these comments to argue that the Commission seeks reforms to regional transmission planning and cost allocation processes so that it can direct or influence investments toward particular resources, as would an entity engaged in integrated resource planning. In this final order, the Commission neither aims to influence the resource mix, nor, as a practical matter, could the final order achieve such an outcome.

⁶⁰⁹ SERTP Sponsors Initial Comments at 16-17; Southern Initial Comments at 3-4, 7, 15-17.

⁶¹⁰ Undersigned States Reply Comments at 4; see also Louisiana Commission Initial Comments at 6, 12-13 (arguing that the FPA does not allow the Commission to “enact[ ] sweeping energy policy changes that would have far-reaching, nation-wide effects” or to favor one form of generation over another).

261. Instead, the final order merely requires transmission providers to account for observable changes affecting the transmission system. The final order neither directs those changes, nor does it require any entity, including a state, to approve changes to any subject within its jurisdiction. As with Order Nos. 890 and 1000, which built on the Commission's open access reforms in Order No. 888, this final order responds to changes in the electric industry that have arisen in the years since the Commission's last regulatory action related to transmission planning. As discussed above in the Overall Need for Reform section, this final order responds to evolving reliability concerns, including the increasing frequency of high-impact extreme weather events; changes in electricity demand, including significant load growth that is projected to increase in coming years; changes in supply, including Federal, federally-recognized Tribal, state, and local laws and policies that affect the future resource mix; changes in the economics of generation, transmission, and storage technologies; corporate, governmental, and utility commitments to rely on certain generation resources; and other factors as discussed in this final order.

262. We emphasize that these changes, which are affecting and will continue to drive transmission needs, are not within the Commission's control and, in many cases, are beyond the Commission's jurisdiction. We do not aim to influence these drivers of transmission needs through the requirements in this final order.⁶¹¹ However, the Commission has an obligation under the FPA to ensure that Commission-jurisdictional transmission rates remain just and reasonable, and we affirm—consistent with the Commission's actions in Order Nos. 890 and 1000—that the Commission has the requisite authority to account for the effects of these changes driving transmission needs in Commission-jurisdictional transmission planning processes.⁶¹²

⁶¹¹ See EPSA, 577 U.S. 260 at 282 (citing Oneok, Inc. v. Learjet, Inc., 575 U.S. 373, 385 (2015)).

⁶¹² Cf. EPSA, 577 U.S. at 281-82 (“When FERC regulates what takes place on the wholesale market, as part of carrying out its charge to improve how that market runs, then no matter the effect on retail rates, 824(b) imposes no bar.”).

263. We also emphasize, and no commenter contests, that this final order directly regulates transmission planning and cost allocation processes, which are practices that affect the rates for the transmission of electric energy in interstate commerce. Importantly, it directly regulates only those practices, and it does not directly regulate any matter reserved to the states by FPA section 201. Moreover, in doing so, this final order is not aiming to indirectly regulate any matter reserved to the states by FPA section 201. Instead, our aim here is to improve on the Commission's existing transmission planning and cost allocation processes for the express purpose of addressing identified deficiencies with those processes.

264. As the U.S. Supreme Court has recognized, it is true that almost any action that the Commission takes with respect to regulating the practices affecting the rates for the transmission of or the wholesale sale of electric energy in interstate commerce will have “some effect, in either the short or long term” on matters reserved to the states' jurisdiction.⁶¹³ But those effects, inevitable as they may be, are “of no legal consequence” to determining whether this final order infringes on the states' authority under FPA section 201.⁶¹⁴ Instead, such effects are a “fact of economic life” for the electric industry, given Congress's decision in the FPA to divide jurisdiction over the industry, including both generation and transmission, into spheres of Commission and state jurisdiction that are not “hermetically sealed” from one another.⁶¹⁵ Accordingly, Commission regulation of Commission-jurisdictional practices affecting transmission may “have natural consequences” for generation.⁶¹⁶ But, even where that happens, that does not defeat Federal jurisdiction.

⁶¹³ Id. at 281 (emphasis added).

⁶¹⁴ Id.

⁶¹⁵ Id.

⁶¹⁶ Id.

265. Rather, as in EPSA, what matters is that this final order aims to regulate and, in fact, does regulate only practices that affect the transmission of electric energy in interstate commerce, which are squarely within the Commission's jurisdiction under the FPA. As in Order Nos. 890 ⁶¹⁷ and 1000,⁶¹⁸ this final order aims to improve Commission-regulated transmission planning processes, in this instance by ensuring that they are sufficiently long-term, forward-looking, and comprehensive such that they are capable of identifying and meeting Long-Term Transmission Needs.⁶¹⁹ Thus, this final order ensures just and reasonable Commission-jurisdictional rates and practices by ensuring that transmission providers have adequate processes to identify Long-Term Transmission Needs and to identify, evaluate, and select Long-Term Regional Transmission Facilities that more efficiently or cost-effectively address those needs.

⁶¹⁷ Order No. 890, 118 FERC ¶ 61,119 at P 3.

⁶¹⁸ Order No. 1000, 136 FERC ¶ 61,051 at P 12.

⁶¹⁹ EPSA, 577 U.S. at 281-83.

266. Moreover, as in EPSA, what also matters is that “every aspect of the [final order] happens exclusively” as part of a process that is subject to the Commission's jurisdiction and governs exclusively how those processes work.⁶²⁰ In aiming to improve transmission planning processes, this final order does not require that transmission providers achieve any particular substantive outcome of those processes, including either the selection or construction of any specific transmission facilities. The final order patently does not aim to alter states' or the Nation's generation mix or otherwise regulate matters that are within state jurisdiction. Indeed, to the contrary, our rationale in this final order is “all about, and only about, improving” the relevant matters under the Commission's jurisdiction.⁶²¹ Nor is it clear how, under commenters' theory, the final order could be argued to regulate matters under states' jurisdiction, given that the final order does not require investment in any particular transmission facilities, and could not, even indirectly, ensure investments in any particular set of generating facilities that may rely on such transmission facilities.

⁶²⁰ Id. at 282.

⁶²¹ Id. (citing Oneok, Inc. v. Learjet, Inc., 575 U.S. at 385).

267. Despite some commenters' claims,⁶²² nothing in this final order requires states to subsidize other states' public policies and, indeed, this final order requires, consistent with long-established Commission and court precedent, that transmission customers within a transmission planning region need only pay costs that are “roughly commensurate” with the benefits that transmission providers estimate they will receive from a regional transmission facility.⁶²³ Thus, the final order ensures that transmission customers nationwide are not required to pay for Long-Term Regional Transmission Facilities from which they do not benefit.

⁶²² Alabama Commission Initial Comments at 8-9; Louisiana Commission Initial Comments at 6, 9-10; Mississippi Commission Reply Comments at 2-3; Ohio Commission Federal Advocate Initial Comments at 4-6; Ohio Consumers Reply Comments at 14.

⁶²³ See Ill. Com. Comm'n v. FERC, 756 F.3d 556, 562 (7th Cir. 2014) (ICC v. FERC III); ICC v. FERC I, 576 F.3d at 477; Sw. Power Pool, Inc., 182 FERC ¶ 61,141, at P 12 (2023).

268. The reforms in the final order require greater transparency regarding the benefits that would result from the development of Long-Term Regional Transmission Facilities, but these reforms also continue to allow flexibility, as under Order No. 1000, for the transmission providers in each transmission planning region to determine the appropriate method for allocating to transmission customers the costs of any selected Long-Term Regional Transmission Facility. Rather than force transmission providers to adopt a particular cost allocation method that would necessarily result in customers in one state subsidizing the costs of customers in another state, as these commenters allege, the final order affords significant new opportunities for Relevant State Entities to inform the evaluation process, selection criteria, and cost allocation method adopted by the transmission providers in a transmission planning region. We believe that the requirements for greater transparency regarding the benefits of proposed transmission facilities, the increased opportunities for state engagement in evaluation, selection, and cost allocation, the flexibility for transmission providers in each transmission planning region to determine their own cost allocation methods, and the requirement that any cost allocation method must ensure costs are allocated in a manner that is at least roughly commensurate with estimated benefits provide robust assurance that the cost allocation methods ultimately proposed under the final order will not result in improper cost subsidization. Ultimately, the Commission must review and accept each cost allocation method proposed under the final order to ensure that it is just and reasonable and consistent with the final order's requirements.

269. As discussed in the Evaluation of the Benefits of Regional Transmission Facilities section below, this final order requires transmission providers to use and measure a set of seven required benefits to evaluate Long-Term Regional Transmission Facilities. The measurement of these benefits represents the value that the transmission providers expect a particular Long-Term Regional Transmission Facility to provide to transmission customers in the transmission planning region. As further discussed in the Regional Transmission Planning Cost Allocation section below, this final order requires transmission providers to provide a forum for Relevant State Entities to negotiate a cost allocation method and/or a process for determining future cost allocation methods for Long-Term Regional Transmission Facilities, which enables robust participation by those entities. Moreover, the cost allocation methods required by this final order are intended to ensure that costs are allocated in a manner that is at least roughly commensurate with the estimated benefits that a Long-Term Regional Transmission Facility provides to transmission customers.

270. The benefits this order requires to be used and measured—which provide an important source of transparency regarding any resulting allocation of costs to transmission customers—reflect objective, measurable changes in transmission system conditions, rather than achievement of state public policies. For example, even if a state's public policy is one driver of a Long-Term Transmission Need, these benefits of a Long-Term Regional Transmission Facility resolving that need are well understood and measurable, including, for example, reducing the cost of generating electricity by allowing for the increased dispatch of suppliers that have lower incremental costs of production, minimizing energy losses incurred in transmitting electricity, and lowering the number or duration of loss of load events. Transmission providers will evaluate Long-Term Regional Transmission Facilities for selection considering these benefits that these facilities would provide, and these benefits accrue to the transmission customers that fund their construction. In other words, under this final order, customers pay for a more reliable and economic transmission system as identified through open and transparent Long-Term Regional Transmission Planning, and any state's ratepayers only fund the construction of Long-Term Regional Transmission Facilities that provide them with such benefits that are at least roughly commensurate with the costs of those facilities.

271. We turn now to commenters' specific jurisdiction arguments. As an initial matter, we acknowledge that, in addition to granting authority to the Commission over the transmission of electric energy in interstate commerce, FPA section 201 also reserves certain authority to the states.⁶²⁴ As such, we agree with Southern that Congress sought in enacting the FPA to ensure the “continued exercise of state power” ⁶²⁵ over certain matters. However, the requirements in this final order respect and do not unlawfully infringe on state authority. Rather, as discussed above, the Commission is acting in an area squarely within its jurisdiction—transmission planning and cost allocation—by requiring transmission providers to engage in Long-Term Regional Transmission Planning to remedy deficiencies in the current transmission planning and cost allocation processes, which we conclude are unjust and unreasonable.

⁶²⁴ See 16 U.S.C. 824(a)-(b)(1); New York v. FERC, 535 U.S. at 20-21 (“It is, however, perfectly clear that the original FPA did a good deal more than close the gap in state power identified in [Pub. Utils. Comm'n of R.I. v. Attleboro Steam & Elec. Co., 273 U.S. 83 (1927) (Attleboro)]. The FPA authorized Federal regulation not only of wholesale sales that had been beyond the reach of state power, but also the regulation of wholesale sales that had been previously subject to state regulation. More importantly, as discussed above, the FPA authorized Federal regulation of interstate transmissions as well as of interstate wholesale sales, and such transmissions were not of concern in Attleboro.” (emphasis in original) (internal citations omitted)).

⁶²⁵ Southern Initial Comments at 16 (quoting Oneok, Inc. v. Learjet, Inc., 575 U.S. at 385).

272. We acknowledge that Long-Term Regional Transmission Planning will affect matters that are within the states' jurisdiction. As stated, this is inevitable. Effective transmission planning necessarily involves taking into account assumptions about the generation resources that will be available, because transmission needs arise from the relative amounts, locations, and timing of supply (i.e., generation) and of demand (i.e., load); indeed, existing transmission planning processes also take into account these assumptions.⁶²⁶ Our action in this final order simply modifies the scope and duration of these assumptions to ensure that regional transmission planning processes are conducted on a sufficiently long-term, forward-looking, and comprehensive basis by requiring transmission providers to evaluate factors that give rise to Long-Term Transmission Needs.

⁶²⁶ See, e.g., Xcel Initial Comments at 13, 16 & n.26 (discussing generation resource assumptions made in existing Order No. 1000 regional transmission planning and cost allocation processes).

273. Southern and SERTP Sponsors acknowledge that the NOPR proposed to require transmission providers to incorporate the results of state-sanctioned integrated resource planning as factors in developing Long-Term Scenarios, but they insist that Long-Term Regional Transmission Planning will intrude upon state authority if we do not require Long-Term Scenarios to be limited to those state-sanctioned resources.⁶²⁷ This assertion is incorrect for at least three reasons. First, the public utilities whose integrated resource plans are approved by state commissions are not the only entities whose decisions may influence the development of generation resources within a particular transmission planning region. For example, a wide variety of private enterprises, publicly-owned utilities, and electric cooperatives have made commitments to fund the development of certain generation resources, and transmission providers may reasonably determine that these procurement decisions give rise to Long-Term Transmission Needs. Second, making generation resource assumptions for the purpose of performing transmission planning does not result in any legally-binding determination on a matter within a state's jurisdiction, let alone undermine a state's ability to ultimately decide what generation resources to build, and on what timetable.⁶²⁸ Third, as Southern and SERTP Sponsors concede,⁶²⁹ many existing integrated resource planning processes do not identify specific generation resources beyond a particular point in time. Other integrated resource planning processes may not result in a set of state-sanctioned generation resources and may instead serve merely as a guide for the relevant public utility.⁶³⁰ As a result, relying on such integrated resource planning processes exclusively to identify Long-Term Transmission Needs would fail to ensure that regional transmission planning processes are conducted on a sufficiently long-term, forward-looking, and comprehensive basis and therefore would fail to ensure just and reasonable Commission jurisdictional-rates. To be clear, we are not in this final order attempting to denigrate or diminish the importance of integrated resource planning. Rather, in the context of Long-Term Regional Transmission Planning, integrated resource planning is reasonably considered one of several categories of factors used to develop Long-Term Scenarios and identify Long-Term Transmission Needs.

⁶²⁷ SERTP Sponsors Initial Comments at 15-17; Southern Initial Comments at 18-19.

⁶²⁸ We disagree with Southern's and SERTP Sponsors' contention that the inclusion of such non-binding assumptions about generation resources in transmission planning will “bias” subsequent state resource decisions. See Southern Initial Comments at 19; SERTP Sponsors Initial Comments at 17 n.20. As Kentucky Commission Chair Chandler argues, the NOPR's reforms do not foreclose states' decision making on generation. Kentucky Commission Chair Chandler Reply Comments at 3. We also disagree with North Carolina Commission and Staff's contention that merely requiring transmission providers to use and measure production cost savings in evaluating Long-Term Regional Transmission Facilities “could conflict with state-jurisdictional resource decisions.” North Carolina Commission and Staff Initial Comments at 7. If nothing else, Long-Term Regional Transmission Planning will provide public utilities and state commissions the opportunity to develop longer-term, forward-looking, robust assessments that can inform future decision making.

⁶²⁹ SERTP Sponsors Initial Comments at 16; Southern Initial Comments at 19.

⁶³⁰ See, e.g., SREA Reply Comments at 2-3 (arguing, in response to Alabama Commission, that Alabama has no formal integrated resource plan process upon which the Commission could encroach).

274. In that light, Southern's and SERTP Sponsors' argument—that we should limit transmission providers to state-approved resources and prohibit non-binding assumptions about the resource mix and demand—does not safeguard but in fact subverts the FPA's division between Federal and state authority. As stated above, were we to require that transmission providers limit their assumptions to only state-sanctioned generation resources, we would be requiring transmission providers to ignore many of the factors that, as demonstrated by this record, transmission providers must reasonably consider to plan on a sufficiently long-term, forward-looking, and comprehensive basis. Instead, it is within our jurisdiction to determine the factors that transmission providers must incorporate in order to identify Long-Term Transmission Needs.

275. Commenters' arguments that the final order would not withstand judicial scrutiny under the “major questions doctrine” are similarly unfounded. For example, some commenters appear to misinterpret West Virginia v. EPA as standing for the proposition that “the nation's energy policy and generation mix is a `major question' and that an agency must have direct authorization from Congress to assert jurisdiction” over these matters.⁶³¹ As an initial matter, as noted above, the aim of this final order is not to influence the generation mix or energy policy more broadly, but to ensure that Commission-jurisdictional transmission providers are planning for Long-Term Transmission Needs in a manner that is just and reasonable and results in just and reasonable Commission-jurisdictional rates.

⁶³¹ SERTP Sponsors Initial Comments at 17-18; Southern Initial Comments at 20; see also Undersigned States Reply Comments at 3 (“National-scale energy grid regulation is a `major question' because of the massive economic consequences involved in such regulation.”).

276. In any case, the Court did not determine that energy policy and the mix of generation resources are in every instance a major question. Instead, in West Virginia v. EPA, the U.S. Supreme Court considered a specific agency action in light of a specific statutory provision and concluded that the Environmental Protection Agency's (EPA) exercise of authority was a “major question” based on a variety of factors specific to that context—including whether the EPA's administrative action was a “transformative” expansion of its power, whether the EPA had relevant technical and policy expertise, whether the relevant statutory provision was “ancillary” to the broader statutory construct, and whether the EPA's administrative action implicated significant economic and political questions.⁶³²

⁶³² West Virginia v. EPA, 597 U.S. at 710, 724-725, 729, 731-32; see also Biden v. Nebraska, 143 S. Ct. 2355, 2372-2374 (2023) (applying West Virginia v. EPA's mode of analysis).

277. Commenters have not attempted a similar analysis of whether courts should construe this final order as a “major question,” ⁶³³ and we find that their contentions that courts ought to do so are based on the factual mischaracterizations discussed above. In any event, this final order neither transforms nor expands the Commission's authority; it merely applies existing authority, based on the Commission's expertise and experience, to identify and remedy deficiencies in existing regional transmission planning and cost allocation processes.⁶³⁴ As with Order Nos. 890 and 1000, the Commission is promulgating a final order pursuant to FPA section 206 to address those deficiencies in order to ensure that transmission planning practices, a subject long-regulated by the Commission and well within its area of expertise, remain just and reasonable and not unduly discriminatory or preferential. To that end, this final order requires further reforms to regional transmission planning and cost allocation processes so that they are sufficiently long-term, forward-looking, and comprehensive. And while the transmission planning required in this final order may be more forward-looking, long-term, and comprehensive than the status quo, as a matter of the Commission's jurisdiction, it is fundamentally no different than the regional transmission planning already required by the Commission and upheld by appellate courts.⁶³⁵ In short, the differences in transmission planning required by this final order represent differences in degree, not kind, from the Commission's longstanding regulations. As such, they are a far cry from the “transformative expansion” of the EPA's authority on which the Court relied in West Virginia v. EPA to find that the issue presented therein represented a major question not delegated to the agency to decide.

⁶³³ See Harvard ELI and Policy Integrity Supplemental Comments at 2 (arguing that Undersigned States, for example, “overlook key requirements of the major questions doctrine”).

⁶³⁴ See, e.g., S.C. Pub. Serv. Auth. v. FERC, 762 F.3d at 68-69. Cf. PJM Power Providers Grp. v. FERC, 88 F.4th at 274.

⁶³⁵ See, e.g., S.C. Pub. Serv. Auth. v. FERC, 762 F.3d at 48-49; see also Harvard ELI and Policy Integrity Supplemental Comments at 4-7.

278. Just as it is clear that incremental improvements to practices that the courts have already determined fall squarely within the Commission's jurisdiction do not constitute a “transformative expansion” or “extraordinary grant” of regulatory authority to which the major questions doctrine may apply, so too is it clear that the other ancillary factors cited by the Court are similarly inapplicable. The final order's incremental process improvements, while necessary to ensure just and reasonable Commission-jurisdictional rates, do not have the “vast economic and political significance” that would implicate the major questions doctrine.⁶³⁶ The Commission's regulation of interstate transmission rates will have an effect on billions of dollars in customer charges and, in that generic sense, is of political interest to many. The incremental process improvements required by the final order, however, do not fundamentally change the economic or political stakes of ensuring that Commission-jurisdictional rates remain just and reasonable.

⁶³⁶ West Virginia v. EPA, 597 U.S. at 735 (J. Gorsuch, concurring).

279. Likewise, the Commission's continued assertion of authority over regional transmission planning and cost allocation processes does not resemble the EPA's assertion of authority related to the electric system that the Court found to be beyond that agency's expertise.⁶³⁷ Here, the Commission undisputedly bears the relevant expertise over the interstate transmission system.⁶³⁸ Nor does the Commission rely on a “backwater” statutory provision to achieve its reforms.⁶³⁹ The Commission relies on FPA sections 205 and 206, which the Court has held “unambiguously authorize[ ]” the Commission to assert jurisdiction over interstate transmission⁶⁴⁰ and extends an authority—indeed, a duty—to ensure that the practices directly affecting such rates are just and reasonable.⁶⁴¹ This provision was not ancillary to the statutory scheme but, rather, central to Congress' aim to ensure that the Commission possessed adequate authority to regulate interstate transmission beyond the reach of state power.⁶⁴² Finally, commenters do not point to Congress's “conspicuous[ ] and repeated[ ]” rejection of legislation that would enact reforms similar to those adopted in the final order.⁶⁴³

⁶³⁷ West Virginia v. EPA, 597 U.S. at 729 (finding relevant that EPA itself admitted it lacked expertise to project “system-wide trends in areas such as electricity transmission, distribution, and storage”).

⁶³⁸ Cf. Amerada Hess Pipeline Corp. v. FERC, 117 F.3d 596, 600-01 (D.C. Cir. 1997) (“[The Federal Energy Regulatory Commission] is entrusted with administering the regulations relating to oil pipelines and has an expertise in the field based on that jurisdiction.” (emphasis added)).

⁶³⁹ West Virginia v. EPA, 597 U.S. at 729.

⁶⁴⁰ New York v. FERC, 535 U.S. at 19.

⁶⁴¹ EPSA, 577 U.S. at 277.

⁶⁴² New York v. FERC, 535 U.S. at 20-21 (discussing enactment of FPA in 1935 as a response to Attleboro).

⁶⁴³ West Virginia v. EPA, 597 U.S. at 745 (J. Gorsuch, concurring).

280. We also disagree with Undersigned States' legal claim that allowing “one [s]tate [to] effectively require other [s]tates to subsidize their own vision of what resources should be used in electricity generation” would violate the Constitution's “equal sovereignty doctrine.” ⁶⁴⁴ As discussed above, the final order categorically does not require states to subsidize other states' public policies or generation decisions. To the contrary, consistent with the cost causation principle, this final order requires customers to pay for a share of the costs of new Long-Term Regional Transmission Facilities only to the extent that they benefit from those facilities and, even then, any share they pay for must be roughly commensurate with the benefits they receive.⁶⁴⁵

⁶⁴⁴ Undersigned States Reply Comments at 5-6.

⁶⁴⁵ See supra note 623 and accompanying discussion.

281. Moreover, according to Undersigned States, the equal sovereignty doctrine dictates that the Nation “is a union of [s]tates, equal in power, dignity and authority, each competent to exert that residuum of sovereignty not delegated to the United States by the Constitution itself.” ⁶⁴⁶ But, “neither the Supreme Court nor any other court has ever applied that principle as a limit on the Commerce Clause or other Article I powers.” ⁶⁴⁷ Instead, Courts have found that “the Constitution does not contain any textual provision suggesting an equal sovereignty limit on Congress's Article I powers generally or on the Commerce Clause in particular.” ⁶⁴⁸ As relevant here, pursuant to the Constitution's Commerce Clause,⁶⁴⁹ Congress duly enacted the FPA, which in turn empowers the Commission to regulate the rates and practices affecting rates for the transmission of electricity in interstate commerce.⁶⁵⁰ Under the FPA, the Commission is “unambiguously authorize[d] . . . to take state policies into account to the extent that such policies affect [the Commission's] statutorily prescribed area of focus . . . .” ⁶⁵¹

⁶⁴⁶ Undersigned States Reply Comments at 5 (citing Coyle v. Smith, 221 U.S. at 567). But see Ohio v. EPA, 2024 WL 1515001, at *15 (D.C. Cir. Apr. 9, 2024) (holding that “[t]he equal footing cases,” like Coyle v. Smith, “do not directly apply either outside of the admission context or to Article I powers like the Commerce Clause.”).

⁶⁴⁷ Ohio v. EPA, 2024 WL 1515001 at *13.

⁶⁴⁸ Id. at *16.

⁶⁴⁹ U.S. Const. art. 1, 8.

⁶⁵⁰ 16 U.S.C. 824d.

⁶⁵¹ PJM Power Providers Grp. v. FERC, 88 F.4th at 275; see also Elec. Power Supply Ass'n v. Star, 904 F.3d at 524 (approving of the Commission's decision to take state zero-emissions credit systems like that in Illinois “as givens and set out to make the best of the situation [these systems] produce”).

282. The nature of the interconnected transmission system is such that states naturally affect one another in pursuing policies available to them while exercising the authority reserved to them under FPA section 201.⁶⁵² For the reasons explained in this final order, we conclude that transmission providers must participate in a regional transmission planning process that includes Long-Term Regional Transmission Planning, and we find that transmission providers must have the opportunity to select Long-Term Regional Transmission Facilities that more efficiently or cost-effectively address Long-Term Transmission Needs. Our role within our Federal system is not to “unreasonably interfere with” nor to “pass judgement on state and local policies and objectives,” ⁶⁵³ including where such policies and objectives have incidental interstate effects.⁶⁵⁴ Nor need we, because even if one state's public policy is a driver of a Long-Term Transmission Need, the costs of a Long-Term Regional Transmission Facility that transmission providers select will be allocated to transmission customers only to the extent that they benefit from that facility and only to a degree that is at least roughly commensurate with the benefits that facility provides to them. That approach is consistent with Commission precedent and commenters have not demonstrated that this framework results in impermissible cross-subsidization among states.⁶⁵⁵

⁶⁵² See Elec. Power Supply Ass'n v. Star, 904 F.3d at 524 (describing the effects on interstate sales resulting from states' exercise of powers reserved to them under FPA section 201 as “an inevitable consequence of a system in which power is shared between state and national governments” (citing Hughes v. Talen Energy Mktg., LLC, 578 U.S. 150, 164 (2016)).

⁶⁵³ N.J. Bd. Pub. Utils. v. FERC, 744 F.3d 74, 98 n.24 (3rd Cir. 2014) (quoting PJM Interconnection, L.L.C., 137 FERC ¶ 61,145, at P 3 (2011)); see also PJM Interconnection, L.L.C., 186 FERC ¶ 61,080, at P 186 (2024) (rejecting an argument that the Commission was required to determine whether state-sponsored resources were providing disproportionate benefits to other states in the form of lower capacity market prices).

⁶⁵⁴ See Coal. for Competitive Elec. v. Zibelman, 906 F.3d 41, 56 (2d Cir. 2018) (collecting Commission orders sanctioning state-jurisdictional programs incidentally affecting wholesale markets).

⁶⁵⁵ For example, PJM incorporates transmission needs driven by Public Policy Requirements into the assumptions stage of its regional transmission planning process to identify needed reliability and economic regional transmission facilities for potential selection and cost allocation, rather than through a separate and distinct process to identify and allocate the costs of transmission facilities selected to address transmission needs driven by Public Policy Requirements. The Commission found PJM's approach complied with the requirement in Order No. 1000 to consider transmission needs driven by Public Policy Requirements in regional transmission planning and cost allocation processes. PJM Interconnection, L.L.C., 142 FERC ¶ 61,214, at PP 109-120 (2013), order on reh'g and compliance, 147 FERC ¶ 61,128, at PP 66-71 (2014).

283. Finally, in response to NRECA's request, we confirm that the final order is consistent with the Commission's obligation under FPA section 217(b)(4). As articulated in South Carolina Public Service Authority v. FERC, FPA section 217(b)(4) requires the Commission to “facilitate the planning of a reliable grid,” and we do so by “seek[ing] to ensure that adequate transmission capacity is built to allow load-serving entities to meet their service obligations.” ⁶⁵⁶ This final order seeks to ensure precisely the same goal, and it therefore satisfies the Commission's obligation under FPA section 217(b)(4).

⁶⁵⁶ 762 F.3d at 90.

B. Development of Long-Term Scenarios

1. NOPR Proposal

284. In the NOPR, the Commission proposed to require transmission providers to develop Long-Term Scenarios as part of Long-Term Regional Transmission Planning. The Commission proposed to define Long-Term Scenarios as a tool to identify the transmission planning region's needs driven by changes in the resource mix and demand—and enable the evaluation of transmission facilities to meet such transmission needs—across multiple scenarios that incorporate different assumptions about the future electric power system over a sufficiently long-term, forward-looking transmission planning horizon. The Commission explained that a scenario is a hypothetical sequence of events that includes assumptions used to forecast transmission needs. The Commission also stated that assumptions used to forecast transmission needs driven by changes in the resource mix and demand include: forecasts of the level and pattern (i.e., hourly and seasonal variability) of future electricity demand; the quantity, location, and type of resource additions and retirements; and other relevant forecasts about the electric power system that are used as inputs to the transmission model and determine the need for new transmission facilities over the transmission planning horizon. In addition, the Commission noted that other relevant assumptions might include forecasts for natural gas prices, increasing outage trends due to extreme weather and climatic trends, and other future events.

285. The Commission also proposed in the NOPR to require that transmission providers use Long-Term Scenarios to evaluate potential regional transmission facilities needed to meet transmission needs driven by changes in the resource mix and demand to identify the more efficient or cost-effective regional transmission facilities.⁶⁵⁷

⁶⁵⁷ NOPR, 179 FERC ¶ 61,028 at P 84.

2. Comments

a. General Comments

286. Of the commenters specifically addressing the proposal to require Long-Term Scenarios in Long-Term Regional Transmission Planning, the majority support scenario-based planning.⁶⁵⁸ Clean Energy Buyers state that Long-Term Scenarios are critical to Long-Term Regional Transmission Planning because its success will depend on the quality of forecasting.⁶⁵⁹ Form Energy states that long-term scenario review will ensure that transmission upgrades address future needs in a cost-effective and environmentally friendly manner.⁶⁶⁰ LADWP asserts that Long-Term Scenarios are critical to developing an effective transmission system that ensures reliability, while also providing flexibility to support the delivery of renewable energy.⁶⁶¹ NARUC states that Long-Term Scenarios are a flexible planning tool for addressing the uncertainty involved in identifying transmission needs driven by changes in the resource mix and demand and that using them will ensure that transmission providers adequately assess the potential benefits of regional transmission facilities.⁶⁶²

⁶⁵⁸ See ACEG Initial Comments at 6; AEP Initial Comments at 7-8; Amazon Initial Comments at 2-3; BP Initial Comments at 4; California Commission Initial Comments at 1-2, 5-6, 21; California Energy Commission Initial Comments at 1-2; City of New York Initial Comments at 7; Clean Energy Associations Initial Comments at 10; Clean Energy Buyers Initial Comments at 11; Duke Initial Comments at 10; Eversource Initial Comments at 10; Exelon Initial Comments at 5; Form Energy Initial Comments at 2-3; GridLab Initial Comments at 10; Handy Law Initial Comments at 9-10; Indicated PJM TOs Initial Comments at 7-8; LADWP Initial Comments at 2; NARUC Initial Comments at 4; National Grid Initial Comments at 10-11; PIOs Initial Comments at 14; PPL Initial Comments at 4; SEIA Initial Comments at 4-5; Southeast PIOs Initial Comments at 42; SREA Initial Comments at 39; State Agencies Initial Comments at 14; State Officials Supplemental Comments at 1 (citing US Climate Alliance Initial Comments); US Climate Alliance Initial Comments at 2; WE ACT Initial Comments at 3; WIRES Initial Comments at 6.

⁶⁵⁹ Clean Energy Buyers Initial Comments at 11.

⁶⁶⁰ Form Energy Initial Comments at 3.

⁶⁶¹ LADWP Initial Comments at 2.

⁶⁶² NARUC Initial Comments at 4.

287. Southeast PIOs claim that Long-Term Scenarios are essential to improving current transmission planning processes in the Southeast.⁶⁶³ SREA argues that Long-Term Regional Transmission Planning is not occurring in MISO South and states that scenario planning is contentious but necessary.⁶⁶⁴

⁶⁶³ Southeast PIOs Initial Comments at 42, 46.

⁶⁶⁴ SREA Initial Comments at 39-41.

288. California Energy Commission requests that the Commission clarify that transmission providers may rely on scenarios developed by other agencies, as currently CAISO relies on analyses conducted by California Energy Commission and California Commission.⁶⁶⁵ Relatedly, New York Commission and NYSERDA and ISO-NE highlight the importance of state-led identification of public policy needs and their impact on scenario assumptions.⁶⁶⁶ New York Commission and NYSERDA state that, especially in a single-state RTO/ISO like NYISO, the state should be afforded a central role in determining the scenarios to be studied.⁶⁶⁷ ISO-NE also believes that reliance on states is consistent with prior Commission orders permitting transmission providers to rely on a committee of state regulators to identify transmission needs driven by Public Policy Requirements.⁶⁶⁸

⁶⁶⁵ California Energy Commission Initial Comments at 2.

⁶⁶⁶ New York Commission and NYSERDA Initial Comments at 7; ISO-NE Initial Comments at 25-26.

⁶⁶⁷ New York Commission and NYSERDA Initial Comments at 8.

⁶⁶⁸ ISO-NE Initial Comments at 25 (citing ISO New England Inc., 143 FERC ¶ 61,150, at P 108 (2013)).

289. PJM States suggest that the Commission's proposal for state involvement in the development of Long-Term Scenarios could be interpreted as more limited than its proposal for state involvement with respect to Long-Term Regional Cost Allocation and ask that the Commission clarify that retail regulators have a primary role in both. PJM States warn that, if a retail regulator disagrees with the scenarios or benefits metrics used to select a transmission project, it is unlikely to receive regulatory approval.⁶⁶⁹

⁶⁶⁹ PJM States Initial Comments at 3-4 (citing NOPR, 179 FERC ¶ 61,028 at P 245).

290. Cypress Creek asserts that the Commission should require the use of a defined and standardized set of baseline assumptions to ensure that scenario projections are realistic, and that deviation should only be allowed if the proposal is consistent with or superior to the pro forma.⁶⁷⁰

⁶⁷⁰ Cypress Creek Reply Comments at 5-8.

291. Concerned Scientists state that the Commission should reject comments arguing that uncertainty prohibits scenario-based planning, and instead endeavor to create a transmission planning process that properly acknowledges and addresses that uncertainty. Concerned Scientists state that uncertainty does not prohibit long-term transmission planning but rather necessitates the evaluation of multiple plausible scenarios to identify investments that will perform well over a variety of possible future conditions. Concerned Scientists explain that, just as utilities and generator developers do not shy away from an uncertain future when building new generation resources, transmission investments should also be informed by, but not avoided due to, future uncertainty. Concerned Scientists state that the Commission's proposed Long-Term Scenarios requirements are a reasonable minimum for responsible transmission planning.⁶⁷¹

⁶⁷¹ Concerned Scientists Reply Comments at 18-19.

292. Other commenters support the NOPR proposal to require Long-Term Scenarios in transmission planning but have reservations.⁶⁷² Many of these commenters argue that the NOPR is too prescriptive and ask for greater flexibility so that the Long-Term Scenario planning already occurring in their respective transmission planning region will comply with any final order.⁶⁷³ For example, OMS points to such flexibility as key to the success of MISO's long-term transmission planning processes.⁶⁷⁴ SERTP Sponsors argue that the Commission should not make Long-Term Scenarios even more prescriptive because such an approach would likely result in litigation and delay.⁶⁷⁵

⁶⁷² Ameren Initial Comments at 7-8; American Municipal Power Initial Comments at 7; APPA Initial Comments at 25; CAISO Initial Comments at 21; Chemistry Council Initial Comments at 5; Michigan Commission Initial Comments at 4-5; MISO TOs Initial Comments at 15-17; Omaha Public Power Initial Comments at 3-4; OMS Initial Comments at 3-5; PJM Initial Comments at 54.

⁶⁷³ CAISO Initial Comments at 21; Michigan Commission Initial Comments at 4-5; MISO TOs Initial Comments at 15-16; OMS Initial Comments at 3-4.

⁶⁷⁴ OMS Initial Comments at 4-5.

⁶⁷⁵ SERTP Sponsors Reply Comments at 13-14.

293. American Municipal Power believes that transmission providers should conduct Long-Term Scenarios in a highly collaborative way with the full and active participation of all stakeholders.⁶⁷⁶ Similarly, Six Cities recommend that Long-Term Scenarios be coordinated between state and local regulatory authorities to reflect varying policies. Six Cities recommend that, in CAISO, Long-Term Scenarios should consider the procurement choices of non-jurisdictional utilities, such as Six Cities, as well as policy portfolios provided by California Commission.⁶⁷⁷

⁶⁷⁶ American Municipal Power Initial Comments at 7.

⁶⁷⁷ Six Cities Initial Comments at 4.

294. Some commenters oppose the NOPR proposal to require Long-Term Scenarios in Long-Term Regional Transmission Planning.⁶⁷⁸ Dominion argues for maximum flexibility for planning assumptions to support reliable and affordable transmission service for customers.⁶⁷⁹ Idaho Commission states that any prescription for scenario analysis should be supported by clear evidence of a deficiency.⁶⁸⁰ Instead of specific scenario planning requirements, Nebraska Commission states that the Commission should provide general guidelines and as much flexibility as possible to transmission providers, who—along with state regulatory officials—are best situated to evaluate the needs of each transmission planning region.⁶⁸¹

⁶⁷⁸ Dominion Initial Comments at 10; Idaho Commission Initial Comments at 3; Nebraska Commission Initial Comments at 3; Ohio Consumers Initial Comments at 2, 5; Potomac Economics Initial Comments at 2.

⁶⁷⁹ Dominion Initial Comments at 10-12.

⁶⁸⁰ Idaho Commission Initial Comments at 3.

⁶⁸¹ Nebraska Commission Initial Comments at 3.

295. Potomac Economics questions the NOPR's proposal to require Long-Term Scenarios, stating that it will force RTOs/ISOs to plan and commit to sizable transmission investment costs based on uncertain factors and unreasonable speculation on factors such as the location of future generation, retirements, grid enhancing technologies, and transmission reconfiguration options.⁶⁸² Potomac Economics also questions the usefulness of Long-Term Scenarios, asserting that future congestion patterns will be increasingly uncertain given that the higher penetration of intermittent resources will cause larger fluctuations in transmission flows, making it more difficult to accurately estimate the benefits of transmission upgrades.⁶⁸³ Potomac Economics argues that many of the most beneficial transmission upgrades address very specific constraints, are smaller in size, can be difficult to identify in advance, and can be very sensitive to modest changes in generation and load.⁶⁸⁴

⁶⁸² Potomac Economics Initial Comments at 2, 4.

⁶⁸³ Id. at 2.

⁶⁸⁴ Id. at 3.

b. Applying Scenario Planning to Reliability and Economic Planning

296. California Commission and City of New York assert that the Commission should require the use of Long-Term Scenarios in all transmission planning processes—not just Long-Term Regional Transmission Planning.⁶⁸⁵ City of New York argues that such a requirement would enable consideration of a broad range of potential future system conditions across multiple planning categories.⁶⁸⁶ Similarly, NYISO states that the final order should authorize, but not require, the use of multiple alternative scenarios in existing transmission planning processes. NYISO states that doing so would enhance its ability to anticipate and solicit more efficient, holistic transmission solutions, which would support system reliability and resilience.⁶⁸⁷

⁶⁸⁵ California Commission Initial Comments at 22-24; City of New York Initial Comments at 7.

⁶⁸⁶ City of New York Initial Comments at 7.

⁶⁸⁷ NYISO Initial Comments at 14-15.

297. In contrast, certain commenters oppose requiring transmission providers to incorporate some form of scenario analysis into their existing reliability and economic regional transmission planning processes.⁶⁸⁸ Duke contends that the Commission should avoid disrupting existing regional transmission planning processes that work well.⁶⁸⁹ MISO notes that, while this type of scenario-based planning has been applied to economic transmission planning processes and could be applied to existing reliability transmission planning processes, such application should be flexible and tailored to the unique needs of each transmission provider, adding that scenario-based planning requires considerable time and resources.⁶⁹⁰

⁶⁸⁸ Duke Initial Comments at 2, 10-11; Eversource Initial Comments at 19; MISO Initial Comments at 32; NESCOE Initial Comments at 23; PJM Initial Comments at 54-56.

⁶⁸⁹ Duke Initial Comments at 2, 10-11.

⁶⁹⁰ MISO Initial Comments at 32.

3. Commission Determination

298. We adopt, with modification, the NOPR proposals to require transmission providers in each transmission planning region to (1) develop and use Long-Term Scenarios as part of Long-Term Regional Transmission Planning and (2) use those Long-Term Scenarios to identify and evaluate Long-Term Regional Transmission Facilities needed to meet Long-Term Transmission Needs. As further explained in subsequent sections of this final order, we find that these requirements regarding the development and use of Long-Term Scenarios in Long-Term Regional Transmission Planning strike a reasonable balance between ensuring that Long-Term Regional Transmission Planning reasonably identifies Long-Term Transmission Needs over a sufficiently long-term, forward-looking transmission planning horizon and providing sufficient flexibility for transmission providers to develop and use Long-Term Scenarios in a way that reflects the unique characteristics of their respective transmission planning regions.

299. We first address the definition of Long-Term Transmission Needs. For purposes of this final order, Long-Term Transmission Needs are transmission needs identified through Long-Term Regional Transmission Planning by, among other things and as discussed in this final order, running scenarios and considering the enumerated categories of factors. As explained in the NOPR, the drivers of transmission needs are diverse and include, but are not limited to, evolving reliability concerns, changes in the resource mix, and changes in demand. For example, as identified in the NOPR, reliability concerns giving rise to Long-Term Transmission Needs include, among other things, the increasing frequency of high-impact extreme weather events, the increasing reliance by transmission system operators on regional integration and coordination to reliably serve load, the operational challenges created by the increasing share of variable resources entering the resource mix, and changes in electric demand patterns such as shifts in load profiles caused by, for example, the emergence of large loads associated with evolving industrial and commercial needs such as the growth in data centers, and increased electrification of energy end uses.⁶⁹¹

⁶⁹¹ See NOPR, 179 FERC ¶ 61,028 at PP 45, 51.

300. In the NOPR, the Commission referred to transmission needs identified through Long-Term Regional Transmission Planning largely as needs driven by changes in the resource mix and demand.⁶⁹² Nevertheless, we agree with commenters who correctly note that there are additional drivers of Long-Term Transmission Needs,⁶⁹³ and, as noted above, the Commission itself contemplated in the NOPR that Long-Term Regional Transmission Planning would consider drivers beyond those tied directly to changes in supply and demand. We therefore clarify that, although changes in the resource mix and demand are important drivers of Long-Term Transmission Needs, they represent only a subset of such drivers. In addition, we note that Long-Term Transmission Needs are similar in kind to transmission needs identified through existing regional transmission planning processes established under Order No. 1000. Where Long-Term Transmission Needs differ is their identification through the long-term, forward-looking, and more comprehensive regional transmission planning and cost allocation processes established in this final order. Accordingly, in this final order, we refer to the transmission needs that are identified through Long-Term Regional Transmission Planning as Long-Term Transmission Needs. The identification of Long-Term Transmission Needs and Long-Term Regional Transmission Facilities to potentially meet those needs is accomplished through the use of Long-Term Scenarios in Long-Term Regional Transmission Planning.

⁶⁹² Id.

⁶⁹³ See, e.g., AEE Initial Comments at 7-8 (noting that reforms are needed to meet transmission needs driven by “market forces, state policies, and new reliability and resilience imperatives”); ELCON Initial Comments at 4 (“[L]ong term scenario planning should not be limited to anticipated resource mix but also take into consideration impacts on reliability and congestion management.”); New Jersey Commission Initial Comments at 2 (“[T]he Board stresses that most of the reforms the Commission is proposing would be necessary even in the absence of `changes in the resource mix and demand.' ”) (citing NOPR, 179 FERC ¶ 61,028 at P 24); Renewable Northwest Initial Comments at 8 (noting how current transmission planning processes ignore both “trends in future generation and the impact of extreme weather events”) (citing NOPR, 179 FERC ¶ 61,028 at P 51); Southeast PIOs Initial Comments at 7-8 (noting that both intensifying “changes in the generation mix” and “increasingly common extreme weather and high-intensity, low frequency events” burden the existing transmission system).

301. As discussed in the Requirement for Transmission Providers to Use a Set of Seven Required Benefits section of this final order, we require transmission providers to measure and use a set of seven required benefits in Long-Term Regional Transmission Planning. Transmission providers must use this same set of benefits to help to inform their identification of Long-Term Transmission Needs. For example, in this final order we require transmission providers to measure and use production cost savings in Long-Term Regional Transmission Planning. As such, when transmission providers are working to identify Long-Term Transmission Needs, areas of significant congestion on the transmission system—where Long-Term Regional Transmission Facilities could reduce congestion and in turn facilitate production cost savings—may indicate a Long-Term Transmission Need.

302. We adopt the definition of Long-Term Scenarios proposed in the NOPR,⁶⁹⁴ with modification. We define Long-Term Scenarios as scenarios that incorporate various assumptions using best available data inputs about the future electric power system over a sufficiently long-term, forward-looking transmission planning horizon to identify Long-Term Transmission Needs and enable the identification and evaluation of transmission facilities to meet such transmission needs. We make this modification to clarify the intent of the definition proposed in the NOPR, rather than modify the definition in substance.

⁶⁹⁴ In the NOPR, the Commission proposed to define Long-Term Scenarios as a tool to identify transmission needs driven by changes in the resource mix and demand—and enable the evaluation of transmission facilities to meet such transmission needs—across multiple scenarios that incorporate different assumptions about the future electric power system over a sufficiently long-term, forward-looking transmission planning horizon. NOPR, 179 FERC ¶ 61,028 at P 84.

303. Certain commenters assert that the Commission should not require transmission providers to develop Long-Term Scenarios due to the inherent uncertainty of forecasting future transmission needs over a long transmission planning horizon. We acknowledge the inherent uncertainty involved in planning to meet Long-Term Transmission Needs. However, we believe that such uncertainty is mitigated by using Long-Term Scenarios themselves, as noted by Concerned Scientists and NARUC.⁶⁹⁵ Scenario planning allows transmission providers to evaluate whether Long-Term Regional Transmission Facilities are beneficial in more than one scenario. Transmission providers may also examine whether Long-Term Transmission Needs appear in one or more scenarios. Scenario planning also allows transmission providers to consider a broader range of future circumstances and be better prepared for changes in the electric power system.⁶⁹⁶ Finally, transmission providers may use scenario planning to determine whether identified Long-Term Regional Transmission Facilities provide sufficient benefits across more than one scenario when considering whether to select such facilities, as also noted by NARUC.⁶⁹⁷ Moreover, we adopt requirements for Long-Term Scenarios, as discussed further below, to ensure they are based on reasonable assumptions and better reflect future transmission system conditions and uncertainties in those future circumstances. In sum, incorporating Long-Term Scenarios into Long-Term Regional Transmission Planning provides an appropriate approach to ensure just and reasonable rates by accounting for the increasing uncertainty in the accuracy of assumptions over longer (i.e., over 10 years) transmission planning horizons and mitigating the risks of under-building or over-building Long-Term Regional Transmission Facilities.

⁶⁹⁵ Concerned Scientists Reply Comments at 18-19; NARUC Initial Comments at 4 (citing NOPR, 179 FERC ¶ 61,028 at PP 86, 88).

⁶⁹⁶ See Policy Integrity Reply Comments at 2.

⁶⁹⁷ NARUC Initial Comments at 4.

304. Further, we disagree with commenters that suggest that the Commission should not establish specific Long-Term Scenario requirements and that imposing general principles is sufficient to ensure just and reasonable rates. We find that Long-Term Regional Transmission Planning that does not incorporate Long-Term Scenarios that meet the requirements of this final order would fail to ensure that transmission providers identify Long-Term Transmission Needs, as well as identify and evaluate Long-Term Regional Transmission Facilities to address those needs. For example, relying on a single forecast of future transmission system conditions may limit transmission providers' and stakeholders' confidence in identified Long-Term Transmission Needs, and accordingly the evaluation of Long-Term Regional Transmission Facilities to address those needs. Further, failure to incorporate Long-Term Scenarios would increase the likelihood of piecemeal and relatively inefficient or less cost-effective transmission development. Accordingly, we find that requiring transmission providers to develop and use Long-Term Scenarios that meet the requirements established in this final order as part of Long-Term Regional Transmission Planning will ensure that Commission-jurisdictional rates are just and reasonable and not unduly discriminatory or preferential.

305. Additionally, as stated above and in response to commenters that emphasize the importance of collaboration in developing Long-Term Scenarios, this final order retains the requirements for an open, coordinated, and transparent local transmission planning process established in Order No. 890 and further required for regional transmission planning in Order No. 1000.⁶⁹⁸ For example, consistent with the transparency transmission planning principle,⁶⁹⁹ transmission providers must make transparent the methodology, criteria, assumptions, and data used to develop each Long-Term Scenario. Moreover, as described below, this final order requires that transmission providers provide meaningful opportunity for stakeholder input, including from state and local regulators, as well as non-jurisdictional entities, into the factors used to develop Long-Term Scenarios.

⁶⁹⁸ Order No. 1000, 136 FERC ¶ 61,051 at PP 150-152; Order No. 890, 118 FERC ¶ 61,119 at P 435.

⁶⁹⁹ Order No. 890, 118 FERC ¶ 61,119 at P 471.

306. In response to PJM's request that the Commission clarify that the role of the state regulator is primary in developing Long-Term Scenarios, we note that, as described in the Stakeholder Process and Transparency determination within the Categories of Factors section, transmission providers retain the ultimate responsibility for transmission planning.⁷⁰⁰ As such, transmission providers have discretion, subject to the limits imposed in this final order, to weigh more heavily one source of information over another, such as weighing information related to a factor provided by a state regulator more heavily than information provided by other stakeholders. In response to California Energy Commission, we find that the final order does not preclude transmission providers from relying on scenarios developed by state agencies, provided that the Commission finds that the OATT provisions governing those Long-Term Scenarios' development comply with the Long-Term Scenarios requirements of this final order (e.g., transmission planning horizon and stakeholder input requirements). We decline to require the use of Long-Term Scenarios in all transmission planning processes, as requested by California Commission and City of New York. The record in this proceeding does not demonstrate that the incorporation of Long-Term Scenarios in existing Order No. 1000 regional transmission planning processes is necessary to ensure that Long-Term Regional Transmission Planning is just and reasonable. In response to NYISO's request that transmission providers be allowed to use scenario planning in their existing Order No. 1000 regional transmission planning processes, while we agree that such a practice may offer benefits, we find that any such request amending existing transmission planning processes must be submitted in an FPA section 205 filing separate from their compliance filings to this final order.⁷⁰¹

⁷⁰⁰ Id. P 454. There, we stated in response to the suggestion by some commenters that we require transmission providers to allow customers to collaboratively develop transmission plans with transmission providers on a co-equal basis that transmission planning is the tariff obligation of each transmission provider, and the pro forma OATT planning process adopted in the final rule is the means to see that it is carried out in a coordinated, open, and transparent manner, in order to ensure that customers are treated comparably. Therefore, the ultimate responsibility for planning remains with transmission providers.

⁷⁰¹ We note that an exception to the requirement to file a separate FPA section 205 filing applies if transmission providers were to propose a unified transmission planning process, as discussed above. See supra Participation in Long-Term Regional Transmission Planning section.

C. Long-Term Scenarios Requirements

1. Transmission Planning Horizon

a. NOPR Proposal

307. In the NOPR, the Commission proposed to require transmission providers to develop Long-Term Scenarios as part of Long-Term Regional Transmission Planning using no less than a 20-year transmission planning horizon.⁷⁰²

⁷⁰² NOPR, 179 FERC ¶ 61,028 at PP 97-100.

308. The Commission preliminarily found that a 20-year transmission planning horizon requirement strikes a reasonable balance between the current transmission planning horizons used in many transmission planning regions and the 30-year or longer transmission planning horizon proposed by some ANOPR commenters. The Commission noted that the 30-year or longer transmission planning horizon was criticized by other commenters as speculative or too uncertain. The Commission also stated that a 20-year transmission planning horizon requirement may be reasonable because some transmission providers use a 20-year transmission planning horizon in existing regional transmission planning processes. In addition, the Commission stated that a 20-year transmission planning horizon would allow for sufficient time to identify, plan, and obtain siting and permitting approval for and to construct regional transmission facilities to meet long-term regional transmission needs, including those that may take longer than the average amount of time to go from the planning stage to in-service. Finally, the Commission stated that a 20-year transmission planning horizon would allow transmission providers to better leverage economies of scale by sizing transmission facilities to meet not only nearer-term transmission needs, but also longer-term transmission needs driven by changes in the resource mix and demand over time. The Commission preliminarily found that by assessing transmission needs over a longer time horizon—for example, starting in year six ⁷⁰³ through year 20 of the transmission planning horizon—Long-Term Regional Transmission Planning should be able to identify more efficient or cost-effective regional transmission facilities to address these needs.⁷⁰⁴

⁷⁰³ The Commission noted that the North American Electric Reliability Corporation defines the long-term transmission planning horizon as covering year six through year 10 and beyond. Id. P 94 n.160.

⁷⁰⁴ Id. PP 97-99 (footnotes omitted).

b. Comments

i. Support for 20-Year Transmission Planning Horizon

309. Many commenters support the Commission's proposal to require transmission providers to develop Long-Term Scenarios as part of Long-Term Regional Transmission Planning using no less than a 20-year transmission planning horizon.⁷⁰⁵ Several commenters generally consider a 20-year transmission planning horizon to be reasonable, acceptable, or appropriate.⁷⁰⁶ Some commenters argue that a 20-year transmission planning horizon provides a reasonable balance between shorter- and longer-term transmission planning horizons.⁷⁰⁷ National Grid states that a 20-year transmission planning horizon balances the benefits of prospective transmission planning with the greater uncertainty that comes with forecasting system needs over a longer period.⁷⁰⁸ Numerous commenters argue that a 20-year transmission planning horizon will help to improve the efficiency and cost of developing transmission and to assess future transmission needs.⁷⁰⁹

⁷⁰⁵ ACORE Initial Comments at 1; Advanced Energy Buyers Initial Comments at 7; AEE Initial Comments at 8; AEP Initial Comments at 5, 8-12; Amazon Initial Comments at 2-3; BP Initial Comments at 4-5; Breakthrough Energy Initial Comments at 12-13; Breakthrough Energy Supplemental Comments at 1; California Water Initial Comments at 14-15; Certain TDUs Initial Comments at 3, 19; Clean Energy Associations Initial Comments at 10; Clean Energy Buyers Initial Comments at 12; Clean Energy States Initial Comments at 2; Concerned Scientists Reply Comments at 18-19; Cypress Creek Reply Comments at 4; DC and MD Offices of People's Counsel Initial Comments at 8; Environmental Groups Supplemental Comments at 2; Eversource Initial Comments at 14; Form Energy Initial Comments at 2; Georgia Commission Initial Comments at 2-3; GridLab Initial Comments at 5; Idaho Power Initial Comments at 4; Illinois Commission Initial Comments at 6; Indicated US Senators and Representatives Initial Comments at 1; Interwest Initial Comments at 4-5; ITC Initial Comments at 9-11; LADWP Initial Comments at 2; Minnesota State Entities Initial Comments at 4; National and State Conservation Organizations Initial Comments at 1; National Grid Initial Comments at 12-13; Nevada Commission Initial Comments at 7; New England for Offshore Wind Initial Comments at 2; New Jersey Commission Initial Comments at 9-10; NextEra Initial Comments at 62; NYISO Initial Comments at 2; Pacific Northwest State Agencies Initial Comments at 2; PG&E Initial Comments at 2; Policy Integrity Initial Comments at 10; PIOs Initial Comments at 15; R Street Initial Comments at 6; SEIA Initial Comments at 6; SoCal Edison Initial Comments at 11-12; Southeast PIOs Initial Comments at 43; SPP Initial Comments at 5-6; SPP Market Monitor Initial Comments at 4-5; State Officials Supplemental Comments at 1 (citing US Climate Alliance Initial Comments at 2); US Climate Alliance Initial Comments at 2; US DOE Initial Comments at 10; Vermont Electric and Vermont Transco Initial Comments at 2; Vermont State Entities Initial Comments at 5; WE ACT Initial Comments at 3.

⁷⁰⁶ CAISO Initial Comments at 21; EEI Initial Comments at 11; Entergy Initial Comments at 9; NARUC Initial Comments at 5; New York TOs Initial Comments at 10; Pine Gate Initial Comments at 19-20; PPL Initial Comments at 6; WIRES Initial Comments at 7.

⁷⁰⁷ DC and MD Offices of People's Counsel Initial Comments at 8-9; LADWP Initial Comments at 2-3; National Grid Initial Comments at 12-13.

⁷⁰⁸ National Grid Initial Comments at 12-13.

⁷⁰⁹ AEP Reply Comments at 4-5 (citing MTEP2017 Review at 33-34); Amazon Initial Comments at 2-3; BP Initial Comments at 5; Certain TDUs Reply Comments at 5; PIOs Initial Comments at 15.

310. New Jersey Commission argues that a 20-year transmission planning horizon should help to make long-term multi-driver transmission projects viable by identifying needs and opportunities in a timeframe that allows states to have a meaningful conversation about voluntarily funding such projects.⁷¹⁰ Policy Integrity argues that it is crucial to model what is going to be needed over the next 20 years to ensure that short- and medium-term transmission projects are built efficiently, stating that a longer transmission planning horizon is reasonable in the context of long-lived transmission assets with long lead times.⁷¹¹

⁷¹⁰ New Jersey Commission Initial Comments at 9-10, 28.

⁷¹¹ Policy Integrity Initial Comments at 10.

311. US DOE asserts that there is sufficient evidence to extend the transmission planning horizon to a minimum of 20 years for Long-Term Regional Transmission Planning to capture power sector changes that occur during transmission development.⁷¹² PIOs note that panelists at the November 2021 Technical Conference suggested a 20-year transmission planning horizon is necessary, in part, due to long-term public policy goals.⁷¹³ Acadia Center and CLF similarly argue that transmission planners should plan over long-term horizons to factor in predictable trends, such as timelines required under state laws and policies.⁷¹⁴

⁷¹² US DOE Initial Comments at 10.

⁷¹³ PIOs Initial Comments at 15 (citing Tr. 129-137 (multiple witnesses)).

⁷¹⁴ Acadia Center and CLF Initial Comments at 4.

312. Several commenters emphasize that a transmission planning horizon of 20 years is sufficient to account for the amount of time needed to develop transmission projects, considering the complexity and challenges of major transmission development.⁷¹⁵ Eversource states that a long-term perspective is necessary to take advantage of the economies of scale that large transmission projects can enable, as well as to incorporate anticipated changes in generation and load beyond the traditional transmission planning horizon.⁷¹⁶ Illinois Commission states that a 20-year transmission planning horizon is necessary to properly plan and build transmission and generation resources.⁷¹⁷ LADWP states that a 20-year transmission planning horizon provides enough time for transmission projects to be developed and placed in service when such projects require new rights-of-way without becoming too speculative.⁷¹⁸ NextEra contends that a 20-year transmission planning horizon will ensure that transmission planners anticipate and plan transmission facilities for needs driven by changes in the resource mix and demand.⁷¹⁹

⁷¹⁵ Eversource Initial Comments at 14; Illinois Commission Initial Comments at 6; LADWP Initial Comments at 2; NextEra Initial Comments at 62-63; PG&E Initial Comments at 2; PIOs Initial Comments at 15.

⁷¹⁶ Eversource Initial Comments at 14.

⁷¹⁷ Illinois Commission Initial Comments at 6.

⁷¹⁸ LADWP Initial Comments at 2.

⁷¹⁹ NextEra Initial Comments at 62-63.

313. PIOs state that a 20-year transmission planning horizon should be the minimum timeframe, explaining that because transmission facilities can take 15 years to plan, permit, and construct, a 20-year transmission planning horizon can result in just-in-time planning, where the transmission plan is developed shortly before the process for siting and permitting must begin.⁷²⁰ GridLab asserts that a 20-year transmission planning horizon might identify regional transmission needs that occur after year 10, as well as transmission projects that would be selected and approved in later transmission planning cycles.⁷²¹

⁷²⁰ PIOs Initial Comments at 15.

⁷²¹ GridLab Initial Comments at 8-9.

314. Clean Energy States support quick adoption of at least a 20-year planning horizon because many of their member states have established 100% clean energy power sector or zero-carbon goals for their state economies by 2040 or 2050.⁷²² California Municipal Utilities, on the other hand, support a 20-year transmission planning horizon, but caution that transmission costs identified can be significant and could rely upon speculative resources that may not come to fruition, namely off-shore wind development.⁷²³

⁷²² Clean Energy States Initial Comments at 2.

⁷²³ California Municipal Utilities Initial Comments at 6-7.

315. Many commenters highlight transmission planning regions with existing long-term transmission planning that either does or will conform to the 20-year transmission planning horizon proposed in the NOPR.⁷²⁴ MISO commits to continue using its 20-year forecast period under this proposed reform.⁷²⁵ SPP states that it currently performs a 20-year assessment that incorporates Long-Term Scenarios at least once every five years.⁷²⁶ New York Transco notes that NYISO's transmission planning process utilizes multiple cases and scenarios over a 20-year evaluation horizon.⁷²⁷ Acadia Center and CLF note that ISO-NE recently gained Commission approval for longer-term transmission studies to undertake long-term transmission planning to 2050.⁷²⁸

⁷²⁴ Acadia and CLF Initial Comments at 3; CAISO Initial Comments at 15; California Municipal Utilities Initial Comments at 5-6; Clean Energy States Initial Comments at 2; ISO/RTO Council Initial Comments at 3-4; MISO Initial Comments at 33; MISO TOs Initial Comments at 17; New York TOs Initial Comments at 2; New York Transco Initial Comments at 5; NextEra Initial Comments at 63-64 (discussing efforts at CAISO, SPP, and MISO); Omaha Public Power Initial Comments at 4; PIOs Initial Comments at 14 (pointing to NYISO and MISO as examples of transmission planning regions already successfully using a 20-year transmission planning horizon); SPP Initial Comments at 5-6.

⁷²⁵ MISO Initial Comments at 33.

⁷²⁶ SPP Initial Comments at 5-6.

⁷²⁷ New York Transco Initial Comments at 5 (citing NYISO, NYISO Tariffs, NYISO OATT, attach. Y section 31.4a (Public Policy Requirements Planning Process) (23.0.0), section 31.4.6.1).

⁷²⁸ Acadia Center and CLF Initial Comments at 3.

316. CAISO states that it currently approves transmission projects in its annual transmission planning process based on a 10-year outlook, although the CAISO OATT allows for a longer 20-year transmission horizon outlook to reliably and cost-effectively account for California's greenhouse gas and renewable energy objectives.⁷²⁹ CAISO explains that its 20-year outlook does not include a process for approving specific transmission projects, but rather allows considerations beyond 10 years to inform decisions in its annual transmission planning process.⁷³⁰ California Municipal Utilities also highlight CAISO's existing transmission planning processes, noting that its 20-year transmission outlook calls for an estimated combined capital cost of $30.5 billion.⁷³¹ NextEra notes that, while many transmission planning regions use or will use a 20-year transmission planning horizon, no requirements exist to ensure that these practices persist.⁷³²

⁷²⁹ CAISO Initial Comments at 15.

⁷³⁰ Id. at 15-16.

⁷³¹ California Municipal Utilities Initial Comments at 5-6 (citing CAISO, 20-Year Transmission Outlook, Table ES-1: Cost estimate of transmission development to integrate resources of SB100 Starting Point scenario (Jan. 31, 2022), http://www.caiso.com/InitiativeDocuments/Draft20-YearTransmissionOutlook.pdf).

⁷³² NextEra Initial Comments at 64-65.

317. Several commenters reference existing long-term planning processes as support for the Commission's proposed 20-year transmission planning horizon.⁷³³ NextEra and ACEG explain that longer time horizons are embedded into existing integrated resource plans, through law or common practice, and extend into and beyond 2040 to meet ambitious resource goals.⁷³⁴ R Street argues that, for benchmarking purposes, 20- to 25-year planning horizons have been a best practice for integrated resource planning for decades.⁷³⁵

⁷³³ BP Initial Comments at 5 (citing CAISO's transmission planning process); Idaho Power Initial Comments at 4 (noting NorthernGrid's 20-year transmission planning horizon); Interwest Initial Comments at 5 (noting existing state resource planning processes); Nevada Commission Initial Comments at 7 (noting its integrated resource planning process requiring a minimum of eight years); PIOs Initial Comments at 14 (noting 20-year horizons used by NYISO, MISO, and other transmission planning regions); SPP Market Monitor Initial Comments at 4-5 (noting SPP's existing transmission planning process); Western PIOs Initial Comments at 28-29 (noting Western Electricity Coordinating Council's planning scenarios and the integrated resource planning timelines of western vertically-integrated utilities).

⁷³⁴ ACEG Reply Comments at 4-5; NextEra Initial Comments at 62-63.

⁷³⁵ R Street Initial Comments at 6.

318. LADWP asserts that the proposed 20-year transmission planning horizon is likely the least disruptive horizon because of its current use by many transmission providers. LADWP further argues that a consistent transmission planning horizon will optimize asset investment and minimize public impacts; facilitate planning, coordination, and development of large-scale regional transmission projects; and ensure that transmission providers consider the same end point assessments of the evolving resource mix, environmental requirements that develop beyond a typical 10-year period, and significant maintenance and retirement issues.⁷³⁶

⁷³⁶ LADWP Initial Comments at 2.

ii. Requests for Flexibility

319. Several commenters recommend that the Commission provide transmission providers in each transmission planning region with the flexibility to propose other transmission planning horizons that may be appropriate and beneficial based on their planning processes.⁷³⁷ APS states that it is not convinced that a prescriptive approach will yield the benefits that the Commission seeks.⁷³⁸

⁷³⁷ Ameren Initial Comments at 13; APPA Initial Comments at 5; California Water Initial Comments at 14-15; EEI Initial Comments at 11; Indicated PJM TOs Initial Comments at 10; ISO-NE Initial Comments at 22-23; MISO TOs Initial Comments at 17; NARUC Initial Comments at 5-6; NESCOE Initial Comments at 25; New York State Department Initial Comments at 3; New York TOs Initial Comments at 10; Pennsylvania Commission Initial Comments at 5; TANC Initial Comments at 10; WIRES Initial Comments at 7; Xcel Initial Comments at 9.

⁷³⁸ APS Initial Comments at 3.

320. NESCOE states that there is not one “right” transmission planning horizon and that it does not support a one-size-fits-all transmission planning horizon requirement.⁷³⁹ NESCOE requests that the Commission allow transmission providers in each transmission planning region to demonstrate that existing tariff provisions are consistent with or superior to a final order mandating a minimum transmission planning horizon, explaining—along with ISO-NE—that ISO-NE's Tariff does not provide a prescribed timeframe to request transmission analyses based on state-provided scenarios.⁷⁴⁰ Relatedly, California Commission suggests that, instead of mandating a 20-year transmission planning horizon, the Commission should adopt NYISO's recommendation to provide transmission providers with the discretion, up to 20 years, to plan for their needs.⁷⁴¹

⁷³⁹ NESCOE Initial Comments at 23-24.

⁷⁴⁰ ISO-NE Initial Comments at 22-23; NESCOE Initial Comments at 24-25.

⁷⁴¹ California Commission Initial Comments at 11-12 (citing NYISO ANOPR Initial Comments at 37).

321. PG&E understands that not every transmission need identified in the latter years of a 20-year transmission planning horizon will require immediate selection resolution, and it therefore asks the Commission to give individual transmission planning regions the flexibility to determine how to allow for monitoring and updating planning assumptions for transmission projects that meet transmission needs beyond 10 years.⁷⁴² ISO-NE argues that the Commission should permit an approach that allows (but does not require) a transmission planning horizon beyond 10 years because the 20-year transmission planning horizon could potentially limit the identification of system issues during interim years, inhibit adaptation to evolving policies, and preclude the transmission planning process from considering public policies that may include shorter timeframes, which may limit the ability to adapt to emerging needs or changing laws.⁷⁴³ NESCOE contends that a rigid 20-year transmission planning horizon may be counterproductive and could divert resources focused on meeting requests under ISO-NE's longer-term transmission planning process to study a time horizon that states, stakeholders, and ISO-NE may not find useful.⁷⁴⁴

⁷⁴² PG&E Initial Comments at 4-6.

⁷⁴³ ISO-NE Initial Comments at 22-23.

⁷⁴⁴ NESCOE Initial Comments at 24-25.

322. OMS argues that the final order should permit flexibility in transmission planning horizons and enable transmission planning regions to meet objectives through routine scenario-based planning within an appropriate study window.⁷⁴⁵ Industrial Customers assert that transmission planning horizons should consider the time to identify, plan, and obtain siting and permitting approval to construct regional transmission facilities, and that timing can vary dramatically by region. Industrial Customers believe a stringent 20-year transmission planning horizon could create more uncertainty, resulting in stranded transmission investments and increased transmission rates because it is difficult, if not impossible, to forecast transmission needs and requirements 20 years into the future.⁷⁴⁶

⁷⁴⁵ OMS Initial Comments at 4-5.

⁷⁴⁶ Industrial Customers Reply Comments at 4-5.

323. PJM States recommend, and Clean Energy Associations agree, that instead of requiring a transmission planning horizon of a particular length, the Commission should require each transmission provider to demonstrate that the transmission planning horizon it chooses is adequate to achieve the goals of Long-Term Regional Transmission Planning.⁷⁴⁷

⁷⁴⁷ Clean Energy Associations Reply Comments at 5-6; PJM States Initial Comments at 4.

324. New York State Department recommends that the final order allow states to determine the appropriate transmission planning horizon since New York Public Service Commission has already issued orders directing long-term transmission and distribution planning with undefined terms.⁷⁴⁸ EEI and US Chamber of Commerce explain that state regulators may not appreciate a rigid 20-year transmission planning horizon requirement given that some state resource procurement processes use a 10-year outlook, and the proposed transmission planning process may thus make resource decisions that are not state-sanctioned.⁷⁴⁹ Consistent with their Coordinated Grid Planning Process, New York Commission and NYSERDA assert that the Commission should allow state regulators to help determine the appropriate transmission planning horizon, especially in a single-state RTO/ISO such as NYISO.⁷⁵⁰

⁷⁴⁸ New York State Department Initial Comments at 3.

⁷⁴⁹ EEI Initial Comments at 11; US Chamber of Commerce Initial Comments at 6.

⁷⁵⁰ New York Commission and NYSERDA Initial Comments at 10-12.

325. Louisiana Commission states that a 20-year transmission planning horizon may be longer than the planning horizon utilized in state integrated resource planning, explaining that its integrated resource planning rules allow for a 20-year default planning period, but also for alternative periods, and more importantly, require 5-year action plans.⁷⁵¹

⁷⁵¹ Louisiana Commission Reply Comments at 8 (citing Corrected General Order Docket No R-30021 (LPSC 3/12/2012)).

326. APPA argues, and TANC concurs, that the Commission should allow transmission planning regions to incorporate cost and benefit-tracking mechanisms to reduce the risk of speculative transmission projects.⁷⁵²

⁷⁵² APPA Initial Comments at 26, 36; TANC Initial Comments at 10.

iii. Requests for a Different Transmission Planning Horizon

327. Several commenters argue that a 20-year transmission planning horizon is too long.⁷⁵³ Indicated PJM TOs contend that the Commission should ensure that transmission planning horizons result in the identification of transmission facilities that can be realistically planned and developed, and that 20 years may be too long given rapidly changing technology, generation mix, and demand patterns.⁷⁵⁴ Mississippi Commission also favors a shorter transmission planning horizon, arguing that there is too much uncertainty to plan 20 to 40 years into the future.⁷⁵⁵ NRECA argues that a 20-year transmission planning horizon may allow more alternatives to be considered, but cost efficacy is not guaranteed. Further, NRECA argues that planning beyond 10 years will by necessity devolve into a top-down process that would, at best, relegate actual load-serving entity resource plans and demand forecasts to a secondary status or, at worst, ignore them altogether, violating FPA section 217(b)(4).⁷⁵⁶

⁷⁵³ Exelon Initial Comments at 4, 7-8; Indicated PJM TOs Initial Comments at 10; Industrial Customers Initial Comments at 18; Louisiana Commission Reply Comments at 13; Mississippi Commission Initial Comments at 12; Nebraska Commission Initial Comments at 3-4; NRECA Initial Comments at 27-28; NRG Initial Comments at 6-9, 14; Ohio Consumers Initial Comments at 20; Omaha Public Power Initial Comments at 3-4; PJM Initial Comments at 5, 58-62; US Chamber of Commerce Initial Comments at 5-6; Utah Commission Initial Comments at 13.

⁷⁵⁴ Indicated PJM TOs Initial Comments at 10.

⁷⁵⁵ Mississippi Commission Initial Comments at 12; see also Louisiana Commission Reply Comments at 13 (citing Mississippi Commission Initial Comments at 12).

⁷⁵⁶ NRECA Initial Comments at 27-28.

328. PJM Market Monitor states that uncertainty increases significantly as the transmission planning horizon is extended, and the transmission planning process should be both long-term and flexible, allowing transmission planners to change plans as reality changes.⁷⁵⁷ Similarly, US Chamber of Commerce asserts that, as the length of the transmission planning horizon increases, the number of assumptions increases and the quality of assumptions decreases, rendering costs and benefits less certain. US Chamber of Commerce states that today's transmission grid was not forecasted at the turn of the century, and, thus, forecasts made today for a similar period are likely to under or over-shoot transmission needs due to new and advancing generation technologies with commercial operation timeframes not yet known.⁷⁵⁸ Nebraska Commission states that a 20-year transmission planning horizon may reduce the transmission planning process to an academic exercise due to the amount of speculation necessarily involved.⁷⁵⁹

⁷⁵⁷ PJM Market Monitor Initial Comments at 3.

⁷⁵⁸ US Chamber of Commerce Initial Comments at 6.

⁷⁵⁹ Nebraska Commission Initial Comments at 3.

329. Industrial Customers state that the Commission has not ruled against transmission planning horizons under 15 years and has acknowledged that the average time needed to develop and build a transmission project is 10 years.⁷⁶⁰ Industrial Customers assert that, contrary to the Commission's view, most transmission planners use 10-year transmission planning horizons, and transmission investment should be driven by shorter timeframes to plan for economic and reliability needs.⁷⁶¹ Ohio Consumers note that the 5-year timeframe used by PJM's DFAX method is characterized by high uncertainty, so a longer timeframe would exacerbate inaccuracies.⁷⁶²

⁷⁶⁰ Industrial Customers Initial Comments at 18.

⁷⁶¹ Industrial Customers Initial Comments at 16-19 (referencing NYISO and the Eastern Interconnection Planning Collaborative planning processes).

⁷⁶² Ohio Consumers Initial Comments at 20.

330. Several commenters argue that a 10-year transmission planning horizon could reduce speculation, such as with respect to the changing resource mix.⁷⁶³ NRG states that a shorter, 10-year transmission planning horizon would fit within the time horizon necessary to make transmission investment decisions and still reflect regional policy goals.⁷⁶⁴ Utah Commission notes that NorthernGrid's members in 2020 adopted a 10-year transmission planning horizon and objects to being compelled to abandon that planning horizon in favor of a one-size-fits-all mandate.⁷⁶⁵

⁷⁶³ Nebraska Commission Initial Comments at 3-4; NRG Initial Comments at 6-9, 14; Omaha Public Power Initial Comments at 3-4.

⁷⁶⁴ NRG Initial Comments at 6-9, 14.

⁷⁶⁵ Utah Commission Initial Comments at 13.

331. PJM and Exelon advocate for a 15-year transmission planning horizon to reduce uncertainty and enhance reliability.⁷⁶⁶ Exelon argues that a 15-year transmission planning horizon may yield less uncertain forecasts that are more likely to be actionable and better align with target dates in public policies.⁷⁶⁷ PJM argues that its current 15-year transmission planning horizon is sufficient to plan and develop needed transmission, and that forecasts of fuel prices, load trends, generation retirement, and other relevant parameters become more uncertain the further one looks out. Moreover, PJM asserts, a longer transmission planning horizon leads to a greater probability that a transmission provider will commit to a transmission project that will look unfortunate in hindsight.⁷⁶⁸

⁷⁶⁶ Exelon Initial Comments at 4, 7-8; PJM Initial Comments at 5, 58-62.

⁷⁶⁷ Exelon Initial Comments at 4, 7-8.

⁷⁶⁸ PJM Initial Comments at 59-62 (citing Promoting Regional Transmission Planning and Expansion to Facilitate Fuel Diversity Including Expanded Uses of Coal-fired Resources, Notice of Technical Conference, Docket No. AD05-3-000, at 1 (issued Feb. 16, 2005)).

332. Some commenters argue that a transmission planning horizon longer than 20 years may be warranted to capture the longer-term benefits of transmission facilities.⁷⁶⁹ ACEG recommends that the Commission consider up to a 40-year transmission planning horizon to match the expected life of most transmission assets.⁷⁷⁰ CARE Coalition argues that a 40-year transmission planning horizon would be consistent with standard practice in economics and public policy of evaluating benefits over the life of the asset, and that the long lead time to develop transmission facilities justifies a longer planning horizon.⁷⁷¹

⁷⁶⁹ ACEG Initial Comments at 6-7, 24; CARE Coalition Initial Comments at 40-41; Interwest Initial Comments at 5; National and State Conservation Organizations Initial Comments at 1; Pine Gate Initial Comments at 19-20; PIOs Initial Comments at 15; SEIA Initial Comments at 6.

⁷⁷⁰ ACEG Initial Comments at 6, 24.

⁷⁷¹ CARE Coalition Initial Comments at 40-41.

iv. Opposition to Requests for a Different Transmission Planning Horizon

333. Several commenters dispute claims that a 20-year transmission planning horizon introduces risks from uncertainty and that a shorter planning horizon is more appropriate.⁷⁷² Southeast PIOs claim that the risk of unaddressed transmission needs grows over time because of long lead times needed for transmission development, and that SERTP's 10-year transmission planning horizon prevented Georgia Power from using that process to plan for its long-term North Georgia Reliability & Resilience Plan and its goal to integrate 6,000 MW of renewable resources by 2035.⁷⁷³ Southeast PIOs assert that a longer transmission planning horizon will put future transmission needs on the radar for transmission planners and, if updated frequently, allow transmission providers to select transmission facilities conditional on subsequent transmission planning cycles, which affords planners flexibility to determine the need for the facility and whether there are more cost-effective alternatives.⁷⁷⁴ ACORE notes that the NOPR addresses the uncertainty about the future by requiring the use of multiple Long-Term Scenarios that are revised every three years.⁷⁷⁵

⁷⁷² ACORE Reply Comments at 5 (citing EPSA Initial Comments at 7; ITC Initial Comments at 9; Mississippi Commission Initial Comments at 12; PJM Initial Comments at 58-62); Concerned Scientists Reply Comments at 18-19; PJM Initial Comments at 58-62; Southeast PIOs Reply Comments at 23-25 (citing Dominion Initial Comments at 19; Southern Initial Comments at 19, 32-33).

⁷⁷³ Southeast PIOs Reply Comments at 24 (citing Southeast PIOs Initial Comments at 27-28).

⁷⁷⁴ Id. at 23-25.

⁷⁷⁵ ACORE Reply Comments at 5.

334. Several commenters state that the transmission planning horizon should not extend beyond 20 years to avoid overly speculative long-term forecasts.⁷⁷⁶ Entergy asserts that looking beyond 20 years would increase the likelihood of errors, risk billions of dollars in investments that may prove to be misguided, and amplify the risk of planning a transmission system that poorly aligns with actual future needs.⁷⁷⁷ Illinois Commission states that a transmission planning horizon longer than 20 years would make it difficult to accurately predict the factors relevant to transmission planning.⁷⁷⁸ Clean Energy Buyers propose that transmission providers seeking to adopt a transmission planning horizon beyond 20 years should be required to demonstrate the justness and reasonableness of that transmission planning horizon.⁷⁷⁹

⁷⁷⁶ Arizona Commission Initial Comments at 3-4; California Commission Initial Comments at 11-13; Entergy Initial Comments at 9-11; Georgia Commission Initial Comments at 2-3; Pennsylvania Commission Initial Comments at 5; US Chamber of Commerce Initial Comments at 4, 6.

⁷⁷⁷ Entergy Initial Comments at 9-11.

⁷⁷⁸ Illinois Commission Initial Comments at 6.

⁷⁷⁹ Clean Energy Buyers Initial Comments at 12-13.

335. Certain TDUs and Louisiana Commission oppose a 40-year transmission planning horizon.⁷⁸⁰ Certain TDUs emphasize that, as evidenced by the Michigan Thumb Loop transmission project, assumptions such as the resource mix can change in as few as seven years.⁷⁸¹ Louisiana Commission argues that longer periods, such as the 40-year transmission planning horizon proposed by some commenters, will greatly increase the risk for errors and wasted investments. According to Louisiana Commission, transmission planning horizons should neither exceed the availability of reasonable data and assumptions nor create unnecessary risks that ratepayers will be required to fund transmission facilities that do not deliver expected benefits.⁷⁸²

⁷⁸⁰ Certain TDUs Reply Comments at 3-6 (citing ACEG Initial Comments at 24); Louisiana Commission Reply Comments at 8.

⁷⁸¹ Certain TDUs Reply Comments at 3-6.

⁷⁸² Louisiana Commission Reply Comments at 8.

v. Meaning and Scope of Transmission Planning Horizon

336. Several commenters request that the Commission define the 20-year transmission planning horizon as a simple 20-year period, and not a 20-year period starting from the estimated in-service date of the transmission facilities, which would result in forecasting transmission needs beyond 20 years.⁷⁸³ Kentucky Commission Chair Chandler states that the usefulness of Long-Term Regional Transmission Planning and measuring benefits 20 years after a transmission project's in-service date will decrease if each project's relative benefits cannot be adequately measured and identified.⁷⁸⁴ PPL argues that tying the transmission planning horizon to the study date rather than the solution in-service date will facilitate a more realistic, certain, and simple transmission planning process and reduce the need for additional analysis.⁷⁸⁵ US Chamber of Commerce adds that beginning at the in-service date of the transmission facilities would extend the effective transmission planning horizon to 25-30 years, thereby further increasing the uncertainty of Long-Term Regional Transmission Planning; thus, US Chamber of Commerce argues the Commission should use the 20-year transmission planning horizon as a ceiling, rather than a floor, consistent with the far end of most state planning horizons, which would protect transmission planners from being forced to plan beyond the requirements of applicable state law.⁷⁸⁶

⁷⁸³ Kentucky Commission Chair Chandler Reply Comments at 2; National Grid Initial Comments at 12-13; PJM States Initial Comments at 3; PPL Initial Comments at 6; US Chamber of Commerce Initial Comments at 6.

⁷⁸⁴ Kentucky Commission Chair Chandler Reply Comments at 2.

⁷⁸⁵ PPL Initial Comments at 6.

⁷⁸⁶ US Chamber of Commerce Initial Comments at 6.

337. Policy Integrity requests that the Commission clarify the details of the 20-year time horizon, stating that it is unclear whether the Commission intended the 20-year time horizon for Long-Term Regional Transmission Planning to be tied to construction commencing in year 20.⁷⁸⁷ ISO-NE and Policy Integrity seek clarification that, if the Commission requires that transmission providers must study what is needed over the next 20 years, transmission providers are not precluded from evaluating what needs to be built in the short and medium terms.⁷⁸⁸ Industrial Customers assert that the proposed 20-year transmission planning horizon is unclear because some commenters interpret the Commission's proposal as requiring a 20-year transmission planning horizon for Long-Term Regional Transmission Planning,⁷⁸⁹ while others argue it requires a 20-year transmission planning horizon in existing regional transmission planning processes.⁷⁹⁰

⁷⁸⁷ Policy Integrity Initial Comments at 5.

⁷⁸⁸ ISO-NE Initial Comments at 23; Policy Integrity Initial Comments at 5.

⁷⁸⁹ Industrial Customers Reply Comments at 5-6 (citing NARUC Initial Comments at 5).

⁷⁹⁰ Industrial Customers Reply Comments at 5-6 (citing California Commission Initial Comments at 11).

338. Several commenters support a 20-year transmission planning horizon if Long-Term Scenarios are used to inform the development of transmission facilities but not used to select transmission facilities or to dictate construction.⁷⁹¹ TANC does not believe that a 20-year transmission planning horizon should be used for local transmission planning processes or selection.⁷⁹² Nebraska Commission states that using a 20-year transmission planning horizon for only research, study, and projections will avoid speculation, increased costs, and unjust and unreasonable rates.⁷⁹³ NRECA asserts that using a 20-year transmission planning horizon in Long-Term Regional Transmission Planning to select transmission projects will not produce the granularity and certainty needed to assign costs to beneficiaries.⁷⁹⁴ Similarly, Ohio Consumers argue that too little is known about the location of future loads and resources and the direction of power flows over 20 years to use a 20-year transmission planning horizon for cost allocation purposes.⁷⁹⁵ NRG argues that use of a 20-year transmission planning horizon to allocate costs will lead to unjust and unreasonable outcomes, and instead, a 10-year transmission planning horizon is appropriate.⁷⁹⁶ New England Systems state that the Commission should adjust the NOPR's focus on transmission planning horizons toward an evolutionary and evidence-based transmission planning process aimed at mitigating avoidable costs for operating generation out of economic merit order and at improving the utilization of renewable resources that experience curtailment due to congestion.⁷⁹⁷

⁷⁹¹ NARUC Initial Comments at 5; Nebraska Commission Initial Comments at 3; Northwest and Intermountain Initial Comments at 7, 13; NRECA Initial Comments at 23, 29; NRG Initial Comments at 6-9, 14; Ohio Consumers Initial Comments at 20; see also Dominion Reply Comments at 4-5 (citing NARUC Initial Comments at 5); PJM States Reply Comments at 9 (citing NARUC Initial Comments at 5).

⁷⁹² TANC Initial Comments at 10.

⁷⁹³ Nebraska Commission Initial Comments at 3.

⁷⁹⁴ NRECA Initial Comments at 23-24 (citing GDS Assocs., Inc., Report, at 10 (Aug. 17, 2022)).

⁷⁹⁵ Ohio Consumers Initial Comments at 1, 20.

⁷⁹⁶ NRG Initial Comments at 6-9, 14.

⁷⁹⁷ New England Systems Initial Comments at 21-22.

339. Some commenters support a 20-year transmission planning horizon only if the latter portion of the planning horizon is not used to direct the development of transmission facilities.⁷⁹⁸ SERTP Sponsors state that the Commission should not require that regional transmission expansion be based on transmission planning horizons that are incompatible with the planning horizons used for integrated resource planning or supply-side resource plan development, or that involve a degree of speculation that the states comprising a transmission planning region are not willing to accept.⁷⁹⁹ SPP Market Monitor contends that if the Commission requires all RTOs/ISOs to perform a 20-year study, the final order should also provide guidance on how information determined in that long-term study will be used. SPP Market Monitor supports a secondary, shorter-term transmission planning horizon of 10 years that could be based on the results of the longer-term 20-year studies.⁸⁰⁰

⁷⁹⁸ APS Initial Comments at 3-4; Kansas Commission Initial Comments at 13-14; Maryland Energy Administration Initial Comments at 3; SERTP Sponsors Initial Comments at 20; Shell Initial Comments at 21; SPP Market Monitor Initial Comments at 5-6.

⁷⁹⁹ SERTP Sponsors Initial Comments at 20.

⁸⁰⁰ SPP Market Monitor Initial Comments at 5-6.

340. Shell suggests that the 20-year transmission planning horizon include a developmental “Actionable Period” for the first 10 years, during which developers may be willing to invest in generation projects, or the RTOs/ISOs or utilities may be willing to commit to and authorize the construction of new transmission. Shell proposes that there would be an “Indicative Period” for the following 10 years, which would be used to drive the Actionable Period so that the Commission establishes a process that converges and integrates short, medium, and long-term planning. Shell asserts that its proposal could foster more comprehensive and efficient Long-Term Regional Transmission Planning and inform existing regional transmission planning processes.⁸⁰¹ To remove speculative assumptions from Long-Term Regional Transmission Planning, Arizona Commission similarly suggests that the Commission divide the 20-year transmission planning horizon into two equal parts: a “more certain” forecast and a “flexible” forecast.⁸⁰² Likewise, APS recommends that the Commission adopt a 20-year transmission planning horizon for “potential projects” and a 10-year planning horizon for “planned projects” to provide greater regional flexibility.⁸⁰³

⁸⁰¹ Shell Initial Comments at 19-23.

⁸⁰² Arizona Commission Initial Comments at 3-4.

⁸⁰³ APS Initial Comments at 3-4.

341. Kansas Commission, Mississippi Commission, and NRECA state that the results of Long-Term Regional Transmission Planning should be considered informational only.⁸⁰⁴ Kansas Commission requests that the Commission establish solid evidentiary and policy bases to support a 20-year transmission planning horizon before imposing such a requirement.⁸⁰⁵ Mississippi Commission believes that transmission construction decisions should use a 10-year transmission planning horizon.⁸⁰⁶

⁸⁰⁴ Kansas Commission Initial Comments at 13-14; Mississippi Commission Reply Comments at 6; NRECA Initial Comments at 23.

⁸⁰⁵ Kansas Commission Initial Comments at 13.

⁸⁰⁶ Mississippi Commission Reply Comments at 6.

342. Some commenters rebut arguments that Long-Term Regional Transmission Planning should be performed for informational purposes only.⁸⁰⁷ ACEG contends that adopting the proposed transmission planning methods is essential to accomplishing the Commission's responsibilities and that less stringent requirements have not led to much-needed development of high-capacity transmission throughout the country. ACEG further states that providing informational reports will do little to remedy undue discrimination and achieve actual transmission plans.⁸⁰⁸ DC and MD Offices of People's Counsel state that the potential benefits to ratepayers and other stakeholders of a 20-year transmission planning horizon is significantly diminished if transmission planning is simply an academic exercise, without actual impact on future transmission development.⁸⁰⁹ SEIA argues that the Commission should mandate that scenarios developed under the final order be used in transmission planning rather than for informational purposes only or contingent on the approval of state regulators.⁸¹⁰

⁸⁰⁷ ACEG Reply Comments at 10; DC and MD Offices of People's Counsel Reply Comments at 5; SEIA Reply Comments at 2.

⁸⁰⁸ ACEG Reply Comments at 10.

⁸⁰⁹ DC and MD Offices of People's Counsel Reply Comments at 5.

⁸¹⁰ SEIA Reply Comments at 2.

343. Business Council for Sustainable Energy states that transmission planning should consider the length of time that it takes for transmission assets to be built and the estimated useful life of those facilities.⁸¹¹ California Municipal Utilities argue, and TANC concurs, that any lengthening of the transmission planning horizon must be accompanied by consumer protections that guard against speculative siting of generation and a rigorous re-evaluation of planning assumptions and other relevant factors, such as commercial viability of transmission projects and the associated resources.⁸¹²

⁸¹¹ Business Council for Sustainable Energy Initial Comments at 4.

⁸¹² California Municipal Utilities Initial Comments at 3; TANC Initial Comments at 10.

c. Commission Determination

344. We adopt the NOPR proposal to require transmission providers in each transmission planning region to develop Long-Term Scenarios as part of Long-Term Regional Transmission Planning using no less than a 20-year transmission planning horizon. We further clarify that using a transmission planning horizon of no less than 20 years means that transmission providers must develop Long-Term Scenarios to identify Long-Term Transmission Needs that will materialize in the 20 years or more following the commencement of the Long-Term Regional Transmission Planning cycle.

345. In requiring a transmission planning horizon of not less than 20 years, we strike a balance. On the one hand, a 20-year transmission planning horizon extends far enough into the future that transmission providers can proactively identify Long-Term Transmission Needs that could be met with more efficient or cost-effective Long-Term Regional Transmission Facilities; in contrast, as discussed below, a transmission planning horizon less than 20 years may limit transmission providers' ability to adequately plan for Long-Term Transmission Needs. Specifically, as described in the NOPR, a 20-year transmission planning horizon allows for more time between when a transmission facility is identified to meet a future transmission need, and when the transmission need materializes, allowing for sufficient time to identify, plan, obtain siting and permitting approval for, and construct Long-Term Regional Transmission Facilities. Moreover, as some commenters observe, several transmission providers, including MISO, SPP, and NYISO, already use a 20-year transmission planning horizon. On the other hand, based on the record before us, we find that there may be sufficient uncertainty with regard to system conditions and transmission needs beyond a 20-year horizon such that it may be challenging for transmission providers to forecast Long-Term Transmission Needs across that time period, especially for those transmission providers that do not presently conduct, and thus do not have experience with, long-term regional transmission planning. Accordingly, we decline to adopt a requirement to use a transmission planning horizon that exceeds 20 years. However, this does not preclude transmission providers from proposing to use a transmission planning horizon of more than 20 years.

346. We clarify that transmission providers must plan for the entire duration of the 20-year transmission planning horizon. Specifically, transmission providers must, among other requirements established in this final order, develop and use Long-Term Scenarios to identify Long-Term Transmission Needs occurring in any period of the 20-year transmission planning horizon and to evaluate potential transmission solutions to those needs.

347. Certain commenters either misstate aspects of the proposed 20-year transmission planning horizon or request clarification regarding the horizon.⁸¹³ We specify that the transmission planning horizon starts at the beginning of the Long-Term Regional Transmission Planning cycle and ends 20 years from that date. The transmission planning horizon is not tied to the in-service date of any identified transmission solution; rather, potential transmission solutions are identified after identifying Long-Term Transmission Needs that manifest during the 20-year transmission planning horizon.

⁸¹³ Kentucky Commission Chair Chandler Reply Comments at 2; National Grid Initial Comments at 12-13; PJM States Initial Comments at 3; PPL Initial Comments at 6; US Chamber of Commerce Initial Comments at 6.

348. We disagree with commenters that assert that a 20-year transmission planning horizon could result in Long-Term Regional Transmission Planning based on speculative transmission needs ⁸¹⁴ or, relatedly, that a 20-year transmission planning horizon is only appropriate if Long-Term Scenarios are not used to select Long-Term Regional Transmission Facilities.⁸¹⁵ We find these assertions to be unfounded. In fact, the Long-Term Regional Transmission Planning requirements adopted in this final order are designed to avoid over-building transmission in response to speculative transmission needs through a series of tools and safeguards, discussed at length above.⁸¹⁶ To highlight just one of these safeguards, as discussed in the Evaluation and Selection of Long-Term Regional Transmission Facilities section of this final order, we require transmission providers to reevaluate certain previously selected Long-Term Regional Transmission Facilities in some circumstances to confirm that the Long-Term Regional Transmission Facility continues to meet the transmission providers' selection criteria. This reevaluation process will help ensure that the continued selection of Long-Term Regional Transmission Facilities is based on the use of updated information regarding the existence of a Long-Term Transmission Need and the benefits that transmission providers expect a Long-Term Regional Transmission Facility to provide.

⁸¹⁴ E.g., TANC Initial Comments at 10.

⁸¹⁵ NARUC Initial Comments at 5; Nebraska Commission Initial Comments at 3; Northwest and Intermountain Initial Comments at 7, 13; NRECA Initial Comments at 23, 29; NRG Initial Comments at 6-9, 14; Ohio Consumers Initial Comments at 20; see also PJM States Reply Comments at 9 (citing NARUC Initial Comments at 5).

⁸¹⁶ See supra Participation in Long-Term Regional Transmission Planning section.

349. We disagree with commenters that assert that the Commission should adopt a shorter transmission planning horizon.⁸¹⁷ A transmission planning horizon of less than 20 years would fail to sufficiently capture Long-Term Transmission Needs given that at least some of the drivers of such needs extend up to 20 years into the future (e.g., many state laws include requirements to be met 15 to 20 years in the future). Additionally, a shorter minimum transmission planning horizon may not allow for sufficient time to develop Long-Term Regional Transmission Facilities with long lead-time requirements or to compare alternative transmission solutions to identify more efficient or cost-effective transmission solutions to meet Long-Term Transmission Needs.

⁸¹⁷ Exelon Initial Comments at 4, 7-8; Industrial Customers Initial Comments at 18; Mississippi Commission Initial Comments at 34; Nebraska Commission Initial Comments at 3-4; NRECA Initial Comments at 27-28; NRG Initial Comments at 6-9, 14; Omaha Public Power Initial Comments at 3-4; PJM Initial Comments at 5, 58-62; US Chamber of Commerce Initial Comments at 6; Utah Commission Initial Comments at 13.

350. We disagree with commenters that assert requiring a 20-year transmission planning horizon is incompatible with planning horizons used with state integrated resource planning.⁸¹⁸ In addition to the discussions in the Overall Need for Reform and Legal Authority to Adopt Reforms for Long-Term Regional Transmission Planning sections regarding state integrated resource planning, we note that regardless of the planning horizon used in a state integrated resource planning process, the results of that process can be incorporated into Long-Term Regional Transmission Planning to identify Long-Term Transmission Needs. In fact, as explained in State-Approved Utility Integrated Resource Plans and Expected Supply Obligations for Load-Serving Entities (Factor Category Three) section below, integrated resource plans are part of the Categories of Factors and thus, transmission providers must incorporate information on the load-serving entities' projected loads and resources over the planning horizon. The fact that a state integrated resource plan does not extend out a full 20 years—or extends further into the future—does not change the obligation for transmission providers to incorporate the information that is available over the 20-year transmission planning horizon.

⁸¹⁸ SERTP Sponsors Initial Comments at 21.

351. In response to ISO-NE, and Policy Integrity,⁸¹⁹ the 20-year transmission planning horizon is distinct from the requirement to calculate benefits of an identified Long-Term Regional Transmission Facility over a minimum of 20 years from the estimated in-service date, as discussed in the Required Benefits section.

⁸¹⁹ ISO-NE Initial Comments at 23; Policy Integrity Initial Comments at 5.

2. Frequency of Long-Term Scenario Revisions

a. NOPR Proposal

352. In the NOPR, the Commission proposed to require each transmission provider to develop Long-Term Scenarios at least every three years, by reassessing whether the data inputs and factors incorporated in the previously developed Long-Term Scenarios need to be updated and then revising the Long-Term Scenarios as needed to reflect updated data inputs and factors. The Commission also proposed to require that the development of Long-Term Scenarios be completed within three years, before the next three-year assessment commences.⁸²⁰

⁸²⁰ NOPR, 179 FERC ¶ 61,028 at P 97.

353. The Commission preliminarily found that a three-year frequency requirement balances the need of transmission providers to reassess changes in the resource mix and demand, as technology, markets, and policies have the potential to rapidly change, against the burden of developing Long-Term Scenarios that can take a year or longer to produce. The Commission stated that this three-year frequency requirement would allow transmission providers to identify new transmission needs driven by changes in the resource mix and demand during the interim years of the transmission planning period, and update previously identified transmission needs, if warranted.⁸²¹

⁸²¹ NOPR, 179 FERC ¶ 61,208 at P 99.

b. Comments

i. Support for Frequency of Long-Term Scenario Revisions

354. Many commenters support the Commission's proposal to require transmission providers in each transmission planning region to develop Long-Term Scenarios at least every three years, by reassessing whether the data inputs and factors incorporated in their previously developed Long-Term Scenarios need to be updated and then revising the Long-Term Scenarios as needed to reflect updated data inputs and factors.⁸²² Arizona Commission and Interwest state that the proposed three-year process aligns with their existing regional transmission planning processes.⁸²³ Several commenters assert that this proposal allows for Long-Term Scenarios to remain accurate and account for material technological, political, environmental, and operational developments in the energy industry,⁸²⁴ with some commenters indicating that past experience demonstrates that the energy industry is rapidly changing.⁸²⁵ For example, PIOs share that MISO recently recognized assumptions in its MISO Transmission Expansion Plan did not capture the rate of change for the region's fuel mix.⁸²⁶

⁸²² ACORE Initial Comments at 10; Advanced Energy Buyers Initial Comments at 7; AEE Initial Comments at 8-9; AEP Initial Comments at 5, 8, 13-14; Amazon Initial Comments at 3; Arizona Commission Initial Comments at 4; BP Initial Comments at 4; Breakthrough Energy Supplemental Comments at 1; CAISO Initial Comments at 21; California Water Initial Comments at 15; Clean Energy Associations Initial Comments at 10; Clean Energy Buyers Initial Comments at 13; DC and MD Offices of People's Counsel Initial Comments at 8; Entergy Initial Comments at 11; Idaho Power Initial Comments at 4; Interwest Initial Comments at 6-8; Joint Consumer Advocates Initial Comments at 8; Nevada Commission Initial Comments at 7; New England Offshore Wind Initial Comments at 2; New Jersey Commission Initial Comments at 11; NYISO Initial Comments at 18; Pacific Northwest State Agencies Initial Comments at 13-14; Pennsylvania Commission Initial Comments at 5; PG&E Initial Comments at 6; PIOs Initial Comments at 16; PJM Initial Comments at 5-6, 63; SEIA Initial Comments at 6; SPP Market Monitor Initial Comments at 6; US DOE Initial Comments at 11; Vermont State Entities Initial Comments at 5; WE ACT Initial Comments at 3.

⁸²³ Arizona Commission Initial Comments at 3; Interwest Initial Comments at 6-8.

⁸²⁴ Advanced Energy Buyers Initial Comments at 7; California Water Initial Comments at 15; ELCON Initial Comments at 11; Joint Consumer Advocates at 8; PIOs Initial Comments at 17; SPP Market Monitor Initial Comments at 6; US DOE Initial Comments at 11.

⁸²⁵ Advanced Energy Buyers Initial Comments at 7; ELCON Initial Comments at 11.

⁸²⁶ PIOs Initial Comments at 16-17 (stating that MISO's prediction for changes in its fuel mix 15 years out in the MISO Transmission Expansion Plan 2020 Report had already materialized before that final report was published).

355. Pennsylvania Commission states that routine reviews could update information and data, justify modifications to transmission plans, and reduce the risk of uneconomic transmission investments.⁸²⁷ ELCON notes that the proposed three-year reassessment provides the opportunity to consult recent data and update the probability of each scenario, which will produce better outcomes in the transmission planning process.⁸²⁸ Joint Consumer Advocates state that long-term transmission plans must be revisited regularly and with sufficient frequency to ensure that they remain accurate and account for material developments.⁸²⁹ AEE states that triennial updates will provide a suitable amount of time for stakeholders to complete comprehensive studies while also ensuring that scenarios do not become stale as advanced energy technology deployment scales more rapidly and policy changes disrupt existing assumptions.⁸³⁰

⁸²⁷ Pennsylvania Commission Initial Comments at 5.

⁸²⁸ ELCON Initial Comments at 11.

⁸²⁹ Joint Consumer Advocates Initial Comments at 8.

⁸³⁰ AEE Initial Comments at 8-9.

356. Louisiana Commission avers that the proposed three-year reassessment will prevent transmission providers from ignoring changes that might better reflect future assumptions.⁸³¹ PIOs state that a three-year update will also help address issues that could occur if a transmission provider is too aggressive or conservative when defining scenarios.⁸³² DC and MD Offices of People's Counsel recommend that plans be updated every three years.⁸³³

⁸³¹ Louisiana Commission Reply Comments at 9.

⁸³² PIOs Initial Comments at 17.

⁸³³ DC and MD Offices of People's Counsel Reply Comments at 2.

357. Entergy and Interwest state that a three-year reassessment cycle balances the need for recent data and the time and resources needed to develop the updates.⁸³⁴ LADWP states that a rolling near-term planning horizon provides the long-term transmission planning process with up-to-date information without being too frequent.⁸³⁵ New Jersey Commission notes that reassessments more frequent than every three years would be overly burdensome.⁸³⁶ Similarly, Nebraska Commission states that a frequency shorter than every three years would require almost constant updates from transmission providers, which would drive up costs, while a frequency longer than three to five years could risk the underlying information becoming stale between revisions.⁸³⁷

⁸³⁴ Entergy Initial Comments at 11; Interwest Initial Comments at 6.

⁸³⁵ LADWP Initial Comments at 3.

⁸³⁶ New Jersey Commission Initial Comments at 11.

⁸³⁷ Nebraska Commission Initial Comments at 4.

358. Certain TDUs suggest that the Commission address concerns that a three-year review period would put significant strain on transmission provider resources by clarifying that three-year assessments would review the key drivers and assumptions behind a transmission plan with updates as needed for material changes rather than a rerun of the full transmission planning process. In addition, Certain TDUs state that a three-year reassessment of initial transmission plans would result in more transparency and consideration of alternatives in the transmission planning process.⁸³⁸ In contrast, PJM requests that the Commission clarify that Long-Term Scenarios would be completely updated with new data, updated factors, and the best information available at least every three years, not merely partially reassessed. PJM also requests that the Commission clarify that scenario evaluations will not overlap, as re-runs are expensive, and a predictable three-year clock will make the process run smoothly.⁸³⁹

⁸³⁸ Certain TDUs Reply Comments at 7.

⁸³⁹ PJM Initial Comments at 6, 63-64.

359. AEP requests that the Commission require all transmission planning regions to continuously follow the same, consistent three-year transmission planning cycles to align future efforts and ease burdens on transmission providers and developers operating in multiple transmission planning regions and to promote better coordination among regions concerning potential interregional transmission solutions.⁸⁴⁰

⁸⁴⁰ AEP Initial Comments at 5, 8, 13-14; AEP Reply Comments at 5.

360. Southeast PIOs support the NOPR proposal to require transmission providers to reassess and revise Long-Term Scenarios every three years, arguing that it would synchronize with existing state processes and ensure that long-term regional transmission plans remain an up-to-date resource for state planning.⁸⁴¹ Similarly, Certain TDUs argue that a five-year transmission planning cycle is too long and that a three-year transmission planning cycle would be more likely to account for unforeseen changes, helping to prevent inefficient transmission development and balance planning for future needs with the need to quickly identify material changes to planning assumptions.⁸⁴²

⁸⁴¹ Southeast PIOs Reply Comments at 25.

⁸⁴² Certain TDUs Reply Comments at 5-6.

ii. Concerns About Frequency of Long-Term Scenario Revisions

361. Some commenters urge the Commission to provide flexibility for transmission providers to determine the frequency at which they must develop Long-Term Scenarios by reassessing whether the data inputs and factors incorporated in their previously developed Long-Term Scenarios need to be updated and then revising the Long-Term Scenarios as needed to reflect updated data inputs and factors.⁸⁴³ EEI requests that the Commission allow transmission providers in each transmission planning region to initiate a new Long-Term Scenario process in lieu of a refresh of old Long-Term Scenarios.⁸⁴⁴ California Commission and Omaha Public Power argue that requiring transmission providers to reassess and revise Long-Term Scenarios at least every three years will create a significant compliance burden without improving planning outcomes, such as forecast accuracy.⁸⁴⁵

⁸⁴³ Ameren Initial Comments at 12-13; American Municipal Power Initial Comments at 33; California Commission Initial Comments at 16; Duke Initial Comments at 11; ISO-NE Initial Comments at 24; MISO Initial Comments at 28-29; MISO TOs Initial Comments at 17; NARUC Initial Comments at 6-7; NESCOE Initial Comments at 25-26; OMS Initial Comments at 4-5; Pacific Northwest State Agencies Initial Comments at 15; Vermont State Entities Initial Comments at 5; WIRES Initial Comments at 7.

⁸⁴⁴ EEI Initial Comments at 12.

⁸⁴⁵ California Commission Initial Comments at 16; Omaha Public Power Initial Comments at 3.

362. MISO TOs argue that flexibility is warranted because MISO is already implementing Long-Term Regional Transmission Planning, as well as reassessing its data as needed.⁸⁴⁶ MISO states that the NOPR proposal is overly prescriptive, may not reflect stakeholder and regional needs, and could result in a compliance exercise without the prospect of transmission expansion.⁸⁴⁷ NESCOE and OMS suggest that the Commission require transmission providers to reassess Long-Term Scenarios at regular intervals but leave the timing of that reassessment to the transmission planning region.⁸⁴⁸ MISO also recommends that the Commission allow transmission providers to reuse Long-Term Scenarios as long as they update the relevant input data to reflect the latest available information.⁸⁴⁹

⁸⁴⁶ MISO TOs Initial Comments at 17.

⁸⁴⁷ MISO Initial Comments at 28.

⁸⁴⁸ NESCOE Initial Comments at 25-26; OMS Initial Comments at 4-5.

⁸⁴⁹ MISO Initial Comments at 29.

363. Duke asserts that the Commission should allow transmission planning regions to propose their own cycles to reassess and revise Long-Term Scenarios to meet the needs of the region, keep pace with markets and policies across the country, and align their processes with state integrated resource planning processes.⁸⁵⁰ Similarly, WIRES requests a variance to the proposed three-year scenario reassessment requirement because three years may be too short and could potentially be disruptive or increase costs. WIRES further asks that the Commission clarify that transmission providers are not required to reassess previously approved transmission projects as part of their triennial review process.⁸⁵¹

⁸⁵⁰ Duke Initial Comments at 12.

⁸⁵¹ WIRES Initial Comments at 7.

364. Pacific Northwest State Agencies state that the Commission should set three years as a minimum and provide transmission planning regions with the flexibility to work with states to determine the appropriate schedule for developing Long-Term Scenarios.⁸⁵² Similarly, Vermont State Entities and Pennsylvania Commission argue that transmission planning regions should have the flexibility to conduct reassessments at intervals shorter than every three years.⁸⁵³

⁸⁵² Pacific Northwest State Agencies Initial Comments at 15.

⁸⁵³ Pennsylvania Commission Initial Comments at 5; Vermont State Entities Initial Comments at 5.

365. NYISO recommends that the final order should allow transmission planning regions to modify or add to their Long-Term Scenarios to account for changes that would significantly affect their analysis when they occur instead of waiting for the next transmission planning cycle. NYISO further requests that the Commission clarify that, if a transmission planning region requires more than three years to complete a given transmission planning cycle, it may extend the three-year time period. In addition, NYISO requests that the Commission permit transmission providers in each transmission planning region to commence the next Long-Term Regional Transmission Planning cycle using current information even if the prior transmission planning cycle is running in parallel. NYISO adds that the Commission should allow transmission planning regions to use their existing Long-Term Scenarios for the duration of a Long-Term Regional Transmission Planning cycle, even if it runs beyond three years, to avoid stopping and re-starting that cycle due to changes in circumstances.⁸⁵⁴

⁸⁵⁴ NYISO Initial Comments at 19.

366. Some commenters raise concerns that the proposal to require development of Long-Term Scenarios at least every three years may create overlapping planning assessments and suggest ways to avoid that situation.⁸⁵⁵ ISO-NE states that the timeframe for Long-Term Regional Transmission Planning should account for all the elements of the process, such as implementing the process for selecting transmission solutions, before the next long-term study begins. ISO-NE indicates that this will allow subsequent Long-Term Regional Transmission Planning studies to account for the outcomes of the preceding transmission planning cycle and avoid unnecessary study overlap between cycles.⁸⁵⁶

⁸⁵⁵ Eversource Initial Comments at 15; ISO-NE Initial Comments at 24; NESCOE Initial Comments at 26; PJM Initial Comments at 63.

⁸⁵⁶ ISO-NE Initial Comments at 24.

367. Eversource suggests that the Commission require completion of project selection before the development of the next set of Long-Term Scenarios, arguing that it would undermine the project selection process if the current three-year Long-Term Scenario cycle fails to include selected transmission facilities from the prior three-year cycle.⁸⁵⁷

⁸⁵⁷ Eversource Initial Comments at 15.

368. Similarly, NESCOE is concerned that the three-year Long-Term Scenario cycle requirement is inflexible and could interfere with existing procedures in New England. NESCOE states that ISO-NE's longer-term transmission planning process requires that a planning process be concluded before a new one can begin, and that a request for a longer-term transmission study may be submitted to ISO-NE no earlier than six months after the conclusion of the prior study.⁸⁵⁸

⁸⁵⁸ NESCOE Initial Comments at 26.

369. Some commenters argue that requiring transmission providers to reassess and revise their Long-Term Scenarios every three years may be too frequent and costly, asserting that between every three and five years may be more appropriate.⁸⁵⁹ ITC avers that a three-year transmission planning cycle for Long-Term Regional Transmission Planning would exceed the capabilities of the transmission providers administering the process.⁸⁶⁰ Likewise, NRECA asserts that developing multiple Long-Term Scenarios and updating them every three years will require significant time and resources, as well as substantial changes in transmission planning throughout the country. NRECA asserts that existing power supply and transmission planning models employ different assumptions that cannot be used to prepare 20-year Long-Term Scenarios, much less update them every three years.⁸⁶¹

⁸⁵⁹ ACEG Initial Comments at 7, 25; Breakthrough Energy Initial Comments at 12-13; EEI Initial Comments at 12; Indicated PJM TOs Initial Comments at 11-12; ITC Initial Comments at 5, 9-11; Pine Gate Initial Comments at 19-20.

⁸⁶⁰ ITC Initial Comments at 10.

⁸⁶¹ NRECA Initial Comments at 23 (citing GDS Assocs., Report, at 8-10 (Aug. 17, 2022)).

iii. Support for Different Frequency of Long-Term Scenario Revisions

370. Western PIOs support mandating a two-year timeframe for revision, as three years may be too long and therefore may miss important updated data inputs.⁸⁶²

⁸⁶² Western PIOs Initial Comments at 30.

371. Shell argues that the Commission should require transmission providers to reassess and revise their Long-Term Scenarios every five years, asserting that the proposal to use three years could create too much uncertainty and delay the development of renewable generation being developed to comply with state climate objectives and resource adequacy requirements in forward-looking capacity markets.⁸⁶³ Indicated PJM TOs argue that three years may be insufficient to perform relevant studies and recommend that the Commission provide transmission providers with the flexibility to adopt four- or five-year transmission planning cycles.⁸⁶⁴

⁸⁶³ Shell Initial Comments at 18-19.

⁸⁶⁴ Indicated PJM TOs Initial Comments at 11-12.

372. Exelon argues that a three-year transmission planning cycle is too short, as it is unlikely that transmission needs will surface within three years, and that conducting a study so soon could create uncertainty that recently selected transmission projects will be revisited. Exelon instead recommends that the final order adopt a five-year transmission planning cycle requirement with a provision that requires transmission providers to initiate a new cycle sooner, with good reason, to better align with the time needed to permit and construct new transmission infrastructure.⁸⁶⁵

⁸⁶⁵ Exelon Initial Comments at 9.

373. Similarly, PPL argues that a five-year transmission planning cycle will allow sufficient time for one transmission planning cycle to be completed before the subsequent cycle commences.⁸⁶⁶ Pine Gate states that a five-year transmission planning cycle is warranted given the size and complexity of transmission planning regions and the time needed to receive and incorporate stakeholder feedback and to achieve consensus on cost allocation. Pine Gate further notes that a five-year transmission planning cycle would more closely align the results of Long-Term Regional Transmission Planning with the time horizons for reliability planning and other transmission planning processes.⁸⁶⁷

⁸⁶⁶ PPL Initial Comments at 6.

⁸⁶⁷ Pine Gate Initial Comments at 20-21.

374. SPP argues in favor of the update procedures in its current transmission planning processes rather than the three-year schedule for updating Long-Term Scenarios proposed in the NOPR. SPP states that it performs a 20-year assessment that incorporates Long-Term Scenarios at least once every five years and that, on an annual basis, SPP assesses data inputs and factors incorporated into the assessment.⁸⁶⁸

⁸⁶⁸ SPP Initial Comments at 5-6.

iv. Miscellaneous Comments

375. Several commenters state that the Commission should regularly review transmission planning processes and assumptions to account for new developments.⁸⁶⁹ Pattern Energy states that the best way to make 20-year transmission plans useful is for their outputs to be fed into near-term (i.e., five-to-seven-year horizon) transmission planning activities.⁸⁷⁰

⁸⁶⁹ Clean Energy Buyers Initial Comments at 13; SREA Reply Comments at 26-27.

⁸⁷⁰ Pattern Energy Initial Comments at 22.

376. ELCON recommends that the Commission hold a technical conference after the first three-year reassessment period for Long-Term Scenarios to allow transmission providers to offer their experiences with and best practices for Long-Term Regional Transmission Planning.⁸⁷¹

⁸⁷¹ ELCON Initial Comments at 11.

c. Commission Determination

377. We modify the NOPR proposal to require transmission providers in each transmission planning region to reassess and revise the Long-Term Scenarios that they use in Long-Term Regional Transmission Planning at least once every five years. In implementing this requirement, transmission providers in each transmission planning region must reassess whether the data inputs and factors incorporated in previously developed Long-Term Scenarios need to be updated and then revise those Long-Term Scenarios, as needed, to reflect updated data inputs and factors. At the outset of a Long-Term Regional Transmission Planning cycle, transmission providers may develop the new Long-Term Scenarios either by crafting entirely new Long-Term Scenarios, or by updating the data inputs and factors of previously developed Long-Term Scenarios.

378. To assist transmission providers in implementing the requirement to reassess and revise Long-Term Scenarios used in Long-Term Regional Transmission Planning at least once every five years, we clarify that the process, which begins with the development of Long-Term Scenarios using best available data inputs, and proceeds to identifying Long-Term Transmission Needs, measuring the benefits of Long-Term Regional Transmission Facilities to address those needs, and evaluating and deciding whether to select Long-Term Regional Transmission Facilities (collectively, the Long-Term Regional Transmission Planning cycle),⁸⁷² must conclude at a date that is no later than five years after the date that it began.

⁸⁷² The Long-Term Regional Transmission Planning cycle encompasses all components of Long-Term Regional Transmission Planning, including each of these foundational steps.

379. While we find that the record supports a five-year interval before new Long-Term Scenarios must be developed, we also conclude that transmission providers should not need the full five-year period to reach the point in Long-Term Regional Transmission Planning at which they decide whether to select Long-Term Regional Transmission Facilities that they have evaluated. Accordingly, we require transmission providers to complete the steps of the Long-Term Regional Transmission Planning cycle and determine whether to select Long-Term Regional Transmission Facilities no later than three years from the date when the Long-Term Regional Transmission Planning cycle began.⁸⁷³ Specifically, we find the record demonstrates that three years provides sufficient time for transmission providers to develop Long-Term Scenarios, identify Long-Term Transmission Needs, measure the benefits of Long-Term Regional Transmission Facilities to address those needs, and evaluate and decide whether to select Long-Term Regional Transmission Facilities.⁸⁷⁴ At the same time, we are persuaded by commenters' concerns that requiring the Long-Term Regional Transmission Planning cycle to repeat at three-year intervals could be administratively burdensome, and that the benefit of updating Long-Term Scenarios every three years may not outweigh those additional burdens.⁸⁷⁵ We therefore find that requiring selection decisions to occur within three years of commencing a Long-Term Regional Transmission Planning cycle, while allowing as long as five years between the commencement of each planning cycle, strikes an appropriate balance by ensuring timely identification, evaluation, and selection of more efficient or cost-effective Long-Term Regional Transmission Facilities, while balancing the administrative burden associated with updating the Long-Term Scenarios that form the basis for Long-Term Regional Transmission Planning during each planning cycle.⁸⁷⁶

⁸⁷³ To be clear, nothing in this final order prevents transmission providers from evaluating and selecting additional Long-Term Regional Transmission Facilities after year three of the Long-Term Regional Transmission Planning cycle and before the next five-year Long-Term Regional Transmission Planning cycle begins. However, if Long-Term Regional Transmission Facilities are selected at year three of the Long-Term Regional Transmission Planning cycle, those same Long-Term Regional Transmission Facilities cannot be de-selected during the remainder of the current five-year planning cycle.

⁸⁷⁴ See ACORE Initial Comments at 10; Advanced Energy Buyers Initial Comments at 7; AEE Initial Comments at 8-9; AEP Initial Comments at 5, 8, 13-14; Amazon Initial Comments at 3; Arizona Commission Initial Comments at 4; BP Initial Comments at 4; Breakthrough Energy Supplemental Comments at 1; CAISO Initial Comments at 21; California Water Initial Comments at 15; Clean Energy Associations Initial Comments at 10; Clean Energy Buyers Initial Comments at 13; DC and MD Offices of People's Counsel Initial Comments at 8; Entergy Initial Comments at 11; Idaho Power Initial Comments at 4; Interwest Initial Comments at 6-8; Joint Consumer Advocates Initial Comments at 8; Nevada Commission Initial Comments at 7; New England Offshore Wind Initial Comments at 2; New Jersey Commission Initial Comments at 11; NYISO Initial Comments at 18; Pacific Northwest State Agencies Initial Comments at 13-14; Pennsylvania Commission Initial Comments at 5; PG&E Initial Comments at 6; PIOs Initial Comments at 16; PJM Initial Comments at 5-6, 63; SEIA Initial Comments at 6; SPP Market Monitor Initial Comments at 6; US DOE Initial Comments at 11; Vermont State Entities Initial Comments at 5; WE ACT Initial Comments at 3.

⁸⁷⁵ See Ameren Initial Comments at 12-13; American Municipal Power Initial Comments at 33; California Commission Initial Comments at 16; Duke Initial Comments at 11; ISO-NE Initial Comments at 24; MISO Initial Comments at 28-29; MISO TOs Initial Comments at 17; NARUC Initial Comments at 6-7; NESCOE Initial Comments at 25-26; OMS Initial Comments at 4-5; Pacific Northwest State Agencies Initial Comments at 15; Vermont State Entities Initial Comments at 5; WIRES Initial Comments at 7.

⁸⁷⁶ Accordingly, we decline NYISO's request to clarify that the transmission provider may extend the transmission planning cycle. As explained, we find that three years provides sufficient time to complete the actions necessary to make selection decisions.

380. We find that requiring transmission providers to reassess and revise Long-Term Scenarios used in Long-Term Regional Transmission Planning at least once every five years is necessary to ensure that the Long-Term Scenarios accurately reflect factors that may change over the five-year time span, such as changes in technology, load forecasts, or Federal, federally-recognized Tribal, state, or local laws. Furthermore, regular scenario reassessment and revision may also address some of the uncertainty associated with Long-Term Regional Transmission Planning over a 20-year transmission planning horizon that some commenters assert may result in under-building or over-building transmission facilities.⁸⁷⁷ As discussed below in the Specificity of Data Inputs section, nothing in this final order prohibits transmission providers from updating the inputs used to inform Long-Term Scenarios during a Long-Term Regional Transmission Planning cycle.

⁸⁷⁷ Industrial Customers Initial Comments at 15-16, 19-21; NRECA Initial Comments at 18-19, 28; Vistra Initial Comments at 7.

381. As discussed in the Evaluation and Selection of Long-Term Regional Transmission Facilities section of this final order, transmission providers must designate a point in the evaluation process at which they will make a decision to either select or not select the relevant Long-Term Regional Transmission Facility (or portfolio of such Facilities). Further, we clarify that transmission providers must conclude a Long-Term Regional Transmission Planning cycle before developing Long-Term Scenarios at the beginning of the next Long-Term Regional Transmission Planning cycle. Given that, as we state directly above, nothing in this final order prevents transmission providers from evaluating and selecting additional Long-Term Regional Transmission Facilities after year three of the Long-Term Regional Transmission Planning cycle and before the next five-year Long-Term Regional Transmission Planning cycle begins, we further find that transmission providers must designate the point in time or action that concludes a Long-Term Regional Transmission Planning cycle. Such designation will ensure transparency regarding whether the transmission providers are engaging in the evaluation and selection of additional Long-Term Regional Transmission Facilities after year three of the Long-Term Regional Transmission Planning cycle.

382. Some commenters express concern that the proposal to reassess Long-Term Scenarios in concurrent Long-Term Regional Transmission Planning cycles would create uncertainty as to which cycle produced the controlling outcome and would burden stakeholders (e.g., requiring them to provide input on the development of Long-Term Scenarios for the next Long-Term Regional Transmission Planning cycle while also requiring them to provide input on Long-Term Regional Transmission Facilities being considered for selection from the previous Long-Term Regional Transmission Planning cycle).⁸⁷⁸ By providing for a period of up to two years between the date by which transmission providers are required to make a decision to select or not select Long-Term Regional Transmission Facilities and the date by which the next Long-Term Regional Transmission Planning cycle must commence, and by clarifying that transmission providers must conclude one Long-Term Regional Transmission Planning cycle before another begins, this final order will appropriately minimize confusion regarding overlap between planning assessments. Specifically, this clarification will allow transmission providers to use in subsequent Long-Term Regional Transmission Planning cycles updated base or reference cases that include all Long-Term Regional Transmission Facilities that were selected in a previous Long-Term Regional Transmission Planning cycle, including those not yet in service. We find that including the selected Long-Term Regional Transmission Facilities in subsequent Long-Term Regional Transmission Planning cycles will improve the accuracy of Long-Term Regional Transmission Planning.

⁸⁷⁸ Eversource Initial Comments at 15; ISO-NE Initial Comments at 24; NESCOE Initial Comments at 26.

383. In response to WIRES's request,⁸⁷⁹ we clarify that transmission providers need not routinely reevaluate selected Long-Term Regional Transmission Facilities. However, we note that, as discussed further in the Evaluation and Selection of Long-Term Regional Transmission Facilities section below, we require transmission providers to reevaluate previously selected Long-Term Regional Transmission Facilities in certain specified circumstances.

⁸⁷⁹ WIRES Initial Comments at 7.

384. Given that we are requiring transmission providers in each transmission planning region to reassess and revise Long-Term Scenarios used in Long-Term Regional Transmission Planning at least once every five years, thus establishing the maximum length of the Long-Term Regional Transmission Planning cycle, we affirm that to the extent that transmission providers believe that a shorter Long-Term Regional Transmission Planning cycle is appropriate for their transmission planning region and circumstances, they may propose on compliance to conduct Long-Term Regional Transmission Planning more frequently than every five years.

385. We find AEP's request to require all transmission planning regions to follow the same-length transmission planning cycles is beyond the scope of this proceeding.⁸⁸⁰ In the NOPR, we proposed frequency requirements related to the Long-Term Regional Transmission Planning cycles but did not propose a requirement for transmission providers to align their regional transmission planning cycles with those of the transmission providers in neighboring transmission planning regions.

⁸⁸⁰ AEP Initial Comments at 5, 8, 14; AEP Reply Comments at 5.

386. While we do not establish a technical conference after the first Long-Term Regional Transmission Planning cycle, as ELCON requests,⁸⁸¹ the Commission has discretion to conduct additional proceedings at a future date if it finds they are warranted.

⁸⁸¹ ELCON Initial Comments at 11.

3. Categories of Factors

a. Requirement To Incorporate Categories of Factors

i. NOPR Proposal

387. In the NOPR, the Commission proposed to require transmission providers to incorporate specific categories of factors in the development of Long-Term Scenarios as part of Long-Term Regional Transmission Planning.⁸⁸² Specifically, the Commission proposed to require transmission providers to incorporate, at a minimum, the following categories of factors in the development of Long-Term Scenarios: (1) Federal, state, and local laws and regulations that affect the future resource mix and demand; ⁸⁸³ (2) Federal, state, and local laws and regulations on decarbonization and electrification; (3) state-approved utility integrated resource plans and expected supply obligations for load-serving entities; (4) trends in technology and fuel costs within and outside of the electricity supply industry, including shifts toward electrification of buildings and transportation; (5) resource retirements; (6) generator interconnection requests and withdrawals; and (7) utility and corporate commitments and Federal, state, and local goals ⁸⁸⁴ that affect the future resource mix and demand.⁸⁸⁵

⁸⁸² NOPR, 179 FERC ¶ 61,028 at PP 104-112.

⁸⁸³ Id. P 104 n.189. The Commission explained that “state or federal laws or regulations” meant “enacted statutes (i.e., passed by the legislature and signed by the executive) and regulations promulgated by a relevant jurisdiction, whether within a state, municipality, or at the federal level.”

⁸⁸⁴ Id. P 104 n.195. The Commission explained that “goal” meant “any commitment or statement expressed in writing that is not a law or regulation.”

⁸⁸⁵ Id. P 104.

388. The Commission preliminarily found that incorporating, at a minimum, these categories of factors in the development of Long-Term Scenarios is appropriate because these categories of factors affect the future resource mix and demand, and their incorporation in Long-Term Scenarios is therefore essential to identifying transmission needs driven by changes in the resource mix and demand through Long-Term Regional Transmission Planning.⁸⁸⁶ To the extent that transmission providers in a transmission planning region would like to incorporate additional categories of factors in the development of Long-Term Scenarios, the Commission proposed to require that they demonstrate on compliance with any final order that the incorporation of more than the minimum categories is consistent with or superior to any final order in this proceeding.⁸⁸⁷

⁸⁸⁶ Id. P 105.

⁸⁸⁷ Id.

389. Also, as discussed in the Coordination of Regional Transmission Planning and Generator Interconnection Processes section of the NOPR,⁸⁸⁸ the Commission proposed to require that transmission providers consider in their Long-Term Regional Transmission Planning regional transmission facilities that address interconnection-related transmission needs that the transmission provider has identified multiple times in the generator interconnection process but that have never been constructed due to the withdrawal of the underlying interconnection request(s). The Commission proposed to require that transmission providers incorporate the specific interconnection-related needs identified through that proposed reform, in addition to one or more factors that more generally characterize generator interconnection withdrawals, as a factor in the generator interconnection requests and withdrawals category of factors in their development of Long-Term Scenarios.⁸⁸⁹

⁸⁸⁸ Id. PP 166-174.

⁸⁸⁹ Id. P 107.

390. The Commission explained that incorporation of the categories of factors set forth above in developing Long-Term Scenarios would help facilitate the identification of transmission needs driven by changes in the resource mix and demand, which the Commission preliminarily found was necessary to ensure just and reasonable and not unduly discriminatory or preferential Commission-jurisdictional rates. The Commission explained that absent a requirement to incorporate these categories of factors in the development of Long-Term Scenarios, transmission providers may not incorporate known inputs that likely will affect the future resource mix and demand. Additionally, the Commission explained that transmission providers may not adequately identify transmission needs driven by changes in the resource mix and demand and evaluate the potential benefits of regional transmission facilities that may more efficiently or cost-effectively meet such needs. The Commission stated that, as an additional benefit, this requirement would provide clarity to transmission providers and stakeholders regarding which factors must be considered in scenario development.⁸⁹⁰

⁸⁹⁰ Id. P 111.

ii. Comments

(a) Requirement To Incorporate Categories of Factors

391. A number of commenters support the proposal to require transmission providers to incorporate in their development of Long-Term Scenarios the seven specific categories of factors identified in the NOPR.⁸⁹¹ Georgia Commission asserts that these categories of factors adequately capture the factors expected to drive changes in the resource mix and demand,⁸⁹² and APPA states that they reflect potential drivers of the need for new transmission.⁸⁹³

⁸⁹¹ ACEG Initial Comments at 7; Advanced Energy Buyers Initial Comments at 5; AEE Initial Comments at 9-10; Breakthrough Energy Initial Comments at 14; Breakthrough Energy Supplemental Comments at 1; City of New York Initial Comments at 7; Clean Energy Associations Initial Comments at 10-11; Clean Energy Buyers Initial Comments at 14-15; ELCON Initial Comments at 12; Eversource Initial Comments at 16-17; Illinois Commission Initial Comments at 4-5; Kansas Commission Initial Comments at 14-15; Nevada Commission Initial Comments at 8; Northwest and Intermountain Initial Comments at 13; NRECA Initial Comments at 30; OMS Initial Comments at 6; Ørsted Initial Comments at 6; Pacific Northwest State Agencies Initial Comments at 14; PG&E Initial Comments at 6; Pine Gate Initial Comments at 22; PIOs Initial Comments at 17-18; PJM Initial Comments at 6, 64; SEIA Initial Comments at 7; Southeast PIOs Initial Comments at 44-45; US DOE Initial Comments at 11-12.

⁸⁹² Georgia Commission Initial Comments at 4.

⁸⁹³ APPA Initial Comments at 27-28.

392. AEE asks that the Commission clarify that consideration of each factor is mandatory, arguing that failing to take into account any of the seven listed categories of factors would risk under-investment in regional transmission facilities, which could result in unjust and unreasonable rates.⁸⁹⁴ Evergreen Action and Pine Gate assert that the Commission should require that the seven factors are “incorporated” instead of “considered” in order to make clear that incorporation is not optional.⁸⁹⁵ Otherwise, Pine Gate states, transmission providers may ignore certain categories relevant and critical to identifying needed transmission infrastructure.⁸⁹⁶

⁸⁹⁴ AEE Initial Comments at 10.

⁸⁹⁵ Evergreen Action Initial Comments at 4; Pine Gate Initial Comments at 22-23.

⁸⁹⁶ Pine Gate Initial Comments at 22.

393. DC and MD Offices of People's Counsel also urge the Commission to require that all seven factor categories listed in the NOPR be included in Long-Term Scenarios.⁸⁹⁷ DC and MD Offices of People's Counsel and ACEG state that the flexibility proposed in the NOPR could give transmission providers the option of not considering the last four factor categories.⁸⁹⁸ SEIA recommends that the Commission establish guidelines on the information used to determine factors in the last four factor categories to ensure some level of certainty in how they are reflected in Long-Term Scenarios.⁸⁹⁹

⁸⁹⁷ DC and MD Offices of People's Counsel Initial Comments at 11-12.

⁸⁹⁸ ACEG Initial Comments at 28; DC and MD Offices of People's Counsel Initial Comments at 11.

⁸⁹⁹ SEIA Initial Comments at 9-10.

394. Clean Energy Buyers support the NOPR proposal, arguing that requiring uniform categories of factors across transmission planning regions could promote efficiency and interregional coordination.⁹⁰⁰ Southeast PIOs argue that broader consideration of resource trends and other transmission drivers through comprehensive scenarios will inform the decision-making of state authorities tasked with approving transmission facilities.⁹⁰¹ Indicated US Senators and Representatives express general support for proactive transmission planning that considers a broad range of factors.⁹⁰²

⁹⁰⁰ Clean Energy Buyers Initial Comments at 14-15.

⁹⁰¹ Southeast PIOs Reply Comments at 26.

⁹⁰² Indicated US Senators and Representatives Initial Comments at 1.

395. MISO TOs, MISO, and OMS state that existing MISO processes already identify and consider the proposed categories of factors to develop scenarios for transmission planning.⁹⁰³ MISO TOs further claim that there is no need to require that MISO consider additional factors.⁹⁰⁴ OMS supports the NOPR's proposed requirements as to the minimum categories of factors and asserts that the categories of factors proposed in the NOPR are all included in MISO's existing transmission planning processes.⁹⁰⁵

⁹⁰³ MISO Initial Comments at 34-35; MISO TOs Initial Comments at 18; OMS Initial Comments at 6.

⁹⁰⁴ MISO TOs Initial Comments at 18.

⁹⁰⁵ OMS Initial Comments at 6.

396. Some commenters support the NOPR proposal because they note that it provides transmission providers with flexibility as to the specific factors they incorporate into their development of Long-Term Scenarios, as well as how they incorporate those factors.⁹⁰⁶

⁹⁰⁶ Exelon Initial Comments at 10-11; Georgia Commission Initial Comments at 4; Illinois Commission Initial Comments at 7; NEPOOL Initial Comments at 7.

397. A few commenters support the NOPR proposal to allow transmission providers to incorporate additional categories of factors if they can demonstrate that doing so is consistent with or superior to the final order.⁹⁰⁷ Specifically, AEE states that the Commission should clarify that transmission providers can propose to consider other categories of factors.⁹⁰⁸

⁹⁰⁷ Acadia Center and CLF Initial Comments at 9; Clean Energy Buyers Initial Comments at 14-15; ELCON Initial Comments at 12; NESCOE Initial Comments at 27; US DOE Initial Comments at 11-12.

⁹⁰⁸ AEE Initial Comments at 10.

398. Pattern Energy states that the Commission should provide examples of how the categories of factors and their associated sensitivities may be modeled to ensure that each Long-Term Scenario is useful for Long-Term Regional Transmission Planning. For example, Pattern Energy asks whether the different scenarios alter the various assumptions for each (or some) of the factors. Alternatively, Pattern Energy asks whether the assumptions remained fixed across scenarios and different scenarios are designed to evaluate different transmission solutions.⁹⁰⁹

⁹⁰⁹ Pattern Energy Initial Comments at 24.

(b) Requests for Flexibility

399. Some commenters argue that the Commission should give transmission providers more flexibility to determine the appropriate categories of factors or individual factors to include in their development of Long-Term Scenarios.⁹¹⁰ NESCOE contends that providing flexibility would be consistent with the Commission's approach in Order No. 1000, where it did not require the identification of transmission needs driven by any particular Public Policy Requirements.⁹¹¹ PG&E argues that the Commission should allow transmission providers to experiment with how they define scenarios and factors to best reflect the policy and planning environments of their transmission planning regions.⁹¹² EEI notes that not all of the factors listed in the NOPR may be relevant for all transmission planning regions during every long-term assessment and explains that private sector, Federal, state, and local public policy goals may diverge or conflict, especially in multi-state regions.⁹¹³

⁹¹⁰ Alabama Commission Initial Comments at 7; APPA Initial Comments at 27-28; Dominion Initial Comments at 25; Indicated PJM TOs Initial Comments at 8-9; MISO Initial Comments at 29; NARUC Initial Comments at 8-9; New York TOs Initial Comments at 11-12; NYISO Initial Comments at 8, 20; Pennsylvania Commission Initial Comments at 5-6; PG&E Initial Comments at 7.

⁹¹¹ NESCOE Initial Comments at 27-28 (citing Order No. 1000, 136 FERC ¶ 61,051 at P 207).

⁹¹² PG&E Initial Comments at 7.

⁹¹³ EEI Initial Comments at 12-13.

400. ISO-NE requests that the Commission provide transmission providers with flexibility in the consideration of factors for inclusion in each scenario, noting that the factors may vary from study to study depending on the study objectives. Specifically, ISO-NE argues that the Commission should not require that each Long-Term Scenario account for and consistently reflect the first three categories of factors: Federal, state, and local laws and regulations on the future resource mix, decarbonization and electrification, and state-approved integrated resource plans. ISO-NE emphasizes that the Commission should not require local laws to be consistently reflected in and accounted for in Long-Term Scenarios. ISO-NE argues that, in addition to being too prescriptive, such a requirement would introduce unnecessary and substantial administrative burdens and compliance risks with the possibility for inadvertent exclusion of a required law, regulation, or integrated resource plan. Moreover, ISO-NE contends, it would unnecessarily prevent testing of variations with these categories of factors, limiting the usefulness of scenario analysis.⁹¹⁴

⁹¹⁴ ISO-NE Initial Comments at 26-27.

401. Idaho Commission and Idaho Power argue that the NOPR proposal is too prescriptive.⁹¹⁵ PJM advises the Commission not to include too many inflexible details in the implementation of the factors.⁹¹⁶ However, PJM generally supports the NOPR proposal to create seven factors that should guide the development of scenarios with some additions and revisions.⁹¹⁷

⁹¹⁵ Idaho Commission Initial Comments at 3; Idaho Power Initial Comments at 5.

⁹¹⁶ PJM Initial Comments at 67.

⁹¹⁷ Id. at 6, 64.

402. NYISO states that the Commission should not prescribe specific categories of factors that transmission providers must use and instead should allow each transmission planning region, in coordination with state entities and stakeholders, to determine to what extent and how the seven categories of factors should be applied.⁹¹⁸ SEIA disagrees, asserting that each proposed category of factors is broad enough to reflect regional differences within the category, but suggests that the Commission provide flexibility on implementation details. SEIA explains that the categories of factors do not set forth specific requirements on how much weight each factor should have in each Long-Term Scenario, what generation mix will result from the mix of factors, or what models to use. SEIA states that the Commission should allow transmission providers to include these implementation details in their manuals.⁹¹⁹

⁹¹⁸ NYISO Initial Comments at 8, 20.

⁹¹⁹ SEIA Reply Comments at 3-4.

403. Some commenters express support for some or all of the proposed categories of factors but request that the Commission provide transmission providers with flexibility in how they incorporate the factors into their development of Long-Term Scenarios.⁹²⁰ For example, TANC requests that the Commission allow transmission planning regions, in consultation with stakeholders, to exclude some of the proposed factors (i.e., regulatory and corporate goals or technology trends) from their development of Long-Term Scenarios.⁹²¹ TANC also advocates that the Commission should allow transmission planning regions to determine the manner in which other factors, namely trends, resource requirements, generator interconnection requests, and withdrawals, are incorporated in regional transmission planning studies. Although SPP states that most of the categories of factors are appropriate, it contends that requiring the listed factors to be incorporated, rather than considered, in development of Long-Term Scenarios could overburden the process.⁹²²

⁹²⁰ Ameren Initial Comments at 9-12; APPA Initial Comments at 27-28; Arizona Commission Initial Comments at 5; Eversource Initial Comments at 16-17; ISO-NE Initial Comments at 26; LADWP Initial Comments at 3; TANC Initial Comments at 9-10.

⁹²¹ TANC Initial Comments at 9-10.

⁹²² SPP Initial Comments at 7-8.

404. NEPOOL states that the categories of factors identified in the NOPR seem generic enough to allow implementation despite regional differences or changes in circumstances over time but contends that the Commission should carefully consider different market structures and potential changes to state policies to ensure that any requirement accommodates regional differences.⁹²³ Pine Gate further requests clarification as to the degree of flexibility that the Commission will grant to transmission providers in how they incorporate each factor into Long-Term Scenarios.⁹²⁴

⁹²³ NEPOOL Initial Comments at 7.

⁹²⁴ Pine Gate Initial Comments at 22-23.

(c) Concerns With the Requirement To Incorporate Categories of Factors

405. Large Public Power argues that the NOPR proposal ignores the Commission's fundamental responsibility to facilitate planning to meet the needs of load-serving entities, as well as Congress' recognition that load-serving entities themselves have a fundamental obligation to build transmission to meet their load.⁹²⁵ Large Public Power asserts that the NOPR proposal to establish factors that look more broadly than the Commission's core obligations under the FPA threatens to undermine the needs of load-serving entities and their customers.⁹²⁶ Further, Large Public Power contends that the Commission has no authority to direct the development of transmission facilities.⁹²⁷ Similarly, some commenters voice concerns with the use of categories of factors to direct transmission investment.⁹²⁸ Louisiana Commission states that the incorporation of speculative factors would result in a large-scale transmission build-out to accommodate the policy preference of some, at the cost of all.⁹²⁹

⁹²⁵ Large Public Power Initial Comments at 19-20 (citing 16 U.S.C. 824q, (e)); see also NRECA Initial Comments at 17-18 (quoting 16 U.S.C. 824q(b)(4)), 19-20).

⁹²⁶ Large Public Power Initial Comments at 20-21.

⁹²⁷ Id. at 11 (citing 16 U.S.C. 824o(i)(2)).

⁹²⁸ Industrial Customers Initial Comments at 11; Louisiana Commission Initial Comments at 17-19

⁹²⁹ Louisiana Commission Initial Comments at 17-19.

406. Undersigned States claim that the proposed requirement that each Long-Term Scenario “incorporate and be consistent” with certain factors does not address potentially irresolvable conflicts over how certain factors affect the future resource mix and demand.⁹³⁰ PPL criticizes the NOPR for failing to explain how to translate the proposed factors into usable assumptions that can feed into transmission planning models, leading to increased uncertainty for transmission developers and greater difficultly in financing transmission projects or gaining siting approval.⁹³¹

⁹³⁰ Undersigned States Initial Comments at 3.

⁹³¹ PPL Initial Comments at 8.

(d) Alternative Frameworks

407. Other commenters propose alternative frameworks for incorporating factors in the development of Long-Term Scenarios. PPL believes that the Commission's proposed categories of factors are largely overlapping and can be summarized and replaced by a single factor: reasonable expectations regarding the future resource mix and demand.⁹³² ENGIE suggests that, because the Commission's proposed factors may be too numerous for transmission providers to model, certain factors (i.e., laws, regulations, and announced retirements) should be fixed while others are varied or studied as sensitivities (i.e., costs, demand, and resource development trends).⁹³³ PIOs state that the Commission must set minimum requirements for some factors, asserting that there is broad support for minimum requirements.⁹³⁴

⁹³² Id. at 7.

⁹³³ ENGIE Initial Comments at 3.

⁹³⁴ PIOs Reply Comments at 10.

408. GridLab contends that the Commission's proposal to require that transmission providers incorporate specific categories of factors in the development of Long-Term Scenarios cannot be enforced and that such broad factors will not change investment outcomes. GridLab states that the proposed list of factors are a helpful minimum standard and recommends that the Commission focus on whether transmission providers have meaningfully incorporated them into Long-Term Regional Transmission Planning.⁹³⁵ Further, GridLab avers that local laws and regulations and corporate commitments are difficult to incorporate into Long-Term Regional Transmission Planning in a bottom-up, meaningful way.⁹³⁶ As an alternative, GridLab suggests that transmission providers could use aggregate assumptions and indicative scenario design and allow state and local agencies, as well as other stakeholders, to provide inputs into scenario development, and then evaluate whether the resulting scenarios are consistent with state, local, and corporate commitments.⁹³⁷

⁹³⁵ GridLab Initial Comments at 21-22.

⁹³⁶ Id. at 22.

⁹³⁷ Id.

iii. Commission Determination

409. We adopt the NOPR proposal to require transmission providers in each transmission planning region to incorporate the seven specific categories of factors proposed in the NOPR, as modified in this final order, in the development of Long-Term Scenarios. Specifically, as discussed in more detail below, transmission providers must incorporate in the development of Long-Term Scenarios: (1) Federal, federally-recognized Tribal,⁹³⁸ state, and local laws and regulations affecting the resource mix and demand; (2) Federal, federally-recognized Tribal, state, and local laws and regulations on decarbonization and electrification; (3) state-approved integrated resource plans and expected supply obligations for load-serving entities; (4) trends in fuel costs and in the cost, performance, and availability of generation, electric storage resources, and building and transportation electrification technologies; (5) resource retirements; (6) generator interconnection requests and withdrawals; and (7) utility and corporate commitments and Federal, federally-recognized Tribal, state, and local policy goals that affect Long-Term Transmission Needs.⁹³⁹ We address each of these categories of factors in the Specific Categories of Factors determination section below.

⁹³⁸ We emphasize that we are requiring transmission providers to incorporate laws and regulations into Long-Term Scenario development. As noted earlier, while we are providing this opportunity for federally-recognized Tribes to voluntarily participate, we are not imposing any requirements on them to participate.

⁹³⁹ Modifications to the title of Factor Categories One, Two, Four, and Seven are discussed in the Specific Categories of Factors determination section.

410. We find that existing regional transmission planning requirements fail to ensure that transmission providers adequately account on a forward-looking basis for known determinants of Long-Term Transmission Needs.⁹⁴⁰ Many commenters in this proceeding, even some that may oppose the prescriptiveness of the requirement or otherwise request more flexibility in how transmission providers account for factors affecting Long-Term Transmission Needs,⁹⁴¹ generally agree that the categories of factors outlined in the NOPR account for many of the known determinants of such needs. We find that incorporating the seven categories of factors in the development of Long-Term Scenarios is necessary because these categories of factors are essential to identifying Long-Term Transmission Needs. Further, we find that requiring transmission providers to incorporate the enumerated categories of factors in Long-Term Regional Transmission Planning will help to ensure that transmission providers are accounting for known and identifiable drivers of Long-Term Transmission Needs.

⁹⁴⁰ NOPR, 179 FERC ¶ 61,028 at PP 50-51.

⁹⁴¹ See, e.g., EEI Initial Comments at 12-13; PJM Initial Comments at 64-67.

411. We are not persuaded by commenters' arguments that certain of the categories of factors may not be relevant in certain transmission planning regions and therefore that transmission providers should not be required to incorporate those categories of factors in the development of Long-Term Scenarios.⁹⁴² We decline to allow transmission providers to exclude some of the proposed categories of factors from being incorporated in the development of Long-Term Scenarios, as certain commenters request, because we conclude that each category of factors includes important determinants of Long-Term Transmission Needs. We are concerned that not requiring incorporation of all of the proposed categories of factors in Long-Term Scenarios would increase the likelihood that transmission providers will continue to underestimate—or omit entirely—certain known determinants of Long-Term Transmission Needs in their regional transmission planning processes.

⁹⁴² See, e.g., EEI Initial Comments at 12-13; SPP Initial Comments at 7-8.

412. In response to AEE's request, we affirm that the seven categories of factors adopted in this final order are the minimum set of known determinants of Long-Term Transmission Needs that transmission providers must incorporate into the development of their Long-Term Scenarios, and we decline to adopt the NOPR proposal to require transmission providers to demonstrate on compliance that the incorporation of additional categories of factors is consistent with or superior to any final order in this proceeding.⁹⁴³ Transmission providers may be aware of additional categories of factors beyond those adopted in this final order that drive Long-Term Transmission Needs and, thus, should be incorporated into the development of Long-Term Scenarios. While transmission providers may incorporate additional categories of factors into the development of Long-Term Scenarios, we require in this final order that each Long-Term Scenario remains plausible, as discussed further below.

⁹⁴³ AEE Initial Comments at 10.

413. We clarify that incorporating each category of factors into the development of Long-Term Scenarios means more than merely considering each category of factors in the development of Long-Term Scenarios.⁹⁴⁴ Incorporating a category of factors in the development of Long-Term Scenarios means that transmission providers must use factors in the category, for each factor individually or collectively, to determine the assumptions that will be used in the development of Long-Term Scenarios. Incorporating a category of factors into the development of Long-Term Scenarios does not require exacting precision; transmission providers may generalize how all of the discrete factors in a category of factors will, in the aggregate, affect the development of Long-Term Scenarios.⁹⁴⁵ However, we expect that similar factors (or groups of factors) affecting a single assumption used in the development of Long-Term Scenarios will have an additive effect on that assumption.⁹⁴⁶ We also expect that incorporating a category of factors into the development of Long-Term Scenarios will result in scenarios that differ from scenarios lacking that specific category of factors; that is, the incorporation of a category of factors should have a measurable impact on the Long-Term Scenario, compared to that same Long-Term Scenario, all else equal, if it had not incorporated that category of factors.

⁹⁴⁴ Evergreen Action Initial Comments at 4; Pine Gate Initial Comments at 22-23.

⁹⁴⁵ For example, transmission providers could aggregate the effect of corporate goals by leveraging publicly available surveys of corporations' clean energy and electrification goals and then using those surveys to inform the assumptions used to develop Long-Term Scenarios (e.g., 10% more clean energy resources and 10% higher load growth for a Long-Term Scenario that assumes full achievement of those goals than in a Long-Term Scenario that does not consider such goals).

⁹⁴⁶ For example, two independent factors that increase the likelihood of future electric storage resource development (e.g., (1) a state law requiring the deployment of at least 5 gigawatts of electric storage resources by 2030 and (2) a Federal investment tax credit for the deployment of electric storage resources) would have a combined effect that exceeds the effect of either factor alone.

414. We believe that the best-available data requirement, which we adopt and discuss further below, should mitigate concerns that transmission providers may undermine Long-Term Regional Transmission Planning by not incorporating categories of factors in a meaningful way.⁹⁴⁷ The best-available data requirement will ensure that the data inputs that transmission providers use to incorporate categories of factors are timely, developed using best practices, and diverse and expert perspectives. We also clarify that, as a consequence of the requirement that all Long-Term Scenarios must be plausible, as well as the requirement that all Long-Term Scenarios must be diverse, both of which we adopt and discuss below, transmission providers must incorporate the categories of factors in the development of Long-Term Scenarios in a way that results in plausible and diverse Long-Term Scenarios.

⁹⁴⁷ E.g., ACEG Initial Comments at 28.

415. As to the factors within each category that transmission providers must account for when they incorporate each category of factors in the development of Long-Term Scenarios, we require transmission providers to account for the factors that they have determined are likely to affect Long-Term Transmission Needs. As explained above, these Long-Term Transmission Needs include, but are not limited to, evolving reliability concerns and changes in the resource mix, and changes in demand. For each factor (or group of similar factors) within each category of factors that transmission providers identify, in coordination with stakeholders through an open and transparent process as described below, transmission providers must make a determination as to how that factor (or group of similar factors) is likely to affect Long-Term Transmission Needs. Transmission providers must then account for the factors that they have determined are likely to affect Long-Term Transmission Needs in the development of the Long-Term Scenarios used in Long-Term Regional Transmission Planning. We clarify, however, that transmission providers in a transmission planning region need not account for a factor, stakeholder-identified or otherwise, if they determine that factor is unlikely to affect Long-Term Transmission Needs.

416. We also clarify that a category of factors (e.g., Factor Category Two: Federal, federally-recognized Tribal, state, and local laws and regulations on decarbonization and electrification) differs from a specific factor (e.g., a specific state law with a decarbonization requirement). We make this distinction because some commenters use only the word “factors” when describing the categories of factors proposed in the NOPR.⁹⁴⁸

⁹⁴⁸ E.g., AEE Initial Comments at 9; Evergreen Action Initial Comments at 4.

417. We disagree with commenters that the categories of factors requirements are too prescriptive,⁹⁴⁹ and we believe that the framework adopted in this final order requiring transmission providers to incorporate categories of factors into the development of Long-Term Scenarios strikes the right balance between prescriptive requirements and flexibility. Transmission providers have discretion to determine whether specific factors must be accounted for within each category (i.e., if the specific factor will likely affect Long-Term Transmission Needs), how to account for specific factors in the development of Long-Term Scenarios (e.g., the method and data used to forecast resource retirements), and how to vary the treatment of each category of factors across Long-Term Scenarios (e.g., assume all forecasted resource retirements materialize in some but not all Long-Term Scenarios), so long as transmission providers assume that the laws, regulations, state-approved integrated resource plans, and expected supply obligations for load-serving entities identified in the first three categories of factors—that transmission providers have determined are likely to affect Long-Term Transmission Needs—are fully met (as discussed below). We believe that each proposed category of factors is broad enough to allow the transmission providers in each transmission planning region to reflect regional differences within the category, as noted by SEIA and NEPOOL.⁹⁵⁰ In response to PG&E's request that we allow flexibility for transmission providers to use Long-Term Scenarios that best reflect the individual policy and planning environments in their specific transmission planning regions, and to Pattern Energy's questions about how categories of factors may be modeled,⁹⁵¹ we clarify that transmission providers have the flexibility to develop different Long-Term Scenarios specific to their transmission planning region and develop using assumptions based on the categories of factors.

⁹⁴⁹ ISO-NE Initial Comments at 26; NYISO Initial Comments at 8, 20; PJM Initial Comments at 67.

⁹⁵⁰ NEPOOL Initial Comments at 7; SEIA Reply Comments at 3-4.

⁹⁵¹ Pattern Energy Initial Comments at 24; PG&E Initial Comments at 7.

418. In response to NESCOE, we decline to give transmission providers the flexibility to choose which of the proposed categories of factors to incorporate into Long-Term Scenarios, which NESCOE states would be consistent with the flexibility that the Commission provided to transmission providers in Order No. 1000, where it did “not . . . require the identification of any particular transmission need driven by any particular Public Policy Requirements.” ⁹⁵² As noted in The Overall Need for Reform section, there are deficiencies in the Commission's existing regional transmission planning requirements, including that they fail to ensure that transmission providers adequately account on a forward-looking basis for known determinants of Long-Term Transmission Needs. We are concerned that, if transmission providers have flexibility to choose which of the proposed categories of factors to incorporate into the development of Long-Term Scenarios, they will continue to underestimate—or omit entirely—certain known determinants of Long-Term Transmission Needs in their regional transmission planning processes. Additionally, we note that transmission needs are distinct from categories of factors: as explained above, categories of factors, and specific factors therein, form the basis for assumptions that will be used in the development of Long-Term Scenarios that transmission providers will then use to identify Long-Term Transmission Needs.

⁹⁵² NESCOE Initial Comments at 27-28 (citing Order No. 1000, 136 FERC ¶ 61,051 at P 207).

419. We also disagree with arguments that we are directing the development of specific transmission facilities.⁹⁵³ As an initial matter, transmission providers retain discretion to determine how specific factors will affect Long-Term Transmission Needs. Moreover, the categories of factors requirements adopted in this final order do not create new transmission needs that did not previously exist, but rather, they improve regional transmission planning processes by requiring transmission providers to identify Long-Term Transmission Needs across a plausible and diverse range of future scenarios and to identify, evaluate, and select Long-Term Regional Transmission Facilities to address those needs. If transmission providers do not account in Long-Term Regional Transmission Planning for known determinants of Long-Term Transmission Needs, then those needs would still exist and would likely be resolved, if at all, in a relatively inefficient or less cost-effective manner (e.g., in a piecemeal fashion through local transmission planning processes and/or generator interconnection processes). We are not requiring that transmission providers select any particular Long-Term Regional Transmission Facility and therefore are not directing the development of any particular transmission facilities. Finally, we clarify that while the requirement for transmission providers to incorporate the seven categories of factors adopted in this final order into the development of Long-Term Scenarios is intended to ensure that Long-Term Regional Transmission Facilities are identified for selection to more efficiently or cost-effectively address Long-Term Transmission Needs, we do not believe that concerns over whether a transmission provider appropriately implemented this requirement represent an appropriate basis on which to challenge the cost allocation for one or more individual Long-Term Regional Transmission Facilities. Rather, whether the allocation of costs is just and reasonable and not unduly discriminatory is governed by the requirement that costs be roughly commensurate with benefits, as discussed in the Regional Transmission Cost Allocation section below.

⁹⁵³ E.g., Large Public Power Initial Comments at 20-21; see also Alabama Commission Initial Comments at 4; Industrial Customers Initial Comments at 10; Louisiana Commission Initial Comments at 17-19; Pennsylvania Commission Initial Comments at 6.

420. We disagree with Large Public Power's argument that we are ignoring the Commission's fundamental responsibility to facilitate planning to meet the needs of load-serving entities.⁹⁵⁴ As described below, we are requiring all Long-Term Scenarios to be consistent with and fully account for factors in Factor Category Three, which includes state-approved integrated resource plans and the expected supply obligations of load-serving entities. Therefore, transmission providers are required to plan to meet the needs of load-serving entities.

⁹⁵⁴ Large Public Power Initial Comments at 19-20 (citing 16 U.S.C. 824q, (e)); see also NRECA Initial Comments at 17-18 (quoting 16 U.S.C. 824q(b)(4)), 19-20.

421. We decline to adopt more specific minimum requirements than those described herein for incorporating categories of factors in the development of Long-Term Scenarios, as requested by some commenters.⁹⁵⁵ We believe that the requirements adopted herein, coupled with the other Long-Term Scenarios requirements, including the plausible and diverse and best available data requirements, are sufficiently detailed to address the need for reform without limiting regional flexibility.

⁹⁵⁵ E.g., PIOs Reply Comments at 10.

b. Specific Categories of Factors

i. NOPR Proposal

422. In the NOPR, the Commission proposed to require transmission providers to incorporate, at a minimum, the following categories of factors in the development of Long-Term Scenarios: (1) Federal, state, and local laws and regulations that affect the future resource mix and demand; ⁹⁵⁶ (2) Federal, state, and local laws and regulations on decarbonization and electrification; (3) state-approved utility integrated resource plans and expected supply obligations for load-serving entities; (4) trends in technology and fuel costs within and outside of the electricity supply industry, including shifts toward electrification of buildings and transportation; (5) resource retirements; (6) generator interconnection requests and withdrawals; and (7) utility and corporate commitments and Federal, state, and local goals that affect the future resource mix and demand.⁹⁵⁷

⁹⁵⁶ NOPR, 179 FERC ¶ 61,028 at P 104 n.189. The Commission explained that “state or federal laws or regulations” meant “enacted statutes (i.e., passed by the legislature and signed by the executive) and regulations promulgated by a relevant jurisdiction, whether within a state or municipality, or at the federal level.”

⁹⁵⁷ Id. P 104.

(a) Federal, Federally-Recognized Tribal, State, and Local Laws and Regulations That Affect the Future Resource Mix and Demand (Factor Category One)

(1) Comments

423. Many commenters support the proposed requirement that each Long-Term Scenario incorporate and be consistent with the Federal, state, and local laws and regulations that affect the future resource mix and demand.⁹⁵⁸ AEE, Clean Energy States, and Acadia Center and CLF argue that laws and regulations implementing clean energy and decarbonization policies will be key drivers in changes to the resource mix and demand.⁹⁵⁹ Moreover, AEE notes, 38 states and the District of Columbia have adopted renewable portfolio standards, many of which have been enacted in statute and constitute binding commitments on utilities and retail energy providers.⁹⁶⁰ Clean Energy States similarly assert that the 21 states (plus the District of Columbia and Puerto Rico) with 100% clean energy policies account for 42.3% of United States power sales as of 2020, 49.4% of United States customer accounts, and 51% of United States population.⁹⁶¹ Clean Energy States argue that altogether, these states could see an aggregated demand for 800 TWh of new energy generation to meet their targets.

⁹⁵⁸ Acadia Center and CLF Initial Comments at 8; AEE Initial Comments at 9-10; Breakthrough Energy Initial Comments at 14; California Commission Initial Comments at 17; Clean Energy Associations Initial Comments at 10-11; Clean Energy States Initial Comments at 3; Environmental Groups Supplemental Comments at 2; Exelon Initial Comments at 10-11; New England for Offshore Wind Initial Comments at 2; OMS Initial Comments at 6; Pacific Northwest State Agencies at Initial Comments at 14; Pine Gate Initial Comments at 23; PIOs Initial Comments at 17-18; WE ACT Initial Comments at 4-5.

⁹⁵⁹ Acadia Center and CLF Initial Comments at 8; AEE Initial Comments at 10; Clean Energy States Initial Comments at 3.

⁹⁶⁰ AEE Initial Comments at 10 (citing Energy Info. Admin., Renewable Energy Explained, Portfolio Standards (June 29, 2021), https://www.eia.gov/energyexplained/renewable-sources/portfolio-standards.php).

⁹⁶¹ Clean Energy States Initial Comments at 3 (citing Clean Energy States Alliance, 100% Energy Collaborative, https://www.cesa.org/projects/100-clean-energy-collaborative/).

424. AEE, DC and MD Offices of People's Counsel, and SEIA agree that transmission providers should incorporate the effects of Federal, state, and local laws and regulations on renewable energy development into development of Long-Term Scenarios.⁹⁶² City of New York states that government action that bears the force of law should be reflected in baseline transmission planning studies and not considered as merely one of multiple factors used to develop Long-Term Scenarios.⁹⁶³

⁹⁶² AEE Initial Comments at 17-18, 22; DC and MD Offices of People's Counsel Reply Comments at 5-6; SEIA Initial Comments at 7-8.

⁹⁶³ City of New York Initial Comments at 7.

425. Southeast PIOs argue that concerns that requiring the incorporation of local laws and regulations in the development of Long-Term Scenarios is unduly burdensome are misplaced at this stage because the details of how it will be done will be established during compliance proceedings.⁹⁶⁴

⁹⁶⁴ Southeast PIOs Reply Comments at 26.

426. PIOs argue that the Commission should require the same level of engagement with Tribal governments as it does with states and that the Commission should clarify that Long-Term Scenarios must incorporate relevant aspects of Tribal policies.⁹⁶⁵

⁹⁶⁵ PIOs Reply Comments at 15.

427. Acadia Center and CLF claim that the Commission should clarify that state laws and regulations that affect the future resource mix and demand include state laws and regulations that affect demand management, such as energy efficiency, distributed generation, flexible load, and demand response because laws and initiatives in this area will also affect transmission needs while providing grid solutions.⁹⁶⁶

⁹⁶⁶ Acadia Center and CLF Initial Comments at 9.

428. Center for Biological Diversity states that the Commission must include all Executive Actions, not just laws and regulations, as factors in Long-Term Regional Transmission Planning. Center for Biological Diversity states that allowing transmission providers to decide whether to consider Executive Orders fails to provide stakeholders with the type of clarity that is a goal of the NOPR.⁹⁶⁷

⁹⁶⁷ Center for Biological Diversity Initial Comments at 3, 9-12.

429. As noted above, some commenters oppose the overall categories of factors requirement in this final order and argue that requiring transmission providers to incorporate certain factors, such as laws and regulations that affect the resource mix, will force transmission providers to settle irresolvable conflicts among state policies and conduct transmission planning that accommodates the policy preferences of some, at the cost of all.⁹⁶⁸

⁹⁶⁸ Louisiana Commission Initial Comments at 17-18; Undersigned States Initial Comments at 3.

430. Some commenters acknowledge that state laws and regulations may affect the future resource mix and demand but argue against mandatory inclusion such that they cannot discount certain Federal, state, and local laws and regulations.⁹⁶⁹ Idaho Power states that the NOPR proposal does not provide transmission providers with the flexibility necessary to create transmission planning regions that span multiple states and could cause non-jurisdictional entities to opt out of regional transmission planning.⁹⁷⁰ NYISO states that the final order should not require transmission providers to assume across all scenarios the full achievement of all Federal, state, and local laws and regulations that could drive the need for transmission. NYISO also does not think that the final order should require the identification of all Federal, state, and local laws and regulations that may drive the need for transmission over the 20-year transmission planning horizon, but instead should provide each transmission planning region with flexibility.⁹⁷¹

⁹⁶⁹ Ameren Initial Comments at 9-10; NESCOE Initial Comments at 27-28; NYISO Initial Comments at 8, 20.

⁹⁷⁰ Idaho Power Initial Comments at 7.

⁹⁷¹ NYISO Initial Comments at 8.

431. Although Duke agrees that many of the categories of factors identified in the NOPR capture a minimum list of factors that are expected to drive changes in the resource mix and demand, it does not support the inclusion of local laws and regulations.⁹⁷²

⁹⁷² Duke Initial Comments at 13-14.

(2) Commission Determination

432. We adopt the NOPR proposal, with modification, to require transmission providers in each transmission planning region to incorporate Factor Category One: Federal, federally-recognized Tribal, state, and local laws and regulations affecting the resource mix and demand, in the development of Long-Term Scenarios. We find that the factors in this category have been, and will continue to be, key drivers of Long-Term Transmission Needs and therefore must be accounted for in Long-Term Regional Transmission Planning. Accordingly, we find that failing to account for factors in Factor Category One would hamper the identification, evaluation, and selection of Long-Term Regional Transmission Facilities that are potentially more efficient or cost-effective solutions to Long-Term Transmission Needs.

433. We clarify that factors in Factor Category One include, among other things, legally binding obligations, incentives (e.g., tax credits), and/or restrictions promulgated by policymakers that will affect new or existing generators, or demand. Further, as discussed in the Additional Categories of Factors section below, we recognize that energy equity and justice laws and regulations are also potential factors within Factor Category One to the extent that they are likely to affect Long-Term Transmission Needs.

434. As discussed in further detail below in the Additional Categories of Factors section, we modify the NOPR proposal for Factor Category One to include federally-recognized Tribal laws and regulations affecting the resource mix and demand because we are persuaded by commenters that contend that such factors have a similar potential to affect Long-Term Transmission Needs as Federal, state, and local laws and regulations. Federally-recognized Tribal laws and regulations mean the legally binding obligations, incentives, and/or restrictions promulgated by federally-recognized Tribes that will affect new or existing generators, or demand. We make similar modifications to Factor Category Two and Factor Category Seven, as discussed in the Factor Category Two and Factor Category Seven sections below.

435. We are not persuaded by Louisiana Commission's argument that requiring transmission providers to incorporate certain factors, such as Federal, federally-recognized Tribal, state, and local laws and regulations affecting the resource mix and demand, would result in a transmission buildout that only accommodates the policy preferences of some stakeholders, at the cost of all transmission customers.⁹⁷³ Similarly, we are not persuaded by Undersigned States' contention that policy differences among states may be irresolvable, and therefore the Commission should not require transmission providers to account for laws and regulations in their Long-Term Scenarios.⁹⁷⁴ First, every policy choice—from Federal tax incentives and state regulation of generation, down to local economic development policies—that changes the quantity and location of generation and load contributes to changes in transmission needs. Accordingly, all transmission buildout—whether it occurs through a local or regional transmission plan, or through a near-term transmission planning process or a more forward-looking one—is a reflection, at least in part, of Federal, federally-recognized Tribal, state, and local laws and regulations that drive transmission needs. Rather than a unique feature of Long-Term Regional Transmission Planning, transmission planning of any kind will inherently reflect the policy choices of multiple decisionmakers, because the quantity and location of generation and load are shaped by multiple decisionmakers.

⁹⁷³ Louisiana Commission Initial Comments at 17.

⁹⁷⁴ Undersigned States Initial Comments at 3.

436. Second, we find that requiring transmission providers to properly account for known determinants of Long-Term Transmission Needs is necessary to ensure just and reasonable rates. Specifically, because, as described above, Long-Term Transmission Needs driven by disparate policy decisions would continue to exist, regardless of whether they were identified in Long-Term Regional Transmission Planning, failing to identify, evaluate, and select Long-Term Regional Transmission Facilities to address those needs will result in unjust and unreasonable rates. We note that some policy decisions are reflected in laws and regulations, which can affect load-serving entities' supply obligations, and in transmission planning regions with vertically integrated utilities, some policy decisions are reflected in the integrated resource plans approved by retail regulators.

437. We are not endorsing the merits of any specific Federal, federally-recognized Tribal, state, or local laws and regulations or of any specific state-approved integrated resource plans. We emphasize that the Commission's policies are technology neutral, and we are not establishing a preference for certain types of generation or energy end uses. We acknowledge that, in some instances, a policy choice in one jurisdiction may reduce or negate the effect of a policy choice in another jurisdiction. However, the fact that certain factors may have conflicting effects on Long-Term Transmission Needs is not a basis to conclude that the effects of laws and regulations or state-approved integrated resource plans should be ignored or discounted.

(b) Federal, Federally-Recognized Tribal, State, and Local Laws and Regulations on Decarbonization and Electrification (Factor Category Two)

(1) Comments

438. Several commenters support the proposed requirement that Long-Term Scenarios incorporate Federal, state, and local laws and regulations on decarbonization and electrification.⁹⁷⁵ Illinois Commission notes that, in Illinois, the Climate and Equitable Jobs Act of 2021 will affect future demand and the supply mix and that Long-Term Regional Transmission Planning will be critical to meeting Illinois' policy goals.⁹⁷⁶ New England for Offshore Wind states that electrification to meet New England states' greenhouse gas emissions mandates will dramatically increase electricity load and require massive amounts of clean energy.⁹⁷⁷ Pattern Energy states that Federal and state legislative efforts to promote decarbonization should be the basis of scenario modeling for generation and demand.⁹⁷⁸ Center for Biological Diversity states that the Commission should identify decarbonization as an objective in Long-Term Regional Transmission Planning because it has the authority and responsibility to prioritize decarbonization in the transmission planning process since these policies bear directly on the provision of transmission service.⁹⁷⁹

⁹⁷⁵ Acadia and CLF Initial Comments at 9; Center for Biological Diversity Initial Comments at 7-9; Clean Energy Associations Initial Comments at 10-11; DC and MD Offices of People's Counsel Reply Comments at 6; Illinois Commission Initial Comments at 4-5; New England for Offshore Wind Initial Comments at 2-3; Pacific Northwest State Agencies at Initial Comments at 14; Pattern Energy Initial Comments at 26; Pine Gate Initial Comments at 23; PIOs Initial Comments at 17-18; Renewable Northwest Initial Comments at 19-22.

⁹⁷⁶ Illinois Commission Initial Comments at 4-5.

⁹⁷⁷ New England for Offshore Wind Initial Comments at 2-3.

⁹⁷⁸ Pattern Energy Initial Comments at 26.

⁹⁷⁹ Center for Biological Diversity Initial Comments at 7-9 (citing S.C. Pub. Serv. Auth. v. FERC, 762 F.3d at 89-93).

439. Nevada Commission acknowledges that other state policies and its own integrated resource planning process should be considered in Long-Term Regional Transmission Planning even though it does not support other state policies affecting Nevada ratepayers.⁹⁸⁰ Utah Division of Public Utilities states that the impact of state policies should be part of the Long-Term Regional Transmission Planning scenario analysis.⁹⁸¹ Cypress Creek asserts that the Commission should include state policy requirements in a uniform set of assumptions that are applicable across all Long-Term Scenarios.⁹⁸²

⁹⁸⁰ Nevada Commission Initial Comments at 8.

⁹⁸¹ Utah Division of Public Utilities Reply Comments at 4.

⁹⁸² Cypress Creek Reply Comments at 5-6.

(2) Commission Determination

440. We adopt the NOPR proposal, with modification, to require transmission providers in each transmission planning region to incorporate Factor Category Two: Federal, federally-recognized Tribal, state, and local laws and regulations on decarbonization and electrification, in the development of Long-Term Scenarios. Similar to Factor Category One, we find that the factors in this category have been, and will continue to be, key drivers of Long-Term Transmission Needs and therefore must be accounted for in Long-Term Regional Transmission Planning. We clarify that this category of factors includes legally binding obligations, incentives, and/or restrictions that affect Long-Term Transmission Needs in different ways than Factor Category One, for example, by limiting the carbon intensity of electricity generation or electrifying energy end uses and thereby significantly increasing electricity use in certain sectors of the economy, such as transportation and building heating and cooling. We acknowledge that there could be overlap between Factor Categories One and Two because a certain law or regulation could reasonably be considered to fit into both categories. In such a circumstance, transmission providers must account for the law or regulation in one of the two categories, not both, to avoid double-counting of that factor's anticipated effect on Long-Term Transmission Needs. Since transmission providers must account for and be consistent with, and not discount, factors in the first three categories of factors equally once the transmission providers have determined that such a factor is likely to affect Long-Term Transmission Needs, we do not believe it is necessary to ensure that a certain factor is considered as part of Factor Category One instead of Factor Category Two (or vice versa), but rather it is only necessary to ensure that these factors are accounted for in the development of Long-Term Scenarios.

441. In addition, based on the record before us, we modify the NOPR proposal for Factor Category Two to include federally-recognized Tribal laws and regulations on decarbonization and electrification because we are persuaded by commenters that argue that such factors have the same potential to affect Long-Term Transmission Needs as Federal, state, and local laws and regulations on decarbonization and electrification.

442. Similar to our response in the Factor Category One section to commenters arguing that categories of factors involving Federal, federally-recognized Tribal, state, and local laws and regulations would provide preference to some at the cost of all or result in irresolvable conflict,⁹⁸³ we find that differences in if and how government entities promulgate laws and regulations concerning decarbonization and electrification (i.e., factors in Factor Category Two) do not diminish the effect of such laws and regulations. As such, Long-Term Scenarios must account for these key drivers of Long-Term Transmission Needs so that transmission providers can identify such needs through Long-Term Regional Transmission Planning and can identify, evaluate, and select Long-Term Regional Transmission Facilities to address those needs.

⁹⁸³ Louisiana Commission Initial Comments at 17-19; Undersigned States Initial Comments at 3. Comments originally summarized in PP 404-405.

(c) State-Approved Utility Integrated Resource Plans and Expected Supply Obligations for Load-Serving Entities (Factor Category Three)

(1) Comments

443. Several commenters support the proposed requirement that each Long-Term Scenario incorporate state-approved integrated resource plans and expected supply obligations for load-serving entities.⁹⁸⁴ NRECA and TAPS state that using Long-Term Scenarios that satisfy expected load-serving entity supply obligations is consistent with FPA section 217(b)(4)'s directive to facilitate the planning and expansion of transmission to meet the reasonable needs of load-serving entities to satisfy their service obligations.⁹⁸⁵ NRECA asserts that this category should be moved to the top of the list of categories of factors because state-approved integrated resource plans and load-serving entity supply obligations will incorporate state laws and regulations affecting resource mix, demand, decarbonization, and electrification. Additionally, NRECA contends that the changing characteristics of the distribution grid, such as distributed energy resources, storage, demand response, energy efficiency, and electrification of demand, will affect load-serving entity needs and should be incorporated in this category of factors.⁹⁸⁶ Clean Energy Associations and ACEG agree.⁹⁸⁷

⁹⁸⁴ California Commission Initial Comments at 17; NRECA Initial Comments at 30; Pine Gate Initial Comments at 23; PIOs Initial Comments at 17-18; US Chamber of Commerce Initial Comments at 6-7.

⁹⁸⁵ NRECA Initial Comments at 30-31; TAPS Initial Comments at 2, 7-8 (citing NOPR, 179 FERC ¶ 61,028 at P 106); see also APPA Initial Comments at 28.

⁹⁸⁶ NRECA Initial Comments at 30-31 n.85.

⁹⁸⁷ ACEG Reply Comments at 22; Clean Energy Associations Reply Comments at 6-7.

444. APPA and ACEG argue that the final order should focus on the resource plans of load-serving entities and include a requirement for transmission providers to include in their Long-Term Regional Transmission Planning process a requirement to coordinate with load-serving entities.⁹⁸⁸ ACEG argues that such a requirement is necessary because not all load-serving entities either own generation or are overseen by a state regulator, meaning that they must rely on the Commission to ensure that transmission planning meets their needs.⁹⁸⁹

⁹⁸⁸ ACEG Reply Comments at 22; APPA Initial Comments at 27-28.

⁹⁸⁹ ACEG Reply Comments at 22-23.

445. Several commenters clarify that they support the inclusion of load-serving entity demand as a factor in Long-Term Scenarios.⁹⁹⁰ In addition, some commenters support the inclusion of load-serving entity generation resource planning as a factor in Long-Term Scenarios.⁹⁹¹ PIOs argue that the Commission should require load-serving entities to provide their generation and demand forecasts to transmission planning entities.⁹⁹² ACEG agrees and argues that PIOs' recommendation will decrease the burden on transmission planning entities and provide them with the information they need to determine the future resource mix.⁹⁹³

⁹⁹⁰ ACEG Reply Comments at 22-23; Clean Energy Associations Reply Comments at 7; DC and MD Offices of People's Counsel Reply Comments at 4; PIOs Initial Comments at 18; PIOs Reply Comments at 10.

⁹⁹¹ ACEG Reply Comments at 22-23; Clean Energy Associations Reply Comments at 7; DC and MD Offices of People's Counsel Reply Comments at 4.

⁹⁹² PIOs Initial Comments at 19.

⁹⁹³ ACEG Reply Comments at 23.

446. Entergy asserts that the Commission has identified the appropriate factors but explains that not all states conduct commission proceedings related to integrated resource plans and, for those states that do, the timelines are not necessarily the same. Thus, Entergy requests that the Commission clarify that the term “state-approved utility integrated resource plans” will be construed broadly to include any resource plan developed and reviewed through a retail commission proceeding and submitted to the relevant transmission provider for use in Long-Term Regional Transmission Planning. Entergy asserts that such clarification would result in a range of benefits such as consistency of data with current local, state, and Federal laws and expected retirements, additions, and corporate goals.⁹⁹⁴

⁹⁹⁴ Entergy Initial Comments at 15-16.

(2) Commission Determination

447. We adopt the NOPR proposal to require transmission providers in each transmission planning region to incorporate Factor Category Three: state-approved integrated resource plans and expected supply obligations for load-serving entities, in the development of Long-Term Scenarios. We find it appropriate to require transmission providers to incorporate Factor Category Three because it reflects the outcomes of retail-level regulatory proceedings that will affect Long-Term Transmission Needs. Further, incorporation of Factor Category Three into Long-Term Scenarios will ensure that transmission providers properly account for resource planning and anticipated changes to demand, including increased integration of distributed energy resources. We note that the Commission shares concurrent jurisdiction over the bulk power system with retail regulators,⁹⁹⁵ and we agree with commenters that note that FPA section 217(b)(4) directs the Commission to facilitate the planning and expansion of transmission to meet the reasonable needs of load-serving entities to satisfy their service obligations.⁹⁹⁶

⁹⁹⁵ Compare 16 U.S.C. 824d(a) (providing the Commission authority to regulate the rates charged by public utilities in connection with the transmission or wholesale sale of electric energy), with id. 824(a) (reserving certain state authorities).

⁹⁹⁶ 16 U.S.C. 824q(b)(4) (“The Commission shall exercise the authority of the Commission under this chapter in a manner that facilitates the planning and expansion of transmission facilities to meet the reasonable needs of load-serving entities to satisfy the service obligations of the load-serving entities, and enables load-serving entities to secure firm transmission rights (or equivalent tradable or financial rights) on a long-term basis for long-term power supply arrangements made, or planned, to meet such needs.”).

448. In response to commenters that note some retail regulators may review but not formally approve integrated resource plans, we clarify that, for this category of factors, state-approved integrated resource plans includes resource plans that are developed and reviewed through a retail proceeding in jurisdictions where the retail regulator does not formally approve such plans.⁹⁹⁷ We grant Entergy's clarification request that the term “state-approved utility integrated resource plans” be construed broadly to include any resource plan developed and reviewed through a retail commission proceeding and submitted to the relevant transmission provider for use in Long-Term Regional Transmission Planning because it would enable a more complete consideration of state-approved integrated resource plans and expected supply obligations for load-serving entities.

⁹⁹⁷ Entergy Initial Comments at 15-16.

449. In response to APPA and ACEG's request for the Commission to require transmission providers to coordinate with load-serving entities,⁹⁹⁸ we note that we require transmission providers, as described in further detail below, to provide an open and transparent process in their OATT that provides stakeholders, including load-serving entities, with a meaningful opportunity to propose potential factors and to provide input on how to account for specific factors in the development of Long-Term Scenarios.⁹⁹⁹ However, in response to PIOs' request that the Commission require load-serving entities to provide their generation and demand forecast to transmission providers, we agree that such information will assist transmission providers in developing Long-Term Scenarios. Therefore, consistent with the information exchange transmission planning principle established in Order No. 890,¹⁰⁰⁰ we require load-serving entities that are taking transmission service pursuant to an OATT to provide transmission providers with information on the load-serving entities' projected loads and resources over the planning horizon.

⁹⁹⁸ ACEG Reply Comments at 22; APPA Initial Comments at 27-28.

⁹⁹⁹ See infra Stakeholder Process and Transparency section.

¹⁰⁰⁰ The information exchange transmission planning principle requires network transmission customers to submit information on their projected loads and resources on a comparable basis (e.g., planning horizon and format) as used by transmission providers in planning for their native load. Point-to-point transmission customers are required to submit their projections for need of service over the planning horizon and at what receipt and delivery points. To the extent applicable, transmission customers should also provide information on existing and planned demand resources and their impact on demand and peak demand. Transmission providers, in consultation with their customers and other stakeholders, must develop guidelines and a schedule for the submittal of such customer information. Order No. 890, 118 FERC ¶ 61,119 at PP 486-487.

(d) Trends in Technology and Fuel Costs Within and Outside of the Electricity Supply Industry, Including Shifts Toward Electrification of Buildings and Transportation (Factor Category Four)

(1) Comments

450. Several commenters emphasize the importance of incorporating assumptions regarding shifts towards electrification in Long-Term Scenarios.¹⁰⁰¹ Clean Energy Buyers assert that regional flexibility should not be used to diminish the representation in Long-Term Scenarios of significant load growth from the commercial and industrial sectors and electrification of transportation.¹⁰⁰² Likewise, DC and MD Offices of People's Counsel assert that regional flexibility should be reflected in the actual inputs for these factors, rather than their inclusion in or exclusion from Long-Term Scenarios, noting, for example, that electrification forecasts in some areas are increasing load growth estimates by 30%.¹⁰⁰³ Clean Energy Associations argue that, to keep pace with changes in supply and demand, Long-Term Scenarios should incorporate aging infrastructure and planned replacements, along with load and generation trends informed by both historical data and applicable policy drivers.¹⁰⁰⁴

¹⁰⁰¹ Clean Energy Associations Initial Comments at 11; Clean Energy Buyers Initial Comments at 15-16; DC and MD Offices of People's Counsel Initial Comments at 11-12; ENGIE Initial Comments at 3; PJM Market Monitor Initial Comments at 3.

¹⁰⁰² Clean Energy Buyers Initial Comments at 15-16.

¹⁰⁰³ DC and MD Offices of People's Counsel Initial Comments at 11-12.

¹⁰⁰⁴ Clean Energy Associations Initial Comments at 12.

451. Other commenters emphasize the trends in specific technology costs, such as long-duration storage. ENGIE states that advances in longer-duration storage and advancing photovoltaic technologies may affect the ability to develop resources in areas previously considered to be uneconomic, which could affect the resource and demand mix.¹⁰⁰⁵ Form Energy argues that the inclusion of diverse, long-duration electric storage technologies would require significantly fewer new transmission needs.¹⁰⁰⁶

¹⁰⁰⁵ ENGIE Initial Comments at 3.

¹⁰⁰⁶ Form Energy Initial Comments at 2-3.

452. Pine Gate supports the inclusion of trends in technology and fuel costs in Long-Term Scenarios; however, Pine Gate requests that the Commission clarify what type of data would constitute a “trend” and how it expects transmission providers to assure that trend-related input is objective and representative of the “best available data.” ¹⁰⁰⁷ Similarly, US DOE recommends that the Commission clarify whether the term “trends in technology and fuel costs” refers to trends in fuel cost and trends in technology, or rather trends in the cost of fuel and trends in the cost of technology. If the Commission is referring to the former, US DOE recommends that the Commission consider the phrase “trends in fuel costs and in the cost, performance, and availability of generation, storage, and transmission technologies.” US DOE further recommends that the Commission provide a non-exhaustive list of examples of cost and technology trends that transmission planners could consider.¹⁰⁰⁸

¹⁰⁰⁷ Pine Gate Initial Comments at 24.

¹⁰⁰⁸ US DOE Initial Comments at 12-13.

453. SEIA recommends that the Commission direct transmission providers to use the data and models used in NREL's Electrification Futures Study, Solar Futures Study, Storage Futures Study, and Transportation Futures Study.¹⁰⁰⁹ PIOs disagree with granting discretion to transmission providers to define trends in technology and fuel costs because PIOs state that it could empower them to distort the modeling process and create Long-Term Scenarios that are meaningless.¹⁰¹⁰

¹⁰⁰⁹ SEIA Initial Comments at 10.

¹⁰¹⁰ PIOs Initial Comments at 19.

454. PIOs argue that the Commission should require transmission providers to use certain values for trends in technology and fuel costs within and outside of the electricity supply industry.¹⁰¹¹

¹⁰¹¹ Id. at 17-19.

455. New York TOs argue that trends in technology costs are amorphous and therefore should not be prescribed as a required factor for transmission providers to consider.¹⁰¹² Similarly, PPL criticizes the Commission's proposed requirement that transmission providers forecast trends in technology without providing concrete assumptions to use, or without a guarantee for cost recovery for investments that are based on those uncertain forecasts.¹⁰¹³

¹⁰¹² New York TOs Initial Comments at 11-12.

¹⁰¹³ PPL Initial Comments at 8.

(2) Commission Determination

456. We adopt the NOPR proposal, with modification, to require transmission providers in each transmission planning region to incorporate Factor Category Four: trends in fuel costs and in the cost, performance, and availability of generation, electric storage resources, and building and transportation electrification technologies, in the development of Long-Term Scenarios. We find it appropriate to require transmission providers to incorporate Factor Category Four into the development of Long-Term Scenarios because the relative cost of constructing and operating different types of generation or storage resources and the relative cost of electrifying certain energy end uses will affect Long-Term Transmission Needs. We further find that this requirement is necessary to ensure that transmission providers develop plausible Long-Term Scenarios that account for technological changes expected over the transmission planning horizon, facilitating transmission providers' identification of Long-Term Transmission Needs.

457. As requested by commenters, including US DOE, we modify this category of factors in the final order to clarify that this category of factors is meant to capture changes in the cost, as well as the performance and availability, of certain technologies relevant to the electric industry.¹⁰¹⁴ In response to commenters arguing that trends in technology costs are amorphous and should not be included in the final order as a required category of factors, we disagree. However, as discussed above, we grant transmission providers discretion to determine whether specific trends identified in Factor Category Four are likely to affect Long-Term Transmission Needs and how to account for those specific trends in Long-Term Scenarios.¹⁰¹⁵ As discussed in further detail below, transmission providers also have some discretion to discount or place more weight on the anticipated effects on Long-Term Transmission Needs due to factors in this category.

¹⁰¹⁴ Pine Gate Initial Comments at 24; US DOE Initial Comments at 12.

¹⁰¹⁵ See New York TOs Initial Comments at 11-12; PPL Initial Comments at 8.

458. In response to comments from US DOE,¹⁰¹⁶ we clarify that trends in fuel costs and in the cost, performance, and availability of generation, storage, and building and transportation electrification technologies may include, but are not limited to, cost and technology trends for: utility-scale generation construction costs for different generating technologies; distributed energy resources; storage technologies with differing duration limitations; carbon capture and sequestration; small modular nuclear; light-, medium-, and heavy-duty electric vehicles and electric vehicle supply equipment; and ground- and air-source heat pumps. While we agree with US DOE that transmission providers should consider trends in the cost, performance, and availability of transmission technologies as part of their evaluation of potential solutions to Long-Term Transmission Needs, we do not believe that these trends should be included as factors in this category because trends in the cost, performance, and availability of transmission technologies do not drive Long-Term Transmission Needs. We also agree with commenters that note that the effects of the factors in this category may vary significantly, such as shifts towards electrification leading to significant load growth, or cost reductions for emerging technologies, like long-duration electric storage resources, mitigating some new transmission needs.

¹⁰¹⁶ US DOE Initial Comments at 12-13.

(e) Resource Retirements (Factor Category Five)

(1) Comments

459. Several commenters support the proposed requirement that each Long-Term Scenario incorporate resource retirements as a category of factors.¹⁰¹⁷ PJM Market Monitor states that PJM faces the potential for the retirement of large coal resources and that the PJM capacity market design and the transmission planning process need to identify these specific resources well in advance and ensure an efficient response to obviate the need for nonmarket cost-of-service contracts to retain generation while transmission is constructed.¹⁰¹⁸

¹⁰¹⁷ Breakthrough Energy Initial Comments at 14; NRECA Initial Comments at 31; NYISO Initial Comments at 24; PIOs Initial Comments at 21; SPP Market Monitor Initial Comments at 9; see also PJM Market Monitor at 3 (“PJM faces the potential retirement . . . of a significant amount of coal resources in the next five years. Both the PJM capacity market and design and the transmission planning process need to identify these specific resources well in advance and plan for their retirement in order to ensure an efficient response and to obviate the need for nonmarket cost of service contracts to retain the generation while transmission is constructed.”).

¹⁰¹⁸ PJM Market Monitor Initial Comments at 3.

460. PIOs and NYISO both argue that the Commission should further specify that transmission providers must incorporate expected trends in resource retirements rather than just announced retirements into Long-Term Scenarios.¹⁰¹⁹ PIOs state the Commission should require transmission providers to (1) specify how they will use generator age and condition data to predict retirements, (2) include announced retirements, and (3) specify how they will reflect trends and incentives for distributed energy resources, as well as how they will quantify these trends.¹⁰²⁰

¹⁰¹⁹ NYISO Initial Comments at 24; PIOs Initial Comments at 21.

¹⁰²⁰ PIOs Initial Comments at 21.

461. NYISO states that the final order should confirm that each transmission planning region has the authority and flexibility to account for likely resource retirements that have not been announced by the resource based on factors that include the facility's age, its emission profile, applicable laws and regulations, and other factors.¹⁰²¹ Similarly, Pine Gate asserts that resource retirements should be included at the earliest opportunity as there is often a significant gap of time between when a public announcement is made and when the official notice of deactivation is communicated to the transmission provider.¹⁰²²

¹⁰²¹ NYISO Initial Comments at 24.

¹⁰²² Pine Gate Initial Comments at 24.

462. SEIA states that transmission providers should only be required to include the retirement of resources that have provided notice of pending retirement pursuant to the applicable tariff provisions.¹⁰²³ PJM supports engaging in transparent economic impact analyses of generation resource retirements but asserts that such analyses might disclose confidential information about specific generators. Therefore, PJM contends that the Commission will need to provide clear direction on how it wishes to address these issues, especially since masking of data is not a practical solution once the transmission case is released.¹⁰²⁴

¹⁰²³ SEIA Initial Comments at 10.

¹⁰²⁴ PJM Initial Comments at 6, 69.

(2) Commission Determination

463. We adopt the NOPR proposal to require transmission providers in each transmission planning region to incorporate Factor Category Five: resource retirements, in the development of Long-Term Scenarios. We find it appropriate to require transmission providers to incorporate Factor Category Five because resource retirements expected over the transmission planning horizon will affect Long-Term Transmission Needs. Commenters generally support requiring this category of factors, but commenters disagree as to how transmission providers should account for projected resource retirements that have not been publicly announced.¹⁰²⁵

¹⁰²⁵ NYISO Initial Comments at 24; Pine Gate Initial Comments at 24; PIOs Initial Comments at 21.

464. In response to those commenters, we clarify that, to develop plausible Long-Term Scenarios, transmission providers must, in incorporating Factor Category Five into the development of Long-Term Scenarios, account for likely resource retirements beyond those that have been publicly announced. The record indicates that resource retirements have significantly influenced the supply of electricity in the past and are expected to do so in the coming decades.¹⁰²⁶ The North American Electric Reliability Corporation's 2021 Long-Term Reliability Assessment reports nearly 50 GW of confirmed thermal generation resource retirements by 2026 and acknowledges that many more are yet to be announced.¹⁰²⁷ In addition, the record reflects that publicly announced resource retirements are only a fraction of the resource retirements expected over the required 20-year transmission planning horizon.¹⁰²⁸ Given the significance of resource retirements, and the limited scope of publicly announced resource retirements, we find that transmission providers must account for expected retirements that have not been publicly announced to meet this final order's requirement that transmission providers develop a plausible set of Long-Term Scenarios.¹⁰²⁹

¹⁰²⁶ See supra note 241; Colorado Consumer Advocate Initial Comments, attach. 7 (US DOE, Staff Report to the Secretary on Electricity Markets and Reliability (Aug. 2017)) at 13-14 (stating that 132 GW of generation capacity retired between 2002 and 2016—approximately 15% of the installed capacity in 2002—due to the advantaged economics of natural gas-fired generation, low electricity demand growth, the deployment of variable energy resources, and regulatory requirements); see also, e.g., AEP Initial Comments at 4 n.12.

¹⁰²⁷ SEIA Initial Comments at 9 (citing North American Electric Reliability Corporation, 2021 Long-Term Reliability Assessment, at 30, 35 (Dec. 2021)). The North American Electric Reliability Corporation states that long-range retirement projects based on confirmed retirements could be “significantly understated” because generator retirement announcements can be made as late as 90 days prior to planned deactivation in some areas. The North American Electric Reliability Corporation 's 2021 reported retirements through 2026 increased 126% compared to the North American Electric Reliability Corporation's 2020 estimates; and the North American Electric Reliability Corporation's 2022 reported retirements through 2026 increased compared to the North American Electric Reliability Corporation 's 2021 retirements. See North American Electric Reliability Corporation, 2021 Long-Term Reliability Assessment, at 35 (Dec. 2021); NERC, 2022 Long-Term Reliability Assessment, at 17 (Dec. 2022).

¹⁰²⁸ For example, announced retirements account for less than half of MISO's projected retirements over a 20-year transmission planning horizon. See MISO Initial Comments at 35 (citing MISO, MISO Futures Report, at 14-19, (Dec. 2021), https://cdn.misoenergy.org/MISO%20Futures%20Report538224.pdf).

¹⁰²⁹ See infra Types of Long-Term Scenarios section.

465. We provide flexibility to transmission providers to propose on compliance with this final order how to account for resource retirements that might take place over the transmission planning horizon, in addition to those that have been publicly announced. We note, for example, that transmission providers could propose to account for expected retirements by considering factors such as a generating facility's age, its emissions profile, its projected costs and revenues, and any applicable laws and regulations that may affect a generating facility's continued operation over the transmission planning horizon.¹⁰³⁰ To the extent that certain laws and regulations identified by stakeholders in Factor Categories One and Two will necessitate the retirement of certain resources, we reiterate that transmission providers must develop Long-Term Scenarios that are consistent with such laws and regulations.

¹⁰³⁰ For example, MISO assumes age-based resource retirements which vary by resource type and scenario, over a 20-year transmission planning horizon. In a 2021 study, MISO assumes coal-fired resources will retire at age 46 in one scenario, and age 36 in another. MISO assumes utility-scale solar resources will retire at age 25 in every scenario. MISO also incorporates resource retirements announced by the resource owner, stated in an integrated resource plan, or filed in MISO's Attachment Y. See MISO Initial Comments at 35 (citing MISO, MISO Futures Report, at 14-19, (Dec. 2021), https://cdn.misoenergy.org/MISO%20Futures%20Report538224.pdf).

466. In response to PJM's concerns that conducting transparent economic impact analyses of generation resource retirements could lead to the disclosure of confidential information about specific generators, we note that the Commission has previously acknowledged that tension exists between ensuring transparency in transmission planning processes and protecting confidential information, including commercially sensitive information.¹⁰³¹ We note that we are not specifying how transmission providers must estimate resource retirements, and we clarify that transmission providers may include what they believe to be appropriate confidentiality protections in their proposals to account for resource retirements that might take place over the transmission planning horizon. The Commission will evaluate those proposals by using the established principles in Order No. 890,¹⁰³² as well as precedent on existing confidentiality protections with respect to transmission planning that the Commission has previously found comply with the Order No. 890 principles, to guide its findings on whether such protections are appropriate.

¹⁰³¹ Sw. Power Pool, Inc., 137 FERC ¶ 61,227, at P 20 (2011).

¹⁰³² Order No. 890, 118 FERC ¶ 61,119 at PP 471-476.

(f) Generator Interconnection Requests and Withdrawals (Factor Category Six)

(1) Comments

467. Several commenters support the proposed requirement that each Long-Term Scenario incorporate generator interconnection requests and withdrawals.¹⁰³³ Pattern Energy argues that generation interconnection queues are indicative of the market for generation capacity additions and should also be a major source for generation assumptions in both near-term and long-term scenario planning.¹⁰³⁴ SEIA supports the proposed requirement with the caveat that transmission providers should only include interconnection customers that have signed a facilities study agreement, or other applicable study agreement.¹⁰³⁵ Cypress Creek asserts that the Commission should require transmission providers to include the proposed generator interconnection requests in the queue that have completed a system impact study as part of a uniform set of assumptions applicable across all scenarios.¹⁰³⁶

¹⁰³³ Breakthrough Energy Initial Comments at 14; Cypress Creek Reply Comments at 5-7.

¹⁰³⁴ Pattern Energy Initial Comments at 26.

¹⁰³⁵ SEIA Initial Comments at 10.

¹⁰³⁶ Cypress Creek Reply Comments at 5-7.

468. CAISO and MISO state that their regional transmission planning processes already include projects in the generator interconnection queue.¹⁰³⁷ MISO further explains that it considers the generator interconnection queue when determining the location where future generation will interconnect, but MISO also states that transmission providers and their stakeholders need to have flexibility, including how to consider trends in interconnection queue requests.¹⁰³⁸ Further, MISO argues that “generation interconnection requests and withdrawals” as stated in the NOPR is unclear regarding how the transmission provider must weigh withdrawals differently than requests. Therefore, MISO requests that the Commission revise the NOPR proposal to require transmission providers to “consider activity in the generation interconnection queue.” ¹⁰³⁹

¹⁰³⁷ CAISO Initial Comments at 34; MISO Initial Comments at 35.

¹⁰³⁸ MISO Initial Comments at 35-36.

¹⁰³⁹ Id. at 36.

469. Nebraska Commission asserts that the Commission should not include interconnection request withdrawals as a factor because it does not follow the Commission's cost causation principles and would incentivize additional interconnection requests. For example, Nebraska Commission states, most interconnection requests in SPP are duplicative, and entities compare costs among their requests once they are analyzed. Nebraska Commission asserts that such requests could be used to game the transmission planning process, create additional backlogs in the interconnection queue, and shift costs from interconnection customers to transmission customers.¹⁰⁴⁰

¹⁰⁴⁰ Nebraska Commission Initial Comments at 4-5.

470. Likewise, Omaha Public Power claims that, until generator interconnection reform is enacted, the use of interconnection queues and withdrawals as factors will lead to scenario inaccuracy due to the size of interconnection backlogs and speculative nature of many queued projects.¹⁰⁴¹ Dominion also opposes using the number and size of interconnection requests as a basis for transmission planning because speculative interconnection requests could stimulate transmission development in areas slated for development by private interests.¹⁰⁴²

¹⁰⁴¹ Omaha Public Power Initial Comments at 3.

¹⁰⁴² Dominion Reply Comments at 7-8.

471. PJM Market Monitor states that, while there are many comments on the significant renewable resources PJM will connect to its grid, based on historic completion rates and effective load carry capability derate factors, only 5.6% of renewable resources are expected to go into service.¹⁰⁴³

¹⁰⁴³ PJM Market Monitor Initial Comments at 4.

(2) Commission Determination

472. We adopt the NOPR proposal to require transmission providers in each transmission planning region to incorporate Factor Category Six: generator interconnection requests and withdrawals, in the development of Long-Term Scenarios. We find it appropriate to require transmission providers to incorporate Factor Category Six because generation interconnection queues provide important information about future generation development over the transmission planning horizon and therefore affect Long-Term Transmission Needs. Multiple RTOs/ISOs explain that their regional transmission planning processes already account for generation projects in the interconnection queue, but MISO notes that transmission providers need flexibility in how to incorporate that data into the development of Long-Term Scenarios.¹⁰⁴⁴ In response to MISO's concerns, we reiterate that transmission providers have discretion to determine how to account for all factors, including interconnection requests and withdrawals, in Long-Term Scenarios.

¹⁰⁴⁴ MISO Initial Comments at 35-36.

473. We disagree with commenters that argue that, because many interconnection requests are speculative and/or duplicative, requiring transmission providers to incorporate Factor Category Six into the development of Long-Term Scenarios will compromise the accuracy of Long-Term Scenarios, shift costs to transmission customers that should be borne by interconnection customers, or create an incentive for additional interconnection requests that could slow down interconnection queue processing.¹⁰⁴⁵ We note that over the years, and recently with Order No. 2023, transmission providers and the Commission have adopted changes to generator interconnection procedures to reduce the submission of speculative interconnection requests in the interconnection queue. For example, interconnection requests require significant financial commitments from the interconnection customer (e.g., application fees, study deposits, and site control requirements), which the Commission made more stringent in Order No. 2023.¹⁰⁴⁶ Noting that, as discussed above, transmission providers will have discretion as to how they account for factors in Long-Term Scenarios and may determine whether certain generator interconnection requests are speculative and/or duplicative, such that the requests are unlikely to affect Long-Term Transmission Needs, and then make corresponding adjustments to their Long-Term Scenarios. As discussed in further detail below, transmission providers can also account for uncertainty by discounting or putting more weight on the anticipated effects on Long-Term Transmission Needs due to factors in this category. Additionally, we believe that the existence of a large number of interconnection requests in a certain area, even if some of those requests are speculative, indicates that generation developers have an interest in interconnecting resources in that area, which Long-Term Scenarios should take into account.

¹⁰⁴⁵ Dominion Reply Comments at 7-8; Nebraska Commission Initial Comments at 4-5; Omaha Public Power Initial Comments at 3.

¹⁰⁴⁶ Order No. 2023, 184 FERC ¶ 61,054 at P 490.

(g) Utility and Corporate Commitments and Federal, Federally-Recognized Tribal, State, and Local Policy Goals That Affect Long-Term Transmission Needs (Factor Category Seven)

(1) Comments

474. Some commenters generally support the proposed requirement to incorporate in Long-Term Scenarios utility and corporate commitments and Federal, state, and local goals that affect the future resource mix and demand.¹⁰⁴⁷ ACEG contends that FPA section 217(b)(4) supports the Commission's proposed requirement to include public policies and utility and corporate renewable procurement goals within Long-Term Scenarios because load-serving entities' service obligations will depend upon both public policies and the resource preferences of their customers.¹⁰⁴⁸ AEE highlights the role of local goals by noting that 29 of the 50 most populous cities in the United States have set clean or renewable energy targets.¹⁰⁴⁹

¹⁰⁴⁷ ACEG Initial Comments at 26-29; AEE Initial Comments at 10-11; Advanced Energy Buyers Initial Comments at 5-6; Amazon Initial Comments at 3-4; Center for Biological Diversity Initial Comments at 9-12; Environmental Groups Supplemental Comments at 2; Ørsted Initial Comments at 7; Pacific Northwest State Agencies at Initial Comments at 14; PIOs Initial Comments at 18-19; SEIA Initial Comments at 10; SREA Initial Comments at 41-46; see also Environmental Groups Supplemental Comments at 2 (“The electric industry is undergoing a major transformation driven by consumer, utility, and corporate preferences, state public policies, and the cost competitiveness of renewable energy. The Commission's transmission planning and cost allocation standards must be up to the challenge of enabling this transition while ensuring the continued provision of reliable and affordable electricity at just and reasonable rates.”).

¹⁰⁴⁸ ACEG Initial Comments at 26-29.

¹⁰⁴⁹ AEE Initial Comments at 10-11 (citing Third Way, Utilities, Cities, and States with Clean Energy Targets (July 30, 2021), https://www.thirdway.org/graphic/utilities-cities-and-states-with-clean-energy-targets).

475. Advanced Energy Buyers argue that private efforts to use more low- and zero-carbon electricity are significantly affecting the resource mix and in turn transmission needs, noting that since 2014, commercial and industrial customers have contracted for more than 52 GW of clean energy in the United States, with annual increases every year since 2016.¹⁰⁵⁰ Moreover, Advanced Energy Buyers state, corporate and industrial customer demand for renewable energy in the United States is expected to reach about 85 GW by 2030.¹⁰⁵¹ Advanced Energy Buyers state that, in some markets, corporate demand is already a dominant driver of renewable energy deployment, as in Illinois, where corporate procurement accounted for roughly one-third of total renewable deployment.¹⁰⁵² SEIA states that, for corporate commitments, transmission providers should include data from the Clean Energy Buyers Association Deal Tracker, and for utility commitments, transmission providers should include data from state resource plans and regulatory filings.¹⁰⁵³

¹⁰⁵⁰ Advanced Energy Buyers Initial Comments at 5 (citing Clean Energy Buyers Alliance, State of the Market 2022, https://cebuyers.org/state-of-the-market/).

¹⁰⁵¹ Id. at 5-6 (citing Wood Mackenzie, Corporates Usher in New Wave of US Wind and Solar Growth (Aug. 2019), https://www.woodmac.com/our-expertise/focus/Power--Renewables/corporates-usher-in-new-wave-of-u.s.-wind-and-solar-growth/).

¹⁰⁵² Id. at 6 (citing Advanced Energy Economy, Adding it All Up for Voluntary Buyers of Renewable Energy (Jan. 2021), https://blog.advancedenergyunited.org/adding-it-all-up-for-voluntary-buyers-of-renewable-energy; Microsoft, Greener datacenters for a brighter future: Microsoft's commitment to renewable energy (May 2016), https://blogs.microsoft.com/on-the-issues/2016/05/19/greener-datacenters-brighter-future-microsofts-commitment-renewable-energy/).

¹⁰⁵³ SEIA Initial Comments at 10 (citing Clean Energy Buyer Association, CEBA Deal Tracker, https://cebuyers.org/deal-tracker/; Sierra Club, Check Out Where We Are Ready For 100%, https://www.sierraclub.org/climate-and-energy/map).

476. SREA and ACEG argue that the Commission should require transmission providers to incorporate utilities' generation planning announcements associated with net zero commitments and publicized utility resource plans, including SEC filings and public statements, into the development of Long-Term Scenarios.¹⁰⁵⁴ SREA contends that such a requirement would protect the interests of customers and generation developers because these announcements affect the marketplace.¹⁰⁵⁵ Breakthrough Energy suggests that utility targets and expected consumer demand should also be incorporated into the development of Long-Term Scenarios because actual demand is often higher than reflected in utility plans, which do not sufficiently incorporate corporate demand, including corporate buyer commitments.¹⁰⁵⁶

¹⁰⁵⁴ ACEG Initial Comments at 28-29; SREA Initial Comments at 41-46.

¹⁰⁵⁵ SREA Initial Comments at 41-46.

¹⁰⁵⁶ Breakthrough Energy Initial Comments at 14-15.

477. LADWP, MISO, and NRECA support the inclusion of this category of factors as long as transmission providers are allowed to discount these factors in their analysis by assuming the goals or commitments may not be fully met.¹⁰⁵⁷ NRECA is concerned that factor category seven (utility and corporate commitments) carries a distinct risk of stranded transmission costs and therefore supports it being discounted.¹⁰⁵⁸ NRECA further states that it is concerned that stakeholders may try to use Long-Term Regional Transmission Planning to impose goals and commitments that lack the force of law.¹⁰⁵⁹ LADWP argues that the Commission should allow transmission planners to use discretion when identifying utility commitments and local goals.¹⁰⁶⁰ MISO is concerned about the inherent difficulty of modeling corporate commitments given the ambiguous nature of corporate footprints.¹⁰⁶¹

¹⁰⁵⁷ LADWP Initial Comments at 3; MISO Initial Comments at 36; NRECA Initial Comments at 32-33.

¹⁰⁵⁸ NRECA Initial Comments at 32 (citing GDS Assocs., Report, at 12 (Aug. 17, 2022)).

¹⁰⁵⁹ Id. at 32-33.

¹⁰⁶⁰ LADWP Initial Comments at 3.

¹⁰⁶¹ MISO Initial Comments at 36.

478. Several commenters oppose including utility and corporate commitments and/or Federal, state, and local goals as a category of factors in Long-Term Scenarios.¹⁰⁶² For example, California Commission states that it is not clear what purpose would be served by requiring transmission providers to incorporate these commitments or goals into Long-Term Scenarios yet, at the same time, allowing them to discount such commitments or goals to account for their inherent uncertainty.¹⁰⁶³ New York TOs argue that corporate commitments are amorphous and therefore should not be prescribed as a required factor for transmission providers to consider. Moreover, New York TOs state that, if a goal is not codified as a law, it is not clear that it is sufficiently solidified and supported to be included as a factor.¹⁰⁶⁴

¹⁰⁶² Alabama Commission Initial Comments at 6; California Commission Initial Comments at 20; Duke Initial Comments at 13; New York TOs Initial Comments at 11-12; Pennsylvania Commission Initial Comments at 6.

¹⁰⁶³ California Commission Initial Comments at 20.

¹⁰⁶⁴ New York TOs Initial Comments at 11-12.

479. PJM argues that the NOPR proposal to include corporate commitments as a factor in Long-Term Scenarios is vague, inappropriate, and impractical, because even if PJM is able to develop a record of information in the expansive PJM footprint, this information will likely be incomplete. PJM argues that the burden to ensure that a transmission provider is aware of corporate commitments and goals should be on the corporation or another interested party.¹⁰⁶⁵

¹⁰⁶⁵ PJM Reply Comments at 37-38 (citing PJM Initial Comments at 68).

480. Illinois Commission states that transmission planning criteria should not include vague terms such as “corporate goals,” which could mean multiple things and may already be accounted for.¹⁰⁶⁶ Alabama Commission states that corporate commitments and goals are not a sufficient basis for planning decisions as they are not law and accountability for achieving them is limited.¹⁰⁶⁷ Similarly, Pennsylvania Commission states that determinants for Long-Term Scenarios should not be based on speculative factors, arguing that factors that include Federal, state, and local laws and regulations that affect the future resource mix and demand are preferable to factors that include utility, corporate, Federal, state, and local goals or policies that have no enforcement mechanisms.¹⁰⁶⁸ PPL states that utility and corporate commitments are unlikely to be sufficiently firm or definitive to pass state siting review.¹⁰⁶⁹

¹⁰⁶⁶ Illinois Commission Initial Comments at 7.

¹⁰⁶⁷ Alabama Commission Initial Comments at 6.

¹⁰⁶⁸ Pennsylvania Commission Initial Comments at 5-6.

¹⁰⁶⁹ PPL Initial Comments at 8.

(2) Commission Determination

481. We adopt the NOPR proposal, with modification, to require transmission providers in each transmission planning region to incorporate Factor Category Seven: utility and corporate commitments and Federal, federally-recognized Tribal, state, and local policy goals that affect Long-Term Transmission Needs, in the development of Long-Term Scenarios. We find it appropriate to require transmission providers to incorporate Factor Category Seven into the development of Long-Term Scenarios because the relevant commitments and goals represent known consumer preferences that have been, and will continue to be, key drivers of Long-Term Transmission Needs. We agree with commenters that argue that corporate demand for clean energy resources, as demonstrated by the volume of bilateral corporate contracts with renewable energy resources, is already a major driver of changes in the resource mix and demand and that corporate and industrial customer demand for clean energy is projected to increase. We believe that it is necessary for transmission providers to incorporate publicly announced utility commitments in the development of Long-Term Scenarios. Such commitments may be ignored or overlooked in retail-level regulatory proceedings, but they nevertheless may have an impact on future changes in the resource mix and demand that must be accounted for to ensure the development of plausible Long-Term Scenarios.

482. We modify the NOPR proposal for Factor Category Seven to include federally-recognized Tribal goals that affect the resource mix and demand because we are persuaded by commenters that argue that such factors have the same potential to affect Long-Term Transmission Needs as Federal, state, and local goals. We believe that federally-recognized Tribal goals should include publicly announced policy recommendations, such as energy vision reports.¹⁰⁷⁰ Further, as discussed under Additional Categories of Factors below, we recognize that energy equity and justice goals are potential factors within Factor Category Seven.

¹⁰⁷⁰ See, e.g., Columbia River Inter-Tribal Fish Comm'n, Energy Vision for the Columbia River Basin (Sept. 2022), https://critfc.org/wp-content/uploads/2022/09/CRITFC-Energy-Vision-Full-Report.pdf.

483. While Federal, federally-recognized Tribal, state, and local goals may not have the same durability and binding impact of laws and regulations, we believe that it is appropriate for transmission providers to account for such goals in Long-Term Scenarios because these goals represent known preferences of governmental entities that affect Long-Term Transmission Needs. Such goals may improve or diminish the prospects of deploying certain technologies. For example, as AEE explains, local governments representing some of the most populous cities in the United States have established goals to have their cities' loads served by clean or renewable energy.¹⁰⁷¹

¹⁰⁷¹ AEE Initial Comments at 10-11 (citing Third Way, Utilities, Cities, and States with Clean Energy Targets (July 30, 2021), https://www.thirdway.org/graphic/utilities-cities-and-states-with-clean-energy-targets).

484. We disagree with commenters that argue that transmission providers should not be required to incorporate utility and corporate commitments into the development of Long-Term Scenarios because they may not be significant enough to drive Long-Term Transmission Needs or that accountability for achieving commitments and goals is too limited for these factors to be considered sufficiently firm.¹⁰⁷² We acknowledge that utility and corporate commitments and governmental goals may be more likely to change over the transmission planning horizon than factors in other required factor categories; however, we are not persuaded that these commitments and goals are so speculative, amorphous, or unreliable that they should not be incorporated into Long-Term Scenarios at all. We emphasize that transmission providers have discretion, as discussed above, in how to account for these factors in the development of Long-Term Scenarios, and we note, as discussed in further detail below, that transmission providers can account for the uncertainty associated with the achievement of these commitments and goals by using discounting or putting more weight on the effects of these factors on Long-Term Transmission Needs in each of the required Long-Term Scenarios. Similarly, transmission providers have discretion to determine how to account for commitments and goals in Long-Term Scenarios if the effects of particular commitments or goals conflict with, negate, or duplicate the effects of other factors.

¹⁰⁷² Alabama Commission Initial Comments at 6; California Commission Initial Comments at 20; Illinois Commission Initial Comments at 7; New York TOs Initial Comments at 11-12; Pennsylvania Commission Initial Comments at 5-6; PJM Reply Comments at 37-38 (citing PJM Initial Comments at 68); PPL Initial Comments at 8.

(h) Additional Categories of Factors

(1) Comments on Energy Equity and Justice

485. Some commenters argue that the Commission should include equity and energy justice considerations in Long-Term Regional Transmission Planning.¹⁰⁷³ Grand Rapids NAACP, agreeing with NASEO, urges the Commission to expand factors considered in Long-Term Regional Transmission Planning to include energy equity and justice.¹⁰⁷⁴ Grand Rapids NAACP also states that transmission providers should be required to follow Federal, state, and local laws addressing the need for energy equity and justice.¹⁰⁷⁵ In concordance with PIOs, Grand Rapids NAACP urges the Commission to address equity in the transmission planning process because doing so would encourage competition and lower consumer costs.¹⁰⁷⁶ Finally, Grand Rapids NAACP urges the Commission to encourage transmission providers to develop metrics that advance economic equity and environmental justice by facilitating consideration of the impact of transmission infrastructure on disadvantaged communities.¹⁰⁷⁷

¹⁰⁷³ See, e.g., California Energy Commission Initial Comments at 2; City of New York Initial Comments at 9; Clean Energy Buyers Initial Comments at 8-9; Grand Rapids NAACP Initial Comments at 12, 15, 21, 23; Grand Rapids NAACP Reply Comments at 2-3, 5; Montclair Congregation Supplemental Comments at 1; NARUC Initial Comments at 3-4; NASEO Initial Comments at 5; PIOs Initial Comments at 35-36; PIOs Reply Comments at 15; Policy Integrity Initial Comments at 28; WE ACT Initial Comments at 4-6.

¹⁰⁷⁴ Grand Rapids NAACP Reply Comments at 2 (citing NASEO Initial Comments at 5).

¹⁰⁷⁵ Id.

¹⁰⁷⁶ Id. (citing PIOs Initial Comments at 35, 36).

¹⁰⁷⁷ Id. at 2-3 (citing NARUC Initial Comments at 3-4).

486. US DOE asserts that energy justice considerations will form an integral part of transmission planning. Specifically, US DOE states that transmission planning can identify potential sources, sinks, and locations of transmission expansion facilities and that identifying locations where frontline communities and historically underserved communities have faced long-standing impacts may affect the future resource mix.¹⁰⁷⁸ NESCOE agrees with US DOE and argues that regional transmission planning processes should accommodate state efforts to advance equity and environmental justice concerns.¹⁰⁷⁹ New England for Offshore Wind argues that without a transparent and inclusive transmission planning process, regional transmission planning efforts will be at odds with state policy on environmental justice.¹⁰⁸⁰

¹⁰⁷⁸ US DOE Initial Comments at 9.

¹⁰⁷⁹ NESCOE Reply Comments at 8-9.

¹⁰⁸⁰ New England for Offshore Wind Initial Comments at 5.

487. PIOs state that the Commission should be clear that Long-Term Regional Transmission Planning complies with and incorporates relevant aspects of applicable Federal, federally-recognized Tribal, state, and local environmental and energy justice policies—including future resource mix impacts, assignment of transmission benefits toward disadvantaged communities, and project selection.¹⁰⁸¹

¹⁰⁸¹ PIOs Reply Comments at 15 (citing Grand Rapids NAACP Initial Comments at 12-15, 21-23 (listing notable Federal, state, and local public policies requiring that equity and energy justice inform decision making processes); WE ACT Initial Comments at 6).

488. CARE Coalition states that the Commission should consider issues of siting and the granting of permits that cause significant delays in construction of new transmission facilities.¹⁰⁸² CARE Coalition emphasizes WE ACT's argument that a final order should ensure that transmission planners and states “are cognizant about siting and the potential harms of transmission development to environmental justice communities.” ¹⁰⁸³ Relatedly, CARE Coalition highlights NRECA's argument that rural and poorer areas are disproportionately burdened under the current regime because “siting decisions are primarily driven by technical and economic factors.” ¹⁰⁸⁴

¹⁰⁸² CARE Coalition Reply Comments at 3.

¹⁰⁸³ Id. at 4 (citing WE ACT Initial Comments at 6).

¹⁰⁸⁴ Id. (citing NRECA Initial Comments at 39 n.111).

(2) Comments on Efficiency and Technology

489. NASEO argues that the Commission should expand its list of factors that transmission providers should include in Long-Term Regional Transmission Planning and Long-Term Scenarios to include increased energy efficiency of existing transmission lines, and the efficient use of existing rights of way.¹⁰⁸⁵ Invenergy suggests that the Commission expressly require consideration of advanced-stage merchant HVDC transmission as a factor in regional transmission planning scenarios.¹⁰⁸⁶ Invenergy highlights US DOE's proposal that transmission providers consider trends in the development of HVDC network technology, arguing, however, that such consideration should include incorporating and accounting for HVDC transmission facilities in transmission planning models and scenarios.¹⁰⁸⁷

¹⁰⁸⁵ NASEO Initial Comments at 5.

¹⁰⁸⁶ Invenergy Initial Comments at 6-7.

¹⁰⁸⁷ Invenergy Reply Comments at 11 (citing US DOE Initial Comments at 13).

(3) Comments Regarding Enhanced Reliability and Interregional Transfer Capability

490. PJM recommends that the Commission require enhanced reliability and Interregional Transfer Capability as two additional categories of factors that transmission providers must incorporate into the development of Long-Term Scenarios.¹⁰⁸⁸ PJM envisions enhanced reliability to include, but not be limited to, storm hardening of critical facilities, reducing the number of critical CIP-014 facilities through transmission upgrades, coordination of infrastructure development with natural gas pipelines serving generation in the region, and ensuring redundancy of facilities, where appropriate, to address the threat of physical or cyber attacks.¹⁰⁸⁹ PJM envisions Interregional Transfer Capability to be established in accordance with the methodology that the Commission adopts in a subsequent order.¹⁰⁹⁰

¹⁰⁸⁸ PJM Initial Comments at 6, 13, 65-67.

¹⁰⁸⁹ Id. at 66.

¹⁰⁹⁰ Id. at 66-67.

491. Invenergy agrees with the additional categories of factors that PJM proposes.¹⁰⁹¹ ELCON supports the consideration of transfer capability between seams, which it asserts would provide transmission providers with the ability to develop and consider solutions that may solve for multiple drivers and offer greater benefits to more consumers.¹⁰⁹² In contrast, AEE states that it disagrees with the additional categories of factors that PJM proposes, although it agrees with PJM that enhanced reliability planning is an important consideration.¹⁰⁹³

¹⁰⁹¹ Invenergy Reply Comments at 11.

¹⁰⁹² ELCON Initial Comments at 8.

¹⁰⁹³ AEE Reply Comments at 20.

(4) Commission Determination

492. We recognize that some commenters ask the Commission to require transmission providers to incorporate several categories of factors in addition to those proposed in the NOPR in the development of Long-Term Scenarios. We decline to include energy equity and justice as a distinct and additional category of factors because we believe that these important energy equity and justice laws and regulations, or goals, that are likely to affect Long-Term Transmission Needs, are accounted for in Factor Category One: Federal, federally-recognized Tribal, state, and local laws and regulations affecting the resource mix and demand, or Seven: utility and corporate commitments and Federal, federally-recognized Tribal, state, and local policy goals that affect Long-Term Transmission Needs.¹⁰⁹⁴ Stakeholders will have a meaningful opportunity to identify any such factors as part of the open and transparent stakeholder process described below in the Stakeholder Process and Transparency section.

¹⁰⁹⁴ Grand Rapids NAACP Reply Comments at 2 (citing NASEO Initial Comments at 5).

493. We decline to adopt Invenergy's recommendation that the Commission require transmission providers to include advanced-stage merchant HVDC transmission as an additional category of factors. The Commission did not propose specific requirements in the NOPR regarding merchant HVDC transmission facilities under development, and we are not persuaded by the evidence in the record that the Commission should include advanced-stage HVDC transmission facilities in the minimum set of known determinants of Long-Term Transmission Needs. We reiterate that transmission providers may be aware of additional categories of factors beyond those adopted in this final order that drive Long-Term Transmission Needs and may incorporate additional categories of factors in the development of Long-Term Scenarios provided that each Long-Term Scenario remains plausible.

494. In response to PJM's request for the Commission to require enhanced reliability and Interregional Transfer Capability ¹⁰⁹⁵ as additional categories of factors,¹⁰⁹⁶ we find that the record in this proceeding is insufficient to adequately consider whether to require transmission providers to adopt such categories of factors in this final order. As noted in our response to Invenergy just above, transmission providers may incorporate additional categories of factors in the development of Long-Term Scenarios provided that each Long-Term Scenario remains plausible. We note that, in this final order, we provide transmission providers with flexibility in how they develop Long-Term Scenarios to identify Long-Term Transmission Needs. We believe that other parts of this final order enable transmission providers to account for enhanced reliability and Interregional Transfer Capability by modeling sensitivities and using certain transmission benefits. As discussed below, we require transmission providers to develop at least one sensitivity analysis, applied to each Long-Term Scenario, to account for uncertain operational outcomes during multiple concurrent and sustained generation and/or transmission outages due to an extreme weather event across a wide area that determine the benefits of or need for Long-Term Regional Transmission Facilities. As discussed in the Evaluation of the Benefits of Regional Transmission Facilities section below, we require transmission providers to measure, and consider as part of Benefit 6, the benefits associated with any increase in Interregional Transfer Capability that a Long-Term Regional Transmission Facility would provide.

¹⁰⁹⁵ We define Interregional Transfer Capability for purposes of this final order consistent with the definition of total transfer capability in the Commission's regulations as: “the amount of electric power that can be moved or transferred reliably from one area to another area of the interconnected transmission systems by way of all transmission lines (or paths) between those areas under specified system conditions, or such definition as contained in Commission-approved Reliability Standards.” 18 CFR 37.6(b)(1)(vi). In the context of Interregional Transfer Capability, an “area” in the above definition would be a transmission planning region composed of transmission providers.

¹⁰⁹⁶ PJM Initial Comments at 6, 13, 65-67.

c. Treatment of Specific Categories of Factors

i. NOPR Proposal

495. The Commission proposed to require that each Long-Term Scenario that transmission providers use in Long-Term Regional Transmission Planning incorporate and be consistent with Federal, state, and local laws and regulations that affect the future resource mix and demand; Federal, state, and local laws and regulations on decarbonization and electrification; and state-approved integrated resource plans and expected supply obligations for load-serving entities. The Commission preliminarily found that it is reasonable to require transmission providers to assume that legally binding obligations and state utility regulator-approved plans will be followed and that expected supply obligations for load-serving entities will be fully met. As a result, the Commission explained that, under the proposal, transmission providers cannot discount the factors included in the categories of Federal, state, and local laws and regulations that affect the future resource mix; Federal, state, and local laws and regulations on decarbonization and electrification; and state-approved integrated resource plans and expected supply obligations for load-serving entities.¹⁰⁹⁷

¹⁰⁹⁷ NOPR, 179 FERC ¶ 61,028 at P 106.

496. In addition, the Commission proposed to require that each Long-Term Scenario that transmission providers use in Long-Term Regional Transmission Planning include trends in technology and fuel costs within and outside the electricity supply industry, including shifts toward electrification of buildings and transportation; resource retirements; and generator interconnection requests and withdrawals. For these particular categories of factors, the Commission proposed to provide transmission providers with flexibility in how they incorporate each factor into Long-Term Scenarios as long as transmission providers identify and publish specific factors for each of these categories, as further described below.¹⁰⁹⁸

¹⁰⁹⁸ Id. P 107.

497. Further, the Commission proposed to require that each Long-Term Scenario incorporate utility and corporate goals and Federal, state, and local goals that affect the future resource mix and demand. However, the Commission acknowledged that these categories of factors are less binding and more likely to change over time, and therefore their impact on the future resource mix and demand are less certain, than other categories of factors. For this reason, the Commission preliminarily found that it may be appropriate for transmission providers to discount such goals to account for this uncertainty. The Commission explained that transmission providers would not be required to assume that utility and corporate goals and Federal, state, and local goals that affect the future resource mix will be fully met.¹⁰⁹⁹

¹⁰⁹⁹ Id. P 108.

ii. Comments

498. Several commenters, that generally support the NOPR proposal, support discounting and rebut arguments opposing discounting.¹¹⁰⁰ NRECA, Exelon, and TAPS argue that the NOPR proposal to allow transmission providers to discount some categories of factors while weighing factors in other categories more heavily strikes an appropriate balance.¹¹⁰¹ Specifically, Exelon supports the NOPR proposal to allow for variation in the treatment of different categories of factors such as legislated energy policy, which it states should not vary by scenario, and non-binding targets, which it states may be discounted yet are important to consider.¹¹⁰² TAPS also supports the proposed flexibility in how transmission providers incorporate factors that are not Federal, state, and local laws and regulations, state-approved integrated resource plans, and expected supply obligations for load-serving entities.¹¹⁰³

¹¹⁰⁰ Exelon Initial Comments at 10-11; Georgia Commission Initial Comments at 4; Illinois Commission Initial Comments at 7; NEPOOL Initial Comments at 7; NRECA Initial Comments at 32; TAPS Initial Comments at 2-3, 8.

¹¹⁰¹ Exelon Initial Comments at 10-11; NRECA Initial Comments at 32; TAPS Initial Comments at 2-3, 8.

¹¹⁰² Exelon Initial Comments at 10-11.

¹¹⁰³ TAPS Initial Comments at 2-3, 8.

499. Some commenters express concerns that the NOPR proposal would allow transmission providers in each transmission planning region to discount, or not fully incorporate, some factors when developing Long-Term Scenarios.¹¹⁰⁴ Clean Energy Associations state that certain factors (i.e., Federal, state, and local policies, utility integrated resource plans, generator retirements, interconnection requests, corporate commitments, and trends in technology and fuel costs) can be quantified and should be reflected in Long-Term Scenarios without discounting.¹¹⁰⁵ Clean Energy Buyers are concerned that the flexibility proposed in the NOPR for transmission providers to incorporate into their Long-Term Scenarios the categories of factors that include trends in fuel costs and technologies both inside and outside the electricity supply industry, including regarding shifts in electrification of transport and buildings, resource retirements, and generator interconnection requests and withdrawals, could delay the transmission build-out.¹¹⁰⁶ ACEG recommends that the Commission presume that all factors are required to be incorporated (and not discounted or only considered) unless the Commission approves a request from the transmission providers in a transmission planning region not to include a factor.¹¹⁰⁷ In response, California Municipal Utilities argue that mandating the use of specific factors would not account for the cost consequences of such mandates, which must be considered for any transmission planning requirements to be just and reasonable.¹¹⁰⁸

¹¹⁰⁴ ACEG Initial Comments at 27-28; Amazon Initial Comments at 4; Clean Energy Associations Initial Comments at 10-11; Pine Gate Initial Comments at 23-25; PIOs Initial Comments at 18-19; SEIA Initial Comments at 8-10.

¹¹⁰⁵ Clean Energy Associations Initial Comments at 10-11.

¹¹⁰⁶ Clean Energy Buyers Initial Comments at 15-16.

¹¹⁰⁷ ACEG Initial Comments at 27.

¹¹⁰⁸ California Municipal Utilities Reply Comments at 5-6.

500. Several commenters object to the Commission's proposal to provide transmission providers with the flexibility to discount utility and corporate and Federal, state, and local goals that affect the future resource mix and demand.¹¹⁰⁹ Amazon states that transmission providers should not be allowed to discount clean energy goals in their development of Long-Term Scenarios without proving such discounting is just and reasonable by showing evidence that such goals have been unfulfilled in the past, or that those goals have been altered or abandoned.¹¹¹⁰

¹¹⁰⁹ Amazon Initial Comments at 4; Clean Energy Associations Initial Comments at 10-11; Pine Gate Initial Comments at 24-25; PIOs Initial Comments at 18-19; SEIA Initial Comments at 8.

¹¹¹⁰ Amazon Initial Comments at 4.

501. PIOs state that the NOPR proposal to discount Factor Category Seven would allow transmission providers to game the results if their incentives are contrary to consumers' goals.¹¹¹¹ SEIA urges the Commission to limit the flexibility given to transmission providers regarding this factor because SEIA believes that they would ignore certain factors if consideration is not mandatory.¹¹¹² Further, Clean Energy Associations argue that utility, corporate, and Federal, state, and local goals should be fully incorporated, without discounting targets not enshrined in law or regulation. If necessary, Clean Energy Associations contend, changes in non-binding obligations could be treated as a sensitivity or probabilistic change in one or more scenarios to determine how they might affect transmission development.¹¹¹³

¹¹¹¹ PIOs Initial Comments at 18-19.

¹¹¹² SEIA Initial Comments at 8.

¹¹¹³ Clean Energy Associations Initial Comments at 10-11.

502. PIOs state that, when utilities make commitments affecting the future resource mix and consumer demand, they should be held to them and that granting transmission providers complete discretion to discount such factors could undermine the goals of the NOPR proposal. Thus, PIOs state, the Commission should set minimum requirements for some factors, including for incorporating corporate commitments into future resource mix estimates.¹¹¹⁴ PIOs assert that widespread support exists for these recommendations, citing ELCON as an example.¹¹¹⁵

¹¹¹⁴ PIOs Initial Comments at 17-18.

¹¹¹⁵ PIOs Reply Comments at 10-11 (citing ELCON Initial Comments at 4).

503. Pine Gate argues that transmission providers should be required to assume that utility and corporate and Federal, state, and local goals that affect the future resource mix will be fully met in at least one of their Long-Term Scenarios.¹¹¹⁶

¹¹¹⁶ Pine Gate Initial Comments at 25.

504. In addition, Pattern Energy argues that the Commission should distinguish between generation assumptions and demand assumptions for purposes of 20-year transmission planning so that there is no ambiguity. For example, Pattern Energy states that transmission providers should not be permitted to utilize their planning for load growth to satisfy the requirement to plan for changing resources and demand. Pattern Energy asserts that transmission providers should be required to distinguish between modeling a changing resource mix and, separately, a changing demand profile, arguing that both are important and should be considerations in near-term and long-term transmission planning.¹¹¹⁷

¹¹¹⁷ Pattern Energy Initial Comments at 26.

505. NYISO argues that the final order should permit transmission providers to appropriately account for, in coordination with state and local entities and stakeholders, the likely effect of applicable laws and regulations on the need for transmission and to realistically appraise achievement of such laws and regulations.¹¹¹⁸

¹¹¹⁸ NYISO Initial Comments at 23.

506. Some commenters oppose the NOPR proposal to require that transmission providers incorporate applicable local laws and regulations in their development of Long-Term Scenarios.¹¹¹⁹ Duke explains that although local laws and regulations for decarbonization and electrification may affect the resource mix and demand at the local level, it is unclear how such laws would have a material effect on regional transmission planning that warrants the additional burden of tracking and incorporating them into Long-Term Scenarios.¹¹²⁰ Alabama Commission argues that local laws, regulations, and goals might change or conflict with the policy perspectives of other states.¹¹²¹ PPL claims that the NOPR proposal is impractical and will significantly increase uncertainty, which in turn will invite disagreement and litigation.¹¹²² PJM recommends that the Commission require transmission providers to only consider local laws, local regulations, and local goals to the extent that such laws, regulations, and goals are brought to their attention by states, other local regulators, or stakeholders.¹¹²³

¹¹¹⁹ Alabama Commission Initial Comments at 5-6; Ameren Initial Comments at 9-10; Duke Initial Comments at 13-14, 16; ISO-NE Initial Comments at 26-27; ISO/RTO Council Initial Comments at 4-5; NYISO Initial Comments at 21-23.

¹¹²⁰ Duke Initial Comments at 13.

¹¹²¹ Alabama Commission Initial Comments at 5-6.

¹¹²² PPL Initial Comments at 7-8.

¹¹²³ PJM Reply Comments at 38 (citing PJM Initial Comments at 68).

iii. Commission Determination

(a) Treatment of Factors in the First Three Categories

507. With regard to the first three categories of factors,¹¹²⁴ we require transmission providers in each transmission planning region to assume that legally binding obligations (i.e., Federal, federally-recognized Tribal, state, and local laws and regulations) are followed, state-approved integrated resource plans are followed, and expected supply obligations for load-serving entities are fully met. Therefore, we require that each Long-Term Scenario account for and be consistent with, and not discount, factors in the first three categories of factors once the transmission providers have determined that such a factor is likely to affect Long-Term Transmission Needs. We believe it is necessary to prohibit discounting of factors in the first three categories of factors because they are more certain drivers of Long-Term Transmission Needs, relative to factors in other factor categories.

¹¹²⁴ As explained above, the first three categories of factors are: (1) Federal, federally-recognized Tribal, state, and local laws and regulations affecting the resource mix and demand; (2) Federal, federally-recognized Tribal, state, and local laws and regulations on decarbonization and electrification; and (3) state-approved integrated resource plans and expected supply obligations for load-serving entities.

508. We clarify that transmission providers may rely on the open and transparent stakeholder process discussed below to identify the factors in the first three required categories of factors. More specifically, this final order does not obligate transmission providers to independently identify all of the factors in the first three categories of factors. We believe that it would be unduly burdensome and potentially impractical for transmission providers to independently identify all of the potential factors in the first three categories of factors, which will include numerous Federal, federally-recognized Tribal, state, and local laws and regulations, as well as integrated resource plans and expected supply obligations for load-serving entities.¹¹²⁵ However, transmission providers may, if they choose, independently identify factors in the first three categories of factors as part of the stakeholder process, discussed further in the Stakeholder Process and Transparency section below.

¹¹²⁵ The Commission has previously found that transmission providers “cannot later be faulted” for failing to consider projections of a need for service from a point-to-point transmission customer if such projections are not provided by the transmission customer. Order No. 890, 118 FERC ¶ 61,119 at P 487; id. (“We also believe that it is appropriate to require point-to-point customers to submit any projections they have of a need for service over the planning horizon and at what receipt and delivery points . . . . If the point-to-point customers do not submit such projections, then the transmission provider cannot later be faulted for failing to consider planning scenarios that might have taken into account reasonable projections of future system uses that were not the subject of specific service requests.”).

509. We believe that this clarification addresses PJM's request that we clarify that the burden of making the transmission provider aware of laws, regulations, and goals rests with stakeholders and not with the transmission provider itself.¹¹²⁶ We also believe that this clarification mitigates the potential administrative burdens and compliance risks identified by ISO-NE, as well as the burden of incorporating factors identified by SPP.¹¹²⁷

¹¹²⁶ PJM Initial Comments at 68.

¹¹²⁷ ISO-NE Initial Comments at 26-27; SPP Initial Comments at 7-8.

510. In addition, as clarified above, transmission providers retain the discretion to determine whether particular factors, including those in the first three categories of factors, that stakeholders identify are likely to affect Long-Term Transmission Needs. Thus, transmission providers may determine, for example, that some stakeholder-identified local laws and regulations that fall within Factor Categories One and Two are unlikely to affect Long-Term Transmission Needs and therefore need not be accounted for in the development of Long-Term Scenarios. We believe that this clarification addresses concerns about the additional burden some commenters identified of tracking and incorporating local laws and regulations into the development of Long-Term Scenarios, as well as concerns that the inclusion of local laws and regulations in the first two categories of factors creates a burden for transmission providers to account for factors that are unlikely to affect Long-Term Transmission Needs.¹¹²⁸

¹¹²⁸ Duke Initial Comments at 13.

511. We believe that the open and transparent stakeholder process discussed below in the Stakeholder Process and Transparency section will help transmission providers to ensure that each Long-Term Scenario accounts for factors in the first three categories of factors without discounting the effects of those factors on Long-Term Transmission Needs. We expect that transmission providers will rely, at least in part, on information that relevant Federal, state, and local government entities, federally-recognized Tribes, utilities, and load-serving entities provide during the required open and transparent stakeholder process to determine if specific factors are likely to affect Long-Term Transmission Needs and how to account for those specific factors in Long-Term Scenarios. We agree with NYISO regarding the value of coordination and clarify that transmission providers may work in coordination with government entities and stakeholders to determine how applicable laws and regulations may affect Long-Term Transmission Needs.¹¹²⁹

¹¹²⁹ NYISO Initial Comments at 23.

512. We recognize that some commenters raise concerns as to whether factors in the first three categories of factors can be fully achieved (e.g., a legislative requirement is met) or may have various levels of impact on Long-Term Transmission Needs.¹¹³⁰ At the outset, we find it appropriate to assume legally binding obligations are met, unless and until there is a change in law. Government entities have an interest and ability to ensure that the requirements of laws and regulations are fully achieved. Similarly, utilities and load-serving entities, as well as the relevant retail regulator, have an interest in developing accurate integrated resource plans and expected supply obligations that can be fully achieved. Even in the limited circumstances in which these factors are not fully achieved, we expect the targets or requirements associated with these factors will be informative for purposes of identifying Long-Term Transmission Needs. We acknowledge that, for certain factors, there may be insufficient information for transmission providers to determine, or stakeholder disagreement about, how the factor will affect Long-Term Transmission Needs. In such instances, we clarify that transmission providers have discretion over how to account for a factor in the first three categories of factors in their Long-Term Scenarios as long as the assumptions in each Long-Term Scenario are consistent with legally binding obligations, state-approved integrated resource plans, and expected supply obligations of load-serving entities.

¹¹³⁰ Id.

513. For example, when a legally binding obligation sets a minimum requirement or threshold (e.g., a state law requiring the deployment of at least 5 gigawatts of electric storage resources by 2030), transmission providers may develop Long-Term Scenarios assuming either the minimum amount of the requirement or more than the minimum amount of the requirement (e.g., modeling 10 gigawatts of electric storage resources deployed by 2030 instead of the minimum 5 gigawatts) but may not develop any Long-Term Scenarios that are inconsistent with that minimum (e.g., modeling only 2 gigawatts of electric storage resources deployed by 2030). We believe that these clarifications sufficiently address PPL's concerns regarding the uncertainty associated with how transmission providers are expected to translate factors, including local laws and regulations, into Long-Term Scenarios.¹¹³¹ We note that the requirement, discussed further below, that Long-Term Scenarios be plausible and diverse also clarifies how transmission providers must account for factors in the Long-Term Scenarios. That is, while transmission providers can model assumptions that exceed the minimum requirements of factors in the first three categories in developing Long-Term Scenarios, they can only exceed those minimum requirements such that each Long-Term Scenario remains plausible.¹¹³² Similarly, the requirement that Long-Term Scenarios be diverse ensures that transmission providers will model the effect of factors on Long Term Transmission Needs in different ways, and thus that Long-Term Scenarios help to manage uncertainty over how factors will affect Long-Term Transmission Needs.

¹¹³¹ PPL Initial Comments at 8.

¹¹³² Likewise, as discussed in the Treatment of Factors in the Last Four Categories section, transmission providers may only discount the effect of factors in the last four categories on Long-Term Transmission Needs such that each Long-Term Scenario remains plausible.

514. We disagree with ISO-NE's claim that requiring that each Long-Term Scenario account for and consistently reflect the first three categories of factors would unnecessarily prevent testing of variations with these categories of factors. Where a factor's effect is not clear on its face, transmission providers have discretion, within reason, to determine the likely effect of full achievement of the factor and reflect that into development of the Long-Term Scenarios. Transmission providers also are not limited to assuming only the minimum requirements of a factor are fully achieved in developing the Long-Term Scenarios.

515. We also are unpersuaded by commenter claims that local laws and regulations might conflict with state laws and regulations and, therefore, we should not include local laws and regulations in the first two categories of factors.¹¹³³ However, we acknowledge that there may be limited circumstances when two legally binding factors have conflicting or opposite implications for Long-Term Transmission Needs. We clarify that, in such circumstances, transmission providers shall reconcile this information while giving full effect to the maximum extent possible to all legally binding factors. For example, where two laws have equal and opposite effect, transmission providers may need to incorporate them as negating each other, as necessary to comply with the requirement to produce plausible Long-Term Scenarios. In circumstances when that is not possible because the legally binding factors support alternatives to the same assumption used to develop Long-Term Scenarios, transmission providers could use two or more of the three required Long-Term Scenarios, or develop additional Long-Term Scenarios, to capture the differences implied by each of the conflicting factors.

¹¹³³ Alabama Commission Initial Comments at 5-6; PJM Initial Comments at 68.

(b) Treatment of Factors in the Last Four Categories

516. We affirm that transmission providers have additional discretion in how they account for each factor in the last four categories of factors compared to how they account for each factor in the first three categories.¹¹³⁴ After transmission providers have determined that a specific factor, stakeholder-identified or otherwise, is likely to affect Long-Term Transmission Needs over the transmission planning horizon, transmission providers must then assess the extent to which the anticipated effects on Long-Term Transmission Needs due to that factor are likely to be realized in full, in part, or exceeded, for purposes of developing a plausible and diverse set of Long-Term Scenarios. For example, for a corporate commitment identified in Factor Category Seven, transmission providers can make a determination that only a fraction of that corporate commitment will actually be met, and the transmission providers can subsequently model more limited effects on Long-Term Transmission Needs due to that factor, in some or all Long-Term Scenarios. Likewise, transmission providers may put more weight on the factor by modeling more than the projected change in some or all Long-Term Scenarios to reflect the transmission providers' view regarding the likelihood that the anticipated effects on Long-Term Transmission Needs due to that factor will occur. Transmission providers may choose to discount or put more weight on the effects on Long-Term Transmission Needs due to factors in Factor Categories Four through Seven to account for uncertainty when developing plausible and diverse Long-Term Scenarios.

¹¹³⁴ As explained above, the last four categories of factors are: (4) trends in fuel costs and in the cost, performance, and availability of generation, electric storage resources and building and transportation electrification technologies; (5) resource retirements; (6) generator interconnection requests and withdrawals; (7) utility and corporate commitments and Federal, federally-recognized Tribal, state, and local policy goals that affect Long-Term Transmission Needs.

517. Several commenters generally support this flexibility to treat the last four categories of factors differently from the first three.¹¹³⁵ We believe that requiring transmission providers to incorporate the last four categories of factors, but allowing transmission providers to discount the effects of factors within these categories, strikes an appropriate balance between requiring factors in these categories be given full weight, and allowing them to be excluded entirely in developing Long-Term Scenarios. We believe that these categories of factors affect Long-Term Transmission Needs, and absent a requirement to incorporate them, transmission providers may fail to identify, evaluate, and select more efficient or cost-effective Long-Term Regional Transmission Facilities to address those Long-Term Transmission Needs. On the other hand, these categories of factors are less certain than the first three categories and should not necessarily be given the same weight in developing Long-Term Scenarios as factors that are legally binding.

¹¹³⁵ APPA Initial Comments at 27-28; Exelon Initial Comments at 10-11 (citing NOPR, 179 FERC ¶ 61,028 at P 121); NRECA Initial Comments at 29-32; TAPS Initial Comments at 2-3, 8.

518. We disagree with the concern that this flexibility could allow transmission providers to ignore the last four factor categories ¹¹³⁶ because the final order requires transmission providers to incorporate all categories of factors in each Long-Term Scenario, even if they discount specific factors within the category, and requires that all Long-Term Scenarios be plausible.¹¹³⁷ We reiterate that transmission providers may only discount the effects of factors in these categories on Long-Term Transmission Needs such that each Long-Term Scenario remains plausible.

¹¹³⁶ E.g., ACEG Initial Comments at 27-28; Amazon Initial Comments at 4; Clean Energy Associations Initial Comments at 10-11; Pine Gate Initial Comments at 23-25; PIOs Initial Comments at 18-19; SEIA Initial Comments at 8-10.

¹¹³⁷ ACEG Initial Comments at 28; DC and MD Offices of People's Counsel Initial Comments at 11.

d. Stakeholder Process and Transparency

i. NOPR Proposal

519. The Commission proposed to require that transmission providers identify and publish on an Open Access Same-Time Information System (OASIS) or other public website a list of the factors that fall into each of the required categories of factors that they will incorporate in their development of Long-Term Scenarios. The Commission explained that transmission providers would be responsible for identifying all the factors they know of and are considering incorporating in the development of Long-Term Scenarios as part of Long-Term Regional Transmission Planning. The Commission also proposed to require transmission providers to revise the regional transmission planning processes in their OATTs to outline an open and transparent process that provides stakeholders, including states, with a meaningful opportunity to propose potential factors that transmission providers must incorporate in their development of Long-Term Scenarios, such as specific laws, regulations, goals, and commitments, and to provide input on how to appropriately discount factors that are less certain.¹¹³⁸

¹¹³⁸ NOPR, 179 FERC ¶ 61,028 at P 109.

520. The Commission noted that, under Order No. 1000, transmission providers must already have procedures in their OATTs that give stakeholders a meaningful opportunity to submit proposed transmission needs driven by Public Policy Requirements and that allow transmission providers to identify, out of the larger set of potential transmission needs driven by Public Policy Requirements that stakeholders propose, those needs for which transmission facilities will be evaluated.¹¹³⁹ Therefore, the Commission explained that transmission providers may be able to modify and expand these existing procedures for identifying transmission needs driven by Public Policy Requirements to meet these proposed requirements regarding the identification of factors for incorporation into Long-Term Scenarios.¹¹⁴⁰

¹¹³⁹ Id. P 110 (citing Order No. 1000, 136 FERC ¶ 61,051 at PP 206-207; Order No. 1000-A, 139 FERC ¶ 61,132 at P 335).

¹¹⁴⁰ Id.

ii. Comments

(a) State Input

521. Several commenters emphasize the important role of stakeholders, including states, in identifying or commenting on the factors to be included in the development of Long-Term Scenarios.¹¹⁴¹ In addition, Southeast PIOs note that states do not currently engage in regional transmission planning processes to any meaningful degree, and therefore, the Commission should encourage their participation in shaping and conducting Long-Term Regional Transmission Planning.¹¹⁴²

¹¹⁴¹ APPA Initial Comments at 27-29; PIOs Initial Comments at 22; PJM Initial Comments at 70; Southeast PIOs Initial Comments at 45, 46-47.

¹¹⁴² Southeast PIOs Initial Comments at 45-46; State Officials Supplemental Comments at 1.

522. Some commenters discuss the important role of states in identifying factors within specific category of factors.¹¹⁴³ DC and MD Offices of People's Counsel assert that the final order should explicitly require information on the factors to be provided by appropriate authorities, such as state agencies.¹¹⁴⁴ New Jersey Commission supports the Commission's proposal to require that states have a meaningful opportunity to propose potential factors to be incorporated into the development of Long-Term Scenarios and to provide input on appropriately discounting less certain factors.¹¹⁴⁵ NESCOE asserts that, if states do not play a central role in determining the factors, the proposed reforms will likely run into the problem that underlies the Order No. 1000 public policy transmission planning process in New England, where states do not have a decision-making role over project selection even though state laws or policies could be the driver for the project.¹¹⁴⁶

¹¹⁴³ DC and MD Offices of People's Counsel Initial Comments at 12; New Jersey Commission Initial Comments at 14-15.

¹¹⁴⁴ DC and MD Offices of People's Counsel Initial Comments at 12.

¹¹⁴⁵ New Jersey Commission Initial Comments at 14-15.

¹¹⁴⁶ NESCOE Initial Comments at 28-29.

523. However, other commenters state that their existing processes are adequate for determining the relevant factors to include in Long-Term Regional Transmission Planning.¹¹⁴⁷ PJM states that it currently has processes and standing committees that allow states and stakeholders to participate in discussions of factors to use in its transmission planning processes. For example, PJM asserts that its Independent State Agencies Committee is set up to receive feedback on transmission planning from states, and it discusses, among other things, assumptions used in the models, relevant regulatory initiatives and their impact, and alternative sensitivities, as well as what was discussed at other committee meetings. In addition, PJM states, it vets all proposed transmission solutions with its Transmission Expansion Advisory Committee before submitting them to the PJM board for approval.¹¹⁴⁸

¹¹⁴⁷ MISO Initial Comments at 34-35; MISO TOs Initial Comments at 18; OMS Initial Comments at 6; PJM Initial Comments at 6, 64, 70-71.

¹¹⁴⁸ PJM Initial Comments at 70-71.

(b) Transparency, Enforcement, and Accuracy

524. Cross Sector Representatives state that Long-Term Regional Transmission Planning processes should provide transparency for impacted stakeholders.¹¹⁴⁹ SEIA argues that the Commission should adopt clear, uniform language that sets forth the specific goals and deliverables from the proposed Long-Term Regional Transmission Planning process for transmission providers to include in their tariffs, including language that mirrors the proposed list of categories of factors the Commission included in the NOPR.¹¹⁵⁰

¹¹⁴⁹ Cross Sector Representatives Supplemental Comments at 1.

¹¹⁵⁰ SEIA Reply Comments at 3-4 (citing PJM Initial Comments at 27-28).

525. Several commenters support the NOPR proposal to require transmission providers to post the list of factors that they will incorporate into their Long-Term Scenarios on a public website for stakeholder comment.¹¹⁵¹ Pine Gate recommends that the Commission further require that transmission providers identify and publish all factors that were considered but not incorporated.¹¹⁵²

¹¹⁵¹ Ameren Initial Comments at 11-12; APPA Initial Comments at 28; NESCOE Initial Comments at 28; Pine Gate Initial Comments at 25; PIOs Initial Comments at 22.

¹¹⁵² Pine Gate Initial Comments at 25.

526. Clean Energy Buyers state that, to ensure transparency and just and reasonable rates, the Commission should require that transmission providers post the details regarding any proposed or adopted discounting of factors on OASIS, including: (1) which factors are to be discounted; (2) the extent of the discounting; and (3) the justification for and derivation of the amount of discounting deemed appropriate.¹¹⁵³

¹¹⁵³ Clean Energy Buyers Initial Comments at 16-17.

527. GridLab and R Street propose modifications to the NOPR proposal regarding the role of stakeholders.¹¹⁵⁴ GridLab proposes that state agencies, other stakeholders, and independent experts could play a dominant role in enforcing the Commission's requirement to incorporate specific categories of factors, and that the Commission would provide a common framework establishing guidelines on the kinds of factors that transmission providers should consider, at a minimum, in developing Long-Term Scenarios.¹¹⁵⁵ In addition, R Street argues that governance mechanisms should drive the selection of data sets, methods, and assumptions behind these factors to promote objective accuracy.¹¹⁵⁶

¹¹⁵⁴ GridLab Initial Comments at 20-21; R Street Initial Comments at 7.

¹¹⁵⁵ GridLab Initial Comments at 21.

¹¹⁵⁶ R Street Initial Comments at 7.

iii. Commission Determination

528. We adopt the NOPR proposal, with modification, to require transmission providers in each transmission planning region to revise the regional transmission planning processes in their OATTs to outline an open and transparent process that provides stakeholders, including federally-recognized Tribes and states, with a meaningful opportunity to propose potential factors and to provide timely input on how to account for specific factors in the development of Long-Term Scenarios.¹¹⁵⁷ As discussed below, we also adopt the NOPR proposal, with modification, to require transmission providers to publish on the public portion of an OASIS or other public website: (1) the list of the factors in each of the seven required categories of factors that they will account for in their Long-Term Scenarios; (2) a description of each factor that they will account for in their Long-Term Scenarios; (3) a general statement explaining how they will account for each of those factors in their Long-Term Scenarios; (4) a description of the extent to which they will discount any factors in Factor Categories Four through Seven in each Long-Term Scenario; and (5) a list of the factors that they considered but did not incorporate in their Long-Term Scenarios.

¹¹⁵⁷ As an example, transmission providers would provide stakeholders with an opportunity to describe how a specific state law in the first category of factors will result in the development of new resources of a certain type, the retirement of existing resources, or changes in demand patterns due to increased electrification.

529. We believe that a robust stakeholder process will ensure that transmission providers can identify which, and how, specific factors might influence Long-Term Transmission Needs over the transmission planning horizon. For this reason, consistent with Order No. 890's transmission planning principles,¹¹⁵⁸ we require transmission providers to give stakeholders a meaningful opportunity to provide timely input on how and what information to incorporate in Long-Term Scenarios, including how to account for a specific factor in terms of how the factor may affect Long-Term Transmission Needs. We clarify that this meaningful opportunity for stakeholders to provide timely input includes the opportunity to propose factors, provide information and identify sources of best available data, propose how a factor may affect Long-Term Transmission Needs, and explain how that factor could be reflected in the development of Long-Term Scenarios, including the extent to which it is appropriate to discount the effects of certain factors on Long-Term Transmission Needs. We note that some transmission providers have existing processes in place that allow states and stakeholders to participate in discussions of factors, which transmission providers can propose, with any necessary modifications, to comply with this final order.¹¹⁵⁹

¹¹⁵⁸ See, e.g., Order No. 890, 118 FERC ¶ 61,119 at P 454.

¹¹⁵⁹ MISO Initial Comments at 34-35; PJM Initial Comments at 6, 64, 70-71.

530. We believe that affording stakeholders a meaningful opportunity to propose potential factors and to provide input on how to account for specific factors in the development of Long-Term Scenarios will help transmission providers to develop more accurate assumptions to serve as the basis for their Long-Term Scenarios. Specifically, with stakeholder input, transmission providers will be in a better position to determine which specific factors within each category of factors they should account for in the development of Long-Term Scenarios, as well as how best to incorporate them. Stakeholder input is particularly important for factors in the first three categories of factors because Federal, state, and local government entities, federally-recognized Tribes, and utilities, load-serving entities, and their retail regulators that participate in the stakeholder process are distinctly positioned to provide transmission providers with vital information on how the factors over which they have authority or govern are likely to influence Long-Term Transmission Needs over the transmission planning horizon. Similarly, utilities, corporations, and governments that participate in the stakeholder process are distinctly positioned to provide transmission providers with vital information regarding factors in Factor Category Seven: utility and corporate commitments and Federal, federally-recognized Tribal, state, and local policy goals that affect Long-Term Transmission Needs. The required stakeholder process ensures that all stakeholders, including states, can provide important and useful information concerning factors that they believe will affect Long-Term Transmission Needs.

531. We recognize that different stakeholders may provide information about the same factor that is contradictory—an issue identified by some commenters.¹¹⁶⁰ Different stakeholders may also provide different analyses showing, for example, how a specific factor will affect resource additions and retirements. However, as we explain earlier, transmission providers have discretion regarding how to account for specific factors in their development of Long-Term Scenarios. In reviewing the information provided by stakeholders in the open and transparent stakeholder process, transmission providers may weigh more heavily one source of information over another. To maintain transparency for stakeholders, transmission providers must include a general statement explaining how they will account for each factor in their Long-Term Scenarios on the public portion of an OASIS or other public website, as further described below.

¹¹⁶⁰ E.g., Undersigned States Initial Comments at 3 (citing NOPR, 179 FERC ¶ 61,028 at P 106).

532. We also believe that the information provided in the open and transparent stakeholder process will reduce the burden placed on transmission providers to identify and assess the impact of relevant factors for each category. For example, transmission providers can rely on the open and transparent stakeholder process to identify the multiple relevant local laws and regulations that are likely to influence Long-Term Transmission Needs over the transmission planning horizon. The same is true for the utility and corporate commitments and Federal, federally-recognized Tribal, state, and local policy goals that affect Long-Term Transmission Needs in Factor Category Seven. During the stakeholder process, government entities, utilities, and corporate entities can identify their publicly announced goals and provide feedback on how the transmission providers can account for these publicly announced goals in Long-Term Scenarios. These entities will have an opportunity to provide information to help the transmission providers determine the likelihood that they will achieve their stated goals, which the transmission providers can then use to discount the specific factors in Factor Category Seven, if necessary.

533. With regard to the information about factors and categories of factors that transmission providers must publish on the public portion of an OASIS or other public website, we modify the proposal in the NOPR. We require transmission providers to publish on the public portion of an OASIS or other public website: (1) the list of the factors in each of the seven required categories of factors that they will account for in their Long-Term Scenarios; (2) a description of each factor that they will account for in their Long-Term Scenarios; (3) a general statement explaining how they will account for each of these factors in their Long-Term Scenarios; (4) a description of the extent to which they will discount any factors in Factor Categories Four through Seven in each Long-Term Scenario; and (5) a list of the factors that they considered but did not incorporate in their Long-Term Scenarios.¹¹⁶¹ Transmission providers must post this information after stakeholders, including states, have had the meaningful opportunity to propose potential factors and to provide input on how to account for specific factors in the development of Long-Term Scenarios.

¹¹⁶¹ As discussed above, transmission providers may not discount factors in Factor Categories One through Three.

534. We believe that this transparency is necessary to make clear to stakeholders which specific factors transmission providers incorporate into Long-Term Scenarios and how they incorporate those factors. We believe the posting requirement will also provide greater transparency into how transmission providers develop Long-Term Scenarios (discussed below), as some commenters requested, while still providing transmission providers with flexibility regarding whether, and if so, how they choose to incorporate relevant factors.

535. In response to commenters requesting additional transparency,¹¹⁶² we require transmission providers to publish on the public portion of an OASIS or other public website the factors that were considered but not accounted for in the development of Long-Term Scenarios. We believe this requirement will help stakeholders understand which factors, either identified in the stakeholder process or independently identified by a transmission provider, the transmission providers in a transmission planning region have determined are unlikely to affect Long-Term Transmission Needs. This transparency also ensures that stakeholder-proposed factors are reviewed in a fair and non-discriminatory manner.

¹¹⁶² E.g., Pine Gate Initial Comments at 25.

536. We decline to require transmission providers to publicly publish the justification for and derivation of the amount of discounting deemed appropriate, as requested by Clean Energy Buyers.¹¹⁶³ We believe such a requirement to detail the rationale for the treatment of each factor in Factor Categories Four through Seven, across all Long-Term Scenarios, would create a time-consuming administrative burden for transmission providers that is not justified by the value of the additional information provided to stakeholders.

¹¹⁶³ Clean Energy Buyers Initial Comments at 16-17.

537. We decline to adopt modifications to the NOPR proposal that would diminish the role of the transmission providers in developing Long-Term Scenarios.¹¹⁶⁴ Transmission providers must provide stakeholders with a meaningful opportunity to propose potential factors and to provide input on how to incorporate specific factors in the development of Long-Term Scenarios, as described above. However, we reiterate that transmission providers are not required to incorporate stakeholder-identified factors into their development of Long-Term Scenarios merely because stakeholders propose them, if transmission providers determine that the factor is unlikely to influence Long-Term Transmission Needs over the transmission planning horizon. Consistent with Order No. 890, the ultimate responsibility for transmission planning remains with the transmission provider.¹¹⁶⁵

¹¹⁶⁴ E.g., GridLab Initial Comments at 20-21; R Street Initial Comments at 7.

¹¹⁶⁵ Order No. 890, 118 FERC ¶ 61,119 at P 454. There, in response to the suggestion by some commenters that we require transmission providers to allow customers to collaboratively develop transmission plans with transmission providers on a co-equal basis, we clarified that transmission planning is the tariff obligation of each transmission provider, and the pro forma OATT planning process adopted in this final rule is the means to see that it is carried out in a coordinated, open, and transparent manner, in order to ensure that customers are treated comparably. Therefore, the ultimate responsibility for planning remains with transmission providers.

4. Number and Development of Long-Term Scenarios

a. NOPR Proposal

538. In the NOPR, the Commission proposed to require transmission providers to develop at least four distinct Long-Term Scenarios as part of Long-Term Regional Transmission Planning at least once during a transmission planning cycle.¹¹⁶⁶ The Commission explained that it preliminarily found that using at least four distinct Long-Term Scenarios is a reasonable lower bound for the number of Long-Term Scenarios that transmission providers must evaluate in Long-Term Regional Transmission Planning. The Commission explained that this minimum number of Long-Term Scenarios would help to ensure that transmission providers conduct Long-Term Regional Transmission Planning that identifies more efficient or cost-effective regional transmission facilities to meet transmission needs driven by changes in the resource mix and demand. The Commission explained that to satisfy this requirement, transmission providers could develop a base case and three alternatives, or a low-, medium-, and high-level assumption for the factors that transmission providers (and their stakeholders) believe to be important to conduct Long-Term Regional Transmission Planning to more efficiently or cost-effectively meet transmission needs driven by changes in the resource mix and demand, along with a scenario that accounts for a high-impact, low-frequency event (as discussed below).¹¹⁶⁷

¹¹⁶⁶ NOPR, 179 FERC ¶ 61,028 at PP 121-126.

¹¹⁶⁷ Id. P 122.

539. Consistent with the Order No. 890 transparency transmission planning principle,¹¹⁶⁸ the Commission proposed to require transmission providers in each transmission planning region to publicly disclose (subject to any applicable confidentiality protections) information and data inputs they use to create each Long-Term Scenario. The Commission explained that this transparency requirement will allow stakeholders to understand how each scenario differs.

¹¹⁶⁸ The transparency transmission planning principle requires transmission providers to reduce to writing and make available the basic methodology, criteria, and processes used to develop transmission plans. Transmission providers must make sufficient information available to enable customers and other stakeholders to replicate the results of transmission planning studies. Order No. 890, 118 FERC ¶ 61,119 at P 471. Order No. 1000 applied this and other Order No. 890 transmission planning principles to regional transmission planning processes. Order No. 1000, 136 FERC ¶ 61,051 at P 151.

540. Similarly, consistent with the coordination transmission planning principle established in Order No. 890,¹¹⁶⁹ the Commission proposed to require that transmission providers in each transmission planning region give stakeholders the opportunity to provide timely and meaningful input into the identification of which Long-Term Scenarios are developed. The Commission proposed to require transmission providers to revise the regional transmission planning processes in their OATTs to outline an open and transparent process that provides stakeholders, including states, with a meaningful opportunity to propose which future outcomes are probable and can be captured through assumptions made in the development of Long-Term Scenarios. Furthermore, the Commission proposed to require transmission providers to explain on compliance how their process will identify a plausible and diverse set of Long-Term Scenarios.¹¹⁷⁰

¹¹⁶⁹ The coordination transmission planning principle requires transmission providers to provide customers and other stakeholders with the opportunity to participate fully in the transmission planning process. The transmission planning process must provide for the timely and meaningful input and participation of customers and other stakeholders regarding the development of transmission plans, allowing customers and other stakeholders to participate in the early stages of development. Order No. 890, 118 FERC ¶ 61,119 at PP 451-454.

¹¹⁷⁰ NOPR, 179 FERC ¶ 61,028 at P 123.

b. Comments

541. Many commenters support requiring transmission providers in each transmission planning region to develop at least four distinct Long-Term Scenarios as part of Long-Term Regional Transmission Planning.¹¹⁷¹ GridLab and R Street state that this proposed requirement appropriately balances the need to address uncertainty and risk factors associated with long-term transmission planning while limiting the complexity of the transmission planning process.¹¹⁷² PJM says that employing multiple scenarios will ensure that transmission providers' plans reflect changing needs while avoiding the risk of over-building.¹¹⁷³ SEIA states that requiring four distinct Long-Term Scenarios will allow transmission providers to reflect the uncertainty inherent in long-term planning.¹¹⁷⁴ AEE states that the Commission should establish a minimum number of scenarios as a baseline for compliance with any final order.¹¹⁷⁵ New York TOs support requiring the use of multiple scenarios for Long-Term Regional Transmission Planning, noting that NYISO already incorporates multiple scenarios into its transmission planning processes.¹¹⁷⁶ Nevada Commission notes that information from four scenarios could provide inputs into Nevada's integrated regional planning process and identify both local and regional needs.¹¹⁷⁷

¹¹⁷¹ ACORE Initial Comments at 10; Advanced Energy Buyers Initial Comments at 8; AEE Initial Comments at 8, 18; APPA Initial Comments at 29; Arizona Commission Initial Comments at 6; Concerned Scientists Reply Comments at 18-19; ELCON Initial Comments at 12; ENGIE Initial Comments at 4; Evergreen Action Initial Comments at 3; Georgia Commission Initial Comments at 4-5; GridLab Initial Comments at 12; ITC Initial Comments at 12; Nevada Commission Initial Comments at 8-9; New England for Offshore Wind Initial Comments at 2; NextEra Initial Comments at 65; Northwest and Intermountain Initial Comments at 12; NYISO Initial Comments at 25; Ørsted Initial Comments at 7; Southeast PIOs Initial Comments at 46; SPP Market Monitor Initial Comments at 6-7; US Chamber of Commerce Initial Comments at 7; US DOE Initial Comments at 14; Vermont Electric and Vermont Transco Initial Comments at 2.

¹¹⁷² GridLab Initial Comments at 12; R Street Initial Comments at 6.

¹¹⁷³ PJM Initial Comments at 74.

¹¹⁷⁴ SEIA Initial Comments at 11.

¹¹⁷⁵ AEE Reply Comments at 18.

¹¹⁷⁶ New York TOs Initial Comments at 2.

¹¹⁷⁷ Nevada Commission Initial Comments at 8-9.

542. Policy Integrity argues that the Commission should require more than four Long-Term Scenarios.¹¹⁷⁸ Policy Integrity identifies planning efforts that have used more than four scenarios to illustrate that best practice counsels against reducing the number of required Long-Term Scenarios.¹¹⁷⁹ Northwest and Intermountain state that, depending upon the size and characteristics of the transmission planning region, additional scenarios may be necessary to identify the transmission facilities that are most likely to ensure just and reasonable rates.¹¹⁸⁰ LADWP states that while developing more than four scenarios will likely be prudent in some instances such as special studies, four scenarios should be adequate for most Long-Term Regional Transmission Planning given the 20-year planning horizon and uncertainties.¹¹⁸¹

¹¹⁷⁸ Policy Integrity Initial Comments at 14-16.

¹¹⁷⁹ Id. at 15 (citing US DOE et al., Presentation on National Transmission Planning Study at the Modeling Subcommittee Meeting, at slide 21 (June 7, 2022), https://perma.cc/MEJ5-9JE6 (study will use approximately 100 scenarios); ERCOT, Report On Existing and Potential Electric System Constrains and Needs 10 (Dec. 2020), https://perma.cc/JGS4-9VH7 (ERCOT has previously used five scenarios); Mohamed Labib Awad et al., Using Market Simulations for Economic Assessment of Transmission Upgrades: Application of the California ISO Approach, in Restructured Electric Power Systems: Analysis Of Electricity Markets With Equilibrium Models 241, 255 (Xiao-Ping Zhang ed. 2010) (economists evaluating CAISO have used seventeen scenarios)).

¹¹⁸⁰ Northwest and Intermountain Initial Comments at 12.

¹¹⁸¹ LADWP Initial Comments at 4.

543. Some commenters stress the importance of considering multiple Long-Term Scenarios and the uncertainty associated with future conditions.¹¹⁸² ACORE suggests that uncertainties in data can be addressed with multiple Long-Term Scenarios that are continuously revised instead of granting flexibility or encouraging discounting of certain factors.¹¹⁸³ ENGIE states that a single base-case scenario is not effective at capturing trends in the resource mix and demand.¹¹⁸⁴ New York Commission and NYSERDA state that Long-Term Scenarios should reflect a range of plausible long-term futures that are relevant to the state (or transmission planning region) and should account for the uncertainty associated with looking out over longer time horizons.¹¹⁸⁵ On the other hand, R Street posits that whether scenario planning sufficiently captures information on the resource mix and demand depends more on the quality of inputs and scenario construction elements than the total number of scenarios.¹¹⁸⁶

¹¹⁸² ACORE Initial Comments at 10; ENGIE Initial Comments at 3-4; New York Commission and NYSERDA Initial Comments at 8; R Street Initial Comments at 6.

¹¹⁸³ ACORE Initial Comments at 10.

¹¹⁸⁴ ENGIE Initial Comments at 4.

¹¹⁸⁵ New York Commission and NYSERDA Initial Comments at 8.

¹¹⁸⁶ R Street Initial Comments at 6.

544. Some commenters generally support requiring Long-Term Scenarios ¹¹⁸⁷ including scenarios examining the effects of high energy demand,¹¹⁸⁸ and penetration of renewable resources.¹¹⁸⁹

¹¹⁸⁷ Breakthrough Energy Supplemental Comments at 1; Clean Energy Associations Initial Comments at 11-12; Cross Sector Representatives Supplemental Comments at 1; PJM Initial Comments at 6, 71-72; RMI Supplemental Comments at 2; US Climate Alliance Initial Comments at 2; Western PIOs Initial Comments at 29.

¹¹⁸⁸ ACORE Supplemental Comments at 1; Environmental Groups Supplemental Comments at 2.

¹¹⁸⁹ ACORE Supplemental Comments at 1; Environmental Groups Supplemental Comments at 2.

545. Other commenters do not oppose this requirement.¹¹⁹⁰

¹¹⁹⁰ Clean Energy Buyers Initial Comments at 17; Dominion Initial Comments at 25; Pine Gate Initial Comments at 26; Utah Division of Public Utilities Initial Comments at 5.

546. Some commenters support requiring transmission providers to establish Long-Term Scenarios, but would modify the NOPR proposal to require a lower minimum number. AEP, Entergy, NRECA, Pine Gate, and Western PIOs support requiring at least three Long-Term Scenarios.¹¹⁹¹ CAISO argues that the Commission should not require transmission providers to develop a minimum of four Long-Term Scenarios because there is no evidence, rationale, or justification for why four is the appropriate number of scenarios to develop.¹¹⁹² Instead, CAISO asserts that the Commission should grant transmission planners the flexibility to determine the minimum number of Long-Term Scenarios that are appropriate given the specific circumstances in their region and planning cycle. However, CAISO states that if Commission were to adopt a minimum number of Long-Term Scenarios, three Long-Term Scenarios is appropriate because it allows for a base case scenario and two sensitivity scenarios.¹¹⁹³ Entergy and NRECA claim that three Long-Term Scenarios would better balance the burden with the benefit of developing an additional scenario.¹¹⁹⁴ Pine Gate recommends that, instead of requiring a fourth scenario, the Commission should permit transmission providers in each transmission planning region to develop and use no less than three Long-Term Scenarios, and then to conduct either a fourth scenario or a sensitivity analysis on the most likely Long-Term Scenario to “account for uncertain operational outcomes that determine the benefits of or need for transmission facilities during high-impact, low frequency events” as proposed in the NOPR.¹¹⁹⁵

¹¹⁹¹ AEP Initial Comments at 5, 8, 12; Entergy Initial Comments at 13; NRECA Initial Comments 35; Pine Gate Initial Comments at 26-27; Western PIOs Initial Comments at 33.

¹¹⁹² CAISO Initial Comments at 23-24.

¹¹⁹³ Id. at 25-26.

¹¹⁹⁴ Entergy Initial Comments at 13; NRECA Initial Comments 35.

¹¹⁹⁵ Pine Gate Initial Comments at 26 (citing NOPR, 179 FERC ¶ 61,028 at P 124).

547. National Grid argues that there is an inherent trade-off between the number of Long-Term Scenarios, the quality of the data underpinning the assessment, and the frequency of reassessments. National Grid concludes that a transmission provider should not be required to plan for a scenario that is impossible or not supported by its stakeholders solely to meet the requirement that four distinct Long-Term Scenarios be developed and studied.¹¹⁹⁶ Xcel supports the use of scenarios but states that the proposed requirement to use at least four Long-Term Scenarios is too prescriptive.¹¹⁹⁷ Relatedly, LADWP states that developing more than four Long-Term Scenarios may be prudent in some instances but that it would be inefficient and a waste of resources to require all transmission providers in each transmission planning region to do so.¹¹⁹⁸

¹¹⁹⁶ National Grid Initial Comments at 14-15.

¹¹⁹⁷ Xcel Initial Comments at 10.

¹¹⁹⁸ LADWP Initial Comments at 4.

548. Some commenters broadly oppose the NOPR proposal to require transmission providers in each transmission planning region to develop at least a minimum number or specific number of Long-Term Scenarios.¹¹⁹⁹ California Commission argues that the NOPR's approach would interfere with regional transmission planning processes, such as CAISO's, that are closely coordinated with state resource planning and load forecasting and already effectively identify transmission necessary to accommodate changes in the resource mix and demand.¹²⁰⁰ Duke argues that requiring a minimum number of Long-Term Scenarios, while also requiring one capture high-impact, low-frequency events, places greater importance on developing scenarios purely to satisfy the requirement than on gaining consensus about what scenarios are in fact plausible or most likely.¹²⁰¹ MISO states that a prescriptive number of Long-Term Scenarios with specific factors included may introduce a level of granularity and complexity into Long-Term Regional Transmission Planning that impedes progress.¹²⁰²

¹¹⁹⁹ California Commission Initial Comments at 21-24; Duke Initial Comments at 15; Indicated PJM TOs Initial Comments at 9-10; ISO-NE Initial Comments at 28; ISO/RTO Council Initial Comments at 9; MISO Initial Comments at 20; NESCOE Initial Comments at 30; OMS Initial Comments at 5; PG&E Initial Comments at 6-7; SPP Initial Comments at 9-10; State Agencies Initial Comments at 14.

¹²⁰⁰ California Commission Initial Comments at 23.

¹²⁰¹ Duke Initial Comments at 15.

¹²⁰² MISO Initial Comments at 20.

549. Some commenters request that the Commission provide transmission providers in each transmission planning region with the flexibility to determine how many Long-Term Scenarios to develop.¹²⁰³ US DOE supports a requirement to identify four scenarios as a reasonable lower bound, and supports the analysis of additional scenarios, including sensitivities, but asserts that the development of Long-Term Scenarios should not be prescriptive but, rather, the Commission should provide guidelines and give transmission planning regions flexibility to work within those guidelines to capture reasonable sets of scenarios.¹²⁰⁴

¹²⁰³ Ameren Initial Comments at 13-14; Avangrid Initial Comments at 9-10; CAISO Initial Comments at 25; California Energy Commission Initial Comments at 2; Clean Energy Associations Initial Comments at 11-12; Dominion Initial Comments at 25; Entergy Initial Comments at 13; MISO Initial Comments at 16, 20; MISO TOs Initial Comments at 16-17; National Grid Initial Comments at 14; Nebraska Commission Initial Comments at 5; PG&E Initial Comments at 7; PJM Initial Comments at 72; SPP Initial Comments at 9; US DOE Initial Comments at 14; Xcel Initial Comments at 10.

¹²⁰⁴ US DOE Initial Comments at 14.

550. Some commenters propose that, if the Commission does not require a minimum number of Long-Term Scenarios, the Commission should instead require that transmission providers in each transmission planning region demonstrate, on compliance, why their proposed number of Long-Term Scenarios is appropriate.¹²⁰⁵ Duke asserts that the Commission should direct transmission providers to offer on compliance a process for Long-Term Scenario development that will capture enough sufficiently plausible scenarios with distinct sets of assumptions to adequately capture a consensus view of the most likely future state(s) to occur.¹²⁰⁶

¹²⁰⁵ CAISO Initial Comments at 25; Duke Initial Comments at 15; Eversource Initial Comments at 17-18; NESCOE Initial Comments at 30-31.

¹²⁰⁶ Duke Initial Comments at 15.

551. Other commenters call for the Commission to permit discretion on how transmission providers determine the number of Long-Term Scenarios to use.¹²⁰⁷ ISO-NE and ISO/RTO Council argue that the number of Long-Term Scenarios is an implementation detail that each transmission planning region should decide.¹²⁰⁸ NYISO states that the final order should permit each transmission planning region to conduct Long-Term Regional Transmission Planning using multiple Long-Term Scenarios that account for varying levels of achievement of local laws and regulations.¹²⁰⁹

¹²⁰⁷ Indicated PJM TOs Initial Comments at 9-10; ISO-NE Initial Comments at 28; ISO/RTO Council Initial Comments at 9; MISO Initial Comments at 20; NESCOE Initial Comments at 30-31; OMS Initial Comments at 5.

¹²⁰⁸ ISO-NE Initial Comments at 28; ISO/RTO Council Initial Comments at 9.

¹²⁰⁹ NYISO Initial Comments at 23.

552. MISO opposes requiring transmission providers to evaluate a specific number of Long-Term Scenarios and proposes, instead, that the Commission require that future scenarios be developed and implemented for purposes of long-term regional transmission planning, leaving each transmission planning region to determine what and how many scenarios are appropriate. According to MISO, this approach would ensure consistency across the transmission planning regions in what is required while allowing for any needed variation within each region.¹²¹⁰ Additionally, MISO notes that it developed the futures that it uses in its Long-Range Transmission Plan through extensive stakeholder processes and that these futures reflect the specific realities of its member utilities. MISO contends that allowing transmission providers to develop the number of Long-Term Scenarios they need, and at intervals appropriate for them, encourages stakeholder buy-in and more efficient allocation of planning resources.¹²¹¹

¹²¹⁰ MISO Initial Comments at 16, 20.

¹²¹¹ MISO Reply Comments at 9-10.

553. California Municipal Utilities disagree with comments that urge prescriptive uniformity, arguing that uniformity involves high costs and lacks consumer protection measures against speculative transmission projects.¹²¹² For example, California Municipal Utilities argue against the proposal from Western PIOs for the development of three common scenarios to be synchronized across the Western Interconnection because this proposal amounts to central resource planning, which is not consistent with the existing process in which state and local choices drive the planning process.¹²¹³

¹²¹² California Municipal Utilities Reply Comments at 5.

¹²¹³ Id. (citing Western PIOs Initial Comments at 32-33).

554. Louisiana Commission states that the Commission's proposal is overly prescriptive and that the Commission should provide for a more flexible approach that allows transmission providers, retail regulators, and other stakeholders to develop scenarios with appropriate, realistic, and reasonable assumptions. Louisiana Commission states that Long-Term Scenarios should be based on reasonable ranges of assumptions for load, and generation type and location. Louisiana Commission argues that the number of scenarios required is far less important than the quality of the data and assumptions used to develop them.¹²¹⁴ MISO TOs agree that the NOPR proposal is overly prescriptive, stating that the Commission should not create unnecessary obstacles, but rather create a rule broad enough to incorporate existing processes.¹²¹⁵

¹²¹⁴ Louisiana Commission Reply Comments at 6-7.

¹²¹⁵ MISO TOs Reply Comments at 13.

555. Some commenters emphasize the need for an open and transparent process that provides stakeholders, including states, with a meaningful opportunity to provide timely and meaningful input into which Long-Term Scenarios are developed.¹²¹⁶ For example, California Commission, NRECA, Concerned Scientists, and US Climate Alliance support the NOPR proposal to require transmission providers to disclose—subject to any applicable confidentiality protections—information and data inputs that they use to create each Long-Term Scenario.¹²¹⁷ ELCON states that the Commission should require each transmission provider to post all methodologies and inputs used in determining Long-Term Scenarios and factors to its OASIS.¹²¹⁸ NRG claims that the NOPR proposes a central determination of particular actions based on collectively determined assumptions, which gives up a major advantage of competition—the requirement that market participants take an individual view based on available information of the future viability of any investment they might make.¹²¹⁹

¹²¹⁶ California Commission Initial Comments at 25; Clean Energy Associations Initial Comments at 12; DC and MD Offices of People's Counsel Initial Comments at 14; ELCON Initial Comments at 12; NRECA Initial Comments at 35; Pacific Northwest State Agencies at 14-15; US Climate Alliance Initial Comments at 2.

¹²¹⁷ California Commission Initial Comments at 25; NRECA Initial Comments at 35; Concerned Scientists Reply Comments at 15-16; US Climate Alliance Initial Comments at 2.

¹²¹⁸ ELCON Initial Comments at 12.

¹²¹⁹ NRG Initial Comments at 8.

556. NESCOE argues that states must play a central role in Long-Term Regional Transmission Planning. Specifically, NESCOE agrees with ISO-NE, which calls for the Commission to explicitly authorize states to have a central decision-making role at all aspects of Long-Term Regional Transmission Planning, including “scenario analysis development,” to ensure necessary additional investment for a reliable, clean energy future.¹²²⁰ Similarly, Nebraska Commission adds that state regulatory commissions should have a significant role in defining Long-Term Scenarios.¹²²¹

¹²²⁰ NESCOE Reply Comments at 2 (citing ISO-NE Initial Comments at 2-4).

¹²²¹ Nebraska Commission Initial Comments at 5-6.

557. AEE requests that the Commission clarify the role of states in providing input to the development of Long-Term Scenarios.¹²²²

¹²²² AEE Initial Comments at 19.

558. GridLab states that the Commission should be prepared to act as the arbiter of stakeholder concerns about Long-Term Scenario design, similar to the role that state public utility commissions play in the integrated resource planning process, and that this may require new staff, resources, and the development of new expertise at the Commission.¹²²³

¹²²³ GridLab Initial Comments at 11-12.

c. Commission Determination

559. We adopt the NOPR proposal, with modification, to require transmission providers in each transmission planning region to develop at least three distinct Long-Term Scenarios as part of Long-Term Regional Transmission Planning. In implementing this requirement, transmission providers must develop, at least once during the five-year Long-Term Regional Transmission Planning cycle, at least three distinct Long-Term Scenarios that, at a minimum, incorporate the seven categories of factors listed in the Categories of Factors section above. We find that requiring transmission providers to develop at least three distinct Long-Term Scenarios as part of Long-Term Regional Transmission Planning strikes the appropriate balance between establishing a sufficient number of Long-Term Scenarios and the associated burden of developing and using Long-Term Scenarios in Long-Term Regional Transmission Planning. We also find that requiring transmission providers to develop at least three distinct Long-Term Scenarios instead of four, as proposed in the NOPR, is more consistent with the manner in which some transmission providers currently employ scenarios in their existing regional transmission planning process.¹²²⁴ We also reiterate, as stated in the NOPR, that if transmission providers produce a base-case Long-Term Scenario in Long-Term Regional Transmission Planning, that base case should be consistent with what the transmission provider determines is the most likely scenario to occur.¹²²⁵

¹²²⁴ See, e.g., CAISO Initial Comments at 26 (explaining that “CAISO typically has utilized three scenarios in its public policy planning process, a base case scenario and two sensitivity scenarios”); Entergy Initial Comments at 13-14 (explaining that MISO currently uses three scenarios in its transmission planning process and arguing that the use of three scenarios enables “transmission providers to `bookend' plausible outcomes to plan no-regrets additions to meet the grid, and then develop a scenario between those two to better inform the decision making”); NRECA Initial Comments at 35 n.100 (highlighting that MISO uses three scenarios in its transmission planning process).

¹²²⁵ NOPR, 179 FERC ¶ 61,028 at P 123.

560. In addition, we adopt the NOPR proposal to require, consistent with Order No. 890's transparency transmission planning principle, transmission providers in each transmission planning region to publicly disclose (subject to any applicable confidentiality protections) information and data inputs that they use to create each Long-Term Scenario.¹²²⁶ We also adopt the NOPR proposal to require transmission providers in each transmission planning region, consistent with Order No. 890's coordination transmission planning principle, to provide stakeholders an opportunity to provide timely and meaningful input into how Long-Term Scenarios are developed.¹²²⁷ Consistent with Order No. 890 and Order No. 1000's coordination transmission planning principle, we require transmission providers, with the input of their customers and other stakeholders, to craft coordination requirements that work for those transmission providers and their customers and other stakeholders. Furthermore, we adopt the NOPR proposal to require transmission providers to revise the regional transmission planning process in their OATTs to outline an open and transparent process that provides stakeholders, including states, with a meaningful opportunity to propose which future outcomes are probable and can be captured through assumptions made in the development of Long-Term Scenarios. We conclude that these requirements will help ensure that transmission providers will have the necessary information to identify Long-Term Transmission Needs and identify, evaluate, and select Long-Term Regional Transmission Facilities to address those needs. Furthermore, by requiring transmission providers to afford stakeholders a meaningful opportunity to propose future outcomes that are probable, we believe that this requirement helps to ensure that Long-Term Transmission Needs are being addressed in a more efficient or cost-effective manner.¹²²⁸

¹²²⁶ The transparency transmission planning principle requires transmission providers to reduce to writing and make available the basic methodology, criteria, and processes used to develop transmission plans. Transmission providers must make sufficient information available to enable customers and other stakeholders to replicate the results of transmission planning studies. Order No. 890, 118 FERC ¶ 61,119 at P 471. Order No. 1000 applied this and other Order No. 890 transmission planning principles to regional transmission planning processes. Order No. 1000, 136 FERC ¶ 61,051 at P 151.

¹²²⁷ The coordination transmission planning principle requires transmission providers to provide customers and other stakeholders with the opportunity to participate fully in the transmission planning process. The transmission planning process must provide for the timely and meaningful input and participation of customers and other stakeholders regarding the development of transmission plans, allowing customers and other stakeholders to participate in the early stages of development. Order No. 890, 118 FERC ¶ 61,119 at P 454.

¹²²⁸ Order No. 1000, 136 FERC ¶ 61,051 at P 150.

561. We also note the important role of states in developing Long-Term Scenarios. As the Commission stated in Order No. 890 and Order No. 1000, and we reiterate here, our expectation is that “all transmission providers will respect states' concerns” when engaging in the regional transmission planning process.¹²²⁹ We strongly encourage states to participate actively in the development of Long-Term Scenarios, as well as in all other aspects of Long-Term Regional Transmission Planning. In response to NESCOE's and AEE's concerns about the role of state regulators in the development of Long-Term Scenarios and their use in Long-Term Regional Transmission Planning,¹²³⁰ we find that, consistent with Order No. 890,¹²³¹ transmission planning must be coordinated with interested stakeholders, including relevant state regulators that wish to participate in the Long-Term Regional Transmission Planning process. As reflected throughout this final order, we recognize that states have a particularly important role to play in the development of Long-Term Regional Transmission Facilities and encourage transmission providers to work with states in a way that reflects that role in addition to complying with the relevant requirements established herein.

¹²²⁹ Id. P 212; Order No. 890, 118 FERC ¶ 61,119 at P 574.

¹²³⁰ AEE Initial Comments at 8; NESCOE Reply Comments at 2 (citing ISO-NE Initial Comments at 2-4).

¹²³¹ Order No. 890, 118 FERC ¶ 61,119 at P 574.

562. In response to commenters that argue that the Commission should require four or more Long-Term Scenarios,¹²³² we affirm that nothing in this final order precludes or prevents transmission providers from proposing to use more than three Long-Term Scenarios in Long-Term Regional Transmission Planning. To the extent that transmission providers, in consultation with stakeholders, conclude that using more than three Long-Term Scenarios is appropriate for Long-Term Regional Transmission Planning in their transmission planning region, those transmission providers may propose to use more than three Long-Term Scenarios in their compliance filings.

¹²³² ACORE Initial Comments at 10; Advanced Energy Buyers Initial Comments at 8; AEE Initial Comments at 8; APPA Initial Comments at 29; Arizona Commission Initial Comments at 6; Concerned Scientists Reply Comments at 18-19; ELCON Initial Comments at 12; ENGIE Initial Comments at 4; Evergreen Action Initial Comments at 3; Georgia Commission Initial Comments at 4-5; GridLab Initial Comments at 12; ITC Initial Comments at 12; Nevada Commission Initial Comments at 8-9; New England for Offshore Wind Initial Comments at 2; NextEra Initial Comments at 65; Northwest and Intermountain Initial Comments at 12; NYISO Initial Comments at 25; Ørsted Initial Comments at 7; Southeast PIOs Initial Comments at 46; SPP Market Monitor Initial Comments at 7; US Chamber of Commerce Initial Comments at 7; US DOE Initial Comments at 14-15; Vermont Electric and Vermont Transco Initial Comments at 2.

563. In response to California Commission's comments about the interaction between the development of Long-Term Scenarios and existing regional transmission planning processes,¹²³³ we believe the final order, as modified from the NOPR proposal, addresses this concern and provides transmission providers with sufficient flexibility to tailor the development of Long-Term Scenarios to their transmission planning regions' specific needs or existing practices, as discussed elsewhere in this final order.¹²³⁴

¹²³³ California Commission Initial Comments at 23.

¹²³⁴ See supra Categories of Factors, Requirement to Incorporate Categories of Factors section; Categories of Factors, Stakeholder Process and Transparency section.

5. Types of Long-Term Scenarios

a. NOPR Proposal

564. In the NOPR, the Commission proposed to require that each Long-Term Scenario incorporate, at a minimum, the categories of factors listed in the requirement above. As discussed in the Factors section of the NOPR,¹²³⁵ the Commission proposed that each Long-Term Scenario must be consistent with Federal, state, and local laws and regulations that affect the future resource mix; Federal, state, and local laws and regulations on decarbonization and electrification; and state-approved integrated resource plans. However, the Commission explained that each Long-Term Scenario may vary according to assumptions about the remaining categories of factors described in the NOPR, as well as with respect to other characteristics of the future electric power system. The Commission explained that it neither proposed to require the development of a specific Long-Term Scenario or specific set of Long-Term Scenarios, nor did it propose to require that transmission providers identify the relative likelihood of different Long-Term Scenarios except where transmission providers develop a base case scenario, as described more fully below.¹²³⁶

¹²³⁵ NOPR, 179 FERC ¶ 61,028 at PP 104-112.

¹²³⁶ Id. P 121.

565. The Commission proposed to require transmission providers in each transmission planning region to develop a plausible and diverse set of Long-Term Scenarios.¹²³⁷ The Commission explained that the set of at least four Long-Term Scenarios must be: (1) plausible, that is they must reasonably capture probable future outcomes, and (2) diverse in the sense that transmission providers must be able to distinguish distinct transmission facilities or distinct benefits of similar transmission facilities in each scenario. The Commission proposed to require that if the transmission providers in a transmission planning region use a base case scenario, that scenario should be consistent with the scenario that the transmission providers determine to be the most likely scenario to occur.

¹²³⁷ The Commission noted that different assumptions about the factors and data inputs used to develop Long-Term Scenarios and other characteristics of the future electric power system determine whether the set of Long-Term Scenarios are plausible and diverse.

b. Comments

566. Some commenters support the Commission's proposal to require transmission providers in each transmission planning region to develop a plausible and diverse set of Long-Term Scenarios.¹²³⁸ For example, GridLab agrees that the Commission should require that transmission providers demonstrate that their Long-Term Scenarios capture a reasonable range of possible futures. GridLab argues that scenarios that are too conservative will lead to similar load-resource and transmission portfolio scenarios, which limits the value of scenario planning in managing uncertainty and risk.¹²³⁹ Illinois Commission argues that the NOPR's proposed requirement for diverse and plausible scenarios is important, and that Long-Term Scenarios must consider a wide array of conditions.¹²⁴⁰

¹²³⁸ APPA Initial Comments at 29; Clean Energy Buyers Initial Comments at 17; DC and MD Offices of People's Counsel Initial Comments at 13; GridLab Initial Comments at 11 & n.12; Illinois Commission Initial Comments at 7; Mississippi Commission Reply Comments at 9; NARUC Initial Comments at 10; NESCOE Initial Comments at 32; New York Commission and NYSERDA Initial Comments at 8; SPP Market Monitor Initial Comments at 7.

¹²³⁹ GridLab Initial Comments at 11.

¹²⁴⁰ Illinois Commission Initial Comments at 7.

567. Some commenters discuss the need for certain types of Long-Term Scenarios.¹²⁴¹ Certain TDUs and PIOs argue that, although Long-Term Scenarios should include anticipated levels of generation, they should also include “book end” scenarios of high- and low-load growth.¹²⁴² Clean Energy Associations argue that, because the Inflation Reduction Act provides for significant funding for electrification, at least some scenarios should evaluate transmission needs under higher-than-anticipated load growth.¹²⁴³

¹²⁴¹ ACORE Initial Comments at 10-11; AEE Initial Comments at 8; APPA Initial Comments at 29; Certain TDUs Initial Comments at 18; Clean Energy Associations Initial Comments at 10-11; Evergreen Action Initial Comments at 3; Eversource Initial Comments at 18-19; Georgia Commission Initial Comments at 4-5; NESCOE Initial Comments at 32; NextEra Initial Comments at 65; PIOs Initial Comments at 22-23; PJM Initial Comments at 73-74; US Climate Alliance Initial Comments at 2; US DOE Initial Comments at 15; Utah Division of Public Utilities Initial Comments at 5-6; Western PIOs Initial Comments at 33.

¹²⁴² Certain TDUs Initial Comments at 18; PIOs Initial Comments at 22-23.

¹²⁴³ Clean Energy Associations Initial Comments at 11 (citing Inflation Reduction Act, Public Law 117-169 (2022)).

568. PJM describes four scenarios that it might use: (1) a low uncertainty scenario with known inputs, such as legislative and regulatory laws and announced deactivations and load forecasts; (2) a medium uncertainty scenario that includes state and local goals and economic retirement analysis; (3) a higher uncertainty scenario that adds more speculative and aspirational goals; and (4) a high-impact-low-frequency resilience evaluation scenario that includes low-probability, high-impact events. PJM states that the scenarios should be: (1) based on a clearly defined, robust set of factor development criteria grounded in customer needs; (2) capable of adapting to an evolving set of future system conditions; and (3) crafted to produce the appropriate level of transmission.¹²⁴⁴

¹²⁴⁴ PJM Initial Comments at 73-74.

569. Western PIOs state that one scenario should be based on existing policy and assumptions about generation retirements and electrification that are likely to occur. Western PIOs state that a second scenario would build on that base case scenario by assuming Public Policy Requirements and utility and corporate goals are met or exceeded, as well as high levels of electrification and generation retirements. Western PIOs state that a third scenario should address high-impact, low-frequency extreme weather events. Western PIOs state that the fourth scenario could be reserved for a scenario unique to each of the non-RTO/ISO transmission planning regions.¹²⁴⁵

¹²⁴⁵ Western PIOs Initial Comments at 33.

570. ACORE argues that uncertainties in data do not require granting flexibility or encouraging discounting, but instead can be addressed with multiple scenarios that are continuously revised as recommended in the NOPR. For example, one Long-Term Scenario can include a discounted set of goals, while another can add contingency factors for when demand exceeds those goals; and a range of scenarios could be incorporated for the extent of electrification of buildings and transportation. ACORE states that scenario analysis should incorporate a probabilistic-based range of future weather and extreme events which, ACORE asserts, will support the analyses of the benefits of mitigation of those extreme events and system contingencies and mitigation of weather and load uncertainty.¹²⁴⁶

¹²⁴⁶ ACORE Initial Comments at 10-11.

571. AEE recommends that the Commission require Long-Term Scenarios that consider anticipated distributed energy resource deployments.¹²⁴⁷ Evergreen Action urges the Commission to require that at least one Long-Term Scenario contemplate a 100% clean-energy grid by 2035, to reflect the Biden Administration's target of 100% carbon-free electricity by 2035.¹²⁴⁸ Similarly, NextEra argues that the Commission should require that one of the Long-Term Scenarios be based on an economy-wide, net-zero emissions scenario or at least a Federal net-zero emissions mandate limited to the power sector.¹²⁴⁹ In contrast, Utah Division of Public Utilities states that one of the Long-Term Scenarios should consider little or no state renewable energy or decarbonization goals or requirements to assist in determining transmission costs for states that have less onerous goals.¹²⁵⁰

¹²⁴⁷ AEE Initial Comments at 8.

¹²⁴⁸ Evergreen Action Initial Comments at 3.

¹²⁴⁹ NextEra Initial Comments at 65.

¹²⁵⁰ Utah Division of Public Utilities Initial Comments at 5-6.

572. APPA requests that one of the Long-Term Scenarios represent a base case of business as usual.¹²⁵¹ Eversource supports the NOPR proposal to use the “most likely scenario to occur” as the base case for analysis of Long-Term Scenarios.¹²⁵² Georgia Commission argues that a base case scenario should reflect the expected long-term mix of generating capacity, with additional scenarios reflecting alternative carbon emission constraints, fuel prices, and growth in distributed energy resources.¹²⁵³ US Climate Alliance states that business-as-usual cases should be consistent with state and Federal policy and used in addition to alternative scenarios that demonstrate a range of factors influencing the changing grid.¹²⁵⁴

¹²⁵¹ APPA Initial Comments at 29.

¹²⁵² Eversource Initial Comments at 19.

¹²⁵³ Georgia Commission Initial Comments at 4-5.

¹²⁵⁴ US Climate Alliance Initial Comments at 2.

573. However, PIOs state that the Commission should not use the phrase “business as usual” as it is misleading in a rapidly changing electric industry.¹²⁵⁵ US DOE argues against identifying the likelihood of any one Long-Term Scenario, including a base case scenario, because identifying a single such scenario as most likely is challenging and discourages the analysis of more scenarios and sensitivities, undermining the value of scenario analysis. Instead, US DOE argues that transmission facilities that provide high value in multiple scenarios should be identified as more likely to provide value to the future transmission system, because expansion options that provide high value in many future scenarios are flexible, and that flexibility to accommodate multiple future scenarios is more important than trying to characterize the likelihood of any one scenario.¹²⁵⁶

¹²⁵⁵ PIOs Initial Comments at 22.

¹²⁵⁶ US DOE Initial Comments at 15.

574. Senator Schumer supports requiring a high variable energy resource penetration scenario.¹²⁵⁷

¹²⁵⁷ Senator Schumer Supplemental Comments at 2.

c. Commission Determination

575. We adopt the NOPR proposal to require transmission providers in each transmission planning region to develop a plausible and diverse set of at least three Long-Term Scenarios. Specifically, we find that the set of at least three Long-Term Scenarios must be: (1) plausible, meaning that each scenario must itself be reasonably probable, and collectively that the set of plausible scenarios must reasonably capture probable future outcomes, and (2) diverse, in the sense that transmission providers can distinguish distinct transmission facilities or distinct benefits of similar transmission facilities in each Long-Term Scenario. We find that requiring Long-Term Scenarios to be both plausible and diverse prevents the development of Long-Term Scenarios that may otherwise be too conservative, speculative, or similar for transmission providers to identify Long-Term Transmission Needs and identify, evaluate, and select Long-Term Regional Transmission Facilities to more efficiently or cost-effectively address those needs. Absent a requirement that Long-Term Scenarios be both plausible and diverse, transmission providers could develop Long-Term Scenarios in a manner that undercuts one of the primary benefits of using scenario-based planning practices, which is to help ensure that transmission providers can account for the uncertainty about future conditions when conducting Long-Term Regional Transmission Planning.

576. Moreover, we also require that each individual Long-Term Scenario be plausible (i.e., individually the scenario must be reasonably probable) because, absent such a requirement, we are concerned that the set of Long-Term Scenarios may include a Long-Term Scenario that rests on assumptions about the factors and data inputs that do not reasonably capture possible future outcomes. Additionally, we also clarify the term “diverse” to mean that the set of Long-Term Scenarios must represent a reasonable range of probable future outcomes consistent with the requirement for plausibility, based on assumptions about the factors and data inputs.

577. We disagree with commenters that argue that the Commission should modify the NOPR proposal and prescribe specific types of Long-Term Scenarios for transmission providers to use in Long-Term Regional Transmission Planning.¹²⁵⁸ We are not persuaded that we should require transmission providers to develop either a specific Long-Term Scenario or a specific set of Long-Term Scenarios because we believe that transmission providers, with an opportunity for timely and meaningful input from stakeholders, are in the best position to determine which plausible Long-Term Scenarios are applicable to their transmission planning region. Further, we do not find it necessary to require transmission providers to develop low-, medium-, and high-level assumptions for the factors that transmission providers believe to be important except where transmission providers develop a base case scenario, as discussed above.¹²⁵⁹

¹²⁵⁸ ACORE Initial Comments at 10-11; AEE Initial Comments at 8; APPA Initial Comments at 29; Certain TDUs Initial Comments at 18, 22; Clean Energy Associations Initial Comments at 11; Evergreen Action Initial Comments at 3; Eversource Initial Comments at 19; Georgia Commission Initial Comments at 4-5; NESCOE Initial Comments at 32; NextEra Initial Comments at 65; PIOs Initial Comments at 22-23; PJM Initial Comments at 73-74; US Climate Alliance Initial Comments at 2; US DOE Initial Comments at 15; Utah Division of Public Utilities Initial Comments at 5-6; Western PIOs Initial Comments at 33.

¹²⁵⁹ See supra Types of Long-Term Scenarios section.

6. Sensitivities for High-Impact, Low-Frequency Events

a. NOPR Proposal

578. In the NOPR, the Commission proposed to require that at least one of the four distinct Long-Term Scenarios that transmission providers in each transmission planning region use in Long-Term Regional Transmission Planning account for uncertain operational outcomes that determine the benefits of or need for transmission facilities during high-impact, low-frequency events. The Commission proposed to allow transmission providers the flexibility to determine which high-impact, low-frequency event should be modeled in this Long-Term Scenario as part of Long-Term Regional Transmission Planning based on the Commission's understanding that each transmission planning region may see a need to evaluate a different type of high-impact, low-frequency event. The Commission stated that high-impact, low-frequency events may include extreme weather events or events associated with potential cyber-attacks. The Commission explained that this Long-Term Scenario accounting for a high-impact, low-frequency event can be developed, for example, by assuming greater-than-expected electricity demand and greater-than-expected generation or transmission outages. The Commission proposed that the use of either probabilistic transmission planning ¹²⁶⁰ or stochastic techniques would be sufficient to satisfy this requirement, but it did not propose to require either approach at this time.¹²⁶¹

¹²⁶⁰ NOPR, 179 FERC ¶ 61,028 at P 124. The Commission stated that it considers probabilistic transmission planning approaches to include any transmission planning approach that uses a probability distribution to assign probabilities to one or more inputs to the transmission model. The Commission stated that these inputs can include shorter-term operational inputs (like wind generation or generation outages). The Commission described stochastic techniques as including adaptive transmission planning techniques that identify transmission facilities that optimize transmission net-benefits over a time horizon under market and regulatory uncertainty about the future. Id. P 124 n.228.

¹²⁶¹ Id. P 124.

579. The Commission noted that transmission providers can develop sensitivities for every Long-Term Scenario to assess how outcomes modeled in Long-Term Scenarios may depend on an assumption about electric power system model inputs that does not vary across scenarios (e.g., higher natural gas prices). The Commission explained that such sensitivities can provide valuable information about the need for and benefits of potential transmission facilities, but also noted that they can be burdensome to develop if applied to every scenario.¹²⁶²

¹²⁶² Id. P 125.

b. Comments

580. Some commenters support the NOPR proposal to require one Long-Term Scenario to account for uncertain operational outcomes that determine the benefits of or need for transmission facilities during high-impact, low-frequency events as part of Long-Term Regional Transmission Planning.¹²⁶³ Ameren states that the inclusion of such events in Long-Term Regional Transmission Planning would provide additional information for transmission providers, stakeholders, state regulators, and others to consider when determining the need for regional transmission facilities.¹²⁶⁴ According to Arizona Commission, including such a scenario, and giving the transmission provider the discretion to determine what this should be for its region, may provide the added benefit of allowing state involvement in identifying the appropriate “high-impact” event to be analyzed. Arizona Commission additionally asserts that the Commission should require transmission providers to develop sensitivities for each Long-Term Scenario to better understand the range of benefits under each scenario.¹²⁶⁵

¹²⁶³ Ameren Initial Comments at 13; Arizona Commission Initial Comments at 6; California Commission Initial Comments at 24; Evergreen Action Initial Comments at 4; Eversource Initial Comments at 18; Grid United Initial Comments at 4; New England for Offshore Wind Initial Comments at 2; Pacific Northwest State Agencies Initial Comments at 14; US DOE Initial Comments at 15.

¹²⁶⁴ Ameren Initial Comments at 13-14.

¹²⁶⁵ Arizona Commission Initial Comments at 6-7.

581. Eversource supports the NOPR proposal given the increasing threat of extreme weather events and potential cyber-attacks.¹²⁶⁶ Similarly, Illinois Commission states that the inclusion of high-impact, low-frequency events in the transmission planning process is reasonable and should include cyber-security attacks and extreme weather events to strengthen the system's resilience.¹²⁶⁷ New England for Offshore Wind argues that it is prudent for the Commission to require transmission providers to develop at least one high-impact, low-frequency scenario due to the increased likelihood of extreme weather events due to climate change.¹²⁶⁸ SoCal Edison states that incorporating probabilistic assumptions about extreme weather in Long-Term Scenarios would be a reasonable, proactive approach to mitigate the impacts of extreme weather when it occurs.¹²⁶⁹

¹²⁶⁶ Eversource Initial Comments at 18.

¹²⁶⁷ Illinois Commission Initial Comments at 6.

¹²⁶⁸ New England for Offshore Wind Initial Comments at 2.

¹²⁶⁹ SoCal Edison Initial Comments at 12.

582. Likewise, Cypress Creek, City of New Orleans Council, DC and MD Offices of People's Counsel, and PIOs support the inclusion of extreme weather events in Long-Term Scenarios.¹²⁷⁰ Business Council for Sustainable Energy contends that Long-Term Scenarios must account for the increase in significant climate events, acknowledging that the most salient events to assess may vary regionally.¹²⁷¹ US DOE asserts that regional transmission planning should consider the effects of extreme events, including extreme weather events, on the availability and reliability of the transmission system.¹²⁷² WE ACT comments that requiring transmission providers to consider extreme weather events in Long-Term Regional Transmission Planning is a positive step towards addressing grid reliability in the face of more frequent and intensifying weather events brought on by the climate crisis.¹²⁷³

¹²⁷⁰ City of New Orleans Council Initial Comments at 8; Cypress Creek Reply Comments at 5-6; DC and MD Offices of People's Counsel Reply Comments at 6; PIOs Reply Comments at 10; see also RMI Supplemental Comments at 2; Senator Whitehouse Supplemental Comments at 2-3.

¹²⁷¹ Business Council for Sustainable Energy Initial Comments at 4.

¹²⁷² US DOE Initial Comments at 5.

¹²⁷³ WE ACT Initial Comments at 2.

583. Other commenters express more general support for the study of high-impact, low-frequency events in Long-Term Regional Transmission Planning.¹²⁷⁴ Clean Energy Associations emphasize that no scenario or sensitivity should assume that historical operating conditions will persist given the unpredictable and increasing impact of climate change.¹²⁷⁵ Grid United states that high-impact, low-frequency scenarios should not be considered “black swan” events since they occur on a regular, but low-frequency, basis. Moreover, Grid United asks that the Commission define or provide examples of high-impact, low-frequency events that transmission providers could incorporate into Long-Term Scenarios to provide clarity and consistency across transmission planning regions.¹²⁷⁶

¹²⁷⁴ See Business Council for Sustainable Energy Initial Comments at 4; Clean Energy Associations Initial Comments at 12; Evergreen Action Initial Comments at 3-4; Grid United Initial Comments at 4-5; NARUC Initial Comments at 11-12; NASUCA Initial Comments at 4-5; NESCOE Initial Comments at 32-33; NRECA Initial Comments at 35-36; Pattern Energy Initial Comments at 25; SoCal Edison Initial Comments at 12.

¹²⁷⁵ Clean Energy Associations Initial Comments at 12.

¹²⁷⁶ Grid United Initial Comments at 5.

584. NARUC does not oppose the requirement that one of the Long-Term Scenarios account for high-impact, low-frequency events but notes that states' input is important when developing such scenarios.¹²⁷⁷ Pattern Energy states that, with respect to low-probability, high-risk event scenarios, the Commission should: (1) require the North American Electric Reliability Corporation and the Regional Entities to develop the scope of low-probability, high-risk events for each region of the country and then (2) require transmission providers to model at least one of the events in a rotation of the three-year review of the 20-year plans to identify vulnerabilities that can be addressed through transmission solutions that increase resilience.¹²⁷⁸ Vermont Electric and Vermont Transco request clarity on what scenarios the Commission would consider sufficiently high-impact to be analyzed but not so high-impact as to be unable to be mitigated by effective Long-Term Regional Transmission Planning.¹²⁷⁹

¹²⁷⁷ NARUC Initial Comments at 11-12.

¹²⁷⁸ Pattern Energy Initial Comments at 25.

¹²⁷⁹ Vermont Electric and Vermont Transco Initial Comments at 3.

585. Some commenters support the Commission's proposal to permit transmission providers to model high-impact, low-frequency events via probabilistic or stochastic methods.¹²⁸⁰ PJM states that it will sometimes use probabilistically-derived parameters and sometimes use deterministically-derived parameters in its Long-Term Scenarios, depending on which is more appropriate.¹²⁸¹ Policy Integrity asserts that the Commission should ensure the use of modeling techniques that address uncertainty, such as stochastic programming and robust optimization models.¹²⁸² Policy Integrity argues that modeling that fails to consider uncertainties that arise from various factors could reduce the cost-efficacy and efficiency of results and, ultimately, result in unjust and unreasonable rates.¹²⁸³ Policy Integrity cites the European Network of Transmission System Operators' consideration of the interactions between gas and electric systems as an example of best practices for choosing scenarios.¹²⁸⁴

¹²⁸⁰ California Commission Initial Comments at 24-25; Eversource Initial Comments at 18; PJM Initial Comments at 74-75.

¹²⁸¹ PJM Initial Comments at 75.

¹²⁸² Policy Integrity Initial Comments at 7.

¹²⁸³ Id. at 6.

¹²⁸⁴ Id. at 9 (citing European Commission, Key Cross Border Infrastructure Projects, https://perma.cc/4U6X-Q2WN (last visited Aug. 9, 2022)).

586. Some commenters provided views on the Commission's proposal to require transmission providers to develop sensitivities for each Long-Term Scenario.¹²⁸⁵ Business Council for Sustainable Energy states that it is important that scenario planning cover a range of sensitivities, and that the long-term needs of the transmission system as well as long-term policy goals should be incorporated.¹²⁸⁶ NERC states that studies could more adequately study various sensitivities and extreme conditions (e.g., extreme weather) to ensure a reliable, resilient, and secure bulk power system on a longer time horizon, which could, in turn, help inform transmission expansion plans particularly related to the changing resource mix.¹²⁸⁷

¹²⁸⁵ Business Council for Sustainable Energy Initial Comments at 4; NERC Initial Comments at 7; Exelon Initial Comments 7 & n.7; GridLab Initial Comments at 17-19; Idaho Power Initial Comments at 5; Minnesota State Entities Initial Comments at 5; NYISO Initial Comments at 26; PIOs Initial Comments at 23-24; Policy Integrity Initial Comments at 14-16; PPL Initial Comments at 9; R Street Initial Comments at 6; US DOE Initial Comments at 15-16.

¹²⁸⁶ Business Council for Sustainable Energy Initial Comments at 4.

¹²⁸⁷ NERC Initial Comments at 7.

587. GridLab recommends that the Commission provide a high-level requirement and guidance on what kinds of factors are more effectively considered in scenario versus sensitivity analysis and how sensitivity analysis might be used in tandem with scenario analysis.¹²⁸⁸ Policy Integrity states that, instead of mandating only a minimum number of Long-Term Scenarios, the Commission should also require sensitivity analysis of critical drivers of transmission needs.¹²⁸⁹ In addition, Policy Integrity recommends that the Commission require transmission providers to run a sensitivity for each Long-Term Scenario using a 30-year transmission planning horizon and compare the results with those from the analysis of each Long-Term Scenario using a 20-year transmission planning horizon.¹²⁹⁰ PIOs state that the Commission should specify that, if any critical variable (e.g., natural gas prices, capital costs of wind and solar, short and long duration storage, and carbon capture and sequestration) is the same in more than two Long-Term Scenarios, then transmission providers must conduct sensitivities that use different values for that variable.¹²⁹¹

¹²⁸⁸ GridLab Initial Comments at 17-18.

¹²⁸⁹ Policy Integrity Initial Comments at 15.

¹²⁹⁰ Id. at 10-11.

¹²⁹¹ PIOs Initial Comments at 23-24.

588. Although NRECA does not oppose the proposal that at least one Long-Term Scenario account for high-impact, low-frequency events from extreme weather, NRECA states that the Commission should not require any Long-Term Scenarios to account for possible cyber-attacks. NRECA asserts that modeling cyber-attacks and their effects would be extraordinarily complex and risk disclosure of non-public Critical Electric Infrastructure Information (CEII) and that such risks are better addressed in North American Electric Reliability Corporation standards development, noting that cyber-attacks may already be evaluated under North American Electric Reliability Corporation Transmission Planning Reliability Standard TPL-001-4.¹²⁹²

¹²⁹² NRECA Initial Comments at 35-36 (citing GDS Associates, Report, at 13 (Aug. 17, 2022); NERC Reliability Standard TPL-001-4, Table 1—Steady State, https://www.nerc.com/pa/Stand/Reliability%20Standards/TPL-001-4.pdf).

589. Some commenters oppose requiring one Long-Term Scenario for uncertain operational outcomes that determine the benefits of or need for transmission facilities during high-impact, low-frequency events.¹²⁹³ LADWP asserts that a more meaningful measure of benefits or needs associated with high-impact, low-frequency events may be a periodic examination of the impacts of large-scale single points of failures.¹²⁹⁴ US Chamber of Commerce argues against requiring a Long-Term Scenario for high-impact, low-frequency events because, it asserts, the scope and impacts of such events on the transmission system can be infinite in number.¹²⁹⁵

¹²⁹³ LADWP Initial Comments at 3; MISO Initial Comments at 27-28, 38-39; Mississippi Commission Reply Comments at 6; OMS Initial Comments at 6; US Chamber of Commerce Initial Comments at 7.

¹²⁹⁴ LADWP Initial Comments at 3.

¹²⁹⁵ US Chamber of Commerce Initial Comments at 7.

590. MISO argues that, although the impacts of large-scale generation loss events associated with extreme weather events should be considered in Long-Term Regional Transmission Planning, the Commission should consider requiring analysis or sensitivities of extreme events that are focused on the times or snapshots when the system is potentially impacted by those events instead of requiring a separate extreme event scenario.¹²⁹⁶ MISO further argues that the Commission should not require a specific number or type of sensitivities, which can vary over time, but instead transmission providers should have flexibility to assess the appropriate sensitivities needed to test scenarios and results at the time those are being developed.¹²⁹⁷ Similarly, OMS argues that analyzing system performance during extreme weather for all Long-Term Scenarios would result in a better understanding of the benefits of transmission and ensure reliability regardless of future changes in generation and/or load.¹²⁹⁸ PIOs likewise recommend that the Commission require that transmission providers model extreme weather events as sensitivities in each Long-Term Scenario and, specifically, that they model at least extreme heat or cold over geographic areas that are experiencing these extremes.¹²⁹⁹

¹²⁹⁶ MISO Initial Comments at 27-28.

¹²⁹⁷ Id. at 39.

¹²⁹⁸ OMS Initial Comments at 6.

¹²⁹⁹ PIOs Initial Comments at 21.

591. NESCOE states that it supports the study of high-impact, low-frequency events; however, NESCOE argues that the proposal raises questions about whether codifying such a requirement blurs the line between public policy planning and reliability planning, contrary to the NOPR's contention that none of the proposals seek to alter the reliability planning process. NESCOE contends that making the study of high-impact, low-frequency events discretionary instead of mandatory under Long-Term Regional Transmission Planning would avoid such tension.¹³⁰⁰ Mississippi Commission states that the Commission should not mandate that transmission planning attempt to predict extreme weather events and over-build the system, because “predicting where the next hurricane or tornado will land is speculative.” Mississippi Commission argues that a better approach is to incorporate construction standards (e.g., North American Electric Reliability Corporation, IEEE, local reliability criteria) designed to withstand such events.¹³⁰¹

¹³⁰⁰ NESCOE Initial Comments at 32-33.

¹³⁰¹ Mississippi Commission Reply Comments at 6.

592. Idaho Power raises concerns that developing multiple sensitivities for multiple Long-Term Scenarios over a long-term transmission planning horizon introduces too many variables.¹³⁰² Minnesota State Entities state that defining specific methods in the final order—such as the difference between a “sensitivity” and what is included in a “scenario”—can be unnecessarily confusing and complex.¹³⁰³ US DOE encourages transmission providers to perform sensitivity analyses but states that the Commission should only require that one Long-Term Scenario analyze high-impact, low-frequency events.¹³⁰⁴

¹³⁰² Idaho Power Initial Comments at 5.

¹³⁰³ Minnesota State Entities Initial Comments at 5.

¹³⁰⁴ US DOE Initial Comments at 16.

c. Commission Determination

593. We modify the NOPR proposal to require transmission providers in each transmission planning region to develop at least one sensitivity, applied to each Long-Term Scenario, to account for uncertain operational outcomes that determine the benefits of and/or need for transmission facilities during multiple concurrent and sustained generation and/or transmission outages due to an extreme weather event across a wide area.¹³⁰⁵ As discussed below, we acknowledge support in the record for studying high-impact, low-frequency events as proposed in the NOPR ¹³⁰⁶ but also recognize that requiring a fourth Long-Term Scenario might be a burdensome way to study such events as compared to a sensitivity.¹³⁰⁷ We find that more clearly defining the type of system conditions that transmission providers must model to account for uncertain operational outcomes—in particular, multiple concurrent and sustained generation and/or transmission outages due to an extreme weather event across a wide area—compared to the NOPR proposal, will enable transmission providers to better account for periods when regional transmission facilities may have particularly high value by decreasing the risk of loss of load and/or decreasing the cost to reliably serve load.

¹³⁰⁵ The Commission proposed in the NOPR to require that at least one of four Long-Term Scenarios account for uncertain operational outcomes that determine the benefits of or need for transmission facilities during high-impact, low-frequency events. NOPR, 179 FERC ¶ 61,028 at P 124.

¹³⁰⁶ See, e.g., New England for Offshore Wind Initial Comments at 2; see also Arizona Commission Initial Comments at 6-7. We also note that the Commission has previously discussed that “[e]xtreme heat and cold weather events have occurred with greater frequency in recent years, and are projected to occur with even greater frequency in the future.” Order No. 896, 183 FERC ¶ 61,191 at P 2.

¹³⁰⁷ See, e.g., MISO Initial comments at 27.

594. Therefore, we require that, after developing at least three Long-Term Scenarios, transmission providers develop a sensitivity for each of the Long-Term Scenarios.¹³⁰⁸ We provide transmission providers with flexibility to conduct this sensitivity either before or after identifying potential regional transmission solutions to the Long-Term Transmission Needs identified using those Long-Term Scenarios. Conducting this sensitivity before identifying potential regional transmission solutions can be useful because it may help transmission providers to identify such solutions. On the other hand, conducting this sensitivity after identifying potential regional transmission solutions to Long-Term Transmission Needs would allow transmission providers to engage in efforts to develop additional or alternative regional transmission solutions to address such conditions.

¹³⁰⁸ See NOPR, 179 FERC ¶ 61,028 at P 125 n.229. A sensitivity represents a single assumption about a short-term input or factor (some input with a value that may change throughout a day or year). A scenario represents an assumption about a longer-term input or factor (e.g., resource retirements and additions or public policies).

595. In conducting this sensitivity, transmission providers change the data inputs of the underlying Long-Term Scenarios—in terms of load, generation, generator outages, and transmission outages—to account for uncertain operational outcomes that determine the benefits of or need for regional transmission facilities during multiple concurrent and sustained generation and/or transmission outages due to an extreme weather event across a wide area, while maintaining the underlying longer-term determinants of the Long-Term Scenario (e.g., the installed capacity of each generation resource). The sensitivity can be thought of as a “stress test” for all Long-Term Scenarios.

596. We find it necessary to require the consideration of a more narrowly defined set of conditions, as compared to the broader high-impact, low-frequency event conditions described in the NOPR, to include multiple concurrent and sustained generation and/or transmission outages due to an extreme weather event across a wide area.¹³⁰⁹ Extreme weather events have occurred more frequently in recent years,¹³¹⁰ are periods when regional transmission facilities have particularly high value,¹³¹¹ and create system conditions that transmission providers can readily specify compared to contingencies with an unknown root cause.¹³¹² During these extreme weather events, generation and transmission outages can be widespread, occur at the same time, and persist due to a common cause like freezing temperatures or limited fuel availability. This more narrowly defined set of conditions also gives transmission providers more direct guidance on how to comply with the requirements of this final order.¹³¹³

¹³⁰⁹ See, e.g., Grid United Initial Comments at 4-5 (stating that “the Commission should define or provide examples of the low-frequency, high impact events that it would like to be considered for planning purposes”).

¹³¹⁰ See supra The Overall Need for Reform section; see also NOPR, 179 FERC ¶ 61,028 at P 45; Breakthrough Energy Initial Comments at 8.

¹³¹¹ See ACEG Initial Comments at 5; PIOs Initial Comments at 21; US DOE Initial Comments at 5-6.

¹³¹² In terms of specifying the system conditions during extreme weather events, transmission providers can, for example, look at previous severe cold weather events to identify how load might increase, how load and generation forecasts might be incorrect, and how generation and transmission outages might occur during a future extreme weather event.

¹³¹³ See, e.g., Grid United Initial Comments at 4-5.

597. Although we are only requiring that one sensitivity analysis specific to extreme weather events be applied to each Long-Term Scenario to comply with this final order, we do not preclude transmission providers from considering additional sensitivities. We recognize that transmission providers may consider several other sensitivities as important and helpful in evaluating the benefits of and need for Long-Term Regional Transmission Facilities. For example, transmission providers can develop sensitivities to account for a cyber-attack, significant forecast error, or fuel price volatility. We encourage transmission providers to assess the need to develop other sensitivities as part of Long-Term Regional Transmission Planning.

598. We find that modeling extreme weather events as sensitivities is appropriate for Long-Term Regional Transmission Planning. We first note that extreme weather events can occur under any assumed future scenario but do not, by themselves, represent changes in the way that factors are used in Long-Term Scenarios to determine Long-Term Transmission Needs.¹³¹⁴ Therefore, we believe that applying a sensitivity to each Long-Term Scenario is a more accurate way to evaluate the effects of high-impact, low-frequency events than considering such events in a distinct Long-Term Scenario. Second, although there is a burden associated with conducting sensitivities, the overall burden of conducting a sensitivity analysis is comparatively lower than that of developing a new, separate Long-Term Scenario. This is because sensitivities will be conducted using the existing Long-Term Scenarios, where most inputs, and the factors and assumptions used to develop the scenarios, have already been established and mapped. Adjusting a set of existing inputs to test the impact of the changes on a Long-Term Scenario through a sensitivity analysis is therefore less burdensome than developing an entirely new Long-Term Scenario.

¹³¹⁴ See MISO Initial Comments at 27-28; OMS Initial Comments at 6.

599. In addition, we highlight that transmission providers can use the required sensitivity analyses to evaluate the need for, or benefits of, increased Interregional Transfer Capability provided by candidate Long-Term Regional Transmission Facilities. We recognize that certain Long-Term Regional Transmission Facilities could increase Interregional Transfer Capability by changing the topology of the transmission system, even if the specific transmission facility is not directly connected to a neighboring transmission planning region's transmission system. We believe that an increase in Interregional Transfer Capability could provide significant benefits during extreme weather events that result in multiple concurrent and sustained generation and/or transmission outages.¹³¹⁵ We note that several commenters discuss the need for greater Interregional Transfer Capability because of extreme weather events¹³¹⁶ and the importance of modeling extreme weather event conditions to capture the benefits of regional transmission facilities.¹³¹⁷ As discussed in the Evaluation of the Benefits of Regional Transmission Facilities section below, we require transmission providers to consider increased Interregional Transfer Capability provided by a Long-Term Regional Transmission Facility when measuring Benefit 6.¹³¹⁸ We believe that transmission providers can evaluate Benefit 6, including reduced loss of load and reduced production costs during extreme weather events that result in multiple concurrent and sustained generation and/or transmission outages, using this required sensitivity, among other sensitivities that transmission providers may develop to capture extreme events and system contingencies.

¹³¹⁵ See, e.g., Order No. 896, 183 FERC ¶ 61,191 at PP 85-88.

¹³¹⁶ BP Initial Comments at 10; Breakthrough Energy Initial Comments at 2; Kansas Commission Initial Comments at 8-9; NARUC Initial Comments at 23; US DOE Initial Comments at 39-42; see also ELCON Initial Comments at 8 (arguing Interregional Transfer Capability should be a driver of transmission needs); PJM Initial Comments at 66-67.

¹³¹⁷ See ACEG Initial Comments at 5; PIOs Initial Comments at 21; US DOE Initial Comments at 5-6.

¹³¹⁸ See infra Evaluation of the Benefits of Regional Transmission Facilities, Required Benefits, Benefit 6: Mitigation of Extreme Weather Events and Unexpected System Conditions section.

600. We disagree with NESCOE's concern that a requirement to study the impact of high-impact, low-frequency events might “blur[] the line between public policy planning and reliability planning.” ¹³¹⁹ Rather, as discussed below in the Evaluation of the Benefits of Regional Transmission Facilities section, we believe that the requirement complements Benefit 6 (Mitigation of Extreme Weather Events and Unexpected System Conditions) given the high probability that extreme weather events will cause unplanned transmission outages and the likelihood that such events will continue to occur at regular intervals.¹³²⁰ Although this final order requires a more comprehensive consideration of benefits, it does not alter Order No. 1000's requirements for transmission providers to create a regional transmission plan that will identify transmission facilities that more efficiently or cost-effectively meet the transmission planning region's reliability and economic requirements.

¹³¹⁹ NESCOE Initial Comments at 33.

¹³²⁰ See infra Evaluation of the Benefits of Regional Transmission Facilities, Required Benefits, Benefit 6: Mitigation of Extreme Weather Events and Unexpected System Conditions section.

601. We also acknowledge LADWP's concern that a more meaningful measure of benefits or needs associated with high-impact, low-frequency events may be a periodic examination of the impacts of large-scale single point failure.¹³²¹ Although we do not preclude transmission providers from conducting such a study, such a study would not meet the final order's requirement to conduct a sensitivity, applied to each Long-Term Scenario, to account for uncertain operational outcomes that determine the benefits of and/or need for transmission facilities during multiple concurrent and sustained generation and/or transmission outages due to an extreme weather event across a wide area.

¹³²¹ LADWP Initial Comments at 3.

7. Specificity of Data Inputs

a. NOPR Proposal

602. In the NOPR, the Commission proposed to require transmission providers in each transmission planning region to use “best available data inputs” when developing Long-Term Scenarios.¹³²² The Commission stated that, by “best available,” the Commission did not imply that there is a single “best” value for each data input that transmission providers must use, but rather that best practices are used to develop that data input.¹³²³

¹³²² NOPR, 179 FERC ¶ 61,028 at PP 130-134.

¹³²³ Id. P 130.

603. The Commission proposed to define “best available data inputs” as data inputs that are timely and developed using diverse and expert perspectives, adopted via a process that satisfies the Order Nos. 890 and 1000 transparency transmission planning principles described above, and reflect the list of factors that transmission providers must incorporate into Long-Term Scenarios.¹³²⁴ The Commission explained that an example of data inputs that could meet this requirement are the long-term load forecasts of demand that RTOs/ISOs currently use for predicting long-term resource adequacy. The Commission stated that another example of data inputs that could meet this requirement are the most recent data on renewable energy potential and distributed energy resources developed by national labs.¹³²⁵

¹³²⁴ Id. P 131.

¹³²⁵ Id. P 131 n.247.

604. The Commission proposed to require transmission providers in each transmission planning region to update all data inputs each time they reassess and revise, as necessary, their Long-Term Scenarios, which, as explained in the NOPR, the Commission proposed to require that they do at least every three years. As indicated in the Long-Term Regional Transmission Planning section of the NOPR,¹³²⁶ the Commission also proposed to require that the Order Nos. 890 and 1000 transmission planning principles apply to the process through which transmission providers determine which data inputs to use in their Long-Term Scenarios. For example, consistent with the coordination transmission planning principle established in Order No. 890, the Commission proposed to require that transmission providers in each transmission planning region give stakeholders the opportunity to provide timely and meaningful input concerning which data inputs to use in Long-Term Scenarios.¹³²⁷

¹³²⁶ Id. PP 64-67.

¹³²⁷ Id. P 132.

605. The Commission preliminarily found that a requirement to use the best available data inputs was necessary to ensure that transmission providers are regularly updating data inputs and then using timely and accurate data inputs to inform Long-Term Scenarios. The Commission stated that data inputs can drive the results of Long-Term Regional Transmission Planning. As a result, the Commission explained that data inputs can directly affect which transmission facilities may be selected and, in turn, Commission-jurisdictional rates.¹³²⁸

¹³²⁸ Id. P 133.

b. Comments

i. Interest in Best Available Data Requirement

606. Many commenters generally support the NOPR proposal for “best available data,” but some recommend that the Commission monitor data inputs.¹³²⁹ AEE states that it is not practical to make a more prescriptive requirement for data inputs than the NOPR proposal and recommends that the Commission be vigilant in monitoring data inputs.¹³³⁰ Policy Integrity states that the NOPR proposal is crucial in protecting against strategic modeling behavior.¹³³¹ WATT Coalition adds that “best available data” on future generation must be used because demand and energy profiles are inherently uncertain.¹³³²

¹³²⁹ AEE Initial Comments at 23; Certain TDUs Initial Comments at 16; Clean Energy Buyers Initial Comments at 17-18; DC and MD Offices of People's Counsel Initial Comments at 14; Duke Initial Comments at 16-17; Eversource Initial Comments at 20; Georgia Commission Initial Comments at 5; ITC Initial Comments at 12; NARUC Initial Comments at 13-15; NRECA Initial Comments at 35-36; OMS Initial Comments at 5; Ørsted Initial Comments at 7; Pacific Northwest State Agencies Initial Comments at 13-14; PJM Initial Comments at 7, 76; Policy Integrity Initial Comments at 6; US DOE Initial Comments at 16-17; WATT Coalition Initial Comments at 7.

¹³³⁰ AEE Initial Comments at 23.

¹³³¹ Policy Integrity Initial Comments at 17.

¹³³² WATT Coalition Initial Comments at 7.

607. ACEG claims that the FPA supports the Commission's proposed requirement to plan based on the best available data, noting that section 217(b)(4) requires the Commission to exercise its authority “in a manner that facilitates the planning and expansion of transmission facilities to meet the reasonable needs of load-serving entities to satisfy the service obligation of load-serving entities.” ¹³³³ ACEG argues that load-serving entities' service obligations will be more accurately predicted by the best available forecasting methodologies.¹³³⁴

¹³³³ ACEG Initial Comments at 26-27 (citing 16 U.S.C. 824q(b)(4)).

¹³³⁴ Id. at 27.

608. Clean Energy Buyers state that it is important to get stakeholder input on data inputs, as has been done through MISO's Long-Range Transmission Planning effort.¹³³⁵ Breakthrough Energy states that Long-Term Scenarios should use “best available data.” ¹³³⁶

¹³³⁵ Clean Energy Buyers Initial Comments at 18.

¹³³⁶ Breakthrough Energy Supplemental Comments at 1.

ii. Reservations with the Best Available Data Requirement

609. Several commenters support the NOPR proposal but nevertheless have suggestions about how to modify the proposal.¹³³⁷ For example, several commenters request that the Commission create a common dataset, publish a database of best available sources of data, or otherwise standardize data inputs.¹³³⁸ Southeast PIOs state that the Commission should publish a regularly updated database of best available data sources and require transmission providers to justify any decision not to use that database, arguing that flexibility in project selection can only work if the selection process utilizes reliable and standardized inputs.¹³³⁹ SEIA urges the Commission to issue standards or guidelines that define what constitutes “best available data inputs” for each of the seven categories of factors.¹³⁴⁰ R Street contends that intraregional standardization could support internal consistency and transparency and focus scarce stakeholder capital.¹³⁴¹

¹³³⁷ ACEG Initial Comments at 7; ACORE Initial Comments at 8-9; Eversource Initial Comments at 20-21; GridLab Initial Comments at 23; OMS Initial Comments at 5; Pine Gate Initial Comments at 27-29; PIOs Initial Comments at 19-20; Policy Integrity Initial Comments at 6, 16-18; Southeast PIOs Initial Comments at 47-48.

¹³³⁸ ACEG Initial Comments at 7; ACORE Initial Comments at 8-9; GridLab Initial Comments at 23; PIOs Initial Comments at 19-20; Southeast PIOs Initial Comments at 47-48.

¹³³⁹ Southeast PIOs Initial Comments at 47.

¹³⁴⁰ SEIA Initial Comments at 11; SEIA Reply Comments at 4.

¹³⁴¹ R Street Initial Comments at 7.

610. ELCON notes that, as part of the three-year reassessment of Long-Term Scenarios, the Commission may decide that identifying or standardizing data inputs and sources may help to ensure that transmission providers are consistently using timely and widely accepted data.¹³⁴² Interwest endorses US DOE's proposal in its comments to the ANOPR to standardize data inputs.¹³⁴³ ACORE states that an identification of certain common data sets and modeling best practices will reduce uncertainty, improve transparency, and achieve greater consistency among transmission planning regions.¹³⁴⁴

¹³⁴² ELCON Initial Comments at 13.

¹³⁴³ Interwest Initial Comments at 8 (citing US DOE ANOPR Initial Comments at 12-15).

¹³⁴⁴ ACORE Reply Comments at 5.

611. ENGIE states that data inputs should be sourced from Federal and state agencies whenever possible.¹³⁴⁵ Renewable Northwest states that determining a future resource mix for NorthernGrid is possible with publicly available data.¹³⁴⁶ GridLab states that the Commission should consider whether to require that transmission providers either use unadjusted, publicly available data in Long-Term Regional Transmission Planning or justify why using proprietary data would provide superior results.

¹³⁴⁵ ENGIE Initial Comments at 3.

¹³⁴⁶ Renewable Northwest Initial Comments at 17.

612. Several commenters state that it is not necessary for the Commission to facilitate the development of data or standardize inputs.¹³⁴⁷ PPL, for example, asserts that the task of developing data inputs should be left to transmission providers, with the caveat that the entire process should avoid hindsight bias or an inappropriate shift in burden or responsibility to the transmission provider.¹³⁴⁸ SPP states that the development of data inputs facilitated by the Commission could provide value if implemented in a way that does not create additional burden to the assessment. SPP suggests that allowing access to recommended data sources or standard information would provide an additional reference for transmission providers to validate their own data, incorporate portions of the data, or utilize all of the data, as appropriate.¹³⁴⁹

¹³⁴⁷ Ameren Initial Comments at 14-15; Idaho Power Initial Comments at 5; NESCOE Initial Comments at 35-36; New York State Department Initial Comments at 8-9; PPL Initial Comments at 10.

¹³⁴⁸ PPL Initial Comments at 10.

¹³⁴⁹ SPP Initial Comments at 11-12.

613. US Climate Alliance and US DOE support transparency requirements for data inputs.¹³⁵⁰ Similarly, California Commission and NRECA support transparency requirements for data inputs, subject to appropriate confidentiality considerations.¹³⁵¹ Colorado Consumer Advocate contends that greater transparency and opportunities for meaningful stakeholder input regarding data inputs for Long-Term Regional Transmission Planning will improve the regional transmission planning process and help to ensure that Order No. 890 transmission planning principles are met.¹³⁵²

¹³⁵⁰ US Climate Alliance Initial Comments at 2; US DOE Initial Comments at 17.

¹³⁵¹ California Commission Initial Comments at 25; NRECA Initial Comments at 35-37 (citing GDS Associates, Report, at 13 (Aug. 17, 2022)).

¹³⁵² Colorado Consumer Advocate Initial Comments at 26.

614. Concerned Scientists state that the final order should require transmission providers and load-serving entities to submit to the relevant transmission planner an account of planned investments and retirements over the transmission planning horizon because not doing so ensures a transmission planning process that is less informed than it can and should be. Concerned Scientists state that excluding these minimum requirements from the final order will inevitably lead to the exclusion of information needed by regulators, stakeholders, and the transmission providers themselves to make informed investment decisions.¹³⁵³ PJM, which supports the NOPR proposal, states that, while it is important to consider resource retirements when developing planning assumptions, generation retirement forecasts may be interpreted by stakeholders as sending economic signals concerning the viability of existing generating units. Thus, PJM urges the Commission to provide clear direction on how to balance the heightened transparency and public processes proposed in the NOPR with appropriate safeguards against releasing data that could preempt unit owner economic decisions, as well as decisions by market participants.¹³⁵⁴

¹³⁵³ Concerned Scientists Reply Comments at 17.

¹³⁵⁴ PJM Reply Comments at 22.

615. ITC, PJM, and SEIA support the NOPR proposal, and ITC and SEIA agree with PJM's suggestion that the Commission hold regular forums, workshops, or technical conferences to determine best practices in developing best available data.¹³⁵⁵

¹³⁵⁵ ITC Initial Comments at 12; PJM Initial Comments at 76-77; SEIA Initial Comments at 11; SEIA Reply Comments at 4-5.

616. SPP Market Monitor contends that the Commission should further provide guidance in the form of parameters by which transmission providers should define the phrase “best available data,” which SPP Market Monitor argues would aid in ensuring that the Long-Term Scenarios studied and transmission projects or facilities planned are consistent and reasonable.¹³⁵⁶ Relatedly, Pine Gate states that the NOPR's failure to address source accuracy in the definition of best available date inputs may introduce subjectivity into Long-Term Regional Transmission Planning, obscure sources, and inhibit the ability of stakeholders to meaningfully engage in the Long-Term Regional Transmission Planning process. To remedy these concerns, Pine Gate suggests that the Commission define “best available data inputs” as data inputs that: (1) are current and developed using diverse and expert perspectives expressed during a stakeholder process; (2) have identified sources; (3) are adopted via a process that satisfies Order No. 890's transparency planning principle; and (4) reflect the list of factors that transmission providers must incorporate into Long-Term Scenarios.¹³⁵⁷ Policy Integrity states that the Commission should require external vetting of data inputs used by a party without a stake in the outcomes.¹³⁵⁸

¹³⁵⁶ SPP Market Monitor Initial Comments at 8.

¹³⁵⁷ Pine Gate Initial Comments at 28.

¹³⁵⁸ Policy Integrity Initial Comments at 17-18.

617. Several commenters state that the final order should add a requirement that data must be accurate.¹³⁵⁹ ELCON notes that utilities should consider whether a data source's historical projections ultimately proved to be accurate when identifying “best available” inputs, and Vermont Electric and Vermont Transco agree.¹³⁶⁰ Arizona Commission supports the use of relevant, timely, and accurate data.¹³⁶¹

¹³⁵⁹ ELCON Initial Comments at 13; LADWP Initial Comments at 4; Vermont Electric and Vermont Transco Initial Comments at 3.

¹³⁶⁰ ELCON Initial Comments at 13; Vermont Electric and Vermont Transco Initial Comments at 3.

¹³⁶¹ Arizona Commission Initial Comments at 7.

618. LADWP asserts that the determination of “best available data” should be changed to “the most accurate data inputs available” at the time of study because “best” is subjective but “most accurate” is clear and objective. LADWP states that, if data is interpreted differently, as may be the case under the “best available” standard, then results will be inconsistent. For example, LADWP states that the “most accurate data inputs available” for load inputs for near-term planning and for data for generation and energy storage capacities would be data derived from projections based on actual field measurements, and from in-service equipment (instead of from manufacturing brochures or articles), respectively. LADWP states that for new technologies, the projected availability and performance parameters should be based on actual data when possible. For example, LADWP states that data derived from field operating experience with prototypes should be considered “most accurate” as compared to lab test data. LADWP contends that transmission providers should be careful not to take “expert perspectives” at face value, but should seek to use data inputs that show a strong correlation to scientifically verifiable facts. Furthermore, LADWP states, projected data based on administrative law or executed interconnection agreements should be considered more certain, and hence more accurate, than data based on corporate or government goals.¹³⁶²

¹³⁶² LADWP Initial Comments at 4.

619. GridLab recommends that the Commission request that the national laboratories and other public agencies work with transmission providers, resource developers, and others to evaluate the historical accuracy of publicly available data sources.¹³⁶³ However, Ameren sees no reason to expand the definition of best available data inputs to include an evaluation of data source entities' historical accuracy identifying and projecting trends because the open and transparent planning process of diverse stakeholders will identify any questionable or non-reliable data sources.¹³⁶⁴

¹³⁶³ GridLab Initial Comments at 24.

¹³⁶⁴ Ameren Initial Comments at 15.

620. ELCON states that the Commission may need to clarify what data is considered “timely” and argues, for example, that the Commission should not establish a mandate in favor of using historical data (e.g., actual data from the previous 12 months) because such data may not reflect current and future operational needs.¹³⁶⁵ Pine Gate is concerned that the use of the term “timely” in the definition of “best available data inputs” may lead to confusion and inconsistency amongst transmission providers.¹³⁶⁶

¹³⁶⁵ ELCON Initial Comments at 13.

¹³⁶⁶ Pine Gate Initial Comments at 28.

621. PJM Market Monitor states that both aggregate and very specific locational data on future demand and the future resource mix will be critical for efficient and cost-effective transmission planning.¹³⁶⁷

¹³⁶⁷ PJM Market Monitor Initial Comments at 4.

iii. Concerns With Best Available Data

622. Several commenters either oppose the NOPR proposal or object to specific aspects of the NOPR proposal.¹³⁶⁸ Ameren, EEI, and PPL state that the NOPR proposal is unnecessary and too prescriptive.¹³⁶⁹ Idaho Commission agrees that it is too prescriptive.¹³⁷⁰ EEI states that, while using the best available data inputs when preparing the Long-Term Scenarios is appropriate, a pro forma definition may not be necessary.¹³⁷¹

¹³⁶⁸ Ameren Initial Comments at 14-15; Dominion Initial Comments at 26-28; EEI Initial Comments at 14; ELCON Initial Comments at 13; Idaho Power Initial Comments at 5; LADWP Initial Comments at 4; MISO Initial Comments at 40-41; MISO TOs Initial Comments at 18-19; National Grid Initial Comments at 14; Nebraska Commission Initial Comments at 6; NESCOE Initial Comments at 35-36; PPL Initial Comments at 9-10; R Street Initial Comments at 7; Vermont Electric and Vermont Transco Initial Comments at 3; Xcel Initial Comments at 10.

¹³⁶⁹ Ameren Initial Comments at 14-15; EEI Initial Comments at 14; PPL Initial Comments at 9.

¹³⁷⁰ Idaho Commission Initial Comments at 3.

¹³⁷¹ EEI Initial Comments at 14.

623. PPL expresses concern that the proposed requirement for data inputs will unnecessarily burden transmission providers by effectively shifting a burden from data owners (who are in the best position to control and ensure data accuracy) to the transmission provider and instead recommends that the Commission strengthen the requirements applicable to the data owners or data source entities.¹³⁷² Dominion states that using best available data inputs should not be a requirement because transmission providers should be permitted to select the data inputs that are most appropriate for their own situation, as they know their transmission systems best. Dominion additionally does not support defining “best available data inputs” as proposed because it would limit transmission providers' flexibility to conduct transmission planning that is most appropriate to their unique system needs.¹³⁷³

¹³⁷² PPL Initial Comments at 9-10.

¹³⁷³ Dominion Initial Comments at 26-27.

624. MISO, Utah Division of Public Utilities, and Xcel state that the NOPR proposal on data inputs is a potential source of conflict.¹³⁷⁴ MISO is concerned that parties opposing particular long-range transmission planning outcomes could seize on the proposed language and argue that some other data was the best available data, thereby delaying the process; and the resulting disputes could potentially slow down the transmission planning process and ultimately delay much needed transmission.¹³⁷⁵ Xcel agrees.¹³⁷⁶ Utah Division of Public Utilities attests that requiring transmission providers to use the best data available is not based on evidence showing that data inputs currently used by transmission providers have led to unjust or discriminatory rates, and may produce unnecessary and time-consuming disagreements among stakeholders regarding which data inputs to use.¹³⁷⁷ National Grid asserts that the term “best available” data is vague and subjective, which introduces development, regulatory and implementation inefficiencies.¹³⁷⁸ Clean Energy Associations argue that transmission providers should be required to explain the number and the basis for including each input they choose to include.¹³⁷⁹

¹³⁷⁴ MISO Initial Comments at 29; Utah Division of Public Utilities Initial Comments at 6; Xcel Initial Comments at 10.

¹³⁷⁵ MISO Initial Comments at 40.

¹³⁷⁶ Xcel Initial Comments at 10.

¹³⁷⁷ Utah Division of Public Utilities Initial Comments at 6.

¹³⁷⁸ National Grid Initial Comments at 14.

¹³⁷⁹ Clean Energy Associations Initial Comments at 13.

iv. Flexibility Issues

625. Several commenters, some that support the NOPR proposal and some that do not, call for flexibility in allowing transmission providers to determine what constitutes best available data. ISO-NE and NYISO support the NOPR proposal but request that the Commission provide transmission providers with some flexibility about how to satisfy this requirement.¹³⁸⁰ ISO-NE asserts that the Commission should allow flexibility for ISO-NE to rely on the states to determine the data inputs, with its technical support and stakeholder input, and NESCOE, which opposes the NOPR proposal, agrees.¹³⁸¹ NESCOE is concerned about the prescriptive nature of the NOPR proposal and contends that data inputs should be determined on a region-by-region basis by transmission providers with input from states and stakeholders.¹³⁸² MISO agrees on both points.¹³⁸³ Duke, which generally supports the NOPR proposal to define best available data inputs and requirement to follow a transparent process to develop the data inputs, states that because there is not a single “best” value for each input, the emphasis should be on best practices to develop the data inputs, which should be left to the regions to develop with their specific stakeholders.¹³⁸⁴

¹³⁸⁰ ISO-NE Initial Comments at 28; NYISO Initial Comments at 28.

¹³⁸¹ ISO-NE Initial Comments at 28; NESCOE Initial Comments at 35-36.

¹³⁸² NESCOE Initial Comments at 36.

¹³⁸³ MISO Initial Comments at 40.

¹³⁸⁴ Duke Initial Comments at 16-17.

626. In addition, NYISO requests that the Commission revise the definition of best available data to permit flexibility on how it reflects factors considered in the scenarios. Specifically, NYISO requests that the language in the NOPR specifying that the data inputs must “reflect the list of factors that transmission providers must incorporate into Long-Term Scenarios” should be modified to “reflect the factors that the transmission provider considers in the scenarios” to reflect the authority of transmission planning regions to identify which factors should be used in Long-Term Scenarios. NYISO adds that transmission providers should have authority over how to interpolate and employ their data sets.¹³⁸⁵

¹³⁸⁵ NYISO Initial Comments at 28.

627. MISO, which opposes the NOPR proposal, contends that the Commission should allow transmission providers to determine, in consultation with its stakeholders, what data is most appropriate, but require transmission providers to use the most up-to-date data from the source that they select.¹³⁸⁶ MISO recommends that, if the final order includes the NOPR proposal for best available data, then the Commission should clarify that transmission providers may satisfy the requirement by using the most up-to-date data that they have selected and that reflects practical limitations regarding the precision and scope of the data.¹³⁸⁷ MISO TOs suggest that the Commission consider articulating principles and guidelines and let transmission planning regions develop their own conception of “best available data” in the interest of flexibility.¹³⁸⁸ Nevada Commission states that the definition of “best available data” may need further comment and will likely evolve as the Long-Term Regional Transmission Planning process is implemented.¹³⁸⁹

¹³⁸⁶ MISO Initial Comments at 40.

¹³⁸⁷ Id. at 29.

¹³⁸⁸ MISO TOs Initial Comments at 19.

¹³⁸⁹ Nevada Commission Initial Comments at 9.

628. National Grid requests that the Commission clarify that transmission providers have final and sole responsibility and discretion to determine what is “best available data” as transmission providers are best situated to make these determinations in consultation with their stakeholders. National Grid also seeks clarity from the Commission as to what “diverse” means as it describes best available data inputs. National Grid further asserts that the Commission should distinguish between Long-Term Scenarios based on diverse inputs in each scenario.¹³⁹⁰

¹³⁹⁰ National Grid Initial Comments at 14.

v. Best Sources of Data Issues

629. Several commenters, some that support the NOPR proposal and some that do not, make suggestions about the best sources of data. Several commenters state that transmission providers already have the best available data.¹³⁹¹ Nebraska Commission further states that the current methods used by RTOs/ISOs would meet the NOPR's proposed requirements.¹³⁹² PPL states that transmission providers already use a “best available data inputs” standard in transmission planning but must rely on other entities' data.¹³⁹³ EEI states that, if the Commission adopts a definition for best available data, it should acknowledge that transmission providers and load-serving entities often may possess this data.¹³⁹⁴

¹³⁹¹ EEI Initial Comments at 14; Nebraska Commission Initial Comments at 6; PJM Initial Comments at 76; PPL Initial Comments at 9-10.

¹³⁹² Nebraska Commission Initial Comments at 6.

¹³⁹³ PPL Initial Comments at 9-10.

¹³⁹⁴ EEI Initial Comments at 14.

630. Several commenters state that load-serving entities have the best available data.¹³⁹⁵ Eversource recommends that the Commission require the RTOs/ISOs to collaborate with the transmission owners regarding transmission owners' forecast of load localized peak times.¹³⁹⁶ PIOs state that the Commission should require load-serving entities to provide their generation and load forecasts to transmission providers so that they have reasonable information to use and do not have to perform their own estimates.¹³⁹⁷ ACEG and Clean Energy Associations agree.¹³⁹⁸

¹³⁹⁵ Id.; Eversource Initial Comments at 20; Xcel Initial Comments at 10.

¹³⁹⁶ Eversource Initial Comments at 20.

¹³⁹⁷ PIOs Initial Comments at 19.

¹³⁹⁸ ACEG Reply Comments at 23; Clean Energy Associations Reply Comments at 7.

631. Western PIOs state that the Western Electricity Coordinating Council databases on load and generation forecasts and the Western Electricity Coordinating Council Anchor dataset constitute best available data.¹³⁹⁹ NARUC argues that any reasonable, credible source of data should be allowed to supplement more traditional sources like the national laboratories and RTO/ISO-generated data.¹⁴⁰⁰ SREA recommends that, to the extent possible, the Commission should recognize the National Renewable Energy Lab's Annual Technology Baseline (NREL ATB) as the Nation's preferred data set.¹⁴⁰¹ Policy Integrity states that the Commission should urge transmission providers to engage independent researchers in the process to ensure inclusion of the latest modeling and computational developments.¹⁴⁰² PIOs state that the Commission could publish a regularly updated list of databases that meet the “best available data requirement,” such as the following current databases: NREL ATB data, US DOE's Annual Energy Outlook for fuel costs, and NREL's Electrification Futures Study for electrification trends. PIOs suggests that the Commission could additionally partner with the US DOE and National Laboratories to develop appropriate databases.¹⁴⁰³

¹³⁹⁹ Western PIOs Initial Comments at 31.

¹⁴⁰⁰ NARUC Initial Comments at 13.

¹⁴⁰¹ SREA Reply Comments at 26.

¹⁴⁰² Policy Integrity Initial Comments at 17.

¹⁴⁰³ PIOs Initial Comments at 19.

632. Entergy asserts that integrated resource plans approved by retail commissions should be considered the best available data, and Louisiana Commission and Mississippi Commission agree.¹⁴⁰⁴ However, Kentucky Commission Chair Chandler disagrees with the propositions that local data provided by a utility in an integrated resource plan is superior to other data and that RTOs/ISOs should be required to rely on such data.¹⁴⁰⁵

¹⁴⁰⁴ Entergy Initial Comments at 18; Louisiana Commission Reply Comments at 7; Mississippi Commission Reply Comments at 9.

¹⁴⁰⁵ Kentucky Commission Chair Chandler Reply Comments at 3.

c. Commission Determination

633. We adopt the NOPR proposal, with modification, to require transmission providers in each transmission planning region to use “best available data inputs” when developing Long-Term Scenarios. As the Commission explained in the NOPR, by “best available,” we do not imply that there is a single “best” value for each data input that transmission providers must use, but rather that best practices will be used to develop each data input. We adopt, with modification, the NOPR proposal to define “best available data inputs” as data inputs that are timely, developed using best practices and diverse and expert perspectives,¹⁴⁰⁶ and adopted via a process that satisfies the transmission planning principles of Order Nos. 890 and 1000.¹⁴⁰⁷ We further adopt the NOPR proposal to require that best available data inputs also reflect the list of factors that transmission providers account for in their Long-Term Scenarios.¹⁴⁰⁸ By “reflect the list of factors,” we mean the data inputs that correspond to the list of factors that transmission providers have determined might affect Long-Term Transmission Needs.¹⁴⁰⁹ We also adopt the NOPR proposal to require transmission providers to update, as necessary, all data inputs each time they reassess and revise their Long-Term Scenarios.

¹⁴⁰⁶ While we largely adopt the definition of “best available data inputs” proposed in the NOPR, we modify it to reflect the requirement that “best available data inputs” are developed using best practices.

¹⁴⁰⁷ For example, the transparency transmission planning principle requires transmission providers to reduce to writing and make available the basic methodology, criteria, and processes used to develop transmission plans. Transmission providers must make sufficient information available to enable customers and other stakeholders to replicate the results of transmission planning studies. Order No. 890, 118 FERC ¶ 61,119 at P 471. Order No. 1000 applied this and other Order No. 890 transmission planning principles to regional transmission planning processes. Order No. 1000, 136 FERC ¶ 61,051 at P 151.

¹⁴⁰⁸ One example of a data input dataset that would meet the requirement for best available data are the long-term load forecasts of demand that RTOs/ISOs currently use for predicting long-term resource adequacy. Another example of a data input dataset that would meet the requirement for best available data is the most recent data on renewable energy potential and distributed energy resources developed by national labs.

¹⁴⁰⁹ For example, a transmission provider might determine that corporate goals for corporations less than $20 million are too small to affect Long-Term Transmission Needs and not include these corporate goals in its Long-Term Scenarios. This transmission provider does not have any obligation to develop data inputs corresponding to these omitted corporate goals.

634. Finally, in addition, we adopt the NOPR proposal to require that the Order Nos. 890 and 1000 transmission planning principles apply to the process through which transmission providers determine which data inputs to use in their Long-Term Scenarios. Consistent with the coordination transmission planning principle established in Order No. 890, we also adopt the NOPR proposal to require transmission providers in each transmission planning region to give stakeholders an opportunity to provide timely and meaningful input during each Long-Term Regional Transmission Planning cycle concerning which data inputs to use in Long-Term Scenarios.¹⁴¹⁰ Also, we clarify that the right to challenge data inputs via dispute resolution as discussed in Order No. 890 is available for interested parties with respect to data inputs that transmission providers develop for Long-Term Regional Transmission Planning.¹⁴¹¹

¹⁴¹⁰ NOPR, 179 FERC ¶ 61,028 at P 132.

¹⁴¹¹ Order No. 890, 118 FERC ¶ 61,119 at PP 501-503.

635. We agree, in part, with NYISO's suggestion to revise the wording of the NOPR proposal that required best available data to reflect “the list of factors that transmission providers must incorporate into Long-Term Scenarios.” ¹⁴¹² NYISO states that the NOPR language should be modified to “reflect the factors that the public utility transmission provider considers in the scenarios.” ¹⁴¹³ As discussed in the Categories of Factors section of this final order, we explain that transmission providers need not account for a factor, stakeholder-identified or otherwise, if they determine that factor is unlikely to affect Long-Term Transmission Needs. We find that transmission providers must use best available data when determining whether each factor is likely to affect Long-Term Transmission Needs. Once transmission providers have determined that a factor is likely to affect Long-Term Transmission Needs, they must use the best available data when they then account for that factor in the development of Long-Term Scenarios.

¹⁴¹² NYISO Initial Comments at 28 (citing NOPR, 179 FERC ¶ 61,028 at P 131).

¹⁴¹³ Id.

636. We find that a requirement to use the best available data inputs is warranted to ensure that transmission providers are regularly updating data inputs and using timely and accurate data inputs to inform Long-Term Scenarios. We further find that data inputs can drive the results of Long-Term Regional Transmission Planning. As a result, we find that data inputs affect transmission providers' ability to identify Long-Term Transmission Needs and thus affect the ability to identify, evaluate, and select Long-Term Regional Transmission Facilities to more efficiently or cost-effectively address those needs. We note that many commenters share this view and support the NOPR proposal.¹⁴¹⁴

¹⁴¹⁴ ACORE Initial Comments at 8; AEE Initial Comments at 22; Certain TDUs Initial Comments at 16; Clean Energy Buyers Initial Comments at 17-18; DC and MD Offices of People's Counsel Initial Comments at 14; Eversource Initial Comments at 20; Georgia Commission Initial Comments at 5; ISO-NE Initial Comments at 28; ITC Initial Comments at 12; Mississippi Commission Initial Comments at 34-35; NARUC Initial Comments at 13-15; NRECA Initial Comments at 36; OMS Initial Comments at 5; Ørsted Initial Comments at 7; Pacific Northwest State Agencies Initial Comments at 13-14; PJM Initial Comments at 7, 76; Policy Integrity Initial Comments at 16-17; US DOE Initial Comments at 16-18; WATT Coalition Initial Comments at 7.

637. We disagree with commenters asserting that the requirements for data inputs would be overly burdensome to transmission providers.¹⁴¹⁵ We believe that, because most transmission providers already endeavor to use best available data inputs to ensure credible results in regional transmission planning, this final order's requirements for data inputs will not impose an unreasonable burden beyond existing practices today. Further, as many commenters note,¹⁴¹⁶ any increase in transmission providers' burden from such requirements is outweighed by the benefits of establishing reasonable safeguards for accuracy and confidence in Long-Term Regional Transmission Planning.

¹⁴¹⁵ Ameren Initial Comments at 14; MISO Initial Comments at 29; PPL Initial Comments at 9-10; Utah Division of Public Utilities Initial Comments at 7; Xcel Initial Comments at 10.

¹⁴¹⁶ See ACORE Initial Comments at 8; AEE Initial Comments at 23; Certain TDUs Initial Comments at 16; Clean Energy Buyers Initial Comments at 17-18; DC and MD Offices of People's Counsel Initial Comments at 14; Eversource Initial Comments at 20; Georgia Commission Initial Comments at 5; ISO-NE Initial Comments at 28; ITC Initial Comments at 12; Mississippi Commission Initial Comments at 34-35; NARUC Initial Comments at 13-15; NRECA Initial Comments at 36; OMS Initial Comments at 5; Ørsted Initial Comments at 7; Pacific Northwest State Agencies Initial Comments at 13-14; PJM Initial Comments at 7, 76; Policy Integrity Initial Comments at 16-17; US DOE Initial Comments at 16-18; WATT Coalition Initial Comments at 7.

638. We disagree with commenters' arguments that the final order requirements for data inputs would lead to problems because stakeholders will delay Long-Term Regional Transmission Planning by contesting the data used by transmission providers.¹⁴¹⁷ Similarly, we disagree with commenters' arguments that the requirements for data inputs unnecessarily limit transmission providers' flexibility in producing data inputs.¹⁴¹⁸ As discussed above, this final order establishes requirements for data inputs used in Long-Term Scenarios and requires that stakeholders have an opportunity to provide timely and meaningful input during each Long-Term Regional Transmission Planning cycle concerning those data inputs. However, transmission providers have significant flexibility about which data inputs they use in Long-Term Scenarios, and no commenters have provided us with convincing or specific arguments that stakeholder input will undermine that flexibility or cause consequential delays to the Long-Term Regional Transmission Planning process.

¹⁴¹⁷ MISO Initial Comments at 29; Utah Division of Public Utilities Initial Comments at 6; Xcel Initial Comments at 10.

¹⁴¹⁸ Dominion Initial Comments at 26-27; Duke Initial Comments at 16-17; MISO Initial Comments at 40; MISO TOs Initial Comments at 19; NESCOE Initial Comments at 35-36.

639. We decline to adopt the suggestion of commenters to standardize data inputs used by transmission providers in Long-Term Regional Transmission Planning.¹⁴¹⁹ Imposing further requirements to enforce uniformity in data is challenging given regional variation in transmission planning approaches. Further, it might stifle innovation that would improve Long-Term Regional Transmission Planning.

¹⁴¹⁹ ACEG Initial Comments at 7; ACORE Initial Comments at 8-9; GridLab Initial Comments at 23; PIOs Initial Comments at 19-20; Southeast PIOs Initial Comments at 47-48.

640. We decline to adopt the modifications of the NOPR proposal suggested by certain commenters to establish specific accuracy standards in addition to requiring that transmission providers use best available data inputs.¹⁴²⁰ While we agree that transmission providers should strive for data accuracy, including by assessing the historical accuracy of different data sources where appropriate, a specific accuracy standard would be difficult to develop and administer given the diversity of different data inputs.¹⁴²¹ As we explain above, transmission providers must use best available data inputs, which include forecasted data, and must develop such inputs using diverse and expert perspectives. They must use best practices to develop data inputs, and must do so in an open and transparent stakeholder process. Taken together, we believe that these requirements will help ensure that data inputs are as accurate as possible, while also providing transmission providers with the flexibility to use best practices to develop data inputs that are appropriate for their transmission planning regions and to recognize the inherent uncertainty involved in planning transmission on a forward-looking basis.

¹⁴²⁰ ELCON Initial Comments at 13; LADWP Initial Comments at 4; Pine Gate Initial Comments at 27-29; Vermont Electric and Vermont Transco Initial Comments at 3.

¹⁴²¹ In addition, while we decline to adopt a specific accuracy standard that data must meet in order to be “best available data,” we note that a demonstration that a data source has historically proven to be relatively inaccurate would likely constitute evidence that such data is not best available data.

641. With respect to the issue raised by PJM about revealing potentially confidential data to improve accuracy,¹⁴²² we reiterate, as discussed above, that consistent with Order No. 890's transparency transmission planning principle, transmission providers in each transmission planning region are required to disclose (subject to appropriate confidentiality protections) information and data inputs they use to create each Long-Term Scenario.¹⁴²³ The Commission has recognized that tension exists between ensuring transparency in transmission planning processes and protecting confidential information, including commercially sensitive information.¹⁴²⁴ The Commission has also noted that using resource-specific data that best reflect actual operations on the transmission system leads to more precise and effective transmission study results. In addition, the Commission has recognized that market participants who provide that information need to be assured that the confidential information they provide will be used for its intended purpose in planning the transmission system and will not be disclosed in a manner that harms them commercially. However, the Commission has found that, at the same time, the requirement in Order No. 890 for transmission providers to disclose to all customers and other stakeholders the basic methodology, criteria, assumptions, and data that underlie their transmission system plans to enable customers, other stakeholders, or an independent third-party to replicate the results of planning studies is essential to an open and transparent transmission planning process.¹⁴²⁵ Thus, the Commission has found that, without certain generator dispatch and economic information, for example, it becomes difficult or impossible to conduct meaningful load flow studies for some transmission planning purposes,¹⁴²⁶ and the competitive playing field is tilted toward those who have this information and away from those who do not.¹⁴²⁷

¹⁴²² PJM Reply Comments at 22.

¹⁴²³ See supra Number and Development of Long-Term Scenarios section.

¹⁴²⁴ Sw. Power Pool, Inc., 137 FERC ¶ 61,227 at P 20.

¹⁴²⁵ Order No. 890, 118 FERC ¶ 61,119 at P 471.

¹⁴²⁶ Id. P 478.

¹⁴²⁷ Sw. Power Pool, Inc., 137 FERC ¶ 61,227 at P 20.

642. The Commission therefore required in Order No. 890, and we apply that requirement to Long-Term Regional Transmission Planning in this final order, disclosure of the methodology, criteria, assumptions, data and other information that underlie transmission plans, including Long-Term Scenarios. We recognize that no bright line rule exists to determine the appropriate balance between ensuring transparency in the transmission planning processes and ensuring that confidential information is not disclosed inappropriately. Transmission providers may propose what they believe are appropriate confidentiality protections in their filings to comply with this final order, and the Commission will evaluate those proposals by using the established principles in Order No. 890, as well as precedent on existing confidentiality protections with respect to transmission planning that the Commission has previously found comply with the Order No. 890 principles, to guide its findings on whether such protections are appropriate.

643. With respect to the issue raised by ELCON and Pine Gate about timely data,¹⁴²⁸ we decline to adopt their suggestion to define precisely what “timely” means with respect to best available data because we believe flexibility is warranted given the diverse regional transmission planning processes to which this reform will apply. That is, we believe that updating data inputs may require different timelines depending on the transmission planning region and the specific data input, where each input may change on a different timeline. However, given the five-year duration of the Long-Term Regional Transmission Planning cycle, and the risk of data becoming stale, we require transmission providers to update their data inputs at least once at the outset of each Long-Term Regional Transmission Planning cycle.

¹⁴²⁸ ELCON Initial Comments at 13; Pine Gate Initial Comments at 28-29.

644. With respect to National Grid's request to clarify the definition of “diverse” in the context of the requirement that data inputs must be developed using diverse and expert perspectives,¹⁴²⁹ we clarify that the term “diverse” specifically used in the context of data inputs indicates that the data inputs must represent a range of data within the bounds of plausibility. We believe that this requirement will ensure that the set of Long-Term Scenarios that are developed from these data inputs will represent a reasonable range of probable future outcomes consistent with the requirement for plausibility.

¹⁴²⁹ National Grid Initial Comments at 14.

8. Identification of Geographic Zones

a. NOPR Proposal

645. In the NOPR, the Commission proposed to require that each transmission provider, as part of its regional transmission planning process, consider whether to establish geographic zones within the transmission planning region that have the potential for development of large amounts of new generation. If transmission providers within a transmission planning region choose to establish geographic zones, then the Commission proposed to require the transmission provider to: (1) identify, with stakeholder input, specific geographic zones within the transmission planning region that have the potential for development of large amounts of new generation; (2) assess generation developers' commercial interest in developing generation within the identified geographic zones; and (3) incorporate designated zones, and the identified commercial interest in each zone, into Long-Term Scenarios.¹⁴³⁰

¹⁴³⁰ NOPR, 179 FERC ¶ 61,028 at P 145.

646. The Commission preliminarily found that requiring the consideration and potential identification of geographic zones within Long-Term Scenarios assists transmission providers, transmission developers, and generation developers in coordinating their activities. The Commission stated that transmission providers would be able to better identify transmission needs driven by changes in the resource mix and demand by considering geographic zones that have the potential for the development of large amounts of new generation and where developers have already shown commercial interest. Further, the Commission stated that, using the information gained through the process described below to identify such geographic zones, transmission providers in each transmission planning region could then plan transmission facilities that would serve large concentrations of new generation in a more efficient or cost-effective manner.¹⁴³¹

¹⁴³¹ Id. P 146.

647. The Commission proposed to require, as step one of the three-step geographic zone process, that transmission providers consider whether to establish and include in the regional transmission planning process outlined in their OATTs the method that they will use to identify geographic zones within the transmission planning region. The Commission also proposed to require that transmission providers in each transmission planning region use this information to create a set of draft geographic zones, and that they post on their OASIS or other public website maps of the draft geographic zones, as well as the information used to create the draft geographic zones, for stakeholders' input.¹⁴³²

¹⁴³² Id. PP 147-148.

648. In addition, the Commission proposed to require transmission providers in each transmission planning region to consider this stakeholder feedback and modify the draft geographic zones as appropriate to produce a final list of designated geographic zones within the transmission planning region.¹⁴³³

¹⁴³³ The Commission noted that, while it referred to multiple “zones,” subsequent to stakeholder feedback, the final list may contain only one designated geographic zone. Id. P 149.

649. The Commission proposed to require, in step two of the three-step geographic zone process, that transmission providers in each transmission planning region assess generation developers' commercial interest in developing generation within each designated geographic zone.¹⁴³⁴ The Commission proposed to require, in the final step of the three-step geographic zone process, that transmission providers in each transmission planning region incorporate the information from step one and step two regarding the designated geographic zones into their Long-Term Scenarios.¹⁴³⁵

¹⁴³⁴ Id. P 150.

¹⁴³⁵ Id. P 151.

b. Comments

650. Many commenters support the Commission's proposal to require each transmission provider, as part of its regional transmission planning process, to consider whether to: (1) identify, with stakeholder input, specific geographic zones within the transmission planning region that have the potential for development of large amounts of new generation; (2) assess generation developers' commercial interest in developing generation within the identified geographic zones; and (3) incorporate designated zones, and the identified commercial interest in each zone, into Long-Term Scenarios.¹⁴³⁶ Commenters assert that, compared to interconnection-related network upgrades identified on a case-by-case basis in the interconnection process, identifying and incorporating geographic zones into Long-Term Scenarios would save consumers money by identifying more efficient or cost-effective transmission facilities to connect areas with the potential for low cost generation to load centers and reduce congestion and generator curtailment.¹⁴³⁷ Further, commenters note the success of previous planning efforts in ERCOT, MISO, CAISO, and ISO-NE to incorporate geographic zones into their transmission planning efforts.¹⁴³⁸

¹⁴³⁶ Ameren Initial Comments at 15; American Municipal Power Initial Comments at 35; Clean Energy Associations Initial Comments at 13; EEI Initial Comments at 15; ENGIE Initial Comments at 4; Eversource Initial Comments at 21-22; Interwest Reply Comments at 4; ISO-NE Initial Comments at 30; ITC Initial Comments at 5, 13-17; Middle River Power Initial Comments at 3; MISO Initial Comments at 30; NARUC Initial Comments at 16; Nebraska Commission Initial Comments at 6-7; NESCOE Initial Comments at 37; New Jersey Commission Initial Comments at 15; New York TOs Initial Comments at 12; New York Transco Initial Comments at 5-6; Northwest and Intermountain Initial Comments at 5-6; NRECA Initial Comments at 37; New York Commission and NYSERDA Initial Comments at 14-15; NYISO Initial Comments at 29-30; Ørsted Initial Comments at 7; US DOE Initial Comments at 18; Western PIOs Initial Comments at 31-32.

¹⁴³⁷ See, e.g., ENGIE Initial Comments at 4; Eversource Initial Comments at 21-22; ITC Initial Comments at 13-17; Northwest and Intermountain Initial Comments at 5-6; NYISO Initial Comments at 29-30.

¹⁴³⁸ See, e.g., ENGIE Initial Comments at 4; Eversource Initial Comments at 21-22.

651. Some commenters highlight the importance of this proposed reform for remotely located renewable resources generally, and more specifically for offshore wind, which is constrained to lease areas auctioned by the Bureau of Ocean Energy Management.¹⁴³⁹ For example, Ørsted argues that the location and approximate resource potential of offshore wind is well understood and the failure to proactively plan the necessary transmission would result in higher costs to ratepayers.¹⁴⁴⁰ BP further contends that the geographic zones in which National Interest Electric Transmission Corridors are likely to be established also merit inclusion in transmission planning.¹⁴⁴¹

¹⁴³⁹ See, e.g., BP Initial Comments at 4, 7-8; Clean Energy Buyers Initial Comments at 18; New York Transco Initial Comments at 5-6; Ørsted Initial Comments at 7-8.

¹⁴⁴⁰ See, e.g., Ørsted Initial Comments at 7-8.

¹⁴⁴¹ BP Initial Comments at 7 (citing 16 U.S.C. 824p).

652. Some commenters support the proposal but urge the Commission to require the identification of geographic zones and planning transmission to integrate generation in those zones rather than just requiring transmission providers to consider whether to identify geographic zones.¹⁴⁴² Acadia Center and CLF argue that the Commission should require the identification and creation of geographic zones in areas where the majority of states have binding greenhouse gas emission reduction or renewables mandates, which could result in fewer transmission corridors being built, thereby reducing costs, siting challenges, and benthic environmental impacts.¹⁴⁴³ Acadia Center and CLF assert that, without mandatory identification and establishment of geographic zones, there is a significant risk that adequate transmission will not be built to accommodate state emission reduction and renewables mandates in a cost-effective or efficient way.¹⁴⁴⁴

¹⁴⁴² Acadia Center and CLF Initial Comments at 13-15; Amazon Initial Comments at 6-7; California Water Initial Comments at 16; Center for Biological Diversity Initial Comments at 13-15; City of New York Initial Comments at 7-8; Handy Law Initial Comments at 12; Invenergy Reply Comments at 9-10; SEIA Initial Comments at 11-12; Shell Initial Comments at 23.

¹⁴⁴³ Acadia Center and CLF Initial Comments at 13-14.

¹⁴⁴⁴ Id. at 13.

653. In contrast, other commenters emphasize that they support the proposal to require transmission providers to consider identifying geographic zones rather than to actually identify such geographic zones.¹⁴⁴⁵ Such commenters assert that providing the option to identify geographic zones would allow transmission providers to determine, with their stakeholders, what is right for their transmission planning region.¹⁴⁴⁶

¹⁴⁴⁵ See, e.g., Ameren Initial Comments at 15-16; American Municipal Power Initial Comments at 34-35; Clean Energy Associations Initial Comments at 13; EEI Initial Comments at 15; ISO-NE Initial Comments at 30; ITC Initial Comments at 5, 13-17; MISO Initial Comments at 30; Nebraska Commission Initial Comments at 6-7; NESCOE Initial Comments at 37; NRECA Initial Comments at 37; New York Commission and NYSERDA Initial Comments at 14-15; NYISO Initial Comments at 32; PPL Initial Comments at 11; US Chamber of Commerce Initial Comments at 7.

¹⁴⁴⁶ See, e.g., EEI Initial Comments at 15; ISO-NE Initial Comments at 30; MISO Initial Comments at 30; New York Commission and NYSERDA Initial Comments at 14-15; NYISO Initial Comments at 32.

654. Other commenters express concerns with the idea of incorporating geographic zones with the potential for large amounts of generation into regional transmission planning, but do not oppose the proposal so long as it is optional.¹⁴⁴⁷ For example, NESCOE and National Grid assert that the proposed requirements for each of the three steps is overly prescriptive and could be included in a final order as guidance, but not as a mandate.¹⁴⁴⁸

¹⁴⁴⁷ APPA Initial Comments at 29-30; Dominion Initial Comments at 28-29; Georgia Commission Initial Comments at 6; Large Public Power Initial Comments at 22; National Grid Initial Comments at 16-17; NESCOE Initial Comments at 38; SERTP Sponsors Initial Comments at 27; SPP Market Monitor Initial Comments at 11-12; TANC Initial Comments at 10.

¹⁴⁴⁸ NESCOE Initial Comments at 38; National Grid Initial Comments at 16.

655. Several commenters urge the Commission to provide flexibility in any process for considering and potentially identifying geographic zones.¹⁴⁴⁹ For example, Michigan Commission states that the proposed three-step process in the NOPR is highly prescriptive and overly burdensome, and instead the Commission should provide greater flexibility to ensure that generation siting assumptions included in Long-Term Scenarios are developed transparently in collaboration with state regulators, generation utilities, and resource planners.¹⁴⁵⁰

¹⁴⁴⁹ See, e.g., APS Initial Comments at 5; ISO-NE Initial Comments at 30; Michigan Commission Initial Comments at 6; MISO Initial Comments at 42; MISO TOs Initial Comments at 32; NARUC Initial Comments at 17; New Jersey Commission Initial Comments at 15; NYISO Initial Comments at 3-4.

¹⁴⁵⁰ Michigan Commission Initial Comments at 6.

656. Several commenters suggest modifications to the NOPR proposal.¹⁴⁵¹ For example, Vistra contends that the NOPR proposal could be improved through the use of open seasons or other comparable tools to elicit concrete commitments from generator developers.¹⁴⁵² Other commenters argue that the NOPR proposal should be modified to involve a subscription model in which prospective generation resources within the zone indicate their willingness to pay for transmission to the zone.¹⁴⁵³ Although PJM opposes the NOPR proposal, PJM argues that these alternative proposals offered by Vistra and New Jersey Commission have merit and are worthy of further dialogue.¹⁴⁵⁴

¹⁴⁵¹ Acadia Center and CLF Initial Comments at 15-16; California Energy Commission Initial Comments at 2-3; Center for Biological Diversity Initial Comments at 13-16; Clean Energy Associations Initial Comments at 24-25; Illinois Commission Initial Comments at 9-11; Large Public Power Initial Comments at 26; Microgrid Resources Coalition Initial Comments at 4-6; New Jersey Commission Initial Comments at 16-17; Vistra Initial Comments at 24.

¹⁴⁵² Vistra Initial Comments at 24.

¹⁴⁵³ Clean Energy Associations Initial Comments at 24-25; Large Public Power Initial Comments at 26; New Jersey Commission Initial Comments at 16-17.

¹⁴⁵⁴ PJM Reply Comments at 29-30, 31-32.

657. Regarding the specific steps in the NOPR proposal for identifying geographic zones, several commenters support the proposal to provide all stakeholders, including relevant Federal and state siting authorities, with a meaningful opportunity to provide input on the draft geographic zones.¹⁴⁵⁵ Other commenters, however, assert that the Commission should provide a clearer role for states and other stakeholders to participate earlier in the process of identifying geographic zones.¹⁴⁵⁶

¹⁴⁵⁵ ISO/RTO Council Initial Comments at 8; NARUC Initial Comments at 16-17; National Grid Initial Comments at 17; Nebraska Commission Initial Comments at 7; SEIA Initial Comments at 12-13; Shell Initial Comments at 25.

¹⁴⁵⁶ Acadia Center and CLF Initial Comments at 12-13; AEE Initial Comments at 24-25; Amazon Initial Comments at 7; CAISO Initial Comments at 4-5, 28-29, 31; DC and MD Offices of People's Counsel Initial Comments at 15-16; Interwest Initial Comments at 9; ISO-NE Initial Comments at 29; National Grid Initial Comments at 17-18; NESCOE Initial Comments at 38-39; Nevada Commission Initial Comments at 9-10; SERTP Sponsors Initial Comments at 27.

658. Some commenters argue that the NOPR proposal regarding what information transmission providers should use to gauge commercial interest in geographic zones is overly prescriptive and that the information would be too speculative to be an accurate indicator of commercial interest.¹⁴⁵⁷ Several commenters urge the Commission to increase the transparency of the NOPR proposal.¹⁴⁵⁸ For example, US DOE recommends that the Commission specify minimum standards for reporting the attributes of each geographic zone.¹⁴⁵⁹

¹⁴⁵⁷ See, e.g., Middle River Power Initial Comments at 3; MISO Initial Comments at 43; PJM Initial Comments at 84.

¹⁴⁵⁸ Amazon Initial Comments at 8; Shell Initial Comments at 23-24; US DOE Initial Comments at 24-25

¹⁴⁵⁹ US DOE Initial Comments at 20.

659. Several commenters oppose the proposal to require transmission providers to consider whether to identify geographic zones with the potential for large amounts of generation.¹⁴⁶⁰ For example, APS argues that the proposal may not be appropriate due to the speculative nature of the identification of geographic zones and the long-term nature of planning and building transmission infrastructure.¹⁴⁶¹ Idaho Power is concerned that the NOPR proposal will create a significant level of work for transmission providers that would outweigh the minor benefits developers would receive from the data.¹⁴⁶²

¹⁴⁶⁰ APS Initial Comments at 5-7; Arizona Commission Initial Comments at 8; CAISO Initial Comments at 27-28; Consumer Organizations Initial Comments at 3-7; Duke Initial Comments at 4, 18-19; Idaho Power Initial Comments at 5; Indicated PJM TOs Initial Comments at 3-4, 12-13; ISO/RTO Council Initial Comments at 7; LADWP Initial Comments at 4; Louisiana Commission Initial Comments at 24-25; Michigan Commission Initial Comments at 5-6; Microgrid Resources Initial Comments at 5; North Carolina Commission and Staff Initial Comments at 8-10; North Dakota Commission Initial Comments at 4-5; Ohio Commission Federal Advocate Initial Comments at 7-8.

¹⁴⁶¹ APS Initial Comments at 6-7.

¹⁴⁶² Idaho Power Initial Comments at 5.

660. PJM opposes the NOPR proposal, which it describes as an arbitrary and inflexible process that fails to account for regional differences and that will require transmission providers to draw lines on a map and commit to these areas for 20 years.¹⁴⁶³ PJM states that the information from the geographic zones will be poor compared to information in the marketplace, including nearer term decisions of interconnection customers.¹⁴⁶⁴ PJM states that an alternative, more case-specific flexible approach that builds on and is better synchronized with the transmission provider's interconnection queue process and market developments, and accommodates topologies as diverse as those in PJM, is a better solution.¹⁴⁶⁵ For example, PJM suggests that the PJM State Agreement Approach is a better way to facilitate clusters of renewable energy interconnections by finding states that are willing to sponsor the new transmission to help fulfill a renewable energy policy.¹⁴⁶⁶

¹⁴⁶³ PJM Initial Comments at 77-78.

¹⁴⁶⁴ Id. at 77.

¹⁴⁶⁵ Id. at 7.

¹⁴⁶⁶ Id. at 79-82 (citing PJM Operating Agreement, Schedule 6, section 1.5.9).

661. Several state commissions express concerns that the NOPR proposal would give undue preference to certain kinds of resources.¹⁴⁶⁷ For example, North Dakota Commission argues that the NOPR proposal would bias transmission planning towards one type of generation, encourage speculative build-out of transmission, and prevent visibility into the cost of other generation/transmission combinations, which will result in under-utilized transmission and additional costs to ratepayers with little benefit.¹⁴⁶⁸

¹⁴⁶⁷ Arizona Commission Initial Comments at 8; Louisiana Commission Initial Comments at 24-25; Louisiana Commission Reply Comments at 11-12; Michigan Commission Initial Comments at 5-6; North Carolina Commission and Staff Initial Comments at 10-13; North Dakota Commission Initial Comments at 4; Ohio Commission Federal Advocate Initial Comments at 7-8; Pennsylvania Commission Initial Comments at 7-8.

¹⁴⁶⁸ North Dakota Commission Initial Comments at 4.

662. North Carolina Commission and Staff assert that the NOPR proposal is an unwarranted intrusion into state jurisdiction over generation and fails to acknowledge state authority over utility generation, resource portfolios, and integrated resource planning.¹⁴⁶⁹ Similarly, Ohio Commission Federal Advocate asserts that the NOPR proposal exceeds the Commission's authority and interferes with Ohio's ability to maintain its competitive retail electric service law.¹⁴⁷⁰ Mississippi Commission states that decisions to develop such zones within a state should be left to the state.¹⁴⁷¹ Pennsylvania Commission argues that the geographic zones used for Long-Term Scenarios could frustrate a state's legitimate policy choices in establishing, for example, economic development zones designed to encourage developers to site generation in specific areas, by favoring another state's policy choices.¹⁴⁷² TAPS opposes any requirement to undertake a process to consider and identify remote geographic zones where state or local laws require local generating resources rather than remote resources.¹⁴⁷³

¹⁴⁶⁹ North Carolina Commission and Staff Initial Comments at 8.

¹⁴⁷⁰ Ohio Commission Federal Advocate Initial Comments at 7 (quoting Ohio Commission Federal Advocate ANOPR Comments at 8).

¹⁴⁷¹ Mississippi Commission Reply Comments at 10.

¹⁴⁷² Pennsylvania Commission Initial Comments at 7-8.

¹⁴⁷³ TAPS Initial Comments 9-10.

663. Many commenters argue that the NOPR proposal would be duplicative of, or would interfere with, existing processes.¹⁴⁷⁴ AEE states that the consideration of geography in developing long-term regional transmission plans should occur as a natural outgrowth of more effective regional transmission planning and that a specific requirement to identify geographic zones could have unintended consequences.¹⁴⁷⁵ AEE further asserts that some of the factors that the NOPR proposes to require transmission providers to incorporate in their Long-Term Scenarios inherently require them to consider what geographic areas are ripe for low-cost generation development but are isolated or otherwise transmission constrained.¹⁴⁷⁶ Similarly, Indicated PJM TOs argue that it is unnecessary to require the identification of geographic zones in Long-Term Regional Transmission Planning because transmission providers necessarily will rely on driving factors (e.g., public policy goals) that will determine where renewable resources will be developed.¹⁴⁷⁷ According to Duke, the categories of factors proposed in the NOPR already capture generator interconnections, so it is unclear what this additional process will add.¹⁴⁷⁸

¹⁴⁷⁴ AEE Initial Comments at 8; APS Initial Comments at 5; CAISO Initial Comments at 4-5; Duke Initial Comments at 18-19; Illinois Commission Initial Comments at 9-11; Indicated PJM TOs Initial Comments at 12; ISO-NE Initial Comments at 30; ISO/RTO Council Initial Comments at 7; MISO TOs Initial Comments at 32; Mississippi Commission Reply Comments at 10; Nebraska Commission Initial Comments at 6; NESCOE Initial Comments at 37; Nevada Commission Initial Comments at 10; New York TOs Initial Comments at 12; NYISO Initial Comments at 33; SPP Initial Comments at 12-13; TAPS Initial Comments 8-10; Xcel Initial Comments at 10-11.

¹⁴⁷⁵ AEE Initial Comments at 8.

¹⁴⁷⁶ Id. at 23-24.

¹⁴⁷⁷ Indicated PJM TOs Initial Comments at 12.

¹⁴⁷⁸ Duke Initial Comments at 18.

664. Several commenters argue that some transmission planning processes already incorporate the identification of geographic zones, and those existing processes should be allowed to continue.¹⁴⁷⁹ ISO-NE claims that transmission providers' planning constructs may already include rules that allow for assessing and identifying geographic zones with potential for high renewable development, rendering a separate process redundant or unnecessary.¹⁴⁸⁰ SPP states that the NOPR proposal would duplicate SPP's current process to some extent and that it would not be practical to do both.¹⁴⁸¹ Similarly, CAISO argues that the NOPR proposal is overly prescriptive and would interfere with California's existing processes, which are working effectively.¹⁴⁸² New York TOs note that New York's transmission planning processes already include the evaluation of geographic zones expected to see significant growth in generation or changes in load and incorporate state involvement.¹⁴⁸³ Mississippi Commission asserts that MISO already considers geographic zones for new generation.¹⁴⁸⁴

¹⁴⁷⁹ See, e.g., CAISO Initial Comments at 27-33; ISO-NE Initial Comments at 30; MISO TOs Initial Comments at 32; Nebraska Commission Initial Comments at 6; NESCOE Initial Comments at 37; Nevada Commission Initial Comments at 10; New York TOs Initial Comments at 12; NYISO Initial Comments at 33; SPP Initial Comments at 12-13.

¹⁴⁸⁰ ISO-NE Initial Comments at 30.

¹⁴⁸¹ SPP Initial Comments at 12-13.

¹⁴⁸² CAISO Initial Comments at 4-5, 27-33.

¹⁴⁸³ New York TOs Initial Comments at 12.

¹⁴⁸⁴ Mississippi Commission Reply Comments at 10.

c. Commission Determination

665. We decline to adopt the proposed requirement that each transmission provider, as part of its regional transmission planning process, consider whether to establish geographic zones within the transmission planning region that have the potential for development of large amounts of new generation. We are persuaded by commenters that finalizing and requiring the NOPR proposal is not warranted at this time. Further, given the other requirements in this final order, such as the requirement for transmission providers to plan for factors affecting supply and demand, we agree with commenters that adopting this proposed requirement is not necessary at this time to ensure that Long-Term Regional Transmission Planning ensures just and reasonable rates. We also agree with commenters that the prescriptive nature of the proposed three-step process could unintentionally impede existing efforts to incorporate geographic zones into regional transmission planning.

666. Although we are not adopting the NOPR proposal, we encourage transmission providers to consider geographic zones that have the potential for development of large amounts of new generation as part of their regional transmission planning process. As such, transmission providers in a transmission planning region may propose to identify geographic zones as part of Long-Term Regional Transmission Planning on compliance with this final order, provided that they demonstrate that their process for identifying such geographic zones is consistent with or superior to the Long-Term Regional Transmission Planning requirements established herein.

D. Evaluation of the Benefits of Regional Transmission Facilities

667. In this final order, we require transmission providers, as part of Long-Term Regional Transmission Planning, to measure seven specified benefits that were enumerated in the NOPR (“set of seven required benefits” or “required benefits”) in each Long-Term Scenario. We also allow transmission providers to propose on compliance to measure additional benefits as part of Long-Term Regional Transmission Planning. In addition, we require transmission providers to use those measured benefits when evaluating Long-Term Regional Transmission Facilities to determine whether they more efficiently or cost-effectively address Long-Term Transmission Needs.¹⁴⁸⁵

¹⁴⁸⁵ As discussed in the Development of Long-Term Scenarios section supra, transmission providers must also use these benefits to inform their identification of Long-Term Transmission Needs.

668. This section of the final order discusses the requirements that we adopt governing transmission providers' measurement and use of benefits in Long-Term Regional Transmission Planning. Specifically, we discuss: (1) the requirement to use a set of seven required benefits; (2) the required benefits, themselves; (3) the requirement to include a general description of how transmission providers will measure each of the benefits that the final order requires, as well as any additional benefits that they may propose, in their OATTs; (4) the requirements related to the minimum time horizon over which transmission providers must calculate the benefits of Long-Term Regional Transmission Facilities; (5) the evaluation of the benefits of portfolios of Long-Term Regional Transmission Facilities; and (6) other issues related to benefits.

1. Requirement for Transmission Providers To Use a Set of Seven Required Benefits

a. NOPR Proposal

669. In the NOPR, the Commission proposed a list of benefits that transmission providers in each transmission planning region may consider in Long-Term Regional Transmission Planning and cost allocation processes, which included: (1) avoided or deferred reliability transmission projects and aging infrastructure replacement; (2) either reduced loss of load probability or reduced planning reserve margin; (3) production cost savings; (4) reduced transmission energy losses; (5) reduced congestion due to transmission outages; (6) mitigation of extreme events and system contingencies; (7) mitigation of weather and load uncertainty; (8) capacity cost benefits from reduced peak energy losses; (9) deferred generation capacity investments; (10) access to lower-cost generation; (11) increased competition; and (12) increased market liquidity.¹⁴⁸⁶ The NOPR provided a description of each of these benefits categories as well as a method to calculate benefits in each category.¹⁴⁸⁷

¹⁴⁸⁶ NOPR, 179 FERC ¶ 61,028 at P 185. As more fully described below, the Commission is making modifications to the list of benefits in this final order. Therefore, we clarify for the reader how we refer to each of those benefits in this section. We refer to benefits 1-6 as “Benefit 1,” “Benefit 2,” etc. We refer to Benefit 7, “mitigation of weather and load uncertainty” as NOPR Benefit 7. We refer to “(8) capacity cost benefits from reduced peak energy losses” as “NOPR Benefit 8”, “Final Order Benefit 7”, and “Benefit 7”. We refer to benefits 9-12 as “Benefit 9,” Benefit 10,” etc.

¹⁴⁸⁷ Id. PP 189-225.

670. The Commission explained that it was not proposing to make the list of potential benefits mandatory or exhaustive and that transmission providers would have flexibility to propose which benefits to use as part of their Long-Term Regional Transmission Planning.¹⁴⁸⁸

¹⁴⁸⁸ Id. P 184.

671. The 12 potential benefits described in the NOPR are:

Number | Benefit | Description
1 | Avoided or deferred reliability transmission facilities and aging transmission infrastructure replacement | Reduced costs of avoided or delayed transmission investment otherwise required to address reliability needs or replace aging transmission facilities.
2a | Reduced loss of load probability [OR next benefit] | Reduced frequency of loss of load events by providing additional pathways for connecting generation resources with load (if planning reserve margin is constant), resulting in benefit of reduced expected unserved energy by customer value of lost load.
2b | Reduced planning reserve margin [OR prior benefit] | While holding loss of load probabilities constant, system operators can reduce their resource adequacy requirements (i.e., planning reserve margins), resulting in a benefit of reduced capital cost of generation needed to meet resource adequacy requirements.
3 | Production cost savings | Reduction in production costs, including savings in fuel and other variable operating costs of power generation, that are realized when transmission facilities allow for the increased dispatch of suppliers that have lower incremental costs of production, displacing higher-cost supplies; also, reduction in market prices as lower-cost suppliers set market clearing prices; when adjusted to account for purchases and sales outside the region, called adjusted production cost savings.
4 | Reduced transmission energy losses | Reduced energy losses incurred in transmittal of power from generation to loads, thereby reducing total energy necessary to meet demand.
5 | Reduced congestion due to transmission outages | Reduced production costs during transmission outages that significantly increase transmission congestion.
6 | Mitigation of extreme events and system contingencies | Reduced production costs during extreme events, such as unusual weather conditions, fuel shortages, and multiple or sustained generation and transmission outages, through more robust transmission system reducing high-cost generation and emergency procurements necessary to support the system.
7 | Mitigation of weather and load uncertainty | Reduced production costs during higher than normal load conditions or significant shifts in regional weather patterns.
8 | Capacity cost benefits from reduced peak energy losses | Reduced energy losses during peak load reduces generation capacity investment needed to meet the peak load and transmission losses.
9 | Deferred generation capacity investments | Reduced costs of needed generation capacity investments through expanded import capability into resource-constrained areas.
10 | Access to lower-cost generation | Reduced total cost of generation due to ability to locate units in a more economically efficient location (e.g., low permitting costs, low-cost sites on which plants can be built, access to existing infrastructure, low labor costs, low fuel costs, access to valuable natural resources, locations with high-quality renewable energy resources).
11 | Increased competition | Reduced bid prices in wholesale electricity markets due to increased competition among generators and reduced overall market concentration/market power.
12 | Increased market liquidity | Reduced transaction costs (e.g., bid-ask spreads) of bilateral transactions, increased price transparency, increased efficiency of risk management, improved contracting, and better clarity for Long-Term Regional Transmission Planning and investment decisions through increased number of buyers and sellers able to transact with each other as a result of transmission expansion.

672. While the Commission did not propose to require use of any specific benefits in the NOPR, it sought comment on whether transmission providers should be required to use some or all of the potential benefits described in the NOPR as a minimum set of benefits for their Long-Term Regional Transmission Planning process.¹⁴⁸⁹

¹⁴⁸⁹ Id. P 188.

b. Comments

673. Many commenters support the NOPR approach of providing illustrative benefits rather than mandating the use of certain benefits.¹⁴⁹⁰ Indicated PJM TOs contend that the NOPR proposal would advance the Commission's goals better than a more prescriptive proposal.¹⁴⁹¹ SERTP Sponsors and Southern argue that the Commission should not impose a minimum set of benefits because existing state-regulated integrated resource planning processes adequately examine some of the proposed benefits, and that some of the proposed benefits would harm existing integrated resource planning processes or are only appropriate for RTO/ISO regions.¹⁴⁹² LADWP asserts that some or all of the identified benefits will be considered as part of the normal transmission planning process without a requirement.¹⁴⁹³ Dominion asserts that the question arises of who will judge whether a transmission project addresses the NOPR's proposed list of benefits and that such debates could be time-consuming and further delay projects and drive up costs.¹⁴⁹⁴ Dominion states that transmission providers should be permitted to identify the benefits that they will consider in conducting Long-Term Regional Transmission Planning but retain flexibility to apply the specific benefits that are most appropriate given each transmission provider's individual circumstances.¹⁴⁹⁵

¹⁴⁹⁰ Ameren Initial Comments at 19; APPA Initial Comments at 31; APS Initial Comments at 9; Dominion Initial Comments at 34; Duke Initial Comments at 22-23; EEI Initial Comments at 19-20; Eversource Initial Comments at 25; Georgia Commission Initial Comments at 6-7; Idaho Commission Initial Comments at 4; Idaho Power Initial Comments at 7-8; Illinois Commission Initial Comments at 13-14; Indiana Commission Initial Comments at 6; Indicated PJM TOs Initial Comments at 17; ISO-NE Initial Comments at 5, 33-34; LADWP Initial Comments at 5; Louisiana Commission Reply Comments at 9-10; Michigan Commission Initial Comments at 6; MISO Initial Comments at 9, 51-52; Mississippi Commission Initial Comments at 36; NARUC Initial Comments at 20-21; National Grid Initial Comments at 26; North Carolina Commission and Staff Initial Comments at 7; Nebraska Commission Initial Comments at 7; New York TOs Initial Comments at 15; NRECA Initial Comments at 43-45; NYISO Initial Comments at 9, 37-38; OMS Initial Comments at 7-8; Pacific Northwest Utilities Initial Comments at 8; Pennsylvania Commission Initial Comments at 9; SERTP Sponsors Initial Comments 29-30; Southern Initial Comments at 24; TANC Initial Comments at 16; TAPS Initial Comments at 3, 14; US Chamber of Commerce Initial Comments at 7; Vermont State Entities Initial Comments at 7; Virginia Commission Staff Initial Comments at 5; Vistra Initial Comments at 15; Xcel Initial Comments at 12.

¹⁴⁹¹ Indicated PJM TOs Initial Comments at 17.

¹⁴⁹² SERTP Sponsors Initial Comments 29-30; Southern Initial Comments at 25-27.

¹⁴⁹³ LADWP Initial Comments at 5.

¹⁴⁹⁴ Dominion Initial Comments at 34.

¹⁴⁹⁵ Id.

674. TAPS supports requiring transmission providers to evaluate production cost modeling but opposes requiring transmission providers to consider any other benefits in order to allow for regional flexibility.¹⁴⁹⁶ Northwest and Intermountain and NYISO ask that the final order confirm that the 12 illustrative benefits are neither mandatory nor exhaustive.¹⁴⁹⁷ California Municipal Utilities state that requiring the consideration of all 12 benefits proposed in the NOPR would misapprehend the state and local nature of resource portfolio planning and fail to account for the costs of such prescriptive measures and the need for consumer protection measures to guard against speculative transmission projects.¹⁴⁹⁸

¹⁴⁹⁶ TAPS Initial Comments at 3, 14.

¹⁴⁹⁷ Northwest and Intermountain Initial Comments at 16; NYISO Initial Comments at 39.

¹⁴⁹⁸ California Municipal Utilities Reply Comments at 5-6.

675. OMS urges the Commission to clarify that transmission providers will have sufficient flexibility to use different sets of benefit metrics in different transmission planning cycles.¹⁴⁹⁹ Relatedly, Xcel states that for any specific study, portfolio, or transmission project, all benefits do not need to be calculated and, in some cases, calculating additional benefits may be costly, time consuming, and contentious and provide little added value.¹⁵⁰⁰

¹⁴⁹⁹ OMS Initial Comments at 8.

¹⁵⁰⁰ Xcel Initial Comments at 12.

676. Many of the commenters that support an illustrative approach emphasize the importance of regional flexibility.¹⁵⁰¹ US Chamber of Commerce states that flexibility will allow transmission planning regions to consider benefits that best align with their respective market structures.¹⁵⁰² MISO states that, without flexibility, it may not be able to move forward with the transmission projects of the greatest benefit and value to MISO and its stakeholders, noting that benefits used to meet criteria for its recent Long-Range Transmission Planning projects are not specified in its OATT.¹⁵⁰³ MISO, NYISO, and SPP argue that transmission providers and their stakeholders ought to determine what the benefits evaluated for specific transmission projects or sets of projects should be.¹⁵⁰⁴ NARUC, New York TOs, and Pennsylvania Commission agree, emphasizing consultation with states.¹⁵⁰⁵

¹⁵⁰¹ Ameren Reply Comments at 16-17 (citing MISO Initial Comments at 9); APS Initial Comments at 9; Dominion Initial Comments at 34; Duke Initial Comments at 22-23; EEI Initial Comments at 19-20; Eversource Initial Comments at 25; Entergy Reply Comments at 3; Idaho Commission Initial Comments at 4; Idaho Power Initial Comments at 7-8; Illinois Commission Initial Comments at 13-14; Indiana Commission Initial Comments at 6-7; Large Public Power Initial Comments at 28; ISO-NE Initial Comments at 33-34; Massachusetts Attorney General Initial Comments at 12, 15; MISO Initial Comments at 9; Mississippi Commission Initial Comments at 35-36; NARUC Initial Comments at 20-21; National Grid Initial Comments at 26; Nebraska Commission Initial Comments at 7; New York TOs Initial Comments at 15; Pennsylvania Commission Initial Comments at 9; SPP Initial Comments at 18; US Chamber of Commerce Initial Comments at 7; Vistra Initial Comments at 15; Xcel Initial Comments at 12.

¹⁵⁰² US Chamber of Commerce Initial Comments at 7.

¹⁵⁰³ MISO Initial Comments at 9.

¹⁵⁰⁴ MISO Initial Comments at 9-10; NYISO Initial Comments at 39; SPP Initial Comments at 18.

¹⁵⁰⁵ NARUC Initial Comments at 21-22; New York TOs Initial Comments at 15; Pennsylvania Commission Initial Comments at 9.

677. Entergy urges the Commission to affirm its commitment to providing transmission planning regions with flexibility in terms of how they identify, consider, and calculate benefits. Entergy further urges the Commission to adopt guiding principles to aid transmission providers in identifying their own benefits.¹⁵⁰⁶ Entergy argues that the Commission should recognize that not all benefits are appropriate in all jurisdictions and that some states will want to prioritize transmission projects that reduce customer bills.¹⁵⁰⁷

¹⁵⁰⁶ Entergy Initial Comments at 21.

¹⁵⁰⁷ Id.

678. SPP argues that how and when transmission benefits are calculated and incorporated in any regional transmission planning assessment should be at the discretion of each transmission provider and its stakeholders. Specifically, SPP argues that the effort required to incorporate additional benefit metrics into its current transmission planning process cannot be accommodated within its current process timeline.¹⁵⁰⁸

¹⁵⁰⁸ SPP Initial Comments at 18.

679. Mississippi Commission argues that any required benefits would be arbitrary and some metrics may not be applicable at times.¹⁵⁰⁹ National Grid argues that flexibility will allow transmission providers to adapt more readily to changes in state policy drivers, prevent the requirements of Long-Term Regional Transmission Planning from becoming dated, and allow benefits and cost allocation discussions to be synchronized.¹⁵¹⁰ Duke contends that allowing regional flexibility may help to mitigate some disputes within transmission planning regions over what benefits to measure and how to measure them. Moreover, Duke argues that regional flexibility is critical to ensuring that each benefit metric used is relevant and calculable for each transmission planning region, particularly given differences between RTO/ISO and non-RTO/ISO regions. Duke contends that regions must not be forced into accepting and implementing benefits metrics that they have not vetted or on which they do not have consensus.¹⁵¹¹

¹⁵⁰⁹ Mississippi Commission Initial Comments at 35-36.

¹⁵¹⁰ National Grid Initial Comments at 26-27.

¹⁵¹¹ Duke Initial Comments at 22-23.

680. MISO, while stating its preference for flexibility in identifying benefits, also states that it would support identifying and using a general set of benefit metrics that capture key areas of transmission value, such as reliability and resilience, production cost savings, and avoided resource and/or transmission investment, assuming that each transmission planning region may determine how to calculate each metric and how each applies during a transmission assessment, as well as allowing for different benefit metrics not part of that “general set” to be applied when warranted.¹⁵¹²

¹⁵¹² MISO Initial Comments at 9.

681. Some commenters offer support for the illustrative benefits without suggesting that they be required.¹⁵¹³ PG&E states that CAISO's transmission planning process currently evaluates several of the same benefits, either routinely or on a case-specific basis, and that PG&E supports the continued flexibility the NOPR envisions for RTO/ISOs.¹⁵¹⁴

¹⁵¹³ Nevada Commission Initial Comments at 10-11; Pattern Energy Initial Comments at 14; PG&E Initial Comments at 7.

¹⁵¹⁴ PG&E Initial Comments at 7.

682. In contrast, many commenters support the Commission requiring that transmission providers consider a minimum list of benefits for Long-Term Regional Transmission Planning.¹⁵¹⁵ PIOs argue that most of the benefits outlined in the NOPR have broad support, even among those commenters that do not support a Commission requirement to consider a minimum set of benefits.¹⁵¹⁶

¹⁵¹⁵ ACORE Initial Comments at 12; ACORE Reply Comments at 6; ACORE Supplemental Comments at 1; AEE Initial Comments at 8, 25; AEP Initial Comments at 6, 23-25; Breakthrough Energy Initial Comments at 4, 21-22; Business Council for Sustainable Energy Initial Comments at 2, 5; Certain TDUs Initial Comments at 11-12; Clean Energy Buyers Reply Comments at 8-9; Concerned Scientists Reply Comments at 7-10; Cypress Creek Reply Comments at 7-8; DC and MD Offices of People's Counsels Reply Comments at 3, 7-8; ELCON Initial Comments at 15; Enel Initial Comments at 3; Environmental Groups Supplemental Comments at 2; Environmental Legislators Caucus Supplemental Comments at 1; Exelon Initial Comments at 16: Grid United Initial Comments at 2; Handy Law Initial Comments at 8; US House Republicans Supplemental Comments at 1; Indicated US Senators and Representatives Initial Comments at 2; ITC Initial Comments at 5, 18-22; Interwest Initial Comments at 12; Interwest Reply Comments at 6-7; Joint Consumer Advocates Initial Comments at 11; Kentucky Commission Chair Chandler Reply Comments at 7; Minnesota State Entities Initial Comments at 6; New England for Offshore Wind Initial Comments at 5; New Jersey Commission Initial Comments at 11-14; Pacific Northwest State Agencies Initial Comments at 16-17; PIOs Initial Comments at 27-28; PIOs Reply Comments at 7-8; Policy Integrity Initial Comments at 27; Policy Integrity Supplemental Comments at 4; R Street Initial Comments at 9; RMI Initial Comments at 1; RMI Supplemental Comments at 2; SEIA Initial Comments at 16-17; Southeast PIOs Initial Comments at 50; Southeast PIOs Reply Comments at 27-28; US DOE Initial Comments at 30-33; US Senator Schumer Supplemental Comments at 1-2; US Senator Whitehouse Supplemental Comments at 2; US Senators Supplemental Comments at 2; WATT Coalition Initial Comments at 7.

¹⁵¹⁶ PIOs Initial Comments at 26, 41; PIOs Reply Comments at 7-8.

683. Clean Energy Associations and US Senator Schumer assert that the failure to adopt a minimum list of benefits risks skewing benefit-to-cost ratios against developing necessary transmission because all costs would be included in an evaluation but not all benefits would also be included.¹⁵¹⁷ Clean Energy Associations further state that failing to require the adoption of a minimum list of benefits could lead to higher costs in the long-term, as larger transmission projects with net benefits would not be selected.¹⁵¹⁸ Finally, Clean Energy Associations argue that, without a minimum list of benefits, significant disparities in regional identification of potential Long-Term Regional Transmission Facilities could have harmful spillover effects on coordinated activities such as interregional transmission coordination and affected systems studies.¹⁵¹⁹

¹⁵¹⁷ Clean Energy Associations Initial Comments at 19; US Senator Schumer Supplemental Comments at 1-2.

¹⁵¹⁸ Clean Energy Associations Initial Comments at 19-20 (citing The Brattle Group, Transmission Planning and Benefit-Cost Analyses, at 26 (Apr. 2021)).

¹⁵¹⁹ Clean Energy Associations Initial Comments at 19.

684. Michigan State Entities argue that there must be some prescribed list of benefits, asserting that it would not force differently situated transmission providers to implement any specific policy, but instead would ensure that they take a “fair look” at transmission planning policies, including those using storage, that could produce substantial savings for customers.¹⁵²⁰ Interwest contends that a standard and comprehensive framework for evaluating benefits is necessary because an ad hoc approach could result in inconsistencies and an incomplete picture of a transmission project's potential benefits.¹⁵²¹

¹⁵²⁰ Michigan State Entities Reply Comments at 2.

¹⁵²¹ Interwest Reply Comments at 7.

685. Southeast PIOs urge the Commission to prescribe a set of benefits for use in benefit-cost analyses, starting with the entire list of benefits in the NOPR. Southeast PIOs argue that the transmission providers in the Southeast exploited the flexibility in establishing and assessing benefits that the Commission provided in Order No. 1000 to implement a straight cost comparison.¹⁵²² Southeast PIOs further state that minimum standards are necessary to produce actionable results; otherwise, Long-Term Regional Transmission Planning will devolve into a “box-checking exercise.” ¹⁵²³ SREA argues that the Commission needs to set clear guidelines around benefit metrics to avoid opponents to the NOPR finding easy work-arounds.¹⁵²⁴

¹⁵²² Southeast PIOs Initial Comments at 50.

¹⁵²³ Southeast PIOs Reply Comments at 23, 27.

¹⁵²⁴ SREA Reply Comments at 26 (citing Louisiana Commission Initial Comments at 17; Mississippi Commission Initial Comments at 11; Southern Initial Comments at 12).

686. Similarly, R Street states that transmission providers should be required to use a minimum set of benefits because they lack the incentive to account for all system-wide benefits. R Street argues that proposing a benefits list for transmission providers to consider is the status quo and the Commission should expect little change without a benefits requirement.¹⁵²⁵ Concerned Scientists agree, claiming that the experience with Order No. 1000 implementation and the descriptions in the comments in response to the NOPR illustrate how transmission planning processes are resistant to changes when the Commission provides latitude for discretion.¹⁵²⁶ Concerned Scientists further contend that the discretion provided in the NOPR will allow a pattern of undue discrimination and unjust and unreasonable rates to persist that initially motivated the Commission to act.¹⁵²⁷

¹⁵²⁵ R Street Initial Comments at 9.

¹⁵²⁶ Concerned Scientists Reply Comments at 7.

¹⁵²⁷ Id. at 8-9.

687. Some commenters assert that requiring the same benefits in different transmission planning regions will help increase interregional transmission coordination.¹⁵²⁸ Clean Energy Associations argue that it is important for transmission planning regions to have a common starting point in terms of which benefits they evaluate to facilitate greater interregional transmission coordination.¹⁵²⁹ Breakthrough Energy notes that load diversity—and its effect on reducing very expensive generation capacity costs—is a major and under-appreciated benefit of large-scale interregional transmission facilities.¹⁵³⁰ Grid United states that, without a minimum set of benefits criteria, disparate benefits in neighboring transmission planning regions could balkanize the grid and disrupt effective interregional transmission planning, emphasizing the need for a set of principles that outline benefits that are universal and necessary for effective long-term transmission planning.¹⁵³¹ Policy Integrity asserts that defining a uniform set of minimum benefits would facilitate better identification and selection of efficient and cost-effective transmission solutions and would ensure comparability of transmission expansion projects across different RTOs/ISOs, which will be particularly useful given the need to improve Interregional Transfer Capability.¹⁵³²

¹⁵²⁸ Breakthrough Energy Initial Comments at 22-23; California Commission Initial Comments at 33; Grid United Initial Comments at 3; Policy Integrity Initial Comments at 27-28; US DOE Initial Comments at 31-32.

¹⁵²⁹ Clean Energy Associations Initial Comments at 19.

¹⁵³⁰ Breakthrough Energy Initial Comments at 22.

¹⁵³¹ Grid United Initial Comments at 3.

¹⁵³² Policy Integrity Initial Comments at 3, 27-28.

688. Relatedly, PJM states that, while it agrees that transmission providers should have flexibility to propose which benefits make sense to consider for their own transmission planning regions, the Commission should adopt a core set of benefits to be considered nationwide to ensure consistency.¹⁵³³ SREA notes that, in RTOs/ISOs, seams are perpetually a problem due to a lack of common national standards on benefits metrics and data inputs and asserts that the Commission should set minimum standards.¹⁵³⁴

¹⁵³³ PJM Initial Comments at 93 (citing NOPR, 179 FERC ¶ 61,028 at P 186).

¹⁵³⁴ SREA Reply Comments at 26-27.

689. Some commenters assert that a failure to consider sufficient benefits could result in higher costs and/or unjust and unreasonable rates.¹⁵³⁵ According to Enel, without considering a larger number of benefits, transmission projects that would have large net benefits will not be selected if no benefits or even only a small number of potential benefits were compared against the upfront costs.¹⁵³⁶

¹⁵³⁵ Enel Initial Comments at 3; Clean Energy Association Initial Comments at 20; Conservative Energy Network Supplemental Comments at 1; Conservatives for Clean Energy—Florida Supplemental Comments at 1; Conservatives for Clean Energy—South Carolina Supplemental Comments at 1; Indicated US Senators and Representatives Initial Comments at 2; Michigan Conservative Energy Forum Supplemental Comments at 1; Ohio Conservative Energy Forum Supplemental Comments at 1; Western Way Colorado Supplemental Comments at 1; Western Way Nevada Supplemental Comments at 1; Western Way Utah Supplemental Comments at 1; Wisconsin Conservative Energy Forum Supplemental Comments at 1.

¹⁵³⁶ Enel Initial Comments at 3.

690. Some commenters assert that a failure to require consideration of specific benefits will undermine other aspects of the NOPR's proposed reforms.¹⁵³⁷ Anbaric, for instance, argues that the NOPR falls far short of requiring comprehensive transmission planning, because it does not propose to mandate the use of any specific set of benefits.¹⁵³⁸ RMI contends that there is overwhelming evidence that transmission infrastructure provides multiple, diverse benefits, as well as established precedent that transmission costs should be allocated roughly commensurate with benefits. Therefore, RMI states, it would be illogical to allow transmission providers to ignore any benefits that transmission infrastructure offers, as it would lead to flawed investment decisions and defective cost allocation. RMI asserts that transmission providers should be required to quantify the full suite of known benefits of transmission infrastructure in Long-Term Regional Transmission Planning and that the list of 12 benefits in the NOPR is conservative and does not double-count benefits.¹⁵³⁹

¹⁵³⁷ Anbaric Initial Comments at 6-7; RMI Initial Comments at 2.

¹⁵³⁸ Anbaric Initial Comments at 6-7.

¹⁵³⁹ RMI Initial Comments at 2.

691. AEE argues that several of the listed benefits are indisputably relevant to all transmission planners and that these benefits should form a core group of minimum considerations.¹⁵⁴⁰ AEE states that the Commission may wish to conduct additional fact-finding in this docket to consider whether additional benefits cut across all markets and transmission planning regions or whether it is necessary to require each region to identify region-specific benefits for inclusion.¹⁵⁴¹ Hannon Armstrong states that the Commission indicated that each of the 12 benefits listed in the NOPR has the potential to provide a meaningful contribution to offset the cost of transmission and recommends that, absent any double-counting in this list, the Commission should require each of these benefits to be evaluated.¹⁵⁴² ITC argues that the Commission should adopt as minimum benefit criteria for project evaluation those used in the recently approved MISO Long-Range Transmission Plan process.¹⁵⁴³

¹⁵⁴⁰ AEE Initial Comments at 26.

¹⁵⁴¹ Id.

¹⁵⁴² Hannon Armstrong Initial Comments at 2-3.

¹⁵⁴³ ITC Initial Comments at 5, 18-22.

692. Southeast PIOs claim that the Commission must establish a set of minimum benefits for transmission providers to incorporate in their assessment of regional transmission facilities to ensure that regional transmission facilities are accurately represented in the transmission planning process.¹⁵⁴⁴ Southeast PIOs contend that a regional transmission planning process that quantifies and fully accounts for benefits of regional transmission alternatives would provide a measure of assurance to regulators and stakeholders that such alternatives were evaluated appropriately.¹⁵⁴⁵ In response to Southern and SERTP, Southeast PIOs argue that quantifying the listed benefits does not itself make resource decisions; the benefits are meant to determine the value proposition of alternative regional transmission facilities.¹⁵⁴⁶

¹⁵⁴⁴ Southeast PIOs Initial Comments at 50.

¹⁵⁴⁵ Id. at 53.

¹⁵⁴⁶ Southeast PIOs Reply Comments at 28 (citing Southern Initial Comments at 25-26; SERTP Sponsors Initial Comments at 30).

693. GridLab states that the Commission should require transmission providers to justify why their transmission solution evaluation frameworks omit any categories of benefits in relation to a standard list of benefits like those proposed in the NOPR.¹⁵⁴⁷ Pattern Energy agrees and notes that a “common starting point” would lower barriers to entry for market participants that do business in multiple transmission planning regions. Moreover, Pattern Energy argues that a required set of standardized benefits would facilitate a more transparent transmission planning process, as developers would have a baseline knowledge of any single transmission provider's transmission planning process regardless of where they are located.¹⁵⁴⁸

¹⁵⁴⁷ GridLab Initial Comments at 25.

¹⁵⁴⁸ Pattern Energy Reply Comments at 6-8 (citing ACEG Initial Comments at 32; Clean Energy Associations Initial Comments at 21).

694. Tabors Caramanis Rudkevich states that when transmission planning analyses account for the benefits of capital cost savings, resource adequacy, and resilience, the total benefits of transmission infrastructure well exceed the cost.¹⁵⁴⁹ Tabors Caramanis Rudkevich provides an example of multi-value benefit stacking for the transmission line connecting ERCOT and Southern Company and states that the results show total benefits of $390 million, compared to $33 million when considering production cost savings alone.¹⁵⁵⁰

¹⁵⁴⁹ Tabors Caramanis Rudkevich Initial Comments at 6.

¹⁵⁵⁰ Id.

695. Certain TDUs and NESCOE support or are amenable to a requirement for minimum benefits that also allows for flexibility in determination of additional benefits.¹⁵⁵¹ Specifically, NESCOE recommends that the Commission establish a list of benefits that must be considered for a regional discussion on transmission cost allocation and that the benefits list in the NOPR is an appropriate starting point. However, NESCOE contends, after consulting with the states, transmission providers should have the flexibility to include additional benefits or remove benefits from the list, asserting that such an approach would help facilitate collaboration in determining the appropriate set of benefits for a transmission planning region.¹⁵⁵² NESCOE also argues that, because benefits and the methods of measuring them may change over time, the Commission should clarify in any final order that transmission providers may modify or add benefits in future FPA section 205 filings.¹⁵⁵³

¹⁵⁵¹ Certain TDUs Initial Comments at 2-3, 9-12; NESCOE Initial Comments at 43-44.

¹⁵⁵² NESCOE Initial Comments at 44.

¹⁵⁵³ Id. at 43-44.

696. Certain TDUs also urge the Commission to allow for regional flexibility and state involvement in determining other measurable and quantifiable benefits to use in evaluating Long-Term Regional Transmission Facilities.¹⁵⁵⁴ While arguing for requiring certain benefits, Cypress Creek states that it agrees with Brattle Group that requiring evaluation of all 12 benefits in every scenario would detract from necessary regional flexibility.¹⁵⁵⁵ Cypress Creek asserts that the Commission should require two additional project/region-specific benefits in evaluating multi-value projects but does not explain what they should be.¹⁵⁵⁶

¹⁵⁵⁴ Certain TDUs Initial Comments at 9.

¹⁵⁵⁵ Cypress Creek Reply Comments at 7-8 (citing PIOs Initial Comments Ex. A, ¶¶ 8-9).

¹⁵⁵⁶ Id. at 8.

697. Exelon supports the Commission's proposal to provide flexibility to each transmission planning region to identify which benefits they will use in Long-Term Regional Transmission Planning. For instance, Exelon suggests that congestion reduction is more applicable to regions with Locational Marginal Price pricing, while it may be impossible to calculate the benefits of deferred generation capacity investments in a region like PJM where generation capacity is largely market-driven.¹⁵⁵⁷ Similarly, the New Jersey Commission recommends providing regional flexibility to include additional benefits that may be harder to quantify and/or do not reduce customers' bills (e.g., resilience benefits and the value of meeting state public policies).¹⁵⁵⁸

¹⁵⁵⁷ Exelon Initial Comments at 15.

¹⁵⁵⁸ New Jersey Commission Initial Comments at 14.

698. Clean Energy Buyers state that the proposed set of benefits is generally appropriate and that a common set of benefits would allow for the proper identification of benefits in Long-Term Regional Transmission Planning, accounting for changes in the resource mix and demand, and facilitating stakeholder participation. Therefore, Clean Energy Buyers argue, the Commission should require transmission providers to adopt a set of Commission-identified benefits that are consistent with the just and reasonable standard or demonstrate on compliance why they should not have to do so. That said, Clean Energy Buyers state that the Commission should permit transmission providers to propose processes for weighing benefits in accordance with their relative importance in each specific transmission planning region.¹⁵⁵⁹

¹⁵⁵⁹ Clean Energy Buyers Initial Comments at 19-21.

699. Several commenters recognize that benefits analysis can be resource intensive and therefore recommend that the Commission allow transmission providers to use a screening approach that initially screens benefit categories for significance before investing staff resources and modeling work to provide a detailed quantification.¹⁵⁶⁰ Clean Energy Buyers argue that, at a minimum, the Commission should require that transmission providers screen for all 12 benefits listed in the NOPR and quantify them accordingly.¹⁵⁶¹ Hannon Armstrong states that while certain benefits may have a zero or de minimis contribution for certain candidate transmission projects, the Commission should require transmission providers to document each potential benefit by using a high-level screening analysis or detailed modeling as applicable.¹⁵⁶² PIOs assert that screening tools can be used to reduce analytical burdens, allowing transmission providers to self-certify compliance and/or provide justifications for when benefits do not apply.¹⁵⁶³

¹⁵⁶⁰ ACEG Initial Comments at 7, 33; ACORE Initial Comments at 12; Breakthrough Energy Initial Comments at 22; CTC Global Initial Comments at 9; Interwest Initial Comments at 12-13; WATT Coalition Initial Comments at 7.

¹⁵⁶¹ Clean Energy Buyers Initial Comments at 20-21.

¹⁵⁶² Hannon Armstrong Initial Comments at 2-3.

¹⁵⁶³ PIOs Initial Comments at 41.

i. List of Benefits Proposed in the NOPR

700. Some commenters support requiring transmission providers to consider all 12 illustrative benefits enumerated in the NOPR.¹⁵⁶⁴ ACORE contends that these categories represent a best practice and track closely with recommended multi-benefit planning approaches.¹⁵⁶⁵ Breakthrough Energy notes that some of the Commission-listed benefits can be very significant but are typically ignored in today's transmission planning processes.¹⁵⁶⁶ SEIA and Fervo assert that the final order should account for the full range of transmission benefits and use multi-value planning to comprehensively identify investments that address all categories of needs and benefits.¹⁵⁶⁷

¹⁵⁶⁴ Acadia Center and CLF Initial Comments at 21-22; ACEG Initial Comments at 32; ACORE Initial Comments at 12; AEE Reply Comments at 25: Amazon Initial Comments at 5; Breakthrough Energy Initial Comments at 21-22; Clean Energy Associations Initial Comments at 19-20; DC and MD Offices of People's Counsel Initial Comments at 19-20; ENGIE Reply Comments at 3; Hannon Armstrong Initial Comments at 3; Interwest Initial Comments at 12-14; National and State Conservation Organizations Initial Comments at 1; Pine Gate Initial Comments at 34-37; PIOs Initial Comments at 38-41; RMI Initial Comments at 1; SEIA Initial Comments at 16; Southeast PIOs Initial Comments at 50.

¹⁵⁶⁵ ACORE Initial Comments at 12 (citing Rob Gramlich, Grid Strategies LLC, Enabling Low-Cost Clean Energy and Reliable Service Through Better Transmission Benefits Analysis, at 9 (Aug. 9, 2022)).

¹⁵⁶⁶ Breakthrough Energy Initial Comments at 22.

¹⁵⁶⁷ Fervo Reply Comments at 2; SEIA Initial Comments at 16.

701. PIOs state that there is strong evidence in the record to support the proposed list of benefits, including extensive testimony provided by the Brattle Group and others. PIOs state that these benefits all correlate with needs and goals associated with Long-Term Regional Transmission Planning and, as such, the Commission should require transmission providers to consider them for most, if not all, regional transmission projects. Finally, PIOs encourage the Commission to make clear that these benefits should be assessed as part of any transmission planning process—even those conducted for economic purposes.¹⁵⁶⁸

¹⁵⁶⁸ PIOs Initial Comments at 37-38, 41.

702. Amazon supports the list of benefits set forth in the NOPR and urges the Commission to make consideration of those benefits mandatory except insofar as a transmission provider files for waiver and overcomes a strong presumption of their relevance to transmission planning and cost allocation.¹⁵⁶⁹ To facilitate the responsible construction of transmission facilities, ENGIE recommends that the Commission incorporate the 12 listed benefits as a minimum set of benefits for analysis but permit flexibility in how transmission providers conduct their analysis.¹⁵⁷⁰

¹⁵⁶⁹ Amazon Initial Comments at 5.

¹⁵⁷⁰ ENGIE Reply Comments at 3.

ii. Application of the Benefits of Long-Term Regional Transmission Facilities in Non-RTO/ISO Regions

703. Certain commenters state that all or most of the Commission's proposed benefits are applicable and appropriate in non-RTO/ISO transmission planning regions.¹⁵⁷¹ For example, ACEG states the minimum set of benefits should be implemented as universally as possible across RTOs/ISOs and non-RTO/ISO regions.¹⁵⁷² PIOs state that the Brattle-Grid Strategies Oct. 2021 Report shows the numerous benefits not currently quantified in RTO/ISO regions to consumers' detriment and that the problem is more dire in non-RTO/ISO regions.¹⁵⁷³ Relatedly, MISO states that benefits could be applied in non-RTO/ISO regions but may be limited or not fully realized due to less coordinated congestion management and transmission planning.¹⁵⁷⁴

¹⁵⁷¹ ACEG Initial Comments at 32, 48, 61; PIOs Initial Comments at 42; SEIA Initial Comments at 17.

¹⁵⁷² ACEG Initial Comments at 32.

¹⁵⁷³ PIOs Initial Comments at 42.

¹⁵⁷⁴ MISO Initial Comments at 51.

704. SEIA comments that the Commission should mandate the consideration of benefits of Long-Term Regional Transmission Facilities in non-RTO/ISO transmission planning regions. Otherwise, SEIA states, transmission providers could rely on state integrated resource planning processes, which do not incorporate lower cost transmission alternatives to generation procurement, potentially leading to transmission expansion to accommodate higher-cost generation than is needed. According to SEIA, there is no basis to apply different benefits in non-RTO/ISO transmission planning regions, because many of the proposed benefits of Long-Term Regional Transmission Facilities have already been calculated in non-RTO/ISO regions.¹⁵⁷⁵

¹⁵⁷⁵ SEIA Initial Comments at 17-18.

705. Southeast PIOs claim that Southeastern transmission providers should not be exempt from quantifying benefits, even if some benefits do not apply in the same manner to non-RTO/ISO transmission planning regions as they do to RTO/ISO regions.¹⁵⁷⁶ Southeast PIOs advocate for the Commission to establish standardized metrics for both RTO/ISO regions and non-RTO/ISO regions to capture similar benefits.¹⁵⁷⁷ Otherwise, Southeast PIOs argue, transmission providers will continue to focus only on costs, thereby depriving states and stakeholders of a fuller picture of transmission planning options.¹⁵⁷⁸ TAPS contends that no transmission facilities have been selected in a regional transmission plan for purposes of cost allocation since the implementation of Order No. 1000 in non-RTO/ISO transmission planning regions partly because of the narrow factors that most non-RTO/ISO regions consider in evaluating the benefits of potential transmission projects.¹⁵⁷⁹

¹⁵⁷⁶ Southeast PIOs Initial Comments at 51.

¹⁵⁷⁷ Id. at 52.

¹⁵⁷⁸ Id. at 52-53.

¹⁵⁷⁹ TAPS Initial Comments at 15.

706. Other commenters express concern that certain NOPR benefits would be inapplicable or problematic to apply to non-RTO/ISO transmission planning regions or argue that the same types of benefits should not be applied to both sets of regions.¹⁵⁸⁰ California Municipal Utilities oppose applying the list of benefits to non-RTO/ISO transmission planning regions, stating that doing so would misapprehend the state and local nature of resource portfolio planning and would fail to account for the costs of such prescriptive measures and to provide consumer protection measures to guard against speculative transmission projects.¹⁵⁸¹ Dominion states that a one-size-fits-all approach to benefits may be inappropriate, for instance, in locations where some transmission providers operate outside of an RTO/ISO while others function within an RTO/ISO.¹⁵⁸²

¹⁵⁸⁰ California Municipal Utilities Reply Comments at 5-6; Dominion Reply Comments at 2; Duke Initial Comments at 23; EEI Initial Comments at 19; Idaho Power Initial Comments at 8; North Carolina Commission and Staff Initial Comments at 7; Southern Initial Comments at 25-27.

¹⁵⁸¹ California Municipal Utilities Reply Comments at 5-6.

¹⁵⁸² Dominion Reply Comments at 2.

707. EEI and Idaho Power state that non-RTO/ISO transmission planning regions may not be able to calculate reduced congestion or increased market liquidity.¹⁵⁸³ Likewise, North Carolina Commission and Staff state that some of the benefits proposed for consideration are only applicable in RTOs/ISOs (e.g., increased market liquidity) and argue that some benefits could conflict with state-jurisdictional resource decisions (e.g., production cost savings, access to lower-cost generation).¹⁵⁸⁴

¹⁵⁸³ EEI Initial Comments at 19; Idaho Power Initial Comments at 8.

¹⁵⁸⁴ North Carolina Commission and Staff Initial Comments at 7.

708. Southern states that, while certain benefits identified in the NOPR could work for Southern's non-RTO/ISO footprint, others could harm underlying state integrated resource planning/request for proposal processes or are suited only for RTO/ISO markets, such as increased market liquidity.¹⁵⁸⁵ For example, Southern states that considering production cost savings effectively would make generation resource-related decisions that would intrude into integrated resource plan/request for proposal planning, which considers the total costs (including both generation and transmission costs) of available alternatives to customers.¹⁵⁸⁶ Similarly, SERTP Sponsors state that, because SERTP Sponsors continue to use integrated resource plan/request for proposal planning to make their resource and load determinations, some of the benefits that are appropriate for consideration in RTOs/ISOs are inapplicable for transmission planning or cost allocation purposes in the Southeast.¹⁵⁸⁷ SERTP Sponsors further state that, as the states have exclusive jurisdiction over such integrated resource plan/generation matters, requiring consideration of “[integrated resource plan/request for proposal]-related benefits,” including production cost savings, capacity costs benefits, reduced planning reserve margins, and reduced peak energy losses, could exceed the Commission's jurisdiction by infringing on such state processes.¹⁵⁸⁸

¹⁵⁸⁵ Southern Initial Comments at 25-27.

¹⁵⁸⁶ Id. at 26.

¹⁵⁸⁷ SERTP Sponsors Initial Comments at 30.

¹⁵⁸⁸ SERTP Sponsors Initial Comments at 30.

709. Kentucky Commission Chair Chandler argues against SERTP Sponsors' comments that suggest that integrated resource plan/request for proposal processes already consider four of the proposed categories of benefits included in the NOPR. Kentucky Commission Chair Chandler contends that the integrated resource planning/request for proposal process can only address these four categories on a utility-by-utility basis and, thus, is unable to plan for transmission facilities across utilities or transmission planning regions by nature.¹⁵⁸⁹

¹⁵⁸⁹ Kentucky Commission Chair Chandler Reply Comments at 7.

710. Some commenters advocate for or against requiring transmission providers to consider other specific lists, categories, or combinations of benefits, arguing that such approaches reduce possible duplication of benefits, increase flexibility, and/or focus on benefits they believe are most important.¹⁵⁹⁰ PIOs, for example, assert that some commenters who are opposed to the list of benefits in the NOPR nonetheless agree that transmission planners should quantify broad categories of benefits to plan effectively.¹⁵⁹¹ AEP states that some benefits are more difficult to calculate than others and argues that the minimum set of benefits it recommends appropriately balances the significance of each type of benefit with the difficulty of quantifying that benefit.¹⁵⁹²

¹⁵⁹⁰ ACEG Reply Comments at 6-7; AEE Reply Comments at 25-26; AEP Initial Comments at 6, 23-25; California Commission Initial Comments at 31-34; Certain TDUs Reply Comments at 1-2; Entergy Initial Comments at 21; GridLab Initial Comments at 27; Joint Consumer Advocates Initial Comments at 11; PIOs Reply Comments at 7-9; PJM Initial Comments at 94-96; PPL Initial Comments at 14.

¹⁵⁹¹ PIOs Reply Comments at 7-8 (citing Entergy Initial Comments at 21; Exelon Initial Comments at 15).

¹⁵⁹² AEP Initial Comments at 23.

711. AEP and GridLab argue that many of the benefits listed in the NOPR measure or identify the same type of benefit and therefore argue that the Commission should group similar benefits together into categories to avoid double-counting.¹⁵⁹³ Specifically, AEP and GridLab propose that the production cost savings and access to lower-cost generation benefits be grouped into a required category.¹⁵⁹⁴ In addition, AEP states that the reduced loss of load probability, reduced planning reserve margin, capacity cost benefits from reduced peak energy losses, and deferred capacity investments benefits should be combined into one required category.¹⁵⁹⁵

¹⁵⁹³ AEP Initial Comments at 23-24; GridLab Initial Comments at 27.

¹⁵⁹⁴ AEP Initial Comments at 25; GridLab Initial Comments at 27.

¹⁵⁹⁵ AEP Initial Comments at 25.

712. GridLab and PJM contend that the Commission should combine the benefits of reduced loss of load probability and deferred generation capacity investment into a single category of benefits.¹⁵⁹⁶ PJM further argues that the Commission should combine the benefits of mitigation of extreme events and mitigation of weather and load uncertainty.¹⁵⁹⁷

¹⁵⁹⁶ GridLab Initial Comments at 27; PJM Initial Comments at 95.

¹⁵⁹⁷ PJM Initial Comments at 94.

713. California Commission recommends that to capture the benefits of transmission infrastructure, the Commission should require transmission providers to assess benefits within the following six benefit categories: (1) production cost benefits; (2) emissions reductions benefits; (3) generation capital cost benefits; (4) risk mitigation benefits; (5) resource adequacy benefits; and (6) resilience benefits. California Commission states that such a requirement would promote greater uniformity in how the benefits of regional (and interregional) transmission projects are evaluated, reducing potential disputes over cost allocation.¹⁵⁹⁸ However, California Commission argues, the Commission should allow transmission providers, in consultation with Relevant State Entities, to define each identified benefit and determine how to quantify it.¹⁵⁹⁹ To ensure that customers are protected from speculative transmission development and unreasonably high costs, California Commission concludes that the Commission should require transmission providers to demonstrate on compliance that they identified and defined benefits within each of the required benefit categories and determined appropriate quantification methods through a transparent public process.¹⁶⁰⁰

¹⁵⁹⁸ California Commission Initial Comments at 33.

¹⁵⁹⁹ Id. at 28-29.

¹⁶⁰⁰ Id. at 34-35.

714. Joint Consumer Advocates state that the following categories of benefits should be included in Long-Term Regional Transmission Planning: (1) production cost savings; (2) avoided or deferred reliability transmission facilities; and (3) aging transmission infrastructure replacement.¹⁶⁰¹

¹⁶⁰¹ Joint Consumer Advocates Initial Comments at 11.

715. AEE notes that some commenters propose that the Commission adopt a smaller set of benefit categories.¹⁶⁰² AEE states that while there may be value in considering these proposals, they miss important benefits such as increased competition, market liquidity, and increased resilience from mitigation of extreme weather events effects and system contingencies.¹⁶⁰³ Thus, AEE recommends that the Commission adopt as mandatory the full set of 12 benefits listed in the NOPR but allow a transmission provider to demonstrate that an alternative set of benefits captures all the benefits of transmission in its transmission planning region.

¹⁶⁰² AEE Reply Comments at 25-26 (citing PJM Initial Comments at 93-96; California Commission Initial Comments at 32; New Jersey Commission Initial Comments at 13-14).

¹⁶⁰³ Id.

716. A few commenters offer categories of benefits while noting the importance of regional flexibility.¹⁶⁰⁴ ACEG notes widespread support for the Commission to require certain categories of minimum benefits and requests flexibility for transmission providers to address these categories in accordance with regional needs. ACEG states that considering categories of benefits will reduce the risk of double-counting or miscalculating benefits and allow flexibility to apply specific benefits best suited to each transmission planning region.¹⁶⁰⁵

¹⁶⁰⁴ ACEG Reply Comments at 6-7; Entergy Initial Comments at 21.

¹⁶⁰⁵ ACEG Reply Comments at 6-7 (citing Entergy Initial Comments at 21; AEP Initial Comments at 23-27; Exelon Initial Comments at 15-16).

717. In addition to concerns expressed by commenters in the context of the combinations of benefits proposed above, other commenters express concern regarding the potential for double-counting of benefits if transmission providers are required to consider certain benefits.¹⁶⁰⁶ For example, NRECA asserts that accounting for increased competition and increased market liquidity would risk double-counting benefits,¹⁶⁰⁷ and Utah Division of Public Utilities argues that accounting for both reduction in loss of load probability and mitigation of extreme events and system contingencies would result in double-counting.¹⁶⁰⁸ Clean Energy Buyers ask that the Commission require transmission providers to explain how they will avoid double-counting issues,¹⁶⁰⁹ while ISO-NE seeks more information from the Commission regarding which benefits the Commission believes are redundant.¹⁶¹⁰

¹⁶⁰⁶ See, e.g., APPA Initial Comments at 32; City of New Orleans Council Initial Comments at 10-11; Louisiana Commission Reply Comments at 10; Michigan Commission Initial Comments at 6; Nevada Commission Initial Comments at 10-11; Utah Division of Public Utilities Initial Comments at 8; Vistra Initial Comments at 16-17.

¹⁶⁰⁷ NRECA Initial Comments at 45 (citing NRECA Initial Comments, attach. at 16-17).

¹⁶⁰⁸ Utah Division of Public Utilities Initial Comments at 8.

¹⁶⁰⁹ Clean Energy Buyers Initial Comments at 20-21.

¹⁶¹⁰ ISO-NE Initial Comments at 34.

718. A few commenters state that the list of 12 benefits in the NOPR does not risk double-counting.¹⁶¹¹ DC and MD Offices of People's Counsel concludes that each benefit in this list is mutually exclusive, noting that some transmission providers may wish to mix and match these benefits because their modeling tools may not disaggregate them in exactly the way described in the NOPR.¹⁶¹² MISO notes that there are instances where one benefit can enable other benefits and that adopting a calculation method that recognizes that complementary behavior can yield incremental value.¹⁶¹³ For example, MISO states, a calculation approach that distinguishes between the benefit of enabling resource expansion and the benefit of increased transmission capability provided by regional transmission projects would produce unique benefits.¹⁶¹⁴

¹⁶¹¹ DC and MD Offices of People's Counsel Initial Comments at 20; MISO Initial Comments at 50.

¹⁶¹² DC and MD Offices of People's Counsel Initial Comments at 20.

¹⁶¹³ MISO Initial Comments at 50.

¹⁶¹⁴ Id.

c. Commission Determination

719. We adopt the NOPR proposal, with modification, to require transmission providers in each transmission planning region to measure a set of seven required benefits (required benefits) for Long-Term Regional Transmission Facilities under each Long-Term Scenario as part of Long-Term Regional Transmission Planning. Furthermore, we adopt the NOPR proposal, with modification, to require transmission providers in each transmission planning region to use these measured benefits to evaluate Long-Term Regional Transmission Facilities, as discussed below in the Evaluation and Selection of Regional Transmission Facilities section. This Evaluation of the Benefits of Regional Transmission Facilities section discusses this final order's requirements with regard to transmission providers' measurement and use of benefits in evaluating Long-Term Regional Transmission Facilities; however, as discussed in the Development of Long-Term Scenarios section, these same benefits should help to inform transmission providers' identification of Long-Term Transmission Needs.¹⁶¹⁵

¹⁶¹⁵ See supra Long-Term Regional Transmission Planning, Development of Long-Term Scenarios section.

720. The seven required benefits that we require transmission providers to measure and use in Long-Term Regional Transmission Planning, which we describe in greater detail in the discussion of the individual benefits below, are: (1) avoided or deferred reliability transmission facilities and aging infrastructure replacement; (2) a benefit that can be characterized and measured as either reduced loss of load probability or reduced planning reserve margin; (3) production cost savings; (4) reduced transmission energy losses; (5) reduced congestion due to transmission outages; (6) mitigation of extreme weather events and unexpected system conditions; and (7) capacity cost benefits from reduced peak energy losses.¹⁶¹⁶

¹⁶¹⁶ We discuss modifications to Benefit 6 from its description in the NOPR in the Benefit 6 determination section.

721. We find that these requirements are necessary to ensure that transmission providers can evaluate Long-Term Regional Transmission Facilities to determine whether they more efficiently or cost-effectively address Long-Term Transmission Needs. Specifically, we find that transmission providers must measure these seven required benefits in each Long-Term Scenario because, as discussed further in the Evaluation and Selection of Regional Transmission Facilities section, evaluating Long-Term Regional Transmission Facilities for potential selection necessarily involves the consideration of the benefits measured in each Long-Term Scenario and sensitivity to help address uncertainty over the 20-year transmission planning horizon and to maximize benefits accounting for costs over time. As such, we find that, to ensure just and reasonable Commission-jurisdictional rates, transmission providers must measure, at minimum, the set of seven required benefits in Long-Term Regional Transmission Planning and then use them to evaluate Long-Term Regional Transmission Facilities for selection.

722. Although the Commission did not propose to require the use of any specific benefits in the NOPR, the Commission sought comment on whether it should require transmission providers to use some or all of the potential benefits described in the NOPR as a minimum set of benefits in Long-Term Regional Transmission Planning. The record in this proceeding shows that, in order to ensure just and reasonable Commission-jurisdictional transmission rates, it is necessary to require transmission providers to measure and use in Long-Term Regional Transmission Planning a set of particular benefits so that they may identify, evaluate, and select regional transmission facilities that are more efficient or cost-effective transmission solutions to Long-Term Transmission Needs. We find that the benefits that Long-Term Regional Transmission Facilities generally provide extend beyond the benefits that transmission providers currently consider as part of their regional transmission planning and cost allocation processes, and without consideration of such benefits, Long-Term Regional Transmission Planning cannot be reasonably expected to identify, evaluate, and select more efficient or cost-effective regional transmission solutions to address Long-Term Transmission Needs.

723. By requiring the measurement and use of the seven enumerated benefits in Long-Term Regional Transmission Planning, we ensure that transmission providers will consider a sufficiently broad range of benefits when determining whether to select a Long-Term Regional Transmission Facility as a more efficient or cost-effective regional transmission solution to Long-Term Transmission Needs. In contrast, adopting the more flexible approach proposed in the NOPR would not address the identified deficiencies in existing regional transmission planning and cost allocation processes because such an approach would fail to ensure that transmission providers consider the broader set of benefits provided by, and the beneficiaries receiving the benefits of, Long-Term Regional Transmission Facilities, and thus, may fail to identify the potentially more efficient or cost-effective regional transmission solution. We find that failing to use the set of benefits that we require in this final order to evaluate Long-Term Regional Transmission Facilities for potential selection could render resulting Commission-jurisdictional rates unjust and unreasonable. We find that not requiring transmission providers to use certain benefits to evaluate Long-Term Regional Transmission Facilities would be expected to lead to relatively inefficient and less cost-effective transmission development, as Long-Term Regional Transmission Facilities that provide significant net benefits may not be selected.¹⁶¹⁷ In addition, we find that the transparency provided by requiring consideration of a sufficiently broad and common set of benefits will help to ensure the costs of Long-Term Regional Transmission Facilities are allocated to beneficiaries in a manner that is at least roughly commensurate with the benefits they derive from them.¹⁶¹⁸

¹⁶¹⁷ See Clean Energy Associations Initial Comments at 20 (citing The Brattle Group, Transmission Planning and Benefit-Cost Analyses, at 26 (Apr. 2021)).

¹⁶¹⁸ ICC v. FERC I, 576 F.3d at 477; Order No. 1000, 136 FERC ¶ 61,051 at PP 622, 639 (requiring costs of regional transmission facilities to be allocated in a manner that is at least roughly commensurate with estimated benefits).

724. We appreciate arguments made by certain commenters that failure to incorporate identifiable benefits risks skewing the evaluation process against developing needed and beneficial Long-Term Regional Transmission Facilities because transmission providers would consider all of the costs of such transmission facilities without similarly considering many important benefits that they may provide.¹⁶¹⁹ However, we are also cognizant of concerns about duplication of benefits and difficulty of measuring certain benefits. In this final order, rather than requiring transmission providers to measure and use all 12 benefits enumerated in the NOPR, we only require transmission providers to measure and use seven specific benefits that have a proven track record, can be discretely measured, and are unlikely to cause duplication. We find that the modification to the NOPR proposal to require the measurement and use of these seven benefits to evaluate Long-Term Regional Transmission Facilities, as discussed above, resolves concerns about important benefits being omitted from Long-Term Regional Transmission Planning, as well as challenges raised concerning duplication and measurement of certain benefits.

¹⁶¹⁹ See Enel Initial Comments at 3.

725. We acknowledge that many commenters do not favor requiring the use of particular benefits. In response, we emphasize that a set of common benefits and a requirement to measure and use those benefits in Long-Term Regional Transmission Planning will ensure just and reasonable rates, as discussed above.¹⁶²⁰ Specifically, unless transmission providers consider a sufficiently broad range of benefits when determining whether to select a Long-Term Regional Transmission Facility as a more efficient or cost-effective regional transmission solution to Long-Term Transmission Needs, they may fail to identify the more efficient or cost-effective regional transmission solution, resulting in relatively inefficient or less cost-effective transmission development.

¹⁶²⁰ See ACORE Initial Comments at 12; ACORE Reply Comments at 6; ACORE Supplemental Comments at 1; AEE Initial Comments at 8, 25; AEP Initial Comments at 6, 23-25; Breakthrough Energy Initial Comments at 4, 21-22; Business Council for Sustainable Energy Initial Comments at 2, 5; Certain TDUs Initial Comments at 11-12; Clean Energy Buyers Reply Comments at 8-9; Concerned Scientists Reply Comments at 7-10; Cypress Creek Reply Comments at 7-8; DC and MD Offices of People's Counsels Reply Comments at 3, 7-8; ELCON Initial Comments at 15; Enel Initial Comments at 3; Environmental Groups Supplemental Comments at 2; Environmental Legislators Caucus Supplemental Comments at 1; Exelon Initial Comments at 16: Grid United Initial Comments at 2; Handy Law Initial Comments at 8; US House Republicans Supplemental Comments at 1; Indicated US Senators and Representatives Initial Comments at 2; ITC Initial Comments at 5, 18-22; Interwest Initial Comments at 12; Interwest Reply Comments at 6-7; Joint Consumer Advocates Initial Comments at 11; Kentucky Commission Chair Chandler Reply Comments at 7; Minnesota State Entities Initial Comments at 6; New England for Offshore Wind Initial Comments at 5; New Jersey Commission Initial Comments at 11-14; Pacific Northwest State Agencies Initial Comments at 16-17; PIOs Initial Comments at 27-28; PIOs Reply Comments at 7-8; Policy Integrity Initial Comments at 27; Policy Integrity Supplemental Comments at 4; R Street Initial Comments at 9; RMI Initial Comments at 1; RMI Supplemental Comments at 2; SEIA Initial Comments at 16-17; Southeast PIOs Initial Comments at 50; Southeast PIOs Reply Comments at 27-28; ; US DOE Initial Comments at 30-33; US Senator Schumer Supplemental Comments at 1-2; US Senator Whitehouse Supplemental Comments at 2; US Senators Supplemental Comments at 2; WATT Coalition Initial Comments at 7.

726. We note that some commenters request flexibility to use different benefits, such as SPP, which states that the effort required to incorporate additional benefit metrics into its current regional transmission planning process cannot be accommodated within its current process timeline.¹⁶²¹ As discussed in the Implementation and Compliance sections of this final order, we require transmission providers to propose on compliance a date, no later than one year from the date on which initial filings to comply with this final order are due, on which they will commence the first Long-Term Regional Transmission Planning cycle (unless additional time is needed to align the first Long-Term Regional Transmission Planning cycle with existing transmission planning cycles), and thus transmission providers will not be required to immediately implement this reform.

¹⁶²¹ SPP Initial Comments at 18.

727. Some commenters argue that the requirement to measure and use these benefits will increase costs and require additional effort, and that the Commission has presented insufficient evidence that this requirement will produce the desired benefits.¹⁶²² Commenters who express such concerns did not provide persuasive evidence to suggest that requiring the measurement and use of a required set of benefits would be unduly burdensome. While measuring these benefits may impose a degree of burden on some transmission providers, the requirement for transmission providers to measure and use the seven required benefits in Long-Term Regional Transmission Planning is necessary to ensure that rates are just and reasonable. Specifically, absent a requirement that transmission providers measure and use a sufficiently broad range of benefits of Long-Term Regional Transmission Facilities when evaluating them for potential selection, transmission providers may not identify, evaluate, and select more efficient or cost-effective regional transmission solutions to Long-Term Transmission Needs, which may lead to relatively inefficient or less cost-effective transmission development. Further, we believe that experience gained by transmission providers will over time allow them to perform the necessary measurements more efficiently. Moreover, in our discussion of each required benefit below, we provide a description, for several of the required benefits, of at least one manner in which transmission providers could measure each required benefit. Finally, commenters also did not provide persuasive evidence that the burdens of measuring and using a required set of benefits outweigh the benefits of using these benefits in Long-Term Regional Transmission Planning. We therefore find that any burdens of measuring and using the seven required benefits in Long-Term Regional Transmission Planning are outweighed by the identification, evaluation, and selection of more efficient or cost-effective Long-Term Regional Transmission Facilities to address Long-Term Transmission Needs.¹⁶²³

¹⁶²² E.g., Dominion Initial Comments at 34-35.

¹⁶²³ See Clean Energy Associations Initial Comments at 20 (“Not requiring benefits to be evaluated could lead to higher costs in the long-term, and, thus, unjust and unreasonable rates.”).

728. Another common concern expressed by some commenters is that requiring a minimum set of benefits would undermine regional flexibility.¹⁶²⁴ We conclude that it would be inappropriate to provide flexibility not to consider this required set of benefits in Long-Term Regional Transmission Planning because, as described above, requiring the measurement and use of these benefits ensures that transmission providers are able to identify, evaluate, and select regional transmission solutions to more efficiently or cost-effectively address Long-Term Transmission Needs, and thereby ensures just and reasonable rates. We therefore disagree with Dominion that transmission providers should be permitted to identify initial benefits that they will consider in conducting Long-Term Regional Transmission Planning but retain flexibility in applying such benefits to each transmission provider's individual circumstances.¹⁶²⁵ However, as we discuss further below, we are providing flexibility to transmission providers regarding how they will measure each of the required benefits.

¹⁶²⁴ E.g., Entergy Initial Comments at 21.

¹⁶²⁵ Dominion Initial Comments at 34.

729. Transmission providers may also propose to measure and use additional benefits in Long-Term Regional Transmission Planning, as discussed below in the Other Benefits section. This approach provides flexibility to transmission providers in how they implement the requirement to measure and use the required set of benefits in Long-Term Regional Transmission Planning, while maintaining the baseline requirement that they measure and use all seven benefits included in that required set of benefits, in order to ensure that rates remain just and reasonable. Requiring all transmission providers to measure and use a required set of benefits will help to improve interregional transmission coordination among different transmission planning regions, as noted by commenters.¹⁶²⁶

¹⁶²⁶ Breakthrough Energy Initial Comments at 22-23; California Commission Initial Comments at 33; Grid United Initial Comments at 3; Policy Integrity Initial Comments at 27-28; US DOE Initial Comments at 31-32.

730. In addition, as more fully described below, we also find that the seven benefits we require are not overly burdensome to calculate. We address such concerns for individual benefits in more detail within the determination section on each benefit below.

731. Some commenters assert that some benefits are only appropriate for use in RTO/ISO transmission planning regions.¹⁶²⁷ We believe that all seven required benefits can be calculated in both RTO/ISO and non-RTO/ISO transmission planning regions, as noted by ACEG.¹⁶²⁸ In particular, we note that all seven required benefits have either been approved for use in regional transmission planning in at least one non-RTO/ISO transmission planning region or may be implemented by building upon the modeling or techniques used to measure benefits in RTO/ISO or non-RTO/ISO regions, or both.

¹⁶²⁷ Pacific Northwest Utilities Initial Comments at 8-10; SERTP Sponsors Initial Comments 29-30; Southern Initial Comments at 25-27.

¹⁶²⁸ ACEG Initial Comments at 48.

732. As described below, in the NOPR, the Commission noted that it approved the use of production cost savings (i.e., Benefit 3) to evaluate Order No. 1000 economic transmission projects in a non-RTO/ISO transmission planning region.¹⁶²⁹ We note that, as measurements of reduced production costs outside of normal conditions, the measurement methods for Benefit 5, Reduced Congestion Due to Transmission Outages, and Benefit 6, Mitigation of Extreme Weather Events and Unexpected System Conditions, may be built upon the modeling used to measure Benefit 3. Separately, the Commission has accepted use of benefits in evaluating regional transmission facilities in Order No. 1000 regional transmission planning processes akin to Benefit 2(a), Reduced Loss of Load Probability,¹⁶³⁰ and Benefit 4, Reduced Transmission Energy Losses, in non-RTO/ISO transmission planning regions.¹⁶³¹ In the NOPR, the Commission likewise noted that it has accepted accounting for the avoided costs (i.e., Benefit 1) as part of a method for identifying beneficiaries and allocating costs in almost all the regional cost allocation methods in non-RTO/ISO transmission planning regions.¹⁶³² With respect to Final Order Benefit 7 (i.e., capacity cost benefits from reduced peak energy losses), the avoided costs associated with this benefit are comparable across RTO/ISO and non-RTO/ISO transmission planning regions. Transmission providers in all transmission planning regions incur capital costs to meet installed generation requirements and to maintain reliable operations. Transmission expansions may help reduce peak energy losses, and under this benefit, result in capital cost savings associated with the reduction in installed generation requirements.

¹⁶²⁹ NOPR, 179 FERC ¶ 61,028 at P 201 (citing Pub. Serv. Co. of Colo., 142 FERC ¶ 61,206, at P 314 (2013)).

¹⁶³⁰ PacifiCorp, 147 FERC ¶ 61,057, at PP 133-134, 141-143 (2014); Pub. Serv. Co. of Colo., 142 FERC ¶ 61,206 at P 314.

¹⁶³¹ PacifiCorp, 147 FERC ¶ 61,057 at PP 132, 134, 141-143.

¹⁶³² NOPR, 179 FERC ¶ 61,028 at PP 189-190 & n.326 (citing Order No. 1000, 136 FERC ¶ 61,051 at P 81).

733. We disagree with commenters that express concerns that required benefits would conflict with state-regulated integrated resource planning processes.¹⁶³³ As discussed in the Legal Authority to Adopt Reforms for Long-Term Regional Transmission Planning section, nothing in this final order infringes on the states' reserved authority under FPA section 201.

¹⁶³³ SERTP Sponsors Initial Comments at 30; Southern Initial Comments at 24-26.

734. Entergy argues that the Commission should recognize that not all benefits are created equal for all jurisdictions and that some states will want transmission projects that actually reduce customer bills to have clear priority.¹⁶³⁴ We believe that the required measurement and use of the required set of benefits can accommodate such preferences. Our requirements ensure that all benefits are measured transparently and considered in selection decisions. In addition, our required set of benefits captures considerations such as production cost savings that can flow through to customer bills. PJM, for example, notes that lower production costs will generally also reduce market prices for electricity as lower-cost suppliers will set market clearing prices more frequently than without the transmission project.¹⁶³⁵ We note that while this final order requires the measurement and use of the required set of benefits, it is the evaluation process, including selection criteria, that transmission providers propose on compliance that will inform which Long-Term Regional Transmission Facilities are selected. Transmission providers may propose an evaluation process, including selection criteria, that reflect regional preferences as long as those criteria meet the requirements set forth below in the Evaluation and Selection of Long-Term Regional Transmission Facilities section.

¹⁶³⁴ Entergy Initial Comments at 21.

¹⁶³⁵ PJM Initial Comments at 95.

735. ISO-NE notes that the Commission sought information on potential double-counting of benefits and requests that the Commission clarify which benefits the Commission believes are redundant.¹⁶³⁶ We believe that the seven benefits that we include in the required set of benefits that transmission providers must measure and use in Long-Term Regional Transmission Planning are distinct enough that they will not overlap in a way that results in double-counting. Nonetheless, to the extent that transmission providers are concerned that any possibility of double-counting remains, we provide transmission providers with flexibility on the measurement of such benefits and expect that transmission providers can use such flexibility to develop methods for measuring each required benefit that address those concerns.

¹⁶³⁶ ISO-NE Initial Comments at 34.

736. Some commenters urge the Commission to adopt a combination or categorical approach toward benefits, under which required benefits would be grouped under certain categories or combinations.¹⁶³⁷ We decline to adopt this approach, largely because our analysis and review of the record suggests that such an approach could reduce transparency regarding the benefits that we are requiring. For example, in some cases adopting a combination or categories approach could obfuscate individual benefit calculations within a category, making it less clear to interested parties what specific benefits a Long-Term Regional Transmission Facility may provide. Additionally, we find that these seven benefits merit individual measurement and evaluation.

¹⁶³⁷ ACEG Reply Comments at 6-7; AEP Initial Comments at 23-25; California Commission Initial Comments at 33; Entergy Initial Comments at 21; GridLab Initial Comments at 27; Joint Consumer Advocates Initial Comments at 11; PJM Initial Comments at 94-96.

737. Northwest and Intermountain and NYISO ask that the final order confirm that the 12 illustrative benefits described in the NOPR are not exhaustive.¹⁶³⁸ First, we confirm that the list of 12 illustrative benefits described in the NOPR is not an exhaustive list of the potential benefits of Long-Term Regional Transmission Facilities. Second, we reiterate that the required set of benefits adopted in this final order is a subset of the benefits listed in the NOPR, as modified in the discussions below. Transmission providers may be aware of additional benefits beyond those included in the required set of benefits, or the 12 illustrative benefits described in the NOPR, and we provide them with the flexibility to propose to measure and use additional benefits in Long-Term Regional Transmission Planning so long as they do so in a manner that is consistent with transmission providers' obligations under Order No. 890 and Order No. 1000 transmission planning principles to be open and transparent as to their transmission planning processes. In particular, the evaluation process must result in a determination that is sufficiently detailed for stakeholders to understand why a particular Long-Term Regional Transmission Facility (or portfolio of such Facilities) was selected or not selected to address Long-Term Transmission Needs.¹⁶³⁹ This necessarily means that stakeholders must understand which benefits transmission providers considered in the evaluation process, including any beyond the seven benefits that we require transmission providers to include in their OATTs. We find that this transparency strikes an appropriate balance between ensuring that transmission providers measure and use the seven required benefits in Long-Term Regional Transmission Planning and allowing flexibility for transmission providers to use additional benefits that they believe will reasonably reflect the benefits of a Long-Term Regional Transmission Facility or Facilities in their transmission planning regions.

¹⁶³⁸ Northwest and Intermountain Initial Comments at 16; NYISO Initial Comments at 39.

¹⁶³⁹ See infra Evaluation and Selection of Long-Term Regional Transmission Facilities section.

738. OMS urges the Commission to clarify that transmission providers will have sufficient flexibility to use different sets of benefit metrics in different transmission planning cycles.¹⁶⁴⁰ We clarify that transmission providers must use the required set of benefits to evaluate Long-Term Regional Transmission Facilities in every Long-Term Regional Transmission Planning cycle, and we discuss the use of other benefits to evaluate Long-Term Regional Transmission Facilities in the Other Benefits section of this final order.

¹⁶⁴⁰ OMS Initial Comments at 8.

739. Some commenters suggest that the Commission allow transmission providers to use a screening approach that initially screens benefit categories for significance before investing staff resources and modeling work to provide a detailed quantification.¹⁶⁴¹ Clean Energy Buyers similarly argue that, at a minimum, the Commission should require that transmission providers screen for all 12 benefits described in the NOPR and quantify them accordingly.¹⁶⁴² We find such screening approaches, as advocated by some commenters, to be inconsistent with the approach we adopt in this final order, which requires measurement and use of each of the seven required benefits in Long-Term Regional Transmission Planning, and we are concerned that permitting the use of screens could undermine this requirement. We therefore do not allow transmission providers to use a screening approach when measuring the seven required benefits.

¹⁶⁴¹ ACEG Initial Comments at 7, 33; ACORE Initial Comments at 12; Breakthrough Energy Initial Comments at 22; CTC Global Initial Comments at 9; Interwest Initial Comments at 12-13; WATT Coalition Initial Comments at 7.

¹⁶⁴² Clean Energy Buyers Initial Comments at 20-21.

2. Required Benefits

a. The Seven Required Benefits

i. Benefit 1: Avoided or Deferred Reliability Transmission Facilities and Aging Transmission Infrastructure Replacement

(a) NOPR Description

740. The Commission described this benefit in the NOPR as the reduced costs of avoided or delayed transmission investment otherwise required to address reliability needs or replace aging transmission facilities. The Commission stated that, recognizing that regional transmission planning could lead to the development of transmission facilities that span the service territories of multiple transmission providers, which in turn would obviate the need for transmission facilities that would otherwise be identified in multiple local transmission plans, the Commission has accepted accounting for such “avoided costs” as part of a method for identifying beneficiaries and allocating costs in almost all the regional cost allocation methods in non-RTO/ISO regions.¹⁶⁴³ The Commission noted that, in using this method, transmission providers in a transmission planning region determine the beneficiaries of a regional transmission facility or portfolio of facilities by identifying the local and regional transmission facilities that a new proposed regional transmission facility or portfolio of facilities would displace. The Commission described the method as defining the benefits of the regional transmission facility or facilities as the costs that transmission providers in the transmission planning region “avoid” because they no longer need to build the displaced local and regional transmission facilities. Further, the Commission stated that the method allocates costs among transmission providers whose local or regional transmission facilities the new proposed regional transmission facility or facilities would displace in proportion to their share of the total benefits (i.e., the total avoided costs). If the new proposed regional transmission facility or facilities do not displace any local or regional transmission facilities in existing local or regional transmission plans, the Commission discussed that the avoided cost method determines the benefits of the applicable facilities by considering the costs of local or regional transmission facilities that would otherwise be needed to meet the same need that the new proposed regional transmission facility will meet.¹⁶⁴⁴ The Commission noted that, in calculating this benefit, transmission providers in each transmission planning region could first identify transmission facilities that could defer or replace an identified reliability transmission solution. Avoided cost benefits could be calculated by comparing the cost of transmission facilities required to address the reliability need without the proposed regional transmission facility to the cost of transmission facilities needed to address the reliability need assuming the regional transmission solution were in place.¹⁶⁴⁵

¹⁶⁴³ NOPR, 179 FERC ¶ 61,028 at PP 189-190 (citing Order No. 1000, 136 FERC ¶ 61,051 at P 81).

¹⁶⁴⁴ NOPR, 179 FERC ¶ 61,028 at P 190 (citing S.C. Elec. & Gas Co., 143 FERC ¶ 61,058, at P 232 (2013)).

¹⁶⁴⁵ Id. P 191 (citing Brattle-Grid Strategies Oct. 2021 Report at 37).

741. The Commission noted that Benefit 1 could also include the separate benefits stream caused by a deferral of replacement of other transmission facilities through identification and selection of a transmission facility or facilities. This could be measured through calculation of the present value savings for the period of deferral of additional replacement transmission facilities multiplied by their estimated capital cost.¹⁶⁴⁶ The Commission also noted that a number of transmission providers already evaluate the avoided or deferred costs of reliability transmission projects. For example, SPP uses a power flow model to analyze the ability of potential economic and Public Policy Requirements transmission facilities to meet the same thermal reliability needs addressed by a potential reliability transmission facility. The costs of these avoided or delayed reliability transmission facilities are used to determine the reliability benefit of the potential economic or Public Policy Requirements transmission facilities.¹⁶⁴⁷ The Commission stated that transmission providers could also use avoided costs to calculate the benefits of replacing aging transmission facilities. The Commission provided NYISO as an example, which estimates the benefits associated with the replacement of aging transmission facilities by quantifying the savings of not having to refurbish the facilities in the future.¹⁶⁴⁸

¹⁶⁴⁶ Id. P 192.

¹⁶⁴⁷ Id. P 193 (citing SPP, SPP Benefit Metrics Manual, SPP Engineering, at 15 (Nov. 6, 2020)).

¹⁶⁴⁸ Id. P 193 (citing The Brattle Group, Benefit-Cost Analysis of Proposed New York AC Transmission Upgrades, at 114 (Sept. 15, 2015)).

(b) Comments

742. A number of commenters support mandating consideration of Benefit 1.¹⁶⁴⁹ ACEG, for example, supports inclusion of this benefit, asserting that reliability considerations and replacing aging assets are responsible for almost all current transmission spending.¹⁶⁵⁰ However, MISO states that, when capturing avoided transmission investment benefits, care must be exercised to avoid the counting of benefits associated with facility overloads that are identified in reliability studies and directly addressed by regional transmission projects. MISO indicates that this approach is necessary because the adjusted production cost savings benefits already reflect the congestion associated with these facility overloads.¹⁶⁵¹ Southern states that this benefit would likely prove workable under its non-RTO/ISO construct because SERTP Sponsors' regional and interregional transmission planning and cost allocation processes already incorporate the benefit of “avoided costs.” ¹⁶⁵²

¹⁶⁴⁹ Acadia Center and CLF Initial Comments at 21-22; ACEG Initial Comments at 32; ACORE Initial Comments at 12; AEE Reply Comments at 25; AEP Initial Comments at 25 (including Benefit 1 in its recommended minimum set of benefit categories); Amazon Initial Comments at 5; Breakthrough Energy Initial Comments at 21-22; Certain TDUs Reply Comments at 1-2; Clean Energy Associations Initial Comments at 19-20; DC and MD Offices of People's Counsel Initial Comments at 19-20; ENGIE Reply Comments at 3; Hannon Armstrong Initial Comments at 3; Interwest Initial Comments at 12-14; National and State Conservation Organizations Initial Comments at 1; New Jersey Commission Initial Comments at 11-13; Pine Gate Initial Comments at 34-37; PIOs Initial Comments at 38-41; PJM Initial Comments at 96; RMI Initial Comments at 1; SEIA Initial Comments at 16; Southeast PIOs Initial Comments at 50; US DOE Initial Comments at 31-32.

¹⁶⁵⁰ ACEG Initial Comments at 34-35.

¹⁶⁵¹ MISO Initial Comments at 50.

¹⁶⁵² Southern Initial Comments at 25.

743. Several commenters oppose or express concerns with mandating consideration of Benefit 1.¹⁶⁵³ West Virginia Commission argues that calculation of this benefit requires evidence based on assumptions that are difficult, if not impossible, to quantify in advance.¹⁶⁵⁴ Xcel states that benefit calculations can be different between the short-term regional transmission planning process and Long-Term Regional Transmission Planning and that, for example, it would likely be unreasonable to determine reliability benefits in Long-Term Regional Transmission Planning using the avoided cost of local reliability solutions.¹⁶⁵⁵

¹⁶⁵³ Joint Consumer Advocates Initial Comments at 11; NARUC Initial Comments at 22; West Virginia Commission Supplemental Comments at 4; Xcel Initial Comments at 13.

¹⁶⁵⁴ West Virginia Commission Supplemental Comments at 4.

¹⁶⁵⁵ Xcel Initial Comments at 13.

744. NARUC states that, while Benefit 1 seems capable of calculation, it carries with it a degree of risk if aging transmission infrastructure continues to be operated. For instance, NARUC indicates that some wildfires have been linked to deferred transmission maintenance of aging infrastructure.¹⁶⁵⁶ AEE responds by stating that the Commission should clarify: (1) its expectations regarding its calculation; and (2) that regional transmission built for inherently economic or public policy purposes has, when installed, avoided reliability cost benefits.¹⁶⁵⁷ AEE argues that calculating the benefits of avoided investment in reliability or replacement facilities should not create an environment for continuously putting “band aid” fixes on aging systems that should instead be replaced to ensure reliability and resilience.¹⁶⁵⁸

¹⁶⁵⁶ NARUC Initial Comments at 22.

¹⁶⁵⁷ AEE Reply Comments at 26 (citing NARUC Initial Comments at 22).

¹⁶⁵⁸ Id.

(c) Commission Determination

745. We adopt the NOPR proposal, with modification, to require transmission providers in each transmission planning region to measure and use Benefit 1, Avoided or Deferred Reliability Transmission Facilities and Aging Transmission Infrastructure Replacement, in Long-Term Regional Transmission Planning. We adopt the NOPR's proposed description of Benefit 1 as the reduced costs due to avoided or delayed transmission investment otherwise required to address reliability needs or replace aging transmission facilities. We find that requiring the measurement and use of Benefit 1, as described, is necessary because Long-Term Regional Transmission Facilities may obviate or delay the need for reliability transmission facilities identified in the near term, or the need for later replacements of aging transmission infrastructure. Requiring transmission providers to measure and use the benefits associated with avoiding or delaying such transmission needs will help to ensure that, when conducting Long-Term Regional Transmission Planning, transmission providers identify, evaluate, and select Long-Term Regional Transmission Facilities that more efficiently or cost-effectively address Long-Term Transmission Needs.

746. We note that a number of transmission providers already evaluate avoided or deferred costs of reliability transmission facilities. ACEG states that Benefit 1 reflects that reliability considerations and replacing aging assets drive significant investment in transmission and account for almost all current transmission spending.¹⁶⁵⁹ SPP employs a power flow model to analyze the ability of potential economic and Public Policy Requirements transmission facilities to meet the same thermal reliability needs addressed by a potential reliability transmission facility, using the costs of these avoided or delayed reliability transmission facilities to determine the reliability benefit of the potential economic or Public Policy Requirements transmission facilities.¹⁶⁶⁰ Additionally, NYISO estimates the benefits associated with the replacement of aging transmission facilities by quantifying the savings of not having to refurbish the facilities in the future.¹⁶⁶¹ We find that widespread use of this benefit contradicts West Virginia Commission's assertion that calculation of this benefit requires evidence based on assumptions that are difficult, if not impossible, to quantify in advance, as well as similar assertions by Xcel.¹⁶⁶²

¹⁶⁵⁹ ACEG Initial Comments at 34-35.

¹⁶⁶⁰ NOPR, 179 FERC ¶ 61,028 at P 193 (citing SPP, SPP Benefit Metrics Manual, SPP Engineering, at 15 (Nov. 6, 2020)).

¹⁶⁶¹ Id. (citing The Brattle Group, Benefit-Cost Analysis of Proposed New York AC Transmission Upgrades, at 114 (Sept. 15, 2015)).

¹⁶⁶² West Virginia Commission Supplemental Comments at 4; Xcel Initial Comments at 13.

747. We agree with NARUC and AEE that continued operation of aging infrastructure can carry risks if it is not properly maintained.¹⁶⁶³ We note that nothing in this final order restricts an incumbent transmission provider from developing a local transmission facility to meet its reliability needs or service obligations in its own retail distribution service territory or footprint.¹⁶⁶⁴ Such a solution would not be subject to approval at the regional or interregional level where the transmission provider does not seek to have it selected as a regional transmission facility for purposes of cost allocation.¹⁶⁶⁵ Moreover, nothing in this final order requires transmission providers to keep transmission facilities in operation beyond their useful life. We emphasize that transmission providers can use Benefit 1 to calculate the costs that are avoided because replacements of local or regional transmission facilities are no longer needed, or may be deferred, when they are displaced by proposed new Long-Term Regional Transmission Facilities.

¹⁶⁶³ AEE Reply Comments at 26 (citing NARUC Initial Comments at 22); NARUC Initial Comments at 22.

¹⁶⁶⁴ Order No. 1000, 136 FERC ¶ 61,051 at PP 262, 329.

¹⁶⁶⁵ Id. P 384.

ii. Benefit 2(a): Reduced Loss of Load Probability or Benefit 2(b): Reduced Planning Reserve Margin

(a) NOPR Description

748. The Commission described this benefit in the NOPR as being measured in one of two ways: (a) using reduced loss of load probability or (b) reduced planning reserve margin. The Commission noted that, because there is an overlap between reduced loss of load probability benefits and reduced planning reserve margin benefits, a single transmission facility can either reduce loss of load events if the planning reserve margin is unchanged or allow for the reduction in planning reserve margins if loss of load events remain constant, but not both simultaneously.¹⁶⁶⁶

¹⁶⁶⁶ NOPR, 179 FERC ¶ 61,028 at P 194.

749. The Commission described Benefit 2(a) in the NOPR as reduced frequency of loss of load events by providing additional pathways for connecting generation resources with load in regions that can be constrained by weather events and unplanned outages (if the planning reserve margin is not changed despite lower loss of load events), as well as improved physical reliability benefits by reducing the likelihood of load shed events.¹⁶⁶⁷ The Commission noted that transmission investments, even those not made to satisfy a reliability need, generally enhance the reliability of the transmission system by increasing transfer capability, which, in turn, reduces the likelihood that a transmission provider will be unable to serve its load due to a shortage of generation over a given period. This enhancement in reliability can be measured as a reduction in loss of load probability, or the likelihood of system demand exceeding generation over a given period. The Commission noted that one example of how a reduction of loss of load probability benefit could be calculated can be found in a report by SPP's Metrics Task Force. The report proposes quantifying the incremental increase in system reliability by determining the reduction in expected unserved energy between the base case and the change case, obtaining the value of lost load, and multiplying these two values to obtain the monetary benefit of enhanced reliability associated with a transmission expansion.¹⁶⁶⁸

¹⁶⁶⁷ Id.

¹⁶⁶⁸ Id. P 195 & n.331 (citing SPP, Benefits for the 2013 Regional Cost Allocation Review, at 25 (Sept. 13, 2012)).

750. The Commission described Benefit 2(b) in the NOPR as reduced planning reserve margin, or “the reduction in capital costs of generation needed to meet resource adequacy requirements (i.e., planning reserve margins) while holding loss of load probability constant.” ¹⁶⁶⁹ The Commission stated that investments in transmission capacity can reduce the system-wide planning reserve margin requirement or the reserve margin requirement within individual resource adequacy zones of a transmission planning region, which can reduce the need for generation capital expenditures.¹⁶⁷⁰ The Commission also stated that it is important to note that, due to the overlap between the benefit obtained from a reduction in reserve margin requirements and the benefit associated with loss of load probability, only one of these benefits should be calculated for a transmission investment, but not both simultaneously.¹⁶⁷¹ The Commission noted that RTOs/ISOs have calculated the transmission benefits of reduced planning reserve margins. MISO, for example, calculated a reduction in planning reserves associated with its Multi-Value Projects portfolio, which reduced the need for future generation buildout to meet reserve requirements, by using loss of load expectation reliability simulations. MISO estimated that its Multi-Value Projects portfolio was expected to reduce the required planning reserve margin by up to one percentage point, which translated into a projected savings of $1.0 to $5.1 billion in benefits over 10 years.¹⁶⁷²

¹⁶⁶⁹ Id. P 194.

¹⁶⁷⁰ Id. P 196.

¹⁶⁷¹ Id.

¹⁶⁷² Id. P 197 (citing Midcontinent Independent System Operator, Inc., Proposed Multi Value Project Portfolio: Business Case Workshop, at 36-38 (Sept. 19 & 29, 2011)).

(b) Comments

751. A number of commenters support mandating consideration of Benefit 2(a).¹⁶⁷³ Some commenters discuss the manner in which this benefit should be calculated.¹⁶⁷⁴ ACEG and DC and MD Offices of People's Counsel note the importance of geographic diversity between transmission planning regions as an important consideration in evaluating this benefit.¹⁶⁷⁵ Specifically, ACEG states that it can be estimated using the value of lost load and generation capital cost savings due to lower needed planning reserve margins.¹⁶⁷⁶

¹⁶⁷³ Acadia Center and CLF Initial Comments at 21-22; ACEG Initial Comments at 32; ACORE Initial Comments at 12; AEE Reply Comments at 25: AEP Initial Comments at 25; Amazon Initial Comments at 5; Breakthrough Energy Initial Comments at 21-22; Clean Energy Associations Initial Comments at 19-20; DC and MD Offices of People's Counsel Initial Comments at 19-20; ENGIE Reply Comments at 3; Hannon Armstrong Initial Comments at 3; Interwest Initial Comments at 12-14; National and State Conservation Organizations Initial Comments at 1; Pine Gate Initial Comments at 34-37; PIOs Initial Comments at 38-41; RMI Initial Comments at 1; SEIA Initial Comments at 16; Southeast PIOs Initial Comments at 50; US DOE Initial Comments at 31-32.

¹⁶⁷⁴ E.g., ACEG Initial Comments at 38-39.

¹⁶⁷⁵ ACEG Initial Comments at 35-38; DC and MD Offices of People's Counsel Initial Comments at 21-24.

¹⁶⁷⁶ ACEG Initial Comments at 38.

752. However, some commenters oppose or express concerns regarding mandating consideration of Benefit 2(a).¹⁶⁷⁷ NARUC states that transmission planners are likely already considering loss of load events in their evaluations of system expansions and that whether such benefit, in isolation, is sufficient to recommend construction of a particular transmission project is a question best left to them and their states.¹⁶⁷⁸ West Virginia Commission argues that calculation of benefits from reduced loss of load probability requires evidence based on assumptions that are difficult, if not impossible, to quantify in advance.¹⁶⁷⁹ R Street states that Benefit 2(a) should be refined to the avoided value of lost load so that it is compatible with an economic assessment, while Illinois Commission asserts that the Commission should consider a more expansive definition of reduced loss of load probability composed of more than one metric, such as value of lost load, expected unserved energy, or a hybrid measure, that can serve as a supplement to loss of load expectation.¹⁶⁸⁰

¹⁶⁷⁷ NARUC Initial Comments at 23; Pacific Northwest Utilities Initial Comments at 9; West Virginia Commission Supplemental Comments at 4.

¹⁶⁷⁸ NARUC Initial Comments at 23.

¹⁶⁷⁹ West Virginia Commission Supplemental Comments at 4.

¹⁶⁸⁰ Illinois Commission Initial Comments at 14; R Street Initial Comments at 9.

753. With respect to Benefit 2(b), a number of commenters support mandating consideration of this benefit.¹⁶⁸¹ AEP recommends including Benefit 2(b) as a part of a combination of benefits.¹⁶⁸² Pine Gate states that this proposed benefit is critical to address resource adequacy concerns, particularly where a transmission planning region relies heavily on a single generation type.¹⁶⁸³

¹⁶⁸¹ Acadia Center and CLF Initial Comments at 21-22; ACEG Initial Comments at 32; ACORE Initial Comments at 12; AEE Reply Comments at 25; AEP Initial Comments at 25; Amazon Initial Comments at 5; Breakthrough Energy Initial Comments at 21-22; Clean Energy Associations Initial Comments at 19-20; DC and MD Offices of People's Counsel Initial Comments at 20; ENGIE Reply Comments at 3; Hannon Armstrong Initial Comments at 3; Interwest Initial Comments at 12-14; National and State Conservation Organizations Initial Comments at 1; Pine Gate Initial Comments at 34-37; PIOs Initial Comments at 38; RMI Initial Comments at 1; SEIA Initial Comments at 16; Southeast PIOs Initial Comments at 50.

¹⁶⁸² AEP Initial Comments at 25.

¹⁶⁸³ Pine Gate Initial Comments at 37.

754. With respect to comments in opposition to Benefit 2(b), similar to its comments on Benefit 2(a) above, West Virginia Commission argues that calculation of benefits from reduced planning reserve margin requires evidence based on assumptions that are difficult, if not impossible, to quantify in advance.¹⁶⁸⁴

¹⁶⁸⁴ West Virginia Commission Supplemental Comments at 4.

(c) Commission Determination

755. We adopt the NOPR proposal, with modification, to require transmission providers in each transmission planning region to measure and use Benefit 2, in Long-Term Regional Transmission Planning. This benefit can be characterized and measured as Benefit 2(a), Reduced Loss of Load Probability, or as Benefit 2(b), Reduced Planning Reserve Margin, and we clarify that these are different methods for measuring the same underlying benefit. We find that requiring the measurement and use of this benefit is necessary because it reflects an important category of reliability benefits of Long-Term Regional Transmission Facilities. Because there is an overlap between reduced loss of load probability benefits and reduced planning reserve margin benefits, for purposes of Long-Term Regional Transmission Planning, transmission providers must either measure reduced loss of load events by holding the planning reserve margin constant or measure the reduction in planning reserve margins by holding loss of load events constant but may not measure both simultaneously for purposes of using and measuring Benefit 2(a) or 2(b).

756. We adopt the NOPR's proposed description of Benefit 2(a) that describes Benefit 2(a), Reduced Loss of Load Probability, as the reduced frequency of loss of load events by providing additional pathways for connecting generation resources with load in regions that can be constrained by weather events and unplanned outages (if the planning reserve margin is not changed despite lower loss of load events), as well as improved physical reliability benefits by reducing the likelihood of load shed events. Benefit 2(a) measures reduced loss of load probability for resource adequacy planning, which typically includes the consideration of normal system conditions. One method of measuring a reduction in loss of load probability benefit is to quantify the incremental increase in system reliability by determining the reduction in expected unserved energy between the base case and the change case, determining the value of lost load, and multiplying these two values to obtain the monetary benefit of enhanced reliability associated with a Long-Term Regional Transmission Facility or a portfolio of Long-Term Regional Transmission Facilities.¹⁶⁸⁵

¹⁶⁸⁵ NOPR, 179 FERC ¶ 61,028 at P 195 & n.331 (citing SPP, Benefits for the 2013 Regional Cost Allocation Review, at 25 (Sept. 13, 2012)).

757. Numerous commenters support mandating Benefit 2(a).¹⁶⁸⁶ We recognize commenter suggestions regarding the method for calculating this benefit, with some recommending consideration of geographic diversity between transmission planning regions ¹⁶⁸⁷ and others recommending that the benefit be expressed in terms of the value of lost load.¹⁶⁸⁸ We agree that geographic diversity is an important consideration in evaluating the reduced loss of load probability method of calculating this benefit and find that the flexibility in measuring benefits that we provide to transmission providers under this final order allows for this consideration. As to the suggestion by Illinois Commission and R Street that Benefit 2(a) should be expressed in terms of the value of lost load so that it can be expressed in terms of cost, we believe that either Benefit 2(a) or Benefit 2(b) are reasonable methods to calculate Benefit 2 and we reiterate that transmission providers can choose either method to calculate this benefit. We encourage transmission providers to consider whether Benefit 2(a) or Benefit 2(b) is the most effective way to accurately reflect the benefits of a proposed Long-Term Regional Transmission Facility in their individual regions. As to NARUC's contention that the benefit of reducing the probability of loss of load events, in isolation, may be insufficient to support the development of a particular transmission project, while we are requiring transmission providers to use Benefit 2(a) or Benefit 2(b) to evaluate Long-Term Regional Transmission Facilities, we are not requiring transmission providers to base their evaluation on this single benefit—or any single benefit, for that matter—but rather on at least the range of benefits included in the required set of benefits that we adopt herein. Moreover, we are not requiring that transmission providers select any Long-Term Regional Transmission Facility.

¹⁶⁸⁶ Acadia Center and CLF Initial Comments at 21-22; ACEG Initial Comments at 32; ACORE Initial Comments at 12; AEE Reply Comments at 25: AEP Initial Comments at 25; Amazon Initial Comments at 5; Breakthrough Energy Initial Comments at 21-22; Clean Energy Associations Initial Comments at 19-20; DC and MD Offices of People's Counsel Initial Comments at 19-20; ENGIE Reply Comments at 3; Hannon Armstrong Initial Comments at 3; Interwest Initial Comments at 12-14; National and State Conservation Organizations Initial Comments at 1; Pine Gate Initial Comments at 34-37; PIOs Initial Comments at 38-41; RMI Initial Comments at 1; SEIA Initial Comments at 16; Southeast PIOs Initial Comments at 50; US DOE Initial Comments at 31-32.

¹⁶⁸⁷ ACEG Initial Comments at 35-38; DC and MD Offices of People's Counsel Initial Comments at 21-24.

¹⁶⁸⁸ Illinois Commission Initial Comments at 14 (suggesting alternatively that Benefit 2(a) be expressed in terms of expected unserved energy, or a hybrid measurement composed of more than one metric); R Street Initial Comments at 9 (stating that using value of lost load is compatible with an economic assessment).

758. As noted above, the NOPR proposed the following description of Benefit 2(b), “the reduction in capital costs of generation needed to meet resource adequacy requirements (i.e., planning reserve margins) while holding loss of load probability constant.” ¹⁶⁸⁹ We adopt the NOPR description in this final order. We find that a lower planning reserve margin is another way to demonstrate a resource adequacy benefit. As we indicate above, due to the relationship between the benefit obtained from a reduction in reserve margin requirements and the benefit associated with reduced loss of load probability, only one of these methods for calculating the benefit for a transmission investment can be used, but not both simultaneously. We find that Benefit 2(b) is one of two ways to calculate reduced costs related to resource adequacy because Long-Term Regional Transmission Facilities can reduce the system-wide planning reserve margin requirements within individual resource adequacy zones of a transmission planning region and provide benefits by reducing the need for generation capital expenditures.

¹⁶⁸⁹ NOPR, 179 FERC ¶ 61,028 at P 194.

759. Many commenters support mandating consideration of Benefit 2(b). For example, DC and MD Offices of People's Counsel note that the benefit of a reduced reserve planning margin has been used in multiple cases.¹⁶⁹⁰ We also find that it is feasible for transmission providers to calculate the benefit of reduced planning reserve margins. We reiterate here the example of MISO, which calculated a reduction in planning reserves associated with its Multi-Value Projects portfolio, reducing the need for future generation investments to meet reserve requirements by using loss of load expectation reliability simulations. MISO estimated that its Multi-Value Projects portfolio was expected to reduce the required planning reserve margin by up to one percentage point, which translated into a projected savings of $1.0 to $5.1 billion in benefits over 10 years.¹⁶⁹¹ We also note that the Commission has accepted benefits for use in evaluating regional transmission facilities in Order No. 1000 regional transmission planning processes akin to Benefit 2(a), Reduced Loss of Load Probability,¹⁶⁹² in non-RTO/ISO transmission planning regions.¹⁶⁹³

¹⁶⁹⁰ DC and MD Offices of People's Counsel at 22-23 (citing Midcontinent Independent System Operator, Inc., Proposed Multi Value Project Portfolio: Business Case Workshop, at 36-38 (Sept. 19 & 29, 2011); SPP, Benefits for the 2013 Regional Cost Allocation Review (Sept. 13, 2012); Investigation on Comm'n's Own Motion to Review 18 Percent Planning Reserve Margin Requirement, Docket No. 5-EI-141 (PSC REF# 102692), at 5 (Pub. Serv. Comm'n Wis. Oct. 9, 2008); SPP, The Value of Transmission, at 16 (Jan. 26, 2016); Midcontinent Independent System Operator, Inc., MISO Value Proposition 2020: Forward View, at 20-21 (June 2022); PJM Interconnection, L.L.C., PJM Value Proposition, at 2 (2019); Australian Energy Market Operator, 2022 Integrated System Plan, at 64 (June 2022)).

¹⁶⁹¹ NOPR, 179 FERC ¶ 61,028 at P 197 (citing Midcontinent Independent System Operator, Inc., Proposed Multi Value Project Portfolio: Business Case Workshop, at 36-38 (Sept. 19 & 29, 2011)).

¹⁶⁹² PacifiCorp, 147 FERC ¶ 61,057 at PP 133-134, 141-143; Pub. Serv. Co. of Colo., 142 FERC ¶ 61,206 at P 314.

¹⁶⁹³ PacifiCorp, 147 FERC ¶ 61,057 at PP 132, 134, 141-143.

760. Finally, we disagree with West Virginia Commission's claim that calculation of this benefit requires evidence based on assumptions that are difficult, if not impossible, to quantify in advance.¹⁶⁹⁴ As noted above, there are multiple examples in the record of transmission providers that currently calculate these benefits. Because we find that transmission providers will be able to calculate either Benefit 2(a) or 2(b) and recognize the importance of accounting for Benefit 2 in Long-Term Regional Transmission Planning, we require transmission providers to measure and use Benefit 2.

¹⁶⁹⁴ West Virginia Commission Supplemental Comments at 4.

iii. Benefit 3: Production Cost Savings

(a) NOPR Description

761. The Commission described Benefit 3 in the NOPR as savings in fuel and other variable operating costs of power generation that are realized when transmission facilities allow for displacement of higher-cost supplies through the increased dispatch of suppliers that have lower incremental costs of production, as well as a reduction in market prices as lower-cost suppliers set market clearing prices.¹⁶⁹⁵ The Commission stated that most regional transmission planning processes currently estimate production cost savings. Generally, within RTOs/ISOs, security-constrained production cost models simulate the hourly operations of the electric system and the wholesale electricity market by emulating how system operators would commit and dispatch generation resources to serve load at least cost, subject to transmission and operating constraints. The traditional method for estimating the changes in adjusted production costs associated with proposed transmission facilities (or portfolio of facilities) is to compare the adjusted production costs with and without those facilities. Analysts typically call the market simulations without the proposed transmission facilities the “Base Case” and the simulations with those facilities the “Change Case.” ¹⁶⁹⁶

¹⁶⁹⁵ NOPR, 179 FERC ¶ 61,028 at P 198 & n.333 (proposing to define this as adjusted production cost savings when the calculation is adjusted to account for purchases and sales outside the region).

¹⁶⁹⁶ NOPR, 179 FERC ¶ 61,028 at P 199.

762. The Commission further explained that approaches used to calculate production cost savings vary. MISO uses production cost savings (adjusted for import costs and export revenues) to allocate the costs of its Market Efficiency Projects to cost allocation zones based on each zone's share of the total adjusted production cost savings.¹⁶⁹⁷ The Commission also explained, in contrast, that NYISO and PJM use reductions to load energy payments (adjusted to reflect the reduced value of transmission congestion contracts) to allocate the costs of economic transmission facilities.¹⁶⁹⁸

¹⁶⁹⁷ NOPR, 179 FERC ¶ 61,028 at P 200 (citing MISO, FERC Electric Tariff, attach. FF, Benefit Metrics section (I)(A)(1) (33.0.0)).

¹⁶⁹⁸ NOPR, 179 FERC ¶ 61,028 at P 200 & n.335 (citing PJM Interconnection L.L.C., 142 FERC ¶ 61,214 at P 416; N.Y. Indep. Sys. Operator Corp., 143 FERC ¶ 61,059, at PP 268, 269, n.516 (2013); NYISO, NYISO Tariffs, OATT, attach. Y, section 31.5 (Cost Allocation and Cost Recovery) (30.0.0), section 31.5.4.3.2.) (“For high voltage economic transmission facilities, PJM allocates 50% of the costs in accordance with its economic analysis and allocates the other 50% of the costs on a load-ratio share basis.”).

763. The Commission stated that non-RTO/ISO regions, without centrally organized energy markets, rely on other tools to perform analyses of production cost savings. For example, WestConnect's regional cost allocation method for regional transmission facilities driven by economic considerations identifies the benefits and beneficiaries of a proposed regional transmission facility or facilities by modeling the potential of the transmission facilities to support more economic bilateral transactions between generators and loads in the region. Specifically, WestConnect considers the transactions between loads and lower-cost generation that a proposed regional transmission facility could support and, accounting for the costs associated with transmission service, identifies the transactions that are likely to occur. WestConnect then estimates any resulting cost savings (in the form of reductions in production costs and reserve sharing requirements) and allocates the costs of the regional transmission facilities on that basis.¹⁶⁹⁹

¹⁶⁹⁹ NOPR, 179 FERC ¶ 61,028 at P 201 (citing Pub. Serv. Co. of Colo., 142 FERC ¶ 61,206 at P 314).

(b) Comments

764. A number of commenters support mandating consideration of this benefit.¹⁷⁰⁰ AEP recommends including Benefit 3 as a part of a combination of benefits.¹⁷⁰¹ According to TAPS, all of the RTOs/ISOs already consider production cost savings; TAPS argues that the Commission should require transmission providers in non-RTO/ISO transmission planning regions to consider them as well.¹⁷⁰² Indicated PJM TOs state that this benefit is one of the main benefits that will drive the selection of transmission facilities in PJM.¹⁷⁰³

¹⁷⁰⁰ Acadia Center and CLF Initial Comments at 21-22; ACEG Initial Comments at 32; ACORE Initial Comments at 12; AEE Reply Comments at 25; AEP Initial Comments at 25; Amazon Initial Comments at 5; Breakthrough Energy Initial Comments at 21-22; Certain TDUs Reply Comments at 1-2; Clean Energy Associations Initial Comments at 19-20; DC and MD Offices of People's Counsel Initial Comments at 19-20; ENGIE Reply Comments at 3; Hannon Armstrong Initial Comments at 3; Interwest Initial Comments at 12-14; National and State Conservation Organizations Initial Comments at 1; Joint Consumer Advocates Initial Comments at 11; New Jersey Commission Initial Comments at 13-14 (including reduced production costs during transmission outages, extreme events, and higher than normal load conditions in Benefit 3); Pine Gate Initial Comments at 34-37; PIOs Initial Comments at 38-41; PJM Initial Comments at 96; RMI Initial Comments at 1; SEIA Initial Comments at 16; Southeast PIOs Initial Comments at 50; TAPS Initial Comments at 14; US DOE Initial Comments at 31-32.

¹⁷⁰¹ AEP Initial Comments at 25.

¹⁷⁰² TAPS Initial Comments at 14.

¹⁷⁰³ Indicated PJM TOs Initial Comments at 17.

765. Some commenters opine on how to calculate this benefit.¹⁷⁰⁴ ACEG states that production cost savings should include fuel and variable operating cost savings, adjustments for imports from neighboring transmission planning regions, reduced costs of cycling power plants, reduced amounts and costs of operating reserves and other ancillary services, and mitigation of reliability-must-run conditions.¹⁷⁰⁵ Likewise, DC and MD Offices of People's Counsel state that production cost savings should include ancillary service cost savings.¹⁷⁰⁶ MISO notes that, in addition to evaluating production cost savings under normal patterns of renewable dispatch and load, transmission providers can analyze production cost savings that accrue during transmission outages using historical sampling or statistical modeling of transmission outage patterns.¹⁷⁰⁷ MISO TOs state that its process to evaluate Multi-Value Projects considers production cost savings that can be realized through reduced transmission congestion and transmission energy losses, capacity loss savings, capacity savings, long-term cost savings, and “any other financially quantifiable benefit.”¹⁷⁰⁸

¹⁷⁰⁴ ACEG Initial Comments at 40; DC and MD Offices of People's Counsel Initial Comments at 25; GridLab Initial Comments at 26-27; MISO Initial Comments at 49-50.

¹⁷⁰⁵ ACEG Initial Comments at 40.

¹⁷⁰⁶ DC and MD Offices of People's Counsel Initial Comments at 25.

¹⁷⁰⁷ MISO Initial Comments at 49-50.

¹⁷⁰⁸ MISO TOs Initial Comments at 21 (citing MISO Open Access Transmission, Energy and Operating Reserve Markets Tariff, attach. FF (90.0.0), section II.C.5).

766. Some commenters oppose or express concerns regarding mandating consideration of production cost savings.¹⁷⁰⁹ For example, Southern states that considering production cost savings could result in the double-counting of benefits in its footprint by, for example, making generation pricing/cost decisions that have already been made or will ultimately be made in integrated resource planning or request for proposal processes.¹⁷¹⁰ Relatedly, North Carolina Commission and Staff state that requiring consideration of production cost savings would conflict with state-jurisdictional resource decisions.¹⁷¹¹ Mississippi Commission contends that this benefit may not always be applicable, such as where financial transmission rights fully hedge the cost of congestion.¹⁷¹² PJM Market Monitor states that in PJM, comparing production cost savings across different gas prices and different generation resource capacity may not provide meaningful guidance as to the benefits of a transmission facility beyond that currently provided by satisfying reliability criteria because of potentially inaccurate forecasts for key values.¹⁷¹³ Pacific Northwest Utilities assert that this benefit is not easily quantifiable.¹⁷¹⁴

¹⁷⁰⁹ Mississippi Commission Initial Comments at 35-36; North Carolina Commission and Staff Initial Comments at 7; Pacific Northwest Utilities Initial Comments at 9; PJM Market Monitor Initial Comments at 5; Southern Initial Comments at 26.

¹⁷¹⁰ Southern Initial Comments at 26 (citing Southern Initial Comments Ex. 1, ¶¶ 8, 15).

¹⁷¹¹ North Carolina Commission and Staff Initial Comments at 7.

¹⁷¹² Mississippi Commission Initial Comments at 36.

¹⁷¹³ PJM Market Monitor Initial Comments at 5.

¹⁷¹⁴ Pacific Northwest Utilities Initial Comments at 9.

(c) Commission Determination

767. We adopt the NOPR proposal, with modification, to require transmission providers in each transmission planning region to measure and use Benefit 3, Production Cost Savings, in Long-Term Regional Transmission Planning. We adopt the NOPR's proposed description of Benefit 3 as savings in fuel and other variable operating costs of power generation that are realized when transmission facilities allow for displacement of higher-cost supplies through the increased dispatch of suppliers that have lower incremental costs of production, as well as a reduction in market prices as lower-cost suppliers set market clearing prices. We find that requiring the use of Benefit 3 is necessary because Long-Term Regional Transmission Facilities could result in savings in fuel and other variable operating costs of power generation that are realized when transmission facilities allow for displacement of higher-cost supplies through the increased dispatch of suppliers that have lower incremental costs of production. We further find that, absent a requirement for transmission providers to measure and use Benefit 3 in Long-Term Regional Transmission Planning, transmission providers may not identify, evaluate, and select Long-Term Regional Transmission Facilities that more efficiently or cost-effectively address Long-Term Transmission Needs.

768. We do not require a standardized method for measuring production cost savings, and, consistent with this approach, we decline commenter requests to specify the exact types of cost savings for which transmission providers must account when measuring this benefit.¹⁷¹⁵ As the Commission stated in the NOPR,¹⁷¹⁶ different transmission planning regions have different approaches toward the calculation of this benefit, and this final order provides flexibility for transmission providers in developing the method that they use to measure production cost savings, consistent with the requirement to measure and use the required set of benefits in Long-Term Regional Transmission Planning described above.

¹⁷¹⁵ See ACEG Initial Comments at 40; DC and MD Offices of People's Counsel Initial Comments at 25; GridLab Initial Comments at 26-27; MISO Initial Comments at 49-50.

¹⁷¹⁶ NOPR, 179 FERC ¶ 61,028 at PP 200-201.

769. We note that Benefit 3 is distinct from other benefits that we require transmission providers to measure and use in Long-Term Regional Transmission Planning. Although Benefit 3 and Benefit 6, as described in this final order, both measure production cost savings (including savings that occur during generation outage contingencies), the system conditions used in calculating each benefit are distinct. For example, Benefit 6 can include higher electricity demand, forecast errors, volatile production costs, and a more expansive set of generation outages such as unplanned generation outages due to extreme weather. And as we discuss below in the context of Benefit 5, because Benefit 3, Production Cost Savings, as described in this order, does not capture production cost savings during transmission outages, we require transmission providers to measure and use Benefit 5 to ensure that they are accounting for reduced production costs during transmission outages as well.

770. We also do not believe that requiring transmission providers to measure and use Benefit 3 in Long-Term Regional Transmission Planning will, as Southern suggests, result in double-counting of benefits because such benefits are also considered in state resource planning. While we acknowledge that integrated resource planning processes, where they exist, may consider similar benefits compared to those required by this final order, the consideration of benefits in a state-jurisdictional process does not result in the double-counting of benefits within any Commission-jurisdictional transmission planning process. Because practices affecting rates, terms, and conditions for interstate transmission service are the exclusive jurisdiction of the Commission, we must ensure that Commission-jurisdictional regional transmission planning processes result in rates that are just and reasonable and not unduly or discriminatory. To this end, this final order is focused on ensuring that, when conducting Long-Term Regional Transmission Planning, transmission providers consider the broader set of benefits provided by Long-Term Regional Transmission Facilities so that they may determine whether to select such facilities as the more efficient or cost-effective regional transmission solution to address Long-Term Transmission Needs.

771. Pacific Northwest Utilities assert that production cost savings are not easily quantifiable.¹⁷¹⁷ We acknowledge that there are some challenges associated with measuring this benefit, but we conclude that it is nonetheless necessary to require such measurement in order to ensure that transmission rates are just, reasonable, and not unduly discriminatory or preferential. We also note that there is an abundance of examples of how transmission providers can measure this benefit. Production cost savings are used extensively in many transmission planning regions, including MISO, NYISO, PJM, SPP, CAISO, ISO-NE, NorthernGrid, and WestConnect.¹⁷¹⁸ We believe that transmission providers are capable of measuring production cost savings given that this benefit has been used as a metric in transmission planning for decades.

¹⁷¹⁷ Pacific Northwest Utilities Initial Comments at 9.

¹⁷¹⁸ See NOPR, 179 FERC ¶ 61,028 at PP 200-201; Brattle-Grid Strategies Oct. 2021 Report at 31; ISO New England, Inc., Transmission Planning: Maintaining Power System Reliability Amid Change, https://www.iso-ne.com/system-planning/transmission-planning (last visited Mar. 25, 2024); NorthernGrid, Study Scope for the 2022-2023 NorthernGrid Planning Cycle, 2 (Sept. 21, 2022), https://www.northerngrid.net/private-media/documents/NG_Study_Scope_2022-2023_Approved.pdf; The Brattle Group, The Benefits of Electric Transmission: Identifying and Analyzing the Value of Investments, 31 (July 2013), https://www.brattle.com/wp-content/uploads/2021/06/The-Benefits-of-Electric-Transmission-Identifying-and-Analyzing-the-Value-of-Investments.pdf (noting that in the Western Electricity Coordinating Council (WECC), whose service area includes one RTO (CAISO) and three non-RTO regions (ColumbiaGrid, Northern Tier Transmission Group (NTTG), and WestConnect) production costs simulations are used to calculate the energy costs savings of transmission projects in WECC's long-term transmission planning studies).

772. In response to North Carolina Commission and Staff's contention that requiring consideration of production cost savings conflicts with state-jurisdictional resource decisions,¹⁷¹⁹ we find that North Carolina Commission and Staff have failed to explain why there may be a conflict. As noted in the Need for Reform, there are deficiencies in the Commission's existing transmission planning and cost allocation requirements, including that they fail to require transmission providers to adequately consider the broader set of benefits of regional transmission facilities planned to meet Long-Term Transmission Needs. We are concerned that failing to adequately identify and consider the benefits, including production cost benefits, of such transmission facilities may lead to relatively inefficient and less cost-effective transmission development. Additionally, as described above in the Categories of Factors section, transmission providers must incorporate, and not discount, state-jurisdictional resource decisions, such as integrated resource plans, into all Long-Term Scenarios to identify Long-Term Transmission Needs. Therefore, we believe that requiring transmission providers to measure production cost savings will not conflict with state-jurisdictional resource decisions, because the effects of such resource decisions on Long-Term Transmission Needs must be fully accounted for in all Long-Term Scenarios, which are used to help identify more efficient or cost-effective regional transmission solutions within the Commission-jurisdictional regional transmission planning process. Moreover, as discussed in the Legal Authority to Adopt Reforms for Long-Term Regional Transmission Planning section of this final order, nothing in this final order conflicts with or infringes on the states' reserved authority under FPA section 201.

¹⁷¹⁹ North Carolina Commission and Staff Initial Comments at 7.

773. We disagree with Mississippi Commission's assertion that production cost savings may not always be applicable, such as where financial transmission rights fully hedge the cost of congestion.¹⁷²⁰ Financial transmission rights are required in RTO/ISO markets and allow the market participant that owns the right to mitigate the congestion charge along an existing transmission path for the capacity of that path.¹⁷²¹ A new transmission facility could reduce congestion and allow that market participant to purchase more electricity, exceeding the capacity of the transmission path for the financial transmission right, at a lower price. This reduced congestion allows for load to access lower cost resources, and results in more efficient dispatch of resources and, thus, provides avoided production cost benefits that are distinct from the avoided congestion charges associated with financial transmission rights.

¹⁷²⁰ Mississippi Commission Initial Comments at 36.

¹⁷²¹ Long-Term Firm Transmission Rights in Organized Elec. Mkts., Order No. 681, 116 FERC ¶ 61,077, at PP 5, 19-21, reh'g denied, Order No. 681-A, 117 FERC ¶ 61,201 (2006), order on reh'g & clarification, Order No. 681-B, 126 FERC ¶ 61,254 (2009).

774. We recognize the PJM Market Monitor's concern regarding the potential for inaccurate forecasts of key inputs to the calculation of production cost savings.¹⁷²² However, we conclude that this potential concern does not outweigh the value of measuring and using this benefit, as demonstrated by long-standing use of this benefit within PJM and other transmission planning regions, including all RTOs/ISOs and some non-RTO/ISO regions. Moreover, as noted in the Long-Term Scenarios section of this final order, the use of Long-Term Scenarios in Long-Term Regional Transmission Planning mitigates such uncertainty in transmission planning outcomes. Specifically, comparing the production cost savings, as well as the other benefits that we require transmission providers to measure and use in Long-Term Regional Transmission Planning, provided by Long-Term Transmission Facilities across three distinct Long-Term Scenarios should help to address the uncertainty noted by the PJM Market Monitor.

¹⁷²² PJM Market Monitor Initial Comments at 5.

iv. Benefit 4: Reduced Transmission Energy Losses

(a) NOPR Description

775. The Commission described this benefit in the NOPR as reduced total energy necessary to meet demand stemming from reduced energy losses incurred in transmittal of power from generation to loads.¹⁷²³

¹⁷²³ NOPR, 179 FERC ¶ 61,028 at P 202.

776. The Commission explained that production cost savings metrics used today typically exclude reduced transmission energy losses and three other production cost savings-related benefits proposed in the NOPR. The Commission also stated that including those additional proposed benefits can produce a more robust set of congestion and production cost benefits that can be quantified and integrated into the method for calculating production cost savings and, therefore, help to ensure that more efficient or cost-effective transmission facilities are selected through Long-Term Regional Transmission Planning.¹⁷²⁴

¹⁷²⁴ Id. P 203.

777. The Commission noted that to measure reduced transmission energy losses, transmission providers could: (1) simulate losses in production cost models; (2) estimate changes in losses with power flow models for a range of hours; or (3) estimate how the cost of supplying losses will likely change with marginal loss charges. For example, ATC measured reduced transmission energy losses based on changes in marginal loss charges and loss refund estimates using the marginal loss component from the PROMOD ¹⁷²⁵ electric market simulation software simulations for the Paddock-Rockdale 345 kV Access Project,¹⁷²⁶ which produced cost reduction benefits using adjusted production cost analysis. Also, SPP's analysis for its Regional Cost Allocation Review process estimated energy loss reductions through post-processing the marginal loss component of the locational marginal prices in PROMOD simulation results.¹⁷²⁷

¹⁷²⁵ PROMOD is a generator and portfolio modeling system. Hitachi Energy: PROMOD, https://www.hitachienergy.com/us/en/products-and-solutions/energy-portfolio-management/enterprise/promod (last visited Apr. 2024).

¹⁷²⁶ NOPR, 179 FERC ¶ 61,028 at P 204 & n.338 (citing ATC, Planning Analysis of the Paddock-Rockdale Project, Docket No. 137-CE-149, app. C, Ex. 1, at 34-38 (Wisc. Pub. Serv. Comm'n Apr. 5, 2007)).

¹⁷²⁷ SPP, SPP Regional Cost Allocation Review Report for RCAR II, at 56, 64 (July 11, 2016), https://www.spp.org/documents/46235/rcar%202%20report%20final.pdf.

(b) Comments

778. A number of commenters support mandating consideration of Benefit 4.¹⁷²⁸ While not favoring a benefits measurement requirement, Southern states that this benefit would likely prove workable under Southern's non-RTO/ISO construct because SERTP Sponsors' regional and interregional transmission planning and cost allocation processes already incorporate the benefit of reduced transmission energy losses.¹⁷²⁹

¹⁷²⁸ Acadia Center and CLF Initial Comments at 21-22; ACEG Initial Comments at 32; ACORE Initial Comments at 12; AEE Reply Comments at 25; Amazon Initial Comments at 5; Breakthrough Energy Initial Comments at 21-22; Clean Energy Associations Initial Comments at 19-20; DC and MD Offices of People's Counsel Initial Comments at 19-20; ENGIE Reply Comments at 3; Hannon Armstrong Initial Comments at 3; Interwest Initial Comments at 12-14; National and State Conservation Organizations Initial Comments at 1; New Jersey Commission Initial Comments at 13-14; Pine Gate Initial Comments at 34-37; PIOs Initial Comments at 38-41; RMI Initial Comments at 1; SEIA Initial Comments at 16; Southeast PIOs Initial Comments at 50; US DOE Initial Comments at 31-32.

¹⁷²⁹ Southern Initial Comments at 25.

779. Several commenters comment on the manner in which Benefit 4 should be calculated.¹⁷³⁰ ACEG states that this benefit has been calculated in various studies.¹⁷³¹

¹⁷³⁰ ACEG Initial Comments at 41; NARUC Initial Comments at 23 (noting that advanced technologies also provide this benefit and should be preferred over greenfield construction); Utah Division of Public Utilities Initial Comments at 8.

¹⁷³¹ ACEG Initial Comments at 41 (citing ATC, Planning Analysis of the Paddock-Rockdale Project, app. C Ex. 1, at 34-38 (Wisc. Pub. Serv. Docket No. 137-CE-149); SPP, Regional Cost Allocation Review Report for RCAR II, at 5 (July 11, 2016), https://www.spp.org/documents/46235/rcar%202%20report%20final.pdf).

780. West Virginia Commission opposes the use of Benefit 4, arguing that the calculation of benefits from reduced transmission losses requires significant evidence based on assumptions that are difficult, if not impossible, to quantify before the fact.¹⁷³²

¹⁷³² West Virginia Commission Supplemental Comments at 4.

(c) Commission Determination

781. We adopt the NOPR proposal, with modification, to require transmission providers to measure and use Benefit 4, Reduced Transmission Energy Losses, in Long-Term Regional Transmission Planning. We adopt the NOPR's proposed description of Benefit 4, as modified, as the reduced total energy necessary to meet demand stemming from reduced energy losses incurred in transmittal of power from generation to loads. We find that requiring the measurement and use of Benefit 4 in Long-Term Regional Transmission Planning is necessary because reduced energy losses are widely understood to be a benefit of transmission facilities.¹⁷³³ As such, we find that transmission providers must measure and use this benefit in Long-Term Regional Transmission Planning because it will help to ensure that they identify, evaluate, and select more efficient or cost-effective regional transmission solutions to address Long-Term Transmission Needs.

¹⁷³³ See Acadia Center and CLF Initial Comments at 21-22; ACEG Initial Comments at 32; ACORE Initial Comments at 12; AEE Reply Comments at 25; Amazon Initial Comments at 5; Breakthrough Energy Initial Comments at 21-22; Clean Energy Associations Initial Comments at 19-20; DC and MD Offices of People's Counsel Initial Comments at 19-20; ENGIE Reply Comments at 3; Hannon Armstrong Initial Comments at 3; Interwest Initial Comments at 12-14; National and State Conservation Organizations Initial Comments at 1; New Jersey Commission Initial Comments at 11-14; Pine Gate Initial Comments at 34-37; PIOs Initial Comments at 38-41; RMI Initial Comments at 1; SEIA Initial Comments at 16; Southeast PIOs Initial Comments at 50; US DOE Initial Comments at 31-32.

782. We recognize that there are multiple ways for transmission providers to measure reduced transmission energy losses.¹⁷³⁴ We note that this final order does not require transmission providers to adopt any single method to measure reduced transmission energy losses. As described in the NOPR, transmission providers could: (1) simulate losses in production cost models; (2) estimate changes in losses with power flow models for a range of hours; or (3) estimate how the cost of supplying losses will likely change with marginal loss charges.¹⁷³⁵ Transmission providers could also follow the example of ATC, which measured reduced transmission energy losses based on changes in marginal loss charges and loss refund estimates provided by the PROMOD electric market simulation software.¹⁷³⁶ Similarly, SPP estimates energy loss reductions through its Regional Cost Allocation Review process by post-processing the marginal loss component of the locational marginal prices in PROMOD simulation results.¹⁷³⁷

¹⁷³⁴ See, e.g., ACEG Initial Comments at 41 (citing studies in which Benefit 4 has been calculated).

¹⁷³⁵ NOPR, 179 FERC ¶ 61,028 at P 204.

¹⁷³⁶ ATC, Planning Analysis of the Paddock-Rockdale Project, Docket No. 137-CE-149, app. C Ex. 1, at 34-38 (Wisc. Pub. Serv. Comm'n Apr. 5, 2007).

¹⁷³⁷ SPP, Regional Cost Allocation Review Report for RCAR II, at 56, 64 (July 11, 2016), https://www.spp.org/documents/46235/rcar%202%20report%20final.pdf.

783. Because we find that transmission providers have multiple ways of calculating the benefit of reduced transmission energy losses, as well as record evidence demonstrating that the calculation of Benefit 4 is either already considered or is feasible in multiple transmission planning regions, we disagree with West Virginia Commission's claim that calculation of this benefit requires evidence based on assumptions that are difficult, if not impossible, to quantify in advance.¹⁷³⁸ We also note that the Commission has accepted benefits for use in evaluating regional transmission facilities in Order No. 1000 regional transmission planning processes akin to Benefit 4, Reduced Transmission Energy Losses, in non-RTO/ISO transmission planning regions.¹⁷³⁹

¹⁷³⁸ West Virginia Commission Supplemental Comments at 4.

¹⁷³⁹ PacifiCorp, 147 FERC ¶ 61,057 at PP 132, 134, 141-143.

v. Benefit 5: Reduced Congestion Due to Transmission Outages

(a) NOPR Description

784. The Commission described Benefit 5 in the NOPR as reduced production costs resulting from avoided congestion during transmission outages. Such benefits include reduced production costs during transmission outages that significantly increase transmission congestion. Production cost simulations typically consider planned generation outages and, in most cases, a random distribution of unplanned generation outages. In contrast, they do not generally reflect transmission outages, planned or unplanned.¹⁷⁴⁰ The Commission noted that transmission providers could measure this benefit, for example, by either building a data set of a normalized outage schedule (not including extreme events) that can be introduced into simulations or by inducing system constraints more frequently. One application of this approach is SPP's Regional Cost Allocation Review process, which, inter alia, measured the benefits of reducing congestion resulting from transmission outages. In this process, SPP modeled outage events and new constraints based on these outages in PROMOD for a 2025 case year, and then conducted PROMOD simulations to calculate adjusted production cost savings for a base case and the change case including the transmission line.¹⁷⁴¹

¹⁷⁴⁰ NOPR, 179 FERC ¶ 61,028 at P 205 & n.340 (citing Brattle-Grid Strategies Oct. 2021 Report at 79).

¹⁷⁴¹ Id. P 205 & n.341 (citing SPP, Inc., Regional Cost Allocation Review Report for RCAR II, at 51-52 (July 11, 2016), https://www.spp.org/documents/46235/rcar%202%20report%20final.pdf. To estimate incremental savings associated with mitigation of transmission outage costs, SPP analyzed outage cases in PROMOD for the 2025 study year. SPP developed cases based on 12 months of historical SPP transmission data. SPP said that because of the high volume of historical transmission outage data (approximately 7,000 outage events) and based on the expectation that many outages would not lead to significant increases in congestion, SPP only modeled a subset of outage events. The events selected were those expected to create significant congestion and met at least one of three conditions. Id. at 51.)

(b) Comments

785. A number of commenters support mandating consideration of Benefit 5.¹⁷⁴² While Southern does not support a requirement to use this or other benefits, it states that this benefit—which Southern understands as “operational flexibility”—could be explored for potential adoption in its footprint.¹⁷⁴³

¹⁷⁴² Acadia Center and CLF Initial Comments at 21-22; ACEG Initial Comments at 32; ACORE Initial Comments at 12; AEE Reply Comments at 25; Amazon Initial Comments at 5; Breakthrough Energy Initial Comments at 21-22; Clean Energy Associations Initial Comments at 18-20; DC and MD Offices of People's Counsel Initial Comments at 20; ENGIE Reply Comments at 2-3; Hannon Armstrong Initial Comments at 2-3; Interwest Initial Comments at 12-14; National and State Conservation Organizations Initial Comments at 1; Pine Gate Initial Comments at 34-37; PIOs Initial Comments at 37-38; RMI Initial Comments at 1; SEIA Initial Comments at 16; Southeast PIOs Initial Comments at 50.

¹⁷⁴³ Southern Initial Comments at 25.

786. A few commenters opine on how to calculate the benefit of reduced congestion due to transmission outages.¹⁷⁴⁴ ACEG states that most transmission planning models ignore unplanned transmission outages that are likely to occur during extreme weather events, which ACEG claims will underestimate the value of Benefit 5.¹⁷⁴⁵ Similarly, DC and MD Offices of People's Counsel argue that, because unplanned transmission outages cause a significant portion of congestion costs, calculation of this benefit should account for such outages.¹⁷⁴⁶

¹⁷⁴⁴ ACEG Initial Comments at 41-42; DC and MD Offices of People's Counsel Initial Comments at 25-26.

¹⁷⁴⁵ ACEG Initial Comments at 41.

¹⁷⁴⁶ DC and MD Offices of People's Counsel Initial Comments at 25-26.

787. Some commenters oppose mandating consideration of Benefit 5.¹⁷⁴⁷ AEP argues that reduced congestion due to transmission outages is of lesser importance and does not need to be in the required minimum set of benefits.¹⁷⁴⁸ NARUC states that benefits associated with new construction to alleviate congestion is already a planning consideration.¹⁷⁴⁹ Pacific Northwest Utilities and West Virginia Commission assert that this benefit is not easily quantifiable.¹⁷⁵⁰ Idaho Power states that non-RTO/ISO transmission planning regions may not be able to calculate reduced congestion.¹⁷⁵¹

¹⁷⁴⁷ AEP Initial Comments at 27-28; NARUC Initial Comments at 23; Pacific Northwest Utilities Initial Comments at 9; West Virginia Commission Supplemental Comments at 4.

¹⁷⁴⁸ AEP Initial Comments at 27.

¹⁷⁴⁹ NARUC Initial Comments at 23.

¹⁷⁵⁰ Pacific Northwest Utilities Initial Comments at 9; West Virginia Commission Supplemental Comments at 4.

¹⁷⁵¹ Idaho Power Initial Comments at 8.

(c) Commission Determination

788. We adopt the NOPR proposal, with modification, to require transmission providers in each transmission planning region to measure and use Benefit 5, Reduced Congestion Due to Transmission Outages, in Long-Term Regional Transmission Planning. We adopt the NOPR's proposed description of Benefit 5 as reduced production costs resulting from avoided congestion during transmission outages. Such benefits include reduced production costs during transmission outages that significantly increase transmission congestion. We find that requiring the measurement and use of Benefit 5, as described, is necessary because reduced congestion due to transmission outages is widely understood to be a benefit of transmission facilities.¹⁷⁵² As such, we find that transmission providers must measure and use this benefit in Long-Term Regional Transmission Planning because it will help to ensure that they identify, evaluate, and select more efficient or cost-effective regional transmission solutions to address Long-Term Transmission Needs.

¹⁷⁵² See Acadia Center and CLF Initial Comments at 21-22; ACEG Initial Comments at 32; ACORE Initial Comments at 12; AEE Reply Comments at 25; Amazon Initial Comments at 5; Breakthrough Energy Initial Comments at 21-22; Clean Energy Associations Initial Comments at 18-20; DC and MD Offices of People's Counsel Initial Comments at 20; ENGIE Reply Comments at 2-3; Hannon Armstrong Initial Comments at 2-3; Interwest Initial Comments at 12-14; National and State Conservation Organizations Initial Comments at 1; Pine Gate Initial Comments at 34-37; PIOs Initial Comments at 37-38; RMI Initial Comments at 1; SEIA Initial Comments at 16; Southeast PIOs Initial Comments at 50.

789. We also find that consideration of Benefit 5 is necessary because most current production cost simulations only consider generation outages—both planned generation outages and random distributions of unplanned generation outages; by contrast, production cost simulations do not typically address transmission outages, either planned or unplanned. Given that transmission facilities can provide benefits by reducing production costs during both generation outages and transmission outages, we find that it is necessary for transmission providers to measure and use production cost savings during both generation outages and transmission outages in Long-Term Regional Transmission Planning. Because Benefit 3, Production Cost Savings, as described in this order does not capture production cost savings during transmission outages, we require transmission providers to measure and use Benefit 5 to ensure that they are accounting for reduced production costs during transmission outages as well. We note that Benefit 6 is distinct from other benefits that we require transmission providers to measure and use in Long-Term Regional Transmission Planning. Although Benefit 5 and Benefit 6 both measure the benefit of reduced congestion due to transmission outages, the system conditions used to measure Benefit 6 include a more expansive set of transmission outages such as unplanned outages due to extreme weather.

790. For the reasons stated above, we disagree with AEP's arguments that reduced congestion due to transmission outages is less important than other benefits and thus should not be required.¹⁷⁵³ And while some commenters object to consideration of reduced congestion due to transmission outages as a benefit on the grounds that this benefit is not easily quantifiable,¹⁷⁵⁴ we believe this benefit is merely another variant in production cost savings modeling that we already require for other benefits, such as Benefits 3 and 4.

¹⁷⁵³ AEP Initial Comments at 27.

¹⁷⁵⁴ See Pacific Northwest Utilities Initial Comments at 9; West Virginia Commission Supplemental Comments at 4.

vi. Benefit 6: Mitigation of Extreme Weather Events and Unexpected System Conditions

(a) NOPR Description

791. The Commission described the benefit of mitigation of extreme events and system contingencies in the NOPR as reductions in production costs resulting from reduced high-cost generation and emergency procurements necessary to support the transmission system during extreme events (such as unusual weather conditions, fuel shortages, or multiple or sustained generation and transmission outages) and system contingencies.¹⁷⁵⁵ These benefits include reduced production costs during extreme events facilitated by a more robust transmission system that reduces high-cost generation and emergency procurements necessary to support the system.¹⁷⁵⁶ The Commission noted that transmission providers can measure benefits from the mitigation of extreme events and system contingencies by calculating the probability-weighted production cost savings through production cost simulation for a set of extreme historical market conditions. The Commission provided as one example CAISO's analysis of Devers-Palo Verde Line No. 2, where CAISO modeled several contingencies to determine the value of the line during high-impact, low-probability events and, as another example, ATC's production cost simulation analysis of insurance benefits for the ATC Paddock-Rockdale transmission line. ATC found that probability-weighted savings from reducing production and power purchase costs during a number of simulated extreme events offset 20% of total project costs.¹⁷⁵⁷ The Commission also noted that a study found development of an additional 1,000 MW of transmission capacity into Texas would have fully paid for itself over four days during Winter Storm Uri and the same into MISO would have saved $100 million during the same time period.¹⁷⁵⁸

¹⁷⁵⁵ NOPR, 179 FERC ¶ 61,028 at P 206.

¹⁷⁵⁶ Id.

¹⁷⁵⁷ Id. P 207 & n.342 (Opinion Granting Certificate of Public Convenience and Necessity, In the Matter of the Application of Southern California Edison Company (U 338-E) for a Certificate of Public Convenience and Necessity Concerning the Devers-Palo Verde No. 2 Transmission Line Project, Application 05-04-015 (Cal. Comm'n Jan. 27, 2007)) & n.343 (ATC, Planning Analysis of the Paddock-Rockdale Project, Docket No. 137-CE-149, app. C, Ex. 1, at 4, 50-53 (Wisc. Pub. Serv. Comm'n Apr. 5, 2007)).

¹⁷⁵⁸ Id. P 207 & n.344 (M. Goggin, Grid Strategies, LLC, Transmission Makes the Power System Resilient to Extreme Weather (July 2020)).

792. Separately, the Commission described the benefit of mitigation of weather and load uncertainty in the NOPR as reduced production costs during higher than normal load conditions or significant shifts in regional weather patterns.¹⁷⁵⁹ The Commission stated that this is beyond the effects of extreme weather described above and may account for, for example, regional and sub-regional load variances that will occur due to changing weather patterns.¹⁷⁶⁰ The Commission provided, as one example, simulations that ERCOT performed for normal loads, higher-than-normal loads, and lower-than-normal loads for a Houston import project, which showed increased benefits with a probability-weighted average for all three simulated load conditions.¹⁷⁶¹

¹⁷⁵⁹ Id. P 208.

¹⁷⁶⁰ Id.

¹⁷⁶¹ Id. P 209 & n.345 (citing ERCOT, Economic Planning Criteria: Question 1: 1/7/2011 Joint CMWG/PLWG Meeting, at 10 (Mar. 4, 2011). The $57.8 million probability-weighted estimate is calculated based on ERCOT's simulation results for three load scenarios and Luminant Energy estimated probabilities for the same scenarios).

(b) Comments

793. A number of commenters support mandating consideration of the benefit of mitigation of extreme events and system contingencies.¹⁷⁶² For instance, Grid United states that extreme weather conditions significantly affect the electric grid and that requiring transmission providers to consider transmission projects based on their ability to mitigate extreme weather events will enhance resilience.¹⁷⁶³ ACEG and DC and Maryland Offices of People's Counsel state that consideration of the benefit of mitigation of extreme events and system contingencies is merited given “the hundreds of millions of dollars that would have been saved if transmission capacity had been greater during a number of actual severe weather episodes.” ¹⁷⁶⁴ Clean Energy Associations assert that transmission providers should not calculate benefits solely based on average system conditions, as transmission investments can provide significant benefits during abnormal or extreme conditions or events.¹⁷⁶⁵

¹⁷⁶² Acadia Center and CLF Initial Comments at 21-22; ACEG Initial Comments at 32; ACORE Initial Comments at 12; ACORE Supplemental Comments at 1; AEE Reply Comments at 25; Amazon Initial Comments at 5; Breakthrough Energy Initial Comments at 21-22; Clean Energy Associations Initial Comments at 18-20; DC and MD Offices of People's Counsel Initial Comments at 20; ENGIE Reply Comments at 2-3; Grid United Initial Comments at 3; Hannon Armstrong Initial Comments at 2-3; Interwest Initial Comments at 12-14; National and State Conservation Organizations Initial Comments at 1; Pine Gate Initial Comments at 34-37; PIOs Initial Comments at 37-38; PJM Initial Comments at 94 (in combination with Benefit 7, noting that significant stakeholder engagement is needed to implement); RMI Initial Comments at 1; SEIA Initial Comments at 16; Southeast PIOs Initial Comments at 50; US DOE Initial Comments at 31-32; US Senator Schumer Supplemental Comments at 2-3.

¹⁷⁶³ Grid United Initial Comments at 3.

¹⁷⁶⁴ ACEG Initial Comments at 43 & n.119; DC and Maryland Offices of People's Counsel Initial Comments at 26-27 & n.65 (both citing Grid Strategies, LLC, Transmission Makes the Power System Resilient to Extreme Weather (Jul. 2021), https://acore.org/wp-content/uploads/2021/07/GS_Resilient-Transmission_proof.pdf).

¹⁷⁶⁵ Clean Energy Associations Initial Comments at 21.

794. Some commenters comment on the manner in which the benefit of mitigation of extreme events and system contingencies should be calculated.¹⁷⁶⁶ ACEG states that the benefit of mitigation of extreme events and system contingencies can be calculated by retrospective analysis or probabilistically. Additionally, ACEG recommends that the Commission require transmission providers to include avoided scarcity pricing, storm hardening and wildfire resilience, grid strength, and increased fuel diversity and system flexibility in addition to production cost savings when calculating the benefit of mitigation of extreme events and system contingencies.¹⁷⁶⁷ Similarly, DC and MD Offices of People's Counsel assert that the benefit of mitigation of extreme events and system contingencies should include resilience benefits such as storm and wildfire hardening, fuel diversity, and system flexibility, as well as reduced prices to consumers given that many regions set scarcity prices at values higher than generator production costs.¹⁷⁶⁸

¹⁷⁶⁶ ACEG Initial Comments at 43; Clean Energy Associations Initial Comments at 21; DC and MD Offices of People's Counsel Initial Comments at 26-27; MISO Initial Comments at 51; NARUC Initial Comments at 23; Pacific Northwest Utilities Initial Comments at 9.

¹⁷⁶⁷ ACEG Initial Comments at 43-44.

¹⁷⁶⁸ DC and MD Offices of People's Counsel Initial Comments at 26-27.

795. A number of commenters also support mandating consideration of the benefit of mitigation of weather and load uncertainty.¹⁷⁶⁹ Some commenters comment on the manner in which the benefit of mitigation of weather and load uncertainty should be calculated.¹⁷⁷⁰ GridLab posits that mitigation of weather and load uncertainty should only be included in the context of planning and operating reserves because “the cost to system operators of mitigating uncertainty is [the same as] the cost of holding additional reserves.” ¹⁷⁷¹

¹⁷⁶⁹ Acadia Center and CLF Initial Comments at 21-22; ACEG Initial Comments at 32; ACORE Initial Comments at 12; AEE Reply Comments at 25; Amazon Initial Comments at 5; Breakthrough Energy Initial Comments at 21-22; Clean Energy Associations Initial Comments at 18-20; DC and MD Offices of People's Counsel Initial Comments at 20; ENGIE Reply Comments at 2-3; Grid United Initial Comments at 3; Hannon Armstrong Initial Comments at 2-3; Interwest Initial Comments at 12-14; National and State Conservation Organizations Initial Comments at 1; Pine Gate Initial Comments at 34-37; PIOs Initial Comments at 37-38; PJM Initial Comments at 94 (in combination with Benefit 6, noting that significant stakeholder engagement would be necessary to implement); RMI Initial Comments at 1; SEIA Initial Comments at 16; Southeast PIOs Initial Comments at 50; US DOE Initial Comments at 31-32.

¹⁷⁷⁰ ACEG Initial Comments at 44; GridLab Initial Comments at 26; NARUC Initial Comments at 23.

¹⁷⁷¹ GridLab Initial Comments at 26.

796. Other commenters oppose mandating consideration of the benefit of mitigation of extreme events and system contingencies, arguing that it is challenging to quantify and that its calculation entails subjective judgment.¹⁷⁷² Louisiana Commission states that the value of mitigating extreme weather events can vary significantly across transmission planning regions and states. Louisiana Commission opposes any extreme weather benefit category that would result in the assignment of costs of transmission hardening projects to Louisiana ratepayers from which they do not benefit. Louisiana Commission further states that any analysis of this benefit should be limited to sensitivities.¹⁷⁷³

¹⁷⁷² NRECA Initial Comments at 45; Pacific Northwest Utilities Initial Comments at 9; West Virginia Commission Supplemental Comments at 4.

¹⁷⁷³ Louisiana Commission Initial Comments at 18-19.

797. Some commenters oppose mandating consideration of the mitigation of weather and load uncertainty.¹⁷⁷⁴ AEP states that this benefit should not be included in the minimum set of benefits because it is of lesser importance than other benefits described in the NOPR.¹⁷⁷⁵ NRECA argues that quantifying this benefit requires subjective judgment.¹⁷⁷⁶ According to Pacific Northwest Utilities, this benefit accrues to generation and load-serving entities, not to transmission providers.¹⁷⁷⁷

¹⁷⁷⁴ AEP Initial Comments at 27; NARUC Initial Comments at 23; NRECA Initial Comments at 45; Pacific Northwest Utilities Initial Comments at 9.

¹⁷⁷⁵ AEP Initial Comments at 27.

¹⁷⁷⁶ NRECA Initial Comments at 45.

¹⁷⁷⁷ Pacific Northwest Utilities Initial Comments at 9.

798. NARUC states that the benefits of mitigation of extreme events, system contingencies, weather, and load uncertainties may be more appropriate for consideration in interregional transmission planning, depending on the size of the transmission planning region. While NARUC states that mitigation of such contingencies is among the soundest reasons for Interregional Transfer Capability planning, it also notes that in regions with a large footprint (e.g., PJM, MISO) it may be possible to assess these resilience benefits in the regional transmission planning process.¹⁷⁷⁸

¹⁷⁷⁸ NARUC Initial Comments at 21, 23.

799. MISO states that the treatment of mitigation of extreme events and system contingencies and mitigation of weather and load uncertainty as economic benefits differ only to the degree at which production cost savings are realized. MISO also states that “mitigation of extreme events” may be represented as a reliability benefit where a value of outage costs can be used to monetize the benefits of mitigating the risk of load shedding.¹⁷⁷⁹ PJM suggests that the Commission should consolidate the benefits of mitigation of extreme events and system contingencies and the benefits of mitigation of weather and load uncertainty into a single enhanced reliability benefit that would evaluate the ability of grid enhancements to serve load reliably under extreme events and vulnerabilities.¹⁷⁸⁰ MISO and NARUC state that their comments regarding mitigation of extreme events and system contingencies are equally applicable to mitigation of weather and load uncertainty.¹⁷⁸¹

¹⁷⁷⁹ MISO Initial Comments at 51.

¹⁷⁸⁰ PJM Initial Comments at 94.

¹⁷⁸¹ MISO Initial Comments at 51; NARUC Initial Comments at 23.

(c) Commission Determination

800. We adopt the NOPR proposal, with modification, to require transmission providers in each transmission planning region to measure and use Final Order Benefit 6, mitigation of extreme weather events and unexpected system conditions, in Long-Term Regional Transmission Planning. The revised Final Order Benefit 6 modifies and combines two of the benefits proposed in the NOPR: (1) mitigation of extreme events and system contingencies (NOPR Benefit 6) and (2) mitigation of weather and load uncertainty (NOPR Benefit 7).¹⁷⁸² In combining these two proposed NOPR benefits, we modify the description of NOPR Benefit 6 and describe Final Order Benefit 6 as reduced production costs and reduced loss of load (or emergency procurements necessary to support the system), including due to increased Interregional Transfer Capability, during extreme weather events and unexpected system conditions, such as unusual weather conditions or fuel shortages that result in multiple concurrent and sustained generation and/or transmission outages. The description of Final Order Benefit 6 that we adopt in this final order includes three additional modifications to the NOPR proposals describing NOPR Benefit 6 and NOPR Benefit 7. First, we require transmission providers to measure, as part of Benefit 6,¹⁷⁸³ the benefits of reduced loss of load (not only reduced production costs). Second, we require transmission providers, as part of Benefit 6, to account for both extreme weather events and unexpected system conditions when transmission facilities have particularly high value. The unexpected system conditions can include, for example, system contingencies in the form of generator and/or transmission outages, extreme or volatile production costs, and generation and/or load forecast errors. Third, we require transmission providers to measure, as part of Benefit 6, the benefits associated with any increase in Interregional Transfer Capability provided by a Long-Term Regional Transmission Facility during an extreme weather event or unexpected system condition that results in multiple and concurrent sustained generation and/or transmission outages.

¹⁷⁸² NOPR, 179 FERC ¶ 61,028 at PP 206-207 (NOPR Benefit 6), 208-209 (NOPR Benefit 7).

¹⁷⁸³ Throughout this final order, “Benefit 6” refers to “Final Order Benefit 6” unless preceded by “NOPR.”

801. We find that requiring the measurement and use of Benefit 6 in Long-Term Regional Transmission Planning is necessary because Long-Term Regional Transmission Facilities could result in reduced production costs and reduced loss of load (or reduced emergency procurements necessary to support the system), including reductions due to increased Interregional Transfer Capability, and improved performance during extreme weather events and unexpected system conditions. Further, the benefit of mitigation of high production costs resulting from extreme weather events and unexpected system conditions can be economically significant. A relatively few numbers of hours could represent a large share of the total benefit of reduced congestion costs that a Long-Term Regional Transmission Facility provides.¹⁷⁸⁴ We also find that it is critical for transmission providers to measure and use Benefit 6 given that extreme weather events and unexpected system conditions have significantly and increasingly affected the reliable operation of the electric grid. As the Commission has previously noted, extreme weather events have occurred with greater frequency in recent years, leading to load shed events that present an unacceptable risk to life and have an extreme economic impact.¹⁷⁸⁵ By requiring the use of Benefit 6, we ensure that transmission providers measure and use the benefit of Long-Term Regional Transmission Facilities under these conditions when performing Long Term Regional Transmission Planning. Further, by requiring use of Benefit 6, we enable transmission providers to identify, evaluate, and select Long-Term Regional Transmission Facilities that more efficiently or cost-effectively address Long-Term Transmission Needs.

¹⁷⁸⁴ E.g., ACORE Initial Comments at 11 (citing LBNL Aug. 2022 Transmission Value Study at 33).

¹⁷⁸⁵ See Order No. 896, 183 FERC ¶ 61,191 at P 2; Order No. 897, 183 FERC ¶ 61,192 at PP 21-22.

802. Regarding the first modification listed above, we require transmission providers to measure, as part of Benefit 6, reduced loss of load (or reduced emergency energy procurement to avoid loss of load), not only reduced production costs. We find it necessary to include reduced loss of load because Long-Term Regional Transmission Facilities can provide benefits by improving reliability during extreme weather events and unexpected system conditions,¹⁷⁸⁶ which can be significant given the high cost and risk to life during periods with insufficient generation to meet system load. An example of how a reduction in loss of load could be measured is by quantifying the reduction in expected unserved energy but for the Long-Term Regional Transmission Facility during an extreme weather event or unexpected system conditions, determining the value of lost load, and multiplying these two values to obtain a monetary value.¹⁷⁸⁷

¹⁷⁸⁶ PJM Initial Comments at 94; MISO Initial Comments at 12-13; Order No. 897, 183 FERC ¶ 61,192 at PP 6-12.

¹⁷⁸⁷ E.g., MISO, LRTP Tranche 2 Business Case Benefit Metrics, 6-7 (Aug. 31, 2023), https://cdn.misoenergy.org/20230831%20LRTP%20Workshop%20Item%2002%20Business%20Case%20Metrics%20Development630034.pdf.

803. We note that Benefit 6 is distinct from other benefits that we require transmission providers to measure and use, because transmission providers must model different system conditions (extreme weather events and unexpected system conditions) when measuring Benefit 6. Specifically, Benefit 2(a) measures reduced loss of load probability in the context of the system conditions used for resource adequacy planning, which typically includes consideration of normal system conditions and may vary by region. In contrast, Benefit 6 measures reduced loss of load for specific extreme weather events and unexpected system conditions identified by the transmission providers.¹⁷⁸⁸ Additionally, while Benefit 3 and Benefit 6 both measure production cost savings, the system conditions used to measure Benefit 6 can include higher electricity demand, volatile production costs, and a more expansive set of generation outages, such as unplanned generation outages due to extreme weather. Similarly, Benefit 5 and Benefit 6 both measure the benefits of reduced congestion due to transmission outages; however, the system conditions used to measure Benefit 6 include a more expansive set of transmission outages, such as unplanned transmission outages due to extreme weather.

¹⁷⁸⁸ Benefit 2(b), which measures the benefit of reduced planning reserve margin, is also used in the context of resource adequacy planning. We do not allow transmission providers to measure Benefit 6 in terms of reduced planning reserve margin because system planners do not always model extreme weather events or unexpected system conditions when establishing the planning reserve margin used for resource adequacy purposes. In contrast, reduced loss of load can be measured for any system condition, even those conditions that are not used for resource adequacy planning.

804. Regarding the second modification listed above, we require transmission providers, as part of Benefit 6, to account for mitigation of unexpected system conditions during periods when transmission facilities have particularly high value, not only during extreme weather events. We recognize that unexpected system conditions can create periods when Long-Term Regional Transmission Facilities have particularly high value because of, for example, generator and/or transmission outages, extreme or volatile production costs, and generation and/or load forecast errors.¹⁷⁸⁹ Limited resource availability, or limited system flexibility, can make it challenging for system operators to immediately address these unexpected system conditions, and Long-Term Regional Transmission Facilities that provide benefits under Benefit 6 will equip system operators with more options to manage the worst-case outcomes. These high-value periods of unexpected system conditions, while infrequent and not necessarily during extreme weather events, may account for a large share of the potential value of a Long-Term Regional Transmission Facility.¹⁷⁹⁰ We require transmission providers to account for circumstances that contribute to these infrequent and high-value periods specific to their transmission planning region when measuring Benefit 6. Transmission providers may, for example, identify historical periods when significant transmission congestion was due to certain conditions (e.g., generators being unavailable due to a forecast error), then model those conditions in each Long-Term Scenario.¹⁷⁹¹ Therefore, we require transmission providers to use not only information from modeling extreme weather events but also information from additional modeling that accounts for unexpected system conditions, as part of Benefit 6. To avoid double-counting of similar circumstances, transmission providers must account for extreme weather events and unexpected system conditions that are separate and distinct such that the benefits of mitigating each system condition can be combined into a single benefit measure.

¹⁷⁸⁹ See, e.g., ACEG Initial Comments at 42-45 (citing Pfeifenberger, Ruiz, Van Horn, The Value of Diversifying Uncertain Renewable Generation through the Transmission System (Oct. 14, 2020), https://open.bu.edu/handle/2144/41451; The Brattle Group and Grid Strategies, Transmission Planning for the 21st Century: Proven Practices that Increase Value and Reduce Costs, 2, 34, 78, 85-86, 99 (2021), https://www.brattle.com/wp-content/uploads/2021/10/2021-10-12-Brattle-GridStrategies-TransmissionPlanning-Report_v2.pdf); DC and MD Offices of People's Counsel Initial Comments at 28 (citing Pfeifenberger, Ruiz, Van Horn, The Value of Diversifying Uncertain Renewable Generation through the Transmission System, BU-ISE (Oct. 14, 2020), https://open.bu.edu/handle/2144/41451); US Senator Schumer Supplemental Comments at 2-3 (citing Millstein et al., Lawrence Berkeley National Laboratory, The Latest Market Data Show that the Potential Savings of New Electric Transmission was Higher Last Year than at Any Point in the Last Decade, 3-6 (Feb. 2023), https://eta-publications.lbl.gov/sites/default/files/lbnl-transmissionvalue-fact_sheet-2022update-20230203.pdf); US Senator Whitehouse Supplemental Comments at 2 (referencing outages related to extreme events having costs, including economic costs of in the billions of dollars from elevated energy costs).

¹⁷⁹⁰ LBNL Aug. 2022 Transmission Value Study at 33 (stating that the majority of transmission value estimated occurs during “extreme” conditions that fall outside of the 171 designated extreme weather event days between 2012 and 2021); Millstein et al., Lawrence Berkeley National Laboratory, The Latest Market Data Show that the Potential Savings of New Electric Transmission was Higher Last Year than at Any Point in the Last Decade, 3-6 (Feb. 2023), https://eta-publications.lbl.gov/sites/default/files/lbnl-transmissionvalue-fact_sheet-2022update-20230203.pdf.

¹⁷⁹¹ Alternatively, transmission providers may, for example, use probabilistic transmission planning methods to account for infrequent and high-value periods.

805. Finally, we require transmission providers to measure, as part of Benefit 6, the benefits associated with any increase in Interregional Transfer Capability that a Long-Term Regional Transmission Facility would provide during an extreme weather event and unexpected system conditions that results in multiple concurrent and sustained generation and/or transmission outages. As discussed above, we find that Long-Term Regional Transmission Facilities can increase Interregional Transfer Capability by changing the topology of the transmission system.¹⁷⁹² Further, we find that the benefits of mitigating extreme weather events and unexpected system conditions due to increased Interregional Transfer Capability provided by Long-Term Regional Transmission Facilities can be significant.¹⁷⁹³ To comply with this requirement, transmission providers must include in the modeling they use to measure Benefit 6 any increase in Interregional Transfer Capability that a Long-Term Regional Transmission Facility would provide during an extreme weather event and unexpected system conditions that results in multiple concurrent and sustained generation and/or transmission outages.

¹⁷⁹² Supra Long-Term Regional Transmission Planning, Long-Term Scenarios Requirements, Sensitivities for High-Impact, Low-Frequency Events section.

¹⁷⁹³ ACEG Initial Comments at 5; ACEG Reply Comments at 3-5; BP Initial Comments at 10; Breakthrough Energy Initial Comments at 2; Clean Energy Associations Initial Comments at 5, 21; Kansas Corporation Commission Initial Comments at 8-9; NARUC Initial Comments at 23; US DOE Initial Comments at 39-42.

806. To account for extreme weather events as part of Benefit 6, transmission providers may incorporate information from the sensitivity they must develop and apply to each Long-Term Scenario that includes multiple concurrent and sustained generation and/or transmission outages due to an extreme weather event across a wide area.¹⁷⁹⁴ We reiterate that we require transmission providers to measure the required benefits under each Long-Term Scenario. However, in the case of Benefit 6, transmission providers may measure the benefit of mitigating extreme weather events using the required extreme weather event sensitivity applied to each Long-Term Scenario; we do not require them to separately measure the benefit of mitigating extreme weather events in each scenario without applying that sensitivity.¹⁷⁹⁵

¹⁷⁹⁴ Supra Long-Term Regional Transmission Planning, Long-Term Scenarios Requirements, Sensitivities for High-Impact, Low-Frequency Events section (stating transmission providers must develop at least one sensitivity, applied to each Long-Term Scenario, to account for uncertain operational outcomes that determine the benefits of and/or need for transmission facilities during multiple concurrent and sustained generation and/or transmission outages due to an extreme weather event across a wide area). Transmission providers may also incorporate analyses from an Extreme Weather Vulnerability Assessment as generally described in Order No. 897.

¹⁷⁹⁵ We recognize that transmission providers may not use an extreme weather event sensitivity that includes system conditions that allow transmission providers to measure the benefit of mitigating unexpected system conditions in every Long-Term Scenario. In such cases, transmission providers must measure the benefit of mitigating unexpected system conditions in each Long-Term Scenario even without an extreme weather event sensitivity applied to those scenarios or must apply a separate sensitivity that allows for the measurement of Benefit 6 to each Long-Term Scenario.

807. Consistent with all other benefits that we require transmission providers to measure, we do not require a standardized method for measuring Benefit 6 subject to measuring the components described above.¹⁷⁹⁶ As the Commission stated in the NOPR, there are different approaches to calculating components of this benefit,¹⁷⁹⁷ and this final order provides transmission providers with flexibility in developing the method that they will use to measure this benefit.

¹⁷⁹⁶ E.g., ACEG Initial Comments at 42-44; DC and MD Offices of People's Counsel Initial Comments at 26-27.

¹⁷⁹⁷ NOPR, 179 FERC ¶ 61,028 at P 207 (providing examples of CAISO's analysis of Devers-Palo Verde Line No. 2, ATC's production cost simulation analysis of insurance benefits for the ATC Paddock-Rockdale transmission line, and a Grid Strategies study).

808. We disagree with commenters who express general concerns regarding the difficulty of measuring this benefit.¹⁷⁹⁸ In the NOPR, the Commission identified studies that measured benefits of a transmission facility in a manner similar to the requirements in Benefit 6.¹⁷⁹⁹ Because we allow flexibility as far as the method transmission providers use to measure each benefit included in the required set of benefits, including Benefit 6, we believe that transmission providers should be able to tailor a method for measuring Benefit 6 that fits their circumstances. Further, transmission providers can build on methods that they use to measure the other benefits required by this final order to measure Benefit 6. For example, transmission providers can use the same method to measure reduced production costs in accordance with Benefit 6 as they do to measure Benefit 3, Production Costs Savings, but modify the model inputs to capture reduced production costs during extreme weather events and unexpected system conditions. Moreover, we recognize that there is a balance between requiring transmission providers to measure the benefits of Long-Term Regional Transmission Facilities that are most readily measured and ensuring that transmission providers are appropriately capturing the value of Long-Term Regional Transmission Facilities when evaluating them for selection. Even to the extent to which Benefit 6 may be more difficult to measure than the other benefits that we require, we nonetheless find that requiring transmission providers to measure Benefit 6 is necessary because Benefit 6 is significant.¹⁸⁰⁰

¹⁷⁹⁸ NRECA Initial Comments at 45; Pacific Northwest Utilities Initial Comments at 9; West Virginia Commission Supplemental Comments at 4.

¹⁷⁹⁹ NOPR, 179 FERC ¶ 61,028 at PP 207, 209.

¹⁸⁰⁰ Supra P 797.

809. We are unpersuaded by general arguments that transmission providers should not consider this benefit because it varies by transmission planning region or it only accrues to certain entities.¹⁸⁰¹ We are not requiring transmission providers to model a specific extreme weather event or unexpected system condition; transmission providers may decide what extreme weather event and unexpected system conditions to model, allowing them to ensure that the conditions modeled are relevant to circumstances in their transmission planning region. In response to NRECA's argument that this benefit requires subjective judgement,¹⁸⁰² we conclude that transmission providers have sufficient expertise to identify and model extreme weather events and unexpected system conditions when evaluating Long-Term Regional Transmission Facilities.¹⁸⁰³ In response to AEP's argument that NOPR Benefit 7 (mitigation of weather and load uncertainty) is of lesser importance compared to other benefits described in the NOPR and should be optional for transmission providers to measure and use,¹⁸⁰⁴ we disagree because the evidence in the record demonstrates that Final Order Benefit 6 (which includes NOPR Benefit 7) is significant.¹⁸⁰⁵

¹⁸⁰¹ Louisiana Commission Initial Comments at 18-19; Pacific Northwest Utilities Initial Comments at 9.

¹⁸⁰² NRECA Initial Comments at 45.

¹⁸⁰³ NESCOE Initial Comments at 42.

¹⁸⁰⁴ AEP Initial Comments at 27.

¹⁸⁰⁵ Supra note 1769; see also ACORE Initial Comments at 11 (citing LBNL Aug. 2022 Transmission Value Study at 33).

810. NARUC states that the benefit of mitigation of extreme weather events may need to be more fully considered only in large transmission planning regions or in interregional transmission planning.¹⁸⁰⁶ Although transmission providers could also consider the benefits of mitigation of extreme weather events as part of interregional transmission coordination, we believe transmission providers can measure and use the benefit of mitigation of extreme weather events in regional transmission planning processes regardless of the size of the transmission planning region, because extreme weather events can occur and affect the transmission system in any region. If the size of the extreme weather event is larger than the transmission planning region, transmission providers can consider the extent to which they can rely on interregional flows from other transmission planning regions during the extreme weather event. We note that transmission providers in each transmission planning region must coordinate and share information with the transmission providers in each neighboring transmission planning region and must identify and jointly evaluate interregional transmission facilities that may be more efficient or cost-effective transmission facilities to address Long-Term Transmission Needs, as described in more detail in the Interregional Transmission Coordination section of this final order. Better measurement of the benefits of mitigation of extreme weather events as part of regional transmission planning can only help facilitate such efforts. We encourage transmission providers in neighboring transmission planning regions to share information with one another that would be useful to measure Benefit 6 more accurately through their interregional transmission coordination procedures.

¹⁸⁰⁶ NARUC Initial Comments at 21, 23.

811. Some commenters state that the benefits of mitigation of extreme events and system contingencies and mitigation of weather and load uncertainty overlap, or should be combined.¹⁸⁰⁷ We note that Benefit 6, as described above, modifies and combines the benefits proposed in the NOPR of (1) mitigation of extreme events and system contingencies and (2) mitigation of weather and load uncertainty, which should address concerns of separately requiring transmission providers to use two similar benefits that some argue could overlap.

¹⁸⁰⁷ MISO Initial Comments at 51; PJM Initial Comments at 94.

vii. Final Order Benefit 7: Capacity Cost Benefits From Reduced Peak Energy Losses

(a) NOPR Description

812. The Commission described this benefit, NOPR Benefit 8 (renumbered in this final order as Final Order Benefit 7), in the NOPR as reduced generation capacity investment needed to meet peak load.¹⁸⁰⁸ The Commission noted that capacity cost savings from reduced peak energy losses benefits refer to the ability of proposed transmission facilities to lessen the amount of transmission system energy losses during peak-load conditions which, over time, would decrease the need for new generation capacity installations or purchases. To the extent that new transmission facilities result in changes to generation dispatch and flows, transmission system energy losses will also change. If transmission system losses are reduced via the new transmission facilities, transmission providers will not have to construct or procure additional generation to satisfy installed capacity requirements for peak-load conditions. If there is a reduction in energy losses during peak conditions, this would result in, presumably, lowered investments for generation capacity resources to meet the peak load. For example, Entergy found that potential transmission facilities in its footprint could reduce peak-load transmission losses and associated needed generation investment by 2% of total transmission facility costs.¹⁸⁰⁹ The Commission noted that capacity cost savings from reduced peak energy losses only attempt to evaluate benefits for peak-load conditions.

¹⁸⁰⁸ NOPR, 179 FERC ¶ 61,028 at P 210.

¹⁸⁰⁹ Id. P 211 & n.346 (citing ITC, Joint Application, Docket No. EC12-145-000, Ex. ITC-600 (Testimony of Pfeifenberger), at 77-78 (filed Sept. 24, 2012)).

813. The Commission stated that one potential way to calculate capacity cost savings from reduced peak energy losses is to calculate the present value of capital cost savings associated with the reduction in installed generation requirements.¹⁸¹⁰ To arrive at the value of associated capital cost savings, the estimated net cost of new entry (Net CONE) (i.e., the cost of new peaking generating capacity net of operating margins earned in energy and ancillary services markets when the region is resource constrained) would be multiplied by the reduction in installed generation capacity requirements. The resulting value would represent the avoided cost of procuring more generation to cover transmission system losses during peak-load conditions that would be passed on to consumers via lowered generation capacity costs.¹⁸¹¹

¹⁸¹⁰ Id. P 212.

¹⁸¹¹ Id.

(b) Comments

814. A number of commenters support mandating consideration of NOPR Benefit 8.¹⁸¹² ACEG and DC and MD People's Counsel state that NOPR Benefit 8 is a distinct benefit category that has been measured before.¹⁸¹³ PIOs state that SPP quantified NOPR Benefit 8 in its 2016 Regional Cost Allocation Review and that “leav[ing] these cost savings on the cutting room floor will ultimately raise costs for consumers and result in an inefficient transmission plan.” ¹⁸¹⁴

¹⁸¹² Acadia Center and CLF Initial Comments at 21-22; ACEG Initial Comments at 32, 45; ACORE Initial Comments at 12; AEE Reply Comments at 25; Amazon Initial Comments at 5; Breakthrough Energy Initial Comments at 21-22; Clean Energy Associations Initial Comments at 18-20; DC and MD Offices of People's Counsel Initial Comments at 20; ENGIE Reply Comments at 2-3; Hannon Armstrong Initial Comments at 2-3; Interwest Initial Comments at 12-14; National and State Conservation Organizations Initial Comments at 1; Pine Gate Initial Comments at 34-37; PIOs Initial Comments at 37-38; RMI Initial Comments at 1; SEIA Initial Comments at 16; Southeast PIOs Initial Comments at 50.

¹⁸¹³ ACEG Initial Comments at 48; DC and MD People's Counsel Initial Comments at 28 (both citing ITC, Joint Application, Docket No. EC12-145-000, Ex. ITC-600 (Testimony of Pfeifenberger), at 77-78 (filed Sept. 24, 2012); SPP, SPP Priority Projects Phase II Report, Rev. 1, April 27, 2010, at 26; ATC, Planning Analysis of the Paddock-Rockdale Project, April 5, 2007 (filed in PSCW Docket 137-CE-149, PSC Reference # 75598), at 4, 63; and MISO, Proposed Multi Value Project Portfolio, Technical Study Task Force and Business Case Workshop, August 22, 2011, at 25, 27)).

¹⁸¹⁴ PIOs Initial Comments at 42.

815. Other commenters, such as NARUC, oppose mandating consideration of NOPR Benefit 8. NARUC contends that this benefit is a subset of the lowered system reserve margins benefit. NARUC states that NOPR Benefit 8 is unlikely to occur within organized, competitive generation markets because additional transmission will not deter the installation of new generation under current Federal open access policies. However, NARUC argues, this benefit may be attainable in transmission planning regions served by vertically integrated utilities where transmission can substitute for new generation construction. NARUC asserts that hundreds of thousands of megawatts of generation currently await interconnection studies in the various RTOs/ISOs and non-RTO/ISO transmission planning regions, and it is difficult to see how construction of new transmission facilities can remove any of this demand for additional generator interconnection.¹⁸¹⁵

¹⁸¹⁵ NARUC Initial Comments at 24.

816. West Virginia Commission also opposes a requirement to use NOPR Benefit 8, arguing that the calculation requires significant evidence based on assumptions that are difficult, if not impossible, to quantify before the fact.¹⁸¹⁶

¹⁸¹⁶ West Virginia Commission Supplemental Comments at 4.

(c) Commission Determination

817. As an initial matter, we renumber NOPR Benefit 8 and refer to it in this determination section as Final Order Benefit 7. We adopt the NOPR proposal, with modification, to require transmission providers in each transmission planning region to measure and use Final Order Benefit 7, Capacity Cost Benefits from Reduced Peak Energy Losses, in Long-Term Regional Transmission Planning. We adopt the NOPR's proposed description of Final Order Benefit 7 as reduced generation capacity investment needed to meet peak load.¹⁸¹⁷ We find that requiring the use and measurement of Final Order Benefit 7, as described, is necessary to ensure that capacity cost benefits from reduced peak energy losses are not excluded from Long-Term Regional Transmission Planning because standard production cost modeling and the other benefits that this final order requires transmission providers to measure and use will not capture this benefit. Absent a requirement for transmission providers to measure and use Final Order Benefit 7 in Long-Term Regional Transmission Planning, transmission providers may not identify, evaluate, and select Long-Term Regional Transmission Facilities that more efficiently or cost-effectively address Long-Term Transmission Needs.

¹⁸¹⁷ We note that in the NOPR, this benefit was designated as Benefit 8. We have revised the ordering designation of this benefit in this final order.

818. One potential way to measure capacity cost savings from reduced peak energy losses is to calculate the present value of capital cost savings associated with the reduction in installed generation requirements. To arrive at the value of capital cost savings, the estimated net cost of new entry (i.e., the cost of new peaking generating capacity net of operating margins earned in energy and ancillary services markets when the region is resource constrained) could be multiplied by the reduction in installed generation capacity requirements. The resulting value would represent the avoided cost of procuring more generation to cover transmission system losses during peak-load conditions, savings that would be passed on to customers via lowered generation capacity costs.

819. We disagree with NARUC's contention that this benefit is a subset of the lowered system reserve margins benefit and that it is unlikely to occur within organized, competitive generation markets.¹⁸¹⁸ ACEG and DC and MD People's Counsel both indicate that Final Order Benefit 7 is a distinct benefit category that has been measured before, citing MISO's Multi-Value Project portfolio, among other examples of its use, which measures capacity cost savings from reduced peak energy losses as an independent benefit.¹⁸¹⁹ While we acknowledge that this benefit may have the effect of lowering system reserve margins, we agree with PIOs that these cost savings are distinct from Benefit 2 and that failing to specifically evaluate potential cost savings related to reduced peak energy losses may result in higher capacity costs and relatively inefficient or less cost-effective transmission development. As discussed above, Benefit 2 recognizes potential cost savings of providing additional pathways for connecting generation resources with load. Here, we are assessing the benefits of limiting transmission losses along those pathways. We also note that this approach is consistent with Benefits 3 and 4 above that separately recognize potential cost savings associated with lower production costs and reduced transmission energy losses in energy markets. In light of the evidence that multiple transmission providers have successfully measured this benefit, as well as the example that we provide above describing how a transmission provider may be able to calculate this benefit, we further disagree with West Virginia Commission's argument that calculation of this benefit is based on assumptions that are difficult to quantify in advance.

¹⁸¹⁸ NARUC Initial Comments at 24.

¹⁸¹⁹ ACEG Initial Comments at 48; DC and MD People's Counsel Initial Comments at 28 (both citing ITC, Joint Application, Docket No. EC12-145-000, Ex. ITC-600 (Testimony of Pfeifenberger), at 77-78 (filed Sept. 24, 2012); SPP, SPP Priority Projects Phase II Report, Rev. 1, April 27, 2010, at 26; ATC, Planning Analysis of the Paddock-Rockdale Project, April 5, 2007 (filed in PSCW Docket 137-CE-149, PSC Reference # 75598), at 4, 63; and MISO, Proposed Multi Value Project Portfolio, Technical Study Task Force and Business Case Workshop, August 22, 2011, at 25, 27)).

viii. Other Benefits

(a) Comments

820. Numerous commenters address in various ways the other five benefits that the Commission described in the NOPR but that we do not require transmission providers to measure and use in Long-Term Regional Transmission Planning in this final order: mitigation of weather and load uncertainty,¹⁸²⁰ deferred generation capacity investments, access to lower cost generation, increased competition, and increased market liquidity.¹⁸²¹ Other commenters address in various ways benefits not listed in the NOPR for transmission providers to consider for use in evaluating Long-Term Regional Transmission Facilities.¹⁸²²

¹⁸²⁰ We note that elements of this benefit are now contained in Benefit 6, the description of which has been revised from the NOPR.

¹⁸²¹ Acadia Center and CLF Initial Comments at 21-22; ACEG Initial Comments at 32, 45-48; ACORE Initial Comments at 12; AEE Reply Comments at 25; AEP Initial Comments at 25-27; Amazon Initial Comments at 5; Breakthrough Energy Initial Comments at 21-22; Clean Energy Associations Initial Comments at 18-20; DC and MD Offices of People's Counsel Initial Comments at 20, 28-30; ENGIE Reply Comments at 2-3; Hannon Armstrong Initial Comments at 2-3; Idaho Power Initial Comments at 7-8; Interwest Initial Comments at 12-14; ISO-NE Initial Comments at 34; Joint Consumer Advocates Initial Comments at 11-12; MISO Initial Comments at 50-51; NARUC Initial Comments at 21, 24-25; National and State Conservation Organizations Initial Comments at 1; New Jersey Commission Initial Comments at 11-14; North Carolina Commission and Staff Initial Comments at 6-7; NRECA Initial Comments at 45; Pacific Northwest Utilities Initial Comments at 9; Pine Gate Initial Comments at 34-37; PIOs Initial Comments at 37-38; PJM Initial Comments at 94; PJM Market Monitor Initial Comments at 5-6; PPL Initial Comments at 13-15; RMI Initial Comments at 1; SEIA Initial Comments at 16; Southeast PIOs Initial Comments at 50; Southeast PIOs Reply Comments at 27-28; Southern Initial Comments at 25-27; West Virginia Commission Supplemental Comments at 4; US DOE Initial Comments at 31-32.

¹⁸²² ACEG Initial Comments at 6-8; AEE Reply Comments at 25-26; AEP Initial Comments at 6, 23-27; Amazon Initial Comments at 5; Breakthrough Energy Initial Comments at 21-23; California Commission Initial Comments at 31-34; California Energy Commission Initial Comments at 3; CARE Coalition Initial Comments at 32-33; Certain TDUs Reply Comments at 1-3; Clean Energy Associations Initial Comments at 19-20; Clean Energy Buyers Initial Comments at 20-21; Clean Energy States Initial Comments at 6-8; DC and MD Offices of People's Counsel Initial Comments at 18-19; Entergy Initial Comments at 21; Environmental Groups Supplemental Comments at 2-3; Grand Rapids NAACP Initial Comments at 21-23; GridLab Initial Comments at 25-28; Interwest Initial Comments at 13-14; ITC Initial Comments at 21-22; Joint Consumer Advocates Initial Comments at 11-12; Large Public Power Initial Comments at 28-29; Michigan Commission Initial Comments at 7; Nevada Commission Initial Comments at 10-11; Northwest and Intermountain Initial Comments at 15-16; NYISO Initial Comments at 39; Pattern Energy Reply Comments at 8-9; PIOs Initial Comments at 43-44; PIOs Reply Comments at 7-8; PJM Initial Comments at 94-96; Policy Integrity Initial Comments at 28; Policy Integrity Supplemental Comments at 4-8; PPL Initial Comments at 14-15; R Street Initial Comments at 9-10; Rail Electrification Initial Comments at 6-7; RMI Initial Comments at 2; SEIA Initial Comments at 16-17; Shell Initial Comments at 14-16; Tabors Caramanis Rudkevich Initial Comments at 6; US DOE Initial Comments at 33-34; Vistra Initial Comments at 15-16; WE ACT Initial Comments at 2-3.

(b) Commission Determination

821. We decline to require transmission providers to measure and use the remaining five benefits described in the NOPR in Long-Term Regional Transmission Planning (i.e., mitigation of weather and load uncertainty, generation capacity investments, access to lower-cost generation, increased competition, and increased market liquidity). We find that the required set of benefits that we adopt herein is a sufficiently broad range of benefits to ensure that transmission providers are identifying, evaluating, and selecting Long-Term Regional Transmission Facilities that more efficiently or cost-effectively address Long-Term Transmission Needs. As such, we find that the measurement and use of additional benefits in Long-Term Regional Transmission Planning is not necessary to ensure that rates remain just and reasonable.

822. However, we recognize that Long-Term Regional Transmission Facilities may provide additional benefits that may merit consideration when transmission providers are identifying, evaluating, and selecting such facilities to address Long-Term Transmission Needs more efficiently or cost-effectively. Therefore, transmission providers may measure and use additional benefits beyond those included in the required set of benefits in Long-Term Regional Transmission Planning, including on a transmission facility or plan-specific basis, subject to the requirement that they do so in a manner that is consistent with their obligations under Order No. 890 and Order No. 1000 transmission planning principles to be open and transparent as to their transmission planning processes.

3. Identification, Measurement, and Evaluation of the Benefits of Long-Term Regional Transmission Facilities

a. NOPR Proposal

823. The Commission proposed to require transmission providers in each transmission planning region to identify on compliance the benefits that they will use in Long-Term Regional Transmission Planning, how they will calculate those benefits, and how the benefits will reasonably reflect the benefits of regional transmission facilities to meet identified transmission needs driven by changes in the resource mix and demand. The Commission proposed that as part of this compliance obligation, transmission providers would be required to explain the rationale for using the benefits identified.¹⁸²³

¹⁸²³ NOPR, 179 FERC ¶ 61,028 at P 183.

b. Comments

824. Many commenters support requiring identification of, and transparency regarding, the benefits that transmission providers will use in Long-Term Regional Transmission Planning.¹⁸²⁴ For example, Nebraska Commission states that the NOPR proposal will foster the necessary flexibility to accommodate varying needs and approaches of different transmission planning regions.¹⁸²⁵

¹⁸²⁴ APPA Initial Comments at 5; Avangrid Initial Comments at 7, 29; Business Council for Sustainable Energy Initial Comments at 5; California Commission Initial Comments at 28-30; California Energy Commission Initial Comments at 3; ENGIE Reply Comments at 3; Handy Law Initial Comments at 8; Massachusetts Attorney General Initial Comments at 3; Michigan Commission Initial Comments at 6; Nebraska Commission Initial Comments at 7; NESCOE Initial Comments at 44 (citing NOPR, 179 FERC ¶ 61,028 at PP 183, 186); NRECA Initial Comments at 46; NYISO Initial Comments at 37-38; Pennsylvania Commission Initial Comments at 9; PJM Initial Comments at 7; Vermont State Entities Initial Comments at 6.

¹⁸²⁵ Nebraska Commission Initial Comments at 7.

825. Certain TDUs and Michigan Commission state that transmission providers must clearly articulate their methods for calculating identified benefits.¹⁸²⁶ Certain TDUs further state that benefits should be evaluated with consistent reference cases to ensure consistency across scenarios.¹⁸²⁷ Certain TDUs and Entergy state that transmission providers should incorporate their benefit calculation methods, as well as, according to Entergy, their role in selection, into the OATT.¹⁸²⁸ Entergy argues that the Commission should allow transmission providers to use different benefits on a regional or subregional level, but that benefits should not change from one transmission project or portfolio to the next without an OATT amendment.¹⁸²⁹

¹⁸²⁶ Certain TDUs Initial Comments at 13; Michigan Commission Initial Comments at 6.

¹⁸²⁷ Certain TDUs Initial Comments at 13-14.

¹⁸²⁸ Certain TDUs Initial Comments at 14-15; Entergy Reply Comments at 4-5 (citing City & Cnty. of San Francisco v. FERC, 24 F.4th 652, 661 (D.C. Cir. 2022); Sw. Power Pool, Inc., 180 FERC ¶ 61,074, at PP 24-31 (2022), order on reh'g and setting aside, 182 FERC ¶ 61,100 (2023)).

¹⁸²⁹ Entergy Reply Comments at 5.

826. MISO TOs state that MISO already meets the NOPR's proposed requirement to identify benefits used in Long-Term Regional Transmission Planning and explain how they will be calculated.¹⁸³⁰

¹⁸³⁰ MISO TOs Initial Comments at 19-22 (citing MISO, Electric Tariff, attach. FF §§ II.C.2, II.C.5; MISO, LRTP Tranche 1 Portfolio Detailed Business Case, at 15-49, 60 (June 25, 2022), https://cdn.misoenergy.org/LRTP%20Tranche%201%20Detailed%20Business%20Case625789.pdf).

827. Some commenters express concerns with the Commission's proposed benefit identification requirement,¹⁸³¹ including concerns over perceived excessive quantification ¹⁸³² or requirements to calculate benefits individually.¹⁸³³ Duke asserts that the Commission should clarify that it will not force transmission providers to assign dollar values for every benefit because some benefits' quantification is subjective.¹⁸³⁴ EEI asserts that transmission providers should not have to calculate all of the benefits for a transmission project but states that those benefits used for cost allocation purposes should be quantifiable.¹⁸³⁵ NYISO requests that the final order confirm that it does not prescribe how benefits must be calculated and, more specifically, that transmission providers are not required to calculate the listed benefits in the exact manner described in the NOPR.¹⁸³⁶

¹⁸³¹ DC and MD Offices of People's Counsel Initial Comments at 19; Duke Initial Comments at 24; EEI Initial Comments at 20; Entergy Initial Comments at 22; Illinois Commission Initial Comments at 13-14; Louisiana Commission Initial Comments at 18; Michigan Commission Initial Comments at 6; US Chamber of Commerce Initial Comments at 7-8. Further detail on the basis for these commenters' concerns is provided infra.

¹⁸³² See, e.g., Duke Initial Comments at 24.

¹⁸³³ See, e.g., EEI Initial Comments at 20.

¹⁸³⁴ Duke Initial Comments at 24.

¹⁸³⁵ EEI Initial Comments at 20.

¹⁸³⁶ NYISO Initial Comments at 36-40.

828. MISO notes that the benefits it currently uses in regional transmission planning are not all specified in the Tariff itself but were developed as part of the review process with MISO stakeholders. MISO adds that the flexibility to look for relevant benefits and apply them in long-term planning scenarios is important in the process to identify long-term regional solutions that reflect the needs and value-drivers of the MISO footprint.¹⁸³⁷ MISO states that if limited to a prescriptive set of benefits, MISO may not be in the same position to move forward the transmission projects of the greatest benefit and value to MISO and its stakeholders.¹⁸³⁸

¹⁸³⁷ MISO Initial Comments at 9-10.

¹⁸³⁸ Id. at 9.

829. Some commenters opine on requirements or best practices for identifying, measuring, and combining benefits.¹⁸³⁹ For example, some commenters comment on the measurement and/or calculation of benefits.¹⁸⁴⁰ Entergy argues that the Commission should require all benefits to be reasonably achievable in real-time operations.¹⁸⁴¹ SPP Market Monitor states that assumptions into benefit calculations should be improved to ensure that they result in just and reasonable rates.¹⁸⁴² Large Public Power emphasizes that the Commission should clarify that benefits must reflect load-serving entities' actual use of proposed transmission facilities, measured by anticipated power flows.¹⁸⁴³

¹⁸³⁹ Acadia Center and CLF Initial Comments at 23; ACORE Reply Comments at 3; ACEG Initial Comments at 32; AEP Initial Comments at 21-24; APPA Initial Comments at 32; City of New Orleans Council Initial Comments at 11; Clean Energy Associations Initial Comments at 20-21; DC and MD Offices of People's Counsel Initial Comments at 19; Duke Initial Comments at 24; EEI Initial Comments at 20; Entergy Initial Comments at 22; Illinois Commission Initial Comments at 13-14; Large Public Power Initial Comments at 28; Louisiana Commission Initial Comments at 18; Michigan State Entities Initial Comments at 5-7; NARUC Initial Comments at 20-26; NASUCA Initial Comments at 10; NRECA Initial Comments at 45; NYISO Initial Comments at 37; PJM Market Monitor Initial Comments at 4; SEIA Initial Comments at 18-19; Six Cities Initial Comments at 2-3; Southern Initial Comments at 31; SPP Market Monitor Initial Comments at 11; US Chamber of Commerce Initial Comments at 7-8; US DOE Initial Comments at 31; Vermont State Entities Initial Comments at 6.

¹⁸⁴⁰ AEP Initial Comments at 21-24; Clean Energy Associations Initial Comments at 21; Large Public Power Initial Comments at 28; SEIA Initial Comments at 18-19; SPP Market Monitor Initial Comments at 11.

¹⁸⁴¹ Entergy Initial Comments at 22.

¹⁸⁴² SPP Market Monitor Initial Comments at 11.

¹⁸⁴³ Large Public Power Initial Comments at 28.

830. SEIA suggests that there are many resources to inform methods for the calculation of benefits, including MISO's Long Range Transmission Plan Tranche 1 portfolio.¹⁸⁴⁴ Also referencing MISO's process, AEP contends that the benefits of regional transmission facilities should be evaluated collectively, through a multi-value analysis, and cites MISO's existing process as an example.¹⁸⁴⁵

¹⁸⁴⁴ SEIA Initial Comments at 18-19 (citing Rob Gramlich, Enabling Low-Cost Clean Energy & Reliable Service Through Better Transmission Benefits Analysis, at 17, https://acore.org/wp-content/uploads/2022/08/ACORE-Enabling-Low-Cost-Clean-Energy-and-Reliable-Service-Through-Better-Transmission-Analysis.pdf).

¹⁸⁴⁵ AEP Initial Comments at 21-24.

831. Some commenters opine on the need for quantification and/or specificity of benefits.¹⁸⁴⁶ DC and MD Offices of People's Counsel assert that any benefit used should be pre-defined and its measurement accurate and transparent.¹⁸⁴⁷ PIOs also state that the Brattle-Grid Strategies Oct. 2021 Report provides evidence that benefits from transmission facilities are not difficult to quantify despite claims to the contrary.¹⁸⁴⁸ NASUCA asserts that the methods for calculating and assigning benefits should be based on objective, measurable, clear, and specific metrics.¹⁸⁴⁹ Similarly, Illinois Commission, Pacific Northwest Utilities, and NARUC assert that transmission benefits must be verifiable and quantifiable.¹⁸⁵⁰

¹⁸⁴⁶ ACORE Reply Comments at 3 (citing US DOE Initial Comments at 31); Concerned Scientists Reply Comments at 8-10; DC and MD Offices of People's Counsel Initial Comments at 19; Entergy Initial Comments at 22; NASUCA Initial Comments at 10; US DOE Initial Comments at 31.

¹⁸⁴⁷ DC and MD Offices of People's Counsel Initial Comments at 19.

¹⁸⁴⁸ PIOs Initial Comments at 42-44.

¹⁸⁴⁹ NASUCA Initial Comments at 10.

¹⁸⁵⁰ Illinois Commission Initial Comments at 13-14; NARUC Initial Comments at 20-25; Pacific Northwest Utilities Initial Comments at 8-9.

832. A few commenters address the ease of quantification of the benefits listed in the NOPR. NARUC states that NOPR Benefits 1-5 and 8-10 seem somewhat capable of quantification.¹⁸⁵¹ NRECA asserts that the benefits at the top of the list in the NOPR are reasonably quantifiable, while those farther down the list require more subjective judgements.¹⁸⁵² APPA agrees that some of the benefits listed in the NOPR would be more challenging to quantify and therefore would be more difficult to justify as a just and reasonable way to allocate costs.¹⁸⁵³

¹⁸⁵¹ NARUC Initial Comments at 21.

¹⁸⁵² NRECA Initial Comments at 45.

¹⁸⁵³ APPA Initial Comments at 32.

833. Some commenters support the use of benefit-cost analysis frameworks.¹⁸⁵⁴ Michigan State Entities express that having a prescribed benefit-cost analysis framework can help ensure appropriate quantification of benefits, adding that there is less transparency when individual transmission providers may determine how these benefits stack up against each other.¹⁸⁵⁵ Therefore, Michigan State Entities recommend that the Commission adopt the cost-benefit analysis framework already used throughout the Federal Government. According to Michigan State Entities, the Commission's legal authority to do so is well-established by court decisions and it would help to ensure sufficient regional transmission cooperation to achieve just and reasonable rates.¹⁸⁵⁶

¹⁸⁵⁴ Michigan State Entities Initial Comments at 5-7; Six Cities Initial Comments at 2-3; Southern Initial Comments at 31; Vermont State Entities Initial Comments at 6-7.

¹⁸⁵⁵ Michigan State Entities Initial Comments at 5.

¹⁸⁵⁶ Id. at 6-7.

834. Six Cities argues that transmission planning should assess both project benefits and costs.¹⁸⁵⁷ Vermont State Entities agree that a comprehensive benefit-cost analysis would lead to better and more cost-effective transmission planning.¹⁸⁵⁸ Southern also states that the burdens associated with proposed transmission projects should be recognized, including not only immediate cost and rate impacts, but also effects on local communities and landowners and issues of equity and environmental justice.¹⁸⁵⁹

¹⁸⁵⁷ Six Cities Initial Comments at 2-3.

¹⁸⁵⁸ Vermont State Entities Initial Comments at 6-7.

¹⁸⁵⁹ Southern Initial Comments at 31.

835. Likewise, certain commenters state that they support the adoption of benefit-cost analysis using quantifiable, replicable, non-duplicative, and forward-looking metrics.¹⁸⁶⁰ US Chamber of Commerce contends that the objective nature of such metrics should limit uncertainty otherwise present in projections spanning multiple decades and reduce the variability and error in benefit calculations.¹⁸⁶¹ Acadia Center and CLF and ACEG argue that an unbiased analysis of both benefits and costs is essential for ensuring just and reasonable rates and that the Commission should seek to ensure that a minimum set of benefits is applied consistently across RTO/ISO and non-RTO/ISO transmission planning regions.¹⁸⁶² ACORE agrees with US DOE that consistency in benefit quantification could facilitate improved interregional transmission planning.¹⁸⁶³

¹⁸⁶⁰ City of New Orleans Council Initial Comments at 11; Entergy Initial Comments at 22; Louisiana Commission Initial Comments at 18; US Chamber of Commerce Initial Comments at 7-8.

¹⁸⁶¹ US Chamber of Commerce Initial Comments at 8.

¹⁸⁶² Acadia Center and CLF Initial Comments at 23; ACEG Initial Comments at 32.

¹⁸⁶³ ACORE Reply Comments at 3 (citing US DOE Initial Comments at 31).

836. Other commenters state that the NOPR's proposed reforms will help improve transmission providers' existing benefit-cost analyses.¹⁸⁶⁴ GridLab states that the NOPR's approach balances regional flexibility with Federal standardization in benefit categories across transmission providers and more accountability by transmission providers in their benefit-cost analysis.¹⁸⁶⁵ PJM Market Monitor states that PJM's current benefit-cost analysis does not accurately measure the costs and benefits of transmission projects because it does not account for the fact that benefits are uncertain and sensitive to modeling assumptions or that costs may exceed estimates.¹⁸⁶⁶ Illinois Commission states that the use of too many metrics could lead to the evaluation of transmission projects based on the margins and inequitable cost allocation.¹⁸⁶⁷ Illinois Commission further states that some metrics may be most relevant for interregional and regional transmission projects identified in the Long-Term Regional Transmission Planning process and that the Commission can aid transmission planning regions in putting together a shorter list of these metrics.¹⁸⁶⁸

¹⁸⁶⁴ GridLab Initial Comments at 25; PJM Market Monitor Initial Comments at 4-5; Southeast PIOs Initial Comments at 49-50.

¹⁸⁶⁵ GridLab Initial Comments at 25.

¹⁸⁶⁶ PJM Market Monitor Initial Comments at 4-5.

¹⁸⁶⁷ Illinois Commission Initial Comments at 13.

¹⁸⁶⁸ Id. at 14.

c. Commission Determination

837. We adopt the NOPR proposal, with modification, and require transmission providers in each transmission planning region to include in their OATTs a general description of how they will measure each of the seven benefits included in the required set of benefits that we require them to measure and use in Long-Term Regional Transmission Planning. As discussed above, we clarify that transmission providers may use and measure additional benefits, beyond the seven required by this final order.¹⁸⁶⁹

¹⁸⁶⁹ While we conclude that it is important for transmission providers to at minimum use and measure the required seven benefits, we agree with MISO that the flexibility to look for relevant benefits and apply them in long-term planning scenarios can be important in the process to identify long-term regional solutions that reflect region-specific needs and value-drivers. MISO Initial Comments at 9. We therefore afford flexibility to transmission planners in identifying and measuring benefits that go beyond the core set of seven required here.

838. We find that requiring such a description in transmission providers' OATTs for the seven required benefits is necessary to ensure that all stakeholders have transparency regarding the benefits that transmission providers use to identify, evaluate, and select Long-Term Regional Transmission Facilities that more efficiently or cost-effectively address Long-Term Transmission Needs. We further conclude that requiring inclusion of this information in the OATT will better ensure transmission providers measure and use the set of benefits required in the final order in Long-Term Regional Transmission Planning.

839. Some commenters express concerns regarding excessive quantification of benefits.¹⁸⁷⁰ But the approach adopted in this final order—of requiring transmission providers to measure and use a required set of benefits in Long-Term Regional Transmission Planning and requiring transmission providers to include in their OATTs a general description of the method they will use to measure each of those benefits—represents a reasonable balance between specificity and flexibility. As discussed above, we provide flexibility to transmission providers to specify the method for measuring each of the seven required benefits. However, because our requirement that transmission providers measure and use these benefits in Long-Term Regional Transmission Planning is necessary to address the identified deficiencies in existing regional transmission planning and cost allocation processes, we find that it is also necessary for transmission providers to include in their OATTs a general description of how they will measure each of these benefits. Such a requirement will ensure that transmission providers consider a sufficiently broad range of benefits when determining whether to select a Long-Term Regional Transmission Facility as a more efficient or cost-effective regional transmission solution to Long-Term Transmission Needs.

¹⁸⁷⁰ See, e.g., Duke Initial Comments at 24.

840. In response to some commenters, such as MISO, that urge that requiring details on measurement of benefits to be incorporated into the OATT could impede development and use of new transmission metrics, we clarify that the description for each required benefit in the OATT must only be sufficient to enable stakeholders to understand the manner by which transmission providers will measure these benefits. We do not require further details on measurement of the benefits to be included in the OATT.

841. Large Public Power asks that the Commission clarify that any acceptable list of benefits detailed in compliance filings must emphasize load-serving entities' actual use of the proposed transmission facilities, which should be measured by anticipated power flows that occur across these facilities.¹⁸⁷¹ We decline to adopt Large Public Power's suggested clarification as we are not mandating any particular method for measuring the seven benefits included in the required set of benefits.

¹⁸⁷¹ Large Public Power Initial Comments at 28.

842. We decline certain commenters' requests to require that transmission providers justify why they omit any categories of benefits.¹⁸⁷² Such a requirement is unnecessary because of our modifications to the NOPR proposal, which now require transmission providers to measure and use the required set of benefits in Long-Term Regional Transmission Planning.

¹⁸⁷² GridLab Initial Comments at 25; NYISO Initial Comments at 37-38; Vermont State Entities Initial Comments at 6-7.

4. Evaluation of Transmission Benefits Over a Longer Time Horizon

a. NOPR Proposal

843. In the NOPR, the Commission proposed to require transmission providers in each transmission planning region to evaluate, as part of Long-Term Regional Transmission Planning, the benefits of regional transmission facilities over a time horizon that covers, at a minimum, 20 years starting from the estimated in-service date of the regional transmission facilities.¹⁸⁷³

¹⁸⁷³ NOPR, 179 FERC ¶ 61,028 at P 227.

844. The Commission proposed to require transmission providers to evaluate benefits over this time horizon in all stages of Long-Term Regional Transmission Planning, which includes evaluating regional transmission facilities, selecting more efficient or cost-effective regional transmission facilities in the regional transmission plan for purposes of cost allocation, and allocating the costs of such regional transmission facilities in a manner that is at least roughly commensurate with estimated benefits. The Commission proposed that for consistency and a matching comparison of benefits and costs over time, to the extent that transmission providers estimate the costs of transmission facilities beyond the in-service date of the transmission facilities, that transmission providers should estimate those future costs over the same time horizon as the estimated benefit.¹⁸⁷⁴ The Commission proposed that approaches may exceed this minimum requirement, but transmission providers must demonstrate that their proposal is consistent with or superior to any final order in this proceeding.

¹⁸⁷⁴ Id. P 228.

b. Comments

i. Requirement for a Benefits Evaluation Time Horizon of a Minimum of 20 Years From the In-Service Date

845. Several commenters support the Commission's proposal to require that transmission providers in each transmission planning region evaluate, as part of Long-Term Regional Transmission Planning, the benefits of regional transmission facilities over a time horizon that covers, at a minimum, 20 years starting from the estimated in-service date of the transmission facilities.¹⁸⁷⁵ NARUC, for example, states that transmission planning must strike a reasonable balance between considering benefits only through the end of the transmission planning horizon regardless of the transmission facility's in-service date and considering benefits over its full expected life, which NARUC states that the NOPR proposal achieves.¹⁸⁷⁶ Northwest and Intermountain state that they cautiously support the Commission's proposal to establish a minimum 20-year horizon for the calculation of benefits, noting that their concerns are mitigated by the NOPR proposal to allow flexibility within each transmission planning region to tailor cost allocation criteria to that region's needs.¹⁸⁷⁷ Similarly, Vermont State Entities and NESCOE state that a rigid one-size-fits-all rule could be counterproductive and would not necessarily lead to just and reasonable transmission rates.¹⁸⁷⁸ NARUC states that, while it supports the NOPR proposal, transmission providers should be allowed independent entity variations to deviate above or below the 20-year horizon after gaining experience with Long-Term Regional Transmission Planning.¹⁸⁷⁹ NYISO contends that it already employs a 30-year study period in evaluating the benefits of transmission projects in its public policy transmission planning process.¹⁸⁸⁰

¹⁸⁷⁵ ACEG Initial Comments at 24; California Commission Initial Comments at 36; Certain TDUs Reply Comments at 3; ITC Initial Comments at 22-23; NARUC Initial Comments at 26-27; NYISO Initial Comments at 40; OMS Initial Comments at 8-9; Pacific Northwest State Agencies Initial Comments at 16-19.

¹⁸⁷⁶ NARUC Initial Comments at 26.

¹⁸⁷⁷ Northwest and Intermountain Initial Comments at 8.

¹⁸⁷⁸ NESCOE Initial Comments at 45; Vermont State Entities Initial Comments at 6.

¹⁸⁷⁹ NARUC Initial Comments at 39-40.

¹⁸⁸⁰ NYISO Initial Comments at 40.

846. MISO supports the Commission's proposal, stating that a minimum period of 20 years is adequate to assess the benefits of regional transmission facilities.¹⁸⁸¹ MISO cautions, however, that the benefits determined over this time horizon represent the minimum benefits that a regional transmission facility provides and that the analysis should recognize that additional benefits would be realized over the life of the investment even if changing system conditions create uncertainty as to the precise value of those benefits.¹⁸⁸²

¹⁸⁸¹ MISO Initial Comments at 52.

¹⁸⁸² Id.

847. Other commenters suggest that the time horizon for the evaluation of benefits in Long-Term Regional Transmission Planning should align with the useful life of the transmission asset.¹⁸⁸³ Breakthrough Energy and CARE Coalition contend that the proper time horizon for evaluation of benefits in standard economics and public policy is the life of the transmission asset, noting that transmission assets can often last 40 years or longer.¹⁸⁸⁴ ACEG agrees, noting that, while it supports use of a 20-year minimum horizon to evaluate benefits, standard regulatory practice for a benefit-cost analysis is typically the life of the asset.¹⁸⁸⁵ Likewise, PIOs contend that, while they agree with the NOPR proposal, it would be preferable to align the time horizon for evaluating benefits with the useful life of the transmission project.¹⁸⁸⁶ PIOs state that calculating the benefits and costs of a transmission project over a shorter timespan can understate the benefit-cost ratio because benefits tend to grow over time, while transmission revenue requirements will decline over time as the asset is depreciated.¹⁸⁸⁷

¹⁸⁸³ ACEG Initial Comments at 24; Breakthrough Energy Initial Comments at 23; CARE Coalition Initial Comments at 40-41; Clean Energy Associations Initial Comments at 21; CTC Global Initial Comments at 16-17; ENGIE Initial Comments at 2; ENGIE Reply Comments at 2; Indicated PJM TOs Initial Comments at 17-18; Interwest Initial Comments at 14; Interwest Reply Comments at 6-7; Pine Gate Initial Comments at 35; PIOs Initial Comments at 40-41; US DOE Initial Comments at 33-34; WIRES Initial Comments at 7.

¹⁸⁸⁴ Breakthrough Energy Initial Comments at 23; CARE Coalition Initial Comments at 40-41.

¹⁸⁸⁵ ACEG Initial Comments at 24.

¹⁸⁸⁶ PIOs Initial Comments at 40 (citing PIOs Initial Comments Ex. A, ¶¶ 24-29).

¹⁸⁸⁷ Id. (citing PIOs Initial Comments Ex. A, ¶ 28).

848. CTC Global states that while it supports the NOPR proposal, it argues that it would be more appropriate to align the timeline for evaluating benefits with the asset life, because while advanced conductors are almost always more expensive than legacy conductors initially, their costs are offset by efficiency and resilience benefits decades into the future.¹⁸⁸⁸ Indicated PJM TOs state that benefits “should be calculated on the same time horizon as the project that is being assessed to allow for the ability to properly compare projects.” ¹⁸⁸⁹

¹⁸⁸⁸ CTC Global Initial Comments at 16-17.

¹⁸⁸⁹ Indicated PJM TOs Initial Comments at 18.

849. Given that transmission assets often have a useful life of at least 40 years, US DOE encourages the Commission to require transmission providers to evaluate costs and benefits over a minimum of 30 years after the in-service date of a transmission facility rather than the proposed 20 years. According to US DOE, doing so would better align with the useful life assumptions that generation developers make.¹⁸⁹⁰

¹⁸⁹⁰ US DOE Initial Comments at 33-34.

850. Clean Energy Buyers and PG&E suggest that benefits should be evaluated over the same 20-year horizon as the proposed Long-Term Regional Transmission Planning transmission planning horizon.¹⁸⁹¹ Similarly, PPL states that, while it supports the proposed 20-year minimum duration to evaluate benefits in Long-Term Regional Transmission Planning, the Commission should require transmission providers to measure benefits from the study date rather than the proposed in-service date of the Long-Term Regional Transmission Facility. PPL contends that the NOPR proposal would introduce significant variability that will make it challenging to align the outcome with the long-term need and would incentivize transmission developers to delay or adjust the timing of transmission projects to maximize the demonstrated benefit.¹⁸⁹²

¹⁸⁹¹ Clean Energy Buyers Initial Comments at 20; PG&E Initial Comments at 7.

¹⁸⁹² PPL Initial Comments at 15-17.

851. In contrast, GridLab contends that the 20-year Long-Term Regional Transmission Planning transmission planning horizon need not correspond with the time horizon over which transmission providers evaluate the benefits and costs of potential transmission investments. GridLab recommends that the Commission clarify the distinction between the requirement for a 20-year transmission planning horizon and for a 20-year period to evaluate benefits, while keeping both requirements.¹⁸⁹³

¹⁸⁹³ GridLab Initial Comments at 6-8.

852. Many commenters assert that evaluating benefits over a 20-year time horizon is difficult or speculative.¹⁸⁹⁴ Ohio Consumers and Dominion argue that, since transmission providers would be required to plan for potential transmission needs in 20 years and evaluate benefits over a 20-year project life span, the requirement effectively amounts to a 40-year cost allocation process and will be particularly challenging.¹⁸⁹⁵ APS agrees, stating that calculating benefits over a potential 40 years may lead to benefit calculations that are overstated or yield unreasonable or unrealistic results.¹⁸⁹⁶

¹⁸⁹⁴ APPA Initial Comments at 32; Dominion Initial Comments at 17; Louisiana Commission Initial Comments at 18; NRECA Initial Comments at 46; Ohio Consumers Initial Comments at 8; PJM Initial Comments at 97.

¹⁸⁹⁵ Ohio Consumers Initial Comments at 8.

¹⁸⁹⁶ APS Initial Comments at 8-9.

853. Some commenters request certain clarifications or modifications to address that uncertainty.¹⁸⁹⁷ For example, Exelon states that benefits should tie back to customer value and suggests that the Commission should give transmission providers flexibility to assign more weight to nearer-term benefits tied to specific savings that are more certain.¹⁸⁹⁸ SERTP Sponsors and Duke agree, and Duke requests that the Commission clarify that transmission providers are permitted to discount benefits based on increased uncertainty in later years for purposes of evaluating, selecting, and allocating the costs of Long-Term Regional Transmission Facilities.¹⁸⁹⁹

¹⁸⁹⁷ Duke Initial Comments at 23-24; Exelon Initial Comments at 16; SERTP Sponsors Initial Comments at 31.

¹⁸⁹⁸ Exelon Initial Comments at 16.

¹⁸⁹⁹ Duke Initial Comments at 23-24; SERTP Sponsors Initial Comments at 31.

854. Several commenters oppose requiring a minimum 20-year horizon for evaluating benefits of Long-Term Regional Transmission Facilities.¹⁹⁰⁰ For example, Idaho Commission argues that the NOPR proposal is founded on benefits that are not “generally accepted or regionally flexible” and may not be beneficial for regional transmission planning benefit evaluation.¹⁹⁰¹ Furthermore, Idaho Commission argues, it is difficult to accurately predict and quantify benefits over a 20-year period for purposes of cost allocation.¹⁹⁰²

¹⁹⁰⁰ Dominion Reply Comments at 4-5; Idaho Commission Initial Comments at 4; NARUC Initial Comments at 5-6; NESCOE Initial Comments at 44-45; Pacific Northwest Utilities Initial Comments at 6-7; Pennsylvania Commission Initial Comments at 4-5.

¹⁹⁰¹ Idaho Commission Initial Comments at 4.

¹⁹⁰² Id.

855. Similarly, Dominion requests that the Commission decline to adopt the NOPR proposal or provide clarification that the Commission did not intend to propose that benefits would need to be evaluated over a potential 40-year period. Dominion states that it would be unreasonable for the Commission to require transmission providers to consider benefits over a 40-year period, because identifying benefits and beneficiaries that far into the future would involve too much speculation.

856. Pennsylvania Commission requests that the Commission revise the NOPR proposal to set a long-term horizon of no longer than 20 years for planning and benefit-cost analysis. Pennsylvania Commission argues that as the planning and benefit-cost analysis horizons lengthen, uncertainty in predictions of load growth, costs, and benefits will increase, potentially leading to uneconomic transmission projects.¹⁹⁰³ Pacific Northwest Utilities oppose the NOPR proposal because, they argue, beneficiaries and benefits cannot be identified or quantified with any reasonable certainty over a 20-year transmission planning horizon. Specifically, Pacific Northwest Utilities contend that there is no plausible reason to believe that such speculative benefits would be roughly commensurate with the costs that are allocated to identified beneficiaries.¹⁹⁰⁴

¹⁹⁰³ Pennsylvania Commission Initial Comments at 4-5.

¹⁹⁰⁴ Pacific Northwest Utilities Initial Comments at 7 (citing ICC v. FERC I, 576 F.3d 470).

ii. Applicability of Benefits Evaluation Horizon to Long-Term Regional Transmission Planning Stages (Evaluation of Facilities, Selection, and Cost Allocation)

857. Pacific Northwest State Agencies supports the Commission's proposal to require that transmission providers evaluate benefits over a consistent time horizon in all stages of Long-Term Regional Transmission Planning, which includes evaluating regional transmission facilities, selecting more efficient or cost-effective regional transmission facilities in the regional transmission plan for purposes of cost allocation, and allocating the costs of such transmission facilities in a manner that is roughly commensurate with estimated benefits.¹⁹⁰⁵

¹⁹⁰⁵ Pacific Northwest State Agencies Initial Comments at 18.

858. Several commenters also support the Commission's proposal that, to the extent that transmission providers estimate the costs of transmission facilities beyond the in-service date of the transmission facilities, they should estimate those future costs over the same time horizon as the estimated benefits.¹⁹⁰⁶ For instance, MISO states that costs and benefits for regional transmission investments should be evaluated using the same time horizon to ensure there is consistency in accounting for the effects of time in the calculations.¹⁹⁰⁷ MISO attests that since benefits are only realized once a transmission project or portfolio of projects is in service, transmission providers should assess the benefits over the period of time starting with the in-service date to align with costs.¹⁹⁰⁸ Pacific Northwest State Agencies and Certain TDUs agree.¹⁹⁰⁹

¹⁹⁰⁶ Certain TDUs Reply Comments at 3 (citing MISO Initial Comments at 53); MISO Initial Comments at 53; NARUC Initial Comments at 27; OMS Initial Comments at 8-9; Pacific Northwest State Agencies Initial Comments at 18.

¹⁹⁰⁷ MISO Initial Comments at 53.

¹⁹⁰⁸ Id.

¹⁹⁰⁹ Certain TDUs Reply Comments at 3 (citing MISO Initial Comments at 53); Pacific Northwest State Agencies Initial Comments at 18.

c. Commission Determination

859. We adopt the NOPR proposal, with modification, to require transmission providers in each transmission planning region, as part of Long-Term Regional Transmission Planning, to calculate the benefits of Long-Term Regional Transmission Facilities over a time horizon that covers, at a minimum, 20 years starting from the estimated in-service date of the transmission facilities, and we require that this minimum 20-year benefit horizon be used both for the evaluation and selection of Long-Term Regional Transmission Facilities.¹⁹¹⁰ However, we do not adopt the NOPR proposal to require a minimum 20-year horizon to calculate benefits for purposes of cost allocation. As described in the Identification of Benefits Considered in Cost Allocation for Long-Term Regional Transmission Facilities section of this final order, requiring transmission providers to adopt this provision for purposes of cost allocation would unduly complicate development and review of Long-Term Regional Transmission Cost Allocation Methods, with little incremental gain. Lastly, for consistency and a matching comparison of costs over time, we adopt the NOPR proposal to require that, to the extent that transmission providers estimate the costs of Long-Term Regional Transmission Facilities beyond the in-service date of the transmission facilities, they must estimate those future costs over the same time horizon as the estimated benefits.

¹⁹¹⁰ In the NOPR, the Commission used the term “regional transmission facilities”; however, as this reform only concerns Long-Term Regional Transmission Planning, we clarify that the Commission's intent was to refer only to Long-Term Regional Transmission Facilities. As discussed in the Development of Long-Term Scenarios section, transmission providers also use these benefits to help to inform their identification of Long-Term Transmission Needs that manifest during the 20-year transmission planning horizon.

860. We find that calculating benefits both for the evaluation and selection of Long-Term Regional Transmission Facilities over a timeline that covers, at a minimum, 20 years starting from the estimated in-service date of the Long-Term Regional Transmission Facility, strikes an appropriate balance. This balance reasonably reflects the benefits that a Long-Term Regional Transmission Facility is likely to provide over its useful life, a time period that can exceed 40 years,¹⁹¹¹ while recognizing the inherent difficulties in attempting to predict system conditions too far into the future. As described in the Long-Term Regional Transmission Planning section of this final order, the uncertainty associated with forecasting future transmission needs over a long-term transmission planning horizon can be mitigated through the use of multiple Long-Term Scenarios and sensitivities.

¹⁹¹¹ ACEG Initial Comments at 24; Breakthrough Energy Initial Comments at 23; CARE Coalition Initial Comments at 40-41; Clean Energy Associations Initial Comments at 21; CTC Global Initial Comments at 16-17; ENGIE Initial Comments at 2; ENGIE Reply Comments at 2; Indicated PJM TOs Initial Comments at 18; Interwest Initial Comments at 14; Interwest Reply Comments at 7; Pine Gate Initial Comments at 35; PIOs Initial Comments at 40-41; US DOE Initial Comments at 33-34; WIRES Initial Comments at 7.

861. Specifically, this final order requires transmission providers to develop multiple plausible and diverse Long-Term Scenarios, which will allow transmission providers to better understand how certain categories of factors will give rise to Long-Term Transmission Needs, and also requires transmission providers to update their assumptions periodically. Additionally, transmission providers are permitted to assess the extent to which the projected change to Long-Term Transmission Needs due to factors in Factor Categories Four through Seven is likely to be realized in full, in part, or exceeded, for purposes of developing a plausible and diverse set of Long-Term Scenarios.¹⁹¹² Because of these reforms, we believe that transmission providers will be able to identify Long-Term Transmission Needs with a higher likelihood of occurrence, and, therefore, the benefits resulting from Long-Term Regional Transmission Facilities to more efficiently or cost-effectively address these Long-Term Transmission Needs will similarly be more certain.

¹⁹¹² Supra Long-Term Regional Transmission Planning, Long-Term Scenarios Requirements, Categories of Factors section.

862. Moreover, as described in the Evaluation and Selection of Regional Transmission Facilities section of this final order, we provide transmission providers with considerable flexibility to develop an evaluation process and selection criteria that will provide them the opportunity to select Long-Term Regional Transmission Facilities in a way that maximizes benefits accounting for costs over time without over-building transmission facilities. In particular, transmission providers have the flexibility to evaluate Long-Term Regional Transmission Facilities and their measured benefits across the different Long-Term Scenarios and sensitivities in a manner that addresses the inherent uncertainty in Long-Term Regional Transmission Planning, for example through the use of a least-regrets or a weighted-benefits approach. Lastly, as is the case under the existing Order No. 1000 regional transmission planning processes, the final order does not require transmission providers to select any transmission facilities as part of Long-Term Regional Transmission Planning. Taken together, the aspects of the final order described above offer transmission providers meaningful tools to address uncertainty in Long-Term Regional Transmission Planning, including the calculation of benefits.

863. We disagree with NESCOE and Vermont State Entities, who argue that a requirement to calculate benefits over a minimum of 20 years from the estimated in-service date is overly rigid and may not lead to transmission rates that are just and reasonable. As discussed above, this requirement strikes a reasonable balance between the benefits that a Long-Term Regional Transmission Facility is likely to provide over its useful life, while recognizing the inherent difficulties in attempting to forecast system conditions too far into the future. Further, allowing transmission providers to calculate benefits over a shorter period would more likely undervalue the total benefits that Long-Term Regional Transmission Facilities can provide and could therefore lead to relatively inefficient and less cost-effective transmission development, as Long-Term Regional Transmission Facilities that provide significant net benefits may not be selected to address Long-Term Transmission Needs. Lastly, and as stated above, we are not requiring transmission providers to use a minimum 20-year horizon to calculate benefits for purposes of cost allocation.

864. Similarly, we also disagree with commenters that suggest that the results of the benefits evaluation would not be accurate or dependable enough for transmission providers to use in making the decision to select Long-Term Regional Transmission Facilities.¹⁹¹³ We further note that transmission providers in multiple transmission planning regions already evaluate the benefits of transmission facilities over a 20-year time horizon as part of their regional transmission planning processes.¹⁹¹⁴ For example, NYISO states that it employs a 30-year study period in evaluating the benefits of transmission projects in its public policy transmission planning process.¹⁹¹⁵

¹⁹¹³ APPA Initial Comments at 32; APS Initial Comments at 8-9; Dominion Initial Comments at 17; Idaho Commission Initial Comments at 4; Louisiana Commission Initial Comments at 18; NRECA Initial Comments at 46; Ohio Consumers Initial Comments at 8; Pacific Northwest Utilities Initial Comments at 7; PJM Initial Comments at 97.

¹⁹¹⁴ MISO Initial Comments at 52; NYISO Initial Comments at 40; see also MISO, LRTP Business Case, Long Range Transmission Planning Workshop, at 7 (Jan. 21, 2022, revised Feb. 2, 2022), https://cdn.misoenergy.org/20220121%20LRTP%20Workshop%20Item%2004%20Business%20Case%20Presentation619895.pdf; CAISO, 20-Year Transmission Outlook (Jan. 31, 2022), http://www.caiso.com/InitiativeDocuments/Draft20-YearTransmissionOutlook.pdf; SPP Engineering, 2021 SPP Transmission Expansion Plan Report (Jan. 11, 2021), https://spp.org/documents/56611/2021%20step%20report.pdf.

¹⁹¹⁵ NYISO Initial Comments at 40.

865. Some commenters suggest that the Commission should provide additional flexibility to account for uncertainty in calculating benefits over a minimum 20-year time horizon, including that the Commission make clear that transmission providers may discount or weight the calculated benefits based on the relative certainty throughout the benefits horizon.¹⁹¹⁶ As we described above, this final order affords transmission providers considerable flexibility in how to address uncertainty in Long-Term Regional Transmission Planning, including by allowing transmission providers to assess the extent to which the projected change to Long-Term Transmission Needs due to factors in factor Categories Four through Seven is likely to be realized in full, in part, or exceeded, for purposes of developing a plausible and diverse set of Long-Term Scenarios. Given these flexibilities, we find that while transmission providers may discount the benefits calculated for purposes of determining a present value of those benefits, they may not further discount those benefits to reflect uncertainty over the minimum 20-year time horizon for calculating benefits.

¹⁹¹⁶ Duke Initial Comments at 23-24; Exelon Initial Comments at 16; SERTP Sponsors Initial Comments at 31.

866. In response to Dominion's request for clarification that the Commission did not intend to propose that benefits would need to be evaluated over a potential 40-year period, we reiterate that transmission providers must calculate the benefits of Long-Term Regional Transmission Facilities over a minimum of 20 years from their estimated in-service date, even if the estimated in-service date is 20 years into the future. The failure to take such an approach could result in transmission providers' consideration of a Long-Term Regional Transmission Facility's cost but not the facility's corresponding benefits.

867. We also decline to modify the proposal, as requested by Pennsylvania Commission,¹⁹¹⁷ to require a benefits horizon of no longer than 20 years as a means of reducing speculation and uncertainty in calculating benefits of Long-Term Regional Transmission Facilities, as well as NARUC's request that the Commission permit transmission providers to deviate below the 20-year benefit evaluation horizon. As explained above, a minimum of 20 years strikes a reasonable balance for calculating the benefits of Long-Term Regional Transmission Facilities. In addition, as indicated by many commenters, calculating the benefits of a Long-Term Transmission Facility over a time horizon longer than 20 years is consistent with the long life of transmission facilities—which generally exceeds 20 years by a substantial margin—and also consistent with the fact that transmission facilities may provide significant benefits over their entire useful life. While we reiterate that transmission providers must calculate the benefits of Long-Term Regional Transmission Facilities over a time horizon that covers, at a minimum, 20 years starting from the estimated in-service date of the transmission facilities, to the extent that transmission providers would like to consider a longer time horizon for the evaluation of benefits, they may propose to do so on compliance.

¹⁹¹⁷ Pennsylvania Commission Initial Comments at 4-5.

868. In response to Pacific Northwest Utilities' argument that transmission providers will be unable to identify the beneficiaries of Long-Term Regional Transmission Facilities over a 20-year time horizon, and therefore that the costs of Long-Term Regional Transmission Facilities will not be allocated in a manner that is roughly commensurate with the benefits received,¹⁹¹⁸ we note that this final order modifies the NOPR proposal and transmission providers are not required to use a benefits time horizon of 20 years for purposes of cost allocation. We find this modification to the final order moots Pacific Northwest Utilities' argument.

¹⁹¹⁸ Pacific Northwest Utilities Initial Comments at 7 (citing ICC v. FERC I, 576 F.3d 470).

869. We disagree with PPL's comments arguing that calculating benefits from the estimated in-service date of a Long-Term Regional Transmission Facility will present challenges to align the outcome with the actual needs in Long-Term Regional Transmission Planning or otherwise create perverse incentives for transmission developers to delay or adjust the timing of certain transmission projects to maximize benefits.¹⁹¹⁹ To the contrary, establishing a minimum benefits horizon of 20 years starting from the estimated in-service date of Long-Term Regional Transmission Facilities will allow for a comparable evaluation of benefits that identified Long-Term Regional Transmission Facilities may provide, even when such facilities may be placed in service at different times during the transmission planning horizon. We therefore decline PPL's request that the Commission modify the proposal to require that transmission providers measure benefits for a minimum of 20 years starting from the study date, rather than the estimated in-service date of the Long-Term Regional Transmission Facility.

¹⁹¹⁹ PPL Initial Comments at 15-17.

870. In response to GridLab's request that the Commission clarify the distinction between the requirements for a minimum 20-year transmission planning horizon and a minimum 20-year benefits evaluation period,¹⁹²⁰ we reiterate the example provided in the NOPR whereby, if the Long-Term Regional Transmission Planning process identifies a Long-Term Regional Transmission Facility that is estimated to be in service in year 10 of the 20-year Long-Term Regional Transmission Planning horizon, then the estimate of benefits for that same facility will commence at year 10 and cover an additional 20 years. Thus, the requirement to use a 20-year transmission planning horizon is separate and distinct from the requirement to calculate benefits of an identified Long-Term Regional Transmission Facility over a minimum of 20 years from its estimated in-service date.

¹⁹²⁰ GridLab Initial Comments at 6-8.

5. Evaluation of the Benefits of Portfolios of Transmission Facilities

a. NOPR Proposal

871. In the NOPR, the Commission proposed to provide transmission providers in each transmission planning region with the flexibility to propose to use a portfolio approach in the evaluation of benefits of regional transmission facilities through their Long-Term Regional Transmission Planning. Rather than mandating its use, the Commission encouraged the use of this approach by transmission providers.¹⁹²¹ The Commission proposed to require transmission providers that propose to use a portfolio approach to include in their OATTs provisions describing how they would analyze the benefits of regional transmission facilities under such an approach and whether the portfolio approach would be used for Long-Term Regional Transmission Planning universally or would be used only in certain specified instances.¹⁹²²

¹⁹²¹ NOPR, 179 FERC ¶ 61,028 at PP 233-234.

¹⁹²² Id. P 234.

b. Comments

i. General Interest in the Use of Portfolios

872. Most commenters who addressed the issue support the use of a portfolio approach to the evaluation of the benefits of regional transmission facilities in Long-Term Regional Transmission Planning, under which transmission providers would evaluate multiple transmission facilities in an aggregated, integrated fashion rather than doing so on a facility-by-facility basis.¹⁹²³ Exelon states that benefits assessments for portfolios are likely to be more robust and less sensitive to changes in study assumptions than project-by-project analyses, tend to have widely distributed benefits, which can help garner stakeholder support, and may provide for administrative efficiencies in transmission planning.¹⁹²⁴ ACEG states that portfolio planning more accurately evaluates the benefits that new transmission provides to the system.¹⁹²⁵ Georgia Commission states that evaluating transmission facilities collectively, rather than on a facility-by-facility basis, may provide a better picture of the benefits to each state or transmission planning region and result in a more robust selection of transmission facilities.¹⁹²⁶

¹⁹²³ See, e.g., Acadia Center and CLF Initial Comments at 10; ACEG Initial Comments at 49; ACORE Initial Comments at 2; AEP Initial Comments at 6, 27-28; Ameren Initial Comments at 19; Clean Energy Associations Initial Comments at 10; Eversource Initial Comments at 25; Exelon Initial Comments at 15-16; Joint Consumer Advocates Initial Comments at 11; Massachusetts Attorney General Initial Comments at 15-16; Pacific Northwest State Agencies Initial Comments at 7; PG&E Initial Comments at 8; PJM Reply Comments at 23; PIOs Initial Comments at 28; TANC Initial Comments at 16; US DOE Initial Comments at 34-35.

¹⁹²⁴ Exelon Initial Comments at 15-16, 18 (citing NOPR, 179 FERC ¶ 61,028 at P 233).

¹⁹²⁵ ACEG Initial Comments at 49.

¹⁹²⁶ Georgia Commission Initial Comments at 7.

873. Renewable Northwest states that using portfolios in transmission planning is a best practice because it more completely captures systems benefits and leads to cost efficiencies.¹⁹²⁷ Renewable Northwest also comments that singularly focused planning processes often fail to identify the most cost-effective and efficient investments and instead have led to a bottom-up approach that has created a patchwork of transmission projects with high costs largely borne by ratepayers.¹⁹²⁸ EEI explains that the portfolio approach comprehensively addresses a number of transmission needs while ensuring a “no regrets” set of beneficial regional transmission projects.¹⁹²⁹ Eversource states that a portfolio approach can allow transmission providers to devise a set of transmission solutions that collectively create the most value compared to a piecemeal process.¹⁹³⁰

¹⁹²⁷ Renewable Northwest Initial Comments at 9-10 (citing Brattle-Grid Strategies Oct. 2021 Report at 23).

¹⁹²⁸ Id. at 9.

¹⁹²⁹ EEI Initial Comments at 15.

¹⁹³⁰ Eversource Initial Comments at 25.

874. AEP states that the portfolio approach offers three advantages: (1) it enables transmission planning regions to identify transmission projects with synergistic benefits across transmission planning regions because regions will be able to recognize the efficiencies of a collection of transmission projects that provide greater overall value to the grid together than they each provide on an individual basis; (2) there are administrative efficiencies; and (3) a portfolio approach best incorporates consideration of non-transmission alternatives and grid-enhancing technologies.¹⁹³¹

¹⁹³¹ AEP Initial Comments at 27-28.

875. Numerous commenters point to the MISO Multi-Value Project process as an example of the successful use of portfolios.¹⁹³² Clean Energy Associations state that the Multi-Value Project process has resulted in lower interconnection costs for generators as compared to transmission upgrades planned in response to interconnection requests.¹⁹³³ US DOE suggests the Multi-Value Project process is an example of the use of portfolios to generate benefits that exceed costs.¹⁹³⁴ MISO states that it has worked with stakeholders to apply broad benefit metrics in the evaluation of Multi-Value Projects to identify portfolios of projects with benefits spread broadly throughout the region.¹⁹³⁵

¹⁹³² See, e.g., EEI Initial Comments at 15; Clean Energy Associations Initial Comments at 10; MISO Initial Comments at 14; US DOE Initial Comments at 34-35 (citing Brattle-Grid Strategies Oct. 2021 Report at 65-66).

¹⁹³³ Clean Energy Associations Initial Comments at 10.

¹⁹³⁴ US DOE Initial Comments at 35 (citing Brattle-Grid Strategies Oct. 2021 Report at 65-66).

¹⁹³⁵ MISO Initial Comments at 14.

876. Some commenters believe that the Commission should require the use of portfolios in the evaluation of benefits of regional transmission facilities.¹⁹³⁶ US DOE supports requiring transmission planners to evaluate the benefits of proposed transmission facilities as a portfolio, rather than as individual investments, to reduce the uncertainty of estimating system-level benefits, to simplify cost allocation, and to reduce administrative burden.¹⁹³⁷ US DOE states that if the portfolio approach is inappropriate in a particular circumstance, the impacted entities could petition the Commission, on a case-by-case basis, to describe their proposed alternative approach.¹⁹³⁸

¹⁹³⁶ Acadia Center and CLF Initial Comments at 4-5; ACEG Initial Comments at 31, 48-49; Cypress Creek Reply Comments at 8-9; ITC Initial Comments at 6, 23-24; Pattern Energy Initial Comments at 15-17; Pine Gate Initial Comments at 38-39; PIOs Initial Comments at 28; SEIA Initial Comments at 20-21; US DOE Initial Comments at 34-35; WATT Initial Comments at 8-9.

¹⁹³⁷ US DOE Initial Comments at 34-35.

¹⁹³⁸ Id. at 35.

877. New Jersey Commission states that the evidence from multiple studies of and experiences with long-term multi-driver and portfolio-based transmission planning proves that these approaches save ratepayers billions of dollars and failure to use them is per se unjust and unreasonable.¹⁹³⁹ Cypress Creek argues that a portfolio approach is essential to optimize benefits and reduce the likelihood of a state or agency derailing a transmission project with proven regional benefits.¹⁹⁴⁰

¹⁹³⁹ New Jersey Commission Initial Comments at 7.

¹⁹⁴⁰ Cypress Creek Reply Comments at 9.

878. PIOs state that the costs of a transmission project in a rural area that enhances access to renewable resources may exceed its benefits when evaluated alone, but, if evaluated with another project that relieves congestion, the two projects may support power flows that would not otherwise be possible.¹⁹⁴¹ PIOs further state that portfolio planning can reduce the risk that transmission projects are underutilized because they were built for a single resource that is no longer used or only a narrow set of users were considered.¹⁹⁴²

¹⁹⁴¹ PIOs Initial Comments at 31-32.

¹⁹⁴² Id. at 36.

879. ITC argues that the Commission should mandate the use of a portfolio approach in RTO/ISOs to ensure that the most efficient, cost-effective, and broadly beneficial set of transmission projects are selected in each transmission planning cycle.¹⁹⁴³ ITC states that the use of a portfolio approach ensures that the greatest number of subregions within a transmission planning region receive benefits from each transmission planning cycle and provides significant efficiency gains because transmission providers can examine the whole portfolio to ensure that benefits exceed costs.¹⁹⁴⁴

¹⁹⁴³ ITC Initial Comments at 6, 23-24.

¹⁹⁴⁴ Id. at 23.

880. Pattern Energy urges the Commission to require transmission providers to adopt portfolio approaches and explain why a portfolio approach was not (or could not be) identified in any Long-Term Regional Transmission Plan when an incremental transmission solution is proposed.¹⁹⁴⁵ Pattern Energy suggests that, if the Commission does not require portfolios, it should set a voltage threshold to identify portfolio solutions and require that transmission providers must explain why a portfolio approach was not taken when proposing incremental transmission facilities at voltage levels above 100 kV.¹⁹⁴⁶ Similarly, Shell states that if the Commission does not require a portfolio approach, it should require transmission providers to explain why portfolios are not being used.¹⁹⁴⁷

¹⁹⁴⁵ Pattern Energy Initial Comments at 15-17.

¹⁹⁴⁶ Id. at 17.

¹⁹⁴⁷ Shell Initial Comments at 16.

ii. Interest in Flexibility in the Use of Portfolios

881. Many other commenters assert that the Commission should only permit, not require, the use of portfolios in the evaluation of benefits.¹⁹⁴⁸ For example, Duke states that a facility-by-facility approach may be better suited if Long-Term Scenarios reveal the same or nearly identical constraints in discrete and isolated areas of the transmission grid where upgrades would be beneficial, whereas if Long-Term Scenarios reveal more disparate issues in different scenarios a portfolio approach may be better suited to gaining consensus and allowing for more even distribution of benefits.¹⁹⁴⁹ Duke asks the Commission to provide that, on compliance, a transmission provider may document processes for switching between or using both a facility-by-facility analysis and a portfolio approach.¹⁹⁵⁰

¹⁹⁴⁸ APPA Initial Comments at 32; Arizona Commission Initial Comments at 8; California Commission Initial Comments at 36-37; Dominion Initial Comments at 36; Duke Initial Comments at 25; Georgia Commission Initial Comments at 25; Michigan Commission Initial Comments at 8; MISO Initial Comments at 54; NARUC Initial Comments at 27-29; Nebraska Commission Initial Comments at 7-8; NESCOE Initial Comments at 45; NYISO Initial Comments at 9, 41-42; PPL Initial Comments at 16-17; SDG&E Initial Comments at 3; SPP Initial Comments at 10; TANC Initial Comments at 16; TAPS Initial Comments at 14; Vermont State Entities Initial Comments at 7; Xcel Initial Comments at 12.

¹⁹⁴⁹ Duke Initial Comments at 25-26.

¹⁹⁵⁰ Id. at 25.

882. Dominion Energy states that some transmission providers may not have a portfolio of transmission projects to examine. NYISO asserts that transmission providers should not be required to mix and match components of different transmission developers' proposed transmission solutions to develop a portfolio to address a single transmission need.¹⁹⁵¹ APPA and TANC urge the Commission to allow regional flexibility to use a portfolio approach to evaluate benefits.¹⁹⁵²

¹⁹⁵¹ NYISO Initial Comments at 41.

¹⁹⁵² APPA Initial Comments at 32; TANC Initial Comments at 16.

883. PPL argues that a portfolio approach should not be mandated because one-size-fits-all portfolio-based planning may have downsides and may not be applicable in all circumstances or transmission planning regions.¹⁹⁵³ PPL further states that relying on portfolios could lead to complications in siting and cost allocation.¹⁹⁵⁴ Relatedly, Michigan Commission argues that requiring portfolios could cause unnecessary delays for transmission projects that have strong stakeholder buy-in and incentivize including transmission projects less deserving of regional cost allocation purely to bolster assertions that all zones in multi-state RTOs/ISOs will benefit.¹⁹⁵⁵

¹⁹⁵³ PPL Initial Comments at 16-17.

¹⁹⁵⁴ Id. at 17.

¹⁹⁵⁵ Michigan Commission Initial Comments at 8.

884. CAISO states that portfolio planning should be optional, arguing that CAISO's sequential transmission planning approach achieves multi-benefit and holistic objectives without requiring a portfolio approach.¹⁹⁵⁶ CAISO explains that a project-by-project review does not mean examining only one transmission need at a time or failing to consider transmission projects that meet multiple needs or deliver multiple benefits.¹⁹⁵⁷

¹⁹⁵⁶ CAISO Reply Comments at 22.

¹⁹⁵⁷ Id. at 21-22.

iii. Interest in Including the Portfolio Approach in a Transmission Provider's OATT

885. In response to the Commission's proposal that a transmission provider that proposes a portfolio approach must include in its OATT a description of when it would use the approach and how it would analyze benefits, some commenters agree that even if use of portfolios is flexible, the Commission should have such a requirement.¹⁹⁵⁸ Vermont State Entities suggest that if a transmission provider elects to use a portfolio approach, it must include in its OATT a description of how it would use such an approach and whether that approach would be used universally or only in certain specified instances.¹⁹⁵⁹

¹⁹⁵⁸ Clean Energy Associates Initial Comments at 14; NESCOE Initial Comments at 45; Vermont State Entities Initial Comments at 7.

¹⁹⁵⁹ Vermont State Entities Initial Comments at 7.

iv. Integrating Economic and Reliability Planning With Long-Term Regional Transmission Planning

886. PIOs state that portfolio planning is necessary and that the use of portfolios should incorporate long-term reliability and economic needs and benefits along with long-term Public Policy Requirements, because doing so allows transmission providers to select transmission projects with the higher benefit-to-cost ratios that resolve needs at least cost.¹⁹⁶⁰ PIOs state that by assessing all transmission needs at once and evaluating potential solutions, stakeholders will be able to find more efficient solutions that address multiple transmission needs that affect different jurisdictions simultaneously.¹⁹⁶¹ PIOs ask that the final order allow transmission providers to continue to address unforeseen short-term local reliability needs but establish a rebuttable requirement that all long-term economic, public policy, and regional reliability needs and benefits will be assessed on a portfolio basis in Long-Term Regional Transmission Planning.¹⁹⁶²

¹⁹⁶⁰ PIOs Initial Comments at 30-32.

¹⁹⁶¹ Id. at 35.

¹⁹⁶² PIOs Initial Comments at 32.

887. SEPA states that the portfolio approach can be further enhanced by considering all categories of benefits: reliability, economic, public policy, and resilience.¹⁹⁶³ Likewise, SEIA states that the Commission should require portfolio-based planning that integrates all relevant factors, reliability, economic, and public policy, into Long-Term Regional Transmission Planning.¹⁹⁶⁴ Acadia Center and CLF discuss portfolio planning as integrating Long-Term Regional Transmission Planning with economic and reliability planning and state that the final order should require portfolio-based planning that assesses economic, reliability, and other needs at the same time.¹⁹⁶⁵

¹⁹⁶³ SEPA Initial Comments at 1.

¹⁹⁶⁴ SEIA Initial Comments at 20-21.

¹⁹⁶⁵ Acadia Center and CLF Initial Comments at 4-5.

v. Concerns With the Portfolio Approach

888. A few commenters express apprehension about the portfolio approach, including concerns that the use of portfolios may mask bad individual transmission projects in a portfolio or result in good transmission projects not being approved because of difficulties in obtaining multiple state approvals that may be necessary for a portfolio.¹⁹⁶⁶ For example, Pennsylvania Commission states that a portfolio approach may cause siting concerns if a single transmission project in a portfolio is found by a state siting authority to be inconsistent with its state's public interest and siting regulations.¹⁹⁶⁷ Idaho Commission opposes requiring the use of a portfolio under any circumstances, stating that flexibility is necessary in transmission planning. It further states that a Commission requirement to use a portfolio approach under certain circumstances without specifying what these circumstances are could result in unjust and unreasonable rates.¹⁹⁶⁸ Louisiana Commission also opposes any requirement to use a portfolio approach and disagrees with the NOPR's encouragement of such an approach.¹⁹⁶⁹

¹⁹⁶⁶ CAISO Reply Comments at 24; Duke Initial Comments at 25-26; Idaho Commission Initial Comments at 4; Louisiana Commission Initial Comments at 26; NARUC Initial Comments at 28; Pennsylvania Commission Initial Comments at 10; PPL Initial Comments at 17.

¹⁹⁶⁷ Pennsylvania Commission Initial Comments at 10.

¹⁹⁶⁸ Idaho Commission Initial Comments at 4.

¹⁹⁶⁹ Louisiana Commission Initial Comments at 26.

c. Commission Determination

889. We adopt the NOPR proposal to allow, but not require, transmission providers in each transmission planning region to use a portfolio approach when evaluating the benefits of Long-Term Regional Transmission Facilities. Further, we adopt with modification the NOPR proposal to require transmission providers that propose to use a portfolio approach when evaluating the benefits of Long-Term Regional Transmission Facilities to include provisions in their OATTs regarding their use of the portfolio approach. While we adopt the NOPR proposal to require transmission providers to include provisions in their OATTs regarding their use of a portfolio approach, we do not adopt the other proposed requirements. Specifically, we decline to adopt the NOPR proposal to require transmission providers to indicate whether a portfolio approach will be used universally or only in certain specified instances or to describe how they will analyze the benefits of regional transmission facilities under a portfolio approach. These requirements could impede transmission provider consideration and development of portfolio approaches. In response to Duke's request that the final order provide transmission providers with the flexibility to switch between or use both facility-by-facility and portfolio approaches,¹⁹⁷⁰ we clarify that transmission providers may use either or both facility-by-facility and portfolio approaches within the same Long-Term Regional Transmission Planning cycle.

¹⁹⁷⁰ Duke Initial Comments at 25-26.

890. We find that there are numerous advantages to a portfolio approach to evaluating benefits, including administrative efficiencies related to economies of scale and a more stable or even distribution of benefits that may result from a portfolio evaluation, which is likely to facilitate agreement on regional cost allocation. However, these advantages must be balanced against other considerations, and we therefore find that providing transmission providers in each transmission planning region with flexibility as to whether to use a portfolio approach is appropriate. Accordingly, we decline the request of some commenters ¹⁹⁷¹ to require transmission providers to use a portfolio approach.

¹⁹⁷¹ Acadia Center and CLF Initial Comments at 4-5; ACEG Initial Comments at 31, 48-49; Cypress Creek Reply Comments at 8-9; ITC Initial Comments at 6, 23-24; Pattern Energy Initial Comments at 16-18; Pine Gate Initial Comments at 38-39; PIOs Initial Comments at 28; SEIA Initial Comments at 20-21; US DOE Initial Comments at 34-35; WATT Initial Comments at 8-9.

6. Issues Related to Use of Benefits

a. NOPR Proposal

891. The Commission in the NOPR declined, consistent with Order No. 1000, to propose to prescribe any particular definition of “benefits” or “beneficiaries.” ¹⁹⁷²

¹⁹⁷² NOPR, 179 FERC ¶ 61,028 at P 183 & n.324 (citing Order No. 1000, 136 FERC ¶ 61,051 at PP 624-625).

b. Comments

892. Some commenters request specific definitions for the terms “benefits” or “beneficiaries” or offer guidance on definitions.¹⁹⁷³ NASUCA urges the Commission not to define benefits so broadly that every transmission project would qualify to be built, stating that overly broad benefit definitions reduce any rational relationship between cost allocation and identifiable beneficiaries.¹⁹⁷⁴

¹⁹⁷³ ELCON Initial Comments at 14-15; NASUCA Initial Comments at 10.

¹⁹⁷⁴ NASUCA Initial Comments at 10.

893. In contrast, other commenters agree with the Commission's proposal not to define “benefits” or “beneficiaries.” ¹⁹⁷⁵ For example, OMS and the Indiana Commission express support for the NOPR proposal to allow for flexibility in determining the definitions of benefits and beneficiaries for the purpose of selecting transmission facilities in Long-Term Regional Transmission Planning.¹⁹⁷⁶

¹⁹⁷⁵ APPA Initial Comments at 31-33; Clean Energy Buyers Reply Comments at 9; Georgia Commission Initial Comments at 6-7; Indiana Commission Initial Comments at 6-7; Louisiana Commission Reply Comments at 9-10; Nebraska Commission Initial Comments at 7; TANC Initial Comments at 16; US Chamber of Commerce Initial Comments at 7-8.

¹⁹⁷⁶ Indiana Commission Initial Comments at 6-7; OMS Initial Comments at 13.

894. Some commenters call for a state role in identifying benefits or metrics for use in Long-Term Regional Transmission Planning.¹⁹⁷⁷ California Commission states that the Commission should require transmission providers to demonstrate that they consulted with the Relevant State Entities in their transmission planning region regarding benefits metrics.¹⁹⁷⁸ California Commission further states that the Commission should require transmission providers to indicate in their compliance filings whether their proposed benefits and metrics are supported by the Relevant State Entities, as well as to explain any points of disagreement.¹⁹⁷⁹ Likewise, New York Commission and NYSERDA state that, especially in single-state RTOs/ISOs, the state should be afforded a central role in determining the benefits that transmission providers will consider and the metrics for quantifying them.¹⁹⁸⁰

¹⁹⁷⁷ California Commission Initial Comments at 35; Massachusetts Attorney General Initial Comments at 14; Michigan Commission Initial Comments at 7-8; NESCOE Initial Comments at 41-43; North Carolina Commission and Staff Initial Comments at 6; PJM Market Monitor Initial Comments at 4.

¹⁹⁷⁸ California Commission Initial Comments at 35.

¹⁹⁷⁹ Id.

¹⁹⁸⁰ New York Commission and NYSERDA Initial Comments at 8.

895. North Carolina Commission and Staff state that, given the focus of the NOPR on transmission needs driven by changes in the generation mix and demand, which are areas of state jurisdiction, the Commission should require state agreement at every stage of the Long-Term Regional Transmission Planning process from identification of transmission needs, to the evaluation of the benefits of regional transmission facilities to meet those needs, to establishment of selection criteria, and finally to establishment of a cost allocation method.¹⁹⁸¹ Similarly, NESCOE explains that, while transmission providers have the technical expertise to identify, calculate, and explain the benefits that a given transmission facility may provide, states must be involved where state laws and policies are the project drivers.¹⁹⁸² As such, NESCOE requests that the Commission require that transmission providers either elevate and codify the states' role in all four phases of Long-Term Regional Transmission Planning or explain how and why, following consultation with the Relevant State Entities, the transmission provider developed a different approach.¹⁹⁸³ NESCOE asserts that this requirement would ensure that states, if they so elect, have a defined role in the evaluation phase of Long-Term Regional Transmission Planning.¹⁹⁸⁴

¹⁹⁸¹ North Carolina Commission and Staff Initial Comments at 6.

¹⁹⁸² NESCOE Initial Comments at 41-43.

¹⁹⁸³ Id. at 9-10, 41-43.

¹⁹⁸⁴ Id. at 41-43.

896. Virginia Commission Staff contends that the NOPR-identified benefits should be used only if affected states agree to their use.¹⁹⁸⁵ PJM Market Monitor agrees that it makes sense to attempt an evaluation of a broad set of benefits and beneficiaries through increased state involvement.¹⁹⁸⁶

¹⁹⁸⁵ Virginia Commission Staff Initial Comments at 5.

¹⁹⁸⁶ PJM Market Monitor Initial Comments at 4.

897. Michigan Commission asserts that state regulators should be afforded substantial deference in identifying what benefit metrics and calculation methods should be used to justify long-term transmission plans, arguing that states with objections or concerns that an approved benefit metric is too speculative or otherwise inappropriate may find it more challenging to justify ratepayer investments and land condemnation in state siting proceedings.¹⁹⁸⁷ Massachusetts Attorney General states that the Commission should require that transmission providers establish an open and transparent process that provides states and other stakeholders with a meaningful opportunity to participate in the process of identifying the benefits to be used in Long-Term Regional Transmission Planning and determining how such benefits will be calculated.¹⁹⁸⁸ Several commenters state that decisions regarding benefit determination, metrics, and implementation of metrics should be made in coordination with all stakeholders.¹⁹⁸⁹ NRECA and Vermont State Entities assert that transmission providers should be required to demonstrate that all stakeholders are provided an opportunity to become fully aware of the analytic framework for incorporating benefits that will be used in Long-Term Regional Transmission Planning.¹⁹⁹⁰

¹⁹⁸⁷ Michigan Commission Initial Comments at 7-8.

¹⁹⁸⁸ Massachusetts Attorney General Initial Comments at 14.

¹⁹⁸⁹ NYISO Initial Comments at 37; NRECA Initial Comments at 46; Vermont State Entities Initial Comments at 6.

¹⁹⁹⁰ NRECA Initial Comments at 46; Vermont State Entities Initial Comments at 6.

898. PPL stresses the important role that states play in siting transmission facilities and the significance of benefits from transmission facilities in this process, cautioning that differences between states' and the Commission's delineation and evaluation of benefits will result in great uncertainty. PPL asserts that this uncertainty could lead to abandoned projects, costly litigation, and a largely underutilized planning tool, akin to transmission projects driven by public policy needs under Order No. 1000.¹⁹⁹¹

¹⁹⁹¹ PPL Initial Comments at 14-15.

899. In contrast, ACORE notes that the benefits of transmission facilities are often spread out among states regardless of the state policies contributing to the need for such transmission facilities.¹⁹⁹²

¹⁹⁹² ACORE Initial Comments at 12; ACORE Reply Comments at 6.

900. SoCal Edison urges the Commission not to decouple policy projects from reliability and economic projects in transmission planning, so as to reduce barriers to regional coordination and ensure analysis of all potential benefits of a transmission project.¹⁹⁹³

¹⁹⁹³ SoCal Edison Initial Comments at 12-13.

901. Indiana Commission states that it supports the NOPR proposal as long as the final order provides for an equitable cost allocation method that allocates costs to the cost causer and beneficiaries of regional transmission development.¹⁹⁹⁴

¹⁹⁹⁴ Indiana Commission Initial Comments at 6-7.

c. Commission Determination

902. Consistent with the NOPR, we continue to decline to define “benefits” or “beneficiaries.” We discuss above descriptions of the seven required benefits, and we further require transmission providers to propose a method to measure each of those benefits. These descriptions and requirements for these seven benefits will facilitate transparency regarding the use of benefits in Long-Term Regional Transmission Planning and represent an improvement in this respect over Order No. 1000, which lacked such descriptions.¹⁹⁹⁵ However, we do not believe that establishing a definition of “benefits” or “beneficiaries” would significantly improve upon these descriptions and we are concerned that any such definition could inadvertently exclude benefits and beneficiaries.

¹⁹⁹⁵ As noted above, we do not require transmission providers to include additional benefits that they use for purposes of evaluation and selection of Long-Term Regional Transmission Facilities in their OATTs.

903. We acknowledge comments requesting greater clarity regarding states' roles in determining benefits in their transmission planning regions and regarding the benefits that will be used by transmission providers in Long-Term Regional Transmission Planning, including NRECA's and Vermont State Entities' assertions that transmission providers should be required to demonstrate that all stakeholders (including state entities and load-serving entities) are provided an opportunity to become fully aware of the analytic framework for incorporating benefits that will be used in Long-Term Regional Transmission Planning.¹⁹⁹⁶ In response, we note this final order provides transmission providers with flexibility as to how they measure the seven required benefits, as well as flexibility to use additional benefits beyond the seven that we require. Consistent with other reforms in this final order incorporating an inclusive role for states in transmission planning, we encourage transmission providers to consult with states as they develop proposals to comply with the requirements of this final order and consider whether, and if so, how, to use additional benefits in Long-Term Regional Transmission Planning.¹⁹⁹⁷

¹⁹⁹⁶ NRECA Initial Comments at 46; Vermont State Entities Initial Comments at 6.

¹⁹⁹⁷ See supra Other Benefits section.

E. Evaluation and Selection of Long-Term Regional Transmission Facilities

1. Requirement To Adopt an Evaluation Process and Selection Criteria

a. NOPR Proposal

904. In the NOPR, the Commission proposed to require that transmission providers, as part of their Long-Term Regional Transmission Planning, include in their OATTs a transparent and not unduly discriminatory evaluation process and criteria to identify and evaluate transmission facilities (or portfolios of transmission facilities) for potential selection that address transmission needs driven by changes in the resource mix and demand.¹⁹⁹⁸ The Commission preliminarily found that the development and analysis of Long-Term Scenarios cannot remedy the deficiencies in the Commission's existing regional transmission planning requirements without the inclusion of such an evaluation process and selection criteria because, without them, transmission providers' Commission-jurisdictional rates may be unjust and unreasonable and unduly discriminatory and preferential.¹⁹⁹⁹

¹⁹⁹⁸ See NOPR, 179 FERC ¶ 61,028 at PP 241-242.

¹⁹⁹⁹ Id. P 250.

905. The Commission further proposed in the NOPR that, consistent with Order No. 1000, the developer of a transmission facility selected through Long-Term Regional Transmission Planning to address transmission needs driven by changes in the resource mix and demand would be eligible to use the applicable cost allocation method for the Long-Term Regional Transmission Facility.

b. Comments

906. Many commenters support the Commission's proposal to require transmission providers to include in their OATTs provisions providing criteria that they will use to identify and evaluate transmission facilities for potential selection to address transmission needs driven by changes in the resource mix and demand.²⁰⁰⁰ For example, Pacific Northwest State Agencies argue that this reform is critical to ensuring that Long-Term Regional Transmission Planning results in appropriate modeling and evaluation of Long-Term Regional Transmission Facilities.²⁰⁰¹ ACEG contends that transparent selection processes are key to reducing conflict (including costly litigation), developing legally sustainable long-term regional transmission plans, and maximizing benefits over time to consumers without over-building transmission facilities.²⁰⁰²

²⁰⁰⁰ ACEG Initial Comments at 9; ACORE Initial Comments at 14; Amazon Initial Comments at 9; Ameren Initial Comments at 20; APPA Initial Comments at 33; CARE Coalition Initial Comments at 11-12; Clean Energy Buyers Initial Comments at 22; Exelon Initial Comments at 17; GridLab Initial Comments at 19; NRECA Initial Comments at 25; Ørsted Initial Comments at 5-6; Pacific Northwest State Agencies Initial Comments at 19; PPL Initial Comments at 18; Resale Iowa Initial Comments at 7-8.

²⁰⁰¹ Pacific Northwest State Agencies Initial Comments at 19.

²⁰⁰² ACEG Initial Comments at 9, 58.

907. Other commenters oppose the Commission's proposal. Many of these commenters argue that Long-Term Regional Transmission Planning should be for informational purposes only and that the Commission should not require transmission providers to include selection criteria in their OATTs.²⁰⁰³ Alabama Commission contends that Long-Term Regional Transmission Planning should not involve selection or construction obligations unless the affected state regulators support such actions.²⁰⁰⁴ ELCON argues that selection should occur in “nearer-term planning (i.e., 10-15 years)” when there is greater certainty that there is a specific transmission need.²⁰⁰⁵

²⁰⁰³ Alabama Commission Initial Comments at 3; ELCON Initial Comments at 10; Kansas Commission Initial Comments at 14; NRECA Initial Comments at 23-24; NRG Initial Comments at 6, 14; Ohio Consumers Initial Comments at 20; see also NARUC Initial Comments at 5 (“Long-Term Regional Transmission Planning [should] be used as a planning tool and not a construction requirement.”); TANC Initial Comments at 10 (commenting that TANC “requests that the Commission clarify[ ] that the Commission is not proposing to require use of a 20-year planning horizon for . . . selecting Long-Term Regional Transmission Facilities”).

²⁰⁰⁴ Alabama Commission Initial Comments at 3. Relatedly, Avangrid argues that the Commission should more clearly articulate how selection affects the actual construction of the transmission facility. Avangrid Initial Comments at 17.

²⁰⁰⁵ ELCON Initial Comments at 10-11.

908. Some commenters argue that it is unnecessary for the Commission to require that transmission providers include additional selection criteria in their OATTs. For example, Dominion contends that Order No. 1000 already requires transmission providers to include selection criteria in their OATTs, and that the final order should allow, but not require, them to add to those existing selection criteria.²⁰⁰⁶ Idaho Commission also believes that Order No. 1000's requirements are adequate and argues that the Commission has not demonstrated that there is a need to modify them.²⁰⁰⁷ Similarly, Idaho Power argues that selection criteria specific to Long-Term Regional Transmission Planning are unnecessary in light of existing processes to identify and evaluate transmission facilities in the NorthernGrid transmission planning region.²⁰⁰⁸ NYISO requests that the Commission confirm that the final order will not require changes to or the replacement of existing selection criteria.²⁰⁰⁹ Chemistry Council argues that the Commission should affirm that transmission providers must continue addressing nearer-term regional transmission needs, giving significant weight to transmission facilities that meet customer and end-user needs, ensure grid reliability and energy security, and prevent abandonment of needed resources.²⁰¹⁰

²⁰⁰⁶ Dominion Initial Comments at 37 (citing NOPR, 179 FERC ¶ 61,028 at P 236).

²⁰⁰⁷ Idaho Commission Initial Comments at 4-5.

²⁰⁰⁸ Idaho Power Initial Comments at 8.

²⁰⁰⁹ NYISO Initial Comments at 43.

²⁰¹⁰ Chemistry Council Initial Comments at 6-7.

909. Clean Energy Buyers state that they support the NOPR proposal to grant eligibility to use the applicable cost allocation method to the developer of a Long-Term Regional Transmission Facility selected, subject to applicable development schedules. Clean Energy Buyers argue that this proposal could provide a more stable source of revenue and help resolve the “first-mover problem,” which in turn could support additional transmission development.²⁰¹¹

²⁰¹¹ Clean Energy Buyers Initial Comments at 21-22 (citing NOPR, 179 FERC ¶ 61,028 at P 247).

910. Finally, SPP contends that allowing transmission providers to include selection criteria in business practice manuals rather than their OATTs would give them more flexibility if they need to adjust study approaches.²⁰¹²

²⁰¹² SPP Initial Comments at 21-22.

c. Commission Determination

911. We adopt the NOPR proposal to require transmission providers in each transmission planning region to include in their OATTs an evaluation process, including selection criteria, that they will use to identify and evaluate Long-Term Regional Transmission Facilities for potential selection to address Long-Term Transmission Needs. We set forth requirements with respect to the evaluation process and selection criteria in the following sections.

912. We also adopt the NOPR proposal that, consistent with Order No. 1000, the transmission developer of a Long-Term Regional Transmission Facility that is selected, whether incumbent or nonincumbent, will be eligible to use the applicable cost allocation method for the Long-Term Regional Transmission Facility.

913. As explained above, transmission providers currently are not identifying or evaluating Long-Term Regional Transmission Facilities that might more efficiently or cost-effectively address Long-Term Transmission Needs and, therefore, do not have the opportunity to select such transmission facilities. We find that remedying these deficiencies in the Commission's existing regional transmission planning requirements requires the inclusion in transmission providers' OATTs of an evaluation process and selection criteria for Long-Term Regional Transmission Facilities, as outlined below, which, together with other aspects of this final order, will help to ensure that transmission providers' Commission-jurisdictional rates are just and reasonable and not unduly discriminatory or preferential.

914. We find that the inclusion in transmission providers' OATTs of an evaluation process and selection criteria for Long-Term Regional Transmission Facilities is essential to the reforms that we adopt in this final order. Without these essential components, Long-Term Regional Transmission Planning would merely inform the existing regional transmission planning processes rather than solving the deficiencies in the Commission's existing regional transmission planning requirements that we identify in this final order. The complete set of reforms that we adopt here are fundamental to resolving these deficiencies and to ensuring that transmission providers have the opportunity to select more efficient or cost-effective Long-Term Regional Transmission Facilities to meet Long-Term Transmission Needs. Therefore, we disagree with commenters who suggest that an evaluation process or selection criteria are unnecessary or inappropriate for the Long-Term Regional Transmission Planning ²⁰¹³ reforms that we adopt in this final order.

²⁰¹³ See, e.g., Alabama Commission Initial Comments at 3; Dominion Initial Comments at 37; ELCON Initial Comments at 10-11; Idaho Commission Initial Comments at 4-5; Idaho Power Initial Comments at 8; Kansas Commission Initial Comments at 14; NRECA Initial Comments at 23-24; NRG Initial Comments at 6, 14; TANC Initial Comments at 10; see also Ohio Consumers Initial Comments at 20 (arguing that a 20-year transmission planning horizon is inappropriate for constructing or allocating the costs of transmission facilities).

915. We understand that transmission providers might propose to re-purpose existing evaluation processes or selection criteria (with or without modifications thereto) to use in Long-Term Regional Transmission Planning. In their compliance filings, transmission providers must propose the evaluation process and selection criteria that they will use in Long-Term Regional Transmission Planning, and they must demonstrate that they meet the final order requirements. In response to NYISO's request,²⁰¹⁴ however, we clarify that nothing in this final order requires transmission providers to modify or replace selection criteria used in their existing reliability and economic Order No. 1000 regional transmission planning processes.

²⁰¹⁴ NYISO Initial Comments at 43. We reiterate that, as discussed above in the Participation in Long-Term Regional Transmission Planning section, transmission providers may propose to continue using some or all aspects of the existing regional transmission planning and cost allocation processes that they use to consider transmission needs driven by Public Policy Requirements, provided that transmission providers demonstrate that continued use of any such processes does not interfere with or otherwise undermine Long-Term Regional Transmission Planning as set forth in this final order.

916. As discussed below, to meet the requirements of this final order, transmission providers in each transmission planning region must establish a Long-Term Regional Transmission Planning evaluation process that: (1) identifies Long-Term Regional Transmission Facilities that address Long-Term Transmission Needs; (2) measures the benefits of the identified Long-Term Regional Transmission Facilities consistent with the final order requirements; and (3) designates a point in the evaluation process at which transmission providers will determine whether to select or not select identified Long-Term Regional Transmission Facilities in the regional transmission plan for purposes of cost allocation.²⁰¹⁵ We recognize the inherent uncertainty involved in identifying Long-Term Transmission Needs over the minimum transmission planning horizon adopted in this final order and in measuring the benefits that could be provided by Long-Term Regional Transmission Facilities. However, we continue to believe that there are selection criteria that transmission providers could adopt, following consultation with stakeholders and with Relevant State Entities in their transmission planning region's footprint, that minimize these risks while allowing for selection of Long-Term Regional Transmission Facilities that more efficiently or cost-effectively meet Long-Term Transmission Needs. We emphasize that we do not require transmission providers to select any particular Long-Term Regional Transmission Facilities but rather to adopt an evaluation process and selection criteria that meet the final order requirements. This evaluation process will ensure that Long-Term Regional Transmission Planning will provide transmission providers with a framework that allows for the selection of Long-Term Regional Transmission Facilities that more efficiently or cost-effectively address Long-Term Transmission Needs.²⁰¹⁶

²⁰¹⁵ See, e.g., NOPR, 179 FERC ¶ 61,028 at P 56 (setting forth requirements for Long-Term Regional Transmission Planning).

²⁰¹⁶ For these reasons, in addition to those discussed above, we disagree with ELCON that transmission providers should only select transmission facilities in “near-term planning (i.e., 10-15 years).” ELCON Initial Comments at 10-11.

917. We reiterate that, consistent with Order No. 1000,²⁰¹⁷ selection in the regional transmission plan does not entitle the transmission developer of a selected Long-Term Regional Transmission Facility to site or construct that transmission facility, nor does it obviate the need for the transmission developer to obtain other state, local, and/or Federal permits or authorizations. For this reason, we disagree with comments suggesting that the Commission proposed to do otherwise in the NOPR.²⁰¹⁸

²⁰¹⁷ E.g., Order No. 1000-A, 139 FERC ¶ 61,132 at P 191.

²⁰¹⁸ See, e.g., Alabama Commission Initial Comments at 3; Dominion Reply Comments at 8 (citing PIOs Initial Comments at 28; NARUC Initial Comments at 5-6, 39); NARUC Initial Comments at 5, 39.

918. Finally, we find that, consistent with the Commission's rule of reason,²⁰¹⁹ transmission providers' evaluation processes and selection criteria significantly affect rates, are reasonably susceptible to specification, and are not otherwise so generally understood as to render their recitation superfluous and therefore must be included in their OATTs. As such, we reject SPP's request that we allow transmission providers to instead maintain evaluation processes and selection criteria in their business practice manuals.²⁰²⁰

²⁰¹⁹ See Cal. Indep. Sys. Operator Corp., 185 FERC ¶ 61,210, at P 183 (2023) (citing Hecate Energy Greene Cnty. 3 LLC v. FERC, 72 F.4th 1307, 1314 (D.C. Cir. 2023); City of Cleveland v. FERC, 773 F.2d 1368, 1376 (D.C. Cir. 1985)).

²⁰²⁰ SPP Initial Comments at 21-22.

2. Flexibility

a. NOPR Proposal

919. Subject to certain minimum requirements, the Commission proposed in the NOPR to provide transmission providers with the flexibility to propose the selection criteria that they, in consultation with their stakeholders, believe will ensure that more efficient or cost-effective regional transmission facilities to address the region's transmission needs driven by changes in the resource mix and demand ultimately are selected.²⁰²¹ The Commission stated that this proposed flexibility would help accommodate regional differences, such as differences in transmission needs, factors driving those needs, and market structures.²⁰²² The Commission stated that providing flexibility to propose evaluation processes and selection criteria would allow transmission providers, in consultation with their stakeholders, to determine criteria for assessing the efficiency or cost-effectiveness of various regional transmission facilities, whether by reference, for example, to a benefit-cost ratio or by aggregate net benefits.²⁰²³ The Commission stated that it further believed this proposed flexibility would allow transmission providers in each transmission planning region to develop selection criteria that could sufficiently balance individual state interests within each transmission planning region.²⁰²⁴

²⁰²¹ NOPR, 179 FERC ¶ 61,028 at P 242.

²⁰²² Id. P 243.

²⁰²³ Id. P 243.

²⁰²⁴ Id. P 244.

b. Comments

920. Many commenters support the Commission's proposal to provide transmission providers with the flexibility to propose an evaluation process and selection criteria that they, in consultation with their stakeholders, believe will ensure that more efficient or cost-effective Long-Term Regional Transmission Facilities to address the transmission planning region's transmission needs driven by changes in the resource mix and demand ultimately are selected.²⁰²⁵

²⁰²⁵ APPA Initial Comments at 33-34; Avangrid Initial Comments at 17; California Commission Initial Comments at 37; Chemistry Council Initial Comments at 6; Duke Initial Comments at 26; Eversource Initial Comments at 26; GridLab Initial Comments at 19; ISO-NE Initial Comments at 35; MISO Initial Comments at 54; Nebraska Commission Initial Comments at 8; TAPS Initial Comments at 16; US Chamber of Commerce Initial Comments at 8.

921. For example, Nebraska Commission asserts that this flexibility will allow transmission providers to develop selection criteria that balance individual states' interests.²⁰²⁶ Eversource argues that flexibility will foster investments in cost-effective regional transmission facilities, accommodate differences in transmission needs between transmission planning regions, and encourage stakeholder engagement.²⁰²⁷ While NEPOOL supports flexibility as a general matter, it asserts that the Commission should articulate guiding principles for how selection decisions will be made and by whom, and guidelines regarding when transmission solutions should be selected to address long-term transmission needs.²⁰²⁸

²⁰²⁶ Nebraska Commission Initial Comments at 8 (citing NOPR, 179 FERC ¶ 61,028 at P 244).

²⁰²⁷ Eversource Initial Comments at 26 (citing NOPR, 179 FERC ¶ 61,028 at PP 242-243).

²⁰²⁸ NEPOOL Initial Comments at 7-8.

922. By contrast, some commenters argue that the Commission should establish pro forma selection criteria.²⁰²⁹ Clean Energy Associations argues that doing so would enhance transparency, minimize differences across seams, and enable state regulators, consumers, and other market participants to evaluate transmission projects that result from Long-Term Regional Transmission Planning on an apples-to-apples basis.²⁰³⁰ Similarly, SEIA urges the Commission to establish a set of minimum requirements for selecting transmission facilities in Long-Term Regional Transmission Planning, arguing that transmission planning regions otherwise may fail to select transmission facilities that provide significant regional benefits.²⁰³¹ For its part, Clean Energy Buyers contends that adopting pro forma selection criteria would provide greater transparency and consistency across transmission planning regions, hopefully help to avoid disputes, and allow for consultation with states and other stakeholders.²⁰³²

²⁰²⁹ See, e.g., ACORE Reply Comments at 5-6 (citing Policy Integrity Initial Comments at 2-3); Policy Integrity Initial Comments at 2-3.

²⁰³⁰ Clean Energy Associations Initial Comments at 22-23.

²⁰³¹ SEIA Initial Comments at 5, 19.

²⁰³² Clean Energy Buyers Initial Comments at 22-23.

923. Acadia Center and CLF argue that requiring a minimum set of selection criteria will provide critical information to transmission providers who rely on the Commission to make clear what considerations they may weigh in Long-Term Regional Transmission Planning, facilitating more productive conversations at the regional level.²⁰³³

²⁰³³ Acadia Center and CLF Initial Comments at 10-11.

c. Commission Determination

924. Subject to the requirements described further below, we adopt the NOPR proposal to require transmission providers in each transmission planning region to propose, after consultation with Relevant State Entities and other stakeholders, evaluation processes, including selection criteria, that they believe will ensure that more efficient or cost-effective Long-Term Regional Transmission Facilities are selected to address the transmission planning region's Long-Term Transmission Needs. We believe that providing transmission providers with this flexibility will allow them to design evaluation processes and selection criteria that can accommodate regional differences.

925. We reject requests that, instead of providing transmission providers with flexibility, we set forth standard evaluation processes and selection criteria in this final order that transmission providers would be required to adopt.²⁰³⁴ While we recognize that there may be some benefits to doing so, we also find that transmission planning regions have different transmission needs and market structures that make designing a standard evaluation process and selection criteria difficult.

²⁰³⁴ Acadia Center and CLF Initial Comments at 10-11; Clean Energy Associations Initial Comments at 22-23; SEIA Initial Comments at 5, 19.

926. In response to NEPOOL,²⁰³⁵ we clarify that transmission providers make the selection decisions in Long-Term Regional Transmission Planning. Although we do not require transmission providers to select any particular Long-Term Regional Transmission Facility to address Long-Term Transmission Needs, as discussed below in the No Selection Requirement section, we do set forth minimum requirements with respect to the evaluation process and selection criteria, which will help to ensure that transmission providers select Long-Term Regional Transmission Facilities to more efficiently or cost-effectively address Long-Term Transmission Needs.

²⁰³⁵ NEPOOL Initial Comments at 8.

3. Minimum Requirements

a. NOPR Proposal

927. In the NOPR, the Commission proposed certain minimum requirements such that transmission providers' selection criteria must (1) be transparent and not unduly discriminatory; (2) aim to ensure that more efficient or cost-effective transmission facilities are selected in the regional transmission plan for purposes of cost allocation; and (3) seek to maximize benefits to consumers over time without over-building transmission facilities.²⁰³⁶ The Commission noted that, to comply with the Order Nos. 890 and 1000 transmission planning principles, the evaluation process must result in a determination that is sufficiently detailed for stakeholders to understand why a particular transmission facility was selected or not selected in the regional transmission plan for purposes of cost allocation to address transmission needs driven by changes in the resource mix and demand.²⁰³⁷ The Commission stated that the evaluation process and, specifically, the selection criteria, must seek to maximize benefits to consumers over time without over-building transmission facilities.²⁰³⁸

²⁰³⁶ NOPR, 179 FERC ¶ 61,028 at PP 241-242, 245.

²⁰³⁷ Id. P 242 (citing Order No. 1000, 136 FERC ¶ 61,051 at P 328).

²⁰³⁸ Id.

928. The Commission stated that providing flexibility to propose selection criteria would allow transmission providers, in consultation with their stakeholders, to determine criteria for assessing the efficiency or cost-effectiveness of various regional transmission facilities, whether by reference, for example, to a benefit-cost ratio or by aggregate net benefits.²⁰³⁹ The Commission also stated that transmission providers would have the flexibility to propose to use a portfolio approach in selecting regional transmission facilities that address transmission needs driven by changes in the resource mix and demand.²⁰⁴⁰ The Commission proposed to require transmission providers that propose such an approach to include in their OATTs provisions describing whether the selection criteria would apply to one proposed regional transmission facility or to a portfolio of regional transmission facilities, as well as whether the portfolio approach would be used for Long-Term Regional Transmission Planning universally to address transmission needs driven by changes in the resource mix and demand or would be used only in certain specified instances.²⁰⁴¹

²⁰³⁹ Id. P 243.

²⁰⁴⁰ Id. P 249.

²⁰⁴¹ Id.

929. The Commission recognized the inherent uncertainty involved in predicting future transmission needs, including those driven by changes in the resource mix and demand, as well as the concerns that many commenters expressed in response to the ANOPR that imperfect information may lead to selecting transmission facilities that become stranded assets.²⁰⁴² The Commission also stated that there are selection criteria that transmission providers could adopt, following consultation with stakeholders and with Relevant State Entities in their transmission planning region's footprint, that could minimize these risks while allowing for investment in transmission facilities that more efficiently or cost-effectively meet transmission needs driven by changes in the resource mix and demand.²⁰⁴³ The Commission noted that under a “least-regrets” approach, for example, transmission providers in a transmission planning region would select a transmission facility (or portfolio of transmission facilities) that is net-beneficial in most or all Long-Term Scenarios, even if other transmission facilities have more net benefits or a higher benefit-cost ratio in a single Long-Term Scenario. The Commission stated that another approach is a “weighted-benefits approach,” in accordance with which transmission providers in a transmission planning region would select a transmission facility (or portfolio of regional transmission facilities) based on its probability-weighted average benefits, where probabilities have been assigned to each Long-Term Scenario studied.²⁰⁴⁴

²⁰⁴² Id. P 251.

²⁰⁴³ Id.

²⁰⁴⁴ Id. (citing Brattle-Grid Strategies Oct. 2021 Report at 59-60).

b. Comments

930. Commenters make a wide variety of arguments with respect to the minimum requirements that the Commission should impose with respect to evaluation processes and selection criteria. Many commenters support the Commission's proposal to require that selection criteria: (1) be transparent and not unduly discriminatory; (2) aim to ensure that more efficient or cost-effective transmission facilities are selected in the regional transmission plan for purposes of cost allocation to address transmission needs driven by changes in the resource mix and demand; and (3) seek to maximize benefits to consumers over time without over-building transmission facilities.²⁰⁴⁵

²⁰⁴⁵ See ACEG Initial Comments at 58-59; ACORE Initial Comments at 14; Amazon Initial Comments at 9; APPA Initial Comments at 33-34; CARE Coalition Initial Comments at 11-12; NESCOE Initial Comments at 46; NRECA Initial Comments at 25; Ørsted Initial Comments at 5-6; Pacific Northwest State Agencies Initial Comments at 19; PPL Initial Comments at 17-18; TAPS Initial Comments at 16.

931. Some commenters generally support the Commission's proposal with certain modifications. For example, Ameren argues that requiring selection criteria to maximize benefits to consumers over time without over-building transmission facilities is highly subjective, because such a requirement could refer to maximizing gross or net benefits and because certain interpretations could override the consideration of costs.²⁰⁴⁶ Vistra likewise argues that the directive to maximize benefits to consumers over time without over-building transmission facilities is unhelpfully vague and that maximizing benefits should not be understood to disregard costs.²⁰⁴⁷ WATT Coalition states that the Commission should require maximization of net benefits and cautions that it would be unjust and unreasonable to ignore benefits or costs in the assessment of options.²⁰⁴⁸

²⁰⁴⁶ Ameren Initial Comments at 20 (citing NOPR, 179 FERC ¶ 61,028 at P 243 n.390).

²⁰⁴⁷ Vistra Initial Comments at 17-18.

²⁰⁴⁸ WATT Coalition Initial Comments at 9.

932. GridLab argues that selection criteria should seek to manage uncertainty and risk, stating that the Commission should clarify that the criteria must address not only the risk of over-building but also of under-building transmission.²⁰⁴⁹ In contrast, New York State Department argues that selection criteria should be designed to minimize the financial risk to ratepayers of over-building the transmission system.²⁰⁵⁰ NYISO requests clarification on the definition of over-building and argues that the final order should provide additional guidance on how transmission planning regions should address this risk. NYISO contends that the final order should treat the risk of over-building as an additional qualitative criterion that transmission planning regions should consider, as informed by open and transparent stakeholder review.²⁰⁵¹

²⁰⁴⁹ GridLab Initial Comments at 19.

²⁰⁵⁰ New York State Department Initial Comments at 4.

²⁰⁵¹ NYISO Initial Comments at 43.

933. EEI contends that it is appropriate for the Commission to provide guidance by providing non-mandatory factors for transmission planning regions to consider.²⁰⁵² ELCON argues that transparency with respect to selection criteria requires that the criteria and their proper weighting must be clear and easily accessible to consumers through transmission providers' OASIS and OATT.²⁰⁵³

²⁰⁵² EEI Initial Comments at 45-46.

²⁰⁵³ ELCON Initial Comments at 17.

934. Commenters make several arguments with respect to the metrics that the Commission should allow or require transmission providers to use when evaluating whether to select Long-Term Regional Transmission Facilities. For example, some commenters argue that transmission providers should select transmission facilities by using metrics that seek to maximize net benefits instead of ones that rely on benefit-cost ratios.²⁰⁵⁴ ACEG argues that the Commission can require metrics that seek to maximize net benefits using the same authority it relied upon in promulgating Order No. 1000.²⁰⁵⁵

²⁰⁵⁴ ACEG Initial Comments at 49-50; Breakthrough Energy Initial Comments at 23; Clean Energy Associations Initial Comments at 22; DC and MD Offices of People's Counsel Initial Comments at 33; Evergreen Action Initial Comments at 4; ITC Initial Comments at 25; WATT Coalition Initial Comments at 9.

²⁰⁵⁵ See ACEG Initial Comments at 49-50 (citing S.C. Pub. Serv. Auth. v. FERC, 762 F.3d at 58).

935. Breakthrough Energy states that, while metrics such as benefit-cost ratios are useful indicators, the efficient solution is the one that maximizes net benefits.²⁰⁵⁶ WATT Coalition contends that, in Australia, the transmission planner lists all transmission facility alternatives ranked by the net present value of the consumer benefits that the alternatives would provide, and selects the option that provides the most benefits in the absence of a compelling reason not to do so.²⁰⁵⁷

²⁰⁵⁶ Breakthrough Energy Initial Comments at 23.

²⁰⁵⁷ WATT Coalition Initial Comments at 9.

936. MISO argues that selection criteria should maximize long-term transmission value, defined as the difference between total benefits and total costs on a present value basis over a pre-determined transmission planning horizon.²⁰⁵⁸ MISO contends that using such a metric is important when benefit-cost ratios are high and transmission expansion is substantial, as many of the benefits provided by new transmission facilities are difficult to quantify in terms of dollars despite providing significant qualitative benefits.²⁰⁵⁹ Relatedly, CTC Global argues that selecting transmission facilities with the lowest capital costs is no longer a best practice, in light of increased debate in many RTOs/ISOs about issues such as mandated resource mixes, compensation in capacity markets, transmission planning criteria and cost allocation, and carbon taxes.²⁰⁶⁰ CTC Global asserts that, if a transmission project is selected with least capital cost as a selection criterion, consumers will pay higher energy costs and higher total costs than what they would pay if the Commission were to require transmission providers to evaluate the NOPR's proposed benefits as well as cost.²⁰⁶¹

²⁰⁵⁸ MISO Initial Comments at 55-56.

²⁰⁵⁹ Id.

²⁰⁶⁰ CTC Global Initial Comments at 6-7 (citing State Voluntary Agreements to Plan and Pay for Transmission Facilities, 175 FERC ¶ 61,225 (2021) (Christie, Comm'r, concurring at PP 4-5)).

²⁰⁶¹ Id. at 9.

937. Commenters also offer a variety of perspectives regarding benefit-cost ratios. Clean Energy Associations recommend that, if the Commission continues to allow benefit-cost ratios, such ratios not exceed Order No. 1000's maximum allowable benefit-cost ratio of 1.25-to-1.00.²⁰⁶² ITC argues that, if the Commission allows transmission providers to use benefit-cost ratios, it should require the use of a 1.00-to-1.00 benefit-cost ratio for the evaluation of candidate portfolios.²⁰⁶³ Cypress Creek asserts that the Commission should retain the maximum permitted benefit-cost ratio of 1.25-to-1.00 and consider lowering that threshold to 1.00-to-1.00 because a transmission facility with a benefit-cost ratio of at least 1.00-to-1.00 is beneficial.²⁰⁶⁴

²⁰⁶² Clean Energy Associations Initial Comments at 22.

²⁰⁶³ ITC Initial Comments at 25-26.

²⁰⁶⁴ See Cypress Creek Reply Comments at 8 & n.14 (citing Order No. 1000, 136 FERC ¶ 61,051 at P 646).

938. Pattern Energy argues that the existing maximum 1.25-to-1.00 allowable benefit-cost ratio is too high for purposes of Long-Term Regional Transmission Planning. Pattern Energy explains that scenarios and sensitivities typically are created to bookend what the future may look like, and those bookends are often weighted lower than a “business as usual” scenario. In this context, Pattern Energy argues that a lower benefit-to-cost ratio is necessary because the standard to approve transmission facilities is so high that transmission ratepayers are not receiving an appropriate opportunity to realize the value of new transmission infrastructure. Pattern Energy suggests that a more reasonable benefit-cost ratio would be 1.10-to-1.00 but notes that a higher benefit-to-cost ratio may be appropriate to evaluate a portfolio of transmission facilities (e.g., 1.15-1.25).²⁰⁶⁵

²⁰⁶⁵ Pattern Energy Initial Comments at 14-15.

939. By contrast, New York State Department asserts that transmission providers should not select a transmission facility unless benefits in the long term greatly exceed costs and that adopting a much higher benefit-cost ratio than the existing 1.25 standard may be required (e.g., 2.25-to-1.00).²⁰⁶⁶

²⁰⁶⁶ New York State Department Initial Comments, Montalvo Aff. at 14-15.

940. Some commenters express support for least-regrets ²⁰⁶⁷ or weighted-benefits approaches ²⁰⁶⁸ to selecting transmission facilities in Long-Term Regional Transmission Planning. For example, National Grid argues that identifying least-regrets transmission facilities should be the goal of Long-Term Regional Transmission Planning.²⁰⁶⁹

²⁰⁶⁷ See Avangrid Initial Comments at 10-11; Eversource Initial Comments at 26-27; Exelon Initial Comments at 18; GridLab Initial Comments at 19-20; National Grid Initial Comments at 11-12; NRECA Initial Comments at 48; PG&E Initial Comments at 6.

²⁰⁶⁸ See ACORE Initial Comments at 14 (citing Brattle-Grid Strategies Oct. 2021 Report at 59-60; Derek Stenclik and Ryan Deyoe, Multi-Value Transmission Planning for a Clean Energy Future: A Report of the Transmission Benefits Valuation Task Force, Energy Systems Integration Group, 37 (June 2022), https://www.esig.energy/wp-content/uploads/2022/07/ESIG-Multi-Value-Transmission-Planning-report-2022a.pdf) (Energy Systems Integration Group June 2022 Report)); Clean Energy Associations Initial Comments at 22 (citing NOPR, 179 FERC ¶ 61,028 at P 251).

²⁰⁶⁹ National Grid Initial Comments at 11-12 (citing National Grid ANOPR Initial Comments at 16).

941. Avangrid explains that “no regrets” or “low regrets” transmission facilities are those that likely will be needed under multiple scenarios and a broad range of assumptions.²⁰⁷⁰ PG&E agrees and argues that these transmission facilities are most likely to realize projected benefits.²⁰⁷¹ PG&E states that transmission facilities that provide more limited benefits or benefits under a limited number of scenarios may require additional study and should not be selected until there is more certainty that their benefits will be realized.²⁰⁷²

²⁰⁷⁰ Avangrid Initial Comments at 10-11.

²⁰⁷¹ PG&E Initial Comments at 6.

²⁰⁷² Id.

942. Exelon also advocates for a least-regrets approach, arguing that it minimizes risk and maximizes value for customers and transmission owners.²⁰⁷³ Eversource contends that a least-regrets approach is most likely to build the consensus among stakeholders that can support transmission facilities through planning, financing, siting, and cost allocation.²⁰⁷⁴ NRECA argues that a least-regrets approach will help mitigate the risk that consumers will pay for unnecessary transmission facilities.²⁰⁷⁵

²⁰⁷³ Exelon Initial Comments at 18.

²⁰⁷⁴ Eversource Initial Comments at 26-27.

²⁰⁷⁵ NRECA Initial Comments at 48.

943. ACORE recommends the use of a weighted-benefits approach, which ACORE argues has been endorsed in recent expert reports on transmission planning.²⁰⁷⁶ Dominion sees promise in both least-regrets and weighted-benefits approaches but argues that requiring transmission providers to propose specific selection criteria may result in litigation, delay, and increased costs.²⁰⁷⁷

²⁰⁷⁶ ACORE Initial Comments at 14 (citing Brattle-Grid Strategies Oct. 2021 Report at 59-60; Energy Systems Integration Group June 2022 Report at 37).

²⁰⁷⁷ See Dominion Initial Comments at 38.

944. New England for Offshore Wind argues that the Commission should require transmission providers to give preference to transmission facilities that perform well under a range of scenarios.²⁰⁷⁸ A number of commenters caution, however, that the Commission should allow transmission providers to select transmission facilities even where they are not net-beneficial in every Long-Term Scenario.²⁰⁷⁹

²⁰⁷⁸ New England for Offshore Wind Initial Comments at 2; see also Clean Energy Associations Initial Comments at 22 (arguing for selecting transmission facilities that maximize net benefits across multiple scenarios).

²⁰⁷⁹ ACEG Initial Comments at 7, 30; ACORE Initial Comments at 14; Evergreen Action Initial Comments at 4; Pine Gate Initial Comments at 37-38.

945. A number of commenters recommend accounting for siting considerations in various ways in the selection of transmission facilities. For example, CARE Coalition recommends that the Commission require transmission providers to work with state authorities and other stakeholders to develop environmental- and energy justice-based siting criteria to guide transmission project selection and cost allocation.²⁰⁸⁰ CARE Coalition also states that the Commission should allow RTOs/ISOs to take a flexible approach to identifying siting-based criteria that consider local and regional impacts, local and regional energy justice impacts (including use of existing transmission corridors and investment flow to disadvantaged communities as defined by the President's Justice40 Initiative), integration with plans for energy storage, and integration with major infrastructure development plans (e.g., highways, rail corridors).²⁰⁸¹ CARE Coalition states that planners and stakeholders should consider the economic, environmental, and other impacts associated with the full expected useful lives of proposed transmission and associated facilities.²⁰⁸²

²⁰⁸⁰ CARE Coalition Initial Comments at 7-8.

²⁰⁸¹ Id. at 10.

²⁰⁸² Id.

946. Similarly, ACEG recommends selection criteria that account for whether potential transmission facilities use existing rights-of-way, contribute to equitable energy service, alleviate environmental justice concerns, or impact employment and economic development.²⁰⁸³ Exelon also recommends giving preference to approaches that prioritize existing rights-of-way, given that they are more readily accomplished and have fewer environmental impacts than greenfield transmission projects.²⁰⁸⁴

²⁰⁸³ ACEG Initial Comments at 59.

²⁰⁸⁴ Exelon Initial Comments at 18.

947. Acadia Center and CLF urge the Commission to provide transmission providers clear guidance, by adopting minimum selection criteria in the final order, on their ability to consider factors such as environmental justice, mitigating environmental impacts, use of existing transmission facilities, and non-transmission alternatives, which have community and environmental benefits. Acadia Center and CLF contend that the consideration of these issues is consistent with NEPA, the FPA, and state law, and that, in the absence of such guidance, transmission providers may continue to exclude consideration of these issues given concerns regarding their authority and jurisdiction to do so.²⁰⁸⁵ Grand Rapids NAACP also argues that the Commission has the authority to require that transmission providers explicitly incorporate energy equity and justice concerns into selection criteria, and that the Commission should do so in a final order.²⁰⁸⁶ WE ACT states that equity considerations and other non-energy benefits (e.g., pollution reduction, health, jobs, and local economic development) should be among the benefits that transmission providers could use in selecting transmission facilities.²⁰⁸⁷ PIOs assert that the Commission should require transmission providers to consider equity impacts when determining which transmission facilities to select, including whether construction of such facilities will impact environmental justice communities and what the cumulative impacts of the facilities will be.²⁰⁸⁸

²⁰⁸⁵ Acadia Center and CLF Initial Comments at 11-12.

²⁰⁸⁶ Grand Rapids NAACP Initial Comments at 17-23 (citations omitted).

²⁰⁸⁷ WE ACT Initial Comments at 5.

²⁰⁸⁸ PIOs Reply Comments at 17 (citations omitted).

948. DC and MD Offices of People's Counsel suggest that transmission providers should select transmission facilities that optimize the interconnection of portfolios of generation resources, including those that deliver benefits arising from grid decarbonization and the benefits set forth in the NOPR.²⁰⁸⁹ Eversource argues that the Commission should consider requiring transmission providers to address needs identified in high-impact, low-frequency event scenarios, such that selection criteria would accommodate worst-case scenarios like Winter Storm Uri.²⁰⁹⁰ Exelon urges that selection criteria be tied to well-established and defined needs, like reliability and market economics, such as reduced production costs, congestion, or capacity costs.²⁰⁹¹

²⁰⁸⁹ DC and MD Offices of People's Counsel Initial Comments at 38-39.

²⁰⁹⁰ Eversource Initial Comments at 26-27 (citing FERC, North American Electric Reliability Corporation, Regional Entity Staff Report, The February 2021 Cold Weather Outages in Texas, and the South-Central United States (Nov. 2021), https://www.ferc.gov/media/february-2021-cold-weather-outages-texas-and-south-central-united-states-ferc-nerc-and).

²⁰⁹¹ Exelon Initial Comments at 18.

949. Duke asserts that selection of a transmission facility in the absence of clear consensus from load-serving entities, states, and/or customers would be problematic and thwart the Commission's objectives, especially where certain transmission facilities will not be supported by state commissions in siting decisions or by consumer advocates in cost recovery proceedings.²⁰⁹² As such, Duke argues that the Commission should allow transmission providers to include a qualitative selection criterion of whether there is state and consumer support for a particular Long-Term Regional Transmission Facility or portfolio of facilities.²⁰⁹³ New York TOs state that New York Commission should retain its flexibility under NYISO's public policy transmission planning process such that, when the New York Commission identifies a transmission need driven by Public Policy Requirements, it can also require certain selection criteria in addition to those in NYISO's OATT.²⁰⁹⁴

²⁰⁹² Duke Initial Comments at 26-27.

²⁰⁹³ Id. at 4, 26-27.

²⁰⁹⁴ New York TOs Initial Comments at 9, 11-12, 15.

950. NYISO contends that the final order should continue to allow transmission providers to use a range of qualitative and quantitative criteria to rank and select transmission projects as the more efficient or cost-effective transmission facility.²⁰⁹⁵ ACEG encourages the Commission to provide guidance in the final order as to selection criteria that meet its requirements, arguing that doing so would facilitate efficient compliance proceedings.²⁰⁹⁶

²⁰⁹⁵ NYISO Initial Comments at 39-40.

²⁰⁹⁶ ACEG Initial Comments at 59.

951. Maine Public Advocate also argues that the Commission should require transmission providers to select non-transmission alternatives when they meet an identified transmission need at the same or lower cost.²⁰⁹⁷

²⁰⁹⁷ Maine Public Advocate Initial Comments at 1-2.

952. TAPS asserts that the Commission should require transmission providers to explain how their selection criteria would account for the uncertainty involved in predicting future transmission needs and to report “Affordability Metrics” that disclose the impact that selection of a particular transmission facility would have on transmission rates.²⁰⁹⁸ TAPS argues that these “Affordability Metrics” would enhance the transparency of stakeholder processes in Long-Term Regional Transmission Planning and assist states in discussions about cost allocation and in considering whether to voluntarily fund a particular transmission facility or portfolio of transmission facilities.²⁰⁹⁹

²⁰⁹⁸ TAPS Initial Comments at 16-17.

²⁰⁹⁹ Id. at 19-20 (citing Alliant Energy, et al., ANOPR Initial Comments at 14; Alliant Energy, et al., ANOPR Reply Comments at 2-3).

953. ELCON states that, given the potential for massive transmission investment in the next 10 to 25 years, it is vitally important that consumers be protected from any unnecessary costs.²¹⁰⁰ As such, ELCON argues that selection criteria must incorporate metrics for reliability and economic efficiency, incorporate all potential drivers of transmission needs, and afford greater weight to those transmission facilities that produce benefits in more than one category.²¹⁰¹

²¹⁰⁰ ELCON Initial Comments at 16 (citing Eric Larson et al., Net-Zero America: Potential Pathways, Infrastructure, and Impacts, Net Zero America, 108 (Oct. 29, 2021), https://www.dropbox.com/s/ptp92f65lgds5n2/Princeton%20NZA%20FINAL%20REPORT%20%2829Oct2021%29.pdf?dl=0).

²¹⁰¹ Id.

c. Commission Determination

i. Transparent and Not Unduly Discriminatory; More Efficient or Cost-Effective Transmission Facilities

954. We adopt the NOPR proposal, with modification, to require transmission providers in each transmission planning region to propose evaluation processes, including selection criteria, that are transparent and not unduly discriminatory. Consistent with Order No. 1000,²¹⁰² we adopt the NOPR proposal to establish a requirement that transmission providers' evaluation of transmission facilities must culminate in a determination that is sufficiently detailed for stakeholders to understand why a particular Long-Term Regional Transmission Facility (or portfolio of such Facilities) was selected or not selected. As discussed further below, we modify the NOPR proposal to include a requirement that the determination of why a particular Long-Term Regional Transmission Facility (or portfolio of such Facilities) was selected or not selected must include the measured benefits for each alternative Long-Term Regional Transmission Facility (or portfolio of such Facilities) considered in the Long-Term Regional Transmission Planning process.

²¹⁰² Order No. 1000, 136 FERC ¶ 61,051 at P 328.

955. We also adopt the NOPR proposal, with modification, to require transmission providers to propose on compliance evaluation processes, including selection criteria, that aim to ensure that more efficient or cost-effective Long-Term Regional Transmission Facilities are selected to address Long-Term Transmission Needs. We modify the NOPR proposal to provide additional clarity as to how transmission providers' evaluation processes must aim to ensure the selection of more efficient or cost-effective Long-Term Regional Transmission Facilities to address Long-Term Transmission Needs by adopting several requirements. First, transmission providers in a transmission planning region must identify one or more Long-Term Regional Transmission Facilities (or portfolio of such Facilities) that address the Long-Term Transmission Needs that the transmission providers have identified through Long-Term Regional Transmission Planning. As part of this identification, consistent with Order Nos. 890 and 1000,²¹⁰³ nonincumbent transmission developers must be able to propose transmission facilities in Long-Term Regional Transmission Planning. Thus, we clarify that transmission providers in each transmission planning region must make clear in their OATTs the point in the Long-Term Regional Transmission Planning evaluation process at which they will accept Long-Term Regional Transmission Facility proposals from stakeholders, including nonincumbent transmission developers. Second, transmission providers' evaluation processes must estimate the costs and measure the benefits of the Long-Term Regional Transmission Facilities (or portfolio of such Facilities) that are identified or proposed for potential selection, in addition to evaluating the identified Long-Term Regional Transmission Facilities (or portfolio of such Facilities) using any qualitative or other quantitative selection criteria that the transmission providers in a transmission planning region propose to apply. Third, transmission providers must designate a point in the evaluation process at which transmission providers will determine whether to select or not select identified Long-Term Regional Transmission Facilities (or portfolio of such Facilities).²¹⁰⁴ This point must be no later than three years following the beginning of the Long-Term Regional Transmission Planning cycle.²¹⁰⁵ Finally, the evaluation process must culminate in determinations that are sufficiently detailed for stakeholders to understand why a particular Long-Term Regional Transmission Facility (or portfolio of such Facilities) was selected or not selected. We reiterate, however, that, as discussed further below in the No Selection Requirement section, this final order does not require transmission providers to select any particular Long-Term Regional Transmission Facility (or portfolio of such Facilities) to address Long-Term Transmission Needs.

²¹⁰³ See id. P 315 (citing Order No. 890, 118 FERC ¶ 61,119 at P 494; Order No. 890-A, 121 FERC ¶ 61,297 at PP 215-216).

²¹⁰⁴ As described further below in the Voluntary Funding Opportunities section, transmission providers must also provide Relevant State Entities with the opportunity to fund the cost of, or part of the cost of, the Long-Term Regional Transmission Facility (or portfolio of such Facilities) to ensure that it meets the transmission providers' selection criteria.

²¹⁰⁵ We note, however, consistent with the discussion above in the Frequency of Long-Term Scenario Revisions section, that transmission providers may evaluate and select additional Long-Term Regional Transmission Facilities during the period of the Long-Term Regional Transmission Planning cycle after this point and before the commencement of the next such cycle.

956. As discussed earlier, this final order requires transmission providers to develop and use at least three Long-Term Scenarios, and one sensitivity analysis applied to each Long-Term Scenario, when conducting Long-Term Regional Transmission Planning. Each Long-Term Scenario or sensitivity analysis may suggest that different Long-Term Transmission Needs exist, that different Long-Term Regional Transmission Facilities would resolve those needs, or that such Long-Term Regional Transmission Facilities would provide different benefits for transmission customers. We clarify that, in the context of Long-Term Regional Transmission Planning, Order No. 890's requirements that transmission providers conduct coordinated, open, and transparent transmission planning on the regional level ²¹⁰⁶ requires that transmission providers make transparent the methods that they used to analyze each individual Long-Term Scenario and the sensitivity or sensitivities applied to each scenario to determine the Long-Term Transmission Needs that exist in the transmission planning region, the Long-Term Regional Transmission Facilities that would resolve those needs, and the benefits of those Long-Term Regional Transmission Facilities for purposes of selection.²¹⁰⁷

²¹⁰⁶ Order No. 890, 118 FERC ¶ 61,119 at P 435.

²¹⁰⁷ For example, transmission providers might weigh specific Long-Term Scenarios and sensitivities based on the probability that the analyses reflect future system conditions (which the Commission referred to in the NOPR as a “weighted-benefits approach”). NOPR, 179 FERC ¶ 61,028 at P 251 (citing Brattle-Grid Strategies Oct. 2021 Report at 59-60).

957. Consistent with the Order No. 1000 regional transmission planning requirements,²¹⁰⁸ the Long-Term Regional Transmission Planning process must result in a regional transmission plan that identifies the Long-Term Regional Transmission Facilities that more efficiently or cost-effectively meet the transmission planning region's Long-Term Transmission Needs. To effectuate this requirement, we clarify that transmission providers have an affirmative obligation to identify Long-Term Regional Transmission Facilities that more efficiently or cost-effectively address Long-Term Transmission Needs, regardless of whether any stakeholder proposes potential Long-Term Regional Transmission Facilities for consideration in Long-Term Regional Transmission Planning. In this section, we enumerate specific requirements for how transmission providers conduct their Long-Term Regional Transmission Planning with the aim to ensure that more efficient or cost-effective Long-Term Regional Transmission Facilities are selected. By clearly enumerating their evaluation processes and selection criteria in their OATTs, transmission providers will provide significant transparency to stakeholders to understand how Long-Term Transmission Needs will be addressed, whether there are more efficient or cost-effective Long-Term Regional Transmission Facilities that may meet those needs, and their benefits.

²¹⁰⁸ Order No. 1000, 136 FERC ¶ 61,051 at PP 55, 146-148; see Louisville Gas & Elec. Co., 144 FERC ¶ 61,054, at PP 61-62 (2013), on reh'g sub nom., Duke Energy Carolinas LLC, 147 FERC ¶ 61,241, at PP 82-83 (2014).

958. Provided that transmission providers' evaluation processes and selection criteria comply with the requirements that we adopt here, we provide transmission providers with flexibility to determine how they will evaluate whether Long-Term Regional Transmission Facilities more efficiently or cost-effectively address Long-Term Transmission Needs, including by using benefit-cost ratios, assessing their net benefits and selecting the Long-Term Regional Transmission Facilities that maximize those benefits, and/or using some other method.²¹⁰⁹ Consistent with Order No. 1000 regional cost allocation principle (3), and as further discussed below in the Regional Transmission Cost Allocation section, transmission providers may not impose as a selection criterion a minimum benefit-cost ratio that is higher than 1.25-to-1.00.²¹¹⁰ We decline to reduce or increase the maximum benefit-cost ratio that transmission providers may use as a selection criterion in Long-Term Regional Transmission Planning. As the Commission found in Order No. 1000,²¹¹¹ requiring that a benefit-cost ratio, if adopted, not exceed 1.25-to-1.00 ensures that the ratio is not so high as to exclude Long-Term Regional Transmission Facilities with significant positive net benefits from selection.

²¹⁰⁹ Nothing in this final order requires the use of any particular approach, and we clarify that transmission providers may use more than one approach complementarily. Compare, e.g., MISO Initial Comments at 54-56 (explaining MISO's approach to selecting transmission facilities with the goal of maximizing “long-term transmission value”), with MISO, FERC Electric Tariff, MISO OATT, attach. FF, Transmission Expansion Planning Protocol (90.0.0), sections II.B.1.c, II.C.2.b (setting forth as a minimum selection criterion a benefit-cost ratio of 1.25 or 1.00 for Market Efficiency Projects and Multi-Value Projects, respectively).

²¹¹⁰ NOPR, 179 FERC ¶ 61,028 at P 243 n.390; Order No. 1000, 136 FERC ¶ 61,051 at P 646.

²¹¹¹ Order No. 1000, 136 FERC ¶ 61,051 at P 648.

959. We decline to require transmission providers to account for siting considerations in their evaluation process and selection criteria.²¹¹² We acknowledge that siting considerations (e.g., use of existing rights-of-way) may affect the costs, timeline, or feasibility of developing a Long-Term Regional Transmission Facility. While such siting considerations may inform the evaluation process and selection criteria, we do not require transmission providers to account for such considerations in this final order. We note, however, that, as discussed below in the Role of Relevant State Entities section, this final order requires that transmission providers consult with and seek the support of Relevant State Entities ²¹¹³ regarding the evaluation process and selection criteria that transmission providers propose to use to evaluate Long-Term Regional Transmission Facilities for selection.

²¹¹² CARE Coalition Initial Comments at 7-8; see also ACEG Initial Comments at 59; Exelon Initial Comments at 18.

²¹¹³ Many Relevant State Entities exercise their state's authority over the siting of transmission facilities.

960. We also do not require transmission providers to include environmental justice or equity considerations in their evaluation process or selection criteria. While several commenters recommend that we impose such requirements,²¹¹⁴ none provides any approach for how these concerns would be incorporated into transmission providers' evaluation process and selection criteria on a generic basis. We acknowledge that the selection of Long-Term Regional Transmission Facilities represents a substantial step in the development of new electric transmission infrastructure, which may impact environmental justice communities or raise equity concerns. We further recognize that such environmental justice or equity considerations may affect the costs, timeline, or feasibility of developing a Long-Term Regional Transmission Facility, particularly in regions where legal frameworks provide for consideration of environmental justice and equity. Nothing in this final order precludes transmission providers from proposing on compliance to include environmental justice considerations within their evaluation process and selection criteria.

²¹¹⁴ See, e.g., Acadia Center and CLF Initial Comments at 11-12; Grand Rapids NAACP Initial Comments at 17-23 (citations omitted); PIOs Reply Comments at 17 (citations omitted).

961. NYISO requests that the Commission clarify that transmission providers may continue to use qualitative and quantitative measures in the Long-Term Regional Transmission Planning process.²¹¹⁵ We clarify that nothing in this final order prohibits transmission providers from proposing to use qualitative factors in their evaluation processes and/or selection criteria. Accordingly, transmission providers may propose to use qualitative factors in their evaluation processes and/or qualitative selection criteria, provided that they demonstrate on compliance that their proposals comply with the evaluation process and selection criteria requirements of this final order.

²¹¹⁵ NYISO Initial Comments at 39-40.

962. In response to Duke's request to allow transmission providers to include a selection criterion that is a qualitative evaluation of whether there is state and consumer support for a particular Long-Term Regional Transmission Facility or portfolio of such Facilities,²¹¹⁶ we find that transmission providers may not include in their evaluation process or selection criteria any prohibition on the selection of a Long-Term Regional Transmission Facility based on the transmission providers' anticipated response of a state public utility commission or consumer advocates to particular Long-Term Regional Transmission Facilities. Rather than address this issue via selection criteria regarding a transmission provider's anticipation of such an entity's response, we conclude that the requirement discussed below to consult with and seek support from Relevant State Entities regarding the evaluation process and selection criteria is a more appropriate mechanism to account for the Relevant State Entity's views. We also note that beyond this consultative process, state public utility commissions and consumer advocates have numerous opportunities to express their views on transmission development, including through state- and Commission-jurisdictional proceedings. Further, allowing such features in evaluation processes or selection criteria could amount to a requirement that transmission providers obtain the consent of Relevant State Entities, which, as discussed below in the Role of Relevant State Entities section, we do not believe is necessary or appropriate to resolve the deficiencies identified in this final order.²¹¹⁷

²¹¹⁶ Duke Initial Comments at 4, 26-27.

²¹¹⁷ See New York v. FERC, 535 U.S. at 26-28 (upholding Commission's decision not to assert jurisdiction over bundled retail transmission).

963. In response to New York TOs,²¹¹⁸ we decline to require that transmission providers include selection criteria requested by state public utility commissions. As discussed further below in the Role of Relevant State Entities section, transmission providers must propose on compliance an evaluation process and selection criteria that comply with the requirements of this final order after consulting with and seeking the support of Relevant State Entities. To the extent that a transmission provider believes that a selection criterion proposed by a Relevant State Entity would comply with the final order requirements, they may propose to include that criterion in their compliance filings, and the Commission will determine if it complies with these requirements.

²¹¹⁸ New York TOs Initial Comments at 9, 11-12, 15.

ii. Maximize Benefits

964. We adopt the NOPR proposal, with modification, to require that transmission providers in each transmission planning region propose evaluation processes, including selection criteria, that seek to maximize benefits accounting for costs over time without over-building transmission facilities. In the NOPR, the Commission proposed that the evaluation processes and selection criteria seek to maximize benefits to consumers over time without over-building transmission facilities. However, we believe that it is appropriate to modify that proposal for clarity. We modify the requirement to require that transmission providers' evaluation processes and selection criteria seek to maximize benefits accounting for costs. Some commenters have interpreted the NOPR as proposing to allow transmission providers to disregard costs and simply maximize benefits.²¹¹⁹ We clarify that was not the Commission's intent, and we modify the NOPR proposal in this final order to make that clear. Further, we note that while we omit reference “to consumers” in the requirement for brevity, we do not view this change as substantive. As discussed above, this requirement, together with other aspects of this final order, helps to ensure transmission providers identify, evaluate, and select Long-Term Regional Transmission Facilities that more efficiently or cost-effectively address Long-Term Transmission Needs in order to ensure just and reasonable Commission-jurisdictional rates, which ultimately benefits ratepayers.

²¹¹⁹ See, e.g., Ameren Initial Comments at 20 (citing NOPR, 179 FERC ¶ 61,028 at P 242); Vistra Initial Comments at 17-18; WATT Coalition Initial Comments at 9.

965. As discussed in the Requirement for Transmission Providers to Use a Set of Seven Required Benefits section, transmission providers conducting Long-Term Regional Transmission Planning must use and measure a set of benefits to evaluate Long-Term Regional Transmission Facilities. In setting forth an evaluation process and selection criteria, we clarify, consistent with the directive to seek to maximize benefits accounting for costs over time without over-building transmission facilities, that transmission providers may not disregard benefits that we require them to use and measure when implementing their approved evaluation process and selection criteria.²¹²⁰ We further clarify that transmission providers may not disregard benefits even where those benefits are only measured in certain transmission system conditions, such as may be the case with Benefit 6, Mitigation of Extreme Weather Events and Unexpected System Conditions, and therefore are captured only under certain Long-Term Scenarios or sensitivities thereto. While transmission providers may not disregard such benefits, transmission providers' evaluation processes and selection criteria may account for the fact that certain benefits are only measured under certain conditions by, for example, weighting how likely certain conditions expressed in specific Long-Term Scenarios or sensitivities are to occur.

966. As discussed further below, transmission providers have the discretion to select or not select any Long-Term Regional Transmission Facility that they identify through Long-Term Regional Transmission Planning, even a facility that otherwise meets the selection criteria. However, as noted above, the evaluation process must culminate in a determination that is sufficiently detailed for stakeholders to understand why a particular Long-Term Regional Transmission Facility was selected or not selected to address Long-Term Transmission Needs. We clarify that this determination must include the estimated costs and measured benefits of each alternative Long-Term Regional Transmission Facility (or portfolio of such Facilities) evaluated by the transmission providers, whether or not the Long-Term Regional Transmission Facility (or portfolio of such Facilities) is selected.²¹²¹

²¹²¹ Where transmission providers employ a portfolio approach to evaluating and selecting Long-Term Regional Transmission Facilities, we require only that they include in such a determination the measured benefits for the portfolio of Long-Term Regional Transmission Facilities on an aggregate basis.

967. We acknowledge commenters' concerns that there is inherent uncertainty in Long-Term Regional Transmission Planning.²¹²² This final order adopts provisions that allow for significant flexibility for transmission providers to address that uncertainty. As stated above in the Participation in Long-Term Regional Transmission Planning section, we require transmission providers to develop and use Long-Term Scenarios, which are a critical tool for managing uncertainty and facilitating regional transmission planning that account for a range of potential futures, as well as an assessment of the likelihood of each scenario manifesting, when identifying, evaluating, and selecting Long-Term Regional Transmission Facilities. Further, transmission providers could adopt evaluation processes and selection criteria that would allow transmission providers to make selection decisions while minimizing the future risk of developing a previously selected Long-Term Regional Transmission Facility that is not the more efficient or cost-effective regional transmission solution to Long-Term Transmission Needs. For example, transmission providers might develop a least-regrets approach under which they would select Long-Term Regional Transmission Facilities in the regional transmission plan for purposes of cost allocation if those Long-Term Regional Transmission Facilities are net beneficial in more than one Long-Term Scenario and sensitivity analyses even if other transmission facilities have a higher benefit-cost ratio or provide more net benefits in a single Long-Term Scenario or particular sensitivity. Transmission providers might also adopt a weighted-benefits approach under which they would select a Long-Term Regional Transmission Facility based on its probability-weighted average benefits, where probabilities have been assigned to each Long-Term Scenario or sensitivity thereof that is studied. Under either approach, to maximize benefits accounting for costs over time without over-building transmission facilities, transmission providers must consider not only the risk that changing conditions might produce fewer benefits than originally anticipated, but also that they might produce more benefits than originally anticipated. Finally, as discussed below in the Reevaluation section, we require transmission providers to reevaluate certain selected Long-Term Regional Transmission Facilities to determine whether they continue to meet the transmission providers' selection criteria.

²¹²² See, e.g., GridLab Initial Comments at 19; TAPS Initial Comments at 16-17.

968. While we acknowledge commenters' wide support for least-regrets and weighted-benefits approaches to selecting Long-Term Regional Transmission Facilities in Long-Term Regional Transmission Planning, we decline to require transmission providers to use either approach. However, we clarify that transmission providers may not adopt an approach under which they would not select a Long-Term Regional Transmission Facility unless it meets their selection criteria in every Long-Term Scenario and sensitivity. We are concerned that such an approach could impose a threshold for selection that is so onerous it limits selection of most or all Long-Term Regional Transmission Facilities, and, as such, is inconsistent with the requirement that selection criteria seek to maximize benefits accounting for costs over time without over-building transmission facilities. We find that such an approach would not ensure that transmission providers have the opportunity to select Long-Term Regional Transmission Facilities to more efficiently or cost-effectively address Long-Term Transmission Needs, an opportunity that we find, as described in the Transparent and Not Unduly Discriminatory; More Efficient or Cost-Effective Transmission Facilities section above, is necessary to ensure just and reasonable Commission-jurisdictional rates.

969. Again, we emphasize that this final order does not require that transmission providers select any particular Long-Term Regional Transmission Facility (or portfolio of such Facilities). Rather, this final order simply requires transmission providers to adopt an evaluation process and selection criteria that meet the minimum requirements set forth in this final order, including that they aim to maximize benefits accounting for costs over time without over-building transmission facilities. In response to NYISO,²¹²³ however, we decline to clarify the definition of “over-building,” because doing so would limit transmission providers' flexibility to assess what constitutes over-building in their transmission planning region. Transmission planning regions have a wide variety of market structures, and numerous factors drive transmission needs, which may require evaluation processes and selection criteria that maximize benefits accounting for costs or guard against over-building in different ways. We expect that evaluation processes and selection criteria that maximize benefits accounting for costs over time without over-building transmission facilities will include a variety of features, based on their regional circumstances, that combine to ensure that transmission providers give careful, informed consideration to Long-Term Regional Transmission Facilities that more efficiently or cost-effectively address Long-Term Transmission Needs. We also note that, in response to CTC Global's concerns about the selection criteria being limited to considering regional transmission facilities with the least capital costs,²¹²⁴ we clarify that both estimated benefits and costs must be disclosed when evaluating a Long-Term Regional Transmission Facility for selection and that transmission providers must adopt selection criteria that seek to maximize benefits accounting for costs over time without over-building transmission facilities.

²¹²³ NYISO Initial Comments at 43.

²¹²⁴ CTC Global Initial Comments at 9.

970. In response to Maine Public Advocate,²¹²⁵ we decline to require transmission providers to select non-transmission alternatives where such non-transmission alternatives meet a Long-Term Transmission Need at a lower cost than an alternative Long-Term Regional Transmission Facility. The Commission did not propose to require transmission providers to consider non-transmission alternatives for potential selection in the NOPR, and we are not persuaded to do so in this final order. We note, however, that transmission providers already are required to consider non-transmission alternatives on a comparable basis in regional transmission planning.²¹²⁶

²¹²⁵ Maine Public Advocate Initial Comments at 1-2.

²¹²⁶ Order No. 1000, 136 FERC ¶ 61,051 at P 148.

971. Finally, in response to TAPS,²¹²⁷ we decline to require transmission providers to develop affordability metrics to provide along with other information about a particular Long-Term Regional Transmission Facility. The Commission did not propose such a requirement in the NOPR, and we are not persuaded to adopt a requirement for such metrics in this final order.

²¹²⁷ TAPS Initial Comments at 16-17, 19-20 (citations omitted).

4. Role of Relevant State Entities

a. NOPR Proposal

972. In the NOPR, the Commission proposed to require that transmission providers, as part of their Long-Term Regional Transmission Planning, include in their OATTs a process to coordinate with the Relevant State Entities in developing selection criteria.²¹²⁸ Regarding this requirement, the Commission proposed to require transmission providers to demonstrate on compliance that they consulted with and sought support from the Relevant State Entities in their transmission planning region's footprint to develop their proposed selection criteria.²¹²⁹

²¹²⁸ NOPR, 179 FERC ¶ 61,028 at P 241.

²¹²⁹ Id. P 246.

b. Comments

i. Support/Oppose

973. Many commenters support the Commission's proposal to require transmission providers to consult with and seek support from Relevant State Entities ²¹³⁰ and include in their OATTs a process to coordinate with the Relevant State Entities ²¹³¹ in developing selection criteria. For example, ELCON argues that coordination with Relevant State Entities in identifying selection criteria is critical because it will promote cooperation and could result in more efficient state siting and permitting processes.²¹³² Pennsylvania Commission asserts that requiring consultation will provide states the opportunity to influence regional transmission planning and cost allocation, thereby promoting the public interest and reducing conflicts and disputes on these matters.²¹³³

²¹³⁰ See ACEG Initial Comments at 59-60; Ameren Initial Comments at 20; American Municipal Power Initial Comments at 12; California Commission Initial Comments at 37; ELCON Initial Comments at 17; Nebraska Commission Initial Comments at 8-9; North Carolina Commission and Staff Initial Comments at 4-5; Pennsylvania Commission Initial Comments at 10; PJM States Initial Comments at 3.

²¹³¹ See NARUC Initial Comments at 44; NESCOE Initial Comments at 9-10, 46; Pacific Northwest State Agencies Initial Comments at 19; PJM States Initial Comments at 3.

²¹³² ELCON Initial Comments at 17.

²¹³³ Pennsylvania Commission Initial Comments at 10.

974. ISO-NE supports the proposal to provide states with a greater role in the selection of transmission facilities.²¹³⁴ Further, ISO-NE argues that, in the context of policy-based planning, states should be responsible for determining whether to select transmission facilities, with ISO-NE playing a supporting, technical role.²¹³⁵ While NESCOE supports the proposal that transmission providers must consult with and seek support from Relevant State Entities within their transmission planning region's footprint to develop selection criteria, NESCOE requests that the Commission provide Relevant State Entities an expanded role in the selection of transmission projects where the project is identified as needed in response to state laws or policy goals and require transmission providers to include such a role in their OATTs.²¹³⁶

²¹³⁴ ISO-NE Initial Comments at 35.

²¹³⁵ Id. NESCOE supports ISO-NE's position. NESCOE Reply Comments at 5 & n.16.

²¹³⁶ NESCOE Initial Comments at 9-10, 48-49.

975. PJM states that it also supports providing additional opportunity for involvement by states and stakeholders in Long-Term Regional Transmission Planning; however, in response to ISO-NE, PJM urges the Commission to make clear that transmission providers retain authority to select transmission facilities and argues that such role is more than a “technical supporting role.” ²¹³⁷ PJM States contend that an upfront and transparent process, with substantive state involvement, will ensure that selection criteria are thoroughly discussed by stakeholders and are consistent with the rest of Long-Term Regional Transmission Planning.²¹³⁸

²¹³⁷ PJM Reply Comments at 35-36 (citing ISO-NE Initial Comments at 16).

²¹³⁸ PJM States Reply Comments at 8.

976. New York Commission and NYSERDA state that the Commission should allow Relevant State Entities to be part of the decision-making process regarding the appropriate timeframe for selecting a transmission facility.²¹³⁹

²¹³⁹ New York Commission and NYSERDA Initial Comments at 12.

977. California Commission urges the Commission to require that transmission providers indicate in their compliance filings whether the selection criteria they propose are supported by the Relevant State Entities and, if not, to explain any points of disagreement.²¹⁴⁰ PJM States argue that the Commission should, without dictating any substantive outcomes, “recognize the primacy of the role for retail regulators” in the final order.²¹⁴¹ By contrast, ACEG cautions that transmission providers must balance all states' interests when developing selection criteria instead of maximizing one state's interest over another's.²¹⁴² NYISO states that each transmission planning region should have flexibility to determine how it will consult with and seek support from Relevant State Entities regarding selection criteria.²¹⁴³

²¹⁴⁰ California Commission Initial Comments at 37-38.

²¹⁴¹ PJM States Initial Comments at 3-4 (citing NOPR, 179 FERC ¶ 61,028 at P 245).

²¹⁴² ACEG Initial Comments at 59-60.

²¹⁴³ NYISO Initial Comments at 44.

978. To ensure that consultation is successful, NARUC recommends that the Commission require transmission providers to take two steps: (1) communicate with the Relevant State Entities promptly following issuance of a final order in a manner that is reasonably calculated to be received by the Relevant State Entities; and (2) establish a forum for negotiation that enables full and robust participation by both transmission providers and Relevant State Entities during the period allotted for making compliance filings.²¹⁴⁴

²¹⁴⁴ NARUC Initial Comments at 44.

979. Some commenters oppose the Commission's NOPR proposal.²¹⁴⁵ Dominion argues that mandating involvement by Relevant State Entities would unnecessarily burden transmission providers.²¹⁴⁶ Louisiana Commission argues that the proposal would represent “superficial state involvement” and serve as “window dressing” for the erosion of state authority due to Long-Term Regional Transmission Planning. Louisiana Commission argues that collective oversight by the states within an RTO/ISO is not equivalent to state oversight of its own retail electric service companies, particularly in circumstances where states are subject to the decisions of the majority.²¹⁴⁷

²¹⁴⁵ See, e.g., Clean Energy Associations Initial Comments at 22-23 (arguing that, while state involvement should play a role, the Commission should set forth pro forma selection criteria).

²¹⁴⁶ Dominion Initial Comments at 37-38.

²¹⁴⁷ Louisiana Commission Initial Comments at 27.

980. APPA opposes any requirement for transmission providers to consult with, and/or seek the support of, Relevant State Entities in identifying selection criteria.²¹⁴⁸ APPA contends that Relevant State Entities should be considered in the same manner as other stakeholders under the requirements of Order Nos. 890 and 1000.²¹⁴⁹ DC and MD Offices of People's Counsel disagree with APPA, arguing that the Commission should afford Relevant State Entities an expansive role in the selection of transmission facilities in Long-Term Regional Transmission Planning.²¹⁵⁰ DC and MD Offices of People's Counsel contend that Relevant State Entities can reach agreement quickly and have access to the best available data used for baseline planning and scenario analysis of transmission facilities.²¹⁵¹

²¹⁴⁸ APPA Initial Comments at 34.

²¹⁴⁹ Id.

²¹⁵⁰ DC and MD Offices of People's Counsel Reply Comments at 9 (citing APPA Initial Comments at 35).

²¹⁵¹ Id.

981. MISO takes no position but argues that its existing processes already entail extensive stakeholder engagement, including consulting with state regulatory commissions individually and through OMS, to determine the selection criteria that should be used to maximize long-term transmission value and to ensure an adequate, reliable, and resilient transmission system.²¹⁵²

²¹⁵² MISO Initial Comments at 55.

ii. Obtaining/Not Obtaining Consent

982. Several commenters discuss whether transmission providers need only consult with and seek support from Relevant State Entities in the development of selection criteria, or whether they also must obtain their consent.²¹⁵³ For example, Indicated PJM TOs support the NOPR proposal but argue that the Commission should not require transmission providers to obtain the agreement of Relevant State Entities in determining selection criteria.²¹⁵⁴ AEP agrees and argues that state input should be only one factor and that engineering considerations should drive the establishment of selection criteria. AEP also expresses skepticism that requiring transmission providers to consult with Relevant State Entities will increase the chances that states will site the transmission facilities that transmission providers select, because transmission line siting processes will occur years after the establishment of selection criteria, will likely be performed by different personnel, and will address considerations separate from those in establishing selection criteria.²¹⁵⁵

²¹⁵³ See, e.g., Acadia Center and CLF Initial Comments at 27-28 (arguing that states should have veto authority over transmission providers' selection criteria in certain circumstances).

²¹⁵⁴ Indicated PJM TOs Initial Comments at 18 (citing NOPR 179, FERC ¶ 61,028 at PP 244, 246).

²¹⁵⁵ AEP Initial Comments at 29-30.

983. Southeast PIOs argue that, while they do not oppose factoring state and consumer support into the selection of transmission facilities, the Commission should not require transmission providers to obtain the approval of Relevant State Entities prior to selection of transmission facilities, because doing so would risk indefinitely delaying Long-Term Regional Transmission Planning.²¹⁵⁶

²¹⁵⁶ Southeast PIOs Reply Comments at 27.

984. PJM argues that it should be able to develop selection criteria in the event that Relevant State Entities do not agree on the establishment of selection criteria. PJM recommends that the Commission clarify that any requirement to demonstrate that transmission providers have consulted with and sought support from Relevant State Entities could be satisfied even if the transmission provider is unable to secure the agreement of Relevant State Entities.²¹⁵⁷

²¹⁵⁷ PJM Initial Comments at 104.

985. By contrast, NARUC opposes a process in which transmission providers consult with and seek support from Relevant State Entities but are empowered to override or ignore selection criteria proposed and supported by Relevant State Entities. NARUC seeks clarification as to what recourse will be available to Relevant State Entities in the event that there is not agreement on selection criteria.²¹⁵⁸ Nebraska Commission argues that the Commission should require transmission providers to demonstrate to the greatest extent possible that they gained the support of Relevant State Entities, because otherwise the process of consulting with and seeking support from Relevant State Entities could become a mere exercise.²¹⁵⁹

²¹⁵⁸ NARUC Initial Comments at 45.

²¹⁵⁹ Nebraska Commission Initial Comments at 8-9.

986. Mississippi Commission suggests that the Commission require transmission providers to obtain the agreement of Relevant State Entities on selection criteria for Long-Term Regional Transmission Planning.²¹⁶⁰ Southern goes further, arguing that the Commission should allow Relevant State Entities to use the State Agreement Process not only to allocate the costs of Long-Term Regional Transmission Facilities, but also to select such transmission facilities in the first instance. Southern contends that, if the Commission does not allow states to select transmission facilities, the Commission will unlawfully intrude into state jurisdiction over resource planning.²¹⁶¹

²¹⁶⁰ Mississippi Commission Initial Comments at 3-4 (citing NOPR, 179 FERC ¶ 61,028 (Christie, Comm'r, concurring at P 11)).

²¹⁶¹ Southern Initial Comments at 6-10 & n.12 (citations omitted).

987. Acadia Center and CLF assert that states should have the authority to propose selection criteria, arguing that this will ensure that transmission providers do not refuse to consider states' interests and goals regarding transmission needs. Acadia Center and CLF further contend that states should have veto authority over transmission providers' selection criteria in certain scenarios, such as ISO-NE, where a majority of states in a transmission planning region have decarbonization goals but the ISO/RTO continues to apply business-as-usual selection criteria that prioritize reliability and economic considerations.²¹⁶²

²¹⁶² Acadia Center and CLF Initial Comments at 27-28.

988. AEE argues that the final order should clearly provide an opportunity for states to suggest selection criteria and inputs for analyzing transmission projects, noting that such a process may need to be continually developed following issuance of a final order.²¹⁶³

²¹⁶³ AEE Initial Comments at 30-32 (citations omitted).

iii. Consultation With Other Entities

989. A number of commenters argue that transmission providers should consult with and seek support from other entities in addition to Relevant State Entities. Large Public Power does not object to the NOPR proposal but argues that it is essential that municipal utilities also be included as participants in the consultative process.²¹⁶⁴ American Municipal Power urges the Commission to recognize that publicly-owned utilities play a role analogous to state commissions, in that they are publicly accountable, operate through open and transparent procedures, and adopt policies reflecting the consensus of communities that own and support them. American Municipal Power argues that FPA section 217(b)(4) requires the Commission to revise the NOPR proposal such that load-serving entities, including publicly-owned utilities, are on a par with Relevant State Entities.²¹⁶⁵ NRECA agrees, arguing that Relevant State Entities may not have regulatory authority over electric cooperatives, and therefore the Commission must modify its proposal to include consultation with load-serving entities to conform with FPA section 217(b)(4) and Order No. 1000's transmission planning principles.²¹⁶⁶

²¹⁶⁴ Large Public Power Initial Comments at 30.

²¹⁶⁵ American Municipal Power Initial Comments at 12-13.

²¹⁶⁶ NRECA Initial Comments at 50.

990. Relatedly, NARUC argues that nothing in the final order should inhibit states from permitting the participation of certain quasi-public/private state and Federal entities or other state entities in addition to Relevant State Entities.²¹⁶⁷ NEPOOL states that the selection of any transmission facilities should be made with substantial input from both market participant stakeholders and the transmission planning region's states.²¹⁶⁸

²¹⁶⁷ NARUC Initial Comments at 29-30 (citation omitted).

²¹⁶⁸ NEPOOL Initial Comments at 8.

iv. Practical Implementation Issues

991. Several commenters discuss practical issues with the requirement that transmission providers consult with and seek the support of Relevant State Entities in developing selection criteria. For example, PPL generally supports the Commission's proposal but contends that some states may find it difficult to fulfill the role described in the NOPR. PPL therefore argues that the Commission should allow transmission providers flexibility in developing consultative processes.²¹⁶⁹ AEP argues that some states will be unable to participate effectively given a lack of resources or statutory limitations, such that the consultative process may result in selection criteria “that unfairly or unreasonably emphasize certain values.” ²¹⁷⁰ NESCOE states that the Commission should provide flexibility as to how states elect to engage in the transmission planning process, noting that a state official's role in siting electric infrastructure may make it preferable for a different state official to provide that state's view on certain aspects of Long-Term Regional Transmission Planning, such as transmission project selection.²¹⁷¹

²¹⁶⁹ PPL Initial Comments at 18-19.

²¹⁷⁰ AEP Initial Comments at 30 (quoting NOPR, 179 FERC ¶ 61,028 at P 290).

²¹⁷¹ NESCOE Initial Comments at 9 n.16.

992. NEPOOL requests that the Commission articulate principles for who should make selection decisions when a Long-Term Regional Transmission Facility may address transmission needs driven by reliability, economics, and public policy.²¹⁷²

²¹⁷² NEPOOL Initial Comments at 8.

993. Michigan State Entities argue that the success of the Commission's proposed reforms depends on transmission providers meaningfully engaging with stakeholders, which requires that stakeholders have the time and capability to participate in a stakeholder review process. Michigan State Entities further assert that stakeholders representing diffuse and broad interests (e.g., residential ratepayers), as opposed to concentrated interests, tend to have fewer resources with which to fund participation in these processes, noting that many states have created consumer advocacy agencies to correct this imbalance. Michigan State Entities assert that the Commission should require that transmission providers include RTO/ISO-level, publicly funded consumer advocates in the stakeholder processes that are empowered to participate in approving selection criteria.²¹⁷³

²¹⁷³ Michigan State Entities Initial Comments at 4-5.

c. Commission Determination

994. We adopt the NOPR proposal, with modification, to require transmission providers in each transmission planning region to consult with and seek support from Relevant State Entities regarding the evaluation process, including selection criteria, that transmission providers propose to use to identify and evaluate Long-Term Regional Transmission Facilities for selection. Specifically, we require transmission providers to demonstrate on compliance that they made good faith efforts to consult with and seek support from Relevant State Entities in their transmission planning region's footprint when developing the evaluation process and selection criteria that they propose to include in their OATTs.²¹⁷⁴

²¹⁷⁴ In response to New York Commission and NYSERDA, we note that such consultation may include discussion of the appropriate timeframe for selecting a Long-Term Regional Transmission Facility. New York Commission and NYSERDA Initial Comments at 12.

995. We decline to adopt the NOPR proposal to require transmission providers to include in their OATTs a process for coordinating with Relevant State Entities. We believe that the requirement adopted in this final order will simplify compliance efforts without sacrificing the benefits of consulting with and seeking the support of Relevant State Entities. We disagree with Dominion that requiring transmission providers to consult with and seek support from Relevant State Entities will prove burdensome, and we believe that our decision not to require transmission providers to include a process for such consultation in their OATTs will further reduce any administrative burden of this requirement.²¹⁷⁵

²¹⁷⁵ See Dominion Initial Comments at 37-38.

996. We clarify that we require transmission providers to seek support from Relevant State Entities, but do not require transmission providers to obtain their support, before proposing an evaluation process and selection criteria on compliance.²¹⁷⁶ In response to Acadia Center and CLF, we note that Relevant State Entities may propose selection criteria to transmission providers, but ultimately, it is transmission providers who must propose on compliance an evaluation process and selection criteria that comply with the requirements of this final order. We further note that providing states with veto authority over transmission providers' proposed selection criteria would be akin to requiring transmission providers to obtain the support of Relevant State Entities, and therefore we do not adopt Acadia Center and CLF's recommendation.²¹⁷⁷ While we believe that Long-Term Regional Transmission Planning is more likely to be successful where transmission providers, Relevant State Entities, and other stakeholders collaborate to develop an evaluation process and selection criteria, we reiterate that transmission planning is the tariff obligation of each transmission provider and transmission providers retain ultimate responsibility for regional transmission planning, including Long-Term Regional Transmission Planning, as well as complying with the obligations of this final order.²¹⁷⁸ Moreover, we acknowledge that achieving consensus may not be possible in every instance.

²¹⁷⁶ See, e.g., PJM Initial Comments at 104 (requesting clarification that transmission providers are permitted to submit an evaluation process and selection criteria on compliance in the absence of obtaining the support of Relevant State Entities).

²¹⁷⁷ See Acadia Center and CLF Initial Comments at 27-28.

²¹⁷⁸ See Order No. 1000, 136 FERC ¶ 61,051 at P 153 (“[T]he ultimate responsibility for transmission planning remains with public utility transmission providers.” (citing Order No. 890, 118 FERC ¶ 61,119 at P 454)).

997. We disagree with NARUC that, in the absence of a requirement that transmission providers obtain the support of Relevant State Entities, transmission providers will be empowered to ignore the input of Relevant State Entities. In this final order, we require transmission providers to make good faith efforts to consult with and seek the support of Relevant State Entities. We do not agree that the failure to obtain the support of Relevant State Entities is necessarily evidence that transmission providers did not exercise good faith efforts to seek their support.

998. For similar reasons, we also disagree with Louisiana Commission when it argues that requiring transmission providers to simply consult with and seek support from Relevant State Entities will amount to only superficial state involvement in the development of an evaluation process and selection criteria.²¹⁷⁹ In response to Louisiana Commission's additional contention that collective oversight of regional transmission planning processes by the transmission planning region's states is not equivalent to state oversight of its own retail electric service companies, we reiterate that this final order requires transmission providers to engage in and conduct sufficiently long-term, forward-looking, and comprehensive transmission planning and cost allocation processes to identify and plan for Long-Term Transmission Needs in order to ensure Commission-jurisdictional rates are just and reasonable. As discussed in the Legal Authority to Adopt Reforms for Long-Term Regional Transmission Planning section, the final order neither aims at nor conflicts with state authority over retail rates.

²¹⁷⁹ Louisiana Commission Initial Comments at 27.

999. We do not believe that it is necessary to adopt California Commission's proposal to require transmission providers to indicate in their compliance filings whether Relevant State Entities support the proposal or explain any points of disagreement that they may have with Relevant State Entities. Relevant State Entities may intervene in compliance filing proceedings and provide this information for the Commission's consideration as it determines whether transmission providers have met the requirements that we adopt in this final order. Nor do we adopt NARUC's request that we impose specific requirements dictating how transmission providers should consult with and seek the support of Relevant State Entities beyond the requirement that they demonstrate good faith efforts to do so. We believe that it is appropriate to provide transmission providers with flexibility in how to consult with and seek support of Relevant State Entities based on the specific needs and makeup of their transmission planning region. Further, we acknowledge, as argued by some commenters,²¹⁸⁰ that practical or legal limitations may limit the extent to which some Relevant State Entities may participate in such processes, reinforcing the need for flexibility.

²¹⁸⁰ See AEP Initial Comments at 30 (quoting NOPR, 179 FERC ¶ 61,028 at P 290); NESCOE Initial Comments at 9 n.16; PPL Initial Comments at 18-19.

1000. We clarify that nothing in this final order diminishes the role of stakeholders that are not Relevant State Entities, nor absolves transmission providers of any existing obligations that they may have to provide opportunities for stakeholder input.²¹⁸¹ That said, we decline to require transmission providers to consult with or seek support from entities in addition to Relevant State Entities, including load-serving entities.²¹⁸² This final order recognizes that Relevant State Entities play a unique role in representing the interests of states, which retain a variety of authorities, including those under FPA section 201, that are integral to the success of Long-Term Regional Transmission Planning.

²¹⁸¹ In response to NARUC and NEPOOL, see NARUC Initial Comments at 29-30; NEPOOL Initial Comments at 9, we reiterate that this may include other state entities in addition to Relevant State Entities, such as Federal entities, market participants, and other stakeholders.

²¹⁸² See, e.g., American Municipal Power Initial Comments at 12-13; Large Public Power Initial Comments at 30.

1001. Further, we disagree with American Municipal Power that FPA section 217(b)(4) requires that this final order treat load-serving entities on par with Relevant State Entities. Through the requirements of this final order, we seek to ensure that adequate transmission capacity is built to allow load-serving entities to meet their service obligations and facilitate the planning of a reliable grid, consistent with FPA section 217(b)(4). Nothing in our determination to require transmission providers to consult with and seek support from Relevant State Entities (but not load-serving entities) changes that aim or undercuts the ability of Long-Term Regional Transmission Planning to achieve it. We continue to find that other requirements in the final order, including the requirement to incorporate state-approved integrated resource plans and expected supply obligations for load-serving entities in the development of Long-Term Scenarios, ensure load-serving entities' reasonable needs for transmission capacity to meet their service obligations are incorporated into Long-Term Regional Transmission Planning.

1002. Finally, in response to commenters,²¹⁸³ we clarify that transmission providers, not Relevant State Entities, must determine whether or not to select Long-Term Transmission Facilities to meet Long-Term Transmission Needs. Under the FPA, the Commission has jurisdiction over transmission providers, and those entities, not Relevant State Entities, are subject to the requirements of this final order. As discussed above in the Transparent and Not Unduly Discriminatory; More Efficient or Cost-Effective Transmission Facilities section, we require herein that transmission providers designate a point in the evaluation process at which they will determine whether to select or not select identified Long-Term Regional Transmission Facilities (or portfolio of such Facilities).

²¹⁸³ See, e.g., ISO-NE Initial Comments at 35 (arguing that states should be responsible for determining whether to select transmission facilities and that transmission providers should play a supportive, technical role); NEPOOL Initial Comments at 8 (requesting that the Commission articulate principles for who should select multi-value transmission facilities); NESCOE Initial Comments at 9,48-49 (requesting that the Commission require transmission providers to include a role in their OATTs for Relevant State Entities in the selection of Long-Term Regional Transmission Facilities); PJM Reply Comments at 36 (requesting that the Commission clarify that transmission providers retain the authority to select transmission facilities).

5. Voluntary Funding Opportunities

a. NOPR Proposal

1003. In the NOPR, the Commission sought comment on whether Relevant State Entities should have the opportunity to voluntarily fund the cost of, or a portion of the cost of, a Long-Term Regional Transmission Facility to enable such facility to meet transmission providers' selection criteria (e.g., any benefit-cost threshold), and if so, what mechanism would be appropriate to document such voluntary funding agreements, how transmission providers would be assured that commitments to provide funding would be sufficiently binding, and what the most appropriate point would be in the process for such voluntary commitments.²¹⁸⁴ The Commission also sought comment on whether such a voluntary funding opportunity should be extended to other entities, such as interconnection customers.²¹⁸⁵

²¹⁸⁴ NOPR, 179 FERC ¶ 61,028 at P 252. The Commission stated that, for Long-Term Regional Transmission Facilities, such an opportunity for the Relevant State Entities could enable them to assign a value to achieving their particular policy goals while ensuring that their customers bear the corresponding costs. Id. P 252 n.399.

²¹⁸⁵ Id.

b. Comments

1004. Of commenters that address the question posed in the NOPR regarding whether Relevant State Entities should have the opportunity to voluntarily fund the cost of, or a portion of the cost of, a Long-Term Regional Transmission Facility, nearly all argue that the Commission should allow such an opportunity.²¹⁸⁶ ISO-NE argues that the Commission should provide flexibility to transmission providers to determine the specific means for documenting the state's agreement to provide such funding.²¹⁸⁷ APPA argues that the Commission should require the filing under FPA section 205 of agreements to fund the cost of, or a portion of the cost of, a transmission facility so that affected parties have an opportunity to comment.²¹⁸⁸

²¹⁸⁶ See Ameren Initial Comments at 21; APPA Initial Comments at 34-35; Clean Energy Associations Initial Comments at 23; Duke Initial Comments at 28-29; Grid United Initial Comments at 6; Idaho Commission Initial Comments at 5; ISO-NE Initial Comments at 36; Louisiana Commission Initial Comments at 29; NARUC Initial Comments at 31-32 (citing MISO-SPP Joint Targeted Interconnection Queue Study (JTIQ), MISO, https://www.misoenergy.org/engage/committees/miso-spp-joint-targeted-interconnection-queue-study/); New Jersey Commission Initial Comments at 25; PPL Initial Comments at 19; SDG&E Initial Comments at 4; WATT Coalition Initial Comments at 11; Xcel Initial Comments at 14 (stating that neither the FPA nor the Commission's rules and regulations categorically preclude voluntary agreement to plan and pay for new transmission facilities (citing Order No. 1000, 136 FERC ¶ 61,051 at PP 146, 561, 724; State Voluntary Agreements to Plan & Pay for Transmission Facilities, 175 FERC ¶ 61,225 at P 3)).

²¹⁸⁷ ISO-NE Initial Comments at 36.

²¹⁸⁸ APPA Initial Comments at 34-35 (citing PJM Interconnection, L.L.C., 179 FERC ¶ 61,024 (2022)).

1005. Grid United argues that, while it supports ex ante cost allocation methods, the Commission also should continue to permit alternative cost recovery arrangements, including participant funding agreements and voluntary agreements entered into by generation developers and Relevant State Entities.²¹⁸⁹ Duke asserts that the Commission should avoid prescriptive rules that discourage or undervalue voluntary funding from transmission providers, states, Relevant State Entities, or interconnection customers.²¹⁹⁰ Xcel argues that the Commission should state in a final order that neither the FPA nor the Commission's rules and regulations forbid voluntary arrangements for planning and paying for transmission facilities.²¹⁹¹

²¹⁸⁹ Grid United Initial Comments at 6.

²¹⁹⁰ Duke Initial Comments at 28-29.

²¹⁹¹ Xcel Initial Comments at 14.

1006. NARUC argues that the final order should not inhibit the flexibility of Relevant State Entities in developing approaches to such voluntary funding commitments.²¹⁹² NARUC argues that the final order should be as flexible as possible in providing voluntary funding opportunities to account for the variety of state laws enabling such authority and to allow for the possibility of sharing the costs of such transmission facilities between load and generator developers.²¹⁹³

²¹⁹² NARUC Initial Comments at 31-32; accord Idaho Commission Initial Comments at 5.

²¹⁹³ NARUC Initial Comments at 32.

1007. Louisiana Commission supports the NOPR proposal and argues that voluntary agreement is the only fair, reasonable, and just way to allocate the costs of transmission facilities selected in Long-Term Regional Transmission Planning.²¹⁹⁴ Ameren believes that Relevant State Entities should have the opportunity to fund a portion of the cost of a transmission facility that otherwise would not meet the OATT selection criteria but requests that the Commission clarify that this decision “is referring to cost allocation.” ²¹⁹⁵ Ameren argues that without this clarification, Relevant State Entities could fund part of the transmission facility while imposing on a transmission owner the obligation to operate and maintain that facility and assure regulatory compliance without adequate compensation, in violation of the D.C. Circuit's determination in Ameren Services Co. v. FERC that transmission owners “should not be forced to operate as a non-profit.” ²¹⁹⁶

²¹⁹⁴ Louisiana Commission Initial Comments at 29.

²¹⁹⁵ Ameren Initial Comments at 21-22 (citing NOPR, 179 FERC ¶ 61,028 at P 252).

²¹⁹⁶ Id. (citing Ameren Servs. Co. v. FERC, 880 F.3d 571 (D.C. Cir. 2018)).

1008. Clean Energy Associations suggest two mechanisms to provide opportunities for states and interconnection customers to ensure that necessary transmission facilities are built. First, Clean Energy Associations would provide a “Transmission Alternative Right,” through which states or interconnection customers could pay the difference between evaluated benefits and the level of benefits necessary to meet the applicable benefits threshold. Second, Clean Energy Associations would provide a “Transmission Expansion Right,” which would allow states or interconnection customers to provide funding to expand transmission facilities beyond those identified in Long-Term Regional Transmission Planning. With respect to this second right, Clean Energy Associations contend that the funding parties should receive time-limited priority usage of additional transmission expansion that they fund and retain incremental capacity attributes associated with the expanded capability.²¹⁹⁷ Clean Energy Associations also suggest that the portion of the expanded Long-Term Regional Transmission Facility originally identified in the regional transmission plan would receive the applicable regional cost allocation.²¹⁹⁸

²¹⁹⁷ Clean Energy Associations Initial Comments at 23-24 (citing Clean Energy Associations ANOPR Initial Comments at 76). Clean Energy Associations assert this would be consistent with Order No. 807. Id. (citing Clean Energy Associations ANOPR Initial Comments at 76-78; Open Access & Priority Rights on Interconnection Customer's Interconnection Facilities, Order No. 807, 150 FERC ¶ 61,211, at P 109, order on reh'g, Order No. 807-A, 153 FERC ¶ 61,047 (2015)).

²¹⁹⁸ See id.

1009. New Jersey Commission argues that allowing Relevant State Entities the opportunity to fund the cost of or part of the cost of transmission facilities would provide a way to value a transmission facility's public policy benefits and a mechanism for co-optimizing reliability and economic benefits while meeting public policy needs. However, New Jersey Commission states that, while the proposed 20-year transmission planning horizon should ensure that transmission providers identify opportunities for multi-driver transmission projects in sufficient time for states to provide funding, the Commission should mandate that transmission providers reach out to Relevant State Entities to inform them of such opportunities on a timely basis.²¹⁹⁹

²¹⁹⁹ New Jersey Commission Initial Comments at 28.

1010. SPP takes no position on the voluntary funding issue but states that its Regional State Committee developed a cost allocation framework that includes the option for entities to sponsor specific transmission projects, assuming cost responsibility without imposing burdens on others through the general rate structure. SPP states that this mechanism could be used by a state or states to fund projects that SPP otherwise would not select.²²⁰⁰

²²⁰⁰ SPP Initial Comments at 22 (citing SPP, Governing Documents Tariff, Bylaws, First Revised Volume No. 4 (0.0.0), § 7.2).

1011. While PPL supports the ability of states to fund the cost of, or a portion of the costs of, transmission facilities that otherwise would not meet selection criteria, PPL argues that the final order should not require transmission providers to facilitate such an opportunity with states.²²⁰¹ APS contends that it is not appropriate for a Relevant State Entity to volunteer its ratepayers to fund, and APS to build, a transmission facility. APS explains that Arizona is a diverse state with several non-jurisdictional entities; as such, APS contends that the state would not have the authority to volunteer all the state's ratepayers to fund the transmission facility, which ultimately may burden transmission providers with additional costs and responsibilities.²²⁰²

²²⁰¹ PPL Initial Comments at 19.

²²⁰² APS Initial Comments at 10.

c. Commission Determination

1012. We modify the NOPR proposal and require transmission providers in each transmission planning region to include in their OATTs a process to provide Relevant State Entities and interconnection customers with the opportunity to voluntarily fund the cost of, or a portion of the cost of, a Long-Term Regional Transmission Facility that otherwise would not meet the transmission providers' selection criteria. We provide transmission providers with the flexibility to propose certain features of such a voluntary funding process in their compliance filings.²²⁰³ However, this voluntary funding process must be transparent and not unduly discriminatory or preferential and provide for the four components discussed below. Further, as with other aspects of the evaluation process and selection criteria, transmission providers must consult with and seek support from Relevant State Entities when developing a process to provide Relevant State Entities and interconnection customers with the opportunity to voluntarily fund the cost of, or a portion of the cost of, a Long-Term Regional Transmission Facility that they propose to include in their OATTs.

²²⁰³ See ISO-NE Initial Comments at 36; NARUC Initial Comments at 31-32 (requesting flexibility to design voluntary funding processes).

1013. In setting forth the requirement that transmission providers include in their OATTs a process to provide Relevant State Entities and interconnection customers with the opportunity to voluntarily fund the cost of, or a portion of the cost of, a Long-Term Regional Transmission Facility that otherwise would not meet the transmission providers' selection criteria, we direct transmission providers to propose OATT provisions on compliance that describe: (1) the process by which the transmission providers will make voluntary funding opportunities available to Relevant State Entities and interconnection customers, which must ensure that Relevant State Entities and interconnection customers receive timely notice of such opportunities and provide a meaningful opportunity for Relevant State Entities and interconnection customers; (2) the period during which Relevant State Entities and interconnection customers may exercise the option to provide voluntary funding; (3) the method that transmission providers will use to determine the amount of voluntary funding required to ensure that the Long-Term Regional Transmission Facility meets the transmission providers' selection criteria; and (4) the mechanism through which transmission providers and Relevant State Entities or interconnection customers will memorialize any voluntary funding agreement, e.g., a pro forma agreement in the OATT. We clarify that, for any portion of the costs of a selected Long-Term Regional Transmission Facility that is not voluntarily funded by a Relevant State Entity (or Entities) or interconnection customers, those remaining costs must be allocated according to the applicable Long-Term Regional Transmission Cost Allocation Method (or cost allocation method resulting from a State Agreement Process, if such a process is adopted by the transmission providers in the associated transmission planning region).

1014. We believe that requiring transmission providers to include a voluntary funding process in their OATTs ultimately may increase the number of Long-Term Regional Transmission Facilities that are selected. The voluntary funding processes that we are requiring transmission providers to include in their OATTs will allow Relevant State Entities and interconnection customers to voluntarily fund the cost of, or a portion of the cost of, a Long-Term Regional Transmission Facility, with any remaining costs allocated to beneficiaries in a manner that is at least roughly commensurate with the estimated benefits that they will receive. As such, a voluntary funding process will allow the development of Long-Term Regional Transmission Facilities that Relevant State Entities or interconnection customers believe are beneficial but that might not otherwise be selected.²²⁰⁴ We also believe that such a voluntary funding process could help transmission providers to avoid, manage, or resolve otherwise difficult disputes among stakeholders in their transmission planning regions, such as those arising from situations in which Relevant State Entities or interconnection customers value the development of certain Long-Term Regional Transmission Facilities differently.

²²⁰⁴ See, e.g., New Jersey Commission Initial Comments at 25-26 (arguing that voluntary funding would provide a way to value a transmission facility's public policy benefits and a mechanism for co-optimizing reliability and economic benefits while meeting public policy needs).

1015. We acknowledge, consistent with APS's comments, that in certain states Relevant State Entities may not have the necessary authority to require all of that state's ratepayers to provide the funding needed to take advantage of voluntary funding opportunities.²²⁰⁵ We do note, however, nothing in this final order is intended to limit, preempt, or otherwise affect state or local laws or regulations with respect to the ability of any Relevant State Entity to voluntarily fund any costs of a Long-Term Regional Transmission Facility. Whether and to what extent a Relevant State Entity chooses to take advantage of an opportunity to voluntarily fund the costs of a Long-Term Regional Transmission Facility is dependent on whether that entity has the requisite authority to do so.

²²⁰⁵ APS Initial Comments at 10.

1016. In response to Ameren,²²⁰⁶ we decline to determine at this point what effect Ameren Services Co. v. FERC may have on voluntary funding arrangements or the allocation of the costs of a transmission facility net of that voluntary funding, which may depend on how transmission providers propose to allow for voluntary funding opportunities.

²²⁰⁶ Ameren Initial Comments at 21-22.

1017. We decline Clean Energy Associations' request that we require transmission providers to allow voluntary funding opportunities to expand a Long-Term Regional Transmission Facility beyond what was identified through Long-Term Regional Transmission Planning (e.g., voluntarily funding the construction of a 500 kV transmission line where a 345 kV transmission line was identified through Long-Term Regional Transmission Planning).²²⁰⁷ While we recognize that there may be interest in providing additional opportunities for voluntary funding, we find that there is insufficient record evidence to support imposing this modification to the voluntary funding opportunity we require in this final order. We note, however, that nothing in this final order prohibits this type of voluntary funding approach and transmission providers may either seek to demonstrate that a proposal including such an approach is consistent with or superior to what is required by this order, or else submit a filing under FPA section 205 to propose the inclusion in their OATTs of voluntary funding opportunities that go beyond those required in this final order.

²²⁰⁷ Clean Energy Associations Initial Comments at 23-24 (citations omitted).

1018. Finally, in response to APPA,²²⁰⁸ we decline to impose any specific requirement for transmission providers to file agreements that memorialize voluntary funding arrangements under FPA section 205. The Commission will evaluate on compliance the mechanism that transmission providers propose for memorializing voluntary funding agreements between transmission providers and Relevant State Entities or interconnection customers, as applicable.

²²⁰⁸ APPA Initial Comments at 34-35 (citing PJM Interconnection, L.L.C., 179 FERC ¶ 61,024).

6. No Selection Requirement

a. NOPR Proposal

1019. The Commission did not propose in the NOPR to require that transmission providers select transmission facilities, even in the event that a transmission facility meets the selection criteria established by the transmission providers.²²⁰⁹

²²⁰⁹ See NOPR, 179 FERC ¶ 61,028 at P 9 (noting that the proposed reforms related to regional transmission planning and cost allocation requirements, like those of Order Nos. 890 and 1000, are focused on the transmission planning process, and not on any substantive outcomes that may result from this process); see also id. P 241 (requiring transmission providers to propose selection criteria to identify and evaluate transmission facilities for potential selection).

b. Comments

1020. Many commenters express opposition to any potential requirement under which the Commission would require transmission providers to select Long-Term Regional Transmission Facilities.²²¹⁰ For example, ISO-NE states that the final order should be clear that transmission providers are not required to select any identified Long-Term Regional Transmission Facilities for inclusion in system plans or cost allocation purposes, and NESCOE agrees.²²¹¹ Ameren contends that a mandate to select any transmission facility may result in over-building the transmission system.²²¹² Xcel makes a similar point, arguing that it would result in a loss of confidence in the transmission planning process. Furthermore, Xcel argues, transmission planning is subjective and removing all discretion from transmission planners would result in bad outcomes.²²¹³

²²¹⁰ See, e.g., California Water Initial Comments at 14-15; Dominion Initial Comments at 18; Dominion Reply Comments at 8 (citing NARUC Initial Comments at 5-6, 39); ISO-NE Initial Comments at 35-36 (citing NOPR, 179 FERC ¶ 61,028 (Christie, Comm'r, concurring at P 10)); NESCOE Initial Comments at 46-47; NRECA Initial Comments at 48; NRECA Reply Comments at 4-8 (citations omitted); NYISO Initial Comments at 44 (citing N.Y. Indep. Sys. Operator, Inc., 148 FERC ¶ 61,044, at P 125 (2014)); TANC Initial Comments at 10.

²²¹¹ ISO-NE Initial Comments at 35-36 (citing NOPR, 179 FERC ¶ 61,028 (Christie, Comm'r, concurring at P 10)); NESCOE Reply Comments at 5 (citing ISO-NE Initial Comments at 35-36).

²²¹² Ameren Initial Comments at 13 (citing Large Public Power Initial Comments at 10).

²²¹³ Xcel Initial Comments at 13-14.

1021. SERTP Sponsors urge the Commission to make clear that there is no requirement for transmission providers to select Long-Term Regional Transmission Facilities based on long-term studies without specific express support and agreement of the relevant regulatory authorities and policy makers.²²¹⁴ NRECA asserts that transmission planning using a 20-year transmission planning horizon is an exercise fraught with uncertainty, and requests that the Commission clarify that it is not mandating that transmission providers select Long-Term Regional Transmission Facilities 20 years in advance.²²¹⁵ NRECA states that other commenters also expressed concerns about risks to consumers associated with selecting transmission projects in the regional transmission plan for purposes of cost allocation 20 years before they may be needed.²²¹⁶

²²¹⁴ SERTP Sponsors Initial Comments at 5; see also Alabama Commission Initial Comments at 3 (contending that Long-Term Regional Transmission Planning should not involve selection or construction obligations unless the affected state regulators support such actions).

²²¹⁵ NRECA Initial Comments at 27, 48.

²²¹⁶ NRECA Reply Comments at 4-8 (citing APPA Initial Comments at 22, 24-36; California Municipal Utilities Initial Comments at 2-3, 5-7, 15; ELCON Initial Comments at 10; Large Public Power Initial Comments at 6-8, 11-13; Nebraska Commission Initial Comments at 2; New York Commission and NYSERDA Initial Comments at 8, 11-12; Pennsylvania Commission Initial Comments at 4-5; PJM Initial Comments at 59-62; TANC Initial Comments at 10).

1022. Dominion claims that Long-Term Regional Transmission Planning should not be a mandated development and construction plan of transmission facilities and argues that it should instead merely be a tool to help transmission providers understand where transmission needs may exist now and in the future.²²¹⁷

²²¹⁷ Dominion Reply Comments at 8 (citing PIOs Initial Comments at 13, 28; NARUC Initial Comments at 5-6, 39).

1023. PJM requests that the Commission clarify that transmission providers can identify trends across multiple Long-Term Regional Transmission Planning cycles without needing to select specific transmission facilities, arguing that it should have the flexibility to open solicitations for transmission facilities as system needs arise.²²¹⁸

²²¹⁸ PJM Reply Comments at 36-37.

1024. A few commenters favor selection mandates in at least some circumstances. For example, Eversource argues that the Commission should consider requiring transmission providers to address transmission needs that are identified in multiple Long-Term Scenarios or in the “high-impact, low-frequency event” scenario. Eversource contends that transmission providers otherwise risk failing to select transmission facilities that will greatly increase reliability, resiliency, and affordability.²²¹⁹

²²¹⁹ Eversource Initial Comments at 26 (citing NOPR, 179 FERC ¶ 61,028 at P 124).

1025. PIOs state that experience with Order No. 1000 demonstrates that some transmission providers may only do the bare minimum to comply and therefore may fail to select, allocate the costs of, or construct much needed transmission. As such, PIOs state, the Commission should require transmission providers to use good faith efforts to select recommended transmission facilities.²²²⁰

²²²⁰ PIOs Initial Comments at 12-13.

c. Commission Determination

1026. The Commission did not propose in the NOPR, and we will not require in this final order, that transmission providers select any particular Long-Term Regional Transmission Facility—even where a particular transmission facility meets the transmission providers' selection criteria in their OATTs.²²²¹ This final order improves regional transmission planning processes by ensuring that transmission providers identify Long-Term Transmission Needs, identify Long-Term Regional Transmission Facilities that resolve those needs and assess the benefits thereof, and provide the opportunity for transmission providers to select such Long-Term Regional Transmission Facilities. In other words, as in Order No. 1000, our focus is on ensuring that regional transmission planning processes result in just and reasonable rates, and not on requiring that these processes achieve any particular substantive outcome.

²²²¹ See, e.g., ISO-NE Initial Comments at 35-36 (citing NOPR, 179 FERC ¶ 61,028 (Christie, Comm'r, concurring at P 10)); NESCOE Reply Comments at 5 (citing ISO-NE Initial Comments at 35-36); SERTP Sponsors Initial Comments at 5.

1027. We believe that transmission providers implementing Long-Term Regional Transmission Planning and developing regional transmission plans require the flexibility to balance competing interests in the transmission planning region and to exercise engineering judgment to ensure the reliable operation of the transmission system and compliance with a variety of regulatory requirements.

1028. We clarify that nothing in this final order prohibits transmission providers from proposing to impose upon themselves a requirement to select a Long-Term Regional Transmission Facility in certain circumstances. For example, transmission providers might propose selection criteria that would require them to select a Long-Term Regional Transmission Facility if it would meet a Long-Term Transmission Need that appears in multiple Long-Term Scenarios, or if it exceeded selection criteria by a pre-set margin.

7. Other Issues

a. Comments

1029. Clean Energy Associations argue that any transmission projects that are approved at the end of a transmission planning cycle should be included in updated models in the next transmission planning cycle, as well as in generation interconnection studies.²²²²

²²²² Clean Energy Associations Initial Comments at 10.

1030. R Street argues that the status quo selection process undermines the NOPR's objective of advancing efficient and cost-effective transmission expansion and that many transmission projects, especially reliability projects, are not subject to economic scrutiny. Therefore, R Street argues that the Commission should require that all transmission projects pass a cost-benefit analysis under the purview of an independent transmission planner and/or monitor across all Order No. 1000 transmission planning regions.²²²³

²²²³ R Street Initial Comments at 10.

b. Commission Determination

1031. In response to Clean Energy Associations, we clarify that we are not imposing specific requirements regarding the treatment of selected Long-Term Regional Transmission Facilities in subsequent Long-Term Regional Transmission Planning cycles, beyond the overall requirements discussed in the Development of Long-Term Scenarios section of this final order. As we explain above, selection is only one of a number of steps in the transmission development process, and we believe that it is appropriate to provide transmission providers flexibility on how to update their planning models in a manner that most effectively addresses the specifics of their regional transmission planning processes, consistent with the requirements of this final order.

1032. Finally, we note that this final order generally does not require transmission providers to replace or otherwise make changes to existing Order No. 1000 regional reliability and economic transmission planning and cost allocation processes. As such, we decline to adopt R Street's proposal to require that all transmission projects pass a cost-benefit analysis.

8. Reevaluation

a. NOPR Proposal

1033. The Commission proposed in the NOPR that, consistent with Order No. 1000, the developer of a transmission facility selected through Long-Term Regional Transmission Planning to address transmission needs driven by changes in the resource mix and demand would be eligible to use the applicable cost allocation method for the Long-Term Regional Transmission Facility. The Commission proposed that the existing transmission developer requirements would apply, including that the developer of the selected regional transmission facility must submit a development schedule that indicates the required steps, such as the granting of state approvals necessary to develop and construct the transmission facility such that it meets the transmission needs of the transmission planning region.²²²⁴ The Commission proposed that, to the extent the Relevant State Entities in a transmission planning region agree to a State Agreement Process, as described in the Regional Transmission Cost Allocation section, the development schedule should also include relevant steps related to that process.²²²⁵

²²²⁴ NOPR, 179 FERC ¶ 61,028 at P 247 (citing Order No. 1000-A, 139 FERC ¶ 61,132 at P 442). The Commission also stated in Order No. 1000-A that, as part of the ongoing monitoring of the progress of a transmission facility once it is selected, the transmission providers in a transmission planning region must establish a date by which state approvals to construct must have been achieved that is tied to when construction must begin to timely meet the need that the facility is selected to address. If such critical steps have not been achieved by that date, then the transmission providers in a transmission planning region may “remove the transmission project from the selected category and proceed with reevaluating the regional transmission plan to seek an alternative solution.” Order 1000-A,139 FERC ¶ 61,132 at P 442.

²²²⁵ NOPR, 179 FERC ¶ 61,028 at P 247.

1034. The Commission noted that, given the longer-term nature of transmission needs driven by changes in the resource mix and demand, the required development schedule for a transmission facility selected may make it unnecessary for the developer to take actions or incur expenses in the near-term if the transmission facility will not need to be in service in the near-term. The Commission also noted that a transmission provider may make that Long-Term Regional Transmission Facility's selection status subject to the outcomes of subsequent Long-Term Regional Transmission Planning cycles, such that the previously selected transmission facility is no longer needed. The Commission proposed that transmission providers include in their selection criteria how they will address the selection status of a previously selected transmission facility based on the outcomes of subsequent Long-Term Regional Transmission Planning cycles.²²²⁶

²²²⁶ Id. P 248.

b. Comments

1035. Some commenters argue that the Commission should allow or require transmission providers to make the selection of a Long-Term Regional Transmission Facility subject to the outcomes of subsequent Long-Term Regional Transmission Planning cycles.²²²⁷ For example, Kansas Commission contends that transmission providers should be able to de-select any transmission facility selected through Long-Term Regional Transmission Planning if other regional transmission planning processes do not establish a need for that transmission facility.²²²⁸ Illinois Commission argues that periodic review and revision of the underlying modeling assumptions incorporated in Long-Term Scenarios will help to ensure that Long-Term Regional Transmission Planning allows transmission providers the opportunity to modify regional transmission plans.²²²⁹

²²²⁷ See, e.g., Ameren Initial Comments at 20-21 (citing NOPR, 179 FERC ¶ 61,028 at P 248).

²²²⁸ Kansas Commission Initial Comments at 14.

²²²⁹ Illinois Commission Initial Comments at 6.

1036. APPA supports the NOPR proposal, stating that “off ramps” from Long-Term Regional Transmission Planning are necessary to protect customers from the costs of transmission facilities that are rendered unneeded or inefficient by material changes in available resources, technology, load characteristics, or laws.²²³⁰ APPA continues that the Commission should also require transmission providers to include in their selection criteria how they will address the selection status of previously selected transmission facilities in subsequent transmission planning cycles. APPA further argues that, to facilitate such review, the Commission should require transmission providers to have clear mechanisms for tracking costs and benefits of Long-Term Regional Transmission Facilities and to file periodic cost tracking reports with the Commission so that stakeholders have an opportunity to comment.²²³¹

²²³⁰ APPA Initial Comments at 22 (citing APPA ANOPR Initial Comments at 9-10; APPA ANOPR Reply Comments at 4; APPA, et al., Statement of Bryce Nielsen, Docket No. RM21-17-000, at 2 (filed Nov. 12, 2021)).

²²³¹ Id. at 35-36.

1037. LS Power argues that transmission providers should perform “variance analyses” of all previously selected regional transmission facilities.²²³² LS Power contends that all variations in costs, from the initial regional planning estimate through project completion, should be maintained in a single publicly available database.²²³³

²²³² LS Power Supplemental Comments at 13-15.

²²³³ Id. at 13.

1038. Certain TDUs argue that the Commission should require each transmission provider, at the time it selects a transmission facility that is expected to be in service more than three years later, (1) to identify the key assumptions that drove its inclusion in the regional transmission plan and (2) to review triennially whether those key assumptions remain valid or have materially changed. To promote customer affordability by avoiding over-building or under-building transmission facilities, Certain TDUs contend that if these key assumptions have materially changed, the Commission should require transmission providers to evaluate whether any revisions are necessary with respect to such transmission facilities.²²³⁴

²²³⁴ Certain TDUs Initial Comments at 20.

1039. Large Public Power argues that, following selection of transmission facilities in Long-Term Regional Transmission Planning, the Commission should require transmission providers to create a cost and risk management framework. Specifically, Large Public Power argues that the Commission should require transmission providers to develop and implement protocols requiring the developer of a transmission facility to file periodic reports with the Commission tracking anticipated project costs against cost projections and updating benefits information. In the period before construction begins, if such reports indicate that anticipated costs have exceeded an identified threshold, or that benefit-cost ratios have declined by an identified percentage, Large Public Power states that stakeholders could consider remedial action and the transmission developer could present stakeholders with mitigation plans. Further, if stakeholders do not reach consensus on the developer's mitigation plan, Large Public Power argues that stakeholders could petition the Commission to disallow regional cost allocation for the transmission facility. Finally, under Large Public Power's proposal, if the Commission disallowed regional cost allocation, the transmission developer would be eligible for abandoned plant cost recovery in the absence of imprudence.²²³⁵

²²³⁵ Large Public Power Initial Comments at 11-12.

1040. Large Public Power argues that its proposal would provide more protection to consumers than did Order No. 1000. Large Public Power further contends that its proposal is similar to, but more expansive than, MISO's existing variance analysis process, and that it would work together with the Commission's proposal to allow transmission providers to make the selection of a Long-Term Regional Transmission Facility subject to the outcome of subsequent Long-Term Regional Transmission Planning cycles.²²³⁶ APPA agrees with Large Public Power's proposal and argues that all interested stakeholders should have the opportunity to participate in any process to reassess previously approved transmission projects.²²³⁷

²²³⁶ Id. (citing NOPR, 179 FERC ¶ 61,028 at P 248; Order No. 1000, 136 FERC ¶ 61,051 at PP 7, 263, 329; MISO, FERC Electric Tariff, MISO OATT, attach. FF (Transmission Expansion Planning Protocol) (90.0.0)).

²²³⁷ APPA Reply Comments at 11-12 (citing Large Public Power Initial Comments at 11-12).

1041. New York Commission and NYSERDA state that, while transmission providers can identify transmission needs using a 20-year transmission planning horizon, transmission facilities should be selected closer in time to when the need is anticipated to materialize. New York Commission and NYSERDA state the final order should direct transmission providers to develop “off ramps” in Long-Term Regional Transmission Planning so that previously identified Long-Term Regional Transmission Facilities can be reevaluated as the facility's needed-by date approaches. New York Commission and NYSERDA state that conducting ongoing review can help reduce the risk of stranded costs.²²³⁸

²²³⁸ New York Commission and NYSERDA Initial Comments at 12.

1042. NRECA contends that selecting transmission projects 20 years in advance is not necessary or even workable. NRECA contends that under the Commission's proposal, transmission providers would select Long-Term Regional Transmission Facilities conditionally and wait until a subsequent Long-Term Regional Transmission Planning cycle to confirm that selection decision, at which point the transmission developer would become eligible to use the applicable regional cost allocation method. NRECA argues that the Commission should allow a transmission provider during such a subsequent cycle to find that a previously selected transmission facility is no longer needed, either because the transmission need no longer exists or because the facility is no longer the most efficient or cost-effective solution to meet the need.²²³⁹

²²³⁹ NRECA Initial Comments at 25-26 (citing NOPR, 179 FERC ¶ 61,028 at P 248).

1043. ISO-NE takes no position on the Commission's proposal but argues that the Commission should allow transmission providers the flexibility to determine the treatment of previously selected transmission projects based on outcomes of subsequent Long-Term Regional Transmission Planning cycles.²²⁴⁰

²²⁴⁰ ISO-NE Initial Comments at 36.

1044. A number of commenters oppose or express concerns with the Commission's proposal to allow transmission providers to make the selection of a Long-Term Regional Transmission Facility subject to the outcome of subsequent Long-Term Regional Transmission Planning cycles. For example, AEP argues that, once selected through Long-Term Regional Transmission Planning, transmission providers should include transmission facilities in future scenario analysis except where a new study raises serious doubt that the transmission facilities continue to provide net benefits. AEP contends that re-studying such transmission facilities will lead to an endless cycle of study and ultimately underinvestment in necessary transmission infrastructure, as well as increased costs for customers.²²⁴¹ Similarly, Indicated PJM TOs argue that, once selected, transmission facilities should remain in the regional transmission plan unless there is serious doubt a transmission facility would provide net benefits.²²⁴²

²²⁴¹ AEP Initial Comments at 13-14.

²²⁴² Indicated PJM TOs Initial Comments at 11.

1045. Avangrid argues that there must be a high bar in subsequent Long-Term Regional Transmission Planning cycles for removing a previously selected transmission facility from the regional transmission plan because transmission developers must have confidence that selection in Long-Term Regional Transmission Planning represents a “definitive directive[ ] to invest capital.” ²²⁴³ Avangrid states that transmission facilities should not be de-selected unless there are changed circumstances that would make continued development of the project materially detrimental. Avangrid argues that otherwise, Long-Term Regional Transmission Planning effectively will be an informational exercise on which investors cannot rely.²²⁴⁴

²²⁴³ Avangrid Initial Comments at 11.

²²⁴⁴ Id.

1046. Eversource recommends that the Commission clarify that once transmission facilities are selected in a Long-Term Regional Transmission Planning cycle, they will not be subject to reevaluation, because such reevaluation would undermine the transmission planning process and deter transmission investment that the Commission is seeking to encourage.²²⁴⁵ Similarly, Exelon argues that the Commission should clarify that the selection of transmission facilities identified in Long-Term Regional Transmission Planning should be a conclusive action that is reasonably final and on which transmission developers can rely. Exelon explains that Long-Term Regional Transmission Facilities are likely to be high-voltage backbone facilities that meaningfully impact power flows on the transmission system and argues that restudy or reconsideration should be the exception and not the rule, allowing for their inclusion in system planning models used for other purposes (e.g., regional transmission planning addressing reliability and economic transmission needs and generator interconnection studies).²²⁴⁶

²²⁴⁵ Eversource Initial Comments at 15-16.

²²⁴⁶ Exelon Initial Comments at 17-18.

1047. WIRES contends that the Commission should clarify that transmission providers need not reevaluate previously selected Long-Term Regional Transmission Facilities after updating Long-Term Scenarios. WIRES claims that doing so would disrupt transmission facility development and raise costs.²²⁴⁷ Similarly, PPL argues that the Commission should exempt transmission facilities that are under construction or for which equipment has been purchased from any reevaluation in subsequent Long-Term Regional Transmission Planning cycles.²²⁴⁸ Invenergy argues that while Long-Term Scenarios should be regularly reassessed and updated, these updates should apply only to future Long-Term Regional Transmission Planning cycles and should not result in re-assessment of previously selected transmission facilities.²²⁴⁹

²²⁴⁷ WIRES Initial Comments at 7.

²²⁴⁸ PPL Initial Comments at 6.

²²⁴⁹ Invenergy Initial Comments at 4-5 (citing NOPR, 179 FERC ¶ 61,028 at app. B).

c. Commission Determination

1048. We adopt the NOPR proposal, with modification, to require transmission providers in each transmission planning region to include in their OATTs provisions that require them—in certain circumstances—to reevaluate Long-Term Regional Transmission Facilities that previously were selected. These OATT provisions must meet the requirements set forth below, as well as the minimum requirements for transmission providers' broader evaluation process and selection criteria described above in the Minimum Requirements section.

1049. Specifically, we direct transmission providers to revise their OATTs to require reevaluation of any selected Long-Term Regional Transmission Facilities in the following three situations, subject to limitations that we set forth below: (1) delays in the development of a previously selected Long-Term Regional Transmission Facility would jeopardize a transmission provider's ability to meet its reliability needs or reliability-related service obligations; ²²⁵⁰ (2) the actual or projected costs of a previously selected Long-Term Regional Transmission Facility significantly exceed cost estimates used in the selection of a Long-Term Regional Transmission Facility; or (3) significant changes in Federal, federally-recognized Tribal, state, or local laws or regulations cause reasonable concern that a previously selected Long-Term Regional Transmission Facility may no longer meet the transmission providers' selection criteria.²²⁵¹

²²⁵⁰ We note that this is the same as the requirement adopted in Order No. 1000. See Order No. 1000, 136 FERC ¶ 61,051 at P 329; Order No. 1000-A, 139 FERC ¶ 61,132 at P 442; NOPR, 179 FERC ¶ 61,028 at P 247 & n.395.

²²⁵¹ NOPR, 179 FERC ¶ 61,028 at P 248.

1050. In addition, we require transmission providers to include specific criteria in their OATTs that they will use to determine when one of these three situations occurs, thereby triggering the reevaluation of a previously selected Long-Term Regional Transmission Facility. For example, with respect to exceeding cost estimates (the second situation listed above), transmission providers may propose a specific threshold of cost escalation (e.g., a percent of total facility cost) above which the transmission providers would reevaluate a previously selected Long-Term Regional Transmission Facility. As another example, with respect to delays (the first situation listed above), transmission providers may propose specific development milestones that, if missed, may jeopardize the transmission developer's schedule and ultimately a transmission provider's ability to meet its reliability needs or reliability-related service obligations. We provide transmission providers with flexibility to propose these criteria on compliance, subject to the requirement that, as with the transmission providers' selection criteria, the reevaluation criteria must seek to maximize benefits accounting for costs over time without over-building transmission facilities. As such, in establishing such criteria, we expect transmission providers will balance the need to provide transmission developers with adequate investment certainty, absent which more efficient or cost-effective Long-Term Regional Transmission Facilities will not be developed, against the risk that, due to significant changes in circumstances, failing to reevaluate a selected Long-Term Regional Transmission Facility may result in the over-building of transmission. In addition, transmission providers must designate a point after which all selected Long-Term Regional Transmission Facilities will no longer be subject to reevaluation, such that the transmission developer of the selected Long-Term Regional Transmission Facility has adequate certainty to make investment decisions, e.g., when the facility's transmission developer has secured all relevant permits and authorizations for the Long-Term Regional Transmission Facility.

1051. Further, as discussed further below, transmission providers may not reevaluate any selected Long-Term Regional Transmission Facility on the basis of significant changes in Federal, federally recognized-Tribal, state, or local laws or regulations unless, during the Long-Term Regional Transmission Planning cycle in which transmission providers selected the Long-Term Regional Transmission Facility, the Long-Term Regional Transmission Facility's targeted in-service date was in the latter half of the 20-year transmission planning horizon for Long-Term Regional Transmission Planning.

1052. We also require transmission providers to include in the reevaluation provisions in their OATTs the process and procedures that they will use to reevaluate a previously selected Long-Term Regional Transmission Facility, including the potential outcomes of reevaluation (e.g., taking no action, imposing a mitigation plan, reassigning the Long-Term Regional Transmission Facility to a different transmission developer, modifying the Long-Term Regional Transmission Facility, removing the Long-Term Regional Transmission Facility from the regional transmission plan).²²⁵² In particular, transmission providers must describe the conditions under which they would remove a previously selected Long-Term Regional Transmission Facility from the regional transmission plan.²²⁵³ We provide flexibility to transmission providers to propose such processes and procedures, subject to the following requirements. First, reevaluation on the basis of cost increases or significant changes in Federal, federally-recognized Tribal, state, or local laws or regulations must be part of a subsequent Long-Term Regional Transmission Planning cycle following selection and must take into account not only the updated costs but also the updated benefits of the Long-Term Regional Transmission Facility.²²⁵⁴ Second, in order to allow for reevaluation to occur, these processes and procedures must include mechanisms for tracking costs so that transmission providers have an accurate way to determine if the actual or projected costs of the previously selected Long-Term Regional Transmission Facility exceed cost estimates by the relevant threshold, therefore requiring transmission providers to reevaluate that Long-Term Regional Transmission Facility. Third, the reevaluation processes and procedures must seek to maximize benefits accounting for costs over time without over-building transmission facilities. Again, we expect transmission providers in establishing these processes and procedures, including potential mitigation measures, to consider outcomes that enable more efficient or cost-effective Long-Term Regional Transmission Facilities to be developed, while addressing the risk of over-building.

²²⁵² See, e.g., MISO, FERC Electric Tariff, MISO OATT, attach. FF (Transmission Expansion Planning Protocol) (90.0.0), § IX.E (setting forth potential outcomes of MISO's variance analysis procedures). Mitigation plans would provide to transmission developers the opportunity to address the cause of the reevaluation. For example, where reevaluation occurs because there are delays in the development of a previously selected Long-Term Regional Transmission Facility, transmission providers might require the transmission developer to develop an operating procedure to ensure that the transmission providers are able to address the reliability need or meet the reliability-related service obligation in the period before the Long-Term Regional Transmission Facility will be placed in service.

²²⁵³ We note that, in the event that the Long-Term Regional Transmission Facility was subject to competitive processes when it was selected, we do not require transmission providers to re-conduct these competitive processes in the event that the reevaluation process results in a change to the scope of the Long-Term Regional Transmission Facility. Instead, transmission providers have the flexibility to propose on compliance and explain whether, and if so when, they will re-run the competitive transmission development process as part of the reevaluation process.

²²⁵⁴ Further, to perform the reevaluation analysis, we expect that transmission providers will use the updated Long-Term Scenarios and associated transmission system models that are developed for the Long-Term Regional Transmission Planning cycle in which the transmission provider reevaluates the selected Long-Term Regional Transmission Facility.

1053. We note that in setting forth these requirements, we have carefully reviewed the record developed here and weighed commenters' countervailing arguments. We believe that the reevaluation requirements set forth above strike a careful balance between two broad objectives of Long-Term Regional Transmission Planning. On the one hand, we believe that transmission providers must have the opportunity to select more efficient or cost-effective Long-Term Regional Transmission Facilities, which requires sufficiently long-term, forward-looking, and comprehensive regional transmission planning practices. Moreover, for selection to meaningfully result in the development of such more efficient or cost-effective Long-Term Regional Transmission Facilities, it must provide adequate certainty to transmission developers to support capital investment.

1054. On the other hand, we also acknowledge the inherent uncertainty involved in predicting future transmission needs, and the continued selection of Long-Term Regional Transmission Facilities that no longer meet the transmission providers' selection criteria closer to the time that those facilities are expected to go into service could be costly for consumers. Where transmission providers have selected Long-Term Regional Transmission Facilities further out in the transmission planning horizon, and where transmission providers timely obtain updated information about significant changes to the costs or benefits of such facilities, we believe that transmission providers must, consistent with the requirements in this final order, reevaluate a selected Long-Term Regional Transmission Facility in order to ensure that the facility continues to meet the transmission providers' selection criteria.

1055. In the NOPR, the Commission attempted to balance these objectives by proposing that, because the required development schedule of a previously selected Long-Term Regional Transmission Facility may not require its transmission developer to take actions or incur expenses in the near-term, transmission providers might be able to make the selection status of a previously selected Long-Term Regional Transmission Facility subject to the outcome of subsequent Long-Term Regional Transmission Planning cycles.²²⁵⁵ On further reflection, however, and after reviewing comments submitted in response to the NOPR,²²⁵⁶ we find that conditioning the selection of a Long-Term Regional Transmission Facility in this manner and on a routine basis may introduce too much uncertainty into transmission providers' evaluation and selection of Long-Term Regional Transmission Facilities.²²⁵⁷ We agree with AEP that routine reevaluation would require repeated studies and ultimately could lead to underinvestment in Long-Term Regional Transmission Facilities that more efficiently or cost-effectively address Long-Term Transmission Needs.²²⁵⁸ Therefore, we do not adopt the NOPR proposal to allow transmission providers to make the selection status of a previously selected Long-Term Regional Transmission Facility subject to the outcome of subsequent Long-Term Regional Transmission Planning cycles.

²²⁵⁵ NOPR, 179 FERC ¶ 61,028 at P 248.

²²⁵⁶ See, e.g., Exelon Initial Comments at 17-18 (arguing that selection should be “reasonably final” and that routine reevaluation would harm the certainty required for developing Long-Term Regional Transmission Facilities, inhibit efficient interconnection queue processing, and undermine system reliability as a whole).

²²⁵⁷ For this reason, we are unpersuaded by NRECA's argument that transmission providers should conditionally select Long-Term Regional Transmission Facilities subject to confirmation in a subsequent Long-Term Regional Transmission Planning cycle. NRECA Initial Comments at 25-26 (citing NOPR, 179 FERC ¶ 61,028 at P 248).

²²⁵⁸ See AEP Initial Comments at 13-14.

1056. Nevertheless, we continue to believe that transmission providers may be reticent to select—and Relevant State Entities and other stakeholders may not support the selection of—certain Long-Term Regional Transmission Facilities in the absence of a requirement for transmission providers to reevaluate the selection of such facilities should significant new information become available that could give rise to concerns that those facilities no longer meet the transmission providers' selection criteria.²²⁵⁹ Further, as is required for regional transmission planning processes under Order No. 1000, transmission providers also must have the ability to take action when delays in developing a Long-Term Regional Transmission Facility risk jeopardizing a transmission provider's ability to meet its reliability needs or reliability-related service obligations.²²⁶⁰

²²⁵⁹ See, e.g., APPA Initial Comments at 22 (arguing that there should be “off ramps” protecting transmission customers from Long-Term Regional Transmission Facilities that, following selection, are rendered unnecessary or inefficient by intervening changes (citations omitted)).

²²⁶⁰ Order No. 1000, 136 FERC ¶ 61,051 at P 329; Order No. 1000-A, 139 FERC ¶ 61,132 at P 442.

1057. As discussed above, selection of a Long-Term Regional Transmission Facility is only one step in the process of developing, constructing, and placing that facility in service for the benefit of customers. Given the risks involved in transmission development, it is necessary to provide sufficient certainty to transmission developers and their financing partners that reevaluation will not lead to endless studies and protracted dispute. Therefore, we require transmission providers to set forth in their OATTs a reevaluation process, as outlined above, that ensures that any reevaluation of Long-Term Regional Transmission Facilities that have been selected will occur only in the circumstances that we have described.

1058. We agree with APPA that reevaluation—and in particular any determination of whether a Long-Term Transmission Need continues to exist or whether a Long-Term Regional Transmission Facility continues to meet the transmission providers' selection criteria—will require transmission providers to be able to track the costs of developing Long-Term Regional Transmission Facilities.²²⁶¹ We note above that transmission providers must propose on compliance the mechanism that they will use to track the costs of selected Long-Term Regional Transmission Facilities.

²²⁶¹ APPA Initial Comments at 36.

1059. As discussed above, however, we note that, when conducting a reevaluation of a selected Long-Term Regional Transmission Facility, transmission providers must update not only actual and projected costs but also their calculation of the benefits of the selected Long-Term Regional Transmission Facility. Such a requirement will ensure that transmission providers are comparing the relevant costs and benefits, i.e., the updated costs and benefits of the selected Long-Term Regional Transmission Facility, to determine whether the Long-Term Regional Transmission Facility continues to be a more efficient or cost-effective regional transmission solution to Long-Term Transmission Needs. Because updating the calculation of the benefits of a Long-Term Regional Transmission Facility is not as straightforward as tracking costs, we require reevaluation on the basis of cost escalations or of changes in Federal, federally-recognized Tribal, state, or local laws and regulations to occur as part of a subsequent Long-Term Regional Transmission Planning cycle. We find that this requirement is appropriate given the substantial time and resources that we expect will be necessary to update the underlying assumptions used in the transmission planning models, which must take place in order to update the calculation of the benefits of selected Long-Term Regional Transmission Facilities for purposes of such reevaluations. Requiring transmission providers to update these assumptions and their transmission planning models, including all Long-Term Scenarios and any associated sensitivities, beyond a subsequent Long-Term Regional Transmission Planning cycle would introduce unnecessary disruptions and potentially impede the efficient conduct of the next Long-Term Regional Transmission Planning cycle.

1060. In response to Kansas Commission, we decline to allow transmission providers to remove a Long-Term Regional Transmission Facility from a regional transmission plan for purposes of cost allocation solely because other regional transmission planning processes do not establish a need for that transmission facility.²²⁶² Long-Term Regional Transmission Planning and existing Order No. 1000 regional transmission planning processes identify transmission needs differently, and we do not agree based on the requirements that we establish in this final order for Long-Term Regional Transmission Planning that reevaluation based solely on transmission needs identified through existing Order No. 1000 regional transmission planning processes is appropriate. We also decline Certain TDUs' request that the Commission require transmission providers to identify certain key assumptions driving the selection of Long-Term Regional Transmission Facilities and to review these assumptions in subsequent Long-Term Regional Transmission Planning cycles. Long-Term Regional Transmission Planning will necessitate that transmission providers compile a wide range of information from multiple data sources, analyze the effect of that information, develop Long-Term Scenarios that provide a view into what Long-Term Transmission Needs may be, and evaluate Long-Term Regional Transmission Facilities in light of these multiple different scenarios. In this light, we believe that Certain TDUs' suggested approach would not capture the complex interactions of the various factors giving rise to Long-Term Transmission Needs.

²²⁶² See Kansas Commission Initial Comments at 14.

1061. Finally, we note that a coalition of diverse interests, including transmission developer, utility, and consumer interests, jointly expressed support for a framework that would provide for reconsideration of a Long-Term Regional Transmission Facility where cost and benefit projections deviate substantially from those at the time of selection.²²⁶³ We appreciate such efforts to bridge divergent interests to find common ground in a compromise proposal, and believe that the reevaluation requirements adopted here, like that widely supported compromise, strike a balance between competing interests.

²²⁶³ See Advocates Advance Transmission Planning Cost Management Proposal At FERC, Large Public Power Council (Mar. 6, 2024), https://www.lppc.org/news/lppc-and-advocacy-groups-advance-transmission-planning-cost-management-proposal-at-ferc (describing endorsements by LPPC, ACEG, CEBA, and NASUCA).

F. Implementation of Long-Term Regional Transmission Planning

1. NOPR Proposal

1062. In the NOPR, the Commission proposed to require transmission providers to explain on compliance how the initial timing sequence for Long-Term Regional Transmission Planning interacts with existing regional transmission planning efforts. The Commission stated that it recognized the possibility that there may be overlap in the time horizon for the proposed Long-Term Regional Transmission Planning and existing near-term regional transmission planning processes and that they will likely inform each other.²²⁶⁴ The Commission also stated that it is possible that, in some cases, transmission facilities selected to address transmission needs driven by changes in the resource mix and demand may provide near-term reliability or economic benefits, and thus potentially displace regional transmission facilities that are under consideration as part of existing regional transmission planning processes.

²²⁶⁴ NOPR, 179 FERC ¶ 61,028 at P 253.

1063. In the NOPR, the Commission also sought comment on whether the Commission should host a periodic forum for transmission providers, transmission experts, relevant Federal and state agencies, and other stakeholders to share best practices in implementing Long-Term Regional Transmission Planning.²²⁶⁵

²²⁶⁵ Id. P 255.

2. Comments

a. Comments on the Initial Timing Sequence

1064. Several commenters support requiring transmission providers to explain on compliance how Long-Term Regional Transmission Planning will interact with existing Order No. 1000 regional transmission planning processes.²²⁶⁶ Several commenters urge the Commission to allow regional flexibility with respect to coordination between existing Order No. 1000 regional transmission planning processes and Long-Term Regional Transmission Planning.²²⁶⁷ NESCOE argues that it could be counterproductive and unnecessary for the Commission to dictate the initial timing of new processes to coordinate them with existing Order No. 1000 regional transmission planning processes.²²⁶⁸ PPL stresses the need for clarity on how the existing Order No. 1000 regional transmission planning processes interacts with Long-Term Regional Transmission Planning and states that each transmission planning region will need to address how planned reliability and economic projects should or should not be reflected in, evaluated against, and affected by long-term studies.²²⁶⁹

²²⁶⁶ Ameren Initial Comments at 22-23; APPA Initial Comments at 5, 24-25; Idaho Commission Initial Comments at 5; National Grid Initial Comments at 19; NYISO Initial Comments at 13.

²²⁶⁷ Ameren Initial Comments at 22-23; Duke Initial Comments at 29; NARUC Initial Comments at 33; National Grid Initial Comments at 19; NESCOE Initial Comments at 51-52; NYISO Initial Comments at 13; Pacific Northwest State Agencies Initial Comments at 20.

²²⁶⁸ NESCOE Initial Comments at 51-52.

²²⁶⁹ PPL Initial Comments at 4.

1065. R Street states that the NOPR correctly identifies challenges in harmonizing existing Order No. 1000 and Long-Term Regional Transmission Planning. R Street argues that the two processes should use different time frames and assumptions, with timing optimized to account for uncertainty. R Street maintains that existing Order No. 1000 transmission planning should be conducted annually over a transmission planning horizon of up to five years and should account for only those generators that are existing, under construction, or have interconnection agreements. R Street states that Long-Term Regional Transmission Planning should be conducted every two or three years over a 20-year transmission planning horizon and should account for representative generation development expectations and longer-term load growth. R Street posits that the long-term process should then feed into the near-term process, and transmission projects failing a cost-benefit test in one transmission planning cycle can roll over to the next in-kind cycle.²²⁷⁰

²²⁷⁰ R Street Initial Comments at 10-11.

1066. PIOs contend that the different timing for Order No. 1000 transmission planning process cycles across transmission planning regions can create inconsistent assumptions, uncoordinated project identification between the two processes, confusion, and administrative burden.²²⁷¹ To address this concern, PIOs assert that the Commission should: (1) mandate Order No. 1000 regional transmission planning process cycles be no longer than Long-Term Regional Transmission Planning cycles and if shorter, divide Long-Term Regional Transmission Planning cycles evenly; ²²⁷² (2) synchronize assumptions so that assumptions are identical for years where both a Long-Term Regional Transmission Planning cycle and an existing Order No. 1000 regional transmission planning cycle start; (3) clarify the time period for existing Order No. 1000 regional transmission planning for economic and reliability needs; and (4) require transmission providers to clarify when results of one transmission planning process are incorporated into another, and require reasonable efforts to avoid one process disrupting the other.²²⁷³

²²⁷¹ PIOs Initial Comments at 47.

²²⁷² As an example, if a transmission provider uses a 36-month Long-Term Regional Transmission Planning cycle, its Order No. 1000 transmission planning cycles should be 36, 18, or 12 months. Id.

²²⁷³ Id. at 48-49.

b. Comments on Periodic Forums

1067. Several commenters support the Commission's proposal to host a periodic forum for transmission providers, transmission experts, relevant Federal and state agencies, and other stakeholders to share best practices in implementing Long-Term Regional Transmission Planning.²²⁷⁴ For example, AEP states that periodic forums would allow stakeholders to discuss best available data, modeling inputs, and techniques for calculating benefits.²²⁷⁵ GridLab states that a periodic forum, along with follow-on technical conferences and a periodic forum, could promote greater convergence in planning methods among transmission providers.²²⁷⁶

²²⁷⁴ ACORE Initial Comments at 15; AEP Initial Comments 6, 31; Arizona Commission Initial Comments at 9; GridLab Initial Comments at 3, 5, 19-20; Idaho Commission Initial Comments at 5; NARUC Initial Comments at 34; NESCOE Initial Comments at 52; Nevada Commission Initial Comments at 12; Northwest and Intermountain Initial Comments at 9, 17; NYISO Initial Comments at 14; Pacific Northwest State Agencies Initial Comments at 20; PJM Initial Comments at 7, 77; R Street Initial Comments at 11; SDG&E Initial Comments at 4; SPP Initial Comments at 24; US DOE Initial Comments at 35-36.

²²⁷⁵ AEP Initial Comments at 31.

²²⁷⁶ GridLab Initial Comments at 5.

1068. Pacific Northwest State Agencies suggest that the Commission could hold technical conferences or regional sessions similar to the Federal State Task Force on Electric Transmission.²²⁷⁷ In contrast, PJM states that the periodic forum should be less formal than the technical conference format and that the Commission should consider using existing interconnection-wide organizations to host some of these forums.²²⁷⁸ SPP also notes that there are existing forums that could be leveraged, such as the Eastern Interconnection Planning Collaborative.²²⁷⁹

²²⁷⁷ Pacific Northwest State Agencies Initial Comments at 20.

²²⁷⁸ PJM Initial Comments at 77.

²²⁷⁹ SPP Initial Comments at 24.

1069. Some commenters recommend that the forums be held on an annual or a triennial schedule.²²⁸⁰ MISO notes that, while the current pace of change might warrant multiple technical discussions to understand emerging trends, over the long term such technical forums may only be necessary when new industry trends are identified.²²⁸¹ Nevada Commission and Northwest and Intermountain suggest that the forum could be structured into two parts, separated by policy and technical discussion, by RTOs/ISOs and OATT transmission planning regions, or by Eastern and Western Interconnection.²²⁸²

²²⁸⁰ AEP Initial Comments at 31; Arizona Commission Initial Comments at 9; Nevada Commission Initial Comments at 12.

²²⁸¹ MISO Initial Comments at 57.

²²⁸² Nevada Commission Initial Comments at 12; Northwest and Intermountain Initial Comments at 9, 17.

1070. Dominion and Idaho Power oppose the Commission hosting additional periodic forums.²²⁸³ Dominion recommends that the Commission use the existing Joint Federal-State Task Force on Electric Transmission instead.²²⁸⁴ Idaho Power asserts that the most useful approach would be to allow transmission planning regions the time necessary to formulate processes that meet the Commission's requirements, and additional time for implementation and integration of those processes into current transmission planning processes.²²⁸⁵

²²⁸³ Dominion Initial Comments at 15-16; Idaho Power Initial Comments at 8-9.

²²⁸⁴ Dominion Initial Comments at 15-16.

²²⁸⁵ Idaho Power Initial Comments at 8-9.

3. Commission Determination

a. Initial Timing Sequence Implementation

1071. We adopt the NOPR proposal to require transmission providers to explain on compliance how the initial timing sequence for Long-Term Regional Transmission Planning interacts with existing regional transmission planning processes. Transmission providers must provide in their explanations any information necessary to ensure that stakeholders understand this interaction, including at least the following two components. First, we find that transmission providers must address the possible interaction between the transmission planning cycle for Long-Term Regional Transmission Planning and existing Order No. 1000 regional transmission planning processes. As the Commission stated in the NOPR, we recognize the possibility that there may be overlap in the time horizon for Long-Term Regional Transmission Planning and existing Order No. 1000 regional transmission planning processes and that these processes will likely inform each other. Second, we find that transmission providers must address the possible displacement of regional transmission facilities from the existing regional transmission planning processes. As the Commission noted in the NOPR, it is possible that, in some cases, Long-Term Regional Transmission Facilities selected to address Long-Term Transmission Needs may provide near-term reliability or economic benefits, and thus could displace regional transmission facilities that are under consideration as part of existing regional transmission planning processes.²²⁸⁶

²²⁸⁶ NOPR, 179 FERC ¶ 61,028 at P 253.

1072. We find that transmission providers should have the flexibility to integrate the existing regional transmission planning processes with Long-Term Regional Transmission Planning in a manner that mitigates the potential for disruption of the existing regional transmission planning processes, and we note the agreement of some commenters on this point.²²⁸⁷ However, we are also concerned that too much flexibility for transmission providers with respect to the date by which they must begin the first Long-Term Regional Transmission Planning cycle could lead to unnecessary delay in realizing these beneficial reforms for customers. Thus, we require transmission providers in each transmission planning region to propose on compliance a date, no later than one year from the date on which initial filings to comply with this final order are due, on which they will commence the first Long-Term Regional Transmission Planning cycle. However, we understand that it will likely be useful to align in some manner the Long-Term Regional Transmission Planning cycle with existing transmission planning cycles. In some cases, such alignment may not be possible to do within this one-year deadline. Therefore, transmission providers in a transmission planning region may propose to start the first Long-Term Regional Transmission Planning cycle on a date later than one year from the initial compliance filing due date, only to the extent needed to align transmission planning cycles. While we encourage transmission providers to align transmission planning cycles if useful, to ensure that there is no inappropriate delay to starting Long-Term Regional Transmission Planning, transmission providers in a transmission planning region that propose a commencement date of later than one year from the compliance due date must include adequate support explaining how the proposed date to begin the first Long-Term Regional Transmission Planning cycle is necessary and appropriately tailored for their transmission planning region.

²²⁸⁷ Ameren Initial Comments at 22-23; Anbaric Initial Comments at 4-5, 22-27; CAISO Initial Comments at 2-3, 9, 17-20; Duke Initial Comments at 29; Indicated PJM TOs Initial Comments at 12; Large Public Power Initial Comments at 14-16; NARUC Initial Comments at 33; National Grid Initial Comments at 19; NESCOE Initial Comments at 51-52; NYISO Initial Comments at 13; PPL Initial Comments at 4; Pacific Northwest State Agencies Initial Comments at 20; Transmission Dependent Utilities Initial Comments at 4-5.

1073. In addition, we recognize commenters' concerns regarding the coordination of Long-Term Regional Transmission Planning and the existing Order No. 1000 regional transmission planning processes, and we encourage transmission providers to address in their explanation how their proposed Long-Term Regional Transmission Planning would facilitate moving beyond piecemeal transmission expansion to address relatively near-term transmission needs and toward a more robust, well-planned transmission system.²²⁸⁸

²²⁸⁸ See supra Need for Reform section.

1074. With respect to the argument by NESCOE that it would be counterproductive and unnecessary for the Commission to dictate the initial timing of new processes,²²⁸⁹ we disagree. We find that it is necessary to establish a requirement for transmission providers to propose on compliance a date, no later than one year from the date on which initial filings to comply with this final order are due (subject to the limited exception described above), on which they will commence the first Long-Term Regional Transmission Planning Cycle, in order to guarantee that implementation will not be subject to unreasonable or unnecessary delay. With regard to the proposals made by PIOs and R Street,²²⁹⁰ we decline to adopt these proposals because we lack the record to assess the impacts that these more prescriptive proposed requirements would have on existing transmission planning processes, and whether these proposals would work effectively across the differing transmission planning processes in each transmission planning region.

²²⁸⁹ NESCOE Initial Comments at 51-52.

²²⁹⁰ PIOs Initial Comments at 44-48; R Street Initial Comments at 10-11.

b. Periodic Forums

1075. We believe that it will be beneficial for the Commission to host a periodic forum for transmission providers, transmission experts, relevant Federal and state agencies, and other stakeholders to share best practices in implementing Long-Term Regional Transmission Planning, and note commenters' agreement on this point.²²⁹¹ Accordingly, the Commission will organize forums to share best practices in implementing Long-Term Regional Transmission Planning and provide notice and relevant details in advance of the forums.

²²⁹¹ ACORE Initial Comments at 15; AEP Initial Comments 6, 31; Arizona Commission Initial Comments at 9; GridLab Initial Comments at 3, 5, 19-20; Idaho Commission Initial Comments at 5; NARUC Initial Comments at 34; NESCOE Initial Comments at 52; Nevada Commission Initial Comments at 12; Northwest and Intermountain Initial Comments at 9, 17; NYISO Initial Comments at 14; Pacific Northwest State Agencies Initial Comments at 20; PJM Initial Comments at 7, 77; R Street Initial Comments at 11; SDG&E Initial Comments at 4; SPP Initial Comments at 24; US DOE Initial Comments at 35-36.

IV. Coordination of Regional Transmission Planning and Generator Interconnection Processes

A. Need for Reform and Overall Reform

1. NOPR Proposal

1076. In the NOPR, the Commission proposed to require that transmission providers consider, as part of their Long-Term Regional Transmission Planning, regional transmission facilities that address certain interconnection-related transmission needs that the transmission provider has identified multiple times in the generator interconnection process but that have never been constructed due to the withdrawal of the underlying interconnection request(s).²²⁹²

²²⁹² NOPR, 179 FERC ¶ 61,028 at P 166.

1077. The Commission preliminarily found that this requirement will support the establishment of just and reasonable and not unduly discriminatory or preferential Commission-jurisdictional rates by addressing a potential barrier to integrating new sources of generation that may otherwise continue to exist absent such requirement in the regional transmission planning process.²²⁹³ As the Commission explained in the NOPR, the interaction between regional transmission planning and cost allocation processes and the generator interconnection process is limited—the baseline regional transmission planning models generally only incorporate interconnection projects that have completed an interconnection facilities study and are therefore near the end of the generator interconnection process.²²⁹⁴ The Commission stated, however, that where transmission system needs are repeatedly identified through generator interconnection processes, more efficient or cost-effective transmission expansion could be achieved through regional transmission planning and cost allocation that allocates costs in a manner that is at least roughly commensurate with estimated benefits and eliminates a potential barrier to entry for new generation resources.²²⁹⁵

²²⁹³ Id. P 168.

²²⁹⁴ Id. P 155 (citing ANOPR, 176 FERC ¶ 61,024 at P 23).

²²⁹⁵ Id. P 161.

1078. Additionally, the Commission sought comment on how the proposed requirement to evaluate such facilities for selection should interact with existing regional transmission planning processes and Long-Term Regional Transmission Planning.²²⁹⁶

²²⁹⁶ Id. P 174.

2. Comments

a. On the Overall Reform

1079. Multiple commenters express support for the general notion of coordinating the transmission planning and generator interconnection processes.²²⁹⁷ Other commenters explicitly support the coordination proposal laid out in the NOPR,²²⁹⁸ with some of these commenters arguing that the NOPR proposal does not go far enough (as described below).²²⁹⁹

²²⁹⁷ ACEG Initial Comments at 51-53; Clean Energy Buyers Initial Comments at 19; DC and Maryland Office of People's Counsel Initial Comments at 16; Fervo Reply Comments at 1; Handy Law Initial Comments at 8-9; Interwest Initial Comments at 10-11; Invenergy Initial Comments at 2; Ohio Commission Federal Advocate Initial Comments at 8; PIOs Initial Comments at 72-73; R Street Initial Comments at 7-8.

²²⁹⁸ ACEG Initial Comments at 51-53; California Commission Initial Comments at 27; SDG&E Initial Comments at 3.

²²⁹⁹ Acadia Center and CLF Initial Comments at 25-26; ACORE Initial Comments at 13.

1080. Other commenters offer more qualified support for the NOPR proposal. APPA and Exelon see value in the proposal but emphasize that any interconnection-related network upgrades that meet the specified criteria must independently satisfy any other applicable criteria for selection.²³⁰⁰ Similarly, NRECA requests that the Commission clarify that interconnection-related network upgrades associated with withdrawn interconnection requests will not receive preferential treatment in Long-Term Regional Transmission Planning.²³⁰¹ Clean Energy Associations and ENGIE support the proposal but argue that the Commission's concern could be more efficiently addressed with better regional transmission planning.²³⁰²

²³⁰⁰ APPA Initial Comments at 31; Exelon Initial Comments at 11-13.

²³⁰¹ NRECA Reply Comments at 10-11.

²³⁰² Clean Energy Associations Initial Comments at 15; ENGIE Initial Comments at 5.

b. Requesting Additional Reform

1081. Some commenters suggest that the NOPR proposal does not go far enough to integrate the transmission planning and generator interconnection processes or to improve interconnection-related network upgrade cost allocation.²³⁰³ ACORE argues that more dramatic reforms are necessary.²³⁰⁴ Anbaric contends that a planning assessment should be conducted whenever an interconnection request triggers interconnection-related network upgrades on the larger transmission system beyond the interconnection substation and associated facilities.²³⁰⁵ ELCON states that Long-Term Regional Transmission Planning should be integrated with the generator interconnection queue.²³⁰⁶ It suggests that the Commission hold regular workshops to review best practices for coordinating the interconnection queue, current regional transmission planning, and Long-Term Regional Transmission Planning to reduce interconnection queue backlogs, leading to larger regional transmission projects that would both incorporate interconnection-related transmission needs and be eligible for competitive bidding.²³⁰⁷

²³⁰³ Anbaric Initial Comments at 7-9; Clean Energy Associations Initial Comments at 25-26; Concerned Scientists Initial Comments at 21-22; ELCON Initial Comments at 13-14; Enel Initial Comments at 4-5; Invenergy Initial Comments at 10-13; Invenergy Reply Comments at 12-13; PIOs Initial Comments at 72-73; Shell Reply Comments at 3-7.

²³⁰⁴ ACORE Initial Comments at 13.

²³⁰⁵ Anbaric Initial Comments at 7-8.

²³⁰⁶ ELCON Initial Comments at 13-14.

²³⁰⁷ Id. at 14-15.

1082. Similarly, Enel urges the Commission to consolidate the generator interconnection process into the regional transmission planning process to allow transmission providers to jointly assess the benefits, and allocate the costs, of transmission projects that benefit system loads and new generation.²³⁰⁸ Likewise, Shell suggests that the Commission integrate Long-Term Regional Transmission Planning and generator interconnection processes, requiring the use of the same benefits analysis under the same criteria, including reliability, economic, and public policy needs. Shell asserts that this approach would: increase opportunities to reduce costs to produce power and deliver it to load, unlock economies of scale and scope, improve processing times for generator interconnection requests, address first mover and free-rider risk, and potentially increase states' willingness to participate in cost allocation.²³⁰⁹

²³⁰⁸ Enel Initial Comments at 4-5 (citing Enel, Plugging In: A Roadmap for Modernizing & Integrating Interconnection and Transmission Planning, https://www.enelgreenpower.com/content/dam/enel-egp/documenti/share/working-paper.pdf (last visited Apr. 2024)).

²³⁰⁹ Shell Reply Comments at 3, 5, 6-7.

1083. Acadia Center and CLF argue that the proposal does not fully address shortfalls with the current method for cost allocation associated with interconnection-related network upgrades.²³¹⁰ They also express concern that the NOPR proposal would address a limited subset of generator interconnection needs and call for additional changes to better allocate the costs of interconnection-related network upgrades (especially those related to offshore wind development) to regional beneficiaries.²³¹¹ Similarly, PIOs state the current cost allocation for interconnection-related network upgrades violates settled law that requires costs to be allocated both to cost causers and beneficiaries.²³¹² Relatedly, Invenergy argues that the most significant factor influencing an interconnection customer's decision to leave the interconnection queue is typically the cost of assigned interconnection-related network upgrades.²³¹³

²³¹⁰ Acadia Center and CLF Initial Comments at 25-26.

²³¹¹ Id. at 25.

²³¹² PIOs Initial Comments at 72.

²³¹³ Invenergy Reply Comments at 14.

1084. Invenergy also argues that interconnection-related network upgrades would remedy existing issues and should thus be addressed through the regional transmission planning process.²³¹⁴ Invenergy asserts that some regions use different dispatch and other assumptions in the regional transmission planning and generator interconnection processes, which can result in persistent system overloads not being addressed through the regional transmission planning process.²³¹⁵ Similarly, Concerned Scientists aver that generator interconnection requests could be 10 years old when the NOPR proposal designates the related interconnection-related network upgrades as suitable for consideration in future Long-Term Scenarios.²³¹⁶ Concerned Scientists argue that the Commission should require the inclusion in Long-Term Scenarios of interconnection-related transmission needs that the generator interconnection process identified multiple times.²³¹⁷

²³¹⁴ Id. at 12.

²³¹⁵ Id.

²³¹⁶ Concerned Scientists Reply Comments at 22.

²³¹⁷ Id.

c. Concerns With the Overall Reform

1085. Some commenters oppose the Commission's proposal.²³¹⁸ AEP, Ameren, CAISO, and Utah Division of Public Utilities argue that the proposal is unnecessary.²³¹⁹ Duke argues that the Commission's proposal is unnecessarily prescriptive, difficult to implement, and risks introducing significant subjectivity and complex administration into the transmission planning process.²³²⁰ Ameren claims the proposal will result in inefficient regional transmission planning because it will not minimize total cost to end-use customers.²³²¹

²³¹⁸ AEP Initial Comments at 6, 18; Ameren Initial Comments at 17; CAISO Initial Comments at 34; Duke Initial Comments at 4; Illinois Commission Initial Comments at 8-9; MISO Initial Comments at 44-47; PJM Initial Comments at 7, 85-86; PPL Initial Comments at 12.

²³¹⁹ AEP Initial Comments at 18-20; Ameren Initial Comments at 18; CAISO Initial Comments at 6, 34-35; Utah Division of Public Utilities Initial Comments at 7.

²³²⁰ Duke Initial Comments at 4, 20.

²³²¹ Ameren Initial Comments at 18.

1086. Vistra argues that the NOPR proposal does not address how the newly created interconnection capacity will be allocated and how the timing and implementation of such upgrades would work.²³²²

²³²² Vistra Initial Comments at 33-34.

1087. MISO contends that the Commission should not adopt prescriptive rules for integrating the generator interconnection and regional transmission planning processes, but instead continue to allow the RTOs/ISOs to develop those processes that best fit their footprint.²³²³ MISO argues that expanding the generator interconnection process beyond its current five-year outlook would slow the generator interconnection process.²³²⁴ MISO requests that if the Commission does not eliminate the NOPR proposal, as MISO would prefer, then the requirement should be altered so that transmission providers would only be required to post a list of generator interconnection upgrades that met the defined criteria.²³²⁵

²³²³ MISO Initial Comments at 44; MISO Reply Comments at 28.

²³²⁴ MISO Reply Comments at 29.

²³²⁵ MISO Initial Comments at 45.

1088. CAISO disagrees with California Commission's comments that the NOPR proposal could improve CAISO's existing interconnection-related network upgrade provisions because the two processes have significantly different eligibility requirements, purposes, and impacts.²³²⁶ CAISO further argues that the NOPR proposal could require transmission planners to study only outdated interconnection-related network upgrades.²³²⁷

²³²⁶ CAISO Reply Comments at 28-29 (citing California Commission Initial Comments at 27).

²³²⁷ Id. at 32.

1089. Mississippi Commission states that interconnection-related network upgrades should focus on reducing costs and providing price signals and not be included in Long-Term Regional Transmission Planning.²³²⁸

²³²⁸ Mississippi Commission Reply Comments at 9.

1090. Some commenters argue that it is incorrect to assume that interconnection customers withdraw from the interconnection queue due solely to high interconnection-related network upgrade costs instead of other reasons ²³²⁹ such as the project being uneconomic,²³³⁰ the project having insufficient site control or permitting delays,²³³¹ the project being speculative,²³³² or some other regulatory or economic factor.²³³³

²³²⁹ CAISO Reply Comments at 29; NRECA Reply Comments at 9; PJM Initial Comments at 87.

²³³⁰ American Municipal Power Initial Comments at 33-34; Indicated PJM TOs Initial Comments at 13-14; Pennsylvania Commission Initial Comments at 8; Vistra Initial Comments at 20.

²³³¹ Duke Initial Comments at 20-21; Idaho Power Initial Comments at 6; Pennsylvania Commission Initial Comments at 8; PJM Initial Comments at 88-89.

²³³² Entergy Initial Comments at 25.

²³³³ PJM Initial Comments at 89.

1091. PJM recommends an alternative proposal for funding generation interconnections in which states play the major role.²³³⁴ Under the PJM proposal, states that want to incent generation interconnections, perhaps to support a renewable portfolio standard, could fund a backbone transmission system to help facilitate these interconnections.²³³⁵

²³³⁴ Id. at 89-90.

²³³⁵ Id. at 90.

1092. Invenergy asks the Commission not to consider certain alternative proposals advanced by other commenters.²³³⁶

²³³⁶ Invenergy Reply Comments at 15 (citing MISO Initial Comments at 45; PJM Initial Comments 85, 90-92).

d. Cost Allocation

1093. Some commenters oppose the NOPR proposal on the assumption that it could shift the cost for interconnection-related network upgrades from interconnection customers to load.²³³⁷ In addition, PJM states that the Commission's proposal could lead to undue discrimination and would distort the price signal that generator developers should see to make reasonable investment decisions.²³³⁸ Industrial Customers state that generators should be able to recover the costs of interconnection through market revenues if their projects are competitive.²³³⁹ Industrial Customers further argue that under the cost causation principle, a new generator should pay for interconnection-related network upgrades if such upgrades are only required because of the generator's interconnection.²³⁴⁰ Vistra asserts that, although the proposal shifts costs indirectly, the Commission still must rationally explain its decision to depart from the existing just and reasonable “but-for” policy of Order No. 2003.²³⁴¹

²³³⁷ APPA Initial Comments at 31; Industrial Customers Initial Comments at 13; NRECA Initial Comments at 41-42 (citation omitted); NRECA Reply Comments at 8-9; PJM Initial Comments at 89-90; Vistra Initial Comments at 8; Xcel Initial Comments at 15.

²³³⁸ PJM Initial Comments at 89.

²³³⁹ Industrial Customers Initial Comments at 13-14.

²³⁴⁰ Id. at 21-22.

²³⁴¹ Vistra Initial Comments at 9 (citation omitted).

1094. Other commenters oppose the Commission's proposed reform because it will increase the cost to serve load. AEP asserts that such a proposal would possibly result in the development of unnecessary transmission infrastructure, which would lead to increased transmission customer costs for no benefit.²³⁴² Dominion argues that this proposal could result in over-building and excessive rates for transmission customers.²³⁴³ TAPS asks the Commission to clarify that consideration of interconnection-related transmission needs would not foreclose transmission providers from proposing a cost allocation method that is different from the cost allocation for other types of Long-Term Regional Transmission Facilities.²³⁴⁴

²³⁴² AEP Initial Comments at 20.

²³⁴³ Dominion Initial Comments at 32.

²³⁴⁴ TAPS Initial Comments at 13-14.

e. Interconnection Queue Gaming Considerations

1095. Several commenters express concerns that the NOPR proposal would incentivize gaming by interconnection customers to promote development of interconnection-related network upgrades through the regional transmission planning process.²³⁴⁵ Some commenters claim that the Commission's proposal could create a perverse incentive for interconnection customers to submit and withdraw multiple interconnection requests so that interconnection-related network upgrades can be considered for regional cost allocation,²³⁴⁶ especially in transmission planning regions with lower thresholds for entering and maintaining a position in the interconnection queue.²³⁴⁷

²³⁴⁵ Ameren Initial Comments at 18-19; American Municipal Power Initial Comments at 34; Dominion Initial Comments at 32; Dominion Reply Comments at 7-8; EEI Initial Comments at 18; Eversource Initial Comments at 23-24; Idaho Power Initial Comments at 6; Pennsylvania Commission Initial Comments at 9; PJM Initial Comments at 89; PPL Initial Comments at 12-13; Shell Initial Comments at 29-30; SPP Initial Comments at 16; Xcel Initial Comments at 16.

²³⁴⁶ Ameren Initial Comments at 18; American Municipal Power Initial Comments at 33-34; EEI Initial Comments at 18; Idaho Power Initial Comments at 6; PJM Initial Comments at 89.

²³⁴⁷ EEI Initial Comments at 18.

1096. Pennsylvania Commission, Shell, Eversource, and US DOE recommend the Commission modify the NOPR proposal to limit or prevent gaming. Pennsylvania Commission argues that adding more commitments on the part of the interconnection customer or requiring a more thorough analysis of the reasons for withdrawal is an appropriate way of addressing the concern.²³⁴⁸ Shell states that, to prevent gaming, the Commission should revise its proposal so that an upgrade is only eligible for inclusion in the Long-Term Regional Transmission Plan if it appears in one generator interconnection study cycle over a five-year period.²³⁴⁹ Eversource asks the Commission to find that submitting and withdrawing interconnection requests simply so that the required interconnection-related network upgrades would be identified twice in the operative period, for example, would violate the Commission's regulations, including but not limited to the duty of candor and the prohibition of market manipulation.²³⁵⁰ US DOE states that the Commission should strive to ensure that the reforms do not create the potential for gaming by generators, which, absent mitigation, could increase delays and backlogs in the interconnection queue.²³⁵¹

²³⁴⁸ Pennsylvania Commission Initial Comments at 9.

²³⁴⁹ Shell Initial Comments at 30.

²³⁵⁰ Eversource Initial Comments at 23-24 (citing 18 CFR 35.41; 18 CFR 1c.2)

²³⁵¹ US DOE Initial Comments at 27-28.

1097. In response, Interwest argues that suggestions that increased coordination would result in gaming assumes that developers know in advance what interconnection-related network upgrades they will be assigned through the interconnection process.²³⁵² Interwest argues that, given the uncertainty about whether, and when, such a process could apply and result in selection and construction of facilities under Long-Term Regional Transmission Planning, it would not incentivize gaming.²³⁵³ Similarly, Invenergy argues that developers would have no reasonable expectation that any interconnection-related network upgrade meeting the NOPR criteria ultimately would be selected through the multi-year regional transmission planning process and actually constructed on a timeline that accommodates the developer's generation facility.²³⁵⁴ If the Commission is concerned about possible gaming, however, Invenergy urges the Commission to revise the proposal to require that withdrawn interconnection requests must have been submitted by unaffiliated entities.²³⁵⁵

²³⁵² Interwest Reply Comments at 5-6 (citing EEI Initial Comments at 18).

²³⁵³ Id. at 6.

²³⁵⁴ Invenergy Reply Comments at 14.

²³⁵⁵ Id. at 14-15.

f. Miscellaneous

1098. SEIA asks the Commission to clarify that the phrase “interconnection-related transmission needs” would allow transmission providers to include either individual or aggregated transmission solutions that address specific needs.²³⁵⁶ SEIA asks the Commission to require transmission providers to assume that these interconnection-related network upgrades will be built and include the interconnection-related network upgrades in their Long-Term Regional Transmission Planning.²³⁵⁷

²³⁵⁶ SEIA Initial Comments at 14 (citing SPP, 2020 Integrated Transmission Planning Assessment Report, at 87 (Oct. 27, 2020)).

²³⁵⁷ Id.

1099. Several commenters argue that the reforms issued under Order No. 2023, Improvements to Generator Interconnection Procedures and Agreements, will address interconnection-related issues more appropriately than the NOPR proposal.²³⁵⁸ Some commenters argue that the Commission should defer consideration of the NOPR proposal until the reforms issued under Order No. 2023 are implemented.²³⁵⁹

²³⁵⁸ Dominion Reply Comments at 8; Idaho Power Initial Comments at 6-7; Illinois Commission Initial Comments at 9; Pacific Northwest Utilities Initial Comments at 15.

²³⁵⁹ Duke Initial Comments at 20; EEI Initial Comments at 18; Entergy Initial Comments at 24-25.

3. Need for Reform

1100. Based on the record, we find that there is substantial evidence to support the conclusion that the Commission's existing regional transmission planning requirements are unjust, unreasonable, and unduly discriminatory or preferential because they do not adequately consider certain interconnection-related transmission needs that the transmission provider has identified multiple times in the generator interconnection process but that have never been resolved due to the withdrawal of the underlying interconnection request(s). We therefore adopt the preliminary findings in the NOPR concerning the need for reform. Specifically, we find that there is insufficient coordination between the Commission's existing generator interconnection processes and regional transmission planning and cost allocation processes regarding interconnection-related transmission needs that are repeatedly identified in the generator interconnection process. As a result of this deficiency, transmission providers do not currently consider those identified interconnection-related transmission needs in their regional transmission planning processes, nor do they evaluate whether more efficient or cost-effective regional transmission solutions to these needs could be achieved through regional transmission planning processes and cost allocation. Accordingly, we find that existing regional transmission planning and cost allocation processes are insufficient to ensure just and reasonable rates, and we direct the reforms discussed below to address this deficiency.

1101. As explained in the NOPR,²³⁶⁰ we are concerned about the prevalence of interconnection-related network upgrades being repeatedly identified in the generator interconnection process in multiple interconnection queue cycles during a short period of time (e.g., five years) but not being developed because the interconnection request(s) driving the need for the upgrade are withdrawn. The record indicates that the level of spending on interconnection-related network upgrades has dramatically increased in recent years, escalating the cost of interconnecting new generation to the transmission system.²³⁶¹ The evidence also suggests that this trend is leading to more and more interconnection customers withdrawing their interconnection requests in the face of significant costs associated with interconnection-related network upgrades.²³⁶² For example, between January 2016 and July 2020, 245 generation projects in advanced stages in the MISO generator interconnection process withdrew from the queue, with the project developers citing high interconnection-related network upgrade costs as the primary reason for their withdrawal.²³⁶³ While interconnection customers may choose to withdraw from the interconnection queue for a number of reasons, in recent years, the deciding factor has increasingly become the interconnection customer's “sticker shock” at its cost responsibility for interconnection-related network upgrades.²³⁶⁴

²³⁶⁰ NOPR, 179 FERC ¶ 61,028 at PP 161-165.

²³⁶¹ See ICF Resources, LLC, Just and Reasonable? Transmission Upgrades Charged to Interconnecting Generators Are Delivering System-Wide Benefits, 2 (Sept. 9, 2021), https://acore.org/wp-content/uploads/2021/09/Just-Reasonable-Transmission-Upgrades-Charged-to-Interconnecting-Generators-Are-Delivering-System-Wide-Benefits.pdf (ICF Sept. 2021 Interconnection Report); Jay Caspary et al., ACEG, Disconnected: The Need for a New Generator Interconnection Policy, 14 (2021)), https://cleanenergygrid.org/wp-content/uploads/2021/01/Disconnected-The-Need-for-a-New-Generator-Interconnection-Policy-1.pdf (ACEG 2021 Interconnection Report).

²³⁶² ACEG 2021 Interconnection Report at 17.

²³⁶³ Id. (naming the high cost of interconnection-related network upgrades as the fundamental problem that interconnection queue reform has failed to address thus far).

²³⁶⁴ See ACORE ANOPR Comments at 12; DC and Maryland Office of People's Counsel Initial Comments at 16; Invenergy Reply Comments at 14; Northwest and Intermountain Initial Comments at 14; see also Order No. 2023, 184 FERC ¶ 61,054 at P 41; Order No. 2023-A, 186 FERC ¶ 61,199 at P 14.

1102. When interconnection customers withdraw from the interconnection queue, the identified interconnection-related network upgrades associated with those interconnection customers remain unbuilt and the underlying interconnection-related transmission needs go unaddressed. In many cases, when the interconnection-related transmission need is not addressed via development of interconnection-related network upgrades in one interconnection queue cycle, the same interconnection-related transmission need—and oftentimes the same or a substantially similar interconnection-related network upgrade—will appear in subsequent interconnection queue cycles. One study, which analyzed 12 specific interconnection-related network upgrades identified by MISO and SPP, found that SPP identified three of the upgrades in two interconnection queue cycles and one in three interconnection queue cycles, and MISO identified three of the upgrades in two interconnection queue cycles and two in three interconnection queue cycles.²³⁶⁵ In other words, both SPP and MISO were repeatedly identifying the same interconnection-related network upgrades as interconnection customers withdrew from the interconnection queue, leaving later-in-time interconnection customers to address the same interconnection-related transmission needs.

²³⁶⁵ ICF Sept. 2021 Interconnection Report at 25-26.

1103. Where interconnection-related transmission needs are repeatedly identified in interconnection studies, the implication may be that the area, despite the potentially prohibitive interconnection costs if borne by one or a small number of interconnection customers, is otherwise desirable for generators to locate (e.g., it is located close to fuel sources). This repeated interest in accessing the transmission system, combined with the lack of available transmission capacity and prohibitive costs of interconnection-related network upgrades, together create a barrier to accessing the transmission system and establish a known interconnection-related transmission need. We find that this barrier to entry can hinder the timely development of new generation, thereby stifling competition in wholesale electricity markets and limiting access to lower-cost generation.²³⁶⁶ We find that existing regional transmission planning processes do not adequately consider or account for this specific set of interconnection-related transmission needs that go unaddressed in the generator interconnection processes. By failing to consider such interconnection-related transmission needs, the regional transmission planning process is unable to identify the more efficient or cost-effective regional transmission solutions.

²³⁶⁶ The Commission has previously found that policies eliminating barriers to entry for generation resources can enhance competition in bulk power markets. Standardization of Generator Interconnection Agreements & Procs., Order No. 2003, 68 FR 49846 (Aug. 19, 2003), 104 FERC ¶ 61,103, at PP 694 (2003), order on reh'g, Order No. 2003-A, 69 FR 15932 (Mar. 26, 2004), 106 FERC ¶ 61,220 at P 579, order on reh'g, Order No. 2003-B, 70 FR 265 (Jan. 4, 2005), 109 FERC ¶ 61,287 (2004), order on reh'g, Order No. 2003-C, 70 FR 37661 (June 30, 2005), 111 FERC ¶ 61,401 (2005), aff'd sub nom. Nat'l Ass'n of Regul. Util. Comm'rs v. FERC, 475 F.3d 1277 (D.C. Cir. 2007); Order No. 2023, 184 FERC ¶ 61,054 at P 44. Limited access to new and more competitive supplies of generation can increase the energy rates paid by wholesale customers. Order No. 2023, 184 FERC ¶ 61,054 at P 43.

1104. Moreover, the Commission has long recognized that interconnection-related network upgrades provide transmission benefits that extend beyond the interconnection customer.²³⁶⁷ By upgrading the transmission system in a piecemeal fashion through the generator interconnection process, as described above, the current regional transmission planning paradigm can impose costs on interconnection customers for transmission facilities that provide benefits beyond those received by the interconnection customer. This paradigm allocates transmission costs in a way that may not be roughly commensurate with the distribution of benefits, a result that can lead to unjust and unreasonable rates. The reform adopted below requires the consideration of regional transmission facilities to meet interconnection-related transmission needs repeatedly identified in the generator interconnection process in the Order No. 1000 regional transmission planning and cost allocation processes, which we believe will result in more efficient or cost-effective regional transmission expansion, cost allocation for such regional transmission facilities that is at least roughly commensurate with estimated benefits, and elimination of a barrier to entry for new generation resources (which can enhance competition in wholesale electricity markets and facilitate access to lower-cost generation). In turn, we expect that these reforms will ensure just and reasonable and not unduly discriminatory or preferential Commission-jurisdictional rates.

²³⁶⁷ See, e.g., Order No. 2003, 104 FERC ¶ 61,103 at P 65 (stating that “[f]acilities beyond the Point of Interconnection [(i.e., interconnection-related network upgrades)] are part of the Transmission Provider's Transmission System and benefit all users”).

1105. Additionally, as discussed further below, we disagree with commenters that question the necessity of this reform. In addition to our findings that this reform will help ensure just and reasonable rates, we find that the specific purpose of this reform—to require transmission providers to evaluate certain interconnection-related transmission needs—is not a requirement of any existing process. Additionally, we find that the qualifying criteria established by this reform will ensure that the reform avoids placing an onerous burden on transmission providers. Finally, we disagree that this reform is overly prescriptive; it does not dictate a specific result or require that transmission providers select a regional transmission facility to address identified interconnection-related transmission needs. This reform merely requires consideration of these interconnection-related transmission needs in the regional transmission planning process.

4. Commission Determination

1106. We adopt the NOPR proposal, with modification, to require transmission providers in each transmission planning region to revise the regional transmission planning processes in their OATTs, consistent with the requirements in this final order, to evaluate for selection regional transmission facilities that address certain identified interconnection-related transmission needs associated with certain interconnection-related network upgrades originally identified through the generator interconnection process, as more fully described below. We find that this requirement will ensure that more efficient or cost-effective transmission expansion can be effectuated through regional transmission planning processes and will eliminate a potential barrier to entry for new generation resources, thereby enhancing competition in wholesale electricity markets and facilitating access to lower-cost generation. As a result, this reform will ensure just and reasonable and not unduly discriminatory or preferential Commission-jurisdictional rates.

1107. In this final order, we adopt the NOPR proposal with modification. First, we require transmission providers to evaluate for selection regional transmission facilities to address certain identified interconnection-related transmission needs in their existing Order No. 1000 regional transmission planning and cost allocation processes, rather than in Long-Term Regional Transmission Planning. Second, we modify the NOPR proposal to require that an interconnection-related network upgrade associated with identified interconnection-related transmission needs must satisfy both the minimum cost and voltage criteria proposed in the NOPR to qualify for evaluation for selection.

1108. In recent years, spending on interconnection-related network upgrades has increased dramatically, and the high cost of interconnection is increasing the rate at which generators withdraw from the interconnection queue.²³⁶⁸ While interconnection customers may withdraw for multiple reasons, the record in this proceeding shows that, in recent years, the deciding factor in many cases of withdrawal has become the interconnection customer's cost responsibility for expensive interconnection-related network upgrades.²³⁶⁹ Consequently, interconnection customers are unlikely to resolve these interconnection-related transmission needs through the generator interconnection process.

²³⁶⁸ ACEG 2021 Interconnection Report at 17.

²³⁶⁹ NOPR, 179 FERC ¶ 61,028 at P 162; DC and Maryland Office of People's Counsel Initial Comments at 16; Invenergy Reply Comments at 14; Northwest and Intermountain Initial Comments at 14.

1109. Where interconnection-related transmission needs are repeatedly identified but not constructed, the implication is that, despite the potentially prohibitive interconnection costs if borne by one or a small number of interconnection customers, there are compelling reasons, such as proximity to fuel sources, why generators seek to locate a point of interconnection at a specific location or locations associated with transmission constraints. When interconnection customers that have invested time and resources in engaging in the generator interconnection process choose to withdraw rather than fund interconnection-related network upgrades, it becomes increasingly apparent that interconnection customer(s) are unlikely to resolve interconnection-related transmission needs through the generator interconnection process.

1110. At the same time, the Commission has found, and courts have affirmed, that interconnection-related network upgrades identified in the generator interconnection process can provide widespread transmission benefits that extend beyond the interconnection customer.²³⁷⁰ As a result, planning these types of upgrades to the transmission system in a piecemeal fashion, exclusively through the generator interconnection process, limits the development of transmission facilities that would provide benefits to the transmission system beyond those received by the interconnection customer. This is the case where interconnection-related network upgrades of substantial cost are repeatedly identified to address interconnection-related transmission needs, but those needs continue to go unresolved through the generator interconnection process. In such cases, it may be more efficient or cost-effective to address such needs through the regional transmission planning and cost allocation process. Therefore, reforms are necessary to require interconnection-related transmission needs associated with interconnection-related network upgrades that are repeatedly identified in the generator interconnection process to be evaluated through the regional transmission planning and cost allocation process. We believe that this approach will result in selection of more efficient or cost-effective regional transmission solutions that will provide benefits to the transmission system, cost allocation for such regional transmission facilities that is at least roughly commensurate with estimated benefits, and elimination of a barrier to entry for new generation resources (which will enhance competition in wholesale electricity markets and facilitate access to lower-cost generation).²³⁷¹ As a result, these reforms will ensure just and reasonable and not unduly discriminatory or preferential Commission-jurisdictional rates.

²³⁷⁰ See, e.g., Entergy Svs., Inc. v. FERC, 391 F.3d 1240, 1247-48 (2004); Order No. 2003, 104 FERC ¶ 61,103 at P 65 (stating that “[f]acilities beyond the Point of Interconnection [(i.e., interconnection-related network upgrades)] are part of the Transmission Provider's Transmission System and benefit all users”); see also ACORE ANOPR Comments, Ex. 5 at 4-7; CAISO ANOPR Comments at 53-54 (stating that in CAISO “transmission facilities at 200 kV and above are eligible for regional cost allocation,” including location-constrained resources interconnection facilities, because “this voltage threshold . . . recognizes that high voltage transmission facilities support and provide benefits to all customers to the CAISO grid”).

²³⁷¹ While in this portion of the final order we discuss the requirement that transmission providers evaluate in their existing regional transmission planning and cost allocation processes regional transmission facilities that address certain interconnection-related needs, we also expect that many of the other reforms in this final order regarding Long-Term Regional Transmission Planning will address the difficulties generators face in interconnecting to the transmission system and the cost allocation mismatch described here, including required Factor Category Six, interconnection requests and withdrawals.

1111. While we require transmission providers to evaluate regional transmission facilities that address certain interconnection-related transmission needs identified by this reform in the existing Order No. 1000 regional transmission planning and cost allocation processes, we allow for flexibility in how transmission providers evaluate such facilities for selection. Transmission providers may adopt the evaluation method and selection criteria from any of their existing Order No. 1000 regional transmission planning and cost allocation processes (e.g., economic or reliability processes) to evaluate and potentially select these types of transmission facilities. By not requiring a specific process, we permit transmission providers to propose the best method to incorporate this requirement within their existing regional transmission planning processes. We also encourage transmission providers to consider, as part of the evaluation process, whether regional transmission facilities that address certain identified interconnection-related transmission needs may also address other regional transmission needs more efficiently or cost-effectively.

1112. Several commenters suggest alternative reforms to coordinate or consolidate regional transmission planning and generator interconnection processes or to modify existing cost allocation criteria.²³⁷² We find these requests to be outside the scope of this proceeding and lacking in record support to adequately consider whether to adopt them in this final order. In this final order, we are addressing the narrow issue of interconnection-related transmission needs being repeatedly identified yet continuing to go unresolved through the generator interconnection process, even though it may be more efficient and cost-effective to evaluate such needs through the regional transmission planning and cost allocation process.

²³⁷² E.g., Enel Initial Comments at 4-5.

1113. We find uncompelling general arguments from commenters that oppose the Commission's proposal because the reform addresses a deficiency in existing regional transmission planning and cost allocation processes, will ensure just and reasonable and not unduly discriminatory or preferential Commission-jurisdictional rates, is not unduly burdensome, and does not dictate a particular outcome. The level of prescriptiveness of this reform strikes the right balance between an open-ended requirement, which might not address the need for reform, and a very prescriptive requirement that could be overly burdensome to transmission providers.

1114. We are unpersuaded by Ameren's argument that this reform will result in inefficient regional transmission planning because it will not minimize the total cost to end-use customers.²³⁷³ As explained above, this reform will enable transmission providers to identify through regional transmission planning the more efficient or cost-effective transmission solution to address an interconnection-related transmission need.

²³⁷³ Ameren Initial Comments at 18.

1115. We clarify in response to Vistra that transmission providers must make the newly created interconnection capacity equally available to all interconnection and transmission customers consistent with the Commission's open access policy.²³⁷⁴ Any interconnection customers whose interconnection requests related to the initial identification of the interconnection-related transmission need would not have any priority rights to that newly created interconnection or transmission capacity. Additionally, we clarify, in response to NRECA's request, that we are not requiring interconnection-related network upgrades associated with withdrawn interconnection requests to be given preferential treatment in regional transmission planning.²³⁷⁵

²³⁷⁴ Vistra Initial Comments at 33-34.

²³⁷⁵ NRECA Reply Comments at 10-11.

1116. In response to commenters arguing that it is incorrect to assume that interconnection customers withdraw from the interconnection queue due solely to high interconnection-related network upgrade costs,²³⁷⁶ we explain that we are not requiring transmission providers to evaluate regional transmission facilities that address interconnection-related transmission needs for every withdrawn interconnection request. Instead, this reform is focused only on certain interconnection-related transmission needs that meet the specific qualifying criteria detailed below. We do not assume that where these criteria are met, the relevant interconnection customers have necessarily withdrawn from the interconnection queue solely due to high interconnection-related network upgrade costs. Rather, we determine that these criteria only suggest that high costs were likely a factor prompting, or at least contributing to, the relevant withdrawals. We conclude that where the criteria are met, there may be an opportunity for a more efficient or cost-effective regional transmission solution, such that an evaluation of the relevant interconnection-related transmission need(s) is appropriate.

²³⁷⁶ CAISO Reply Comments at 29; NRECA Reply Comments at 9; PJM Initial Comments at 87.

1117. We are not persuaded to reject this reform based on commenters' assertions that this reform will shift the costs of interconnection-related network upgrades from interconnection customers to load.²³⁷⁷ This final order requires transmission providers to evaluate in their existing Order No. 1000 regional transmission planning and cost allocation processes regional transmission facilities that address certain identified interconnection-related transmission needs associated with certain interconnection-related network upgrades originally identified through the generator interconnection process. Transmission providers will still have to evaluate and select any regional transmission facilities that address the interconnection-related transmission needs as the more efficient or cost-effective regional transmission solution as part of the regional transmission planning process in order for any regional cost allocation method to apply, and this final order does not alter the existing cost allocation methods in either the generator interconnection or existing Order No. 1000 regional transmission planning process. If a regional transmission facility that addresses identified interconnection-related transmission needs is not selected as part of the regional transmission planning process, then the associated regional cost allocation method would not apply; however, if the facility is selected, then the regional transmission planning process has determined that the regional transmission facility is a more efficient or cost-effective regional transmission solution. Additionally, if such a facility is selected, the Commission-approved ex ante regional cost allocation method for that facility would allocate its costs at least roughly commensurate with its estimated benefits.

²³⁷⁷ APPA Initial Comments at 31; Industrial Customers Initial Comments at 13; NRECA Initial Comments at 41-42 (citation omitted); NRECA Reply Comments at 8-9; PJM Initial Comments at 89-90; Vistra Initial Comments at 8; Xcel Initial Comments at 15.

1118. In response to TAPS' request that the Commission clarify that regions may propose differing cost allocation methods for transmission facilities selected to address interconnection-related transmission needs versus transmission facilities selected to address other types of transmission needs,²³⁷⁸ we clarify that the requirements adopted here merely create an obligation for transmission providers to evaluate regional transmission facilities that address certain identified interconnection-related transmission needs in the existing regional transmission planning and cost allocation processes. As such, to the extent that transmission providers wish to propose further changes to their Order No. 1000 regional transmission planning cost allocation method(s) because of this requirement, they would need to do so in separate FPA section 205 filings rather than on compliance with this final order.

²³⁷⁸ TAPS Initial Comments at 13-14.

1119. We disagree with commenters that the requirements adopted herein will incentivize gaming by interconnection customers to include interconnection-related network upgrades in the regional transmission planning process.²³⁷⁹ We also disagree with commenters that claim that interconnection customers will submit spurious interconnection requests.²³⁸⁰ Interconnection requests require significant financial commitments from the interconnection customer (e.g., application fees, study deposits, and site control requirements), which the Commission made more stringent in Order No. 2023,²³⁸¹ and therefore we find it unlikely that an interconnection customer would submit multiple interconnection requests (in multiple queue cycles) in order to trigger this requirement because of the possibility that transmission providers may eventually develop an interconnection-related network upgrade by selecting it in a regional transmission plan for purposes of cost allocation. An interconnection customer would face several risks in pursuing such a strategy, including the risk that the regional transmission solution for the interconnection-related transmission need is not selected, and the risk that the newly created interconnection or transmission capacity is allocated to a different transmission or interconnection customer. For these reasons, we decline to adopt Invenergy's request to modify the proposal to require that withdrawn interconnection requests must have been submitted by unaffiliated entities.²³⁸²

²³⁷⁹ Ameren Initial Comments at 18-19; American Municipal Power Initial Comments at 34; Dominion Initial Comments at 32; Dominion Reply Comments at 7-8; EEI Initial Comments at 18; Eversource Initial Comments at 23-24; Idaho Power Initial Comments at 6; Pennsylvania Commission Initial Comments at 9; PJM Initial Comments at 89; PPL Initial Comments at 12-13; Shell Initial Comments at 29-30; SPP Initial Comments at 16; Xcel Initial Comments at 16.

²³⁸⁰ Ameren Initial Comments at 18; American Municipal Power Initial Comments at 33-34; EEI Initial Comments at 18; Idaho Power Initial Comments at 6; PJM Initial Comments at 89.

²³⁸¹ See, e.g., Order No. 2023, 184 FERC ¶ 61,054 at P 502.

²³⁸² Invenergy Reply Comments at 14-15.

1120. In response to Eversource's request that the Commission clarify that submitting and withdrawing interconnection requests with the intent of requiring transmission providers to evaluate the associated interconnection-related transmission needs in their regional transmission planning process is in violation of the Commission's regulations, including but not limited to the duty of candor and prohibition of market manipulation,²³⁸³ as noted above, the generator interconnection process requires significant financial commitments for interconnection requests to enter and proceed in the queue, and many transmission providers have imposed additional readiness requirements to encourage early withdrawal of non-viable interconnection requests. For these reasons, we disagree with the gaming concerns raised by Eversource.²³⁸⁴

²³⁸³ Eversource Initial Comments at 23-24 (citing 18 CFR 35.41; 18 CFR 1c.2).

²³⁸⁴ While we are not concerned about gaming here, to the extent that there is evidence of a false representation or gaming of the market rules, a referral to the Office of Enforcement may be appropriate to determine whether a violation of the Commission's regulations has occurred.

1121. We also grant SEIA's request to clarify that the phrase “interconnection-related transmission needs” allows transmission providers to identify individual regional transmission solutions to address each identified interconnection-related transmission need, or an aggregate regional transmission solution to address multiple interconnection-related transmission needs. In response to commenters arguing that the reforms issued under Order No. 2023 will address interconnection-related issues more appropriately than the NOPR proposal,²³⁸⁵ we explain that the reforms in this rulemaking are intended to address situations when interconnection-related network upgrades are repeatedly identified but not constructed and instances when regional transmission solutions to address the needs that would have been addressed by those interconnection-related network upgrades would provide widespread transmission benefits that extend beyond the interconnection customer, which are not addressed in Order No. 2023.

²³⁸⁵ Dominion Reply Comments at 8; Idaho Power Initial Comments at 6-7; Illinois Commission Initial Comments at 8; Pacific Northwest Utilities Initial Comments at 15.

B. Transmission Planning Process Evaluation

1. NOPR Proposal

1122. In the NOPR, the Commission proposed to require the transmission providers in each transmission planning region to consider regional transmission facilities that address interconnection-related transmission needs pursuant to the proposed coordination reform through the Long-Term Regional Transmission Planning process proposed in the NOPR. Specifically, the Commission proposed to require that transmission providers in each transmission planning region incorporate the specific interconnection-related transmission needs identified through the coordination reform as a factor used to develop Long-Term Scenarios in the Long-Term Regional Transmission Planning proposed in the NOPR.²³⁸⁶

²³⁸⁶ NOPR, 179 FERC ¶ 61,028 at P 167.

2. Comments

1123. Several commenters assert that the NOPR proposal is unnecessary because well-executed Long-Term Regional Transmission Planning will identify the transmission needed to support interconnections.²³⁸⁷ For example, Xcel argues that Long-Term Scenarios will be driven by the same factors that cause interconnection customers to make interconnection requests, such as optimal geographic locations for generation development.²³⁸⁸ Similarly, EEI states that Long-Term Regional Transmission Planning, if properly implemented, already takes into account factors that support generator interconnection.²³⁸⁹

²³⁸⁷ AEP Initial Comments at 19; EEI Initial Comments at 18; ENGIE Initial Comments at 5; Illinois Commission Initial Comments at 8-9; Vistra Initial Comments at 33; Xcel Initial Comments at 15.

²³⁸⁸ Xcel Initial Comments at 15.

²³⁸⁹ EEI Initial Comments at 18.

1124. Some of these commenters further claim that the Commission's coordination proposal's reliance on backward-looking interconnection needs would be less effective than planning on future system interconnection needs. CAISO argues that the Commission's proposal is backward-looking and therefore will not promote productive, forward-looking transmission planning.²³⁹⁰ Vistra claims that an effective transmission planning process will identify interconnection needs and provide solutions within the context of a future system, rather than relying on prior interconnection studies addressing a specific generator interconnection request.²³⁹¹ Similarly, ISO/RTO Council recommends that the Commission direct transmission planners to consider generator interconnection as a driver of Long-Term Transmission Needs on a forward-looking basis, rather than the coordination proposal's backwards-looking process.²³⁹²

²³⁹⁰ CAISO Initial Comments at 6, 34-35.

²³⁹¹ Vistra Initial Comments at 33.

²³⁹² ISO/RTO Council Initial Comments at 9.

1125. MISO states that because the generator interconnection process is designed to identify the minimum amount of interconnection-related network upgrades to interconnect new resources, Long-Term Regional Transmission Planning is the proper avenue to holistically evaluate system needs. MISO notes that it already has a mechanism in place to include interconnection-related network upgrades in its Long-Range Transmission Plan process if the interconnection-related network upgrade is found to have region-wide benefits.²³⁹³

²³⁹³ MISO Initial Comments at 44, 46-47; MISO Reply Comments at 29.

3. Commission Determination

1126. We adopt the NOPR proposal, with modification, to require transmission providers in each transmission planning region to evaluate regional transmission facilities that address certain interconnection-related transmission needs in their existing Order No. 1000 regional transmission planning and cost allocation processes instead of in Long-Term Regional Transmission Planning. We find that this modification will better alleviate transmission limitations by providing a starting point for identifying and evaluating regional transmission solutions that are more efficient or cost-effective when analyzed in the near term.²³⁹⁴ Specifically, requiring transmission providers to evaluate identified interconnection-related transmission needs in existing Order No. 1000 regional transmission planning and cost allocation processes will allow such needs to be addressed within a timeframe that is relevant for identifying more efficient or cost-effective near-term regional transmission solutions. Evaluation of interconnection-related transmission needs in the existing Order No. 1000 regional transmission planning and cost allocation processes is most appropriate because such evaluation would occur at shorter intervals and would likely result in more expeditious development of regional transmission facilities to address the nearer-term interconnection-related transmission needs identified through the generator interconnection process.

²³⁹⁴ See NOPR, 179 FERC ¶ 61,028 at P 165.

1127. We agree with commenters that future interconnection-related transmission needs will be considered as part of Long-Term Regional Transmission Planning and incorporated in the development of Long-Term Scenarios. Nonetheless, for the reasons described above, we find that current interconnection-related transmission needs can be considered more effectively through the nearer-term existing Order No. 1000 regional transmission planning and cost allocation processes. As such, we disagree with commenters that assert that the Commission's proposal is unnecessary because well-executed Long-Term Regional Transmission Planning will identify the transmission needed to support generator interconnections.²³⁹⁵ That said, we emphasize that, as transmission providers gain experience with Long-Term Regional Transmission Planning, we anticipate that they will identify fewer interconnection-related transmission needs associated with certain interconnection-related network upgrades originally identified through the generator interconnection process because transmission providers will plan to address Long-Term Transmission Needs, including those driven by Factor Category One: Federal, federally-recognized Tribal, state, and local laws and regulations that affect the future resource mix and demand; Factor Category Two: Federal, federally-recognized Tribal, state, and local laws and regulations on decarbonization and electrification; Factor Category Six: generator interconnection requests and withdrawals, and Factory Category Seven: utility and corporate commitments and Federal, federally-recognized Tribal, state, and local policy goals that affect Long-Term Transmission Needs, through Long-Term Regional Transmission Planning.

²³⁹⁵ AEP Initial Comments at 18-19; EEI Initial Comments at 18; ENGIE Initial Comments at 5; Illinois Commission Initial Comments at 8-9; Vistra Initial Comments at 33; Xcel Initial Comments at 15.

1128. Some commenters, including Vistra and ISO/RTO Council, claim that the NOPR proposal to rely on needs identified in prior interconnection studies would be less effective at planning for interconnection-related transmission needs compared to more future-oriented approaches. We agree that an effective regional transmission planning process will identify interconnection-related transmission needs and evaluate regional transmission solutions to those needs within the context of a future system. We further agree that transmission providers should consider generator interconnection as a driver of Long-Term Transmission Needs on a forward-looking basis. For these reasons, we require transmission providers to incorporate seven specific categories of factors in their development of Long-Term Scenarios used in Long-Term Regional Transmission Planning, including Factory Category Six: generator interconnection requests and withdrawals. However, we disagree that the coordination proposal should not rely on past results from the generator interconnection process or specific interconnection requests in determining what interconnection-related transmission needs should be evaluated in the existing Order No. 1000 regional transmission planning and cost allocation processes. Interconnection-related network upgrades repeatedly identified in past interconnection studies are strongly indicative that a location (despite presenting potentially prohibitive interconnection costs if borne by one or a small number of interconnection customers) is otherwise valuable for location of new generation.

1129. Finally, because we are modifying the NOPR proposal to no longer apply to Long-Term Regional Transmission Planning, commenters' specific concerns that this proposal is duplicative to the categories of factors requirements in the development of Long-Term Scenarios are moot.

C. Qualifying Criteria

1. NOPR Proposal

1130. In the NOPR, the Commission proposed to require that transmission providers evaluate for selection regional transmission facilities to address interconnection-related transmission needs that have been identified in the generator interconnection process as requiring interconnection-related network upgrades where: (1) the transmission provider has identified interconnection-related network upgrades in interconnection studies to address those interconnection-related transmission needs in at least two interconnection queue cycles during the preceding five years (beginning at the time of the withdrawal of the first underlying interconnection request); (2) the interconnection-related network upgrade identified to meet those interconnection-related transmission needs has a voltage of at least 200 kV and/or an estimated cost of at least $30 million; (3) those interconnection-related network upgrades have not been developed and are not currently planned to be developed because the interconnection request(s) driving the need for the upgrade has been withdrawn; and (4) the transmission provider has not identified an interconnection-related network upgrade to address the relevant interconnection-related transmission need in an executed generator interconnection agreement or in a generator interconnection agreement that the interconnection customer requested that the transmission provider file unexecuted with the Commission.²³⁹⁶

²³⁹⁶ NOPR, 179 FERC ¶ 61,028 at P 166.

1131. The Commission proposed that the initial five-year time period begin five calendar years prior to the initial effective date of the Commission-accepted tariff provisions proposed to comply with this reform such that, upon the Commission's acceptance of such tariff provisions, the transmission provider would consider interconnection-related network upgrades identified to address the same interconnection-related transmission need in at least two interconnection queue cycles in the five calendar years prior to the effective date established in the order accepting those tariff revisions.²³⁹⁷ The Commission also proposed to require that transmission providers in each transmission planning region consider whether the interconnection-related transmission need for which the transmission provider identified the interconnection-related network upgrade is the same in multiple interconnection queue cycles.²³⁹⁸ That is, if an interconnection-related transmission need is driving the identification of an interconnection-related network upgrade on the transmission system in one interconnection queue cycle and an interconnection-related network upgrade with, for example, a different voltage, starting point, or ending point is identified in the next interconnection queue cycle to address the same interconnection-related transmission need, then the first criterion of the proposed coordination reform would be satisfied.²³⁹⁹ The Commission stated that it believes that this approach will appropriately account for differences in technology, study assumptions, system topology, and/or interconnection requests that may occur over time that may result in different interconnection-related network upgrades to address the same interconnection-related need.²⁴⁰⁰

²³⁹⁷ Id. P 170.

²³⁹⁸ Id. P 171.

²³⁹⁹ Id.

²⁴⁰⁰ Id.

1132. The Commission stated that it believes that the proposed criteria the transmission provider must use to identify the interconnection-related transmission needs that should be considered in the regional transmission planning process will help to ensure that the associated interconnection-related network upgrades are likely to have produced benefits beyond those provided to the interconnection customers whose interconnection requests the interconnection-related network upgrades are needed to accommodate.²⁴⁰¹

²⁴⁰¹ Id. P 168.

1133. To avoid shifting costs inappropriately from generators in the generator interconnection process to transmission customers through the regional transmission planning process, the Commission further proposed to limit the scope of interconnection-related transmission needs to be considered in the regional transmission planning process to those interconnection-related transmission needs not addressed by interconnection-related network upgrades memorialized in an executed generator interconnection agreement (or in a generator interconnection agreement that the interconnection customer requested to be filed unexecuted with the Commission).²⁴⁰²

²⁴⁰² Id. P 173.

2. Comments

1134. Multiple commenters generally support the NOPR proposal but express concerns about the eligibility criteria proposed in the NOPR and request modification.²⁴⁰³ SDG&E states that the criteria defined in the NOPR strike an appropriate balance to cover many situations in which generation is needed, while also protecting ratepayers from unnecessary costs.²⁴⁰⁴

²⁴⁰³ NARUC Initial Comments at 19-20; Pattern Energy Initial Comments at 28; Pine Gate Initial Comments 31-33; SEIA Initial Comments at 14-15; Shell Initial Comments at 30; TAPS Initial Comments at 13; US DOE Initial Comments at 28.

²⁴⁰⁴ SDG&E Initial Comments at 3.

1135. Avangrid argues that, while the NOPR proposal has merit, the Commission should allow transmission providers to determine the most appropriate thresholds.²⁴⁰⁵ SEIA asks the Commission to allow each transmission planning region to determine its own threshold, which may include lower voltage lines and substations.²⁴⁰⁶ Indicated PJM TOs further argue that the proposed criteria may not be appropriate in all transmission planning regions.²⁴⁰⁷

²⁴⁰⁵ Avangrid Initial Comments at 12.

²⁴⁰⁶ SEIA Initial Comments at 15.

²⁴⁰⁷ Indicated PJM TOs Initial Comments at 15-16.

1136. MISO argues that transmission planning regions should be able to develop their own cost and voltage criteria. MISO explains that it may be difficult to implement the requirement that interconnection-related network upgrades that qualify must “not currently be planned to be developed” in the interconnection process because in MISO's experience interconnection-related network upgrades shift from queue cycle to queue cycle as withdrawals occur, and as a result MISO suggests deleting this requirement. MISO opposes the requirement to identify any interconnection-related network upgrade that is identified in multiple generator interconnection studies as it would require the review and comparison of numerous studies to comply with no increased benefit.²⁴⁰⁸

²⁴⁰⁸ MISO Initial Comments at 45-46.

1137. Multiple commenters that generally support the NOPR proposal suggest modification to the NOPR's proposed cost and voltage eligibility criteria. Pattern Energy suggests that the Commission should allow consideration of interconnection-related network upgrades that would meet either a voltage or a cost threshold because, for example, lower voltage lines that cost more than $30 million can often satisfy an interconnection need.²⁴⁰⁹ Pattern Energy and Pine Gate argue that the Commission should lower the voltage threshold to 100 kV.²⁴¹⁰ Shell asks the Commission to lower the 200 kV threshold to 115 kV or to remove it entirely in favor of a cost threshold that is updated regularly based on inflation or some other Commission-approved indicator.²⁴¹¹

²⁴⁰⁹ Pattern Energy Initial Comments at 28.

²⁴¹⁰ Pattern Energy Initial Comments at 28; Pine Gate Initial Comments at 32.

²⁴¹¹ Shell Initial Comments at 30.

1138. Pine Gate argues that the Commission should reduce the cost threshold to $10 million.²⁴¹² SEIA argues that the cost threshold should be replaced with a $100,000/MW threshold.²⁴¹³ US DOE argues that a $30 million cost threshold may not be appropriate because some interconnection-related network upgrades that meet this eligibility factor may only benefit a limited number of interconnection customers. As an alternative, US DOE adds that the Commission should consider interconnection-related network upgrades “that would provide benefits beyond the local interconnection level or that would improve interconnection efficiencies across a wider geographic area and not substations, voltage support devices, or other local connection upgrades.” ²⁴¹⁴

²⁴¹² Pine Gate Initial Comments at 32.

²⁴¹³ SEIA Initial Comments at 15.

²⁴¹⁴ US DOE Initial Comments at 28.

1139. Dominion states that the relatively low voltage and cost thresholds in the Commission's proposal invites interconnection customers to seek bigger investments than needed or select a location that increases the cost of interconnection.²⁴¹⁵ Dominion further argues that the number, size, or frequency of interconnection requests should not be used as a basis for planning transmission projects, because the process could be subject to gaming, where speculative interconnection requests could result in transmission buildouts and spending that are not justified by actual grid needs or economics.²⁴¹⁶

²⁴¹⁵ Dominion Initial Comments at 32.

²⁴¹⁶ Dominion Reply Comments at 7-8.

1140. Some commenters take issue with the NOPR's proposed criteria. Indicated PJM TOs argue that there is no record evidence to support the proposed 200 kV and $30 million cost threshold criteria.²⁴¹⁷ PJM states that few interconnection studies have identified the need for interconnection-related network upgrades in excess of $30 million.²⁴¹⁸ Illinois Commission contends that many projects in the interconnection queue are associated with interconnection-related network upgrades that meet the repeatedly-identified and 200 kV thresholds and that simply folding interconnection costs into transmission planning may expedite the queue at the expense of efficiency and cost-effectiveness.²⁴¹⁹ Indicated PJM TOs argue that limiting consideration to only generating facilities that have not yet signed (or had filed) an interconnection agreement will result in studying only uneconomic projects, which would run afoul of the cost causation principle.²⁴²⁰

²⁴¹⁷ Indicated PJM TOs Initial Comments at 15.

²⁴¹⁸ PJM Initial Comments at 88.

²⁴¹⁹ Illinois Commission Initial Comments at 8-9.

²⁴²⁰ Indicated PJM TOs Initial Comments at 16.

1141. Interwest argues that the Commission should not require the identification of the interconnection-related network upgrade in two queue cycles over the five-year lookback period because such a requirement would limit the number of identified interconnection-related network upgrades that would trigger this newly proposed process.²⁴²¹ Pine Gate states that the Commission's look-back period should be at least the two immediately preceding interconnection queue cycles, or, where serial studies have been performed, during the preceding five years beginning at the time of the withdrawal of the first underlying interconnection request.²⁴²² Pine Gate argues that this revision will ensure that study results will be available for use in identifying interconnection-related network upgrades to evaluate.²⁴²³ SEIA argues that once a transmission provider identifies the same interconnection-related network upgrade in two interconnection cycles, that line should be included in the next Long-Term Regional Transmission Planning update cycle even if five years have not passed since initial identification.²⁴²⁴ Pattern Energy supports SEIA's requests.²⁴²⁵

²⁴²¹ Interwest Initial Comments at 3, 11.

²⁴²² Pine Gate Initial Comments at 31.

²⁴²³ Id.

²⁴²⁴ SEIA Initial Comments at 15.

²⁴²⁵ Pattern Energy Reply Comments at 10-11.

1142. EEI and Eversource are unsure of the stage of the generator interconnection process at which a project would meet the proposed criteria.²⁴²⁶ Eversource requests that the Commission require transmission providers to specify the stage in the interconnection process that an interconnection-related network upgrade is identified.²⁴²⁷

²⁴²⁶ EEI Initial Comments at 17-18; Eversource Initial Comments at 24.

²⁴²⁷ Eversource Initial Comments at 24.

1143. Pine Gate asks the Commission to combine the third and fourth criteria into one criterion: those interconnection-related network upgrades that are not developed or in development and not currently committed to be built under an interconnection service agreement or any related construction agreement.²⁴²⁸

²⁴²⁸ Pine Gate Initial Comments at 32-33.

1144. Some commenters argue that the Commission's proposed criteria create too simplistic of a method for determining which interconnection-related network upgrades should be evaluated in Long-Term Regional Transmission Planning.²⁴²⁹ Pennsylvania Commission argues that, without a rigorous examination of why an interconnection application failed, there is no proof that there exists a need for building interconnection-related network upgrades as part of Long-Term Regional Transmission Planning.²⁴³⁰ NARUC argues that the meaning of the term “multiple times” should be informed by a process that also examines the reasons why the previous interconnection requests were withdrawn, including generation developer land acquisition decisions or the identification of more economic transmission design alternatives.²⁴³¹ Vistra takes issue with the fact that the Commission does not distinguish between situations when developers simply sought to develop in an uneconomic area versus when a more efficient or cost-effective transmission project would have been identified as part of the regional transmission planning process.²⁴³²

²⁴²⁹ NARUC Initial Comments at 19; Pennsylvania Commission Initial Comments at 8; Vistra Initial Comments at 20.

²⁴³⁰ Pennsylvania Commission Initial Comments at 8.

²⁴³¹ NARUC Initial Comments at 19.

²⁴³² Vistra Initial Comments at 20.

3. Commission Determination

1145. We adopt the NOPR proposal, with modification, to require that, for a regional transmission facility to address an interconnection-related transmission need to qualify for evaluation through the regional transmission planning process for selection under this reform, any interconnection-related network upgrade identified to meet that interconnection-related transmission need must meet both the proposed voltage and cost criteria. Thus, we require transmission providers to evaluate for selection in their existing Order No 1000 regional transmission planning processes regional transmission facilities to address interconnection-related transmission needs that have been identified in the generator interconnection process as requiring interconnection-related network upgrades where: (1) the transmission provider has identified interconnection-related network upgrades in interconnection studies to address those interconnection-related transmission needs in at least two interconnection queue cycles during the preceding five years (looking back from the effective date of the Commission-accepted tariff provisions proposed to comply with this reform, and the later-in-time withdrawn interconnection request occurring after the effective date of the Commission-accepted tariff provisions); (2) an interconnection-related network upgrade identified to meet those interconnection-related transmission needs has a voltage of at least 200 kV and an estimated cost of at least $30 million; (3) such interconnection-related network upgrade(s) have not been developed and are not currently planned to be developed because the interconnection request(s) driving the need for the network upgrade(s) has been withdrawn; and (4) the transmission provider has not identified an interconnection-related network upgrade to address the relevant interconnection-related transmission need in an executed generator interconnection agreement or in a generator interconnection agreement that the interconnection customer requested that the transmission provider file unexecuted with the Commission.

1146. We find it necessary to establish these criteria to limit the scope of the requirement for transmission providers to evaluate regional transmission facilities to address interconnection-related transmission needs in their regional transmission planning processes to those interconnection-related transmission needs that are likely to persist, are not unique to a single interconnection request, and might be addressed by regional transmission facilities that have the potential to provide more widespread benefits to transmission customers. We find that each of the four criteria are necessary to identify the appropriate set of interconnection-related transmission needs. Moreover, we find that the modification to require that an interconnection-related network upgrade identified to meet an interconnection-related transmission need must satisfy both the voltage and cost thresholds better limits the scope of this reform by ensuring that any regional transmission facilities evaluated to address such interconnection-related transmission needs are more likely to provide widespread benefits to transmission customers.²⁴³³

²⁴³³ The Commission has previously found that network upgrades can benefit all transmission customers. See Order No. 2003, 104 FERC ¶ 61,103 at PP 21, 65 (stating “[m]ost improvements to the Transmission System, including Network Upgrades, benefit all transmission customers” and “the definition of Network Upgrade [includes] the phrase `at or beyond the Point of Interconnection,' . . . [f]acilities beyond the Point of Interconnection are part of the Transmission Provider's Transmission System and benefit all users”); Order No. 2003-A, 106 FERC ¶ 61,220 at P 584 (citing Entergy Servs., Inc. v. FERC, 319 F.3d 536, 543-544 (D.C. Cir. 2003)). The Commission has also previously found, and the record demonstrates, that higher-voltage transmission facilities are more likely to provide widespread benefits to transmission customers. See NOPR, 179 FERC ¶ 61,028 at PP 32 (citing Order No. 1000, 136 FERC ¶ 61,051 at P 486), 168; Sw. Power Pool, Inc., 131 FERC ¶ 61,252, at P 73 (2010); Midwest Indep. Trans. Sys. Operator, Inc., 129 FERC ¶ 61,060, at P 8 (2009). See also, e.g., CAISO ANOPR Comments at 54; Invenergy Initial Comments at 14; Southeast PIOs Initial Comments at 24.

1147. We further find that these criteria strike a reasonable balance between precision and workability. Our reforms here are intended to ensure that transmission providers must identify interconnection-related transmission needs for evaluation in their regional transmission planning processes that are likely to persist, are not unique to a single interconnection request, and might be addressed by regional transmission facilities that have the potential to provide more widespread benefits to transmission customers. Requiring in-depth qualitative analysis of individual interconnection requests, including consideration of why they were withdrawn, as some commenters suggest, would undermine these goals. Furthermore, these criteria simply determine whether transmission providers must evaluate regional transmission facilities to address any given interconnection-related transmission need for potential selection; transmission providers may still separately assess whether any particular regional transmission facility qualifies for selection in the relevant existing regional transmission planning process(es). Therefore, we disagree with commenters that argue that the proposed criteria create too simplistic a method for determining which interconnection-related transmission needs should be evaluated in regional transmission planning and cost allocation processes.²⁴³⁴

²⁴³⁴ See NARUC Initial Comments at 19; Pennsylvania Commission Initial Comments at 8; Vistra Initial Comments at 20.

1148. We decline to allow transmission providers to determine appropriate qualifying criteria,²⁴³⁵ because the record supports our adoption of the qualifying criteria established by this order. As described directly above, we find that these specific criteria ensure that the interconnection-related transmission needs that we require transmission providers to evaluate through their regional transmission planning processes are likely to persist, are not unique to a single interconnection request, and might be addressed by regional transmission facilities that have the potential to provide more widespread benefits to transmission customers. Furthermore, transmission providers retain the flexibility to determine whether to select a regional transmission facility, and these criteria will simply determine whether transmission providers, pursuant to this final order, must evaluate interconnection-related transmission needs in the Order No. 1000 regional transmission planning and cost allocation processes.

²⁴³⁵ See Avangrid Initial Comments at 12; MISO Initial Comments at 45-46; SEIA Initial Comments at 15.

1149. We also disagree with Indicated PJM TOs' argument that the proposed criteria may not be appropriate in all transmission planning regions because of the differences in scales, topology, and economics.²⁴³⁶ While each transmission planning region is unique, we find that the criteria that we establish here are broad enough to capture interconnection-related network upgrades that are likely to produce benefits beyond the interconnection customer across transmission planning regions despite their differences. Furthermore, as stated above, transmission providers in each transmission planning region retain the flexibility to select regional transmission facilities, and the criteria that we adopt here do not mandate that the transmission providers in any transmission planning region select any particular regional transmission facilities to address interconnection-related transmission needs.

²⁴³⁶ See Indicated PJM TOs Initial Comments at 15-16.

1150. Additionally, we find that the qualifying criteria that we establish here that an interconnection-related need must be repeated twice and meet both voltage and cost thresholds are just and reasonable. We disagree with commenters that argue for the adoption of different criteria or for the elimination of one or both criteria.²⁴³⁷ We find that the purpose of the criteria established here is precisely to limit the number of interconnection-related transmission needs that transmission providers must evaluate to those that merit consideration in the existing Order No. 1000 regional transmission planning and cost allocation processes. The requirement of the repeat identification of an interconnection-related need in at least two interconnection queue cycles during the preceding five years criterion provides an important limit on the extent to which evaluation is required. Namely, this and the other criteria together indicate that it is likely that the relevant interconnection-related transmission needs will persist but were not resolved because the high associated interconnection-related network upgrade costs drove the withdrawal of the underlying interconnection requests. The repeat identification of interconnection-related network upgrades driven by a common interconnection-related transmission need also indicates that the constraint that the interconnection-related network upgrades were identified to address is not unique to a single interconnection request at a single point in time. Additionally, relaxing this repeat identification requirement may be overburdensome to transmission providers because it could increase the number of interconnection-related transmission needs that transmission providers must evaluate in their regional transmission planning and cost allocation processes.

²⁴³⁷ See Dominion Initial Comments at 32; Indicated PJM TOs Initial Comments at 15; Interwest Initial Comments at 3, 11; Pattern Energy Initial Comments at 28; Pine Gate Initial Comments at 32; SEIA Initial Comments at 15; Shell Initial Comments at 30.

1151. We find that it is necessary to establish a cost threshold criterion that is stringent enough to capture those interconnection-related network upgrades that are likely to have caused the underlying interconnection requests to withdraw. Additionally, we find that it is necessary to establish a voltage criterion that is high enough so that any regional transmission facility evaluated to address the underlying interconnection-related transmission need(s) is likely to produce benefits that extend beyond the interconnection customer. We further believe that these criteria are important to limit the number of interconnection-related transmission needs that transmission providers must evaluate to a practical set so that transmission providers do not have to evaluate numerous regional transmission facilities to address those needs that are unlikely to be selected.

1152. Consequently, the modification adopted here to require that an interconnection-related network upgrade identified to meet an interconnection-related transmission need satisfies both the voltage and cost criteria will achieve these results. In particular, this modification will prevent transmission providers from evaluating interconnection-related transmission needs associated with interconnection-related network upgrades that are either above 200 kV but lower-cost or cost more than $30 million but are less than 200 kV, which means that they are less likely to provide more widespread benefits to transmission customers.

1153. The change to the voltage and cost criteria also address commenters' concerns.²⁴³⁸ For example, as US DOE notes, in some instances, network upgrades that cost $30 million or more may only benefit a limited number of interconnection customers.²⁴³⁹ Consequently, the change that we adopt to require that an interconnection-related network upgrade identified to meet an interconnection-related transmission need satisfy both the voltage and cost criteria will more narrowly define a set of interconnection-related transmission needs that the transmission provider must evaluate in the regional transmission planning process.

²⁴³⁸ Pine Gate Initial Comments at 32; SEIA Initial Comments at 15; US DOE Initial Comments at 28.

²⁴³⁹ US DOE Initial Comments at 28.

1154. The record supports a 200 kV threshold. For example, as noted in the NOPR, the Commission has previously found CAISO's use of a 200 kV threshold was just and reasonable for determining eligibility for evaluating interconnection-related network upgrades in the regional transmission planning process. The Commission found that CAISO's proposed threshold “strikes a reasonable balance between . . . accommodating the generators' need to interconnect . . . in a timely manner, and the benefits that can flow from evaluating the larger projects in the comprehensive transmission planning process.” ²⁴⁴⁰ As such, we continue to believe that a 200 kV voltage threshold is sufficiently high such that the interconnection-related network upgrades can more reasonably be expected to produce regional benefits to transmission customers than lower-voltage transmission facilities.

²⁴⁴⁰ Cal Indep. Sys. Operator Corp., 133 FERC ¶ 61,224, at P 103 (2010); see also NOPR, 179 FERC ¶ 61,028 at P 165 n.300 & P 172 n.302.

1155. We also continue to believe that $30 million is an appropriate threshold for the cost criteria related to this requirement. We find that the $30 million threshold is consistent with the record established in this proceeding regarding how the costs of interconnection-related network upgrades lead to interconnection customers withdrawing from the queue.²⁴⁴¹ A lower cost criterion may require transmission providers to evaluate in the regional transmission planning process interconnection-related transmission needs associated with interconnection-related network upgrades that have a greater likelihood to be affordable for interconnection customers. Additionally, we are concerned that the $/kW cost threshold proposed by SEIA may not capture interconnection-related network upgrades that are more likely to provide regional benefits to transmission customers beyond the interconnection customer. Further, transmission providers may face practical challenges in identifying the specific kW size corresponding to the interconnection-related transmission need associated with an interconnection-related network upgrade because the same interconnection-related network upgrade can be identified as needed for multiple interconnection requests (or groups of requests) of different kW sizes.

²⁴⁴¹ NOPR, 179 FERC ¶ 61,028 at P 172 n.303.

1156. Additionally, we reiterate that the criteria adopted herein do not require transmission providers to select any particular regional transmission facility to address interconnection-related transmission needs. Instead, we require transmission providers to simply evaluate regional transmission facilities to address interconnection-related transmission needs that meet these criteria for potential selection, recognizing that transmission providers may ultimately determine through their regional transmission planning processes that such regional transmission facilities are not eligible or sufficiently beneficial to be selected.

1157. We disagree with Indicated PJM TOs' argument that limiting evaluation to exclude interconnection-related network upgrades identified in generator interconnection requests that have executed (or requested to be filed unexecuted) an interconnection agreement will result in studying only uneconomic projects.²⁴⁴² This criterion ensures that transmission providers are not required to evaluate in their regional transmission planning process interconnection-related transmission needs associated with interconnection-related network upgrades for which an interconnection customer has already agreed to pay.²⁴⁴³ Furthermore, in response to MISO's suggestion to delete this limiting aspect, we clarify that this criterion excludes instances in which an interconnection-related network upgrade is identified in an executed generator interconnection agreement (or in a generator interconnection agreement that the interconnection customer requested to be filed unexecuted with the Commission),²⁴⁴⁴ not instances where an interconnection-related network upgrade that meets the criteria in this section is identified as needed for an interconnection request that has not proceeded to the generator interconnection agreement phase of the interconnection study process.

²⁴⁴² Indicated PJM TOs Initial Comments at 16.

²⁴⁴³ NOPR, 179 FERC ¶ 61,028 at P 173.

²⁴⁴⁴ MISO Initial Comments at 46.

1158. The criterion requiring that interconnection-related transmission needs are identified in at least two interconnection queue cycles during the preceding five years will help to ensure that an interconnection-related transmission need is likely to persist and is not unique to a single interconnection request before requiring transmission providers to evaluate a regional transmission facility to address that need for potential selection.²⁴⁴⁵ We recognize that, in limited circumstances, it is possible that there may be only one interconnection queue cycle during a five-year period. We clarify that if more than five years pass between interconnection queue cycles, then this criterion should be read to include the interconnection queue cycle that immediately preceded the current interconnection queue where the interconnection-related transmission need is identified.²⁴⁴⁶

²⁴⁴⁵ Pattern Energy Reply Comments at 10-11; Pine Gate Initial Comments at 31; SEIA Initial Comments at 14-15.

²⁴⁴⁶ See Pine Gate Initial Comments at 31.

1159. We adopt the NOPR proposal that the initial five-year period will begin five calendar years prior to the effective date of the Commission-accepted tariff provisions proposed to comply with this final order. Thus, transmission providers must evaluate an interconnection-related transmission need that has been previously identified multiple times within the five years prior to the effective date of the Commission-accepted tariff provisions, but never been resolved due to the withdrawal of the underlying interconnection request(s). This assumes that the other qualifying criteria are met for the interconnection-related transmission need. The evaluation for selection of regional transmission facilities that address certain identified interconnection-related transmission needs must occur in the first Order No. 1000 regional transmission planning and cost allocation processes cycle that commences after the later-in-time withdrawn interconnection request occurring after the effective date of the accepted tariff provisions.

1160. Additionally, we clarify that if there are no queue cycles in the preceding five-year period because the transmission provider uses a first-come, first-served serial interconnection process, then this criterion will be met based on the identification of interconnection-related transmission needs in individual interconnection studies. That is, if the interconnection-related transmission need is identified in at least two individual interconnection studies during the preceding five-year period for interconnection customers that subsequently withdrew from the interconnection queue, then this criterion is met. We further clarify, as discussed immediately above, that if a transmission provider identifies the same interconnection-related transmission need in two interconnection queue cycles during a five-year period or less, the transmission provider must evaluate that interconnection-related transmission need even if five years have not yet passed since the initial identification.²⁴⁴⁷

²⁴⁴⁷ See Pattern Energy Reply Comments at 10-11; SEIA Initial Comments 15.

1161. In response to Eversource's request that we require transmission providers to specify the stage in the generator interconnection process that an interconnection-related network upgrade is identified,²⁴⁴⁸ we clarify that the criterion discussed herein applies no matter the stage in which the upgrades are identified, because we are concerned with interconnection-related transmission needs going unaddressed due to withdrawals regardless of the stage of the generator interconnection process.

²⁴⁴⁸ See EEI Initial Comments at 17-18; Eversource Initial Comments at 24.

1162. Finally, we decline to combine the third and fourth criteria into one criterion as Pine Gate suggests, because we find that it is unnecessary.²⁴⁴⁹ This reform creates a process for the evaluation of interconnection-related transmission needs in regional transmission planning and cost allocation processes if those needs have not been addressed and are unlikely to be addressed through the development of an interconnection-related network upgrade in the generator interconnection process. The purpose of the third criterion is to limit the reform to those interconnection-related transmission needs where the associated interconnection requests have been withdrawn; that is, this criterion requires the repeat withdrawal. The fourth criterion, that the interconnection-related network upgrade not be identified in a generator interconnection agreement, ensures that the interconnection-related network upgrade has not been developed and is not planned to be developed because a generator interconnection agreement memorializes the transmission owner's obligation to develop an identified interconnection-related network upgrade.²⁴⁵⁰

²⁴⁴⁹ See Pine Gate Initial Comments at 32-33.

²⁴⁵⁰ See Pro forma LGIA art. 11.3 (“Transmission Provider or Transmission Owner shall design, procure, construct, install, and own the Network Upgrades . . . described in Appendix B.”).

V. Consideration of Dynamic Line Ratings and Advanced Power Flow Control Devices

A. General Proposal

1. NOPR Proposal

1163. In the NOPR, the Commission proposed to require transmission providers in each transmission planning region to consider two specific technologies more fully in regional transmission planning and cost allocation processes: dynamic line ratings and advanced power flow control devices. The Commission recognized that selecting transmission facilities that incorporate such technologies serving a transmission function in the regional transmission plan for purposes of cost allocation could be more efficient or cost-effective than a proposed regional transmission facility that does not use such technologies.²⁴⁵¹

²⁴⁵¹ NOPR, 179 FERC ¶ 61,028 at PP 272-273.

1164. More specifically, the Commission proposed to require transmission providers in each transmission planning region to consider for each identified regional transmission need whether selecting transmission facilities that incorporate dynamic line ratings or advanced power flow control devices would be more efficient or cost-effective than selecting transmission facilities that do not incorporate these technologies. The Commission proposed that such consideration should first address whether incorporating dynamic line ratings or advanced power flow control devices into existing transmission facilities could meet the same regional transmission need more efficiently or cost-effectively than other transmission facilities that are being considered for potential selection. Second, the Commission proposed that, when evaluating transmission facilities for potential selection, transmission providers in each transmission planning region must also consider whether incorporating dynamic line ratings and advanced power flow control devices as part of any potential regional transmission facility would be more efficient or cost-effective than potential regional transmission facilities that do not incorporate such technologies. The Commission proposed to apply this requirement in all aspects of the regional transmission planning processes, including the existing regional transmission planning process for near-term regional transmission needs and Long-Term Regional Transmission Planning. As is the case for any other transmission facility selected, the Commission proposed that the costs to incorporate dynamic line ratings or advanced power flow control devices selected, whether as an addition to an existing transmission facility or as part of a new regional transmission facility, be allocated using the applicable regional cost allocation method.²⁴⁵²

²⁴⁵² Id. P 274.

1165. The Commission noted that, as required by Order No. 1000, the evaluation process must culminate in a determination that is sufficiently detailed for stakeholders to understand why a particular transmission facility was selected or not selected.²⁴⁵³ The Commission proposed to extend this requirement such that transmission providers must ensure that the determination of whether to incorporate dynamic line ratings and advanced power flow control devices is sufficiently detailed for stakeholders to understand why they were or were not incorporated into selected regional transmission facilities.²⁴⁵⁴

²⁴⁵³ Id. P 275 (citing Order No. 1000, 136 FERC ¶ 61,051 at P 328; Order No. 1000-A, 139 FERC ¶ 61,132 at P 267).

²⁴⁵⁴ Id.

1166. The Commission also sought comment on whether non-RTO/ISO transmission planning regions should be required to update their energy management systems or make other similar changes if dynamic line ratings are identified as a more efficient or cost-effective transmission facility.²⁴⁵⁵

²⁴⁵⁵ Id. P 277.

2. Comments on General Proposal

1167. Many commenters, including technology developers, environmental advocates, ratepayer advocates, and independent market monitors, support the NOPR proposal.²⁴⁵⁶ For example, many commenters state that these technologies provide significant annual cost savings ²⁴⁵⁷ or affect both the capital investment and consumer benefits of cost allocation.²⁴⁵⁸ Additionally, some Federal legislators support the NOPR proposal.²⁴⁵⁹ CARE Coalition asserts that the Commission should use all available tools and technologies to increase the efficiency and capacity of the transmission network.²⁴⁶⁰ ELCON states that transmission planning processes should ascertain whether current infrastructure can be improved before reviewing costlier or slower options like greenfield transmission, and greater weight should be given to those transmission projects that incorporate grid enhancing technologies.²⁴⁶¹ Certain TDUs state that they participate actively in the MISO transmission planning process, and that they have observed that grid enhancing technologies and other non-transmission alternatives do not receive the attention that they deserve.²⁴⁶² AEE contends that the Commission has an obligation to promote the adoption of alternative transmission technologies, as directed by Congress in the Energy Policy Act of 2005, and AEE states that the Commission has not made explicit efforts to implement this mandate beyond offering rate incentives for alternative transmission technologies.²⁴⁶³

²⁴⁵⁶ ACEG Initial Comments at 31; ACORE Initial Comments at 15-16; ACORE Supplemental Comments at 1; Advanced Energy Buyers Initial Comments at 4; AEE Initial Comments at 27-28; CARE Coalition Initial Comments at 2-3; Certain TDUs Reply Comments at 7-9; Clean Energy Associations Initial Comments at 28; Clean Energy Associations Reply Comments at 7-8; Conservative Energy Network Supplemental Comments at 1-2; Conservatives for Clean Energy—Florida Supplemental Comments at 1-2; Conservatives for Clean Energy—South Carolina Supplemental Comments at 1; Cross Sector Representatives Supplemental Comments at 1; DC and MD Offices of People's Counsel Initial Comments at 36; DC and MD Offices of People's Counsel Reply Comments at 8-9; Evergreen Action Initial Comments at 4; Hannon Armstrong Reply Comments at 2; Illinois Commission Initial Comments at 11-13; Indicated US Senators and Representatives Initial Comments at 2; Joint Consumer Advocates Initial Comments at 13; Massachusetts Attorney General Initial Comments at 16-18; Michigan Conservative Energy Forum Supplemental Comments at 1; Michigan State Entities Initial Comments at 10; NARUC Initial Comments at 35; NASEO Initial Comments at 6; NASUCA Initial Comments at 7-8; NESCOE Initial Comments at 53; Nevada Commission Initial Comments at 13; Ohio Conservative Energy Forum Supplemental Comments at 1; Pennsylvania Commission Initial Comments at 11; PIOs Initial Comments at 22; PJM Market Monitor Initial Comments at 6; Potomac Economics Initial Comments at 5; Prysmian Initial Comments at 1; Smart Wires Initial Comments at 1; SPP Market Monitor Initial Comments at 9; US DOE Initial Comments at 36-37; WATT Coalition Initial Comments at 2; WATT Coalition Supplemental Comments at 2-3; Western Way Colorado Supplemental Comments at 1-2; Western Way Nevada Supplemental Comments at 2; Wisconsin Conservative Energy Forum Supplemental Comments at 1.

²⁴⁵⁷ Cross Sector Representatives Supplemental Comments at 1; WATT Coalition Supplemental Comments at 2-3.

²⁴⁵⁸ Conservative Energy Network Supplemental Comments at 1-2; Conservatives for Clean Energy—Florida Supplemental Comments at 1-2; Conservatives for Clean Energy—South Carolina Supplemental Comments at 1; Michigan Conservative Energy Forum Supplemental Comments at 1; Ohio Conservative Energy Forum at 1; Western Way Colorado Supplemental Comments at 2; Western Way Nevada Supplemental Comments at 2; Western Way Utah Supplemental Comments at 2; Wisconsin Conservative Energy Forum Supplemental Comments at 1.

²⁴⁵⁹ Environmental Legislators Caucus Supplemental Comments at 2; Senator Schumer Supplemental Comments at 2; Senator Whitehouse Supplemental Comments at 3.

²⁴⁶⁰ CARE Coalition Initial Comments at 3.

²⁴⁶¹ ELCON Initial Comments at 5, 20.

²⁴⁶² Certain TDUs Reply Comments at 8.

²⁴⁶³ AEE Initial Comments at 29 (citing 42 U.S.C. 16422).

1168. Industrial Customers assert that requiring dynamic line ratings, advanced power flow control devices, and other grid enhancing technologies will require transmission utilities to deploy capital where it is needed most to maintain reliability, which will reduce transmission costs to consumers because dynamic line ratings extend the useful life of existing transmission infrastructure and optimize existing grid capabilities.²⁴⁶⁴ ENGIE claims that deploying grid enhancing technologies could help to contain costs and support efficient, advanced projects.²⁴⁶⁵ Invenergy argues that, even if there may be instances where dynamic line ratings and advanced power flow control devices do not provide the best option with respect to cost, transmission providers should still undertake the analysis.²⁴⁶⁶ Potomac Economics observes that incorporating grid enhancing technologies in the transmission planning process will help ensure that transmission owners do not incur inefficient transmission upgrade costs to mitigate congestion that can be reduced more cost-effectively by grid enhancing technologies.²⁴⁶⁷

²⁴⁶⁴ Industrial Customers Reply Comments at 13-14.

²⁴⁶⁵ ENGIE Reply Comments at 3-4.

²⁴⁶⁶ Invenergy Reply Comments at 17.

²⁴⁶⁷ Potomac Economics Initial Comments at 5.

1169. Individual state governmental entities as well as NASEO, NASUCA, and NESCOE emphasize the importance of considering more efficient or cost-effective alternatives.²⁴⁶⁸ Some state commissions and US DOE cite the benefits of cost containment for customers.²⁴⁶⁹ DC and MD Offices of People's Counsel and Clean Energy Associations assert that grid enhancing technologies provide value beyond lowering transmission costs, as they can be deployed quickly, are modular, have low environmental and geographic footprints, and can be developed at low risk.²⁴⁷⁰ NARUC asserts that an effective transmission planning process should maximize the use of existing transmission and allow for building new transmission only where necessary or economic.²⁴⁷¹ Indicated US Senators and Representatives support the use of advanced transmission technologies to increase the efficiency and resilience of the electric grid.²⁴⁷²

²⁴⁶⁸ Massachusetts Attorney General Initial Comments at 16-18; Michigan State Entities Initial Comments at 10 (citing Institute for Policy Integrity ANOPR Reply Comments at 8); NASEO Initial Comments at 6; NASUCA Initial Comments at 7-8; NESCOE Initial Comments at 53.

²⁴⁶⁹ Illinois Commission Initial Comments at 11-13; NARUC Initial Comments at 35-36; Nevada Commission Initial Comments at 13; Pennsylvania Commission Initial Comments at 11; US DOE Initial Comments at 36-37.

²⁴⁷⁰ Clean Energy Associations Initial Comments at 27; DC and MD Offices of People's Counsel Reply Comments at 8.

²⁴⁷¹ Industrial Customers Reply Comments at 12; NARUC Initial Comments at 35.

²⁴⁷² Indicated US Senators and Representatives Initial Comments at 2.

1170. Many commenters support the consideration of alternative transmission technologies in transmission planning. For example, Certain TDUs argue that the Commission must protect ratepayers and consider all alternatives to ensure safe, reliable, and cost-effective transmission solutions, including the use of alternative transmission technologies.²⁴⁷³ Invenergy avers that there may be instances where better using these technologies may require certain foundational investments (e.g., appropriate software), but that only reinforces the need to establish a requirement to drive change.²⁴⁷⁴ Industrial Customers state that transmission providers should have to consider grid enhancing technologies whenever additional transmission investment is the alternative because the cost of installing them will almost always be nominal compared to the benefits of reduced congestion, lower energy and capacity costs, and reduced need for increases in transmission system capability.²⁴⁷⁵

²⁴⁷³ Certain TDUs Reply Comments at 8.

²⁴⁷⁴ Invenergy Reply Comments at 17.

²⁴⁷⁵ Industrial Customers Reply Comments at 16.

1171. WATT Coalition asserts that alternative transmission technologies and new transmission capacity are complementary.²⁴⁷⁶ WATT Coalition and Industrial Customers further assert that there is substantial value in considering dynamic line ratings in Long-Term Regional Transmission Planning because they can provide data to strengthen assumptions made in the planning process.²⁴⁷⁷ Specifically, WATT Coalition explains that historical data sets of dynamic transmission line ratings can be analyzed to create probabilistic line ratings on a seasonal, monthly, or more granular level to inform the transmission planning process, helping to maximize its efficiency.²⁴⁷⁸ Finally, WATT Coalition states that the use of forecasted ambient-adjusted ratings (Ambient Adjusted Ratings) demonstrates that more granular data inputs can and should be captured to increase the value of new transmission investment, as well as increased reliability and market efficiency.²⁴⁷⁹

²⁴⁷⁶ WATT Coalition Reply Comments at 2.

²⁴⁷⁷ Industrial Customers Reply Comments at 18; WATT Coalition Reply Comments at 1-3 (citing Appendix B of its Reply Comments).

²⁴⁷⁸ WATT Coalition Reply Comments Appendix B at 12. For example, WATT Coalition reports that ERCOT uses historical dynamic line rating data in its regional transmission plan. Id. (citing ERCOT 2021 Regional Transmission Plan Report, section 1.2, https://www.ercot.com/files/docs/2021/12/23/2021_Regional_Transmission_Plan_Report_Public.zip).

²⁴⁷⁹ Id. Appendix B at 13.

1172. Invenergy states that, if there are concerns about the burden associated with evaluating alternative transmission technologies, the Commission could adopt a reasonable threshold under which transmission providers are required to consider whether dynamic line ratings, advanced power flow control devices, and other grid enhancing technologies may be more efficient or cost-effective. For example, Invenergy suggests that, if an overload is identified and the relevant facilities are overloaded by 20% or less, the transmission provider should be required to consider grid enhancing technologies as a solution. Invenergy urges the Commission to reject calls to make the proposal an optional process, noting that transmission providers can already consider these technologies, but many do not.²⁴⁸⁰

²⁴⁸⁰ Invenergy Reply Comments at 16-17.

1173. Some commenters express partial support for the NOPR proposal but raise concerns about certain aspects.²⁴⁸¹ California Water supports consideration of dynamic line ratings and advanced power flow control devices in Long-Term Regional Transmission Planning but recommends that any final order clarify that such technologies should be adopted only if they are considered in the regional transmission planning process as the Commission proposes, serve the purpose of cost containment, and are found to be efficient and cost-effective.²⁴⁸² TAPS states that while it supports the implementation of grid enhancing technologies, they may be better suited for consideration on a shorter regional transmission planning horizon.²⁴⁸³ While Pattern Energy supports the consideration of grid enhancing technologies in Long-Term Regional Transmission Planning, it similarly notes that dynamic line ratings and advanced power flow control devices are shorter-term transmission solutions—helping to “squeeze more” out of the infrastructure that is operating or planned to be constructed.²⁴⁸⁴

²⁴⁸¹ CAISO Initial Comments at 37-39, California Water Initial Comments at 20; ENGIE Initial Comments at 6; Invenergy Initial Comments at 14-16; Ohio Consumers Initial Comments at 32-33; Pattern Energy Initial Comments at 29; SEIA Initial Comments at 21-22; SPP Initial Comments at 25-26, TAPS Initial Comments at 4, 21-22.

²⁴⁸² California Water Initial Comments at 20.

²⁴⁸³ TAPS Initial Comments at 4, 21-22.

²⁴⁸⁴ Pattern Energy Initial Comments at 29.

1174. While ENGIE supports the Commission's proposal to require the evaluation and deployment of dynamic line ratings and advanced power flow control devices where beneficial in Long-Term Regional Transmission Planning, it notes that the operational data used by such devices are not yet easily incorporated into the transmission planning framework.²⁴⁸⁵ Similarly, SEIA and Invenergy raise concerns that utilities struggle to consider, evaluate, and select these technologies as transmission solutions due to a lack of information about how they might be integrated into the transmission planning process.²⁴⁸⁶

²⁴⁸⁵ ENGIE Initial Comments at 6.

²⁴⁸⁶ Invenergy Initial Comments at 14-16; SEIA Initial Comments at 21-22.

1175. Finally, National Grid generally supports the notion that transmission providers should consider whether and how alternative transmission technologies can be incorporated into transmission planning and states that such technologies, in certain instances, may offer a more efficient or cost-effective alternative to other regional transmission facilities.²⁴⁸⁷ However, National Grid states that, if the Commission adopts in a final order the requirement to fully consider dynamic line ratings and advanced power flow control devices, it should explain how it expects RTOs/ISOs to implement the first step of the consideration process articulated in the NOPR, i.e., that the alternative transmission technologies being incorporated into existing transmission facilities “could meet the same regional transmission need more efficiently or cost-effectively than other potential transmission facilities.” ²⁴⁸⁸ According to National Grid, such a requirement would exceed the RTO/ISO's authority as the independent administrator of the competitive solicitation process.²⁴⁸⁹

²⁴⁸⁷ National Grid Initial Comments at 21.

²⁴⁸⁸ Id. at 23 (quoting NOPR, 179 FERC ¶ 61,028 at P 274).

²⁴⁸⁹ Id.

1176. Many commenters oppose the NOPR proposal.²⁴⁹⁰ Some commenters warn the Commission of the potential reliability and operational impacts of the widespread use of dynamic line ratings and advanced power flow control devices.²⁴⁹¹ APPA asserts that transmission dynamic line ratings and advanced power flow control devices should not be required until the industry has further experience with Ambient-Adjusted Ratings deployment.²⁴⁹² Exelon asserts that transmission providers already consider grid enhancing technologies and notes that, in many instances, the selection and deployment of grid enhancing technologies are fundamentally incompatible with the competitive transmission requirements in Order No. 1000, particularly in the context of development of new transmission facilities, where grid enhancing technologies are unlikely to be the lower cost solution, and may be considerably more expensive than traditional transmission technologies.²⁴⁹³

²⁴⁹⁰ AEP Initial Comments at 33; Ameren Initial Comments at 23-24; APPA Initial Comments at 37; ATC Initial Comments at 7-8; Avangrid Initial Comments at 31; DATA Initial Comments at 17; Dominion Initial Comments at 40; Duke Initial Comments at 29-32; EEI Initial Comments at 20-22; Entergy Initial Comments at 26-28; Eversource Initial Comments at 27-28; Exelon Initial Comments at 18-23; Georgia Commission Initial Comments at 7-8; Idaho Power Initial Comments at 9; Indicated PJM TOs Initial Comments at 19-20; ITC Initial Comments at 26-28; ITC Reply Comments at 27; LADWP Initial Comments at 5; Large Public Power Initial Comments at 31-34; MISO TOs Initial Comments at 23-24; Mississippi Commission Reply Comments at 8; New York TOs Initial Comments at 22-23; NRECA Initial Comments at 52; NYISO Initial Comments at 45, 47; OMS Initial Comments at 9; Pacific Northwest Utilities Initial Comments at 15-16; PJM Initial Comments at 105-109; PPL Initial Comments at 22-23; Southern Initial Comments at 35; SERTP Sponsors Initial Comments at 36-37; US Chamber of Commerce Initial Comments at 9.

²⁴⁹¹ Duke Initial Comments at 31-32; Entergy Initial Comments at 27-28; MISO Initial Comments at 59-60.

²⁴⁹² APPA Initial Comments at 5.

²⁴⁹³ Exelon Initial Comments at 21.

1177. Some commenters argue that further support is needed to justify any mandate to consider alternative transmission technologies in transmission planning.²⁴⁹⁴ Kansas Commission asserts that any new requirements should be based on a data-driven, robust analysis demonstrating ratepayer benefits; it also cautions against using such technologies as a short-term fix.²⁴⁹⁵ ATC states that the Commission should develop a record of the costs, risks, and potential impacts of widespread implementation of dynamic line ratings before mandating further action.²⁴⁹⁶

²⁴⁹⁴ ATC Reply Comments at 3; Kansas Commission Initial Comments at 19-20.

²⁴⁹⁵ Kansas Commission Initial Comments at 19-20.

²⁴⁹⁶ ATC Reply Comments at 3.

1178. Some commenters raise concerns about the costs of alternative transmission technologies. Mississippi Commission argues that mandating the use of technologies without considering their cost is not just and reasonable.²⁴⁹⁷ ATC asserts that the costs of implementing dynamic line ratings system wide would not be nominal.²⁴⁹⁸ US Chamber of Commerce asserts that dynamic line ratings are not a way to obtain “free” transmission capacity because there are costs associated with monitoring the ratings.²⁴⁹⁹

²⁴⁹⁷ Mississippi Commission Reply Comments at 8.

²⁴⁹⁸ ATC Reply Comments at 3 (citing Pattern Energy Initial Comments at 30; Pine Gate Initial Comments at 40-41).

²⁴⁹⁹ US Chamber of Commerce Initial Comments at 9.

1179. Other commenters argue that the Commission should favor flexibility and not mandate that dynamic line ratings and advanced power flow control devices be considered.²⁵⁰⁰ Georgia Commission states that it is reasonable for the Commission to encourage, rather than require, consideration of dynamic line ratings and advanced power flow control devices in Long-Term Regional Transmission Planning.²⁵⁰¹ LADWP suggests that instead of mandating consideration of specific technologies that become obsolete, the Commission should require transmission providers to use Good Utility Practice to identify and use technologies that maximize the use of transmission assets in order to minimize impacts to ratepayers and the public.²⁵⁰²

²⁵⁰⁰ Avangrid Initial Comments at 31; Clean Energy Buyers Initial Comments at 25; Eversource Initial Comments at 27; Georgia Commission Initial Comments at 7-8; Idaho Power Initial Comments at 9; New York TOs Initial Comments at 23; OMS Initial Comments at 9; PPL Initial Comments at 23.

²⁵⁰¹ Georgia Commission Initial Comments at 7.

²⁵⁰² LADWP Initial Comments at 5.

1180. Similarly, National Grid argues that the Commission should not favor the deployment of the two proposed technologies over more efficient or cost-effective transmission facilities, and that focusing on specific technologies is likely to stifle innovation and will not lead to the identification of the more efficient or cost-effective transmission facilities.²⁵⁰³ ATC disagrees with commenters that state that utilities are reluctant to implement these technologies,²⁵⁰⁴ noting that it advocates for and uses advanced power flow control devices and other advanced technologies on its system.²⁵⁰⁵ However, ATC describes widespread dynamic line rating deployment as costly.²⁵⁰⁶

²⁵⁰³ National Grid Initial Comments at 22-23.

²⁵⁰⁴ ATC Reply Comments at 2 (citing Invenergy Initial Comments at 15).

²⁵⁰⁵ Id. (citing ATC Initial Comments at 7).

²⁵⁰⁶ Id. at 3.

1181. Other commenters urge the Commission to complete its consideration of the record in the Notice of Inquiry on the Implementation of Dynamic Line Ratings²⁵⁰⁷ and/or wait for transmission providers to comply with Order No. 881²⁵⁰⁸ before implementing the NOPR proposal on dynamic line ratings.²⁵⁰⁹ Large Public Power states that the Commission appears to sidestep the record in the Notice of Inquiry on the Implementation of Dynamic Line Ratings, especially the technical and cybersecurity-related concerns in that docket.²⁵¹⁰ MISO TOs state that imposing a mandate in this proceeding would complicate the issue.²⁵¹¹ ATC argues that a more prudent course of action would be to gain experience with Ambient-Adjusted Ratings before moving on to consideration of the use of dynamic line ratings.²⁵¹² ITC asserts that dynamic line ratings and advanced power flow control devices should be implemented on an operational basis through existing Commission proceedings addressing such technologies.²⁵¹³

²⁵⁰⁷ Implementation of Dynamic Line Ratings, 178 FERC ¶ 61,110 (2022).

²⁵⁰⁸ Managing Transmission Line Ratings, Order No. 881, 177 FERC ¶ 61,179 (2021).

²⁵⁰⁹ ATC Reply Comments at 4-5; Dominion Initial Comments at 40; Large Public Power Initial Comments at 5, 32-33; MISO TOs Initial Comments at 23-24.

²⁵¹⁰ Large Public Power Initial Comments at 32.

²⁵¹¹ MISO TOs Initial Comments at 23.

²⁵¹² ATC Initial Comments at 10.

²⁵¹³ ITC Reply Comments at 27.

1182. Several commenters specifically support the NOPR proposal of requiring consideration of both: (1) whether incorporating dynamic line ratings or advanced power flow control devices into existing transmission facilities could meet the same regional transmission need more efficiently or cost-effectively than other transmission facilities that are being considered for potential selection; and (2) whether incorporating dynamic line ratings and advanced power flow control devices as part of any potential regional transmission facility would be more efficient or cost-effective than those without incorporating such technologies.²⁵¹⁴ Ohio Consumers emphasize the importance of considering dynamic line ratings and advanced power flow control devices for both proposed and existing projects, noting that the goal of using these technologies is to lower overall costs of new transmission for consumers, and citing to a DOE study that found that these technologies can defer or reduce the need for significant investment in new infrastructure projects, and increase the use of renewables by maximizing the capacity of current infrastructure.²⁵¹⁵

²⁵¹⁴ ACORE Initial Comments at 15; Clean Energy Associations Initial Comments at 28; DC and MD Offices of People's Counsel Initial Comments at 36; Industrial Customers Initial Comments at 32-34; Michigan State Entities Initial Comments at 11; NASEO Initial Comments at 6; Ohio Consumers Initial Comments at 34; State Agencies Initial Comments at 17-18.

²⁵¹⁵ Ohio Consumers Initial Comments at 32-34 (citing US DOE, Grid-Enhancing Technologies: A Case Study on Ratepayer Impact (Feb. 2022), https://www.energy.gov/sites/default/files/2022-04/Grid%20Enhancing%20Technologies%20-%20A%20Case%20Study%20on%20Ratepayer%20Impact%20-%20February%202022%20CLEAN%20as%20of%20032322.pdf).

1183. Others oppose the consideration of alternative transmission technologies on new transmission facilities.²⁵¹⁶ CAISO contends that a requirement to consider whether to incorporate dynamic line ratings and advanced power flow control devices as part of every new regional transmission facility identified to meet a reliability need would create more work without yielding significant benefits because incorporating such measures would not alter the scope of the underlying transmission facilities that are necessary to meet the reliability need.²⁵¹⁷ LADWP states that identification of specific technologies in a rulemaking seems inappropriate and asserts a transmission line that is not yet built has no operating history, and it should therefore be at the discretion of the transmission planner to consider and implement dynamic line ratings, as it would slow down the design and construction of the transmission line.²⁵¹⁸ Exelon states that, particularly in the context of new transmission facilities, grid enhancing technologies are very unlikely to be the lower cost solution relative to traditional transmission technologies, and for many technologies, they should be expected to be considerably more expensive than traditional transmission technologies (notwithstanding any additional benefits they may offer).²⁵¹⁹

²⁵¹⁶ CAISO Initial Comments at 6; LADWP Initial Comments at 5.

²⁵¹⁷ CAISO Initial Comments at 6. CAISO, however, supports considering these technologies in connection with new transmission facilities intended to meet economic or public policy needs. Id.

²⁵¹⁸ LADWP Initial Comments at 5.

²⁵¹⁹ Exelon Initial Comments at 21-22.

1184. Clean Energy Associations, Industrial Customers, and WATT Coalition support the implementation of a requirement for non-RTO/ISO regions to update their energy management systems if dynamic line ratings are identified as a more efficient or cost-effective transmission facility selected.²⁵²⁰ ELCON agrees, asserting that the Commission's requirement for dynamic line ratings and advanced power flow control devices should apply to all Commission-jurisdictional transmission utilities, regardless of whether they are RTOs/ISOs.²⁵²¹ WATT Coalition adds that all transmission providers should be required to upgrade their energy management systems and keep them consistent across all transmission providers to accommodate the latest technologies.²⁵²² WATT Coalition further states that advanced power flow control devices and topology optimization do not require modifications to existing energy management systems, but that the implementation of such technologies would benefit from the increased flexibility of dynamic line rating-enabled energy management systems.²⁵²³

²⁵²⁰ Clean Energy Associations Initial Comments at 28; Industrial Customers Initial Comments at 32-33; Industrial Customers Reply Comments at 11; WATT Coalition Initial Comments at 7.

²⁵²¹ ELCON Initial Comments at 21.

²⁵²² WATT Coalition Initial Comments at 7.

²⁵²³ Id.

1185. Pattern Energy states that energy management systems and other equipment will need upgrades to integrate readouts from the dynamic line ratings equipment to minimize operator intervention and enhance operational awareness. Pattern Energy surmises, however, that any upgrades necessitated by a final order in this proceeding may be nominal given that dynamic line ratings and advanced power flow control devices should already be readily integrated with upgrades to energy management systems needed to comply with Order No. 881.²⁵²⁴

²⁵²⁴ Pattern Energy Initial Comments at 30 (citing Order No. 881, 177 FERC ¶ 61,179).

1186. Some commenters suggest alternative approaches to incorporating alternative transmission technologies into the transmission system. Vistra asserts that the Commission should modify the NOPR proposal to require: (1) the long-term transmission planning evaluation to include a generation capacity expansion scenario that incorporates the potential for enhanced capability through new market services; (2) early input during the transmission planning cycle from independent market monitors and stakeholders on market improvements that could enhance grid operations; and (3) all solicitations for long-term solutions to equally consider non-transmissions solutions that may include generation, technology, or market design changes that could more efficiently or cost-effectively address a need that otherwise would require construction or modification of transmission facilities.²⁵²⁵

²⁵²⁵ Vistra Initial Comments at 32.

1187. Some commenters request that the Commission establish more prescriptive requirements regarding the evaluation of the alternative transmission technologies than those proposed in the NOPR. Invenergy asserts that the NOPR proposal should be expanded to include other technologies and require transmission providers to select alternative transmission technologies when they provide the most efficient option.²⁵²⁶

²⁵²⁶ Invenergy Reply Comments at 16 (citing Invenergy Initial Comments at 14-17).

1188. WATT Coalition urges the Commission to include an operational planning timeframe for topology optimization, dynamic line ratings, and modular advanced power flow control devices, which can all be deployed quickly. WATT Coalition states that the Commission could require consideration of these technologies for the top 5 or 10 most costly or critical constraints on a quarterly basis.²⁵²⁷ WATT Coalition states that market participants should be able to request the use of grid enhancing technologies, and receive an answer from the transmission provider within a defined period of time, to be evaluated against alternatives used by the transmission provider.²⁵²⁸ WATT Coalition also asserts that grid enhancing technologies should be required in appropriate instances and encouraged through incentives because utilities have little incentive to deploy them under standard cost-of-service regulation,²⁵²⁹ and after implementing this order, the Commission should develop transmission incentives to complement a congestion threshold requirement, driving other creative applications of grid enhancing technologies where they would create the most value to consumers.²⁵³⁰

²⁵²⁷ WATT Coalition Initial Comments at 5.

²⁵²⁸ Id. at 5-6.

²⁵²⁹ WATT Coalition Reply Comments at 3.

²⁵³⁰ WATT Coalition Supplemental Comments at 3.

1189. Some commenters request more requirements regarding evaluation and/or deployment of alternative transmission technologies to meet transmission needs. WATT Coalition states that there are certain transmission technologies that are faster to deploy than traditional lines and urges the Commission to require an annual review of the Long-Term Regional Transmission Planning process and establish a fast track process for solutions with a lead time of less than 12 months and a capital cost of less than $50 million.²⁵³¹ WATT Coalition further states that the requirement to consider dynamic line ratings and advanced power flow control devices should also apply in any case where transmission capacity is valuable but the costs of a new line are not justified.²⁵³²

²⁵³¹ WATT Coalition Initial Comments at 8.

²⁵³² Id. at 4.

1190. Smart Wires and WATT Coalition argue that the Commission should direct transmission providers to: (1) designate advanced power flow control devices as the default solution for projects requiring a series capacitor; (2) “require evaluation of advanced power flow control devices for thermal overloads that fall within 50% of the line rating,” which they argue is when such devices are often most economically advantageous; (3) require evaluation of advanced power flow control devices for interconnection-related network upgrades associated with new load connections, given that these technologies can be used to rebalance flows quickly and adjusted to mirror actual growth; and (4) mandate deployment of advanced power flow control devices as the default solution for voltage stability management on 100-plus mile AC transmission lines.²⁵³³

²⁵³³ Smart Wires Initial Comments at 1, 3-5; WATT Coalition Initial Comments at 3-4.

1191. Some commenters suggest that the Commission should collect additional data and require reporting on the deployment of alternative transmission technologies. PIOs and DC and MD Offices of People's Counsel ask the Commission to require that transmission providers explain how they considered alternative transmission technologies in the transmission planning process and if they were not used, why.²⁵³⁴ DC and MD Offices of People's Counsel assert that data collected from dynamic line ratings should be shared with stakeholders to provide transparency as to the necessity or economic efficiency of certain transmission upgrades, and a mechanism should be implemented to independently review the projected costs and benefits of advanced transmission technologies from an efficiency and cost-allocation perspective.²⁵³⁵ NASEO states that the Commission should include a requirement for those seeking to make changes to RTOs/ISOs' facilities to provide an analysis of the new technologies and how they meet present and expected future challenges, suggesting that RTOs/ISOs be required to consult with US DOE, the DOE national laboratories, and state energy offices to ensure new technologies are incorporated into Long-Term Regional Transmission Planning.²⁵³⁶ Certain TDUs argue that the Commission should require transmission planners to document their evaluation of alternative transmission solutions in the transmission planning process, which should include the methods used to integrate grid enhancing technologies alone or in combination with transmission upgrades.²⁵³⁷

²⁵³⁴ DC and MD Offices of People's Counsel Initial Comments at 36; PIOs Initial Comments at 22.

²⁵³⁵ DC and MD Offices of People's Counsel Initial Comments at 36.

²⁵³⁶ NASEO Initial Comments at 6-7.

²⁵³⁷ Certain TDUs Reply Comments at 8-9 (citing OMS Initial Comments at 9; Certain TDUs Initial Comments at 24).

1192. ENGIE recommends that the Commission require transmission providers to provide a report to the Commission every five years on the deployment and operational analysis of grid enhancing technologies to ensure these technologies are being properly evaluated in Long-Term Regional Transmission Planning.²⁵³⁸ R Street suggests that the Commission require the incorporation, not just consideration, of advanced transmission technologies, and should require the inclusion of commercially viable technologies on a rolling basis as informed by a regularly updated list of qualifying technologies through, for example, a periodic forum with technology experts from US DOE.²⁵³⁹ SEIA states that the Commission should host regular technical conferences to discuss improvements and innovations in grid enhancing technologies as experience with these technologies grows.²⁵⁴⁰ SEIA states that to determine whether such technologies are feasible, transmission providers should provide the following information to market participants: modeling assumptions, contingency analysis results, asset age, and environmental and footprint constraints.²⁵⁴¹

²⁵³⁸ ENGIE Initial Comments at 6.

²⁵³⁹ R Street Initial Comments at 4.

²⁵⁴⁰ SEIA Initial Comments at 21.

²⁵⁴¹ Id. at 22.

1193. Pattern Energy states that the Commission should be mindful that limited supplies of dynamic line ratings, advanced power flow control devices, and SCADA-based implementation equipment (and service providers thereto) may cause shortages that will constrain transmission facility developers and owners.²⁵⁴² Pattern Energy adds that, when evaluating the costs to implement such devices, transmission providers may need to assume cost parameters (e.g., cost per mile or cost per installation) for such devices in order to have an “apples-to-apples comparison.” ²⁵⁴³

²⁵⁴² Pattern Energy Initial Comments at 29-30.

²⁵⁴³ Id. at 30.

3. Need for Reform

1194. Based on the record, we find that there is substantial evidence to support the conclusion that the Commission's existing regional transmission planning requirements are unjust, unreasonable, and unduly discriminatory or preferential because they do not require consideration of alternative transmission technologies in the regional transmission planning process. We therefore adopt the preliminary findings in the NOPR concerning the need for reform. Specifically, we find that the Commission's existing regional transmission planning requirements fail to ensure that transmission providers consider whether to incorporate alternative transmission technologies into regional transmission facilities as part of their regional transmission planning processes and, consequently, fail to ensure that transmission providers are identifying more efficient or cost-effective regional transmission solutions through those processes. As a result, transmission providers overlook or undervalue the benefits of certain alternative transmission technologies and, in turn, undertake relatively inefficient and less cost-effective investments in transmission infrastructure, the costs of which are ultimately recovered through Commission-jurisdictional rates. Accordingly, we find that existing regional transmission planning requirements are insufficient to ensure just and reasonable and not unduly discriminatory or preferential rates.

1195. In the NOPR, the Commission stated that commercially available alternative transmission technologies have the potential to improve the operation of new and existing transmission facilities and defer or mitigate the need for new transmission investments.²⁵⁴⁴ However, existing regional transmission planning processes are not necessarily designed to consider the benefits that alternative transmission technologies can provide.²⁵⁴⁵ Commenters state that some transmission providers are reluctant to implement alternative transmission technologies or that alternative transmission technologies are not consistently evaluated in regional transmission planning in a manner commensurate with the benefits that they can provide.²⁵⁴⁶ The failure to consistently consider these technologies in regional transmission planning prevents them from being identified, evaluated, and selected as a more efficient or cost-effective solution to transmission needs, to the detriment of customers that can benefit from their deployment.

²⁵⁴⁴ NOPR, 179 FERC ¶ 61,028 at P 267.

²⁵⁴⁵ See, e.g., AEE Initial Comments at 29.

²⁵⁴⁶ Certain TDUs Initial Comments at 22-23; Invenergy Initial Comments at 15-16; NASUCA Initial Comments at 7; WATT Coalition Initial Comments at 4.

1196. The record demonstrates that alternative transmission technologies can provide significant capacity increases when incorporated into transmission facilities, and that such incorporation may provide benefits that outweigh its costs.²⁵⁴⁷ For example, a white paper prepared by the Brattle Group highlights several recent examples in which dynamic line ratings, transmission switching, and advanced power flow control devices were deployed to cost-effectively meet transmission needs in SPP, MISO, and other utility service territories.²⁵⁴⁸ Additionally, a recent US DOE case study on dynamic line ratings and advanced power flow control devices estimates that these alternative transmission technologies can provide significant production cost savings, net import savings, and avoided curtailment savings.²⁵⁴⁹

²⁵⁴⁷ See, e.g., WATT Coalition Supplemental Comments at 2-3.

²⁵⁴⁸ The Brattle Group, Building a Better Grid: How Grid-Enhancing Technologies Complement Transmission Buildouts 12-15 (Apr. 20, 2023), https://watt-transmission.org/wp-content/uploads/2023/04/Building-a-Better-Grid-How-Grid-Enhancing-Technologies-Complement-Transmission-Buildouts.pdf.

²⁵⁴⁹ US DOE, Grid-Enhancing Technologies: A Case Study on Ratepayer Impact v-x (Feb. 2022), https://www.energy.gov/sites/default/files/2022-04/Grid%20Enhancing%20Technologies%20-%20A%20Case%20Study%20on%20Ratepayer%20Impact%20-%20February%202022%20CLEAN%20as%20of%20032322.pdf.

1197. We find that the failure to require transmission providers to consider alternative transmission technologies renders the Commission's existing regional transmission planning requirements insufficient to ensure just and reasonable and not unduly discriminatory or preferential rates, we are now requiring, pursuant to FPA section 206, that transmission providers consider in Long-Term Regional Transmission Planning and their existing Order No. 1000 regional transmission planning process the alternative transmission technologies discussed below. While the record indicates that some of the alternative transmission technologies enumerated in this final order are sometimes considered in certain transmission planning regions as solutions to specific transmission needs,²⁵⁵⁰ we find that inconsistent consideration of alternative transmission technologies in regional transmission planning results in transmission providers overlooking or undervaluing the benefits that these technologies can provide. We find that the reforms concerning the consideration of alternative transmission technologies that we adopt in this final order will render the Commission's existing regional transmission planning requirements just and reasonable, because they will result in transmission providers identifying, evaluating, and selecting regional transmission facilities that are more efficient or cost-effective, which will ensure that Commission-jurisdictional rates are just and reasonable.

²⁵⁵⁰ See Exelon Initial Comments at 21-23.

4. Commission Determination

1198. We adopt the NOPR proposal, with modification, to require transmission providers in each transmission planning region to consider, in Long-Term Regional Transmission Planning and existing Order No. 1000 regional transmission planning processes, dynamic line ratings and advanced power flow control devices for each identified transmission need. We modify the NOPR proposal to require that, in addition to dynamic line ratings and advanced power flow control devices, transmission providers must consider in Long-Term Regional Transmission Planning and existing Order No. 1000 regional transmission planning processes advanced conductors and transmission switching. Thus, under this modification, transmission providers must consider: (1) dynamic line ratings; ²⁵⁵¹ (2) advanced power flow control devices; ²⁵⁵² (3) advanced conductors; ²⁵⁵³ and (4) transmission switching.²⁵⁵⁴ We clarify that transmission providers must consider each of these enumerated technologies when evaluating new regional transmission facilities, as well as upgrades to existing transmission facilities.²⁵⁵⁵ Thus, for each identified transmission need, when evaluating regional transmission facilities for potential selection, transmission providers must consider whether regional transmission facilities that incorporate, or solely consist of, any of the enumerated list of alternative transmission technologies would be more efficient or cost-effective than selecting new regional transmission facilities or upgrades to existing transmission facilities that do not incorporate these technologies.

²⁵⁵¹ A dynamic line rating is “a transmission line rating that applies to a time period of not greater than one hour and reflects up-to-date forecasts of inputs such as (but not limited to) ambient air temperature, wind, solar heating, transmission line tension, or transmission line sag.” NOPR, 179 FERC ¶ 61,028 at P 259 n.408 (citations omitted); see also Order No. 881, 177 FERC ¶ 61,179 at P 7; Implementation of Dynamic Line Ratings, 178 FERC ¶ 61,110 at P 1.

²⁵⁵² Advanced power flow control devices serve a transmission function. These devices can help the system operator control power flows over a given path and can include phase shifting transformers (also known as phase angle regulators) and devices or systems necessary for implementing optimal transmission switching. Advanced power flow control devices allow power to be pushed and pulled to alternate lines with spare capacity leading to maximum utilization of existing transmission capacity. NOPR, 179 FERC ¶ 61,028 at P 270 n.437.

²⁵⁵³ Advanced conductors include present and future transmission line technologies whose power flow capacities exceed the power flow capacities of conventional aluminum conductor steel reinforced conductors. See Order No. 2023-A, 186 FERC ¶ 61,199 at 631.

²⁵⁵⁴ Transmission switching is the opening or closing of transmission elements to safely route power and direct flows away from congestion, based on pre-existing forward analysis.

²⁵⁵⁵ We note that upgrades to existing transmission facilities include both: (1) the incorporation of an alternative transmission technology into an existing transmission facility with no additional changes to the underlying transmission facility (e.g., adding dynamic line ratings to an existing transmission facility); and (2) the incorporation of an alternative transmission technology into an existing transmission facility as part of a larger set of upgrades (e.g., adding dynamic line ratings to a transmission facility that is also being reconductored with a conventional aluminum conductor steel reinforced conductor).

1199. However, transmission providers' evaluation of the enumerated alternative transmission technologies must be consistent with the requirements in their OATTs for other transmission solutions. This means that, for the purposes of Long Term Regional Transmission Planning, transmission providers must evaluate the benefits of incorporating the enumerated alternative transmission technologies into Long-Term Regional Transmission Facilities in the same manner that they evaluate any Long-Term Regional Transmission Facility, and in a manner consistent with the requirements in the Evaluation of Benefits of Regional Transmission Facilities and Evaluation and Selection of Long-Term Regional Transmission Facilities sections of this final order. Accordingly, we require transmission providers to measure the required benefits and any additional benefits the transmission providers elect to measure, as discussed in detail in the Required Benefits section,²⁵⁵⁶ and use those measured benefits in their evaluation processes to determine if a regional transmission facility that incorporates, or solely consists of, any of the enumerated list of alternative transmission technologies would more efficiently or cost-effectively address Long-Term Transmission Needs. As discussed in detail in the Evaluation and Selection of Long-Term Regional Transmission Facilities section,²⁵⁵⁷ that determination would involve applying the transmission providers' selection criteria, which must, among other things, seek to maximize benefits accounting for costs over time without over-building transmission facilities. Similarly, for the purposes of existing Order No. 1000 regional transmission planning processes, transmission providers must consider the benefits of incorporating the enumerated alternative transmission technologies into transmission facilities in the same way that they currently evaluate regional transmission facilities in those existing processes to determine if a regional transmission facility incorporating any of the enumerated transmission technologies would be a more efficient or cost-effective regional transmission solution.

²⁵⁵⁶ Supra Required Benefits section.

²⁵⁵⁷ Supra Evaluation and Selection of Long-Term Regional Transmission Facilities section.

1200. In response to concerns regarding the mandatory consideration of the enumerated alternative transmission technologies for new regional transmission facilities,²⁵⁵⁸ and the incremental increase in costs associated with incorporating an alternative transmission technology into new regional transmission facilities or upgrades to existing transmission facilities,²⁵⁵⁹ we reiterate that transmission providers must follow the evaluation process and selection criteria in their tariffs. As explained in the Evaluation and Selection of Long-Term Regional Transmission Facilities section of this final order, this does not require transmission providers to select any particular Long-Term Regional Transmission Facility to address Long-Term Transmission Needs (i.e., in this case it does not require the selection and deployment of any particular alternative transmission technology with regard to any particular Long-Term Transmission Need).²⁵⁶⁰ We recognize that, in addition to considering the costs and benefits associated with incorporating alternative transmission technologies into transmission facilities, transmission providers must continue to follow Good Utility Practice with regard to planning, evaluating, selecting, constructing, operating, and maintaining all transmission facilities, whether such transmission facilities are considered and implemented through existing regional transmission planning processes or as part of Long-Term Regional Transmission Planning as set forth in this final order.²⁵⁶¹

²⁵⁵⁸ CAISO Initial Comments at 6; Exelon Initial Comments at 21-22.

²⁵⁵⁹ Exelon Initial Comments at 19-20.

²⁵⁶⁰ Supra Evaluation and Selection of Long-Term Regional Transmission Facilities section.

²⁵⁶¹ See pro forma OATT section 28.2 (Transmission Provider Responsibilities) (“The Transmission Provider will plan, construct, operate and maintain its Transmission System in accordance with Good Utility Practice and its planning obligations in Attachment K in order to provide the Network Customer with Network Integration Transmission Service over the Transmission Provider's Transmission System.”).

1201. We find that it is appropriate to require transmission providers to consider whether it may be more efficient or cost-effective to incorporate the enumerated alternative transmission technologies into both new regional transmission facilities and upgrades to existing transmission facilities because the record indicates that such technologies can provide benefits by improving the efficiency of transmission facilities, regardless of whether the facilities are already in-service or yet to be deployed.²⁵⁶² We find that incorporating the enumerated alternative transmission technologies as upgrades to existing transmission facilities has the potential to make the use of existing transmission infrastructure more efficient and optimize the performance of such infrastructure, mitigating or deferring the need for development of new regional transmission facilities.²⁵⁶³ Adding alternative transmission technologies to new regional transmission facilities may provide cost savings by improving operational efficiency of transmission facilities. Further, incorporating alternative transmission technologies into new transmission facilities may present more benefits and cost less than incorporating such technologies as retrofits after the regional transmission facility is deployed. We further find that requiring transmission providers to consider the enumerated alternative transmission technologies in Long-Term Regional Transmission Planning and existing regional transmission planning processes will ensure that transmission providers more fully consider a broader set of technologies that can address transmission needs more efficiently or cost-effectively.

²⁵⁶² See WATT Coalition Supplemental Comments at 2-3.

²⁵⁶³ Pattern Energy Initial Comments at 29.

1202. We clarify that the selection and use any of the enumerated alternative transmission technologies that are incorporated into an existing transmission facility should be treated as an upgrade to an existing transmission facility. Order No. 1000's elimination of any Federal right of right of first refusal for selected transmission facilities does not apply to upgrades to an existing transmission facility.²⁵⁶⁴ Therefore, an incumbent transmission provider would be designated to develop any alternative transmission technology that is selected for incorporation into that incumbent transmission provider's existing transmission facilities as the more efficient or cost-effective solution.

²⁵⁶⁴ The Commission stated in Order No. 1000 that the non-incumbent transmission developer reforms do not affect the right of an incumbent transmission provider to build, own and recover costs for upgrades to its own transmission facilities, such as in the case of tower change outs or reconductoring, regardless of whether or not an upgrade has been selected in the regional transmission plan for purposes of cost allocation. In other words, an incumbent transmission provider would be permitted to maintain a Federal right of first refusal for upgrades to its own transmission facilities. Order No. 1000, 136 FERC ¶ 61,051 at P 319 (footnote omitted). The Commission clarified that “the term upgrade means an improvement to, addition to, or replacement of a part of, an existing transmission facility. The term upgrades does not refer to an entirely new transmission facility.” Order No. 1000-A, 139 FERC ¶ 61,132 at P 426. The Commission further clarified that the requirement to eliminate a Federal right of first refusal does not apply to any upgrade, even where the upgrade requires the expansion of an existing right-of-way. Id. P 427.

1203. With respect to alternative transmission technologies added or deployed on a new selected regional transmission facility, we clarify that the transmission developer that is designated to develop the underlying selected regional transmission facility, whether that developer is an incumbent transmission provider or a nonincumbent transmission developer, must also be designated to develop any alternative transmission technologies selected to be incorporated into the regional transmission facility, and thus, would be eligible to use the applicable regional cost allocation method.²⁵⁶⁵ For example, in a competitive bidding model, the transmission developer that submits the winning bid for a selected new regional transmission facility that includes an alternative transmission technology would be eligible to use the regional cost allocation method for that facility, including for the costs of any alternative transmission technologies. Similarly, in a sponsorship model, the transmission developer that sponsors a new regional transmission facility that includes any alternative transmission technologies would be eligible to use the regional cost allocation method for that facility, including for the costs of any alternative transmission technologies, consistent with the selection.

²⁵⁶⁵ See FERC, Staff Report, 2017 Transmission Metrics 8 (Oct. 6, 2017), https://www.ferc.gov/sites/default/files/2020-05/transmission-investment-metrics.pdf (describing the two general types of competitive transmission development processes, the “competitive bidding model” and the “sponsorship model”).

1204. We further clarify that, under a sponsorship model, transmission providers' addition of an alternative transmission technology to a sponsored regional transmission facility proposal that is ultimately selected must not lead to the original sponsored regional transmission facility being labeled as an unsponsored regional transmission facility. Therefore, the sponsoring developer would be eligible to use the regional cost allocation method for the selected new regional transmission facility, as modified with the alternative transmission technology.

1205. We also clarify that, for every competitive transmission development process in a given transmission planning region, transmission providers must identify with sufficient detail in their OATTs the point or points in a given process at which the transmission providers in the transmission planning region will consider the potential use of alternative transmission technologies, including the point at which qualified transmission developers must submit any proposal to incorporate alternative transmission technologies. This clarification is meant to ensure transparency for competing transmission developers and other stakeholders.²⁵⁶⁶

²⁵⁶⁶ For example, in a competitive bidding model, transmission providers must make clear whether, and if so when, a qualified transmission developer can propose to incorporate alternative transmission technologies into a bid for a selected Long-Term Regional Transmission Facility. This transparency requirement ensures that competing transmission developers will be treated comparably because they will know whether and when they can propose to incorporate any additional alternative transmission technologies into a bid for a regional transmission facility that has been selected.

1206. In response to comments that transmission providers should not be required to consider the enumerated alternative transmission technologies in regional transmission planning processes due to the costs and challenges associated with implementation,²⁵⁶⁷ we find that the examples in the record of implementation of dynamic line ratings, including ERCOT's experience with dynamic line ratings since 2005 and data from Oncor from 2011 to 2013,²⁵⁶⁸ and overall support for the consideration of advanced power flow control devices in transmission planning,²⁵⁶⁹ sufficiently demonstrate that transmission providers are capable of considering the enumerated alternative transmission technologies in Long-Term Regional Transmission Planning and existing regional transmission planning processes. Kansas Commission's position that consideration of alternative transmission technologies in regional transmission planning processes should be data-driven and supported by robust analysis demonstrating benefits is consistent with our determinations here.²⁵⁷⁰ Therefore, transmission providers must consider the incorporation of these enumerated alternative transmission technologies consistent with the specific requirements for analysis and evaluation of benefits in their OATTs, including those applicable to existing regional transmission planning processes and those required in this final order for Long-Term Regional Transmission Planning.²⁵⁷¹ We acknowledge Mississippi Commission's concerns about deploying alternative transmission technologies without consideration of their costs and note that, to the extent that a transmission provider selects a regional transmission facility that incorporates an enumerated alternative transmission technology, the transmission provider would only do so after evaluating the costs and benefits of that transmission facility, including the incorporation of the alternative transmission technology.²⁵⁷²

²⁵⁶⁷ See, e.g., ATC Reply Comments at 3.

²⁵⁶⁸ Hannon Armstrong Reply Comments at 2-3; WATT Coalition Reply Comments at app. B.

²⁵⁶⁹ Ameren Initial Comments at 24-25; EEI Initial Comments at 20-21; Entergy Initial Comments at 29; Exelon Initial Comments at 23.

²⁵⁷⁰ Kansas Commission Initial Comments at 19-20.

²⁵⁷¹ See supra Evaluation of the Benefits of Regional Transmission Facilities section.

²⁵⁷² Mississippi Commission Reply Comments at 8.

1207. We disagree with commenter assertions that alternative transmission technologies are only operational tools and that transmission providers cannot rely on any additional capacity created by these technologies for the purpose of meeting transmission needs.²⁵⁷³ We note that Long-Term Regional Transmission Planning and existing regional transmission planning processes are designed to address a variety of needs, including not only reliability needs but also Long-Term Transmission Needs and economic needs. These processes are well-suited to evaluate the economic benefits of the enumerated alternative transmission technologies, which are relevant to assessing whether a regional transmission facility that incorporates such technologies is more efficient or cost-effective than a proposed regional transmission facility that does not use such technologies. We believe that the particular benefit measurement methods that transmission providers must develop, pursuant to requirements discussed below, to evaluate proposed Long-Term Regional Transmission Facilities can be used to measure the economic benefits of incorporating the enumerated alternative transmission technologies into transmission facilities.²⁵⁷⁴ As more fully described above in the Required Benefits section, these benefits include, but are not limited to, methods to measure production cost savings, reduced congestion due to fewer transmission outages, and capacity cost benefits from reduced peak energy losses. Similarly, we find that the enumerated alternative transmission technologies can provide those economic benefits that are already evaluated in existing regional transmission planning processes. Finally, contrary to commenters' concerns, the record here demonstrates that certain alternative transmission technologies are in some cases capable of enhancing reliability and providing additional capacity.²⁵⁷⁵

²⁵⁷³ AEP Initial Comments at 6, 33; Indicated PJM TOs Initial Comments at 19; ITC Initial Comments at 6, 26-28; Louisiana Commission Initial Comments at 14 (citing Potomac Economics Initial Comments at 2); PJM Initial Comments at 8, 106, 108; PPL Initial Comments at 22; SERTP Sponsors Initial Comments at 36-37.

²⁵⁷⁴ See supra Evaluation of the Benefits of Regional Transmission Facilities section.

²⁵⁷⁵ See infra P 1241 for a more detailed discussion of the reliability benefits of dynamic line ratings and advanced power flow control devices; see also Ameren Initial Comments at 24; Bekaert Supplemental Comments at 1-2; CTC Global Initial Comments at 15.

1208. In response to concerns about administrative burden and assertions that predictions about benefits are speculative,²⁵⁷⁶ we find that the potential advantages associated with adopting this reform (i.e., identifying more efficient or cost-effective regional transmission solutions) outweigh the potential administrative and analytical burden. As it pertains to dynamic line ratings, the information needed to inform the calculation of dynamic line ratings should be widely available. For example, NREL has published data on annual averages of windspeeds at 10 meters above the ground that could inform predictions for future wind conditions to facilitate calculations of economic benefits.²⁵⁷⁷ For the calculation of the economic benefits associated with dynamic lines ratings, it is appropriate for such calculations to use historical average wind speed and direction data to calculate average increases to transmission line transfer limits for use in benefit calculations. Average predicted wind speeds and direction should be sufficient to inform the transmission provider as to whether the implementation of dynamic line ratings on a specific transmission line may render that line a more efficient or cost-effective regional transmission solution, and such data are widely available.²⁵⁷⁸ We acknowledge that there is uncertainty with projections of any kind; however, it is not necessary to understand the precise future wind conditions at a specific future period to assess the expected economic benefits associated with the implementation of dynamic line ratings.

²⁵⁷⁶ ATC Initial Comments at 10; Duke Initial Comments at 30-31 (citing attach. A, Robert Pierce Aff. ¶¶ 8-9); ISO-NE Initial Comments at 40-41; ITC Initial Comments at 26; Kansas Commission Initial Comments at 19-20; Large Public Power Initial Comments at 32-33; MISO Initial Comments at 58; MISO TOs Initial Comments at 24; New York TOs Initial Comments at 22; Pacific Northwest Utilities Initial Comments at 15-16; SERTP Sponsors Initial Comments at 36-37; Southern Initial Comments at 35, Ex. 2, Daryl C. McGee at ¶ 16; US Chamber of Commerce Initial Comments at 9.

²⁵⁷⁷ Data on annual averages of windspeeds at 10 meters above the ground is published by NREL in the form of both maps and tabular data. See NREL, Wind Resource Maps and Data, https://www.nrel.gov/gis/wind-resource-maps.html. As another example, data on monthly prevailing wind direction is published by the U.S. Department of Agriculture for various cities in all U.S. states in the form of graphical “wind roses.” See U.S. Dep't. of Agric., National. Weather and Climate Center, https://www.wcc.nrcs.usda.gov/ftpref/downloads/climate/windrose/.

²⁵⁷⁸ See, e.g., NREL, Wind Resource Maps and Data, https://www.nrel.gov/gis/wind-resource-maps.html; U.S. Dep't of Agric., National Weather and Climate Center, https://www.wcc.nrcs.usda.gov/ftpref/downloads/climate/windrose/.

1209. In response to arguments that the Commission should favor transmission provider flexibility with respect to consideration of alternative transmission technologies,²⁵⁷⁹ we note that the reforms adopted in this final order provide transmission providers with an appropriate amount of flexibility and do not require the selection of any particular enumerated alternative transmission technology to address any particular transmission need. As previously discussed, this requirement will ensure that transmission providers more consistently consider the costs and benefits associated with incorporating the enumerated alternative transmission technologies into regional transmission facilities. However, we recognize that transmission providers must also continue to follow Good Utility Practice when planning, evaluating, selecting, constructing, operating, and maintaining transmission facilities.

²⁵⁷⁹ Avangrid Initial Comments at 31; Clean Energy Buyers Initial Comments at 25; Eversource Initial Comments at 27; Georgia Commission Initial Comments at 7-8; Idaho Power Initial Comments at 9; New York TOs Initial Comments at 23; OMS Initial Comments at 9; PPL Initial Comments at 23.

1210. Moreover, we decline to mandate further details on how transmission providers should evaluate the enumerated list of alternative transmission technologies as more efficient or cost-effective solutions to transmission needs, beyond the requirements adopted in this final order. Thus, in response to comments from Smart Wires and WATT Coalition proposing that the Commission mandate either consideration or deployment of advanced power flow control devices in specific situations,²⁵⁸⁰ we find that transmission providers are the appropriate entity to identify, evaluate, and select specific solutions to specific transmission needs.²⁵⁸¹

²⁵⁸⁰ Smart Wires Initial Comments at 1, 3-5; WATT Coalition Initial Comments at 3-4.

²⁵⁸¹ See Order No. 1000, 136 FERC ¶ 61,051 at P 153 (noting that transmission providers retain the ultimate responsibility for transmission planning). As Entergy and Exelon attest, advanced power flow control devices are already considered in some transmission planning processes. See Entergy Initial Comments at 29; Exelon Initial Comments at 23.

1211. In response to commenters urging the Commission to wait for transmission providers to comply with Order No. 881 before implementing the NOPR proposal,²⁵⁸² such concerns are unpersuasive. Public utility transmission providers subject to Order No. 881 are required to implement these requirements by July 12, 2025.²⁵⁸³ As the Compliance Procedures section of the final order states, the date that transmission providers are required to begin considering the enumerated alternative transmission technologies will be the effective date of the applicable tariff provisions submitted to comply with this final order requirement. The final order also states that transmission providers must submit their compliance filings within ten months of the effective date of this final order, which is 60 days from the date of publication in the Federal Register. Moreover, even if the compliance submission deadline falls shortly before Order No. 881's implementation deadline, the operative date here is the date that the tariff revisions proposed in a transmission provider's compliance filing to this final order become effective, which is the effective date requested by the submitting transmission provider and accepted by the Commission.²⁵⁸⁴ Consequently, the transmission provider would not need to implement this final order requirement prior to the implementation of Order No. 881 on July 12, 2025 unless it requests, and the Commission accepts, an earlier effective date for its tariff revisions.

²⁵⁸² ATC Reply Comments at 4-5; Dominion Initial Comments at 40; Large Public Power Initial Comments at 5, 32-33; MISO TOs Initial Comments at 23-24.

²⁵⁸³ See MATL LLP, 185 FERC ¶ 61,028, at P 10 (2023) (stating that July 12, 2025 is the implementation date of Order No. 881(citing Order No. 881, 177 FERC ¶ 61,179 at P 361)).

²⁵⁸⁴ See infra Compliance Procedures section.

1212. Moreover, we find that concerns raised by commenters with respect to the interactions between the requirements that we establish in this final order and Order No. 881 to be speculative. We believe that the requirements to consider the enumerated alternative transmission technologies are separate from (but complementary to) the Commission's requirements in Order No. 881. In Order No. 881, as most relevant here, the Commission required the use of more accurate transmission line ratings using up-to-date forecasts of ambient air temperatures in transmission line ratings. By contrast, regarding the requirement to consider dynamic line ratings in this final order, transmission providers must consider the benefits associated with additional up-to-date transmission line rating input assumptions, specifically wind speed and direction and solar heating intensity.

1213. We disagree with concerns that any mandate to consider dynamic line ratings in this proceeding might complicate the dynamic line ratings notice of inquiry (NOI) proceeding,²⁵⁸⁵ or that a mandate to consider dynamic line ratings in this proceeding ignores the record, and the technical challenges identified in, the dynamic line ratings NOI proceeding.²⁵⁸⁶ We find such concerns unpersuasive. Any potential future Commission action in the dynamic line ratings NOI proceeding remains hypothetical. Moreover, we expect transmission providers to consider both the benefits of dynamic line rating implementation and the challenges and costs associated with dynamic line rating implementation as part of their consideration of the technology in Long-Term Regional Transmission Planning and their existing regional transmission planning processes.

²⁵⁸⁵ MISO TOs Initial Comments at 23-24.

²⁵⁸⁶ Large Public Power Initial Comments at 32.

1214. In response to requests for additional transparency,²⁵⁸⁷ we also adopt the NOPR proposal to expand the existing requirement established in Order No. 1000 for transmission providers' evaluation processes to culminate in a determination that is sufficiently detailed for stakeholders to understand why a particular transmission facility was selected or not selected. Specifically, we adopt the NOPR proposal to require that the determination include an explanation that is sufficiently detailed for stakeholders to understand why dynamic line ratings, advanced power flow control devices, advanced conductors, and/or transmission switching were or were not incorporated into selected regional transmission facilities.

²⁵⁸⁷ Certain TDUs Reply Comments at 8-9; DC and MD Offices of People's Counsel Initial Comments at 36; ENGIE Initial Comments at 6; PIOs Initial Comments at 22.

1215. With regard to the Commission's request for comment on whether to require non-RTO/ISO transmission planning regions to update their energy management systems or make other similar changes if dynamic line ratings are selected as a more efficient or cost-effective regional transmission facility, we require transmission providers to update their energy management systems, if needed to implement dynamic line ratings or any of the alternative transmission technologies. We note that some transmission providers in non-RTO/ISO transmission planning regions may already be able to implement the alternative transmission technologies, and, as a result of the Commission's Ambient-Adjusted Rating requirements in Order No. 881,²⁵⁸⁸ may have already updated their energy management systems, and therefore may not need further updates to their energy management systems. However, if a transmission provider must upgrade its energy management systems to implement any of the alternative transmission technologies, then consistent with other requirements in this final order, we require transmission providers to consider any possible energy management system upgrade costs needed to implement the selected alternative transmission technologies as part of their broader consideration of whether transmission facilities that incorporate alternative transmission technologies are more efficient or cost-effective regional transmission solutions. We further reiterate that transmission providers must provide an explanation that is sufficiently detailed for stakeholders to understand why any of the enumerated alternative transmission technologies were, or were not, incorporated into transmission facilities selected in the regional transmission plan for purposes of cost allocation. Moreover, we clarify that this explanation must be sufficiently clear to demonstrate whether the transmission provider did not select transmission facilities that incorporate any of the enumerated alternative transmission technologies, in part or primarily, due to concerns over the costs of upgrading energy management systems.

²⁵⁸⁸ Order No. 881, 177 FERC ¶ 61,179 at P 84.

1216. Finally, we find that WATT Coalition's request to consider incentives for deploying alternative transmission technologies is outside the scope of this proceeding.

B. Specific Alternative Transmission Technologies

1. NOPR Proposal

1217. The Commission sought comment on whether there are other transmission technologies serving a transmission function that should be considered in regional transmission planning and cost allocation processes. The following section discusses comments on specific alternative transmission technologies that transmission providers are required to consider pursuant to the requirements of this final order.

2. Comments on Specific Technologies

1218. AEE notes that dynamic line ratings implementation will increase capacity and provide significant benefits to customers.²⁵⁸⁹ Michigan State Entities state that dynamic line ratings hold tremendous value for states like Michigan with cold, cloudy winters, during which there is a greater reliance on transmission to move distant wind generation.²⁵⁹⁰

²⁵⁸⁹ AEE Reply Comments at 29 (citing US DOE, Dynamic Line Ratings Report to Congress 2019 26 (June 2022), https://www.energy.gov/sites/prod/files/2019/08/f66/Congressional_DLR_Report_June2019_final_508_0.pdf).

²⁵⁹⁰ Michigan State Entities Initial Comments at 10.

1219. AEE states that dynamic line ratings and similar technologies are so useful because they improve predictability.²⁵⁹¹ AEE further contends that, in the longer-term, changing conditions will necessitate greater transmission deployment and the need for more transmission capacity, but without considering complementary technologies, the transmission buildout may be less efficient.²⁵⁹²

²⁵⁹¹ AEE Reply Comments at 30 (citing MISO Initial Comments at 57-58).

²⁵⁹² Id.

1220. Hannon Armstrong contends that ERCOT's experience with dynamic line ratings since 2005, as well as data from Oncor from 2011 to 2013, demonstrates that this technology can provide significant savings through reduced congestion costs, allow for granular congestion management, and furnish congestion data. According to Hannon Armstrong, real-time dynamic ratings and reliability analysis improve transmission system operation and planning, provide opportunities for congestion mitigation, and could justify the cancellation of planned transmission upgrades. Hannon Armstrong concludes that dynamic line ratings can promote just and reasonable rates without compromising reliability.²⁵⁹³

²⁵⁹³ Hannon Armstrong Reply Comments at 2.

1221. As mentioned above, some commenters warn the Commission of potential reliability and operational impacts of the widespread use of dynamic line ratings.²⁵⁹⁴ Entergy explains that it has experienced significantly different weather readings at nearby weather sensors and cautions that the 2003 blackout was partially caused by overestimating the wind in transmission line ratings.²⁵⁹⁵

²⁵⁹⁴ Duke Initial Comments at 31-32 (citing attach. A, Robert Pierce Aff. ¶ 11); Entergy Initial Comments at 27-28; MISO Initial Comments at 59-60.

²⁵⁹⁵ Entergy Initial Comments at 27-28 (citing U.S. Canada Power System Outage Task Force, Final Report on the August 14, 2003 Blackout in the United States and Canada: Causes and Recommendations 58 (Apr. 2004)).

1222. Some commenters that oppose the use of dynamic line ratings in transmission planning raise concerns about the reliability risks presented by dynamic line ratings.²⁵⁹⁶ PJM argues that dynamic line ratings are inappropriate for addressing reliability needs and may introduce operational risk because, for example, forecasted wind might not materialize and the actual real-time ratings would be lower than forecasted.²⁵⁹⁷ Southern argues that the assumption of dynamic line ratings leading to additional capacity will likely result in reduced system expansion, which could cause reliability problems in the long run.²⁵⁹⁸ Large Public Power and LADWP maintain that there is meaningful cybersecurity risk associated with the communications equipment needed to support dynamic line ratings.²⁵⁹⁹ However, WATT Coalition states that both traditional transmission solutions and grid enhancing technologies can result in problems, so the impact of solutions should be evaluated carefully to ensure that a solution to one problem does not create another.²⁶⁰⁰

²⁵⁹⁶ ATC Initial Comments at 7, 10; Duke Initial Comments at 31; Exelon Initial Comments at 22; Indicated PJM TOs Initial Comments at 19; LADWP Initial Comments at 5; NRECA Initial Comments at 53; PJM Initial Comments at 108-109; Southern Initial Comments at 35 (citing Ex. 2, Daryl C. McGee at ¶ 17); SERTP Sponsors Initial Comments at 36-37.

²⁵⁹⁷ PJM Initial Comments at 108-109.

²⁵⁹⁸ Southern Initial Comments at 35, Ex. 2, Daryl McGee at ¶ 17.

²⁵⁹⁹ LADWP Initial Comments at 5; Large Public Power Initial Comments at 35.

²⁶⁰⁰ WATT Coalition Reply Comments at 4-5.

1223. Some commenters argue that dynamic line ratings are operational in nature and do not belong in the transmission planning process.²⁶⁰¹ Dominion and Exelon state that a transmission provider must plan and build its system for worst case scenarios, which limits the usefulness of dynamic line ratings in transmission planning.²⁶⁰² ITC asserts that transmission systems must be planned based on actual transfer capacity under the worst-case scenario, and not on contingent, variable capacity of the type that dynamic line ratings provide.²⁶⁰³ EEI and Entergy note that the inherent variability and unpredictability associated with wind speed, solar heating intensity, and transmission line tension make dynamic line ratings inappropriate for addressing longer-term system planning objectives.²⁶⁰⁴ MISO adds that for transmission planning horizons of five to 20 years or more into the future, it is impossible to predict the real-time conditions on which dynamic line ratings are based.²⁶⁰⁵ NRECA explains that dynamic line ratings are not a substitute for an upgraded or new transmission facility.²⁶⁰⁶

²⁶⁰¹ AEP Initial Comments at 33; Dominion Initial Comments at 40; Duke Initial Comments at 5; EEI Initial Comments at 21-22; Entergy Initial Comments at 5-6; Exelon Initial Comments at 22; Indicated PJM TOs Initial Comments at 19; ISO-NE Initial Comments at 40-41; ITC Initial Comments at 6, 26-28; Louisiana Commission Initial Comments at 14 (citing Potomac Economics Initial Comments at 2); MISO Initial Comments at 57; MISO TOs Initial Comments at 23; NRECA Initial Comments at 52; Pacific Northwest Utilities Initial Comments at 15-16; PJM Initial Comments at 8, 106, 108; PPL Initial Comments at 22; Southern Initial Comments at 35; SERTP Sponsors Initial Comments at 36-37; US Chamber of Commerce Initial Comments at 9.

²⁶⁰² Dominion Initial Comments at 40; Exelon Initial Comments at 22.

²⁶⁰³ ITC Initial Comments at 26.

²⁶⁰⁴ EEI Initial Comments at 21; Entergy Initial Comments at 27.

²⁶⁰⁵ MISO Initial Comments at 57-58.

²⁶⁰⁶ NRECA Initial Comments at 52.

1224. Many opposing commenters argue that the benefits of dynamic line ratings are too speculative.²⁶⁰⁷ MISO states that dynamic line ratings may not always produce the benefits anticipated, explaining that static ratings are typically based on conservative wind speeds and best-case wind direction, so the assumptions used to develop static ratings are not always worst-case.²⁶⁰⁸ ISO-NE asserts that, for example, under summer peak load conditions, the dynamic line rating would be the same as that assumed in the planning study.²⁶⁰⁹ Southern cautions that including dynamic line ratings in transmission planning would likely assume additional capacity that may not materialize in real time, increasing congestion.²⁶¹⁰ Large Public Power and MISO TOs argue that dynamic line ratings do not provide sufficient incremental benefits over Ambient Adjusted Ratings to justify the additional expense.²⁶¹¹

²⁶⁰⁷ ATC Initial Comments at 10; Duke Initial Comments at 30 (citing attach. A, Robert Pierce Aff. ¶ 8); ISO-NE Initial Comments at 40-41; ITC Initial Comments at 26; Kansas Commission Initial Comments at 19-20; Large Public Power Initial Comments at 32-33; MISO Initial Comments at 58; MISO TOs Initial Comments at 24; New York TOs Initial Comments at 22; Pacific Northwest Utilities Initial Comments at 15-16; SERTP Sponsors Initial Comments at 36-37; Southern Initial Comments at 35, Ex. 2, Daryl C. McGee at ¶¶ 16-17; US Chamber of Commerce Initial Comments at 9.

²⁶⁰⁸ MISO Initial Comments at 58.

²⁶⁰⁹ ISO-NE Initial Comments at 40-41.

²⁶¹⁰ Southern Initial Comments at 35, Ex. 2, Daryl C. McGee at ¶¶ 16-17.

²⁶¹¹ Large Public Power Initial Comments at 32-33; MISO TOs Initial Comments at 24.

1225. Some commenters argue that advanced power flow control devices are appropriate technologies to consider in transmission planning, contrasting them with dynamic line ratings.²⁶¹² Southern states that it generally supports consideration of advanced power flow control devices, and Ameren argues that they may be appropriate in certain circumstances for regional transmission planning.²⁶¹³ Additionally, while WATT Coalition agrees that conductor-mounted advanced power flow control devices are limited in impact, it contends that today's ground-mounted versions can significantly increase transfer capacity and integration of renewables.²⁶¹⁴

²⁶¹² EEI Initial Comments at 20-21; Entergy Initial Comments at 29; Exelon Initial Comments at 23-24.

²⁶¹³ Ameren Initial Comments at 24-25; Southern Initial Comments, Ex. 2, Daryl C. McGee at ¶ 15.

²⁶¹⁴ WATT Coalition Reply Comments at 4.

1226. Industrial Customers assert that the Commission should compel the use of advanced power flow control devices because they are instrumental to ensuring that transmission lines are fully used to their safest and most efficient potential.²⁶¹⁵ Industrial Customers further argue that the use of advanced power flow control devices will allow for the optimization of transmission lines under various weather conditions.²⁶¹⁶ Smart Wires states that advanced power flow control devices can provide a more affordable means of servicing the type of load growth driving Long-Term Regional Transmission Facilities.²⁶¹⁷ In addition, Smart Wires argues that several system studies have verified that advanced power flow control devices avoid sub-synchronous resonance events on long radial transmission lines, which can result in extensive damage.²⁶¹⁸

²⁶¹⁵ Industrial Customers Reply Comments at 13-14.

²⁶¹⁶ Id. at 18-19 (citing PPL, Initial Comments, Docket No. AD22-5-000, at 3 (filed Apr. 25, 2022)).

²⁶¹⁷ Smart Wires Initial Comments at 3-4.

²⁶¹⁸ Id. at 1, 4.

1227. In response to the administrative burden of considering advanced power flow control devices specifically, WATT Coalition states that it provides guidance and evidence of successful modeling schemes for such devices.²⁶¹⁹ WATT Coalition argues that advanced power flow control devices are a valuable solution to limitations of power system studies because they can be adjusted by grid operators for unforeseen grid challenges.²⁶²⁰ WATT Coalition adds that advanced power flow control devices have a granular dispatchability that can also support real-time operational needs, which may differ from those identified in the transmission planning timeframe.²⁶²¹

²⁶¹⁹ WATT Coalition Reply Comments at 3 (citing app. C).

²⁶²⁰ Id. at 4.

²⁶²¹ Id.

1228. Similar to dynamic line ratings, many commenters argue that advanced power flow control devices are not appropriate in the transmission planning context and are more appropriate for operational timeframes.²⁶²² Duke and MISO caution against widespread deployment of advanced power flow control devices.²⁶²³ Duke argues that they should be applied judiciously, and that increased deployment creates a greater risk of wide area cascading events by increasing the probability of the system being in a previously unanalyzed state.²⁶²⁴ MISO states that, while advanced power flow control devices work best to address specific isolated issues, it is not feasible to coordinate the operation and deployment of these devices en masse, either manually or automatically. According to MISO, deployment of these devices could create other issues, and thus their operation and deployment must be managed on a holistic basis.²⁶²⁵ MISO further states that advanced power flow control devices could result in continued cascading issues across the system because of the potential widespread impact of adjusting line impedances that may get pushed to other facilities.²⁶²⁶

²⁶²² AEP Initial Comments at 6; Indicated PJM TOs Initial Comments at 19; ITC Initial Comments at 6, 26-28; Louisiana Commission Initial Comments at 14 (citing Potomac Economics Initial Comments at 2); PJM Initial Comments at 8, 106, 108; PPL Initial Comments at 22; SERTP Sponsors Initial Comments at 36-37.

²⁶²³ Duke Initial Comments at 31-32; MISO Initial Comments at 59-60.

²⁶²⁴ Duke Initial Comments at 31-32.

²⁶²⁵ MISO Initial Comments at 59.

²⁶²⁶ Id. at 60.

1229. A number of commenters assert that the Commission should expand the list of alternative transmission technologies that must be considered.²⁶²⁷ Several commenters suggest that the Commission should require transmission providers to consider specific additional technologies in Long-Term Regional Transmission Planning, including storage that performs a transmission function, advanced conductors, transmission switching, topology optimization, and dynamic reactive power devices.²⁶²⁸ Some Federal legislators agree, offering support for a requirement to consider energy storage, reconductoring using advanced conductors,²⁶²⁹ and topology optimization.²⁶³⁰ AEE argues that expanding the list of technologies that must be considered in transmission planning would fulfill the Commission's obligations under the FPA to encourage the adoption of advanced transmission technologies.²⁶³¹

²⁶²⁷ ACEG Initial Comments at 31; ACORE Initial Comments at 16; ACORE Supplemental Comments at 1; AEE Reply Comments at 27-28; Bekaert Supplemental Comments at 1; Breakthrough Energy Initial Comments at 16; CARE Coalition Initial Comments at 2-3; CARE Coalition Reply Comments at 5; Certain TDUs Reply Comments at 8-9; City of New York Reply Comments at 4 (citing PIOs Initial Comments at 84); Clean Energy Associations Initial Comments at 27-28; Clean Energy Associations Reply Comments at 7; CTC Global Initial Comments at 14-15; Industrial Customers Reply Comments at 11; Invenergy Initial Comments at 16; Vermont State Entities Initial Comments at 9.

²⁶²⁸ Dynamic reactive power is produced from equipment that can quickly change the Mvar level independent of the voltage level. Thus, the equipment can increase its reactive power production level when voltage drops and prevent a voltage collapse. Static VAR compensators, synchronous condensers, and generators provide dynamic reactive power. FERC, Staff Report, Principles for Efficient and Reliable Reactive Power Supply and Consumption 7 (Feb. 4, 2005), https://www.ferc.gov/sites/default/files/2020-04/20050310144430-02-04-05-reactive-power.pdf.

²⁶²⁹ Environmental Legislators Caucus Supplemental Comments at 2; Senator Schumer Supplemental Comments at 2.

²⁶³⁰ Environmental Legislators Caucus Supplemental Comments at 2.

²⁶³¹ AEE Reply Comments at 27-28, 34 (citing 42 U.S.C. 16422(b)).

1230. Several commenters urge the Commission to require that storage be considered.²⁶³² CARE Coalition states that utilities can use storage to defer investments as supply and demand patterns change, allowing them to avoid all-in, 50-year investments in favor of shorter-term flexibility.²⁶³³ CARE Coalition cites a number of ways that storage can improve transmission, including providing voltage support in a transmission-constrained zone, ensuring reliability while repairs are executed, reducing peak loads, increasing capacity on congested lines, directing power flow away from lower capacity transmission lines, and controlling the timing of power flows to remain under thresholds.²⁶³⁴

²⁶³² Advanced Energy Buyers Initial Comments at 4; AEP Initial Comments at 33-34; CAISO Initial Comments at 38; California Commission Initial Comments at 38-40 (citing Jennifer Chen & Devin Hartmann, Transmission Reform Strategy From A Customer Perspective: Optimizing Net Benefits And Procedural Vehicles R Street Policy Study 7 (May 2022), https://www.rstreet.org/wp-content/uploads/2022/05/RSTREET257.pdf); CARE Coalition Initial Comments at 2-3; Clean Energy Associations Initial Comments at 30-31; Conservative Energy Network Supplemental Comments at 1-2; Conservatives for Clean Energy—Florida Supplemental Comments at 1-2; Conservatives for Clean Energy—South Carolina Supplemental Comments at 1; DC and MD Offices of People's Counsel Initial Comments at 36-37; Illinois Commission Initial Comments at 12; Industrial Customers Reply Comments at 11; Joint Consumer Advocates Initial Comments at 13; Michigan Conservative Energy Forum Supplemental Comments at 1; NARUC Initial Comments at 36; National Grid Initial Comments at 3-4; Ohio Conservative Energy Forum Supplemental Comments at 1; OMS Initial Comments at 9; Western Way Colorado Supplemental Comments at 2; Western Way Nevada Supplemental Comments at 2; Western Way Utah Supplemental Comments at 2; Wisconsin Conservative Energy Forum Supplemental Comments at 1.

²⁶³³ CARE Coalition Initial Comments at 42-43.

²⁶³⁴ Id. at 42.

1231. AEP states that the Commission should require better consideration of storage, noting that the technology has advanced significantly in the past several years, yet is still not being deployed as a transmission alternative. AEP cites two reasons for this: (1) despite the multiple uses and benefits of storage, it is currently categorized as only one of the following—transmission, generation, or distribution, and (2) there is no traditional approach that assesses the viability of storage proposals to solve reliability problems. AEP states that, to solve these problems, the Commission should provide more certainty around these questions, including how to schedule, dispatch, and charge storage, as well as guidance on how to assess the value of storage beyond reliability if, for example, the resource is only needed during certain times of year.²⁶³⁵

²⁶³⁵ AEP Initial Comments at 33-34.

1232. Some commenters suggest that the Commission should require consideration of advanced conductors in Long-Term Regional Transmission Planning.²⁶³⁶ CTC Global asserts that advanced conductors should be required to be considered because of their ease of installation onto existing structures, cost savings, lower line sag, and power flow increase.²⁶³⁷ CTC Global adds that even in the case of a total rebuild, advanced conductors can generate more capacity, efficiency, resilience, and reliability than rebuilds using standard conductors.²⁶³⁸ VEIR notes that if the final order requires the consideration of advanced conductors, the Commission should define advanced conductors to include all advanced conductor technologies, including superconductors.²⁶³⁹ Bekaert states that the definition of advanced conductors should extend beyond carbon fiber core technologies to also include steel core technologies, which it contends can raise ampacity, reduce line losses, and withstand extreme weather conditions, all while offering a cost-effective solution.²⁶⁴⁰

²⁶³⁶ ACEG Initial Comments at 31; ACORE Initial Comments at 16; Breakthrough Energy Initial Comments at 15-19; CTC Global Initial Comments at 15-16; DC and MD Offices of People's Counsel Initial Comments at 36-37; Indicated US Senators and Representatives Initial Comments at 2; NASEO Initial Comments at 6; Prysmian Initial Comments at 1; VEIR Initial Comments at 5-6.

²⁶³⁷ CTC Global Initial Comments at 14-15.

²⁶³⁸ Id. at 15.

²⁶³⁹ VEIR Reply Comments at 5.

²⁶⁴⁰ Bekaert Supplemental Comments at 1-2.

1233. Some commenters suggest that the Commission should require consideration of transmission switching in Long-Term Regional Transmission Planning.²⁶⁴¹ For example, Illinois Commission states that line switching is a tool to make better use of the extant transmission system.²⁶⁴² NASEO states that the use of alternative transmission technologies, including transmission switching, is increasing.²⁶⁴³ However, MISO argues that grid enhancing technologies that introduce automatic topology changes are not appropriate for consideration over transmission planning horizons of 20 years or more because they would be considered remedial action schemes, which MISO and its transmission owners have attempted to reduce as a matter of Good Utility Practice.²⁶⁴⁴

²⁶⁴¹ Illinois Commission Initial Comments at 12; NASEO Initial Comments at 6; Potomac Economics Initial Comments at 5.

²⁶⁴² Illinois Commission Initial Comments at 12 (citing Pablo A. Ruiz, The Brattle Group, Transmission Topology Optimization (Aug. 21, 2017) https://www.brattle.com/wp-content/uploads/2017/10/7204_transmission_topology_optimization.pdf (Brattle Group Aug. 2017 Report)).

²⁶⁴³ NASEO Initial Comments at 6.

²⁶⁴⁴ MISO Initial Comments at 60.

1234. A number of commenters suggest that the Commission should require consideration of topology optimization in Long-Term Regional Transmission Planning.²⁶⁴⁵ Potomac Economics states that network optimization can allow a transmission operator to circumvent a limiting transmission facility and substantially mitigate the associated congestion, averting transmission upgrades that could prove wasteful and inefficient.²⁶⁴⁶ With respect to topology optimization, WATT Coalition recommends that the information provided in the evaluation process should include modeling assumptions, contingency analysis results, asset age and condition, environmental and footprint constraints, etc.²⁶⁴⁷ In contrast, SPP states that technologies that optimize transmission system operation should be considered short-term solutions and not a replacement for long-term transmission capacity.²⁶⁴⁸

²⁶⁴⁵ ACORE Initial Comments at 16; CARE Coalition Initial Comments at 2-3; ENGIE Initial Comments at 5-6; Illinois Commission Initial Comments at 11-13 (citing Brattle Group Aug. 2017 Report); Indicated US Senators and Representatives Initial Comments at 2; Potomac Economics Initial Comments at 5; R Street Initial Comments at 4; Tabors Caramanis Rudkevich Initial Comments at 5; WATT Coalition Initial Comments at 6.

²⁶⁴⁶ Potomac Economics Initial Comments at 5.

²⁶⁴⁷ WATT Coalition Initial Comments at 6.

²⁶⁴⁸ SPP Initial Comments at 26.

1235. ITC argues that the Commission should encourage transmission providers to modernize transmission planning criteria to better consider dynamic reactive power devices such as static VAR compensators, static synchronous compensators, and unified power flower controllers. ITC asserts that such technologies provide faster response times to changes in voltage and power factor, relative to capacitor banks and mechanically switched compensation schemes.²⁶⁴⁹

²⁶⁴⁹ ITC Initial Comments at 28.

1236. Industrial Customers and Ohio Consumers suggest that the Commission should require the consideration of distributed energy resources in Long-Term Regional Transmission Planning.²⁶⁵⁰ Industrial Customers contend that demand response and load-limiting devices should be considered as a way of optimizing the current transmission system, claiming that they are less costly than transmission expansions.²⁶⁵¹ QCo states that the Commission should consider the use of the thermal mass of major buildings as a low-cost method to store energy and provide flexibility to the grid.²⁶⁵²

²⁶⁵⁰ Industrial Customers Initial Comments at 35; Ohio Consumers Initial Comments at 34.

²⁶⁵¹ Industrial Customers Reply Comments at 11.

²⁶⁵² QCo Initial Comments at 1-3.

1237. ENGIE asserts that the Commission should require consideration of dynamic transformer rating technology in Long-Term Regional Transmission Planning.²⁶⁵³

²⁶⁵³ ENGIE Initial Comments at 5-6.

1238. Exelon is concerned that making a list of technologies to consider in transmission planning will result in a “time-consuming check-the-box exercise,” increasing costs and creating litigation opportunities.²⁶⁵⁴

²⁶⁵⁴ Exelon Initial Comments at 23-24.

3. Commission Determination

1239. As stated above, we adopt the NOPR proposal, with modification, to require transmission providers in each transmission planning region to consider dynamic line ratings and advanced power flow control devices in Long-Term Regional Transmission Planning and existing Order No. 1000 regional transmission planning processes.

1240. In response to comments that dynamic line ratings are operational in nature and are inappropriate in transmission planning, we continue to believe that there is enough real-world operational experience with dynamic line ratings for transmission providers to be able to reasonably project their likely operations and, as such, the benefits that regional transmission facilities that incorporate dynamic line ratings can provide over the transmission planning horizon.²⁶⁵⁵ Dynamic line ratings have the ability to increase transmission line ratings, and thus permit more economic energy transfers in most intervals,²⁶⁵⁶ which, in turn, could result in benefits (including, but not limited to, production cost savings, reduced congestion due to fewer transmission outages resulting from improved situational awareness, and capacity cost benefits from reduced peak energy losses) that we require transmission providers to evaluate in Long-Term Regional Transmission Planning,²⁶⁵⁷ and in their existing regional transmission planning processes.

²⁶⁵⁵ NOPR, 179 FERC ¶ 61,028 at P 276.

²⁶⁵⁶ Hannon Armstrong Reply Comments at 1-3.

²⁶⁵⁷ See supra Required Benefits section.

1241. We acknowledge commenter concerns about the potential effects that the widespread use of dynamic line ratings or advanced power flow control devices could have on reliability.²⁶⁵⁸ But while these technologies cannot solve all reliability needs, as noted above, the record here demonstrates that alternative transmission technologies are in certain circumstances capable of enhancing reliability and providing additional capacity.²⁶⁵⁹ We recognize that, either dynamic line ratings or advanced power flow control devices, on their own, may be unlikely to resolve certain reliability needs that are assessed based on worst case conditions.²⁶⁶⁰ We also reiterate that nothing in this final order changes transmission providers' obligations to conduct transmission planning in a manner that ensures the long-term reliability of the bulk electric system.²⁶⁶¹ However, we find that dynamic line ratings and advanced power flow control devices can also confer reliability benefits. For example, in Order No. 881, the Commission found that, by accounting for ambient air temperatures in transmission line ratings, transmission providers can reliably increase power transfer capability, which results in significant reliability benefits.²⁶⁶² Such reliability benefits also apply to dynamic line ratings. Specifically, by accounting for actual wind conditions, dynamic line ratings can also reliably increase transfer capability and thereby provide reliability benefits. Similarly, as Ameren describes, it may be more efficient to use advanced power flow control devices, which can address stability limitations by allowing for greater use of a transmission facility.²⁶⁶³

²⁶⁵⁸ See, e.g., CAISO Initial Comments at 41-42.

²⁶⁵⁹ See supra P 1206 of this section.

²⁶⁶⁰ For example, as ISO-NE explains, the dynamic line rating may be the same as the rating already assumed in the planning study as transmission providers may need to assume worst case weather inputs to transmission line ratings. ISO-NE Initial Comments at 40-41.

²⁶⁶¹ See, for example, TPL-001-5.1, Transmission System Planning Performance Requirements, which establishes transmission system planning performance requirements within the planning horizon to develop a bulk electric system that will operate reliably over a broad spectrum of system conditions and following a wide range of probable contingencies.

²⁶⁶² Order No. 881, 177 FERC ¶ 61,179 at P 85.

²⁶⁶³ Ameren Initial Comments at 24.

1242. Additionally, Long-Term Regional Transmission Planning evaluates Long-Term Regional Transmission Facilities based on multiple benefits, and some existing regional transmission planning processes focus on economic benefits, while others may consider multiple benefits, including economic benefits. At a minimum, regional transmission solutions incorporating dynamic line ratings are appropriately considered as part of these processes. Given the potentially substantial economic benefits of dynamic line ratings, we find that it is important for transmission providers to consider dynamic line ratings in Long-Term Regional Transmission Planning and their existing regional transmission planning processes so as to ensure that they identify more efficient or cost-effective regional transmission facilities for selection.

1243. We also disagree with commenters that argue that advanced power flow control devices are not appropriate in the transmission planning context and are more appropriate for operational timeframes. We find that the potential benefits of using advanced power flow control devices are sufficient to merit their consideration in Long-Term Regional Transmission Planning and existing regional transmission planning processes. For example, as Ameren states, where a transmission line is stability-limited from carrying more power, the use of advanced power flow controls may address the limitation and allow greater use of the line. Ameren also notes that advanced power flow controls may be beneficial in a situation where a transmission line that needs to be upgraded traverses sensitive environmental areas.²⁶⁶⁴ Moreover, as Entergy and Exelon attest, advanced power flow control devices are already considered in some transmission planning processes.²⁶⁶⁵ As discussed above, we modify the NOPR proposal to add two additional alternative transmission technologies to the list of enumerated alternative transmission technologies required to be considered in Long-Term Regional Transmission Planning and existing regional transmission planning: advanced conductors and transmission switching. We find that advanced conductors may greatly increase the capacity of transmission facilities, and thus a new regional transmission facility or upgrade to an existing transmission facility that incorporates advanced conductors may be a more efficient or cost-effective alternative than a proposed regional transmission facility that does not incorporate such technologies. Consistent with Order No. 2023, we note that advanced conductors can increase transmission line ratings, providing more “headroom” on the system to address normal and contingency conditions.²⁶⁶⁶ We clarify that the definition of advanced conductors that we adopt in this final order constitutes a range of permissible present and future technologies, and is defined relative to conventional aluminum conductor steel reinforced conductors. Therefore, advanced conductors include, but are not limited to, superconducting cables, advanced composite conductors, advanced steel cores, high temperature low-sag conductors, fiber optic temperature sensing conductors, and advanced overhead conductors. We find that such advanced conductors can result in lower line sag and increased power flow and can be installed on existing transmission structures, thereby offering ease of installation.²⁶⁶⁷

²⁶⁶⁴ Id.

²⁶⁶⁵ Entergy Initial Comments at 29; Exelon Initial Comments at 23.

²⁶⁶⁶ Order No. 2023, 184 FERC ¶ 61,054 at P 1597.

²⁶⁶⁷ CTC Global Initial Comments at 14-15.

1244. We agree with commenters that suggest that transmission switching should be added to the list of alternative transmission technologies that must be considered in Long-Term Regional Transmission Planning and existing regional transmission planning processes.²⁶⁶⁸ We clarify that, in this final order, we define transmission switching as the opening or closing of transmission elements to safely route power and direct flows away from congestion, based on pre-existing forward analysis. Transmission switching can be used to route energy around areas with high congestion and improve the overall transfer capability of the system. In doing so, transmission switching may provide additional economic or reliability benefits, which could therefore render a transmission facility that uses transmission switching a more efficient or cost-effective alternative than a regional transmission facility that does not use transmission switching. In response to MISO's concern that automatic topology changes are not appropriate for consideration over transmission planning horizons of 20 years or more because they would be considered remedial action schemes,²⁶⁶⁹ we note that there are appropriate applications for transmission switching that offer the potential to be a more efficient or cost-effective alternative than a proposed regional transmission facility that does not use one of the enumerated alternative transmission technologies. For example, the record indicates that network optimization can allow a transmission operator to circumvent a limiting transmission facility and substantially mitigate the associated congestion, averting transmission upgrades that could prove wasteful and inefficient.²⁶⁷⁰

²⁶⁶⁸ Illinois Commission Initial Comments at 12; NASEO Initial Comments at 6; Potomac Economics Initial Comments at 5.

²⁶⁶⁹ MISO Initial Comments at 60.

²⁶⁷⁰ Potomac Economics Initial Comments at 5.

1245. We decline to add storage that performs a transmission function to the list of enumerated alternative transmission technologies. The Commission has determined that the evaluation of whether an electric storage resource performs a transmission function requires a case-by-case analysis of either how a particular electric storage resource would be operated or the requirements set forth in an OATT governing selection of such electric storage resources.²⁶⁷¹ In the context of regional transmission planning, we continue to find that the evaluation of whether an electric storage resource performs a transmission function requires a case-by-case analysis, and therefore decline to generically require the consideration of storage that performs a transmission function in regional transmission planning processes.

²⁶⁷¹ Order No. 2023, 184 FERC ¶ 61,054 at P 1599.

1246. For the following reasons, we also decline to add topology optimization to the list of enumerated alternative transmission technologies because it is technically much more challenging to implement. We clarify that topology optimization is not specific to individual transmission facilities but instead is the act of determining the optimal use of the transmission system, which may involve many different transmission facilities. Additionally, the optimal use of the transmission system may frequently change depending on system conditions throughout the operating day. By contrast, transmission switching focuses on opening or closing transmission elements in pre-determined circumstances based on prior analyses well in advance of the operational time horizon.²⁶⁷² We do not find that it is necessary to require the consideration of topology optimization in regional transmission planning processes currently. While topology optimization software has been used to identify potential system reconfiguration actions that could result in a reduction in real-time congestion, it has not yet been deployed due to computational complexity. Specifically, given the size and complexity of the power grid and the large number of potential optimization solutions, finding optimization solutions in the necessary real-time timelines is extremely difficult and doing so risks poor model performance and lower quality solutions, which, in turn, could adversely impact reliability. While simplifications might be possible, such simplifications risk oversimplifying, which, in turn, could also jeopardize reliability.²⁶⁷³

²⁶⁷² See supra P 1243 of this section on transmission switching. We recognize that there may be overlap between the concepts of transmission switching and topology optimization. As noted below, nothing in this final order precludes transmission providers from considering topology optimization solutions as an alternative transmission technology, if they so choose.

²⁶⁷³ US DOE, Advanced Transmission Technologies 11-15 (Dec. 2020), https://www.energy.gov/oe/articles/advanced-transmission-technologies-report.

1247. Finally, we decline to add further additional alternative transmission technologies suggested by commenters.²⁶⁷⁴ We note that, while commenters express support for the concept of considering additional alternative transmission technologies, in general, we do not believe that the record is sufficient to include these additional technologies on the enumerated list of alternative transmission technologies that transmission providers must consider in Long-Term Regional Transmission Planning and existing regional transmission planning processes at this time. However, we note that nothing in this final order precludes transmission providers from considering other alternative transmission technologies or other potential solutions in their Long-Term Regional Transmission Planning and existing regional transmission planning processes.

²⁶⁷⁴ See supra PP 1235-1237.

VI. Regional Transmission Cost Allocation

A. Cost Allocation for Long-Term Regional Transmission Facilities

1. Cost Allocation Methods for Long-Term Regional Transmission Facilities

a. NOPR Proposal

1248. In the NOPR, the Commission proposed to require transmission providers in each transmission planning region to revise their OATTs to include: (1) a Long-Term Regional Transmission Cost Allocation Method to allocate the costs of Long-Term Regional Transmission Facilities; (2) a State Agreement Process by which one or more Relevant State Entities ²⁶⁷⁵ may voluntarily agree to a cost allocation method; or (3) a combination thereof.²⁶⁷⁶

²⁶⁷⁵ The definition of Relevant State Entities is discussed below. See infra Requirement that Transmission Providers Seek the Agreement of Relevant State Entities Regarding the Cost Allocation Method or Methods for Long-Term Regional Transmission Facilities section.

²⁶⁷⁶ NOPR, 179 FERC ¶ 61,028 at P 302. The Commission explained that, for example, a “combination” approach may entail: (1) providing a Long-Term Regional Transmission Cost Allocation Method for certain types of Long-Term Regional Transmission Facilities and providing a State Agreement Process for others; or (2) providing for cost allocation for a Long-Term Regional Transmission Facility, portfolio, or type of such facilities partially based on a Long-Term Regional Transmission Cost Allocation Method and partially based on funding contributions in accordance with a State Agreement Process. Id. P 302 n.510.

1249. The Commission proposed to define a Long-Term Regional Transmission Cost Allocation Method as an ex ante regional cost allocation method that would be included in each transmission provider's OATT as part of Long-Term Regional Transmission Planning. The developer of a Long-Term Regional Transmission Facility would be entitled to use the Long-Term Regional Transmission Cost Allocation Method if it is the applicable method.²⁶⁷⁷ The Commission proposed to define a State Agreement Process as an ex post cost allocation process that would be included in each transmission provider's OATT as part of Long-Term Regional Transmission Planning, which may apply to an individual Long-Term Regional Transmission Facility or a portfolio of such Facilities grouped together for purposes of cost allocation. After a Long-Term Regional Transmission Facility is selected, the State Agreement Process would be followed to establish a cost allocation method for that facility (if agreement can be reached). If the Commission approves the cost allocation method that results from the State Agreement Process, the developer of the Long-Term Regional Transmission Facility would be entitled to use that cost allocation method if it is the applicable method.²⁶⁷⁸

²⁶⁷⁷ Id. P 302 n.508.

²⁶⁷⁸ Id. P 302 n.509.

1250. The Commission also proposed to apply the cost allocation reforms only to new Long-Term Regional Transmission Facilities. Therefore, these proposed reforms would neither provide grounds for re-litigation of cost allocation decisions for transmission facilities that are selected prior to the effective date of any final order in this proceeding, nor would they apply to the cost allocation methods associated with regional transmission facilities that address shorter-term transmission needs driven by reliability and/or economic considerations.²⁶⁷⁹

²⁶⁷⁹ Id. P 314.

1251. In addition, the Commission stated that, to the extent transmission providers believe that their existing cost allocation approaches comply with the requirements adopted in any final order in this proceeding, including those related to the agreement of Relevant State Entities, they could make such demonstration in their compliance filings in response to any final order.²⁶⁸⁰

²⁶⁸⁰ Id.

b. Comments

i. Interest in the Proposed Cost Allocation Reforms

1252. Some commenters offer general support for the cost allocation reforms proposed in the NOPR.²⁶⁸¹

²⁶⁸¹ E.g., Breakthrough Energy Initial Comments at 6; Business Council for Sustainable Energy Initial Comments at 2; California Democratic Representatives Supplemental Comments at 2; Joint Consumer Advocates Initial Comments at 13; OMS Initial Comments at 9; Pine Gate Initial Comments at 45; WE ACT Initial Comments at 5.

1253. Several commenters indicate support for the proposal to require transmission providers to revise their OATTs to include: (1) a Long-Term Regional Transmission Cost Allocation Method to allocate the costs of Long-Term Regional Transmission Facilities; (2) a State Agreement Process by which one or more Relevant State Entities may voluntarily agree to a cost allocation method; or (3) a combination thereof.²⁶⁸² Clean Energy Buyers state that this proposal will provide certainty in the cost allocation process, lessening disputes that may delay transmission development.²⁶⁸³ ITC suggests that the Commission look to OMS' role in State Agreement Processes as a guide for how other transmission planning regions can foster state participation in Long-Term Regional Transmission Planning.²⁶⁸⁴ AEP asserts that clear rules set in advance provide the regulatory certainty necessary to support large, long-term transmission investments and ensure customers and developers know how the associated costs will be allocated.²⁶⁸⁵

²⁶⁸² Certain TDUs Initial Comments at 2, 7; City of New Orleans Council Initial Comments at 9-10; Entergy Initial Comments at 29-30; Eversource Initial Comments at 29-30; ISO-NE Initial Comments at 37; ITC Initial Comments at 28; Kentucky Commission Chair Chandler Initial Comments at 3 (citing NOPR, 179 FERC ¶ 61,028 at PP 302-303); Michigan Commission Initial Comments at 8; NARUC Initial Comments at 51; NESCOE Initial Comments at 10; New York Commission and NYSERDA Initial Comments at 12-13; New York TOs Initial Comments at 18; North Carolina Commission and Staff Initial Comments at 15-16; NYISO Initial Comments at 48-49; OMS Initial Comments at 10; Pacific Northwest State Agencies Initial Comments at 27; Pattern Energy Initial Comments at 18; PIOs Initial Comments at 64; PJM States Initial Comments at 9-10; Resale Iowa Initial Comments at 2, 12.

²⁶⁸³ Clean Energy Buyers Initial Comments at 26-27.

²⁶⁸⁴ ITC Reply Comments at 28-29.

²⁶⁸⁵ AEP Initial Comments at 35.

1254. New Jersey Commission states that a hybrid method that allocates costs partially ex ante, based on reliability and economic benefits, and partially ex post, through a State Agreement Process/negotiated participant funding approach, could have value, arguing that negotiated cost allocations could reduce litigation and make it easier to construct beneficial transmission facilities.²⁶⁸⁶ SEIA supports a combination of a Long-Term Regional Transmission Cost Allocation Method and a State Agreement Process, asserting that states should be allowed to assume the costs of new transmission facilities to serve their needs.²⁶⁸⁷

²⁶⁸⁶ New Jersey Commission Initial Comments at 17, 25.

²⁶⁸⁷ SEIA Initial Comments at 24.

ii. Requested Clarifications and Concerns Related to the Proposed Cost Allocation Reforms

1255. Some commenters raise concerns and request clarifications on the proposed reforms. For example, BP contends that, in the case of a multi-value project, it is unclear whether only a part of the cost of a transmission project associated with meeting changes in the resource mix and demand will be allocated under a Long-Term Regional Transmission Cost Allocation Method, as opposed to all of the costs.²⁶⁸⁸ NARUC requests that the Commission provide a mechanism for future review of cost allocation methods for Long-Term Regional Transmission Facilities.²⁶⁸⁹

²⁶⁸⁸ BP Initial Comments at 12.

²⁶⁸⁹ NARUC Initial Comments at 49-50.

1256. Other commenters urge flexibility with respect to cost allocation methods and state involvement,²⁶⁹⁰ citing regional differences,²⁶⁹¹ to improve the likelihood of achieving consensus between affected states.²⁶⁹² OMS stresses the need for flexibility with respect to cost allocation methods to realize the NOPR's overall objectives of cost-effective regional transmission expansion.²⁶⁹³ Louisiana Commission, however, asserts that, whichever cost allocation method is adopted, it should not allow a majority to impose costs upon non-consenting states.²⁶⁹⁴

²⁶⁹⁰ See, e.g., Entergy Initial Comments at 29-30; Eversource Initial Comments at 29-30; Idaho Power Initial Comments at 10; NESCOE Reply Comments at 5; Pacific Northwest Utilities Initial Comments at 5-6, 11, 13.

²⁶⁹¹ See, e.g., Dominion Initial Comments at 45; Ohio Commission Federal Advocate Initial Comments at 11.

²⁶⁹² New York TOs Initial Comments at 18; see also Northwest and Intermountain Initial Comments at 18.

²⁶⁹³ OMS Initial Comments at 10.

²⁶⁹⁴ Louisiana Commission Initial Comments at 33-34.

1257. Shell states that the Commission should require coastal transmission providers to explain how their Long-Term Regional Transmission Planning processes facilitate transmission planning and cost allocation for offshore wind.²⁶⁹⁵ Shell further asserts that the Commission should require all transmission providers to account for the risk of free-ridership in their OATTs, arguing that regardless of the cost allocation method applied, the Commission should ensure that first-movers are protected from free-ridership.²⁶⁹⁶

²⁶⁹⁵ Shell Initial Comments at 17.

²⁶⁹⁶ Id. at 25, 28.

1258. Some commenters express concerns about the proposed State Agreement Process.²⁶⁹⁷ Dominion states that a practical challenge in implementing the proposed reforms will be whether having an ex ante cost allocation method combined with alternative proposals or some combination thereof creates an additional opportunity to debate and challenge a transmission project, resulting in delays and increased costs.²⁶⁹⁸

²⁶⁹⁷ We also address comments regarding the State Agreement Process in more detail below. See infra Proposals Relating to the Design and Operation of State Agreement Processes section.

²⁶⁹⁸ Dominion Initial Comments at 52.

iii. Concerns With the Proposed Cost Allocation Reforms

1259. Some commenters generally oppose the proposed reforms. For example, Southern states that the proposal to establish a specific cost allocation process before Long-Term Regional Transmission Planning has identified actual transmission projects is too abstract to work in practice and will most likely fail to attract requisite state support.²⁶⁹⁹ Southern further asserts that the NOPR's proposed cost allocation processes do not satisfy the second prong of the Commission's FPA section 206 burden of proof to establish a just and reasonable replacement rate.²⁷⁰⁰ Pacific Northwest State Agencies oppose the option in the NOPR proposal that allows transmission providers to propose a Long-Term Regional Transmission Cost Allocation Method without involving states in its development.²⁷⁰¹

²⁶⁹⁹ Southern Initial Comments at 6-7.

²⁷⁰⁰ Id. at 7 n.7.

²⁷⁰¹ Pacific Northwest State Agencies Initial Comments at 24-25.

iv. Comments on Specific Aspects of the Proposed Cost Allocation Reforms

(a) Use of Existing Cost Allocation Methods for Long-Term Regional Transmission Facilities

1260. Some commenters assert that they should be able to use existing cost allocation methods for Long-Term Regional Transmission Planning, with some RTOs/ISOs ²⁷⁰² and RTO/ISO stakeholders ²⁷⁰³ supporting these arguments. Other commenters support the Commission permitting transmission providers to keep their existing processes that involve states in cost allocation decisions.²⁷⁰⁴ PPL supports using the existing regional cost allocation structures as a default. PPL asserts that any change to the existing cost allocation method will require an FPA section 205 filing, and interested parties, including the states, may intervene and provide testimony and evidence regarding the appropriateness of any benefit used.²⁷⁰⁵

²⁷⁰² See, e.g., MISO Initial Comments at 61, 68; PJM Initial Comments at 116; SPP Initial Comments at 28-29.

²⁷⁰³ See, e.g., Ameren Initial Comments at 25-27; Avangrid Initial Comments at 28; Dominion Initial Comments at 3, 45; Ohio Commission Federal Advocate Initial Comments at 2, 13; Omaha Public Power Initial Comments at 4; Pennsylvania Commission Initial Comments at 13-14; PJM States Initial Comments at 11-12; Virginia Commission Staff Initial Comments at 6.

²⁷⁰⁴ Avangrid Initial Comments at 28; Dominion Reply Comments at 11; Omaha Public Power Initial Comments at 4.

²⁷⁰⁵ PPL Initial Comments at 28-29.

1261. APS states that it agrees with the Commission that collaboration with Relevant State Entities is a positive approach to transmission planning, but it believes that the current cost allocation process is appropriate and should not be altered. APS, noting that the Commission has determined that additional complexities and contentiousness may result from expanding the transmission planning horizon to 20 years, argues that underlying cost causation principles will apply, and, therefore, existing cost allocation processes remain appropriate.²⁷⁰⁶

²⁷⁰⁶ APS Initial Comments at 11-12.

1262. Similarly, PJM contends that the need for new or expanded transmission facilities identified through Long-Term Regional Transmission Planning would fall under the reliability or market efficiency studies that it performs today, and, therefore, the Commission should permit it to use its existing ex ante cost allocation methods as the default cost allocation method for transmission facilities selected through Long-Term Regional Transmission Planning (absent agreement by all affected states on an alternate method). PJM states that using its existing ex ante approaches will provide consistency and certainty in assigning cost responsibility.²⁷⁰⁷ PJM States disagree, arguing that the Commission should not presume that existing cost allocation methods are just and reasonable without a full examination and input from retail regulators. According to PJM States, the factors that make PJM's existing cost allocation methods just and reasonable in the short term may not exist in the long term.²⁷⁰⁸

²⁷⁰⁷ PJM Initial Comments at 115.

²⁷⁰⁸ PJM States Reply Comments at 5.

1263. PJM further requests that the Commission clarify that if a transmission provider proposes to use an existing cost allocation method for regional transmission facilities selected through Long-Term Regional Transmission Planning, such a proposal may not be a cause for relitigating the use of that method for transmission projects selected prior to the issuance of the final order.²⁷⁰⁹ MISO states that if existing cost allocation methods previously were determined to comply with the Order No. 1000 regional cost allocation principles, the Commission should not require another demonstration and should clarify that its proposals do not require transmission providers to modify or set aside any existing regional cost allocation method.²⁷¹⁰ Relatedly, ITC argues that the Commission should allow for streamlined compliance plans from transmission providers that already have substantial long-range planning processes in place.²⁷¹¹

²⁷⁰⁹ PJM Initial Comments at 115 (citing NOPR, 179 FERC ¶ 61,028 at P 314).

²⁷¹⁰ MISO Initial Comments at 61.

²⁷¹¹ ITC Initial Comments at 29-30.

1264. PIOs proffer that having two distinct cost allocation methods can be unjust, unreasonable, and unduly discriminatory even if those methods are reasonable on their own, and that multiple cost allocation methods may create uncertainty, which the Commission has recognized can be a barrier to transmission development.²⁷¹² PIOs therefore request that the Commission: (1) require transmission providers to identify and justify differences between Long-Term Regional Transmission Planning and near-term cost allocation; (2) find that compliance filings that create opportunities for “cost allocation arbitrage” may not be approved; and (3) require transmission providers to demonstrate that their current Order No. 1000 cost allocation methods are just, reasonable, and not unduly discriminatory or preferential.²⁷¹³

²⁷¹² PIOs Initial Comments at 71 (citing NOPR, 179 FERC ¶ 61,028 at P 297).

²⁷¹³ Id. at 72.

1265. Dominion requests that the Commission clarify that any cost allocation method directed through this rulemaking proceeding is: (1) limited to Long-Term Regional Transmission Facilities; and (2) limited to Order No. 1000 transmission planning regions.²⁷¹⁴

²⁷¹⁴ Dominion Initial Comments at 49-50.

1266. Clean Energy Associations request that the Commission adopt pro forma cost allocation provisions that would allow for regional variation where cost allocation practices are consistent with or superior to the requirements adopted in any final order. For example, Clean Energy Associations state, if vertically integrated public utilities subject to state-jurisdictional integrated resource planning can demonstrate that the state planning process appropriately identifies needs and assigns costs based on future planned generation consistent with state policies, certain requirements may not be applicable.²⁷¹⁵

²⁷¹⁵ Clean Energy Associations Initial Comments at 36.

(b) Comments on Whether Filing an Ex Ante Cost Allocation Method Should Be Required

1267. Some commenters support a requirement that transmission providers submit an ex ante cost allocation method or methods that would apply to all Long-Term Regional Transmission Facilities either in place of, or as a backstop for, a State Agreement Process.²⁷¹⁶ For example, Grid United suggests that the Commission mandate that transmission providers develop ex ante cost allocation methods for selected Long-Term Regional Transmission Facilities to remove development and financial uncertainty, provide transparency in how benefits are calculated, and ensure that cost allocation is roughly commensurate with the distribution of benefits.²⁷¹⁷

²⁷¹⁶ See, e.g., Grid United Initial Comments at 6; Illinois Commission Initial Comments at 16-17; Minnesota State Entities Initial Comments at 6; MISO TOs Initial Comments at 45-48; PIOs Initial Comments at 70; RMI Supplemental Comments at 2-3.

²⁷¹⁷ Grid United Initial Comments at 6.

1268. MISO TOs state that ex ante cost allocation provides upfront certainty, explaining that MISO's ex ante processes work well and align with past Commission findings regarding the difficulty of supporting new construction without knowing who will pay for it and the importance of working out cost allocation up front, rather than “relitigating it” each time a transmission project is proposed.²⁷¹⁸ MISO TOs do not oppose states voluntarily agreeing to assume cost responsibility for regional transmission projects, which Commission policy already permits via participant funding, but argue that states that want to voluntarily assume cost responsibility for part or all of a transmission project should do so during the transmission planning process (i.e., when considering potential transmission projects) rather than after projects have been selected, so that those approving such projects can know how costs will be allocated.²⁷¹⁹

²⁷¹⁸ MISO TOs Initial Comments at 45-48 (citing Order No. 890, 118 FERC ¶ 61,119 at PP 557, 561; Order No. 1000, 136 FERC ¶ 61,051 at P 499).

²⁷¹⁹ Id. at 48-49.

1269. New Jersey Commission states that the Commission should not allow transmission providers to use cost allocation methods that rely solely on participant funding, such as PJM's State Agreement Approach. New Jersey Commission explains that such mechanisms are an unjust and unreasonable method for allocating the costs of holistically planned multi-driver projects and portfolios because if transmission projects can only be built if one or more states agree to assume 100% of the resulting costs, more expensive projects or portfolios that maximize net benefits to the transmission planning region will go unbuilt, ultimately driving up system-wide costs.²⁷²⁰

²⁷²⁰ New Jersey Commission Initial Comments at 24.

1270. Illinois Commission states that ex ante approaches should be the primary cost allocation method and include state input and approval, and that the State Agreement Process should only be used for exceptions in which public policy goals fall outside of the scope of Long-Term Regional Transmission Planning. Illinois Commission expresses concerns because it understands the NOPR to state that transmission projects without an ex ante cost allocation method would not be funded unless states decide to pay for them through a State Agreement Process, which could create more expensive and siloed transmission planning that does not meet future transmission needs.²⁷²¹

²⁷²¹ Illinois Commission Initial Comments at 16-17.

1271. Many commenters express concerns about the optionality of the proposal and argue that it is necessary to have a default ex ante cost allocation method where agreement cannot be reached among states and to preserve FPA section 205 filing rights.²⁷²² Numerous entities support an ex ante cost allocation method for Long-Term Regional Transmission Facilities to be used in the event a State Agreement Process does not result in an agreed-upon cost allocation method.²⁷²³

²⁷²² ACORE Supplemental Comments at 1; APPA Initial Comments at 6, 44-45; Environmental Groups Supplemental Comments at 2-3; Evergreen Action Initial Comments at 6; Georgia Commission Initial Comments at 9; ITC Initial Comments at 30-31; Massachusetts Attorney General Initial Comments at 18-21; TAPS Initial Comments at 4-5, 24-26; WIRES Initial Comments at 12-13.

²⁷²³ Evergreen Action Initial Comments at 6; Exelon Initial Comments at 24, 26; Georgia Commission Initial Comments at 8-9; ITC Initial Comments at 30-31; Massachusetts Attorney General Initial Comments at 18-20, 22-23; MISO Initial Comments at 67-68; Northwest and Intermountain Initial Comments at 18; Pine Gate Initial Comments at 7; PIOs Initial Comments at 67; TAPS Initial Comments at 4-5, 24-25; WIRES Initial Comments at 12-13.

1272. For example, Minnesota State Entities contend that an ex ante process that allocates costs at least roughly proportional to benefits should be required as the default cost allocation method unless states can agree on an ex post cost allocation method within 90 days. Minnesota State Entities also recommend that the Commission require RTOs/ISOs to use postage stamp cost allocation as the default cost allocation method for Long-Term Regional Transmission Facilities (or portfolios of such Facilities) unless the RTO/ISO can develop an alternate cost allocation method that all affected states agree on within 90 days following RTO/ISO approval.²⁷²⁴

²⁷²⁴ Minnesota State Entities Initial Comments at 6-7.

1273. PIOs argue that without a default cost allocation method, transmission may be held up in stakeholder processes or by project-by-project litigation to assign costs.²⁷²⁵ PIOs further caution that the Long-Term Regional Transmission Planning framework is at risk without an ex ante cost allocation method because successful negotiation of a State Agreement Process for each transmission project would be unwieldy and create opportunities for free-ridership and obstructionism.²⁷²⁶ Similarly, AEE argues that relying on a State Agreement Process would not be just and reasonable and likely would stall the transmission planning and cost allocation process.²⁷²⁷ Acadia Center and CLF assert that where the Commission anticipates that states will fail to agree, it should establish the Long-Term Regional Transmission Cost Allocation Method because, otherwise, ineffective regional transmission planning processes will remain in place.²⁷²⁸

²⁷²⁵ PIOs Initial Comments at 70.

²⁷²⁶ Id. at 67.

²⁷²⁷ AEE Reply Comments at 15, 34.

²⁷²⁸ Acadia Center and CLF Initial Comments at 31 (citing NOPR, 179 FERC ¶ 61,028 at P 310).

1274. SEIA argues that having a default cost allocation method will ensure that transmission that promotes public policy will be built even in the face of disagreement.²⁷²⁹ R Street states that the Commission should require schedule discipline and a default cost allocation provision for circumstances where states cannot agree, which can include an accelerated Commission-led arbitration process or Commission application of preestablished criteria.²⁷³⁰

²⁷²⁹ SEIA Initial Comments at 25 (citing 16 U.S.C. 824p(b)).

²⁷³⁰ R Street Initial Comments at 4, 12.

1275. Georgia Commission asserts that, if Relevant State Entities cannot reach agreement, or if a Relevant State Entity forgoes its opportunity to participate in the State Agreement Process, there should be a default Long-Term Regional Transmission Cost Allocation Method when clear benefits have been identified for a specific transmission facility or portfolio of facilities.²⁷³¹

²⁷³¹ Georgia Commission Initial Comments at 9.

1276. NYISO does not object to the final order directing each transmission provider to adopt an ex ante cost allocation method for transmission projects selected through Long-Term Regional Transmission Planning for use when an alternative method is not identified in a process that involves the state. NYISO references, as an example, the process cited in the NOPR whereby the New York Commission plays a role in determining the cost allocation method for public policy transmission projects.²⁷³²

²⁷³² NYISO Initial Comments at 49 (citing NOPR, 179 FERC ¶ 61,028 at P 300 & n.500).

1277. Exelon supports requiring a default ex ante cost allocation method that would act as a backstop cost allocation method should the states in a transmission planning region fail to negotiate an alternative cost allocation method for a transmission project or portfolio of projects. Exelon states that failure to reach an agreement on cost allocation should not act as a barrier to needed transmission, and whatever mechanism is developed for receiving state input should not allow one or more states to thwart the goals of other states and stakeholders.²⁷³³

²⁷³³ Exelon Initial Comments at 26.

1278. PPL asserts that the proposal to require a Long-Term Regional Transmission Cost Allocation Method may not solve the problem of states refusing to site transmission projects where they do not agree on cost allocation, but in some transmission planning regions, it may nevertheless be helpful to have a default cost allocation method.²⁷³⁴

²⁷³⁴ PPL Initial Comments at 26.

1279. Some commenters oppose requiring a default ex ante cost allocation method, whether on its own or in combination with a State Agreement Process.²⁷³⁵ For example, California Commission asserts that the Commission should not mandate an ex ante cost allocation method if states cannot agree to a cost allocation method by a certain date.²⁷³⁶ NRG states that the Commission should focus on voluntary cost allocation and should not use involuntary cost allocation as a substitute to participant-funded interconnection and transmission expansion.²⁷³⁷ NRG states that it would be unrealistic to expect productive negotiation among states if recourse to an ex ante cost allocation method is an option for any objecting state.²⁷³⁸

²⁷³⁵ See, e.g., Louisiana Commission Initial Comments at 30, 34; NRG Initial Comments at 6; SERTP Sponsors Initial Comments at 28; US Chamber of Commerce Initial Comments at 9-10.

²⁷³⁶ California Commission Initial Comments at 57.

²⁷³⁷ NRG Initial Comments at 6, 16.

²⁷³⁸ Id. at 20.

1280. SERTP Sponsors express concern that requiring state agreements or an ex ante cost allocation method before transmission projects are identified is unworkable because regulators in the Southeast will likely insist that the projects first be identified and their benefits and costs determined before the projects are selected and cost allocation commitments are made.²⁷³⁹ SERTP Sponsors state that expecting states to accept a cost allocation for transmission projects that they do not support, based on a process they have not chosen, and to which they do not assign value or benefit for retail ratepayers, will not succeed.²⁷⁴⁰ Alabama Commission agrees with SERTP Sponsors, stating that the State Agreement Process is a more appropriate and equitable mechanism for allocating the costs of Long-Term Regional Transmission Facilities and should be the sole cost allocation method.²⁷⁴¹ Similarly, US Chamber of Commerce contends that state utility regulators would risk not adequately protecting their constituents if they were to agree to an ex ante cost allocation method that assessed a fixed level of costs on ratepayers regardless of the design and/or benefits of a proposed regional transmission facility.²⁷⁴²

²⁷³⁹ SERTP Sponsors Initial Comments at 3, 28.

²⁷⁴⁰ Id. at 20.

²⁷⁴¹ Alabama Commission Initial Comments at 9.

²⁷⁴² US Chamber of Commerce Initial Comments at 9-10.

1281. EPSA argues that because long-term transmission planning horizons introduce uncertainty risk that customers must bear, cost allocation should be voluntary to the maximum degree possible.²⁷⁴³ Louisiana Commission opposes proceeding with any transmission projects selected in Long-Term Regional Transmission Planning without the voluntary cost allocation agreement of all impacted states.²⁷⁴⁴ Mississippi Commission asserts that the Commission should not require a default ex ante cost allocation method because doing so would bias and undermine cost allocation negotiations between states.²⁷⁴⁵ Mississippi Commission further argues that the Commission should clarify that state agreement on cost allocation for each transmission facility, or portfolio of facilities, is what is required, not simply involvement in the stakeholder process.²⁷⁴⁶

²⁷⁴³ EPSA Initial Comments at 7.

²⁷⁴⁴ Louisiana Commission Initial Comments at 17-18, 30.

²⁷⁴⁵ Mississippi Commission Initial Comments at 27; Mississippi Commission Reply Comments at 3.

²⁷⁴⁶ Mississippi Commission Initial Comments at 28.

1282. Xcel opposes a mandated ex ante cost allocation method, stating that the industry engaged in more effective long-term transmission planning before Order No. 1000, and that the Commission should give transmission planning regions flexibility to identify potential solutions before identifying the cost allocation for those solutions. In addition, Xcel supports allowing transmission planning regions flexibility to tailor the benefits evaluated to the purpose of the study and project, citing MISO's experience with Long-Range Transmission Planning.²⁷⁴⁷ Similarly, Southern states that the Commission should not require an ex ante cost allocation process, but if it does, it should adopt the NOPR proposal to allow transmission providers to determine the appropriate benefits.²⁷⁴⁸

²⁷⁴⁷ Xcel Initial Comments at 11-12.

²⁷⁴⁸ Southern Initial Comments at 27.

1283. Duke asserts that the Commission has provided no support other than pointing to Order No. 1000 as to why Long-Term Regional Transmission Facilities should have a default ex ante cost allocation method.²⁷⁴⁹ Duke explains that if states disagree with the need, benefits, and cost allocation determined in Commission-jurisdictional transmission planning processes, then states are likely to exercise their jurisdiction over siting and retail cost allocation to thwart development of a Long-Term Regional Transmission Facility.²⁷⁵⁰ Duke asks that the Commission clarify that transmission providers may rely solely on a State Agreement Process and are not required to adopt an ex ante default Long-Term Regional Transmission Cost Allocation Method.²⁷⁵¹ Duke argues that an ex post cost allocation method from a fully litigated Commission proceeding is a more durable solution than a default ex ante cost allocation, which may be similarly litigated but also delay siting approvals.²⁷⁵²

²⁷⁴⁹ Duke Initial Comments at 37.

²⁷⁵⁰ Id. at 3, 35-36.

²⁷⁵¹ Id. at 33.

²⁷⁵² Id. at 3, 36-37.

1284. NESCOE requests that the Commission confirm that if a transmission provider files a State Agreement Process, the transmission provider does not need to file an ex ante cost allocation method, and the time period for a state-negotiated alternate cost allocation method would not apply.²⁷⁵³

²⁷⁵³ NESCOE Initial Comments at 66-67.

v. Other Cost Allocation Method Proposals

1285. ACEG recommends having a threshold level of voltage or capacity above which a transmission facility would receive regional cost allocation because the benefits of transmission depend directly on having a robust grid capable not only of receiving diverse generation but also of withstanding extreme weather.²⁷⁵⁴

²⁷⁵⁴ ACEG Initial Comments at 63.

1286. Shell argues that the Commission should be open to non-traditional cost allocation methods, such as the sharing of benefits when a defined benefit/cost ratio threshold is exceeded, to achieve the goal of minimizing first-mover risk. Shell contends that sharing the cost of interconnection-related network upgrades between first movers and subsequent customers is common in the industry and points to ISO-NE, PJM, and MISO as examples of RTOs/ISOs that have revised their OATTs to attempt to address this concern.²⁷⁵⁵

²⁷⁵⁵ Shell Initial Comments at 25-28.

1287. ELCON notes that regardless of the funding mechanism or approved cost allocation method, benefits and risks may change over time as Long-Term Scenarios are updated and needs and solutions are reassessed. Therefore, ELCON states that the three-year reexamination of Long-Term Scenarios should also review cost allocation to ensure that cost causers and willing beneficiaries continue to be assessed the costs of a transmission project over its lifetime.²⁷⁵⁶

²⁷⁵⁶ ELCON Initial Comments at 19.

1288. Xcel proposes that transmission planning regions rely on scenario-based studies that reflect load-serving entity inputs regarding projected generation expansion, expected types and locations of generators, and expected load. Xcel states that the load-serving entities could then adjust their resource plans in light of the resulting costs and benefits. Xcel asserts that this flexibility would result in consensus-based cost allocation tied to the transmission that load-serving entities actually need and would reduce the reluctance to participate in planning as the outcomes could be adjusted to accommodate adjustments in load-serving entity needs and expectations.²⁷⁵⁷ Xcel also argues that the Commission should make clear that it is sometimes appropriate to allocate costs to generators, and that transmission access rights allocation should follow cost allocation.²⁷⁵⁸

²⁷⁵⁷ Xcel Initial Comments at 18.

²⁷⁵⁸ Id. at 12-13.

1289. Certain TDUs argue that the Commission should require any ex ante cost allocation method to follow a “beneficiary pays” approach, as opposed to the default, postage stamp load ratio share model.²⁷⁵⁹ Certain TDUs claim that the advantages of adopting a beneficiary-pays cost allocation approach are well documented, as the circumstances appropriate for a postage stamp allocation are not necessarily present when allocating costs for Long-Term Regional Transmission Facilities.²⁷⁶⁰ R Street similarly asserts that the final order should adhere to the beneficiary-pays principle to allocate the costs of both transmission and interconnection-related network upgrades.²⁷⁶¹

²⁷⁵⁹ Certain TDUs Initial Comments at 2, 7.

²⁷⁶⁰ Id. at 8-9.

²⁷⁶¹ R Street Initial Comments at 4, 12.

1290. Cypress Creek contends that where “cost allocation would hamper the use of contingent needs as a driver for multi-value projects,” there should be a hybrid approach. Specifically, Cypress Creek suggests allocating costs up to the lesser of: (1) the cost of necessary reliability improvements and (2) the benefit-cost threshold ratio of the multi-value project to the party that needs the improvements. Cypress Creek suggests that the remaining costs be allocated according to multi-value project rules.²⁷⁶²

²⁷⁶² Cypress Creek Reply Comments at 12.

c. Commission Determination

1291. We adopt the NOPR proposal, with modification, to require transmission providers in each transmission planning region to file one or more ex ante cost allocation methods that apply to selected Long-Term Regional Transmission Facilities. Specifically, we modify the NOPR proposal to require, instead of just permit, transmission providers in each transmission planning region to revise their OATTs to include one or more Long-Term Regional Transmission Cost Allocation Methods for Long-Term Regional Transmission Facilities that are selected. We adopt the NOPR's proposed definition, with modification, of Long-Term Regional Transmission Cost Allocation Method as an ex ante regional cost allocation method for one or more Long-Term Regional Transmission Facilities (or a portfolio of such Facilities) that are selected in the regional transmission plan for purposes of cost allocation. In addition to this required Long-Term Regional Transmission Cost Allocation Method, we also permit transmission providers to revise their OATTs to include a State Agreement Process, if Relevant State Entities indicate that they have agreed to such a process. Any State Agreement Process that transmission providers voluntarily propose to include in their OATTs would not comply with the requirements of this final order unless Relevant State Entities indicate to the transmission providers that Relevant State Entities have agreed to that process during the Engagement Period (which we discuss further below).²⁷⁶³

²⁷⁶³ We discuss the definition of Relevant State Entities below. See infra the Requirement that Transmission Providers Seek the Agreement of Relevant State Entities Regarding the Cost Allocation Method or Methods for Long-Term Regional Transmission Facilities section.

1292. While we permit transmission providers to include a State Agreement Process in their OATTs to determine cost allocation methods for selected Long-Term Regional Transmission Facilities if the process is agreed to by Relevant State Entities, it cannot be the sole method filed for cost allocation for Long-Term Regional Transmission Facilities. As discussed below, we find that sole reliance on a State Agreement Process to determine a cost allocation method for selected Long-Term Regional Transmission Facilities will not achieve the objectives of this final order. Additionally, we modify the NOPR proposal to require that, if a State Agreement Process fails to result in a cost allocation method agreed to by Relevant State Entities and any other authorized entities, or if the Commission ultimately finds that the cost allocation method that results from a State Agreement Process is unjust, unreasonable, or unduly discriminatory or preferential, then the relevant Long-Term Regional Transmission Cost Allocation Method on file would apply as a backstop. In other words, if a Long-Term Regional Transmission Facility or portfolio of such Facilities is selected but a State Agreement Process fails to result in a Commission-accepted cost allocation method for that facility or facilities, then their costs must be allocated through the Long-Term Regional Transmission Cost Allocation Method or Methods that would otherwise apply in the absence of a State Agreement Process (i.e., the backstop Long-Term Regional Transmission Cost Allocation Method).²⁷⁶⁴ We clarify that, if the transmission providers have more than one Long-Term Regional Transmission Cost Allocation Method on file, then the method that would otherwise apply to the specific selected Long-Term Regional Transmission Facility would serve as the backstop Long-Term Regional Transmission Cost Allocation Method.

²⁷⁶⁴ For example, transmission providers could file two Long-Term Regional Transmission Cost Allocation Methods, A and B. In this example, Method A would apply only to Long-Term Regional Transmission Facilities under 300 kV. Method B would apply to Long-Term Regional Transmission Facilities at or above 300 kV only if an agreed-upon State Agreement Process fails to result in a Commission-accepted cost allocation method. If, on compliance, transmission providers propose more than one Long-Term Regional Transmission Cost Allocation Method, they must specify to which Long-Term Regional Transmission Facilities each Long-Term Regional Transmission Cost Allocation Method applies.

1293. We continue to find that facilitating state regulatory involvement in the cost allocation process could minimize delays and additional costs associated with state and local siting proceedings.²⁷⁶⁵ Nevertheless, we find that the requirement for transmission providers to include a Long-Term Regional Transmission Cost Allocation Method in their OATTs is necessary because, if transmission providers were to rely solely on a State Agreement Process to determine the cost allocation for Long-Term Regional Transmission Facilities and that process fails to result in agreement, there would be no cost allocation method for Long-Term Regional Transmission Facilities selected as the more efficient or cost-effective solutions to Long-Term Transmission Needs. As a result, such selected Long-Term Regional Transmission Facilities would be less likely to be developed, and the benefits that these facilities would provide would not be realized. Moreover, transmission providers would likely rely on relatively inefficient or less cost-effective transmission facilities to address the identified Long-Term Transmission Needs, or they may not even address these needs at all, leading to unjust and unreasonable Commission-jurisdictional rates. We further find that reliance solely on a State Agreement Process would suffer from the same flaws that led the Commission to require ex ante cost allocation for selected regional transmission facilities in Order No. 1000, as the allocation of transmission costs can be contentious and prone to litigation in multi-state transmission planning regions.²⁷⁶⁶ Requiring a Long-Term Regional Transmission Cost Allocation Method, even when transmission providers also have a State Agreement Process in effect, provides a level of certainty critical to the development of needed Long-Term Regional Transmission Facilities.

²⁷⁶⁵ NOPR, 179 FERC ¶ 61,028 at P 301.

²⁷⁶⁶ Order No. 1000, 136 FERC ¶ 61,051 at PP 498-499; see also S.C. Pub. Serv. Auth. v. FERC, 762 F.3d at 70 (finding that the Commission reasonably balanced the benefits and claimed burdens of Order No. 1000's reforms in concluding that the requirement that each transmission provider include in its OATT a method(s) for allocating ex ante the costs of new regional transmission facilities “would reduce conflicts and `aid in the development and construction of new transmission' ” and allow stakeholders “to determine ex ante `that the benefits associated with [a particular] set of transmission facilities outweigh the costs' ” (citing Order No. 1000, 136 FERC ¶ 61,051 at PP 499, 669)).

1294. As noted above, the relevant Long-Term Regional Transmission Cost Allocation Method on file would serve as a backstop if the State Agreement Process does not result in a Commission-accepted cost allocation method for the selected Long-Term Regional Transmission Facility or portfolio of such Facilities subject to the State Agreement Process. This outcome could occur for several reasons. For instance, Relevant State Entities may not reach agreement on a cost allocation method pursuant to the terms of a State Agreement Process and the transmission providers may choose not to file any cost allocation method. In another instance, transmission providers may choose not to file a cost allocation method agreed to pursuant to a State Agreement Process and also choose not to file any alternative cost allocation method. And finally, the Commission might not accept a cost allocation method that results from a State Agreement Process and that transmission providers submit to the Commission for filing under FPA section 205 to the extent that it does not satisfy the requirement to allocate costs at least roughly commensurate with estimated benefits or is otherwise unjust or unreasonable.²⁷⁶⁷

²⁷⁶⁷ See PPL Elec. Utils. Corp., 181 FERC ¶ 61,178, at P 33 (2022) (“In light of the New Jersey state law, the New Jersey [State Agreement Approach] Projects will benefit customers throughout New Jersey, and thus we find that allocating the costs of the New Jersey [State Agreement Approach] Projects on a load-ratio share basis to all New Jersey customers is roughly commensurate with the benefits provided by those projects.”) (footnote omitted).

1295. In response to NRG's and Mississippi Commission's concerns that a Long-Term Regional Transmission Cost Allocation Method could undermine productive negotiation among states if recourse to an ex ante cost allocation method is an option for any objecting state,²⁷⁶⁸ on balance, we find that this possibility is outweighed by the risk that Long-Term Regional Transmission Facilities selected as the more efficient or cost-effective solution to Long-Term Transmission Needs may not have an associated cost allocation method absent this requirement, and thus would be unlikely to be developed.²⁷⁶⁹ As we explain above, the lack of a cost allocation method for selected Long-Term Regional Transmission Facilities would likely result in transmission providers relying on relatively inefficient or less cost-effective transmission facilities to address identified Long-Term Transmission Needs, or they may not even address these needs at all, leading to unjust and unreasonable Commission-jurisdictional rates. We further note that a Long-Term Regional Transmission Cost Allocation Method provides certainty that the costs of Long-Term Regional Transmission Facilities for which a State Agreement Process does not result in a Commission-approved cost allocation method will be allocated in a manner that the Commission has found to be just and reasonable and not unduly discriminatory or preferential.

²⁷⁶⁸ Mississippi Commission Initial Comments at 27; Mississippi Commission Reply Comments at 3; NRG Initial Comments at 20.

²⁷⁶⁹ As discussed below in the Requirement that Transmission Providers Seek Agreement of Relevant State Entities Regarding the Cost Allocation Method or Methods for Long-Term Regional Transmission Facilities section, we decline to define what constitutes agreement among Relevant State Entities and, as such, we do not require unanimous agreement of Relevant State Entities participating in the Engagement Period on a Long-Term Regional Transmission Cost Allocation Method(s) and/or State Agreement Process.

1296. In response to the arguments by SERTP Sponsors, Alabama Commission, and Louisiana Commission emphasizing the importance of voluntary cost allocation among states,²⁷⁷⁰ along with Mississippi Commission's request for clarification that state agreement to a cost allocation method be required for any Long-Term Regional Transmission Facility under this final order,²⁷⁷¹ we note that Relevant State Entities will have the opportunity to provide their views on cost allocation methods during the Engagement Period, as discussed further below. Following this Engagement Period, Relevant State Entities may agree to, and ask the transmission providers to file, a State Agreement Process, which, if accepted by the Commission, would be the cost allocation process used by the transmission providers in the transmission planning region prior to the use of the relevant Long-Term Regional Transmission Cost Allocation Method as a backstop. Further, as discussed in the Proposals Relating to the Design and Operation of State Agreement Processes section below, during the Engagement Period or State Agreement Process, Relevant State Entities will have an opportunity to agree to and ask transmission providers to file a Long-Term Regional Transmission Cost Allocation Method. Thus, there are multiple opportunities for Relevant State Entities to voluntarily negotiate a cost allocation method for Long-Term Regional Transmission Facilities.

²⁷⁷⁰ SERTP Sponsors Initial Comments at 3, 20, 28; Alabama Commission Initial Comments at 9; Louisiana Commission Initial Comments at 17-18, 30.

²⁷⁷¹ Mississippi Commission Initial Comments at 28.

1297. We find that US Chamber of Commerce's concern, that state utility regulators might fail to protect constituents if they were to agree to an ex ante cost allocation method that assessed a fixed level of costs on ratepayers regardless of the design or benefits of a proposed regional transmission facility, is misplaced.²⁷⁷² Any cost allocation method(s) that transmission providers propose, be it as a result of a State Agreement Process or a Long-Term Regional Transmission Cost Allocation Method, must allocate costs in a manner that is at least roughly commensurate with estimated benefits, as discussed further below.²⁷⁷³ For the same reasons, we disagree with EPSA's contention that, because Long-Term Regional Transmission Planning introduces uncertainty risk that customers must bear, all the relevant cost allocation methods on file should be voluntary.²⁷⁷⁴

²⁷⁷² US Chamber of Commerce Initial Comments at 9-10.

²⁷⁷³ See infra Identification of Benefits Considered in Cost Allocation for Long-Term Regional Transmission Facilities.

²⁷⁷⁴ EPSA Initial Comments at 7.

1298. We also acknowledge Duke's concerns that a default ex ante cost allocation method could delay siting approvals and Xcel's concerns associated with a mandated ex ante cost allocation method claiming that the industry engaged more effectively in long-term transmission planning before Order No. 1000.²⁷⁷⁵ We note that another modification to the NOPR proposal that we adopt, as described below, allows State Agreement Processes to occur before, as well as up to six months after, selection of Long-Term Regional Transmission Facilities. This modification helps to address Duke's and Xcel's concerns by providing Relevant State Entities with an opportunity to agree on a cost allocation method for a particular Long-Term Regional Transmission Facility (or portfolio of such Facilities) after selection. However, we find that, even if such an agreement on a State Agreement Process cost allocation method cannot be achieved, on balance, the greater certainty that ex ante cost allocation methods provide to allow the development of Long-Term Regional Transmission Facilities outweighs the concerns that Duke and Xcel express.

²⁷⁷⁵ Duke Initial Comments at 36; Xcel Initial Comments at 12.

1299. Furthermore, we find that allowing the use of a State Agreement Process in addition to a Long-Term Regional Transmission Cost Allocation method will assist in the development of Long-Term Regional Transmission Facilities by taking into account state preferences. SEIA and New Jersey Commission support such flexibility.²⁷⁷⁶ We agree with New Jersey Commission that negotiated cost allocation methods may reduce litigation and make it easier to construct needed transmission facilities.²⁷⁷⁷ We recognize Dominion's concerns that implementing a State Agreement Process with an ex ante approach could lead to delays; ²⁷⁷⁸ however, we find that both the backstop Long-Term Regional Transmission Cost Allocation Method, combined with a six-month limit after selection for deliberations under any State Agreement Process and the filing of any resulting cost allocation method, as detailed below, should limit such delays.

²⁷⁷⁶ New Jersey Commission Initial Comments at 25; SEIA Initial Comments at 24.

²⁷⁷⁷ New Jersey Commission Initial Comments at 17.

²⁷⁷⁸ Dominion Initial Comments at 52.

1300. Next, we adopt the NOPR proposal to apply the cost allocation reforms in this final order only to new Long-Term Regional Transmission Facilities. We find that this reform does not apply to regional reliability and economic transmission facilities that are selected pursuant to the existing Order No. 1000 regional transmission planning processes. We find, instead, that the existing Commission-accepted ex ante regional cost allocation methods adopted pursuant to Order No. 1000 should continue to apply to those regional reliability and economic transmission facilities. We find no basis in the record to conclude that these existing regional cost allocation methods should change, given that this final order does not alter existing regional reliability and economic transmission planning processes. We believe that this distinction between cost allocation methods for regional reliability and economic transmission projects selected under existing Order No. 1000 regional transmission planning processes and those for new Long-Term Regional Transmission Facilities selected through Long-Term Regional Transmission Planning will prevent the re-litigation of cost allocation decisions for transmission facilities that are selected prior to the effective date of this final order. In addition, we find this distinction to be consistent with our decision not to apply Long-Term Regional Transmission Cost Allocation Methods to transmission facilities other than new Long-Term Regional Transmission Facilities.²⁷⁷⁹

²⁷⁷⁹ As the Commission noted in the NOPR, the Commission took a similar approach with respect to its cost allocation reforms in Order No. 1000. See NOPR, 179 FERC ¶ 61,028 at P 314 n.517 (citing Order No. 1000, 136 FERC ¶ 61,051 at P 565).

1301. We disagree with PIOs that allowing different cost allocation methods to apply to different regional transmission planning processes is unjust and unreasonable.²⁷⁸⁰ We find that because Long-Term Regional Transmission Planning is a more long-term, forward-looking, and comprehensive transmission planning process than existing Order No. 1000 regional transmission planning processes, it is appropriate for transmission providers to consider, following the Engagement Period, whether different cost allocation methods should apply to selected Long-Term Regional Transmission Facilities.

²⁷⁸⁰ PIOs Initial Comments at 71.

1302. With respect to the potential use of existing regional cost allocation methods as Long-Term Regional Transmission Cost Allocation Methods, as well as assertions that existing cost allocation methods or current existing processes for state involvement in cost allocation decisions could be used for Long-Term Regional Transmission Planning,²⁷⁸¹ we adopt the NOPR proposal that, to the extent transmission providers believe that their existing cost allocation methods comply with the requirements adopted in this final order, they may demonstrate in their compliance filings that such methods, as applied to Long-Term Regional Transmission Facilities, would comply with the requirements of this final order. This approach is consistent with the approach that the Commission took in Order No. 1000, in which the Commission declined commenter requests to decide in the rulemaking itself whether existing cost allocation methods complied with the requirements of Order No. 1000 and instead required transmission providers to demonstrate on compliance that their existing cost allocation methods met the rulemaking's requirements.²⁷⁸²

²⁷⁸¹ See, e.g., Ameren Initial Comments at 25-27; APS Initial Comments at 11-12; Avangrid Initial Comments at 28;Dominion Initial Comments at 3, 45; Dominion Reply Comments at 11; MISO Initial Comments at 61, 68; NYISO Initial Comments at 9, 50; Ohio Commission Federal Advocate Initial Comments at 2, 13; Omaha Public Power Initial Comments at 4; Pennsylvania Commission Initial Comments at 13-14; PJM Initial Comments at 116; PJM States Initial Comments at 11-12; SPP Initial Comments at 28-29; Virginia Commission Staff Initial Comments at 6.

²⁷⁸² See Order No. 1000, 136 FERC ¶ 61,051 at P 565; Order No. 1000-A, 139 FERC ¶ 61,132 at P 747.

1303. We disagree with PPL's contention that existing regional cost allocation methods accepted by the Commission should be considered the “default.” The Commission accepted such ex ante regional cost allocation methods based on demonstrations of how they met the six Order No. 1000 regional cost allocation principles. We appreciate, as the Commission has recognized, that some existing regional cost allocation methods are complex, stakeholder-approved constructs and that some are specifically designed to apply to broad portfolios of transmission projects, such as MISO's regional cost allocation method for Multi-Value Projects.²⁷⁸³ However, as described above, to the extent that transmission providers propose on compliance to use an existing regional cost allocation method as a Long-Term Regional Transmission Cost Allocation Method, the transmission providers must demonstrate that such existing regional cost allocation method, as applied to Long-Term Regional Transmission Facilities, would comply with the requirements of this final order. We disagree with ITC's contention that the Commission should allow for streamlined compliance plans for transmission providers that already have long-range transmission planning processes; we reiterate that we require transmission providers to submit proposed cost allocation processes on compliance with this order so that the Commission may evaluate whether those processes comply with the requirements of this final order.

²⁷⁸³ See, e.g., Midwest Indep. Transmission Sys. Operator, Inc., 142 FERC ¶ 61,215, at P 434 (2013); Sw. Power Pool, Inc., 144 FERC ¶ 61,059, at P 347 (2013).

1304. BP raises a concern that it is not clear, in the case of a multi-value project, whether only a part of the cost of a transmission project associated with meeting changes in the resource mix and demand will be allocated under a Long-Term Regional Transmission Cost Allocation Method as opposed to all of the costs. With the exception of Long-Term Regional Transmission Facilities that one or more Relevant State Entities or interconnection customers agree to voluntarily fund, we clarify that all costs associated with a selected Long-Term Regional Transmission Facility must be allocated using the applicable Long-Term Regional Transmission Cost Allocation Method or Methods, or an applicable Commission-accepted cost allocation method that results from a State Agreement Process.²⁷⁸⁴

²⁷⁸⁴ See supra Evaluation and Selection of Long-Term Regional Transmission Facilities section. Moreover, in the Local Transmission Planning Inputs in the Regional Transmission Planning Process section below, we provide flexibility to transmission providers to propose a cost allocation method for right-sized replacement transmission facilities.

1305. In response to requests that a beneficiary-pays approach be used rather than a postage stamp load ratio share model for cost allocation methods,²⁷⁸⁵ we reiterate that any cost allocation method applied to a Long-Term Regional Transmission Facility must ensure that costs are allocated in a manner that is at least roughly commensurate with the estimated benefits of the facility, consistent with cost causation and court precedent.²⁷⁸⁶ Load ratio share, which charges transmission customers in proportion to their use of the transmission system as measured by their relative share of load, is a cost allocation method that may be consistent with the beneficiary-pays approach. The Commission will evaluate whether a proposed cost allocation method allocates costs in a manner that is at least roughly commensurate with estimated benefits on a fact-specific basis, relying on the record in a given proceeding.

²⁷⁸⁵ See Certain TDUs Initial Comments at 2, 7, 8-9; R Street Initial Comments at 4, 12.

²⁷⁸⁶ The cost causation principle requires costs to be allocated to those who cause the costs to be incurred and reap the resulting benefits. S.C. Pub. Serv. Auth. v. FERC, 762 F.3d at 87 (citing Nat'l Ass'n of Regul. Util. Comm'rs v. FERC, 475 F.3d at 1285); see also Order No. 1000, 136 FERC ¶ 61,051 at P 10 (“[T]he principles-based approach requires that all regional and interregional cost allocation methods allocate costs for new transmission facilities in a manner that is at least roughly commensurate with the benefits received by those who will pay those costs. Costs may not be involuntarily allocated to entities that do not receive benefits.”); ICC v. FERC I, 576 F.3d at 476 (“To the extent that a utility benefits from the costs of new facilities, it may be said to have `caused' a part of those costs to be incurred, as without the expectation of its contributions the facilities might not have been built, or might have been delayed.”).

1306. In response to commenters that request flexibility in cost allocation,²⁷⁸⁷ we believe that the approach to cost allocation for Long-Term Regional Transmission Facilities that we adopt in this final order provides transmission providers and their stakeholders, and in particular Relevant State Entities, with the flexibility needed to address regional differences. Specifically, we find that the flexibility to submit one or more Long-Term Regional Transmission Cost Allocation Methods, as well as the flexibility to submit an additional State Agreement Process, accommodate regional differences.

²⁷⁸⁷ See, e.g., Entergy Initial Comments at 29-30; Eversource Initial Comments at 29-30; Idaho Power Initial Comments at 10; NESCOE Reply Comments at 5; Pacific Northwest Utilities Initial Comments at 5-6, 11, 13.

1307. We decline to adopt additional requirements with respect to cost allocation that we did not propose in the NOPR, such as Shell's request to require coastal transmission providers to explain how their Long-Term Regional Transmission Planning facilitates cost allocation for offshore wind.²⁷⁸⁸ We find that the record in this proceeding does not support imposing this or other additional requirements. Regarding certain cost allocation requirements suggested by commenters,²⁷⁸⁹ including ACEG's suggestion for implementing a voltage threshold level above which a transmission facility would receive regional cost allocation,²⁷⁹⁰ we find such proposals to be beyond the scope of this proceeding. The Commission did not make such proposals in the NOPR.

²⁷⁸⁸ Shell Initial Comments at 17.

²⁷⁸⁹ Cypress Creek Reply Comments at 12; ELCON Initial Comments at 19; R Street Initial Comments at 4, 12; Shell Initial Comments at 25-28; Xcel Initial Comments at 12-13, 18.

²⁷⁹⁰ ACEG Initial Comments at 63.

2. Requirement That Transmission Providers Seek the Agreement of Relevant State Entities Regarding the Cost Allocation Method or Methods for Long-Term Regional Transmission Facilities

a. NOPR Proposal

1308. The Commission proposed to require transmission providers in each transmission planning region to seek the agreement of Relevant State Entities within the transmission planning region regarding the Long-Term Regional Transmission Cost Allocation Method, State Agreement Process, or combination thereof.²⁷⁹¹ The Commission proposed to require transmission providers in each transmission planning region to: (1) explain how the proposed Long-Term Regional Transmission Cost Allocation Method, State Agreement Process, or combination thereof reflects the agreement of Relevant State Entities; or (2) to the extent agreement of Relevant State Entities cannot be obtained, explain the good faith efforts by the relevant transmission provider(s) to seek agreement from such entities before proposing a Long-Term Regional Transmission Cost Allocation Method, State Agreement Process, or combination thereof.²⁷⁹²

²⁷⁹¹ NOPR, 179 FERC ¶ 61,028 at P 303.

²⁷⁹² Id. P 303.

1309. The Commission proposed to define Relevant State Entities for purposes of the Long-Term Regional Transmission Planning cost allocation requirements as “any state entity responsible for utility regulation or siting electric transmission facilities within the state or portion of a state located in the transmission planning region, including any state entity as may be designated for that purpose by the law of such state.” ²⁷⁹³

²⁷⁹³ Id. P 304.

1310. The Commission proposed to require transmission providers in each transmission planning region to seek to determine whether, for all or a subset of Long-Term Regional Transmission Facilities, Relevant State Entities agree to: (1) a Long-Term Regional Transmission Cost Allocation Method; (2) a State Agreement Process; (3) forgo a role in determining the cost allocation approach for Long-Term Regional Transmission Facilities; or (4) some combination thereof.²⁷⁹⁴

²⁷⁹⁴ Id. P 305.

1311. The Commission proposed to afford transmission providers in each transmission planning region flexibility in the process by which they seek agreement from Relevant State Entities and to require transmission providers to provide the state entities with flexibility with regard to defining what constitutes “agreement” among the Relevant State Entities on the cost allocation approach for Long-Term Regional Transmission Facilities.²⁷⁹⁵ Although the Commission proposed to provide transmission providers flexibility in determining what constitutes state agreement, the Commission preliminarily found that, for each state, a single entity should be designated as the voting or representative entity to avoid confusion or over-representation by a single state in a multi-state voting process.²⁷⁹⁶

²⁷⁹⁵ Id. P 306.

²⁷⁹⁶ Id. P 304.

1312. Noting that the Relevant State Entities may forgo a role in determining the cost allocation approach for all or a subset of Long-Term Regional Transmission Facilities, the Commission proposed that in the event that the Relevant State Entities do so, the Commission would require transmission providers to propose a Long-Term Regional Transmission Cost Allocation Method consistent with the requirements of Order No. 1000, including the prohibition on relying on voluntary agreement among states or participant funding.²⁷⁹⁷ The Commission explained that it was not proposing to impose any requirements on states to participate in processes to establish regional cost allocation methods for Long-Term Regional Transmission Facilities.²⁷⁹⁸

²⁷⁹⁷ Id. P 307.

²⁷⁹⁸ Id. P 308.

b. Comments

i. State Involvement in Cost Allocation Proposals

1313. Many commenters generally support states having a role negotiating proposed cost allocation methods.²⁷⁹⁹ However, some commenters emphasize the importance of involving all stakeholders, and not just Relevant State Entities, in this reform. Clean Energy Buyers argue that the Commission should require transmission providers to allow all stakeholders (not just states) to participate in, or at least comment on, the development of the Long-Term Regional Transmission Cost Allocation Method and to recognize the importance of states and all other stakeholders.²⁸⁰⁰ Similarly, NEPOOL asserts that state involvement should not diminish the opportunity for stakeholder involvement from all market participants in the electric industry.²⁸⁰¹ APPA asserts that while coordination with state regulators in cost allocation may aid in developing beneficial and cost-effective transmission projects, the perspectives of state regulators on cost allocation should not be elevated above those of other stakeholders.²⁸⁰²

²⁷⁹⁹ See, e.g., AEP Initial Comments at 35; Ameren Initial Comments at 25; American Municipal Power Initial Comments at 12; Arizona Commission Initial Comments at 11; Clean Energy Associations Initial Comments at 35; Clean Energy Buyers Initial Comments at 28-29; Clean Energy States Initial Comments at 7; Cross Sector Representatives Supplemental Comments at 1; Duke Initial Comments at 35; ELCON Initial Comments at 17; ISO-NE Initial Comments at 2; Georgia Commission Initial Comments at 8-9; US House Republicans Supplemental Comments at 1; ITC Initial Comments at 28; Joint Consumer Advocates Initial Comments at 13; Maryland Energy Administration Initial Comments at 2; Massachusetts Attorney General Initial Comments at 19; Michigan Commission Initial Comments at 8; MISO Initial Comments at 61; NARUC Initial Comments at 45 (citing NOPR, 179 FERC ¶ 61,028 at PP 303-308), 46; New York Commission and NYSERDA Initial Comments at 1; NESCOE Initial Comments at 54; North Carolina Commission and Staff Initial Comments at 2; North Dakota Commission Initial Comments at 4; NRG Initial Comments at 6; NYISO Initial Comments at 49; OMS Initial Comments at 10; PacifiCorp and NV Energy Initial Comments at 15; PIOs Initial Comments at 64; Resale Iowa Initial Comments at 2; US Chamber of Commerce Initial Comments at 9 (citing NOPR, 179 FERC ¶ 61,028 at P 288); Virginia Commission Staff Initial Comments at 2; WIRES Initial Comments at 12.

²⁸⁰⁰ Clean Energy Buyers Initial Comments at 29.

²⁸⁰¹ NEPOOL Initial Comments at 9.

²⁸⁰² APPA Initial Comments at 42.

1314. Idaho Power states that the Commission should continue to allow flexibility for transmission planning regions to determine the appropriate level of state involvement.²⁸⁰³ Pacific Northwest Utilities agree, stating that mandating additional state participation could be burdensome and problematic.²⁸⁰⁴

²⁸⁰³ Idaho Power Initial Comments at 10.

²⁸⁰⁴ Pacific Northwest Utilities Initial Comments at 13.

1315. MISO states that the Commission should not extend any state involvement that may be adopted pursuant to the final order to near-term reliability and economic regional transmission planning processes, which are beyond the scope of the final order.²⁸⁰⁵ MISO Coops state that MISO provides a stakeholder forum where states' voices are heard, and the final order should not diminish stakeholder processes that are effective today.²⁸⁰⁶

²⁸⁰⁵ MISO Initial Comments at 71.

²⁸⁰⁶ MISO Coops Initial Comments at 2.

1316. Other commenters raise concerns about increased state involvement in cost allocation decisions. For example, Vistra asserts that a prioritized role for states in cost allocation is more likely to create new challenges than ease development, and observes that it may be difficult to coordinate state interests in multi-state transmission planning regions versus single-state transmission planning regions.²⁸⁰⁷ Six Cities opposes enhanced roles for Relevant State Entities, suggesting that the proposed reforms represent neither an appropriate oversight role for states under the FPA, nor a logical extension of Order No. 890 and Order No. 1000 policies.²⁸⁰⁸

²⁸⁰⁷ Vistra Initial Comments at 2, 27-28.

²⁸⁰⁸ Six Cities Initial Comments at 7.

1317. ACEG and Georgia Commission agree with the Commission's proposed definition of Relevant State Entities.²⁸⁰⁹ ACEG and Dominion also support the proposal to have a single entity designated as the voting representative for the state.²⁸¹⁰ MISO agrees that having a single entity designated for each state and/or applicable jurisdiction as the voting or representative entity for that state/jurisdiction makes sense, but notes that the City of New Orleans is an independent member of OMS separate from the Louisiana Commission and therefore may need to be considered a separate jurisdiction.²⁸¹¹ Louisiana Commission voices similar concerns.²⁸¹² North Carolina Commission and Staff state that it may be appropriate for different state entities to be designated for different roles,²⁸¹³ and Duke asserts that the Commission should clarify that within a state there may be multiple Relevant State Entities.²⁸¹⁴

²⁸⁰⁹ ACEG Initial Comments at 65-66; Georgia Commission Initial Comments at 8.

²⁸¹⁰ ACEG Initial Comments at 65-66; Dominion Initial Comments at 48 n.99.

²⁸¹¹ MISO Initial Comments at 66.

²⁸¹² Louisiana Commission Initial Comments at 33.

²⁸¹³ North Carolina Commission and Staff Initial Comments at 17.

²⁸¹⁴ Duke Initial Comments at 38-39.

1318. Some commenters generally agree with the Commission's proposed definition of Relevant State Entities but request that the definition be expanded or clarified to include self-regulated public power utilities and cooperatives.²⁸¹⁵ TAPS argues that a multi-state voting process, as proposed, could fail to represent public power and cooperatives' interests.²⁸¹⁶ NRECA contends that a more inclusive approach would be to use “relevant electric regulatory authority,” which includes a state public utility commission and the governing board of a cooperative or public power utility.²⁸¹⁷ Large Public Power proposes to grant state and municipal utilities representation on a load ratio share basis.²⁸¹⁸

²⁸¹⁵ American Municipal Power Initial Comments at 5; APPA Initial Comments at 3, 42-43 (citing 16 U.S.C. 796(7), (15)); California Municipal Utilities Initial Comments at 17; MISO Coops Initial Comments at 3-4; Six Cities Initial Comments at 10.

²⁸¹⁶ TAPS Initial Comments at 5, 26-27.

²⁸¹⁷ NRECA Initial Comments at 56-57.

²⁸¹⁸ Large Public Power Initial Comments at 41.

1319. NASUCA urges the Commission to clarify that where applicable, an approved state cost allocation process should include agreement by a state's utility consumer advocate.²⁸¹⁹ California Energy Commission recommends expanding the definition of Relevant State Entities to include any groups directly or indirectly affected by the construction of a project, such as Native American Tribes,²⁸²⁰ and NESCOE requests that the definition of Relevant State Entity be amended to accommodate individual transmission planning regions' particular approaches toward state involvement in cost allocation requirements, such as NESCOE managers designated by each New England Governor to represent that state's interests.²⁸²¹

²⁸¹⁹ NASUCA Initial Comments at 10-11.

²⁸²⁰ California Energy Commission Initial Comments at 3.

²⁸²¹ NESCOE Initial Comments at 57.

1320. Nevada Commission requests flexibility in the term Relevant State Entity.²⁸²² New Mexico RETA urges flexibility to account for state involvement of other entities not accounted for in the definition of Relevant State Entities, including state authorities specifically designated to assist in developing new electric transmission facilities (like New Mexico RETA).²⁸²³

²⁸²² Nevada Commission Initial Comments at 13.

²⁸²³ New Mexico RETA Initial Comments at 8-9 (citing NOPR 179 FERC ¶ 61,028 at P 304).

1321. ACEG recommends that the Commission clarify that existing processes, such as SPP's Regional State Committee, MISO's OMS, and ISO-NE's New England States Committee, should be used to determine the Relevant State Entity for each state, unless another process is demonstrated to be superior.²⁸²⁴

²⁸²⁴ ACEG Initial Comments at 66.

1322. SERTP Sponsors assert that which Relevant State Entity or Entities would be appropriate for a particular state will be a function of state law.²⁸²⁵ Pennsylvania Commission states that the Commission's proposed definition of Relevant State Entity is imperfect and may result in multiple entities within a single state being a Relevant State Entity, given that the Commission refers to utility regulation or siting authority in the definition, but a state's legislature could have delegated this different authority among different administrative agencies.²⁸²⁶

²⁸²⁵ SERTP Sponsors Initial Comments at 28-29.

²⁸²⁶ Pennsylvania Commission Initial Comments at 15.

ii. Requirement To Seek Agreement

1323. Many commenters generally support requiring transmission providers in each transmission planning region to seek the agreement of Relevant State Entities within the transmission planning region regarding the Long-Term Regional Transmission Cost Allocation Method, State Agreement Process, or combination thereof.²⁸²⁷

²⁸²⁷ See, e.g., Acadia Center and CLF Initial Comments at 29-30; Avangrid Initial Comments at 28; City of New Orleans Council Initial Comments at 9; Entergy Initial Comments at 29-30; Georgia Commission Initial Comments at 8-9; ISO-NE Initial Comments at 37-38; Louisiana Commission Initial Comments at 30; Michigan Commission Initial Comments at 8; NARUC Initial Comments at 45, 47; Nebraska Commission Initial Comments at 9; NESCOE Initial Comments at 54 (citing NOPR, 179 FERC ¶ 61,028 at PP 303, 305); North Carolina Commission and Staff Initial Comments at 15-16; Ohio Commission Federal Advocate Initial Comments at 11; Pacific Northwest State Agencies Initial Comments at 27; PJM States Initial Comments at 9; SoCal Edison Initial Comments at 3; Southeast PIOs Initial Comments at 55 (citing NOPR, 179 FERC ¶ 61,028 at P 303); US Climate Alliance Initial Comments at 2; WIRES Initial Comments at 12.

1324. Avangrid states that state input and collaboration is crucial to the transmission planning process, and that intensive state (and other stakeholder) participation and consensus-building will help to ensure that transmission will not be overbuilt.²⁸²⁸ SoCal Edison contends that without agreement among states on the respective benefits and share of related costs, the development of multi-state transmission projects will be nearly non-existent.²⁸²⁹ PPL supports transmission providers seeking agreement with the states on cost allocation methods, as well as voluntary coordination with states, which PPL argues will make public policy projects more likely to succeed.²⁸³⁰

²⁸²⁸ Avangrid Initial Comments at 28.

²⁸²⁹ SoCal Edison Initial Comments at 3.

²⁸³⁰ PPL Initial Comments at 29.

1325. NYISO and ISO-NE support state entities playing a role in determining the cost allocation method for transmission solutions to Long-Term Transmission Needs.²⁸³¹ ISO-NE contends that states should be responsible for determining the cost allocation mechanism for policy-based, long-term transmission facility investments because they are uniquely situated to balance the benefits and costs of transmission investments intended to advance their policy goals.²⁸³²

²⁸³¹ NYISO Initial Comments at 49; ISO-NE Initial Comments at 37.

²⁸³² ISO-NE Initial Comments at 37.

1326. Mississippi Commission argues that opponents of state involvement in Long-Term Regional Transmission Planning fail to recognize the existing state regulatory role in siting electricity generation, transmission, and distribution facilities.²⁸³³

²⁸³³ Mississippi Commission Reply Comments at 5.

1327. In addition, some commenters support the agreement of states when determining a Long-Term Regional Transmission Cost Allocation Method. City of New Orleans Council comments that it is essential that state and local regulators agree to any Long-Term Regional Transmission Cost Allocation Method to ensure that the costs borne by retail customers are just and reasonable and not unduly discriminatory or preferential.²⁸³⁴ SoCal Edison concurs on the necessity for states to reach agreement.²⁸³⁵ Southern argues that unless state regulators agree to transmission project selection and cost allocation, transmission projects that result from the Commission's proposed Long-Term Regional Transmission Planning are not likely to come to fruition.²⁸³⁶

²⁸³⁴ City of New Orleans Council Initial Comments at 9.

²⁸³⁵ SoCal Edison Initial Comments at 3, 13.

²⁸³⁶ Southern Initial Comments at 9-10.

iii. Seek Changes To, Raise Concerns About, or Oppose the Requirement To Seek Agreement

1328. Some commenters support requiring transmission providers to seek agreement with Relevant State Entities regarding the Long-Term Regional Transmission Cost Allocation Method, State Agreement Process, or a combination thereof, but propose changes to the proposal. For example, Kentucky Commission Chair Chandler asserts that states should not be permanently bound by their agreement on an initial cost allocation method, and that the Commission should clarify that transmission providers should continue to seek agreement from states prior to seeking Commission approval for any change to the cost allocation method filed on compliance.²⁸³⁷ Similarly, PJM States request that the Commission require transmission providers to show they sought support of retail regulators for subsequent revisions of the initial cost allocation method.²⁸³⁸ PJM States ask that the Commission also require a regular check-in with retail regulators regarding the appropriateness of any existing cost allocation method.²⁸³⁹

²⁸³⁷ Kentucky Commission Chair Chandler Initial Comments at 3.

²⁸³⁸ PJM States Initial Comments at 10.

²⁸³⁹ Id. at 10-11.

1329. Resale Iowa states that it is concerned that large, multi-state transmission projects may increase the number of participants to the point that agreement is difficult to achieve and suggests that multi-state organizations may provide an avenue for conveying state interests to transmission providers and reaching agreements.²⁸⁴⁰ DC and MD Offices of People's Counsel support giving state entities a “defined and expansive role” in the regional transmission selection and cost allocation processes but argue that this role must be anchored by their ability to timely agree on cost allocation.²⁸⁴¹

²⁸⁴⁰ Resale Iowa Initial Comments at 2, 12.

²⁸⁴¹ DC and MD Offices of People's Counsel Initial Comments at 37.

1330. Other commenters offered modified versions of the NOPR proposal. California Commission states that the Commission should require that transmission providers use their FPA section 205 filing rights to submit the ex post cost allocation method (and/or combined method) agreed on by states even if the transmission providers in a transmission planning region determine that they will propose an ex ante cost allocation method for the Commission's consideration.²⁸⁴²

²⁸⁴² California Commission Initial Comments at 55-56.

1331. Dominion states that it may be nearly impossible to achieve state consensus in multi-state RTOs/ISOs and that if the states in a transmission planning region are unable to agree on the proper cost allocation method, the transmission providers should be able to file their own proposed cost allocation method.²⁸⁴³

²⁸⁴³ Dominion Initial Comments at 48.

1332. Some commenters oppose the proposed requirement to seek agreement. For example, Minnesota State Entities state that the term “seeking state agreement” is too vague and may lead to disputes over the rights and responsibilities of individual states or state commissions to veto or otherwise hold up needed region-wide transmission plans. Minnesota State Entities suggest replacing the term “seeking state agreement” with “take into account” or “evaluating and incorporating” state concerns in the regional cost allocation approaches as regularly happens at MISO and other RTOs/ISOs.²⁸⁴⁴ MISO Coops state that the NOPR proposal for a transmission provider to seek agreement with Relevant State Entities is unnecessary and would be inferior to current stakeholder processes, setting up redundant and potentially conflicted processes.²⁸⁴⁵

²⁸⁴⁴ Minnesota State Entities Initial Comments at 7.

²⁸⁴⁵ MISO Coops Initial Comments at 4.

1333. Kansas Commission questions the necessity of a requirement to seek the agreement of Relevant State Entities within a transmission planning region like SPP, where the SPP Regional State Committee has substantial influence over cost allocation.²⁸⁴⁶ PacifiCorp and NV Energy oppose a requirement for transmission providers to seek state agreement on a cost allocation method, contending that such a requirement would add complexity and significant process and time.²⁸⁴⁷ NRG states that under the proposal for transmission providers to seek the agreement of Relevant State Entities on cost allocation, customers that ultimately pay the cost of Long-Term Regional Transmission Facilities are left out of the cost allocation process. NRG suggests that the proposal be limited to transmission projects included in regional transmission plans that would not exist but for state public policy, as it is reasonable for states to fill this negotiating role as described in the NOPR.²⁸⁴⁸

²⁸⁴⁶ Kansas Commission Initial Comments at 15-16.

²⁸⁴⁷ PacifiCorp and NV Energy Initial Comments at 16.

²⁸⁴⁸ NRG Initial Comments at 19.

1334. MISO TOs contend that MISO and MISO TOs have already afforded opportunities for states to participate in the development of cost allocation methods,²⁸⁴⁹ and argue that the NOPR requirements as drafted are unnecessary for the MISO region.²⁸⁵⁰ MISO TOs argue that the Commission should find compelling the fact that MISO, MISO TOs, and OMS all support the existing collaborative process for cost allocation in MISO, and request that the Commission not impose changes on this process, but instead afford regional flexibility.²⁸⁵¹

²⁸⁴⁹ MISO TOs Initial Comments at 45.

²⁸⁵⁰ MISO TOs Reply Comments at 3.

²⁸⁵¹ Id. at 9 (citing APS Initial Comments at 10-11; MISO Initial Comments at 55-69; MISO TOs Initial Comments at 41-45; OMS Initial Comments at 10-13).

1335. MISO TOs disagree with commenters that argue that the NOPR provided too much discretion and deference to transmission providers,²⁸⁵² or that the Commission should require transmission providers to add a mechanism that ensures compliance with the requirements to include Relevant State Entities in cost allocation.²⁸⁵³ MISO TOs state that these proposals are contrary to the FPA because they attempt to usurp the statutory rights of transmission providers and point to similar sentiments expressed by the Indicated PJM TOs.²⁸⁵⁴

²⁸⁵² Id. at 4 (citing California Commission Initial Comments at 51-54).

²⁸⁵³ Id. at 4-5 (citing NARUC Initial Comments at 49; NESCOE Initial Comments at 16-19, 46 (requesting that the Commission either require codification of states' roles for cost allocation of long-term regional transmission facilities in OATTs or require explanation following consultation with states of a different approach)).

²⁸⁵⁴ Id. at 5, 8 (citing Indicated PJM TOs Initial Comments at 23).

iv. Requirements Associated With Seeking Agreement of Relevant State Entities

1336. ACEG, ACORE, and NESCOE support the NOPR proposal to require transmission providers to demonstrate their good faith efforts to seek agreement from Relevant State Entities before proposing a Long-Term Regional Transmission Cost Allocation Method, State Agreement Process, or combination thereof.²⁸⁵⁵ AEE states that the final order should better define what constitutes “good faith effort” to seek agreement on cost allocation from states, including the Commission's minimum expectations concerning the time that transmission providers must allow states to reach agreement, the need to hold meetings, and related topics.²⁸⁵⁶ OMS, on the other hand, urges the Commission to not require a formal process in which transmission providers must demonstrate how they sought the agreement of state entities.²⁸⁵⁷

²⁸⁵⁵ ACEG Initial Comments at 65; ACORE Initial Comments at 18 (citing NOPR, 179 FERC ¶ 61,028 at PP 306, 308); NESCOE Initial Comments at 59 (citing NOPR, 179 FERC ¶ 61,028 at P 308).

²⁸⁵⁶ AEE Initial Comments at 33-34.

²⁸⁵⁷ OMS Initial Comments at 11.

1337. NARUC recommends that the Commission require, at a minimum, that transmission providers: (1) communicate with Relevant State Entities promptly in a manner that is reasonably calculated to be received by the Relevant State Entities and (2) establish a forum for negotiation that enables robust participation from Relevant State Entities and transmission providers.²⁸⁵⁸ PacifiCorp and NV Energy urge the Commission to clarify that a transmission provider's obligation under any final order is only to provide state regulators an opportunity to participate in the process of establishing a cost allocation method, should they so choose.²⁸⁵⁹ NESCOE asserts that the Commission should require transmission providers to afford Relevant State Entities sufficient time to agree on a cost allocation approach. NESCOE advocates for the Commission to give states six months from the effective date of a final order to agree on a cost allocation method, which NESCOE argues is needed due to the complexity involved.²⁸⁶⁰

²⁸⁵⁸ NARUC Initial Comments at 44.

²⁸⁵⁹ PacifiCorp and NV Energy Initial Comments at 17.

²⁸⁶⁰ NESCOE Initial Comments at 60.

1338. Some commenters support the NOPR proposal to provide states flexibility in determining what constitutes agreement among Relevant State Entities on the cost allocation approach for Long-Term Regional Transmission Facilities.²⁸⁶¹ Alabama Commission contends that the Commission should not establish any specific timeline for negotiation to allow sufficient time for states to reach such agreement.²⁸⁶² In contrast, ACEG argues that there must be a firm time frame for any negotiations, because allowing Relevant State Entities more time to reach agreement could unnecessarily delay the process.²⁸⁶³ Likewise, Pine Gate and PIOs support requiring a firm deadline, arguing that absent such a requirement, a single state or a handful of states could significantly delay transmission development.²⁸⁶⁴

²⁸⁶¹ See, e.g., ACORE Initial Comments at 18 (citing NOPR, 179 FERC ¶ 61,028 at PP 306, 308); Georgia Commission Initial Comments at 8; Massachusetts Attorney General Initial Comments at 20 (citing NOPR, 179 FERC ¶ 61,028 at PP 306, 308); NARUC Initial Comments at 47-48 (citing NOPR, 179 FERC ¶ 61,028 at P 306); Nebraska Commission Initial Comments at 10; NESCOE Initial Comments at 58; Pacific Northwest State Agencies Initial Comments at 24-25 (citing NOPR, 179 FERC ¶ 61,028 at PP 309, 318).

²⁸⁶² Alabama Commission Initial Comments at 9.

²⁸⁶³ ACEG Initial Comments at 64-65.

²⁸⁶⁴ Pine Gate Initial Comments at 46; PIOs Initial Comments at 69-70.

1339. While ACEG supports the NOPR proposal, ACEG cautions that this flexibility should not grant states veto power over the agreement.²⁸⁶⁵ Similarly, PJM States argue that the Commission should not require unanimity in determining an initial Long-Term Regional Transmission Cost Allocation Method, and instead, retain the proposal in the NOPR to allow states to determine how they will come to agreement on a Long-Term Regional Transmission Facility cost allocation approach.²⁸⁶⁶ New Jersey Commission further asserts that the Commission must ensure that transmission providers cannot unilaterally veto proposals that result from states' negotiations on a cost allocation approach.²⁸⁶⁷

²⁸⁶⁵ ACEG Initial Comments at 66.

²⁸⁶⁶ PJM States Reply Comments at 4 (citing NOPR, 179 FERC ¶ 61,028 at PP 304, 319).

²⁸⁶⁷ New Jersey Commission Initial Comments at 17.

1340. Nebraska Commission asserts that the Commission should allow RTOs/ISOs that have an existing decision-making process that includes state entity participation to continue using it, citing SPP's Regional State Committee and MISO's OMS as well-established processes developed over many years with stakeholder input. Nebraska Commission adds that providing flexibility in this process for transmission providers would be the least disruptive and most useful approach.²⁸⁶⁸ Relatedly, ACORE states that where agreements on cost allocation have already been reached with state entities for transmission projects with multiple benefits, the Commission should not require transmission providers to revisit those agreements.²⁸⁶⁹

²⁸⁶⁸ Nebraska Commission Initial Comments at 10.

²⁸⁶⁹ ACORE Initial Comments at 18 (NOPR, 179 FERC ¶ 61,028 at P 314).

1341. ISO-NE also supports the Commission's proposal to afford transmission providers flexibility in determining what constitutes state agreement, as well as the process by which they seek agreement from the states. ISO-NE argues that if state agreement cannot be reached, the Commission should allow the transmission planning region to develop a fallback cost allocation method for use in the event that the states agree to move forward with a long-term transmission facility to advance public policy, but do not agree on a cost allocation method. ISO-NE requests that a final order be clear that the OATT will be the means by which the states will communicate the agreed cost allocation method to the transmission provider, but the OATT should not dictate the process by which states engage to achieve consensus.²⁸⁷⁰

²⁸⁷⁰ ISO-NE Initial Comments at 37-38.

1342. Some commenters favor mandating what constitutes agreement among Relevant State Entities. Pine Gate states that the Commission should establish a minimum set of criteria outlining when it will consider there to be such agreement. Pine Gate also asks for clarification as to whether unanimity is necessary for states to reach agreement on a cost allocation method.²⁸⁷¹ Similarly, AEE requests additional guidance on what it means for states to “agree” to cost allocation approaches.²⁸⁷² Shell states that an OATT mechanism that clearly delineates the process and timing for state input will facilitate the participation of Relevant States Entities. However, Shell further states, the OATT provision could provide flexibility for stakeholders to identify the relevant agency for each state as the voting entity for cost allocation decisions.²⁸⁷³

²⁸⁷¹ Pine Gate Initial Comments at 45-46.

²⁸⁷² AEE Initial Comments at 32-33 (citing NOPR, 179 FERC ¶ 61,028 at P 306).

²⁸⁷³ Shell Initial Comments at 16-17.

1343. Acadia Center and CLF assert that the Commission should clarify that states within a given transmission planning region need not unanimously agree on a cost allocation method and can define agreement as necessary when a majority of states in such region approve a cost allocation method for transmission facilities.²⁸⁷⁴ Acadia Center and CLF explain that such an approach is consistent with NESCOE's memorandum of understanding in ISO-NE,²⁸⁷⁵ and similarly, New England for Offshore Wind argues that the Commission should not require agreement to be unanimous among states in a multi-state transmission planning region.²⁸⁷⁶

²⁸⁷⁴ Acadia Center and CLF Initial Comments at 30.

²⁸⁷⁵ Id. at 31 (citing Memorandum of Understanding Among ISO-NE, NEPOOL, and NESCOE, at 3, 9 (Nov. 21, 2007), https://www.iso-ne.com/static-assets/documents/regulatory/part_agree/mou_final.pdf).

²⁸⁷⁶ New England for Offshore Wind Initial Comments at 4-5.

1344. PIOs also argue that the Commission should not require that states in a particular transmission planning region unanimously approve an ex ante cost allocation method. PIOs assert, rather, that the Commission should allow transmission providers to adopt a cost allocation method that is otherwise just and reasonable with agreement among a majority of states. PIOs state that each RTO/ISO has an organization of states that operates as a committee and that most of these committees require a simple majority vote (for example, the SPP Regional State Committee, OPSI, and OMS) and that the experience with the RTO/ISO regional state committees can be extrapolated and applied to the non-RTO/ISO transmission planning regions as well.²⁸⁷⁷ Pattern Energy proposes that a reasonable threshold for “agreement” would be for one-half of the Relevant State Entities to agree to the Long-Term Regional Transmission Cost Allocation Method, State Agreement Process, or combination thereof.²⁸⁷⁸

²⁸⁷⁷ PIOs Initial Comments at 66-67.

²⁸⁷⁸ Pattern Energy Initial Comments at 19.

1345. In contrast, Southeast PIOs propose that state agreement should require unanimous acceptance by the states in the relevant transmission planning region. Southeast PIOs state that in the event transmission providers are unable to achieve unanimity, the Commission could presumptively impose the cost allocation mechanism approved by a plurality of the transmission planning region's states.²⁸⁷⁹

²⁸⁷⁹ Southeast PIOs Initial Comments at 56.

v. Outcome if Relevant State Entities Forgo a Role in Determining a Long-Term Regional Transmission Cost Allocation Method

1346. Some commenters support the Commission's proposal that, in the event that states forgo a role in determining the cost allocation approach for all or a subset of Long-Term Regional Transmission Facilities, transmission providers must propose a Long-Term Regional Transmission Cost Allocation Method.²⁸⁸⁰

²⁸⁸⁰ MISO Initial Comments at 67; NESCOE Initial Comments at 59; Pennsylvania Commission Initial Comments at 13; PIOs Initial Comments at 67.

vi. Outcome if Relevant State Entities Fail To Reach Agreement on a Cost Allocation Method

1347. Several commenters agree with the proposal that, in the event that Relevant State Entities fail to reach an agreement on a cost allocation method, transmission providers must file a cost allocation method with the Commission.²⁸⁸¹ NARUC recommends that if Relevant State Entities are unable to reach agreement on cost allocation, the Commission should require transmission providers to file changes to their OATTs that reflect as much consensus as was reached.²⁸⁸²

²⁸⁸¹ ACEG Initial Comments at 64; Entergy Initial Comments at 31; Pacific Northwest State Agencies Initial Comments at 29; PacifiCorp and NV Energy Initial Comments at 16; Pattern Energy Initial Comments at 19; TAPS Initial Comments at 4, 23-24.

²⁸⁸² NARUC Initial Comments at 48-49.

1348. PIOs state that when cost allocation disputes occur, the Commission could use its authority to convene a joint board with affected states to consider issues and make decisions.²⁸⁸³ PIOs further state that if states cannot agree to an ex ante cost allocation method by the compliance deadline for the final order, the Commission should institute a default cost allocation method.²⁸⁸⁴

²⁸⁸³ PIOs Initial Comments at 67 (citing 16 U.S.C. 824h; 18 CFR 385.1304).

²⁸⁸⁴ Id. at 69.

1349. Similarly, Eversource and Vermont Electric and Vermont Transco state that when Relevant State Entities fail to agree on a cost allocation method, the Commission should establish the Long-Term Regional Transmission Cost Allocation Method.²⁸⁸⁵ To improve transparency and certainty, Clean Energy Associations state that the Commission should establish a cost allocation method upfront for situations where “state concurrence on either an ex ante or ex post approach” cannot be reached, submitting that a 90-day period would be reasonable for the Commission to determine a cost allocation method in the absence of state concurrence on either type of approach.²⁸⁸⁶

²⁸⁸⁵ Eversource Initial Comments at 30 (citing NOPR, 179 FERC ¶ 61,028 at P 310 (citation omitted)); Vermont Electric and Vermont Transco Initial Comments at 4.

²⁸⁸⁶ Clean Energy Associations Initial Comments at 36.

1350. In contrast, Pacific Northwest State Agencies oppose the Commission establishing a Long-Term Regional Transmission Cost Allocation Method on its own initiative.²⁸⁸⁷ NESCOE states that having the transmission provider file a cost allocation method when states cannot agree is preferable to the Commission establishing the cost allocation method. Specifically, NESCOE asserts that a more appropriate role for the Commission is to establish general principles under a final order and evaluate compliance filings made by transmission providers (or subsequent FPA section 205 proposals down the road) for adherence to those principles.²⁸⁸⁸

²⁸⁸⁷ Pacific Northwest State Agencies Initial Comments at 29.

²⁸⁸⁸ NESCOE Initial Comments at 61 (citing NOPR, 179 FERC ¶ 61,028 at P 314).

1351. NESCOE further suggests that if the states cannot reach agreement within the first four months after the effective date of a final order, they should be provided the opportunity to request that the Commission appoint one or more senior staff members to facilitate agreement.²⁸⁸⁹

²⁸⁸⁹ Id. at 60.

1352. In contrast, where agreement is not reached in the established timeframe, ACEG states that the Commission should permit transmission providers to explain their good faith efforts undertaken to seek agreement.²⁸⁹⁰

²⁸⁹⁰ ACEG Initial Comments at 64-65.

1353. Clean Energy Associations, some state legislators, and some US Senators state that the final order should provide clarity around how disagreements among states or transmission providers regarding cost allocation will be handled.²⁸⁹¹ Clean Energy Associations recommend, and Ørsted agrees, that in the absence of such agreement, the Commission should require cost allocation to track the identified and quantifiable benefits of Long-Term Regional Transmission Facilities.²⁸⁹² Senator Schumer supports providing guidance when there is no state agreement on cost allocation to prevent state vetoes of cost allocation methods and to prevent states being incentivized to free ride on transmission planning and avoid costs.²⁸⁹³

²⁸⁹¹ Clean Energy Associations Initial Comments at 35-36 (citing NOPR, 179 FERC ¶ 61,028 at P 310); Environmental Legislators Caucus Supplemental Comments at 2; Senator Schumer Supplemental Comments at 2; US Senators Supplemental Comments at 2.

²⁸⁹² Clean Energy Associations Initial Comments at 35-36; Ørsted Initial Comments at 9.

²⁸⁹³ Senator Schumer Supplemental Comments at 2.

c. Commission Determination

1354. We decline to adopt the NOPR proposal to require transmission providers to seek the agreement of Relevant State Entities within the transmission planning region regarding the relevant cost allocation method to be applied to Long-Term Regional Transmission Facilities. Instead, we modify the NOPR proposal to establish a six-month time period (Engagement Period), during which transmission providers must: (1) provide notice of the starting and end dates for the six-month time period; (2) post contact information that Relevant State Entities may use to communicate with transmission providers about any agreement among Relevant State Entities on a Long-Term Regional Transmission Cost Allocation Method(s) and/or a State Agreement Process, as well as a deadline for communicating such agreement; and (3) provide a forum for negotiation of a Long-Term Regional Transmission Cost Allocation Method(s) and/or a State Agreement Process that enables meaningful participation by Relevant State Entities.

1355. We adopt the NOPR proposal, with modification, to define Relevant State Entities as any state entity responsible for electric utility regulation or siting electric transmission facilities within the state or portion of a state located in the transmission planning region, including any state entity as may be designated for that purpose by the law of such state.²⁸⁹⁴ We modify the definition to add the word “electric” before “utility regulation” to make clear that Relevant State Entities are those state agencies responsible for electric utility regulation, and not other types of utility regulation.

²⁸⁹⁴ See NOPR, 179 FERC ¶ 61,028 at P 304.

1356. Specifically, with respect to the mechanics of the Engagement Period, we require that transmission providers in each transmission planning region provide notice, such as on its OASIS page or public website, of the opportunity for any Relevant State Entity to participate in, and the starting and end dates of, the Engagement Period. The notice must include contact information for a single point of contact in the transmission planning region that the Relevant State Entities can use to communicate any agreement among Relevant State Entities on a Long-Term Regional Transmission Cost Allocation Method(s) and/or a State Agreement Process, as well as a deadline for communicating such agreement.²⁸⁹⁵ Such deadline must be no earlier than the end date of the Engagement Period.

²⁸⁹⁵ As we discuss above in the Cost Allocation for Long-Term Regional Transmission Facilities section, Relevant State Entities must indicate that they have agreed to any State Agreement Process in order for any such process to be eligible for acceptance by the Commission in compliance with this final order. Consistent with FPA section 205, however, transmission providers have the right to not file a State Agreement Process. See infra Filing Rights Under the FPA section for a further discussion. See also Atl. City Elec. Co. v. FERC, 295 F.3d 1, 9 (D.C. Cir. 2002) (finding that the Commission may not require utility owners to give up statutory rights under FPA section 205).

1357. We require transmission providers in each transmission planning region to provide a forum for negotiation that enables meaningful participation by Relevant State Entities during the Engagement Period, consistent with NARUC's suggestion.²⁸⁹⁶ We require transmission providers to explain on compliance how they complied with the requirement to establish and provide notice of an Engagement Period for Relevant State Entities to negotiate a Long-Term Regional Transmission Cost Allocation Method(s) and/or State Agreement Process, as well as how they complied with the requirement to provide a forum for such negotiation. In response to commenters that argue that their transmission planning regions already have mechanisms for state involvement in regional transmission planning and cost allocation processes,²⁸⁹⁷ we note that Relevant State Entities can choose to use existing mechanisms for state involvement in regional transmission planning and cost allocation processes, such as the SPP Regional State Committee and the Organization of MISO States, to negotiate a Long-Term Regional Transmission Cost Allocation Method(s) and/or a State Agreement Process. However, even where Relevant State Entities indicate to the transmission providers in a transmission planning region that they will use such existing mechanisms as the forum for their negotiations, transmission providers must still demonstrate on compliance that, consistent with the requirements of this final order, they provided notice of the starting and end dates for the six-month time period and posted contact information that Relevant State Entities may use to communicate with transmission providers about their proposed Long-Term Regional Transmission Cost Allocation Method(s) and/or a State Agreement Process to which Relevant State Entities have agreed, as well as a deadline for communicating such agreement.

²⁸⁹⁶ NARUC Initial Comments at 44.

²⁸⁹⁷ E.g., MISO Initial Comments at 61; SPP Initial Comments at 28-30; PJM Initial Comments at 116.

1358. As described above, we adopt a six-month time period for the Engagement Period. While the NOPR did not propose a particular time period for the Engagement Period, we believe that the six-month time period that we adopt here balances the need to ensure that Relevant State Entities have sufficient time to negotiate a Long-Term Regional Transmission Cost Allocation Method(s) and/or State Agreement Process if they choose to do so, particularly given the complexity that such negotiations may involve, with the need to ensure that an extended Engagement Period does not unduly delay the implementation of the reforms that we adopt in this final order. We appreciate Alabama Commission's concerns about establishing a specific time period for negotiations, but we find that limiting the Engagement Period to six months is necessary to ensure that transmission providers have sufficient time to prepare their compliance filings in advance of the compliance deadlines that we establish in this final order.²⁸⁹⁸

²⁸⁹⁸ Alabama Commission Initial Comments at 9.

1359. If the Relevant State Entities participating in an Engagement Period agree on a Long-Term Regional Transmission Cost Allocation Method(s) and/or State Agreement Process and provide that Method or Methods and/or State Agreement Process to the transmission providers no later than the deadline for communicating agreement, which must be no earlier than the end date of the Engagement Period, the transmission providers may file the agreed-to Long-Term Regional Transmission Cost Allocation Method(s) and/or State Agreement Process on compliance. We note, however, that the ultimate decision as to whether to file a Long-Term Regional Transmission Cost Allocation Method(s) and/or State Agreement Process to which Relevant State Entities have agreed will continue to lie with the transmission providers.

1360. We do not adopt the NOPR proposal that for each state, a single entity should be designated as the voting or representative entity. In light of the fact that we now require an Engagement Period, rather than mandating that transmission providers seek agreement with Relevant Sate Entities on the relevant cost allocation method or process, we decline to adopt a requirement that a single entity be designated for each state as the voting or representative entity. In addition, we decline to define what constitutes agreement among Relevant State Entities, how such agreement is reached, and which Relevant State Entities must reach such agreement during the Engagement Period. Instead, we leave such matters, including whether to use existing state processes as a forum for negotiations, as Nebraska Commission advocates,²⁸⁹⁹ to the Relevant State Entities participating in the Engagement Period to determine. The requirements that we establish in the final order are that transmission providers must demonstrate on compliance that they established and provided notice of an Engagement Period for Relevant State Entities to negotiate a Long-Term Regional Transmission Cost Allocation Method(s) and/or State Agreement Process, as well as that they provided a forum for such negotiation.

²⁸⁹⁹ Nebraska Commission Initial Comments at 10.

1361. Likewise, we do not agree with commenters, like Pine Gate, that the Commission should establish a minimum set of criteria for a state agreement.²⁹⁰⁰ Instead, we find that the criteria for agreement are more appropriately determined by the Relevant State Entities participating in the Engagement Period. Whether agreement should require a majority,²⁹⁰¹ a threshold of one-half of the participating Relevant State Entities,²⁹⁰² or unanimity (Southeast PIOs) ²⁹⁰³ is a decision for the Relevant State Entities participating in the Engagement Period. We find that this approach also addresses many of the issues commenters raised relating to the potential difficulties associated with mandating agreement on a Long-Term Regional Transmission Cost Allocation Method(s), including ACEG's concern that requiring agreement could lead to certain states holding a veto power over the agreement.²⁹⁰⁴ Moreover, we reiterate that, as discussed in the Cost Allocation Methods for Long-Term Regional Transmission Facilities section above, transmission providers must file a Long-Term Regional Transmission Cost Allocation Method on compliance with this final order; a State Agreement Process cannot be the sole method filed for cost allocation for Long-Term Regional Transmission Facilities.

²⁹⁰⁰ Pine Gate Initial Comments at 45-46.

²⁹⁰¹ Acadia Center and CLF Initial Comments at 30; PIOs Initial Comments at 66-67.

²⁹⁰² Pattern Energy Initial Comments at 19.

²⁹⁰³ Southeast PIOs Initial Comments at 56.

²⁹⁰⁴ ACEG Initial Comments at 66.

1362. We acknowledge commenters' support of the NOPR proposal to require transmission providers to seek the agreement of Relevant State Entities regarding the relevant cost allocation method or process to be applied to Long-Term Regional Transmission Facilities, based upon the rationale that states play a critical role in transmission planning, and that facilitating their engagement in cost allocation may minimize delays and additional costs that can be associated with associated transmission siting proceedings.²⁹⁰⁵ We find that requiring an Engagement Period provides the same opportunity for robust engagement in the cost allocation process as the NOPR proposal, and thus has the potential to achieve the same important benefits, but will reduce the practical challenges associated with requiring transmission providers to seek the agreement of Relevant State Entities.²⁹⁰⁶

²⁹⁰⁵ NOPR, 179 FERC ¶ 61,028 at P 301 (footnote omitted); see, e.g., Avangrid Initial Comments at 28; City of New Orleans Council Initial Comments at 9; SoCal Edison Initial Comments at 3, 13.

²⁹⁰⁶ See, e.g., Minnesota State Entities Initial Comments at 7 (claiming that a requirement to seek agreement could lead to disputes over the rights and responsibilities of individual states or state commissions to veto or otherwise hold up needed region-wide transmission plans).

1363. While we agree with commenters regarding the value of an opportunity for state engagement regarding cost allocation, and accordingly adopt the Engagement Period, we do not agree that the views of state regulators regarding the appropriate cost allocation approach are dispositive.²⁹⁰⁷ Transmission providers retain the ultimate responsibility for transmission planning, and, as discussed below, they have FPA section 205 filing rights to propose tariff changes to rates, which the Commission cannot deprive them of via this final order.²⁹⁰⁸ The Commission has a statutory responsibility to review such filings to ensure that any proposed cost allocation is just and reasonable and not unduly discriminatory or preferential. Robust state engagement can valuably inform a cost allocation approach, but it cannot supplant these distinct, statutorily defined roles.

²⁹⁰⁷ See, e.g., Southern Initial Comments at 9.

²⁹⁰⁸ See, e.g., Atl. City Elec. Co. v. FERC, 295 F.3d at 9 (noting that section 205 of the FPA gives utilities the right to file rates and terms for services rendered, and finding that the Commission cannot require that utility owners give up those statutory rights under FPA section 205); infra Filing Rights Under the FPA section.

1364. We appreciate that certain commenters request to expand or clarify the NOPR's proposed definition of Relevant State Entities to include additional entities, or to otherwise allow the participation of other entities in the Engagement Period. For example, some commenters request that the definition be expanded to include Native American Tribes, self-regulated public power utilities, cooperatives, non-jurisdictional transmission providers, customer interests, state utility consumer advocates, non-traditional state agencies, and local regulatory bodies.²⁹⁰⁹ However, we decline to expand participation in the Engagement Period beyond Relevant State Entities. As discussed in the NOPR, “regional transmission facilities face significant uncertainty and risk of not reaching construction if certain stakeholders—in particular, a state regulator responsible for permitting transmission facilities—do not perceive the regional transmission facilities' value as commensurate with their costs.” ²⁹¹⁰ The Commission further stated, and we continue to believe, that “providing state regulators with a formal opportunity to develop a cost allocation method for [Long-Term Regional Transmission Facilities] selected through Long-Term Regional Transmission Planning could help increase stakeholder—and state—support for those facilities, which, in turn, may increase the likelihood that those facilities are sited and ultimately developed with fewer costly delays and better ensure just and reasonable Commission-jurisdictional rates.” ²⁹¹¹ For the same reasons, we also do not find it necessary to allow other stakeholders to participate in the Engagement Period, as some commenters advocate.²⁹¹² In response to Nevada Commission's request for additional flexibility in the term Relevant State Entity,²⁹¹³ and NESCOE's request to amend the definition to accommodate individual transmission planning regions' particular approaches to cost allocation requirements, we find that the definition of Relevant State Entities, as amended, recognizes the important role of states while providing sufficient regional flexibility for effective Engagement Period participation.²⁹¹⁴

²⁹⁰⁹ American Municipal Power Initial Comments at 5; APPA Initial Comments at 3, 42-43 (citing 16 U.S.C. 796(7), (15)); California Energy Commission Initial Comments at 3; California Municipal Utilities Initial Comments at 16-17; Large Public Power Initial Comments at 41; MISO Coops Initial Comments at 3-4; Northwest and Intermountain Initial Comments at 18; NRECA Initial Comments at 56-57; Six Cities Initial Comments at 10.

²⁹¹⁰ NOPR, 179 FERC ¶ 61,028 at P 297 (footnote omitted).

²⁹¹¹ Id. at P 299.

²⁹¹² See, e.g., Clean Energy Buyers Initial Comments at 29.

²⁹¹³ Nevada Commission Initial Comments at 13.

²⁹¹⁴ NESCOE Initial Comments at 57. As discussed below in the Proposals Relating to the Design and Operation of State Agreement Process section, we will permit other participants beyond Relevant State Entities to participate in the State Agreement Process, if agreed to by Relevant State Entities.

1365. We acknowledge SERTP Sponsors' concern that determining which Relevant State Entities would be appropriate to participate will be a function of state law,²⁹¹⁵ and, as Pennsylvania Commission points out, a state's legislature could have divided utility regulation and siting authority among different state agencies.²⁹¹⁶ In response to these concerns and Duke's clarification request,²⁹¹⁷ and as we note above, we provide flexibility on how Relevant State Entities reach agreement during the Engagement Period and decline to adopt the requirement that, for each state, a single entity should be designated as the voting or representative entity. We clarify that there may be multiple Relevant State Entities for each state, so long as each Relevant State Entity meets the definition as provided in this final order. As noted above, the definition of Relevant State Entity provides sufficient flexibility for participation in the Engagement Period.

²⁹¹⁵ SERTP Sponsors Initial Comments at 28-29.

²⁹¹⁶ Pennsylvania Commission Initial Comments at 15.

²⁹¹⁷ Duke Initial Comments at 38-39.

1366. We find that the decision to modify the NOPR proposal, which would have required transmission providers to seek agreement of Relevant State Entities, to instead require transmission providers to establish a six-month Engagement Period largely moots several other reforms proposed in the NOPR. We therefore decline to adopt other proposed reforms that detailed the requirements associated with transmission providers seeking agreement of Relevant State Entities.

1367. We note that transmission providers' compliance with this final order is not contingent on Relevant State Entities' participation in the Engagement Period. Transmission providers' compliance with this final order is also not contingent on Relevant State Entities reaching an agreement on a Long-Term Regional Transmission Cost Allocation Method(s) and/or State Agreement Process. If Relevant State Entities fail to reach agreement on a Long-Term Regional Transmission Cost Allocation Method(s) and/or State Agreement Process, transmission providers must still file one or more Long-Term Regional Transmission Cost Allocation Methods in compliance with this final order. We acknowledge commenters' recommendations on action we should take in the event Relevant State Entities fail to reach an agreement. But we decline to convene a joint board of affected states if Relevant State Entities cannot agree, as suggested by PIOs,²⁹¹⁸ and the Commission will not establish a Long-Term Regional Transmission Cost Allocation Method in the event that Relevant State Entities fail to agree, as proposed by Eversource and Vermont Electric and Vermont Transco.²⁹¹⁹ Because this final order requires transmission providers to file a Long-Term Regional Transmission Cost Allocation Method, these additional steps are not necessary to ensure that there will be a cost allocation method for Long-Term Regional Transmission Facilities that are selected as the more efficient or cost-effective regional transmission solutions to Long-Term Transmission Needs.

²⁹¹⁸ PIOs Initial Comments at 67.

²⁹¹⁹ Eversource Initial Comments at 30; Vermont Electric and Vermont Transco Initial Comments at 4.

1368. Furthermore, we decline to adopt NARUC's request that the Commission provide a mechanism for future review of cost allocation methods for Long-Term Regional Transmission Facilities.²⁹²⁰ This final order requires that transmission providers establish a one-time Engagement Period for purposes of compliance with this final order; transmission providers may file subsequent changes to their cost allocation methods for Long-Term Regional Transmission Facilities pursuant to their filing rights under FPA section 205, at which point parties may file comments in support of or protests to such filings. We note, however, that some RTOs/ISOs have stakeholder processes that occur prior to making FPA section 205 filings on cost allocation, which could provide an additional opportunity for stakeholders to present their views on a proposed cost allocation method for Long-Term Regional Transmission Facilities. We decline to require future Engagement Periods beyond the initial Engagement Period but note that transmission providers may hold future Engagement Periods if they believe such periods would be beneficial.

²⁹²⁰ NARUC Initial Comments at 49-50.

3. Proposals Relating to the Design and Operation of State Agreement Processes

a. NOPR Proposal

1369. The Commission preliminarily found that a State Agreement Process by which one or more Relevant State Entities voluntarily agree to a cost allocation method for Long-Term Regional Transmission Facilities (or a portfolio of such Facilities) after they are selected may be a just and reasonable approach to cost allocation for such regional transmission facilities and that the State Agreement Process could apply to all Long-Term Regional Transmission Facilities or only to a subset thereof.²⁹²¹

²⁹²¹ NOPR, 179 FERC ¶ 61,028 at P 311.

1370. The Commission proposed to require that if the Relevant State Entities agree on a State Agreement Process, then the transmission providers in each transmission planning region must describe in their OATTs the process by which Relevant State Entities would reach voluntary agreement pursuant to that State Agreement Process regarding the cost allocation for Long-Term Regional Transmission Facilities, including the timeline for such processes. The Commission noted that, for example, the transmission providers in each transmission planning region could specify in their OATTs the procedures by which such voluntary agreements by the Relevant State Entities may be filed with the Commission for consideration under FPA section 205. The Commission proposed to require that such procedures include a process by which Relevant State Entities would agree to funding contributions and the mechanism by which such costs would be allocated (e.g., through a pro forma contract).²⁹²²

²⁹²² Id. P 313.

b. Comments

i. Support for State Agreement Process

1371. Several commenters generally support the Commission's proposal to permit transmission providers to submit a State Agreement Process as a Long-Term Regional Transmission Cost Allocation Method.²⁹²³ NARUC supports allowing Relevant State Entities to agree to using the State Agreement Process to commit their customers to fund all or a portion of the costs of a Long-Term Regional Transmission Facility as a means of meeting a transmission planning region's selection criteria.²⁹²⁴

²⁹²³ American Municipal Power Initial Comments at 12; City of New Orleans Initial Comments at 9-10; Entergy Initial Comments at 34-35; Georgia Commission Initial Comments at 8-9; ISO-NE Initial Comments at 37; ITC Initial Comments at 28-32; Louisiana Commission Initial Comments at 33: Mississippi Commission Initial Comments at 6; NARUC Initial Comments at 53-54; NESCOE Initial Comments at 62; North Carolina Commission and Staff Initial Comments at 15-16; Ohio Commission Federal Advocate Initial Comments at 12; Pacific Northwest State Agencies Initial Comments at 27, Pennsylvania Commission Initial Comments at 12-13; PIOs Initial Comments at 64; TAPS Initial Comments at 4-5, 24-26; Resale Iowa Initial Comments at 2, 12; Southern Initial Comments at 9; SERTP Sponsors Initial Comments at 28-29.

²⁹²⁴ NARUC Initial Comments at 53-54 (citing NOPR, 179 FERC ¶ 61,028 at P 252).

1372. Mississippi Commission contends that the State Agreement Process will likely promote transmission construction because authority over transmission construction and siting rests with the states.²⁹²⁵ Mississippi Commission asserts that the State Agreement Process is particularly suited to transmission facilities that promote state policies, noting that Long-Term Regional Transmission Planning should address state laws and utility integrated resource plans that affect the resource mix, but the cost of the transmission facilities needed to address those issues must be borne by the states and utilities whose laws and integrated resource plans require those facilities.²⁹²⁶ Likewise, Ohio Commission Federal Advocate asserts that a State Agreement Process is a just and reasonable way of allocating costs for public policy projects.²⁹²⁷ Relatedly, ELCON states that the Commission should emphasize that one state's public policy goals cannot supplant the cost causation principle or be used to impose costs on customers in states that do not have the same goals.²⁹²⁸

²⁹²⁵ Mississippi Commission Initial Comments at 22.

²⁹²⁶ Mississippi Commission Reply Comments at 3, 24 (citing Alabama Commission Initial Comments at 4; Illinois Commission at 4, 7-8).

²⁹²⁷ Ohio Commission Federal Advocate Initial Comments at 12.

²⁹²⁸ ELCON Initial Comments at 17-18. Under the cost causation principle, the cost of transmission facilities must be allocated to those who benefit from those facilities in a manner that is at least roughly commensurate with estimated benefits. See S.C. Pub. Serv. Auth. v. FERC, 762 F.3d at 53 (quoting Order No. 1000, 136 FERC ¶ 61,051 at P 586); see also ICC v. FERC I, 576 F.3d at 476.

1373. Southern also notes that state support for transmission projects is crucial as the states retain primary jurisdiction over transmission siting and certification.²⁹²⁹ Southern asserts that states should generally be allowed to make transmission project selection and cost allocation decisions pursuant to the State Agreement Process after the planning is performed and specific costs and benefits are identified.²⁹³⁰ North Carolina Commission and Staff agree that the Commission should allow states to negotiate a cost allocation method after a transmission facility has been selected through Long-Term Regional Transmission Planning.²⁹³¹ Similarly, Pennsylvania Commission states that having the State Agreement Process occur after project selection will put planning in the driver's seat, and state negotiation will be centered around a transmission project already selected, which will ensure that project planning and selection run smoothly while not frustrating the fulfillment of a state's need during the state negotiation process.²⁹³²

²⁹²⁹ Southern Initial Comments at 9.

²⁹³⁰ Id. at 27.

²⁹³¹ North Carolina Commission and Staff Initial Comments at 15-16.

²⁹³² Pennsylvania Commission Initial Comments at 12-13.

1374. Massachusetts Attorney General states that, due to the range and complexity of benefits and the uncertainty associated with using a long transmission planning horizon, permitting states to diverge from ex ante cost allocation requirements for particular transmission projects or portfolios of projects may increase the likelihood that those facilities are sited and developed with fewer costly delays and will better ensure just and reasonable rates. Massachusetts Attorney General states that the potential benefits of the State Agreement Process outweigh any concerns about free ridership.²⁹³³ R Street agrees that the proposal for a State Agreement Process could reduce cost allocation and siting disputes, but asserts that states lack the jurisdiction and resources to serve an economic oversight role and thus that state participation is not a substitute for the Commission's economic oversight or for competitive mechanisms.²⁹³⁴

²⁹³³ Massachusetts Attorney General Initial Comments at 19 (citing NOPR, 179 FERC ¶ 61,028 at PP 299, 314).

²⁹³⁴ R Street Initial Comments at 4, 12.

1375. NESCOE supports the proposal that the State Agreement Process may apply to all, or a subset of, Long-Term Regional Transmission Facilities. NESCOE contends that, depending on the circumstances, Relevant State Entities may find it unnecessary to have the State Agreement Process apply to all such facilities, and having the flexibility to apply the State Agreement Process to a subset of facilities is a reasonable approach.²⁹³⁵

²⁹³⁵ NESCOE Initial Comments at 62-63 (citing NOPR, 179 FERC ¶ 61,028 at P 311).

ii. Concerns and Conditions for Support Regarding State Agreement Process

1376. Some commenters qualified their support for the State Agreement Process and/or suggest that the Commission impose conditions upon the process, including those that advocated for flexibility and deference to existing efforts to incorporate state involvement.²⁹³⁶ US DOE, on behalf of its Federal power marketing administrations, notes that, to the extent that state agreements may involve the participation of Federal power marketing administrations, the process will need to accommodate the jurisdictional implications of the parties involved and that any agreements Federal power marketing administrations execute must be consistent with their statutory authorities.²⁹³⁷

²⁹³⁶ Supra note 2923.

²⁹³⁷ US DOE Initial Comments at 50.

1377. Entergy states its understanding that state agreements will not bind retail commissions in exercising other authorities like siting and permitting.²⁹³⁸ Likewise, Pennsylvania Commission states that any State Agreement Process cannot serve to waive or diminish the state's siting authority over transmission facilities.²⁹³⁹

²⁹³⁸ Entergy Initial Comments at 29-30 (citing NOPR, 179 FERC ¶ 61,028 at PP 302-309, 314).

²⁹³⁹ Pennsylvania Commission Initial Comments at 14.

1378. Mississippi Commission states that involving state regulators in cost allocation ensures that one state's policy choices are not imposed on another state's consumers without their consent and that no state should be forced to subsidize implementation of another state's laws and policies.²⁹⁴⁰ Likewise, Avangrid states that one state should not be required to fund public policies of another state, as this could derail clean energy efforts and allow states to avoid paying their fair share.²⁹⁴¹ NRG supports a role for states on transmission projects that would not exist but for state public policy.²⁹⁴² Virginia Commission Staff avers that state entities should retain the right to assume cost responsibility for transmission projects intended to advance their public policy goals.²⁹⁴³

²⁹⁴⁰ Mississippi Commission Reply Comments at 2-3.

²⁹⁴¹ Avangrid Initial Comments at 29.

²⁹⁴² NRG Initial Comments at 6.

²⁹⁴³ Virginia Commission Staff Initial Comments at 6.

1379. Pennsylvania Commission argues that the terms ex ante and ex post used in the definitions of the Long-Term Regional Transmission Cost Allocation Method and State Agreement Process are vague and that instead, the Commission should include in the definitions that the Long-Term Regional Transmission Cost Allocation Method and State Agreement Process are determined either before or after a transmission facility is selected.²⁹⁴⁴

²⁹⁴⁴ Pennsylvania Commission Initial Comments at 14-15.

1380. Entergy asserts that the Commission should permit flexibility as to when a State Agreement Process occurs despite the NOPR's reference to the State Agreement Process as “an ex post cost allocation process” because in some transmission planning regions, it may be appropriate for the State Agreement Process to begin before transmission projects are selected.²⁹⁴⁵ Entergy states that any State Agreement Process should be finalized before a portfolio is submitted to the MISO Board of Directors because it will provide certainty to stakeholders as to how costs will be allocated and ensure that the MISO Board of Directors understands how the cost allocation for the portfolio is consistent with the law and capable of withstanding legal challenges.²⁹⁴⁶ Relatedly, Mississippi Commission argues that Long-Term Regional Transmission Facilities should not be presented to an RTO/ISO governing board until states have reached agreement on cost allocation.²⁹⁴⁷

²⁹⁴⁵ Entergy Initial Comments at 34-35.

²⁹⁴⁶ Id. at 35.

²⁹⁴⁷ Mississippi Commission Initial Comments at 25-26.

1381. Similarly, MISO asserts that the ex post nature of the State Agreement Process renders it unsuitable as the sole cost allocation method for Long-Term Regional Transmission Facilities. As such, MISO contends, cost allocation should be available only during a defined time set forth in the OATT, after the approval of the transmission projects, to avoid delays in the competitive transmission development process. MISO further states that failure to conclude the State Agreement Process in that timeframe should result in the transmission provider reverting to its default Long-Term Regional Transmission Cost Allocation Method. Finally, MISO asks that the Commission clarify that transmission providers can make changes to their competitive transmission development process to accommodate the State Agreement Process.²⁹⁴⁸

²⁹⁴⁸ MISO Initial Comments at 69.

1382. DC and MD Offices of People's Counsel recommend that the State Agreement Process afford an opportunity for state entities to participate in transmission project evaluation and selection. They recommend this approach because of regional grid expansions that optimize the interconnection of portfolios of resources that likely result from power supply commitments made in conformity with state policies, and because state entity participation in cost allocation after a transmission project has already been selected may foreclose the consideration of state-specific benefits of grid decarbonization during project evaluation and selection.²⁹⁴⁹

²⁹⁴⁹ DC and MD Offices of People's Counsel Initial Comments at 37-38.

1383. Alabama Commission contends that the Commission should provide for flexibility in the form and substance of any state agreement. Specifically, Alabama Commission explains that under Alabama law, it is unclear how the Alabama Commission would enter into such agreement and that its agreement may instead have to take the form of an order directed to Alabama Power.²⁹⁵⁰ SERTP Sponsors also state that the Commission should recognize the importance of flexibility in the development and structure of state agreements, agreeing that a state public service commission may not have authority to enter into binding state agreements. SERTP Sponsors offer that a state agreement for a state public service commission could be an endorsement of a voluntary participant funding agreement among its jurisdictional transmission providers.²⁹⁵¹ Southeast PIOs state that the applicable cost allocation method should account for regional preferences and adds that an ex ante method is likely a non-starter in the Southeast, but that a State Agreement Process has real potential.²⁹⁵²

²⁹⁵⁰ Alabama Commission Initial Comments at 10 n.8.

²⁹⁵¹ SERTP Sponsors Initial Comments at 28-29.

²⁹⁵² Southeast PIOs Reply Comments at 22-23 (citing Dominion Initial Comments at 50-52; Duke Initial Comments at 35-37; SERTP Sponsors Initial Comments at 28-29; Southern Initial Comments at 27-28).

1384. Acadia Center and CLF state that voluntary state agreements relating to offshore wind could result in more efficient and cost-effective Long-Term Regional Transmission Facilities but request further clarity on voluntary agreements to assist states in understanding how these agreements allocate costs of transmission upgrades necessary for increased interconnection of renewable projects.²⁹⁵³ New England Systems states that the Commission should clarify that any State Agreement Process cannot increase the costs paid by a non-consenting transmission customer under an existing cost allocation method.²⁹⁵⁴ Pennsylvania Commission seeks clarification that a state that is not a party to a cost allocation agreement developed through the State Agreement Process cannot be required to pay for a selected transmission project.²⁹⁵⁵

²⁹⁵³ Acadia Center and CLF Initial Comments at 32 & n.93.

²⁹⁵⁴ New England Systems Initial Comments at 23.

²⁹⁵⁵ Pennsylvania Commission Initial Comments at 12.

1385. Cypress Creek states that the involvement of states in Long-Term Regional Transmission Planning is important but that a State Agreement Process should not be required.²⁹⁵⁶ MISO requests that the State Agreement Process be optional so as not to disrupt current frameworks of state collaboration or delay transmission expansion.²⁹⁵⁷ MISO further asserts that the proposed cost allocation reforms may undermine existing cost allocation methods and that the Commission should not extend any requirements regarding state involvement to near-term reliability and economic regional transmission planning processes, which are beyond the scope of the final order.²⁹⁵⁸

²⁹⁵⁶ Cypress Creek Reply Comments at 14 (citing Clean Energy Associations Initial Comments at 34).

²⁹⁵⁷ MISO Reply Comments at 19.

²⁹⁵⁸ MISO Initial Comments at 60, 71.

1386. In addition, MISO argues that there should be no requirement for unanimous agreement under the State Agreement Process, particularly if the decision to adopt it rests with Relevant State Entities.²⁹⁵⁹ MISO states that some flexibility as to what constitutes agreement of Relevant State Entities may be justified.²⁹⁶⁰ While Interwest supports increased state engagement, it argues that state entities should not be authorized to limit regional transmission plans by veto or by using unjust and unreasonable cost allocation principles that are subjective or fail to comprehensively consider benefits.²⁹⁶¹

²⁹⁵⁹ Id. at 66-67; MISO Reply Comments at 19.

²⁹⁶⁰ MISO Initial Comments at 66.

²⁹⁶¹ Interwest Initial Comments at 16.

1387. Chemistry Council contends that consultation with affected states should not give individual states the power to “hijack” the transmission planning process by rejecting necessary investments, withholding consent, or delaying the decision-making process. Chemistry Council asserts that the Commission should clarify that in requiring transmission providers to “seek agreement” from states in transmission project selection, it is not suggesting that individual states would have a veto in the process or the ability to unduly influence the timing or outcome of decision-making.²⁹⁶²

²⁹⁶² Chemistry Council Initial Comments at 7.

1388. Evergreen Action encourages the Commission to prohibit one state or stakeholder from vetoing transmission projects or cost allocation decisions. Evergreen Action further states that if consensus is not reached under a State Agreement Process, transmission providers should not extend the time allotted to reach agreement, because this would allow individual parties to delay the approval of needed transmission and remove the time pressure on Relevant State Entities to reach agreement. Evergreen Action avers that instead transmission providers should simply explain that they conducted a good-faith effort to reach agreement.²⁹⁶³

²⁹⁶³ Evergreen Action Initial Comments at 6.

1389. SEIA also urges the Commission to limit the opportunity for any single state to veto a transmission line and to use its backstop authority under section 216 of the FPA if parties are unable to reach an agreement and a relevant state authority withholds or denies the siting permit for the transmission facility.²⁹⁶⁴ US Climate Alliance agrees that the process should encourage states to engage in good faith discussions to realize common benefits without over-leveraging a single state's power over a regional transmission project.²⁹⁶⁵ National Grid suggests that if states cannot agree within a reasonable period on a proposed cost allocation method for a specific set of Long-Term Regional Transmission Facilities, then the transmission providers or developers building those facilities should be required to file a proposed cost allocation method for them.²⁹⁶⁶ In contrast, NRG states that without recourse to an ex ante cost allocation method, negotiations under the State Agreement Process would be more productive.²⁹⁶⁷

²⁹⁶⁴ SEIA Initial Comments at 25 (citing 16 U.S.C. 824p(b)).

²⁹⁶⁵ US Climate Alliance Initial Comments at 2.

²⁹⁶⁶ National Grid Initial Comments at 25-26.

²⁹⁶⁷ NRG Initial Comments at 20-21.

1390. California Commission is concerned that the NOPR proposal grants too much deference to transmission providers and will enable them to exercise veto power over state-negotiated cost allocation agreements.²⁹⁶⁸ California Municipal Utilities and TANC ask that the Commission require that local regulatory authorities be included in any State Agreement Process, stating that the jurisdictional implications of the NOPR proposal are unclear given that public power entities are not generally subject to the jurisdiction of their respective state commissions.²⁹⁶⁹ Mississippi Commission and Northwest and Intermountain support expanding a State Agreement Process to include non-jurisdictional utilities.²⁹⁷⁰ California Municipal Utilities further assert that, if any state body is created to examine transmission planning issues, it must include public power entities.²⁹⁷¹ Because the written comment process is not sufficient to facilitate a constructive dialogue, California Municipal Utilities urge the Commission to refrain from adopting any specific proposals from the NOPR until such a dialogue between states and public power can occur.²⁹⁷²

²⁹⁶⁸ California Commission Initial Comments at 51, 54-55 (citing NOPR, 179 FERC ¶ 61,028 at P 319).

²⁹⁶⁹ California Municipal Utilities Initial Comments at 16; TANC Initial Comments at 17.

²⁹⁷⁰ Mississippi Commission Reply Comments at 5 (citing MISO Coops Initial Comments at 3-4); Northwest and Intermountain Initial Comments at 18.

²⁹⁷¹ California Municipal Utilities Initial Comments at 4.

²⁹⁷² California Municipal Utilities Reply Comments at 10.

1391. Some commenters are concerned about the reliance on voluntary contributions that may occur under a State Agreement Process. Clean Energy Associations states that while ex post frameworks that rely on voluntary contributions from states or interconnection customers may be useful in some circumstances, they may not appropriately acknowledge system-wide benefits of high-voltage elements, which under the State Agreement Process could be treated as benefitting only a single state. According to Clean Energy Associations, courts have found such an outcome improper, and this approach is unlikely to yield agreement in practice.²⁹⁷³ Likewise, Cypress Creek asserts that any ex post cost allocation method should acknowledge wide-spread benefits without imposing new restrictions.²⁹⁷⁴ AEE contends that the State Agreement Process, and more broadly the requirement to seek agreement of states regarding applicable cost allocation methods, should not substitute for allocating costs to all beneficiaries based on the broad set of benefits that regional transmission investment can provide. AEE states that reliance on voluntary state agreement should allow all states to consider the broad benefits that additional regional transmission facilities provide and the legal obligation to allocate costs commensurate with benefits received.²⁹⁷⁵

²⁹⁷³ Clean Energy Associations Initial Comments at 35 (citing Old Dominion Elec. Coop. v. FERC, 898 F.3d at 1261).

²⁹⁷⁴ Cypress Creek Reply Comments at 14.

²⁹⁷⁵ AEE Reply Comments at 15-16.

1392. DC and MD Offices of People's Counsel suggest that cost allocation should be based on the NOPR's defined benefits to all appropriate beneficiaries, with a further cost allocation to states that opt to submit additional transmission needs. DC and MD Offices of People's Counsel state that this approach would be more expansive than the existing State Agreement Approach in PJM because it would allow for a parallel default allocation of costs to the state entities not opting in, but narrowed to align with the NOPR-listed benefits, and a second round of cost allocation after the participating Relevant State Entities have shared costs aligned with the broader measure of benefits, which would help avoid the free-rider problem.²⁹⁷⁶

²⁹⁷⁶ DC and MD Offices of People's Counsel Initial Comments at 38-39 (citing PJM Interconnection, L.L.C., 179 FERC ¶ 61,024).

1393. Avangrid states that a fair approach to cost allocation under the State Agreement Process could be payments and benefits based on tiers, providing the example that if states A and B have public policies supported by new transmission while state C does not, then only states A and B should pay the cost of public policy benefits while all three states should be responsible for the cost associated with economic and reliability benefits.²⁹⁷⁷ Similarly, PIOs assert that under the State Agreement Process, costs identified in Long-Term Regional Transmission Planning should first be allocated to transmission customers as the primary beneficiaries, and then states and/or interconnection customers can voluntarily accept cost allocation for the alternative or expanded transmission projects compared to projects identified in the regional base case plan.²⁹⁷⁸

²⁹⁷⁷ Avangrid Initial Comments at 29-30.

²⁹⁷⁸ PIOs Initial Comments at 68 (citing NOPR, 179 FERC ¶ 61,028 at PP 75-76).

1394. AEE asks that the Commission provide additional guardrails for the State Agreement Process to ensure that there are not transmission project delays.²⁹⁷⁹ According to AEE, the Commission must ensure that excessive reliance on the State Agreement Process does not exacerbate free-ridership problems where states outside of those agreements receive benefits from transmission projects developed under state agreements but are not expected to contribute to the costs.²⁹⁸⁰

²⁹⁷⁹ AEE Initial Comments at 33 (citing NOPR, 179 FERC ¶ 61,028 at PP 311-318).

²⁹⁸⁰ Id.

1395. Duke argues that any tariff language memorializing the State Agreement Process must specify that the transmission provider “will not be obligated to accept cost allocation methods proposed by Relevant State Entities.” ²⁹⁸¹ Duke also asks that the Commission clarify that if transmission providers only adopt a State Agreement Process, and that fails, then transmission providers are free to make an FPA section 205 filing to implement an ex post cost allocation method.²⁹⁸² Further, Duke asks that the Commission clarify that the regulatory text's reference to “transmission provider” is “the entity with the section 205 rights to initiate rate changes, which depending upon the applicable governance and OATT structures, may be the transmission owner, but not the transmission provider.” ²⁹⁸³

²⁹⁸¹ Duke Initial Comments at 39-40.

²⁹⁸² Id. at 3.

²⁹⁸³ Id. at 40 n.77.

1396. Some commenters support requiring state involvement in cost allocation. For example, New York Commission and NYSERDA state that state-led cost allocation should be a requirement in any final order and that cost allocation for public policy-driven transmission projects should be subject to state review and approval.²⁹⁸⁴ Pacific Northwest State Agencies support requiring transmission providers to have an ex post State Agreement Process as an alternative to an ex ante cost allocation method.²⁹⁸⁵

²⁹⁸⁴ New York Commission and NYSERDA Initial Comments at 12, 14.

²⁹⁸⁵ Pacific Northwest State Agencies Initial Comments at 27.

iii. Opposition to a State Agreement Process

1397. Some commenters express concern that a State Agreement Process may not be a just and reasonable approach to cost allocation for regional transmission facilities.²⁹⁸⁶ R Street contends that states do not represent all beneficiaries who may be assigned costs and, as such, cost allocation predicated on state agreement may be unjust and unreasonable. R Street states, however, that a state advisory or partial approval mechanism could be structured to give state agreement pivotal influence over cost allocation decisions.²⁹⁸⁷

²⁹⁸⁶ APPA Initial Comments at 40, 44; MISO Coops Initial Comments at 2; R Street Initial Comments at 12.

²⁹⁸⁷ R Street Initial Comments at 12.

1398. APPA claims that the proposed State Agreement Process is unworkable and creates significant uncertainty and potential for litigation.²⁹⁸⁸ APPA further asserts that providing state regulators with an exclusive role in determining cost allocation methods will not likely result in a broad consensus across stakeholders.²⁹⁸⁹ MISO Coops add that it is unjust and unreasonable, arguing that, because cooperatives are often not jurisdictional to a state entity, it is unclear how cooperatives would be represented. Thus, MISO Coops state, the State Agreement Process would reduce the involvement of cooperatives in regional transmission planning processes while granting states authority over entities outside their jurisdiction. MISO Coops further state that the proposed State Agreement Process is unnecessary because the current MISO stakeholder process is superior.²⁹⁹⁰ MISO TOs oppose any provision that would mandate a State Agreement Process.²⁹⁹¹

²⁹⁸⁸ APPA Initial Comments at 40, 44.

²⁹⁸⁹ Id. at 43.

²⁹⁹⁰ MISO Coops Initial Comments at 2-4.

²⁹⁹¹ MISO TOs Initial Comments at 5, 46.

iv. Requirement To Document State Agreement Process in OATT

1399. Some commenters agree with the NOPR proposal that for any State Agreement Process, transmission providers in each transmission planning region must detail in their OATTs the process by which Relevant State Entities would reach agreement regarding the cost allocation for Long-Term Regional Transmission Facilities pursuant to the State Agreement Process, including the timeline for such processes.²⁹⁹² NESCOE contends that if the State Agreement Process is chosen by the Relevant State Entities, the details of how the state entities would agree to funding contributions and the mechanisms by which the costs would be allocated should be mostly informed by states and then filed by the transmission provider.²⁹⁹³ NESCOE suggests that the Commission be open to variations in the State Agreement Process as long as the details of all those variations are filed with the Commission.²⁹⁹⁴

²⁹⁹² Louisiana Commission Initial Comments at 33; NESCOE Initial Comments at 63; SDG&E Initial Comments at 5; TAPS Initial Comments at 24.

²⁹⁹³ NESCOE Initial Comments at 63.

²⁹⁹⁴ NESCOE Reply Comments at 5.

1400. Northwest and Intermountain state that the Commission should review negotiated cost allocation methods.²⁹⁹⁵ Likewise, APPA argues that the Commission should require that any state agreement to voluntarily fund transmission facilities must be filed with the Commission for approval, in order to afford parties the opportunity to comment.²⁹⁹⁶

²⁹⁹⁵ Northwest and Intermountain Initial Comments at 18-19.

²⁹⁹⁶ APPA Initial Comments at 34-35.

1401. Some commenters disagree that the Commission should require transmission providers in each transmission planning region to detail such processes in their OATTs. For example, OMS argues that it is unnecessary for transmission providers to explicitly define such a process in their OATTs.²⁹⁹⁷ Mississippi Commission argues that the Commission should clarify that OATT language describing the process by which states reach agreement should not be prescriptive or limiting and, instead, should provide only a general discussion of a process.²⁹⁹⁸

²⁹⁹⁷ OMS Initial Comments at 12-13.

²⁹⁹⁸ Mississippi Commission Initial Comments at 27-28.

c. Commission Determination

1402. We adopt the NOPR proposal, with modification, to allow, but not require, transmission providers in each transmission planning region to adopt a State Agreement Process for allocating the costs of all, or a subset of, Long-Term Regional Transmission Facilities. We also modify the definition of State Agreement Process to be a process by which one or more Relevant State Entities may voluntarily agree to a cost allocation method for Long-Term Regional Transmission Facilities (or a portfolio of such Facilities) either before or no later than six months after the facilities are selected in the regional transmission plan for purposes of cost allocation. We note that Relevant State Entities have the option to include the participation of other entities in a State Agreement Process.

1403. As discussed in more detail below, we also adopt the NOPR proposal to require transmission providers that choose to file any State Agreement Process agreed to by Relevant State Entities to describe the State Agreement Process in proposed tariff provisions in their OATTs. The tariff provisions must describe key information on how the State Agreement Process will result in a cost allocation being filed, including which entities can participate in the State Agreement Process; what constitutes an agreement on cost allocation in that process; how agreement is communicated to the transmission providers; and the circumstances under which, or the information necessary for, transmission providers to file or to consider filing the agreed cost allocation method.²⁹⁹⁹

²⁹⁹⁹ NOPR, 179 FERC ¶ 61,028 at P 313.

1404. Consistent with the NOPR, we find that a State Agreement Process can be a just and reasonable approach to allocate costs for Long-Term Regional Transmission Facilities. We also find that State Agreement Processes may apply to all Long-Term Regional Transmission Facilities or only to a subset thereof.³⁰⁰⁰ We believe that allowing State Agreement Processes will help to address some commenters' request for a stronger state role in the cost allocation of Long-Term Regional Transmission Facilities,³⁰⁰¹ increasing the likelihood that more efficient or cost-effective Long-Term Regional Transmission Facilities that are selected will be developed. However, as discussed in Cost Allocation Methods for Long-Term Regional Transmission Facilities section above, a State Agreement Process cannot be the sole method filed for cost allocation for Long-Term Regional Transmission Facilities; we also require transmission providers to file a Long-Term Regional Transmission Cost Allocation Method on compliance with this final order so that if the State Agreement Process on file fails to result in a Commission-accepted cost allocation method, there will still be a cost allocation method for Long-Term Regional Transmission Facilities that are selected as the more efficient or cost-effective regional transmission solutions to Long-Term Transmission Needs.

³⁰⁰⁰ Id. P 311.

³⁰⁰¹ See, e.g., Mississippi Commission Initial Comments at 22; Southern Initial Comments at 9.

1405. We note that this final order provides significant flexibility to Relevant State Entities with respect to the design and implementation of any State Agreement Process. Such flexibility includes, for example, the opportunity to decide which entities beyond Relevant State Entities will participate in the State Agreement Process, the ability to identify the Long-Term Regional Transmission Facilities to which the State Agreement Process will apply, and how agreement as to a cost allocation method will be reached.

1406. We further expand these flexibilities by modifying the NOPR proposal to clarify that a State Agreement Process can occur either before or no later than six months after a Long-Term Regional Transmission Facility (or portfolio of such Facilities) is selected. We believe that providing flexibility for a State Agreement Process to occur (and thus for the Relevant State Entities to agree on a cost allocation method) before Long-Term Regional Transmission Facilities (or a portfolio of such Facilities) are selected will increase the likelihood that Regional State Entities support their selection and future development. We note that this flexibility with regard to the timing of a State Agreement Process should accommodate the timing preferences expressed by certain commenters.³⁰⁰² However, we also require that any State Agreement Process must be completed, i.e., any resulting cost allocation method must be filed with the Commission, no later than six months after selection of the applicable Long-Term Regional Transmission Facility (or portfolio of such Facilities).³⁰⁰³

³⁰⁰² See, e.g., Pennsylvania Commission Initial Comments at 12-13; Entergy Initial Comments at 35.

³⁰⁰³ We discuss this duration requirement infra at P 1413.

1407. As the Commission has previously noted, agreements outside of the context of Order No. 1000 regional cost allocation methods, such as PJM's State Agreement Approach, can result in cost allocations that are just and reasonable.³⁰⁰⁴ We also note that Order No. 1000 allows market participants to negotiate alternative cost sharing arrangements voluntarily and separately from the regional cost allocation method or set of methods, and nothing in this final order would prohibit such voluntary cost sharing arrangements.³⁰⁰⁵ Moreover, as the Commission noted in the NOPR, the Commission recently issued a Policy Statement addressing state efforts to develop transmission facilities through voluntary agreements to plan and pay for those facilities, recognizing that such voluntary agreements may allow state-prioritized transmission facilities to be planned and built more quickly than would comparable facilities that are through the regional transmission planning process.³⁰⁰⁶ Further, while we require in this final order that transmission providers have a Long-Term Regional Transmission Cost Allocation Method for selected Long-Term Regional Transmission Facilities, we note that nothing in this final order limits a transmission provider's ability to propose under FPA section 205 any other cost allocation methods in addition to the cost allocation method used to comply with this final order.

³⁰⁰⁴ See PJM Interconnection, L.L.C., 142 FERC ¶ 61,214 at P 142; PJM Interconnection, L.L.C., 179 FERC ¶ 61,024 at PP 40-43.

³⁰⁰⁵ See Order No. 1000, 136 FERC ¶ 61,051 at P 561.

³⁰⁰⁶ NOPR, 179 FERC ¶ 61,028 at P 300 (citing State Voluntary Agreements to Plan & Pay for Transmission Facilities, 175 FERC ¶ 61,225 at PP 2, 6).

1408. In the NOPR, the Commission noted that it has previously expressed concern regarding participant funding, which shares some similarities with State Agreement Processes.³⁰⁰⁷ In Order No. 1000, for example, the Commission explained that reliance on participant funding as a regional cost allocation method “increases the incentive of any individual beneficiary to defer investment in the hopes that other beneficiaries will value a transmission project enough to fund its development” and would therefore not comply with the Order No. 1000 regional cost allocation principles.³⁰⁰⁸ The Commission declined to allow transmission providers to file participant funding cost allocation approaches as their ex ante cost allocation methods for selected regional transmission facilities.³⁰⁰⁹ We take a similar approach here: we require transmission providers to include in their OATTs one or more Long-Term Regional Transmission Cost Allocation Methods (i.e., their ex ante cost allocation method(s)) that can be used to allocate the costs of selected Long-Term Regional Transmission Facilities. As in Order No. 1000, the Long-Term Regional Transmission Cost Allocation Method cannot be participant funding. We find that requiring a Long-Term Regional Transmission Cost Allocation Method or Methods that will apply to any selected Long-Term Regional Transmission Facility reduces the incentive for project beneficiaries to defer investment.

³⁰⁰⁷ See id. P 316 (citing Order No. 1000, 136 FERC ¶ 61,051 at P 723).

³⁰⁰⁸ Id. P 316 (quoting Order No. 1000, 136 FERC ¶ 61,051 at P 723). Under a participant funding approach to cost allocation, the costs of a transmission facility are allocated only to those entities that volunteer to bear those costs. Id. P 316 n.519 (citing Order No. 1000, 136 FERC ¶ 61,051 at P 486 n.375).

³⁰⁰⁹ See Order No. 1000, 136 FERC ¶ 61,051 at P 723.

1409. However, in addition to requiring a Long-Term Regional Transmission Cost Allocation Method, we also provide flexibility to Relevant State Entities to agree to a State Agreement Process, which transmission providers may choose to file as part of their compliance filings. We conclude that allowing such an approach as an option is reasonable despite the Commission's previously-stated concerns with participant funding, because a State Agreement Process is an established process, agreed to in advance and described in transmission providers' OATTs, through which Relevant State Entities agree to a cost allocation method. We find that, for the purposes of Long-Term Regional Transmission Planning, a State Agreement Process will help to facilitate agreement and cooperation among Relevant State Entities. We find that this approach balances the need for the certainty with respect to cost allocation provided by an ex ante cost allocation method with the flexibility of allowing for a State Agreement Process-derived cost allocation method for selected Long-Term Regional Transmission Facilities (or portfolios of such Facilities). We emphasize, however, that the Commission will still review any cost allocation method that results from a State Agreement Process to ensure that it is just and reasonable and not unduly discriminatory or preferential, and that it allocates costs in a manner that is at least roughly commensurate with estimated benefits.

1410. In the context of Long-Term Regional Transmission Planning, we believe that allowing the use of State Agreement Processes to derive a cost allocation method for selected Long-Term Regional Transmission Facilities will provide states with an opportunity to be more involved in cost allocation for these transmission facilities, leading to an increased likelihood that such facilities are developed. Specifically, the engagement of Relevant State Entities in cost allocation discussions could reduce instances in which a Long-Term Regional Transmission Facility is selected and has an established ex ante cost allocation method that applies to it, but ultimately is not developed because it does not receive a necessary state approval.³⁰¹⁰ We also find that a State Agreement Process could provide greater confidence to Relevant State Entities that customers are receiving benefits in a manner that is at least roughly commensurate with the costs they are paying for Long-Term Regional Transmission Facilities.

³⁰¹⁰ NOPR, 179 FERC ¶ 61,028 at P 314.

1411. We acknowledge commenters' concerns that a State Agreement Process could present free-ridership issues.³⁰¹¹ For example, there could be free-ridership concerns if the Relevant State Entities in certain states agree to be allocated all of the costs for a particular Long-Term Regional Transmission Facility but that facility also benefits other entities in other states that are not similarly allocated costs under the cost allocation method arrived at through the State Agreement Process. However, we continue to find that allowing a State Agreement Process for Long-Term Regional Transmission Facilities, where agreed to by the Relevant State Entities, appropriately balances free-ridership concerns with the benefit of greater state involvement in determining the cost allocation method for Long-Term Regional Transmission Facilities and the increased likelihood that such facilities will be built.³⁰¹² Additionally, nothing in this final order changes the requirements for all cost allocation methods, including those that result from a State Agreement Process, to allocate costs in a manner that is at least roughly commensurate with estimated benefits, and we believe that Commission review to ensure that cost allocation methods meet that standard will act to prevent free ridership.

³⁰¹¹ See, e.g., R Street Initial Comments at 12.

³⁰¹² NOPR, 179 FERC ¶ 61,028 at P 317.

1412. As noted above, there is significant commenter support for a State Agreement Process, particularly among state entities. In addition, we believe that many of the concerns expressed about the State Agreement Process proposal appear to be based on a lack of sufficient explanation in the NOPR regarding the implications of the proposal, which we clarify here. Contrary to some comments, we do not require transmission providers to adopt a State Agreement Process; rather, as discussed in the Filing Rights Under the FPA section, transmission providers may choose to file a State Agreement Process for all, or a subset of, Long-Term Regional Transmission Facilities on compliance. Also, we neither impose an obligation on a state or states to agree to a cost allocation method for Long-Term Regional Transmission Facilities, nor do we create any obligation that transmission providers file a cost allocation method resulting from a State Agreement Process, unless the transmission providers had clearly indicated assent to do so in their OATTs.³⁰¹³ As we note in the discussion of transmission provider filing rights in the Filing Rights Under the FPA section below, we believe that the applicable statute and precedent require us to preserve the right of transmission providers to file with the Commission their preferred cost allocation method for Long-Term Regional Transmission Facilities to comply with the requirements of this final order.

³⁰¹³ For example, transmission providers may voluntarily agree as part of a State Agreement Process in their OATTs that transmission providers shall file any cost allocation method that meets the requirements of their State Agreement Process, even if those transmission providers do not agree with that method.

1413. However, as noted earlier in this section, we establish a deadline of no later than six months after selection of a Long-Term Regional Transmission Facility (or portfolio of such Facilities) by which transmission providers must file any cost allocation method that results from a State Agreement Process. We believe that the State Agreement Process can only be effective if there is a limit on the time to reach agreement before defaulting to the Long-Term Regional Transmission Cost Allocation Method that we require transmission providers include in their OATTs. The lack of such a deadline could cause delay and increase uncertainty regarding selected Long-Term Regional Transmission Facilities. In addition, we agree with some commenters ³⁰¹⁴ that a deadline, bolstered by a default Long-Term Regional Transmission Cost Allocation Method, may increase the incentive for Relevant State Entities to reach agreement on cost allocation for a particular Long-Term Regional Transmission Facility through a State Agreement Process.

³⁰¹⁴ See Evergreen Action Initial Comments at 6; MISO Initial Comments at 67-68; National Grid Initial Comments at 25-26.

1414. We find that six months is a reasonable period for State Agreement Process deliberations on a cost allocation method because it balances the need for adequate time for negotiations with transmission providers' need for finality in their Long-Term Regional Transmission Planning. While few commenters directly addressed the time period for negotiation under a State Agreement Process for a particular Long-Term Regional Transmission Facility (or portfolio of such Facilities), many commenters favored this duration for the NOPR proposed reform of a post-selection time period for states to negotiate an alternate cost allocation method for selected Long-Term Regional Transmission Facilities (or portfolios of such Facilities) when an ex ante cost allocation method would otherwise apply.³⁰¹⁵

³⁰¹⁵ California Commission Initial Comments at 56; Kentucky Commission Chair Chandler Initial Comments at 4; Louisiana Commission Initial Comments at 34-35; NARUC Initial Comments at 52-53; NRG Initial Comments at 21; Pacific Northwest State Agencies Initial Comments at 27-28.

1415. We clarify that, if the Relevant State Entities indicate to transmission providers, as part of the required Engagement Period outlined above, that the Relevant State Entities have agreed to a State Agreement Process, and the transmission providers decide to include that State Agreement Process in their final order compliance filings, then the transmission providers must also detail the State Agreement Process in proposed tariff provisions to their OATTs. The tariff provisions must describe how agreement would be reached regarding the cost allocation method for Long-Term Regional Transmission Facilities pursuant to the State Agreement Process, which also necessarily requires that it be clear which entities can participate in the specific State Agreement Process.³⁰¹⁶ This requirement is in furtherance of one of the goals of the final order, which is to allow a greater role for states in establishing a cost allocation method for Long-Term Regional Transmission Facilities (or portfolios of such Facilities).

³⁰¹⁶ NOPR, 179 FERC ¶ 61,028 at P 313.

1416. As noted above, after the required initial Engagement Period, a State Agreement Process could include other entities beyond Relevant State Entities, and those entities would need to be enumerated in the State Agreement Process included in the OATT. Transmission providers must first specify in their OATTs a description of how such voluntary agreements by the Relevant State Entities may be shared with transmission providers, as well as whether the transmission providers voluntarily agree to undertake an obligation to file the agreed-upon cost allocation method with the Commission for consideration under FPA section 205 (in other words, whether the transmission providers voluntarily waive their FPA section 205 filing rights such that they commit themselves to file with the Commission any cost allocation method that results from the State Agreement Process). Their OATT provisions must, at a minimum, also include the event triggering the beginning of the State Agreement Process, the duration of the State Agreement Process (not to exceed six months after selection), and a description of the Long-Term Regional Transmission Facilities to which the process applies. Further, the State Agreement Process procedures outlined in transmission providers' OATTs must set forth the manner in which a transmission provider would file a section 205 filing to seek Commission acceptance of a cost allocation method resulting from a State Agreement Process. We note that Relevant State Entities that participate in a State Agreement Process may need to provide relevant information to transmission providers to enable them to demonstrate that any cost allocation method that results from a State Agreement Process is just, reasonable, and not unduly discriminatory or preferential, and allocates cost in a manner that is at least roughly commensurate with estimated benefits.

1417. We do not agree with the commenters that recommend against memorializing and filing cost allocation methods resulting from a State Agreement Process with the Commission.³⁰¹⁷ To fulfill the Commission's statutory obligations, any cost allocation method that results from a State Agreement Process must be filed for review by the Commission and determined to be just, reasonable, and not unduly discriminatory or preferential. In addition, we believe that transparency regarding such cost allocation methods and the opportunity for stakeholders, particularly those that will be responsible for paying the costs of Long-Term Regional Transmission Facilities, to comment on them are an important safeguard to ensure that costs are allocated in a manner that is at least roughly commensurate with estimated benefits.

³⁰¹⁷ Mississippi Commission Initial Comments at 27-28; OMS Initial Comments at 12-13.

1418. We will not specify the level of agreement among Relevant State Entities or other entities that is necessary before a transmission provider files a cost allocation method derived from a State Agreement Process. As a state-led process, we believe that Relevant State Entities should have the ability to determine this important facet of their State Agreement Process. To this end, we decline to require unanimity or a set minimum threshold for agreement of Relevant State Entities to participate in the State Agreement Process.

1419. Some commenters request that the Commission clarify whether and to what extent a cost allocation method that results from a State Agreement Process can impose costs on entities that do not agree to that cost allocation method. However, we decline to prejudge any State Agreement Process or any cost allocation method that may result from a State Agreement Process. Any cost allocation method for a Long-Term Regional Transmission Facility (or portfolio of such Facilities) that results from a State Agreement Process must be filed with the Commission pursuant to FPA section 205, and the Commission must make a finding as to whether that cost allocation method is just, reasonable, and not unduly discriminatory or preferential. And, as noted above, we reiterate that all cost allocation methods, including those resulting from a State Agreement Process, must allocate costs in a manner that is at least roughly commensurate with estimated benefits.³⁰¹⁸ Parties are free to raise any concerns about the costs that they may be allocated under a State Agreement Process-derived cost allocation method if and when that method is filed with the Commission.³⁰¹⁹

³⁰¹⁸ See ICC v. FERC I, 576 F.3d at 477; ICC v. FERC III, 756 F.3d at 564.

³⁰¹⁹ E.g., New England Systems Initial Comments at 23; Pennsylvania Commission Initial Comments at 12; Mississippi Commission Reply Comments at 3.

1420. MISO asks that the final order make clear that transmission providers can make necessary changes to the competitive transmission developer selection process to accommodate the State Agreement Process.³⁰²⁰ We clarify that the Commission will review any proposed changes to transmission providers' competitive transmission developer selection processes to accommodate State Agreement Processes as part of their compliance filings to this final order.

³⁰²⁰ MISO Initial Comments at 68-70.

1421. With respect to California Municipal Utilities' and TANC's requests that the Commission require that local regulatory authorities be included in any State Agreement Process, the Mississippi Commission's statement that it would support expanding the State Agreement Approach to include non-jurisdictional utilities, we do not proscribe in this final order that the State Agreement Processes include other entities beyond Relevant State Entities. However, as noted above, Relevant State Entities have the option to include the participation of other entities in a State Agreement Process. Finally, with respect to US DOE's comments related to the jurisdictional implications of Federal power marketing administrations participating in State Agreement Processes, we do not establish any specific requirements for how State Agreement Processes will be designed. To the extent that a Federal power marketing administration does participate in such a process, it may advocate that such process facilitates its participation in a manner that is consistent with its statutory authority.³⁰²¹

³⁰²¹ US DOE Initial Comments at 50.

4. Filing Rights Under the FPA

a. Comments

1422. A number of commenters express concerns that a requirement to seek agreement from Relevant State Entities regarding a cost allocation approach could conflict with transmission providers' filing rights under the FPA.³⁰²² For example, AEP contends that in at least one region where AEP operates, such a requirement would deprive transmission owners of their exclusive right to file tariffs governing the rates and terms of their transmission service under section 205 of the FPA. AEP states that in Atlantic City Electric Company v. FERC, the D.C. Circuit, held that “[w]hen FERC attempts to deprive the utilities of their rights to initiate rate design changes with respect to services provided by their own assets, FERC has exceeded its jurisdiction.” ³⁰²³

³⁰²² AEP Initial Comments at 6, 36 (citing Atl. City Elec. Co. v. FERC, 295 F.3d at 9-11 (“[T]his Court, among others, has stressed that the power to initiate rate changes rests with the utility and cannot be appropriated by FERC in the absence of a finding that the existing rate was unlawful.”); Atl. City Elec. Co. v. FERC, 329 F.3d 856, 858-59 (D.C. Cir. 2003) (per curiam)); MISO Initial Comments at 63-64 (citing Atl. City Elec. Co. v. FERC, 295 F.3d at 9-11); MISO TOs Initial Comments at 37, 39-40 (citing 16 U.S.C. 824d; Atl. City Elec. Co. v. FERC, 295 F.3d at 9-11; Sw. Power Pool, Inc., 132 FERC ¶ 61,042, at P 107 (2010); Mass. Dep't of Pub. Utils. v. FERC, 729 F.2d 886, 887-88 (1st Cir. 1984)); PPL Initial Comments at 25 & n.66 (“[T]he Atlantic City case makes clear that the transmission owners are able to make Section 205 filings regarding cost allocation without additional conditions and the Commission cannot compel the transmission owners to cede these rights.”).

³⁰²³ AEP Initial Comments at 36 (quoting Atl. City Elec. Co. v. FERC, 329 F.3d at 859); accord MISO Initial Comments at 63; MISO TOs Initial Comments at 40; PPL Initial Comments at 25 n.66.

1423. Similarly, Dominion reminds the Commission that the transmission provider has FPA section 205 rights, and that those rights cannot be ceded to the state through this proceeding.³⁰²⁴ National Grid asserts that the FPA gives transmission providers the ability to make section 205 filings on cost allocation, and that the State Agreement Process should be based on transmission providers voluntarily affording a role for states.³⁰²⁵

³⁰²⁴ Dominion Initial Comments at 48-49 (citing Atl. City Elec. Co. v. FERC, 295 F.3d 1; Atl. City Elec. Co. v. FERC, 329 F.3d 856).

³⁰²⁵ National Grid Initial Comments at 25.

1424. APPA contends that requiring public utilities to file rate terms dictated by non-public utility entities raises jurisdictional issues under the FPA. APPA does not believe it is reasonable to provide to state regulators exclusive authority over the proposed cost allocation method in the absence of agreement by relevant stakeholders, and argues that if the Commission requires public utilities to file cost allocation methods agreed to by Relevant State Entities, public power utilities should be considered Relevant State Entities have a formal voting role in agreeing on the cost allocation method(s) for Long-Term Regional Transmission Facilities.³⁰²⁶ Six Cities and Large Public Power argue that the Commission's proposal is an unlawful delegation of the Commission's exclusive statutory authority over rates under the FPA.³⁰²⁷

³⁰²⁶ APPA Initial Comments at 42-45.

³⁰²⁷ Large Public Power Initial Comments at 37-38 (citing City of Tacoma v. FERC, 331 F.3d 106, 115 (D.C. Cir. 2002) (finding that the Commission unlawfully delegated its responsibility to assess annual charges imposed under the FPA against hydroelectric utilities licenses to other Federal agencies) (additional citations omitted)); Six Cities Initial Comments at 8-9 (citing 16 U.S.C. 824d(a), 824e; Nantahala Power & Light Co. v. Thornburg, 476 U.S. 953, 965-66 (1986); EPSA, 577 U.S. at 277).

1425. Some commenters seek clarification on the Commission's proposal. MISO and Vistra request that the Commission clarify that nothing in the final order should be read to override or diminish the filing rights held, jointly and/or individually, by the RTOs/ISOs and their transmission owning members.³⁰²⁸ Indicated PJM TOs argue that, while seeking the agreement of Relevant State Entities is appropriate, the Commission does not have the authority to require that transmission providers obtain their agreement.³⁰²⁹ Similarly, WIRES states that the Commission should clarify that transmission providers are only required to seek agreement of Relevant State Entities and that they are not required to achieve such agreement.³⁰³⁰ Duke asserts that the Commission should clarify and revise the proposed State Agreement Process to ensure that it does not conflict with transmission providers' FPA section 205 rights to initiate rate changes.³⁰³¹

³⁰²⁸ MISO Initial Comments at 64; Vistra Initial Comments at 29-30.

³⁰²⁹ Indicated PJM TOs Initial Comments at 20 (citing Atl. City Elec. Co. v. FERC, 295 F.3d at 10-11).

³⁰³⁰ WIRES Initial Comments at 12 (citing 16 U.S.C. 824d; Atl. City Elec. Co. v. FERC, 295 F.3d at 9-11; Atl. City Elec. Co. v. FERC, 329 F.3d at 858-59).

³⁰³¹ Duke Initial Comments at 39 (citing Atl. City Elec. Co. v. FERC, 329 F.3d at 858-59).

1426. PJM States propose that if retail regulators reach an agreement on cost allocation, transmission providers should be required to file it for consideration under section 205 of the FPA.³⁰³² PJM States recommend that if the transmission providers in a transmission planning region prefer a different cost allocation method, they can file their preferred alternative while also presenting the method agreed on by the Relevant State Entities.³⁰³³ PJM States add that these proposals should be “balanced” and explain how the retail regulators' preferences were considered.³⁰³⁴ Similarly, NESCOE states that in cases of disagreement between state entities and transmission providers, they would prefer that the transmission providers file a state-preferred cost allocation method alongside their own preferred method, arguing that such an approach would respect the FPA section 205 rights that public utilities hold.³⁰³⁵ Similarly, New Jersey Commission recommends that in the event that the transmission provider disagrees with the approach desired by states, the Commission should require them to submit the states' approach as well as their own in their section 205 filing. New Jersey Commission proposes that the Commission would then decide which OATT filing to accept.³⁰³⁶

³⁰³² PJM States Initial Comments at 10 (citing NOPR, 179 FERC ¶ 61,028 at P 303).

³⁰³³ Id. at 10.

³⁰³⁴ Id. at 10.

³⁰³⁵ NESCOE Reply Comments at 4.

³⁰³⁶ New Jersey Commission Initial Comments at 17-18.

1427. Entergy contends that the proposal is within the Commission's authority because the Commission's proposal allows transmission providers to retain their filing rights consistent with Atlantic City. Entergy argues that the NOPR proposal does not conflict with Atlantic City because it would only establish a process where states are consulted on designing a cost allocation method, and that transmission providers still must make a cost allocation filing, even if there is no agreement.³⁰³⁷

³⁰³⁷ Entergy Initial Comments at 31-33 (citing Atl. City Elec. Co. v. FERC, 295 F.3d at 11).

b. Commission Determination

1428. As a threshold matter, we note that the Commission is acting pursuant to FPA section 206 in this final order. Under FPA section 206, the Commission has determined that existing regional transmission planning and cost allocation requirements are unjust, unreasonable, unduly discriminatory or preferential, and thus has both the authority and responsibility to establish a just and reasonable replacement rate consistent with the final order's requirements.³⁰³⁸

³⁰³⁸ 16 U.S.C. 824e(a) (“[T]he Commission shall determine the just and reasonable . . . practice . . . to be thereafter observed and in force, and shall fix the same by order.” (emphasis added)).

1429. As to commenters' FPA section 205 arguments, we find that our directives in this final order regarding the development of a State Agreement Process and any cost allocation methods to which the Relevant State Entities agree pursuant to that process do not alter existing FPA section 205 filing rights.³⁰³⁹ Specifically, we clarify that, after the required Engagement Period, transmission providers in each transmission planning region will decide what Long-Term Regional Transmission Cost Allocation Method(s) and any State Agreement Process to file as part of their compliance filings.³⁰⁴⁰ Therefore, transmission providers in a transmission planning region could elect to propose on compliance a Long-Term Regional Transmission Cost Allocation Method and not file a State Agreement Process or other ex ante cost allocation method to which Relevant State Entities agreed. In addition, we do not impose any obligation on transmission providers to file a cost allocation method for Long-Term Regional Transmission Facilities with which they disagree, even if such a method were proposed to the transmission providers pursuant to a Commission-approved State Agreement Process, unless the transmission providers have clearly indicated their assent to do so as part of a Commission-approved State Agreement Process in their OATTs. In the same vein, we decline to require, as PJM States, NESCOE, and New Jersey Commission suggest, that transmission providers file two cost allocation methods—the transmission providers' preferred cost allocation method and the cost allocation method agreed to by the Relevant State Entities—if the transmission providers disagree with a proposed cost allocation method to which the Relevant State Entities agree.³⁰⁴¹ Entities that oppose or prefer a different cost allocation method than the transmission providers' preferred cost allocation method can provide their comments if and when such cost allocation method is filed with the Commission.

³⁰³⁹ See Dominion Initial Comments at 48-49 (citing Atl. City Elec. Co. v. FERC, 295 F.3d 1; Atl. City Elec. Co. v. FERC, 329 F.3d 856).

³⁰⁴⁰ We note that the filing must include a Long-Term Regional Transmission Cost Allocation Method (i.e., an ex ante cost allocation method).

³⁰⁴¹ PJM States Initial Comments at 10; NESCOE Reply Comments at 4; New Jersey Commission Initial Comments at 17-18.

1430. We further clarify that unless voluntarily waived, a transmission provider retains its FPA section 205 filing rights to submit an ex ante cost allocation method for Long-Term Regional Transmission Facilities at any time,³⁰⁴² consistent with any limitations a transmission provider may have agreed to, for example, as part of its membership in an RTO/ISO. In response to MISO and Vistra,³⁰⁴³ we also clarify that nothing in this final order should be read to override or diminish the filing rights held, jointly or individually, by RTOs/ISOs and their transmission owning members.

³⁰⁴² See Atl. City Elec. Co. v. FERC, 295 F.3d at 9-11; Atl. City Elec. Co. v. FERC, 329 F.3d at 858-859.

³⁰⁴³ MISO Initial Comments at 64; Vistra Initial Comments at 29-30.

1431. In response to commenters arguing that the NOPR proposal to require transmission providers to seek agreement of Relevant State Entities regarding the Long-Term Regional Transmission Cost Allocation Method, State Agreement Process, or combination thereof would interfere with transmission providers' filing rights under FPA section 205,³⁰⁴⁴ those concerns are moot, as we decline to adopt this NOPR proposal, as discussed above. We reiterate that transmission providers retain their right to decide what Long-Term Regional Transmission Cost Allocation Method(s) and any State Agreement Process to file in compliance with this final order after the Engagement Period.

³⁰⁴⁴ AEP Initial Comments at 36; APPA Initial Comments at 42; Dominion Initial Comments at 48-49; MISO Initial Comments at 63-64; MISO TOs Initial Comments at 37, 39-40; MISO TOs Reply Comments at 5-7; PPL Initial Comments at 25 & n.66.

5. Time Period and Related Issues in the Long-Term Regional Transmission Planning Cost Allocation Processes for State-Negotiated Alternate Cost Allocation Method

a. NOPR Proposal

1432. In the NOPR, the Commission proposed to require transmission providers to detail in their OATTs a process to provide a state or states (in multi-state transmission planning regions) with a time period to negotiate a cost allocation method for a transmission facility (or portfolio of facilities) selected through Long-Term Regional Transmission Planning that is different than any ex ante regional cost allocation method (i.e., Long-Term Regional Transmission Cost Allocation Method) that would otherwise apply. During this time period, if a state or all states within the transmission planning region in which the selected regional transmission facility will be located unanimously agree on an alternate cost allocation method, the transmission provider may elect to file that method with the Commission for consideration under FPA section 205. The Commission explained that the transmission provider may elect to file an alternate cost allocation method because doing so increases the likelihood that relevant stakeholders perceive the cost allocation as fair and that the needed regional transmission facilities will actually be constructed.³⁰⁴⁵

³⁰⁴⁵ NOPR, 179 FERC ¶ 61,028 at P 319.

1433. If the relevant state or states cannot agree on an alternate cost allocation method memorialized in writing within the specified timeframe after a transmission developer's transmission facility is selected through Long-Term Regional Transmission Planning (e.g., 90 days), the Commission proposed that then the transmission developer would be entitled to use any ex ante Long-Term Regional Transmission Cost Allocation Method that would otherwise apply for that Long-Term Regional Transmission Facility.³⁰⁴⁶

³⁰⁴⁶ Id. P 320.

1434. In particular, the Commission proposed to require that the OATT provisions that describe the state-negotiated alternate cost allocation method include when this time period will occur, what its duration will be, and an affirmation that any alternate cost allocation method must be submitted to the Commission for review and approval under FPA section 205 prior to taking effect. Under this proposal, when filed, the Commission would evaluate the alternate cost allocation method to ensure that it is just and reasonable and allocates costs in a manner that is at least roughly commensurate with estimated benefits. If the Commission rejects a state-negotiated alternate cost allocation method, the transmission developer of the Long-Term Regional Transmission Facility would be entitled to use the applicable ex ante regional cost allocation method that would have applied to it in the absence of the proposed alternative cost allocation method.³⁰⁴⁷ The Commission proposed to prescribe a 90-day time period for a state-negotiated cost allocation method to be memorialized in writing.³⁰⁴⁸

³⁰⁴⁷ Id. P 322.

³⁰⁴⁸ Id. P 323.

1435. Finally, the Commission sought comment on whether to establish a requirement for a time period for state involvement in regional cost allocation for transmission facilities selected in existing near-term reliability and economic regional transmission planning processes.³⁰⁴⁹

³⁰⁴⁹ Id. P 324.

b. Comments

1436. Several commenters support the Commission's proposal to require transmission providers to detail in their OATTs a process to provide a state or states with a time period to negotiate a cost allocation method for a transmission facility (or portfolio of facilities) selected through Long-Term Regional Transmission Planning that is different than any ex ante regional cost allocation method (i.e., Long-Term Regional Transmission Cost Allocation Method).³⁰⁵⁰ NESCOE, Pennsylvania Commission, and PJM States support a requirement for transmission providers to detail in their OATT provisions that describe the state-negotiated cost allocation method.³⁰⁵¹ Clean Energy Buyers, Dominion, and PIOs agree that any alternate cost allocation method must be submitted to the Commission for review and approval under FPA section 205 prior to taking effect.³⁰⁵²

³⁰⁵⁰ Entergy Initial Comments at 29-30; Nebraska Commission Initial Comments at 9; New England for Offshore Wind Initial Comments at 5; Northwest and Intermountain Initial Comments at 18-19; NRG Initial Comments at 21; Pacific Northwest State Agencies Initial Comments at 27-28; PIOs Initial Comments at 69; SEIA Initial Comments at 24.

³⁰⁵¹ NESCOE Initial Comments at 71; Pennsylvania Commission Initial Comments at 16; PJM States Initial Comments at 12-13.

³⁰⁵² Clean Energy Buyers Initial Comments at 29-30; Dominion Initial Comments at 52; PIOs Initial Comments at 71.

1437. PJM and Nebraska Commission support the proposal to require a time period for state-negotiated alternate cost allocation with suggested modifications. Nebraska Commission states that a process that builds consensus is important for contentious issues such as cost allocation and suggests adoption of a model similar to SPP's Regional State Committee, which it contends has a proven track record for achieving consensus among stakeholders.³⁰⁵³ PJM recommends that the Commission provide clear direction as to the circumstances under which a process for states to negotiate an alternate cost allocation method would be appropriate. PJM also proposes that states seeking a state-negotiated alternate cost allocation method should be required to explain why the ex ante cost allocation method is not appropriate for the identified transmission facility or facilities.³⁰⁵⁴

³⁰⁵³ Nebraska Commission Initial Comments at 9.

³⁰⁵⁴ PJM Initial Comments at 117.

1438. PJM States disagree, arguing that there is no proposed requirement that retail regulators show why an ex ante approach is inappropriate before agreeing to and advocating for an alternate. PJM States further assert that allowing states to agree on an alternate cost allocation approach after seeing what transmission projects are selected may be beneficial since states will have more information on specific projects.³⁰⁵⁵

³⁰⁵⁵ PJM States Reply Comments at 6.

1439. Some commenters seek clarification on the NOPR proposal. Pennsylvania Commission explains that because this negotiation would occur after transmission facility selection, it is an ex post “State Agreement Process.” As such, Pennsylvania Commission contends, it could create confusion if the Commission does not clarify that different rules apply to the 90-day “renegotiation” process.³⁰⁵⁶ Similarly, MISO states that it is not clear whether the proposed requirements are intended as an alternative to the State Agreement Process or to define how the State Agreement Process would be implemented.³⁰⁵⁷

³⁰⁵⁶ Pennsylvania Commission Initial Comments at 15.

³⁰⁵⁷ MISO Initial Comments at 71.

1440. Some commenters oppose a requirement to provide a time period for a state or states to negotiate a cost allocation method for a transmission facility (or portfolio of facilities) selected in the regional transmission plan that is different than any ex ante regional cost allocation method (i.e., Long-Term Regional Transmission Cost Allocation Method) that would otherwise apply.³⁰⁵⁸ Dominion and Idaho Power argue that the Commission should permit regional flexibility as to whether to adopt such a time period.³⁰⁵⁹ Idaho Power further contends that the Commission's transmission planning processes are not the primary barriers to transmission development; instead, Federal permitting and siting processes and coordination with stakeholders are greater barriers.³⁰⁶⁰

³⁰⁵⁸ Dominion Initial Comments at 51; Idaho Power Initial Comments at 10-11; PPL Initial Comments at 27.

³⁰⁵⁹ Dominion Initial Comments at 51; Idaho Power Initial Comments at 10-11.

³⁰⁶⁰ Idaho Power Initial Comments at 11 (noting National Environmental Policy Act review and siting decisions with the Bureau of Land Management as examples of Federal permitting and siting processes).

1441. MISO recommends that rather than requiring the specific process and ex post opportunities for states to negotiate an alternate cost allocation method, the Commission should identify the opportunity for state involvement in the development of cost allocation and leave the details for that involvement to each transmission planning region.³⁰⁶¹ Pennsylvania Commission states that it does not view the time period for state-negotiated alternate cost allocation as a principal negotiation method for cost allocation and asserts that more appropriate processes are the proposed State Agreement Process or PJM's existing State Agreement Approach.³⁰⁶²

³⁰⁶¹ MISO Initial Comments at 71.

³⁰⁶² Pennsylvania Commission Initial Comments at 16.

1442. Dominion supports allowing but not requiring that ex ante processes be coupled with an option for states to propose an alternate method, stating that the process for establishing an alternative cost allocation method could become cumbersome as the NOPR proposes to require it to comply with the six Order No. 1000 regional cost allocation principles.³⁰⁶³ Exelon recommends allowing states the opportunity to propose an alternative cost allocation method to the ex ante method after transmission project selection, but states that FPA section 205 rights holders should be able to accept, modify, or reject the proposed alternative cost allocation method. Exelon claims that this approach would respect the legal rights of transmission owners, pointing to PJM's State Agreement Approach as an example.³⁰⁶⁴ NESCOE urges the Commission to reject Exelon's request that transmission providers be free to accept or reject cost allocation methods proposed by state entities.³⁰⁶⁵

³⁰⁶³ Dominion Initial Comments at 51.

³⁰⁶⁴ Exelon Initial Comments at 26-27.

³⁰⁶⁵ NESCOE Reply Comments at 3-4.

i. Permissive Right of Transmission Provider To File Alternate Cost Allocation Method With the Commission Upon Unanimous State Agreement

1443. NARUC and NESCOE argue that if states unanimously agree on an alternate cost allocation method, then the transmission provider should be obligated to file it.³⁰⁶⁶ NARUC states that the transmission provider may also file the cost allocation method that would otherwise apply if it concludes that the negotiated cost allocation method does not comply with the six Order No. 1000 regional cost allocation principles or is otherwise deficient. NARUC contends that this approach would not violate the transmission providers' FPA section 205 filing rights.³⁰⁶⁷ Similarly, NESCOE asserts that the Commission should allow the transmission provider to file its preferred approach, but also require that the transmission provider file the state-negotiated alternate cost allocation method, an approach that could be modeled after existing provisions in NYISO and SPP.³⁰⁶⁸

³⁰⁶⁶ NARUC Initial Comments at 53; NESCOE Initial Comments at 68.

³⁰⁶⁷ NARUC Initial Comments at 53.

³⁰⁶⁸ NESCOE Initial Comments at 68-70.

1444. NESCOE also requests that the Commission clarify whether unanimity means that each opting-in state has agreed to fund the Long-Term Regional Transmission Facility or that all the states in the transmission planning region have agreed that a subset of states will fund the Long-Term Regional Transmission Facility.³⁰⁶⁹ NESCOE further requests that the Commission clarify how it intends to reconcile the unanimous agreement requirement in this proposal with the other NOPR proposal that gives states the ability to choose the definition of state agreement for purposes of a cost allocation method and where the NOPR expressed a willingness to abide by the bylaws of an individual regional state committee, which may not define agreement as full unanimity.³⁰⁷⁰

³⁰⁶⁹ Id. at 10, 67-68.

³⁰⁷⁰ Id. at 68 (citing NOPR, 179 FERC ¶ 61,028 at P 306 & n.512).

1445. Indiana Commission expresses concern that the requirement to obtain unanimous state approval regarding an ex post cost allocation process might prove unworkable. Indiana Commission argues that it may be unrealistic to expect that states can reach unanimity on something as contentious as cost allocation. Moreover, Indiana Commission is concerned that states may use the requirement for unanimous agreement to leverage their vote and to gain ground in other areas of contention.³⁰⁷¹

³⁰⁷¹ Indiana Commission Initial Comments at 5.

1446. PIOs seek clarification on the intent behind the NOPR language that “the public utility transmission provider may elect to file [a state-negotiated alternate cost allocation method] with the Commission for consideration under FPA section 205.” ³⁰⁷² Similarly, Pennsylvania Commission and PJM States request clarification regarding whether transmission providers could choose not to file an alternative cost allocation method to which the states in a transmission planning region have unanimously agreed.³⁰⁷³ Pennsylvania Commission asserts that it sees no reason why a transmission provider should be able to override the unanimous agreement of affected states.³⁰⁷⁴

³⁰⁷² PIOs Initial Comments at 71 (citing NOPR, 179 FERC ¶ 61,028 at P 319).

³⁰⁷³ Pennsylvania Commission Initial Comments at 16-17; PJM States Reply Comments at 6.

³⁰⁷⁴ Pennsylvania Commission Initial Comments at 17.

1447. In addition, PJM States recommend that to address the inability for states to voice their cost allocation concerns, the Commission should consider how it can afford retail regulators greater participation status in the FPA section 205 filing process.³⁰⁷⁵ Further, PJM States note that other regional states committees have varying processes, including the ability to request that a transmission provider file a cost allocation method on their behalf.³⁰⁷⁶

³⁰⁷⁵ PJM States Reply Comments at 6-7.

³⁰⁷⁶ Id. at 7.

ii. Duration for the Time Period for State-Negotiated Cost Allocation

1448. A few commenters agree with the Commission's proposal to require a 90-day time period for a state-negotiated cost allocation method to be memorialized in writing.³⁰⁷⁷ For example, New England for Offshore Wind states that it is essential that deadlines are imposed to prevent delays caused by disagreements over cost allocation.³⁰⁷⁸ PIOs assert that the 90-day time period should begin when the transmission project or portfolio of projects is selected.³⁰⁷⁹

³⁰⁷⁷ New England for Offshore Wind Initial Comments at 5; Northwest and Intermountain Initial Comments at 18; PIOs Initial Comments at 69; SEIA Initial Comments at 24.

³⁰⁷⁸ New England for Offshore Wind Initial Comments at 5.

³⁰⁷⁹ PIOs Initial Comments at 70.

1449. Many commenters, however, argue that the 90-day time period is too short. For example, NARUC, National Grid, and Southern contend that 90 days may be insufficient time for the states in large, multi-state transmission planning regions to negotiate a cost allocation method.³⁰⁸⁰ Similarly, NRG argues that the Commission might consider alternative timelines for multi-state collaboration versus where there is a single state entity responsible for the cost allocation.³⁰⁸¹ US Chamber of Commerce contends that the 90-day timeline for state-negotiated cost allocation agreements is unreasonably tight and may undermine the potential for agreement.³⁰⁸²

³⁰⁸⁰ NARUC Initial Comments at 52-53; National Grid Initial Comments at 24-25; Southern Initial Comments at 7-8.

³⁰⁸¹ NRG Initial Comments at 21.

³⁰⁸² US Chamber of Commerce Initial Comments at 10.

1450. Several commenters, including state commissions, propose longer time periods. For example, California Commission, Kentucky Commission Chair Chandler, Louisiana Commission, NARUC, NRG, and Pacific Northwest State Agencies propose at least six months (180 days) as a more appropriate time period for state negotiation.³⁰⁸³ California Commission and Louisiana Commission request that states should be provided with the opportunity to request extensions if they fail to agree on a cost allocation method after six months (180 days).³⁰⁸⁴ OMS recommends that the Commission establish periodic reporting requirements for transmission providers during the 90-day period with an option to extend the deliberations for good cause.³⁰⁸⁵

³⁰⁸³ California Commission Initial Comments at 56; Kentucky Commission Chair Chandler Initial Comments at 4; Louisiana Commission Initial Comments at 34-35; NARUC Initial Comments at 52-53; NRG Initial Comments at 21; Pacific Northwest State Agencies Initial Comments at 27-28.

³⁰⁸⁴ California Commission Initial Comments at 56; Louisiana Commission Initial Comments at 35.

³⁰⁸⁵ OMS Initial Comments at 13.

1451. Several other commenters contend that it should be left to the transmission planning regions, with input from states, to determine the appropriate time period.³⁰⁸⁶ For example, Dominion states that the Commission should not dictate any particular timetable and should instead evaluate proposals on a case-by-case basis.³⁰⁸⁷ Similarly, Nevada Commission proposes that the Commission require relevant state agencies to be involved in the process as early as possible, but to provide no less than 120 days to allow for appropriate notice and review of any state-negotiated agreement.³⁰⁸⁸ Exelon, Indiana Commission, and SERTP Sponsors recommend allowing flexibility in determining the appropriate time period to reflect regional differences.³⁰⁸⁹ Idaho Power agrees but cautions that any process should not extend the length of transmission planning processes or development.³⁰⁹⁰ Pennsylvania Commission also supports flexibility in determining the appropriate time period given that this process is new and there is little knowledge and experience with respect to how it will function in practice.³⁰⁹¹

³⁰⁸⁶ Dominion Initial Comments at 51-52; Exelon Initial Comments at 28-29; Indiana Commission Initial Comments at 5-6; National Grid Initial Comments at 24-25; NESCOE Initial Comments at 71; Pennsylvania Commission Initial Comments at 16; PJM States Initial Comments at 12-13; SERTP Sponsors Initial Comments at 15.

³⁰⁸⁷ Dominion Initial Comments at 51-52.

³⁰⁸⁸ Nevada Commission Initial Comments at 13-14.

³⁰⁸⁹ Exelon Initial Comments at 28-29; Indiana Commission Initial Comments at 5-6; SERTP Sponsors Initial Comments at 15.

³⁰⁹⁰ Idaho Power Initial Comments at 10-11.

³⁰⁹¹ Pennsylvania Commission Initial Comments at 16.

1452. NESCOE and PJM States assert that NYISO's process referenced by the Commission can last longer than the 90-day time period for state-negotiated cost allocation proposed in the NOPR.³⁰⁹² Further, NESCOE emphasizes that the NYISO process involves only one state entity, whereas other transmission planning regions have multiple states. Thus, NESCOE and PJM States argue, the Commission should allow transmission planning regions to determine what time period is appropriate.³⁰⁹³

³⁰⁹² NESCOE Initial Comments at 70-71 (citing NOPR, 179 FERC ¶ 61,028 at P 323); PJM States Initial Comments at 12-13 (citing N.Y. Indep. Sys. Operator, Inc., 151 FERC ¶ 61,040, at PP 119-121 (2015)).

³⁰⁹³ NESCOE Initial Comments at 71; PJM States Initial Comments at 12-13.

1453. A few other commenters contend that state negotiation on an alternate cost allocation method should not be limited by any time period. For example, PPL asserts that limiting the timeframe merely lowers the chance of state agreement, and thus the prospects for the underlying transmission project to be constructed.³⁰⁹⁴ Southern states that the Commission should allow transmission planning regions to develop a process that has state support.³⁰⁹⁵ Similarly, Xcel contends that transmission planning regions should have as much time as needed to negotiate and identify cost allocation methods.³⁰⁹⁶

³⁰⁹⁴ PPL Initial Comments at 27.

³⁰⁹⁵ Southern Initial Comments at 7-8.

³⁰⁹⁶ Xcel Initial Comments at 11-12.

iii. Other Issues

1454. NESCOE, Northwest and Intermountain, PJM, and SEIA agree with the proposal that if states cannot unanimously agree on an alternate cost allocation method within the specified timeframe, then the transmission developer would be entitled to use the cost allocation method that would otherwise apply for that Long-Term Regional Transmission Facility.³⁰⁹⁷ In contrast, NRG recommends that in the case where states do not agree, the Commission could either require the transmission provider to make a filing or subject rival state filings to “jump ball” treatment. NRG contends that either of these approaches would encourage comity and resolution of states' differences.³⁰⁹⁸

³⁰⁹⁷ NESCOE Initial Comments at 70; Northwest and Intermountain Initial Comments at 19; PJM Initial Comments at 117-118; SEIA Initial Comments at 24.

³⁰⁹⁸ NRG Initial Comments at 21.

1455. MISO and PPL oppose establishing a requirement for a time period for state involvement in regional cost allocation for transmission facilities selected in existing near-term reliability and economic regional transmission planning processes. MISO states that there is no evidence in the record of this proceeding to support extending the state involvement proposed in the NOPR to existing near-term transmission planning processes.³⁰⁹⁹ PPL argues that departures from an ex ante cost allocation method would lead to uncertainty, delay, and costly litigation.³¹⁰⁰

³⁰⁹⁹ MISO Initial Comments at 71.

³¹⁰⁰ PPL Initial Comments at 27-28.

c. Commission Determination

1456. We decline to adopt the NOPR proposal to require transmission providers to provide a time period after selection of Long-Term Regional Transmission Facilities for states to negotiate an alternate cost allocation that is different than any ex ante regional cost allocation method that would otherwise apply. We find that requiring a time period after selection for states to negotiate an alternate ex post cost allocation method is largely duplicative given our decision above to allow the use of a State Agreement Process before or after the selection of a Long-Term Regional Transmission Facility (or a portfolio of such Facilities). Furthermore, having two separate processes that serve similar functions could add unnecessary complexity and create confusion in the cost allocation process.³¹⁰¹ Relevant State Entities will have an opportunity to provide input on and to potentially agree to a Long-Term Regional Transmission Cost Allocation Method(s) and/or a State Agreement Process as part of the Engagement Period that we require transmission providers to establish. We are also concerned that the burden associated with the NOPR proposal would have been significant, as it would have created a requirement to allow for such negotiations for all Long-Term Regional Transmission Facilities.

³¹⁰¹ See, e.g., MISO Initial Comments at 71 (seeking clarification as to whether the proposed time period for states to negotiate cost allocation is an alternative to the State Agreement Process); Pennsylvania Commission Initial Comments at 16 (stating that it does not view the proposed time period as the principal method for negotiating cost allocation and that the more appropriate process is the proposed State Agreement Process).

1457. Because we are declining to require that transmission providers establish a time period after selection of Long-Term Regional Transmission Facilities to allow states to negotiate an alternate ex post cost allocation method, we need not address the comments on the duration of such a time period and the requests for clarification by MISO, Pennsylvania Commission, PIOs, and PJM States.³¹⁰²

³¹⁰² MISO Initial Comments at 71; Pennsylvania Commission Initial Comments at 15; PIOs Initial Comments at 71 (citing NOPR, 179 FERC ¶ 61,028 at P 319); PJM States Reply Comments at 6.

B. Long-Term Regional Transmission Facility Cost Allocation Compliance With the Existing Six Order No. 1000 Regional Cost Allocation Principles

1. NOPR Proposal

1458. The Commission proposed to require that the Long-Term Regional Transmission Cost Allocation Method and any cost allocation method resulting from the State Agreement Process for Long-Term Regional Transmission Facilities comply with the existing six Order No. 1000 regional cost allocation principles.³¹⁰³ The six regional transmission cost allocation principles adopted in Order No. 1000 are: (1) the costs of selected transmission facilities must be allocated to those within the transmission planning region that benefit from those facilities in a manner that is at least roughly commensurate with estimated benefits; (2) those that receive no benefit from transmission facilities, either at present or in a likely future scenario, must not be involuntarily allocated any of the costs of those transmission facilities; (3) a benefit to cost threshold ratio, if adopted, cannot exceed 1.25 to 1; (4) costs must be allocated solely within the transmission planning region unless another entity outside the region voluntarily assumes a portion of those costs; (5) the method for determining benefits and identifying beneficiaries must be transparent; and (6) there may be different regional cost allocation methods for different types of transmission facilities, such as those needed for reliability, congestion relief, or to achieve Public Policy Requirements.³¹⁰⁴

³¹⁰³ NOPR, 179 FERC ¶ 61,028 at P 302.

³¹⁰⁴ Order No. 1000, 136 FERC ¶ 61,051 at PP 622, 637, 646, 657, 668, 685.

2. Comments

a. General Proposal

1459. Some commenters agree with the Commission's proposal that any Long-Term Regional Transmission Cost Allocation Method and any cost allocation method resulting from the State Agreement Process for Long-Term Regional Transmission Facilities must comply with the existing six Order No. 1000 regional cost allocation principles.³¹⁰⁵ APPA requests that the Commission clarify that it is not requiring changes to existing Commission-approved Order No. 1000 regional cost allocation principles.³¹⁰⁶

³¹⁰⁵ APPA Initial Comments at 40; Dominion Initial Comments at 45; Kentucky Commission Chair Chandler Initial Comments at 3; NESCOE Initial Comments at 56; NRECA Initial Comments at 56; Ohio Consumers Initial Comments at 12-13.

³¹⁰⁶ APPA Initial Comments at 5.

1460. New Jersey Commission supports requiring that any negotiated cost allocation method, whether ex ante or ex post, comply with the Order No. 1000 regional cost allocation principles, except for Principle 4.³¹⁰⁷ New Jersey Commission opines that requiring that cost allocation methods be consistent with the beneficiary-pays principle is particularly necessary in a State Agreement Process to avoid potential free ridership.³¹⁰⁸

³¹⁰⁷ New Jersey Commission Initial Comments at 18 (citing New Jersey Commission ANOPR Comments at 7-8 (explaining why it opposes Principle 4's policy of allowing beneficiaries in other transmission planning regions to evade all cost allocation for transmission projects that provide them with substantial benefits)).

³¹⁰⁸ Id.

1461. Industrial Customers argue that, regardless of the cost allocation method that is chosen, the Commission should explicitly state that the cost causation principle must apply, as compliance with Order No. 1000 may not ensure compliance with cost causation principles on its own.³¹⁰⁹ Large Public Power argues that the Commission must hew closely to the first two principles governing cost allocation articulated in Order No. 1000: (1) that costs must be allocated in a way that is roughly commensurate with benefits; and (2) that there will be no involuntary allocation of costs to non-beneficiaries.³¹¹⁰ Pine Gate asserts that transmission providers must be required to propose cost allocation methods that comport with the well-established “roughly commensurate” principle.³¹¹¹ City of New Orleans Council and Ohio Commission Federal Advocate state that cost allocation must adhere to cost causation and beneficiary-pays principles.³¹¹²

³¹⁰⁹ Industrial Customers Initial Comments at 23-24.

³¹¹⁰ Large Public Power Initial Comments at 29.

³¹¹¹ Pine Gate Initial Comments at 42-44.

³¹¹² City of New Orleans Council Initial Comments at 10; Ohio Commission Federal Advocate Initial Comments at 14.

1462. OMS states that it developed its own principles through a committee of regulators focused on cost allocation for long-range transmission projects in response to the NOPR, which include: (1) costs of new transmission projects should be allocated to cost causers and beneficiaries in a manner roughly commensurate with the costs caused and benefits of those projects; (2) cost allocation should be as granular and accurate as possible such that benefit-cost analysis uses metrics that are quantifiable, capable of replication, non-duplicative, and forward-looking; (3) costs should not be allocated to parties that receive negligible or negative benefits; and (4) generators and load each can be considered cost causers, beneficiaries, or both and should be allocated costs accordingly.³¹¹³ Louisiana Commission supports OMS' position on benefit metrics as articulated in OMS' second principle.³¹¹⁴ OMS highlights that regional flexibility must be preserved, pointing to MISO's Targeted Market Efficiency Projects process as an example of a process that did not strictly comply with Order No. 1000 but was effective and widely supported.³¹¹⁵

³¹¹³ OMS Initial Comments at 12.

³¹¹⁴ Louisiana Commission Reply Comments at 10.

³¹¹⁵ OMS Initial Comments at 13.

1463. Ohio Consumers argue that the Commission should espouse three fundamental principles when considering the benefits and cost allocations associated with any Long-Term Regional Transmission Facilities: (1) costs should be allocated to those who caused the costs to be incurred; (2) subsidies are bad for competitive markets, because they result in noncompetitive outcomes and inaccurate price signals; and (3) consumers should not be charged until transmission projects are found to be used and useful.³¹¹⁶ Also, Ohio Consumers assert, cost allocations to consumers should adhere to the Commission's current ratemaking standards in PJM.³¹¹⁷

³¹¹⁶ Ohio Consumers Initial Comments at 6-7, 12-14.

³¹¹⁷ Id. at 1.

1464. PIOs assert that the Commission should require that transmission providers demonstrate on compliance that the cost allocation method complies with the beneficiary-pays principle by considering all quantifiable benefits.³¹¹⁸ ELCON states that cost allocation proposals must comply with the cost causation principle “by comparing the costs assessed against a party to the burdens imposed or benefits drawn by that party.” ELCON remains concerned that, in an effort to reach public policy goals, costs will be socialized among all consumers without consideration of the cost causers, and states that cost allocation must evaluate the drivers of the specific transmission need and the party that caused the need for the additional transmission.³¹¹⁹ Utah Division of Public Utilities asks that when states or other stakeholders disagree on the cost allocation method due to differing renewable goals, the Long-Term Regional Transmission Cost Allocation Method be required to use cost causation principles to determine what portion of the proposed transmission projects are due to state policies.³¹²⁰

³¹¹⁸ PIOs Initial Comments at 68.

³¹¹⁹ ELCON Initial Comments at 15.

³¹²⁰ Utah Division of Public Utilities Initial Comments at 9-10.

1465. West Virginia Commission states that it supports retention of the cost-causation principles in Order No. 1000, noting that the Order No. 1000 cost allocation principles are grounded in the beneficiary-pays principle that the costs of transmission facilities should be allocated commensurate with the benefits of those facilities. However, West Virginia Commission contends that the beneficiary-pays principle cannot and should not be applied on a presumptive regional basis when new transmission is identified as needed to accommodate one or more states' public policy decisions.³¹²¹ West Virginia Commission states that longstanding legal precedent on cost causation and ratemaking principles require that rates remain just and reasonable, that customers pay for transmission upgrades based upon their roughly commensurate benefits, and that new generators, or the willing and voluntary benefactors of new generators, pay the costs for the interconnection-related network upgrades if such upgrades would not be needed but for the new generators.³¹²² West Virginia Commission contends that to adopt a cost allocation that requires any non-volunteering state to pay costs caused by another state's public policies would depart from years of Commission precedent and would be unjust and unreasonable.³¹²³

³¹²¹ West Virginia Commission Reply Comments at 3; West Virginia Commission Supplemental Comments at 3-4.

³¹²² West Virginia Commission Reply Comments at 6 (citing K N Energy, Inc. v. FERC, 968 F.2d 1295, 1300 (D.C. Cir. 1992); ICC v. FERC I, 576 F.3d at 477; ISO New England, Inc., 115 FERC ¶ 61,145, at P 13 (2006), aff'd, TransCanada Power Mktg. Ltd. v. FERC, 811 F.3d 1 (D.C. Cir. 2015); El Paso Elec. Co. v. FERC, 832 F.3d 495, 499-500 & n.10 (5th Cir. 2016); Midcontinent Indep. Sys. Operator, Inc., 159 FERC ¶ 63,016, at P 138 (2017), aff'd, 164 FERC ¶ 61,194 (2018); Order No. 1000, 136 FERC ¶ 61,051 at P 622); West Virginia Commission Supplemental Comments at 5-6.

³¹²³ West Virginia Commission Reply Comments at 6-7.

1466. Vermont Electric and Vermont Transco encourage the Commission to ensure that any cost allocation approach ensures that the benefits of transmission facilities are roughly commensurate with the costs thereof for both small rural states and larger, more populated states. Vermont Electric and Vermont Transco argue that the final order should reflect equitable principles in accordance with which the significant investments made by Vermont prior to the issuance of the final order are taken into account in cost allocation processes.³¹²⁴ MISO states that the final order should not preclude applying different cost allocation methods to transmission projects of the same type, noting that Order No. 2000 contemplated “the potential for different cost allocation methodologies” as RTO/ISO footprints grew.³¹²⁵

³¹²⁴ Vermont Electric and Vermont Transco Initial Comments at 3-4.

³¹²⁵ MISO Reply Comments at 17-19.

b. Comments Specific to a State Agreement Process

1467. Certain commenters discuss the interaction between the Order No. 1000 regional cost allocation principles and any cost allocation methods resulting from the State Agreement Process. Pennsylvania Commission supports the proposed requirement while also contending that the Commission should defer to unanimous agreement by affected states.³¹²⁶ Avangrid argues that the Commission should relax this requirement and defer to the balance achieved via state agreement.³¹²⁷ Mississippi Commission argues that the proposed requirement is unnecessary because the State Agreement Process will result in voluntary assumption of costs.³¹²⁸ Likewise, PacifiCorp and NV Energy argue that the Order No. 1000 regional cost allocation principles should not apply to the State Agreement Process because there will be no involuntary cost allocation given that states have already agreed. They further contend that beneficiary analyses and minimum cost-benefit ratios will foreclose state-favored cost allocation solutions.³¹²⁹ PacifiCorp and NV Energy argue that agreeing to cost allocation will be a difficult task for states, and the Commission should not further dictate the type of agreement.³¹³⁰

³¹²⁶ Pennsylvania Commission Initial Comments at 13.

³¹²⁷ Avangrid Initial Comments at 30.

³¹²⁸ Mississippi Commission Initial Comments at 25.

³¹²⁹ PacifiCorp and NV Energy Initial Comments at 17.

³¹³⁰ Id.

1468. PJM States ask the Commission not to preclude or limit the availability of the PJM State Agreement Approach, which they assert is not required to comply with the Order No. 1000 regional cost allocation principles.³¹³¹ Similarly, Exelon notes that the Commission has indicated that voluntary state cost allocation agreements need not comply with Order No. 1000.³¹³² Therefore, Exelon asks the Commission to clarify that the proposed State Agreement Process is supplementary to any previously accepted provisions for state agreement-based cost allocation.³¹³³

³¹³¹ PJM States Initial Comments at 11-12 (citing PJM Interconnection, L.L.C., 142 FERC ¶ 61,214 at P 142).

³¹³² Exelon Initial Comments at 27-28 (citing State Voluntary Agreements to Plan & Pay for Transmission Facilities, 175 FERC ¶ 61,225 at P 4).

³¹³³ Exelon Initial Comments at 27-28 (citing PJM Interconnection, L.L.C., 142 FERC ¶ 61,214).

3. Commission Determination

1469. We adopt the NOPR proposal, with modification, to require Long-Term Regional Transmission Cost Allocation Methods to comply with five of the six existing Order No. 1000 regional cost allocation principles. Specifically, we require transmission providers in each transmission planning region to demonstrate on compliance with this final order that any Long-Term Regional Transmission Cost Allocation Methods, that they propose that Relevant State Entities have not indicated that they agree to, comply with Order No. 1000 regional cost allocation principles (1) through (5). However, we do not require transmission providers to demonstrate that any Long-Term Regional Transmission Cost Allocation Methods that they propose complies with Order No. 1000 regional cost allocation principle (6), and, as a result, unlike under Order No. 1000, transmission providers cannot adopt different Long-Term Regional Transmission Cost allocation Methods for different types of Long-Term Regional Transmission Facilities, such as those needed for reliability, congestion relief, or to achieve Public Policy Requirements.

1470. However, as discussed further below, we do not adopt the NOPR proposal to require compliance with the Order No. 1000 regional cost allocation principles in two situations. First, we do not require a Long-Term Regional Transmission Cost Allocation Method to comply with any of the Order No. 1000 regional cost allocation principles if Relevant State Entities indicate that they agreed to that method as part of the Engagement Period. Second, we do not require a cost allocation method resulting from a State Agreement Process to comply with the Order No. 1000 regional cost allocation principles.

1471. The first five Order No. 1000 regional transmission cost allocation principles are: (1) the costs of selected transmission facilities must be allocated to those within the transmission planning region that benefit from those facilities in a manner that is at least roughly commensurate with estimated benefits; ³¹³⁴ (2) those that receive no benefit from transmission facilities, either at present or in a likely future scenario, must not be involuntarily allocated any of the costs of those transmission facilities; ³¹³⁵ (3) a benefit to cost threshold ratio, if adopted, cannot exceed 1.25 to 1; ³¹³⁶ (4) costs must be allocated solely within the transmission planning region unless another entity outside the region voluntarily assumes a portion of those costs; ³¹³⁷ and (5) the method for determining benefits and identifying beneficiaries must be transparent.³¹³⁸

³¹³⁴ Order No. 1000, 136 FERC ¶ 61,051 at P 622.

³¹³⁵ Id. P 637.

³¹³⁶ Id. P 646.

³¹³⁷ Id. P 657.

³¹³⁸ Id. P 668.

1472. We find that Order No. 1000 regional cost allocation principles (1) through (5) remain relevant for ex ante cost allocation methods for Long-Term Regional Transmission Facilities that transmission providers propose on compliance but with which Relevant State Entities have not indicated their agreement. In Order No. 1000, regarding regional cost allocation principle (1), the Commission stated that “[r]equiring a beneficiaries pay cost allocation method or methods is fully consistent with the cost causation principle as recognized by the Commission and the courts.” ³¹³⁹ Since making that statement, the Commission and the courts have only further strengthened this connection between beneficiaries-pay cost allocation and the cost causation principle.³¹⁴⁰ Similarly, principle (2) continues to “express[ ] a central tenet of cost causation” and is “thus essential to proper cost allocation.” ³¹⁴¹

³¹³⁹ Id. P 623. See also id. P 586 & n.453 (citing ICC v. FERC I, 576 F.3d at 476-77; Midwest ISO Transmission Owners v. FERC, 373 F.3d 1361, 1369 (D.C. Cir. 2004); Sithe/Indep. Power Partners, L.P. v. FERC, 285 F.3d 1, 5 (D.C. Cir. 2002)).

³¹⁴⁰ Long Island Power Auth. v. FERC, 27 F.4th 705, 713-14 (D.C. Cir. 2022); Old Dominion Elec. Coop. v. FERC, 898 F.3d at 1261-63.

³¹⁴¹ Order No. 1000, 136 FERC ¶ 61,051 at P 637.

1473. Concerning regional cost allocation principle (3), as noted in Order No. 1000, transmission providers may choose to establish such a threshold to mitigate against uncertainty in the measurement of benefits and costs, and this principle limits the threshold to one that is not so high as to block inclusion of many worthwhile transmission projects in the regional transmission plan.³¹⁴² As to regional cost allocation principle (4), this final order maintains the close link established by Order No. 1000 between regional transmission planning and cost allocation to the region being planned for.³¹⁴³ Further, we find, similar to the Commission's findings in Order No. 1000, that removing regional cost allocation principle (4) would be tantamount to interconnection-wide transmission planning because unilateral allocation of costs from one transmission planning region to another would require stakeholders to actively monitor regional transmission planning processes in numerous other regions.³¹⁴⁴ Lastly, we find, similar to Order No. 1000, that regional cost allocation principle (5) will ensure that Long-Term Regional Transmission Cost Allocation Methods are just and reasonable and not unduly discriminatory or preferential, will help aid in development and construction of new transmission, and may avoid contentious litigation or prolonged debate among stakeholders.³¹⁴⁵

³¹⁴² Id. PP 647-648.

³¹⁴³ Id. P 660. See also S.C. Pub. Serv. Auth. v. FERC, 762 F.3d at 87-88.

³¹⁴⁴ Order No. 1000, 136 FERC ¶ 61,051 at P 660. See also S.C. Pub. Serv. Auth. v. FERC, 762 F.3d at 87-88.

³¹⁴⁵ Order No. 1000, 136 FERC ¶ 61,051 at P 669.

1474. In contrast to the first five regional cost allocation principles, Order No. 1000 regional cost allocation principle (6) is inconsistent with Long-Term Regional Transmission Planning as directed in this final order. Order No. 1000 Regional cost allocation principle (6) provides that there may be different regional cost allocation methods for different types of transmission facilities in the regional transmission plan but that there can be only one cost allocation method for each type of facility, and that method must be determined in advance.³¹⁴⁶ As we explain below, however, transmission providers may not establish reliability, economic, or public policy transmission facility types as part of Long-Term Regional Transmission Planning and, therefore, may not establish Long-Term Regional Transmission Cost Allocation Methods based on reliability, economic, or public policy transmission facility types. Permitting such project-type-limited Long-Term Regional Transmission Cost Allocation Methods would be inconsistent with the long-term, forward-looking, more comprehensive regional transmission planning that we require in this final order. Accordingly, in declining to require that Long-Term Regional Transmission Cost Allocation Methods comply with Order No. 1000 regional cost allocation principle (6), consistent with the request of some commenters,³¹⁴⁷ we find that reliability, economic, or public policy transmission facility types reflect a more siloed approach to regional transmission planning that is misaligned with our Long-Term Regional Transmission Planning reforms and would likely lead to the allocation of the costs of Long-Term Regional Transmission Facilities in a manner that is not at least roughly commensurate with estimated benefits.

³¹⁴⁶ Id. P 685.

³¹⁴⁷ Massachusetts Attorney General Initial Comments at 15, 21; Ørsted Initial Comments at 9.

1475. We clarify that this final order does not preclude the adoption of multiple Long-Term Regional Transmission Cost Allocation Methods, provided that the Long-Term Regional Transmission Cost Allocation Method that will apply to a Long-Term Regional Transmission Facility (or portfolio of such Facilities) is known before selection, i.e., is an ex ante cost allocation method, and does not allocate costs by project type. We find that knowing the applicability of a Long-Term Regional Transmission Cost Allocation Method in advance is inherent to the definition of, and one of the primary reasons for, requiring transmission providers to include an ex ante cost allocation method in their OATTs. As such, transmission providers that choose to propose more than one Long-Term Regional Transmission Cost Allocation Method on compliance are required to make clear in their OATTs which Long-Term Regional Transmission Cost Allocation Method applies to which Long-Term Regional Transmission Facilities (e.g., cost allocation methods that apply to Long-Term Regional Transmission Facilities above a certain voltage threshold or to Long-Term Regional Transmission Facilities located within a specific portion of a transmission planning region's footprint).³¹⁴⁸ However, we emphasize that any Long-Term Regional Transmission Cost Allocation Method that transmission providers propose, except for those that Relevant State Entities indicate that they agreed to and asked the transmission providers in their transmission planning region to file, must comply with Order No. 1000 regional cost allocation principles (1) through (5) and the other requirements of this final order.

³¹⁴⁸ We believe that this finding should address MISO's request that the final order not preclude applying different cost allocation methods to projects of the same type.

1476. Regarding cost allocation methods resulting from a State Agreement Process and Long-Term Regional Transmission Cost Allocation Methods that Relevant State Entities indicate that they have agreed to and asked transmission providers to file after the Engagement Period, the Commission has previously found that “Order No. 1000 allows market participants, including states, to negotiate voluntarily alternative cost sharing arrangements that are distinct from the relevant regional cost allocation method(s).” ³¹⁴⁹ Additionally, where transmission providers have proposed cost allocation methods corresponding to such voluntary arrangements, the Commission has held that it need not find that those cost allocation methods comply with Order No. 1000.³¹⁵⁰ Consistent with this precedent, we find that cost allocation methods resulting from a State Agreement Process and Long-Term Regional Transmission Cost Allocation Methods that Relevant State Entities indicate that they have agreed to and have asked transmission providers to file also qualify as voluntary alternative cost sharing arrangements and, accordingly, we decline to require those methods to adhere to the six Order No. 1000 regional cost allocation principles. However, those methods must still comply with the cost causation principle and any other legal requirements for cost allocation.

³¹⁴⁹ State Voluntary Agreements to Plan & Pay for Transmission Facilities, 175 FERC ¶ 61,225 at P 3 (citing Order No. 1000, 136 FERC ¶ 61,051 at PP 561, 724; Order No. 1000-A, 139 FERC ¶ 61,132 at PP 728-729).

³¹⁵⁰ See PJM Interconnection, L.L.C., 142 FERC ¶ 61,214 at PP 142-143, order on reh'g and compliance, 147 FERC ¶ 61,128 at P 92; ISO New England Inc., 143 FERC ¶ 61,150 at P 121; Consol. Edison Co. of N.Y., Inc., 180 FERC ¶ 61,106, at PP 48-50 (2022).

1477. We decline to adopt the NOPR proposal that required adherence to the six Order No. 1000 regional cost allocation principles because cost allocation methods resulting from a State Agreement Process and Long-Term Regional Transmission Cost Allocation Methods that Relevant State Entities indicate that they have agreed to are likely to facilitate agreement over development of such Long-Term Regional Transmission Facilities by, for example, making the Relevant State Entities more confident that customers in the state are receiving benefits at least roughly commensurate with their share of the cost of such facilities and by reducing the likelihood that selected Long-Term Regional Transmission Facilities cannot be constructed because they do not receive necessary state regulatory approvals. Affording additional flexibility for these methods may encourage their use, which would facilitate the selection of more efficient or cost-effective Long-Term Regional Transmission Facilities. However, as described in the next section, we note that cost allocation methods resulting from a State Agreement Process and Long-Term Regional Transmission Cost Allocation Methods that Relevant State Entities indicate that they have agreed to must be just and reasonable and not unduly discriminatory or preferential and must allocate costs in a manner that is at least roughly commensurate with estimated benefits.³¹⁵¹

³¹⁵¹ See, e.g., PPL Elec. Utils. Corp., 181 FERC ¶ 61,178 at P 33.

1478. ELCON and West Virginia Commission express concern that the NOPR's proposals for cost allocation methods, including requiring compliance with the six Order No. 1000 regional cost allocation principles, might not sufficiently recognize specific Public Policy Requirements as driving the needs for specific Long-Term Regional Transmission Facilities and, therefore, allow cost allocation methods that contradict precedent on cost causation. Similarly, Utah Division of Public Utilities asks that the Long-Term Regional Transmission Cost Allocation Method be required to use cost causation principles to determine what portion of Long-Term Regional Transmission Facilities are due to state policies when states or other stakeholders disagree on the cost allocation method due to differing renewable goals. We believe these concerns are misplaced and no further requirements are necessary. First, while state laws, regulations, and goals make up some of the drivers of Long-Term Transmission Needs, they do not comprise the entirety of those needs, as described in the Development of Long-Term Scenarios section of this final order. Second, as described below, all cost allocation methods for Long-Term Regional Transmission Facilities must allocate costs to transmission customers in a manner that is at least roughly commensurate with their estimated benefits. Third, for Long-Term Regional Transmission Cost Allocation Methods, except for those that Relevant State Entities indicate that they agreed to and asked the transmission providers in their transmission planning region to file, compliance with five of the Order No. 1000 regional cost allocation principles further safeguards against cost causation concerns; notably, principles (1) and (2) require that benefits received are at least roughly commensurate with costs paid and that costs may not be involuntarily allocated to those that do not benefit, respectively. Further, Order No. 1000 regional cost allocation principle (5), as well as the requirements in this final order to disclose estimates of the benefits of selected Long-Term Regional Transmission Facilities, ensures sufficient transparency for stakeholders to understand how the costs of selected Long-Term Regional Transmission Facilities will be allocated to transmission customers in relation to the benefits that they are forecasted to provide. Lastly, for cost allocation methods resulting from a State Agreement Process and Long-Term Regional Transmission Cost Allocation Methods that Relevant State Entities have agreed to and asked transmission providers to file, we believe that states will have an opportunity to come to consensus on cost allocation methods that they perceive as allocating costs in a manner that is at least roughly commensurate with estimated benefits.

1479. Regarding Vermont Electric and Vermont Transco's concern regarding possible discrepancies between benefits received by small rural states and larger, more populated states, we believe that our requirement that all cost allocation methods for Long-Term Regional Transmission Facilities must allocate costs in a manner that is at least roughly commensurate with estimated benefits addresses this concern. Regarding OMS's, Louisiana Commission's, and Ohio Consumers' requests that the Commission adopt certain cost allocation principles distinct from the six Order No. 1000 regional cost allocation principles, the Commission did not propose adoption of any additional principles or that the six Order No. 1000 regional cost allocation principles be substituted for others. Accordingly, we find these requests beyond the scope of this final order. Additionally, in response to Exelon's request that the Commission clarify that the proposed State Agreement Process is supplementary to any previously accepted provisions for state agreement-based cost allocation,³¹⁵² we clarify that any State Agreement Process that the Commission accepts in compliance with this final order will apply to only Long-Term Regional Transmission Facilities, while any existing voluntary state cost allocation processes that the Commission has previously accepted apply to other transmission facilities and, thus, are unaltered by this final order.

³¹⁵² Exelon Initial Comments at 27-28.

C. Identification of Benefits Considered in Cost Allocation for Long-Term Regional Transmission Facilities

1. NOPR Proposal

1480. The Commission proposed to require transmission providers in each transmission planning region to identify on compliance the benefits they will use in ex ante Long-Term Regional Transmission Cost Allocation Methods associated with Long-Term Regional Transmission Planning, how they will calculate those benefits, and how the benefits will reasonably reflect the benefits of regional transmission facilities to meet identified transmission needs driven by changes in the resource mix and demand. The Commission proposed that as part of this compliance obligation, transmission providers must explain the rationale for using the benefits identified.³¹⁵³ The Commission also requested comment on whether the Commission should require that transmission providers account for the full list of benefits, as described in the Evaluation of the Benefits of Regional Transmission Facilities section above, in Long-Term Regional Transmission Planning, or whether no change to the benefits currently used in existing regional transmission planning processes is needed.³¹⁵⁴

³¹⁵³ NOPR, 179 FERC ¶ 61,028 at P 326.

³¹⁵⁴ Id. P 327.

1481. The Commission also proposed, for purposes of cost allocation, to require that transmission providers in each transmission planning region evaluate, as part of Long-Term Regional Transmission Planning, the benefits of regional transmission facilities over a time horizon that covers, at a minimum, 20 years starting from the estimated in-service date of the transmission facilities.³¹⁵⁵

³¹⁵⁵ Id. P 228.

2. Comments

a. Agree With Proposal

1482. Some commenters agree with the NOPR proposal.³¹⁵⁶ NESCOE contends that it is critical that costs as well as benefits be clearly identified in connection with project evaluation.³¹⁵⁷

³¹⁵⁶ Avangrid Initial Comments at 29; California Energy Commission Initial Comments at 3; Idaho Power Initial Comments at 11; ITC Initial Comments at 30; NESCOE Initial Comments at 72; Northwest and Intermountain Initial Comments at 18-19.

³¹⁵⁷ NESCOE Initial Comments at 72.

1483. Many commenters supporting the proposal emphasize the importance of flexibility and the lack of a proposed requirement in the NOPR to require that specific benefits be accounted for in cost allocation.³¹⁵⁸ Dominion opposes making the NOPR's listed benefits mandatory for cost allocation because identifying and measuring them would be difficult and lead to disputes and litigation that would add to the costs, borne by consumers, of transmission development.³¹⁵⁹ NYISO states that considering the list of benefits in the NOPR in cost allocation would introduce significant complexity and create a burdensome and perhaps infeasible process.³¹⁶⁰ Xcel states that not all benefits need to be studied given that such study can be costly and add little value, and that the analysis of future benefits should balance uncertainties to ensure that it is not too speculative.³¹⁶¹

³¹⁵⁸ APPA Initial Comments at 46; Dominion Initial Comments at 45-46; Dominion Reply Comments at 6, 9; Exelon Initial Comments at 29-30 (citing NOPR, 179 FERC ¶ 61,028 at P 312 & n.516; Midwest ISO Transmission Owners, 373 F.3d at 1369); Louisiana Commission Initial Comments at 35-36; NARUC Initial Comments at 38; National Grid Initial Comments at 26-27; NYISO Initial Comments at 51-52; Pacific Northwest Utilities Initial Comments at 8-9; PPL Initial Comments at 28; SERTP Sponsors Initial Comments at 30-31; Southern Initial Comments at 27; Xcel Initial Comments at 12.

³¹⁵⁹ Dominion Reply Comments at 6-7.

³¹⁶⁰ NYISO Initial Comments at 52.

³¹⁶¹ Xcel Initial Comments at 12.

1484. Pacific Northwest Utilities and SERTP Sponsors argue that many of the NOPR's proposed benefits would work only in RTO/ISO transmission planning regions and are not appropriate in non-RTO/ISO regions.³¹⁶² Pacific Northwest Utilities state that several of the benefits listed in the NOPR do not benefit transmission providers and argue that—in non-RTO/ISO transmission planning regions, like NorthernGrid, where there is neither a single independent transmission system operator nor any single independent transmission provider through which to affect transmission rate impacts due to cost allocation—costs allocated to transmission providers must be based on benefits to the transmission provider, not benefits realized by others, such as generators and load-serving entities.³¹⁶³ California Municipal Utilities argue that requiring consideration of the list of benefits in the NOPR would not reflect the state and local nature of resource portfolio planning and would fail to account for the costs of such prescriptive measures and consumer protection against speculative projects.³¹⁶⁴ Louisiana Commission states that transmission providers and retail regulators should be allowed to develop and agree on an appropriate set of metrics to be used for cost allocation.³¹⁶⁵

³¹⁶² Pacific Northwest Utilities Initial Comments at 8-10; SERTP Sponsors Initial Comments at 29-30.

³¹⁶³ Pacific Northwest Utilities Initial Comments at 9-10.

³¹⁶⁴ California Municipal Utilities Reply Comments at 5-6 (citing ACEG Initial Comments at 26-48, 50-51, 60-63).

³¹⁶⁵ Louisiana Commission Initial Comments at 35.

1485. APPA argues that regional flexibility should include allowing transmission providers to demonstrate on compliance that the benefits that they use to allocate the costs of transmission projects identified through their existing regional transmission planning processes are sufficient for Long-Term Regional Transmission Planning.³¹⁶⁶ National Grid asserts that flexibility avoids the risk of a static list of benefits becoming outdated, citing as an example the growing numbers of distributed resources in New England driving the need for transmission-level upgrades in New England. National Grid claims that more granular (state-specific or even direct assignment) cost allocation is appropriate for such upgrades.³¹⁶⁷

³¹⁶⁶ APPA Initial Comments at 46.

³¹⁶⁷ National Grid Initial Comments at 26-27.

1486. City of New Orleans Council, OMS, Louisiana Commission, and Michigan Commission argue that any benefit metrics should comply with OMS Cost Allocation Principle Committee Principle No. 2, which states that “[c]ost allocation should be as granular and accurate as possible. Benefit-cost analysis should use metrics that are quantifiable, capable of replication, non-duplicative, and forward-looking.” ³¹⁶⁸ NARUC similarly asserts that transmission benefits must be verifiable and quantifiable to justify allocating costs to ratepayers.³¹⁶⁹ Likewise, Idaho Power, Pacific Northwest Utilities, and West Virginia Commission state that benefits must be quantifiable and justified, arguing that many benefits in the NOPR proposal would be difficult to quantify, a difficulty, Idaho Power and Pacific Northwest Utilities argue, exacerbated by the proposed 20-year transmission planning horizon.³¹⁷⁰

³¹⁶⁸ City of New Orleans Council Initial Comments at 11; Louisiana Commission Initial Comments at 35-36; Michigan Commission Initial Comments at 9; OMS Initial Comments at 7-8, 14 (citing Organization of MISO States, Inc., Organization of MISO States Statement of Principles: Cost Allocation for Long Range Transmission Planning Projects, https://www.misostates.org/images/PositionStatements/OMS_Position_Statement_of_Principles_Cost_Allocation_for_LRTPs.pdf).

³¹⁶⁹ NARUC Initial Comments at 25, 38.

³¹⁷⁰ Idaho Power Initial Comments at 11; Pacific Northwest Utilities Initial Comments at 6-9; West Virginia Commission Reply Comments at 4.

1487. West Virginia Commission argues that use of these benefits allows for unfettered discretion by transmission providers to adopt cost allocation methods that do not meet the cost causation principle.³¹⁷¹

³¹⁷¹ West Virginia Commission Reply Comments at 4.

1488. Southern states that a cost allocation premised on an overly broad, non-quantifiable construction of benefits would likely exceed the Commission's authority because there must be a correlation between the charges proposed and the expected benefits, as articulated by the courts.³¹⁷² Southern states that the Commission must apply the roughly commensurate standard by determining whether the benefits to the intended beneficiaries are quantifiable and spread evenly across a transmission planning region. Otherwise, Southern states, the Commission must compile a record based on substantial evidence to support the proposed allocation of costs.³¹⁷³ Dominion similarly cautions that assignment of costs requires more than generalized articulation of benefits and that the list of benefits in the NOPR are broadly defined and generalized.³¹⁷⁴

³¹⁷² Southern Initial Comments at 28-30 (citing Pac. Gas & Elec. Co. v. FERC, 373 F.3d 1315, 1321 (D.C. Cir. 2004)).

³¹⁷³ Id. at 29-30 (citing ICC v. FERC I, 576 F.3d at 476-77; Ill. Com. Comm'n v. FERC, 721 F.3d 764, 777 (7th Cir. 2013) (ICC v. FERC II); ICC v. FERC III, 756 F.3d at 564-565).

³¹⁷⁴ Dominion Initial Comments at 43-44.

1489. Ohio Consumers state that the Commission should base the benefits attributable to Long-Term Regional Transmission Planning on the electrons to be delivered from generating facilities. Ohio Consumers point out that state consumer advocates disagree as to which benefits should be considered in cost allocation.³¹⁷⁵ Ohio Consumers argue that adopting a broad definition of benefits that includes state decarbonization plans and socialization of some portion of the associated costs across a transmission planning region would violate the Order No. 1000 regional cost allocation principles and the cost causation principle.³¹⁷⁶

³¹⁷⁵ Ohio Consumers Reply Comments at 10.

³¹⁷⁶ Ohio Consumers Reply Comments at 11 (citing DC and MD Offices of People's Counsel Initial Comments at 31, 34, 38-39).

1490. Pennsylvania Commission takes no position on requiring certain benefits to be accounted for in cost allocation, but states that the need for objective, well-defined, and measurable benefits applies not only to transmission planning but also to cost allocation, noting that it is important that customers who pay the costs allocated to them agree that they are paying for real and appreciable benefits.³¹⁷⁷

³¹⁷⁷ Pennsylvania Commission Initial Comments at 11.

b. Requests To Reflect the Full Breadth of Benefits in Cost Allocation Methods While Maintaining Flexibility

1491. Some commenters request that transmission providers reflect the full breadth of benefits in cost allocation methods for Long-Term Regional Transmission Facilities while also supporting flexibility.³¹⁷⁸ Vistra asserts that benefits considered in cost allocation should not be confined to a prescriptive list.³¹⁷⁹ NESCOE argues that the Commission should include a list of benefits in the final order as a required starting point and allow transmission providers to add or subtract benefits from the list on compliance following consultation with states in their transmission planning region.³¹⁸⁰

³¹⁷⁸ APPA Initial Comments at 45-46; Massachusetts Attorney General Initial Comments at 21; NESCOE Initial Comments at 72; Vistra Initial Comments at 15.

³¹⁷⁹ Vistra Initial Comments at 15.

³¹⁸⁰ NESCOE Initial Comments at 43, 72.

c. Disagree With Proposal, Mostly Require Benefits

1492. Some commenters disagree with the Commission's proposal, arguing that the Commission should require transmission providers to account for a minimum set of benefits in cost allocation.³¹⁸¹ Indicated U.S. Senators and Representatives argue that unless all benefits and costs are incorporated into transmission planning and cost allocation, the result will be biased, resulting in unjust and unreasonable costs and cost allocation.³¹⁸² Acadia Center and CLF contend that failure to consider a minimum set of benefits could result in the failure to select transmission projects that would have benefited customers.³¹⁸³ Certain TDUs argue that guardrails should be put in place to require transmission providers to adequately define quantifiable benefits and to make transparent their method for identifying benefits; however, Certain TDUs contend that the Commission should require transmission providers to account for, at minimum, production cost savings and avoided or deferred reliability transmission facilities and aging transmission infrastructure replacement, as may be refined by transmission planning regions as necessary.³¹⁸⁴ US Climate Alliance states that each transmission planning region could determine additional categories of benefits most relevant to them.³¹⁸⁵

³¹⁸¹ Acadia Center and CLF Initial Comments at 16-19; Certain TDUs Reply Comments at 2-3; Indicated U.S. Senators and Representatives Initial Comments at 2; U.S. Climate Alliance Initial Comments at 2; U.S. Senators Supplemental Comments at 2.

³¹⁸² Indicated U.S. Senators and Representatives Initial Comments at 2.

³¹⁸³ Acadia Center and CLF Initial Comments at 16-19.

³¹⁸⁴ Certain TDUs Reply Comments at 2-3.

³¹⁸⁵ U.S. Climate Alliance Initial Comments at 2.

1493. Other commenters that disagree with the Commission's proposal similarly argue for a required minimum set of benefits, but argue that the Commission should require transmission providers to account for the full list of 12 benefits in the NOPR.³¹⁸⁶ ACEG and PIOs state that it would be unjust and unreasonable for transmission providers to allocate costs in a manner that ignores certain benefits or fails to provide a full accounting of those benefits, including, PIOs assert, cost allocation agreed to by states.³¹⁸⁷ PIOs further argue that allowing transmission providers to agree to a cost allocation method that does not reflect all quantifiable benefits would re-introduce the risk of free ridership.³¹⁸⁸

³¹⁸⁶ ACEG Initial Comments at 60; Clean Energy Associations Initial Comments at 20-21, 34; DC and MD Offices of People's Counsel Initial Comments at 20, 34; PIOs Initial Comments at 64-65.

³¹⁸⁷ ACEG Initial Comments at 60-61 (citing ICC v. FERC I, 576 F.3d at 477); PIOs Initial Comments at 65; PIOs Reply Comments at 3.

³¹⁸⁸ PIOs Initial Comments at 65.

1494. Clean Energy Buyers state that they support the Commission requiring each transmission provider to either adopt the benefits identified by the Commission to be used for cost allocation for Long-Term Regional Transmission Facilities or demonstrate why the exclusion of any such benefit(s) is just and reasonable. However, Clean Energy Buyers also recommend that the Commission consider how the factors required for Long-Term Scenarios will translate into benefits and ensure that there is no double-counting of benefits.³¹⁸⁹

³¹⁸⁹ Clean Energy Buyers Initial Comments at 30.

1495. Southwestern Power Group states that existing regional cost allocation methods do not account for the range of benefits that regional transmission expansion can provide. Consequently, Southwestern Power Group argues, the costs of regional transmission projects are allocated to too few of the beneficiaries, discouraging the development of regional transmission projects.³¹⁹⁰ Environmental Groups argue that the Commission must ensure that any cost allocation method agreed to by states complies with the beneficiary-pays principle by showing that the method considers all quantifiable benefits of transmission.³¹⁹¹

³¹⁹⁰ Southwestern Power Group Initial Comments at 14-15.

³¹⁹¹ Environmental Groups Supplemental Comments at 2.

1496. SPP states that its regional cost allocation method does not quantify the specific benefits of transmission facilities within each planning assessment but instead analyzes the benefits and costs of facilities approved in multiple assessments in a comprehensive manner. SPP states that potential inequities are not appropriately quantified in a single regional planning assessment cycle because potential imbalances in one cycle may be offset in later cycles or changed because of topology. SPP emphasizes that quantification of whether benefits of transmission facilities are roughly commensurate with allocated costs should be performed through multiple transmission planning cycles that evaluate project portfolios, citing SPP's Highway-Byway cost allocation method as an example.³¹⁹²

³¹⁹² SPP Initial Comments at 31.

d. Alignment of Benefits Between Transmission Planning and Cost Allocation

1497. Various commenters proffer arguments as to whether benefits used in the evaluation and selection of Long-Term Regional Transmission Facilities must align with the benefits used in cost allocation. For example, SERTP Sponsors state that there could be differences between the types of benefits used for evaluation and selection and those used for cost allocation, asserting that benefits used in cost allocation must be measured in a consistent and objective manner to limit disputes.³¹⁹³

³¹⁹³ SERTP Sponsors Initial Comments at 30-31.

1498. Some commenters argue that the benefits used in the evaluation and selection of Long-Term Regional Transmission Facilities should closely align with, but need not be the same as, those used in cost allocation.³¹⁹⁴ For example, Clean Energy Associations state that close alignment does not preclude regional variation and points to MISO's Multi-Value Projects' and SPP's Highway/Byway projects' cost allocation methods.³¹⁹⁵

³¹⁹⁴ Clean Energy Associations Initial Comments at 34; Cypress Creek Reply Comments at 14-15; Ørsted Initial Comments at 9.

³¹⁹⁵ Clean Energy Associations Initial Comments at 34-35.

1499. Some commenters argue that the same set of benefits used in transmission planning should be used in cost allocation.³¹⁹⁶ DC and MD Offices of People's Counsel and the New Jersey Commission link such a requirement with the beneficiary-pays principle.³¹⁹⁷ New Jersey Commission states that enforcing the beneficiary-pays principle based on all of a transmission project's quantified benefits is necessary to avoid free-rider problems that could arise, especially in the State Agreement Process.³¹⁹⁸ Additionally, New Jersey Commission states, the policy of preventing states from involuntarily bearing the costs of others' policies must not require states to always pay the full cost of any transmission solution that supports their public policies or prevent states from committing to paying more than what they perceive to be their fair share to overcome disagreements over who will benefit.³¹⁹⁹ Similarly, BP recommends requiring that those benefitting from transmission facilities that meet policy objectives, but without similar policies themselves, be allocated an appropriate share of costs to avoid free ridership.³²⁰⁰

³¹⁹⁶ DC and MD Offices of People's Counsel Initial Comments at 34; Fervo Reply Comments at 2-3; New Jersey Commission Initial Comments at 18-23; SEIA Initial Comments at 24; Vermont Electric and Vermont Transco Initial Comments at 4; WATT Coalition Initial Comments at 8.

³¹⁹⁷ DC and MD Offices of People's Counsel Initial Comments at 34 (citing ICC v. FERC I, 576 F.3d 470; ICC v. FERC II, 721 F.3d 764; ICC v. FERC III, 756 F.3d 556); New Jersey Commission Initial Comments at 18-23 (citing Old Dominion Elec. Coop. v. FERC, 898 F.3d at 1262-63; Entergy Ark. v. FERC, 40 F.4th 689, 701 (D.C. Cir. 2022)).

³¹⁹⁸ New Jersey Commission Initial Comments at 18.

³¹⁹⁹ Id. at 21-23.

³²⁰⁰ BP Initial Comments at 9-12.

1500. Massachusetts Attorney General states that ex ante cost allocation methods should reflect the same benefits considered in Long-Term Regional Transmission Planning and not consider benefits in silos.³²⁰¹ Ørsted similarly supports a requirement that transmission providers adopt cost allocation methods that recognize the full breadth of benefits that transmission facilities provide.³²⁰²

³²⁰¹ Massachusetts Attorney General Initial Comments at 21.

³²⁰² Ørsted Initial Comments at 9.

1501. PIOs argue that cost allocation is necessarily implicated in the NOPR's preliminary finding that failure to consider a broader set of benefits and beneficiaries of transmission facilities may result in unjust, unreasonable, and unduly discriminatory or preferential rates, reasoning that cost allocation cannot be based on unlawful identification of benefits and beneficiaries.³²⁰³

³²⁰³ PIOs Initial Comments at 71.

e. Additional Benefits or Suggestions for Refinement

1502. DC and MD Offices of People's Counsel recommend that the Commission allow Relevant State Entities to propose additional benefit categories for evaluation and to consent to the allocation of costs that align with these additional benefits. At a minimum, DC and MD Offices of People's Counsel argue, costs should be allocated to the benefitting Relevant State Entities.³²⁰⁴

³²⁰⁴ DC and MD Offices of People's Counsel Initial Comments at 34.

1503. California Energy Commission recommends that transmission providers be required to consider equity and environmental justice in the calculation of benefits, including economic, health, and social benefits to disadvantaged communities.³²⁰⁵ WE ACT recommends that the Commission include non-energy benefits like pollution reduction, health, jobs, and local economic development in the list of benefits that transmission providers should be required to utilize in identifying and evaluating Long-Term Regional Transmission Facility need, selection, and cost allocation.³²⁰⁶

³²⁰⁵ California Energy Commission Initial Comments at 3.

³²⁰⁶ WE ACT Initial Comments at 5.

1504. Louisiana Commission states that the Commission should permit transmission providers to consider allocations to all cost causers and beneficiaries, including generators.³²⁰⁷ Vistra argues that if achieving voluntary corporate and utility clean energy goals is factored into demand driving the need for an upgrade, then the costs of such upgrades should not be assigned to regional load.³²⁰⁸

³²⁰⁷ Louisiana Commission Initial Comments at 32.

³²⁰⁸ Vistra Initial Comments at 21-22.

3. Commission Determination

1505. We decline to adopt the NOPR proposal to require transmission providers to identify on compliance the benefits that they will use in Long-Term Regional Transmission Cost Allocation Methods, how they will calculate those benefits, and how the benefits will reasonably reflect the benefits of regional transmission facilities to meet identified transmission needs driven by changes in the resource mix and demand.

1506. Instead, as we discuss above in the Long-Term Regional Transmission Facility Cost Allocation Compliance with the Existing Six Order No. 1000 Regional Cost Allocation Principles section, we require transmission providers in each transmission planning region to demonstrate on compliance that the required Long-Term Regional Transmission Cost Allocation Method(s) that Relevant State Entities have not indicated that they agree to comply with Order No. 1000 regional transmission cost allocation principles (1) through (5) and do not allocate costs by project type (i.e., reliability, economic, or transmission needs driven by Public Policy Requirements). While we do not require that cost allocation methods resulting from State Agreement Processes or Long-Term Regional Transmission Cost Allocation Methods that Relevant States Entities indicate they agreed to, must comply with any of the Order No. 1000 regional cost allocation principles, if filed with the Commission, transmission providers must nonetheless demonstrate that either of these types of cost allocation methods will allocate costs in a manner at least roughly commensurate with estimated benefits.³²⁰⁹ We do not require that any particular benefit used in the evaluation and selection of Long-Term Regional Transmission Facilities be reflected in a Long-Term Regional Transmission Cost Allocation Method filed with the Commission. We adopt this modified approach to the relationship of benefits used in Long-Term Regional Transmission Planning and Long-Term Regional Transmission Cost Allocation Methods because it provides transmission providers with flexibility to propose a Long-Term Regional Transmission Cost Allocation Method(s), allowing for negotiation in the Engagement Period, which we believe will increase the chances that Long-Term Regional Transmission Facilities selected as the more efficient or cost-effective regional transmission solution will be developed. At the same time, the requirements in this final order to disclose estimates of the benefits of selected Long-Term Regional Transmission Facilities will provide transparency and help to ensure a cost allocation is just and reasonable.

³²⁰⁹ See ICC v. FERC I, 576 F.3d at 477; ICC v. FERC III, 756 F.3d at 564.

1507. We note that this flexible approach is consistent with the approach that the Commission took in Order No. 1000 and in subsequent orders on transmission providers' Order No. 1000 compliance filings, where the Commission allowed a wide variety of cost allocation methods and did not require that such methods specifically account for all benefits used in evaluation and selection processes.³²¹⁰ The cost allocation method for MISO's Multi-Value Projects and the SPP Highway/Byway cost allocation method are examples that reflect the flexibility that transmission providers have had in adopting cost allocation methods suited to their circumstances and that may not have been possible under a less flexible approach.

³²¹⁰ Order No. 1000, 136 FERC ¶ 61,051 at PP 560, 624.

1508. The one exception to that flexibility, however, is the second component of our compliance requirement, that transmission providers must not allocate costs based on project types; namely, reliability, economic, or Public Policy Requirements needs-driven cost allocation methods. As described in the Long-Term Regional Transmission Facility Cost Allocation Compliance with Existing Six Order No. 1000 Regional Cost Allocation Principles section, we adopt this requirement because permitting such project-type-limited cost allocation methods for Long-Term Regional Transmission Facilities would be inconsistent with the long-term, forward-looking, more comprehensive regional transmission planning that we require in this final order. As we note above in the Need for Reform section, allocating costs based on these project types would result in transmission providers undertaking investments in relatively inefficient or less cost-effective transmission infrastructure, the costs of which are ultimately recovered through Commission-jurisdictional rates. Allocating costs based on these project types could, for example, encourage the selection of transmission facilities based on either their economic or reliability benefits alone rather than based on an evaluation of the wider range of benefits that they may provide. This dynamic results in, among other things, transmission customers paying more than is necessary or appropriate to meet their transmission needs, customers forgoing benefits that outweigh their costs, or some combination thereof, which results in less efficient or cost-effective transmission investments. We further find that permitting the use of such project-type-limited cost allocation methods for Long-Term Transmission Facilities would not allocate costs in a manner that is at least roughly commensurate to estimated benefits.

1509. We decline to adopt the NOPR proposal to require transmission providers to evaluate benefits over a 20-year time horizon for Long-Term Regional Transmission Planning for purposes of cost allocation. Given our decision to not require transmission providers to explain the benefits that they are using in cost allocation for Long-Term Regional Transmission Facilities, we believe this proposal is moot.

1510. We acknowledge New Jersey Commission's concern that permissive state-negotiated cost allocation could result in free riders. However, we note that, even for cost allocation methods filed pursuant to a State Agreement Process and Long-Term Regional Transmission Cost Allocation Methods that Relevant State Entities indicate that they have agreed, the costs allocated in accordance with such methods must be, as noted above, at least roughly commensurate with estimated benefits consistent with legal precedent. On compliance with this final order, the Commission will evaluate whether any cost allocation method agreed to pursuant to a State Agreement Process, or Long-Term Regional Transmission Cost Allocation Methods that Relevant State Entities indicate that they have agreed to, and filed with the Commission, allocates the costs of Long-Term Regional Transmission Facilities in a manner that is at least roughly commensurate with the estimated benefits. Further, we believe that New Jersey Commission's concern is reduced by our modification to the NOPR proposal to require transmission providers to file a Long-Term Regional Transmission Cost Allocation Method that must be used where a State Agreement Process fails to result in agreement; to the extent Relevant State Entities do not agree to a cost allocation method through the State Agreement Process, the transmission provider's ex ante Long-Term Regional Transmission Cost Allocation Method will apply.

1511. Given our modification to the NOPR proposal to not require transmission providers to identify on compliance the benefits that they will use in Long-Term Regional Transmission Cost Allocation Methods, we find moot APPA's request that regional flexibility should include allowing transmission providers to demonstrate on compliance that their existing benefits used for cost allocation of transmission projects identified through their existing regional transmission planning processes are sufficient for Long-Term Regional Transmission Planning.³²¹¹

³²¹¹ APPA Initial Comments at 46. We also discuss related concerns in the Cost Allocation for Long-Term Transmission Facilities section, above.

1512. With respect to the comments of City of New Orleans Council, OMS, Louisiana Commission, and Michigan Commission arguing that any benefit metrics should comply with OMS Cost Allocation Principle Committee Principle No. 2,³²¹² which states that “[c]ost allocation should be as granular and accurate as possible,” ³²¹³ we note that the flexibility we provide as to the consideration of benefits in cost allocation does not prevent transmission providers in a particular transmission planning region from adopting a more granular approach.

³²¹² City of New Orleans Council Initial Comments at 11; Louisiana Commission Initial Comments at 35-36; Michigan Commission Initial Comments at 9; OMS Initial Comments at 7-8, 14.

³²¹³ OMS Initial Comments at 7-8.

1513. With respect to Southern and Dominion's assertions that the Commission must ensure that costs are allocated in a manner that is at least roughly commensurate with benefits by conducting its evaluation of proposed cost allocation methods in a particular manner,³²¹⁴ we reiterate that we will apply existing Commission and judicial precedent, including that cited by Dominion and Southern, in our evaluation of any proposed cost allocation methods for Long-Term Regional Transmission Facilities. With respect to Louisiana Commission's assertion that the cost allocation process should be allowed to consider allocations to all cost causers and beneficiaries, including generators,³²¹⁵ we continue to adhere to the flexibility we provided in Order No. 1000-A. In that order, we found that with respect to generators being identified as beneficiaries and ultimately responsible for costs, just as each transmission planning region retains the flexibility to define benefit and beneficiary, the public utility transmission providers in each transmission planning region, in consultation with their stakeholders, may consider proposals to allocate costs directly to generators as beneficiaries that could be subject to regional or interregional cost allocation. However, we also found that any effort to do so must not be inconsistent with the generator interconnection process under Order No. 2003 because, as we stated in Order No. 1000, the generator interconnection process and interconnection cost recovery were outside the scope of that rulemaking.³²¹⁶

³²¹⁴ Southern Initial Comments at 29-30 (citing ICC v. FERC I, 576 F.3d at 476-77; ICC v. FERC II, 721 F.3d at 777; ICC v. FERC III, 756 F.3d at 564-565); Dominion Initial Comments at 43-44 (citing ICC v. FERC I, 576 F.3d at 477).

³²¹⁵ Louisiana Commission Initial Comments at 32.

³²¹⁶ Order No. 1000-A, 139 FERC ¶ 61,132 at P 680. While interconnection customers may voluntarily fund the cost of, or a portion of the cost of, a Long-Term Regional Transmission Facility as discussed in the Evaluation and Selection of Long-Term Regional Transmission Facilities section, this process is distinct from allocating costs to generators under the Long-Term Regional Transmission Cost Allocation Method, as the Louisiana Commission appears to contemplate.

1514. We find Pacific Northwest Utilities' assertion that costs allocated to transmission providers in non-RTO/ISO transmission planning regions, like NorthernGrid, must be based on benefits to the transmission provider, not benefits realized by others, such as generators and load-serving entities,³²¹⁷ to be misplaced, as nothing in this final order requires that only transmission providers in non-RTO/ISO transmission planning regions bear the ultimate responsibility for the costs of Long-Term Regional Transmission Facilities. We recognize that, in the absence of a single regional transmission provider who can recover the costs of Long-Term Regional Transmission Facilities on behalf of its transmission-owning members from all of its transmission customers in its transmission planning region, transmission providers in non-RTO/ISO regions require alternative arrangements to allocate and recover the costs of Long-Term Regional Transmission Facilities from the transmission customers that benefit from them. We expect that in non-RTO/ISO transmission planning regions, as is the case with Order No. 1000 regional transmission planning and cost allocation processes today,³²¹⁸ transmission providers will establish arrangements to implement the cost allocation methods for Long-Term Regional Facilities and recover the costs of such facilities from the transmission customers that benefit from them.

³²¹⁷ Pacific Northwest Utilities Initial Comments at 9-10.

³²¹⁸ See e.g., Duke Energy Carolinas, LLC, 147 FERC ¶ 61,241 at P 453; Pub. Serv. Co. of Colo., 142 FERC ¶ 61,206 at P 314.

1515. Some commenters advocate for accounting for public policy benefits in cost allocation methods for Long-Term Regional Transmission Facilities.³²¹⁹ Although we are not requiring transmission providers to account for public policy benefits in cost allocation methods for Long-Term Regional Transmission Facilities, we are also not foreclosing the possibility that transmission providers and stakeholders may seek to account for certain public policy benefits when developing Long-Term Regional Transmission Cost Allocation Methods. We believe that states are well-positioned to value the benefits of achieving their respective public policy goals, consistent with past precedent in which we have affirmed the use of public policy benefits in regional transmission planning cost allocation,³²²⁰ and they or other stakeholders can similarly do so through engagement with transmission providers in their efforts to develop Long-Term Regional Transmission Cost Allocation Methods. In addition, to the extent states believe that a particular Long-Term Regional Transmission Facility would help achieve their public policy goals, we note our adoption in the Evaluation and Selection of Long-Term Regional Transmission Facilities section of this final order of opportunities for Relevant State Entities to voluntarily fund a portion of the cost of a Long-Term Regional Transmission Facility so that the facility can qualify for selection.³²²¹ The rule, consistent with the cost causation principle, does not allow allocation of costs based on benefits to entities that do not receive benefits or receive only trivial benefits in relationship to costs of those transmission facilities.³²²²

³²¹⁹ See e.g., California Energy Commission Initial Comments at 3 (recommending that equity and environmental justice benefits be accounted for in cost allocation, including economic, health, and social benefits to disadvantaged communities); WE ACT Initial Comments at 5 (recommending the following benefits be accounted for in cost allocation: pollution reduction, health, jobs, and local economic development).

³²²⁰ As noted in the Evaluation of the Benefits of Regional Transmission Facilities section, RTOs/ISOs that have used some form of public policy benefit in regional transmission planning include PJM and NYISO. Although explicitly not part of PJM's Order No. 1000 regional transmission planning, PJM uses a State Agreement Approach to allow the development of public policy projects. See PPL Elec. Utils. Corp., 181 FERC ¶ 61,178 at P 33 (finding that “allocating the costs of the New Jersey [State Agreement Approach] Projects on a load-ratio share basis to all New Jersey customers is roughly commensurate with the benefits provided by those projects”). NYISO provides for cost allocations developed by the New York State Public Service Commission for transmission projects developed to meet public policy needs. See Consol. Edison Co. of N.Y., Inc., 180 FERC ¶ 61,106 at P 50 (finding that a volumetric load-ratio share cost allocation for certain local transmission upgrades was appropriate because the projects “benefit customers throughout the state insofar as they facilitate compliance with the New York State climate and renewable energy goals as required by New York State law and have been determined by the NYPSC to be necessary to meet such obligation”).

³²²¹ Supra Evaluation and Selection of Long-Term Regional Transmission Facilities section.

³²²² See Coal. of MISO Transmission Customers v. FERC, 45 F.4th 1004, 1009 (D.C. Cir. 2022) (“The cost-causation principle requires that `the cost of transmission facilities be allocated to those within the transmission planning region that benefit from those facilities in a manner that is at least roughly commensurate with estimated benefits.'”) (cleaned up) (quoting S.C. Pub. Serv. Auth. v. FERC, 762 F.3d at 53); ICC v. FERC I, 576 F.3d at 477.

D. Miscellaneous Cost Allocation Comments and Proposals

1. Comments

1516. Some commenters discuss the appropriate time frame for cost allocation for Long-Term Regional Transmission Facilities. Dominion states that costs should not be allocated until closer in time to when a transmission project will be built and beneficiaries identified rather than when the Long-Term Regional Transmission Facilities are identified.³²²³ Ohio Consumers state that cost allocation decisions must be made on the basis of current or near-term transmission needs, and the Commission should not require subsidization for transmission lines on the theory that the line may be needed to serve future generation.³²²⁴ OMS supports a requirement that transmission providers identify beneficiaries of transmission projects before any costs are allocated.³²²⁵

³²²³ Dominion Initial Comments at 42.

³²²⁴ Ohio Consumers Initial Comments at 19.

³²²⁵ OMS Initial Comments at 9.

1517. Acadia Center and CLF state that the Commission should expand its cost allocation proposals to encompass interregional transmission planning and the generator interconnection processes.³²²⁶

³²²⁶ Acadia Center and CLF Initial Comments at 17.

1518. Some commenters stress the importance of cost containment oversight by the Commission. Joint Commenters support a cost management framework overseen by the Commission ensuring that the costs and benefits on which transmission projects are initially approved for cost allocation remain within initially contemplated parameters.³²²⁷ State Water Contractors assert that the need for cost containment is acute for consumers in California, asserting that the CAISO high voltage transmission access charge has increased nearly 136% over the last decade. State Water Contractors argue that as increases in transmission costs have a direct impact on the cost of water delivery and treatment and given that water and energy are particularly intertwined in California, cost containment and regional flexibility are essential components to the justness and reasonableness of any final order.³²²⁸

³²²⁷ Joint Commenters Reply Comments at 1.

³²²⁸ State Water Contractors Reply Comments at 2-3.

1519. Ohio Consumers state that the Commission should require that the transmission providers implementing any Long-Term Regional Transmission Planning requirements give appropriate consideration to public grants and other external sources of funding in any cost allocation processes, adding that transmission providers should first seek public grants prior to charging customers, because infrastructure funds must be accounted for, or else they would distort cost allocation processes.³²²⁹

³²²⁹ Ohio Consumers Reply Comments at 15 (citing Infrastructure Investment and Jobs Act of 2021, Public Law 117-58, 135 Stat 429).

1520. NextEra renews its request for the Commission to initiate a new rulemaking to prohibit regional allocation of the costs of transmission projects developed pursuant to an incumbent transmission owner's exercise of state right-of-first-refusal rights and require the direct assignment of such costs to customers in the incumbent transmission owner's zone.³²³⁰

³²³⁰ NextEra Reply Comments at 26.

2. Commission Determination

1521. We decline to adopt a particular time frame for determining the cost allocation for a Long-Term Regional Transmission Facility, as requested by Dominion, Ohio Consumers, and OMS. We believe that imposing a standardized time frame to determine cost allocation is unnecessary and could impede the regional flexibility that we provide to transmission providers under this final order. However, as discussed above in the Long-Term Regional Transmission Facility Cost Allocation Compliance with the Existing Six Regional Cost Allocation Principles section, if only a Long-Term Regional Transmission Cost Allocation Method is available for a particular Long-Term Regional Transmission Facility (or portfolio of such Facilities), the determination of the applicable cost allocation must occur by or before its selection.

1522. We find Acadia Center and CLF's assertion that the Commission should expand its cost allocation proposals to encompass interregional transmission planning and the generator interconnection processes to be outside the scope of this proceeding, as is NextEra's request for the Commission to initiate a new rulemaking to prohibit regional allocation of the costs of transmission projects developed pursuant to an incumbent transmission owner's exercise of a state right of first refusal and require the direct assignment of such costs to customers in the incumbent transmission owner's zone. These suggestions are beyond the scope of the Commission's NOPR proposals and we believe that the record in this proceeding is insufficient to proceed with them.

1523. We also find outside the scope of this proceeding various commenters' statements regarding cost containment. We note that the Commission is examining issues related to transmission planning and cost containment in other proceedings.³²³¹

³²³¹ See, e.g., Supplemental Notice of Technical Conference, Transmission Planning and Cost Management, Docket No. AD22-8-000 (Oct. 4, 2022).

VII. Construction Work in Progress Incentive

A. NOPR Proposal

1524. In the NOPR, the Commission proposed to not permit transmission providers to take advantage of the allowance for inclusion of 100% of Construction Work In Progress (CWIP) costs in rate base (CWIP Incentive) for Long-Term Regional Transmission Facilities.³²³² The Commission noted that transmission providers may still accrue carrying costs incurred during the pre-construction or construction phase as Allowance for Funds Used During Construction (AFUDC) and only recover those costs from customers after the project is in service, in accordance with generally accepted utility accounting principles for AFUDC.³²³³ The Commission explained that this proposal would not affect Commission policy and regulations established before Order No. 679.³²³⁴

³²³² NOPR, 179 FERC ¶ 61,028 at PP 328-329 n.522-523, 525-527 (citing Order No. 679, 71 FR 43294 (July 31, 2006), 116 FERC ¶ 61,057 at PP 9, 116-117, n.70). The Commission stated that the Commission has also provided that any public utility engaged in the sale of electric power for resale can file to include in rate base up to 50% of CWIP, subject to limitations. Construction Work in Progress for Pub. Utils.; Inclusion of Costs in Rate Base, Order No. 298, 48 FR 24323 (June 1, 1983), FERC Stats. & Regs. ¶ 30,455 (1983) (cross-referenced at 23 FERC ¶ 61,224), order on reh'g, 25 FERC ¶ 61,023 (1983). NOPR, 179 FERC ¶ 61,028 at P 329 n.524.

³²³³ NOPR, 179 FERC ¶ 61,028 at P 333.

³²³⁴ Id. P 333 n.530. There, the Commission stated that public utility transmission providers would still be allowed to request 50% CWIP in rate base, as is permitted pursuant to 18 CFR 35.25(c)(3), subject to an FPA section 205 filing detailing how the request meets the requirements of Order No. 298. The Commission believed that the ability to include 50% CWIP in rate base, if requested and granted, reflects a more reasonable sharing of risks and benefits than the CWIP Incentive for Long-Term Regional Transmission Facilities given the greater uncertainty inherent in Long-Term Regional Transmission Planning, as proposed in this NOPR.

B. Comments

1. Interest in the NOPR Proposal

1525. Many commenters support the Commission's NOPR proposal to prohibit Long-Term Regional Transmission Facilities from being eligible for the CWIP Incentive and generally support permitting cost recovery instead through AFUDC, agreeing that extending the CWIP Incentive to Long-Term Regional Transmission Facilities would expose ratepayers to risks and cost burdens by requiring them to pay for Long-Term Regional Transmission Facilities that receive the incentive prior to those facilities being placed into service.³²³⁵

³²³⁵ American Municipal Power Initial Comments at 34; APPA Initial Comments at 6, 46-47; California Commission Initial Comments at 58; California Water Initial Comments at 19-20; Clean Energy Buyers Initial Comments at 30-31; ELCON Initial Comments at 19; Industrial Customers Initial Comments at 24-26; Joint Consumer Advocates Initial Comments at 14; Kentucky Commission Chair Chandler Initial Comments at 4; Large Public Power Initial Comments at 41-42; Louisiana Commission Initial Comments at 36; Massachusetts Attorney General Initial Comments at 23; NARUC Initial Comments at 54-55; NASUCA Initial Comments at 8-9; NESCOE Initial Comments at 73; Nevada Commission Initial Comments at 14; North Carolina Commission and Staff Initial Comments at 17-18; NRG Initial Comments at 21-22; Ohio Commission Federal Advocate Initial Comments at 15-16; Ohio Consumers Initial Comments at 29; Pennsylvania Commission Initial Comments at 17; PJM States Initial Comments at 13; Resale Iowa Initial Comments at 2, 12-13; Six Cities Initial Comments at 11; State Agencies Initial Comments at 24; TAPS Initial Comments at 5, 27-29; Transmission Dependent Utilities Initial Comments at 2-4; Virginia Attorney General Initial Comments at 4-6.

1526. California Commission and New England Systems argue that there is no evidence that any of the incentives established under FPA section 219, including the CWIP Incentive, have spurred investment in transmission infrastructure.³²³⁶ California Commission argues that there was a great need to develop new transmission to bolster reliability and alleviate congestion when the CWIP Incentive was first introduced in Order No. 679, but that the prior decline in transmission investment has since been reversed.³²³⁷ Further, California Commission argues that an inability to receive the CWIP Incentive would not present a barrier to entry for transmission development,³²³⁸ stating that disallowing the CWIP Incentive for Long-Term Regional Transmission Facilities would affect incumbent and nonincumbent transmission developers equally, and that developers could continue to seek the CWIP Incentive for economic and reliability transmission projects.³²³⁹ Louisiana Commission states that if an independent transmission developer or utility has won a competitive bidding process to construct transmission facilities, that entity should have the financial wherewithal to finance the project without a loan from ratepayers.³²⁴⁰

³²³⁶ California Commission Reply Comments at 11-12; New England Systems Reply Comments at 15-16.

³²³⁷ California Commission Reply Comments at 8-10 (citing US DOE, National Electric Transmission Congestion Study, at 21(Sept. 2020), https://www.energy.gov/sites/default/files/2020/10/f79/2020%20Congestion%20Study%20FINAL%2022Sept2020.pdf).

³²³⁸ Id. at 19-20 (citing CAISO Initial Comments at 44).

³²³⁹ Id.

³²⁴⁰ Louisiana Commission Initial Comments at 36.

1527. Several commenters assert that the CWIP Incentive shifts risks to customers.³²⁴¹ Pennsylvania Commission, Large Public Power, and Resale Iowa argue that allowing the CWIP Incentive could substantially increase the risk of customers paying for transmission facilities that are never built and from which they derive no benefit, leading to rates that are unjust and unreasonable.³²⁴² NARUC, New England Systems, and Virginia Attorney General agree with the proposed reform because it better aligns risk and reward between shareholders and customers with respect to Long-Term Regional Transmission Facilities.³²⁴³

³²⁴¹ California Commission Reply Comments at 14; Large Public Power Initial Comments at 41; Louisiana Commission Initial Comments at 36; NARUC Initial Comments at 55-56; New England Systems Reply Comments at 15; Ohio Commission Federal Advocate Initial Comments at 16; Pennsylvania Commission Initial Comments at 17; Resale Iowa Initial Comments at 12-13; Virginia Attorney General Reply Comments at 2.

³²⁴² Large Public Power Initial Comments at 41; Pennsylvania Commission Initial Comments at 17; Resale Iowa Initial Comments at 12-13.

³²⁴³ NARUC Initial Comments at 55-56; New England Systems Reply Comments at 15 (citing NARUC Initial Comments at 56); Virginia Attorney General Reply Comments at 2 (citing NARUC Initial Comments at 55).

1528. Several other commenters state that the longer the transmission planning horizon, the higher the risk that resulting transmission facilities will not be needed, which may result in stranded costs.³²⁴⁴ For this reason, Industrial Customers state that shifting risks from transmission developers to customers is particularly problematic for Long-Term Regional Transmission Facilities.³²⁴⁵ Dominion states that it does not take a position on the proposal to prohibit Long-Term Regional Transmission Facilities from being eligible for the CWIP Incentive, but nevertheless asserts that shifting the risk for long-term transmission projects to transmission providers will help ensure that only those long-term projects that are “confidently needed” will be developed. However, for states that may allow or require the inclusion of the CWIP Incentive in rate base, Dominion states that the Commission should allow for deference to the state cost recovery structure.³²⁴⁶

³²⁴⁴ Clean Energy Buyers Reply Comments at 10-11; Dominion Initial Comments at 53-54; Industrial Customers Reply Comments at 9; Transmission Dependent Utilities Reply Comments at 4; Virginia Attorney General Reply Comments at 3.

³²⁴⁵ Industrial Customers Reply Comments at 9.

³²⁴⁶ Dominion Initial Comments at 53.

1529. Several commenters suggest that such reform may mitigate certain risks of the transmission provider over-building the system.³²⁴⁷ For example, Massachusetts Attorney General and North Dakota Commission state that the Commission's proposed limit on the CWIP Incentive would provide ratepayers greater protection from financing inefficient or over-built regional transmission projects.³²⁴⁸ New England Systems argue that entities in favor of continuing the CWIP Incentive gain financially from the incentive.³²⁴⁹ Industrial Customers state that the alleged benefits of the CWIP Incentive to customers are tenuous at best.³²⁵⁰

³²⁴⁷ Massachusetts Attorney General Initial Comments at 24-25; North Carolina Commission and Staff Initial Comments at 18; North Dakota Commission Initial Comments at 6; Pennsylvania Commission Initial Comments at 17-18; PJM States Initial Comments at 13; US Climate Alliance Initial Comments at 2.

³²⁴⁸ Massachusetts Attorney General Initial Comments at 24-25; North Dakota Commission Initial Comments at 6.

³²⁴⁹ New England Systems Reply Comments at 15-16 (citing Avangrid Initial Comments at 26).

³²⁵⁰ Industrial Customers Reply Comments at 9-10.

1530. Multiple commenters suggest that prohibiting Long-Term Regional Transmission Facilities from being eligible for the CWIP Incentive may improve the planning and building of new transmission facilities.³²⁵¹ New England Systems, PJM States, and North Carolina Commission and Staff assert that removing the CWIP Incentive will appropriately reduce incentives to over-build transmission, which could lead to rates being unjust and unreasonable.³²⁵² Similarly, US Climate Alliance supports prohibiting Long-Term Regional Transmission Facilities from being eligible for the CWIP Incentive, as doing so would align incentives for transmission providers to deliver transmission projects on time and within budget.³²⁵³

³²⁵¹ North Carolina Commission and Staff Initial Comments at 18; Pennsylvania Commission Initial Comments at 17; PJM States Initial Comments at 13; US Climate Alliance Initial Comments at 2.

³²⁵² New England Systems Reply Comments at 14-15; North Carolina Commission and Staff Initial Comments at 18; PJM States Initial Comments at 13.

³²⁵³ US Climate Alliance Initial Comments at 2.

1531. California Commission argues that money paid earlier as CWIP is more valuable than money paid later and that comparisons of savings under the CWIP Incentive and under AFUDC are only meaningful if an interest adjustment is made to account for the time in which payments are made.³²⁵⁴ Industrial Customers explain that, to customers, the difference between the AFUDC and CWIP approaches is primarily the time value of money.³²⁵⁵ Kentucky Commission Chair Chandler, NASUCA, and California Commission express concern that today's ratepayers are forced to pay for tomorrow's transmission projects, which they refer to as intergenerational inequity, and they are especially concerned if a project will not provide service until a much later date.³²⁵⁶

³²⁵⁴ California Commission Reply Comments at 13.

³²⁵⁵ Industrial Customers Reply Comments at 9.

³²⁵⁶ Kentucky Commission Chair Chandler Initial Comments at 8; NASUCA Initial Comments at 9; California Commission Reply Comments at 17 (citing NASUCA Initial Comments at 9).

2. Concerns With the NOPR Proposal

1532. Many commenters oppose the NOPR proposal to prohibit Long-Term Regional Transmission Facilities from being eligible for the CWIP Incentive.³²⁵⁷ Several commenters cite the Commission's findings in Order No. 679 explaining that the CWIP Incentive can help remove a disincentive to construct new transmission infrastructure, which can involve very long lead times and considerable risk to the utility that the project may not go forward.³²⁵⁸ National Grid and Avangrid, for example, argue that Long-Term Regional Transmission Facilities will likely have very long lead times and place even greater risk on transmission providers relative to transmission facilities planned and developed on a more typical timeframe.³²⁵⁹ Similarly, WIRES argues that the rationale underlying the CWIP Incentive remains valid today.³²⁶⁰

³²⁵⁷ AEP Initial Comments at 38-40; Ameren Initial Comments at 48-51; Avangrid Initial Comments at 24-28; CAISO Initial Comments at 43-45; Consumer Organizations Initial Comments at 7-10; Duke Initial Comments at 44-45; Duquesne Light Initial Comments at 2-6; EEI Initial Comments at 42-45; EEI Reply Comments at 17-18; Entergy Initial Comments at 35-37; Eversource Initial Comments at 31-35; Eversource Reply Comments at 2; Harvard ELI Initial Comments at 7-10; Indicated PJM TOs Initial Comments at 26-28; MISO TOs Initial Comments at 65-66; National Grid Initial Comments at 27-30; New York TOs Initial Comments at 23-24; New York Transco Initial Comments at 13-16; Pattern Energy Initial Comments at 34-36; PG&E Initial Comments at 18-20; PPL Initial Comments at 29-30; SoCal Edison Initial Comments at 13-14; Transource Initial Comments at 3; WIRES Initial Comments at 17-19.

³²⁵⁸ Ameren Initial Comments at 49; EEI Initial Comments at 42-43; EEI Reply Comments at 17-18; Eversource Reply Comments at 2; MISO TOs Initial Comments at 66; National Grid Initial Comments at 28-29; WIRES Initial Comments at 17-18 (all citing Order No. 679, 116 FERC ¶ 61,057 at P 115).

³²⁵⁹ Avangrid Reply Comments at 6-7; National Grid Initial Comments at 28-29.

³²⁶⁰ WIRES Initial Comments at 17-18.

1533. Some commenters also cite the Commission's 2012 Transmission Incentive Policy Statement as support for the CWIP Incentive as a risk-reducing mechanism to transmission providers, which these commenters state can increase credit ratings and lower capital costs.³²⁶¹ In addition, several commenters reference Commission findings in numerous prior incentive proceedings where the Commission has affirmed the benefits that the CWIP Incentive provides to customers and transmission providers, attesting that the NOPR proposal is in direct opposition to such findings.³²⁶²

³²⁶¹ Ameren Initial Comments at 49; EEI Initial Comments at 42; Eversource Initial Comments at 32 (all citing Promoting Transmission Investment Through Pricing Reform, Policy Statement, 141 FERC ¶ 61,129, at P 12 (2012)).

³²⁶² AEP Initial Comments at 38 (citing Ne. Utils. Serv. Co. & Nat'l Grid USA, 125 FERC ¶ 61,183, at P 89 (2008)); Ameren Initial Comments at 49 (citing United Illuminating, 119 FERC ¶ 61,182, at P 63 (2007)); Duquesne Light Initial Comments at 3 (citing Xcel Energy Servs., Inc., 121 FERC ¶ 61,284, at P 58 (2007); Am. Elec. Power Service Corp., 116 FERC ¶ 61,059, at P 3 (2006)); EEI Initial Comments at 44 (citing PPL Elec. Utils. Corp., 123 FERC ¶ 61,068, at PP 42-43 (2008), reh'g denied, 124 FERC ¶ 61,229 (2008)); National Grid Initial Comments at 29 (citing Tucson Elec. Power Co., 174 FERC ¶ 61,223, at P 25 (2021); S. Cal. Edison Co., 172 FERC ¶ 61,241, at P 31 (2020); United Illuminating Co., 167 FERC ¶ 61,126, at P 36 (2019)); MISO TOs Initial Comments at 66-67 (citing PJM Interconnection, L.L.C., 135 FERC ¶ 61,229, at P 78 (2011); Duquesne Light Co., 166 FERC ¶ 61,074, at P 32 (2019); United Illuminating, Co., 167 FERC ¶ 61,126 at P 36; GridLiance W. Transco LLC, 164 FERC ¶ 61,049, at P 25 (2018); NextEra Energy Transmission N.Y., Inc., 162 FERC ¶ 61,196, at P 64 (2018); PJM Interconnection, L.L.C., 158 FERC ¶ 61,089, at P 33 (2017); Duquesne Light Co., 179 FERC ¶ 61,218, at P 17 (2022)); New York TOs Initial Comments at 23 (citing Okla. Gas & Elec. Co., 133 FERC ¶ 61,274, at P 48 (2010); Pepco Holdings, Inc., 125 FERC ¶ 61,130, at P 63 (2008)).

1534. Some commenters assert that the NOPR proposal runs counter to obligations established in the Energy Policy Act of 2005 and FPA section 219 to facilitate capital investment in transmission infrastructure and would likely impede the development of regional transmission facilities identified to meet changes in the resource mix and demand.³²⁶³

³²⁶³ Ameren Initial Comments at 48; CAISO Initial Comments at 43-44; EEI Initial Comments at 42-43; Indicated PJM TOs Initial Comments at 26-28; MISO TOs Initial Comments at 71-72; National Grid Initial Comments at 28; PPL Initial Comments at 29-30; WIRES Initial Comments at 17-18.

1535. Numerous commenters argue that the proposal runs counter to the objectives of the NOPR that seek to encourage the development and completion of regional transmission facilities needed to address changes in the resource mix or demand over a longer time horizon.³²⁶⁴ For example, CAISO, MISO TOs, and Avangrid suggest that it is counterintuitive for the Commission to acknowledge a lack of regional transmission facilities in the NOPR, yet propose to undo the most reasonable tool that aids cash flow and reduces uncertainty associated with building those facilities.³²⁶⁵ Certain commenters state that the CWIP Incentive assists with getting needed transmission projects built.³²⁶⁶ AEP and Avangrid state that the CWIP Incentive is particularly well-suited to incentivizing the type of large, regional transmission projects that the Commission hopes to increase through the NOPR, which often present higher costs, longer lead times, an increase in possible rate shock, and present cash flow difficulties.³²⁶⁷

³²⁶⁴ AEP Initial Comments at 39; Ameren Initial Comments at 50-51; Avangrid Initial Comments at 25; Avangrid Reply Comments at 6-8; Eversource Initial Comments at 2, 31-32; MISO TOs Initial Comments at 70-76; Pattern Energy Initial Comments at 35-36; PG&E Initial Comments at 18-19.

³²⁶⁵ Avangrid Reply Comments at 7 (citing CAISO Initial Comments at 45; MISO TOs Initial Comments at 71-72, 74-75); CAISO Initial Comments at 45; MISO TOs Initial Comments at 74-76 (citing NOPR, 179 FERC ¶ 61,028 at PP 1, 9, 25, 35, 47, 330-331).

³²⁶⁶ AEP Initial Comments at 39; Ameren Initial Comments at 50; Avangrid Initial Comments at 26; MISO TOs Initial Comments at 69.

³²⁶⁷ AEP Initial Comments at 39; Avangrid Reply Comments at 10.

1536. Several commenters point to cash flow benefits enabled through the CWIP Incentive and associated benefits to customers.³²⁶⁸ For example, New York TOs and PG&E contend that the cash flow benefits from the CWIP Incentive allow a utility to reduce the need for external financing and instead allocate capital to other projects that benefit additional ratepayers.³²⁶⁹

³²⁶⁸ AEP Initial Comments at 38-39; Ameren Initial Comments at 49; Avangrid Initial Comments at 25; EEI Initial Comments at 44-45; EEI Reply Comments at 17; Entergy Initial Comments at 37; Eversource Initial Comments at 31; Indicated PJM TOs Initial Comments at 26-28; MISO TOs Initial Comments at 66-67, 71, 74-76; National Grid Initial Comments at 28-29; New York TOs Initial Comments at 23-24; New York Transco Initial Comments at 13; Pattern Energy Initial Comments at 35; PG&E Initial Comments at 19; Transource Initial Comments at 3; WIRES Initial Comments at 17-18.

³²⁶⁹ New York TOs Initial Comments at 23-24; PG&E Initial Comments at 19.

1537. Several commenters contend that the Commission has failed to adequately justify the NOPR proposal, asserting that the rationale is weak or arguing that the Commission has not shown that its existing policy is unjust and unreasonable.³²⁷⁰ MISO TOs argue that the Commission's claim that ratepayers do not receive benefits from the regional transmission facilities during the construction period is unsupported by precedent or analysis and is contrary to longstanding Commission policy. Further, they observe that a transmission facility cannot be developed and placed into service overnight, so artificially dividing up the customer benefits to pre-operation and post-operation ignores the realities of transmission development.³²⁷¹ Where the proposal identified that additional ratepayer protections may be necessary to balance customers' interest in just and reasonable rates against investors' interest in earning a return on invested capital or mitigating against over-investment in regional transmission facilities, MISO TOs reiterate that the CWIP Incentive's benefits promote just and reasonable rates by providing incentives encouraging transmission construction consistent with the Commission's FPA mandate and assert that an investor's rate of return is set in unrelated proceedings.³²⁷²

³²⁷⁰ Ameren Initial Comments at 50-51; Duke Initial Comments at 44-45; Duquesne Light Initial Comments at 2-3; EEI Initial Comments at 44-45; Eversource Initial Comments at 33-34; MISO TOs Initial Comments at 66-67 (citing NOPR, 179 FERC ¶ 61,028 at P 331); Pattern Energy Initial Comments at 35.

³²⁷¹ MISO TOs Initial Comments at 69 (citing NOPR, 179 FERC ¶ 61,028 at P 331).

³²⁷² Id. at 72-73 (citing NOPR, 179 FERC ¶ 61,028 at P 331).

1538. Pattern Energy states that the Commission has provided no policy justification or factual basis to distinguish the risk incurred during the planning phase from other risk factors, such as size, scope, or cost, which it asserts is a departure from the Order No. 679 policy on the CWIP Incentive.³²⁷³

³²⁷³ Pattern Energy Initial Comments at 35.

1539. Many commenters also argue that, while the NOPR proposal to prohibit Long-Term Regional Transmission Facilities from being eligible for the CWIP Incentive is intended to mitigate shifting too much risk to customers, the proposal ignores many of the benefits that the current CWIP Incentive policy providers to customers.³²⁷⁴ EEI argues that commenters that support the proposal also fail to recognize these benefits and the important role that this incentive serves in facilitating new transmission investment.³²⁷⁵ Many commenters that oppose the NOPR proposal tout such benefits, such as improved cash flow and the ability for transmission providers to secure better financing through higher credit ratings, resulting in lower interest expense costs that benefit customers.³²⁷⁶ Consumer Organizations and Eversource contend that carrying a significant amount of debt in AFUDC rather than being recovered through the CWIP Incentive can result in lower credit ratings and higher capital costs, which are passed through to customers, and assert that “with AFUDC, consumers are likely to pay more in the long run.” ³²⁷⁷

³²⁷⁴ AEP Initial Comments at 38-39; Ameren Initial Comments at 48-51; Avangrid Initial Comments at 27-28; Duke Initial Comments at 45; Duquesne Light Initial Comments at 3-5; EEI Initial Comments at 44-45; EEI Reply Comments at 18; Eversource Initial Comments at 31-34; Indicated PJM TOs Initial Comments at 26; MISO TOs Initial Comments at 66-76; National Grid Initial Comments at 29; New York TOs Initial Comments at 23-24; New York Transco Initial Comments at 13-14; PG&E Initial Comments at 19-20; SoCal Edison Initial Comments at 3, 13-14; WIRES Initial Comments at 18-19.

³²⁷⁵ EEI Reply Comments at 18 (citing NASUCA Initial Comments at 8-9; Transmission Dependent Utilities Initial Comments at 2-4).

³²⁷⁶ Ameren Initial Comments at 42, 50; Avangrid Initial Comments at 27; Duke Initial Comments at 45; Duquesne Light Initial Comments at 4-6; EEI Initial Comments at 44-45; MISO TOs Initial Comments at 66-67; PG&E Initial Comments at 19.

³²⁷⁷ Consumer Organizations Initial Comments at 7-8; Eversource Reply Comments at 4 (quoting Consumer Organizations Initial Comments at 7).

1540. Some commenters state that the CWIP Incentive helps to avoid rate shock and provides other cost savings relative to AFUDC.³²⁷⁸ Avangrid states that arguments about the sharing of risk between utilities and customers that the Commission used to support the NOPR proposal fail to consider the budgeting risk to customers under the AFUDC approach, and claims that these arguments ignore the benefit of price stability.³²⁷⁹

³²⁷⁸ AEP Initial Comments at 38-39; Ameren Initial Comments at 50; Avangrid Initial Comments at 27-28; Avangrid Reply Comments at 10 (citing Kentucky Commission Chair Chandler Initial Comments at 4-9); Consumer Organizations Initial Comments at 7-10; Duquesne Light Initial Comments at 4; EEI Initial Comments at 44; EEI Reply Comments at 17-18; Eversource Initial Comments at 31-32; Eversource Reply Comments at 4-5; Indicated PJM TOs Initial Comments at 26; MISO TOs Initial Comments at 66-76; National Grid Initial Comments at 28-29; New York TOs Initial Comments at 23-24; PG&E Initial Comments at 19; PG&E Reply Comments at 13-14; SoCal Edison Initial Comments at 13-14; WIRES Initial Comments at 19.

³²⁷⁹ Avangrid Reply Comments at 10 (citing Kentucky Commission Chair Chandler Initial Comments at 4-9).

1541. Several commenters state that the Commission can take more targeted action to address concerns of uncertainty in Long-Term Regional Transmission Planning rather than prohibiting Long-Term Regional Transmission Facilities from being eligible for the CWIP Incentive, for instance, by ensuring sufficiently robust selection criteria, project review, and approval processes.³²⁸⁰ CAISO contends that these measures are more appropriate ways to account for the root cause of the risk of over-building and to ensure that customers are protected from the costs of transmission facilities that may be less certain.³²⁸¹ R Street states that the NOPR's proposal to remove the CWIP Incentive by itself will not thwart increasing transmission costs, and the Commission must recognize preserving and expanding competition as a way to contain costs.³²⁸²

³²⁸⁰ Avangrid Reply Comments at 8 (citing CAISO Initial Comments at 45); CAISO Initial Comments at 45; EEI Reply Comments at 18; PG&E Reply Comments at 13-14.

³²⁸¹ CAISO Initial Comments at 6-7, 45.

³²⁸² R Street Reply Comments at 2.

1542. Eversource and New York Transco assert that case-by-case evaluation for any request for transmission incentives, including the CWIP Incentive, affords interested parties the opportunity to intervene and provide comments, culminating in a Commission determination of whether the incentive is just and reasonable, thereby protecting customer interests.³²⁸³

³²⁸³ Eversource Reply Comments at 4-5; New York Transco Reply Comments at 7-8.

1543. Eversource, Harvard ELI, and National Grid state that it would be best to make changes in incentives policy in a comprehensive transmission incentives rulemaking instead of in this final order.³²⁸⁴ Eversource and National Grid argue that, at a minimum, the Commission should defer a decision on the CWIP Incentive to the rulemaking proceeding on transmission incentives in Docket No. RM20-10-000, where the Commission has already established a full and complete record.³²⁸⁵ Harvard ELI suggests that any action on the CWIP Incentive be deferred to another proceeding to develop a holistic package of incentives, penalties, and oversight mechanisms after the Commission has established the full goals and procedural rules for Long-Term Regional Transmission Planning.³²⁸⁶

³²⁸⁴ Eversource Initial Comments at 33; Harvard ELI Initial Comments at 4-5, 7-8, 10; National Grid Initial Comments at 27.

³²⁸⁵ Eversource Initial Comments at 33; National Grid Initial Comments at 27.

³²⁸⁶ Harvard ELI Initial Comments at 4-5, 7-8, 10.

1544. Certain commenters raise concerns of unintended consequences of the proposal. CAISO and Transource state that new transmission developers may be disadvantaged if the Commission prohibits Long-Term Regional Transmission Facilities from being eligible for the CWIP Incentive.³²⁸⁷ Specifically, CAISO notes that the Commission approved a provision in its OATT that permits a nonincumbent transmission developer within CAISO to recover Commission-authorized transmission revenue requirements associated with transmission projects under construction before the facilities are turned over to CAISO operational control, which CAISO contends is a way that it addresses barriers to transmission development by nonincumbent transmission developers.³²⁸⁸ CAISO contends that the Commission should not preclude transmission developers from using the CWIP Incentive for Long-Term Regional Transmission Facilities, especially because the Commission would continue to allow the CWIP Incentive for reliability and economic transmission projects.³²⁸⁹

³²⁸⁷ CAISO Initial Comments at 43-45; Transource Initial Comments at 3.

³²⁸⁸ CAISO Initial Comments at 43-44 (citing Cal. Indep. Sys. Operator Corp., 146 FERC ¶ 61,237 (2014)).

³²⁸⁹ Id. at 44-45.

3. Interaction of the CWIP Incentive With the Abandoned Plant Incentive

1545. Many commenters raise concerns with the interaction between the CWIP Incentive and the transmission incentive that allows applicants to request 100% of prudently-incurred costs associated with abandoned transmission projects be included in transmission rates if such abandonment is outside the control of management (Abandoned Plant Incentive).³²⁹⁰ APPA, California Commission, Industrial Customers, NARUC, and Virginia Attorney General suggest that unless and until the Commission reconsiders the Abandoned Plant Incentive, customers will continue to face risks associated with Long-Term Regional Transmission Facilities.³²⁹¹ Specifically, APPA states that the proposal to prohibit Long-Term Regional Transmission Facilities from being eligible for the CWIP Incentive will not necessarily protect customers from the costs of potentially unneeded facilities identified through Long-Term Regional Transmission Planning, given the Commission's policies on recovery of abandoned plant costs (including the Abandoned Plant Incentive under Order No. 679).³²⁹² Similarly, NARUC, Virginia Attorney General, and Industrial Customers request that the Commission review the current abandoned plant policy to ensure that customer benefits from the adoption of the NOPR proposal with respect to the CWIP Incentive do not disappear if those costs are still recovered from customers as abandoned plant.³²⁹³

³²⁹⁰ Order No. 679, 116 FERC ¶ 61,057 at P 163.

³²⁹¹ APPA Initial Comments at 46-47; California Commission Reply Comments at 19 (citing Industrial Customers Initial Comments at 27); Industrial Customers Initial Comments at 24-27; Industrial Customers Reply Comments at 9; NARUC Initial Comments at 55; Virginia Attorney General Initial Comments at 6-7; Virginia Attorney General Reply Comments at 5-6.

³²⁹² APPA Initial Comments at 46-47.

³²⁹³ Industrial Customers Reply Comments at 10 (citing MISO States Initial Comments at 14; NARUC Initial Comments at 55); NARUC Initial Comments at 55; Virginia Attorney General Reply Comments at 5 (citing NARUC Initial Comments at 55).

1546. Industrial Customers suggest that, without additional reforms limiting the recovery of abandoned plant costs, customers will continue to face the possibility of paying for transmission that is never built.³²⁹⁴ Further, Industrial Customers and California Commission state that AFUDC could be a superior approach for customers, but only in a final order that adopts certain protections to ensure that customers do not pay for abandoned plant costs.³²⁹⁵ Industrial Customers argue that the Commission should adopt customer safeguards for transmission projects that are abandoned, including a more thorough review of whether costs were prudently incurred prior to abandonment.³²⁹⁶

³²⁹⁴ Industrial Customers Initial Comments at 25-26.

³²⁹⁵ California Commission Reply Comments at 19 (citing Industrial Customers Initial Comments at 27); Industrial Customers Initial Comments at 26-27.

³²⁹⁶ Industrial Customers Reply Comments at 9.

C. Commission Determination

1547. We decline to act at this time to finalize the NOPR proposal to limit the availability of the CWIP Incentive for Long-Term Regional Transmission Facilities. We agree with commenters ³²⁹⁷ that any action on the CWIP Incentive is more appropriately considered in a separate proceeding to allow for a holistic approach to transmission incentives after the Commission has finalized its Long-Term Regional Transmission Planning reforms. In particular, we conclude that whether the Commission's transmission incentives are appropriately “benefitting consumers by ensuring reliability and reducing the cost of delivered power” ³²⁹⁸ is a question better evaluated by considering the Commission's transmission incentives comprehensively for all regional transmission facilities.

³²⁹⁷ Eversource Initial Comments at 33; Harvard ELI Initial Comments at 4-5, 7-8, 10; National Grid Initial Comments at 27.

³²⁹⁸ 16 U.S.C. 824s(a).

VIII. Exercise of a Federal Right of First Refusal in Commission-Jurisdictional Tariffs and Agreements

A. NOPR Proposal

1548. In the NOPR, the Commission proposed to use the discretion afforded by FPA section 309 to amend Order No. 1000's findings and nonincumbent transmission developer reforms in part, so as to permit the exercise of Federal rights of first refusal for selected transmission facilities, conditioned on the incumbent transmission provider with the Federal right of first refusal for such regional transmission facilities establishing joint ownership of the transmission facilities consistent with certain proposed requirements described in the NOPR.³²⁹⁹ The Commission reasoned that given the investment trends observed since Order No. 1000's implementation, it is possible that the Commission's Order No. 1000 nonincumbent transmission developer reforms may be inadvertently discouraging investment in and development of regional transmission facilities to some extent.³³⁰⁰ Specifically, the Commission posited that incumbent transmission providers, as a result of those reforms, may be presented with perverse investment incentives that do not adequately encourage those incumbent transmission providers to develop and advocate for transmission facilities that benefit more than just their own local retail distribution service territory or footprint.³³⁰¹

³²⁹⁹ See NOPR, 179 FERC ¶ 61,028 at P 351.

³³⁰⁰ Id. P 350.

³³⁰¹ Id.

1549. The Commission preliminarily found that, while the unconditional exercise of Federal rights of first refusal for entirely new selected transmission facilities remains unjust and unreasonable, Order No. 1000's remedy—requiring the elimination of all Federal rights of first refusal for entirely new selected transmission facilities—was overly broad.³³⁰² The Commission further preliminarily found that, while Order No. 1000's reforms have a sound theoretical basis, the remedy prescribed by Order No. 1000 failed to recognize that some of the expected benefits from the competitive transmission development processes could be achieved or at least reasonably approximated through other means.³³⁰³

³³⁰² Id. PP 351-352, 354.

³³⁰³ Id. P 353.

1550. Accordingly, the Commission proposed to allow transmission providers to propose, pursuant to FPA section 205, new Federal rights of first refusal for incumbent transmission providers, conditioned on the incumbent transmission provider with the Federal right of first refusal for such regional transmission facilities establishing joint ownership of the transmission facilities consistent with certain requirements described in the NOPR.³³⁰⁴ The Commission asserted that if the NOPR proposal was adopted, Order No. 1000's findings and mandates would be amended such that joint ownership conditions would presumptively be found to ensure just and reasonable Commission-jurisdictional rates and limit opportunities for undue discrimination by transmission providers, if imposed upon the exercise of an incumbent transmission provider's Federal right of first refusal for selected transmission facilities.

³³⁰⁴ Id. P 354.

1551. The Commission explained that an incumbent transmission provider could establish qualifying joint ownership with unaffiliated nonincumbent transmission developers as defined in Order No. 1000, or another unaffiliated entity, including another incumbent transmission provider.³³⁰⁵ However, the Commission also proposed that to qualify for the presumption, incumbent transmission providers with a conditional Federal right of first refusal would not be allowed to structure joint-ownership arrangements such that unaffiliated entities were offered less than a meaningful level of participation and investment in the proposed regional transmission facility.³³⁰⁶ The Commission further explained that an incumbent transmission provider's conditional Federal right of first refusal should not significantly delay the regional transmission planning process or result in prolonged uncertainty regarding which transmission facilities will (or, alternatively, will not) be subject to competitive transmission development processes.³³⁰⁷

³³⁰⁵ Id. P 365.

³³⁰⁶ Id. P 371.

³³⁰⁷ Id. P 366.

1552. The Commission noted that proposals for jointly owned regional transmission facilities would still need to be evaluated by transmission providers in the transmission planning region and would not be exempt from selection requirements. However, the Commission also explained that the evaluation process for such jointly owned regional transmission facility proposals would not involve running the region's competitive transmission development process.³³⁰⁸

³³⁰⁸ Id. P 370.

B. Comments

1. General Perspectives and Approach To Reform

1553. Commenters share a variety of perspectives on the track record of competitive transmission development processes, the wisdom of the nonincumbent transmission developer reforms adopted in Order No. 1000, and the steps they believe the Commission should take in response to the concerns identified in the NOPR. Several state entities, customer-affiliated groups, and nonincumbent transmission developers, such as LS Power, NextEra, and the US DOJ and FTC, defend competitive transmission development processes as beneficial and argue for their expansion.³³⁰⁹ Some US Senators agree, arguing that allowing for a conditional Federal right of first refusal would be anti-competitive, could hinder development of new transmission, and could cause excessive costs to consumers.³³¹⁰ On the other hand, representatives of incumbent transmission providers and others (e.g., EEI, WIRES, DATA, the MISO TOs) critique such processes and many call for the Commission to restore unconditional Federal rights of first refusal.³³¹¹ Each side of the debate offers consultant reports to substantiate their position, with pro-competition advocates relying on studies by the Brattle Group (Brattle) that present competitive transmission development processes in a largely favorable light,³³¹² and advocates for Federal rights of first refusal relying on contrasting studies by Concentric Energy Advisors (Concentric).³³¹³ In general, pro-competition advocates, such as LS Power, contend that competitive transmission development processes are essential to just and reasonable rates, while representatives of incumbent transmission providers counter that just and reasonable transmission rates are separately and independently ensured by and through FPA section 205 rate proceedings.³³¹⁴

³³⁰⁹ See, e.g., American Municipal Power Reply Comments at 3-4; Anbaric Initial Comments at 4-5; California Commission Initial Comments at 100, 103-104; Competition Advocates Supplemental Comments at 1-3 & n.17 (citing Jennifer Chen & Devin Hartman, R Street Institute, Transmission Reform Strategy from a Customer Perspective: Optimizing Net Benefits and Procedural Vehicles (May 2022), http://www.rstreet.org/research/transmission-reform-strategy-from-a-customer-perspective-optimizing-net-benefits-and-procedural-vehicles); Competition Coalition Initial Comments at 16-22, 68-70; LS Power Initial Comments at 38-39, 44; LS Power Partial Reply Comments at 20-23; LS Power and NRG Supplemental Comments at 38-39; NextEra Initial Comments at 18-19, 24-27, 29; Ohio Consumers Reply Comments at 16-18; Resale Iowa Reply Comments at 5-6; US DOJ and FTC Initial Comments at 7-8, 10-11, 13, 22.

³³¹⁰ U.S. Senators Heinrich and Lee Supplemental Comments at 1-2. See also Freeport-McMoRan Supplemental Comments at 6 (asserting that the Federal right of first refusal is anticompetitive and would enrich transmission owning utility shareholders).

³³¹¹ See, e.g., DATA Initial Comments at 3-7 (detailing experiences by transmission planning regions and concluding that “competitive processes have become a distraction from, and an impediment to, the larger goal of expanding the transmission system to support current and future needs”); EEI Initial Comments at 24, 26, 27-31; EEI Supplemental Comments at 1-3 (citing Concentric Energy Advisors, Competitive Transmission: Experience To-Date Shows Order No. 1000 Solicitations Fail to Show Benefits, at 1 (Aug. 2022) (2022 Concentric Report); DATA Supplemental Comments at 4); MISO TOs Initial Comments at 53-56; National Grid Initial Comments at 4-5, 31 (doubting that Order No. 1000 competitive transmission development processes have broadly produced beneficial outcomes); PJM Initial Comments at 47-48 (enumerating the challenges faced in and resources required to complete competitive transmission development processes); Vermont Electric and Vermont Transco Initial Comments at 4-5 (referencing “a number of unintended consequences that have not benefited the regional grid”); WIRES Initial Comments at 14-15; WIRES Reply Comments at 4-8; Xcel Initial Comments at 5 (“[Right of first refusal] elimination was a policy experiment that did not bring about the desired result.”).

³³¹² In general, Brattle's analysis has found that competitive transmission development processes have yielded “cost savings averaging between 20% and 30%” once historical levels of cost escalation in transmission development were taken into account. See Brattle Apr. 2019 Competition Report at 39-43. US DOJ and FTC also contend that there are many instances in which competitive transmission development processes have benefitted consumers. See US DOJ & FTC Initial Comments at 13-16 (collecting examples); but see DATA Initial Comments at 7-9 (critiquing Brattle's analyses); WIRES Reply Comments at 5 (same).

³³¹³ In addition to citations to past Concentric reports, DATA attaches to its initial comments a 2022 Concentric report, which DATA characterizes as showing that competitive transmission development processes add significant time, delay customer benefits, and do not produce clear evidence of customer savings given cost cap exclusions and delays. DATA Initial Comments at 1-2, 7-11, 14-15; id. at attach. A (2022 Concentric Report). DATA also attaches to its comments a whitepaper that DATA alleges updates the Brattle Apr. 2019 Competition Report, and which DATA contends shows that Order No. 1000-mandated competition resulted in exceeding cost baselines by at least six percent. DATA Supplemental Comments at 3-4; id. at attach.: Whitepaper (DATA, Revisiting the Evidence on Cost Savings from Transmission Competition (Dec. 2023) (2023 DATA Whitepaper)). But see Massachusetts Attorney General Reply Comments at 8-9 (critiquing the 2022 Concentric Report); NextEra Reply Comments at 3, 7-17 (same); see also Competition Coalition Supplemental Comments at 2-7 (arguing that, in addition to DATA lacking good cause and failing to file a motion to lodge new evidence, the 2023 DATA Whitepaper fails to, among other things, demonstrate that cost-of-service regulation is as effective as competition in establishing just and reasonable transmission rates).

³³¹⁴ Compare LS Power Initial Comments at 32-37, with Ameren Initial Comments at 36-37, and DATA Initial Comments at 13-14, and MISO TOs Initial Comments at 60-61. Several commenters argue at length about the NOPR proposal's invocation of FPA sections 309 and 206 as legal authority and explore various alternatives. See, e.g., Ameren Initial Comments at 38-39; California Commission Initial Comments at 101-103; DATA Initial Comments at 17-18 & n.43; Eversource Initial Comments at 39-42; Indicated PJM TOs Initial Comments at 34-35; ITC Initial Comments at 36; LS Power Initial Comments at 14, 19-20, 24, 57-61; MISO TOs Initial Comments at 50-53; NextEra Initial Comments at 51-53.

1554. At a high level, pro-competition commenters express concern that the NOPR proposal could divert regional transmission facility development opportunities to incumbent transmission providers, opportunities that would otherwise be subject to competitive transmission development processes. For example, US DOJ and FTC argue that relying on Federal rights of first refusal to address the problems the Commission has identified would eliminate or distort the benefits of competitive transmission development processes, which generally “make transmission development less costly, more resilient, and more innovative.” ³³¹⁵ NESCOE “implores the Commission to maintain flexibility that enables ISO-NE to issue competitive solicitations to identify projects in furtherance of state laws.” ³³¹⁶ Some pro-competition commenters believe that states and state commissions are best positioned to determine whether competition between nonincumbent transmission developers and incumbent transmission providers is beneficial.³³¹⁷

³³¹⁵ See US DOJ & FTC Initial Comments at 22.

³³¹⁶ NESCOE Supplemental Comments at 6-7.

³³¹⁷ E.g., California Commission Initial Comments at 104-105; Harvard ELI Initial Comments at 5-6, 31-33; see also Minnesota State Entities Initial Comments at 9; Mississippi Commission Reply Comments at 8 & n.31; New Jersey Commission Initial Comments at 37; PIOs Initial Comments at 85; PJM States Initial Comments at 13-14. But see NextEra Reply Comments at 23-25 (questioning whether allowing states to dictate the terms of a filed rate would be legally sound); PJM Reply Comments at 25-29 (raising potential legal ambiguities and practical issues).

1555. Meanwhile, commenters that generally support Federal rights of first refusal express skepticism that the NOPR proposal would be sufficient to address the identified problems, or offer only qualified support for the NOPR proposal as an inferior alternative to the Commission fully restoring unconditional Federal rights of first refusal.³³¹⁸ In addition, if adopted, several incumbent transmission providers advocate for requiring transmission providers to implement the NOPR proposal instead of permitting them to decide whether to implement it.³³¹⁹

³³¹⁸ E.g., Avangrid Initial Comments at 18-24; DATA Initial Comments at 20-22; Eversource Initial Comments at 35-36, 42-45; Indicated PJM TOs Reply Comments at 2, 13-14; ITC Initial Comments at 32-43; Xcel Initial Comments at 5.

³³¹⁹ See, e.g., DATA Initial Comments at 19-21; Exelon Initial Comments at 49-51; National Grid Initial Comments at 36-37; PG&E Initial Comments at 2, 11; PPL Initial Comments at 34; SoCal Edison Initial Comments at 2; WIRES Initial Comments at 16; see also LS Power Initial Comments at 74-76 (discussing FPA section 205 rights in various regions); PJM Initial Comments at 30 (questioning whether there are any “regional differences” on this policy issue). But see Idaho Power Initial Comments at 12 (urging the Commission to ensure that any proposed reforms provide sufficient flexibility to tailor transmission planning and cost allocation processes to accommodate unique regional characteristics).

1556. While commenters offer numerous variations on these high-level opposing views, several commenters argue that there are problems with the basic structure of competitive transmission development processes and express concerns that generally align with those expressed by the Commission in the NOPR. For example, while not agreeing with the NOPR proposal, ELCON expresses concern that “current competition regimes have led eligible developers to retreat to their various corners, which reduces transparency, information sharing, and open dialogue in the planning process[,]” and contends that both incumbent transmission owners and nonincumbent transmission developers have adopted a zero-sum posture to transmission planning that leads to a patchwork of planning and lack of innovation.³³²⁰ Similarly, WIRES, citing a report by Grid Strategies, suggests that reforms under Order No. 1000 often prevent information sharing about transmission needs and available solutions, and lead to less cooperation and coordination within transmission planning regions.³³²¹ Harvard ELI disagrees, however, arguing that the report cited by WIRES provides evidence that information asymmetry, secrecy, and utilities' incentives demonstrate undue discrimination.³³²²

³³²⁰ ELCON Initial Comments at 21-22; see also DATA Reply Comments at 14 (arguing that “the Order No. 1000 status quo creates an inexorable drive towards minimalist, short-term solutions”). Despite its opposition to the NOPR proposal, ELCON sees some potential benefit of encouraging joint ownership and cooperation-based approaches, which ELCON thinks may help remedy the “`us versus them' problems with the current regional planning process.” ELCON Initial Comments at 23-24.

³³²¹ WIRES Supplemental Comments at 4 (citing Rob Gramlich, Richard Doying, & Zach Zimmerman, Grid Strategies, Fostering Collaboration Would Help Build Needed Transmission (Feb. 2024)).

³³²² Harvard ELI Supplemental Comments at 5.

1557. Though it does not support the NOPR proposal, Cypress Creek contends that Order No. 1000 led to misaligned incentives such that “competition today has not necessarily fostered just and reasonable rates.” ³³²³ Similarly, American Municipal Power states that many municipal electric systems are located on the fringe of an incumbent transmission provider's system and would significantly benefit from regional transmission projects that improve reliability, although because such projects require coordination between two incumbent transmission providers, they are “largely ignored.” ³³²⁴ American Municipal Power also states that another disincentive to incumbent transmission provider regional transmission facility development is the possibility of losing the project to another developer through the competitive process.³³²⁵ While not taking a position on competitive transmission development processes, Indiana Commission agrees that Order No. 1000 has produced unintended consequences, including that transmission development now mostly takes the form of transmission facilities not subject to competitive transmission development processes,³³²⁶ and states that little region-wide economic transmission development is occurring.³³²⁷

³³²³ Cypress Creek Reply Comments at 16.

³³²⁴ American Municipal Power Initial Comments at 31-32.

³³²⁵ Id. at 32. However, American Municipal Power states that because regional transmission facilities typically traverse more than one incumbent transmission provider's service territory, allowing individual incumbent transmission providers to exercise a Federal right of first refusal without other reforms also designed to promote coordination and cooperation between such providers would not “result in a shift from local to regional projects.” Id. (referencing the “interzonal nature of regional projects”).

³³²⁶ Indiana Commission Initial Comments at 12 (referring to “ `immediate need reliability' or `end of life replacement' or `supplemental' or `other' ” types of transmission facility projects).

³³²⁷ Id.

1558. But some commenters, such as NextEra, contend that if regional transmission investment has lagged behind expectations under Order No. 1000, that is a planning issue, not an incentives issue, and that some of the NOPR's proposed transmission planning reforms will help lead to greater investment in regional transmission facilities.³³²⁸ LS Power argues that the NOPR only generally observed that there have been increases in local transmission facility investment and static or declining investment in regional transmission facilities, and did not specify particular transmission planning regions in which this problem is occurring or which incumbent transmission providers face perverse investment incentives.³³²⁹ However, other commenters, such as WIRES, contend that the elimination of Federal rights of first refusal may be connected to flat or declining regional transmission investment,³³³⁰ as suggested by the NOPR.

³³²⁸ See NextEra Initial Comments at 18-19, 25; see also id. at 43 (arguing that the NOPR proposal is insufficiently based on speculation about potentially flawed investment incentives); Americans for Fair Energy Prices Reply Comments at 5-6; Northwest and Intermountain Initial Comments at 19-20 (arguing that even a limited or conditional right of first refusal eliminates any incentive for the incumbent transmission provider to reduce costs or delays); Ohio Commission Federal Advocate Initial Comments at 18 (arguing that adopting the NOPR proposal would further misalign incentives for incumbent transmission providers, not improve them).

³³²⁹ LS Power Initial Comments at 73-74. But see PJM Initial Comments at 30 (questioning whether there are any “regional differences” on this policy issue).

³³³⁰ WIRES Reply Comments at 2 (citing WIRES Initial Comments at 13-14).

1559. Finally, several commenters argue that the Commission should not adopt Federal right of first refusal reforms in this docket, but rather explore those and related issues in another forum. Advanced Energy United, Advanced Energy Buyers, State Agencies, and California Commission, for example, urge the Commission to consider these issues either in a different proceeding or at a technical conference.³³³¹ Competition Advocates support alternative reforms that they argue can better address the problem of perverse incentives, including better enforcement of existing orders or taking action to reduce Order No. 1000 exemptions, and establishing an independent transmission monitor.³³³²

³³³¹ Advanced Energy Buyers Initial Comments at 4 n.6; AEE Initial Comments at 4, 35-37; AEE Reply Comments at 31-33; California Commission Initial Comments at 103-104; State Agencies Initial Comments at 11; State Agencies Reply Comments at 6; see also Chemistry Council Initial Comments at 8; Enel Initial Comments at 3; Harvard ELI Initial Comments at 7-10; NESCOE Initial Comments at 11, 74-77.

³³³² Competition Advocates Supplemental Comments at 3-4.

2. Comments on the NOPR's Joint Ownership Proposal

1560. Some commenters, including TAPS, highlight various ways in which the Commission's joint ownership proposal would alleviate challenges associated with current regional transmission planning processes.³³³³ Some commenters, such as ELCON and the Omaha Public Power District, argue that the Commission's joint ownership proposal would benefit customers or encourage incumbent transmission providers to pursue larger and more comprehensive transmission solutions to the benefit of customers, and create incentives for transmission providers to find beneficial opportunities and investments for joint ownership partners and customers.³³³⁴ Other commenters agree that adopting the NOPR proposal may incentivize incumbent transmission providers to “look beyond the provincial” needs and consider regional and interregional solutions to transmission needs.³³³⁵

³³³³ See TAPS Initial Comments at 29-30 (stating that joint ownership arrangements provide benefits such as “improving transmission planning to produce a more efficient build-out; facilitating state siting; making it easier for [load-serving entities] to accept cost increases associated with new transmission by providing a hedge; and reducing the costs of needed facilities”), id. at 34-37; see also Eversource Initial Comments at 36-39; Pattern Energy Initial Comments at 37; PPL Initial Comments at 32-33; Vermont Electric and Vermont Transco Initial Comments at 4.

³³³⁴ See ELCON Initial Comments at 23-24; see also Cross Sector Representatives Supplemental Comments at 1 (arguing that the provisions are appropriately tied to collaborative and holistic planning outcomes that provide clear benefits to customers and would benefit the goals enunciated by the Commission throughout this rulemaking process); Omaha Public Power Initial Comments at 5 (suggesting that the joint ownership proposal will likely encourage neighboring incumbent transmission providers to develop facilities that benefit multiple transmission providers under certain conditions); Pattern Energy Initial Comments at 37 (asserting that joint ownership arrangements will open the market to additional investment opportunities for all parties).

³³³⁵ Tabors Caramanis Rudkevich Initial Comments at 2; see also Citizens Energy Initial Comments at 9-10; PG&E Initial Comments at 11 (arguing that a conditional Federal right of first refusal will help mitigate development challenges by promoting collaboration between partners).

1561. However, numerous commenters criticize the NOPR proposal and its approach to joint ownership partner selection, especially its inclusion of another incumbent transmission provider as a potential joint ownership partner.³³³⁶ In general, these commenters contend that incumbent transmission providers would be free to only team up with fellow incumbent transmission providers with the same interests and exclude others, leading to results that would be contrary to the goals of Order No. 1000. As Anbaric states, two incumbent transmission providers (or their affiliates) could “team up and swap a portion of their respective projects as a means to satisfy the joint ownership requirement” and thereby “maintain the status quo” ³³³⁷ rather than advance innovation, cost savings, or new entry. NextEra and others decry this potential outcome, which could keep nonincumbent transmission developers from obtaining investment opportunities.³³³⁸ Relatedly, several commenters argue that the NOPR proposal would raise antitrust and competition concerns,³³³⁹ including US DOJ and FTC, which argue that because the joint venture will not be facing pressure to compete, the conditional Federal right of first refusal does not create the incentive for incumbent transmission providers to seek out the best partner.³³⁴⁰ In other words, US DOJ and FTC argue, the mere existence of a joint venture partner does not bring competition to a project, nor does it necessarily result in the best partner for a project being selected, in terms of skill, cost, or innovation.³³⁴¹

³³³⁶ E.g., Anbaric Initial Comments at 18; see also, e.g., APPA Initial Comments at 11-12; California Commission Initial Comments at 80-88; Competition Coalition Initial Comments at 49-50; LS Power Initial Comments at 92-94; Massachusetts Attorney General Initial Comments at 48-49; New Jersey Commission Initial Comments at 31-33; NextEra Initial Comments at 49-51; NRECA Initial Comments at 58, 61; PJM States Initial Comments at 14; Policy Integrity Initial Comments at 21-22; TANC Initial Comments at 13; TAPS Initial Comments at 48-51; TAPS Reply Comments at 5-6 & n.25.

³³³⁷ Anbaric Initial Comments at 18.

³³³⁸ See Harvard ELI Initial Comments at 35; NextEra Initial Comments at 49-51. In contrast, some commenters such as APPA urge the Commission to adopt a requirement that incumbent transmission providers offer joint ownership on reasonable terms at a load ratio share level to all unaffiliated load-serving entities in the incumbent transmission provider's footprint. See APPA Reply Comments at 5-6; TAPS Initial Comments at 30-32 (advocating for a similar proposal).

³³³⁹ See, e.g., Competition Coalition Initial Comments at 59-62; LS Power Initial Comments at 122-125, 131-134; US DOJ & FTC Initial Comments at 17-18.

³³⁴⁰ US DOJ & FTC Initial Comments at 17.

³³⁴¹ Id. at 17-18; see also LS Power Initial Comments at 93 (arguing that the NOPR proposal would not require any independent check that the incumbent transmission provider is partnering with the entity that offers the most benefits).

1562. Commenters also highlight the potential for uncertainty, litigation, and delays in attempting to implement the NOPR proposal. Anbaric asserts that a conditional Federal right of first refusal could add delays due to litigation over whether incumbent transmission providers provided meaningful opportunities to third parties.³³⁴² EEI cautions against putting transmission providers in a position where they must adjudicate what constitutes meaningful ownership of jointly owned transmission facilities on a case-by-case basis, recommending instead that the Commission provide guidance on the types of ownership rights or operational obligations that will qualify and establish a process for seeking Commission approval in a timely manner for other arrangements.³³⁴³ MISO asserts that the process envisioned by the NOPR would be time-consuming, as would developing a joint ownership proposal, and asks that the Commission adopt clearly defined criteria for joint ownership, such as a pro forma agreement, in order not to impede transmission development.³³⁴⁴ National Grid calls for planning authorities to be given the authority to determine the appropriate criteria and conditions that constitute a valid joint ownership arrangement, though it also asks for guidance regarding particular types of combinations of potential joint owners.³³⁴⁵

³³⁴² Anbaric Initial Comments at 16; see also Avangrid Initial Comments at 18 (noting that establishing a conditional Federal right of first refusal adds a layer of complexity to the development of transmission); NYISO Initial Comments at 55-56 (asking the Commission to consider the complications, disputes, and delays that may arise from attempting to implement a conditional Federal right of first refusal and other practical issues).

³³⁴³ EEI Initial Comments at 36-37; see also Ameren Initial Comments at 44; DATA Initial Comments at 21-22; PJM Initial Comments at 4-5, 51-52, 53-54.

³³⁴⁴ MISO Initial Comments at 80-83; see also APPA Initial Comments at 4-7, 20-22 (outlining a detailed proposed implementation process by which APPA believes incumbent transmission providers and load-serving entities could work together and help avoid disputes and delay); Invenergy Reply Comments at 7-8 (calling for the adoption of pro forma agreements to ease implementation); TAPS Initial Comments at 53-54 (expressing concern that the NOPR proposal's anticipated period for formulation of joint ownership agreements is too short).

³³⁴⁵ See National Grid Initial Comments at 37.

C. Commission Determination

1563. We decline to act at this time to finalize the NOPR proposal. Rather, we will continue to consider the NOPR proposal and potential Federal right of first refusal issues in other proceedings. We do not adopt in this final order any changes to Order No. 1000's nonincumbent transmission developer reforms.

1564. As summarized above, commenters raise substantial concerns about whether incumbent transmission providers, as a result of Order No. 1000's reforms, face perverse investment incentives that do not adequately encourage those incumbent transmission providers to develop and advocate for transmission facilities that benefit more than just their own local retail distribution service territory or footprint. To the extent that incumbent transmission providers face perverse investment incentives, commenters also raise substantial concerns about whether the NOPR proposal adequately and appropriately addresses those incentives and whether adopting the proposal is necessary or appropriate in carrying out the provisions of the FPA. Therefore, after careful consideration of the record, we decline to finalize the NOPR proposal at this time. The Commission will continue to consider potential Federal right of first refusal reforms along with other transmission reforms in the future.³³⁴⁶

³³⁴⁶ We note, for example, the ongoing proceeding in Docket No. AD22-8 on Transmission Planning and Cost Management.

IX. Local Transmission Planning Inputs in the Regional Transmission Planning Process

A. Need for Reform

1. NOPR

1565. In the NOPR, the Commission explained that it was concerned that local transmission planning processes may lack adequate provisions for transparency and meaningful input from stakeholders, and that regional transmission planning processes may not adequately coordinate with local transmission planning processes.³³⁴⁷ The Commission stated in the NOPR that it was concerned that the lack of minimal standards or specified procedures may contribute to inadequate transparency and opportunities for stakeholders to engage in local transmission planning processes.³³⁴⁸ Accordingly, the Commission stated that it believed reforms to better ensure transparency and opportunities for stakeholder engagement may be timely and important in light of the significant investments in transmission that now occur through local transmission planning processes.³³⁴⁹

³³⁴⁷ NOPR, 179 FERC ¶ 61,028 at P 398 & n. 639 (providing that regional transmission planning processes should identify “alternative transmission solutions that might meet the needs of the transmission planning region more efficiently or cost-effectively than solutions identified by individual utility transmission providers in their local transmission planning process” (quoting Order No. 1000, 136 FERC ¶ 61,051 at P 148)).

³³⁴⁸ Id.

³³⁴⁹ See supra The Overall Need for Reform section.

1566. In addition, the Commission explained in the NOPR that it was concerned that, given the age of the Nation's transmission infrastructure, many incumbent transmission providers are replacing aging transmission infrastructure as it reaches the end of its useful life without evaluating whether those replacement transmission facilities could be modified (i.e., right-sized) to more efficiently or cost-effectively address regional transmission needs, and, more generally, that transmission providers developing regional transmission plans may lack the information necessary to identify the benefits that regional transmission facilities may provide in deferring or eliminating the need for in-kind replacements. Specifically, the NOPR stated that in-kind replacements of existing transmission facilities are managed by individual incumbent transmission providers according to their company practices, and that there is no requirement that transmission providers plan these in-kind replacement transmission facilities through an Order No. 890-compliant transmission planning process.³³⁵⁰ The Commission stated that, because in-kind replacement of existing transmission facilities is not subject to any transmission planning process, it was concerned that, absent reform, there may be a lack of coordination between regional transmission planning processes and in-kind replacement of existing transmission facilities to identify whether these replacement transmission facilities could be modified to more efficiently or cost-effectively address transmission needs identified through Long-Term Regional Transmission Planning. The Commission explained that this lack of coordination may result in a regional transmission planning process that fails to identify opportunities to right size planned in-kind replacement transmission facilities and may result in the development of duplicative or unnecessary transmission facilities that increase costs to customers and render Commission-jurisdictional rates unjust and unreasonable.³³⁵¹

³³⁵⁰ NOPR, 179 FERC ¶ 61,028 at P 399 (citing S. Cal. Edison Co., 164 FERC ¶ 61,160 at P 33; Cal. Pub. Utils. Comm'n v. Pac. Gas & Elec. Co., 164 FERC ¶ 61,161, at P 68 (2018); PJM Interconnection, L.L.C., 172 FERC ¶ 61,136, at PP 12, 89 (2020); PJM Interconnection, L.L.C., 173 FERC ¶ 61,242, at P 54 (2020)).

³³⁵¹ Id.

2. Comments

1567. Some commenters argue that the NOPR proposal regarding improved transparency in local transmission planning processes is not justified.³³⁵² EEI argues that the Commission has not found that any of the approved transmission planning processes under Order Nos. 890 and 1000 are unjust and unreasonable or unduly discriminatory or preferential and that, absent such a finding, the Commission should not move forward with changes to local transmission planning processes.³³⁵³ Idaho Power states that the Commission should not use a general rulemaking to address localized problems.³³⁵⁴ On the other hand, Indicated PJM TOs state that the NOPR proposal to enhance transparency in the local transmission planning processes is needed in each transmission planning region to satisfy the requirements set forth by Order No. 890.³³⁵⁵

³³⁵² Dominion Initial Comments at 76 (citing NOPR, 179 FERC ¶ 61,028 at P 395 n.634); EEI Initial Comments at 40; Idaho Power Initial Comments at 12-13.

³³⁵³ EEI Initial Comments at 40; see also Dominion Initial Comments at 76.

³³⁵⁴ Idaho Power Initial Comments at 12-13.

³³⁵⁵ Indicated PJM TOs Initial Comments at 41 (citing Order No. 890, 118 FERC ¶ 61,119 at PP 426-561).

1568. With respect to the Commission's proposed right-sizing reforms, LS Power and NextEra argue that the NOPR fails to make findings required under FPA section 206 to permit a right of first refusal for right-sized projects. LS Power and NextEra assert that the NOPR does not satisfy the first prong of FPA section 206, as it fails to make an affirmative finding that either the regional transmission planning process or the local transmission planning process are unjust and unreasonable such that abandonment of the existing tariff provisions is warranted.³³⁵⁶ Competition Coalition also asserts that the Commission failed to demonstrate the alleged need for reform on any section 206 finding.³³⁵⁷

³³⁵⁶ LS Power Initial Comments at 50-53 (citations omitted); NextEra Initial Comments at 54-56 (citations omitted). A number of commenters challenge the NOPR right-sizing proposal, including the proposal to permit a Federal right of first refusal for certain replacement facilities. We address those arguments below in the Identifying Potential Opportunities to Right-Size Replacement Transmission Facilities section below.

³³⁵⁷ Competition Coalition Initial Comments at 64.

3. Commission Determination

1569. Based on the record, we find that there is substantial evidence to support the conclusion that existing requirements governing transparency in local transmission planning processes and coordination between local and regional transmission planning processes are unjust, unreasonable, and unduly discriminatory or preferential. We therefore adopt the preliminary findings in the NOPR concerning the need for reform of the local transmission planning process and coordination between the local and regional transmission planning processes, including the evaluation of whether replacement transmission facilities could be modified (i.e., right-sized) to more efficiently or cost-effectively address transmission needs.³³⁵⁸

³³⁵⁸ Below, we clarify that the new transparency requirements do not apply to transmission facilities that are otherwise exempt from Order No. 890's transparency requirements, such as asset management projects. See infra Enhanced Transparency of Local Transmission Planning Inputs in the Regional Transmission Planning Process section.

1570. Local and regional transmission planning processes serve essential and complementary roles in ensuring that customers' transmission needs are identified and met at a just and reasonable cost, including through the identification, evaluation, and selection of more efficient or cost-effective transmission solutions through regional transmission planning. Information and transmission solutions developed through local transmission planning serve as a foundation for regional transmission planning, and it is therefore critical that the processes are appropriately designed and aligned to ensure that transmission providers and stakeholders have the information needed, including from the local transmission planning process, to conduct effective regional transmission planning. While the broader reforms directed in this final order are focused on improving the regional transmission planning process, we nonetheless have identified discrete deficiencies in the local transmission planning process and its coordination with the regional transmission planning process that also must be addressed to ensure that Commission-jurisdictional rates are just and reasonable.

1571. First, we find that local transmission planning processes lack adequate provisions for transparency and meaningful input from stakeholders. The Commission has recognized the critical role that stakeholders serve in effective transmission planning,³³⁵⁹ and in Order Nos. 890 and 1000, directed reforms to facilitate their meaningful participation in both local and regional transmission planning.³³⁶⁰ However, the record demonstrates that existing transparency and coordination requirements in local transmission planning do not consistently provide stakeholders with sufficient information regarding the development of local transmission plans.³³⁶¹ We further find that the absence of minimal standards or specified procedures to implement the transmission planning principles required by Order No. 890 contributes to inadequate transparency and opportunities for stakeholders to engage in local transmission planning processes.

³³⁵⁹ See, e.g., Order No. 890, 118 FERC ¶ 61,119 at P 454 (“[C]ustomers must be included at the early stages of the development of the transmission plan and not merely given an opportunity to comment on transmission plans that were developed in the first instance without their input.”); Order No. 1000, 136 FERC ¶ 61,051 at P 152 (“[A]bsent timely and meaningful participation by all stakeholders, the regional transmission planning process will not determine which transmission project or group of transmission projects could satisfy local and regional needs more efficiently or cost-effectively.”).

³³⁶⁰ See, e.g., Order No. 890, 118 FERC ¶ 61,119 at PP 454, 488, 557; Order No. 1000, 136 FERC ¶ 61,051 at P 152.

³³⁶¹ E.g., OMS Initial Comments at 15 (“OMS members have varying levels of oversight and visibility into the utility-driven, local planning processes that are incorporated into the overall MISO transmission expansion plan.”); Concerned Scientists ANOPR Initial Comments at 24-31 (discussing challenges obtaining information to assess projects developed through local transmission planning processes) (citations omitted); New Jersey Commission ANOPR Initial Comments at 6-7 (discussing limited information and analysis provided regarding projects considered in local transmission planning) (citations omitted).

1572. The combined effect of these deficiencies is that stakeholders who wish to participate in transmission planning, at both the local and regional level, may not be able to effectively do so. More specifically, we find that, when engaging in the regional transmission planning process, stakeholders lack sufficient information about underlying local transmission needs and potential solutions that is necessary to ensure that the more efficient or cost-effective regional transmission solutions are identified, evaluated, and selected. Given the recognized importance of stakeholder participation in effective transmission planning, we find that reforms are needed to ensure that Commission-jurisdictional local and regional transmission planning processes remain just, reasonable, and not unduly discriminatory or preferential. Furthermore, we believe that reforms to better ensure more consistent implementation of the Order No. 890 transmission planning principles are timely and important in light of the significant investments in transmission infrastructure that now occur through local transmission planning processes.³³⁶²

³³⁶² See supra The Overall Need for Reform section.

1573. Second, we find that additional coordination between the local and regional transmission planning processes regarding replacement of aging infrastructure is needed. The record shows that many incumbent transmission providers are replacing aging transmission infrastructure as it reaches the end of its useful life. For example, we note that PJM estimated that roughly two-thirds of all PJM transmission system assets are more than 40 years old, with some transmission facilities approaching 90 years old.³³⁶³ NYISO highlights that 80 percent of transmission lines in its footprint are at least 50 years old and are either being replaced or will soon need to be replaced.³³⁶⁴ Replacing these transmission facilities will require substantial investment, which will directly affect Commission-jurisdictional transmission rates. For example, the California Commission notes that PG&E anticipates spending roughly $11 billion between 2022 and 2027 to address aging transmission infrastructure.³³⁶⁵

³³⁶³ See PJM Interconnection, L.L.C., The Benefits of the PJM Transmission System 5 (2019), https://www.pjm.com/-/media/library/reports-notices/special-reports/2019/the-benefits-of-the-pjm-transmission-system.pdf. Moreover, AEP estimates that approximately 30 percent of its line miles and circuit breakers will need to be replaced over the next 10 years. See AEP, Wolfe Utilities, Midstream, & Clean Energy Conference 40 (Sept. 30, 2021), https://www.aep.com/Assets/docs/investors/eventspresentationsandwebcasts/WolfeConferencePresentation093021.pdf.

³³⁶⁴ NYISO Initial Comments at 58.

³³⁶⁵ California Commission Initial Comments at 110.

1574. However, because the Commission's existing requirements do not obligate transmission providers to share sufficient information regarding these replacement projects, transmission providers in the regional transmission planning process are not consistently evaluating whether those replacement transmission facilities could be modified (i.e., right-sized) to more efficiently or cost-effectively address transmission needs. We therefore find that the lack of a requirement for transmission providers in each transmission planning region to evaluate whether those replacement transmission facilities could be modified (i.e., right-sized) to more efficiently or cost-effectively address Long-Term Transmission Needs results in a regional transmission planning process that fails to identify opportunities to right-size planned in-kind replacement transmission facilities and may result in the development of inefficiently sized or designed, duplicative, or unnecessary transmission facilities that increase costs to customers and render Commission-jurisdictional rates unjust and unreasonable.

1575. With respect to the claim by commenters that the Commission lacks jurisdiction to impose the proposed transparency and coordination requirements or that the Commission has not justified the requirements,³³⁶⁶ we disagree. Consistent with Order Nos. 890 and 1000, the Commission has authority to establish requirements related to local transmission planning processes and the inputs to regional transmission planning processes.³³⁶⁷ Our findings above are supported by substantial evidence in the record, and we address any concerns regarding our remedy to address the transparency and coordination deficiencies below.

³³⁶⁶ Dominion Initial Comments at 76; EEI Initial Comments at 40; Idaho Power Initial Comments at 12-13.

³³⁶⁷ See, e.g., Order No. 890, 118 FERC ¶ 61,119 at P 435 (“In order to limit the opportunities for undue discrimination . . . and to ensure that comparable transmission service is provided by all public utility transmission providers, including RTOs and ISOs, the Commission concludes that it is necessary to amend the existing pro forma OATT to require coordinated, open, and transparent transmission planning on both a local and regional level.”); Order No. 1000, 136 FERC ¶ 61,051 at PP 68, 148, 152.

1576. We also disagree with LS Power, Competition Coalition, and NextEra's arguments regarding whether the Commission properly demonstrated under FPA section 206 that existing rates are unjust, unreasonable, or unduly discriminatory or preferential in instituting a Federal right of first refusal for right-sized replacement transmission facilities.³³⁶⁸ First, we clarify that the Commission is not finding that existing transmission planning processes are unjust, unreasonable, or unduly discriminatory or preferential due to a lack of a Federal right of first refusal for these facilities. Rather, we find here that transmission providers' OATTs are unjust and unreasonable due to the lack of right-sizing requirements that may lead to the identification, evaluation, and selection of more efficient or cost-effective Long-Term Regional Transmission Facilities. As discussed above, the record demonstrates that many incumbent transmission providers are replacing aging transmission infrastructure as it reaches the end of its useful life without evaluating, through the regional transmission planning process, whether those replacement transmission facilities could be modified (i.e., right-sized) to more efficiently or cost-effectively address transmission needs. As a result of this identified deficiency, we find that transmission providers' OATTs are unjust and unreasonable. We address LS Power, NextEra, and other commenters' concerns regarding the Commission's proposed replacement rate, including our findings regarding a Federal right of first refusal for right-sized replacement transmission facilities, below.

³³⁶⁸ Competition Coalition Initial Comments at 64; LS Power Initial Comments at 51-53; NextEra Initial Comments at 54-56.

1577. Because we find that the Commission's existing requirements governing transparency in local transmission planning processes and coordination between local and regional transmission planning processes are insufficient to ensure just and reasonable and not unduly discriminatory or preferential rates, we are now requiring, pursuant to FPA section 206, that transmission providers adopt, with certain modifications, the two reforms that the Commission identified in the NOPR: (1) enhance the transparency of local transmission planning processes; and (2) require transmission providers to evaluate whether transmission facilities that need replacing can be “right-sized” to more efficiently or cost-effectively address Long-Term Transmission Needs identified in Long-Term Regional Transmission Planning.³³⁶⁹ We find that the first reform will result in transmission providers providing enhanced transparency for stakeholders while providing those same stakeholders with opportunities to more effectively engage in local and regional transmission planning processes. We find that the second reform will result in transmission providers identifying, evaluating, and selecting replacement transmission facilities that more efficiently or cost-effectively address Long-Term Transmission Needs. Taken together, we find that these reforms will ensure that Commission-jurisdictional rates are just and reasonable and not unduly discriminatory or preferential.

³³⁶⁹ NOPR, 179 FERC ¶ 61,028 at PP 400-403.

B. Enhanced Transparency of Local Transmission Planning Inputs in the Regional Transmission Planning Process

1. NOPR Proposal

1578. In the NOPR, the Commission proposed to require transmission providers in each transmission planning region to revise the regional transmission planning process in their OATTs with additional provisions to enhance transparency of: (1) the criteria, models, and assumptions that they use in their local transmission planning process; (2) the local transmission needs that they identify through that process; and (3) the potential local or regional transmission facilities that they will evaluate to address those local transmission needs.³³⁷⁰ The Commission explained that transmission providers would be required to establish an iterative process that would provide stakeholders with meaningful opportunities to participate and provide feedback on local transmission planning throughout the regional transmission planning process.³³⁷¹ The Commission proposed to require that the regional transmission planning process include at least three publicly-noticed stakeholder meetings concerning the local transmission planning process of each transmission provider that is a member of the transmission planning region before a transmission provider's local transmission plan can be incorporated into the transmission planning region's planning models.³³⁷²

³³⁷⁰ NOPR, 179 FERC ¶ 61,028 at P 400.

³³⁷¹ Id.

³³⁷² Id.

1579. Specifically, the Commission proposed to require transmission providers in each transmission planning region, prior to the submission of local transmission planning information to the transmission planning region for inclusion in the regional transmission planning process, to convene, collectively, as part of the regional transmission planning process, a stakeholder meeting to review the criteria, assumptions, and models related to each transmission provider's local transmission planning (Assumptions Meeting). Next, no fewer than 25 calendar days after the Assumptions Meeting, transmission providers that are members of the transmission planning region would be required to convene, collectively, as part of the regional transmission planning process, a stakeholder meeting to review identified reliability criteria violations and other transmission needs that drive the need for local transmission facilities (Needs Meeting). Finally, the Commission proposed to require that, no fewer than 25 calendar days after the Needs Meeting, transmission providers that are members of the transmission planning region convene, collectively, as part of the regional transmission planning process, a stakeholder meeting to review potential solutions to those reliability criteria violations and other transmission needs (Solutions Meeting). The Commission also proposed to require that all materials for stakeholder review during these three meetings be publicly posted and that stakeholders have opportunities before and after each meeting to submit comments.³³⁷³

³³⁷³ Id. P 401.

1580. The Commission preliminarily found that these proposed requirements will result in needed additional transparency into local transmission planning processes, which inform the regional transmission planning process in a transmission planning region.³³⁷⁴

³³⁷⁴ Id. P 402.

2. Comments

a. Interest in Enhanced Transparency of Local Transmission Planning Inputs

1581. Many commenters support the NOPR proposal.³³⁷⁵ ITC argues that the Commission's proposed transparency requirements strike an appropriate balance between the need for oversight and the need to timely address asset management needs.³³⁷⁶ Southeast PIOs state that closer coordination between the regional and local transmission planning processes would help to ensure that the local process does not dull the effectiveness of the regional process.³³⁷⁷ Vermont State Entities support enhancing transparency and visibility of local transmission planning processes and coordinating with Long-Term Regional Transmission Planning and other processes, including the generator interconnection process.³³⁷⁸ City of New Orleans Council states that increased transparency, collaboration, and coordination between the regional and local transmission planning processes will result in more efficient local transmission development.³³⁷⁹ OMS asserts that enhanced transparency will enable retail regulators to more effectively participate in identifying the best set of projects to meet both local and regional needs.³³⁸⁰

³³⁷⁵ See AEE Initial Comments at 3; AEP Reply Comments at 10; APPA Initial Comments at 47; Breakthrough Energy Initial Comments at 19; Center for Biological Diversity Initial Comments at 28; Certain TDUs Initial Comments at 13; City of New Orleans Council Initial Comments at 11; Clean Energy Associations Initial Comments at 36; Clean Energy Buyers Initial Comments at 33; Colorado Consumer Advocates Initial Comments at 30-31; Cross Sector Representatives Supplemental Comments at 1; Exelon Initial Comments at 3, 51-52; Indicated PJM TOs Initial Comments at 40; Interwest Initial Comments at 17-18; ITC Initial Comments at 45-47; National and State Conservation Organizations Initial Comments at 2; New York Transco Initial Comments at 1; NextEra Initial Comments at 66-67; Northwest and Intermountain Initial Comments at 20; OMS Initial Comments at 16; PJM States Initial Comments at 4-6; Resale Iowa Initial Comments at 8; Resale Iowa Reply Comments at 5; SEIA Initial Comments at 25-26; Shell Initial Comments at 34; Southeast PIOs Initial Comments at 54-55; Vermont State Entities Initial Comments at 10.

³³⁷⁶ ITC Initial Comments at 45-47 (citations omitted).

³³⁷⁷ Southeast PIOs Initial Comments at 54-55.

³³⁷⁸ Vermont State Entities Initial Comments at 10 (citing NOPR, 179 FERC ¶ 61,028 at P 400).

³³⁷⁹ City of New Orleans Council Initial Comments at 11.

³³⁸⁰ OMS Initial Comments at 16.

1582. Colorado Consumer Advocates state that the Commission must ensure that transmission providers maintain coordinated, open, and transparent transmission planning processes on both a local and regional level that meet stakeholder needs.³³⁸¹ Interwest asserts that the NOPR proposal is needed to incentivize the coordination of generation and resource planning and transmission planning beyond state lines, adding that transparency measures, such as a process for information sharing, could allow customers or stakeholders to evaluate or replicate the findings from transmission providers and reduce after-the-fact disputes regarding allocated costs.³³⁸²

³³⁸¹ Colorado Consumer Advocates Initial Comments at 17, 20-21.

³³⁸² Interwest Initial Comments at 17-18. As an example, Interwest cites WestConnect's Colorado Coordinated Planning Group, which conducts transmission planning through task forces and work groups consisting of stakeholders. Id.

1583. Exelon and Indicated PJM TOs note that the NOPR proposal mirrors PJM TOs' local transmission planning process.³³⁸³ Indicated PJM TOs state that the NOPR proposal will help to ensure the coordination of local and regional transmission planning while preserving transmission owner responsibility for local transmission planning.³³⁸⁴ Indicated PJM TOs state that the PJM Attachment M-3 process avoids duplication of projects between local and regional transmission planning processes.³³⁸⁵ Clean Energy Associations state that each transmission planning region should have the opportunity to regularly review local transmission planning criteria for consistency with regional transmission planning, as PJM's manuals require.³³⁸⁶

³³⁸³ Exelon Initial Comments at 3-4, 51-52 (citing PJM, Intra-PJM Tariffs, OATT, attach. M-3 (1.0.0)); see Indicated PJM TOs Initial Comments at 42-43.

³³⁸⁴ Indicated PJM TOs Initial Comments at 42-43.

³³⁸⁵ Id. at 42.

³³⁸⁶ Clean Energy Associations Initial Comments at 37 (citing PJM Manual 14B, section 1.1 Planning Process Work Flow).

1584. Clean Energy Buyers state that existing local transmission planning has not met expectations for openness, coordination, and transparency, and that the NOPR proposal will help remedy such deficiencies and better identify cost-effective transmission projects.³³⁸⁷ Northwest and Intermountain agree that the Commission should reform local transmission planning processes to enhance transparency and provide meaningful opportunities for public input.³³⁸⁸ Similarly, Resale Iowa asserts that MISO's stakeholder processes do not address local transmission planning issues, especially those related to asset management, end-of-life, and other forms of local transmission planning that are exempt from Order No. 890's transmission planning requirements. Thus, Resale Iowa contends, its members believe they must bear the cost of new or upgraded transmission facilities without the opportunity to discuss less costly alternatives.³³⁸⁹

³³⁸⁷ Clean Energy Buyers Initial Comments at 33.

³³⁸⁸ Northwest and Intermountain Initial Comments at 20.

³³⁸⁹ Resale Iowa Reply Comments at 4-5.

1585. National and State Conservation Organizations suggest that early and consistent community engagement are key elements to successful development and timely completion of transmission projects, as the voices and concerns of affected local communities must be heard and acted upon to prevent environmental injustices and environmental damage.³³⁹⁰ WE ACT states that, in addition to coordination with state entities, there must also be meaningful engagement and robust input from affected and overburdened communities so that states and transmission providers are aware of the potential harms of siting transmission projects in environmental justice communities. WE ACT recommends that the Commission, its Office of Public Participation, state officials, and transmission providers familiarize themselves with several key documents relating to environmental justice to ensure meaningful community engagement and to inform comprehensive environmental justice analyses to reduce or eliminate undue burdens.³³⁹¹

³³⁹⁰ National and State Conservation Organizations Initial Comments at 2.

³³⁹¹ WE ACT Initial Comments at 5-6 (citing U.S. Env't Prot. Agency, Promising Practices for EJ Methodologies in NEPA Reviews (Mar. 2016), https://www.epa.gov/environmentaljustice/ej-iwg-promising-practices-ej-methodologies-nepa-reviews; U.S. Env't Prot. Agency, Technical Guidance for Assessing Environmental Justice in Regulatory Analysis (June 2016), https://www.epa.gov/sites/default/files/2016-06/documents/ejtg_5_6_16_v5.1.pdf; The Principles of Environmental Justice (EJ), Energy Justice Network, https://www.ejnet.org/ej/principles.pdf; Jemez Principles of Democratic Organizing, Energy Justice Network, https://www.ejnet.org/ej/jemez.pdf).

b. Suggested Modifications to the NOPR Proposal

1586. Some commenters support the NOPR proposal, but also suggest modifications to make it more effective or request that the Commission provide flexibility for transmission planning regions to determine the best manner to meet the requirements.³³⁹² NARUC requests flexibility for transmission planning regions to determine the timeline for stakeholder processes.³³⁹³ NRECA requests that the Commission allow transmission planning regions that currently have transparent processes to maintain them.³³⁹⁴

³³⁹² See ACORE Initial Comments at 18-19; AEP Initial Comments at 7, 40-41, 43-44; Ameren Initial Comments at 46-47; NARUC Initial Comments at 58-59; NESCOE Initial Comments at 77-78; North Carolina Commission and Staff Initial Comments at 18-20; NRECA Initial Comments at 65-66; NYISO Initial Comments at 9, 57-58; TANC Initial Comments at 11; WE ACT Initial Comments at 5-6; WIRES Initial Comments at 8-10.

³³⁹³ NARUC Initial Comments at 58-59 (citing NOPR, 179 FERC ¶ 61,028 at PP 400-401).

³³⁹⁴ NRECA Initial Comments at 65-66; see also Ameren Initial Comments at 46 (citing Ameren ANOPR Initial Comments at 20-21).

1587. TANC encourages the Commission to provide regional flexibility by allowing transmission providers to propose on compliance alternative frameworks for consideration of local transmission plans in the regional transmission planning process and allow transmission planning regions to consider the burden versus benefit of such as a requirement to maximize transparency and project efficiencies.³³⁹⁵

³³⁹⁵ TANC Initial Comments at 11 (citing NOPR, 179 FERC ¶ 61,028 at PP 400, 402).

1588. NESCOE contends that aspects of the proposal are too prescriptive, such as the Commission dictating the number of stakeholder meetings. However, NESCOE states that enhanced transparency could help states and ratepayers better understand proposed transmission facilities and the costs associated with them.³³⁹⁶ NESCOE states that stakeholders should have meaningful opportunities to participate and provide feedback on local transmission planning throughout the regional transmission planning process, asserting that transmission owners in ISO-NE currently do little more than present their proposals for in-kind replacements of existing transmission infrastructure to ISO-NE's Planning Advisory Committee.³³⁹⁷

³³⁹⁶ NESCOE Initial Comments at 77-78 (citing NOPR, 179 FERC ¶ 61,028 at P 400).

³³⁹⁷ Id.; NESCOE Reply Comments at 6 (citation omitted).

1589. ACORE states that the proposed stakeholder involvement in local transmission planning is beneficial but that the NOPR proposal lacks clarity on whether transmission providers must consider local transmission projects alongside other options in Long-Term Regional Transmission Planning.

1590. Joint Consumer Advocates argue that, while the NOPR proposal will increase transparency, it will not address the inability of consumer advocates to meaningfully review planning inputs or models because the inputs are not maintained in a format that enables stakeholders to review them, understand the assumptions, or replicate the transmission planning results, as contemplated in Order No. 890.³³⁹⁸ Pine Gate recommends that the Commission require that transmission providers make available to stakeholders information about the local transmission planning process for review and comment prior to the finalization or approval of the local transmission plan.³³⁹⁹

³³⁹⁸ Joint Consumer Advocates Initial Comments at 21-22.

³³⁹⁹ Pine Gate Initial Comments at 49-50.

c. Concern With the NOPR Proposal

1591. Several commenters state that they oppose or have concerns with the NOPR proposal.³⁴⁰⁰ Ohio Commission Federal Advocate argues that the NOPR proposal is of limited value given that it does not require a more comprehensive review of local transmission projects; instead, these projects will continue to be chosen, designed, and approved by the transmission owner.³⁴⁰¹ Similarly, American Municipal Power states that new transmission projects that expand or enhance the transmission grid and have regional benefits should be planned by the regional transmission entity and not by individual transmission owners. Further, American Municipal Power asserts that use of the PJM Attachment M-3 process, which American Municipal Power contends the NOPR “essentially” proposes to require nationwide, has resulted in additional balkanization of the transmission planning process, has increased the problem of planning based on individual transmission owners' criteria for determining need, and has disenfranchised PJM as the regional transmission planner.³⁴⁰²

³⁴⁰⁰ See American Municipal Power Initial Comments at 13-25; APS Initial Comments at 12-13; Avangrid Initial Comments at 13-15; CAISO Initial Comments at 7, 47-51; California Water Initial Comments at 5-8; DC and MD Offices of People's Counsel Initial Comments at 6-7; Dominion Initial Comments at 69-70; EEI Initial Comments at 40; Eversource Initial Comments at 47-49; Idaho Power Initial Comments at 12-13; MISO Initial Comments at 84-86; MISO TOs Initial Comments at 28-31; National Grid Initial Comments at 39-40; New York TOs Initial Comments at 16-17; Pennsylvania Commission Initial Comments at 20; PG&E Initial Comments at 15-18; PPL Initial Comments at 35-36; Xcel Initial Comments at 16-17.

³⁴⁰¹ See Ohio Commission Federal Advocate Initial Comments at 20-21 (citing NOPR, 179 FERC ¶ 61,028 (Christie, Comm'r, concurring at P 16)).

³⁴⁰² American Municipal Power Initial Comments at 17; see American Municipal Power Supplemental Comments at 1, 6 (citations omitted).

1592. Relatedly, Pennsylvania Commission states that enhancing transparency in local transmission planning is a laudable goal but notes that the proposal will not enhance PJM's process because the NOPR proposal adopts the existing PJM Attachment M-3 process.³⁴⁰³

³⁴⁰³ Pennsylvania Commission Initial Comments at 20-21 (citing NOPR, 179 FERC ¶ 61,028 at PP 399-400).

1593. Several commenters argue that the existing regional transmission planning process in their transmission planning region is already transparent and therefore oppose the NOPR proposal.³⁴⁰⁴ New York TOs assert that New York's regional and local transmission planning processes almost fully satisfy the proposed requirements and, as such, the Commission should allow NYISO to retain these processes.³⁴⁰⁵ MISO argues that the additional requirements proposed in the NOPR are not needed in an RTO such as MISO with a fully developed, open, and transparent transmission planning process in effect.³⁴⁰⁶ MISO TOs agree, stating that MISO's existing processes provide for transparency in local transmission planning through subregional planning meetings, published materials, and workshops throughout the transmission planning process.³⁴⁰⁷

³⁴⁰⁴ APS Initial Comments at 12-13; Avangrid Initial Comments at 13-15; CAISO Initial Comments at 46-50; Dominion Initial Comments at 69; Eversource Initial Comments at 46-49; MISO Initial Comments at 84-86; MISO TOs Initial Comments at 29-31; National Grid Initial Comments at 39; New York TOs Initial Comments at 16-17; Pennsylvania Commission Initial Comments at 20; PG&E Initial Comments at 16-18.

³⁴⁰⁵ New York TOs Initial Comments at 7.

³⁴⁰⁶ MISO Initial Comments at 84-85.

³⁴⁰⁷ MISO TOs Initial Comments at 29-31 (citing MISO Business Practice Manual, Transmission Planning, BPM-20, section 4.1; MISO, FERC Electric Tariff, MISO OATT, attach. FF (Transmission Expansion Planning Protocol) (90.0.0), § I.C.9; MISO, Subregional Planning Meeting, https://www.misoenergy.org/engage/committees/subregional-planning-meeting/; Midwest Indep. Transmission Sys. Operator, Inc., 142 FERC ¶ 61,215, at PP 80, 114 (2013), order on reh'g, 144 FERC ¶ 61,020 (2013), order on reh'g & compliance, 147 FERC ¶ 61,127 (2014), aff'd sub nom. MISO Transmission Owners v. FERC, 819 F.3d 329 (7th Cir. 2016)).

1594. CAISO states that the Commission should not disrupt existing processes that are working efficiently, arguing that its transmission planning process already considers both local and regional assumptions, needs, and solutions as part of a single integrated process.³⁴⁰⁸ PG&E agrees that the NOPR proposal is unnecessary for California utilities and CAISO because many CAISO transmission owners already have extensive stakeholder programs. Therefore, PG&E states, the Commission should clarify that transmission providers are not required to enhance the transparency of local transmission planning processes where such transparent processes already exist.³⁴⁰⁹

³⁴⁰⁸ CAISO Initial Comments at 47-50 (citations omitted).

³⁴⁰⁹ PG&E Initial Comments at 15-18.

1595. In addition, PG&E argues that the Commission should revise the NOPR proposal to state that the proposed enhancements to the local transmission planning process should not apply to asset management projects, including in-kind replacements, that are outside the scope of Order No. 890.³⁴¹⁰ PG&E asserts that including asset management projects would significantly increase the volume and complexity of regional and local transmission planning and potentially delay needed repairs and maintenance. PG&E further states that all of PG&E's asset replacement projects are already scrutinized through the annual update to its formula transmission rate.³⁴¹¹

³⁴¹⁰ Id. at 15-16 (citing Cal. Pub. Utils. Comm'n v. Pac. Gas & Elec., 164 FERC ¶ 61,161 at P 66).

³⁴¹¹ PG&E Reply Comments at 6-7.

1596. Eversource contends that the current local transmission planning process in New England, which is based on the principles in Order No. 890, is largely consistent with the Commission's proposed transparency principles and has worked well.³⁴¹² Similarly, APS states that it currently uses its local transmission plans in the base model assumptions for its regional transmission planning process and provides stakeholders with an opportunity for input twice a year in public meetings as required by Order No. 890.³⁴¹³

³⁴¹² Eversource Initial Comments at 46-47 (citing ISO New England, Inc., Transmittal, Docket No. OA08-58 (filed Dec. 7, 2007)).

³⁴¹³ APS Initial Comments at 12 (citing Order No. 890, 118 FERC ¶ 61,119 at PP 257-258, 451).

1597. Some commenters request that the Commission adopt a less prescriptive reform that outlines principles or goals for transparency and allow each transmission provider to either explain how its existing local transmission planning process already complies with those principles or propose targeted modifications to bring its existing process into compliance with the new requirements.³⁴¹⁴ New York TOs note that efforts to improve transparency between local and regional transmission planning are beginning in NYISO, and they recommend that the Commission allow NYISO and New York TOs to demonstrate on compliance how any resulting enhancements will meet or exceed any new requirements.³⁴¹⁵ Vermont Electric and Vermont Transco suggest that the Commission adopt a performance-based approach under which the Commission would specify expectations for transparency in local transmission planning processes and then allow transmission providers to determine how they will achieve those goals within longer timelines.³⁴¹⁶

³⁴¹⁴ See Avangrid Initial Comments at 15; EEI Initial Comments at 40; Eversource Initial Comments at 48; Kansas Commission Initial Comments at 17; MISO Initial Comments at 84; MISO TOs Initial Comments at 31; National Grid Initial Comments at 39; New York TOs Initial Comments at 7, 16-17; Xcel Initial Comments at 17.

³⁴¹⁵ See New York TOs Initial Comments at 6-7, 16-17 (citations omitted).

³⁴¹⁶ Vermont Electric and Vermont Transco Initial Comments at 5.

1598. Several commenters argue that the NOPR proposal is too prescriptive or may interfere with existing processes.³⁴¹⁷ Eversource states that, if the Commission adopts a more prescriptive approach to local transmission planning, it could conflict with existing, state-jurisdictional planning processes for local transmission projects, creating barriers to distribution facility upgrades that are needed to support expanded use of distributed energy resources and load growth from electrification.³⁴¹⁸ Dominion cautions against adding more process when transmission providers already participate in extensive local transmission planning processes that consider Long-Term Regional Transmission Planning and stakeholder positions.³⁴¹⁹ Avangrid agrees, asserting that the NOPR proposal could override existing processes that have been established over years of stakeholder consensus building.³⁴²⁰ PPL and American Municipal Power state that the NOPR proposal may not be appropriate for all transmission planning regions and may interfere with efficient and well-functioning local transmission planning.³⁴²¹

³⁴¹⁷ Avangrid Initial Comments at 13; CAISO Initial Comments at 7-8, 47, 50; Dominion Initial Comments at 70; Eversource Initial Comments at 47-48; MISO Initial Comments at 86; PG&E Initial Comments at 17-18; PPL Initial Comments at 36; Xcel Initial Comments at 16-17.

³⁴¹⁸ Eversource Initial Comments at 49.

³⁴¹⁹ Dominion Initial Comments at 69-70.

³⁴²⁰ Avangrid Initial Comments at 13.

³⁴²¹ American Municipal Power Initial Comments at 16; PPL Initial Comments at 36.

1599. Certain commenters also argue that the NOPR proposal is unduly burdensome.³⁴²² APS argues that the NOPR proposal could delay local transmission planning and prevent APS from providing necessary services.³⁴²³ National Grid asserts that the NOPR proposal ignores the reality that local transmission planning processes address different needs than the regional transmission planning process. National Grid argues that the proposal will introduce delay and uncertainty in both the local and regional transmission planning processes, disrupting currently effective procedures at a time when participants in the regional transmission planning process should be focused on Long-Term Regional Transmission Planning.³⁴²⁴

³⁴²² See Dominion Initial Comments at 68; Eversource Initial Comments at 49; National Grid Initial Comments at 39-40; Xcel Initial Comments at 16-17.

³⁴²³ APS Initial Comments at 13.

³⁴²⁴ National Grid Initial Comments at 39-40.

1600. In addition, National Grid argues that the NOPR proposal will complicate transmission planning because individual transmission providers in each transmission planning region will need to integrate their local transmission planning efforts into the regional transmission planning process. Further, National Grid states that in multi-state RTO/ISO transmission planning regions, it could also lead to second guessing individual state policies as part of the regional transmission planning process. National Grid also avers that regional transmission planners, such as NYISO and ISO-NE, may not have visibility into the operation of lower voltage local transmission facilities and therefore may not have the expertise that is needed to consider local transmission needs as part of the regional transmission planning process.³⁴²⁵

³⁴²⁵ Id.

d. Specific Stakeholder Meeting Requirements

1601. With respect to the length of time between stakeholder meetings, some commenters state that the 25-day minimum period between meetings in the NOPR proposal is too short.³⁴²⁶ PIOs state the Commission should require transmission providers to submit local transmission planning information, including information concerning planned local transmission projects, with enough time for the regional transmission planning process to effectively find, propose, approve, and construct cost-effective and beneficial regional alternatives where appropriate.³⁴²⁷

³⁴²⁶ American Municipal Power Initial Comments at 24; Northwest and Intermountain Initial Comments at 21; PIOs Initial Comments at 51-54; TAPS Initial Comments at 6, 62.

³⁴²⁷ PIOs Initial Comments at 51-52, 54 (citing PIOs ANOPR Initial Comments at 92-94; Concerned Scientists ANOPR Initial Comments at 24-31).

1602. American Municipal Power contends that the NOPR proposal fails to identify whether and when transmission providers must provide information in advance of the three meetings. Moreover, American Municipal Power argues, 25 days between meetings is too short, even assuming all of the models, criteria, and needs are shared with stakeholders sufficiently in advance. Further, American Municipal Power states that the time between the Needs and Solutions Meetings should be based on the time required for transmission providers to incorporate comments received during the Needs Meeting and develop responses.³⁴²⁸

³⁴²⁸ American Municipal Power Initial Comments at 24.

1603. Eversource argues that the proposed meeting schedules are not workable in New England, where regional transmission planning studies focus on sub-areas of the transmission system and proceed on different timelines. Moreover, Eversource contends that it is not feasible in New England to have a three-meeting process that aligns with ISO-NE's annual transmission planning cycle because no such annual planning cycle exists.³⁴²⁹

³⁴²⁹ Eversource Initial Comments at 47.

1604. Dominion, Eversource, and Xcel state that the three separate stakeholder meetings to review assumptions, needs, and solutions are unnecessary and will increase workload without any benefit.³⁴³⁰ Xcel contends that a single meeting that addresses the transparency requirements of Order Nos. 890 and 1000, as well as any requirements from the final order, would be more efficient than the NOPR proposal.³⁴³¹ NESCOE asserts that the final order should not dictate the number of stakeholder meetings.³⁴³² MISO states that the Commission should allow each transmission planning region to determine the timing of the iterative meetings, as well as the specific information to be covered at the meetings.³⁴³³

³⁴³⁰ Dominion Initial Comments at 68; Eversource Initial Comments at 47-48; Xcel Initial Comments at 17.

³⁴³¹ Xcel Initial Comments at 16-17.

³⁴³² NESCOE Initial Comments at 78 (citation omitted).

³⁴³³ MISO Initial Comments at 84.

1605. TAPS states that the Commission should require transmission providers to post their criteria, models, and assumptions so that stakeholders can evaluate or replicate their findings. Moreover, TAPS argues, the Commission should require that transmission providers distribute this information “sufficiently in advance” (and not just “in advance,” as the NOPR proposed) of each meeting to allow stakeholders to review and evaluate the information.³⁴³⁴ Finally, TAPS states that a second Solutions Meeting would provide a meaningful opportunity to consider alternatives.³⁴³⁵

³⁴³⁴ TAPS Initial Comments at 61 (citing NOPR, 179 FERC ¶ 61,028 at P 402).

³⁴³⁵ Id. at 62.

1606. Likewise, American Municipal Power recommends that the Commission require a minimum of two Solutions Meetings, with the transmission provider presenting the solutions at the first meeting and the final solution, including alternatives considered, at the second. Further, American Municipal Power recommends that the first Solutions Meeting be no sooner than 90 days after the Needs Meeting and the second Solutions Meeting no sooner than 30 days after the first Solutions Meeting. To the extent the Commission does not require a second Solutions Meeting, American Municipal Power recommends that it require transmission providers to provide additional clarity regarding how alternatives were developed and why they were not selected during the single Solutions Meeting.³⁴³⁶

³⁴³⁶ American Municipal Power Initial Comments at 24-25.

1607. While PJM States support requiring Assumptions, Needs, and Solutions Meetings as part of local transmission planning processes, similar to PJM's existing Attachment M-3 process, they express concern that PJM's process is not sufficiently responsive and that the growth of transmission-related costs in PJM is occurring without effective oversight.³⁴³⁷ PJM States reference PJM's requirement that transmission providers provide information on their local transmission plan and consider any comments received, but state that they are not required to “meaningfully respond to, engage with, or incorporate” these comments.³⁴³⁸

³⁴³⁷ PJM States Initial Comments at 4-5 (citing PJM, 2021 Regional Transmission Planning Expansion Plan 290 (Mar. 2022), https://www.pjm.com/-/media/library/reports-notices/2021-rtep/2021-rtep-report.ashx).

³⁴³⁸ Id. at 6 (citing PJM, Intra-PJM Tariffs, OATT, attach. M-3 (1.0.0), section (c) 1-6).

1608. California Commission notes that the key elements of the California stakeholder processes that may be relevant for the Commission to consider including in a final order to increase transparency into local transmission planning include: (1) detailed project and capital expenditure data; (2) ample time to review proposed capital forecasts; (3) the ability for stakeholders to issue data requests and receive responses; (4) in-depth stakeholder meetings; and (5) consideration of stakeholder comments.³⁴³⁹

³⁴³⁹ California Commission Initial Comments at 112-113.

1609. New England for Offshore Wind argues that all transmission planning processes should include transparency into the evaluation of alternative options that could optimize the performance of renewable energy, as well as justification of proposed transmission projects based on how they compare to no action alternatives.³⁴⁴⁰ NRG encourages the Commission to require that the local transmission planning process produce an estimated rate impact for each year if the local transmission plan were to be executed.³⁴⁴¹

³⁴⁴⁰ New England for Offshore Wind Initial Comments at 6.

³⁴⁴¹ NRG Initial Comments at 7, 36.

1610. Several commenters contend that transmission providers should be required to respond to comments and questions submitted by stakeholders in the local transmission planning process.³⁴⁴² PJM States raise the same issue but look to the relevant RTOs/ISOs to resolve them.³⁴⁴³

³⁴⁴² See American Municipal Power Initial Comments at 18-19; California Commission Initial Comments at 112-113; DC and MD Offices of People's Counsel Initial Comments at 6; Kentucky Commission Chair Chandler Initial Comments at 22; Northwest and Intermountain Initial Comments at 20-21; TAPS Initial Comments at 62.

³⁴⁴³ PJM States Initial Comments at 6.

1611. American Municipal Power and DC and MD Offices of People's Counsel state that transmission providers are not obligated to respond to stakeholder questions, which, when considered alongside the other barriers to effective participation, creates unnecessary barriers to open communication, is not just and reasonable, and is unduly discriminatory.³⁴⁴⁴ American Municipal Power further asserts that comparability principles require transmission providers to consider transmission customers' comments in order to meet their needs and to treat similarly situated customers comparably while conducting transmission system planning.³⁴⁴⁵ However, PJM and Indicated PJM TOs disagree that stakeholder comments are being ignored in PJM's Attachment M-3 process.³⁴⁴⁶

³⁴⁴⁴ See American Municipal Power Initial Comments at 19-20; DC and MD Offices of People's Counsel Initial Comments at 6-7.

³⁴⁴⁵ American Municipal Power Initial Comments at 19.

³⁴⁴⁶ Indicated PJM TOs Reply Comments at 4, 18-19 (citations omitted); PJM Reply Comments at 13-15 (citing American Municipal Power Initial Comments at 19).

1612. TAPS states that dispute resolution on criteria, assumptions, needs, and proposed solutions should be available if stakeholder comments are ignored.³⁴⁴⁷ TAPS asserts that the Commission should include such provisions in any final order or clarify that they are already encompassed in the Commission's transparency proposal.³⁴⁴⁸

³⁴⁴⁷ TAPS Initial Comments at 62 (citing Order No. 890, 118 FERC ¶ 61,119 at PP 501-503).

³⁴⁴⁸ Id.

e. Additional Issues

1613. Pattern Energy and American Municipal Power state that the NOPR proposal does not go far enough in ensuring stakeholder access to transmission planning data from the local transmission planning processes and propose additional requirements to make certain information more readily available, subject to execution of a CEII non-disclosure agreement.³⁴⁴⁹ Similarly, Pattern Energy states that continued stakeholder access to the source data used in transmission modeling by transmission providers is essential to ensure fair and reasonable outcomes in any transmission planning process.³⁴⁵⁰ PPL requests that the Commission clarify that confidential or sensitive information will be protected under the NOPR proposal in the local transmission planning processes as they currently are in PJM.³⁴⁵¹

³⁴⁴⁹ See American Municipal Power Initial Comments at 22; Pattern Energy Initial Comments at 30-31.

³⁴⁵⁰ Pattern Energy Initial Comments at 30-31.

³⁴⁵¹ PPL Initial Comments at 36.

1614. Certain TDUs state that the Commission should require transmission providers to coordinate with load-serving entities to transfer data and information and increase transparency in the stakeholder process.³⁴⁵² ACEG recommends that the Commission require minimum data transparency standards in the local transmission planning processes, drawing on MISO's and SPP's cost recording and tracking processes for transmission projects approved through their regional transmission planning processes.³⁴⁵³ Maryland Energy Administration asserts that additional reforms beyond those proposed in the NOPR are needed to support transparency and better incorporate stakeholder contributions in local transmission planning processes.³⁴⁵⁴ California Water recommends that the Commission allow data requests, similar to the opportunity for data requests in the SoCal Edison and PG&E stakeholder review processes, which ensure that stakeholders can participate and that transmission providers exercise good faith efforts to respond.³⁴⁵⁵

³⁴⁵² Certain TDUs Initial Comments at 18.

³⁴⁵³ ACEG Initial Comments at 56 (citing Johannes Pfeifenberger et al., The Brattle Group, Cost Savings Offered by Competition in Electric Transmission: Experience to Date and the Potential for Additional Customer Value 26 (Apr. 2019)).

³⁴⁵⁴ See Maryland Energy Administration Reply Comments at 2-3 (citations omitted).

³⁴⁵⁵ California Water Initial Comments at 7-8 (citing S. Cal. Edison, Filing, App. XII, ER19-1553-000, at section 2.2 (filed July 2, 2020); Pac. Gas & Elec. Co., Filing, App. IX, ER19-13-001, at section 3.2 (filed Mar. 31, 2020)).

1615. American Municipal Power requests that the Commission direct transmission providers to provide detailed information consisting of more than generic or high-level network models, along with power flow models and power system analyses used in their local transmission planning.³⁴⁵⁶ According to American Municipal Power, to allow stakeholders to evaluate the outputs of transmission providers' studies—i.e., the identified transmission needs—on their own, transmission providers must be required to provide the models.³⁴⁵⁷ Furthermore, American Municipal Power argues, the Commission should require transmission providers to provide information on how assets have been prioritized for replacement, how the replacement versus maintenance decision is made, how assets rank relative to other assets on the system, and the system average values.³⁴⁵⁸

³⁴⁵⁶ American Municipal Power Initial Comments at 20-21.

³⁴⁵⁷ Id. at 21.

³⁴⁵⁸ Id. at 22-23.

1616. Several commenters state that the NOPR proposal does not go far enough to protect customers' interests and suggest the addition of more process, more oversight, more monitoring (including establishing an independent transmission monitor), or more prudence reviews.³⁴⁵⁹ According to PIOs, transmission providers have incentives to avoid independent transmission planning processes because local transmission projects are presumed to be prudent, avoid competition, and receive high rates of return. PIOs state that the Commission should reduce the rate of return for local transmission projects and issue a rule or policy statement that puts the burden of proof on transmission providers to demonstrate that the cost of a proposed transmission project is just and reasonable.³⁴⁶⁰

³⁴⁵⁹ California Commission Initial Comments at 111-112 & n.401; Colorado Consumer Advocates Initial Comments at 31; Joint Consumer Advocates Initial Comments at 25-29; NRG Initial Comments at 7, 36; Ohio Consumers Initial Comments at 23-24; OMS Initial Comments at 16-17; Pattern Energy Initial Comments at 31-34; Pine Gate Initial Comments at 49-50; PIOs Initial Comments at 51-52; PJM States Initial Comments at 4-6; TAPS Initial Comments at 61-62; US DOJ and FTC Initial Comments at 20-21.

³⁴⁶⁰ PIOs Initial Comments at 52-53.

1617. Joint Consumer Advocates state that, while the NOPR proposal is an improvement, more needs to be done to address the imbalance between consumer advocates and incumbent transmission owners. Therefore, Joint Consumer Advocates assert, the Commission should authorize the creation of an independent transmission monitor to evaluate the effective coordination of local transmission projects with more holistic transmission planning to identify the most efficient or cost-effective approach to meeting local, regional, and interregional transmission needs.³⁴⁶¹ Relatedly, California Commission and Colorado Consumer Advocates suggest that the Commission give independent transmission monitors the responsibility to evaluate stakeholder comments, independently analyze whether there are potentially more efficient and cost-effective alternative transmission solutions to meet identified transmission needs, and make a recommendation.³⁴⁶² Potomac Economics argues that the Commission's transparency goals likely cannot be met without an independent transmission monitor.³⁴⁶³

³⁴⁶¹ Joint Consumer Advocates Initial Comments at 26-29 (citations omitted).

³⁴⁶² California Commission Initial Comments at 111-112; Colorado Consumer Advocates Initial Comments at 31.

³⁴⁶³ See Potomac Economics Initial Comments at 6.

1618. Some commenters opine on whether the regional transmission planning process should assume an expanded role in reviewing or approving identified local transmission projects.³⁴⁶⁴ In addition, NARUC recommends that the Commission allow the proposed stakeholder review process to apply to repair and replacement projects that do not expand the capacity of the transmission system, or do so only incidentally, in particular those that are forecast to cost $3 million or more. NARUC asserts that, limiting the reforms to local transmission planning may exclude review of these projects, which currently comprise half of investor-owned utilities' transmission spending in the RTOs/ISOs. Further, NARUC urges the Commission to allow these projects, along with local transmission projects, to be reviewed and approved as part of the regional transmission planning process.³⁴⁶⁵ California Commission agrees, stating that there should be more external scrutiny of such projects to reduce incumbent utilities' existing perverse incentive to overinvest in these types of projects due to their lack of external review.³⁴⁶⁶

³⁴⁶⁴ See American Municipal Power Reply Comments at 3-7; California Commission Initial Comments at 108-110; DC and MD Offices of People's Counsel Initial Comments at 7; NARUC Initial Comments at 60-61; Ohio Consumers Reply Comments at 17-18; PJM States Initial Comments at 6-7.

³⁴⁶⁵ NARUC Initial Comments at 60-63 (citations omitted).

³⁴⁶⁶ California Commission Initial Comments at 109-110 (citations omitted).

1619. PJM States call on RTOs/ISOs to go beyond evaluating whether local transmission projects “do no harm” by actively taking a stance on such projects, discussing how this stance was reached, and by proposing transmission projects that may be the most cost-effective.³⁴⁶⁷ However, PJM States ask the Commission to explicitly avoid impinging on state-jurisdictional processes.³⁴⁶⁸

³⁴⁶⁷ PJM States Initial Comments at 6-7 (citation omitted).

³⁴⁶⁸ Id. at 7.

1620. DC and MD Offices of People's Counsel and American Municipal Power assert that the remedy for the current lack of a requirement to incorporate or respond to stakeholder feedback in the local transmission planning process is an empowered regional transmission planner that is independent and incorporates meaningful participation from all stakeholders beginning with the determination of any transmission needs through the project selection phase.³⁴⁶⁹ Relatedly, Ohio Consumers state that the NOPR proposal leaves sole discretion in selection of transmission projects and the costs of the projects to transmission providers.³⁴⁷⁰

³⁴⁶⁹ American Municipal Power Reply Comments at 3-7 (citations omitted); DC and MD Offices of People's Counsel Initial Comments at 7.

³⁴⁷⁰ Ohio Consumers Reply Comments at 18.

1621. However, some commenters defend the separation between local and regional transmission planning processes.³⁴⁷¹ For instance, AEP disagrees that transmission providers seek to build local transmission projects to circumvent the regional transmission planning process.³⁴⁷² According to AEP, local and regional transmission planning processes are not interchangeable because most local transmission facilities directly serve load and local utilities must address local needs when those needs are not addressed by a regional transmission facility in a cost-effective manner.³⁴⁷³ Nevertheless, AEP states, there can be an effective and efficient intersection between local and regional transmission planning, citing PJM's open and transparent local transmission planning process that requires coordination with the regional transmission planning process and in which PJM is an active participant.³⁴⁷⁴ Similarly, WIRES states that there are good reasons for maintaining a distinction between regional and local transmission planning, noting that the regional transmission planning process is directed toward addressing certain reliability, economic criteria, and public policy initiatives, not the additional system needs related to resilience, asset management, customer needs, customer impact, and aging infrastructure replacement that are the focus of local transmission planning.³⁴⁷⁵

³⁴⁷¹ AEP Reply Comments at 6-7; MISO Reply Comments at 27; PG&E Reply Comments at 4-9; WIRES Initial Comments at 9.

³⁴⁷² AEP Reply Comments at 6-7 (citing AEE Initial Comments at 38; PIOs Initial Comments at 8-9; Resale Iowa Initial Comments at 7-8; US DOJ and FTC Initial Comments at 7).

³⁴⁷³ Id. at 2-3.

³⁴⁷⁴ Id. at 8 (citing PJM, Intra-PJM Tariffs, OATT, attach. M-3 (1.0.0)).

³⁴⁷⁵ WIRES Initial Comments at 9 (citing Charles River Associates, The Value of Local Transmission Planning 9, 13 (Dec. 2021), https://wiresgroup.com/wp-content/uploads/2021/12/Value-of-Local-Transmission-Planning-report-WIRES-CRA.pdf).

1622. Eversource states that, if the Commission decides to require a more prescriptive local transmission planning process, it should clarify that the process applies only to upgrades that are developed primarily to increase the capacity of the local transmission system, and not to upgrades that are incidental to state-jurisdictional distribution system planning or other unique local requirements.³⁴⁷⁶

³⁴⁷⁶ Eversource Initial Comments at 49.

1623. MISO defends the transparency of local transmission planning in MISO by stating that commenters who criticize existing local transmission planning processes “ignore the open, transparent process in effect, and fail to recognize the ongoing need for near-term planning.” ³⁴⁷⁷ MISO states that local and regional transmission planning are complementary and that “near-, mid- and long-term planning work in concert.” ³⁴⁷⁸ MISO contends that its existing process includes extensive stakeholder involvement that ensures that issues are identified and alternatives are considered.³⁴⁷⁹

³⁴⁷⁷ MISO Reply Comments at 27 (citing PIOs Initial Comments at 32).

³⁴⁷⁸ Id.

³⁴⁷⁹ Id.

1624. PG&E opposes comments in favor of removing the role of local transmission planning from local transmission owners, as well as requests to expand the NOPR proposal to apply to asset management projects. PG&E notes that California Commission has not provided any evidence that RTOs/ISOs are currently unable to adequately handle the regional and local transmission planning processes.³⁴⁸⁰

³⁴⁸⁰ PG&E Reply Comments at 4-9 (citations omitted).

3. Commission Determination

1625. We adopt the NOPR proposal, with modification, to require transmission providers in each transmission planning region to revise the regional transmission planning process in their OATTs to enhance the transparency of: (1) the criteria, models, and assumptions that they use in their local transmission planning process; (2) the local transmission needs that they identify through the local transmission planning process; and (3) the potential local or regional transmission facilities that they will evaluate to address those local transmission needs. For each of these three categories of local transmission planning information, and as discussed further below, transmission providers must identify and publicly post the information identified below, then conduct publicly-noticed stakeholder meetings to provide an opportunity for comment on the information both before and after the stakeholder meetings, as part of the regional transmission planning process. In response to comments from PG&E,³⁴⁸¹ we clarify that this requirement applies only to local transmission planning that is within the scope of Order No. 890 and is therefore already subject to Order No. 890 transparency requirements. As such, this requirement does not apply to asset management projects.³⁴⁸² However, nothing in this final order prevents transmission providers from choosing to apply these requirements to asset management projects.

³⁴⁸¹ PG&E Initial Comments at 17 (citing Cal. Pub. Utils. Comm'n v. Pac. Gas & Elec., 164 FERC ¶ 61,161 at P 66).

³⁴⁸² See S. Cal. Edison Co., 164 FERC ¶ 61,160 at PP 30-40; Cal. Pub. Utils. Comm'n v. Pac. Gas. & Elec. Co., 164 FERC ¶ 61,161 at PP 65-74 (finding that Order No. 890's local transmission planning requirements do not apply to asset management projects that do not increase capacity or do so incidentally).

1626. In complying with this requirement, transmission providers must establish an iterative process that ensures that stakeholders have meaningful opportunities to participate in and provide feedback on local transmission planning throughout the regional transmission planning process. To provide the needed transparency and opportunities for stakeholder participation, we require that the regional transmission planning process include at least three publicly-noticed stakeholder meetings per regional transmission planning cycle concerning the local transmission planning process of each transmission provider that is a member of the transmission planning region before each transmission provider's local transmission plan can be incorporated into the transmission planning region's planning models.

1627. Specifically, we adopt the NOPR proposal to require that, prior to the submission of local transmission planning information to the transmission planning region for inclusion in the regional transmission planning process, transmission providers in each transmission planning region must convene, collectively, as part of the regional transmission planning process, a stakeholder meeting to review the criteria, assumptions, and models related to each transmission provider's local transmission planning (Assumptions Meeting). Next, no fewer than 25 calendar days after the Assumptions Meeting, transmission providers in each transmission planning region must convene, collectively, as part of the regional transmission planning process, a stakeholder meeting to review identified reliability criteria violations and other transmission needs that drive the need for local transmission facilities (Needs Meeting). Finally, no fewer than 25 calendar days after the Needs Meeting, transmission providers in each transmission planning region must convene, collectively, as part of the regional transmission planning process, a stakeholder meeting to review potential solutions to those reliability criteria violations and other transmission needs (Solutions Meeting). Additionally, we require that all materials for stakeholder review during these three meetings be publicly posted and that stakeholders have opportunities before and after each meeting to submit comments.

1628. In addition to these requirements, we modify the NOPR proposal to also require transmission providers to publicly post the meeting materials no fewer than five calendar days prior to each of the three publicly-noticed stakeholder meetings to allow time for stakeholders to review materials in advance of each meeting. Also, we require that transmission providers allow for a period of no fewer than 25 calendar days following the Solutions Meeting to review and consider stakeholder feedback on the local transmission solutions identified to meet the local transmission needs before the local transmission plan can be incorporated in the transmission planning region's planning models. Requiring this minimum 25 calendar day period is consistent with Order No. 1000, where the Commission stated that the Commission intends that the regional transmission planning processes provide for the timely and meaningful input and participation of stakeholders in the development of regional transmission plans.³⁴⁸³ Lastly, we require that transmission providers must respond to questions or comments from stakeholders such that it allows stakeholders to meaningfully participate in these three required stakeholder meetings.

³⁴⁸³ Order No. 1000, 136 FERC ¶ 61,051 at P 153 (citing Order No. 890, 118 FERC ¶ 61,119 at P 454).

1629. We find that establishing a standard baseline of transparency into transmission providers' local transmission planning processes will ensure that stakeholders have an opportunity to review and provide feedback on local transmission planning assumptions, needs, and solutions that are used as inputs to the regional transmission planning process. We expect that this additional transparency will help reduce the possibility that transmission providers will develop local transmission facilities without adequately considering whether there is a more efficient or cost-effective regional transmission solution that could address their local transmission needs. This additional transparency will enable transmission providers to satisfy their requirements for regional transmission planning under Order No. 1000.³⁴⁸⁴

³⁴⁸⁴ Id. PP 78-84.

1630. We believe that the local transmission planning information provided pursuant to the enhanced transparency requirements that we adopt in this final order will better facilitate the identification through the regional transmission planning process of regional transmission facilities that may be more efficient or cost-effective than proposed local transmission facilities.³⁴⁸⁵ Specifically, transmission providers' local transmission planning information will be subject to review and comment by stakeholders that may provide additional information or identify considerations that could inform the criteria, models, and assumptions used in local transmission planning, the identification of local transmission needs, and the identification of transmission facilities to address those local transmission needs. Because local transmission planning information serves as an input to the regional transmission planning process, these improvements will, in turn, facilitate the identification of more efficient or cost-effective transmission facilities in the regional transmission planning process, resulting in Commission-jurisdictional rates that are just and reasonable and not unduly discriminatory or preferential.

³⁴⁸⁵ NOPR, 179 FERC ¶ 61,028 at P 402.

1631. With respect to the comments from National and State Conservation Organizations and WE ACT ³⁴⁸⁶ that robust input from affected and overburdened communities in the local transmission planning process is important, we believe that the added transparency requirements that require transmission providers to identify and publicly post the information and then conduct stakeholder meetings as part of the regional transmission planning process, provides an opportunity for interested parties to engage and comment on the information.

³⁴⁸⁶ National and State Conservation Organizations Initial Comments at 2; WE ACT Initial Comments at 5-6.

1632. With regard to commenters that suggest that the additional transparency requirements proposed in the NOPR will not be effective because they do not go far enough in making changes to local transmission planning processes,³⁴⁸⁷ we find that the enhanced transparency requirements that we adopt in this final order are specifically designed to provide needed transparency to ensure that Commission-jurisdictional rates are just and reasonable and not unduly discriminatory or preferential. In addition, we find that other commenters' suggestions for changes to local transmission planning processes were not proposed in the NOPR and therefore are outside the scope of this proceeding. We conclude that the replacement rate set forth herein is just and reasonable and addresses the deficiencies identified herein.³⁴⁸⁸ We note that the Commission continues to examine a suite of related issues in its Transmission Planning and Cost Management proceeding.³⁴⁸⁹

³⁴⁸⁷ See American Municipal Power Initial Comments at 17-18; Ohio Commission Federal Advocate Initial Comments at 19-20.

³⁴⁸⁸ See New York v. FERC, 535 U.S.at 26-28 (upholding Commission's decision not to assert jurisdiction over bundled retail transmission).

³⁴⁸⁹ See Transmission Planning and Cost Management, Notice of Technical Conference, Docket No. AD22-8-000 (Apr. 21, 2022).

1633. In response to American Municipal Power's assertion that the PJM Attachment M-3 process has increased the problem of planning based on individual transmission owners' criteria and the balkanization of the transmission planning process,³⁴⁹⁰ we find that American Municipal Power has not persuasively explained why these concerns are the result of increasing the transparency of local transmission planning, rather than other factors associated with the PJM Attachment M-3 process. Based on the record before us, we do not expect that requiring enhanced transparency in local transmission planning, in the manner directed in this final order, will result in greater incentives for transmission providers to develop local transmission facilities in lieu of regional transmission facilities. Instead, we expect that additional opportunities for stakeholder review of and comment on local transmission planning inputs into the regional transmission planning process will help to facilitate the identification of regional transmission facilities that are more efficient or cost-effective compared to transmission facilities identified in the local transmission planning process.

³⁴⁹⁰ American Municipal Power Initial Comments at 17.

1634. We disagree with commenters that state that the NOPR proposal is not needed in their transmission planning region because their local transmission planning process is already sufficiently transparent.³⁴⁹¹ The reforms that we adopt here are necessary to ensure just and reasonable rates, as more fully explained above. Additionally, we believe that these reforms to enhance the transparency of local transmission planning inputs into the regional transmission planning process are necessary to ensure that interested stakeholders have an opportunity to meaningfully participate in the review of the local transmission planning assumptions, needs, and solutions before each transmission provider's local transmission plan can be incorporated into the transmission planning region's planning models.

³⁴⁹¹ APS Initial Comments at 12-13; Avangrid Initial Comments at 13-15; CAISO Initial Comments at 46-50; Dominion Initial Comments at 69-70; Eversource Initial Comments at 46-49; MISO Initial Comments at 84-86; MISO TOs Initial Comments at 29-31; National Grid Initial Comments at 39; New York TOs Initial Comments at 16; Pennsylvania Commission Initial Comments at 20; PG&E Initial Comments at 16-18.

1635. Similarly, we disagree with commenters that oppose the proposal because it may interfere with existing transmission planning processes.³⁴⁹² As we explain above, the enhanced transparency and opportunities for stakeholder participation are needed to ensure just and reasonable Commission-jurisdictional rates. Although we appreciate that there may be differences in how transmission providers currently conduct local transmission planning, we believe that the standard baseline of transparency established by the requirements adopted in this final order is needed to ensure that stakeholders have an opportunity to review and provide feedback on local transmission planning inputs that go into the regional transmission planning process and to ensure that the regional transmission planning process can identify regional transmission facilities that address transmission needs more efficiently or cost-effectively than local transmission facilities. The fact that transmission providers may need to adjust their existing processes to comply with these requirements is not a sufficient reason for the Commission to decline to adopt them.

³⁴⁹² Avangrid Initial Comments at 13; CAISO Initial Comments at 7, 47; Dominion Initial Comments at 70; Eversource Initial Comments at 47-48; MISO Initial Comments at 86; PG&E Initial Comments at 17-18; PPL Initial Comments at 36; Xcel Initial Comments at 16-17.

1636. We also disagree with commenters that argue that the proposal is too prescriptive.³⁴⁹³ We believe that these requirements strike a reasonable balance between the need for transparency of local transmission planning inputs that are used in regional transmission planning and providing transmission providers with flexibility in how they conduct their local transmission planning processes. In fact, experience with the PJM Attachment M-3 process, which includes similar requirements to those adopted in this final order, provides evidence that it is possible to satisfy these requirements with a process that allows transmission providers to produce their local transmission plans on a timely basis.³⁴⁹⁴ In response to National Grid's concern that the NOPR proposal would impose a new requirement to integrate their local transmission planning with regional transmission planning,³⁴⁹⁵ the final order imposes no new requirements beyond the three meetings and associated opportunities for comment described above. We believe that these requirements add only a small but manageable burden for transmission providers, which is outweighed by the transparency benefits that would accrue to stakeholders participating in the local and regional transmission planning processes.

³⁴⁹³ See Avangrid Initial Comments at 13-15; EEI Initial Comments at 40; Eversource Initial Comments at 47-48; Kansas Commission Initial Comments at 17; MISO Initial Comments at 84-86; MISO TOs Initial Comments at 29-31; National Grid Initial Comments at 39-41; New York TOs Initial Comments at 7, 16-17; Xcel Initial Comments at 17.

³⁴⁹⁴ See Indicated PJM TOs Initial Comments at 42-43 (citations omitted).

³⁴⁹⁵ National Grid Initial Comments at 39-40.

1637. With respect to the comments of APS and National Grid that local transmission planning cycles might be delayed by the new transparency requirements,³⁴⁹⁶ we reiterate that the final order strikes a reasonable balance between the need for transparency of local transmission planning inputs that are used in regional transmission planning and providing transmission providers with flexibility in how they conduct their local transmission planning processes. We believe that, even with the additional requirements that we establish here, it is possible for transmission providers to produce local transmission plans within a 12-month period, especially given that when scheduling the three required meetings, transmission providers need not leave more than 25 calendar days between each meeting. The experience of PJM TOs, whose local transmission planning processes are subject to similar requirements, demonstrates that it is possible to satisfy these requirements in a timely manner.³⁴⁹⁷

³⁴⁹⁶ APS Initial Comments at 13; National Grid Initial Comments at 39-40.

³⁴⁹⁷ Exelon Initial Comments at 3-4, 51-52 (citing PJM, Intra-PJM Tariffs, OATT, attach. M-3 (1.0.0)); Indicated PJM TOs Initial Comments at 42-43.

a. Specific Stakeholder Meeting Requirements

1638. We address in this section the requirements specific to the implementation details associated with the three publicly-noticed stakeholder meetings that transmission providers are required to conduct: the Assumptions Meeting, the Needs Meeting, and the Solutions Meeting, that were discussed above. We believe that these requirements strike a reasonable balance between providing adequate time to allow interested stakeholders to review and comment on local transmission planning inputs that are used in regional transmission planning and allowing the efficient and timely execution of the local transmission planning process. In our view, allowing transmission providers to limit the length of time between the three required meetings accomplishes this balance.

1639. With respect to commenters who argue that a minimum of 25 calendar days between publicly-noticed stakeholder meetings is too short,³⁴⁹⁸ we disagree. The minimum period between stakeholder meetings is just that, a minimum, and we expect that transmission providers and their stakeholders will, in practice, implement a schedule for the required stakeholder meetings that best meets the needs of their transmission planning region. However, we find that a minimum of less than 25 calendar days between stakeholder meetings would not allow stakeholders to participate in a meaningful way, and we therefore adopt this minimum period as an appropriate baseline for providing stakeholders with a meaningful opportunity to review and comment on local transmission planning inputs that are used in regional transmission planning. And, in fact, at least some transmission providers have adopted this minimum duration between stakeholder meetings.³⁴⁹⁹

³⁴⁹⁸ American Municipal Power Initial Comments at 24; Northwest and Intermountain Initial Comments at 21; TAPS Initial Comments at 6, 62.

³⁴⁹⁹ See PJM, Intra-PJM Tariffs, OATT, attach. M-3 (1.0.0.), which, briefly, refers to the additional transparency and stakeholder input rules around transmission facilities that are not eligible for selection, but, though classified as local transmission facilities, nonetheless impact the identification and selection of regional transmission facilities. See also Duke Energy Carolinas, LLC, 186 FERC ¶ 61,178, at PP 13, 27 (2024) (accepting Duke's OATT revisions to adopt a stakeholder meeting process that includes an Assumptions Meeting, Needs Meeting, and Solutions Meeting, each no fewer than 25 calendar days apart).

1640. We clarify that transmission providers are required to provide information at least five calendar days prior to each of the three publicly-noticed stakeholder meetings. As stated above, transmission providers must publicly notice each meeting and publicly post all materials for stakeholder review during the three meetings and provide opportunities for stakeholders to submit comments before and after each meeting. We believe that providing this information at least five calendar days prior to each of the three stakeholder meetings strikes a balance between giving stakeholders meaningful opportunity to review the meeting materials ahead of each meeting and limiting the burden to transmission providers in posting the materials ahead of time. Furthermore, the information that we require transmission providers to share is information that they use in their local transmission planning processes and, thus, is information that they generally already possess.

1641. We disagree with commenters that argue that three separate publicly-noticed stakeholder meetings are unnecessary and will increase workload without any benefit, or that a single meeting would address the Commission's transparency concerns more efficiently, or request that the Commission not dictate the number of stakeholder meetings.³⁵⁰⁰ We note that Indicated PJM TOs state that the PJM Attachment M-3 process has the benefit of avoiding duplication of projects between local and regional transmission planning processes.³⁵⁰¹ We also disagree with MISO's argument that we should allow each transmission planning region to have complete discretion over the timing of the meetings, as well as the specific information to be covered at the meetings.³⁵⁰² While we allow flexibility in certain aspects of the transmission planning processes, we find that the requirement to hold three separate stakeholder meetings a minimum of 25 calendar days apart and prescribing the type of information that transmission providers must share at each meeting is necessary to ensure that Commission-jurisdictional rates remain just and reasonable and not unduly discriminatory or preferential. We balance the increased burden imposed on transmission providers with the benefits associated with providing increased information and opportunities for stakeholder review of and comment on the local transmission planning inputs that are used in the regional transmission planning process. In addition, as discussed above, we believe that these reforms will reduce after-the-fact disputes and will help facilitate the identification of regional transmission facilities that may be more efficient or cost-effective than proposed local transmission facilities. As a result, the incremental burden of having to hold three stakeholder meetings to share this information and to consider input from stakeholders in response to this information is outweighed by the benefits that the increased transparency will provide.

³⁵⁰⁰ Dominion Initial Comments at 68; Eversource Initial Comments at 47-48; NESCOE Initial Comments at 78; Xcel Initial Comments at 17.

³⁵⁰¹ Indicated PJM TOs Initial Comments at 42.

³⁵⁰² MISO Initial Comments at 84.

1642. We also find unconvincing Eversource's assertion that the reforms will not work where there is not a precisely defined regional transmission planning cycle, such as is the case in ISO-NE.³⁵⁰³ The requirement to hold three publicly-noticed stakeholder meetings is triggered by the submission of local transmission planning information to the transmission planning region for inclusion in the regional transmission planning process and is not tied to a particular transmission planning cycle. Nevertheless, we recognize that these reforms may require transmission providers to propose adjustments to their existing processes. But as explained above, we believe that the need for transparency and stakeholder involvement requires these changes to ensure that Commission-jurisdictional rates are just and reasonable and not unduly discriminatory or preferential.

³⁵⁰³ Eversource Initial Comments at 47.

1643. In response to TAPS' request that transmission providers be required to post their transmission planning criteria, models, and assumptions,³⁵⁰⁴ we reiterate that transmission providers must provide this information as part of the Assumptions Meeting. We further note that the requirement for transmission providers to disclose to all customers and other stakeholders the basic criteria, assumptions, and data that underlie their transmission systems is an existing requirement of Order No. 890. This information must enable customers, other stakeholders, or an independent third party to replicate the results of planning studies and thereby reduce the incidence of after-the-fact disputes regarding whether planning has been conducted in an unduly discriminatory fashion.³⁵⁰⁵ The Commission recognized in Order No. 890 that safeguards must be put in place to ensure that confidentiality and CEII concerns are adequately addressed in transmission planning activities and, therefore, requires that transmission providers have mechanisms in place in their OATTs to manage confidentiality and CEII concerns, such as confidentiality agreements and password-protected access to information.³⁵⁰⁶ However, we reiterate that information must be disclosed, under applicable confidentiality provisions, if the information is needed to participate in the transmission planning process and to replicate transmission planning studies, which necessarily includes access to the models that underlie transmission planning processes.

³⁵⁰⁴ TAPS Initial Comments at 61.

³⁵⁰⁵ Order No. 890, 118 FERC ¶ 61,119 at P 471.

³⁵⁰⁶ Id. P 460.

1644. We decline to require, as requested by American Municipal Power and TAPS, that transmission providers hold two Solutions Meetings.³⁵⁰⁷ While a transmission provider may determine that additional stakeholder meetings are appropriate or necessary, we only require transmission providers to conduct the three publicly-noticed stakeholder meetings discussed above. However, there is nothing in this final order that prohibits transmission providers from holding additional meetings, beyond those required here. We find NRG's request that the Commission require the local transmission planning process include an estimated rate impact for each year if the local transmission plan were to be executed to be beyond the scope of the proposal, although transmission providers may choose to provide this information outside of the context of this order.

³⁵⁰⁷ American Municipal Power Initial Comments at 24-25; TAPS Initial Comments at 62 (citing NOPR, 179 FERC ¶ 61,028 at P 402).

1645. In response to commenters that request that the Commission require transmission providers to respond to all comments and questions submitted by stakeholders in the local transmission planning process,³⁵⁰⁸ we clarify that such a requirement could be too prescriptive in certain circumstances and thus we decline to set a bright-line rule that transmission providers must respond to each and every question or comment received through the stakeholder process. Nevertheless, we require transmission providers to respond to questions or comments in a manner that allows stakeholders to meaningfully participate in these stakeholder meetings. For example, in the context of live discussions in any of the three required publicly-noticed stakeholder meetings, we expect transmission providers to offer stakeholders an opportunity to speak, engage, and ask questions, as well as receive reasonable responses at the meeting consistent with meaningful participation. Overall, we encourage transmission providers to be as responsive as possible to stakeholder comments and questions. However, we recognize that not all comments or questions require an answer or a response, or that some responses may be unduly burdensome to the transmission provider. To the extent that there are disagreements, we note that stakeholders have dispute resolution procedures available, as required under Order No. 890.³⁵⁰⁹ Some commenters have asked the Commission to require transmission providers to provide “additional clarity” regarding how alternatives were developed and why they were not selected during the Solutions Meeting, as requested by American Municipal Power.³⁵¹⁰ In balancing the need for transparency and the burden for transmission providers, we find that a meaningful participation standard regarding sharing of local transmission planning inputs that are used in the regional transmission planning process that are established by the Commission is reasonable.

³⁵⁰⁸ See American Municipal Power Initial Comments at 18-19; California Commission Initial Comments at 112-113; DC and MD Offices of People's Counsel Initial Comments at 6; Kentucky Commission Chair Chandler Initial Comments at 21-22; Northwest and Intermountain Initial Comments at 20-21; TAPS Initial Comments at 62.

³⁵⁰⁹ Order No. 890, 118 FERC ¶ 61,119 at PP 501-503.

³⁵¹⁰ American Municipal Power Initial Comments at 24-25.

1646. In addition, in response to TAPS' request regarding disputes over local transmission planning inputs,³⁵¹¹ we clarify that where disputes arise regarding transparency into the local transmission planning inputs, the transmission provider's existing dispute resolution process, as established in Order No. 890, governing the transmission planning process should be used.³⁵¹² Further, affected entities retain any rights that they may have under FPA section 206 to file complaints with the Commission.

³⁵¹¹ TAPS Initial Comments at 62 (citing Order No. 890, 118 FERC ¶ 61,119 at PP 501-503).

³⁵¹² Order No. 890, 118 FERC ¶ 61,119 at P 501.

b. Additional Issues

1647. As it pertains to PPL's request that the Commission clarify that confidential or sensitive information will be protected,³⁵¹³ we clarify that transmission providers must continue to apply the same safeguards to protect sensitive or critical information, such as confidentiality agreements and password protected access to information, as the Commission required in Order No. 890 and that transmission providers currently apply to the sharing of transmission planning information to protect against inappropriate disclosure of confidential information.³⁵¹⁴

³⁵¹³ PPL Initial Comments at 36.

³⁵¹⁴ Order No. 890, 118 FERC ¶ 61,119 at PP 460, 471.

1648. Many commenters suggest additional reforms because these commenters find the NOPR proposal insufficient. These suggested reforms include additional measures to protect customers' interests and additional process, more oversight, more monitoring (including establishing an independent transmission monitor), or prudence reviews;³⁵¹⁵ requiring RTOs/ISOs to assume a larger role in reviewing or approving identified local transmission projects;³⁵¹⁶ requiring a performance-based method of enhancing transparency in local transmission planning processes;³⁵¹⁷ and requiring transmission providers to make available additional transmission planning data,³⁵¹⁸ improve formatting of transmission planning inputs,³⁵¹⁹ or otherwise coordinate with load-serving entities to transfer data and information.³⁵²⁰ The Commission did not make such proposals in the NOPR and, as a result, we find these requests to be beyond the scope of this proceeding and decline to adopt them. We note, however, that several of these issues may be examined in the Commission's ongoing Transmission Planning and Cost Management proceeding.³⁵²¹

³⁵¹⁵ California Commission Initial Comments at 111-112 &n.401; Colorado Consumer Advocates Initial Comments at 31; Joint Consumer Advocates Initial Comments at 25-29; NRG Initial Comments at 7, 36; Ohio Consumers Initial Comments at 23-24; OMS Initial Comments at 16-17; Pattern Energy Initial Comments at 31-34; Pine Gate Initial Comments at 49-50; PIOs Initial Comments at 51-52; PJM States Initial Comments at 4-6; TAPS Initial Comments at 61-62; US DOJ and FTC Initial Comments at 20-21.

³⁵¹⁶ See American Municipal Power Reply Comments at 3-7; California Commission Initial Comments at 108-110; DC and MD Offices of People's Counsel Initial Comments at 7; NARUC Initial Comments at 60-61; Ohio Consumers Reply Comments at 17-18; PJM States Initial Comments at 6-7.

³⁵¹⁷ Vermont Electric and Vermont Transco Initial Comments at 5.

³⁵¹⁸ American Municipal Power Initial Comments at 21-24 (citations omitted); Pattern Energy Initial Comments at 30-34.

³⁵¹⁹ Joint Consumer Advocates Initial Comments at 21-22.

³⁵²⁰ Certain TDUs Initial Comments at 18.

³⁵²¹ Transmission Planning and Cost Management, Notice of Technical Conference, Docket No. AD22-8-000 (Apr. 21, 2022).

C. Identifying Potential Opportunities to Right-Size Replacement Transmission Facilities

1. Eligibility

a. NOPR Proposal

1649. The Commission proposed to require, as part of each Long-Term Regional Transmission Planning cycle, transmission providers in each transmission planning region to evaluate whether transmission facilities operating at or above 230 kV that an individual transmission provider that owns the transmission facility anticipates replacing in-kind with a new transmission facility during the next 10 years can be “right-sized” to more efficiently or cost-effectively address regional transmission needs identified in Long-Term Regional Transmission Planning. The Commission proposed to define “right-sizing” as the process of modifying a transmission provider's in-kind replacement of an existing transmission facility to increase that facility's transfer capability.³⁵²²

³⁵²² NOPR, 179 FERC ¶ 61,028 at P 403.

1650. The Commission described the process under this proposed reform as entailing the following steps. First, sufficiently early in each Long-Term Regional Transmission Planning cycle, each transmission provider would submit its in-kind replacement estimates for use in Long-Term Regional Transmission Planning. Then, if a right-sized replacement transmission facility is identified as a potential solution to a Long-Term Regional Transmission Planning need, that right-sized replacement transmission facility would be evaluated in the same manner as any other proposed transmission facility to determine whether it is the more efficient or cost-effective transmission facility to address the transmission need. If a right-sized replacement transmission facility addresses the transmission provider's need to replace an existing transmission facility, meets all of the applicable selection criteria included in Long-Term Regional Transmission Planning, and is found to be the more efficient or cost-effective solution to a transmission need identified through Long-Term Regional Transmission Planning, then the right-sized replacement transmission facility may be selected in the regional transmission plan for purposes of cost allocation.³⁵²³

³⁵²³ Id. P 407.

1651. The Commission explained that nothing in the reforms proposed in the NOPR would alter a transmission provider's existing rights and responsibilities under existing laws with respect to maintaining, and when necessary, replacing, existing transmission facilities. Further, as the Commission explained, it may be possible for an in-kind replacement transmission facility to be included in the regional transmission plan for informational purposes, but not be selected.³⁵²⁴

³⁵²⁴ Id. PP 412-413.

b. Comments

1652. Several commenters support the NOPR's proposals related to right-sizing.³⁵²⁵ ITC states that the NOPR proposal will result in better use of existing facilities and rights-of-way to quickly deliver additional transmission capacity. ITC maintains that increasing the transfer capability of existing transmission facilities lessens the impacts on communities and other land users, in addition to raising fewer environmental considerations.³⁵²⁶ ITC adds that right-sizing will form a critical input to transmission planning and state siting processes by encouraging designs that meet future needs.³⁵²⁷

³⁵²⁵ ACORE Initial Comments at 19; Ameren Initial Comments at 46-47; APPA Initial Comments at 48; California Energy Commission Initial Comments at 3; CTC Global Initial Comments at 18; ELCON Initial Comments at 27; Evergreen Action Initial Comments at 4; ITC Initial Comments at 45; ITC Reply Comments at 29; New York Commission and NYSERDA Initial Comments at 15; Northwest and Intermountain Initial Comments at 21; OMS Initial Comments at 17; PJM Initial Comments at 9, 121-122; SEIA Initial Comments at 26; U.S. Chamber of Commerce Initial Comments at 11; Vermont Electric and Vermont Transco Initial Comments at 5.

³⁵²⁶ ITC Initial Comments at 45.

³⁵²⁷ ITC Reply Comments at 29.

1653. OMS also supports the Commission's proposed realignment of incentives to ensure that transmission providers are not incentivized through right-sizing to rebuild and replace facilities before considering other opportunities, instead providing a level playing field to consider other solutions.³⁵²⁸ PJM states that right-sizing allows transmission owners to meet their reliability obligations while transmission providers have the opportunity to find more efficient solutions to regional transmission needs and avoid duplicative transmission development.³⁵²⁹

³⁵²⁸ OMS Initial Comments at 17.

³⁵²⁹ PJM Initial Comments at 121-122 (citing NOPR, 179 FERC ¶ 61,028 at PP 406, 408).

1654. AEP supports applying the right-sizing evaluation to transmission facilities operating at or above 230 kV because replacement transmission facilities that will operate at or above 230 kV are most susceptible to modification to meet long-term regional transmission needs.³⁵³⁰ PG&E also supports the proposed voltage threshold, claiming that the inclusion of lower voltage transmission projects would substantially expand the number of projects that would need to be evaluated for right-sizing while offering little benefit. Specifically, PG&E contends that lower voltage transmission projects are typically needed for specific, local purposes and thus do not need to be right-sized, and that a requirement that they be evaluated for right-sizing would burden the RTO/ISO process.³⁵³¹

³⁵³⁰ AEP Initial Comments at 44-45 (citing NOPR, 179 FERC ¶ 61,028 at P 406).

³⁵³¹ PG&E Reply Comments at 14-15.

1655. APPA supports the NOPR proposal's use of a 10-year timeframe for the right-sizing reform.³⁵³² AEP also supports a 10-year horizon for identifying in-kind replacements, so long as the list of transmission facilities is non-binding and may be modified as transmission projects mature or expected facility lives can be extended through other means.³⁵³³

³⁵³² APPA Initial Comments at 48 (citing NOPR, 179 FERC ¶ 61,028 at P 403).

³⁵³³ AEP Initial Comments at 44-45.

1656. CAISO requests that the Commission clarify that the NOPR does not preclude it from continuing to consider modifications to in-kind replacements for transmission facilities below 230 kV in its annual transmission planning process.³⁵³⁴

³⁵³⁴ CAISO Initial Comments at 50.

1657. Several commenters support the NOPR's right-sizing proposal but with certain conditions.³⁵³⁵ Further, some commenters argue that if the Commission adopts the NOPR proposal, the Commission must ensure that the proposal does not disrupt or impair existing local transmission planning processes.³⁵³⁶ For example, AEP asserts that the Commission must ensure that the NOPR proposal does not undermine the local transmission planning process or transmission owners' rights to build transmission projects that address local needs.³⁵³⁷ Mississippi Commission asserts that, if the NOPR proposal is adopted, the ultimate decision as to which local transmission project is constructed must rest with the states that have transmission siting authority and the incumbent transmission owners.³⁵³⁸ PJM States ask for clarification on how the NOPR proposal will interact with existing processes, noting that in PJM, any need that appears both on a five-year end-of-life needs list and in PJM's regional transmission plan is eligible for competition (as compared to the NOPR proposal, under which transmission projects to address 10-year-out needs would not be eligible for competition).³⁵³⁹

³⁵³⁵ ACEG Initial Comments at 8-9, 56-58; AEP Initial Comments at 43-44; Avangrid Initial Comments at 15-16; Breakthrough Energy Initial Comments at 3, 19; California Commission Initial Comments at 113-118; California Water Initial Comments at 8-9; Clean Energy Associations Initial Comments at 36-37; EEI Initial Comments at 41; Eversource Initial Comments at 52; Exelon Initial Comments at 3, 51; ISO-NE Initial Comments at 39; MISO Initial Comments at 87; NARUC Initial Comments at 58-59, 63-64; NESCOE Initial Comments at 21-22, 78-79; NESCOE Reply Comments at 6-8; NESCOE Supplemental Comments at 7-9; NextEra Initial Comments at 66-67; NRECA Initial Comments at 67; NYISO Initial Comments at 58-60; PG&E Initial Comments at 12-14; Pine Gate Initial Comments at 46-50; PIOs Initial Comments at 57-58; State Agencies Initial Comments at 20-22; TAPS Initial Comments at 6-7, 64; VEIR Initial Comments at 6; Vermont State Entities Initial Comments at 11-13; WIRES Initial Comments at 10.

³⁵³⁶ See AEP Initial Comments at 43-44; CAISO Initial Comments at 50; Mississippi Commission Initial Comments at 30-31; Mississippi Commission Reply Comments at 9-10; PJM States Initial Comments at 8; WIRES Initial Comments at 10.

³⁵³⁷ AEP Initial Comments at 43-44.

³⁵³⁸ Mississippi Commission Initial Comments at 30-31.

³⁵³⁹ PJM States Initial Comments at 8 (citing PJM, Intra-PJM Tariffs, OATT, attach. M-3 (1.0.0), section (d)1.iii).

1658. NESCOE states that ISO-NE lacks the clear standards required to support right-sizing, citing an Eversource transmission project that improved grid reliability but was ineligible for regional cost allocation because it did not meet the standards to qualify as a right-sized project.³⁵⁴⁰ NESCOE argues that more transparency into the right-sizing processes is necessary to ensure that the results are disciplined, cost-conscious investments.³⁵⁴¹

³⁵⁴⁰ NESCOE Reply Comments at 6-8.

³⁵⁴¹ NESCO Supplemental Comments at 9.

1659. Several commenters oppose the NOPR's right-sizing proposal.³⁵⁴² Competition Coalition asserts that the NOPR proposal would result in over-building the transmission system now for speculative future transmission needs, leaving customers with the bill for any stranded costs.³⁵⁴³ Louisiana Commission claims that the NOPR right-sizing proposal should not be adopted because it will intrude on its retail authority.³⁵⁴⁴

³⁵⁴² Anbaric Initial Comments at 7; Competition Coalition Initial Comments at 62-63; DC and MD Offices of People's Counsel Initial Comments at 47-48; Idaho Power Initial Comments at 13; Kentucky Commission Chair Chandler Initial Comments at 16-19; Louisiana Commission Initial Comments at 39; LS Power Initial Comments at 135-136, 138, 141-142, 145-146; Massachusetts Attorney General Initial Comments at 51-52; Ohio Consumers Initial Comments at 23; Resale Iowa Initial Comments at 8-9.

³⁵⁴³ Competition Coalition Initial Comments at 62-63.

³⁵⁴⁴ Louisiana Commission Initial Comments at 39.

1660. Other commenters argue that the proposed 230 kV threshold is inappropriate.³⁵⁴⁵ For example, Avangrid contends that it is overly prescriptive and does not reflect regional conditions, needs, and stakeholder interests.³⁵⁴⁶ Avangrid states that, in ISO-NE, a 230 kV threshold would result in in-kind replacement of lower voltage transmission facilities rather than right-sizing facilities to most efficiently meet transmission needs identified through Long-Term Regional Transmission Planning.

³⁵⁴⁵ Avangrid Initial Comments at 15-16; California Commission Initial Comments at 117-118; Kentucky Commission Chair Chandler Initial Comments at 18-19; New York TOs Initial Comments at 17-18; NYISO Initial Comments at 59; Ohio Consumers Initial Comments at 23; PJM Initial Comments at 9, 121-122; State Agencies Initial Comments at 20-21; TAPS Initial Comments at 6, 66.

³⁵⁴⁶ Avangrid Initial Comments at 15-16.

1661. Kentucky Commission Chair Chandler argues that 200 kV or 230 kV are no longer adequate rules of thumb to delineate local versus regional transmission facilities, as transmission facilities that may have been formerly classified as local are likely to be regional in the future. Rather, Kentucky Commission Chair Chandler states that transmission facilities rated between 100 kV and 200 kV will play a greater role in the regional delivery of energy.³⁵⁴⁷ Ohio Consumers argue that the Commission should lower the threshold to 69 kV because many end-of-life transmission facilities in the PJM transmission planning process are expensive rebuilds of transmission facilities that are rated below 230 kV.³⁵⁴⁸ TAPS argues that excluding lower voltage facilities prevents transmission planning regions from being able to consider more efficient and cost-effective alternatives.³⁵⁴⁹

³⁵⁴⁷ Kentucky Commission Chair Chandler Initial Comments at 18-19.

³⁵⁴⁸ Ohio Consumers Initial Comments at 23.

³⁵⁴⁹ TAPS Initial Comments at 6, 66.

1662. LS Power asserts that the Commission should not limit its right-sizing proposal to facilities above 230 kV and that such reforms should apply to lower voltage transmission facilities as well.³⁵⁵⁰ Specifically, LS Power argues that transmission facilities that operate at or above 100 kV (and sometimes facilities operating at a lower voltage) are regional in nature and should be subject to exclusively regional transmission planning.³⁵⁵¹

³⁵⁵⁰ See LS Power Partial Reply Comments at 61-64 (citing California Commission Initial Comments at 117; Eversource Initial Comments at 38; ISO-NE Initial Comments at 39; Kentucky Commission Chair Chandler Initial Comments at 19; LS Power Initial Comments at 142; NARUC Initial Comments at 64; Ohio Consumers Initial Comments at 23; State Agencies Initial Comments at 21).

³⁵⁵¹ Id. at 64.

1663. Shell states that the Commission should consider lowering the proposed voltage threshold to 115 kV, but notes that doing so may include lower voltage facilities that predominantly serve sub-transmission, wholesale distribution, or retail distribution purposes and have only local benefits.³⁵⁵² To ensure that the costs of sub-transmission, wholesale distribution, or retail distribution facilities are not rolled into transmission rates, Shell argues that the Commission should reexamine its standards for rolling the costs of transmission facilities into rates, its application of the Seven Factor test for functionalizing facilities as distribution or transmission, and its Mansfield integration analysis.³⁵⁵³ Western Utilities contend that the Commission should not adopt Shell's proposal to lower the right-sizing threshold to 115 kV because whether or not a facility is a transmission facility is a fact-specific question.³⁵⁵⁴

³⁵⁵² Shell Reply Comments at 10 (citing Shell Initial Comments at 34).

³⁵⁵³ Shell Initial Comments at 34-36; Shell Reply Comments at 10-11 (citing Commonwealth Edison Co., 167 FERC ¶ 61,173, at P 12 n.23 (2019); Buckeye Power, Inc. v. Am. Transmission Sys. Inc., Opinion No. 533, 148 FERC ¶ 61,174, at PP 12, 41, 69 (2014), order on reh'g, 151 FERC ¶ 61,091 (2015); Mansfield Mun. Elec. Dep't v. New England Power Co., Opinion No. 454, 97 FERC ¶ 61,134 (2001), order on reh'g, Opinion No. 454-A, 98 FERC ¶ 61,115 (2002)).

³⁵⁵⁴ See Western Utilities Reply Comments at 2 (citing Shell Initial Comments at 34-35).

1664. Pine Gate recommends against the Commission adopting the bright-line voltage threshold specified in the NOPR, but urges the Commission require each transmission provider to: (1) list and evaluate existing transmission facilities operating at or above 230 kV that it owns and estimates may need to be replaced with a new in-kind transmission facility over the next 10 years; and (2) establish criteria by which it will identify lower-voltage facilities that could potentially be right-sized through Long-Term Regional Transmission Planning.³⁵⁵⁵ Relatedly, WIRES states that the Commission should either: (1) clarify that transmission providers would not be prohibited from considering right-sizing transmission facilities at a lower voltage threshold if existing transmission planning processes already do so; or (2) provide flexibility for transmission planning regions to justify the use of a different voltage threshold.³⁵⁵⁶

³⁵⁵⁵ Pine Gate Initial Comments at 48.

³⁵⁵⁶ WIRES Initial Comments at 10.

1665. Some commenters oppose the NOPR proposal's use of a 10-year timeframe for the right-sizing reform.³⁵⁵⁷ Exelon states that the Commission's proposed requirement to have a 10-year time horizon for identifying a list of potential end-of-useful life needs is infeasible and inconsistent with utility practices. Specifically, Exelon states that it does not develop a concrete plan for transmission projects to meet end-of-useful life needs five years in advance—let alone 10 years—but instead maintains a “dynamic list” of older assets, the condition of which is evaluated on a rolling basis, based on numerous factors such as equipment inspection and testing, maintenance history, historical performance, obsolescence, operational experience, asset criticality, equipment failure data, and age.³⁵⁵⁸

³⁵⁵⁷ Eversource Initial Comments at 53; Exelon Initial Comments at 54-55; Indicated PJM TOs Initial Comments at 46-47; Kentucky Commission Chair Chandler Initial Comments at 17-18; SERTP Sponsors Initial Comments at 38-39.

³⁵⁵⁸ Exelon Initial Comments at 54-55 (Exelon Utilities Asset Management Guidelines and Practices 3 (Nov. 18, 2020), https://pjm.com/-/media/committees-groups/committees/srrtep-ma/2020/20201216/20201216-exelon-final-end-eol-guidelines.ashx).

1666. Some commenters argue that the NOPR proposal is not applicable to their transmission planning regions or that their existing processes are sufficient.³⁵⁵⁹ For example, CAISO explains that it plans all upgrades and expansions of transmission facilities under its operational control, which include transmission facilities at all voltage levels and at all locations on the system. Further, CAISO states that, if an asset management, maintenance, or in-kind replacement project can be expanded or modified to address a CAISO-identified transmission need in a local area (or system wide), CAISO can order such expansion or modification in its regional transmission planning process.³⁵⁶⁰

³⁵⁵⁹ CAISO Initial Comments at 47-48; Dominion Initial Comments at 69-70, 72; Duke Initial Comments at 46; MISO Initial Comments at 87-88; MISO Reply Comments at 28; New York TOs Initial Comments at 17; SERTP Sponsors Initial Comments at 38-39; SPP Initial Comments at 34-35.

³⁵⁶⁰ CAISO Initial Comments at 47-48 (citing CAISO ANOPR Initial Comments at 73; Cal. Pub. Utils. Comm'n v. Pac. Gas and Elec. Co., 164 FERC ¶ 61,161 at PP 35-37, 69).

1667. MISO asserts that right-sizing is fundamental to transmission planning and should always be considered as part of Good Utility Practice, but that right-sizing decisions are best made on a case-by-case basis, as there are both quantitative and qualitative considerations that must be taken into account.³⁵⁶¹ MISO contends that its existing local transmission planning achieves the Commission's objectives, as the MISO process provides for right-sizing where MISO selects the most robust solution. Accordingly, MISO states that, for its footprint, no changes are needed.³⁵⁶²

³⁵⁶¹ MISO Initial Comments at 87.

³⁵⁶² MISO Reply Comments at 28 (citing OMS Initial Comments at 15-17).

1668. SERTP Sponsors argue that replacement decisions for particular equipment may be triggered more by the conditions of a particular facility than its age. SERTP Sponsors argue that a process like right-sizing already occurs in SERTP's regional transmission planning, which requires that the SERTP Sponsors affirmatively look to determine if there are regional transmission alternatives that would be more efficient or cost-effective than the transmission solutions otherwise included in SERTP's regional transmission plan, including projects to replace aging infrastructure.³⁵⁶³

³⁵⁶³ SERTP Sponsors Initial Comments at 38-39 (citations omitted).

1669. Several commenters argue that the Commission should adopt alternative or additional requirements that apply when transmission providers evaluate transmission facilities for right-sizing.³⁵⁶⁴ For example, Ameren requests that the Commission require transmission providers to consider the following additional criteria when determining whether a transmission facility is eligible for right-sizing: (1) whether a transmission line is in the top 10 limiting elements on an import or transfer study; (2) whether a line has shown up as a real-time binding constraint in the last two years; or (3) whether a line shows up as a binding constraint in future security constrained economic dispatch simulations.³⁵⁶⁵ California Energy Commission argues that the Commission should develop a definition of “right-sizing,” possibly tied to a specified planning reserve margin as well as an expected level of demand growth.³⁵⁶⁶ Furthermore, ACEG and PG&E both request that the Commission consider the use of existing transmission facility rights-of-way as an eligibility threshold for potentially right-sized replacement transmission facilities.³⁵⁶⁷

³⁵⁶⁴ ACEG Initial Comments at 58; Ameren Initial Comments at 46-47; American Municipal Power Initial Comments at 27; Breakthrough Energy Initial Comments at 18-19; California Energy Commission Initial Comments at 3; Competition Coalition Initial Comments at 68; CTC Global Initial Comments at 18; Eversource Initial Comments at 53; Exelon Initial Comments at 56-58; Grid United Initial Comments at 3-4; Pennsylvania Commission Initial Comments at 21; PG&E Initial Comments at 13-14; Pine Gate Initial Comments at 48; PIOs Initial Comments at 57-58; PJM Initial Comments at 9, 121-122; PPL Initial Comments at 36-37; Shell Initial Comments at 34.

³⁵⁶⁵ Ameren Initial Comments at 46-47.

³⁵⁶⁶ California Energy Commission Initial Comments at 3.

³⁵⁶⁷ ACEG Initial Comments at 57-58; PG&E Initial Comments at 13.

1670. Eversource asserts that it would be more efficient to evaluate potential right-sizing: (1) through a review of the transmission facilities that could be upgraded to address identified long-term transmission needs, including an evaluation of whether an in-kind replacement is likely to occur during the planning horizon; or (2) through transmission owner identification of right-sizing options that align with needs identified in the longer-term study as they perform their normal asset condition projects.³⁵⁶⁸

³⁵⁶⁸ Eversource Initial Comments at 53.

1671. Entergy asserts that the Commission should clarify that storm-hardening transmission projects are not subject to a right-sizing requirement because it would add complications and delays to the right-sizing process.³⁵⁶⁹ Pennsylvania Commission argues that a transmission facility should not be right-sized if its total cost exceeds the total cost of the local transmission project and a competitively procured transmission project to address the regional need.³⁵⁷⁰

³⁵⁶⁹ Entergy Initial Comments at 38.

³⁵⁷⁰ Pennsylvania Commission Initial Comments at 21.

1672. Some commenters call for the Commission to expand the right-sizing reform to other categories of transmission facilities.³⁵⁷¹ Eversource argues that the Commission should encourage transmission providers to incorporate right-sizing considerations into other transmission planning processes, such as the reliability planning process, as appropriate.³⁵⁷² Similarly, ACORE and American Municipal Power request that the Commission clarify that right-sizing also applies in any short-term transmission planning for reliability and economic transmission projects.³⁵⁷³ Grid United states that the Commission should require Long-Term Regional Transmission Planning to assess and allow for up-sizing transmission projects, such as building a single circuit transmission line that is double-circuit ready.³⁵⁷⁴

³⁵⁷¹ American Municipal Power Initial Comments at 27; Avangrid Initial Comments at 16; Clean Energy Associations Initial Comments at 26-27, 37; Eversource Initial Comments at 54; MISO Initial Comments at 88; NYISO Initial Comments at 59-60; PIOs Initial Comments at 57-58; TAPS Initial Comments at 6, 64-65.

³⁵⁷² Eversource Initial Comments at 54.

³⁵⁷³ ACORE Initial Comments at 19; American Municipal Power Initial Comments at 27.

³⁵⁷⁴ Grid United Initial Comments at 4.

1673. Several commenters argue that the Commission should allow flexibility on the thresholds for evaluating transmission facilities for right-sizing.³⁵⁷⁵ To prevent needless litigation that will cause delays and cost increases for customers, Dominion states that any final order should be clear that transmission providers will not be penalized if a replacement project arises that was not previously identified.³⁵⁷⁶

³⁵⁷⁵ American Municipal Power Initial Comments at 27; APPA Initial Comments at 48; Avangrid Initial Comments at 15-16; California Commission Initial Comments at 117; Clean Energy Associations Initial Comments at 36-37; Dominion Initial Comments at 72-73; EEI Initial Comments at 41; Eversource Initial Comments at 52-53; ISO-NE Initial Comments at 39; NARUC Initial Comments at 58-59, 63-64; National Grid Initial Comments at 40-41; NESCOE Initial Comments at 80; New York TOs Initial Comments at 18; NRECA Initial Comments at 67; NYISO Initial Comments at 9, 60; PG&E Reply Comments at 14-15; PPL Initial Comments at 37; US DOE Initial Comments at 48; Vermont State Entities Initial Comments at 13; WIRES Initial Comments at 10.

³⁵⁷⁶ Dominion Initial Comments at 73.

1674. NYISO contends that the final order should permit transmission providers, with input from state entities and stakeholders, to integrate planning for right-sizing transmission replacements into existing transmission planning processes, including by considering transmission facilities that they anticipate will be replaced in-kind when identifying transmission needs in short-term or long-term transmission planning.³⁵⁷⁷

³⁵⁷⁷ NYISO Initial Comments at 9, 60.

1675. US DOE encourages the Commission to provide sufficient flexibility to ensure that the proposed reforms are cost-effective and do not overburden the transmission planning process. US DOE asserts that transmission providers should not be required to submit every in-kind replacement for all equipment above 230 kV for consideration for right-sizing and that regional transmission planning processes should not be required to consider each piece of equipment provided by each member of a transmission planning region.³⁵⁷⁸

³⁵⁷⁸ US DOE Initial Comments at 48.

1676. PG&E argues that the Commission should allow for flexibility in any right-sizing-related requirements, noting that a transmission provider may need to replace an aging or failing transmission facility sooner than a right-sized transmission project can be developed. In that case, PG&E states that the transmission owner would need to proceed with the replacement project to ensure reliability or protect public safety even if the RTO/ISO had determined that a transmission facility would benefit from being right-sized.³⁵⁷⁹

³⁵⁷⁹ PG&E Reply Comments at 15.

c. Commission Determination

1677. We adopt the NOPR proposal, with modification, to require that, as part of each Long-Term Regional Transmission Planning cycle, transmission providers in each transmission planning region evaluate whether transmission facilities (1) operating above a specified kV threshold and (2) that an individual transmission provider that owns the transmission facility anticipates replacing in-kind with a new transmission facility during the next 10 years can be “right-sized” to more efficiently or cost-effectively address a Long-Term Transmission Need. To effectuate this reform, we also adopt the NOPR proposal, with modification, to require that, sufficiently early in each Long-Term Regional Transmission Planning cycle, each transmission provider submit its in-kind replacement estimates (i.e., estimates of the transmission facilities operating at and above the specified kV threshold that an individual transmission provider that owns the transmission facility anticipates replacing in-kind with a new transmission facility during the next 10 years) for use in Long-Term Regional Transmission Planning. With respect to the specified kV threshold, transmission providers must propose on compliance a threshold that does not exceed 200 kV (e.g., 115 kV and above). In adopting the right-sizing reform in this final order, we recognize that a transmission provider may have existing rights and responsibilities with respect to maintaining and, when necessary, replacing existing transmission facilities. We also adopt the NOPR proposals regarding a Federal right of first refusal and cost allocation method for right-sized replacement transmission facilities, as discussed below.

1678. We adopt the NOPR proposal to define “right-sizing” as the process of modifying a transmission provider's in-kind replacement of an existing transmission facility to increase that facility's transfer capability.³⁵⁸⁰ Additionally, we clarify that, for purposes of this right-sizing reform, an “in-kind replacement transmission facility” is a new transmission facility that: (1) would replace an existing transmission facility that a transmission provider has identified in its in-kind replacement estimate as needing to be replaced; (2) would result in no more than an incidental increase in capacity over the existing transmission facility identified as needing to be replaced;³⁵⁸¹ and (3) is located in the same general route as, and/or uses the existing rights-of-way of, the existing transmission facility identified as needing to be replaced.

³⁵⁸⁰ NOPR, 179 FERC ¶ 61,028 at P 403 (“Right-sizing could include, for example, increasing the transmission facility's voltage level, adding circuits to the towers (e.g., redesigning a single-circuit line as a double-circuit line), or incorporating advanced technologies (such as advanced conductor technologies).”).

³⁵⁸¹ The Commission has addressed the meaning of an incidental increase in the context of a replacement transmission facility in several orders. See, e.g., S. Cal. Edison Co., 164 FERC ¶ 61,160 at P 33, order on reh'g, 168 FERC ¶ 61,170 (2019); Cal. Pub. Utils. Comm'n v. Pac. Gas & Elec. Co., 164 FERC ¶ 61,161 at P 68; see also PJM Interconnection, L.L.C., 172 FERC ¶ 61,136 at P 84, order on reh'g, 173 FERC ¶ 61,225 (2020); PJM Interconnection, L.L.C., 173 FERC ¶ 61,242 at P 54, order on reh'g, 176 FERC ¶ 61,053 (2021).

1679. Further, we clarify that a “right-sized replacement transmission facility” is a new transmission facility that: (1) would meet the need to replace an existing transmission facility that a transmission provider has identified in its in-kind replacement estimate as one that it plans to replace with an in-kind replacement transmission facility while also addressing a Long-Term Transmission Need; (2) results in more than an incidental increase in the capacity of an existing transmission facility that a transmission provider has identified for replacement in its in-kind replacement estimate; and (3) is located in the same general route as, and/or uses or expands the existing rights-of-way of, the existing transmission facility that a transmission provider has identified for replacement in its in-kind replacement estimate. We believe these clarifications are necessary to ensure that use of the right-sizing reform addresses replacement transmission facilities and not entirely new transmission facilities.

1680. As an example, assume that transmission providers determine that an existing transmission facility included in a transmission provider's in-kind replacement estimate can be right-sized (Segment 1) and, together with a separate new transmission facility (Segment 2), is the more efficient or cost-effective solution to a Long-Term Transmission Need. In this example, Segment 1 is a new 50-mile, 345 kV transmission facility between interconnection points A and B that requires the expansion of an existing right-of-way, and replaces an existing 50-mile, 230 kV transmission facility between interconnection points A and B. Segment 2 in this example is a new 25-mile, 345 kV transmission facility requiring entirely new rights-of-way from interconnection points B to C. If both Segment 1 and Segment 2 are selected to address a Long-Term Transmission Need, then, for purposes of the requirements of this final order, only Segment 1 would be considered a right-sized replacement transmission facility.

1681. Consistent with the NOPR proposal, and as discussed further below, the process under this proposed right-sizing reform entails taking the following steps, which transmission providers must describe in their OATTs. The transmission providers in each transmission planning region must propose a point sufficiently early in each Long-Term Regional Transmission Planning cycle at which each individual transmission provider in the transmission planning region will submit its in-kind replacement estimates for use in Long-Term Regional Transmission Planning. Then, if transmission providers identify a right-sized replacement transmission facility as a potential solution to a Long-Term Transmission Need as part of Long-Term Regional Transmission Planning, that right-sized replacement transmission facility must be evaluated in the same manner as any other proposed Long-Term Regional Transmission Facility to determine whether it is the more efficient or cost-effective transmission facility to address the transmission need. More specifically, it is at this stage of the right-sizing reform where transmission providers must use the in-kind replacement estimates to determine if in-kind replacement transmission facilities could be right-sized to more efficiently or cost-effectively address a Long-Term Transmission Need(s). If a right-sized replacement transmission facility addresses the transmission provider's need to replace an existing transmission facility, meets the applicable selection criteria included in Long-Term Regional Transmission Planning, and is found to be the more efficient or cost-effective solution to a Long-Term Transmission Need, then the right-sized replacement transmission facility must be considered for selection.

1682. We find that a right-sized replacement transmission facility has the potential to both meet an individual transmission provider's responsibility to maintain the reliability of its existing transmission system and address a Long-Term Transmission Need more efficiently or cost-effectively than an in-kind replacement transmission facility or another Long-Term Regional Transmission Facility.³⁵⁸² Further, we find that, if opportunities for right-sized replacement transmission facilities are not considered, the Long-Term Regional Transmission Planning process may not select the more efficient or cost-effective transmission facilities to meet Long-Term Transmission Needs, potentially rendering Commission-jurisdictional rates unjust and unreasonable.³⁵⁸³

³⁵⁸² NOPR, 179 FERC ¶ 61,028 at P 406.

³⁵⁸³ Id.

1683. As noted above, for purposes of implementing the right-sizing requirements that we adopt in this final order, transmission providers must propose on compliance a threshold that does not exceed 200 kV that is used in identifying the transmission facilities that an individual transmission provider anticipates replacing in-kind with a new transmission facility during the next 10 years, which it must then include in its in-kind replacement estimates. In other words, each transmission provider in the transmission planning region must include in its in-kind replacement estimates the transmission facilities operating at and above 200 kV, or at and above a lower proposed threshold, that it owns and anticipates replacing in-kind with a new transmission facility during the next 10 years.³⁵⁸⁴ We find that this threshold strikes a reasonable balance between capturing the transmission facilities that are the most likely candidates for right-sizing without overburdening transmission providers by requiring them to identify all transmission facilities planned for in-kind replacement, including lower voltage transmission facilities that may be less likely to provide regional benefits, and therefore potentially less likely to be more efficient or cost-effective transmission solutions to Long-Term Transmission Needs. Specifically, we believe adopting the 230 kV threshold proposed in the NOPR could have excluded from consideration some transmission facilities planned for in-kind replacement that are likely to provide regional benefits.³⁵⁸⁵ In adopting a specified kV threshold (so long as that threshold does not exceed 200 kV), as opposed to the 230 kV threshold proposed in the NOPR, we note that the Commission “has wide discretion to determine where to draw administrative lines.” ³⁵⁸⁶

³⁵⁸⁴ We note that while transmission providers may not propose a kV threshold that exceeds 200 kV, they may propose a lower kV threshold (e.g., 100 kV or 115 kV), which would require transmission providers in that transmission planning region to include in their in-kind replacement estimates a wider range of transmission facilities that they own and anticipate replacing in-kind with a new transmission facility during the next 10 years.

³⁵⁸⁵ For example, the maximum 200 kV threshold that we adopt here mirrors existing processes (e.g., CAISO) for determining whether a transmission facility provides regional benefits or more localized benefits. Appendix A of CAISO's OATT defines a “Large Project” as “[a] transmission upgrade or addition that exceeds $200 million in capital costs and consists of a proposed transmission line or substation facilities capable of operating at voltage levels greater than 200 kV.” CAISO, CAISO eTariff, app. A, Definitions (0.0.0), section Large Project. Moreover, we note that a 200 kV threshold aligns with the 200 kV threshold for interconnection reforms discussed in the Coordination of Regional Transmission Planning and Generator Interconnection Process section of this final order.

³⁵⁸⁶ ExxonMobil Gas Mktg. Co. v. FERC, 297 F.3d 1071, 1085 (D.C. Cir. 2002) (quoting AT&T Corp. v. FCC, 220 F.3d 607, 627 (D.C. Cir. 2000)).

1684. We find that the requirement for transmission providers to identify a kV threshold not to exceed 200 kV to identify in-kind replacements recognizes that the NOPR proposal did not align with the region-specific characteristics outlined by some transmission providers. For example, as ISO-NE notes, a large portion of ISO-NE's transmission system consists of 115 kV transmission facilities.³⁵⁸⁷ We find that the maximum kV threshold that we adopt allows flexibility for transmission providers, like ISO-NE, to tailor their proposed kV threshold to their specific transmission planning regions (as long as the threshold they apply is equal or lower than 200 kV), while ensuring that the in-kind replacement transmission facilities that are most susceptible to modification that could more efficiently or cost-effectively address Long-Term Transmission Needs are considered for right-sizing.

³⁵⁸⁷ ISO-NE Initial Comments at 39.

1685. With regard to the 10-year timeframe for in-kind replacement estimates, we believe that 10 years is an appropriate timeframe to evaluate potential in-kind replacement transmission facilities for right-sizing because it balances the long lead times associated with developing certain transmission facilities with the uncertainty associated with the exact timing of when aging transmission facilities may need to be replaced.³⁵⁸⁸ We also clarify that the 10-year timeframe for in-kind replacement estimates should reflect a transmission provider's estimates of the transmission facilities operating at and above the specified kV threshold that an individual transmission provider that owns the transmission facility anticipates replacing in-kind with a new transmission facility during the next 10 years beginning at the start of each Long-Term Regional Transmission Planning cycle. Furthermore, we believe that a 10-year timeframe is more likely to capture a larger pool of potential in-kind replacement transmission facilities that would be eligible for right-sizing. We recognize, however, that transmission providers may obtain better information about a transmission facility's condition as the anticipated replacement date approaches and may also identify additional transmission facilities that require replacement in fewer than 10 years based on updated assessments of their condition. As such, we clarify that transmission providers may update the lists of transmission facilities that they anticipate replacing in subsequent transmission planning cycles if they believe that an anticipated in-kind replacement transmission facility is more urgently needed than previously thought or if existing transmission facilities do not deteriorate as quickly as previously expected.

³⁵⁸⁸ NOPR, 179 FERC ¶ 61,028 at P 406.

1686. Several commenters oppose the right-sizing reform. They suggest that adopting the reform would harm competition or existing transmission planning processes that already evaluate whether replacement transmission facilities can be increased in transfer capability. We are unpersuaded by these arguments. We adopt the right-sizing reform because it captures certain transmission planning efficiencies by addressing aging transmission infrastructure issues while also providing an opportunity to increase transfer capability (i.e., develop the right-sized replacement transmission facility) to address Long-Term Transmission Needs more efficiently or cost-effectively. With respect to concerns about the right-sizing reform's impact on competition, we address that issue below under the section on Rights of First Refusal. Regarding commenters' arguments that existing transmission planning processes already evaluate whether replacement transmission facilities can be right-sized, we note that we require transmission providers to consider right-sizing as part of Long-Term Regional Transmission Planning. If transmission providers wish to continue to consider right-sizing opportunities in some or all of their existing transmission planning processes in addition to Long-Term Regional Transmission Planning, this reform does not address those processes, and they may continue to adhere to existing practices that are not modified by this final order. Further, we emphasize that transmission providers may propose compliance approaches that are consistent with or superior to these requirements, and as such, depending on their individual circumstances and approaches, may be able to demonstrate that a method akin to their existing practice is also appropriate for right-sizing in Long-Term Regional Transmission Planning.

1687. In response to PJM States' request for clarification regarding the interaction between existing processes and whether the right-sizing reform necessitates competitive transmission development processes, we recognize that a transmission provider may have existing rights and responsibilities with respect to maintaining and, when necessary, replacing existing transmission facilities. Regarding PJM States' request for clarification on competitive transmission development processes, we refer to the Right of First Refusal section below.

1688. In response to Exelon's concerns regarding the timing of replacement transmission facilities, we clarify that the 10-year timeframe associated with the right-sizing reform applies to transmission facilities that a transmission provider anticipates replacing. In other words, the requirement for a transmission provider to include in its in-kind replacement estimates any transmission facilities that it anticipates replacing in-kind during the next 10 years does not create an obligation for the transmission provider to change any existing process that it has to identify which transmission facilities it anticipates replacing. However, a transmission provider must include in its in-kind replacement estimates any transmission facilities it anticipates replacing during the next 10 years beginning at the start of each Long-Term Regional Transmission Planning cycle, regardless of the process it uses to identify the facilities.

1689. In response to SERTP Sponsors and PG&E's arguments that replacement decisions may be triggered more by the conditions of a particular transmission facility than its age, we reiterate, consistent with the statement the Commission made in the NOPR, we recognize that a transmission provider may have existing rights and responsibilities with respect to maintaining, and when necessary, replacing existing transmission facilities. We recognize that, as SERTP Sponsors note, replacement decisions may be triggered by other conditions than a transmission facility's age or condition, and since we recognize that a transmission provider may have existing rights and responsibilities under existing laws with respect to maintaining and, when necessary, replacing transmission facilities, we note that SERTP Sponsors, as well as any other transmission providers, may address such replacements of existing transmission facilities according to their existing processes.

1690. In response to Entergy's request for clarification regarding storm-hardening, we reiterate that the right-sizing reform we adopt here pertains to transmission facilities that a transmission provider anticipates replacing with an in-kind replacement transmission facility. To the extent that storm-hardening transmission projects do not encompass the replacement of existing transmission facilities with an in-kind replacement transmission facility, those storm-hardening transmission projects need not be included on a transmission provider's list of in-kind replacement estimates.

1691. In response to US DOE's argument that transmission providers should not be required to submit every in-kind replacement for all equipment, we clarify that the right-sizing reform we adopt here requires transmission providers to list in their in-kind replacement estimates only the transmission facilities operating at and above the specified kV threshold that they own and anticipate replacing in-kind with a new transmission facility during the next 10 years, provided transmission providers may not propose a specified kV threshold higher than 200 kV.

1692. WIRES requests that the Commission clarify that transmission providers would not be prohibited from considering right-sizing transmission facilities lower than 230 kV if existing transmission planning processes already do so. We clarify that, given our modification to the NOPR proposal, transmission providers may propose on compliance a threshold lower than 200 kV for considering right-sizing transmission facilities. We reiterate that the 200 kV threshold is a maximum threshold (i.e., transmission providers may not propose a right-sizing threshold higher than 200 kV).

2. Right of First Refusal

a. NOPR Proposal

1693. In the NOPR, the Commission proposed, for any right-sized replacement transmission facility that is selected to meet transmission needs identified through Long-Term Regional Transmission Planning, to require the establishment of a Federal right of first refusal for the transmission provider that includes the in-kind replacement transmission facility in its in-kind replacement estimates, which would extend to any portion of such a transmission facility located within the applicable transmission provider's retail distribution service territory or footprint.³⁵⁸⁹

³⁵⁸⁹ Id. PP 408-409.

b. Comments

1694. Some commenters support the proposed Federal right of first refusal for right-sized replacement transmission facilities.³⁵⁹⁰ AEP argues that without it, transmission providers may develop an in-kind replacement facility instead of the right-sized transmission facility identified in the regional transmission planning process.³⁵⁹¹ Similarly, PG&E states that providing a Federal right of first refusal for right-sized replacement transmission facilities will provide an incentive for transmission providers to develop such projects, where appropriate.³⁵⁹²

³⁵⁹⁰ AEP Initial Comments at 46-47; Ameren Reply Comments at 14-15; Dominion Initial Comments at 75; EEI Initial Comments at 41; Exelon Initial Comments at 58; MISO TOs Initial Comments at 27-28; PG&E Reply Comments at 15-16; US Chamber of Commerce Initial Comments at 11; Vermont Electric and Vermont Transco Initial Comments at 5.

³⁵⁹¹ AEP Initial Comments at 46-47 (citing NOPR, 179 FERC ¶ 61,028 at PP 408-409).

³⁵⁹² PG&E Reply Comments at 16.

1695. MISO TOs argue that, whether through in-kind replacement or right-sized replacement, “what is being done is an upgrade of an existing transmission facility,” for which the Commission has afforded transmission owners Federal rights of first refusal through Order No. 1000 (and prior actions).³⁵⁹³ US Chamber of Commerce states that a Federal right of first refusal for right-sized replacement transmission facilities should also apply to right-sized transmission facilities, as it would eliminate incentives to withhold in-kind replacements from the regional transmission planning process.³⁵⁹⁴

³⁵⁹³ MISO TOs Initial Comments at 27-28.

³⁵⁹⁴ US Chamber of Commerce Initial Comments at 11 (citing NOPR, 179 FERC ¶ 61,028 at P 409).

1696. Ameren states that critics of the NOPR's proposal to provide transmission providers a Federal right of first refusal for right-sizing projects question whether the Commission has met its FPA section 206 burden to demonstrate that the regional transmission planning tariffs are currently unjust and unreasonable or unduly discriminatory in order to justify this proposal.³⁵⁹⁵ Ameren contends that this argument misses a critical point because, currently, replacement of transmission facilities in-kind is generally not subject to the regional transmission planning process or competitive transmission development processes. Ameren asserts that the Commission need not find any existing rate unjust and unreasonable in order to signal an intent to approve such right of first refusals for right-sizing projects when filed with the Commission under FPA section 205.³⁵⁹⁶

³⁵⁹⁵ Ameren Reply Comments at 14 (citing LS Power Initial Comments at 50).

³⁵⁹⁶ Id.

1697. Several commenters oppose the proposed Federal right of first refusal for right-sized replacement transmission facilities.³⁵⁹⁷ Massachusetts Attorney General argues that the Commission has not demonstrated a “rational connection” between the Commission's findings and the right-sizing reform. Massachusetts Attorney General adds that the NOPR proposal is directly at odds with the Commission's findings in Order Nos. 890 and 1000 and that the Commission fails to provide “good reasons” for departing from those prior findings.³⁵⁹⁸ American Municipal Power argues that, even if incumbent transmission owners currently have a right of first refusal for local transmission facilities, that right should be limited to maintenance (i.e., in-kind replacements) and not situations where a transmission facility would expand or enhance the transmission system.³⁵⁹⁹ LS Power argues that the right-sizing proposal changes definitions in Order No. 1000, including the definitions of an upgrade and a local transmission facility, and allows a Federal right of first refusal for transmission facilities located on an existing right-of-way instead of leaving the issue to state law.³⁶⁰⁰ LS Power asserts that, even if the Commission could meet the first prong of its section 206 analysis and find that the existing transmission planning process is unjust and unreasonable, the Commission must still establish that the entirety of the replacement rate is just and reasonable which, LS Power argues, the Commission cannot because of the tie to a Federal right of first refusal. Taken together, LS Power argues that the NOPR proposal, if adopted, would fail as a replacement rate.³⁶⁰¹ Furthermore, LS Power argues that the Federal right of first refusal for right-sized replacement transmission facilities would essentially provide a Federal franchise, mandating that transmission customers accept the ownership right of the existing transmission owners to continue in perpetuity.³⁶⁰²

³⁵⁹⁷ AEE Reply Comments at 31; American Municipal Power Initial Comments at 28-29; Anbaric Initial Comments at 7; California Commission Initial Comments at 115-117; California Water Initial Comments at 8-9; City of New York Initial Comments at 11-13; Competition Coalition Initial Comments at 64; Competition Coalition Reply Comments at 2; Industrial Customers Initial Comments at 4; Kentucky Commission Chair Chandler Initial Comments at 19; LS Power Initial Comments at 22, 25-26, 84-85; Massachusetts Attorney General Initial Comments at 51-53; NextEra Initial Comments at 54-61; Northwest and Intermountain Initial Comments at 21-22; Pennsylvania Commission Initial Comments at 22-23; R Street Initial Comments at 3-4, 12-21; Resale Iowa Initial Comments at 8-9; TAPS Initial Comments at 68.

³⁵⁹⁸ Massachusetts Attorney General Initial Comments at 40, 51 (citing 5 U.S.C. 706(2); 16 U.S.C. 825l(b); FCC v. Fox Television Stations, Inc., 556 U.S. 502, 515 (2009); Motor Vehicle Mfrs. Ass'n of the U. S. v. State Farm Mut. Auto. Ins. Co., 463 U.S. 29, 43 (1983)).

³⁵⁹⁹ American Municipal Power Initial Comments at 28.

³⁶⁰⁰ LS Power Initial Comments at 22.

³⁶⁰¹ Id. at 147-48 (citing Nat'l Fuel Gas Supply Corp. v. FERC, 468 F.3d 831, 845 (D.C. Cir. 2006); SEC v. Chenery Corp., 318 U.S. 80, 95 (1943)).

³⁶⁰² Id. at 84-85.

1698. Northwest and Intermountain support clarifying that a Federal right of first refusal for right-sized replacement transmission facilities does not apply to any facilities that replace equipment that has reached the end of its useful life. Moreover, Northwest and Intermountain contend that the Commission should require a competitive solicitation for any right-sized transmission projects that meet regional transmission needs.³⁶⁰³ AEE contends that the record does not support further action on the proposed Federal right of first refusal for right-sized replacement transmission facilities, and instead reflects the complexity of the issues involved and the need for a holistic review of competitive transmission development processes and options for improving them.³⁶⁰⁴

³⁶⁰³ Northwest and Intermountain Initial Comments at 21-22.

³⁶⁰⁴ AEE Reply Comments at 31.

1699. Several commenters raise concerns about the incentives that the proposed ederal right of first refusal for right-sized replacement transmission facilities would introduce.³⁶⁰⁵ Pennsylvania Commission argues that incumbent transmission owners may use it as a new tool to avoid competition by displacing other regional transmission facilities.³⁶⁰⁶ Given that transmission providers may not secure cost recovery for imprudently incurred expenses, NextEra disagrees that, without a Federal right of first refusal for right-sized replacement transmission facilities, incumbent transmission owners may engage in duplicative or inefficient transmission development.³⁶⁰⁷

³⁶⁰⁵ Anbaric Initial Comments at 7; California Commission Initial Comments at 114-115; Competition Coalition Initial Comments at 65-67; LS Power Initial Comments at 81-82; Massachusetts Attorney General Initial Comments at 51-52; NextEra Initial Comments at 58; Pennsylvania Commission Initial Comments at 22; Resale Iowa Initial Comments at 8-9.

³⁶⁰⁶ Pennsylvania Commission Initial Comments at 22.

³⁶⁰⁷ NextEra Initial Comments at 59-61 (citations omitted).

1700. Some commenters oppose the proposed Federal right of first refusal for right-sized replacement transmission facilities because they argue that it would increase costs for customers.³⁶⁰⁸ California Water argues that allowing a Federal right of first refusal for right-sized replacement transmission facilities would permit incumbent transmission owners to construct right-sized transmission facilities without any cost guardrails, which could end up being more expensive than the in-kind replacements.³⁶⁰⁹ Alternatively, some commenters argue that their existing transmission planning processes already consider “right-sizing” replacement transmission facilities and may not include a Federal right of first refusal.³⁶¹⁰

³⁶⁰⁸ See California Commission Initial Comments at 117; California Water Initial Comments at 9; Competition Coalition Initial Comments at 66-67; DC and MD Offices of People's Counsel Initial Comments at 47-48; R Street Reply Comments at 5-6; State Agencies Initial Comments at 21-22.

³⁶⁰⁹ California Water Initial Comments at 9.

³⁶¹⁰ CAISO Initial Comments at 47-49; New York Commission and NYSERDA Initial Comments at 15-16; New York TOs Initial Comments at 17-18; NYISO Initial Comments at 58-59.

1701. In response to claims that there is no logical basis for a Federal right of first refusal for right-sized replacement transmission facilities, MISO TOs state that the proposal applies to upgrades of an existing transmission facility and that in Order No. 1000, the Commission expressly reserved a Federal right of first refusal for an individual utility to upgrade its own property. As such, MISO TOs argue, a right-sizing requirement should neither deprive a transmission owner of its rights regarding its own property or its right to construct and own upgrades to its own system, nor should it implement an unconstitutional taking of such owner's property.³⁶¹¹ Therefore, MISO TOs state that the final order should clarify that nothing in the right-sizing proposal eliminates an incumbent transmission owner's Federal right of first refusal for any transmission facilities selected through a right-sizing process.³⁶¹²

³⁶¹¹ MISO TOs Reply Comments at 33 (citing Order No. 1000, 136 FERC ¶ 61,051 at PP 226, 319; Order No. 1000-A, 139 FERC ¶ 61,132 at P 426; N.Y. Indep. Sys. Operator, Inc., 175 FERC ¶ 61,038, at PP 30, 33 (2021)).

³⁶¹² MISO TOs Reply Comments at 33 (citing MISO TOs Initial Comments at 25-28).

c. Commission Determination

1702. We adopt the NOPR proposal to require the establishment of a Federal right of first refusal for a right-sized replacement transmission facility ³⁶¹³ that is selected to meet Long-Term Transmission Needs. This Federal right of first refusal will apply to the transmission provider that included in its in-kind replacement estimate the existing transmission facility that the right-sized replacement transmission facility would replace, and extends to any portion of the right-sized replacement facility located within that transmission provider's retail distribution service territory or footprint, recognizing that any such portion must satisfy the definition of a right-sized replacement facility, as revised by this final order, including that the right-sized replacement transmission facility is located in the same general route as, and/or uses or expands the existing rights-of-way of, the existing transmission facility.

³⁶¹³ As noted above, right-sizing could include, for example, increasing the transmission facility's voltage level, adding circuits to the towers (e.g., redesigning a single-circuit line as a double-circuit line), or incorporating advanced technologies (e.g., advanced conductor technologies). Additionally, we reiterate that, as noted above, a right-sized replacement transmission facility is, for purposes of this right-sizing reform, a new transmission facility that: (1) would meet the need to replace an existing transmission facility that a transmission provider has identified in its in-kind replacement estimate as one that it plans to replace with an in-kind replacement transmission facility while also addressing a Long-Term Transmission Need; (2) results in more than an incidental increase in the capacity of an existing transmission facility that a transmission provider has identified for replacement in its in-kind replacement estimate; and (3) is located in the same general route as, and/or uses or expands the existing rights-of-way of, the existing transmission facility that a transmission provider has identified for replacement in its in-kind replacement estimate.

1703. In adopting the NOPR proposal to require the establishment of a Federal right of first refusal for a right-sized replacement transmission facility, we find that permitting a Federal right of first refusal for right-sized replacement transmission facilities will encourage transmission providers to provide their best in-kind replacement estimates, because they will have certainty that they will not lose the opportunity to invest in any in-kind replacement transmission facility that is then selected as a right-sized replacement transmission facility. As such, we find that a Federal right of first refusal will remove a disincentive for transmission providers to consider right-sizing in Long-Term Regional Transmission Planning, helping to ensure that the more efficient or cost-effective regional transmission solution to Long-Term Transmission Needs is selected and likely built, and therefore that Commission-jurisdictional rates are just and reasonable. Moreover, we note that the definitions of “in-kind replacement transmission facility” and “right-sized replacement transmission facility” that we adopt, as discussed above, are necessary to ensure that use of the right-sizing reform addresses replacement transmission facilities and not entirely new transmission facilities.³⁶¹⁴

³⁶¹⁴ See supra PP 1681-1683.

1704. We note that the establishment of a Federal right of first refusal for right-sized replacement transmission facilities is an exception to Order No. 1000's general requirement for transmission providers to eliminate any Federal right of first refusal for regional transmission facilities selected in a regional transmission plan.³⁶¹⁵ In response to comments challenging this approach as violating the precedent set in Order No. 1000, which eliminated Federal rights of first refusal for new selected transmission facilities,³⁶¹⁶ we find that requiring a Federal right of first refusal for right-sized replacement transmission facilities aligns with Order No. 1000.

³⁶¹⁵ See supra P 1576.

³⁶¹⁶ Order No. 1000, 136 FERC ¶ 61,051 at P 313.

1705. In Order No. 1000, the Commission required transmission providers to remove Federal rights of first refusal from their OATTs because they undermined the consideration of more efficient or cost-effective potential transmission solutions proposed at the regional level, which could lead to unjust and unreasonable rates for Commission-jurisdictional services.³⁶¹⁷ The Commission found that Federal rights of first refusal created a barrier to entry that discouraged nonincumbent transmission developers from proposing alternative solutions for consideration at the regional level.³⁶¹⁸ The Commission did not require the elimination of Federal rights of first refusal for local transmission facilities,³⁶¹⁹ and did not alter the rights of incumbent transmission providers to build, own, and recover costs for upgrades to its own transmission facilities, regardless of whether the upgrade is selected.³⁶²⁰

³⁶¹⁷ Id. PP 253, 256.

³⁶¹⁸ Id. P 257.

³⁶¹⁹ Id. P 318.

³⁶²⁰ Id. P 319 (citation omitted).

1706. We find that the Commission's reasons for removing Federal rights of first refusal in Order No. 1000 do not apply to right-sized replacement transmission facilities. Specifically, requiring a Federal right of first refusal for right-sized replacement transmission facilities does not undermine the consideration of more efficient or cost-effective potential transmission solutions proposed at the regional level; rather, we find that it will promote the consideration of more efficient or cost-effective potential regional transmission solutions to address Long-Term Transmission Needs. When compared against the alternative of piecemeal development of in-kind replacement transmission facilities, a Federal right of first refusal for right-sized transmission facilities does not frustrate the goals of Order No. 1000 or lead to inefficiency in transmission development because the right-sized replacement transmission facility represents the more efficient or cost-effective regional transmission solution to address Long-Term Transmission Needs (otherwise it would not be selected). We recognize that a transmission provider may have existing rights and responsibilities with respect to maintaining and, when necessary, replacing their transmission facilities. Because the right-sizing reform does not alter existing laws related to an individual transmission provider's ability to proceed with an in-kind replacement transmission facility, absent a Federal right of first refusal, we believe the incumbent transmission provider whose in-kind replacement transmission facility is selected to be right-sized would likely proceed to develop the less efficient or cost-effective in-kind replacement transmission facility. We find that the transmission provider would prefer the assurance of a Federal right of first refusal for the in-kind replacement transmission facility over the uncertainty of subjecting a right-sized replacement transmission facility to the Order No. 1000 competitive transmission development process. Because of this incentive structure and the fact that the transmission provider holds the leverage as to whether to build a right-sized replacement transmission facility or a less efficient in-kind replacement transmission facility, the establishment of the Federal right of first refusal is necessary to effectuate this reform and ensure that Commission-jurisdictional rates are just and reasonable.³⁶²¹

³⁶²¹ See NOPR, 179 FERC ¶ 61,028 at P 408 & n.652.

1707. By establishing a process that requires transmission providers to evaluate opportunities to right-size in-kind replacement transmission facilities to meet Long-Term Transmission Needs, and by establishing a Federal right of first refusal for such right-sized replacement transmission facilities, we believe that the right-sizing reform in this final order will encourage transmission providers to provide their best in-kind replacement estimates, as they will have certainty that they will not lose the opportunity to invest in any in-kind replacement transmission facility that is then selected as a right-sized replacement transmission facility. Moreover, permitting a Federal right of first refusal for right-sized replacement transmission facilities will enable transmission providers to ensure that the more efficient or cost-effective regional transmission solution to Long-Term Transmission Needs is selected and that Commission-jurisdictional rates are consequently just and reasonable.³⁶²²

³⁶²² In response to those commenters who argue that their existing transmission planning processes already consider “right-sizing” replacement transmission facilities without the inclusion of a Federal right of first refusal, we note that, separate from compliance with this final order, transmission providers in each transmission planning region can agree to participant funding arrangements for right-sized replacement transmission facilities that are not selected through Long-Term Regional Transmission Planning, in which case the requirement to establish a Federal right of first refusal for right-sized replacement transmission facilities selected to meet Long-Term Transmission Needs would not apply.

1708. In response to MISO TOs' request regarding upgrades to existing transmission facilities, we reiterate that nothing in the right-sizing reform affects the right of an incumbent transmission provider to build, own, and recover the costs for upgrades to its own transmission facilities, regardless of whether an upgrade to an existing transmission facility has been identified through a right-sizing process and selected to address Long-Term Transmission Needs.

1709. We deny Northwest and Intermountain's request to clarify that the right-sizing reform excludes transmission facilities that replace equipment that has reached the end of its useful life. As explained above, the Federal right of first refusal will apply to selected right-sized replacement transmission facilities, including those that are intended to replace transmission facilities that have reached the end of their useful life.

3. Cost Allocation

a. NOPR Proposal

1710. With respect to cost allocation, the Commission proposed that if a right-sized replacement transmission facility is selected, only the incremental costs of right-sizing the transmission facility would be eligible to use the applicable Long-Term Regional Transmission Cost Allocation Method. The Commission proposed that the costs the incumbent transmission provider would have otherwise incurred to construct the in-kind replacement transmission facility be allocated in a manner consistent with the allocation that would have otherwise occurred for the in-kind replacement. The Commission preliminarily found that it is just and reasonable and not unduly discriminatory or preferential for only the portion of the costs associated with a right-sized replacement transmission facility that is selected to be eligible to use the Long-Term Regional Transmission Cost Allocation Method because it is the right-sizing of the in-kind replacement transmission facility that allows the transmission facility to meet the transmission needs identified in Long-Term Regional Transmission Planning.³⁶²³

³⁶²³ NOPR, 179 FERC ¶ 61,028 at P 410.

1711. The Commission also proposed to require transmission providers in each transmission planning region to amend their regional transmission planning processes to provide transparency with respect to which right-sized replacement transmission facilities have been selected (and thus found to be a more efficient or cost-effective transmission facility to meet regional transmission needs) and which transmission facilities are simply included in the regional transmission plan for informational (and not cost allocation) purposes.³⁶²⁴

³⁶²⁴ Id. P 413.

b. Comments

1712. Some commenters support the NOPR proposal that the incremental costs of right-sizing a transmission facility that is selected would be eligible to use the applicable Long-Term Regional Transmission Cost Allocation Method.³⁶²⁵ ACEG contends that without it, a large amount of new transmission investment—directed solely at replacement facilities—will be outside of Long-Term Regional Transmission Planning and thus not given an opportunity to contribute to the grid's overall efficiency and cost-effectiveness.³⁶²⁶ Eversource asserts that, in New England, asset condition projects receive regional cost allocation, and requests clarification that the Commission is not proposing to disturb the existing cost allocation method for asset condition projects in ISO-NE that are not selected for right-sizing in Long-Term Regional Transmission Planning.³⁶²⁷ NESCOE recommends that the Commission require transmission providers to explain on compliance the method that they will use to determine the incremental costs of right-sizing a replacement transmission facility. In addition, NESCOE supports the proposal to require transmission providers to amend their regional transmission planning processes to provide transparency with respect to which right-sized replacement transmission facilities have been selected.³⁶²⁸

³⁶²⁵ ACEG Initial Comments at 57-58; Eversource Initial Comments at 54; NARUC Initial Comments at 65; NESCOE Initial Comments at 81.

³⁶²⁶ ACEG Initial Comments at 57-58.

³⁶²⁷ Eversource Initial Comments at 54.

³⁶²⁸ NESCOE Initial Comments at 81.

1713. Other commenters support the proposed cost allocation for right-sized replacement transmission facilities, but express reservations.³⁶²⁹ Entergy asserts that the Commission should clarify that costs incurred absent right-sizing will be allocated under the cost allocation method(s) that otherwise would apply to such costs, which may include regional cost allocation.³⁶³⁰ With regard to incremental costs, CTC Global urges the Commission to require the transmission planning process to be based on future needs, future benefits, total lifecycle costs, and total benefits for the life of the resource. More specifically, CTC Global suggests that when considering incremental costs, the Commission should consider including energy savings, generating capacity reduction benefits, and resulting reductions in greenhouse gas emissions as benefits associated with the right-sized replacement transmission facility.³⁶³¹

³⁶²⁹ CTC Global Initial Comments at 19; Dominion Initial Comments at 75-76; Entergy Initial Comments at 39; MISO Initial Comments at 87; NRG Initial Comments at 36-37.

³⁶³⁰ Entergy Initial Comments at 39.

³⁶³¹ CTC Global Initial Comments at 19.

1714. Dominion states that it may be difficult to quantify and allocate the incremental costs of right-sizing a replacement transmission facility.³⁶³² MISO agrees, stating that it will be challenging to identify the portion of costs that should be recovered as part of the age and condition upgrade using one cost allocation method and a different cost allocation for the portion of the right-sized upgrade identified as part of Long-Term Regional Transmission Planning. MISO argues that this complexity will continue going forward given that the accounting for two types of cost allocation to different customers will have to be tracked for each right-sized replacement transmission facility.³⁶³³

³⁶³² Dominion Initial Comments at 75-76.

³⁶³³ MISO Initial Comments at 87.

1715. Some commenters oppose the NOPR proposal.³⁶³⁴ LS Power argues that the proposal violates cost causation principles as it would limit regional cost allocation to the incremental portion of the right-sized replacement transmission facilities, regardless of beneficiary analysis.³⁶³⁵ Indicated PJM TOs state that the Commission should not impose any requirements with respect to the cost allocation of right-sized replacement transmission facilities and instead should provide transmission providers with the flexibility to determine a cost allocation method.³⁶³⁶ Exelon agrees, adding that the Commission's proposed approach creates unnecessary complications and adds a further variable (base versus incremental cost) to the already complex and often contentious cost allocation process. According to Exelon, the proposal (1) incorrectly assumes that a transmission owner has identified an in-kind replacement transmission facility and its cost; (2) incorrectly assumes that a perfect overlap exists between the displaced transmission facility (or need) and the right-sized replacement transmission facility; and (3) fails to address adjustments for cost savings or overruns on the right-sized portion of the transmission facility.³⁶³⁷

³⁶³⁴ Exelon Initial Comments at 59; Indicated PJM TOs Initial Comments at 47; LS Power Initial Comments at 86-87.

³⁶³⁵ LS Power Initial Comments at 86-87 (citing Old Dominion Elec. Coop. v. FERC, 898 F.3d 1254, reh'g denied, 905 F.3d 671 (D.C. Cir. 2018)).

³⁶³⁶ Indicated PJM TOs Initial Comments at 47 (citation omitted).

³⁶³⁷ See Exelon Initial Comments at 59 & n.103.

c. Commission Determination

1716. We decline to adopt the NOPR proposal to require that, if a right-sized replacement transmission facility is selected, only the incremental costs of right-sizing the transmission facility will be eligible to use the applicable Long-Term Regional Transmission Cost Allocation Method, while the costs that the transmission provider would otherwise have incurred to construct the in-kind replacement transmission facility must be allocated in a manner consistent with the allocation that would have otherwise occurred for the in-kind replacement transmission facility. This is because we find persuasive comments that identify the complexities and challenges associated with tracking portions of costs of two different transmission projects through time, as well as allocating the costs of a right-sized replacement transmission facility pursuant to two separate cost allocation methods.³⁶³⁸ While the approach that the NOPR proposed to require may still be a just and reasonable cost allocation approach for right-sized replacement transmission facilities, should the relevant transmission providers choose to take on these challenges and address them adequately, we find it appropriate to provide flexibility to transmission providers to propose a cost allocation method for selected right-sized replacement transmission facilities. However, in providing such flexibility, transmission providers must nevertheless demonstrate on compliance that the cost allocation method for selected right-sized replacement transmission facilities is just and reasonable and not unduly discriminatory or preferential and, consistent with cost causation, allocates costs in a manner that is at least roughly commensurate with the estimated benefits of such facilities.³⁶³⁹

³⁶³⁸ Dominion Initial Comments at 75-76; Exelon Initial Comments at 59; MISO Initial Comments at 87.

³⁶³⁹ See ICC v. FERC I, 576 F.3d at 477; Order No. 1000, 136 FERC ¶ 61,051 at PP 622, 639 (requiring costs of regional transmission facilities to be allocated in a manner that is at least roughly commensurate with estimated benefits).

1717. Further, we also require transmission providers in each transmission planning region to amend their regional transmission planning processes to provide transparency with respect to which right-sized replacement transmission facilities have been selected, as well as which transmission facilities are simply included in the regional transmission plan for informational (and not cost allocation) purposes.

1718. We disagree with LS Power's assertion that the right-sizing cost allocation method proposed in the NOPR violates cost causation principles because it would limit regional cost allocation to the incremental portion of the right-sized replacement transmission facilities, regardless of other potential beneficiaries.³⁶⁴⁰ The customers of the transmission provider that would be allocated the costs associated with the original in-kind replacement transmission facility would have otherwise been responsible for paying those costs had the in-kind replacement transmission facility not been right-sized. Further, we find that it is not unjust, unreasonable, or unduly discriminatory or preferential that, for a right-sized replacement transmission facility selected, only the portion of the costs associated with right-sizing be eligible to use the Long-Term Regional Transmission Cost Allocation Method. Specifically, we find that it is the right-sizing of the in-kind replacement transmission facility that allows the transmission facility to meet Long-Term Transmission Needs identified in Long-Term Regional Transmission Planning. As such, we disagree that allowing only the incremental costs of right-sizing the right-sized replacement transmission facility to be eligible to use the applicable Long-Term Regional Transmission Cost Allocation Method would violate cost causation principles.

³⁶⁴⁰ LS Power Initial Comments at 86-87 (citing Old Dominion Elec. Coop. v. FERC, 898 F.3d 1254).

1719. As we note above, we find merit with respect to commenters' concerns about the difficulty in determining the portion of the costs of a right-sized replacement transmission facility attributable to right-sizing and the complexity in tracking portions of differing cost allocation methods through time. For this reason, to the extent that transmission providers propose to allocate the costs of right-sized replacement transmission facilities pursuant to the cost allocation method described in the NOPR, we require the transmission providers to explain on compliance (1) the method that they will use to determine the portion of the costs of a right-sized replacement transmission facility that is incremental to the costs that would have been incurred for the underlying in-kind replacement transmission facility, and (2) the method by which they will track the portion of costs over time that are allocated in accordance with the Long-Term Regional Transmission Cost Allocation Method (or, if adopted, subject to a State Agreement Process), as well as the portion of costs that would have been allocated pursuant to the cost allocation method that otherwise would have applied to the in-kind replacement transmission facility. We believe that transmission providers are best positioned to determine both the portion of the costs of a right-sized replacement transmission facility that is incremental to the costs that would have been incurred for the underlying in-kind replacement transmission facility, as well as how to best track these costs over time for purposes of cost allocation.

1720. In response to Eversource and Entergy's requests that the Commission clarify the cost allocation method for in-kind replacement transmission facilities that are not selected for right-sizing,³⁶⁴¹ we clarify that we are not requiring any changes pursuant to this right-sizing requirement that would affect the existing cost allocation method(s) for in-kind replacement transmission facilities that are not identified for right-sizing, or for the costs of the underlying in-kind replacement transmission facilities that would have been incurred absent right-sizing. Similarly, in response to Entergy's request for clarification that costs incurred absent right-sizing will be allocated under the cost allocation method(s) that otherwise would apply to such costs, which may include regional cost allocation, we clarify that the costs that the transmission provider would otherwise have incurred to construct the in-kind replacement transmission facility must be allocated in a manner consistent with the cost allocation method that would have otherwise applied to that facility, which could include a regional cost allocation method.

³⁶⁴¹ Entergy Initial Comments at 39; Eversource Initial Comments at 54.

1721. We also confirm, in response to comments from CTC Global, that benefits associated with a potential right-sized replacement transmission facility to address Long-Term Transmission Needs should be evaluated in the same manner as for any potential regional transmission facility that could address those needs, which includes evaluating all of the costs of, and all of the benefits provided by, the right-sized replacement transmission facility consistent with reforms outlined in this final order.

1722. In response to Exelon's comments that the NOPR proposal relies on incorrect assumptions regarding the transmission provider identifying an in-kind replacement transmission facility and its cost, as well as there being an overlap between the displaced transmission facility and the right-sized replacement transmission facility, we disagree and note that these conditions are prerequisites that serve as the foundation for the right-sizing requirement. Where a transmission provider has not identified an in-kind replacement transmission facility that could be right-sized to address Long-Term Transmission Needs more efficiently or cost-effectively, no basis exists to select a right-sized replacement transmission facility.

4. Miscellaneous

a. Comments

1723. Some commenters recommend that the Commission adopt confidentiality safeguards.³⁶⁴² AEP and Indicated PJM TOs contend that the Commission must adopt confidentiality provisions to ensure that information related to right-sizing is not shared beyond the regional planning entity because identification of end-of-life transmission facilities demonstrates potential vulnerabilities that could create security and reliability risks and could also provide advantages to competitors.³⁶⁴³ WIRES argues that the Commission should allow for the transmission owner to provide to the transmission provider a non-public, confidential, non-binding list of transmission facilities that may need to be replaced based on an appropriate time horizon as determined by the transmission provider.³⁶⁴⁴ SERTP Sponsors request that the Commission protect CEII information for transmission facilities that are anticipated to be replaced.³⁶⁴⁵

³⁶⁴² AEP Initial Comments at 46; Exelon Initial Comments at 57-58; Indicated PJM TOs Initial Comments at 45-46; SERTP Sponsors Initial Comments at 39; WIRES Initial Comments at 10.

³⁶⁴³ AEP Initial Comments at 46; Indicated PJM TOs Initial Comments at 45.

³⁶⁴⁴ WIRES Initial Comments at 10.

³⁶⁴⁵ SERTP Sponsors Initial Comments at 39.

1724. Conversely, PJM States request that the Commission require the information on the in-kind replacement estimate list to be non-confidential to the greatest extent possible or to require justification as to why confidentiality is merited.³⁶⁴⁶

³⁶⁴⁶ PJM States Initial Comments at 7-8.

1725. Several commenters call for the Commission to increase scrutiny on, or alter the presumption of prudence for, transmission projects related to the right-sizing reform.³⁶⁴⁷ American Municipal Power argues that if an incumbent transmission owner replaces local transmission facilities at the end of their useful lives despite a determination that a right-sized replacement transmission facility is the more efficient or cost-effective transmission solution, the incumbent transmission owner's in-kind replacement should be presumed to be unjust and unreasonable for purposes of cost recovery.³⁶⁴⁸

³⁶⁴⁷ American Municipal Power Initial Comments at 29-30; California Commission Initial Comments at 114-115; California Water Initial Comments at 9; Harvard ELI Initial Comments at 5; Massachusetts Attorney General Initial Comments at 52; Ohio Consumers Initial Comments at 23-24; Pine Gate Initial Comments at 49-50; PIOs Initial Comments at 58; Resale Iowa Initial Comments at 9; TAPS Initial Comments at 6-7, 67-68.

³⁶⁴⁸ American Municipal Power Initial Comments at 29.

1726. ACEG asserts that the Commission has the authority under FPA section 205 to review replacement transmission facility projects and address problems in the local transmission planning process.³⁶⁴⁹ LS Power argues that the Commission should use its existing authority to confirm through show cause orders that transmission providers are evaluating whether local transmission solutions can be displaced by a regional transmission solution that is more efficient or cost-effective.³⁶⁵⁰

³⁶⁴⁹ ACEG Initial Comments at 57.

³⁶⁵⁰ LS Power Initial Comments at 145 (citing LS Power ANOPR Initial Comments at 134-135).

1727. Similarly, TAPS asserts that the NOPR imposes no consequences on transmission owners that proceed with in-kind replacement projects even when the transmission planning region has selected more efficient and cost-effective alternatives for regional cost allocation. TAPS argues that the Commission should exclude cost recovery for such facilities from the scope of formula rates and require transmission owners to make a separate filing pursuant to FPA section 205. Alternatively, TAPS states that the Commission should impose a presumption of imprudence and require such transmission owners to demonstrate that the proposed replacement is more cost-effective and efficient than the alternative selected by the transmission planning region.³⁶⁵¹

³⁶⁵¹ TAPS Initial Comments at 6-7, 67-68 (citations omitted).

1728. On the other hand, PG&E argues that the Commission should clarify that a transmission owner's right to decline to proceed with a selected right-sized replacement transmission facility does not justify disallowance of cost recovery for the in-kind replacement transmission facility.³⁶⁵²

³⁶⁵² PG&E Initial Comments at 14.

1729. Several commenters support consideration of alternative transmission technologies and grid enhancing technologies when evaluating right-sized replacement transmission facilities.³⁶⁵³ CTC Global urges the Commission to require all transmission owners with a line requiring in-kind replacement within 10 years to analyze whether a transmission line's conductor should be replaced with an advanced conductor through rebuild or reconductoring.³⁶⁵⁴ PIOs argue that right-sizing opportunities should include increasing voltage, adding circuits, and utilizing advanced technologies, and further argue that right-sized replacement transmission facilities that use grid enhancing technologies can create economies of scale to capture public policy and economic benefits in addition to reliability.³⁶⁵⁵ VEIR agrees with the Commission's proposal to include advanced conductors in its definition of right-sizing, explaining that superconductors can enable a five-fold increase in the power flow capacity of an existing transmission corridor. VEIR therefore urges the Commission to explicitly affirm that the deployment of advanced conductors would constitute right-sizing.³⁶⁵⁶

³⁶⁵³ CTC Global Initial Comments at 18, 20; Maryland Energy Administration Reply Comments at 5-6; NARUC Initial Comments at 58-59; PIOs Initial Comments at 57-58; VEIR Initial Comments at 6.

³⁶⁵⁴ CTC Global Initial Comments at 18.

³⁶⁵⁵ PIOs Initial Comments at 57-58 (citing PIOs ANOPR Initial Comments at 50).

³⁶⁵⁶ VEIR Initial Comments at 6.

1730. Some commenters argue that the NOPR's right-sizing proposal is insufficient and call upon the Commission to take further action.³⁶⁵⁷ For example, ACEG, American Municipal Power, and California Commission argue that the Commission should expand the scope of the right-sizing proposal.³⁶⁵⁸ American Municipal Power argues that the Commission should require RTOs/ISOs to plan for all new transmission facilities that have regional impacts, including: (1) transmission facilities that meet the North American Electric Reliability Corporation Bulk Electric System definition; and (2) transmission projects that will replace an existing transmission facility that was turned over to the RTO/ISO irrespective of the voltage.³⁶⁵⁹ Similarly, LS Power argues that the Commission has the authority to require regional transmission planning for existing transmission facilities reaching the end of operational life, and that such transmission planning should be performed by an independent transmission planner.³⁶⁶⁰

³⁶⁵⁷ ACEG Initial Comments at 57; American Municipal Power Initial Comments at 25-26; American Municipal Power Reply Comments at 5; California Commission Initial Comments at 106-108; California Water Initial Comments at 10; Competition Coalition Initial Comments at 68-70; Grid United Initial Comments at 3-4; Harvard ELI Initial Comments at 4-5; LS Power Initial Comments at 136, 138, 141-142, 145-146; Ohio Consumers Initial Comments at 24; PIOs Initial Comments at 53; TAPS Initial Comments at 6, 64-65.

³⁶⁵⁸ See ACEG Initial Comments at 57-58; American Municipal Power Initial Comments at 25-26; American Municipal Power Reply Comments at 5; California Commission Initial Comments at 113-118.

³⁶⁵⁹ American Municipal Power Reply Comments at 5.

³⁶⁶⁰ LS Power Initial Comments at 83-84, 141 (citations omitted).

1731. Massachusetts Attorney General asserts that all right-sized replacement transmission facilities should be subject to cost containment, stating that transmission owners may present transmission projects that look like good opportunities for right-sizing at low cost, but without cost containment and competition, the final cost could be much higher.³⁶⁶¹ ACEG argues that the Commission could issue policy guidance regarding its scope and process for review of new replacement transmission facilities in transmission rate cases.³⁶⁶²

³⁶⁶¹ Massachusetts Attorney General Initial Comments at 52.

³⁶⁶² ACEG Initial Comments at 57 (citation omitted).

1732. Competition Coalition and LS Power argue that the Commission should protect customers by expanding the benefits of regional transmission planning and competition to all transmission projects 100 kV and above.³⁶⁶³ Ameren responds that this request by LS Power to expand the range of transmission projects subject to competition is outside the scope of the NOPR.³⁶⁶⁴

³⁶⁶³ Competition Coalition Initial Comments at 68-69; LS Power Initial Comments at 136, 141 (citations omitted); LS Power and NRG Post-Technical Conference Comments at 10 & n.17 (noting that its comment on this issue is attributed to LS Power only).

³⁶⁶⁴ Ameren Reply Comments at 15 (citing LS Power Initial Comments at 116).

1733. Harvard ELI favors additional scrutiny of right-sized replacement transmission facilities. Harvard ELI states generally that the Commission could address the perverse incentives of current rules leading to a focus on local transmission development by subjecting local transmission planning to heightened scrutiny.³⁶⁶⁵

³⁶⁶⁵ Harvard ELI Initial Comments at 4.

1734. PIOs claim that the Commission should consider an “ROE subtractor” analogous to an ROE adder that automatically reduces ROE with certain criteria.³⁶⁶⁶

³⁶⁶⁶ PIOs Initial Comments at 53.

b. Commission Determination

1735. We decline to adopt ACEG's and LS Power's requests that the Commission itself review in-kind replacement transmission facilities, via section 205 or 206 authority or through policy guidance, to ensure that they cannot be displaced by a regional transmission solution that is more efficient or cost-effective.³⁶⁶⁷ These arguments are outside the scope of this proceeding because the Commission did not propose in the NOPR that the Commission review in-kind replacement transmission facilities or local transmission facilities.

³⁶⁶⁷ ACEG Initial Comments at 57 (citations omitted); LS Power Initial Comments at 145-146 (citing LS Power ANOPR Initial Comments at 134-135).

1736. We decline to adopt commenters' requests for additional confidentiality safeguards related to right-sizing.³⁶⁶⁸ We note that a transmission provider's list of in-kind replacement estimates (i.e., estimates of the transmission facilities operating at and above the specified kV threshold that an individual transmission provider that owns the transmission facility anticipates replacing in-kind with a new transmission facility during the next 10 years) is a non-binding estimate and does not require that transmission provider to undertake replacement work. To the extent that customers or stakeholders request access to a transmission provider's list of in-kind replacement estimates, that transmission provider may subject access to that list of in-kind replacement estimates to confidentiality provisions. However, once the transmission providers have determined, as part of Long-Term Regional Transmission Planning, that an in-kind replacement transmission facility can be right-sized to constitute a right-sized replacement transmission facility, we find that the transmission providers must make public the underlying in-kind replacement transmission facility.

³⁶⁶⁸ AEP Initial Comments at 46; Exelon Initial Comments at 57-58; Indicated PJM TOs Initial Comments at 45-46; SERTP Sponsors Initial Comments at 39; WIRES Initial Comments at 10.

1737. We decline to adopt commenter requests for increased scrutiny of, or altering the presumption of prudence for, transmission projects related to right-sizing.³⁶⁶⁹ We reject these requests as outside the scope of this proceeding because the Commission did not propose in the NOPR to increase scrutiny of in-kind replacement transmission facilities beyond the right-sizing proposal and did not propose to alter existing Commission policy on prudence. Likewise, in response to PG&E's request for clarification that a transmission provider's declining to proceed with a right-sized replacement transmission facility does not justify disallowance of cost recovery for the in-kind replacement transmission facility, nothing in the reforms we adopt here alters existing Commission policy on cost recovery for transmission facilities.³⁶⁷⁰

³⁶⁶⁹ American Municipal Power Initial Comments at 29-30; California Commission Initial Comments at 114-115; California Water Initial Comments at 9; Harvard ELI Initial Comments at 4; Massachusetts Attorney General Initial Comments at 52; Mississippi Commission Initial Comments at 30; Ohio Consumers Initial Comments at 23; Pine Gate Initial Comments at 49-50; PIOs Initial Comments at 58; Resale Iowa Initial Comments at 9; TAPS Initial Comments at 6-7, 67.

³⁶⁷⁰ New England Power Co., 31 FERC ¶ 61,047, at 61,084 (1985) (explaining that the Commission evaluates “prudence of the utility's actions and the costs resulting therefrom based on the particular circumstances existing either at the time the challenged costs were actually incurred, or the time the utility became committed to incur those expenses”).

1738. We acknowledge commenter support for the consideration of alternative transmission technologies with regard to right-sizing.³⁶⁷¹ However, we find that adopting additional requirements for consideration of alternative transmission technologies with respect to right-sizing are unnecessary. This is because, as discussed in the Consideration of Dynamic Line Ratings and Advanced Power Flow Control Devices section of this final order, we require transmission providers in each transmission planning region to more fully consider, in Long-Term Regional Transmission Planning and existing Order No. 1000 regional transmission planning, dynamic line ratings, advanced power flow control devices, advanced conductors, and transmission switching.³⁶⁷² We believe that the requirements in the Consideration of Dynamic Line Ratings and Advanced Power Flow Control Devices section of this final order adequately address consideration of alternative transmission technologies in the regional transmission planning process, including when considering right-sizing.

³⁶⁷¹ CTC Global Initial Comments at 18, 20; Maryland Energy Administration Reply Comments at 5-6; NARUC Initial Comments at 58-59, 63-64; PIOs Initial Comments at 57-58; VEIR Initial Comments at 6.

³⁶⁷² See Consideration of Dynamic Line Ratings and Advanced Power Flow Control Devices section.

1739. Some commenters request that the Commission take other actions and suggest alternative reforms to the Commission's proposal related to right-sizing.³⁶⁷³ We find these requests to be outside the scope of this proceeding and lacking in record support to adequately consider whether to adopt them in this final order.

³⁶⁷³ ACEG Initial Comments at 57; American Municipal Power Initial Comments at 5, 25; American Municipal Power Reply Comments at 5; California Commission Initial Comments at 106-108; California Water Initial Comments at 10; Competition Coalition Initial Comments at 68-69; Grid United Initial Comments at 3-4; Harvard ELI Initial Comments at 4; LS Power Initial Comments at 83, 136, 138, 141-142, 145-146; Massachusetts Attorney General Initial Comments at 52; Ohio Consumers Initial Comments at 24; PIOs Initial Comments at 53; TAPS Initial Comments at 6, 64-65.

X. Interregional Transmission Coordination

A. NOPR Proposal

1740. In the NOPR, the Commission proposed to require each transmission provider to revise its existing interregional transmission coordination procedures to reflect the Long-Term Regional Transmission Planning reforms proposed in the NOPR.³⁶⁷⁴

³⁶⁷⁴ NOPR, 179 FERC ¶ 61,028 at P 426.

1741. Specifically, the Commission proposed to require transmission providers in neighboring transmission planning regions to revise their existing interregional transmission coordination procedures (and regional transmission planning processes as needed) to provide for: (1) the sharing of information regarding their respective transmission needs identified in Long-Term Regional Transmission Planning, as well as potential transmission facilities to meet those needs; and (2) the identification and joint evaluation of interregional transmission facilities that may be more efficient or cost-effective transmission facilities to address transmission needs identified through Long-Term Regional Transmission Planning.³⁶⁷⁵

³⁶⁷⁵ Id. P 427.

1742. The Commission also proposed to require transmission providers in neighboring transmission planning regions to revise their interregional transmission coordination procedures (and regional transmission planning processes as needed) to allow an entity to propose an interregional transmission facility in the regional transmission planning process as a potential solution to transmission needs identified through Long-Term Regional Transmission Planning.³⁶⁷⁶ The Commission noted that this proposal would align the existing requirement for an entity to propose an interregional transmission facility in the regional transmission planning processes of each of the neighboring transmission planning regions in which the transmission facility is proposed to be located with the proposed requirement for transmission providers to conduct Long-Term Regional Transmission Planning as part of their regional transmission planning processes.

³⁶⁷⁶ Id. P 428.

1743. The Commission stated that this proposed reform aims to ensure that transmission needs driven by changes in the resource mix and demand identified through Long-Term Regional Transmission Planning can be considered in existing interregional transmission coordination and cost allocation processes.³⁶⁷⁷ The Commission preliminarily concluded that the proposed interregional transmission coordination reforms will also ensure that there is an opportunity for the transmission providers in neighboring transmission planning regions to consider whether there are interregional transmission facilities that could more efficiently or cost-effectively meet the transmission needs identified through Long-Term Regional Transmission Planning, in turn helping to ensure just and reasonable Commission-jurisdictional rates.

³⁶⁷⁷ Id. P 429.

B. Comments

1744. Many commenters support the Commission's proposal to require transmission providers to revise their existing interregional transmission coordination procedures to reflect the Long-Term Regional Transmission Planning reforms proposed in the NOPR.³⁶⁷⁸ Such commenters assert that this proposed reform would give transmission providers in neighboring transmission planning regions the opportunity to consider whether interregional transmission facilities could meet the transmission needs identified through Long-Term Regional Transmission Planning in a more efficient or cost-effective manner than separate regional transmission facilities, which would help to ensure just and reasonable rates.

³⁶⁷⁸ Acadia Center and CLF Initial Comments at 23-24; ACEG Initial Comments at 74; Ameren Initial Comments at 47; Arizona Commission Initial Comments at 10; BP Initial Comments at 13-14; Breakthrough Energy Initial Comments at 2; California Commission Initial Comments at 118-121; California Energy Commission Initial Comments at 4; California Water Initial Comments at 20-21; Clean Energy Associations Initial Comments at 40-42; EEI Initial Comments at 48; Enel Initial Comments at 4-5; Eversource Initial Comments at 55-56; Exelon Initial Comments at 60-61; Grid United Initial Comments at 7-9; Idaho Power Initial Comments at 13; Indiana Commission Initial Comments at 7-9; Interwest Initial Comments at 18-20; MISO Initial Comments at 88-89; NARUC Initial Comments at 67-70; National and State Conservation Organizations Initial Comments at 1-2; Northwest and Intermountain Initial Comments at 10, 22; OMS Initial Comments at 18-20; Pennsylvania Commission Initial Comments at 23-25; Pine Gate Initial Comments at 50-51; PIOs Initial Comments at 75-79; PJM Initial Comments at 9-10, 123-125; R Street Initial Comments at 4-5; State Agencies Initial Comments at 22-23; State Officials Supplemental Comments at 1 (citing U.S. Climate Alliance Initial Comments at 3); U.S. Climate Alliance Initial Comments at 3; U.S. DOE Initial Comments at 38-40; U.S. DOJ and FTC Initial Comments at 19-20.

1745. Some commenters condition their support on the Commission providing transmission providers with flexibility. For example, EEI asserts that providing transmission providers with flexibility in developing Long-Term Regional Transmission Planning will help ensure that transmission planning regions can determine the processes that work for them and collaborate with neighboring regions.³⁶⁷⁹ Idaho Power requests that the Commission allow flexibility in the methods used to determine transmission benefits.³⁶⁸⁰ Pennsylvania Commission conditions its support on the Commission maintaining flexibility for transmission providers to define criteria for considering and selecting transmission facilities, including criteria that permit the selection of proposed regional transmission facilities over a proposed interregional transmission facility.³⁶⁸¹

³⁶⁷⁹ EEI Initial Comments at 48.

³⁶⁸⁰ Idaho Power Initial Comments at 13.

³⁶⁸¹ Pennsylvania Commission Initial Comments at 24-25.

1746. Other commenters suggest that the Commission could improve the proposed reforms to interregional transmission coordination by requiring additional information sharing. For example, U.S. DOE recommends that the Commission require neighboring transmission planning regions to share information with one another about their geographic zones.³⁶⁸² California Energy Commission recommends that transmission providers be required to share with neighboring transmission planning regions how other planning processes, such as integrated resource plans, resource adequacy, and state requirements, are considered in regional transmission planning.³⁶⁸³ State Agencies suggest that transmission providers should provide an annual report to the Commission on their interregional transmission coordination activities, including the number of interregional transmission projects identified, the results of the cost/benefit evaluation overall and to each transmission planning region, whether other regions have been or should be included to maximize the value of the project, and any barriers to development of interregional transmission projects.³⁶⁸⁴ NARUC urges the Commission to encourage additional coordination and information sharing between non-RTO/ISO transmission planning regions like NorthernGrid and WestConnect.³⁶⁸⁵

³⁶⁸² U.S. DOE Initial Comments at 18-20.

³⁶⁸³ California Energy Commission Initial Comments at 4.

³⁶⁸⁴ State Agencies Initial Comments at 23.

³⁶⁸⁵ NARUC Initial Comments at 69-70.

1747. Pattern Energy asserts that the Commission should require neighboring transmission planning regions to hold forums for stakeholders to discuss right-sizing or expanding proposed regional transmission facilities in consideration of the needs of both regions.³⁶⁸⁶ Further, Pattern Energy argues that if no interregional transmission facilities are approved in a Long-Term Regional Transmission Planning cycle, the Commission should require transmission planning regions to provide transparent reasoning to help stakeholders and regulators understand whether interregional transmission coordination requires reform.³⁶⁸⁷

³⁶⁸⁶ Pattern Energy Reply Comments at 14.

³⁶⁸⁷ Id. at 14-15.

1748. MISO asserts that the Commission should institute a separate and longer compliance period for the interregional transmission coordination requirements than for the regional transmission planning requirements proposed in this rulemaking.³⁶⁸⁸ Further, to reduce the compliance burden on transmission providers, MISO requests that the Commission include all interregional transmission coordination and planning requirements in a single rulemaking rather than require interregional compliance in multiple, separate proceedings.³⁶⁸⁹

³⁶⁸⁸ MISO Initial Comments at 89.

³⁶⁸⁹ Id. at 88-89.

1749. Many commenters assert that the Commission's proposals with respect to interregional transmission coordination do not go far enough.³⁶⁹⁰ Several commenters urge the Commission to require holistic interregional transmission planning and cost allocation.³⁶⁹¹ Some commenters encourage the Commission to require a minimum amount of Interregional Transfer Capability between neighboring transmission planning regions.³⁶⁹² Several commenters urge the Commission to require neighboring transmission planning regions to adopt a common system model and planning assumptions, common Long-Term Scenarios, and consistent data inputs.³⁶⁹³ AEP argues that the Commission should require consistency across transmission planning regions in terms of the transmission planning horizon, planning frequency, and minimum set of benefits considered.³⁶⁹⁴

³⁶⁹⁰ See, e.g., ACEG Initial Comments at 76-78; Breakthrough Energy Initial Comments at 2; Clean Energy Associations Initial Comments at 41-42; Enel Initial Comments at 4-5; Evergreen Action Initial Comments at 5-6; Eversource Initial Comments at 56; Grid United Initial Comments at 7-8; Indiana Commission Initial Comments at 9; Interwest Initial Comments at 18-19; Invenergy Reply Comments at 18; National Grid Initial Comments at 20; OMS Initial Comments at 18; Pattern Energy Reply Comments at 12-15; Pine Gate Initial Comments at 50-51; PIOs Initial Comments at 75-77; PJM Initial Comments at 9-10, 123-124; Rail Electrification Initial Comments at 2, 8-11; RMI Initial Comments at 1-2; State Agencies Initial Comments at 23; Transmission Dependent Utilities Initial Comments at 6-7; U.S. DOE Initial Comments at 38-39; Xcel Initial Comments at 17.

³⁶⁹¹ See, e.g., ACEG Initial Comments at 76-78; Clean Energy Associations Initial Comments at 41-42; Enel Initial Comments at 4-5; Evergreen Action Initial Comments at 5-6; Grid United Initial Comments at 7-8; Indiana Commission Initial Comments at 9; Interwest Initial Comments at 18-19; Invenergy Reply Comments at 18; National Grid Initial Comments at 20; OMS Initial Comments at 18; Pattern Energy Reply Comments at 12-15; Pine Gate Initial Comments at 50-51; PIOs Initial Comments at 75-77; PJM Initial Comments at 9-10, 123-124; Rail Electrification Initial Comments at 2, 8-11; RMI Initial Comments at 1-2; Shell Reply Comments at 8-9; U.S. DOE Initial Comments at 38-39; Xcel Initial Comments at 17.

³⁶⁹² See, e.g., ACEG Initial Comments at 70-76; AEP Initial Comments at 17-18; Breakthrough Energy Initial Comments at 2; Evergreen Action Initial Comments at 5-6; Eversource Initial Comments at 55-56; Interwest Initial Comments at 18-20; Invenergy Initial Comments at 20-27; Invenergy Reply Comments at 19-22; Kansas Commission Initial Comments at 4-10; PJM Initial Comments at 9-10, 123-125.

³⁶⁹³ Hannon Armstrong Reply Comments at 1; Invenergy Reply Comments at 19-22; National Grid Initial Comments at 19-20; Transmission Dependent Utilities Initial Comments at 6-7; U.S. DOE Initial Comments at 18-21.

³⁶⁹⁴ AEP Reply Comments at 3-5.

1750. MISO encourages the Commission to examine interregional transmission planning, including analysis of the assumptions related to transfer capacity and the effectiveness of collaboration between RTO and non-RTO neighbors, in a separate docket.³⁶⁹⁵ Eversource and State Agencies suggest that the Commission encourage RTOs/ISOs to increase staffing to address interregional transmission planning.³⁶⁹⁶ National Grid suggests that the Commission provide appropriate rate incentives for interregional transmission facilities.³⁶⁹⁷ Rail Electrification urges the Commission to support the siting of large interregional transmission facilities along available interstate transportation rights-of-way to advance the grid of the future more quickly.³⁶⁹⁸

³⁶⁹⁵ MISO Reply Comments at 29-30.

³⁶⁹⁶ Eversource Initial Comments at 55-56; State Agencies Initial Comments at 23.

³⁶⁹⁷ National Grid Initial Comments at 20.

³⁶⁹⁸ Rail Electrification Initial Comments at 8-12.

C. Commission Determination

1751. We adopt, with modification, the NOPR proposal to require transmission providers in each transmission planning region to revise their existing interregional transmission coordination procedures to reflect the Long-Term Regional Transmission Planning reforms adopted in this final order. Specifically, we adopt the NOPR proposal to require transmission providers in neighboring transmission planning regions to revise their existing interregional transmission coordination procedures (and regional transmission planning processes, as needed) to provide for: (1) the sharing of information regarding their respective Long-Term Transmission Needs, as well as Long-Term Regional Transmission Facilities to meet those needs; and (2) the identification and joint evaluation of interregional transmission facilities that may be more efficient or cost-effective transmission facilities to address Long-Term Transmission Needs.

1752. Additionally, we adopt the NOPR proposal to require transmission providers in neighboring transmission planning regions to revise their interregional transmission coordination procedures (and regional transmission planning processes, as needed) to allow an entity to propose an interregional transmission facility in the regional transmission planning process as a potential solution to Long-Term Transmission Needs. We find that this requirement will align the existing requirement, for an entity to propose an interregional transmission facility in the regional transmission planning processes of each of the neighboring transmission planning regions in which the transmission facility is proposed to be located, with the new requirement in this final order for transmission providers to conduct Long-Term Regional Transmission Planning as part of their regional transmission planning processes.

1753. In response to commenter requests for additional information sharing and transparency of the interregional transmission coordination process, we find that additional transparency as applied to Long-Term Regional Transmission Planning is warranted.³⁶⁹⁹ Order No. 1000 requires that transmission providers in neighboring transmission planning regions maintain a website or email list for the communication of information related to interregional transmission coordination procedures.³⁷⁰⁰ We modify the NOPR proposal, and require transmission providers in each transmission planning region to provide the following additional information concerning Long-Term Regional Transmission Planning on their public website or through the email list used for communication of information related to interregional transmission coordination procedures: (1) the Long-Term Transmission Needs discussed in the interregional transmission coordination meetings; (2) any interregional transmission facilities proposed or identified in response to Long-Term Transmission Needs; (3) the voltage level, estimated cost, and estimated in-service date of the interregional transmission facilities proposed or identified as part of Long-Term Regional Transmission Planning; (4) the results of any cost-benefit evaluation of such interregional transmission facilities, with such results including both any overall benefits identified (which may occur across multiple transmission planning regions), as well as any benefits particular to each transmission planning region; and (5) the interregional transmission facilities, if any, selected to meet Long-Term Transmission Needs. We find that this modification will enhance transparency and facilitate stakeholder engagement in the interregional transmission coordination procedures as applied to Long-Term Regional Transmission Planning, thereby ensuring just and reasonable rates. We believe that this requirement to make this information publicly available will not create a significant burden because transmission providers will already share or develop such information with the transmission providers in neighboring transmission planning regions to comply with the requirement in this final order to revise their existing interregional transmission coordination procedures to reflect the Long-Term Regional Transmission Planning reforms.

³⁶⁹⁹ See, e.g., California Energy Commission Initial Comments at 4; NARUC Initial Comments at 69-70; Pattern Energy Reply Comments at 14-15; State Agencies Initial Comments at 23.

³⁷⁰⁰ Order No. 1000, 136 FERC ¶ 61,051 at PP 345, 458.

1754. Taken together, we find that these reforms will ensure that Long-Term Transmission Needs identified through Long-Term Regional Transmission Planning can be considered in existing interregional transmission coordination and cost allocation processes. Further, doing so will ensure that there is an opportunity for the transmission providers in neighboring transmission planning regions to consider whether there are interregional transmission facilities that could more efficiently or cost-effectively address the identified Long-Term Transmission Needs, in turn helping to ensure just and reasonable Commission-jurisdictional rates.

1755. We decline to require the transmission providers in neighboring transmission planning regions to hold forums for stakeholders to discuss right-sizing or expanding proposed regional transmission facilities in consideration of the transmission needs of both regions, as requested by Pattern Energy. The Commission did not propose such a reform in the NOPR, and we decline to require it here.

1756. Regarding Idaho Power's request that the Commission provide transmission providers with flexibility in the methods used to determine the benefits of interregional transmission facilities, we note that this issue is addressed above in the Evaluation of the Benefits of Regional Transmission Facilities section of this final order.³⁷⁰¹ Regarding Pennsylvania Commission's comment that its support for the interregional transmission coordination reforms proposed in the NOPR are conditioned on the Commission maintaining flexibility for transmission providers to define criteria for considering and selecting transmission facilities, we note that the requirements regarding selection criteria are addressed in the section above on the Evaluation and Selection of Long-Term Regional Transmission Facilities.³⁷⁰²

³⁷⁰¹ See supra Evaluation of the Benefits of Regional Transmission Facilities section.

³⁷⁰² See supra Evaluation and Selection of Long-Term Regional Transmission Facilities section.

1757. Regarding MISO's request for a longer compliance period for transmission providers to comply with the interregional transmission coordination requirements of this final order, we address MISO's request in the Compliance section below.³⁷⁰³

³⁷⁰³ See infra Compliance Procedures section.

1758. With respect to commenter requests for the Commission to: (1) require holistic interregional transmission planning and cost allocation; (2) require a minimum amount of Interregional Transfer Capability between neighboring transmission planning regions; (3) require neighboring transmission planning regions to adopt a common system model, consistent data inputs, and a uniform transmission planning horizon and transmission planning frequency; (4) encourage RTOs/ISOs to increase staffing to address interregional transmission planning; (5) adopt new rate incentives for interregional transmission facilities; and (6) support the siting of large interregional transmission facilities along available transportation rights-of-way, we find such requests to be outside the scope of this proceeding. We recognize that one or more of these reforms hold the potential to enhance system reliability or provide significant consumer benefits. However, the Commission did not propose such reforms in the NOPR, and we decline to adopt them in the final order. However, we note that the Commission currently has an open proceeding in Docket No. AD23-3-000 to consider whether and how to establish a minimum requirement for Interregional Transfer Capability, and may consider further reforms in other proceedings, as appropriate.³⁷⁰⁴

³⁷⁰⁴ See Supplemental Notice of Staff-Led Workshop, Establishing Interregional Transfer Capability Transmission Planning and Cost Allocation Requirements, Docket No. AD23-3-000 (Nov. 30, 2022).

XI. Compliance Procedures

A. NOPR Proposal

1759. In the NOPR, the Commission proposed to require each transmission provider to submit a compliance filing within eight months of the effective date of any final order in this proceeding revising its OATT and other document(s) subject to the Commission's jurisdiction as necessary to demonstrate that it meets the requirements adopted in any final order in this proceeding.³⁷⁰⁵ The Commission proposed that transmission providers that are not public utilities would have to adopt the requirements adopted in any final order in this proceeding as a condition of maintaining the status of their safe harbor tariff or otherwise satisfying the reciprocity requirement of Order No. 888.³⁷⁰⁶

³⁷⁰⁵ NOPR, 179 FERC ¶ 61,028 at P 430.

³⁷⁰⁶ Id. P 432 (citing Order No. 888, FERC Stats. & Regs. ¶ 31,036 at 31,760-63).

1760. Additionally, in the NOPR, the Commission proposed to require transmission providers to demonstrate on compliance that proposed variations from the requirements in the final order are consistent with or superior to the final order.³⁷⁰⁷

³⁷⁰⁷ Id. PP 74-75, 105, 229.

B. Comments

1761. Several commenters support a compliance period of eight months or more to allow stakeholders, including Relevant State Entities, sufficient time to negotiate and agree on proposals to comply with this rulemaking.³⁷⁰⁸ PJM states that while an eight-month period to submit compliance filings is reasonable, the Commission should thereafter allow time for transmission planners to develop the tools and hire the employees they will need to implement the final order.³⁷⁰⁹ NEPOOL states that the Commission should be flexible in considering requests for extensions of time.³⁷¹⁰ Pacific Northwest State Agencies urge the Commission to provide flexibility rather than a rigid time period of eight months to comply with the final order.³⁷¹¹

³⁷⁰⁸ Idaho Power Initial Comments at 14; ISO-NE Initial Comments at 41; MISO Initial Comments at 90; NARUC Initial Comments at 50-51; NEPOOL Initial Comments at 10; NESCOE Reply Comments at 9 (citing ISO-NE Initial Comments at 41); North Carolina Commission and Staff Initial Comments at 17; Northwest and Intermountain Initial Comments at 22-23; Pacific Northwest State Agencies Initial Comments at 28; PJM Initial Comments at 10, 129.

³⁷⁰⁹ PJM Initial Comments at 10, 129.

³⁷¹⁰ NEPOOL Initial Comments at 10.

³⁷¹¹ Pacific Northwest State Agencies Initial Comments at 28.

1762. Certain TDUs argue that the Commission should require transmission providers to submit compliance filings no later than 270 days after the final order becomes effective to reflect the requirements to include an ex ante Long-Term Regional Transmission Cost Allocation Method, define benefits, and identify the method by which benefits are selected.³⁷¹²

³⁷¹² Certain TDUs Initial Comments at 16.

1763. Some commenters request that the Commission provide longer than eight months to comply with the final order. For example, NARUC argues that eight months is unlikely to allow sufficient time for Relevant State Entities to meaningfully engage.³⁷¹³ Given the complexity of the proposals and the need to coordinate with stakeholders, Idaho Power and ISO-NE propose that the Commission allow at least one year for transmission providers to comply with the final order.³⁷¹⁴ For similar reasons, MISO urges the Commission to provide a compliance period of at least 18 months. In addition, to avoid interfering with ongoing transmission expansion efforts in some transmission planning regions, MISO argues that the Commission should allow such regions to propose their own compliance date or instead should state that the final order would not apply to any such ongoing transmission expansion efforts, including MISO's Long-Range Transmission Planning initiative.³⁷¹⁵ Additionally, MISO requests that the new order and tariff revisions complying with the final order be made effective upon the Commission's acceptance of the filing party's compliance filing.³⁷¹⁶

³⁷¹³ NARUC Initial Comments at 50-51.

³⁷¹⁴ Idaho Power Initial Comments at 14; ISO-NE Initial Comments at 41.

³⁷¹⁵ MISO Initial Comments at 90-92.

³⁷¹⁶ Id. at 90-91; MISO Reply Comments at 32.

1764. PJM states that it would be more efficient and less confusing if PJM could first build the long-term model and then comply with the selection and cost allocation requirements at a later date. PJM therefore requests that the Commission clarify whether it is necessary for transmission providers to develop compliance procedures with respect to selection and cost allocation of transmission projects to be selected through Long-Term Regional Transmission Planning before they have had a chance to create and finalize their long-term transmission planning processes.³⁷¹⁷

³⁷¹⁷ PJM Initial Comments at 98-104.

1765. MISO asserts that the Commission should allow a separate and longer compliance period for the interregional transmission coordination requirements.³⁷¹⁸

³⁷¹⁸ MISO Initial Comments at 89.

1766. Separately, MISO states that while the NOPR indicates that the Commission might permit regional flexibility in some areas, it adopts the “consistent with or superior to” legal standard for evaluating proposed deviations on compliance.³⁷¹⁹ MISO argues that this standard is too inflexible to achieve the Commission's objectives because it neither recognizes the independent nature of RTOs/ISOs nor has a built-in mechanism to acknowledge legitimate regional differences.³⁷²⁰ Therefore, MISO recommends that the Commission instead apply a version of the “independent entity” variation standard to RTOs/ISOs or otherwise make clear that the proposed reforms contemplate regional flexibility to allow RTOs to retain their best transmission planning practices, particularly those RTOs that are “early movers” of the types of reforms in the NOPR.³⁷²¹ If the Commission decides not to adopt the independent entity variation standard for this final order, MISO urges the Commission to clarify that it will recognize as “consistent with or superior to” any existing regional transmission planning processes that are substantially equivalent to the proposed requirements to avoid impeding progress already made, while compelling reform in transmission planning regions where needed.³⁷²²

³⁷¹⁹ MISO Reply Comments at 4 (citing NOPR, 179 FERC ¶ 61,028 at PP 74-75).

³⁷²⁰ MISO Initial Comments at 21-22; MISO Reply Comments at 5.

³⁷²¹ MISO Reply Comments at 4. For example, MISO states that its MVP and Long-Range Transmission Plan processes are broadly consistent with the principles and goals of the NOPR and some of its specific proposals, including development of multiple futures, review of various benefit metrics, and use of a 20-year transmission planning horizon. MISO states that repeating the extensive stakeholder effort involved in developing these processes to comply with the new requirements would stall its momentum. MISO Initial Comments at 10.

³⁷²² MISO Initial Comments at 25; MISO Reply Comments at 8-9.

1767. ISO-NE and ISO RTO Council argue that flexibility should extend to determining the rules for inclusion in the tariff, with implementation details in planning procedures or guides, consistent with the Commission's “rule of reason” standard.³⁷²³

³⁷²³ ISO-NE Initial Comments at 20; ISO/RTO Council Initial Comments at 8-9 (citing City of Cleveland v. FERC, 773 F.2d. at 1376).

C. Commission Determination

1768. We adopt the NOPR proposal, with modification, and require each transmission provider to submit a compliance filing within ten months of the effective date of this final order revising its OATT and other document(s) subject to the Commission's jurisdiction as necessary to demonstrate that it meets all of the requirements adopted in this final order, except those adopted in the Interregional Transmission Coordination section of this final order. In response to comments from NARUC, Idaho Power, ISO-NE, and MISO requesting a longer compliance timeline, we find that requiring a ten-month compliance period instead of the eight-month compliance period proposed in the NOPR will allow transmission providers to fully develop proposals to comply with this final order and allow stakeholders, including Relevant State Entities, to meaningfully engage in the process of developing such proposals. As discussed in the Implementation of Long-Term Regional Transmission Planning section, we require transmission providers in each transmission planning region to propose on compliance a date, no later than one year from the date on which initial filings to comply with this final order are due, on which they will commence the first Long-Term Regional Transmission Planning cycle (unless additional time is needed to align the first Long-Term Regional Transmission Planning cycle with existing transmission planning cycles). Therefore, transmission providers in each transmission planning region must propose an effective date for the OATT revisions necessary to comply with this final order that is no later than the date on which they will commence the first Long-Term Regional Transmission Planning cycle. However, transmission providers may propose an earlier effective date for some or all parts of their revised OATTs to allow them to begin implementing any aspects of the required reforms sooner than the one-year deadline to commence the first Long-Term Regional Transmission Planning cycle.

1769. We deny PJM's request for clarification to allow a later compliance deadline for the selection and cost allocation requirements of this final order and find it appropriate to require that transmission providers submit a compliance filing that addresses all the requirements of this final order within ten months of the effective date of this final order, with the exception of the requirements related to interregional transmission coordination, as previously noted.

1770. In response to MISO's request for a separate, longer compliance timeline for the interregional transmission coordination requirements, we also modify the NOPR proposal and require each transmission provider to submit a separate compliance filing within 12 months of the effective date of this final order revising its OATT and other document(s) subject to the Commission's jurisdiction as necessary to demonstrate that it meets the interregional transmission coordination requirements adopted in this final order.³⁷²⁴ We find that the additional time to comply with the interregional transmission coordination requirements will allow transmission providers to coordinate with the transmission providers in each of their neighboring transmission planning regions to develop interregional transmission coordination proposals.

³⁷²⁴ See supra Interregional Transmission Coordination section.

1771. Additionally, we adopt the proposed requirement that transmission providers that are not public utilities must adopt the requirements of this final order as a condition of maintaining the status of their safe harbor tariff or otherwise satisfying the reciprocity requirement of Order No. 888.³⁷²⁵

³⁷²⁵ NOPR, 179 FERC ¶ 61,028 at P 432 (citing Order No. 888, FERC Stats. & Regs. ¶ 31,036 at 31,760-63).

1772. In this final order, we make no changes to the standards used to judge requested variations, as described in Order Nos. 888, 2000, 890, and 1000.³⁷²⁶ Accordingly, we decline to grant MISO's request that the Commission apply the independent entity variation standard, rather than the “consistent with or superior to” standard, for proposed deviations from the requirements in this final order on compliance. Consistent with the Commission's findings in Order No. 890, we will continue to apply the “consistent with or superior to” standard in the context of transmission planning.³⁷²⁷

³⁷²⁶ Order No. 1000, 136 FERC ¶ 61,051 at P 815; Order No. 890, 118 FERC ¶ 61,119 at P 109; Order No. 2000, FERC Stats. & Regs. ¶ 31,089 at 31,164; Order No. 888, FERC Stats. & Regs. ¶ 31,036, at 31,769-70.

³⁷²⁷ Order No. 890, 118 FERC ¶ 61,119 at P 160.

1773. Regarding MISO's request for clarification, we decline to clarify as part of this final order that any existing transmission planning processes are consistent with or superior to the requirements in this final order. Rather, it is more appropriate for a transmission provider to submit such a request as part of its compliance filing, in which the transmission provider must demonstrate that any deviation from the requirements of this final order, including any existing processes and/or OATT provisions, are consistent with or superior to the requirements of this final order. Similarly, to the extent that a transmission provider believes that it already complies with any of the requirements of this final order, it should describe in its compliance filing how the relevant requirements are satisfied, including by referencing specific tariff sheets already on file with the Commission.

1774. In response to ISO-NE's and ISO RTO Council's comment that the final order should provide flexibility as to which implementation details should be included in planning procedures or guides consistent with the Commission's “rule of reason” standard, we note that the Commission has broad discretion in applying the rule of reason policy,³⁷²⁸ under which provisions that “significantly affect rates, terms, and conditions” of service, are realistically susceptible of specification, and are not generally understood in a contractual agreement, must be included in the tariff. The tariff need not include “mere implementation details,” ³⁷²⁹ which instead may be included only in the business practice manuals. “[E]ven specifiable practices that significantly affect rates need not be included if they are clearly implied by the tariff's express terms.” ³⁷³⁰ The final order specifies with respect to each requirement the information that must be incorporated into the transmission provider's OATT. We find that the requirements in this final order regarding what information transmission providers must specify in their tariff on compliance is consistent with the Commission's rule of reason policy.

³⁷²⁸ Hecate Energy Greene Cnty. 3 LLC v. FERC, 72 F.4th at 1314 (citing City of Cleveland v. FERC, 773 F.2d at 1376 (the FPA's “amorphous” requirement that tariffs include “practices affecting rates” means that the Commission has “broad discretion” in giving the act “concrete application.”)).

³⁷²⁹ Id. at 1312.

³⁷³⁰ Id. at 1314 (citing City of Cleveland v. FERC, 773 F.2d at 1376).

XII. Information Collection Statement

1775. The information collection requirements contained in this final order are subject to review by the Office of Management and Budget (OMB) under section 3507(d) of the Paperwork Reduction Act of 1995.³⁷³¹ OMB's regulations require approval of certain information collection requirements imposed by agency rules.³⁷³² Upon approval of a collection of information, OMB will assign an OMB control number and expiration date. Respondents subject to the filing requirements of this final order will not be penalized for failing to respond to these collections of information unless the collections of information display a valid OMB control number.

³⁷³¹ 44 U.S.C. 3507(d).

³⁷³² 5 CFR 1320.11.

1776. The reforms adopted in this final order revise the Commission's pro forma OATT to remedy deficiencies in the Commission's existing regional transmission planning and cost allocation and local transmission planning requirements to ensure that Commission-jurisdictional rates and practices are just and reasonable and not unduly discriminatory or preferential.

1777. In the NOPR, the Commission solicited comments on: the Commission's need for this information; whether the information will have practical utility; the accuracy of the burden estimates; ways to enhance the quality, utility, and clarity of the information to be collected or retained; and any suggested methods for minimizing respondents' burden, including the use of automated information techniques. The Commission received one comment from PJM specifically about the time and effort required to comply with the information collection requirement.³⁷³³

³⁷³³ PJM Initial Comments at 10, 125-29.

1778. PJM claims that the Commission significantly underestimates the cost for PJM and other transmission providers to comply with the final order. PJM states that its compliance will require additional staff of between seven to 14 new staff members and that the added cost will be at least $2.1 million per year. However, PJM adds that it generally supports the proposed reforms in the NOPR and provides this information only to give the Commission a better understanding of the time and costs associated with implementing the final order.³⁷³⁴

³⁷³⁴ Id. at 128-29.

1779. In response to PJM's comments on the NOPR, we note that this information collection statement estimates the burdens ³⁷³⁵ to generate, maintain, retain, or disclose or provide information to or for a Federal agency. In light of the information that PJM supplied, we have revised the table below to increase the estimated amount of labor required for a transmission provider to perform Long-Term Regional Transmission Planning.³⁷³⁶ We expect that the information collection requirements associated with updating these datasets for subsequent cycles will entail substantially less effort than the initial Long-Term Regional Transmission Planning cycle.

³⁷³⁵ “Burden” is the total time, effort, or financial resources expended by persons to generate, maintain, retain, or disclose or provide information to or for a Federal agency. For further explanation of what is included in the information collection burden, refer to 5 CFR 1320.3(b)(1).

³⁷³⁶ For example, for an entire transmission planning region, we anticipate that 10 people each working 2,000 hours per year would spend 20,000 hours per year to develop these datasets.

1780. Summary of the Revisions to the Collection of Information due to the final order in Docket No. RM21-17-000:

• Title: Electric Transmission Facilities (FERC-917).³⁷³⁷

³⁷³⁷ In the NOPR, in addition to proposing to revise the FERC-917 information collection, the Commission proposed to revise the pro forma LGIP and, therefore, to revise the FERC-516 information collection (Reform of Generator Interconnection Procedures and Agreements). In this final order, we decline to revise the pro forma LGIP, and therefore we are not revising the FERC-516 information collection.

• Action: Revision of collections of information in accordance with Docket No. RM21-17-000.

• OMB Control Nos.: 1902-0233 (FERC-917).

• Respondents: Transmission providers, including RTOs/ISOs.

• Frequency of Information Collection: One time during Year 1. Occasional times during subsequent years, at least once every five years.

• Necessity of Information: The reforms in this final order will correct deficiencies in the Commission's existing regional transmission planning and cost allocation requirements to ensure that Commission-jurisdictional rates remain just and reasonable and not unduly discriminatory or preferential.

• Internal Review: We have reviewed the reforms and have determined that such reforms are necessary. These reforms conform to the Commission's need for efficient information collection, communication, and management within the energy industry. We have specific, objective support for the burden estimates associated with the information collection requirements.

• Public Reporting Burden: The burden and cost estimates below are based on the need for applicable entities to revise documentation, already required by the Commission's pro forma OATT. Our estimates are based on the North American Electric Reliability Corporation Compliance Registry as of January 11, 2024, which indicates that there are 48 transmission service providers ³⁷³⁸ with OATTs and 118 transmission owners that are registered within the United States and are subject to this rulemaking.³⁷³⁹ Because 41 of the 118 transmission owners are also included in the count of 48 transmission service providers, there are 125 distinct entities (i.e., 125 distinct transmission providers 3740 3741 3742) in total that must comply this final order. We note that, for the purposes of regional transmission planning, these 125 entities are grouped into 11 transmission planning regions.

³⁷³⁸ The transmission service provider (TSP) function is a North American Electric Reliability Corporation registration function, which is similar to the transmission provider that is referenced in the pro forma OATT. The TSP function is being used as a proxy to estimate the number of transmission providers that are impacted by this proposed rulemaking.

³⁷³⁹ The number of entities listed from the North American Electric Reliability Corporation Compliance Registry reflects the omission of the Texas registered entities. Note that the 48 transmission providers with OATTs do not include non-public utility transmission providers with reciprocity tariffs.

³⁷⁴⁰ See supra note 2.

³⁷⁴¹ In the table, Year 1 figures are one-time implementation hours and cost. “Subsequent years” show ongoing burdens and costs starting in Year 2.

³⁷⁴² The hourly cost (for salary plus benefits) uses the figures from the Bureau of Labor Statistics (BLS) for three positions involved in the reporting and recordkeeping requirements. These figures include salary (based on BLS data for May 2022, issued April 25, 2023, http://bls.gov/oes/current/naics2_22.htm) and benefits (based on BLS data for September 2023; issued December 15, 2023, http://www.bls.gov/news.release/ecec.nr0.htm) and are Manager (Occupation Code 11-0000, $122.48/hour), Electrical Engineer (Occupation Code 17-2071, $89.04/hour), and File Clerk (Occupation Code 43-4071, $42.43/hour). The hourly cost for the reporting requirements ($105.76) is an average of the hourly cost (wages plus benefits) of a manager and engineer. The hourly cost for recordkeeping requirements uses the cost of a file clerk.

1781. We estimate that the final order would affect the burden and cost of FERC-917 as follows:

Changes Due to Final Order in Docket No. RM21-17-000 ³⁷⁴¹
Area of modification | Annual number of respondents | Total annual estimated number of responses | Average burden hours & cost ³⁷⁴² per response | total estimated burden hours & total estimated cost (column C × column D)
A | B | C | D | E
FERC-917, Electric Transmission Facilities (OMB Control No. 1902-0233)
Draft OATT revisions to comply with the requirements of the final order | 48 transmission providers with OATTs | 48 | One Time: 770 hours; $71,683 Ongoing: 0 hours per year; $0 per year | One Time: 36,960 hours; $3,440,783. Ongoing: 0 hours per year; $0 per year.
Establish a six-month time period during which transmission providers must, among other things, provide a forum for negotiation that enables participation by Relevant State Entities and to discuss potential Long-Term Regional Transmission Cost Allocation Methods and/or a State Agreement Process | 48 transmission providers with OATTs | 48 | One Time: 390 hours; $36,307 Ongoing: 0 hours per year; $0 per year | One Time: 18,720 hours; $1,742,734. Ongoing: 0 hours per year; $0 per year.
Participate in Long-Term Regional Transmission Planning, which includes creating and updating datasets, developing Long-Term Scenarios, evaluating the benefits of Long-Term Regional Transmission Facilities, and establishing criteria in consultation with Relevant State Entities and stakeholders to select Long-Term Regional Transmission Facilities in the regional transmission plan for purposes of cost allocation | 48 transmission providers with OATTs 77 transmission providers without OATTs | 48 77 | One Time: 0 hours; $0 Ongoing: 4,500 hours per year; $418,926 per year One Time: 0 hours; $0 Ongoing: 200 hours per year; $18,619 | One Time: 0 hours; $0. Ongoing: 216,000 hours per year; $20,108,471 per year. One Time: 0 hours; $0. Ongoing: 15,400 hours per year; $1,433,659 per year.
Revise the regional transmission planning process to enhance transparency of local transmission planning and identifying potential opportunities to right-size replacement transmission facilities | 48 transmission providers with OATTs 77 transmission providers without OATTs | 48 77 | One Time: 30 hours; $2,793 Ongoing: 120 hours per year; $11,172 per year One Time: 20 hours; $1,862 Ongoing: 40 hours per year; $3,724 per year | One Time: 1,440 hours; $134,056. Ongoing: 5,760 hours per year; $536,226 per year. One Time: 1,540 hours; $143,366. Ongoing: 3,080 hours per year; $286,732 per year.
Evaluate whether certain alternative transmission technologies can meet the transmission needs identified in Order No. 1000 regional transmission planning processes and in Long-Term Regional Transmission Planning process more efficiently or cost-effectively than transmission facilities without such alternative transmission technologies | 48 transmission providers with OATTs 77 transmission providers without OATTs | 48 77 | One Time: 0 hours; $0 Ongoing: 100 hours per year; $9,309 per year One Time: 0 hours; $0 Ongoing: 20 hours per year; $1,862 per year | One Time: 0 hours; $0. Ongoing: 4,800 hours per year; $446,855 per year. One Time: 0 hours; $0. Ongoing: 1540 hours per year; $143,366 per year.
Consider in the Order No. 1000 regional transmission planning processes regional transmission facilities that address certain interconnection-related needs. | 48 transmission providers with OATTs | 48 | One Time: 0 hours; $0 Ongoing: 50 hours per year; $4,655 per year | One Time: 0 hours; $0. Ongoing: 2,400 hours per year; $223,427 per year.
Share with the transmission providers in neighboring transmission planning regions information regarding Long-Term Transmission Needs and potential transmission facilities to meet those needs; identify and jointly evaluate interregional transmission facilities with the transmission providers in neighboring transmission planning regions; and publicly post certain information regarding interregional coordination processes applied to Long-Term Regional Transmission Planning. | 48 transmission providers with OATTs | 48 | One Time: 0 hours; $0 Ongoing: 25 hours per year; $2,327 per year | One Time: 0 hours; $0. Ongoing: 1,200 hours per year; $111,714 per year.
Total burden for the revisions of FERC 917 due to RM21-17 | 48 transmission providers with OATTs | 48 | One Time: 1,190 hours; $110,783 Ongoing: 4,795 hours per year; $446,390 per year | One Time: 57,120 hours; $5,317,573. Ongoing: 230,160 hours per year; *$21,426,693 per year.
1 | 77 transmission providers without OATTs | 77 | One Time: 20 hours; $1,862 Ongoing: 260 hours per year; $24,205 per year | One Time: 1,540 hours; $143,366. Ongoing: 20,020 hours per year; $1,863,757 per year.
| Totals for all 125 transmission providers |  |  | One Time: 58,660 hours; $5,460,939. Ongoing: 250,180 hours per year; $23,290,450 per year.

1782. Our estimates conservatively assume the maximum number of respondents and burdens. We acknowledge that the actual burdens for some respondents may be lower than estimated and that other respondents may incur the maximum burdens.

1783. Interested persons may obtain information on the reporting requirements by contacting Jean Sonneman, Office of the Executive Director, Federal Energy Regulatory Commission, 888 First Street NE, Washington, DC 20426 via email (DataClearance@ferc.gov) or telephone (202) 502-8663.

XIII. Environmental Analysis

1784. The Commission is required to prepare an Environmental Assessment or an Environmental Impact Statement for any action that may have a significant adverse effect on the human environment.³⁷⁴³ We conclude that neither an Environmental Assessment nor an Environmental Impact Statement is required for this final order under § 380.4(a)(15) of the Commission's regulations, which provides a categorical exemption for approval of actions under sections 205 and 206 of the FPA relating to the filing of schedules containing all rates and charges for the transmission or sale of electric energy subject to the Commission's jurisdiction, plus the classification, practices, contracts and regulations that affect rates, charges, classifications, and services.³⁷⁴⁴

³⁷⁴³ Regulations Implementing the Nat'l Env'l Pol'y Act, Order No. 486, 52 FR 47897 (Dec. 17, 1987), FERC Stats. & Regs. Preambles 1986-1990 ¶ 30,783 (1987) (cross-referenced at 41 FERC ¶ 61,284).

³⁷⁴⁴ 18 CFR 380.4(a)(15).

XIV. Regulatory Flexibility Act

1785. The Regulatory Flexibility Act of 1980 (RFA) ³⁷⁴⁵ generally requires a description and analysis of rulemakings that will have significant economic impact on a substantial number of small entities. The Small Business Administration (SBA) sets the threshold for what constitutes a small business. Under SBA's size standards,³⁷⁴⁶ RTOs/ISOs, transmission planning regions, and transmission owners all fall under the category of Electric Bulk Power Transmission and Control (NAICS code 221121), with a size threshold of 950 employees (including the entity and its associates).³⁷⁴⁷

³⁷⁴⁵ 5 U.S.C. 601-612.

³⁷⁴⁶ 13 CFR 121.201.

³⁷⁴⁷ The RFA definition of “small entity” refers to the definition provided in the Small Business Act, which defines a “small business concern” as a business that is independently owned and operated and that is not dominant in its field of operation. The SBA's regulations define the threshold for a small Electric Bulk Power Transmission and Control entity (NAICS code 221121) to be 950 employees. 13 CFR 121.201; see 5 U.S.C. 601(3) (citing section 3 of the Small Business Act, 15 U.S.C. 632).

1786. We have determined that the entities impacted by this final order are transmission providers in transmission planning regions that span across the United States.³⁷⁴⁸

³⁷⁴⁸ See FERC, Regions Map Printable Version Order No. 1000 (Nov. 9, 2021), https://www.ferc.gov/media/regions-map-printable-version-order-no-1000.

1787. To identify small firms among the transmission providers that comprise the transmission planning regions, we created a list of transmission service providers and transmission owners from the North American Electric Reliability Corporation Registry (dated January 11, 2024), totaling 125 entities. We conducted research using both open-source information and data from paid services such as Dunn & Bradstreet. We find that, out of the population of 125 transmission providers, 18 would be considered small using the SBA threshold (14% rounded). Therefore, we do not consider this number of small entities to be substantial.

1788. As shown in the table above, we estimate the one-time costs associated with the final order to be $110,783 per transmission provider with an OATT and $1,862 per transmission provider without an OATT. We estimate the ongoing costs in subsequent years to be $446,390 per year for transmission providers with an OATT and $24,205 per year for transmission providers without an OATT. Further, we note that Commission regulations allow for transmission providers to fully recover the costs of participating in the regional transmission planning process.³⁷⁴⁹ Therefore, we do not believe that this cost is economically significant. Accordingly, we certify that the reforms in this final order will not have a significant economic impact on a substantial number of small entities.

³⁷⁴⁹ Order No. 890, 118 FERC ¶ 61,119 at P 586.

XV. Document Availability

1789. In addition to publishing the full text of this document in the Federal Register, the Commission provides all interested persons an opportunity to view and/or print the contents of this document via the internet through the Commission's Home Page (https://www.ferc.gov).

1790. From the Commission's Home Page on the internet, this information is available on eLibrary. The full text of this document is available on eLibrary in PDF and Microsoft Word format for viewing, printing, and/or downloading. To access this document in eLibrary, type the docket number excluding the last three digits of this document in the docket number field.

1791. User assistance is available for eLibrary and the Commission's website during normal business hours from FERC Online Support at 202-502-6652 (toll free at 1-866-208-3676) or email at ferconlinesupport@ferc.gov, or the Public Reference Room at (202) 502-8371, TTY (202)502-8659. Email the Public Reference Room at public.referenceroom@ferc.gov.

XVI. Effective Date and Congressional Notification

1792. This final order is effective August 12, 2024. The Commission has determined, with the concurrence of the Administrator of the Office of Information and Regulatory Affairs of OMB, that this order is a “major rule” as defined in section 351 of the Small Business Regulatory Enforcement Fairness Act of 1996.

List of Subjects in 18 CFR Part 35

Electric power rates, Electric utilities, Reporting and recordkeeping requirements.

By the Commission.

Chairman Phillips and Commissioner Clements are concurring with a joint separate statement attached.

Commissioner Christie is dissenting with a separate statement attached.

Issued May 13, 2024.
Debbie-Anne A. Reese,
Acting Secretary.

Note: The following appendices will not appear in the Code of Federal Regulations.

Appendix A: Abbreviated Names of Commenters

Abbreviated Names of Commenters
Abbreviation | Commenter(s)
Acadia Center and CLF | Acadia Center and Conservation Law Foundation.
ACEG | Americans for a Clean Energy Grid.
ACORE | American Council on Renewable Energy.
Advanced Energy Buyers | Advanced Energy Buyers Group.
AEE | Advanced Energy Economy.
AEP | American Electric Power Service Corporation.
Alabama Commission | Alabama Public Service Commission.
Amazon | Amazon Energy LLC.
Ameren | Ameren Services Company.
American Municipal Power | American Municipal Power, Inc.
Americans for Fair Energy Prices | Americans for Fair Energy Prices, Inc.
Anbaric | Anbaric Development Partners, LLC.
APPA | American Public Power Association.
APS | Arizona Public Service Company.
Arizona Commission | Arizona Corporation Commission.
ATC | American Transmission Company LLC.
Avangrid | Avangrid, Inc.
Bekaert | Bekaert Corporation.
BP | bp America.
Breakthrough Energy | Breakthrough Energy.
Business Council for Sustainable Energy | Business Council for Sustainable Energy.
CAISO | California Independent System Operator Corporation.
California Commission | California Public Utilities Commission.
California Democratic Representatives | U.S. Representatives Jared Huffman; Mike Levin; Nanette Diaz Barragán; Grace F. Napolitano; Anna G. Eshoo; Katie Porter; Judy Chu; Mike Thompson; Ted W. Lieu; Julia Brownley; Mark DeSaulnier; and Juan Vargas.
California Energy Commission | California Energy Commission.
California Municipal Utilities | California Municipal Utilities Association.
California Water | California Department of Water Resources State Water Project.
CARE Coalition | The National Audubon Society; Defenders of Wildlife; Environmental Law & Policy Center; National Wildlife Federation; The Nature Conservancy; Center for Renewables Integration; and Vote Solar, jointly the Conservation and Renewable Energy Coalition.
Center for Biological Diversity | The Center for Biological Diversity.
Ceres | Ceres.
Certain TDUs | Alliant Energy Corporate Services, Inc.; Consumers Energy Company; and DTE Electric Company.
Chemistry Council | American Chemistry Council.
Citizens Energy | Citizens Energy Corporation.
City of New Orleans Council | Council of the City of New Orleans.
City of New York | City of New York.
Clean Energy Associations | The American Clean Power Association; Alliance for Clean Energy—New York; Clean Grid Alliance; the Mid-Atlantic Renewable Energy Council Action; and the New York Offshore Wind Alliance, collectively Clean Energy Associations.
Clean Energy Buyers | Clean Energy Buyers Association.
Clean Energy States | Clean Energy States Alliance.
Colorado Consumer Advocate | Colorado Office of the Utility Consumer Advocate.
Competition Advocates | Niskanen Center; R Street Institute; Institute for Local Self Reliance; Public Citizen, Inc.; Center for Biological Diversity; and Open Markets Institute.
Competition Coalition | Electricity Transmission Competition Coalition.
Concerned Scientists | The Union of Concerned Scientists.
Conservative Energy Network | Conservative Energy Network.
Conservatives for Clean Energy—Florida | Conservatives for Clean Energy—Florida.
Conservatives for Clean Energy—SC | Conservatives for Clean Energy—South Carolina.
Consumer Organizations | NJ Charge, Inc.; Keryn Newman (Stop Path WV); Illinois Landowners Alliance; Block Grain Belt Express—Missouri; Citizens to Stop Transource—York; Coalition for Rural Property Rights; Eastern Missouri Landowners Alliance; Missouri Landowners Association; Protect Sudbury Inc.; Say No to NECEC; Stop B2H Coalition; Eastern Missouri Landowners Alliance; SOUL of Wisconsin; Block RICL; Matthew Stallbaumer; Vickie Husbands; Elena Guardincerri; Martha Peine; Kerry Beheler; Barron Shaw; and STOP Transource Power Lines MD, Inc.
Cross Sector Representatives | Ameren Transmission; Blue-Green Alliance; Consolidated Edison Company of New York, Inc.; Edison International; Exelon Corporation; Greater Warren County Economic Development Council; International Brotherhood of Electric Workers IBEW 1245; IBEW Illinois State Conference; IBEW International; IBEW Sixth District; ITC Holdings Corp.; National Audubon Society; Pacific Gas & Electric Co.; The Permitting Institute; Public Service Electric and Gas Company; WEG Transformers USA; and Xcel Energy.
CTC Global | CTC Global Corporation.
Cypress Creek | Cypress Creek Renewables, LLC.
DATA | Ameren Services Company; Eversource Energy; Exelon Corporation; ITC Holdings Corp.; National Grid USA; Public Service Electric and Gas Company; and Xcel Energy; collectively Developers Advocating Transmission Advancements (DATA).
DC and MD Offices of People's Counsel | The Office of the People's Counsel for the District of Columbia and the Maryland Office of People's Counsel.
Dominion | Dominion Energy Services, Inc.
Duke | Duke Energy Corporation.
Duquesne Light | Duquesne Light Company.
EEI | Edison Electric Institute.
ELCON | Electricity Consumers Resource Council.
Enel | Enel North America, Inc.
ENGIE | ENGIE North America, Inc.
Entergy | Entergy Services, LLC.
Environmental Groups | Advanced Energy United; American Clean Power Association; Clean Air Task Force; EarthJustice; Environmental Defense Fund; Evergreen Action; Fresh Energy; Interwest Energy Alliance; League of Conservation Voters; National Wildlife Federation; Natural Resources Defense Council; Northwest Energy Coalition; Rewiring America; Sierra Club; Southern Environmental Law Center; The Environmental Law & Policy Center; Union of Concerned Scientists; WE ACT for Environmental Justice; and Western Resource Advocates.
Environmental Legislators Caucus | National Caucus of Environmental Legislators.
EPSA | Electric Power Supply Association.
Evergreen Action | Evergreen Action and 4,440 Individual Signers.
Eversource | Eversource Energy Service Company.
Exelon | Exelon Corporation.
Fervo | Fervo Energy Company.
Form Energy | Form Energy, Inc.
Freeport-McMoRan | Freeport-McMoRan, Inc.
Georgia Commission | Georgia Public Service Commission.
Governor of Kansas Laura Kelly | Governor of the State of Kansas Laura Kelly.
Grand Rapids NAACP | Greater Grand Rapids Chapter of The National Association for the Advancement of Colored People.
Grid United | Grid United LLC.
GridLab | GridLab.
Handy Law | Seth Handy, Handy Law, LLC.
Hannon Armstrong | Hannon Armstrong Sustainable Infrastructure Capital, Inc.
Harvard ELI | Harvard Electricity Law Initiative.
Idaho Commission | The Idaho Public Utilities Commission.
Idaho Power | Idaho Power Company.
Illinois Commission | The Illinois Commerce Commission.
Indiana Commission | Indiana Utility Regulatory Commission.
Indicated PJM TOs | The Dayton Power and Light Company; Dominion Energy Services, Inc. on behalf of Virginia Electric and Power Company; Duke Energy Corporation on behalf of its affiliates Duke Energy Ohio, Inc., Duke Energy Kentucky, Inc., and Duke Energy Business Services LLC; Duquesne Light Company; East Kentucky Power Cooperative; Exelon Corporation; FirstEnergy Service Company, on behalf of its affiliates American Transmission Systems, Incorporated, Jersey Central Power & Light Company, Mid-Atlantic Interstate Transmission LLC, West Penn Power Company, The Potomac Edison Company, Monongahela Power Company, Keystone Appalachian Transmission Company, and Trans-Allegheny Interstate Line Company; PPL Electric Utilities Corporation; Public Service Electric and Gas Company; Rockland Electric Company; and UGI Utilities Inc.
Indicated U.S. Senators and Representatives | U.S. Senators Tina Smith; Edward J. Markey; and Sheldon Whitehouse; U.S. Representatives Kathy Castor; Bobby L. Rush; Paul Tonko; Sean Casten; Raja Krishnamoorthi; Jared Huffman; Veronica Escobar; and Julia Brownley
Industrial Customers | American Forest & Paper Association; the PJM Industrial Customer Coalition; and the Coalition of MISO Transmission Customers, collectively the Industrial Customer Organizations.
Interwest | Interwest Energy Alliance.
Invenergy | Invenergy Solar Development North America LLC; Invenergy Thermal Development LLC; Invenergy Wind Development North America LLC; and Invenergy Transmission LLC.
Iowa Commission | Iowa Utilities Board.
ISO/RTO Council | The ISO/RTO Council.
ISO-NE | ISO New England Inc.
ITC | International Transmission Company; Michigan Electric Transmission Company, LLC; ITC Midwest LLC; and ITC Great Plains, LLC.
Joint Commenters | American Public Power Association; Electricity Consumers Resource Council; Indiana Office of Utility Consumer Counselor; Large Public Power Council; National Association of State Utility Consumer Advocates; Office of People's Counsel for the District of Columbia; Public Advocate for the State of Delaware; and Solar Energy Industries Association.
Joint Consumer Advocates | Iowa Office of Consumer Advocate and Indiana Office of Utility Consumer Counselor.
Kansas Commission | Kansas Corporation Commission.
Kansas Commission Chair Keen | Kansas Corporation Commission Chairman Dwight D. Keen.
Kansas Ratepayers Advocates | Kansas Industrial Consumers Group, Inc. and Kansans for Lower Electric Rates, Inc.
Kentucky Commission Chair Chandler | Kentucky Public Service Commission Chairman and Commissioner Kent A. Chandler.
LADWP | Los Angeles Department of Water & Power.
Large Energy Customers | Akamai Technologies, Inc.; Amazon.com, Inc.; Amy's Kitchen, Inc.; Apple, Inc.; Applied Materials, Inc.; ARC Homes; Atlassian Corporation; Autodesk, Inc.; BASF Corporation; Best Buy Co., Inc.; Brookfield Properties; Budderfly, Inc.; Build Efficiently, LLC.; Cargill, Inc.; Clean Energy Buyers Association; Eastman Chemical Company; eBay, Inc.; Equinix, Inc.; Freeport-McMoRan, Inc.; General Motors LLC; Google LLC; Green Impact Technologies; Hewlett Packard Enterprise Company; Humanscale Corporation; IHG Hotels & Resorts; Marriott International, Inc.; Mars, Inc.; Meta Platforms, Inc.; Microsoft Corporation; Monarch Energy; Nike, Inc.; Nucor Corporation; Oatly Group AB; PepsiCo, Inc.; Prologis, Inc.; Rivian Automotive, Inc.; Saint-Gobain North America; Salesforce, Inc.; Schneider Electric SE; Target Corporation; Thermo Fisher Scientific, Inc.; The STAAC Group, LLC., Walmart, Inc.; Workday, Inc.; and World Energy, LLC.
Large Public Power | The Large Public Power Council.
Louisiana Commission | Louisiana Public Service Commission.
LS Power | LS Power Grid, LLC.
Maine Public Advocate | The Maine Office of the Public Advocate.
Maryland Energy Administration | Maryland Energy Administration.
Massachusetts Attorney General | Massachusetts Attorney General Maura Healey.
Michigan Commission | Michigan Public Service Commission.
Michigan Conservative Energy Forum | Michigan Conservative Energy Forum.
Michigan State Entities | Michigan Attorney General and the Citizens Utility Board of Michigan.
Microgrid Resources | Microgrid Resources Coalition.
Middle River Power | Middle River Power LLC.
Minnesota State Entities | The Minnesota Public Utilities Commission and The Minnesota Department of Commerce.
MISO | Midcontinent Independent System Operator, Inc.
MISO Coops | The Coalition of MISO Generation and Transmission Cooperatives.
MISO TOs | Ameren Services Company, as agent for Union Electric Company, Ameren Illinois Company, and Ameren Transmission Company of Illinois; American Transmission Company LLC; Big Rivers Electric Corporation; Central Minnesota Municipal Power Agency; City Water, Light & Power (Springfield, IL); Cleco Power LLC; Cooperative Energy; Dairyland Power Cooperative; Duke Energy Business Services, LLC for Duke Energy Indiana, LLC; East Texas Electric Cooperative; Great River Energy; Hoosier Energy Rural Electric Cooperative, Inc.; Indiana Municipal Power Agency; Indianapolis Power & Light Company; International Transmission Company; ITC Midwest LLC; Lafayette Utilities System; Michigan Electric Transmission Company, LLC; MidAmerican Energy Company; Minnesota Power (and its subsidiary Superior Water, L&P); Montana-Dakota Utilities Co.; Northern Indiana Public Service Company LLC; Northern States Power Company, a Minnesota corporation, and Northern States Power Company, a Wisconsin corporation, subsidiaries of Xcel Energy Inc.; Northwestern Wisconsin Electric Company; Otter Tail Power Company; Prairie Power, Inc.; Southern Illinois Power Cooperative; Southern Indiana Gas & Electric Company; Southern Minnesota Municipal Power Agency; Wabash Valley Power Association, Inc.; and Wolverine Power Supply Cooperative, Inc.
Mississippi Commission | The Mississippi Public Service Commission.
Montana QF Developers | Clēnera, LLC and Greenfields Irrigation District.
Montclair Congregation | 40 Undersigned Congregants of Montclair Presbyterian Church.
NARUC | The National Association of Regulatory Utility Commissioners.
NASEO | The National Association of State Energy Officials.
NASUCA | The National Association of State Utility Consumer Advocates.
National and State Conservation Organizations | National Wildlife Federation; Conservation Coalition of Oklahoma; Environment Council of Rhode Island; Environmental League of Massachusetts; Idaho Wildlife Federation; Iowa Wildlife Federation; Kentucky Waterways Alliance; Natural Resources Council of Maine; Nevada Wildlife Federation; New Jersey Audubon; Southeast Alaska Conservation Council; Texas Conservation Alliance; Utah Wildlife Federation; WV Rivers Coalition; and Wyoming Wildlife Federation.
National Grid | National Grid Plc.
Nebraska Commission | The Nebraska Power Review Board.
NEMA | National Electrical Manufacturers Association.
NEPOOL | The New England Power Pool Participants Committee.
NERC | North American Electric Reliability Corporation; Midwest Reliability Organization; Northeast Power Coordinating Council, Inc.; ReliabilityFirst Corporation; SERC Reliability Corporation, Texas Reliability Entity, Inc., and Western Electricity Coordinating Council.
NESCOE | The New England States Committee on Electricity.
Nevada Commission | The Public Utilities Commission of Nevada.
New England for Offshore Wind | New England for Offshore Wind.
New England Systems | Belmont Municipal Light Department; Block Island Utility District; Braintree Electric Light Department; Chicopee Municipal Light Department; Georgetown Municipal Light Department; Hingham Municipal Lighting Plant; Littleton Electric Light & Water Department; Middleborough Gas & Electric Department; Middleton Electric Light Department; North Attleborough Electric Department; Norwood Municipal Light Department; Pascoag Utility District; Reading Municipal Light Department; Stowe Electric Department; Taunton Municipal Lighting Plant; Wallingford Electric Division; and Westfield Gas & Electric Light Department.
New Jersey Commission | The New Jersey Board of Public Utilities.
New Mexico RETA | The New Mexico Renewable Energy Transmission Authority.
New York Commission and NYSERDA | New York Public Service Commission and New York State Energy Research and Development Authority.
New York State Department | New York State Department of State Utility Intervention Unit.
New York TOs | Central Hudson Gas & Electric Corporation; Consolidated Edison Company of New York, Inc.; Niagara Mohawk Power Corporation; New York Power Authority; New York State Electric & Gas Corporation; Orange and Rockland Utilities, Inc.; Long Island Power Authority; and Rochester Gas and Electric Corporation.
New York Transco | New York Transco, LLC.
NextEra | NextEra Energy, Inc.
Non-RTO NASUCA | North Carolina Utilities Commission Public Staff; the Utah Office of Consumer Service; the South Carolina Office of Regulatory Staff; and the Wyoming Office of Consumer Advocate.
North Carolina Commission and Staff | The North Carolina Utilities Commission and the North Carolina Utilities Commission Public Staff.
North Dakota Commission | North Dakota Public Service Commission Public Utilities Division.
Northwest and Intermountain | Northwest & Intermountain Power Producers Coalition.
NRECA | National Rural Electric Cooperative Association.
NRG | NRG Energy, Inc.
NYISO | New York Independent System Operator, Inc.
NYPA | New York Power Authority.
Ohio Commission Federal Advocate | The Public Utilities Commission of Ohio's Office of the Federal Energy Advocate.
Ohio Conservative Energy Forum | Ohio Conservative Energy Forum.
Ohio Consumers | Office of The Ohio Consumers' Counsel.
Omaha Public Power | The Omaha Public Power District.
OMS | The Organization of Midcontinent Independent System Operator States, Inc.
Onward Energy | Onward Energy Holdings, LLC.
Ørsted | Ørsted North America.
Pacific Northwest State Agencies | The Washington Utilities and Transportation Commission; Oregon Public Utility Commission; Washington State Department Of Commerce; and Oregon Department Of Energy.
Pacific Northwest Utilities | Avista Corporation; Portland General Electric; Puget Sound Energy, Inc.; and Tacoma Power.
PacifiCorp and NV Energy | PacifiCorp; Nevada Power Company and Sierra Pacific Power Company (together, NV Energy).
Pattern Energy | Pattern Energy Group LP.
Payton Alaama | Payton Alaama.
Pennsylvania Commission | The Pennsylvania Public Utility Commission.
PG&E | Pacific Gas and Electric Company.
Pine Gate | Pine Gate Renewables, LLC.
PIOs | Sustainable FERC Project; Natural Resources Defense Council; Sierra Club; Environmental Defense Fund; Southern Environmental Law Center; Conservation Law Foundation; Western Resource Advocates; Acadia Center; NW Energy Coalition; Southface Institute; and Fresh Energy, jointly Public Interest Organizations.
PJM | PJM Interconnection, L.L.C.
PJM Market Monitor | The Independent Market Monitor of PJM Interconnection, L.L.C.
PJM States | The Organization of PJM States, Inc. (OPSI).
Policy Integrity | The Institute for Policy Integrity at New York University School of Law.
Potomac Economics | Potomac Economics, Ltd.
PPL | PPL Electric Utilities Corporation; Louisville Gas & Electric and Kentucky Utilities (collectively LG&E/KU); and The Narragansett Electric Company.
Prysmian | The Prysmian Group.
Public Systems | Massachusetts Municipal Wholesale Electric Company; New Hampshire Electric Cooperative, Inc.; Connecticut Municipal Electric Energy Cooperative; and Vermont Public Power Supply Authority.
QCo | QCoefficient, Inc.
R Street | R Street Institute.
Rail Electrification | The Rail Electrification Council.
Renewable Northwest | Renewable Northwest.
Resale Iowa | Resale Power Group of Iowa.
RMI | RMI.
SDG&E | San Diego Gas & Electric Company.
SEIA | The Solar Energy Industries Association.
SEPA | The Smart Electric Power Alliance.
SERTP Sponsors | Associated Electric Cooperative, Inc.; Dalton Utilities; Duke Energy Carolinas, LLC and Duke Energy Progress, LLC; Georgia Transmission Corporation; Louisville Gas and Electric Company and Kentucky Utilities Company; the Municipal Electric Authority of Georgia; PowerSouth Energy Cooperative; Southern Company Services, Inc., acting as agent for Alabama Power Company, Georgia Power Company, and Mississippi Power Company; the Tennessee Valley Authority; and Gulf Power Company, collectively Sponsors of the Southeastern Regional Transmission Planning Process (SERTP).
Shell | Shell Energy North America (U.S.), L.P.; Shell New Energies U.S., LLC; and Savion L.L.C.
Signatories | American Council on Renewable Energy; Americans for a Clean Energy Grid; American Clean Power Association; AES Corporation; Advance Energy Economy; Center for Rural Affairs; Clean Air Task Force; Clean Energy Buyers Alliance; Conservative Energy Network; ConEd Transmission, Inc.; Enel North America, Inc.; Exelon Corporation; GE Renewables; Grid United LLC; Google; Holy Cross Energy; Invenergy; ITC Holdings Corp.; Land & Liberty Coalition; Macro Grid Initiative; National Audubon Society; National Electrical Manufacturer Association; National Wildlife Federation; Natural Resources Defense Council; NextEra Energy, Inc.; Northwest & Intermountain Power Producers Coalition; Pattern Energy; Rail Electrification Council; Rocky Mountain Institute (RMI); Sierra Club; Solar Energy Industries of America; and Southern Renewable Energy Association.
Six Cities | The Cities of Anaheim, Azusa, Banning, Colton, Pasadena, and Riverside, California.
Smart Wires | Smart Wires.
SoCal Edison | Southern California Edison Company.
Southeast PIOs | Southern Environmental Law Center; Energy Alabama; North Carolina Sustainable Energy Association; South Carolina Coastal Conservation League; Southface Energy Institute; and Southern Alliance for Clean Energy, jointly Southeast Public Interest Groups.
Southern | Southern Company Services, Inc.
Southwestern Power Group | Southwestern Power Group.
SPP | Southwest Power Pool Inc.
SPP Market Monitor | The Southwest Power Pool Market Monitoring Unit.
SREA | Southern Renewable Energy Association.
State Agencies | Connecticut Department of Energy and Environmental Protection; Connecticut Attorney General; Connecticut Office of Consumer Counsel; Connecticut Public Utilities Regulatory Authority; California Energy Commission; Delaware Division of the Public Advocate; Attorney General of the District of Columbia; Maine Office of the Public Advocate; Maryland Attorney General; Massachusetts Attorney General; Michigan Attorney General; Pennsylvania Office of The Consumer Advocate; and the Rhode Island Attorney General.
State of Tennessee | State of Tennessee.
State Officials | Maine Governor's Energy Office; Washington State Department of Commerce; Arizona Governor's Office of Resiliency; California Natural Resources Agency; Colorado Energy Office; Deputy Governor of Illinois; Maryland Energy Administration; Michigan Department of Environment, Great Lakes, and Energy; New Mexico Energy Minerals and Natural Resources Department; Office of New York Governor Kathy Hochul; and Office of North Carolina Governor Roy Cooper.
State Water Contractors | State Water Contractors.
Tabors Caramanis Rudkevich | Tabors Caramanis & Rudkevich.
TANC | Transmission Agency of Northern California.
TAPS | Transmission Access Policy Study Group.
Transmission Dependent Utilities | Golden Spread Electric Cooperative, Inc.; North Carolina Electric Membership Corporation; and Seminole Electric Cooperative, Inc., collectively, Transmission Dependent Utility Systems.
Transource | Transource Energy, LLC.
Undersigned States [Initial Comments] | Utah Attorney General; Alaska Attorney General; Georgia Attorney General; Idaho Attorney General; Indiana Attorney General; Kansas Attorney General; Kentucky Attorney General; Louisiana Attorney General; Mississippi Attorney General; Montana Attorney General; Nebraska Attorney General; North Dakota Attorney General; Ohio Attorney General; Oklahoma Attorney General; South Carolina Attorney General; Texas Attorney General; West Virginia Attorney General; and Wyoming Attorney General.
Undersigned States [Reply Comments] | Utah Attorney General; Alabama Attorney General; Alaska Attorney General; Arkansas Attorney General; Florida Attorney General; Georgia Attorney General; Kansas Attorney General; Kentucky Attorney General; Louisiana Attorney General; Mississippi Attorney General; Montana Attorney General; Nebraska Attorney General; Ohio Attorney General; Oklahoma Attorney General; South Carolina Attorney General; Texas Attorney General; and West Virginia Attorney General.
U.S. Chamber of Commerce | U.S. Chamber of Commerce.
U.S. Climate Alliance | United States Climate Alliance.
U.S. Democratic Representatives | U.S. Representatives Paul D. Tonko and 112 additional U.S. Representatives.
U.S. DOE | United States Department of Energy.
U.S. DOJ and FTC | United States Department of Justice and the Federal Trade Commission.
U.S. House Republicans | U.S. Representatives Andrew R. Garbarino; Anthony D'Espositio; Nicholas A. Langworthy; and Brandon Williams.
U.S. Senator Barrasso | U.S. Senator John Barrasso.
U.S. Senator Heinrich | U.S. Senator Martin Heinrich.
U.S. Senators | U.S. Senators Martin Heinrich; Edward J. Markey; Peter Welch; John Hickenlooper; Angus S. King, Jr.; Ron Wyden; Robert P. Casey, Jr.; Sheldon Whitehouse; Tina Smith; Ben Ray Luján; Chris Van Hollen; Mazie K. Hirono; Jeffrey A. Merkley; Brian Schatz; Thomas R. Carper; Bernard Sanders; Patty Murray; John Fetterman; Michael F. Bennet; Elizabeth Warren; and Alex Padilla.
U.S. Senators Heinrich and Lee | U.S. Senators Martin Heinrich and Mike Lee.
U.S. Senators Hickenlooper and King | U.S. Senators John Hickenlooper and Angus S. King, Jr.
U.S. Senator Schumer | U.S. Senator Charles E. Schumer.
U.S. Senator Whitehouse | U.S. Senator Sheldon Whitehouse.
Utah Commission | The Utah Public Service Commission.
Utah Division of Public Utilities | Utah Department of Commerce, Division of Public Utilities.
VEIR | VEIR Inc.
Vermont Electric and Vermont Transco | Vermont Electric Power Company, Inc., and Vermont Transco LLC.
Vermont State Entities | The Vermont Public Utility Commission and the Vermont Department of Public Service.
Virginia Attorney General | Virginia Office of the Attorney General, Division of Consumer Counsel.
Virginia Commission Staff | The Staff of the Virginia State Corporation Commission.
Vistra | Vistra Corp.
WATT Coalition | The Working for Advanced Transmission Technologies (WATT) Coalition.
WE ACT | WE ACT for Environmental Justice.
West Virginia Commission | The Public Service Commission of West Virginia.
Western PIOs | Center for Energy Efficiency and Renewable Technologies; NW Energy Coalition; Western Resource Advocates; and Renewable Northwest; collectively, Western Public Interest Organizations.
Western State Representatives | Agency Representatives from the states of Arizona; California; Idaho; Montana; Nevada; Oregon; South Dakota; Utah; Washington; and Wyoming.
Western Way Colorado | Western Way Colorado.
Western Way Nevada | Western Way Nevada.
Western Way Utah | Western Way Utah.
Wildlife Federation Action Fund Supporters | 8,610 Supporters of the National Wildlife Federation Action Fund.
WIRES | WIRES.
Wisconsin Conservative Energy Forum | Wisconsin Conservative Energy Forum.
Wisconsin Legislators | Wisconsin State Senator Julian Bradley and Wisconsin State Representative David Steffen.
Wisconsin Senator Cowles | Wisconsin State Senator Robert L. Cowles.
Xcel | Xcel Energy Services Inc.

Appendix B: Pro Forma Open Access Transmission Tariff Attachment K

Note: Proposed deletions are in brackets and proposed additions are in italics.

Attachment K

Transmission Planning Process

Local Transmission Planning

The Transmission Provider shall establish a coordinated, open, and transparent local transmission planning process with its Network and Firm Point-to-Point Transmission Customers and other interested parties to ensure that the Transmission System is planned to meet the needs of both the Transmission Provider and its Network and Firm Point-to-Point Transmission Customers on a comparable and not unduly discriminatory basis. The Transmission Provider's coordinated, open, and transparent local transmission planning process shall be provided as an attachment to the Transmission Provider's Tariff. The Transmission Provider's local transmission planning process shall provide stakeholders with meaningful opportunities to participate and provide feedback, and shall satisfy the following nine principles, as defined in Order No. 890: coordination, openness, transparency, information exchange, comparability, dispute resolution, regional participation, economic planning studies, and cost allocation for new transmission projects. The local transmission planning process also shall include the procedures and mechanisms for considering transmission needs driven by Public Policy Requirements consistent with Order No. 1000. The local transmission planning process also shall provide a mechanism for the recovery and allocation of transmission planning costs consistent with Order No. 890. The description of the Transmission Provider's local transmission planning process must include sufficient detail to enable Transmission Customers to understand:

(i) The process for consulting with customers;

(ii) The notice procedures and anticipated frequency of meetings;

(iii) The methodology, criteria, and processes used to develop a transmission plan;

(iv) The method of disclosure of criteria, assumptions, and data underlying a transmission plan;

(v) The obligations of and methods for Transmission Customers to submit data to the Transmission Provider;

(vi) The dispute resolution process;

(vii) The Transmission Provider's study procedures for economic upgrades to address congestion or the integration of new resources;

(viii) The Transmission Provider's procedures and mechanisms for considering transmission needs driven by Public Policy Requirements, consistent with Order No. 1000; and

(ix) The relevant cost allocation method or methods.

Regional Transmission Planning

The Transmission Provider shall participate in a regional transmission planning process through which transmission facilities and non-transmission alternatives may be proposed and evaluated. The regional transmission planning process also shall develop a regional transmission plan that identifies the transmission facilities necessary to meet the needs of transmission providers and transmission customers in the transmission planning region. The regional transmission planning process must be consistent with the provision of Commission-jurisdictional services at rates, terms, and conditions that are just and reasonable and not unduly discriminatory or preferential, as described in Order Nos. 1000 and 1920. The regional transmission planning process shall be described in an attachment to the Transmission Provider's Tariff.

The Transmission Provider's regional transmission planning process shall satisfy the following seven principles, as [set out and explained]established in Order Nos. 890 and 1000: coordination, openness, transparency, information exchange, comparability, dispute resolution, and economic planning studies. The description of the regional transmission planning process in the Tariff also shall include the procedures and mechanisms for considering transmission needs driven by Public Policy Requirements, consistent with Order No. 1000. The regional transmission planning process shall provide a mechanism for the recovery and allocation of “transmission planning costs” consistent with Order Nos. 890 and 1000.

The regional transmission planning process shall include a clear enrollment process for public and non-public utility transmission providers that make the choice to become part of a transmission planning region. The regional transmission planning process shall be clear that enrollment will subject enrollees to cost allocation if they are found to be beneficiaries of new transmission facilities selected in the regional transmission plan for purposes of cost allocation. Each Transmission Provider shall maintain a list of enrolled entities in the Transmission Provider's Tariff.

The regional transmission planning process must include at least three stakeholder meetings concerning the local transmission planning process of each Transmission Provider that is a member of the transmission planning region. The three meetings must occur before each Transmission Provider's local transmission planning information can be incorporated into the transmission planning region's transmission planning models. The three stakeholder meetings for local transmission planning information are the Assumptions Meeting, the Needs Meeting, and the Solutions Meeting, and the three stakeholder meetings must meet the requirements in Order No. 1920.

As part of the regional transmission planning process, the Transmission Providers in each transmission planning region shall conduct Long-Term Regional Transmission Planning, meaning regional transmission planning on a sufficiently long-term, forward-looking, and comprehensive basis to identify Long-Term Transmission Needs, identify transmission facilities that meet such needs, measure the benefits of those transmission facilities, and evaluate those transmission facilities for potential selection in the regional transmission plan for purposes of cost allocation as the more efficient or cost-effective regional transmission facilities to meet Long-Term Transmission Needs. As part of this Long-Term Regional Transmission Planning, the Transmission Providers in each transmission planning region shall meet the requirements set forth in Order No. 1920, including: (1) identifying Long-Term Transmission Needs and Long-Term Regional Transmission Facilities to meet those needs through the development of Long-Term Scenarios that satisfy the requirements set forth in Order No. 1920; (2) measuring the required seven benefits consistent with the requirements set forth in Order No. 1920; (3) using the measured benefits to evaluate Long-Term Regional Transmission Facilities; and (4) using selection criteria consistent with the requirements set forth in Order No. 1920 that provide the opportunity for Transmission Providers to select Long-Term Regional Transmission Facilities in the regional transmission plan for purposes of cost allocation that more efficiently or cost-effectively address Long-Term Transmission Needs.

The process through which the Transmission Providers in each transmission planning region develop Long-Term Scenarios must comply with the following six transmission planning principles established in Order No. 890: coordination; openness; transparency; information exchange; comparability; and dispute resolution. The Transmission Providers in each transmission planning region shall outline in their Tariffs an open and transparent process that provides stakeholders, including states, with a meaningful opportunity to propose potential factors and to provide input on how to account for specific factors in the development of Long-Term Scenarios. The Transmission Providers in each transmission planning region shall also outline in their Tariffs an open and transparent process that provides stakeholders, including states, with a meaningful opportunity to propose which future outcomes are probable and can be captured through assumptions made in the development of Long-Term Scenarios.

The Transmission Providers in each transmission planning region shall include in their Tariffs a general description of how they will measure each of the seven required benefits used to evaluate Long-Term Regional Transmission Facilities. The Transmission Providers in each transmission planning region shall measure and use the seven benefits, as described in Order No. 1920, in Long-Term Regional Transmission Planning.

As part of Long-Term Regional Transmission Planning, the Transmission Providers in each transmission planning region shall include in their Tariffs an evaluation process, including selection criteria, that: (1) is transparent and not unduly discriminatory; (2) aims to ensure that more efficient or cost-effective transmission facilities are selected in the regional transmission plan for purposes of cost allocation; (3) seeks to maximize benefits accounting for costs over time without over-building transmission facilities; and (4) otherwise satisfies the requirements set forth in Order No. 1920.

The Transmission Providers in each transmission planning region shall include in their Tariffs one or more Long-Term Regional Transmission Cost Allocation Methods, which is an ex ante regional cost allocation method for one or more Long-Term Regional Transmission Facilities (or portfolio of such Facilities) that are selected in the regional transmission plan for purposes of cost allocation and that complies with the requirements set forth in Order No. 1920. The Transmission Providers in each transmission planning region may also, subject to (1) the agreement of Relevant State Entities and (2) Commission acceptance, include in their Tariffs a State Agreement Process. A State Agreement Process is a process by which one or more Relevant State Entities may voluntarily agree to a cost allocation method for Long-Term Regional Transmission Facilities (or a portfolio of such Facilities) either before or no later than six months after the facilities are selected in the regional transmission plan for purposes of cost allocation. The Tariff must describe how the State Agreement Process will result in a cost allocation being filed, including which entities can participate in the State Agreement Process; what constitutes an agreement on cost allocation in that process; how agreement is communicated to the transmission provider; and the circumstances under which, or the information necessary for, a transmission provider to file or to consider filing the agreed cost allocation.

As part of evaluating new regional transmission facilities, as well as upgrades to existing transmission facilities, the Transmission Providers in each transmission planning region shall consider in all of their regional transmission planning and cost allocation processes whether selecting transmission facilities that incorporate the following technologies would be more efficient or cost-effective than selecting new regional transmission facilities or upgrades to existing transmission facilities that do not incorporate these technologies: dynamic line ratings, as defined in 18 CFR 35.28(b)(14), advanced power flow control devices, advanced conductors, and/or transmission switching. Specifically, such consideration must include both: (1) whether incorporating dynamic line ratings, advanced power flow control devices, advanced conductors, and/or transmission switching into existing transmission facilities could meet the same regional transmission need more efficiently or cost-effectively than other potential transmission facilities; and (2) when evaluating transmission facilities for potential selection in the regional transmission plan for purposes of cost allocation, whether incorporating dynamic line ratings, advanced power flow control devices, advanced conductors, and/or transmission switching as part of any potential regional transmission facility would be more efficient or cost-effective. Transmission providers must evaluate the benefits of incorporating the enumerated alternative transmission technologies into Long-Term Regional Transmission Facilities in a manner consistent with the requirements in the Evaluation of Benefits of Regional Transmission Facilities and Evaluation and Selection of Long-Term Regional Transmission Facilities sections of Order No. 1920.

The Transmission Providers in each transmission planning region shall evaluate for potential selection in the regional transmission plan for purposes of cost allocation regional transmission facilities that address interconnection-related transmission needs originally identified through the generator interconnection process. This requirement applies in the existing Order No. 1000 regional transmission planning processes. The Transmission Providers must modify their Tariffs to include these requirements. The interconnection-related transmission needs that Transmission Providers must evaluate in the existing Order No. 1000 regional transmission planning process are those for which:

(1) Transmission Providers in the transmission planning region have identified the relevant interconnection-related transmission need in interconnection studies in at least two interconnection queue cycles during the preceding five years (looking back from the effective date of the accepted tariff provisions proposed to comply with this reform in Order No. 1920, and the later-in-time withdrawn interconnection request occurring after the effective date of the accepted tariff provisions);

(2) the interconnection-related Network Upgrade identified through the generator interconnection process to meet the relevant interconnection-related transmission need has a voltage of at least 200 kV and an estimated cost of at least $30 million;

(3) the interconnection-related Network Upgrade identified through the generator interconnection process to meet the relevant interconnection-related transmission need is not currently planned to be developed because the interconnection request(s) that led to the identification of the interconnection-related transmission need has been withdrawn; and

(4) the Transmission Providers have not identified a different interconnection-related Network Upgrade to meet the relevant interconnection-related transmission need in an executed Generator Interconnection Agreement or in a Generator Interconnection Agreement that the interconnection customer requested that the Transmission Provider file unexecuted with the Commission.

The description of the regional transmission planning process must include sufficient detail to enable Transmission Customers to understand:

(i) The process for enrollment in the regional transmission planning process;

(ii) The process for consulting with customers;

(iii) The notice procedures and anticipated frequency of meetings;

(iv) The methodology, criteria, and processes used to develop a transmission plan;

(v) The method of disclosure of criteria, assumptions, and data underlying a transmission plan;

(vi) The obligations of and methods for transmission customers to submit data;

(vii) The process for submission of data by nonincumbent developers of transmission projects that wish to participate in the regional transmission planning process and seek regional cost allocation;

(viii) The process for submission of data by merchant transmission developers that wish to participate in the regional transmission planning process;

(ix) The dispute resolution process;

(x) The study procedures for economic upgrades to address congestion or the integration of new resources; and

[The procedures and mechanisms for considering transmission needs driven by Public Policy Requirements, consistent with Order Nos. 1000; and]

(xi) The relevant cost allocation method or methods.

The regional transmission planning process must include [a ]cost allocation methods [or methods ]that satisfy the [six regional cost allocation principles]requirements set forth in Order Nos. 1000 and 1920.

Identifying Potential Opportunities to Right-Size Replacement Transmission Facilities

As part of each Long-Term Regional Transmission Planning cycle, Transmission Providers in each transmission planning region shall evaluate whether transmission facilities operating at or above a voltage threshold not to exceed 200 kV that an individual Transmission Provider that owns the transmission facility anticipates replacing in-kind with a new transmission facility during the next 10 years can be “right-sized” to more efficiently or cost-effectively address Long-Term Transmission Needs, as discussed in Order No. 1920. The process to identify potential opportunities to right-size replacement transmission facilities must follow the process outlined in Order No. 1920. The Transmission Providers in each transmission planning region shall include in their Tariffs a cost allocation method for right-sized replacement transmission facilities that are selected in the regional transmission plan for purposes of cost allocation.

Interregional Transmission Coordination

The Transmission Provider, through its regional transmission planning process, must coordinate with the public utility transmission providers in each neighboring transmission planning region within its interconnection to address transmission planning coordination issues related to interregional transmission facilities. The interregional transmission coordination procedures must include a detailed description of the process for coordination between public utility transmission providers in neighboring transmission planning regions (i) with respect to each interregional transmission facility that is proposed to be located in both transmission planning regions and (ii) to identify possible interregional transmission facilities that could address transmission needs more efficiently or cost-effectively than separate regional transmission facilities. The interregional transmission coordination procedures shall be described in an attachment to the Transmission Provider's Tariff.

The Transmission Provider must ensure that the following requirements are included in any applicable interregional transmission coordination procedures:

(1) A commitment to coordinate and share the results of each transmission planning region's regional transmission plans (including information regarding the Long-Term Transmission Needs and potential transmission facilities to meet those needs) to identify possible interregional transmission facilities that could address transmission needs more efficiently or cost-effectively than separate regional transmission facilities, as well as a procedure for doing so;

(2) A formal procedure to identify and jointly evaluate transmission facilities that are proposed to be located in both transmission planning regions, including those that may be more efficient or cost-effective transmission solutions to Long-Term Transmission Needs;

(3) An agreement to exchange, at least annually, planning data and information; and

(4) A commitment to maintain a website or email list for the communication of information related to the coordinated planning process, including:

(a) the Long-Term Transmission Needs discussed in the interregional transmission coordination meetings;

(b) any interregional transmission facilities proposed or identified in response to the Long-Term Transmission Needs;

(c) the voltage level, estimated cost, and estimated in-service date of the interregional transmission facilities proposed or identified as part of Long-Term Regional Transmission Planning;

(d) the results of any cost-benefit evaluation of such interregional transmission facilities, with results including both any overall benefits identified, as well as any benefits particular to each transmission planning region; and

(e) the interregional transmission facilities, if any, selected in the regional transmission plan for purposes of cost allocation to meet Long-Term Transmission Needs.

The Transmission Provider must work with transmission providers located in neighboring transmission planning regions to develop a mutually agreeable method or methods for allocating between the two transmission planning regions the costs of a new interregional transmission facility that is located within both transmission planning regions. Such cost allocation method or methods must satisfy the six interregional cost allocation principles set forth in Order No. 1000 and must be included in the Transmission Provider's Tariff.

United States of America—Federal Energy Regulatory Commission

Building for the Future Through Electric Regional Transmission Planning and Cost Allocation

Docket No. RM21-17-000

(Issued May 13, 2024)

PHILLIPS, Chairman, CLEMENTS, Commissioner, concurring:

1. The electric transmission grid is the backbone of the American economy and essential to the national security of our country. The mission of this agency is to ensure reliable, safe, secure, and economically efficient energy for consumers at a reasonable cost. Ensuring we have a robust, well-planned electric transmission grid is the single most important step that this Commission can take to fulfill that statutory mandate. It is a reliability imperative. The transmission grid ultimately allows consumers to have access to the electricity they need—when they need it—to power their homes and businesses. It is equally an affordability imperative. The transmission grid gives those same consumers access to diverse, low-cost sources of electricity that help ensure energy bills remain just and reasonable. All told, a strong electric transmission grid is the foundation for how this Commission meets its most important statutory responsibilities under the Federal Power Act (FPA).

2. That has never been more true than it is today. We are in the midst of a pivotal moment for the electricity system. As a nation, we are seeing unprecedented demands on the grid from extreme weather, increasing and rapidly changing patterns of electricity use, and fundamental shifts in the resource mix. And there is every reason to believe those trends will continue, and, indeed, accelerate, in the years ahead.

3. At the same time, our transmission grid is old. More than 70 percent of the grid was built over 25 years ago and much of it was put into service in the 1960s and 1970s, when this agency was still the Federal Power Commission. Our country cannot meet the challenges of today, let alone tomorrow, with yesterday's transmission system. And being unprepared to meet those increased demands jeopardizes the safety and security of our grid. Nevertheless, as a country, we have so far failed to make the investments in the types of transmission facilities needed to ensure continued reliability and affordability at anywhere near the scale or speed needed to meet this pivotal moment.

4. The cost of continued inaction is immeasurable. Failure to act now would hamper the reliability and resilience of our electric grid while leaving customers holding the bag for the inevitably more costly upgrades in the future. Indeed, under the status quo, with its de facto emphasis on the piecemeal, just-in-time development of the grid to meet near-term reliability and economic needs, customers are being forced to fund investments that could have been more beneficial, less costly, or both had they been better planned from the start. That result undermines our economy and leaves customers less safe and secure, with enormous costs for both our grid and our country.

5. Avoiding those costs requires a forward-looking, comprehensive, and holistic transmission planning and cost allocation framework. That framework must consider the diverse challenges facing the transmission grid, identify the solutions that will address those challenges, and ensure only customers who benefit from those facilities pay their share of the cost, while ensuring that customers who do not benefit do not pay. Period.

6. We must conduct this planning and cost allocation on a regional basis and with an aperture consistent with the scope and scale of the challenges we face. That is, after all, why Congress enacted Title II of the FPA: To provide a coherent regional and national regulatory regime and avoid the harms and costs that come from a balkanized electricity system in which every state is its own regulatory island.¹

¹ New York v. FERC, 535 U.S. 1, 6 (2002) (“When it enacted the FPA in 1935, Congress authorized federal regulation of electricity in areas beyond the reach of state power,” tasking the Commission's predecessor with “effective federal regulation of the expanding business of transmitting and selling electric power in interstate commerce.” (quoting Gulf States Utils. Co. v. F.P.C., 411 U.S. 747, 758 (1973))); FERC v. Elec. Power Supply Ass'n, 577 U.S. 260, 265-66 (2016) (EPSA) (same); cf. First Iowa Hydro-Elec. Co-op v. F.P.C., 328 U.S. 152, 180 (1946) (The Federal Water Power Act of 1920 was “a complete scheme of national regulation which would promote the comprehensive development of the water resources of the Nation, in so far as it was within the reach of the federal power to do so, instead of the piecemeal, restrictive, negative approach of the River and Harbor Acts and other federal laws previously enacted.”).

7. Today's final rule does just that. We are requiring transmission planners to plan Long-Term Regional Transmission Facilities using the factors we know drive the transmission needs of tomorrow and consider the reliability and affordability benefits those facilities will provide. At the same time, we are giving transmission planners discretion regarding whether and how to select which transmission facilities to build, recognizing no two regions of the country are alike and a one-size-fits-all solution simply will not produce the infrastructure we so badly need.

8. When it comes to the critical question of “who pays,” we are providing transmission planners with the maximum flexibility we can legally allow in order to facilitate negotiated, regionally appropriate solutions. And, as part of a multi-pronged approach to protecting customers, we are requiring transmission planners to reevaluate any previously selected Long-Term Regional Transmission Facility when the actual or projected costs of that facility significantly exceed the cost estimates used during selection. Finally, we are also providing states with unprecedented, expanded opportunities to work with transmission providers to shape the cost allocation approaches of their regions, while meeting the beneficiary pays requirement that is the foundation of cost causation under the FPA's just and reasonable standard.

I. The Dissent's Approach Would Not Result in the Energy Infrastructure Buildout We Need

9. Commissioner Christie provides a stark alternative vision in his dissent, one that would violate the cost causation principle and harm electric reliability. While we agree with his emphasis on the importance of cooperation with states—and have created unprecedented opportunities for such cooperation throughout this final rule—his radical new approach would permit a state to receive economic, resilience, and reliability benefits from new energy infrastructure, but not be charged a single cent unless they expressly agree to pay. That myopic view does not satisfy the requirements of the FPA and would not adequately facilitate the development of transmission we desperately need to ensure reliability and affordability. Contrary to the dissent's assertion that this final rule is the product of a political agenda, failing to act based on the dissent's flawed reading of the circumstances through the lens of politics would abdicate the Commission's duty.

10. The dissent's approach would necessarily require the Commission to ignore evidence about which consumers benefit from the increased reliability, resilience, and affordability due to grid expansion. Instead, backbone regional transmission could not be built unless every state unanimously opted into an agreed cost allocation. But for the same reason that passing around a hat is no way to fund the fire department, roads, or bridges, such an approach to building critical, public interest infrastructure that relies entirely on the voluntary contributions of individual states (or could even be defeated by the refusal to contribute by a single state) will not beget the transmission infrastructure needed to maintain reliability and affordability.

11. Put another way, there is little reason to believe that we, as a country, would build the infrastructure needed to power the world's largest economy if individual states that benefit from that infrastructure could simply decline to pay. Instead, Commissioner Christie's approach would be far more likely to result in a failure to make needed investments entirely, or else to down-size those investments in a way that results in exactly the type of piecemeal transmission development that led us to conclude existing transmission planning practices are rendering transmission rates unjust and unreasonable. That result would leave America far worse off. Just as the Articles of Confederation were not a sufficient platform to develop and sustain a national economy, so too would a wholly voluntary approach to paying for the needed infrastructure be inadequate to develop a transmission grid capable of powering the world's largest economy. That alone is a reason to reject Commissioner Christie's dissenting views.

12. In addition, the dissent's approach would result in subpar transmission planning. Our nation needs transmission planning that looks ahead on the decades-long timeframe that is relevant to building backbone transmission facilities that will likely last a half-century or more. And transmission needs can best be predicted by considering many factors to discern their aggregate effect. Those include economics and technology fundamentals, changing demand patterns across customers of all types (including corporations), the full panoply of federal, Tribal, state, and local policy contributions, and even the changing weather patterns, which pose increasing challenges to maintaining a reliable and resilient electric grid. Rather than reflect that integrated reality, Commissioner Christie's approach asks planners to isolate select state public policies and focus on how each individually shapes the grid. That too is a recipe for down-sizing needed infrastructure in a way that will result in less efficient or cost-effective investments that fail to meet this critical moment.

II. The Dissent Misrepresents the Final Rule

13. Commissioner Christie's dissent responds to a strawman of his own making, not the final rule. And, even so, the dissent's critique of the final rule ultimately boils down to one principal issue: the failure of the rule (in his view) to give every state an absolute right to veto the costs of a transmission facility, even one from which the state's consumers would derive economic and reliability benefits. Although we respect his perspective, we disagree that the changes he seeks are legal—much less legally required—or that a final rule premised on his vision would beget the energy infrastructure needed to maintain reliability and affordability. In any case, his statement mischaracterizes critical aspects of the final rule, the most fundamental of which we address below.

14. First and foremost, Commissioner Christie asserts that Long-Term Regional Transmission Facilities are public policy projects whose purpose is to facilitate state efforts to shape the resource mix. He is wrong. This final rule requires transmission providers to comprehensively consider the factors that will shape the transmission needs of tomorrow. Although state efforts to shape the resource mix are one of many factors transmission planners are required to consider under this final rule, Commissioner Christie's narrow focus on them misses the forest for a couple trees. The requirement to consider state public policies is part of the much broader requirement to comprehensively consider all significant factors shaping future transmission needs, where other factors, including the fundamental economic and reliability drivers, play a much bigger role. That Commissioner Christie is focused overwhelmingly on the state public policies with which he disagrees does not mean that the same is true of Long-Term Regional Transmission Facilities.

15. In any case, Commissioner Christie's proposal is arbitrary and capricious in its lack of any limiting principle. Transmission needs of all sorts—economic or reliability, near-term or long-term—are shaped by all manner of state public policy choices. Fundamental state decisions, such as tax rates, zoning and land use laws, and almost every use of the police power more generally, inevitably shape the supply and demand of electricity. No transmission need is unaffected by those basic exercises of state power, which means that no transmission need can be fairly or accurately described as entirely divorced from the effects or consequences of state policy decisions.

16. While taking issue with some state policy choices, Commissioner Christie's vision contains no method for determining which state policies must be considered and which might escape scrutiny even though they too contribute to underlying transmission needs. Similarly, it contains no rubric for determining how to evaluate the cumulative effects of state public policies—such as taxation and land use laws—that are, in many cases, far in excess of those derived from the public policies on which he chooses to focus. Nor does it contain any explanation for subjecting Long-Term Regional Transmission Facilities to this suite of planning and cost allocation requirements, but not economic and reliability projects—which are, for the reasons noted above, inevitably at least in part the product of public policies. That sort of unexplained, arbitrary line drawing is exactly what the APA prohibits.²

² See, e.g., Prometheus Radio Project v. F.C.C., 373 F.3d 372, 390 (3rd. Cir. 2004) (explaining that when an agency has engaged in line-drawing, “its decisions may not be `patently unreasonable' or run counter to the evidence before the agency” (citations omitted)); Sinclair Broadcast Grp., Inc. v. F.C.C., 284 F.3d 148, 162 (D.C. Cir. 2002) (explaining that lines drawn cannot be “patently unreasonable, having no relationship to the underlying regulatory problem” (citing Cassell v. F.C.C., 154 F.3d 478, 485 (D.C. Cir. 1998)); Am. Trucking Assocs., Inc. v. I.C.C., 697 F.2d 1146, 1151 (D.C. Cir. 1983) (“The arbitrariness which the [Administrative Procedure Act] proscribes is the failure to draw reasoned distinctions where reasoned distinctions are required.”).

17. Let us be clear: These are reliability and affordability projects. As the final rule explains, the minimum standards we establish provide that Long-Term Regional Transmission Facilities are to be identified and evaluated based on their reliability and economic benefits. To call them anything else—no matter how many times—is a misnomer, plain and simple.

18. Similarly, Commissioner Christie's claim that states will be forced to subsidize other states' public policy choices could not be further from the truth. A bedrock requirement of this final rule is that customers will only be required to pay for a share of a Long-Term Regional Transmission Facility to the extent they benefit from that facility. That is cost causation 101. While we provide transmission planners, in cooperation with their state regulators, ample flexibility to determine how to satisfy that bedrock requirement, any cost allocation methodology that causes customers to pay for projects from which they do not benefit—or to pay a cost share out of proportion to the benefits they draw from the project—would be patently unjust and unreasonable. That is black letter law under the FPA,³ which we have expressly incorporated into the requirements of this final rule.⁴

³ See City of Lincoln v. FERC, 89 F.4th 926, 930 (D.C. Cir. 2024) (“The FPA's just and reasonable standard incorporates a cost-causation principle.”); Old Dominion Elec. Coop. v. FERC, 898 F.3d 1254, 1255 (D.C. Cir. 2018) (“Under the [FPA], electric utilities must charge just and reasonable rates. For decades, the Commission and the courts have understood this requirement to incorporate a cost-causation principle—the rates charged for electricity should reflect the costs of providing it.” (citations omitted)); see also BNP Paribas Energy Trading GP v. FERC, 743 F.3d 264, 268 (D.C. Cir. 2014) (“[T]he cost causation principle itself manifests a kind of equity. This is most obvious when we frame the principle (as we and the Commission often do) as a matter of making sure that burden is matched with benefit.”).

⁴ Bldg. for the Future Through Elec. Reg'l Transmission Planning & Cost Allocation & Generator Interconnection, Order No. 1920, 187 FERC ¶ 61,068, at P 1305 & n.2786 (2024).

19. The dissent is equally wrong to suggest that anything less than a unilateral right to veto cost responsibility for a regional transmission project is unfair to states. To the contrary, both courts and the Commission have long recognized that the just and reasonable standard of the FPA requires that customers pay for infrastructure they use and benefit from.⁵ The dissent's approach, by contrast, would permit free ridership, allowing states to avoid paying by withholding their approval, while still receiving the substantial benefits of a more integrated, robust transmission system. Here too, both the Commission and the courts have expressly rejected that approach as inconsistent with cost causation.⁶ Rather than ensure fairness, the dissent's approach would create perverse incentives, rewarding states that decline to pay for infrastructure development that demonstrably provides reliability and economic benefits to those states, while penalizing those who roll up their sleeves to get those projects built. That is a recipe for inaction, not for building the energy infrastructure we so badly need to maintain reliability and affordability.

⁵ Beneficiary pays is founded on a recognition, grounded in the unbreakable laws of physics, that “the nature of power flows over an interconnected transmission system does not permit a public utility transmission provider to withhold service from those who benefit from those services but have not agreed to pay for them.” Order No. 1000, 136 FERC ¶ 61,051 at P 534; see also id P 535 (“the cost causation principle provides that costs should be allocated to those who cause them to be incurred and those that otherwise benefit from them”); Ill. Commerce Comm'n v. FERC, 576 F.3d 470, 476-77 (7th Cir. 2009) (ICC v. FERC I) (“All approved rates must reflect to some degree the costs actually caused by the customer who must pay them . . . To the extent that a utility benefits from the costs of new facilities, it may be said to have caused a part of those costs to be incurred, as without the expectation of its contributions the facilities might not have been built, or might have been delayed.” (internal citations omitted)); K N Energy, Inc. v. FERC, 968 F.2d 1295, 1300 (D.C. Cir. 1992) (“FERC and the courts have added flesh to these bare statutory bones, establishing what has become known in Commission parlance as the `cost-causation' principle. Simply put, it has been traditionally required that all approved rates reflect to some degree the costs actually caused by the customer who must pay them.”); see, e.g., Sw. Power Pool, 182 FERC ¶ 61,141, at PP 12, 99-103 (2023).

⁶ Order No. 890, 118 FERC ¶ 61,119 at P 561 (“there are free rider problems associated with new transmission investment, such that customers who do not agree to support a particular project may nonetheless receive substantial benefits from it”); Order No. 1000, 136 FERC ¶ 61,051 at P 535 (“[if] the Commission could not address free rider problems associated with new transmission investment, [ ] it could not ensure that rates, terms and conditions of jurisdictional service are just and reasonable and not unduly discriminatory”); El Paso Elec. Co. v. FERC, 76 F.4th 352, 363 (5th Cir. 2023) (“No amount of emphasizing other competing interests permits FERC to sacrifice the foundational principle of cost-causation by refusing to allocate costs to those who cause the costs to be incurred and who reap the resulting benefits.” (citations omitted)).

20. We agree with Commissioner Christie that transmission development works best when states are key partners in the process. That is why we take the unprecedented steps described in the final rule to give them a central role. But partnership and collaboration are not the same thing as giving every state the right to veto cost responsibility for transmission projects thus allowing their residents to reap a windfall by benefitting from transmission facilities for which they did not pay their legally required share.

21. Commissioner Christie also asserts that the final rule deprives states of their long-standing authority. That is categorically false. Let us again be clear: States retain all the same authorities over retail rates and transmission siting they held prior to the final rule. Rather than deprive states of authority, the final rule empowers them with unprecedented opportunities to engage with transmission providers in developing a cost allocation framework.

22. Commissioner Christie's objection is to the structure of the FPA, and long-established, court-upheld Commission regulation of regional transmission planning under Order No. 1000, not the final rule. He objects to the transmission provider's role in deciding, without state approval, whether to invest in a transmission project and determine, subject to Commission oversight, which consumers must pay for it. But that basic structure is not new to the final rule—it is how transmission planning occurs today, consistent with the FPA and Commission precedent, including Order No. 1000. At Congress's direction, public utilities, not states, have the right to propose to the Commission rates and practices affecting those rates and we cannot deprive them of those rights.⁷ Neither states' siting authority nor their exclusive jurisdiction over retail rates give them the unilateral right to dictate matters subject to the Commission's exclusive jurisdiction, such as the transmission rates and practices affecting those rates that are the subject of this final rule.⁸ For example, a state could reject siting or other approvals for the portion of a regional transmission project located within its jurisdiction, provided that its determination was consistent with relevant state and federal law. But states cannot stymie needed regional transmission projects by simply declining to pay for them. Nor is that concept new to this final rule. Under established economic and reliability planning, state policies are contributing factors to needed transmission, and states have never held a veto authority over costs for such facilities under Order No. 1000.⁹ Nothing in this final rule changes those basic facts.

⁷ 16 U.S.C. 824d; Atl. City Elec. Co. v. FERC, 295 F.3d 1, 9 (D.C. Cir. 2002) (“Section 205 of the Federal Power Act gives a utility the right to file rates and terms for services rendered with its assets.”).

⁸ See Order No. 1920, 187 FERC ¶ 61,068 at PP 253-83 (affirming Commission's legal authority to require participation in Long-Term Regional Transmission Planning).

⁹ Indeed, Commissioner Christie recently approved, over the objection of other states, PJM's plan to regionally allocate the costs of transmission to address reliability concerns driven, at least in part, by Virginia's policy to incent siting of data centers in that state. See PJM Interconnection, L.L.C., 187 FERC ¶ 61,012 (2024).

23. What has changed is that states now, as a result of this final rule, have an unprecedented opportunity to shape transmission planning and cost allocation, elevating our system of cooperative federalism with the states to a degree not previously seen in the history of this Commission. Most significantly, we are requiring transmission providers to host a dedicated forum for meaningful state participation in proposing cost allocation methods and processes. And the rule also permits a State Agreement Process for allocating the costs of all, or a subset of, Long-Term Transmission Facilities. Beyond cost allocation, states will have an opportunity to provide input on how to account for specific factors in Long-Term Scenarios, and states can provide information on how their own policies and planning affect Long-Term Transmission Needs. The rule also requires transmission providers to consult with and seek the support of states regarding how Long-Term Regional Transmission Facilities are evaluated and selected. We expect that where states come together to articulate workable, legal frameworks for planning and paying for needed infrastructure, their transmission providers will listen.

24. Indeed, under the State Agreement Process provided in the final rule, states very well could agree to, and transmission planners could adopt, a version of Commissioner Christie's preferred cost allocation approach.¹⁰ So long as those expected to use the Long-Term Regional Transmission Facilities pay a share of the cost that is roughly commensurate with the benefits they will receive, nothing in this final rule prohibits states in a transmission planning region from adopting Commissioner Christie's preferred approach for funding the transmission facilities they need to ensure reliability and affordability.

¹⁰ We find Commissioner Christie's contention that the final rule would end PJM's use of its existing State Agreement Approach, and MISO and SPP's respective regional state committees, puzzling. Order No. 1920, 187 FERC ¶ 61,068 (2024) (Christie, Comm'r, dissenting, at P 11). The final rule enhances states' role and relaxes certain Order No. 1000 requirements for state-approved cost allocations. It is inexplicable that these additional flexibilities would result in transmission providers rolling back opportunities for state engagement in existing Order No. 1000 processes, where that is the opposite of the thrust of the final rule. Moreover, PJM's State Agreement Approach was approved outside of compliance with Order No. 1000 and has never served as PJM's exclusive ex ante cost allocation method, as Commissioner Christie suggests.

25. Commissioner Christie also asserts that this final rule breaks with Order No. 1000 by mandating outcomes rather than regulating transmission planning processes. Here, too, he is wrong. The rule is clear that no transmission provider is required to select any particular project.¹¹ Instead, just as in Order No. 1000, the obligation on the transmission provider is to plan for the world as we expect it to be and then make its own business decisions after having conducted that planning process. The final rule's minimum planning standards do not un-do that core discretion. Requiring planning to be based upon documented drivers of transmission needs and to incorporate objective measures of how potential investments pay off improves the planning process, it does not mandate any particular outcome.¹² In short, in recasting the rule to fit his narrative, Commissioner Christie conveniently ignores one of its core elements: that it imposes no obligation to develop any regional transmission project.

¹¹ Order No. 1920, 187 FERC ¶ 61,068 at P 1026 (“The Commission did not propose in the NOPR, and we will not require in this final rule, that transmission providers select any particular Long-Term Regional Transmission Facility—even where a particular transmission facility meets the transmission providers' selection criteria in their OATTs.”).

¹² Id. (“In other words, as in Order No. 1000, our focus is on ensuring that regional transmission planning processes result in just and reasonable rates, and not on requiring that these processes achieve any particular substantive outcome.”).

26. Finally, Commissioner Christie is also incorrect in arguing that this final rule violates the Major Questions Doctrine. He asserts two bases for that argument, neither of which hold water.

27. First, he contends that our intention in issuing this final rule is to elicit trillions in spending on transmission. As an initial matter, the goal of this final rule is to facilitate the development of transmission infrastructure needed to maintain reliability and affordability. That is the case no matter how many times or in how many ways Commissioner Christie purports to ascribe our `true' intentions. In any case, his trillion-dollar estimates are nothing more than a sleight of hand that is unsupported by the record before us. To support his claim that this final rule will cause “literally trillions” in transmission investment, he cites to one academic study and one news article stating that in order to achieve a “net-zero” emissions level by 2050, trillions will need to be spent on transmission.¹³ Putting aside whether that figure is accurate and whether “net zero” is an appropriate policy goal for the country—a question which we agree is not for this Commission to resolve—it is an astounding logical leap to say that because certain individuals believe a certain amount of investment is necessary to achieve a certain policy goal, that this rule will necessary cause customers to spend that amount of money. In any case, as the dissent points out, significant investments in transmission are already being made by public utilities around the country regardless of anything we do—or do not do—here today. This final rule regulates the process by which those investments are identified, evaluated and, where appropriate, selected in order to help ensure that they reflect the most efficient and cost-effective options available. That is what the Commission has been doing for decades; the fact that transmission has become a more politically salient topic does not transform our longstanding practice into a major question.

¹³ Id. (Christie, Comm'r, dissenting at P 3 & n.7.

28. Second, he contends that our statement that the Commission has exclusive jurisdiction over the transmission planning practices that directly affect wholesale rates means that this Commission has crossed the major questions Rubicon. But it was the courts, not this Commission, that took that step. As he observes in his dissent, South Carolina concluded that the transmission planning practices regulated by Order No. 1000—which are the same practices addressed by this final rule—were practices that directly affected wholesale rates and thus fall squarely within the Commission's jurisdiction.¹⁴ And as the courts have explained, where a practice meets that directly affecting standard, it falls within the Commission's exclusive jurisdiction.¹⁵ This long-settled law in no way alters or dilutes the significant and critical role for states to play under their jurisdiction and, as noted above, we have significantly expanded that role in this final rule. Rather it means that the specific practices in the tariffs on file with this Commission, as required by this final rule, are within the Commission's exclusive jurisdiction, not that of the states. The final rule's recitation of black letter law hardly runs afoul of the major questions doctrine.

¹⁴ In South Carolina, it was undisputed that transmission planning generally was a practice that directly affected wholesale rates, but the court further held that the absence of regional transmission planning was itself such a practice. S.C. Pub. Serv. Auth. v. FERC, 762 F.3d 41, 56-59 (D.C. Cir. 2014).

¹⁵ See, e.g., Nat'l Ass'n of Regul. Util. Comm'rs v. FERC, 964 F.3d 1177, 1181 (D.C. Cir. 2020) (“Congress g[ave] the Federal Energy Regulatory Commission . . . exclusive authority over the regulation of the sale of electric energy at wholesale in interstate commerce, including both wholesale electricity rates and any rule or practice affecting such rates.” (cleaned up)).

III. We Encourage Transmission Providers To Facilitate Joint Ownership Structures

29. Finally, we would be remiss not to mention one policy priority that is not finalized in this rule: The creation of a federal right of first refusal for certain transmission facilities developed through a joint ownership structure. As the final rule explains, we find that proposal is better considered as part of our generic proceeding on Transmission Planning and Cost Management, where it can be evaluated alongside other proposals for ensuring that transmission facilities are developed as efficiently and cost-effectively as possible.¹⁶

¹⁶ Order No. 1920, 187 FERC ¶ 61,068 at PP 1563-64 & n.3346.

30. Nevertheless, we underscore that our decision today should not be construed as a lack of support for the concept of joint ownership or the potential for a federal ROFR to effectively encourage its use. Indeed, joint ownership structures that partner transmission owners with other load-serving entities in their footprint, such as public power or non-profit cooperatives, can provide many benefits and should be encouraged.

31. In these arrangements, the load-serving entity partner's participation can reduce costs for customers in the footprint. Such joint ownership structures bring together diverse parties, allowing the participating entities to better allocate risks and responsibilities, capture efficiencies, and promote innovation, all to customers' ultimate benefit.¹⁷ Moreover, by bringing a wider range of entities into the transmission development fold, joint ownership can leverage additional sources of capital, including those that do not typically invest in transmission facilities, which can itself have significant benefits for customers.¹⁸

¹⁷ See, e.g., TAPS Initial Comments at 33-34 (“As explained in the TAPS 2021 White Paper, inclusive joint transmission ownership arrangements—whether structured as an inclusive transco, a shared system, or joint ownership of new transmission facilities—result in collaborative and inclusive planning, development, and siting of transmission, and have proven highly effective in getting transmission built to meet the needs of all LSEs.” (citing TAPS, Inclusive Joint Transmission Ownership Arrangements: An Effective Means to Site and Build Transmission Need to Support Our Changing Resource Mix (June 2021), https://www.tapsgroup.org/wp-content/uploads/2021/09/TAPS-Inclusive-Joint-Ownership-White-Paper.pdf)); see also Rob Gramlich et al., Grid Strategies, Fostering Collaboration Would Help Build Needed Transmission, at 11-30 (Feb. 2024) (attached to WIRES Supplemental Comments) (highlighting specific examples of large regional transmission projects that resulted from diverse partnerships, including with public power entities and cooperatives, and which met many transmission needs and produced a wide range of benefits).

¹⁸ See, e.g., APPA Initial Comments, attach. at 4-10 (Declaration of James Pardikes) (listing advantages in equity ratio, debt cost, and income tax expense, and opportunities for risk diversification as potential benefits of joint ownership arrangements with public power utilities); NRECA Reply Comments at 15-16; Citizens Energy Reply Comments at 2-4 (describing how its unique joint ownership business model enables Citizens to provide direct support to low-income ratepayers and disadvantaged communities, addresses multiple concerns that arise in transmission development, and advances multiple Commission policy goals).

32. For example, TAPS highlights specific instances of joint ownership arrangements with tax-exempt public power entities providing significant savings to customers.¹⁹ TAPS and APPA estimate these kinds of joint ownership arrangements can typically yield a “more than a 5% annual cost reduction in ratepayer-funded return and associated tax costs,” which could produce billions of dollars in savings when applied to reasonable transmission investment forecasts.²⁰ Relatedly, NRECA highlights examples of joint ownership arrangements with electric cooperatives yielding reliability and efficiency benefits, including, among others, leveraging electric cooperative's ability to provide increased operations and maintenance support and access to lower cost financing through the Rural Utilities Service.²¹

¹⁹ TAPS Initial Comments at 45 (examining savings across Vermont Transco, ATCLLC, Fargo Project, and SE Missouri Project).

²⁰ TAPS Initial Comments at 45-46 & nn.133-135; APPA Reply Comments at 4.

²¹ GDS Assocs., National Rural Electric Cooperative Association, at 25-27 (Aug. 17, 2021) (attached to NRECA Initial Comments).

33. In light of those substantial benefits, we clarify that nothing in this final rule should be interpreted to prohibit or impair joint ownership arrangements. To the contrary, we encourage transmission providers, in compliance with this rule and elsewhere, to find ways to encourage these arrangements. For example, in compliance with this rule, transmission planners could use joint ownership as a factor to be considered in evaluating and selecting the more efficient or cost-effective solution to meet a long-term transmission need. Similarly, we note that the developers of a jointly owned transmission facility can consider seeking transmission incentives under section 205 of the FPA that reflect the risks and challenges associated with developing such facilities.²² In addition, the Commission will continue to evaluate other potential actions to incentivize joint ownership, including considering in the Commission's cost management proceeding whether to provide a right of first refusal or other mechanisms to encourage its use.

²² See Promoting Transmission Investment Through Pricing Reform, 141 FERC ¶ 61,129, at P 24 (2012) (“The Commission encourages incentives applicants to participate in joint ownership arrangements and agrees with commenters to the NOI that such arrangements can be beneficial by diversifying financial risk across multiple owners and minimizing siting risks.”); Promoting Transmission Investment Through Pricing Reform, Order No. 679, 116 FERC 61,057, at P 354 (2006) (“[T]o the extent our jurisdiction allows, the Commission will entertain appropriate requests for incentive ratemaking for investment in new transmission projects when public power participates with jurisdictional entities as part of a proposal for incentives for a particular joint project. Encouraging public power participation in such projects is consistent with the goals of section 219 by encouraging a deep pool of participants.”).

* * * * *

34. Our electric transmission grid is at a crossroads. Our nation is facing down an extended period of unprecedented change in demand, supply, and the myriad other factors that fundamentally shape our energy needs. And we do so with a network of transmission infrastructure that was overwhelmingly built in the last century and in the face of a very different reality.

35. We have a choice: We can take consequential action to build the infrastructure needed to ensure reliability and affordability. Or we can pursue half-measures, which may help on the margins, but will ultimately leave us lacking the infrastructure we need to keep the lights on at a price that customers can afford. With this final rule, we emphatically choose the former path.

36. But we are not going down this road alone. As discussed above, we have opened the door for our state partners to play a leading role in shaping the next generation of energy infrastructure. We urge them to walk through it and deploy their unique perspectives as regulators and siting authorities of electric infrastructure to develop regionally tailored solutions. Together, we can forge a process that will serve customers for generations to come. This is the moment to step up, to develop both processes and physical infrastructure to withstand the changes and challenges ahead. This is the moment to build an electric transmission grid for the 21st century.

For these reasons, we respectfully concur.

Willie L. Phillips

Chairman

Allison Clements

Commissioner

United States of America—Federal Energy Regulatory Commission

Building for the Future Through Electric Regional Transmission Planning and Cost Allocation

Docket No. RM21-17-000

(Issued May 13, 2024)

CHRISTIE, Commissioner, dissenting:

I. The Final Rule Is a Pretext for Enacting a Sweeping Policy Agenda Never Passed by Congress, Denies the States the Authority Promised by the NOPR, and Fails the Commission's Consumer Protection Duty Under the Federal Power Act

1. The Federal Power Act (FPA) is, at its core, a consumer protection statute.¹ In FPA section 206, which today's final rule purports to be based on, Congress explicitly directed this Commission to protect consumers from public utility “rates” that are “unjust, unreasonable, unduly discriminatory or preferential.” ² This final rule, however, fails to fulfill the Commission's consumer protection duty required by the statute. The final rule should be seen for what it is: a pretext to enact, through administrative action, a sweeping legislative and policy agenda that Congress never passed.³ The final rule claims statutory authority the Commission does not have to issue an absurdly complex bureaucratic blizzard of mandates and micromanagement ⁴ to be imposed on every transmission provider in the United States for the transparent goal of spending trillions of consumers' dollars on transmission not to serve consumers in accordance with the FPA, but instead to serve political, corporate, and other special-interest agendas that were never enacted into law.⁵ The rates for transmission that will result from the final rule will not only be unjust, unreasonable, unduly discriminatory and preferential, but grossly unfair to tens of millions of American consumers already burdened with rapidly growing monthly power bills.

¹ E.g., Towns of Alexandria, Minn. v. FPC, 555 F.2d 1020, 1028 (D.C. Cir. 1977) (explaining that the FPA's “ `primary aim is the protection of consumers from excessive rates and charges' ”) (quoting Mun. Light Bds. v. FPC, 450 F.2d 1341, 1348 (D.C. Cir. 1971)); see also Elec. Dist. No. 1 v. FERC, 774 F.2d 490, 492 (D.C. Cir. 1985) (recognizing that the benefits of rate predictability, which are the “whole purpose” of the filed rate doctrine, ought to be considered in light of the FPA's “primary purpose of protecting the utility's customers”).

² 16 U.S.C. 824e. Under the FPA, the Commission is a regulator of wholesale public utility rates, not a national integrated resource planner (known in the lingo as an “IRP”) of generation and/or transmission. See, e.g., Entergy Nuclear Vt. Yankee, LLC v. Shumlin, 733 F.3d 393, 417 (2d Cir. 2013) (quoting S. Cal. Edison Co. San Diego Gas & Elec. Co., 71 FERC ¶ 61,269, at 62,080 (1995) (“[S]tates have broad powers under state law to direct the planning and resource decisions of utilities under their jurisdiction. States may, for example, order utilities to build renewable generators themselves, or . . . order utilities to purchase renewable generation.”). Further, FPA section 215, pertaining to electric reliability, explicitly leaves the construction of generation and transmission assets to state regulatory authority. 16 U.S.C. 824o(i)(2). Section 215 makes clear congressional intent to leave integrated resource planning to the states. Indeed, the overall statutory framework of the FPA—consistent with America's federal constitutional structure—makes it clear that states are the primary regulators of which utility assets get planned and built, both generation and transmission, not FERC.

³ See, e.g., W. Va. v. EPA, 597 U.S. 697 (2022) (West Virginia v. EPA); Dept. of Commerce v. N.Y., 139 S. Ct. 2551 (2019).

⁴ In truly Kafkaesque fashion, the final rule is a doorstopper weighing in at just below 1300 pages, likely one of the longest, most complicated, and confusing orders the Commission has ever issued. Regulated entities—it applies to all public utility transmission providers in the United States, RTO and non-RTO—will need weeks just to read through it, much less decipher it, and then months of figuring out how to comply. Its very complexity raises the prospect of multiple rounds of compliance filings, no doubt punctuated by multiple deficiency letters, in order to push the transmission provider towards the outcomes the Commission wants to achieve. The final rule's very complexity renders it, if not arbitrary and capricious on its face, likely to be arbitrary and capricious in its enforcement.

⁵ See, e.g., Heather Richards, Zach Bright, Christian Robles, 3 energy issues to watch this spring at DOE, Interior and FERC, Energywire, Mar. 18, 2024 (“FERC has promised a closely watched rule this spring on transmission that could be key to President Joe Biden's ambitious aim to decarbonize the electricity grid by 2035 . . . . `The sooner we get a final rule, the better. . .,' said Caitlin Marquis [of] Advanced Energy United, a pro-clean-energy group . . . . [T]he Biden administration is in a race . . . until roughly midyear to finalize rules before they are subject to the Congressional Review Act (CRA) . . . . The Biden administration has said [today's final rule] will facilitate a build-out of interregional lines and grid interconnections needed to . . . allow more wind and solar power to come online . . . .”) (emphases added) https://www.eenews.net/articles/3-energy-issues-to-watch-this-spring-at-doe-interior-and-ferc/; see also Peter Behr, EPA power plant rule targets coal. Does that spell trouble for the grid? Climatewire, May 3, 2024 (“But climate activists will not give up the `zero by 2035' goal without a fight. President Biden made that steep commitment at a critical point in his 2020 candidacy to win the support of primary rival Sen. Bernie Sanders (I-Vt.) and his climate action activists . . . . [T]he hard road to a zero-carbon grid in 2035 is real precisely because the Biden administration has pursued it . . . . [Study authors] highlighted estimates that the rate of high-voltage transmission line construction must double to deliver the necessary new wind and solar energy . . . . The [Biden] administration . . . is putting a strategy for big new lines in place. FERC, with the support of Biden appointees, is preparing new policy to support big wires projects . . . . `You can't get around the fact that you're going to need tens of thousands of miles of new transmission lines if you want to build the hundreds of gigawatts of wind and solar and batteries that many of us predict are needed to achieve decarbonization goals,' said [former Obama energy secretary Ernest] Moniz.”) (emphases added), https://www.eenews.net/articles/epa-power-plant-rule-targets-coal-does-that-spell-trouble-for-the-grid-2/; see also Zach Bright, FERC sets date for landmark transmission rule, Energywire, Apr. 19, 2024 (“FERC said it plans to hold a special May 13 meeting to consider its . . . transmission planning and cost-allocation proposal that's been a focus of [lobbying] for expanding the grid to . . . move more renewable energy . . . . The Biden administration's goal of [net zero] by 2035 hinges on expanding the transmission system by two-thirds, the Energy Department said last year.”) (emphases added), https://www.eenews.net/articles/ferc-sets-date-for-landmark-transmission-rule/; It's raining rules: Why the Biden administration is rushing to produce regulations, The Economist, May 4, 2024, at 19 (“More regulations, big and small, are expected soon. The Federal Energy Regulatory Commission is planning to rewrite the rules governing interstate electricity transmission, which is critical to President Joe Biden's decarbonisation plans . . . . Why the sudden spate? A previously obscure law, the [CRA], helps explain the rush. It allows Congress, for a limited period, to pass resolutions of disapproval against finalised administrative regulations with which it disagrees. If both chambers of Congress pass such a resolution, and the president signs it, the rule is cancelled, short-circuiting the usual drawn-out process of litigation or a subsequent administration beginning a whole new rule-making effort. So once a regulation is properly created the clock starts ticking: the cancellation procedure is allowed for up to 60 days that the Senate is in session—including the last 60 days of an administration that loses a presidential election.”) (emphasis added), https://www.economist.com/united-states/2024/05/02/why-the-biden-administration-is-rushing-to-produce-regulations; see infra nn.8, 10, 13, 15, 16, 67.

2. The fundamental principle historically embedded in utility regulation in the United States is to provide consumers with reliable power at the least cost under applicable law. This principle is fair and compelling because the vast majority of American utility consumers are captive customers who pay a monopoly utility for a vital public service—electrical power—which no one can live without in modern society. Transmission is an essential component of this vital public service,⁶ so necessary transmission must be built.

⁶ The transmission component of utility service has typically been provided by the incumbent monopoly utility at the load-serving local level, and local transmission planning and/or construction is generally subject to state-regulated IRP or permitting processes, especially in non-RTO regions. The final rule imposes numerous additional requirements for local transmission planning, including even micromanaging how local “stakeholder” meetings are supposed to be conducted, which may conflict with state IRP proceedings and represent yet another FERC encroachment into areas of traditional state authority. See Bldg. for the Future Through Elec. Reg'l Transmission Planning & Cost Allocation & Generator Interconnection, Order No. 1920, 187 FERC ¶ 61,068, at Section IX.B.3.a (2024) (Final Rule). It is highly doubtful that the micromanagement of stakeholder meetings in local planning would pass judicial review under CAISO v. FERC, in which FERC's attempted micromanagement of an ISO's governing board appointments was rejected as not sufficiently grounded in FERC's rate-setting authority under the FPA. See Cal. Indep. Sys. Operator Corp. v. FERC, 372 F.3d 395, 400 (D.C. Cir 2004) (CAISO v. FERC).

3. Today's final rule, however, is not about providing reliable power to consumers at least cost through just and reasonable rates as required by the FPA, despite the final rule's claim. And it is certainly not about being fair. On the contrary, the final rule inflicts staggering costs on consumers by promoting the construction of trillions of dollars of transmission projects,⁷ not to serve consumers in accordance with the FPA, but to serve a major policy agenda never passed by Congress, to serve the profit-making interests of developers of politically preferred generation, primarily wind and solar, and to serve corporate “green energy” preferential purchasing policies.⁸ As such, the final rule does not deserve a shred of deference under Chevron U.S.A., Inc. v. Natural Resources Defense Council, Inc.⁹ in any form. Today's final rule is much less the product of reasoned decision-making or the agency's specialized expertise, as of political pressure and special interest lobbying.¹⁰ In the chapter on “regulatory capture” ¹¹ in future economics textbooks, today's final rule should be a featured case study.

⁷ The Princeton Net Zero study is often cited, but it is only one of many estimates of the trillions of dollars in additional costs to be imposed on consumers. Using the Princeton study, the cost estimates of the transmission buildout necessary to achieve “net zero” range across different scenarios, with one scenario calling for transmission capacity to quintuple (5x) between 2020 and 2050, which is predicted to cost $3.56 trillion. See Princeton University Net Zero America Final Report Summary, Slide 29, https://netzeroamerica.princeton.edu/img/Princeton%20NZA%20FINAL%20REPORT%20SUMMARY%20(29Oct2021).pdf. I would emphasize that the sticker price of a utility asset is only a fraction of the ultimate cost to consumers, because the “going in” price will increase by a multiple of many times the original cost over the life of the asset, because the cost of capital, both a profit to the utility (known as Return on Equity, or ROE) and the cost of debt, will be paid by consumers. So, if Princeton gives an estimate of $3.56 trillion for new utility assets needed to reach the “net zero” goal, the actual cost to consumers over the life of the assets will be many times more than that estimate. See also Diana DiGangi, U.S. won't reach net zero emissions without transmission buildout: DNV, Utility Dive, Sept. 25, 2023 (“$12 trillion will be spent on clean energy in North America by 2050 . . . to meet . . . net zero emissions targets . . . . Some of the biggest barriers to net zero in the U.S. include the lack of transmission buildout . . . .) (emphases added), https://www.utilitydive.com/news/net-zero-transition-clean-energy-north-america-transmission-buildout/694621/.

⁸ See, e.g., Peter Behr, DOE unveils critical grid corridors for Biden climate goals, Energywire, May 8, 2024 (“ `To meet our climate goals we have to more than double our transmission capacity,' said top White House clean energy adviser John Podesta, who has led a Cabinet-level push to get long-delayed transmission projects under construction.”) (emphasis added), https://www.eenews.net/articles/doe-unveils-critical-grid-corridors-for-biden-climate-goals/; Peter Behr, More, More, More: Biden's clean grid hinges on power lines, Energywire, May 23, 2022 (stating that “the Biden administration is seeking an unprecedented expansion of high-voltage electric lines to open new paths to wind and solar energy. `We obviously need more, more, more transmission to run on 100 percent clean energy . . .,' Energy Secretary Jennifer Granholm said in February.”) (emphasis added), https://subscriber.politicopro.com/article/eenews/2022/05/23/more-more-more-bidens-clean-grid-hinges-on-power-lines-00030117; see also supra n.5 and infra nn.10, 13, 15, 16, 67.

⁹ 467 U.S. 837 (1984) (Chevron).

¹⁰ See Catherine Morehouse, FERC to tackle “historic” transmission planning rule in May, PoliticoPRO, Apr. 18, 2024 (“FERC has been under enormous pressure from lawmakers, clean energy developers, environmentalists and others to finalize the rule that Chair Willie Phillips has promised will be `historic' and the `greatest development regarding electric transmission rules in the country in over a generation.' ”) (emphases added), https://subscriber.politicopro.com/article/2024/04/ferc-to-tackle-massive-transmission-planning-rule-next-month-00153191; see also, e.g., Sen. Charles E. Schumer July 24, 2023 Comments at 1-2 (urging the Commission to ensure that “any final rule must . . . prescribe a set of benefits” to be used in transmission planning and that “it will be necessary that either” [the transmission provider, or FERC shall impose cost allocation] “when any state withholds support on a cost allocation method” [which risks] “states that benefit from a transmission line” [acting as] “free riders [to] avoid any costs.”) (emphases added); Sen. Martin Heinrich, et al. (consisting of 20 additional Senators) Jan. 19, 2024 Comments at 2 (urging the Commission that “the final rule must require consideration of a . . . specific set of transmission benefits for . . . cost allocation processes”) (emphases added); Sen. Sheldon Whitehouse Nov. 7, 2023 Comments at 2 (stating that “FERC should include [a list of required benefits] in its final rule”). As explained extensively herein, mandating benefits is a device for imposing costs on consumers in states that never agreed to the selection criteria or cost allocation. The deeply granular nature of the instructions to the Commission in these letters is more evidence that this final rule is a pretext to use an administrative agency to enact legislation that Congress never passed. See also supra nn.5, 8 and infra nn.13, 15, 16, 67.

¹¹ Luigi Zingales, Preventing Economists' Capture, University of Chicago Booth School of Business Review, July 1, 2014 (“In simple words, regulatory capture exists when a regulatory agency, created to act in the public interest, ends up advancing interests of the industry it is charged with regulating.”), https://www.chicagobooth.edu/review/preventing-economists-capture.

4. The final rule orders all transmission providers, RTO and non-RTO, to plan costly regional transmission for some allegedly predictable generation mix 20 years in the future (a generation mix which, as a practical matter, is impossible to predict so far into the future).¹² The obviously pretextual agenda of the final rule, however, is not to predict the generation mix 20 years forward, but to produce the preferred generation mix that the current presidential administration, some huge multinational corporations,¹³ some members of Congress, and other special interests want now. In fact, the final rule is not even about planning transmission, but is about planning policy, and it is very preferential about the policies it wants to promote. As with the Great Oz,¹⁴ pulling back the curtain exposes the final rule for what it really is: An essential component in a comprehensive plan by the current presidential administration to push what the media describe as “green policies” designed to prefer and promote the wind and solar generation it favors while simultaneously forcing the shutdown of the fossil fuel generation it disfavors,¹⁵ both needed to meet its political commitment. Let me emphasize: Whether the policies being promoted in this final rule can be described as “green, purple, red or blue” is irrelevant. The point is that FERC, as an independent agency, has no business promoting the policies of any one party or presidential administration, especially when, as here, the effort to do so goes far beyond FERC's legal authority and fails to perform our consumer protection function under the FPA.

¹² The example of the Potomac-Appalachian Transmission Highline (PATH) fiasco is a strong warning about the folly of spending billions of consumers' dollars to build transmission based on predictions of a generation mix in 20 years. Potomac-Appalachian Transmission Highline, LLC, 185 FERC ¶ 61,198 (2023) (Christie, Comm'r, concurring at P 3) (PATH Concurrence) (“[C]onsumers have paid roughly $250 million for a project that was never built nor found needed by a single state regulator.”) (emphasis in original), https://www.ferc.gov/news-events/news/e-4-commissioner-christies-concurrence-letter-order-approving-path-settlement-er12; see also PJM Initial Comments at 62 (“In short, the volatility of input parameters cancelled the need for a $1.8 billion transmission line identified in 2007, that was confirmed to be needed five years out in 2012, but by 2012 was no longer needed for at least another 15 years, if at all.”). Rather than wind or solar—which the final rule implicitly presumes will be the predominant generating resource in 20 years—it is just as foreseeable that the predominant share of generation in the U.S. could be nuclear, an essential dispatchable resource, as small modular reactor technology matures and economies of scale produce lower costs, or it could be green hydrogen. It could even be fusion or some new technology currently either nascent or unknown. No one knows today. Building trillions of dollars of transmission on a prediction that intermittent wind and solar will be the predominant generating resource in 20 years is just a costly guess.

¹³ See, e.g., Clean Energy Buyers Jan. 22, 2024 Comments (“Many of our businesses cannot grow without more clean generation resources . . . . States may miss out on economic growth opportunities without . . . access to the types of generation resources needed to attract growing and innovative industries.”) (emphases added). Among the signers of these comments were Amazon, Apple, eBay, Google, Green Impact Technologies, Meta, Microsoft, Nike, Rivian, Salesforce, Target, Walmart and several other multinational corporations. The FPA gives FERC no authority whatsoever to use the “green energy” purchasing preferences of privately owned, for-profit multinational corporations as the basis to impose a mandatory transmission planning and cost allocation rule that will cost consumers trillions of dollars. The FPA does not recognize such corporate preferences; indeed, the FPA forbids preferences. See also supra nn.5, 8, 10 and infra nn.15, 16, 67.

¹⁴ The Wizard of Oz (Metro-Goldwyn-Mayer 1939).

¹⁵ See, e.g., Catherine Morehouse, DOE launches effort to cut federal permitting for new power lines in half, PoliticoPRO, Apr. 25, 2024 (“The [U.S. Dept. of Energy] program is the latest move by the Biden administration to speed up the . . . process for new transmission lines deemed critical to carrying dispersed wind and solar resources . . . . It also comes on the heels of an announcement from the EPA to tighten emissions standards for fossil-fueled power plants—a move that will necessitate bringing more low-carbon resources onto the power grid to meet growing demand as [fossil fuel] resources are forced offline. `DOE's work complements what our partners across the administration are doing . . . to deliver cleaner power . . . ,' Energy Secretary Jennifer Granholm told reporters . . . .”) (emphases added), https://subscriber.politicopro.com/article/2024/04/doe-launches-effort-to-cut-federal-permitting-for-new-power-lines-in-half-00154189; see also Catherine Morehouse, Energy regulator's exit may flummox Biden's green plans, Politico, Feb. 9, 2024 (“[FERC] is poised to lose its biggest climate advocate and potentially shut down one of the White House's best avenues to push its green policies. . . . That buildout is needed to accommodate . . . wind and solar projects that are critical to meeting the Biden administration's climate and clean energy goals.”) (emphases added), https://subscriber.politicopro.com/article/2024/02/energy-regulators-exit-may-flummox-bidens-green-plans-00140774; Molly Christian, US transmission “in desperate need of an upgrade,” Vice President Harris says, Megawatt Daily, Jan. 20, 2023 (“Achieving lofty US climate goals will require `thousands of miles of new high-voltage transmission lines all across our country,' US Vice President Kamala Harris said . . . . `To create our clean energy future, we must construct thousands of miles of new high-voltage transmission lines all across our country,' [Harris said].”) (emphases added), https://www.spglobal.com/commodityinsights/en/market-insights/latest-news/electric-power/012023-us-transmission-in-desperate-need-of-an-upgrade-vice-president-harris-says; Alex Guillén, Ben Lefebvre, Annie Snider, Kelsey Tamborrino, Catherine Morehouse, James Bikales, Biden administration eyes spring to finalize key climate regulations, PoliticoPro, Dec. 6, 2023 (“The Biden administration is planning to finalize several major energy and environmental regulations in the first half of 2024 . . . . That timeframe would help cement many of President Joe Biden's policy priorities in the event he does not win reelection . . . . One of the top [FERC] priorities . . . has been to finalize a rule on power line planning and cost allocation . . . . that is considered critical to unlocking new wind and solar resources.”) (emphases added), https://subscriber.politicopro.com/article/2023/12/biden-administration-plots-busy-spring-finalizing-key-climate-regulations-00130496. See also supra nn.5, 8, 10, 13 and infra nn.16, 67.

5. Yet here's the legal rub with the final rule's pretextual agenda: Congress never voted to amend the FPA to direct or even allow FERC (which is supposed to be independent) to be what Energy Secretary Granholm describes as one of “our partners across the administration” in implementing this “green energy” transformation agenda.¹⁶ Such a sweeping policy agenda, which involves the transfer of literally trillions of dollars of wealth from consumers to special interests, is the epitome of a major question of public policy under West Virginia v. EPA. The final rule clearly intends to socialize trillions of dollars of costs for the transmission necessary to pursue this transformational agenda, and unlike the NOPR,¹⁷ the final rule removes the principle that the states must consent to how and whether these massive costs are imposed on their consumers. The final rule goes to great lengths to use “nothing to see here” rhetoric,¹⁸ but looking behind the curtain at what is really going on makes it obvious that the final rule is pretextual and a blatant violation of the major questions doctrine.¹⁹ In its transparent effort to plan and fund trillions of dollars' worth of transmission to facilitate a preferred generation mix predominantly of wind and solar, both for public policies as well as corporate purchasing preferences, it is also “preferential” and thus a clear violation of FPA section 206.

¹⁶ See Brad Plumer, Energy Dept. Aims to Speed Up Permits for Power Lines, The New York Times, Apr. 25, 2024 (“[Biden] Administration officials are increasingly worried that their plans to fight climate change could falter unless the nation can quickly add vast amounts of grid capacity to handle more wind and solar power . . . . But experts say a rapid, large-scale expansion may ultimately depend on Congress.”) (emphases added), https://www.nytimes.com/2024/04/25/climate/energy-dept-speed-transmission.html. See also supra nn.5, 8, 10, 13, 15 and infra n.67.

¹⁷ Bldg. for the Future Through Elec. Reg'l Transmission Planning & Cost Allocation & Generator Interconnection, Notice of Proposed Rulemaking, 87 FR 26504 (May 4, 2022), 179 FERC ¶ 61,028, at P 303 (2022) (NOPR).

¹⁸ See, e.g., Final Rule, 187 FERC ¶ 61,068 at P 265 (“[W]hat matters is that this final rule aims to regulate and, in fact, does regulate only practices that affect the transmission of electric energy in interstate commerce, which are squarely within the Commission's jurisdiction under the FPA.”).

¹⁹ See infra Section III.C. The final rule insists that it most assuredly does not implicate a major question of public policy, Final Rule, 187 FERC ¶ 61,068 at PP 275-279, much like Captain Renault in Casablanca is “shocked, shocked to find gambling going on in here” as he pockets his winnings. Casablanca (Warner Bros. Pictures 1942); but see Brad Plumer, Energy Dept. Aims to Speed Up Permits for Power Lines, Apr. 25, 2024 (quoting Rob Gramlich, the president of the consulting group Grid Strategies, “ `I've called [the final] rule the biggest energy policy in the country.' ”) (emphasis added), https://www.nytimes.com/2024/04/25/climate/energy-dept-speed-transmission.html. See Catherine Morehouse, FERC to tackle “historic” transmission planning rule in May, PoliticoPRO, Apr. 18, 2024 (quoting Chairman Phillips describing the final rule as “historic” and the “greatest development regarding electric transmission rules in the country in over a generation . . . .”) (emphases added).

6. Put most simply, the final rule is a shell game that plays this way:

Step One: For planning and cost allocation purposes, throw transmission projects that solve specific reliability problems or reduce congestion costs into the same bucket as projects designed to promote public policies or corporate “green energy” preferences and disguise the purpose of very different projects by re-labeling all projects in the new bucket with the innocuous-sounding name “Long-Term Regional Transmission Facilities.”

Step Two: Mandate planning inputs that must be used in determining which projects get selected for regional plans, which starts the money flowing from consumers to developers before any state has even evaluated the need for, or cost of, the projects.

Step Three: Mandate benefits that will ultimately affect the allocation of costs to consumers across a multi-state region. Combined with Steps One and Two, this makes consumers involuntary “beneficiaries” who will then be forced to pay for projects that promote another state's public policy or corporate “green power” commitments.

Step Four: Order all transmission providers to develop and file a cost allocation formula that will automatically be the default applicable to the entire bucket of Long-Term Regional Transmission Facilities.

Step Five: Remove the NOPR's requirement that states must consent to the details of Steps One through Four before their consumers can be burdened with costs.

7. Let's drill down on the details of the final rule's shell game. The final rule seeks to shift the costs of transmission projects whose purpose is to implement state or local public policies promoting wind and solar generation (commonly referred to as “public policy projects” or “policy-driven projects”) and big corporation “green energy” preferences by putting those projects into the same regulatory bucket—both for planning and cost-allocation purposes—with fundamentally different types of projects, those designed either to solve identified reliability problems (an engineering purpose, not a political or corporate purpose) or to provide quantifiable congestion cost savings (economic projects).²⁰ The final rule labels all projects thrown into the new bucket as “Long-Term Regional Transmission Facilities.” ²¹ Lumping policy-driven projects with the other very different types of projects is a sleight-of-hand move to disguise the costs of the policy-driven and corporate-driven projects that the final rule is promoting.²² Put most simply, reliability projects are driven by engineering, economic projects by economics, public policy projects by politicians, and corporate “green energy” policies by management and investors looking to maximize their returns or satisfy investment goals not recognized by the FPA.

²⁰ See, e.g., Final Rule, 187 FERC ¶ 61,068 at PP 1474 (“[T]ransmission providers may not establish reliability, economic, or public policy transmission facility types as part of Long-Term Regional Transmission Planning and, therefore, may not establish Long-Term Regional Transmission Cost Allocation Methods based on reliability, economic, or public policy transmission facility types.”).

²¹ Id.; see also id. PP 41, 250-251. In terms of labeling, at least Order No. 1000 described public policy projects honestly, as those that address “transmission needs driven by Public Policy Requirements.” See, e.g., Transmission Plan. & Cost Allocation by Transmission Owning & Operating Pub. Utils., Order No. 1000, 136 FERC ¶ 61,051, at PP 2, 6 (2011), order on reh'g, Order No. 1000-A, 139 FERC ¶ 61,132, order on reh'g & clarification, Order No. 1000-B, 141 FERC ¶ 61,044 (2012), aff'd sub nom. S.C. Pub. Serv. Auth. v. FERC, 762 F.3d 41 (D.C. Cir. 2014) (South Carolina); see also id. PP 11, 47.

²² See PJM Interconnection, L.L.C., 187 FERC ¶ 61,012 (2024) (Christie, Comm'r, concurring at P 6 n.12) (“I note too that in PJM's [Regional Transmission Expansion Plan (RTEP)] review it offers a good example of how components of two different types of projects, a specific reliability solution and [State Agreement Approach (SAA)] Project, can be combined into one project that meets both needs. PJM describes in its filing how it solved a Window 3 specific reliability problem by combining that solution with an SAA project into an Incremental Multi-Driver Project . . . . This is a good example of how a multi-driver project should work: The reliability need is specific and would require a specific reliability solution that would, on its own, merit inclusion in the RTEP as a reliability project, and the SAA project, which is a supplemental—not a reliability—project, if feasible as it is in this specific case, can be planned in a way to meet the specific reliability need. Costs are allocated by PJM proportionately to each component of the project, one percentage allocated as a reliability project under PJM's formula, the other percentage wholly allocated to New Jersey for the SAA project.”) (internal citation omitted).

8. Then to further promote its preferred policy projects, the final rule mandates planning criteria to be used in the planning of Long-Term Regional Transmission Facilities,²³ including the “categories of factors” that must be used in developing long-term planning scenarios ²⁴ and the list of benefits that must be used by planners in cost-benefit analyses.²⁵ All of these mandatory features are transparently intended to “pre-cook” outcomes by manipulating the planning and evaluations that determine which projects are selected for regional transmission plans. (It is emblematic of the entire final rule that it did not include “saves retail customers money” as one of its mandatory benefits for evaluating projects.) ²⁶ The shell game's purpose is to ensure that preferential policy and corporate-driven projects are selected for regional transmission plans, which conveniently ensures that such projects are eligible for cost recovery through FERC's very generous (to developers, not consumers) formula rate mechanism. As further proof of the nature of the shell game, the final rule does not require transmission providers to identify the benefits used (other than those mandated), or how those benefits were specifically calculated, for cost allocation purposes.²⁷ While the final rule insists that it is not mandating outcomes, when you manipulate the inputs of transmission planning, you are effectively mandating outputs.²⁸

²³ Final Rule, 187 FERC ¶ 61,068 at Section III.

²⁴ Id. P 409. Among the mandatory categories of factors that the final rule dictates must be used to drive long-term planning throughout the entire country are, inter alia: (i) state and local laws affecting the resource mix, (ii) state and local laws on decarbonization, (iii) generator interconnection requests and withdrawals (another way to subsidize and prefer wind and solar developers which dominate the queues), and (iv) corporate, state and local government commitments to purchase “green” energy. Let me emphasize: these planning factors are mandatory for transmission providers to use, exposing the final rule's pretextual agenda for what it really is.

²⁵ Id. PP 3, 269, 719-720.

²⁶ See, e.g., id. P 720.

²⁷ Id. PP 1505-1511.

²⁸ Id. P 965.

9. But that's not all; here comes the worst part of the shell game. The final rule then requires every transmission provider in America to file an ex ante cost allocation formula that is applicable to the whole bucket of projects,²⁹ which now includes public and corporate-driven policy projects, in order to socialize the costs of these projects across the entire region, even when states in a region have never consented for their consumers to bear the costs of such projects. The final rule seeks to justify this imposition of costs on non-consenting states by treating their consumers as “cost causers” or “beneficiaries,” ³⁰ which is justified by—now circle back to earlier in the shell game—the final rule's imposition of mandatory factors and benefits that must be used in the evaluations of projects.³¹ By lumping reliability and economic projects into the same planning bucket as public and corporate-driven policy projects, the final rule seeks to affix the tags of “cost causer” and “beneficiary” to all consumers in a multi-state region, to justify sticking them with costs even if their state officials never consented. So despite the final rule's disingenuous claims to the contrary,³² the intent and effect of this shell game is to enable the costs of corporate and public policy-driven projects to be socialized across an entire multi-state region and thus shifted onto consumers in states that never agreed to bear such costs. The explicit promise of the NOPR, that states would have to consent for their consumers to bear such costs, has been broken in this final rule.

²⁹ Id. P 1291.

³⁰ See, e.g., id. P 1305 n.2786 (“The cost causation principle requires costs to be allocated to those who cause the costs to be incurred and reap the resulting benefits.”) (emphasis added). A true statement on its face, but utterly disingenuous here. By mandating its preferred factors to be used in long-term planning, by mandating certain benefits to be used in evaluating projects, and by denying transparency as to what other benefits are used to evaluate projects and how benefits are being calculated, which drives cost allocation, the final rule effectively will hide the specific costs of policy and corporate-driven projects and essential information as to how costs are being calculated and allocated across a multi-state region. See also supra n.10.

³¹ These key elements of the shell game respond almost precisely to the lobbying demands of various interest groups. See, e.g., Environmental Groups Dec. 8, 2023 Comments (“Transmission providers must perform long-term (at least 20-year), forward-looking assessments . . . . They must . . . [include] planning for state clean energy laws and policies, [and] scenarios with high renewable penetration . . . . Scenarios must evaluate all benefits that transmission projects would deliver and use these assessed benefits as a basis for project selection . . . . The Commission also should create a default cost allocation policy that meets this same standard . . . .”) (emphases added). Among others, the signers of this letter include: Advanced Energy United, American Clean Power Association, Clean Air Task Force, Earthjustice, Environmental Defense Fund, Evergreen Action, League of Conservation Voters, National Wildlife Federation, Natural Resources Defense Council (NRDC), Sierra Club, Union of Concerned Scientists, and WE ACT for Environmental Justice. See also supra nn.8, 10.

³² Final Rule, 187 FERC ¶ 61,068 at P 267 (“[N]othing in this final rule requires states to subsidize other states' public policies and, indeed, this final rule requires . . . that transmission customers within a transmission planning region need only pay costs that are `roughly commensurate' with the benefits that transmission providers estimate they will receive from a transmission facility.”) (emphasis added).

10. When I voted for the NOPR, I made it absolutely clear I was voting for it because it reflected a compromise in which public and corporate policy-driven projects could be incorporated into long-term planning, but only if the states had the authority to consent both to planning criteria, including benefits used in cost-benefit analyses to evaluate projects and selection criteria, as well as to cost allocation.³³ In my concurrence to the NOPR I wrote:

³³ NOPR, 179 FERC ¶ 61,028 (Christie, Comm'r, concurring at PP 11-12, 14) (NOPR Concurrence); see also id. P 5.

Even more importantly though, for these [long-term] projects, the NOPR proposes to require the regional planning entities to consult with and seek the agreement of the relevant states to both the selection criteria for these projects and to the regional cost allocation arrangements. State approval is especially important in a multi-state region, where different states have different policies. The NOPR proposes to provide the maximum opportunity for creativity and flexibility to the states and regional entities in developing the process for designing and approving regional selection criteria and cost allocation arrangements. States can agree to an ex ante formula for regional cost allocation of these types of projects—such as, for example, the “highway-byway” formula approved by the SPP Regional State Committee—or states can agree to a process for a project-by-project agreement on cost allocation among one or several states—such as, for example, the State Agreement Approach in PJM—or states may choose some combination of both.³⁴

³⁴ Id. P 11 (emphasis in original and added).

And let me emphasize . . . no individual state's consumers can be forced to bear the costs of another state's policy-driven project or element of a project against its consent.³⁵

³⁵ Id. P 12 (emphasis added).

The bottom line for me is this: I believe that elevating the role in planning and cost allocation of state regulators—who are, as a group, deeply concerned about the monthly bills paid by consumers, of which transmission is a rapidly growing component—will make it more likely, not less, that necessary transmission can get built while ensuring that rates resulting from these types of policy-driven projects will not be unjust and unreasonable, which they clearly have the potential to be.³⁶

³⁶ Id. P 14 (emphasis in original and added).

The other members of the Commission, including the then-Chairman and both other members of today's Commission, also recognized the NOPR as a compromise.³⁷

³⁷ From the Transcript of Apr. 21, 2022 Commission Open Meeting (April 2022 Open Meeting Tr.):

“CHAIRMAN GLICK: And I also want to finally thank my colleagues. I think this [NOPR] is a really good product. It is a product of a lot of discussion, a lot of compromise—which is what the Commission is all about—and I think all of us can say we did not get everything in there, in the document, that we would like, but I think we all got enough in there and I think we achieved a significant and really remarkable level of consensus. And I think that is very notable today.” April 2022 Open Meeting Tr. 44:17-24 (emphases added).

“COMMISSIONER CLEMENTS: As the Chairman [stated] that reaching agreement on this proposal was not easy. I can say with confidence that none of us voting for it would have written it this way if we were writing on our own. But I am proud that it is a bipartisan effort, and I am thankful to my colleagues for proactively engaging and for thinking creatively to find alignment.” Id. at 55:17-23 (emphasis added).

“COMMISSIONER CHRISTIE: But I think on balance the positive aspects of this [NOPR], particularly for state regulators at the heart of planning and cost allocation for these types of projects, changing [CWIP] to AFUDC[,] I think those are positive, big steps forward for me on balance and it makes it worth voting for this [NOPR].” Id. at 67:15-20 (emphasis added).

“COMMISSIONER PHILLIPS: I would first like to thank my colleagues for working collaboratively with me on this. . . . I don't think I have ever been a part of a process more collaborative than this process that we had in this NOPR.” Id. at 67:24-25, 68:6-8.

To those who say that many elements of this final rule were also in the NOPR for which I voted, such as, for example, the mandatory categories of factors, I would respond: If I agree to get a root canal with anesthetic, but learn upon arrival at the dentist's office that I can still get the root canal but with no anesthetic, that is not the original deal.

11. Yet the many fundamental changes made in this final rule ³⁸ subvert and violate that compromise. Of particular importance to my willingness—and that of many state regulator organizations—to support the compromise NOPR, was the explicit principle of state agreement to planning and selection criteria and cost allocation embodied in the NOPR. The final rule, however, denies what the NOPR promised: it denies state agreement to selection criteria,³⁹ it denies state agreement to the benefits to be used in evaluating projects for selection in regional plans and ultimate selection (which can start the money flowing from consumers to developers before a state siting or construction permit has even been issued),⁴⁰ and most importantly, it denies state agreement to cost allocation for public policy and corporate-driven projects.⁴¹ The State Agreement Approach, used successfully in PJM for over a decade, is effectively terminated by the final rule. The final rule says that, even if states in a planning region agree, a “State Agreement Process” cannot be the sole chosen method for allocating costs of these projects; the transmission provider's own ex ante formula must be the default method, regardless of whether states have agreed to it.⁴² In addition to a de facto termination of the PJM State Agreement Approach, the final rule could call into question mechanisms to facilitate the states' role in cost allocation that have been used in other RTOs and ISOs for years, including in SPP and MISO.⁴³

³⁸ See infra Section II.

³⁹ Final Rule, 187 FERC ¶ 61,068 at P 996.

⁴⁰ Id. PP 3, 269, 719-720, 903.

⁴¹ Id. PP 1291-1292, 1294, 1354, 1356 n.2895, 1359, 1367, 1429.

⁴² Id. To be clear, even if the states agreed on an alternative ex ante cost allocation method, or if they agreed on a cost allocation method under the State Agreement Process, the transmission provider could choose to file it but also could ignore it. See infra n.195.

⁴³ See Final Rule, 187 FERC ¶ 61,068 at PP 1291-1292, 1294, 1354, 1356 n.2895, 1359, 1367, 1429.

12. And let's get real: Telling the states to negotiate for an alternative cost allocation when the transmission provider's ex ante formula has already been designated as the default is no real negotiation at all. The final rule points a regulatory gun at states' heads redolent of The Godfather: ⁴⁴ “Here's an offer you can't refuse.” And contrary to NARUC's eminently reasonable and practical request,⁴⁵ the final rule even requires only one Engagement Period for states to negotiate a different cost allocation from the transmission providers' ex ante cost allocation before that ex ante cost allocation becomes the default.⁴⁶ It is obvious that the final rule intends to lock in each transmission provider's own ex ante formula for many years to come and to deny states any avenue to challenge it even as times and circumstances change, no matter how high their consumers' power bills escalate due to rising transmission costs.

⁴⁴ The Godfather (Paramount 1972).

⁴⁵ Final Rule, 187 FERC ¶ 61,068 at P 1255 (“NARUC requests that the Commission provide a mechanism for future review of cost allocation methods for Long-Term Regional Facilities.” (citing NARUC Initial Comments at 49-50)).

⁴⁶ Id. P 1368; see also id. P 1291.

13. Essentially, the final rule replaces the NOPR's principle of requiring state agreement to selection criteria, benefits, and cost allocation with a charade of suggesting to transmission providers that they “consult with and seek support” from the states—while paradoxically “clarifying” that transmission providers do not actually need to obtain state consent—and the final rule uses other empty phrases such as allowing states to “inform” or “provide input on” the evaluation process and cost allocation.⁴⁷ But the final rule's real attitude towards the states and state regulators is embodied in this airily regal but perhaps unintentionally straightforward pronouncement: “[W]e do not agree that the views of state regulators regarding the appropriate cost allocation approach are dispositive.” ⁴⁸

⁴⁷ See, e.g., id. PP 268, 959, 994, 996-997, 1456.

⁴⁸ Id. P 1363 (citation omitted). A different attitude towards state regulators was apparent in the NOPR. See April 2022 Open Meeting Tr. 46:10-16 (“CHAIRMAN GLICK: [This] NOPR proposes to give the states a much more significant role in addressing cost allocation. I think it helps to have Commissioner Christie and Commissioner Phillips, two of our five Commissioners are former state regulators, and I think that really helps to have their background and their interest.”).

14. The principle of cost allocation that was described in my concurrence to the NOPR—that states must consent to regional cost allocation of corporate and public policy-driven projects—reflects a core principle of American democracy: fairness. In this ratemaking context, fairness means that the people have the right to choose the policymakers who impose costs on them, so they can hold them accountable. This final rule is unfair because it gives FERC and the transmission providers it regulates the power to impose costs on consumers to pay for transmission driven by huge corporations and politicians in states other than theirs, and for whom they never voted. The final rule truly subverts the principle that the people, through their state's policymakers, must consent to bear the costs of another state's politicians and their policy choices, or the energy purchasing preferences of corporate managers and investors.

15. And from the consumer standpoint, the timing of this rule could not be worse. American residential customers will pay about 16.23 cents per kWh next year, the highest retail power cost for consumers in almost three decades.⁴⁹ Unlike in years past, fuel costs are not the primary driver of these mounting prices to consumers; rather, transmission is. Transmission costs are rising rapidly, becoming an ever more burdensome part of consumers' power bills.⁵⁰ To cite just one major example, in PJM, the largest RTO by load in the country, the transmission component of wholesale power costs has essentially tripled over the past decade, from just $5.65/MWh in 2013 to $16.54/MWh last year. Transmission now constitutes almost a third of wholesale power costs, up from approximately 10% just a decade earlier.⁵¹ In 2020, the PJM Market Monitor reported that the cost of transmission exceeded the cost of capacity for the first time.⁵² Nationally, transmission rate base nearly tripled in a decade,⁵³ and—assuming an 8.2% year-over-year growth rate, which occurred in 2022—is on track to double again in the next nine years, even without this rule's intent to spend trillions more on transmission. According to the U.S. Energy Information Administration, already one in three American households reports difficulty in paying their power bills.⁵⁴

⁴⁹ See Robert Walton, U.S. electricity prices outpace annual inflation, Utility Dive, Mar. 13, 2024 (“U.S. electricity prices rose 3.6% over the last 12 months, outstripping the broader inflation rate of 3.2%, the Bureau of Labor Statistics reported Tuesday. And experts say there is little chance for near-term consumer relief. . . . And federal policies aimed at electrifying end uses and reducing emissions could lead to even higher prices, Travis Fisher, director of energy and environmental policy studies at the Cato Institute, told a House subcommittee Wednesday.”) (emphasis added), https://www.utilitydive.com/news/us-electricity-prices-rise-customer-eia-outlook/710113/.

⁵⁰ See, e.g., Zach Bright, Electricity prices rise faster than inflation, EnergyWire, Apr. 12, 2024 (“The Bureau of Labor Statistics found that electricity prices rose 5 percent over the past year. That's higher than the overall consumer price index (3.5 percent) and any other single commodity, like food . . . and gasoline . . . .”) (emphases added), https://www.eenews.net/articles/electricity-prices-rise-faster-than-inflation/; Electricity Inflation 30% Higher Than CPI Over Last 12 Months” Electricity Transmission Competition Coalition, Apr. 10, 2024 (“Electricity inflation remains the highest consumer goods cost among the items in the Consumer Price Index according to the latest release of data by the Bureau of Labor Statistics. . . . The price of electricity has soared because of the accelerating cost of transmission . . . .”) (emphasis added), https://electricitytransmissioncompetitioncoalition.org/electricity-inflation-30-higher-than-cpi-over-last-12-months/.

⁵¹ State of the Market Report 2023, PJM Market Monitor, Vol. II, Section 1, at 18, Table 1-9, https://www.monitoringanalytics.com/reports/PJM_State_of_the_Market/2023.shtml; State of the Market Report 2014, PJM Market Monitor, Vol. II, Section 1, at 16, Table 1-9, https://www.monitoringanalytics.com/reports/PJM_State_of_the_Market/2014/2014-som-pjm-volume2-sec1.pdf; State of the Market Report 2013, PJM Market Monitor, Vol. II, Section 1, at 12, Table 1-9, https://www.monitoringanalytics.com/reports/PJM_State_of_the_Market/2013/2013-som-pjm-volume2-sec1.pdf; see also State of the Market Report 2019, PJM Market Monitor, Vol. II, Section 1, at 18, Table 1-10, https://www.monitoringanalytics.com/reports/PJM_State_of_the_Market/2019/2019-som-pjm-sec1.pdf.

⁵² State of the Market Report 2020, PJM Market Monitor, Vol. I, at 17, Table 8, https://www.monitoringanalytics.com/reports/PJM_State_of_the_Market/2020/2020-som-pjm-vol1.pdf.

⁵³ See Jim O'Reilly, Led by AEP and Duke, transmission growth poised to rebound from dip in 2022, S&P Global Market Intelligence, Nov. 15, 2023 (showing bar graph providing that aggregate transmission rate base grew from $61.4 billion in 2012 to $163.1 billion in 2022), https://www.spglobal.com/marketintelligence/en/news-insights/research/led-by-aep-and-duke-transmission-growth-poised-to-rebound-from-dip-in-2022. Under this Commission's rate recovery protocols, the transmission owner gets to collect the annual costs of transmission depreciation from rate base, plus a profit, known as Return on Equity, or “ROE,” often inflated by the many incentives the Commission typically approves, as well as operations and maintenance costs. As any utility regulator knows, “what goes into rate base comes out in customers' bills.” So a rapidly rising rate base means rapidly growing consumers bills.

⁵⁴ Amanda Durish Cook & Tom Kleckner, Overheard at 10th Annual GCPA MISO-SPP Forum, RTO Insider, Mar. 12, 2024, https://www.rtoinsider.com/73311-overheard-10th-annual-gcpa-miso-spp-forum/.

16. Don't fall for the absurd claim that this rule will somehow save consumers money through more holistic or efficient planning, a vacuous bureaucratic argument divorced from reality.⁵⁵ The sheer amount of new transmission costs that the final rule inflicts on consumers—and special interest groups want—is staggering, measured in the trillions,⁵⁶ not `merely' hundreds of billions, of dollars.⁵⁷ And these staggering costs will not be incurred to provide consumers with reliable power, but to serve political and corporate agendas. It is truly Orwellian newspeak ⁵⁸ to claim that adding multiple trillions of dollars in transmission costs to consumer's bills will somehow “save” consumers money (even Orwell would be impressed at the sheer audacity of such a claim).

⁵⁵ See, e.g., Final Rule, 187 FERC ¶ 61,068 at P 89.

⁵⁶ See supra n.7.

⁵⁷ Illinois Senator Everett Dirksen is said to have once quipped, “In Washington, a billion here, a billion there, and pretty soon you're talking about real money.” The final rule updates his quip to a “trillion here, a trillion there . . . .”

⁵⁸ George Orwell, 1984 (first published by Secker & Warburg 1949).

17. If FERC were seriously interested in saving consumers' money, it would be acting to rein in the wide array of transmission incentives regularly handed out to transmission developers that are direct transfers of wealth from consumers to developers (long known as “FERC candy”),⁵⁹ and acting to reform the automatic awarding of the presumption of prudence in formula rate proceedings. Literally nothing is being done about these forms of consumer exploitation in this final rule; instead, the final rule goes in the exact opposite direction.

⁵⁹ See, e.g., Office of Ohio Consumers' Counsel v. Am. Elec. Power Serv. Corp., 181 FERC ¶ 61,214 (2022) (Christie, Comm'r, concurring at P 2), https://www.ferc.gov/news-events/news/commissioner-christies-concurrence-addressing-rto-adders-related-e-2-ohio; MISO, 181 FERC ¶ 61,094 (2022) (Christie, Comm'r, concurring at P 2), https://www.ferc.gov/news-events/news/commissioner-christies-concurrence-urging-action-re-rto-participation-adder-docket; Mary O'Driscoll, FERC approves incentives for AEP, Allegheny grid projects, Greenwire, July 21, 2006 (“The approvals came as the commission finalized rules intended to promote transmission-grid additions that outline specific rate and other incentives that FERC will consider for future construction projects—the `FERC candy' that critics contend gives the utilities incentives but not much in the way of corresponding requirements.”) (emphasis added), https://subscriber.politicopro.com/article/eenews/2006/07/21/ferc-approves-incentives-for-aep-allegheny-grid-projects-234508.

18. To add further insult to consumers' injury, the final rule walks back the NOPR proposal that would have denied transmission developers the Construction Work in Progress (CWIP) incentive.⁶⁰ I have written many times that CWIP is simply unfair. CWIP is unfair because it makes consumers the unwilling “bank” for developers, but unlike a real bank, consumers don't get paid any interest and this Commission forces them to make involuntary loans.⁶¹ Removing CWIP was strongly supported by those concerned with protecting consumers: by state regulators, by public power providers, and by state consumer advocates.

⁶⁰ Final Rule, 187 FERC ¶ 61,068 at P 1547.

⁶¹ Baltimore Gas & Elec. Co., 187 FERC ¶ 61,030 (2024) (Christie, Comm'r, dissenting at P 7), https://www.ferc.gov/news-events/news/commissioner-christies-dissent-award-incentives-exelon-er24-1313; PJM Interconnection, L.L.C., 185 FERC ¶ 61,200 (2023) (Christie, Comm'r, concurring at P 3), https://www.ferc.gov/news-events/news/e-7-commissioner-christies-concurrence-exelons-application-abandoned-plant; The Potomac Edison Co., 185 FERC ¶ 61,083 (2023) (Christie, Comm'r, concurring at P 3), https://www.ferc.gov/news-events/news/commissioner-christies-concurrence-concerning-potomac-edisons-abandoned-plant; Montana-Dakota Utils. Co., 185 FERC ¶ 61,015 (2023) (Christie, Comm'r, concurring at P 3), https://www.ferc.gov/news-events/news/commissioner-christies-concurrence-montana-dakota-utilities-co-regarding; Midcontinent Indep. Sys. Operator, Inc., 184 FERC ¶ 61,136 (2023) (Christie, Comm'r, concurring at P 3), https://www.ferc.gov/news-events/news/commissioner-christies-concurrence-midcontinent-independent-system-operator-inc-0; GridLiance W. LLC, 184 FERC ¶ 61,129 (2023) (Christie, Comm'r, concurring at P 3), https://www.ferc.gov/news-events/news/commissioner-christies-concurrence-gridliance-west-regarding-transmission; Midcontinent Indep. Sys. Operator, Inc., 184 FERC ¶ 61,034 (2023) (Christie, Comm'r, dissenting at P 8), https://www.ferc.gov/news-events/news/commissioner-christies-dissent-award-transmission-incentives-nipsco-er23-1904; Otter Tail Power Co., 183 FERC ¶ 61,121 (2023) (Christie, Comm'r, concurring at P 8), https://www.ferc.gov/news-events/news/e-18-commissioner-christies-concurrence-otter-tail-power-company-regarding; LS Power Grid Cal., LLC, 182 FERC ¶ 61,201 (2023) (Christie, Comm'r, concurring at P 3), https://www.ferc.gov/news-events/news/commissioner-christies-concurrence-ls-power-grid-regarding-transmission-incentives; Nev. Power Co., 182 FERC ¶ 61,186 (2023) (Christie, Comm'r, concurring at P 3), https://www.ferc.gov/news-events/news/commissioner-christies-concurrence-nv-energy-regarding-transmission-incentives; The Dayton Power and Light Co., 182 FERC ¶ 61,147 (2023) (Christie, Comm'r, concurring at P 3), https://www.ferc.gov/news-events/news/commissioner-christies-concurrence-dayton-power-and-light-company-regarding; Midcontinent Indep. Sys. Operator, Inc., 182 FERC ¶ 61,039 (2023) (Christie, Comm'r, concurring at P 3), https://www.ferc.gov/news-events/news/commissioner-christies-concurrence-midcontinent-independent-system-operator-inc; NextEra Energy Transmission Sw., LLC, 180 FERC ¶ 61,032 (2022) (Christie, Comm'r, concurring at P 3) (July 2022 Concurrence), https://www.ferc.gov/news-events/news/commissioner-christies-concurrence-nextera-energy-transmission-southwest-llc; NextEra Energy Transmission Sw., LLC, 178 FERC ¶ 61,082 (2022) (Christie, Comm'r, concurring at P 3) (February 2022 Concurrence), https://www.ferc.gov/news-events/news/commissioner-mark-c-christie-concurrence-nextera-energy-transmission-southwest-llc.

19. In my concurrence to the NOPR, I wrote:

CWIP is the award of cost recovery of construction costs during the pre-construction and construction phases to the developer. CWIP is, of course, passed through as a cost to consumers, making consumers effectively an involuntary lender to the developer. . . . Consumers should be protected from paying CWIP costs during this potentially long period before a project actually enters service, if it ever does. This NOPR proposal represents a major step forward in consumer protection and is a big reason I am voting for it.⁶²

⁶² NOPR Concurrence at P 15.

By walking back the proposed CWIP denial, the final rule results in a major step backwards for consumers.⁶³

⁶³ By doing nothing about the consumer-paid “FERC candy” incentives that this Commission regularly hands out to developers, and even removing the provisions dialing back the CWIP incentive—and with its overall aim to pile trillions of dollars of additional costs for big corporate and politically-driven transmission on consumers, which will largely flow to the increased profits of wind, solar and transmission developers—the final rule could be the inspiration for one of the great country and western songs “Lord Have Mercy on the Working Man.” Warner Bros. Nashville 1992 (“Why's the rich man busy dancing while the poor man pays the band? Oh they're billing me for killing me, Lord have mercy on the working man!”).

20. In yet another major slap at consumers, the final rule seeks to shift the substantial costs caused by generation developers' interconnection requests from developers to consumers.⁶⁴ It does this by ordering transmission providers to revise their regional transmission planning processes to evaluate for selection regional transmission facilities that address identified interconnection-related transmission needs, and the final rule specifies that if such a facility is selected, its costs will be regionally allocated.⁶⁵ It also does this by ordering transmission providers to incorporate generator interconnection requests and withdrawals in their long-term transmission planning.⁶⁶ These are only schemes to shift interconnection costs from developers to consumers and will result in rates that are blatantly unjust, unreasonable, unduly discriminatory and preferential. Similarly, the final rule also inappropriately shifts preferential corporate-driven project costs onto all other consumers, who may disagree with, or even compete against, the corporate customers imposing their preferences. These provisions alone render the final rule's replacement rate unlawful under FPA section 206.

⁶⁴ Final Rule, 187 FERC ¶ 61,068 at PP 472, 1106-1107, 1126, 1145.

⁶⁵ Id. PP 125, 1106-1107, 1126, 1145. Under “participant funding” mechanisms the generation developer pays the costs of the network upgrades costs it causes and consumers do not pay, which is only fair. The Commission's Order No. 2023 did not violate this principle. See generally Improvements to Generator Interconnection Procs. & Agreements, Order No. 2023, 88 FR 61014 (Sept. 6, 2023), 184 FERC ¶ 61,054, order on reh'g, 185 FERC ¶ 61,063 (2023), order on reh'g, Order No. 2023-A, 89 FR 27006 (Apr. 16, 2024), 186 FERC ¶ 61,199 (2024). This final rule clearly intends to undermine this principle by moving interconnection costs into regional transmission planning and cost allocation, so consumers get stuck with the costs of interconnection, even though it is developers who profit from interconnection.

⁶⁶ Final Rule, 187 FERC ¶ 61,068 at P 472.

21. This Commission is, by statute, supposed to be independent of any presidential administration, but it has failed to defend that independence in this final rule, which is a naked pretext to enact the current administration's “net zero 2035” policy agenda, as well as to serve corporate agendas, and those of other profit-seeking special interests.⁶⁷ In failing to act independently,⁶⁸ this Commission has broken faith with state regulators and, even more importantly, broken faith with tens of millions of American consumers, who could be forced to bear literally trillions of dollars in costs for transmission lines to serve political, corporate and other special-interest agendas. This will not produce just and reasonable rates and is grossly unfair. This final rule is a dereliction of the Commission's duty under the FPA to protect consumers and far exceeds its authority under that statute.

⁶⁷ See Miranda Willson, Heather Richards, Brian Dabbs, Biden regulatory plan set to shake up energy sector, Energywire, Dec. 7, 2023 (“The White House released a regulatory plan Wednesday that could shape President Joe Biden's energy legacy . . . . [T]wo of the Federal Energy Regulatory Commission's most high-profile proposed transmission rules are listed on the [White House] agenda . . . . One of those FERC rules would change how large electric power lines are planned and paid for . . . .”) (emphases added), https://www.eenews.net/articles/biden-regulatory-plan-set-to-shake-up-energy-sector/; see also supra nn.5, 8, 10, 13, 15, 16.

⁶⁸ In the very recent past, this Commission stood up for its independence despite intense pressure from a presidential administration. See, e.g., Steven Mufson, Trump-appointed regulators reject plan to rescue coal and nuclear plants, The Washington Post, Jan. 8, 2018 (explaining that “[t]he independent five-member commission [that rejected the president's proposal] includes four people appointed by President Trump”), https://www.washingtonpost.com/news/energy-environment/wp/2018/01/08/trump-appointed-regulators-reject-plan-to-rescue-coal-and-nuclear-plants/.

II. The Final Rule Is Fundamentally Different From the NOPR

22. The very essence of due process is notice and opportunity to be heard. Given the large number of fundamental changes to the NOPR, the final rule should be viewed as effectively a second NOPR and clearly should have been put out for additional public comment on the many fundamental changes. Because it was not, deliberately so, this final rule invites a court to remand with instructions for the Commission to give the public an opportunity to comment on the many fundamental changes from the NOPR.

23. The final rule issuing today is not the NOPR for which I voted. This pretextual final rule is fundamentally different in numerous ways, yet these fundamental changes were never put out for additional public comment.⁶⁹ These fundamental changes include, but are not limited to, the following:

⁶⁹ The process leading to the adoption of Order No. 1000, the final rule's direct predecessor but one not nearly as sweeping in its application, was described in paragraphs 22 through 24 of that order. Order No. 1000, 136 FERC ¶ 61,051 at PP 22-24.

24. The Final Rule Imposes Preferential Policy and Corporate-Driven Project Costs on Consumers in Non-Consenting States: Contrary to the NOPR, the final rule requires the filing of one or more ex ante cost allocation methods to apply to selected Long-Term Regional Transmission Facilities, setting up a mechanism to impose a regional cost allocation for preferential policy and corporate-driven projects when states do not consent, either by approving a cost allocation proposed by transmission owners, by RTOs, or one directly imposed by the Commission itself.⁷⁰ This is a fundamental change from the NOPR.

⁷⁰ Final Rule, 187 FERC ¶ 61,068 at PP 1291-1292.

25. The Final Rule Mandates Planning Criteria and Purported Benefits: Contrary to the NOPR, the final rule mandates a specific set of planning criteria, and specifically purported benefits, that must be used by transmission providers for these preferential policy and corporate-driven projects.⁷¹ Mandating the planning criteria and benefits is simply a way of “pre-cooking” outcomes and is directly contrary to the NOPR's explicit language that said it was not mandating outcomes, only a planning process.⁷² This is a fundamental change from the NOPR.

⁷¹ Id. PP 3, 269, 719-720.

⁷² See NOPR, 179 FERC ¶ 61,028 at PP 9, 245.

26. The Final Rule Abandons Regional Cost Allocation Principle (6): Contrary to the NOPR,⁷³ the final rule abandons the regional cost allocation principle ⁷⁴ that would allow a transmission planning region to use different cost allocation methods for different types of facilities in a regional transmission plan. The final rule replaces this flexibility with a one-size-fits-all model.⁷⁵ This is a fundamental change from the NOPR.

⁷³ See id. P 302.

⁷⁴ See Order No. 1000, 136 FERC ¶ 61,051 at P 685.

⁷⁵ Final Rule, 187 FERC ¶ 61,068 at P 1469 (“[U]nlike under Order No. 1000, transmission providers cannot adopt different Long-Term Regional Transmission Cost [A]llocation Methods for different types of Long-Term Regional Transmission Facilities, such as those needed for reliability, congestion relief, or to achieve Public Policy Requirements.”) (emphasis added); see also id. P 1474.

27. The Final Rule Effectively Eliminates a Voluntary State Agreement Process: Contrary to the NOPR, the final rule effectively eliminates the use of a voluntary State Agreement Process, such as the one that has been used by PJM since Order No. 1000.⁷⁶ Not only is this directly contrary to comments filed by state regulators,⁷⁷ but it represents a fundamental change from the NOPR.

⁷⁶ See, e.g., id. PP 1291-1292. A more detailed discussion on how the final rule effectively guts the State Agreement Process is in infra Section IV.B.1.b.

⁷⁷ See Final Rule, 187 FERC ¶ 61,068 at P 1323 (citations omitted).

28. The Final Rule Leaves the CWIP Incentive Intact: Contrary to the NOPR, the final rule walks back the proposal not to allow use of the CWIP incentive.⁷⁸ This NOPR provision was one of the strongest consumer protection features.⁷⁹ Instead, the Commission leaves the CWIP incentive intact and that consumer protection has been removed. This is a fundamental change from the NOPR.

⁷⁸ Id. P 1547.

⁷⁹ See NOPR, 179 FERC ¶ 61,028 at P 333; NOPR Concurrence at P 15.

29. The Final Rule Makes Local Transmission Planning Less Transparent: Contrary to the NOPR,⁸⁰ the final rule makes fundamental changes to the NOPR's section on Local Transmission Planning.⁸¹ Local Transmission Planning disclosure and transparency requirements no longer apply to asset management projects. This is a fundamental change from the NOPR.

⁸⁰ See NOPR, 179 FERC ¶ 61,028 at PP 400-413.

⁸¹ Final Rule, 187 FERC ¶ 61,068 at P 1625.

III. The Final Rule Exceeds FERC's Authority Under the FPA

30. The final rule's determination that its reforms are within the Commission's legal authority under section 206 is flat wrong.⁸² The final rule is just a pretext for enacting the current presidential administration's “net zero 2035” policy agenda, as well as that of large corporate buyers of preferential power and other special interests.⁸³ As such, the final rule goes far beyond the scope of Order No. 1000, as affirmed by South Carolina,⁸⁴ and exceeds FERC's authority under the FPA. Specifically, the final rule requires transmission providers to incorporate into their transmission planning seven categories of factors and a set of seven required benefits to drive the construction of projects to achieve the final rule's preferred substantive outcomes: namely, the development and purchase of certain preferred generation resources. In so doing, the final rule seeks to recast FERC as a national IRP planner with extraordinary powers to oversee and dictate to all public utility transmission providers in the country, in RTO and non-RTO regions, detailed instructions on planning transmission that fulfills the current administration's preferred policies as to the types of generation it wants to build, and to charge consumers trillions of dollars for this transmission. This transformation of FERC into a national IRP planner violates FPA section 201 by infringing on the authority of the states, and it reflects a tremendous expansion of the agency's power not permitted under the major questions doctrine.

⁸² See id. PP 86, 253.

⁸³ See supra Section I.

⁸⁴ 762 F.3d 41.

A. South Carolina Does Not Provide a Legal Justification for the Commission's Actions in the Final Rule

31. In arguing that the Commission is acting within its legal authority under section 206 to adopt its reforms for Long-Term Regional Transmission Planning, today's final rule heavily relies on South Carolina.⁸⁵ However, given the significant differences between Order No. 1000 and the final rule, that reliance is grossly misplaced.

⁸⁵ E.g., Final Rule, 187 FERC ¶ 61,068 at PP 86, 253, 256 & n.604, 257 & n.605, 277.

32. Order No. 1000 included reforms intended to ensure that the transmission planning and cost allocation requirements embodied in the Commission's pro forma open access transmission tariff could support the development of more efficient or cost-effective transmission facilities.⁸⁶ Such reforms included, inter alia, the requirement for transmission providers to participate in regional planning processes; the requirement that such regional transmission planning processes must consider transmission needs that are driven by public policy requirements; and the requirement that transmission providers develop a regional cost allocation method for new transmission facilities selected in the regional transmission plan for purposes of cost allocation, with such method having to satisfy six regional cost allocation principles.

⁸⁶ Id. P 16 (citing Order No. 1000, 136 FERC ¶ 61,051 at P 3).

33. But Order No. 1000 was built on what may be a foundation of sand known as “Chevron deference.” As the D.C. Circuit explained in South Carolina, “[t]he court reviews challenges to the Commission's interpretation of the FPA under the familiar two-step framework of [Chevron].” ⁸⁷ The D.C. Circuit further explained that, “[i]f the court determines `Congress has directly spoken to the precise question at issue,' and `the intent of Congress is clear, that is the end of the matter.' ” ⁸⁸ This is often referred to as “Chevron step one.” ⁸⁹ The court stated, in contrast, that “[i]f . . . `the statute is silent or ambiguous with respect to the specific issue,' then the court must determine `whether the agency's answer is based on a permissible construction of the statute.' ” ⁹⁰ This is often referred to as “Chevron step two.” ⁹¹ The D.C. Circuit explained that “Chevron step two . . . requires [the court] to uphold an agency's reasonable interpretation of a statute it administers.” ⁹² That is, the court applies Chevron deference.⁹³

⁸⁷ South Carolina, 762 F.3d at 54 (citing Chevron, 467 U.S. 837).

⁸⁸ Id. (quoting Chevron, 467 U.S. at 842).

⁸⁹ See, e.g., id. at 84.

⁹⁰ Id. at 54 (quoting Chevron, 467 U.S. at 843).

⁹¹ See, e.g., id. at 58-59 (citing Chevron, 467 U.S. at 843), 84.

⁹² Id. at 76 (citing Nat'l Cable & Telecomms. Ass'n v. Brand X internet Servs., 545 U.S. 967, 982 (2005)).

⁹³ Note, however, that the U.S. Supreme Court is revisiting the 40-year-old doctrine and has indicated that it may narrow or overturn it in the pending cases, Loper Bright Enterprises v. Raimondo, No. 22-451 (argued Jan. 17, 2024) and Relentless v. Dep't of Commerce, No. 22-1219 (argued Jan. 17, 2024).

34. In South Carolina, the D.C. Circuit applied Chevron deference to the Commission's interpretation of FPA section 206 in affirming many aspects of Order No. 1000, including its planning mandates.⁹⁴ In affirming the planning mandates, the court emphasized that Order No. 1000 focused on process and not substantive outcomes:

⁹⁴ See South Carolina, 762 F.3d at 56-59 (internal citations omitted).

In Order No. 1000, the Commission expressly “decline[d] to impose obligations to build or mandatory processes to obtain commitments to construct transmission facilities in the regional transmission plan.” More generally, the Commission disavowed that it was purporting to “determine what needs to be built, where it needs to be built, and who needs to build it.” As the Commission explained on rehearing, “Order No. 1000's transmission planning reforms are concerned with process” and “are not intended to dictate substantive outcomes.” The substance of a regional transmission plan and any subsequent formation of agreements to construct or operate regional transmission facilities remain within the discretion of the decision-makers in each planning region.⁹⁵

⁹⁵ Id. at 57-58 (emphasis added; internal citations omitted).

35. Similarly, in determining that Order No. 1000's public policy mandate fell within the Commission's authority under section 206, the D.C. Circuit noted the mandate did not promote any particular public policy:

[Petitioners] seem to argue that the Commission can only exercise authority to promote goals specified in the FPA and that the public policy mandate cannot be justified with respect to any of those goals. This argument misunderstands the nature of the mandate. It does not promote any particular public policy or even the public welfare generally. The mandate simply recognizes that state and federal policies might affect the transmission market and directs transmission providers to consider that impact in their planning decisions. . . . This fits comfortably within the Commission's authority under Section 206. . . . [T]he public policy mandate bears directly on the provision of transmission service.⁹⁶

⁹⁶ Id. at 89-90 (citation omitted).

Just as with Order No. 1000's planning mandates, the court again emphasized Order No. 1000's public policy mandate required the establishment of processes:

But petitioners' attack is once again based on a misunderstanding of the orders. The orders merely require regions to establish processes for identifying and evaluating public policies that might affect transmission needs. The regions are free to choose their own manner of determining how best to identify and accommodate these policies.⁹⁷

⁹⁷ Id. at 91 (emphasis in original; internal citations omitted).

36. Finally, in affirming Order No. 1000's requirements pertaining to cost allocation, the court again applied Chevron deference to its interpretation of section 206.⁹⁸ The court noted that Order No. 1000 used a “light touch” in its cost allocation reforms:

⁹⁸ Id. at 84-86.

In keeping with the overall approach of the transmission planning reforms, [Order No. 1000] uses a light touch: it does not dictate how costs are to be allocated. Rather, [Order No. 1000] provides for general cost allocation principles and leaves the details to transmission providers to determine in the planning processes.⁹⁹

⁹⁹ Id. at 81.

37. While Order No. 1000 used a “light touch,” this pretextual final rule is heavy handed. To ensure that policy and corporate-driven projects are ultimately built so that the preferred generation is built, the final rule seeks to promote particular public policies and to dictate substantive outcomes through its reforms to the Commission's transmission planning and cost allocation processes.¹⁰⁰ If Order No. 1000 was upheld precisely because it was only mandating processes, not outcomes, then this final rule cannot stand on South Carolina because it nakedly intends to produce very specific outcomes.

¹⁰⁰ In so doing, the final rule violates section 201 as well. See infra Section III.B.

38. How does it intend to do this? First, in contrast to Order No. 1000, which mandated consideration of public policies in transmission planning but not a particular policy,¹⁰¹ the final rule requires transmission providers in their Long-Term Regional Transmission Planning to incorporate seven categories of factors—i.e., specific policies, as I have emphasized. Most of these mandatory categories of factors, which drive long-term transmission planning, specifically relate to the development and purchase of “green energy,” including, inter alia: (i) state and local laws affecting the resource mix, (ii) state and local laws on decarbonization, (iii) generator interconnection requests and withdrawals,¹⁰² and (iv) corporate, state and local government commitments to purchase “green energy.”

¹⁰¹ See South Carolina, 762 F.3d at 89-90.

¹⁰² This factor category is another way to subsidize and prefer wind and solar developers, which dominate the interconnection queues.

39. The final rule describes the relationship between the categories of factors, transmission needs, and benefits, among other terms:

For purposes of this final rule, Long-Term Regional Transmission Planning means regional transmission planning on a sufficiently long-term, forward-looking, and comprehensive basis to identify Long-Term Transmission Needs, identify transmission facilities that meet such needs, measure the benefits of those transmission facilities, and evaluate those transmission facilities for potential selection in the regional transmission plan for purposes of cost allocation as the more efficient or cost-effective regional transmission facilities to meet Long-Term Transmission Needs.

For purposes of this final rule, Long-Term Transmission Needs are transmission needs identified through Long-Term Regional Transmission Planning, which, as discussed in this final rule, includes running scenarios and considering the enumerated categories of factors.¹⁰³

¹⁰³ Final Rule, 187 FERC ¶ 61,068 at PP 38-39 (emphasis added).

Thus, categories of factors clearly shape the identification of transmission needs. Demonstrating this causal relationship, the final rule explains that “best available data inputs are data inputs that . . . reflect the list of factors that transmission providers account for in their Long-Term Scenarios,” ¹⁰⁴ and, in turn, “Long-Term Scenarios . . . incorporate various assumptions using best available data inputs about the future electric power system . . . to identify Long-Term Transmission Needs and enable the identification and evaluation of transmission facilities to meet such transmission needs.” ¹⁰⁵

¹⁰⁴ Id. PP 42, 633 (emphasis added).

¹⁰⁵ Id. PP 40 and 302 (emphasis added).

40. And, as we know, the identification of needs leads to the identification of transmission facilities that meet such needs; the identification of transmission facilities in turn leads to the measure of the benefits associated with those facilities; and the measure of benefits informs the evaluation of those transmission facilities for potential selection in the regional transmission plan for purposes of cost allocation. Thus, as the categories of factors are slanted toward transmission to facilitate preferred generation, the resulting output of the transmission planning process will inevitably have a similar bent. In other words, the final rule's mandate of the categories of factors starts the domino effect toward the final rule's agenda, an agenda that goes far beyond Order No. 1000.

41. Second, in contrast to Order No. 1000, whose reforms “[were] concerned with process” and “[were] not intended to dictate substantive outcomes,” ¹⁰⁶ the final rule requires transmission providers to measure a set of seven required benefits in their long-term transmission planning so that the pretextual agenda will be realized. By mandating minimum benefits that the transmission providers must use to evaluate potential transmission facilities,¹⁰⁷ the final rule is doing the opposite of using a “light touch;” rather, the final rule is putting its thumb on the scale, seeking to dictate outcomes of the transmission planning process. As I must continue to emphasize, by mandating benefits, the final rule makes consumers into involuntary “beneficiaries,” who, through regional cost allocation, will be forced to pay for transmission projects that support the development and purchase of preferential power. Accordingly, as with the final rule's mandated categories of factors, the mandatory minimum benefits serve to advance the final rule's specific policy objectives regarding the resource mix. Such favoritism is blatantly unduly discriminatory and preferential in contravention of section 206, and therefore, the final rule is, simply put, not entitled to Chevron deference in any form.

¹⁰⁶ See South Carolina, 762 F.3d at 58 (internal citation omitted).

¹⁰⁷ Final Rule, 187 FERC ¶ 61,068 at P 965.

B. The Final Rule Violates FPA Section 201

42. The final rule also infringes on the states' authority over electric generation reserved to them by FPA section 201 and is thus ultra vires.

43. As relevant here, FPA section 201(b) provides:

The Commission shall have jurisdiction over all facilities for such transmission or sale of electric energy, but shall not have jurisdiction, except as specifically provided in this subchapter and subchapter III of this chapter, over facilities used for the generation of electric energy or over facilities used in local distribution or only for the transmission of electric energy in intrastate commerce, or over facilities for the transmission of electric energy consumed wholly by the transmitter.¹⁰⁸

¹⁰⁸ 16 U.S.C. 824(b)(1) (emphases added).

Further, section 201(a) also specifies that “such Federal regulation . . . extend[s] only to those matters which are not subject to regulation by the States.” Courts have found that “states have broad powers under state law to direct the planning and resource decisions of utilities under their jurisdiction. States may, for example, order utilities to build renewable generators themselves, or . . . order utilities to purchase renewable generation.” ¹⁰⁹ These powers are reserved to the states under section 201.

¹⁰⁹ See, e.g., Entergy Nuclear Vt. Yankee, LLC v. Shumlin, 733 F.3d at 417 (quoting S. Cal. Edison Co. San Diego Gas & Elec. Co., 71 FERC at 62,080).

44. In South Carolina, the D.C. Circuit rejected the argument that section 201 prohibited Order No. 1000's transmission planning mandate.¹¹⁰ The D.C. Circuit emphasized that “because the planning mandate relates wholly to electricity transmission, as opposed to electricity sales, it involves a subject matter over which the Commission has relatively broader authority.” ¹¹¹ The court also reasoned that “because [Order No. 1000's] planning mandate is directed at ensuring the proper functioning of the interconnected grid spanning state lines, . . . the mandate fits comfortably within Section 201(b)'s grant of jurisdiction over `the transmission of electric energy in interstate commerce.' ” ¹¹² The court thus concluded that “Section 201 [did] not preclude the Commission's regulation of transmission planning in [Order No. 1000]” and that Order No. 1000 “[did] not interfere with the traditional state authority that is preserved by Section 201.” ¹¹³

¹¹⁰ 762 F.3d at 62-64.

¹¹¹ Id. at 63 (emphasis added) (footnote omitted)

¹¹² Id. (internal citations omitted).

¹¹³ Id. at 64.

45. However, in contrast to Order No. 1000, the final rule absolutely does “interfere with the traditional state authority that is preserved by Section 201” to ensure that its preferential policy and corporate-driven projects get built. By mandating, inter alia, categories of factors that drive the transmission planning process and by mandating minimum benefits to be used in the evaluation of potential Long-Term Regional Transmission Facilities, the final rule seeks to spur the building of transmission so as to promote a specific policy objective: the development and purchase of preferential generation. Accordingly, although the final rule strenuously insists that it is not mandating outcomes,¹¹⁴ it is doing so by manipulating the inputs of transmission planning (i.e., “pre-cooking”).¹¹⁵ In other words, the final rule seeks to do indirectly what it may not do directly.

¹¹⁴ See Final Rule, 187 FERC ¶ 61,068 at PP 954-955, 1026-1028.

¹¹⁵ Id. P 965.

46. As I explained in my concurrence to the NOPR:

States can prefer, mandate or subsidize specific types of generation resources, but the Commission cannot use its authority over transmission to pressure, steer or require regional planning entities to act as the Commission's agents and do indirectly what the Commission cannot do directly. The Commission is not a national integrated resource planner. Order No. 1000, to its credit, recognized this clear delineation between federal and state authority.¹¹⁶

¹¹⁶ NOPR Concurrence at P 2; see also id. n.4 (quoting Order No. 1000, 136 FERC ¶ 61,051 at P 154 (“[T]he regional transmission planning process is not the vehicle by which integrated resource planning is conducted; that may be a separate obligation imposed on many public utility transmission providers and under the purview of the states.”) (emphases added in NOPR Concurrence)).

I also explained that “the Commission cannot impose a preference for certain types of generation nor require regional entities to plan transmission designed to prefer or facilitate one type of generation over another.” ¹¹⁷

¹¹⁷ Id. P 12 (emphases in original).

47. The text of the FPA gives this Commission no authority whatsoever to act as a national IRP planner for the purpose of promoting its preferred generation resource mix. Pulling back the curtain, that is exactly what this pretextual final rule seeks to do. By extending FERC's control over every public utility transmission planner in the country, RTO or non-RTO, and ordering them to plan transmission lines intended to advance preferred policy and corporate goals, the Commission is stepping into the role of national IRP planner. FERC's authority under the FPA is limited to matters that directly affect rates, not practices that may theoretically have some tangential, indirect effect on rates,¹¹⁸ especially improper purposes such as ordering transmission planning to promote one or more states' public policies or corporate goals as to preferred generation resources. Congress intended FERC to be a rate regulator, not a planner of generation or transmission designed to bring about the construction of preferred types of generation. Indeed, FPA section 215 explicitly states that FERC may not order the construction of any generation or transmission asset.¹¹⁹ FERC cannot order transmission providers to do what FERC itself has no authority to do, yet that is exactly what this final rule aims to do.

¹¹⁸ See, e.g., CAISO v. FERC, 372 F.3d at 400 (holding that FERC cannot prescribe the membership of the CAISO board, as FERC has authority over only “rates, charges, classifications, and closely related matters”); see also Ari Peskoe, Replacing the Utility Transmission Syndicate's Control, Energy Law Journal, Vol. 44.3 547, 578 (2023) (Peskoe Article) (“FERC's authority over utility `practices' is best understood as referring to `actions habitually being taken by a utility in connection with a rate found to be unjust and unreasonable.'”) (footnote omitted), https://www.eba-net.org/wp-content/uploads/2023/11/8-Peskoe547-618.pdf.

¹¹⁹ FERC regulates RTOs and RTO markets to ensure just and reasonable rates to consumers, but FERC has no authority to order a load-serving public utility to build a specific generation facility, only states can. See 16 U.S.C. 824(b)(1); see also Hughes v. Talen Energy Mktg., 578 U.S. 150, 154 (2016) (“The States' reserved authority includes control over in-state `facilities used for the generation of electric energy.'” (quoting 16 U.S.C. 824(b)(1))); see also 16 U.S.C. 824o(i)(2) (“[Section 215 of the FPA] does not authorize the [Electric Reliability Organization, i.e., NERC] or the Commission to order the construction of additional generation or transmission capacity or to set and enforce compliance with standards for adequacy or safety of electric facilities or service.”). Congress recently gave FERC a narrowly limited form of “backstop” siting authority for certain designated transmission lines, but that authority is not implicated in this final rule.

48. The final rule purports to order transmission planners to plan for a “predicted” generation mix in a distant future 20 years away, but the exact generation mix in 20 years is impossible to predict.¹²⁰ The real goal of this pretextual final rule is not to try the impossible by predicting the generation mix in 20 years. Instead, the final rule is an attempt to become a national IRP planner and bring about a preferred generation mix through transmission planning by manipulating and shaping the future generation mix the special interests supporting this final rule want now.

¹²⁰ PATH Concurrence at P 4 (“PATH graphically illustrates the inherent dangers in approving for regional cost allocation long-distance projects based on a prediction (i.e., a guess) of what the generation mix will be in 20 years or more. PATH was originally part of the huge “Project Mountaineer” scheme—announced with great fanfare right here at the Commission itself—to build three high-voltage lines across hundreds of miles from West Virginia to East Coast load centers. The vast majority of the power to be delivered along these lines was to be coal-generated. After running into a firestorm of opposition in both the states in the path (no pun intended), as well as the end-user load states, Project Mountaineer was abandoned except for the PATH project, which represented a segment of one of the proposed Project Mountaineer lines. That segment was never built either. Yet, consumers have been paying for it ever since. The lesson here is clear: For policy-driven long-distance, regional transmission projects affecting consumers in multiple states, it is absolutely essential that state regulators have the authority to approve—or disapprove—the construction of these lines and how they are selected for regional cost allocation and what that cost allocation formula is, if their consumers are going to be hit with the costs.”) (emphasis in original).

49. The final rule denies that it is infringing on state authority reserved under FPA section 201, arguing, inter alia, that it directly regulates only those practices that affect the rates for the transmission of electric energy in interstate commerce and that it is not aiming to indirectly regulate any matter reserved to the states by FPA section 201.¹²¹ The final rule is chock-full of “nothing to see here” rhetoric asserting that it does not seek to shape the generation resource mix, but merely responds to changes in the electric industry.¹²² “Pay no attention to the [agenda] behind the [green] curtain! ” ¹²³ the final rule insists across 1300 pages. But it should be obvious by now that the final rule is just a pretext for enacting this administration's “net zero 2035” policy agenda, as well those of corporate and other special interests.¹²⁴ The true intent of the final rule is revealed by mandated categories of factors and minimum benefits, which drive the transmission development necessary to achieve the final rule's preferred generation resource mix. Any honest account of the final rule cannot ignore the monetary windfall it would shower on generation and transmission developers; it is no wonder, therefore, why they were among the strongest supporters for the final rule. Nor can any rational individual—unless living in the Land of Oz—reasonably deny the role the final rule plays in furthering this pretextual agenda.¹²⁵ In light of this backdrop, the final rule's repeated assertions that it does not seek to shape the country's resource mix are simply not credible. Contrary to the final rule's claims, in violation of FPA section 201, the final rule transforms the Commission into a national IRP planner to promote the construction of transmission lines to further the development of the final rule's preferred generation resources.

¹²¹ Final Rule, 187 FERC ¶ 61,068 at P 263; see also, e.g., id. P 271 (“[T]he requirements in this final rule respect and do not unlawfully infringe on state authority. Rather . . . the Commission is acting in an area squarely within its jurisdiction—transmission planning and cost allocation—by requiring transmission providers to engage in Long-Term Regional Transmission Planning to remedy deficiencies in the current transmission planning and cost allocation processes.”).

¹²² E.g., id. PP 129, 130, 254, 259-263, 266, 271, 275.

¹²³ You can decide for yourself whether the “green curtain” represents “green energy” or something else that's green.

¹²⁴ See supra Sections I, III.B.

¹²⁵ See supra nn.5, 8, 10, 13, 15, 16, 67.

C. The Final Rule Violates the Major Questions Doctrine

50. Courts generally look with suspicion on “cryptic” delegations of authority,¹²⁶ and they are generally skeptical of agencies that seek to find “elephants in mouseholes,” or otherwise seek to rely on tiny grants of authority to justify major actions.¹²⁷ As the Supreme Court explained in West Virginia v. EPA:

¹²⁶ See FDA v. Brown & Williamson Tobacco Corp., 529 U.S. 120, 160 (2000).

¹²⁷ See West Virginia v. EPA, 597 U.S. at 746-47 (Gorsuch, J., concurring) (quoting Whitman v. Am. Trucking Ass'ns, 531 U.S. 457, 468 (2001)).

Where the statute at issue is one that confers authority upon an administrative agency, that inquiry must be “shaped, at least in some measure, by the nature of the question presented”—whether Congress in fact meant to confer the power the agency has asserted. In the ordinary case, that context has no great effect on the appropriate analysis. Nonetheless, our precedent teaches that there are “extraordinary cases” that call for a different approach—cases in which the “history and the breadth of the authority that [the agency] has asserted,” and the “economic and political significance” of that assertion, provide a “reason to hesitate before concluding that Congress” meant to confer such authority.¹²⁸

¹²⁸ Id. at 700 (internal citations omitted).

51. I invoked the major questions doctrine in my dissent to the proposed changes to the Commission's certificate policy, even before West Virgina v. EPA was handed down. In my dissent, I wrote that:

“The federal government's powers . . . are not general[ ] but limited and divided. Not only must the federal government properly invoke a constitutionally enumerated source of authority to regulate in this area or any other, it must also act consistently with the Constitution's separation of powers. And when it comes to that obligation, this Court has established at least one firm rule: `We expect Congress to speak clearly' if it wishes to assign to an executive agency decisions `of vast economic and political significance.' We sometimes call this the major questions doctrine.”

In short, the major questions doctrine presumes that Congress reserves major issues to itself, so unless a grant of authority to address a major issue is explicit in a statute administered by an agency, it cannot be inferred to have been granted.

* * * * *

Yet the Supreme Court has made it clear that broad deference to administrative agencies on major questions of public policy is not in order when statutes are lacking in any explicit statutory grant of authority. “When much is sought from a statute, much must be shown. . . . [B]road assertions of administrative power demand unmistakable legislative support.” ¹²⁹

¹²⁹ Certification of New Interstate Nat. Gas Facilities, 178 FERC ¶ 61,107 (2022) (Christie, Comm'r, dissenting at P 22-23 (quoting Nat'l Fed'n of Indep. Bus. v. Dep't of Labor, OSHA, 595 U.S. 109, 121-22 (2022) (Gorsuch, J., concurring); In re MCP No. 165, 20 F.4th 264, 267-68 (6th Cir. 2021) (Sutton, C.J., dissenting (emphases added))) (internal citations omitted) (Certificate Dissent), https://www.ferc.gov/news-events/news/items-c-1-and-c-2-commissioner-christies-dissent-certificate-policy-and-interim.

52. The final rule's actions clearly implicate the major questions doctrine. If imposing a final rule intended to cost consumers literally trillions of dollars to build transmission projects designed to implement a sweeping policy agenda never passed by Congress is not a major question of public policy, then there is no such thing.¹³⁰

¹³⁰ See Brad Plumer, Energy Dept. Aims to Speed Up Permits for Power Lines, The New York Times, Apr. 25, 2024 (quoting Rob Gramlich, the president of the consulting group Grid Strategies, “ `I've called [the final] rule the biggest energy policy in the country.' ” (emphasis added)), https://www.nytimes.com/2024/04/25/climate/energy-dept-speed-transmission.html.

53. Yet the final rule brushes aside arguments that it would not withstand scrutiny under the major questions doctrine.¹³¹ Against these arguments, the final rule denies that its aim is to influence the generation mix; ¹³² asserts that it “neither transforms nor expands the Commission's authority; it merely applies existing authority;” ¹³³ asserts that “the differences in transmission planning required by this final rule represent differences in degree, not kind, from the Commission's longstanding regulations;” ¹³⁴ and asserts that its “incremental process improvements [from Order No. 1000], while necessary to ensure just and reasonable Commission-jurisdictional rates, do not have the `vast economic and political significance' that would implicate the major questions doctrine.” ¹³⁵ None of these assertions are credible.

¹³¹ Final Rule, 187 FERC ¶ 61,068 at P 275.

¹³² Id.

¹³³ Id. P 277.

¹³⁴ Id.

¹³⁵ Id. P 278 (quoting West Virginia v. EPA, 597 U.S. at 735 (J. Gorsuch, concurring)).

54. This final rule violates the major questions doctrine. As discussed above, it is axiomatic that Congress has not intended for the Commission to be a national IRP planner. On the contrary, it has left both the siting of transmission and the development of generation to the states.¹³⁶ Yet the final rule encroaches on these traditional state prerogatives in the absence of any explicit Congressional authorization to do so.

¹³⁶ See supra Section III.B. Since 2005, FERC has had very limited backstop siting authority for certain transmission projects that has never been used. See generally Applications for Permits to Site Interstate Elec. Transmission Facilities, Order No. 1977, 187 FERC ¶ 61,069 (2024).

55. The final rule seeks to shape specific policy outcomes by mandating categories of factors and minimum benefits. In addition, the final rule does something else that also arguably makes it transformative. Citing, inter alia, South Carolina, the final rule declares that the Commission has exclusive jurisdiction over regional transmission planning and cost allocation processes:

As the D.C. Circuit has recognized, regional transmission planning and cost allocation processes are practices affecting rates subject to the Commission's exclusive jurisdiction.¹³⁷

¹³⁷ Final Rule, 187 FERC ¶ 61,068 at P 86 & n.184 (emphasis added) (citing South Carolina, 762 F.3d at 55-59, 84 (affirming the Commission's authority to regulate transmission planning and cost allocation as practices affecting rates); Order No. 1000-A, 139 FERC ¶ 61,132 at P 577 (holding that “requirements regarding transmission planning and cost allocation . . . are practices affecting rates.”)); see also id. P 130 (“Instead, because practices directly affecting Commission-jurisdictional rates, terms, and conditions of service for interstate transmission and wholesale electricity are the exclusive jurisdiction of the Commission, we must ensure that Commission-jurisdictional processes associated with regional transmission planning and cost allocation result in rates that are just and reasonable and not unduly discriminatory or preferential.”) (emphasis added); id. P 770.

In fact, the South Carolina court did not state that the Commission has exclusive jurisdiction over regional transmission planning and cost allocation. In fact, that court noted, for example, that the Florida Public Service Commission is statutorily vested with authority to “plan[], develop[ ], and main[tain] . . . a coordinated electric power grid” throughout the state.¹³⁸

¹³⁸ See, e.g., South Carolina, 762 F.3d at 62 n.3.

56. Whether the Commission can exclusively supplant the states in transmission planning and cost allocation is a major question—particularly considering the enormous breadth of the transmission grid, the importance of electricity in everyday life, and the trillions of dollars in transmission investment (read, cost increases) this final rule intends to impose on consumers.¹³⁹ The final rule's conclusion that regional transmission planning and cost allocation processes are subject to the Commission's exclusive jurisdiction suggests that the Commission “occupies the field” ¹⁴⁰ in these areas.¹⁴¹ But this is wrong. This pretextual final rule erodes the states' authority, which is inconsistent with the principle of cooperative federalism reflected in the FPA. Under the major questions doctrine, absent an act of Congress, the Commission may not usurp the powers of the states in this manner.

¹³⁹ See FERC v. Elec. Power Supply Ass'n, 577 U.S. 260, 281 (2016) (“It is a fact of economic life that the wholesale and retail markets in electricity, as in every other known product, are not hermetically sealed from each other. To the contrary, transactions that occur on the wholesale market have natural consequences at the retail level.”).

¹⁴⁰ See Silkwood v. Kerr-McGee Corp., 464 U.S. 238, 248 (1984) (“If Congress evidences an intent to occupy a given field, any state law falling within that field is preempted.” (citation omitted)); PPL EnergyPlus, LLC v. Nazarian, 753 F.3d 467, 475-476 (4th Cir. 2014) (“Even where state regulation operates within its own field, it may not intrude indirectly on areas of exclusive federal authority.” (quoting Pub. Utils. Comm'n of State of Cal. v. FERC, 900 F.2d 269, 274 n.2 (D.C. Cir.1990) (internal quotation marks omitted))).

¹⁴¹ The final rule's determination here aligns with the final rule's complete gutting of the roles of the states in transmission planning and cost allocation. See infra Section IV.B.1.

IV. The Final Rule Fails Under Both Prongs of FPA Section 206

57. I cannot support the final rule because it has been fundamentally changed from the NOPR. In jettisoning essential components of the NOPR, the final rule has been reduced to a mere pretext for this supposedly independent Commission's effort to implement the current administration's “net zero 2035” policies. It will not produce rates that are just and reasonable and not unduly discriminatory or preferential. This final rule does not satisfy either of the requirements of FPA section 206. Under section 206, the Commission must first find that the rate on file is no longer just and reasonable and not unduly discriminatory or preferential. Then the Commission must find that a particular replacement rate would be just and reasonable and not unduly discriminatory or preferential.¹⁴² The final rule fails on both counts.

¹⁴² 16 U.S.C. 824e.

58. Although the current regional transmission planning processes could be improved—they are certainly not in need of the final rule's solutions. Even if these solutions were the only way forward to reform regional transmission planning, an act of Congress would be necessary first because the final rule is far beyond the reach of the FPA. While the Commission might prefer a different rate, that preference alone does not make all the filed rates of every transmission provider unjust and unreasonable.

A. The Final Rule Fails To Justify Its Action Under Section 206

59. The final rule presents no justification for taking action in this proceeding against all of the filed transmission rates pursuant to FPA section 206. The record, while consisting of thousands of pages of comments, simply does not contain substantial evidence sufficient to make a generic showing that the existing filed rates of all transmission providers are unjust, unreasonable, unduly discriminatory or preferential.¹⁴³ In South Carolina, the D.C. Circuit explained that “the substantial evidence test” for a rulemaking proceeding “ `requires the Commission to specify the evidence on which it relied and to explain how that evidence supports the conclusion it reached.' ” ¹⁴⁴ Here, the final rule's “rel[iance] on `generic' or `general' findings of a systemic problem to support imposition of an industry-wide solution” ¹⁴⁵ fails because it relies on cherry-picked special interest comments to support the pre-baked and pretextual findings needed to enact the administration's preferential, and discriminatory, policy agenda as well those of corporate and other special interests.

¹⁴³ See South Carolina, 762 F.3d at 64-65 (citations omitted).

¹⁴⁴ Id. at 54 (quoting Wis. Gas Co. v. FERC, 770 F.2d 1114, 1156) (alterations in the original)).

¹⁴⁵ See Final Rule, 187 FERC ¶ 61,068 at P 132 (citing South Carolina, 762 F.3d at 67) (additional citation omitted).

1. The Record Is Not Sufficient to Make a Generic Showing That Every Transmission Providers' Regional Transmission Planning and Cost Allocation Processes Are Unjust, Unreasonable, and Unduly Discriminatory or Preferential

60. The evidence in the record that is used to support the final rule's section 206 finding consists largely of comments from special interests that will profit from the final rule. The final rule also signals that there has been limited regional transmission development since Order No. 1000. This evidence should not be used to mean that every transmission provider in the country has transmission practices that are unjust and unreasonable.

61. The final rule declines to analyze the “justness and reasonableness of either generator interconnection processes or local transmission planning processes” in its survey of issues in regional transmission planning.¹⁴⁶ The final rule identifies benefits of transmission planning.¹⁴⁷ The final rule states that “transmission planning that considers both evolving reliability needs and other drivers of transmission needs more comprehensively can enable transmission providers to identify potential reliability problems and economic constraints.” ¹⁴⁸ The final rule states that transmission spending has increased, which turns into higher customer bills.¹⁴⁹ The final rule identifies projections are necessary for growing future transmission needs, including load growth ¹⁵⁰ and changing reliability needs.¹⁵¹ And supply is changing due to state policies, customer preferences, and utility preferences (the latter two can also be driven by state policies or by activist investor preferences).¹⁵²

¹⁴⁶ Id. P 111.

¹⁴⁷ Id. PP 90-91.

¹⁴⁸ Id. P 90.

¹⁴⁹ Id. P 92.

¹⁵⁰ Id. P 95.

¹⁵¹ Id. PP 93-94.

¹⁵² Id. PP 96-97.

62. Translating FERC-speak, we are left with bland statements of the obvious: Transmission is expensive to build; transmission spending is up; generators front a lot of the needed money; consumers eventually pay them back; lack of regional integrated planning results in piecemeal transmission construction; this is inefficient and costs consumers more. Yet simply because a rate could be more efficient, that alone is not enough to make the filed rate unjust and unreasonable.

63. Many of the special interest commenters point to studies, projections, and reports that show that regional transmission planning could be done more efficiently.¹⁵³ When we peel back the “green curtain” shrouding this final rule, however, we see that these comments are almost exclusively from self-interested entities which would gain substantially from the very Commission action that they support.¹⁵⁴ Indeed, the record being used to support the section 206 finding consists of special interests who are going to profit monetarily from the final rule, including generation developers, transmission developers, and corporate purchasers of preferred power.¹⁵⁵ None of these comments (individually or taken together) are sufficient to meet the high burden of proof that all transmission providers' tariffs are unjust and unreasonable due to the profit-seeking motivations behind them.

¹⁵³ See, e.g., Johannes Pfeifenberger, et al., The Brattle Group and Grid Strategies, Transmission Planning for the 21st Century: Proven Practices that Increase Value and Reduce Costs, at 48-49 (Oct. 2021), https://www.brattle.com/wp-content/uploads/2021/10/2021-10-12-Brattle-GridStrategies-Transmission-Planning-Report_v2.pdf; Rob Gramlich and Jay Caspary, Americans for a Clean Energy Grid, Planning for the Future: FERC's Opportunity to Spur More Cost-Effective Transmission Infrastructure, at 26-28 (Jan. 2021), https://cleanenergygrid.org/wp-content/uploads/2021/01/ACEG_Planning-for-the-Future1.pdf; Johannes P. Pfeifenberger, et al., The Brattle Group, Cost Savings Offered by Competition in Electric Transmission: Experience to Date and the Potential for Additional Customer Value (Apr. 2019), https://www.brattle.com/wp-content/uploads/2021/05/16726_cost_savings_offered_by_competition_in_electric_transmission.pdf.

¹⁵⁴ Such commenters include ACORE, PIOs, ACEG, Advanced Energy Buyers, AEE, Renewable Northwest, SREA, and Clean Energy Buyers.

¹⁵⁵ See Final Rule, 187 FERC ¶ 61,068 at P 96.

64. In addition, the final rule looks back over the period following Order No. 1000 and states that regional transmission planning processes have yielded only “limited investments in regional transmission planning projects.” ¹⁵⁶ Let's suppose that over the last decade a transmission developer had instead proposed massively expanding transmission while the load growth projections remained flat. Consumers commenting on that aggressive plan would have challenged it as gold-plating. Regulators would have rejected it as imprudent. The so-called “limited investments” were instead a sign of responsiveness to projections made during that era. Rather than seeing this outcome as a feature of considered ratemaking during a period of low load growth, the final rule attributes this lack of investment to the shortcomings of the existing regional transmission planning processes—meaning the tariff changes mandated by Order No. 1000.¹⁵⁷ For these reasons, the final rule's reliance on a lack of regional transmission development post-Order No. 1000 is not persuasive, especially to support the finding that all transmission providers' tariffs are unjust and unreasonable.

¹⁵⁶ Id. P 101.

¹⁵⁷ Id.

2. The Record Shows That Regional Planning Deficiencies Exist Only in Isolated Pockets

65. The evidence in this record does not demonstrate a single nationwide systemic problem. Rather, the record shows that the “deficiencies identified by the Commission `exist[ ] only in isolated pockets.' ” ¹⁵⁸ The final rule even recognizes the many regions representing a substantial percentage of consumers where regional transmission planning is working.¹⁵⁹ The final rule points to the MISO Multi-Value Project transmission planning process as an effective example of regional transmission planning.¹⁶⁰ From this, it could be concluded that the final rule suggests that regional transmission planning is working in MISO, including on a long-term basis. It is logical to conclude similarly regarding CAISO's ¹⁶¹ and New York's regional transmission planning.¹⁶² Vertically integrated monopoly public utilities have expanded their transmission capacity by engaging in integrated resource planning that is reviewed and approved by their state regulators.¹⁶³ NRECA, an organization representing both transmission providers and transmission-dependent entities, highlights that its members have observed regional transmission planning processes that range from successful to broken.¹⁶⁴ According to NRECA, some RTO regions are working, and others are not. NRECA similarly states that some non-RTO regions are working, and others are not.

¹⁵⁸ See South Carolina, 762 F.3d at 67 (quoting Associated Gas Distribs. v. FERC, 824 F.2d 981, 1019 (D.C. Cir. 1987)) (alteration in the original).

¹⁵⁹ See generally Final Rule, 187 FERC ¶ 61,068 at PP 71-77.

¹⁶⁰ Id. P 102; see OMS Initial Comments at 2 (stating that “it is critically important to note at the outset that MISO's regional planning process already reflects many of the elements and features contained in the [NOPR], and it should be looked to as a model for other regions to emulate.”); MISO Initial Comments at 1-2.

¹⁶¹ CAISO Initial Comments at 3 (“The CAISO already engages in long-term planning, and its existing transmission planning process is consistent with the direction of the NOPR.”); CAISO Reply Comments at 1-2 (stating that “the Commission should not unduly disrupt or undo existing planning processes and approaches that are functioning well and enabling transmission providers to plan for system needs efficiently and cost-effectively.”).

¹⁶² New York Commission and NYSERDA Initial Comments at 5.

¹⁶³ See, e.g., Southern Companies Initial Comments at 13-15 (stating that its “IRP/RFP-driven transmission planning is successfully expanding their electric grid to address the changing resource mix and load”); Undersigned States Reply Comments at 6-7.

¹⁶⁴ NRECA Initial Comments at 14-16.

66. This is hardly ironclad evidence sufficient to support a generic finding that the regional transmission planning processes are no longer just and reasonable. The record here shows that regional and multistate regional planning is happening in significant and large swaths of the country subject to our rate jurisdiction, including on longer-term horizons, and that other regions have room for improvement. These circumstances are entirely different than those facing the Commission when it issued Order No. 1000. The factual justification for a single, national FPA section 206 finding is simply not present in the way it was for Order No. 1000. No amount of hand waving or misdirection can change the lack of sufficient evidentiary support for this Commission to take the sweeping national action pursuant to FPA section 206 in this rule. This significant deficiency leaves this entire exercise open to meaningful challenge.

B. The Replacement Rate Is Not Just and Reasonable

67. Not only does the final rule fail to meet its evidentiary burden, but the replacement rate that the final rule imposes is not just and reasonable and has no basis in law. The final rule has removed any serious state role in agreeing to the final rule's planning and cost allocation processes, and the final rule fails to protect consumers as FERC is required to do under the FPA. Further, the cost causation principle cannot, and should not, extend as far as the today's final rule suggests, and should not require that the ratepayers of a non-consenting state pay costs of other states' public policies where there is mismatch between planning criteria and benefits.

1. The Final Rule Reverses the States' Roles in Transmission Planning and Cost Allocation Promised by the NOPR

68. The main reason I supported the NOPR was that it “formally put the states—for the first time—at the center of regional transmission planning and cost allocation decision-making for policy-driven projects in all regional transmission entities, if the states choose.” ¹⁶⁵ Specifically, I explained:

¹⁶⁵ NOPR Concurrence at P 5 (emphases in original) (footnote omitted).

[F]or these [Long-Term Regional Transmission Facilities] the NOPR propose[d] to require the regional planning entities to consult with and seek the agreement of the relevant states to both the selection criteria for these projects and to the regional cost allocation arrangements. State approval is especially important in a multi-state region, where different states have different policies. The NOPR proposes to provide the maximum opportunity for creativity and flexibility to the states and regional entities in developing the process for designing and approving regional selection criteria and cost allocation arrangements. States can agree to an ex ante formula for regional cost allocation of these types of projects—such as, for example, the “highway-byway” formula approved by the SPP Regional State Committee—or states can agree to a process for a project-by-project agreement on cost allocation among one or several states—such as, for example, the State Agreement Approach in PJM—or states may choose some combination of both. States in a multi-state RTO or ISO can even agree to defer the decision on cost allocation to the governing board of the RTO/ISO. The result is, while we are proposing to require regional planning entities to study and evaluate a broad, forward-looking array of information—including information addressing states' individual energy policies and goals—any projects identified through this new process will not be built, or more importantly, paid for by consumers, until the states representing such consumers have agreed that such projects are indeed needed and wanted by those same consumers.¹⁶⁶

¹⁶⁶ Id. P 11 (emphases in original) (footnotes omitted).

I wrote about the advantages of elevating the role of the states:

[E]levating the role in planning and cost allocation of state regulators—who are, as a group, deeply concerned about the monthly bills paid by consumers, of which transmission is a rapidly growing component—will make it more likely, not less, that necessary transmission can get built while ensuring that rates resulting from these types of policy-driven projects will not be unjust and unreasonable, which they clearly have the potential to be.¹⁶⁷

¹⁶⁷ Id. P 14 (emphasis in original).

The day the Commission issued the NOPR, some of my colleagues expressed similar sentiments.¹⁶⁸

¹⁶⁸ See supra n.48; NOPR, 179 FERC ¶ 61,028 (Phillips, Comm'r, concurring at P 4) (“I support the proposal to require transmission providers to consult with and incorporate states' views in project selection and cost allocation. I invite comment on the value of such state involvement for increasing the likelihood that those facilities are sited and ultimately developed with fewer costly delays.”), https://www.ferc.gov/news-events/news/item-e-1-commissioner-phillips-concurrence-building-future-through-electric.

69. Unfortunately—perhaps emanating from the final rule's erroneous legal conclusion that the Commission has exclusive jurisdiction over regional transmission planning and cost allocation ¹⁶⁹—the final rule completely eviscerates the states' role contemplated in the NOPR in both the transmission planning and cost allocation processes. Other than a few cosmetic gestures, the final role essentially treats the state regulators like other stakeholders in the RTO/ISO. But states are not mere “stakeholders:”

¹⁶⁹ See supra Section III.C.

State regulators have the duty to act in the public interest and states alone are sovereign authorities with inherent police powers to regulate utilities through their designated state officers. The FPA itself explicitly recognizes state authority. So it is perfectly fitting for state regulators to have the important roles proposed in this NOPR, without preempting the regional planning entities from seeking additional input through their existing stakeholder processes.¹⁷⁰

¹⁷⁰ NOPR Concurrence at P 13 (emphasis in original).

The evisceration of the states' role in transmission planning and cost allocation and the relegation of state regulators to mere “stakeholder” status is alone reason enough for me to dissent.

a. The Final Rule Undercuts the States' Role in the Transmission Planning Process

70. A major example of the final rule's undercutting of the states' role in the transmission planning process is with respect to the selection criteria. As a reminder, the selection criteria are a key component of the planning process because once a project is selected, money starts to flow from the ratepayers to transmission developers. Recognizing the states' important role in the planning process, the NOPR required that the states approve the selection criteria that transmission providers use in the planning process:

Given the important role states play and the wide variety of potential approaches to selection criteria, we propose, as part of this requirement, that public utility transmission providers must consult with and seek support from the relevant state entities, as defined below, within their transmission planning region's footprint to develop the selection criteria.¹⁷¹

¹⁷¹ NOPR, 179 FERC ¶ 61,028 at P 244; see also NOPR Concurrence at P 11 (“State approval is especially important in a multi-state region, where different states have different policies. The NOPR proposes to provide the maximum opportunity for creativity and flexibility to the states and regional entities in developing the process for designing and approving regional selection criteria and cost allocation arrangements.”).

To implement this requirement, the NOPR proposed “to require that public utility transmission providers demonstrate on compliance that they developed their proposed selection criteria in consultation with the relevant state entities in their transmission planning region's footprint.” ¹⁷² And it was clear at that time exactly what that meant—agreement, nothing less.¹⁷³ However, the final rule outright undermines these requirements—and the states' role as a whole—by “clarifying” that state approval of the evaluation process and selection criteria is not actually required:

¹⁷² NOPR, 179 FERC ¶ 61,028 at P 246.

¹⁷³ See NOPR Concurrence at P 11; see also supra n.48.

We clarify that we require transmission providers to seek support from Relevant State Entities, but do not require transmission providers to obtain their support, before proposing an evaluation process and selection criteria on compliance.¹⁷⁴

¹⁷⁴ Final Rule, 187 FERC ¶ 61,068 at P 996 (emphases added).

Starkly demonstrating how milquetoast the requirement for transmission providers to “consult with and seek support from” the states has now become under the final rule, the final rule even fails to require that transmission providers indicate in their compliance filings whether the states agree with their selection criteria proposal.¹⁷⁵ So, from the NOPR requiring state agreement, the final rule does not even require the states' views to merit mere mention. Adding insult to injury, the final rule specifies that “transmission providers may not include in their evaluation process or selection criteria any prohibition on the selection of a Long-Term Regional Transmission Facility based on the transmission providers' anticipated response of a state public utility commission or consumer advocates to particular Long-Term Regional Transmission Facilities.” ¹⁷⁶

¹⁷⁵ Id. P 999.

¹⁷⁶ Id. P 962 (emphasis added).

71. The final rule acknowledges that “Long-Term Regional Transmission Planning is more likely to be successful where transmission providers, Relevant State Entities, and other stakeholders collaborate to develop an evaluation process and selection criteria.” ¹⁷⁷ But the final rule emphasizes that transmission providers are ultimately the only ones responsible for transmission planning and complying with the obligations of the final rule, and it notes that achieving consensus may simply not be possible in every instance.¹⁷⁸ Neither explanation provides a sufficient rationale to justify undercutting the requirement for state approval when states alone have the inherent police power to regulate the utilities within their states. One cannot help but see this as part of the larger pretextual shell game the final rule seeks to accomplish. Sadly, this is one of many examples where the final rule provides for a little extra process involving the states to demonstrate ostensibly that the Commission is committed to the principle of cooperative federalism, but in substance, states are relegated back to mere stakeholders, whose input can simply be disregarded if inconvenient.¹⁷⁹

¹⁷⁷ Id. P 996.

¹⁷⁸ Id.

¹⁷⁹ See supra P 69.

72. Unfortunately, not only the states' role with respect to the selection criteria has been gutted. As I must continue emphasize,¹⁸⁰ by mandating categories of factors and minimum benefits, the final rule seeks to shape specific policies and outcomes, regardless of the consent of the states.¹⁸¹ The goal of this pretextual final rule is to plan preferential policy and corporate-driven projects regardless of states' support. One must also ask whether the extent to which this final rule requires prescriptive planning processes also limits the states' role to participate meaningfully when most are resource-strapped.

¹⁸⁰ See supra Section I. Another example, of course, is micromanaging how local “stakeholder” meetings must be conducted, which, as noted, runs a strong risk of conflicting with state IRP proceedings and state authority. See Final Rule, 187 FERC ¶ 61,068 at PP 1625-1646. As above, I question whether prescriptive requirements to this degree can truly pass muster under court precedent.

¹⁸¹ And transmission providers themselves cannot even voluntarily account for states' input in the planning. Today's final rule requires that transmission providers may not include in their evaluation process or selection criteria any prohibition on the selection of a Long-Term Regional Transmission Facility based on the transmission providers' anticipated response of a state public utility commission or consumer advocates to particular Long-Term Regional Transmission Facilities. Final Rule, 187 FERC ¶ 61,068 at P 962.

73. States did not join RTOs ¹⁸² to pay for these preferential policy and corporate-driven projects. Rather, as I wrote in my concurrence to the NOPR, “States joined to provide their retail consumers with the promised benefits of lower transmission costs and strengthened reliability through regional planning of core Reliability projects.” ¹⁸³ I speak from personal experience. When I was a Commissioner at the Virginia State Corporation Commission, my colleagues and I considered applications to permit Virginia's major utilities to join PJM. The Virginia Commission's rules required us to examine “among other things, an [RTO's] reliability practices, pricing and access policies, and independent governance.” ¹⁸⁴ When we voted to approve the applications, PJM's planning for public policy projects that would be cost allocated regionally was not even on our radar.

¹⁸² I am aware that states qua states do not join RTOs/ISOs. Rather, they use their regulatory power to allow or require their regulated transmission-owning utilities to join.

¹⁸³ NOPR Concurrence at P 13.

¹⁸⁴ Commonwealth of Virginia, ex rel. State Corporation Commission, Ex Parte: In the matter concerning the application of Virginia Electric and Power Company d/b/a Dominion Virginia Power for approval of a plan to transfer functional and operational control of certain transmission facilities to a regional transmission entity, Case No. PUE-2000-00551 (Nov. 10, 2004). The order included a stipulation in which Dominion agreed that joining PJM would not alter its legal obligation to seek a CPCN from the Virginia Commission to construct generation or transmission assets. Id., Partial Stip. ¶ 6.

b. The Final Rule Guts the States' Role in Cost Allocation as Proposed in the NOPR

74. Given the pretextual nature of this rule, it should not be surprising that it eviscerates the states' role in deciding cost allocation matters. NARUC strongly supported the NOPR's proposal to involve states in the cost allocation for Long-Term Regional Transmission Facilities and conversely disagreed with a requirement that transmission providers include a Long-Term Regional Transmission Cost Allocation Method in their OATTs without being obligated to seek agreement from the states.¹⁸⁵ NARUC explained:

¹⁸⁵ NARUC Initial Comments at 45.

[S]ince the projects under consideration in the Long-Term Regional Transmission Planning process are largely driven by state public policies, state regulators should have a key role in evaluating the benefits and allocating the costs. State regulators are attuned to the concerns of the local communities where the transmission will be sited and the retail ratepayers who must, in many instances, foot a large fraction of the cost.¹⁸⁶

¹⁸⁶ Id. at 46 (citations omitted).

Of course, to effectuate the pretextual agenda, the final rule simply ignores NARUC's entreaties and instead cuts the states out of any meaningful role in cost allocation.

75. First, the final rule essentially terminates the State Agreement Process by making the ex ante cost allocation method the default approach. While the NOPR proposed to require transmission providers to revise their OATTs to include either (1) an ex ante cost allocation method (i.e., a Long-Term Regional Transmission Cost Allocation Method) to allocate the costs of Long-Term Regional Transmission Facilities, (2) a State Agreement Process, or (3) a combination thereof,¹⁸⁷ the final rule substantially modifies the NOPR proposal to require the use of one or more ex ante cost allocation methods.¹⁸⁸ Although the final rule permits transmission providers to include a State Agreement Process in their OATTs if the states agree, the final rule specifies that the State Agreement Process “cannot be the sole method filed for cost allocation for Long-Term Regional Transmission Facilities,” ¹⁸⁹ and the final rule modifies the NOPR proposal to require an ex ante cost allocation method to apply as a backstop.¹⁹⁰ The ex ante cost allocation method backstop would apply if a State Agreement Process fails to result in a cost allocation method agreed to by Relevant State Entities and others or if the Commission ultimately finds that the cost allocation method that results from a State Agreement Process is unjust, unreasonable, or unduly discriminatory or preferential.¹⁹¹

¹⁸⁷ NOPR, 179 FERC ¶ 61,028 at P 302.

¹⁸⁸ Final Rule, 187 FERC ¶ 61,068 at P 1291.

¹⁸⁹ Id. PP 1292, 1361, 1404.

¹⁹⁰ Id. P 1292.

¹⁹¹ Id. P 1293.

76. Second, under the final rule, state consent on cost allocation is not required. The final rule explicitly declines to adopt the NOPR proposal to require transmission providers to seek the agreement of the states regarding the relevant cost allocation method to be applied to Long-Term Regional Transmission Facilities.¹⁹² Instead, the final rule merely requires transmission providers to establish a six-month Engagement Period “to provide a forum” for the states to negotiate an ex ante cost allocation method(s) and/or a State Agreement Process.¹⁹³ Under the final rule, if the negotiations fail, transmission providers must still file an ex ante cost allocation method(s).¹⁹⁴ Worse still, the final rule specifies that, even if the states do reach an agreement on an ex ante cost allocation method(s) and/or a State Agreement Process, the transmission providers may ignore it and file their own ex ante cost allocation method(s) instead.¹⁹⁵ Similarly, the final rule declines to require that, if the transmission providers disagree with a proposed cost allocation method agreed on by the states, transmission providers must file both cost allocation methods: the transmission providers' preferred cost allocation method and the cost allocation method agreed to by the Relevant State Entities. So to the states, the final rule says, “Heads I win, tails you lose.”

¹⁹² Id. P 1354.

¹⁹³ Id. P 1357.

¹⁹⁴ Id. P 1367.

¹⁹⁵ E.g., id. P 1359 (“[T]he ultimate decision as to whether to file a Long-Term Regional Transmission Cost Allocation Method(s) and/or State Agreement Process to which Relevant State Entities have agreed will continue to lie with the transmission providers.”); id. P 1429 (“[A]fter the required Engagement Period, transmission providers in each transmission planning region will decide what Long-Term Regional Transmission Cost Allocation Method(s) and any State Agreement Process to file as part of their compliance filings. Therefore, transmission providers in a transmission planning region could elect to propose on compliance a Long-Term Regional Transmission Cost Allocation Method and not file a State Agreement Process or other ex ante cost allocation method to which Relevant State Entities agreed. In addition, we do not impose any obligation on transmission providers to file a cost allocation method for Long-Term Regional Transmission Facilities with which they disagree, even if such a method were proposed to the transmission providers pursuant to a Commission-approved State Agreement Process, unless the transmission providers have clearly indicated their assent to do so as part of a Commission-approved State Agreement Process in their OATTs.”) (emphases added; footnote omitted); see also id. P 1356 n.2895 (citing Atl. City Elec. Co. v. FERC, 295 F.3d 1, 9 (D.C. Cir. 2002) (Atlantic City)).

77. Further, under the final rule, at the end of the Engagement Period, the states' role—however small—in shaping an ex ante cost allocation formula is effectively over. NARUC argued that the Commission should provide some mechanism for future review of cost allocation methodologies for Long-Term Regional Transmission Facilities given that state public policies may evolve:

As the name suggests, these transmission facilities are expected to be planned over a longer period of time than projects built for reliability or economic reasons. States that do not currently have public policies requiring extensive transmission investments may forego an opportunity to participate in discussions regarding cost allocation, but their public policies may evolve over time. For the reforms proposed in this NOPR to be successful, the positions of relevant state entities should not be frozen in time.¹⁹⁶

¹⁹⁶ NARUC Initial Comments at 49.

But the final rule denies this request.¹⁹⁷ Further, the final rule specifies that transmission providers may file subsequent changes to their cost allocation method(s) without establishing future Engagement Periods beyond the initial one.¹⁹⁸

¹⁹⁷ Final Rule, 187 FERC ¶ 61,068 at P 1368.

¹⁹⁸ Id.

78. As noted above, the upshot of these changes, taken together, is that the states are simply cut out of any significant role in the cost allocation of the of Long-Term Regional Transmission Facilities. The final rule completely eviscerates the State Agreement Process and renders it non-viable. The final rule eliminates the core element of that approach—that states enter such cost allocation arrangements voluntarily. Now—with an ex ante cost allocation method that must serve as a backstop in the event that the states' negotiations fail, looming over the states' heads like the sword of Damocles—the final rule gives states “an offer they can't refuse,” telling the states that must they agree to a cost allocation or the transmission providers will impose one on them anyway. In such a circumstance, fruitful negotiation between the states is virtually impossible, as states simply cannot say “no.” At the risk of stating the obvious, this forced cost allocation on the states is, of course, contrary to comments of NARUC and many of the individual states.¹⁹⁹

¹⁹⁹ See NARUC Initial Comments at 45 (“NARUC strongly supports the Commission's proposal to involve states in cost allocation for Long-Term Regional Transmission Facilities and conversely explicitly rejects a requirement that public utility transmission providers include a Long-Term Regional Transmission Cost Allocation Method in their OATTs without being obligated to seek agreement from relevant state entities.”) (footnotes omitted); see, e.g., Alabama Commission Initial Comments at 9 (“In other words, states may not force their preferences on their neighbors, or compel them to subsidize their achievement. Thus, it goes without saying that Alabama ratepayers should not be required to pay for transmission projects that are designed to promote or facilitate the public goals of other states, localities, or entities.”); West Virginia Commission Reply Comments at 2-3 (“The [West Virginia Commission] opposes any changes in transmission cost allocation that would require West Virginia customers, or customers of any State, to involuntarily pay for new transmission facilities that are needed to support the public policy generation choices of other States.”); North Carolina Commission and Staff Initial Comments at 15-16 (“The [North Carolina Commission and Staff] strongly support the NOPR proposals regarding cost allocation for regional transmission facilities developed through the Long-Term Regional Transmission Planning process, as that term is defined in the NOPR, specifically the requirement for transmission providers to seek state agreement on cost allocation methodologies and the requirement to create an opportunity for states to negotiate a cost allocation method after a transmission facility has been selected through the Long-Term Regional Transmission Planning process.”); Utah Commission Initial Comments at 9 (“[I]mposing a single set of federally mandated, highly prescriptive transmission planning and cost allocation requirements for the purpose of privileging the selection of costly transmission projects to serve remote and speculative renewable generation is not a lawful exercise of FERC's authority under Section 206.”).

79. Just as concerning, as I discuss in Sections I and IV.B.2 of this dissent, the final rule will enable the ratepayers of non-consenting states to be assessed the cost of public policy projects of other states, which is anti-democratic and violates the basic principle of fairness. As NARUC points out, NARUC and individual state commissions supported the State Agreement Process to address this concern:

NARUC is particularly supportive of the State Agreement Process, which is similar to the PJM State Agreement Approach that has been approved by FERC and that NARUC and state commissions advocated to be included in the final rule. A state agreement approach allows states to further their public policy goals without burdening the ratepayers of states that have different priorities.²⁰⁰

²⁰⁰ NARUC Initial Comments at 51 (footnote omitted).

The final rule's gutting of the very State Agreement Process that NARUC supports as part of the final rule's choice to ignore the consent of the states on cost allocation removes this key protection for the states and their ratepayers.

80. Further, given the final rule's determinations undercutting the states' role, I highly doubt that PJM's State Agreement Approach or other existing mechanisms involving the states in other RTOs will remain viable with respect to the cost allocation of Long-Term Regional Transmission Facilities.²⁰¹ In addition to PJM's State Agreement Approach, NARUC notes that the country's other multi-state RTOs have mechanisms in place for the states to participate in regional transmission cost allocation:

²⁰¹ PJM's State Agreement Approach exemplified the proper way to involve states in decisions regarding cost allocation for public policy projects. The PJM State Agreement Approach was not directed by Order No. 1000, but rather by PJM's own voluntary act of reaching out to the states in PJM States and asking PJM States to propose a cost allocation for public policy projects. PJM accepted PJM States' proposal—which became the PJM State Agreement Approach—and submitted it to FERC in its compliance filing. It was accepted by FERC, but as today's final rule shows, only grudgingly and only until the chance came to extinguish it.

In many regions, state regulators are at the forefront of successful efforts to coordinate regional transmission, including what many understand to be the most challenging issue, cost allocation. For instance, in SPP, the Regional State Committee has the primary authority for setting the basis of any regional cost allocation. In both MISO and ISO-New England, state committees have the ability to propose alternative cost allocation methodologies under some circumstances.²⁰²

²⁰² NARUC Initial Comments at 46 (citing MISO Transmission Owners Agreement, Appendix K, Article II, Section II.E.3.b (providing regional state committee with the opportunity to develop and request MISO file an alternative cost-allocation methodology under certain circumstances); ISO New England, Agreements and Contracts, Transmission Operating Agreement, Section 3.04 (h)(vi)(A-C) (providing regional state committee with opportunity to provide alternative cost allocation proposal in connection with certain transmission cost allocation provisions in ISO-NE's tariff)).

81. Specifically, SPP has a Regional State Committee (RSC) process by which the RSC has agreed to a “highway-byway” ex ante cost allocation and SPP will file it,²⁰³ and MISO's Tariff provides that MISO will file under FPA section 205 OMS's alternative cost allocation to MISO's proposal.²⁰⁴ Given that the final rule's determination that transmission providers may ignore any agreement or alternative proposed by the states,²⁰⁵ such mechanisms could be called into question—unless the RTOs voluntarily agree to preserve them in their OATTs.²⁰⁶ If these mechanisms are weakened, or even eliminated, the only alternatives left for the states to shape the RTOs' cost allocation would be to file comments to the RTOs' cost allocation filings or to file a section 206 complaint—no different than any RTO stakeholder.

²⁰³ See SPP, Governing Documents Tariff, § 7.2 (Bylaws 7.2 Regional State Committee) (2.0.0); see also Sw. Power Pool, Inc., 106 FERC ¶ 61,110, at P 219, order on reh'g, 109 FERC ¶ 61,010, at PP 93-94 (2004); Entergy Arkansas, Inc., 133 FERC ¶ 61,211, at P 15 (2010).

²⁰⁴ E.g., Midwest Indep. Transmission Sys. Operator, Inc., 143 FERC ¶ 61,165, at PP 30-31 (2013) (citations omitted).

²⁰⁵ See, e.g., Final Rule, 187 FERC ¶ 61,068 at PP 1359, 1429; see also id. P 1356 n.2895 (citation omitted).

²⁰⁶ See, e.g., id. P 1412 (“[N]or do we create any obligation that transmission providers file a cost allocation method resulting from a State Agreement Process, unless the transmission providers had clearly indicated assent to do so in their OATTs); id. n.3013 (“[T]ransmission providers may voluntarily agree as part of a State Agreement Process in their OATTs that transmission providers shall file any cost allocation method that meets the requirements of their State Agreement Process, even if those transmission providers do not agree with that method.”).

82. The final rule acknowledges that “experience with Order No. 1000 has reinforced the critical role that states play in the development of new transmission infrastructure, particularly at the regional level, where transmission projects may physically span, and their costs may be allocated across, multiple states.” ²⁰⁷ However, the final rule's determinations on cost allocation undercut this critical role. It appears obvious that the final rule does not in fact view the states as partners in a cooperative federal system, but rather as potential obstacles to its pretextual political, corporate, and ideological agendas.

²⁰⁷ Id. P 124.

83. The final rule sets forth two central arguments for its dramatic reduction of the states' role. First, the final rule suggests that, per Atlantic City,²⁰⁸ the Commission cannot deprive transmission providers of their FPA section 205 filing rights to propose tariff changes to rates.²⁰⁹ And second, the final rule claims that if transmission providers were permitted to rely solely on a State Agreement Process to determine the cost allocation and that process were to fail, “there would be no cost allocation method for Long-Term Regional Transmission Facilities selected as the more efficient or cost-effective solutions to Long-Term Transmission Needs,” and “[a]s a result, such selected Long-Term Regional Transmission Facilities would be less likely to be developed, and the benefits that these facilities would provide would not be realized.” ²¹⁰ Both arguments are without merit.

²⁰⁸ 295 F.3d 1.

²⁰⁹ E.g., Final Rule, 187 FERC ¶ 61,068 at P 1363 & n.2909; id. P 1356 n.2895.

²¹⁰ Id. P 1293.

i. The Final Rule Takes Far Too Broad a View of Atlantic City

84. Atlantic City is often discussed as a bar to FERC's ability to take meaningful action on many issues, including transmission cost allocation.²¹¹ But Atlantic City does not stand for an outright prohibition on Commission action, especially under FPA section 206, under which this pretextual rule purports to act. All Atlantic City stands for is that “transmission-owning utilities have `filing rights' under section 205 that FERC may not revoke.” ²¹² Atlantic City does not prevent FERC from granting additional filing rights to other entities, including state regulators, if it determines that existing practices, including RTO independence, are unjust and unreasonable and unduly discriminatory or preferential.²¹³

²¹¹ 295 F.3d at 9-11.

²¹² See also Peskoe Article at 572 (emphasis added), a thorough and helpful distillation of the intricacies of FPA sections 205 and 206 as to RTO governance. See also id. at 567.

²¹³ See id. at 614-615 (“To bolster RTO independence, FERC could expand filing rights over regionally significant issues that are currently controlled by the [investor-owned utilities (IOUs)], such as cost allocation for regional transmission expansion. . . . State regulators are also potential beneficiaries. State utility commissions comprehensively regulate IOUs' local service and are familiar with IOUs' local operations and planning. State filing rights might serve a consumer protection function, as state regulators are ultimately responsible for ensuring that retail rates, which include costs of RTO-planned transmission projects and RTO-administered markets, appropriately account for consumers' interests. As noted, MISO and SPP agreements already provide state regulators with limited filing rights over transmission cost allocation or resource adequacy, two areas where states have overlapping oversight . . . . Providing states with meaningful roles in RTO processes might mitigate future conflicts between states' priorities and RTO rules and planning processes.”) (emphases added) (footnotes omitted). Let me add my strong endorsement to granting states section 205 filing rights with respect to cost allocation. The final rule, of course, goes in the opposite direction.

85. In a similar vein, Atlantic City does not require FERC to force non-consenting states to pay for other states' policy projects, as today's final rule implies.²¹⁴ The final rule's reliance on Atlantic City in this regard is simply a way for FERC to sidestep action that will truly ensure that needed transmission gets built with the cooperation, support, and assent of the states. Instead, what we have in today's final rule is a patent instance of regulatory capture with the singular goal to build out preferential policy and corporate-driven projects, steamrolling the states and consumers alike. And to be clear, nothing meaningfully prevents the NOPR compromise that would have maintained or elevated the states' role in transmission planning and cost allocation even further. In fact, even accounting for Atlantic City, the NOPR compromise was a worthwhile solution to getting the transmission that is actually needed to serve organic load built.

²¹⁴ See e.g., Final Rule, 187 FERC ¶ 61,068 at PP 1356 n.2895, 1429-1431.

ii. The Commission Fails Consumers by Unreasonably and Unfairly Socializing Policy- and Corporate-Driven Costs Across Captive Customers

86. The final rule's claim that the Long-Term Regional Transmission Facilities selected are “the more efficient or cost-effective solutions to Long-Term Transmission Needs” ²¹⁵ is disingenuous. As I discuss above in Section I, in a sleight of hand move, the final rule lumps together in one bucket for planning and for cost allocation purposes projects that address policy-driven and corporate-driven needs with those that address reliability and economic needs. The final rule's goal is to socialize the costs associated with preferential policy and corporate-driven projects across the multi-state regions, even when the states have never consented for their consumers to pay for such projects. But requiring the ratepayers of a non-consenting state to pay for the public policy projects of another state cannot reasonably be deemed “efficient” or “cost-effective.”

²¹⁵ Id. P 1293.

2. The Final Rule Requires Consumers in Non-Consenting States To Pay the Costs of Other States' Public Policy Projects

a. The Costs of Public Policy-Driven Projects Must Not Be Imposed on Non-Consenting Consumers Without State Regulatory Oversight

87. In my NOPR Concurrence, I noted that “no individual state's consumers can be forced to bear the costs of another state's policy-driven project or element of a project against its consent.” ²¹⁶ I have adamantly maintained this position in subsequent Statements:

²¹⁶ NOPR Concurrence at P 12 (citing NOPR, 179 FERC ¶ 61,028 at PP 302, 312).

The costs related to a public policy project . . . should be borne by the sponsoring state and not shifted to consumers in other states without the consent of responsible officials in those states, who can then be held accountable by the voters of that state for their decisions (as can officials in the sponsoring state). That is how democracy is supposed to work.²¹⁷

²¹⁷ N.Y. Power Auth., 185 FERC ¶ 61,102 (2023) (Christie, Comm'r, concurring at P 2), https://www.ferc.gov/news-events/news/commissioner-christies-concurrence-concerning-nypas-abandoned-plant-incentive-el23; N.Y. Indep. Sys. Operator, Inc., 180 FERC ¶ 61,004 (2022) (Christie, Comm'r, concurring at P 2).

I have explained that if the people and businesses of the sponsoring state do not like the impacts of their state's public policies, “their recourse is to the ballot box,” ²¹⁸ but that in contrast, “[c]onsumers in other states do not have such recourse, which is why these costs must be confined to [the sponsoring state].” ²¹⁹

²¹⁸ E.g., N.Y. Indep. Sys. Operator, Inc., 178 FERC ¶ 61,101 (2022) (Christie, Comm'r, concurring at P 5), https://www.ferc.gov/news-events/news/item-e-2-commissioner-mark-c-christie-concurrence-regarding-new-york-independent.

²¹⁹ N.Y. Indep. Sys. Operator, Inc., 186 FERC ¶ 61,184 (2024) (Christie, Comm'r, concurring at P 2).

88. I have written before that “imposing the costs of a project driven by one state's public policies onto another state that has not consented to such cost allocation would, in my view, presumably result in unjust and unreasonable rates.” ²²⁰ Such imposition would be contrary to basic fairness, a core principle of American democracy:

²²⁰ NSTAR Elec Co., 179 FERC ¶ 61,200 (2022) (Christie, Comm'r, concurring at P 10), https://www.ferc.gov/media/e-13-er22-1247-000; see also N.Y. Indep. Sys. Operator, Inc., 178 FERC ¶ 61,101 (Christie, Comm'r, concurring at P 6) (“A similar analysis could well lead to a different outcome in a multi-state RTO, if the record showed that the RTO was implementing one state's public policies as to preferred resources, and that implementation resulted in impacts being shifted to consumers in one or more other states in the multi-state RTO. Such impacts and cost-shifting in multi-state RTOs, if proven by the record, could well be unjust, unreasonable and unduly discriminatory or preferential under the FPA.”) (emphasis in the original and added); N.Y. Pub. Serv. Comm'n v. N.Y. Indep. Sys. Operator, Inc., 174 FERC ¶ 61,110 (2021) (Christie, Comm'r, concurring at P 3) (“I also note that the NYISO is a single-state ISO and I have been able to locate no evidence in the record that the New York policies at issue in today's order are causing cost-shifting onto consumers in other states. If consumers in other states were disadvantaged, I may well view this matter differently.”) (emphasis added), https://www.ferc.gov/news-events/news/item-e-2-commissioner-mark-c-christie-concurrence-regarding-new-york-state-public; cf. Commissioner Mark C. Christie, Fair RATES Act Statement on PJM Minimum Offer Price Rule (MOPR) Revisions, Docket No. ER21-2582-000 at P 6 (Oct. 19, 2021) (“I would have proposed that PJM formulate a replacement for the current MOPR based on three broad principles: (1) a state may designate specific or categorical resources as `public policy resources' and such designated resources will be funded through a mechanism chosen by the state outside of the capacity market . . . and (3) non-sponsoring state consumers would not be forced to pay for another state's designated public-policy resources.”) (footnotes omitted) (emphasis in the original and added), https://www.ferc.gov/news-events/news/commissioner-christies-fair-rates-act-statement-pjm-mopr.

For if democracy means anything at all, it means that the people have an inherent right to choose the legislators to whom the people grant the power to decide the major questions of public policy that impact how the people live their daily lives. . . . That is the basic constitutional framework of the United States and it is the same for any liberal democracy worth the name.²²¹

²²¹ Certificate Dissent at P 63.

The final rule subverts this principle.²²²

²²² Infra Section IV.B.2.b.

b. Certain States Are Not “Cost Causers” for Cost Allocation Purposes

89. Today's final rule provides very little in the way of support for its cost allocation requirements, despite the extensive changes to planning requirements.²²³ This final rule simply assumes that it is on sound footing as to cost causation. But that is not the case. While some precedent cited by today's final rule sheds some indirect light on the cost allocation issues implicated here,²²⁴ at its core, today's final rule involves a new application of the cost causation principle to justify the final rule's pretextual agenda. It intends to force consumers in one state to pay for the costs of public policies enacted by politicians in another state and corporate purchasing preferences. But those costs and the resulting rates cannot be considered just and reasonable in any universe.

²²³ See, e.g., Final Rule, 187 FERC ¶ 61,068 at PP 266, 269, 279, 1304, 1478-1479.

²²⁴ As an aside, I question whether some of the precedent cited by today's final rule in support of the cost causation issue is truly apposite when you look at the facts in those cases.

90. We are at the point where we must argue that not all consumers in certain states are “cost causers” simply because they have joined a multi-state RTO or fall within a transmission planning region. These consumers are not the “but for” cause of many of the Long-Term Transmission Needs required by the consideration of the specified categories of factors in today's policy agenda-driven rule. Nor are such consumers the intended beneficiaries of public policies in states enacted by politicians for whom they never voted. Indeed, absent rational limits on the “free rider” concept that the cost causation principle is meant to address, anyone can be deemed a beneficiary of any transmission project anywhere.

91. That policy-caused costs cannot be attributed to consumers who did not cause the policy is consistent with case law. As articulated mostly clearly by the D.C. Circuit, the cost causation principle means that “all approved rates [must] reflect to some degree the costs actually caused by the customer who must pay them.” ²²⁵ This has been oft repeated by many courts over the years, including most notably the U.S. Court of Appeals for the Seventh Circuit (Seventh Circuit) in Illinois Commerce Commission v. FERC.²²⁶ The Seventh Circuit expanded on this further to state that, “[t]o the extent that a utility benefits from the costs of new facilities, it may be said to have `caused' a part of those costs to be incurred, as without the expectation of its contributions the facilities might not have been built, or might have been delayed.” ²²⁷

²²⁵ KN Energy, Inc. v. FERC, 968 F.2d 1295, 1300 (D.C. Cir. 1992) (emphasis added).

²²⁶ 576 F.3d 470, 476 (7th Cir. 2009) (ICC).

²²⁷ Id.

92. Tied to the cost causation principle is the concept of “free ridership.” As explained by the Commission in Order No. 1000-A, a free rider is an “entity is not required to pay for a benefit it receives” ²²⁸ and is the form of “subsidization” against which the cost causation principle is supposed to protect.²²⁹

²²⁸ Order No. 1000-A, 139 FERC ¶ 61,132 at P 573.

²²⁹ Id. P 578.

93. As explained in Order No. 1000-A, the Commission treats each transmission customer not as using a single transmission path but rather as usual the entire transmission system and views such service as service over the entire grid.²³⁰ The Commission explained:

²³⁰ Id. P 560 (citations omitted).

Given the nature of transmission operations, it is possible that an entity that uses part of the transmission grid will obtain benefits from transmission facility enlargements and improvements in another part of that grid regardless of whether they have a contract for service on that part of the grid and regardless of whether they pay for those benefits. This is the essence of the “free rider” problem the Commission is seeking to address through its cost allocation reforms. Any individual beneficiary of a new transmission facility has an incentive to defer investment in the anticipation that other beneficiaries in the region will value the project enough to fund its development. This can lead to situations in which no developer moves forward, adversely affecting development of transmission facilities and, as a result, rates for jurisdictional services.²³¹

²³¹ Id. P 562 (internal citation omitted).

Therefore, the Commission explained that the cost allocation provisions of Order No. 1000 (the failures of which allegedly justify the changes contemplated by today's final rule), which seek to allocate costs to beneficiaries in a region roughly commensurate with benefits they receive, were consistent with the statement in ICC that “[a]ll approved rates [must] reflect to some degree the costs actually caused by the customer who must pay them.” ²³² Indeed, all of the precedent relied upon in today's final rule signals that free ridership is a concern solely based on the assumptions underlying the transmission planning. And herein lies the deception—the more you plan and account for, the bigger and more regionalized you can argue the cost allocation framework should be. Which makes sense when the goal of today's final rule is to enact a sweeping policy agenda and thus socialize the costs across consumers in a multi-state region.

²³² Id. P 565 (citing ICC, 576 F.3d 470 at 476) (alterations in the original). In Order No. 1000, the Commission also found that “[b]eneficiaries in one state are not subsidizing anyone in another state when they are allocated costs that are commensurate with the benefits that accrue to them, even if the transmission facility in question was built in whole or part as a result of the other state's transmission needs driven by Public Policy Requirements.” Order No. 1000, 136 FERC ¶ 61,051 at P 545. “If no benefits accrue, the cost allocation principles we adopt below would prohibit the allocation of costs to the non-beneficiaries. If benefits do accrue, however, there are no less benefits because Public Policy Requirements played a role in the decision to construct the transmission facility.” Id. While Order No. 1000 may have successfully established this to be the case, per South Carolina, today's final rule is not similarly situated to Order No. 1000 with its required minimum benefits, selection criteria, and utter disregard of the states' role in planning and cost allocation. See supra Section III.A. Today's final rule instead creates beneficiaries for projects that are primarily public policy-driven, based on the categories of factors required to be considered in today's final rule's planning requirements.

94. The main support for the cost causation principle is ICC,²³³ for the exact quote noted above. However, often omitted from the discussion of ICC is the context and outcome of the case. In that case, the Seventh Circuit remanded the Commission's approval of cost allocation concerning “Project Mountaineer” ²³⁴ (yes, the same one that prompted PATH) for lack of substantial evidence regarding the FERC-approved cost allocation. In addition to the quote above, the Seventh Circuit also expressed the following: “FERC is not authorized to approve a pricing scheme that requires a group of utilities to pay for facilities from which its members derive no benefits, or benefits that are trivial in relation to the costs sought to be shifted to its members.” ²³⁵ And it merits repeating that “[t]o the extent that a utility benefits from the costs of new facilities, it may be said to have `caused' a part of those costs to be incurred, as without the expectation of its contributions the facilities might not have been built, or might have been delayed.” ²³⁶ So, given the extent to which the Long-Term Transmission Needs contemplated by today's final rule factor in state public policies and special interests' goals, you would expect the only beneficiaries for cost allocation purposes to be states with those public policies or other special interest drivers of the transmission.

²³³ 576 F.3d 470.

²³⁴ See PATH Concurrence at P 4 (providing a history on Project Mountaineer). Relying on a case that remanded the Commission's approval of cost allocation associated with a regional transmission project that never came to fruition is nothing short of ironic.

²³⁵ ICC, 576 F.3d at 476 (emphasis added).

²³⁶ Id. (emphasis added). See NARUC Initial Comments at 33-34 (“Long-Term Regional Transmission Planning must recognize that benefits inherently become more speculative as the planning horizon increases. Additionally, planning based on public policy objectives must be transparent about identifying projects that would not be selected but for those public policy objectives. Benefits assigned to projects must recognize these principles.”) (emphasis added).

95. Unfortunately, you would be wrong. Due to the final rule requiring planning for any and every transmission need and mandating minimum reliability and economic benefits as part of the planning process, projects developed primarily for preferential policy and corporate purposes will necessarily have the broadest array of so-called beneficiaries possible, all identified prior to selection.²³⁷ These so-called beneficiaries will then be forced to pay for these projects, simply because they may receive some trivial benefits due to their participation in a regional transmission system. These so-called beneficiaries will be treated as “cost causers” even though their contributions do not ensure the projects get built nor ensure that the projects are not delayed. Today's final rule, of course, even emphasizes that, as to why today's final rule does not require the consideration of public policy benefits, it “does not allow allocation of costs based on benefits to entities that do not receive benefits or receive only trivial benefits in relationship to costs of those transmission facilities.” ²³⁸ But this is because today's final rule already determined the minimum reliability and economic benefits that all projects contemplated by the final rule must have. Adding in public policy benefits would shift the resulting cost allocation to show the actual beneficiaries—the states with preferred policies and corporate and special interests. So, through a mismatch in planning criteria and benefits, today's final rule ensures socializing the costs of preferential policy and corporate-driven projects onto states and consumers that will ultimately receive trivial benefits, in violation of ICC. If you find all this confusing, the final rule is intended to be. That's why it's a shell game.

²³⁷ See supra Sections I, III.A; see also Final Rule, 187 FERC ¶ 61,068 at P 965.

²³⁸ Final Rule, 187 FERC ¶ 61,068 at P 1515. This is why I have described this final rule as a shell game with respect to the issue of the benefit mismatch between planning and costs. By making the minimum required benefits reliability- and economic-focused, today's final rule ensures that the “beneficiaries” are those that are receiving some reliability and economic benefits. As we know from basic transmission planning, any transmission built is going to bring some reliability and economic benefits. So, any transmission planned through Long-Term Regional Transmission Planning for the identified Long-Term Transmission Needs will necessarily bring some reliability and economic benefits. And by not requiring a matching of benefits to the Long-Term Transmission Needs that are planned for, in this case public policy benefits, the resulting benefits of any one project will be skewed to indicate more “beneficiaries” than there would be if today's final rule accounted for public policy benefits separately. See NARUC Initial Comments at 33-34. If today's final rule accounted for public policy benefits or corporate goals separately, it would be clear who the actual drivers, and actual beneficiaries, of any one project are.

96. At its core, ICC is simply a baseline regarding the cost causation principle's application. That is, the Commission cannot require cost allocation to a particular group of utilities, i.e., consumers, where there is no evidence of benefits. Its findings should not be distorted, as today's final rule suggests through Orwellian newspeak, to support a mismatch of planning criteria to benefits to strongarm a cost allocation regime to get preferential policy and corporate-driven projects built.

97. Also referenced by today's final rule for cost causation is South Carolina.²³⁹ In the context of cost causation, the D.C. Circuit concluded that “the Commission's adoption of a beneficiary-based cost allocation method is a logical extension of the cost causation principle.” ²⁴⁰ The court added that it had “endorsed the approach of `assign[ing] the costs of system-wide benefits to all customers on an integrated transmission grid.' ” ²⁴¹

²³⁹ 762 F.3d 41.

²⁴⁰ Id. at 85.

²⁴¹ Id. (citations omitted).

98. The final rule does not simply require a beneficiary-based cost allocation, like Order No. 1000. Instead, as I must continue to emphasize, it requires mandating reliability and economic benefits during the planning process to shoehorn the broadest group of beneficiaries possible for projects that do not remotely relate to reliability and economic needs.²⁴² This is not a “light touch” that “does not dictate how costs are to be allocated.” ²⁴³ Today's final rule may attempt to sequester the beneficiaries of these reliability and congestion benefits from the cost allocation “benefits” by not clearly linking the two,²⁴⁴ but in what reality will a transmission provider seeking to comply with today's final rule identify different beneficiaries from those identified in the planning process? The result of this shell game is to ensure preferential policy and corporate-driven projects are selected with the widest group of beneficiaries possible, so as to socialize the costs across the widest group of consumers.²⁴⁵

²⁴² See supra Sections I, III.A.

²⁴³ See South Carolina, 762 F.3d at 81; see also supra Section III.A.

²⁴⁴ See, e.g., Final Rule, 187 FERC ¶ 61,068 at P 1506 (“We do not require that any particular benefit used in the evaluation and selection of Long-Term Regional Transmission Facilities be reflected in a Long-Term Regional Transmission Cost Allocation Method filed with the Commission.”). This provision illustrates the confusing and contradictory nature of the final rule and provides another example of the shell game.

²⁴⁵ Today's final rule relies on several other cases in support of its oversimplification of the cost causation principle, such as Old Dominion Electric Coop. v. FERC, 898 F.3d 1254 (D.C. Cir. 2018), and Long Island Power Authority v. FERC, 27 F.4th 705 (D.C. Cir. 2022), among others, but the same is true of these cases—the Commission cannot strong-arm beneficiaries to get transmission built, and override the states to do so. Of course, this is primarily a problem in multi-state RTOs, but overriding the states with regulation based on a cooperative federalism statute is not in good faith and the result is terrible for consumers everywhere.

99. Today's final rule ultimately presents the wrong solution to the perceived problem of “balkanized” transmission planning.²⁴⁶ Unfortunately, today's final rule devises the shell game to ensure that the biggest planning bucket means the biggest pool of potential beneficiaries. And to carry out the shell game, the final rule walks back cost allocation principle (6) because, without this change, today's final rule's preferred cost allocation framework does not work.²⁴⁷

²⁴⁶ See supra Section IV.A.

²⁴⁷ See Final Rule, 187 FERC ¶ 61,068 at P 1474.

100. NARUC and many individual states oppose the Commission's imposition of mandatory minimum benefits and would prefer a bottom-up rather than a top-down approach: “The proposed list of benefits for consideration is a better way to accomplish the objectives of the NOPR than specification of benefits that must always be used in Long-Term Regional Transmission Planning.” ²⁴⁸ Today's final rule blithely brushed these concerns aside.

²⁴⁸ See NARUC Comments at 25; see also New York Commission and NYSERDA Initial Comments at 7 (“We urge the Commission to ensure that any final rule in this proceeding is sufficiently flexible to accommodate regional differences and avoid disrupting the processes already in place and otherwise underway in New York that are working well for the region.”); SPP Initial Comments at 18 (“How and when transmission benefits are calculated and incorporated in any regional transmission planning assessment should be at the discretion of each public utility transmission provider and its stakeholders. This would allow for agility in process decisions to balance the value the analysis provides with the burden of the effort.”); ISO-NE Initial Comments at 5 (“Individual regions should be permitted to determine the benefits that will lead to transmission in the region.”); NYISO Initial Comments at 39 (“The final rule should confirm that each planning region is not required to use the specific benefits described in the NOPR . . . . While, in practice, the NYISO already uses most of the 12 illustrative benefits identified in the NOPR, the NYISO should be permitted to retain its flexibility to identify, with input from state entities and stakeholders, the benefits used in its processes and how such benefits are calculated.”); id. at 11 (“The final rule should not mandate strict requirements concerning how long-term transmission planning must be conducted.”).

101. To effectuate purported compliance with the cost causation principle, today's final rule ignores the principle of the optimal solution in transmission planning. For each identified reliability problem, there is an optimal solution that solves the reliability problem at the least cost to consumers. For an economic project, consumers should receive the maximum reduction in congestion costs relative to the cost of the project, or put in another way, for a given reduction of congestion costs, consumers should pay the least costs for the project. The final rule, by contrast, claims that a project that is driven by one state's public policies will still provide some reliability and congestion benefits to other states, so consumers in those states must be treated as beneficiaries.²⁴⁹ But even assuming that consumers in those other states hypothetically receive some marginal reliability or congestion benefits, they are being overcharged for those benefits because the project includes the costs of another state's public policies or costs of projects to meet corporate goals, and the only benefits required to be considered by today's final rule are reliability and economic benefits. Consumers in the non-policy causing states are not receiving or paying for the optimal solution to an identified reliability problem or maximum congestion relief compared to the costs they are being forced to pay. As a consequence, the transmission rates—let's ignore the planning practices for a moment—they will be forced to pay are clearly unjust and unreasonable under the FPA.

²⁴⁹ Final Rule, 187 FERC ¶ 61,068 at Section III.D.1.c.

3. The Final Rule Violates the Commission's Consumer Protection Duty Under the FPA

102. To add to the number of already unjust and unreasonable aspects in today's final rule, today's final rule is patently unfair to consumers. That much is apparent from its decision, through transmission planning and cost allocation processes: (1) to shift interconnection costs from generation developers to consumers through transmission planning, and (2) to shift the costs of, inter alia, a transmission project accommodating a corporate commitment from corporate consumers to other consumers. Today's final rule, equally harmful to consumers, walk backs the NOPR proposal to remove the CWIP Incentive, one of the major reasons I supported the NOPR in the first place. The final rule essentially uses the justification of efficiency and cost-effectiveness to create catastrophic outcomes for consumers. Such an anti-consumer outcome is simply unjust and unreasonable, and in this case, even unduly discriminatory and preferential.

a. The Final Rule Unlawfully Shifts Interconnection Costs From Developers to Consumers

103. In prior statements, I have frequently discussed the basic principle that generation developers should pay the costs to interconnect their generators to the grid:

[G]eneration developers in RTOs should pay the full “but for” costs of their interconnection, including network upgrades. Consumers (i.e., load) should not pay one nickel. They are not the ones seeking to profit from the interconnection. New generation in RTOs is supposed to be driven by the market, not by integrated resource planning, as in non-RTOs. This is the compelling principle underlying participant funding of interconnection in RTOs.²⁵⁰

²⁵⁰ See Midcontinent Indep. Sys. Operator, Inc., 184 FERC ¶ 61,190 (2023) (Christie, Comm'r, concurring at P 2), https://www.ferc.gov/news-events/news/commissioner-christies-concurrence-miso-mpfca-order-concerning-funding; Midcontinent Indep. Sys. Operator, Inc., 184 FERC ¶ 61,156 (2023) (Christie, Comm'r, concurring at P 2), https://www.ferc.gov/news-events/news/commissioner-christies-concurrence-miso-gia-order-concerning-funding; Midcontinent Indep. Sys. Operator, Inc., 183 FERC ¶ 61,113 (2023) (Christie, Comm'r, concurring at P 2), https://www.ferc.gov/news-events/news/commissioner-christies-concurrence-miso-fsa-order-concerning-funding; Midcontinent Independent System Operator, Inc., 182 FERC ¶ 61,225 (2023) (Christie, Comm'r, concurring at P 2), https://www.ferc.gov/news-events/news/commissioner-christies-concurrence-miso-mpfca-and-fsa-orders-concerning-funding; see also Midcontinent Indep. Sys. Operator, Inc., 185 FERC ¶ 61,182 (2023), order on reh'g, 187 FERC ¶ 61,015 (2024), https://www.ferc.gov/news-events/news/commissioner-christies-concurrence-order-rejecting-miso-gia-concerning-funding. This principle also applies to developers of merchant transmission lines who seek to interconnect. Midcontinent Indep. Sys. Operator, Inc., 181 FERC ¶ 61,218 (2022) (Christie, Comm'r, concurring at P 1), https://www.ferc.gov/news-events/news/commissioner-christies-concurrence-concerning-funding-interconnection-costs-rtos. If state regulators in a multi-state region agreed on a different cost allocation related to interconnection costs that they believed protected consumers from unfair treatment, then such alternative would merit consideration.

By requiring the coordination of regional transmission planning and generator interconnection processes and by requiring the incorporation of Factor Category Six: generator interconnection requests and withdrawals in the development of Long-Term Scenarios, the final rule causes consumers to subsidize generation developers and thus subverts this basic principle.

i. Coordination of Regional Transmission Planning and Generator Interconnection Processes Will Result in Unlawful Cost Shifts to Consumers

104. The final rule requires transmission providers in each transmission planning region to revise their existing Order No. 1000 regional transmission planning processes to evaluate for selection regional transmission facilities that address certain identified interconnection-related transmission needs associated with certain interconnection-related network upgrades originally identified through the generator interconnection process.²⁵¹ As a result of this requirement, transmission providers may select in regional transmission plans for purposes of cost allocation transmission facilities designed to address certain interconnection needs and will allocate the costs of such facilities to the load in that region. This practice will force consumers to subsidize the interconnection costs of generator developers and in so doing turn them into the banks for the ventures, viable or otherwise, of generation developers—a classic example of the socialization of costs to enable private profit. Of course, this will result in rates that are blatantly unjust, unreasonable, unduly discriminatory and preferential.

²⁵¹ Final Rule, 187 FERC ¶ 61,068 at PP 1106-1107, 1126, 1145. Specifically, the final rule requires transmission providers to evaluate for selection regional transmission facilities to address interconnection-related transmission needs that have been identified in the generator interconnection process as requiring interconnection-related network upgrades where, inter alia, “an interconnection-related network upgrade identified to meet those interconnection-related transmission needs has a voltage of at least 200 kV and an estimated cost of at least $30 million.” Id. P 1145 (emphasis in original).

105. The final rule's attempted justifications for this effort to shift interconnection costs to consumers are vacuous and fail to disguise the real agenda, which is to subsidize developers of preferred resources. For example, the final rule asserts that reforms are necessary because “it may be more efficient or cost-effective to address [interconnection-related transmission needs] through the regional transmission planning and cost allocation process.” ²⁵² The final rule professes that its requirements “will result in selection of more efficient or cost-effective regional transmission solutions that will provide benefits to the transmission system, cost allocation for such regional transmission facilities that is at least roughly commensurate with estimated benefits, and elimination of a barrier to entry for new generation resources (which will enhance competition in wholesale electricity markets and facilitate access to lower-cost generation).” ²⁵³ But more efficient or cost-effective for whom? Certainly not for consumers who will be conscripted to subsidize tens or hundreds of millions of dollars of interconnection costs so that generator developers may more cheaply interconnect and make higher profits (and likely receive government subsidies). The final rule's speculation that extracting such subsidies from consumers will “facilitate access to lower-cost generation” is purely pretextual.

²⁵² Id. P 1110.

²⁵³ Id.

106. The final rule notes that “the Commission has found, and courts have affirmed, that interconnection-related network upgrades identified in the generator interconnection process can provide widespread transmission benefits that extend beyond the interconnection customer.” ²⁵⁴ Further, it asserts that the regional transmission facilities designed to address the interconnection needs “may have the potential to provide more widespread benefits to transmission customers.” ²⁵⁵ Today's final rule does not even come close to justifying the enormous cost shifts this will place on consumers.

²⁵⁴ Id. (footnote omitted).

²⁵⁵ Id. PP 1146-1148.

107. The final rule summarily brushes aside the concern that its reform will shift interconnection costs from interconnection customers (i.e., generation developers) to load.²⁵⁶ It explains that “[t]ransmission providers will still have to evaluate and select any regional transmission facilities that address the interconnection-related transmission needs as the more efficient or cost-effective regional transmission solution as part of the regional transmission planning process in order for any regional cost allocation method to apply.” ²⁵⁷ The final rule also explains that “if such a facility is selected, the Commission-approved ex ante regional cost allocation method for that facility would allocate its costs at least roughly commensurate with its estimated benefits.” ²⁵⁸ But the regional cost allocation methods allocate cost only to load, not to generation. So, how could allocating interconnection costs to load enable them to be “roughly commensurate to benefits” when generator developers, the primary beneficiaries of the transmission facilities and the “but for” cause of their development be allocated nothing? Here, as elsewhere, the final rule deviates from the FPA's consumer protection purpose: under the final rule, rather than generation existing to serve load, load is being conscripted to serve (the profits) of generation.

²⁵⁶ See id. P 1117.

²⁵⁷ Id.

²⁵⁸ Id.; see also id. P 1110.

108. Finally, the final rule's conclusion that it will not incentivize gaming by interconnection customers to include interconnection-related network upgrades in the regional transmission planning process is detached from reality.²⁵⁹ The final rule notes that interconnection requests require significant financial commitments from the interconnection customer (e.g., application fees, study deposits, and site control requirements) and that interconnection customers employing such a strategy would face several risks.²⁶⁰ As with so much FERC does, today's final rule woefully underestimates at its peril the profit-seeking, and at times, gambling behavior of generator developers. In issuing this final rule, the Commission appears to forget that a main driver in issuing Order No. 2023 was to reduce speculative interconnection requests and interconnection request withdrawals spurred by this behavior.²⁶¹ Despite the significant financial commitments and risks that the final rule describes, I can foresee generators submitting speculative or spurious interconnection requests in the efforts to be subsidized by load if the estimated interconnection costs are high enough. In any event, I think it obvious that, ceteris paribus, the final rule will encourage more disruptive withdrawals—particularly for requests that necessitate high interconnection costs—as the final rule provides generator developers dissatisfied with high interconnection costs a chance at another bite at the apple. And of course, apples taste sweeter when they're paid for by someone else.

²⁵⁹ See id. PP 1119-1120.

²⁶⁰ Id. P 1119.

²⁶¹ See, e.g., Order No. 2023, 184 FERC ¶ 61,054 at P 47 (stating that the existing serial first-come, first-served study process “create[d] incentives for interconnection customers to submit exploratory or speculative interconnection requests pursuant to which interconnection customers seek to secure valuable queue positions as early as possible, even if they are not prepared to move forward with the proposed generating facility. Such generating facilities are often not commercially viable and, thus, the interconnection customers ultimately withdraw from the interconnection queue.”).

ii. Factor Category Six Will Result in Unlawful Cost Shifts to Consumers

109. For similar reasons, I oppose the final rule's requirement that transmission providers in each transmission planning region incorporate in the development of Long-Term Scenarios, Factor Category Six: interconnection requests and withdrawals.²⁶² Such a requirement would ultimately result in consumers paying for the transmission that generators need to interconnect to the grid. This again is a way to cost shift interconnection costs from generation developers to consumers.

²⁶² See Final Rule, 187 FERC ¶ 61,068 at P 472.

b. Factor Category Seven Forces Some Consumers To Subsidize Others

110. The Commission's requirement that transmission providers incorporate Factor Category Seven, utility and corporate commitments and federal, federally-recognized Tribal, state, and local goals that affect Long-Term Transmission Needs, in the development of Long-Term Scenarios ²⁶³ is unjust and unreasonable because it will unfairly saddle consumers with unnecessary transmission costs that they did not cause. In addition, comments on Factor Category Seven identify several additional regulatory and practical obstacles that the final rule attempts to resolve by allowing transmission providers to dial the impact of these commitments and goals up or down.²⁶⁴ Further, this provision is yet another count in the final rule's pattern of diminishing the states' role in regional transmission planning by elevating mere corporate preferences to have equal if not greater stature as the policy choices of states and federally-recognized Tribes.

²⁶³ Id. PP 481-484.

²⁶⁴ Id. P 484.

111. It is worth starting the examination of Factor Category Seven simply by pulling the curtain back and highlighting the coalitions of comments that the final rule cites supporting it and opposed to it.²⁶⁵ The strongest support for this provision comes from where we would all expect: the corporate interests with something to gain by shifting the costs that result from their preferential power purchase commitments to others along with the other special interests whose policy preferences have no place in developing a rate that is just and reasonable.²⁶⁶ I am similarly unsurprised that the skeptics and opponents of this provision are led by retail rate authorities, load-serving entities from coast to coast, and large multi-state RTOs. They understand that adopting Factor Category Seven is unfair, unworkable, and a mistake.

²⁶⁵ Commenters in favor include ACEG, AEE, Advanced Energy Buyers, Amazon, Breakthrough Energy, Center for Biological Diversity, Environmental Groups, Ørsted, PIOs, SEIA, and SREA. Id. PP 474-476. Commenters expressing qualified support include LADWP, MISO, and NRECA. Id. P 477. Commenters opposed include the Alabama Commission, California Commission, Duke, Illinois Commission, New York TOs, Pennsylvania Commission, PJM, and PPL. Id. PP 478-480.

²⁶⁶ See James Downing, FERC Observers, Stakeholders Lay out What is at Stake with Tx Rule Looming, RTO Insider, Apr. 22, 2024 (“State renewable portfolio standards are not driving as much of the need for new transmission as the corporate renewable energy buyers that [Clean Energy Buyers] represents are, [Clean Energy Buyers Senior Director Bryn Baker] added.”), https://www.rtoinsider.com/76831-ferc-experts-what-at-stake-transmission-rule-looming/.

112. Factor Category Seven is as unlawful as it is unfair because it grossly violates cost causation principles of ratemaking.²⁶⁷ Whether a corporate commitment or a state/Tribal policy goal is directly attributed to increased transmission costs, the entities with the self-imposed aspirations are the direct beneficiaries. Cost causation principles of ratemaking—not to mention reviewing courts—will dictate that those entities, and not any other transmission customer, are the beneficiaries of the resulting transmission built to accommodate the corporate commitments. As the direct beneficiaries, they will be responsible for the increased transmission costs driven by those commitments, goals, and preferences. Even worse, if one of these cost causers changes its commitment or goal, all of the transmission provider's customers could still be left paying for the increased costs that are no longer attributable to any beneficiary. This is not how a just or reasonable rate works.

²⁶⁷ For a reminder on the shell game and how it seeks to use the cost causation principle, see supra Sections I, III.A, IV.B.2.b.

113. Even if the unfair and unlawful Factor Category Seven is allowed to take effect, it will fail on its own terms for practical reasons. The final rule acknowledges that the corporate commitment or a state/Tribal policy goal are “more likely to change over the transmission planning horizon than factors in other required factor categories.” ²⁶⁸ As a balm for this uncertainty, the final rule grants the transmission providers the discretion to apply the salve of a discount on the likelihood that any of these aspirations will come to pass. Nothing in the final rule will prevent transmission providers from discounting these commitments one hundred percent. This discount is simply an invitation for transmission providers to ignore Factor Category Seven.

²⁶⁸ Final Rule, 187 FERC ¶ 61,068 at P 484.

114. Even worse, when a transmission provider expends its limited resources to read the tea leaves of corporate commitments and include them in the Long-Term Scenarios, that inclusion will result in a violation of the FPA. Applying the costs of one corporation's commitments to all of the transmission provider's customers amounts to undue discrimination against similarly situated customers without corporate commitments while bestowing an undue preference for those similarly situated customers with corporate commitments. Further, most utility customers are at a resource and access disadvantage to the deep-pocketed special interests (including the corporate commitments driven by their wealthy and sophisticated investor class) that enjoy influence and power. Rather than sticking the consumers with any part of the bill for the gold plating necessary for a different customer's corporate preferences, this Commission should not depart from its cost allocation precedent. Under that precedent, the beneficiaries are required to pay for the upgrades they are driving. This Commission should not now saddle less powerful people and small businesses with the costs of the choices made by influential corporations and their managers and investors.²⁶⁹

²⁶⁹ I also have grave concerns that the final rule tasks transmission planning engineers to try their hands at becoming Wall Street analysts when they attempt to guess how serious any of the corporate commitments really are.

115. Let me be clear about how egregious and unfair this idea is with a hypothetical scenario. Suppose that a Fortune 500 company pressured by its investors commits to a corporate goal that it will only purchase electric power from certain preferred generation sources within a decade. It similarly commits to discriminate against power sourced from non-preferred generation resources. The transmission provider then informs the corporate customer that transmission upgrades will be necessary in order for those favored generation resources to actually deliver power to the corporate customer's facilities and to avoid receiving power from the non-preferred resources. Next, the transmission provider includes those upgrades in Factor Category Seven. Later, the transmission provider builds the necessary upgrades according to its regional transmission plan and incurs significant cost in doing so. Instead of attributing those costs to the corporate customer, the transmission provider socializes the upgrade costs to all of its customers. Rather than holding the actual cost causer accountable for the increase, the final rule instead dictates that the costs directly resulting from the customer's corporate commitment benefit all ratepayers because there are necessarily reliability and economic benefits that result from all transmission development. Then these increased costs are socialized across all of the transmission provider's customers. This realistic outcome is, to put it mildly, grossly unfair to consumers and a violation of the FPA.

116. Now suppose that a neighboring corporate customer (that receives an identical class of electric service as the customer in the prior hypothetical) announces in response its own corporate goal that it will never consider any factors other than reliability and cost in purchasing electric power because it wants to keep its costs as low as possible no matter what. How is a transmission provider supposed to accommodate that second corporate goal? Do the two commitments simply cancel each other out? Will the transmission provider carve out the second corporate customer? Where would that leave the customers who are silent with respect to these competing corporate goals? The final rule fails to answer these questions.

c. The Final Rule Walks Back the NOPR Proposal To Remove the CWIP Incentive

117. Today's final rule also walks back the widely supported proposal to remove the CWIP transmission incentive. As I have discussed above, it is apparent that the pretextual goal of this final rule is to get transmission built to serve political and corporate goals, no matter the cost and no matter who actually benefits from it.

118. As I noted on numerous occasions, a core principle of utility law and regulation for decades is that consumers can be forced to pay costs only for assets that are “used and useful” to them. In Order No. 679, the Commission determined that it may be necessary to depart from this long-standing ratemaking principle to “address the substantial challenges and risks in constructing new transmission.” ²⁷⁰ And in my prior statements, I questioned, among other concerns, whether the Commission's determination of whether “substantial challenges and risks” exist when granting the various transmission incentives has becoming nothing more than a check-the-box exercise.²⁷¹ In particular, I noted:

²⁷⁰ Promoting Transmission Inv. through Pricing Reform, Order No. 679, 116 FERC ¶ 61,057, at PP 26, 117, order on reh'g, Order No. 679-A, 117 FERC ¶ 61,345 (2006), order on reh'g, 119 FERC ¶ 61,062 (2007).

²⁷¹ See supra n.61.

The Commission's incentive policies—particularly the CWIP Incentive, which allows recovery of costs before a project has been put into service—run the risk of making consumers “the bank” for the transmission developer; but, unlike a real bank, which gets to charge interest for the money it loans, under our existing incentives policies the consumer not only effectively “loans” the money through the formula rates mechanism, but also pays the utility a profit, known as Return on Equity, or “ROE,” for the privilege of serving as the utility's de facto lender.²⁷²

²⁷² February 2022 Concurrence at P 3 (emphasis in original); July 2022 Concurrence at P 3 (citation omitted); see also NOPR Concurrence at P 15 (“CWIP is, of course, passed through as a cost to consumers, making consumers effectively an involuntary lender to the developer . . . . Consumers should be protected from paying CWIP costs during this potentially long period before a project actually enters service, if it ever does.”), https://www.ferc.gov/news-events/news/commissioner-christies-concurrence-e-1-regional-transmission-planning-and-cost.

119. The proposal to remove the CWIP Incentive was a major reason why I supported the NOPR, despite its flaws, and a massive step in the right direction to remedy the harm to consumers that these incentives have caused over the years.²⁷³ However, instead of adopting the proposal to remove the CWIP Incentive, today's final rule chose to side with developers and special interest groups, rather than with consumers. Today's final rule rationalizes the decision to walk back the removal of the CWIP Incentive by finding that any action on the CWIP Incentive is more appropriately considered in a separate proceeding where incentives can be comprehensively evaluated for all regional transmission facilities.²⁷⁴ I regard that as nothing more than an excuse for a continuing failure to act.

²⁷³ See supra PP 18-19.

²⁷⁴ Final Rule, 187 FERC ¶ 61,068 at P 1547.

120. Many commenters share my concerns that the CWIP Incentive inappropriately shifts risks to ratepayers and runs afoul of the core principle of utility law and regulation that consumers should pay costs only for assets that are “used and useful” to them.²⁷⁵ Others argue that removing the CWIP Incentive may mitigate the risk of overbuilding that may result from the other changes cemented in today's final rule.²⁷⁶ Today's final rule, however, is astoundingly silent on the consumer impact of retaining the CWIP Incentive.

²⁷⁵ See, e.g., California Commission Reply Comments at 14; Kentucky Commission Chair Chandler Initial Comments at 4-9; NARUC Initial Comments at 55-56 (referencing PATH and that the Commission granted several transmission incentives, resulting in a 14.3% return on equity); NASUCA Initial Comments at 8-9; North Carolina Commission and Staff Initial Comments at 17-18; North Dakota Commission Initial Comments at 6; Ohio Commission Federal Advocate Initial Comments at 15-16; Ohio Consumers Initial Comments at 29-31; OMS Initial Comments at 14-15; Pennsylvania Commission Initial Comments at 17-18; PJM States Initial Comments at 13; Virginia Attorney General Reply Comments at 3-4.

²⁷⁶ See, e.g., Massachusetts Attorney General Initial Comments at 24-25; North Carolina Commission and Staff Initial Comments at 17-18; Pennsylvania Commission Initial Comments at 17-18; PJM States Initial Comments at 13.

121. Unfortunately, this is simply a continuation of the Commission punting on any meaningful reevaluation of transmission incentives. In my three years on the Commission, there has been no action to reevaluate the check-the-box award of transmission incentives, and it is far past time for me to begin dissenting from this lack of action on the Commission's part to change this shameful status quo.²⁷⁷ By walking back the removal of the CWIP Incentive, today's final rule reveals, one again, its failure to protect consumers as required by the FPA.

²⁷⁷ See, e.g., Baltimore Gas & Elec. Co., 187 FERC ¶ 61,030 (Christie, Comm'r, dissenting at P 6).

V. Conclusion

122. Had the states been given the authority to protect their consumers, as promised by the NOPR, I would have supported this rule just as I voted for the NOPR, as an imperfect but acceptable compromise.²⁷⁸ If transmission projects that are planned to implement public policies—the product of political decisions made by politicians—or to implement corporate “green energy” power purchasing preferences—the product of corporate management and investors—are going to be included in long-term planning mandated by FERC, then the states must have the authority to consent to (i) the planning criteria (which determines which projects go into regional plans and receive cost recovery from consumers), and (ii) the formula for regional cost allocation of such projects.

²⁷⁸ To reiterate what I said earlier: If I agree to get a root canal with anesthetic but learn upon arrival at the dentist's office that I still get the root canal but no anesthetic, that is not the original deal.

123. This role for the states is not only essential but fair: fair to state policymakers and regulators and fair to the tens of millions of consumers they represent. The final rule, however, denies states that essential role and that denial renders this order unfair to the states and unfair to tens of millions of consumers.

124. As has been said before, denial is not just a river in Egypt. The short-sightedness of the final rule and the special interests who lobbied this Commission to deny states this key role is a denial of the reality of how transmission actually gets built in the union of states that is the United States of America. As a former state regulator who voted to approve scores of transmission projects, both regional and local, I will testify from experience that to get transmission built—especially the big, controversial regional lines of 500 kV and above—the states should not be dismissed as annoying obstacles that must be pushed out of the way by an omnipotent, omniscient FERC. Rather, state regulators must be respected as potential partners and, most importantly, advocates of such controversial lines, who will be invested in them and work to get them sited and built within their borders. That will never happen if states are denied the role that I advocated in the NOPR, that of full partners in deciding how, when and whether their consumers are burdened with costs for politically and corporate-driven policy projects.

125. This final rule could have corrected the single biggest flaw in Order No. 1000: the exclusion of the states from decision-making roles in FERC-mandated regional transmission planning for public policy projects. Instead, the final rule doubles down on that error with a blizzard of new planning mandates to serve political, corporate, and ideological agendas, while leaving the states with no real power to protect their consumers from the trillions of dollars of costs that this order brazenly wants to impose on them. The final rule is nothing but a pretext for enacting a sweeping policy agenda that Congress never passed. As such, it blatantly violates the major questions doctrine. In producing rates that will be unjust, unreasonable, and unduly discriminatory and preferential, it violates the actual text of the FPA. And in that violation, it fails to fulfill our most important duty under the FPA, which is to protect consumers.

For these many reasons, I respectfully dissent.

Mark C. Christie

Commissioner

[FR Doc. 2024-10872 Filed 6-10-24; 8:45 am]

BILLING CODE 6717-01-P